DEPARTMENT OF HEALTH AND HUMAN SERVICES

Centers for Medicare & Medicaid Services

42 CFR Part 405, 410, 411, 413, 414, and 426

[CMS-1502-P]

RIN 0938-AN84

Medicare Program; Revisions to Payment Policies Under the Physician Fee Schedule for Calendar Year 2006

AGENCY: Centers for Medicare & Medicaid Services (CMS), HHS.

ACTION: Proposed rule.

SUMMARY: This proposed rule would refine the resource-based practice expense relative value units (PE RVUs) and propose changes to payment based on supplemental survey data for practice expense and revisions to our methodology for calculating practice expense RVUs, as well as make other proposed changes to Medicare Part B payment policy. We are also proposing policy changes related to revisions to malpractice RVUs, in addition to revising the list of telehealth services. In this proposed rule, we also discuss multiple procedure payment reduction for diagnostic imaging, and several coding issues.

We are proposing these changes to ensure that our payment systems are updated to reflect changes in medical practice and the relative value of services. This proposed rule also discusses geographic locality changes; payment for covered outpatient drugs and biologicals; supplemental payments to federally qualified health centers (FQHCs); payment for renal dialysis services; the national coverage decision (NCD) process; coverage of screening for glaucoma; private contracts; and physician referrals for nuclear medicine services and supplies to health care entities with which they have financial relationships.

In addition, we include discussions on payment for teaching anesthesiologists, the therapy cap, the chiropractic demonstration and the Sustainable Growth Rate (SGR).

DATES: Comment Date: Comments will be considered if we receive them at one of the addresses provided below, no later than 5 p.m. on September 30, 2005.

ADDRESSES: In commenting, please refer to file code CMS-1502-P. Because of staff and resource limitations, we cannot accept comments by facsimile (FAX) transmission.

You may submit comments in one of three ways (no duplicates, please):

1. Electronically. You may submit electronic comments on specific issues in this regulation to http://www.cms.hhs.gov/regulations/ecomments. (Attachments should be in Microsoft Word, WordPerfect, or Excel; however, we prefer Microsoft Word.)

2. By mail. You may mail written comments (one original and two copies) to the following address ONLY: Centers for Medicare & Medicaid Services, Department of Health and Human Services, Attention: CMS-1502-P, P.O. Box 8017, Baltimore, MD 21244-8017.

Please allow sufficient time for mailed comments to be received before the close of the comment period.

3. By express or overnight mail. You may send written comments (one original and two copies) to the following address ONLY: Centers for Medicare & Medicaid Services, Department of Health and Human Services, Attention: CMS-1502-P, Mail Stop C4-26-05, 7500 Security Boulevard, Baltimore, MD 21244-1850.

4. By hand or courier. If you prefer, you may deliver (by hand or courier) your written comments (one original and two copies) before the close of the comment period to one of the following addresses. If you intend to deliver your comments to the Baltimore address, please call telephone number (410) 786-7197 in advance to schedule your arrival with one of our staff members. Room 445-G, Hubert H. Humphrey Building, 200 Independence Avenue, SW., Washington, DC 20201; or 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and received after the comment period.

Submission of comments on paperwork requirements. You may submit comments on this document's paperwork requirements by mailing your comments to the addresses provided at the end of the “Collection of Information Requirements” section in this document.

For information on viewing public comments, see the beginning of the SUPPLEMENTARY INFORMATION section.

FOR FURTHER INFORMATION CONTACT:

Pam West (410) 786-2302 (for issues related to practice expense).

Rick Ensor (410) 786-5617 (for issues related to the non-physician workpool and supplemental survey data).

Stephanie Monroe (410) 786-6864 (for issues related to the geographic practice cost index).

Craig Dobyski (410) 786-4584 (for issues related to list of telehealth services).

Ken Marsalek (410) 786-4502 (for issues related to multiple procedure reduction for diagnostic imaging services and payment for teaching anesthesiologists).

Henry Richter (410) 786-4562 (for issues related to payments for end stage renal disease facilities).

Angela Mason (410) 786-7452 or Catherine Jansto (410) 786-7762 (for issues related to payment for covered outpatient drugs and biologicals).

Fred Grabau (410) 786-0206 (for issues related to private contracts and opt out provision).

David Worgo (410) 786-5919 (for issues related to Federally Qualified Health Centers).

Vadim Lubarsky (410) 786-0840 (for issues related National Coverage Decision timeframes).

Bill Larson (410) 786-7176 (for issues related to coverage of screening for glaucoma).

Diane Milstead (410) 786-3355 or Gaysha Brooks (410) 786-9649 (for all other issues).

SUPPLEMENTARY INFORMATION:

Submitting Comments: We welcome comments from the public on all issues set forth in this rule to assist us in fully considering issues and developing policies. You can assist us by referencing the file code CMS-1502-P and the specific “issue identifier” that precedes the section on which you choose to comment.

Inspection of Public Comments: All comments received before the close of the comment period are available for viewing by the public, including any personally identifiable or confidential business information that is included in a comment. CMS posts all electronic comments received before the close of the comment period on its public website as soon as possible after they have been received. Hard copy comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

This Federal Register document is also available from the Federal Register online database through GPO Access a service of the U.S. Government Printing Office. The Web site address is: http://www.access.gpo.gov/nara/index.html.

Information on the physician fee schedule can be found on the CMS homepage. You can access this data by using the following directions:

1. Go to the CMS homepage (http://www.cms.hhs.gov).

2. Place your cursor over the word “Professionals” in the blue areas near the top of the page. Select “physicians” from the drop-down menu.

3. Under “Billing/Payment” select “Physician Fee Schedule”.

To assist readers in referencing sections contained in this preamble, we are providing the following table of contents. Some of the issues discussed in this preamble affect the payment policies, but do not require changes to the regulations in the Code of Federal Regulations. Information on the regulation's impact appears throughout the preamble and is not exclusively in section VI.

Table of Contents

I. Background

A. Introduction

B. Development of the Relative Value System

C. Components of the Fee Schedule Payment Amounts

D. Most Recent Changes to the Fee Schedule

II. Provisions of the Proposed Rule

A. Resource-Based Practice Expense RVUs

1. Current Methodology

2. Practice Expense Proposals for Calendar Year 2006

B. Geographic Practice Cost Indices

C. Malpractice Relative Value Units (RVUs)

D. Medicare Telehealth Services

E. Contractor Pricing of Unlisted Therapy Modalities and Procedures

F. Payment for Teaching Anesthesiologists

G. End Stage Renal Disease (ESRD) Related Provisions

1. Revised Pricing Methodology for Separately Billable Drugs and Biologicals Furnished by ESRD Facilities.

2. Adjustment to Account for Changes in the Pricing of Separately Billable Drugs and Biologicals and the Estimated Increase in Expenditures for Drugs and Biologicals

3. Proposed Revisions to Geographic Designations and Wage Indexes Applied to the End Stage Renal Disease Composite Payment Rate Wage Index

4. Proposed Revisions to § 413.170 (Scope) and § 413.174 (Prospective rates for hospital-based and independent ESRD facilities)

5. Proposed Revisions to the Composite Payment Rate Exceptions Process

H. Payment for Covered Outpatient Drugs and Biologicals

I. Private Contracts and Opt-out Provision

J. Multiple Procedure Reduction for Diagnostic Imaging

K. Therapy Cap

L. Chiropractic Services Demonstration

M. Supplemental Payments to Federally Qualified Health Centers (FQHCs) Subcontracting with Medicare Advantage Plans

N. National Coverage Decisions Timeframes

O. Coverage of Screening for Glaucoma

P. Physician Referrals for Nuclear Medicine Services and Suppliers to Health Care Entities with Which They Have Financial Relationships

Q. Sustainable Growth Rate

III. Collection of Information Requirements

IV. Response to Comments

V. Regulatory Impact Analysis

Regulation Text

Addendum A—Explanation and Use of Addendum B

Addendum B—2006 Relative Value Units and Related Information Used in Determining Medicare Payments for 2006

Addendum C—Codes for Which we Received Practice Expense Review Committee (PERC) Recommendations on Practice Expense Direct Cost Inputs.

Addendum D—2006 Geographic Practice Cost Indices By Medicare Carrier and Locality

Addendum E—Proposed 2006 Geographic Adjustment Factors (GAFs)

Addendum F—ESRD Facilities Metropolitan Statistical Areas (MSA)/Core-Based Statistical Areas (CBSA) Crosswalk

Addendum G—List of CPT/HCPCS Codes Used to Describe Nuclear Medicine Designated Health Services Under Section 1877 of the Social Security Act

In addition, because of the many organizations and terms to which we refer by acronym in this proposed final rule, we are listing these acronyms and their corresponding terms in alphabetical order below:

AADA American Academy of Dermatology Association

AAH American Association of Homecare

ACC American College of Cardiology

ACG American College of Gastroenterology

ACR American College of Radiology

AFROC Association of Freestanding Radiation Oncology Centers

AGA American Gastroenterological Association

AMA American Medical Association

AMP Average manufacturer price

ASA American Society of Anesthesiologists

ASGE American Society of Gastrointestinal Endoscopy

ASP Average sales price

ASTRO American Society for Therapeutic Radiation Oncology

ATA American Telemedicine Association

AUA American Urological Association

AWP Average wholesale price

BBA Balanced Budget Act of 1997

BBRA Balanced Budget Refinement Act of 1999

BES (Bureau of the Census') Business Expenditure Survey

BIPA Benefits Improvement and Protection Act of 2000

BLS Bureau of Labor Statistics

BMI Body mass index

BNF Budget neutrality factor

BSA Body surface area

CAP College of American Pathologists

CBSA Core-Based Statistical Area

CF Conversion factor

CFR Code of Federal Regulations

CMA California Medical Association

CMS Centers for Medicare & Medicaid Services

CNS Clinical nurse specialist

CPEP Clinical Practice Expert Panel

CPI Consumer Price Index

CPO Care Plan Oversight

CPT (Physicians') Current Procedural Terminology (4th Edition, 2002, copyrighted by the American Medical Association)

CRNA Certified Registered Nurse Anesthetist

CT Computed tomography

CTA Computed tomographic angiography

CY Calendar year

DHS Designated health services

DME Durable medical equipment

DMERC Durable Medical Equipment Regional Carrier

DSMT Diabetes outpatient self-management training services

E&M Evaluation and management

EPO Erythopoeitin

ESRD End stage renal disease

FAX Facsimile

FI Fiscal intermediary

FQHC Federally qualified healthcare center

FR Federal Register

GAF Geographic adjustment factor

GAO General Accounting Office

GPCI Geographic practice cost index

HCPAC Health Care Professional Advisory Committee

HCPCS Healthcare Common Procedure Coding System

HHA Home health agency

HHS (Department of) Health and Human Services

HOCM High Osmolar Contrast Media

HPSA Health professional shortage area

HRSA Health Resources Services Administration (HHS)

IDTFs Independent diagnostic testing facilities

IPF Inpatient psychiatric facility

IPPS Inpatient prospective payment system

IRF Inpatient rehabilitation facility

ISO Insurance Services Office

IVIG Intravenous immune globulin

JCAAI Joint Council of Allergy, Asthma, and Immunology

JUA Joint underwriting association

LCD Local coverage determination

LTCH Long-term care hospital

LOCM Low Osmolar Contrast Media

MA Medicare Advantage

MCAC Medicare Coverage Advisory Committee

MCG Medical College of Georgia

MedPAC Medicare Payment Advisory Commission

MEI Medicare Economic Index

MMA Medicare Prescription Drug, Improvement, and Modernization Act of 2003

MNT Medical nutrition therapy

MRA Magnetic resonance angiography

MRI Magnetic resonance imaging

MSA Metropolitan statistical area

NCD National coverage determination

NCQDIS National Coalition of Quality Diagnostic Imaging Services

NDC National drug code

NECMA New England County Metropolitan Area

NECTA New England City and Town Area

NP Nurse practitioner

NPP Nonphysician practitioners

OBRA Omnibus Budget Reconciliation Act

OIG Office of Inspector General

OMB Office of Management and Budget

OPPS Outpatient prospective payment system

PA Physician assistant

PC Professional component

PE Practice Expense

PEAC Practice Expense Advisory Committee

PERC Practice Expense Review Committee

PET Positron emission tomography

PFS Physician Fee Schedule

PLI Professional liability insurance

PPI Producer price index

PPO Preferred provider organization

PPS Prospective payment system

PRA Paperwork Reduction Act

PT Physical therapy

RFA Regulatory Flexibility Act

RIA Regulatory impact analysis

RN Registered nurse

RUC (AMA's Specialty Society) Relative (Value) Update Committee

RVU Relative value unit

SGR Sustainable growth rate

SMS (AMA's) Socioeconomic Monitoring System

SNF Skilled nursing facility

SNM Society for Nuclear Medicine

TA Technology assessment

TC Technical component

tPA Tissue-type plasminogen activator

UAF Update adjustment factor

WAC Wholesale acquisition cost

WAMP Widely available market price

I. Background

[If you choose to comment on issues in this section, please include the caption “BACKGROUND” at the beginning of your comments.]

A. Introduction

Since January 1, 1992, Medicare has paid for physicians' services under section 1848 of the Social Security Act (the Act), “Payment for Physicians' Services.” The Act requires that payments under the physician fee schedule (PFS) be based on national uniform relative value units (RVUs) based on the resources used in furnishing a service. Section 1848(c) of the Act requires that national RVUs be established for physician work, practice expense (PE), and malpractice expense. Prior to the establishment of the resource-based relative value system, Medicare payment for physicians' services was based on reasonable charges.

B. Development of the Relative Value System

1. Work RVUs

The concepts and methodology underlying the PFS were enacted as part of the Omnibus Budget Reconciliation Act (OBRA) of 1989, Pub. L. 101-239, and OBRA 1990, (Pub. L. 101-508). The final rule, published November 25, 1991 (56 FR 59502), set forth the fee schedule for payment for physicians' services beginning January 1, 1992. Initially, only the physician work RVUs were resource-based, and the PE and malpractice RVUs were based on average allowable charges.

The physician work RVUs established for the implementation of the fee schedule in January 1992 were developed with extensive input from the physician community. A research team at the Harvard School of Public Health developed the original physician work RVUs for most codes in a cooperative agreement with the Department of Health and Human Services. In constructing the code-specific vignettes for the original physician work RVUs, Harvard worked with panels of experts, both inside and outside the government and obtained input from numerous physician specialty groups.

Section 1848(b)(2)(A) of the Act specifies that the RVUs for radiology services are based on relative value scale we adopted under section 1834(b)(1)(A) of the Act, (the American College of Radiology (ACR) relative value scale), which we integrated into the overall PFS. Section 1848(b)(2)(B) of the Act specifies that the RVUs for anesthesia services are based on RVUs from a uniform relative value guide. We established a separate conversion factor (CF) for anesthesia services, and we continue to utilize time units as a factor in determining payment for these services. As a result, there is a separate payment methodology for anesthesia services.

We establish physician work RVUs for new and revised codes based on recommendations received from the American Medical Association's (AMA) Specialty Society Relative Value Update Committee (RUC).

2. Practice Expense Relative Value Units (PE RVUs)

Section 121 of the Social Security Act Amendments of 1994 (Pub. L. 103-432), enacted on October 31, 1994, amended section 1848(c)(2)(C)(ii) of the Act and required us to develop resource-based PE RVUs for each physician's service beginning in 1998. We were to consider general categories of expenses (such as office rent and wages of personnel, but excluding malpractice expenses) comprising practice expenses.

Section 4505(a) of the Balanced Budget Act of 1997 (BBA) (Pub. L. 105-33), amended section 1848(c)(2)(C)(ii) of the Act to delay implementation of the resource-based PE RVU system until January 1, 1999. In addition, section 4505(b) of the BBA provided for a 4-year transition period from charge-based PE RVUs to resource-based RVUs.

We established the resource-based PE RVUs for each physician's service in a final rule, published November 2, 1998 (63 FR 58814), effective for services furnished in 1999. Based on the requirement to transition to a resource-based system for PE over a 4-year period, resource-based PE RVUs did not become fully effective until 2002.

This resource-based system was based on two significant sources of actual PE data: The Clinical Practice Expert Panel (CPEP) data and the AMA's Socioeconomic Monitoring System (SMS) data. The CPEP data were collected from panels of physicians, practice administrators, and nonphysicians (for example, registered nurses) nominated by physician specialty societies and other groups. The CPEP panels identified the direct inputs required for each physician's service in both the office setting and out-of-office setting. The AMA's SMS data provided aggregate specialty-specific information on hours worked and practice expenses.

Separate PE RVUs are established for procedures that can be performed in both a nonfacility setting, such as a physician's office, and a facility setting, such as a hospital outpatient department. The difference between the facility and nonfacility RVUs reflects the fact that a facility receives separate payment from Medicare for its costs of providing the service, apart from payment under the PFS. The nonfacility RVUs reflect all of the direct and indirect practice expenses of providing a particular service.

Section 212 of the Balanced Budget Refinement Act of 1999 (BBRA) (Pub. L. 106-113) directed the Secretary to establish a process under which we accept and use, to the maximum extent practicable and consistent with sound data practices, data collected or developed by entities and organizations to supplement the data we normally collect in determining the PE component. On May 3, 2000, we published the interim final rule (65 FR 25664) that set forth the criteria for the submission of these supplemental PE survey data. The criteria were modified in response to comments received, and published in the Federal Register (65 FR 65376) as part of a November 1, 2000 final rule. The PFS final rules published in 2001 and 2003, respectively, (66 FR 55246 and 68 FR 63196) extended the period during which we would accept these supplemental data.

3. Resource-Based Malpractice RVUs

Section 4505(f) of the BBA amended section 1848(c) of the Act to require us to implement resource-based malpractice RVUs for services furnished on or after 2000. The resource-based malpractice RVUs were implemented in the PFS final rule published November 2, 1999 (64 FR 59380). The malpractice RVUs were based on malpractice insurance premium data collected from commercial and physician-owned insurers from all the States, the District of Columbia, and Puerto Rico.

4. Refinements to the RVUs

Section 1848(c)(2)(B)(i) of the Act requires that we review all RVUs no less often than every five years. The first 5-year review of the physician work RVUs went into effect in 1997, published on November 22, 1996 (61 FR 59489). The second 5-year review went into effect in 2002, published on November 1, 2001 (66 FR 55246). The next scheduled 5-year review is scheduled to go into effect in 2007.

In 1999, the AMA's RUC established the Practice Expense Advisory Committee (PEAC) for the purpose of refining the direct PE inputs. Through March of 2004, the PEAC provided recommendations to CMS for over 7,600 codes (all but a few hundred of the codes currently listed in the AMA's Current Procedural Terminology (CPT) codes).

In the November 15, 2004, PFS final rule (69 FR 66236), we implemented the first 5-year review of the malpractice RVUs (69 FR 66263).

5. Adjustments to RVUs are Budget Neutral

Section 1848(c)(2)(B)(ii)(II) of the Act provides that adjustments in RVUs for a year may not cause total PFS payments to differ by more than $20 million from what they would have been if the adjustments were not made. In accordance with section 1848(c)(2)(B)(ii)(II) of the Act, if adjustments to RVUs cause expenditures to change by more than $20 million, we make adjustments to ensure that expenditures do not increase or decrease by more than $20 million.

C. Components of the Fee Schedule Payment Amounts

To calculate the payment for every physician service, the components of the fee schedule (physician work, PE, and malpractice RVUs) are adjusted by a geographic practice cost index (GPCI). The GPCIs reflect the relative costs of physician work, practice expenses, and malpractice insurance in an area compared to the national average costs for each component.

Payments are converted to dollar amounts through the application of a CF, which is calculated by the Office of the Actuary and is updated annually for inflation.

The general formula for calculating the Medicare fee schedule amount for a given service and fee schedule area can be expressed as:

Payment = [(RVU work x GPCI work) + (RVU PE x GPCI PE) + (RVU malpractice x GPCI malpractice)] x CF.

D. Most Recent Changes to the Fee Schedule

In the November 15, 2004 PFS final rule (69 FR 66236), we refined the resource-based PE RVUs and made other changes to Medicare Part B payment policy. These policy changes included—

• Supplemental survey data for PE;

• Updated GPCIs for physician work and PE;

• Updated malpractice RVUs;

• Revised requirements for supervision of therapy assistants;

• Revised payment rules for low osmolar contrast media;

• Payment policies for physicians and practitioners managing dialysis patients;

• Clarification of care plan oversight CPO) requirements;

• Requirements for supervision of diagnostic psychological testing services;

• Clarifications to the policies affecting therapy services provided incident to a physician's service;

• Requirements for assignment of Medicare claims;

• Additions to the list of telehealth services;

• Changes to payments for drug administration services; and

• Several coding issues.

The November 15, 2004, final rule also addressed the following provisions of the Medicare Prescription Drug, Improvement, and Modernization Act of 2003 (MMA) (Pub. L. 108-173):

• Coverage of an initial preventive physical examination.

• Coverage of cardiovascular screening blood tests.

• Coverage of diabetes screening tests.

• Incentive payment improvements for physicians in physician shortage areas.

• Changes to payment for covered outpatient drugs and biologicals and drug administration services.

• Changes to payment for renal dialysis services.

• Coverage of routine costs associated with certain clinical trials of category A devices as defined by the Food and Drug Administration.

• Coverage of hospice consultation service.

• Indexing the Part B deductible to inflation.

• Extension of coverage of intravenous immune globulin (IVIG) for the treatment in the home of primary immune deficiency diseases.

• Revisions to reassignment provisions.

• Payment for diagnostic mammograms.

• Coverage of religious nonmedical health care institution items and services to the beneficiary's home.

In addition, the November 15, 2004 PFS final rule finalized the calendar year (CY) 2004 interim RVUs for new and revised codes in effect during CY 2004 and issued interim RVUs for new and revised procedure codes for CY 2005; updated the codes subject to the physician self-referral prohibition; discussed payment for set-up of portable x-ray equipment; discussed the third 5-year refinement of work RVUs; and solicited comments on potentially misvalued work RVUs.

In accordance with section 1848(d)(1)(E) of the Act, we also announced that the PFS update for CY 2005 would be 1.5 percent; the initial estimate for the sustainable growth rate for CY 2005 is 4.3; and the CF for CY 2005 is $37.8975.

II. Provisions of the Proposed Rule

This proposed rule would affect the regulations set forth at Part 405, Federal Health Insurance for the Aged and Disabled; Part 410, Supplementary Medical Insurance (SMI) Benefits; Part 411, Exclusions from Medicare and Limitations on Medicare Payment; Part 413, Principles of Reasonable Cost Reimbursement, Payment for End-Stage Renal Disease Services, Prospectively Determined Payment Rates for Skilled Nursing Facilities; 414, Payment for Part B Medical and Other Health Services; Part 426, Review of National Coverage Determinations and Local Coverage Determinations.

A. Resource-Based Practice Expense (PE) RVUs

Based on section 1848(c)(1)(B) of the Act practice expenses are the portion of the resources used in furnishing the service that reflects the general categories of physician and practitioner expenses (such as office rent and wages of personnel, but excluding malpractice expenses).

Section 121 of the Social Security Amendments of 1994 (Pub. L. 103-432), enacted on October 31, 1994, required us to develop a methodology for a resource-based system for determining PE RVUs for each physician's service. Up until this point, physicians' practice expenses were based on historical allowed charges. This legislation stated that the revised PE methodology must consider the staff, equipment, and supplies used in the provision of various medical and surgical services in various settings beginning in 1998. The Secretary has interpreted this to mean that Medicare payments for each service would be based on the relative PE resources typically involved with performing the service.

The initial implementation of resource-based PE RVUs was delayed until January 1, 1999, by section 4505(a) of the BBA 1997. In addition, section 4505(b) of the BBA 1997 required the new payment methodology be phased-in over 4 years, effective for services furnished in CY 1999, and fully effective in CY 2002. The first step toward implementation called for by the statute was to adjust the PE values for certain services for CY 1998. Section 4505(d) of BBA 1997 required that, in developing the resource-based PE RVUs, the Secretary must:

• Use, to the maximum extent possible, generally accepted cost accounting principles that recognize all staff, equipment, supplies, and expenses, not solely those that can be linked to specific procedures.

• Develop a refinement method to be used during the transition.

• Consider, in the course of notice and comment rulemaking, impact projections that compare new proposed payment amounts to data on actual physician PEs.

Beginning in CY 1999, Medicare began the four year transition to resource-based PE RVUs. In CY 2002, the resource-based PE RVUs were fully transitioned.

1. Current Methodology

The following sections discuss the current PE methodology.

a. Data Sources

There are two primary data sources used to calculate PEs. The American Medical Association's (AMA) Socioeconomic Monitoring System (SMS) survey data are used to develop the PEs per hour for each specialty. The second source of data used to calculate PEs was originally developed by the Clinical Practice Expert Panels (CPEP). The CPEP data include the supplies, equipment and staff times specific to each procedure.

The AMA developed the SMS survey in 1981 and discontinued it in 1999. Beginning in 2002, we incorporated the 1999 SMS survey data into our calculation of the PE RVUs, using a 5-year average of SMS survey data. (See Revisions to Payment Policies and Five-Year Review of and Adjustments to the Relative Value Units Under the Physician Fee Schedule for Calendar Year 2002 final rule, published November 1, 2001 (66 FR 55246).) The SMS PE survey data are adjusted to a common year, 1995. The SMS data provide the following six categories of PE costs:

• Clinical payroll expenses, which are payroll expenses (including fringe benefits) for nonphysician personnel.

• Administrative payroll expenses, which are payroll expenses (including fringe benefits) for nonphysician personnel involved in administrative, secretarial or clerical activities.

• Office expenses, which include expenses for rent, mortgage interest, depreciation on medical buildings, utilities and telephones.

• Medical material and supply expenses, which include expenses for drugs, x-ray films, and disposable medical products.

• Medical equipment expenses, which include expenses depreciation, leases, and rent of medical equipment used in the diagnosis or treatment of patients.

• All other expenses, which include expenses for legal services, accounting, office management, professional association memberships, and any professional expenses not mentioned above.

In accordance with section 212 of the BBRA, we established a process to supplement the SMS data for a specialty with data collected by entities and organizations other than the AMA (that is, the specialty itself). (See the Criteria for Submitting Supplemental Practice Expense Survey Data interim final rule with comment period, published on May 3, 2000 (65 FR 25664).) Originally, the deadline to submit supplementary survey data was through August 1, 2001. This deadline was extended in the November 1, 2001 final rule through August 1, 2003. (See the Revisions to Payment Policies and Five-Year Review of and Adjustments to the Relative Value Units Under the Physician Fee Schedule for Calendar Year 2002 final rule, published on November 1, 2001 (66 FR 55246).) Then, to ensure maximum opportunity for specialties to submit supplementary survey data, we extended the deadline to submit surveys until March 1, 2005. (See the Revisions to Payment Policies Under the Physician Fee Schedule for Calendar Year 2002 final rule, published on November 7, 2003 (68 FR 63196).)

The CPEPs consisted of panels of physicians, practice administrators, and nonphysicians (registered nurses (RNs), for example) who were nominated by physician specialty societies and other groups. There were 15 CPEPs consisting of 180 members from more than 61 specialties and subspecialties. Approximately 50 percent of the panelists were physicians.

The CPEPs identified specific inputs involved in each physician service provided in an office or facility setting. The inputs identified were the quantity and type of nonphysician labor, medical supplies, and medical equipment.

In 1999, the AMA's RUC established the Practice Expense Advisory Committee (PEAC). Since 1999, and until March 2004, the PEAC, a multi-specialty committee, reviewed the original CPEP inputs and provided us with recommendations for refining these direct PE inputs for existing CPT codes. Through its last meeting in March 2004, the PEAC provided recommendations which we have reviewed and accepted for over 7,600 codes. As a result of this scrutiny, the current CPEP inputs differ markedly from those originally recommended by the CPEPs. The PEAC has now been replaced by the Practice Expense Review Committee (PERC), which acts to assist the RUC in recommending PE inputs.

b. Allocation of Practice Expenses to Services

In order to establish PE RVUs for specific services, it is necessary to establish the direct and indirect PE associated with each service. Our current approach allocates aggregate specialty practice costs to specific procedures and, thus, is often referred to as a “top-down” approach. The specialty PEs are derived from the AMA's SMS survey and supplementary survey data. The PEs for a given specialty are allocated to the services performed by that specialty on the basis of the CPEP data and work RVUs assigned to each CPT code. The specific process is detailed as follows:

Step 1—Calculation of the SMS Cost Pool for Each Specialty

The six SMS cost categories can be described as either direct or indirect expenses. The three direct expense categories include clinical labor, medical supplies and medical equipment. Indirect expenses include administrative labor, office expense, and all other expenses. We combine these indirect expenses into a single category. The SMS cost pool for each specialty is calculated as follows:

• The specialty PE per hour (PE/HR) for each of the three direct and one indirect cost categories from the SMS is calculated by dividing the aggregate PE per specialty by the specialty's total hours spent in patient care activities (also determined by the SMS survey). The PE/HR is divided by 60 seconds to obtain the PE per minute (PE/MIN).

• Each specialty's PE pools (for each of the three direct and one indirect cost categories) are created by multiplying the PE/MIN for the specialty by the total time the specialty spent treating Medicare patients for all procedures (determined using Medicare utilization data). Physician time on a procedure-specific level is available through RUC surveys of new or revised codes and through surveys conducted as part of the 5 year review process. For codes that the RUC has not yet reviewed, the original data from the Harvard resource-based RVU system survey is used. Physician time includes time spent on the case prior to, during, and after the procedure. The physician procedure time is multiplied by the frequency that each procedure is performed on Medicare patients by the specialty.

• The total specialty-specific SMS PE for each cost category is the sum, for each direct and indirect cost category, of all of the procedure-specific total PEs.

Table 1 illustrates an example of the calculation of the total SMS cost pools for the three direct and one indirect cost categories discussed in step 1. For this specialty, PE/HR for clinical payroll expenses is $9.30 per hour. The hourly rate is divided by 60 minutes to obtain the clinical payroll per minute for the specialty.

The total clinical payroll for providing hypothetical procedure 00001 for this specialty of $3,633,465 is the result of taking the clinical payroll per minute of $0.16; multiplying this by the physician time for procedure 00001 (56 minutes); and multiplying the result by the number of times this procedure was provided to Medicare patients by this specialty (418,602). The total amount spent on clinical payroll in this specialty is $667,457,018. This amount is calculated by summing the clinical payroll expenses of procedure 00001 and all of the other services provided by this specialty.

TABLE 1.—Calculation of SMS Cost Pool
Standard methodology | Clinical payroll (A) | Medical supplies (B) | Medical equipment (C) | Indirect expenses (D) | Total * (E)
(a) PE/HR | $9.30 | $4.80 | $7.40 | $46.50 | $68.00
(b) PE/Minute | $0.16 | $0.08 | $0.12 | $0.78 | $1.13
(c) Physician Time—00001 | 56 | 56 | 56 | 56 | 56
(d) Number of Services | 418,602 | 418,602 | 418,602 | 418,602 | 418,602
(e) Subtotal | $3,633,465 | $1,875,337 | $2,891,144 | $18,167,327 | $26,567,274
(f) All Other Services | $663,823,552 | $342,618,608 | $528,203,687 | $3,319,117,762 | $4,853,763,609
(g) Total—SMS Pool | $667,457,018 | $344,493,945 | $531,094,831 | $3,337,285,089 | $4,880,330,883
(b) = (a)/60
(e) = (b)*(c)*(d)
(g) = (e)+(f)
* Components may not add to totals due to rounding.

Step 2—Calculation of CPEP Cost Pool

CPEP data provide expenditure amounts for the direct expense categories (clinical labor, supplies and equipment cost) at the procedure level. Multiplying the CPEP procedure-level PEs for each of these three categories by the number of times the specialty provided the procedure, produces a total category cost, per procedure, for that specialty. The sum of the total expenses from each procedure results in the total CPEP category cost for the specialty.

For example, in Table 2, using CPEP data, the clinical labor cost of procedure 00001 is $65.23. Under the methodology described above in this step, this is multiplied by the number of services for the specialty (418,602), to yield the total CPEP data clinical labor cost of the procedure: $27,305,408. In this example, the clinical labor cost for all other services performed by this specialty is $831,618,600. Therefore, the entire clinical labor CPEP expense pool for the specialty is $858,924,008. Step 2 is repeated to calculate the CPEP supply and equipment costs.

TABLE 2.—Calculation of CPEP Cost Pool
Standard methodology | Clinical labor (A) | Supplies (B) | Equipment (C)
(a) CPT 00001 | $65.23 | $52.49 | $1,556.86
(b) Allowed Services | 418,602 | 418,602 | 418,602
(c) Subtotal | $27,305,408 | $21,972,838 | $651,704,875
(d) All Other Services | $831,618,600 | $389,921,779 | $5,277,570,148
(e) Total CPEP Pool | $858,924,008 | $411,894,617 | $5,929,275,023
(c) = (a)*(b)
(e) = (c)+(d)

Step 3—Calculation and Application of Scaling Factors

This step ensures that the total of the CPEP costs across all procedures performed by the specialty equates with the total direct costs for the specialty as reflected by the SMS data. To accomplish this, the CPEP data are scaled to SMS data by means of a scaling factor so that the total CPEP costs for each specialty equals the total SMS cost for the specialty. (The scaling factor is calculated by dividing the specialty's SMS pool by the specialty's CPEP pool.)

The unscaled CPEP cost per procedure value, at the direct cost level, is then multiplied by the respective specialty scalar to yield the scaled CPEP procedure value. The sum of the scaled CPEP direct cost pool expenditures equals the total scaled direct expense for the specific procedure at the specialty level.

In the Step 3 example shown in Table 3, the SMS total clinical labor costs for the specialty is $667,457,018. This amount divided by the CPEP total clinical labor amount of $858,924,008 yields a scaling factor of 0.78. The CPEP clinical labor cost for hypothetical procedure 00001 is $65.23. Multiplying the 0.78 scaling factor for clinical labor costs by $65.23 yields the scaled clinical labor cost amount of $50.69. Individual scaling factors must also be calculated for supply and equipment expenses. The sum of the scaled direct cost values, $50.69, $43.90 and $139.45, respectively, equals the total scaled direct expense of $234.04.

Step 4—Calculation of Indirect Expenses

Indirect PEs cannot be directly attributed to a specific service because they are incurred by the practice as a whole. Indirect costs include rent, utilities, office equipment and supplies, and accounting and legal fees. There is not a single, universally accepted approach for allocating indirect practice costs to individual procedure codes. Rather allocation involves judgment in identifying the base or bases that are the best measures of a practice's indirect costs.

To allocate the indirect PEs to a specific service, we use the following methodology:

• The scaled direct expenses and the converted work RVU (the work RVU for the service is multiplied by $34.5030, the 1995 CF) are added together, and then multiplied by the number of services provided by the specialty to Medicare patients;

• The total indirect PEs per specialty are calculated by summing the indirect expenses for all other procedures provided by that specialty.

In the Table 4, the physician work RVU for procedure 00001 is 2.36. Multiplying the work RVU by the 1995 CF of $34.5030 equals $81.43. The physician work value is added to the scaled total direct expense from Step 3 ($234.04). The total of $314.47 is a proxy for the indirect PE for the specialty attributed to this procedure. The total indirect expenses are then multiplied by the number of services provided by the specialty (418,602), to calculate total indirect expenses for this procedure of $132,055,728. The process is repeated across all procedures performed by the specialty, and the indirect expenses for each service are summed to arrive at the total specialty indirect PE pool of $6,745,545,434.

Table 4.—Calculation of Indirect Expense
Standard methodology | Physician work* | Total direct expense | Total
| (A) | (B) | (C)
(a) CPT 00001 | $81.43 | $234.04 | $315.47
(b) Allowed Services |  |  | 418,602
(c) Subtotal |  |  | $132,055,728
(d) All Other Services |  |  | $6,613,489,706
(e) Total Indirect Expense |  |  | $6,745,545,434
*Calculated by multiplying work RVU of 2.36 by 1995 conversion factor of $34.5030.

Step 5—Calculation and Application of Indirect Scaling Factors

Similar to the direct costs, the indirect costs are scaled to ensure that the total across all procedures performed by the specialty equates with the total indirect costs for the specialty as reflected by the SMS data. To accomplish this, the indirect costs calculated in Step 4 (Table 4) are scaled to SMS data. The calculation of the indirect scaling factors is as follows:

• The specialty's total SMS indirect expense pool is divided by the specialty's total indirect expense pool calculated in Step 4 (Table 4), to yield the indirect expense scaling factor.

• The unscaled indirect expense amount, at the procedure level, is multiplied by the specialty's scaling factor to calculate the procedure's scaled indirect expenses.

• The sum of the scaled indirect expense amount and the procedure's direct expenses yields the total PEs for the specialty for this procedure.

In table 5, to calculate the indirect scaling factor for hypothetical procedure 00001, divide the total SMS indirect pool, $3,337,285,089 (calculated in Step 1—Table 1), by the total indirect expense for the specialty across all procedures of $6,745,545,434. This results in a scaling factor of 0.49. Next, the unscaled indirect cost of $315.47 is multiplied by the 0.49 scaling factor, resulting in scaled indirect cost of $156.07. To calculate the total PEs for the specialty for procedure 00001, the scaled direct and indirect expenses are added, totaling $390.12.

Step 6—Weighted Average of RVUs for Procedures Performed by More Than One Specialty

For codes that are performed by more than one specialty, a weighted average PE is calculated based on Medicare frequency data of all specialties performing the procedure as shown in Table 6.

Table 6.—Weight Averaging for All Specialties
Standard Methodology | Practice expense value | Percent of total allowed services
| (A) | (B)
(a) Specialty Total Practice Expense | $390.12 | 83
(b) Weighted Avg.—All Other Specialties | $929.87 | 17
(c) Weighted Avg.—All Specialties | $481.70 | 100

Step 7—Budget Neutrality and Final RVU Calculation

The total scaled direct and indirect inputs are then adjusted by a budget neutrality factor to calculate RVUs. Section 1848(c)(2)(B)(ii)(II) of the Act provides that adjustments in RVUs may not cause total PFS payments to differ by more than $20 million from what they would have been if the adjustments were not made. Budget neutrality for the upcoming year is determined relative to the sum of PE RVUs for the current year. Although the PE RVUs for any particular code may vary from year-to-year, the sum of PE RVUs across all codes is set equal to the current year. The budget neutrality factor (BNF) is equal to the sum of the current year's PE RVUs, divided by the sum of the direct and indirect inputs across all codes for the upcoming year. The BNF is applied to (multiplied by) the scaled direct and indirect expenses for each code to set the PE RVU for the upcoming year.

In Table 7, the sum of the scaled direct and indirect expenses for hypothetical code 00001 ($481.70) is multiplied by the BNF (0.02 in this example) to yield a PE RVU of 10.60.

Table 7.—Calculate PE RVU
| Total scaled direct and indirect inputs | Budget neutrality factor | Final PE RVU
| (A) | (B) | (C)
(a) Code 00001 | $481.70 | 0.02 | 10.60

c. Other Methodological Issues: Nonphysician Work Pool (NPWP)

As an interim measure, until we could further analyze the effect of the top-down methodology on the Medicare payment for services with no physician work (including the technical components (TCs) of radiation oncology, radiology and other diagnostic tests), we created a separate PE pool for these services. However, any specialty society could request that its services be removed from the nonphysician work pool. We have removed some services from the nonphysician work pool if we find that the requesting specialty provides the service the majority of the time.

NPWP Step 1—Calculation of the SMS Cost Pool for Each Specialty

This step parallels the calculations described above for the standard “top-down” PE allocation methodology. For codes in the nonphysician work pool, the direct and indirect SMS costs are set equal to the weighted average of the PE/HR for the specialties that provide the services in the pool. Clinical staff time is substituted for physician time in the calculation. The clinical staff time for the code is from CPEP data. Otherwise, the calculation is similar to the method described previously for codes with physician time.

The following example in Table 8 illustrates this calculation for hypothetical code 00002. In this example, the average clinical payroll PE/HR for all specialties in the nonphysician work pool is $12.30 and the clinical staff time for code 00002 is 116 minutes.

Table 8.—Calculate SMS Cost Pools for Nonphysician Work Pool
Non-Physician work pool methodology (NPWP) | Clinical payroll | Medical supplies | Medical equipment | Indirect expenses | Total*
| (A) | (B) | (C) | (D) | (E)
(a) NPWP—PE/HR | $12.30 | $7.40 | $3.20 | $46.30 | $69.00
(b) NPWP—PE/Minute | 0.21 | 0.12 | 0.05 | 0.77 | 1.15
(c) Clinical Staff Time—00002 | 116 | 116 | 116 | 116 | 116
(d) Number of Services | 105,095 | 105,095 | 105,095 | 105,095 | 105,095
(e) Total—NPWP “SMS” Pool | $2,499,159 | $1,503,559 | $650,188 | $9,407,404 | $14,019,673
(b) = (a)/60
(e) = (b)*(c)*(d)
* Components may not add to totals due to rounding.

NPWP Step 2—Calculation of Charge-based PE RVU Cost Pool

The nonphysician work pool calculation uses the 1998 (charge-based) PE RVU value for the code, multiplied by the 1995 CF (25.74 × $34.503 = $888.11). The percentage of clinical labor, supplies and equipment are the percentage that each PE category represents for all physicians relative to the total PE for all physicians (calculated from the SMS data) as shown in Table 9.

Table 9.—Calculate Charge-Based Cost Pools for Nonphysician Work Pool
NPWP methodology | Clinical | Supplies | Equipment
| (A) | (B) | (C)
(a) CPT 00002—Charge Based Value | $888.11 | $888.11 | $888.11
(b) Percent Clinical, Supplies, Equipment | 0.18 | 0.11 | 0.05
(c) CPT 00002 | 158.08 | 95.03 | 41.74
(d) Number of—NPWP | 105,095 | 105,095 | 105,095
(e) Total NPWP “CPEP” Pool | $16,613,742 | $4,386,775 | $9,986,912
(c) = (a)*(b)
(e) = (c)*(d)

NPWP Step 3—Calculation and Application of Scaling Factors

After the total cost pools for each specialty and code performed by the specialty are calculated, the steps to ensure the total costs for all of the procedures performed by a specialty do not exceed the total costs for the specialty (scaling) are the same as those described previously for codes with physician work.

In Table 10 below, the SMS total clinical labor costs is $2,499,159. This amount divided by the charge-based total clinical labor amount of $16,613,742 yields a scaling factor of 0.15. The charge-based clinical labor cost for hypothetical procedure 00002 is $158.08 (from step 2—Table 2). Multiplying the 0.15 scaling factor for clinical labor costs by $158.08 yields the scaled clinical labor cost amount of $23.78. Individual scaling factors must be calculated for both supply and equipment expenses. The sum of the scaled direct cost values, $23.78, $32.57 and $2.72, respectively, equals the total scaled direct expense of $59.07.

NPWP Step 4—Calculation of Indirect Expenses

Because codes in the nonphysician work pool do not have work RVUs, indirect expenses are set equal to direct expenses (for codes with physician work, indirect expenses equal the sum of the scaled direct expenses and the converted work RVU). This amount is then multiplied by the number of times the procedure is performed.

In Table 11, the scaled total direct expense from Step 3 (Table 3) ($408.79) is also the proxy for the total indirect expense attributed to the procedure. The total indirect expense is multiplied by the number of services (105,095), to calculate total indirect cost for this procedure of $6,207,961.

Table 11.—Calculation of Indirect Expenses
NPWP methodology | Physician work* | Total direct expense | Total
| (A) | (B) | (C)
(a) CPT 00002 | $ | $59.07 | $59.07
(b) Allowed Services—NPWP |  |  | 105,095
(c) Total NPWP Indirect Expense |  |  | $6,207,961

NPWP Step 5—Calculation and Application of Indirect Scaling Factors

Similar to the direct costs, the indirect costs are scaled to ensure that the total of the charge-based PE RVU costs across all procedures equates with the total indirect costs as reflected by the SMS data for the NPWP. To accomplish this, the charge-based data are scaled to SMS data so the total charge-based costs equal the total SMS costs.

In Table 12, to calculate the indirect scaling factor for hypothetical procedure 00002, divide the total SMS indirect expense, $9,407,404 (from Step 1—Table 1), by the total charge-based indirect expense of $6,207,961. This results in a scaling factor of 1.51. Next, the unscaled indirect charge-based cost for procedure 00002 of $59.07 (from step 4—Table 4) is multiplied by the 1.51 scaling factor, resulting in scaled indirect costs for this procedure of $89.19.

NPWP Step 6—Budget Neutrality and Final RVU Calculation

Similar to the calculation for codes with physician work, the BNF is applied to (multiplied by) the scaled direct and indirect expenses for each code to set the PE RVU for the upcoming year.

In Table 13, the sum of the scaled direct and indirect expenses for hypothetical code 00002 ($148.26) is multiplied by the BNF (0.022 in this example) to yield a PE RVU of 3.26.

Table 13.—Budget Neutrality and Final RVU Calculation
| Total scaled direct and indirect inputs | Budget neutrality factor | Final PE RVU
Code 00002 | $148.26 | 0.022 | 3.26

d. Facility/Non-facility Costs

Procedures that can be performed in a physician's office as well as in a hospital have two PE RVUs; facility and non-facility. The non-facility setting includes physicians' offices, patients' homes, freestanding imaging centers, and independent pathology labs. Facility settings include hospitals, ambulatory surgery centers, and skilled nursing facilities (SNFs). The methodology for calculating the PE RVU is the same for both facility and non-facility RVUs, but is calculated independently to yield two separate PE RVUs. Because the PEs for services provided in a facility setting are generally included in the payment to the facility (rather than the payment to the physician under the fee schedule), the PE RVUs are generally lower for services provided in the facility setting.

2. PE Proposals for CY 2006

The following discussions outline the specific PE related proposals for CY 2006.

a. Supplemental PE Surveys

The following discussions outline the criteria for supplemental survey submission as well as information we have received for approval.

(1) Survey Criteria and Submission Dates

In accordance with section 212 of the BBRA, we established criteria to evaluate survey data collected by organizations to supplement the SMS survey data normally used in the calculation of the PE component of the PFS. In the Payment Policies Under the Physician Fee Schedule for Calendar Year 2002 final rule, published November 7, 2003 (68 FR 63196), we provided that, beginning in 2004, supplemental survey data had to be submitted by March 1 to be considered for use in computing PE RVUs for the following year. This allows us to publish our decisions regarding survey data in the proposed rule and provides the opportunity for public comment on these results before implementation.

To continue to ensure the maximum opportunity for specialties to submit supplemental PE data, we extended until 2005 the period that we would accept survey data that meet the criteria set forth in the November 2000 PFS final rule. The deadline for submission of supplemental data to be considered in CY 2006 was March 1, 2005.

(2) Submission of Supplemental Survey Data

The following discussion outlines the survey data submitted for CY 2004 and CY 2005.

• Surveys Submitted in 2004

As explained in the November 15, 2004 Physician Fee Schedule final rule (69 FR 66242), we received surveys by March 1, 2004 from the American College of Cardiology (ACC), the American College of Radiology (ACR), and the American Society for Therapeutic Radiation Oncology (ASTRO). The data submitted by the ACC and the ACR met our criteria. However, as requested by the ACC and the ACR, we deferred using their data until issues related to the nonphysician work pool could be addressed. We are proposing to use the ACC and ACR survey data in the calculation of PE RVUs for 2006, but only as specified in the proposals relating to a revised methodology for establishing direct PE RVUs, and a transition period for the revised methodology, as described below.

The survey data from ASTRO did not meet the precision criteria established for supplemental surveys, therefore, we did not use it in the calculation of PE RVUs for 2005.

• Surveys Submitted in 2005

This year we received surveys from the Association of Freestanding Radiation Oncology Centers (AFROC), the American Urological Association (AUA), the American Academy of Dermatology Association (AADA), the Joint Council of Allergy, Asthma, and Immunology (JCAAI), the National Coalition of Quality Diagnostic Imaging Services (NCQDIS) and a joint survey from the American Gastroenterological Association (AGA), the American Society of Gastrointestinal Endoscopy (ASGE) and the American College of Gastroenterology (ACG)

We contract with the Lewin Group to evaluate whether the supplemental survey data that are submitted meet our criteria and to make recommendations to us regarding their suitability for use in calculating PE RVUs. (The Lewin Group report on the 2005 submissions is available on the CMS Web site at http://www.cms.hhs.gov/physicians/pfs/). The report indicated that, except for the survey from NCQDIS, all met our criteria and we are proposing to accept these. The survey data submitted by the NCQDIS on independent diagnostic testing facilities (IDTFs) did not meet the precision criterion of a 90 percent confidence interval with a range of plus or minus 15 percent of the mean (that is, 1.645 times the standard error of the mean, divided by the mean, is equal to or less than 15 percent of the mean). For the NCQDIS survey, the precision level was calculated at 16.3 percent of the mean PE/HR (weighted by the number of physicians in the practice). However, the Lewin Group has recommended that we accept the data from NCQDIS. The Lewin Group points out that PE data for IDTFs do not currently exist, and suggests that the need for data for the specialty should be weighed against the precision requirement.

We are proposing not to accept the NCQDIS data to calculate the PE RVUs for services provided by IDTFs. As just noted, the NCQDIS data do not meet our precision requirements. We established the minimum precision standards because we believe it is necessary to ensure that the data used are valid and reliable, and the consistent application of the precision criteria is the best way to accomplish that objective.

Section 303(a)(1) of the MMA added section 1848(c)(2)(I) of the Act to require us to use survey data submitted by a specialty group where at least 40 percent of the specialty's payments for Part B services are attributable to the administration of drugs in 2002 to adjust PE RVUs for drug administration services. The statute applies to surveys that include expenses for the administration of drugs and biologicals, and are received by March 1, 2005 for determining the CY 2006 PE RVUs. Section 303(a)(1) of the MMA also amended section 1848(c)(2)(B)(iv)(II) of the Act to provide an exemption from budget neutrality for any additional expenditures resulting from the use of these surveys. In the Changes to Medicare Payment for Drugs and Physician Fee Schedule Payments for Calendar Year 2004 interim final rule published January 7, 2004 (69 FR 1084), we stated that the specialty of urology meets the above criteria, along with gynecology and rheumatology (69 FR 1094). Because we are accepting new survey data from the AUA, we are required to exempt, from the budget neutrality adjustment any impacts of accepting these data for purposes of calculating PE RVUs for drug administration services.

In addition, Lewin recommended blending the radiation oncology data from this year's AFROC survey data with last year's ASTRO survey data to calculate the PE/HR. According to the Lewin Group, the goal of the AFROC survey was to represent the population of freestanding radiation oncology centers only. In order to develop an overall average for the radiation oncology PE pool, the Lewin Group recommended we use the AFROC survey for freestanding radiation oncology centers, and the hospital-based subset of last year's ASTRO survey. We agree that this blending of the AFROC and ASTRO data is a reasonable way to calculate an average PE/HR that fully reflects the practice of radiation oncology in all settings. Therefore, we are proposing to use the new PE/HR calculated in this manner for radiation oncology.

We propose to use the following PE/HR figures (deflated to 1995 values to be consistent with the SMS data):

TABLE 14.—Practice Expense Per Hour Figures
Specialty | Clinical staff | Admin. staff | Office expense | Medical supplies | Medical equipment | Other | Total
Radiology | 14.8 | 18.6 | 16.5 | 6.5 | 13.1 | 26.8 | 96.3
Cardiology | 38.3 | 34.5 | 35.7 | 16.5 | 12.2 | 19.1 | 156.3
Radiation Oncology | 35.6 | 18.9 | 28.5 | 4 | 20.1 | 21.2 | 128.3
Urology | 18.4 | 27.9 | 35.3 | 16.7 | 7.5 | 15.9 | 121.7
Dermatology | 27.9 | 35.2 | 49.4 | 12.4 | 7.2 | 20 | 152.1
Allergy/Immunology | 48.2 | 39.8 | 47 | 17.3 | 4.8 | 22.4 | 179.6
Gastroenterology | 15.4 | 23.2 | 26.8 | 4.8 | 3.3 | 11.5 | 85

The deadline to submit supplemental PE surveys was March 1, 2005. As discussed in detail below, we are proposing to revise our methodology to calculate direct PE RVUs from the current top-down cost allocation methodology to a bottom-up methodology. Although we would continue to use the SMS data and the incorporated supplemental survey data for indirect PEs, we are not proposing to extend the deadline for submitting supplemental survey data at this time. Instead, we are inviting comment on the most appropriate way to proceed to ensure the indirect PEs per hour are accurate and consistent across specialties.

(3) Revisions to the PE Methodology

Since 1997, when we first proposed a resource-based PE methodology, we have had several major goals for this payment system. One has been to encourage the maximum input from the medical community regarding our PE data and methodology. We have worked closely with the PEAC, PERC, RUC and the Health Care Professional Advisory Committee (HCPAC) which are all multi-specialty groups that allow the medical community to participate by making recommendations to us on the PE direct inputs. We also extended the deadline for the submission of supplementary PE surveys to ensure that specialties had the opportunity to submit new aggregate PE data. In addition, we have had scores of meetings with physician, practitioner and industry groups, and have made many modifications to our methodology in response to their comments and input. We look forward to continuing to work with the medical community as we strive to further improve our PE methodology.

We also have had three specific goals for the resource-based PE methodology itself. The following goals have also been supported in numerous comments we have received from the medical community:

• To ensure that the PE payments reflect, to the greatest extent possible, the actual relative resources required for each of the services on the PFS. This could only be accomplished by using the best available data to calculate the PE RVUs.

• To develop a payment system for PE that is understandable and at least somewhat intuitive, so that specialties could generally predict the impacts of changes in the PE data.

• To stabilize the PE payments so that there are not large fluctuations in the payment for given procedures from year-to-year.

We believe that we have consistently made a good faith effort to ensure fairness in our PE payment system by using the best data available at any one time. The change from the originally proposed “bottom-up” to the “top-down” methodology came about because of a concern that the resource input data developed in 1995 by the CPEP were less reliable than the aggregate specialty cost data derived from the SMS process. The adoption of the top-down approach necessitated the creation of the nonphysician work pool. The nonphysician work pool is a separate pool created to allocate PEs for codes that have only a technical (rather than professional) component, or codes that are not performed by physicians. In the Physician Fee Schedule (CY 2000); Payment Policies and Relative Value Unit Adjustment final rule, published November 2, 1999 (64 FR 59379), we indicated that “the purpose of this pool was only to protect the (TC) services from the substantial decreases * * * until further refinement could take place * * *” (64 FR 59406).

However, the situation has now changed. The PEAC/PERC/RUC has completed the refinement of the original CPEP data and we believe that the refined PE inputs now, in general, accurately capture the relative direct costs of performing PFS services. On the other hand, although we have now accepted supplementary survey data from 13 specialties, we have not received updated aggregate cost data from most specialties. Thus, we believe that, in the aggregate, the refined CPEP data represent, more reliably, the relative direct costs PE inputs for physician services.

The major specialties comprising the nonphysician work pool (radiology, radiation oncology and cardiology) have submitted supplemental survey data that we are proposing to accept. (See the discussion on supplementary surveys above.) Now that we have representative aggregate PE data for these specialties, the continued necessity and equity of treating these technical services outside the PE methodology applied to other services is questionable.

We have also taken steps to make our complex top-down PE methodology more understandable. For example, we eliminated the somewhat arcane “linking” of direct cost input data when more than one CPEP panel reviewed a service and did away with the confusing and unhelpful distinction between procedure-specific and indirect equipment. However, we acknowledge that most in the medical community would find our current methodology, as described above, neither clear nor intuitive. For example, because of the need to scale the CPEP/RUC inputs to the SMS PEs under our top-down methodology, the PE RVUs for a procedure do not necessarily change proportionately with changes in the direct inputs. This raises the question as to what would now be the most straightforward and intuitive methodology for calculating the direct PE RVUs.

Due to the ongoing refinement by the RUC of the direct PE inputs, we had expected that the PE RVUs would necessarily fluctuate from year-to-year, frustrating temporarily our efforts to reach the goal of stabilizing the PE portion of the PFS. At the same time, it became apparent that certain aspects of our methodology exacerbated the yearly fluctuations. For example, the need to scale the CPEP costs to equal the SMS costs meant that any changes in the direct PE inputs for one service often leads to unexpected results for other services where the inputs had not been altered. In addition, the services priced by the nonphysician work pool methodology have proved to be especially vulnerable to any change in the pool's composition. We understand the need for stable PE RVUs, so that physicians and other practitioners can anticipate from year-to-year what the relative payments will be for the services they perform. Now, that the CPEP/RUC refinement of existing services is virtually complete, this appears to be an opportunity for us to propose a way to provide stability to the PE RVUs.

Therefore, consistent with our goals of using the most appropriate data, simplifying our methodology, and increasing the stability of the payment system, we are proposing the following changes to our PE methodology:

• Use a Bottom-Up Methodology To Calculate Direct PE Costs

Instead of using the top-down approach to calculate the direct PE RVUs, where the aggregate CPEP/RUC costs for each specialty are scaled to match the aggregate SMS costs, we propose to adopt a bottom-up method of determining the relative direct costs for each service. Under this method, the direct costs would be determined by summing the costs of the resources—the clinical staff, equipment and supplies—typically required to provide the service. The costs of the resources, in turn, would be calculated from the refined CPEP/RUC inputs in our PE database.

• Eliminate the Nonphysician Work Pool

Now that we have new survey data for the major specialties that comprise the nonphysician work pool, we would eliminate the pool and calculate the PE RVUs for the services currently in the pool by the same methodology used for all other services. This would allow the use of the refined CPEP/RUC data to price the direct costs of individual services, rather than utilizing the pre-1998 charge-based PE RVUs.

• Utilize the Current Indirect PE RVUs, Except for Those Services Affected by the Accepted Supplementary Survey Data

As described previously, the SMS and supplementary survey data are the source for the specialty-specific aggregate indirect costs used in our PE calculations. We then allocate to particular codes on the basis of the direct costs allocated to a code and the work RVUs. Although we now believe the CPEP/RUC data are preferable to the SMS data for determining direct costs, we have no information that would indicate that the current indirect PE methodology is inaccurate. We also are not aware of any alternative approaches or data sources that we could use to calculate more appropriately the indirect PE, other than the new supplementary survey data, which we propose to incorporate into our PE calculations. Therefore, we propose to use the current indirect PEs in our calculation incorporating the new survey data into the codes performed by the specialities submitting the surveys. We would welcome any suggestions that would assist us in further refinement of this indirect PE methodology. For example, we are considering whether we should continue to accept supplementary survey data or whether it would be preferable and feasible to have an SMS-type survey of only indirect costs for all specialties, or whether a more formula-based methodology independent of the SMS data should be adopted, perhaps using the specialty-specific indirect-to-total cost percentage as a basis of the calculation. For a prior discussion of many of the issues associated with allocating indirect costs, we would refer the reader to the Physician Fee Schedule (CY 2000); Payment Policies and Relative Value Unit Adjustment proposed rule, published June 5, 1998 (63 FR 30823).

• Transition the Resulting Revised PE RVUs over a Four-Year Period

A complete analysis of the impacts of these changes is contained in the impact analysis in section V. of this proposed rule. We are concerned that, when combined with an expected negative update factor for CY 2006, the shifts in some of the PE RVUs resulting from our proposals could cause some measure of financial stress on medical practices. Therefore, we are proposing to transition the proposed PE changes over a 4-year period. This would also give ample opportunity for us, as well as the medical specialties and the RUC, to identify any anomalies in the PE data, to make any further appropriate revisions, and to collect additional data, as needed prior to the full implementation of the proposed PE changes.

During the transition period, the PE RVUs will be calculated on the basis of a blend of RVUs calculated using our proposed methodology described above (weighted by 25 percent during CY 2006, 50 percent during CY 2007, 75 percent during CY 2008, and 100 percent thereafter), and the current CY 2005 PE RVUs for each existing code.

We believe that implementing these proposed changes will meet our goals to produce a more accurate, more intuitive and more stable PE methodology.

Now that the direct PE inputs have been refined, we believe that the proposed CPEP/RUC direct input data are superior to the specialty-specific SMS PE/HR data for the purposes of determining the typical direct PE resources required to perform each service on the PFS. First, we have received recommendations on the procedure-specific inputs from the multi-specialty PEAC that were based on presentations from the relevant specialties after being closely scrutinized by the PEAC using standards and packages agreed to by all involved specialties. Second, the refined CPEP/RUC data are more current than the SMS data for the majority of specialties. Third, for direct costs, it appears more accurate to assume that the costs of the clinical staff, supplies and equipment are the same for a given service, regardless of the specialty that is performing it. This assumption does not hold true under the top-down direct cost methodology, where the specialty-specific scaling factors create widely differing costs for the same service.

We also would argue that the proposed methodology is less confusing and more intuitive than the current approach. First, the nonphysician work pool would be eliminated and all services would be priced using one methodology, eliminating the complicated calculations needed to price nonphysician work pool services. Second, the method for calculation of direct costs can now be described in sentences rather than paragraphs. Third, any revisions made to the direct inputs would now have predictable results. Changes in the direct practice inputs for a service would proportionately change the PE RVUs for that service without significantly affecting the PE RVUs for unrelated services.

The proposed methodology would also create a system that would be significantly more stable from year-to-year than the current approach. Specialties should no longer experience the wide fluctuations in payment for a given service due to an aberrant direct cost scaling factor. Direct PEs should only change for a service if it is further refined or when prices are updated, while indirect PEs should change only when there are changes in the mix of specialties performing the service or with the use of any future new survey data for indirect costs.

We recognize that there are still some outstanding issues that need further consideration, as well as input from the medical community. For example, although we believe that the elimination of the nonphysician work pool would be, on the whole, a positive step, some practitioner services, such as audiology and medical nutrition therapy, would be significantly impacted by the proposed change. In addition, there are still services, such as the ESRD visit codes, for which we have no direct input information. Also, as mentioned above, we do not have current SMS or supplementary survey data to calculate the indirect costs for most specialties. Further, we do not yet have accurate utilization for the new drug administration codes that were created in response to the MMA provision on drug administration. Therefore, we are not proposing to change the RVU for these services at this time, but to include them under our proposed methodology in next year's rule when we have appropriate data. The proposed transition period would give us the opportunity to work with the affected specialties to collect the needed survey or other data or to determine whether further revisions to our PE methodology are needed.

We, therefore, welcome all comments on these proposed changes, particularly those concerning additional modifications to the indirect PE methodology that might help us further our intended goals.

(4) PE Recommendations on CPEP Inputs for CY 2006

Since 1999, the PEAC, an advisory committee of the AMA's RUC, provided us with recommendations for refining the direct PE inputs (clinical staff, supplies, and equipment) for existing CPT codes. The PEAC held its last meeting in March 2004 and the AMA established a new committee, PERC, to assist the RUC in recommending PE inputs.

The PERC completed refinement of approximately 200 remaining codes at its meetings held in September 2004 and February 2005. (A list of these codes can be found in Addendum C of this proposed rule.)

We have reviewed the PERC-submitted recommendations and propose to adopt nearly all of them. We have worked with the AMA staff to correct any typographical errors and to make certain that the recommendations are in line with previously accepted standards.

The complete PERC recommendations and the revised PE database can be found on our Web site. (See the “Supplementary Information” section of this proposed rule for directions on accessing our Web site.)

We disagreed with the PERC recommendation for clinical labor time for CPT code 36522, Extracorporeal Photophoresis. In last year's Revisions to Payment Policies Under the Physician Fee Schedule for Calendar Year 2005 final rule, published November 15, 2004 (69 FR 66236) we assigned, on an interim basis, 223 minutes of total clinical labor for the service period based on the typical treatment time of approximately 4 hours. The PERC, however, recommended 122 minutes total clinical labor time for the service period, which allows for 90 minutes of nurse “intra service” time for the performance of the procedure (the society originally proposed 180 minutes). We believe that 135 minutes is a more appropriate estimation of the clinical staff time actually needed for the intra time, as it more closely approximates the time assigned to the other procedures in this family of codes, including CPT codes 36514, 36515, and 36516. Therefore, we are proposing a total clinical labor time of 167 minutes for the service period.

The PERC/RUC also recommended that no inputs be assigned to several codes because the services were not performed in the office setting. However, our utilization data shows that four of these codes (CPT codes 15852, 76975, 78350, and 86585) are currently priced in the office and are performed with sufficient frequency in the office to warrant this. Therefore, we are proposing not to accept the PERC/RUC recommendations for these services at this time, but are requesting comments from the relevant specialties as to whether the recommendations should be accepted.

(5) Payment for Splint and Cast Supplies

In the Physician Fee Schedule (CY 2000); Payment Policies and Relative Value Unit Adjustment final rule, published November 2, 1999 (64 FR 59379) and the Physician Fee Schedule (CY 2002); Payment Policies and Relative Value Units Five-Year Review and Adjustments final rule, published November 1, 2000 (66 FR 55245), we removed cast and splint supplies from the PE database for the CPT codes for fracture management and cast/strapping application procedures. Because casting supplies could be separately billed using Healthcare Common Procedure Coding System (HCPCS) codes that were established for payment of these supplies under section 1861(s)(5) of the Act, we did not want to make duplicate payment under the PFS for these items.

However, in limiting payment of these supplies to the HCPCS codes Q4001 through Q4051, we unintentionally prohibited remuneration for these supplies when they are not used for reduction of a fracture or dislocation, but rather, are provided (and covered) as incident to a physician's service under section 1861(s)(2)(A) of the Act.

Because these casting supplies are covered either through sections 1861(s)(5) of the Act or 1861(s)(2)(A) of the Act, we are proposing to eliminate the separate HCPCS codes for these casting supplies and to again include these supplies in the PE database. This will allow for payment for these supplies whether based on section 1861(s)(5) of the Act or section 1861(s)(2)(A) of the Act, while ensuring that no duplicate payments are made. In addition, by bundling the cost of the cast and splint supplies into the PE component of the applicable procedure codes under the PFS, physicians will no longer need to bill Q-codes in addition to the procedure codes to be paid for these materials.

Because these supplies were removed from the PE database prior to the refinement of these services by the PEAC, we are proposing to add back the original CPEP supply data for casts and splints to each applicable CPT code. For this reason, it is imperative that the relevant medical societies review the “Direct Practice Expense Inputs” on our Web site at http://www.cms.hhs.gov/physicians/pfs (under the supporting documents for the 2006 proposed rule) and provide us with feedback regarding the appropriateness of the type and amount of casting and splinting supplies. We are also requesting specific information about the amount of casting supplies needed for the 10-day and 90-day global procedures, because these supplies may not be required at each follow-up visit; therefore, the number of follow-up visits may not reflect the typical number of cast changes required for each service.

The following cast and splint supplies have been reincorporated as direct inputs: fiberglass roll, 3 inch and 4 inch; cast padding, 4 inch; webril (now designated as cast padding, 3 inch); cast shoe; stockingnet/stockinette, 4 inch and 6 inch; dome paste bandage; cast sole; elastoplast roll; fiberglass splint; ace wrap, 6 inch; and kerlix (now designated as bandage, kerlix, sterile, 4.5 inch) and malleable arch bars. The cast and splint supplies have been added to the following CPT codes: 23500 through 23680, 24500 through 24685, 25500 through 25695, 26600 through 26785, 27500 through 27566, 27750 through 27848, 28400 through 28675, and 29000 through 29750.

Because we are proposing to pay for splint and cast through the PE component of the PFS, we would no longer make separate payment for these items using the HCPCS Q-codes.

(6) Miscellaneous PE Issues

In this section, we discuss our specific proposals related to PE inputs.

• Supply Items for CPT Code 95015

We are proposing to change the supply inputs for CPT code 95015, intracutaneous (intradermal) tests, sequential and incremental, with drugs, biologicals or venoms, immediate type reaction, specify number of tests, based on comments received from the JCAAI. The society reports that “venom” is the most typical test substance used when performing this service and that “antigen”, currently listed in the PE database, is never used. The JCAAI also suggests that the appropriate venom quantity should be 0.3 ml (instead of the 0.1 ml now listed) because of the necessity to use all five venoms (honey bee, yellow jacket, yellow hornet, white face hornet and wasp) to perform this sensitivity testing; that is, 1 ml of each venom type for a total of 5 ml of venom. The diluted venoms are sequentially administered until sensitivity is shown, beginning with the lowest concentration of venom and subsequently administering increasing concentrations of each venom. The JCAAI states that the typical number of tests per session is approximately 17, consistent with the RUC-approved vignette, which represents 0.3 ml of venom per test when divided into the total of 5 ml of venom needed to perform the entire service. We accept the specialty's argument and propose to change the test substance in CPT code 95015 to venom, at $10.70(from single antigen, at $5.18) and the quantity to 0.3 ml (from 0.1 ml).

• Flow Cytometry Services

In the November 15, 2004 final rule (69 FR 66236), we solicited comments on the interim RVUs and PE inputs for new and revised codes, including flow cytometry services. Based on comments received and additional discussions with representatives from the society representing independent laboratories, we are proposing to revise the PE inputs for the flow cytometry CPT codes 88184 and 88185.

The specialty society indicated that a cytotechnologist is the typical clinical staff type to perform the intra portion of this service for both codes. They also provided us with a list of six additional equipment items, along with documented prices, and with the minutes in use for each service. All six equipment items are necessary to perform the flow cytometry services described in CPT code 88184, while only two (the computer and printer) are needed for CPT code 88185. For supplies, the society believes the antibody cost currently reflected in the PE database is too low, and so they provided us with an average antibody cost of $8.50, derived from a survey of laboratories performing these services. Using the vignette for the myeloid/lymphoid panel to represent the typical service, this average cost was based on the cost of the total number of antibodies that are required to report the typical number of reported markers. Based on this information, we are proposing to change the following direct inputs used for PE:

+ Clinical Labor: Change the staff type in the service (intra)period in both CPT codes 88184 and 88185 to cytotechnologist, at $0.45 per minute (currently lab technician, at $0.33 per minute).

+ Supplies: Change the antibody cost for both CPT codes 88184 and 88185 to $8.50 (from $3.544).

+ Equipment: Add a computer, printer, slide strainer, biohazard hood, and FACS wash assistant to CPT code 88184. Add a computer and printer to the equipment for CPT code 88185.

• Low Osmolar Contrast Media (LOCM) and High Osmolar Contrast Media (HOCM)

HOCM and LOCM are used to enhance images produced by various types of diagnostic radiological procedures. In the November 15, 2004 final rule (69 FR 66356), we eliminated the criteria for the payment of LOCM that had been included at § 414.38. Effective January 1, 2005, providers can be paid for either LOCM or HOCM when used with procedures requiring contrast media. Payment for LOCM is made through the use of separate Q-codes, while payment for HOCM is currently included as part of the PE component under the PFS. Effective January 1, 2006, we will no longer include payment for HOCM under the PFS. When HOCM is used, Q-codes that have been established specifically for HOCM will be used for payment.

We have reviewed the PE database and are proposing to remove the following two supply items which we have identified as HOCM from the PE database:

+ Conray inj. iothalamate 43 percent(supply item #SH026, deleted from 64 procedures).

+ Diatrizoate sodium 50 percent (supply item #SH0238, deleted from 74 procedures).

In reviewing the PE database we also identified 5 CPT codes (specifically CPT codes 42550, 70370, 93508, 93510 and 93526) that include omnipaque as a supply item. Since omnipaque is actually a type of LOCM that is separately billable, we are proposing to remove this supply item from these five CPT codes.

• Imaging Rooms

We include standardized “rooms” for certain services in our PE equipment database, rather than listing each item separately. We received pricing information from the ACR for the following rooms that are included in the database. We have accepted most of the proposed items that meet the $500 threshold for equipment and are proposing to include the items in each specific room, as follows:

+ Basic Radiology Room: $127,750 (x-ray machine @ $125,550 and camera @ $2,200). The recommended viewbox was not included because most codes assigned this room have also been assigned an alternator (automated film viewer) or a 4-panel viewbox.

+ Radiographic-Flouroscopic Room: $367,664 (Radiographic machine @ $365,464 and camera @ $2,200). The recommended viewbox was not included because most codes assigned this room have also been assigned an alternator (automated film viewer) or a 4-panel viewbox.

+ Mammography Room: $168,214 (mammography unit @ $124,900; reporting system @ $16,690; mammography phantom @ $674; densitometer @ $3,660; sensitometer @ $2,750; desktop PC for monitoring @ $1,840; and processor @ $17,700. Separately listed equipment items (densitometer, mammography reporting system, sensitometer, mammography phantom, desktop computer, and the film processor) that duplicated items included in the mammography room were removed from the codes assigned the room, eliminating the reporting system, sensitometer and phantom from the PE database.

+ Computed tomography (CT) Room: $1,284,000 (16-slice CT scanner with power injector and monitoring system)

+ Magnetic Resonance (MR) Room: $1,605,000 (1.5T MR scanner with power injector and monitoring system)

• Equipment Pricing for Select Services and Procedures from the November 15, 2004 final rule (69 FR 66236).

Equipment pricing for certain radiology services was received and supported with sufficient documentation from the ACR. We have accepted the following equipment prices as shown in table 15.

Table 15
CAD processor (CPT 76082-83) | $115,000
Collimator, cardiofocal set (CPT 78206-07, 78647, 78803, 78807) | 8,543
Densitometer/DPA (CPT 78351) | 150,000
Detector Probe (CPT 78455) | 19,995
IVAC Injection Pump, single channel (CPT 78206-07, 78647, 78803, 78807) | 3,000
Computer workstation/MRA includes: Includes 2 monitors, volume viewer, advanced x-ray analysis, data export, CD-RW, DICOM Print, 2 GB RAM (CPT 71555, 72159, 72198, 73225, 73727, 74185) | 122,000

We accepted the documentation supplied from the American College of Obstetricians and Gynecologists (ACOG) to price the following equipment for which we assigned an average price from the three sources, as follows:

Ultrasound color Doppler transducers and vaginal probe (CPT 59070, 59074, 76818-19, 76825-28)—$157,897

For CPT 36522, extracorporeal photopheresis, we received and accepted equipment pricing information specific to this procedure, as follows:

Plasma pheresis machine with UV light source (CPT 36522)—$65,000

We received comments from the American Academy of Ophthalmology that included documentation from two sources for the pricing of the EMG botox machine used in CPT code 92265 and we are proposing to accept $16,188 as the average price for this equipment.

• Supply Item for In Situ Hybridization Codes (CPT 88365, 88367, and 88368)

We received comments from the College of American Pathologists (CAP) regarding the number of DNA probes assigned to the in situ hybridization codes, CPT codes 88365, 88367, and 88368. Currently, CPT codes 88365 and 88368 have 1.5 probes assigned, while CPT code 88367 has only .75 of a probe assigned. CAP requested that we also assign 1.5 probes to CPT code 88367, and the comment provided justification for this request. We accept the CAP rationale and propose to change the probe quantity for CPT code 88367 to 1.5.

• Supply Item for Percutaneous Vertebroplasty Procedures (CPT codes 22520 and 22525)

The Society for Interventional Radiology provided us with documentation for the price of the vertebroplasty kit used in CPT codes 22520 and 22525. We propose to accept a new price of $696 for this supply, currently listed as $660.50, a placeholder price from last year's final rule.

• Clinical Labor for G-codes Related to Home Health and Hospice Physician Supervision, Certification and Recertification

It has come to our attention that four G-codes related to home health and hospice physician supervision, certification and recertification, G0179, 180, 181, and 182, are incorrectly valued for clinical labor. These codes are cross-walked from CPT codes 99375 and 99378, which underwent PEAC refinement for the 2004 fee schedule. However, we did not apply the new refinements to these specific G-codes at that time, and are proposing to revise the PE database to reflect the new values.

• Programmers for Implantable Neurostimulators and Intrathecal Drug Infusion Pumps

We received comments from the neurological division of Medtronic Incorporated, the manufacturer of programmers for implantable neurostimulators and intrathecal drug infusion pumps, that the equipment costs for these programmers are not a direct expense for the physicians performing the programming of these devices. The manufacturer furnishes these devices without cost because the programming device is considered a “necessary, ancillary item to the neurostimulator and drug pump and can only be used to program these devices.” As such, we are proposing to remove the two programmers from the PE database: EQ208 for medication pump from 2 codes (CPT 62367 and 62368) and EQ209 for the neurostimulator from 8 codes (CPT 95970-97979). We are asking for comments from the specialty societies performing these services to let us know if this proposal reflects typical practice.

• Pricing of New Supply and Equipment Items

As part of last year's rulemaking process, we reviewed and updated the prices for equipment items in our PE database and assigned a unique identifier to each equipment item with the first two elements corresponding to one of seven categories. It has come to our attention that we have assigned the same category identifier (ELXXX) for both “lanes/rooms” as well as “laboratory equipment”. To correct this, we are assigning laboratory equipment items the new category identifier “EPXXX”, but the specific numbers associated with each item will remain the same. Supply items were reviewed and updated in the rulemaking process for the 2004 PFS. During subsequent meetings of both the PEAC (now referred to as the PERC) and the RUC, supply and equipment items were added that were not included in the pricing updates. The following two tables (Table 16: Proposed Practice Expense Supply Items and Table 17: Proposed Practice Expense Equipment Items) list the additional supply and equipment items for 2006 and the proposed associated prices that we will use in the PE calculation.

Table 16.—Proposed Practice Expense Supply Item Additions for 2006
Supply code | Supply description | Unit | Unit price | *CPT code(s) associated with item | Supply category
SJ071 | ACD-A anticoagulant | item | 6.58 | 36514, 36515, 36516 | Pharmacy, NonRx.
SL186 | Antibody, flow cytometry (each test) | item | 8.5 | 88184, 88185 | Lab.
SL187 | Balance salt solution (BSS), sterile, 15cc | ml |  | 92265 | Lab.
SG093 | Bandage, Dome paste, 3in | item | 14.95 | 29580 | Wound care, dressings.
SJ072 | Brush, disposable applicator | item |  | 17360 | Pharmacy, NonRx.
SG094 | Cast, padding 3in x 4yd (Webril) | item | 1.22 | 18 codes | Wound care, dressings.
SG095 | Cast, sole | item | 14.74 | 29355, 29425, 29440 | Wound care, dressings.
SG096 | Casting tape, fiberglass 3in x 4 yds | item | 9.2 | 29065, 29075, 29105, 29365, 29405, 29425 | Wound care, dressings.
SD216 | Catheter, balloon, esophageal or rectal (graded distention test) | item | 217.00 | 91120, 91040 | Accessory, Procedure.
SK102 | Communication book/treatment notebook | item |  | 92510 | Office supply, grocery.
SB049 | Condom, Diapulse, Asepticap | item | 0.69 | G0329 | Gown, drape.
SK103 | Cork sheet, 1cm x 1cm | item |  | 88355 | Office supply, grocery.
SD217 | Diaphragm fitting set | item |  | 57170 | Accessory, Procedure.
SJ073 | DMV remover | item |  | 92311, 92312, 92313, 92314, 92315, 92317, 92316, 92310 | Pharmacy, NonRx.
SL188 | EM fixative, karnovsky's | ml | 0.086 | 88355, 88356 | Lab.
SL189 | Ethanol, 100% | ml | 0.003 | 88365, 88367, 88368 | Lab.
SL190 | Ethanol, 70% | ml | 0.003 | 88367, 88368, 88365 | Lab.
SL191 | Ethanol, 85% | ml | 0.003 | 88368, 88367, 88365 | Lab.
SC088 | Fistula set, dialysis, 17g | item |  | 36522 | Hypodermic, IV.
SK104 | Foil, aluminum, 10cm x 10cm | item |  | 88355 | Office supply, grocery.
SL192 | Formamide | ml | 0.22 | 88368, 88365, 88367 | Lab.
SL193 | Glycolic acid, 20-50% | ml |  | 17360 | Lab.
SL194 | Hemo-De | ml | 0.008 | 88368, 88367, 88365 | Lab.
SA089 | Kit, boston original system | kit | 4.5 | 92311, 92315, 92310, 92313, 92313, 92314, 92317, 92316 | Kit, Pack, Tray.
SL195 | Kit, FISH paraffin pretreatment | kit | 20.85 | 88367, 88368, 88365 | Lab.
SL196 | Kit, HER-2/neu DNA Probe | kit | 105.00 | 88367, 88368 | Lab.
SA090 | Kit, moulage (implantech) | kit | 75.00 | 19396 | Kit, Pack, Tray.
SL197 | Label for blood tube | item | 0.004 | 36516, 36515, 36514 | Lab.
SL198 | Label, vial | item | 0.003 | 88355 | Lab.
SJ074 | Lens cleaner | ounce |  | 92342, 92313, 92340, 92341 | Pharmacy, NonRx.
SL199 | Lithium carbonate, saturated | ml |  | 88355, 88356 | Lab
SH092 | LMX 4% anesthetic cream | gm | 1.6 | 96567 | Pharmacy, Rx.
SJ075 | Methoxsalen, 10ml vial | item | 49.5 | 36522 | Pharmacy, NonRx.
SF044 | Micro air burr | item |  | 28755, 28750, 28740, 28760 | Cutters, closures, cautery
SC089 | Needle, Vacutainer | item | 0.32 | 36514, 36515, 36516 | Hypodermic, IV.
SJ076 | Nose pads | item |  | 92370 | Pharmacy, NonRx.
SG092 | Packing, gauze, plain, 1 in (5 yd uou) | item |  | 57180 | Wound care, dressings.
SJ077 | Screws, spectacles | item | 0.14 | 92370 | Pharmacy, NonRx.
SL200 | Sodium bicarbonate spray, 8 oz | item |  | 17360 | Lab.
| Splint, fiberglass, 4in x 15in | item | 16.5 | 29125 | Wound care, dressings.
SL201 | Stain, eosin | ml | 0.044 | 88356, 88355 | Lab.
SJ078 | Temple tips | pair | 1.00 | 92370 | Pharmacy, NonRx.
SL202 | Tissue conditioner, coesoft | item |  | 42280 | Lab.
SA091 | Tray, scoop, fast track system | item | 750.00 | 31730 | Kit, Pack, Tray.
SC090 | Tube, gastrostomy | item |  | 43760 | Hypodermic, IV.
SC091 | Vacutainer | item | 5.9 | 36514, 36515, 36516 | Hypodermic, IV.
SL203 | Vial, 10 ml, plastic (−70 degree storage) | item | 1.016 | 88355 | Lab.
SL204 | Vial, kimble sample, non sterile glass, 20 ml | item | 0.708 | 88356, 88355 | Lab.
*CPT codes and descriptions only are copyright 2004 American Medical Association. All Rights Reserved. Applicable FARS/DFARS apply.

Table 17.—Proposed Practice Expense Equipment Item Additions for 2006
Equip code | Equipment description | Life | Unit price | *CPT code(s) associated with item | Equipment category
EQ269 | Blood pressure monitor, ambulatory | 5 | 3000 | 93786, 93784, 93788 | OTHER EQUIP.
EP044 | Centrifuge, cytospin | 7 | 7330 | 88184 | LABORATORY.
EP045 | Chamber, hybridization | 7 | 7107 | 88368, 88365, 88367 | LABORATORY.
EP046 | Freezer, ultradeep (−70 degrees) | 10 | 16552 | 88355 | LABORATORY.
| Light assembly, photophoresis |  |  | 36522 | OTHER EQUIP.
EP047 | Loader, FACS | 7 | 22500 | 88184 | LABORATORY.
EP048 | Microfuge, benchtop | 7 | 2410 | 88368, 88367, 88365 | LABORATORY.
0EQ270 | Plasma pheresis machine w/ UV light | 6 | 65000 | 36522 | OTHER EQUIP.
EP049 | Oven, isotemp (lab) | 10 | 2383 | 88368, 88367, 88365 | LABORATORY.
EQ271 | Radiuscope | 7 |  | 92315, 92317, 92316, 92310, 92314, 92313, 92312, 92311 | OTHER EQUIP.
EP050 | Scanner, AutoVysion | 5 | 135000 | 88367 | LABORATORY.
EQ272 | Sleep diagnostic system, attended | 5 | 46799 | 95805 | OTHER EQUIP.
EP051 | Slide warmer | 7 | 568 | 88368, 88365, 88367 | LABORATORY.
EP052 | Ultrasonic nebulizer | 10 | 1000 | 89220 | LABORATORY.
EP053 | Wash assistant, FACS | 7 | 38000 | 88184 | LABORATORY.
EP054 | Water bath, FISH procedures (lab) | 7 | 2111 | 88367, 88365 | LABORATORY.
*CPT codes and descriptions only are copyright 2004 American medical Association. All Rights Reserved. Applicable FARS/DFARS apply.

• Supply and Equipment Items Needing Specialty Input

We have identified certain supply and equipment items for which we were unable to verify the pricing information (see Table 18: Supply Items Needing Specialty Input for Pricing and Table 19: Equipment Items Needing Specialty Input for Pricing). During last year's rulemaking, we listed both supply and equipment items for which pricing documentation was needed from the medical specialty societies and, for many of these items, we received sufficient documentation in the form of catalog listings, vendor websites, and invoices. We have accepted the documented prices for many of these items and have already incorporated them into the PE database. The items listed on Tables 18 and 19 represent the outstanding items from last year and new items added from the RUC recommendations. Therefore, we are requesting that commenters, particularly specialty organizations, provide pricing information on items in these tables along with documentation to support the recommended price.

Table 18.—Supply Items Needing Specialty Input for Pricing
Code | 2005 Description | Unit | Unit Price | Primary specialties associated with item | *CPT code(s) associated with item | Status of item
SK105 | Blood pressure recording form, average | Item | 0.31 | Cardiology | 93784, 93786, 93788 | See Note A.
SJ072 | Brush, disposable applicator | Item |  | Dermatology | 17360 | See Note A.
SK102 | Communication book/treatment note­book | Item |  | Audiology, ENT | 92510 | See Note A.
SK103 | Cork sheet, 1 cm x 1 cm | Item |  | Pathology | 88355 | See Note A.
SJ073 | DMV remover | Item |  | Optometry, Opthalmology | 92310-92317 | See Note A.
SD217 | Diaphragm fitting set | Item |  | Ob-gyn | 57170 | See Note A.
SD053 | Electrode, EEG, tin cup (12 pack uou) | Item |  | Neurology | 95812-13, 95816, 95819, 95822, 95950, 95954, 95956 | See Note A.
SC088 | Fistula set, dialysis, 17g | Item |  | Dermatology | 36522 | See Note A
SK104 | Foil, aluminum, 10 cm x 10 cm | Item |  | Pathology | 88355 | See Note A.
SL193 | Glycolic acid, 20-50% | ml |  | Dermatology | 17360 | See Note A.
SA090 | Kit, moulage (implantech) | Item | 75.00 | Ob-Gyn | 19396 | See Note A.
SJ074 | Lens cleaner | oz |  | Optometry, Opthalmology | 92313, 92341, 92342 | See Note A.
SL199 | Lithium carbonate, saturated | ml |  | Pathology | 88355, 88356 | See Note A.
SF044 | Micro air burr | Item |  | Podiatry, Orthopedics | 28740, 28750, 28755, 28760 | See Note A.
SJ076 | Nose pads | Item |  | Optometry | 92370 | See Note A.
SG092 | Packing, gauze, plain, 1 in (5yd uou) | Item |  | Ob-Gyn | 57180 | See Note A.
SH087 | Pentagastrin | ml |  | Gastroenterology | 91052 | See Note A.
SD140 | Pressure bag | Item | 8.925 | Cardiology | 93501, 93508, 93510, 93526 | See Note A.
SL119 | Sealant spray | oz |  | Radiation Oncology | 77333 | See Note A.
SL200 | Sodium bicarbonate spray, 8 oz | Item |  | Dermatology | 17360 | See Note A.
SL203 | Tissue conditioner, coesoft | Item |  | Maxillofacial Surgery ENT | 42280 | See Note A.
SA091 | Tray, scoop, fast track system | Tray | 750.00 | ENT | 31730 | See Note A.
SD213 | Tubing, sterile, non-vented (fluid administration) | Item | 1.99 | Cardiology | 93501, 93508, 93510, 93526 | See Note A.
*CPT codes and descriptions only are copyright 2004 American Medical Association. All Rights Reserved. Applicable FARS/DFARS apply.
Note A: Additional information required. Need detailed description (including kit contents), source, and current pricing information (including pricing per specified unit of measure in database).

Table 19.—Equipment Items Needing Specialty Input for Pricing and Proposed Deletions
Code | 2005 Description | Price | Primary specialties associated with item | * CPT code(s) associated with item | Status of item
EQ269 | Ambulatory blood pressure monitor | 3,000.00 | Cardiology | 93784, 93786, 93788 | See Note A.
EQ089 | cortical bipolar-biphasic stimulating equipment |  | Neurosurger, neurology | 95961, 95962 | See Note A.
EQ091 | Cryo-thermal unit |  | Anesthesia | 64620 | See Notes A and C.
ER025 | densitometry unit, whole body, SPA | 22,500.00 | Radiology | 78350 | See Notes A and C.
EQ100 | dialysis access flow monitor | 10,000.00 | Nephrology | 90940 | See Note A.
EQ101 | diathermy, microwave |  | anesthesia, GP, podiatry | 97020 | See Notes A and C.
EQ008 | ECG signal averaging system | 8,250.00 | Cardiology, IM | 93278 | See Note A.
EQ112 | electromagnetic therapy machine | 25,000.00 | Physical therapy | G0329 | See Note A.
EQ122 | fetal monitor software | 35,000.00 | ob-gyn, radiology | 76818, 76819 | See Note A.
ER029 | film alternator (motorized film viewbox) | 27,500.00 | Radiology | 329 codes | See Notes A and B.
EQ124 | generator, constant current | 950.00 | Neurology, NP | 95923 | See Note A.
EQ131 | hyperbaric chamber | 125,000.00 | FP, IM, EM | 99183 | See Note A.
ER036 | hyperthermia system, ultrasound, intracavitary | 250,000.00 | radiation oncology | 77620 | See Note A.
| Light assembly, photopheresis |  | Dermatology | 36522 | See Note A.
ER045 | orthovoltage radiotherapy system | 140,000.00 | radiation oncology | 77401 | See Note A.
ER008 | OSHA ventilated hood | 5,000.00 | radiation oncology | 77334 | See Notes A and B.
| plasma pheresis machine w/UV light source | 37,900.00 | radiology, dermatology | 36481, G0341 | See Note A.
EQ208 | Programmer, for implanted medication pump (spine) | 1,975 | anesthesiology, physical medicine | 62367 and 62368 | See Note D.
EQ209 | Programmer, neurostimulator (w-printer) | 1,975 | neurology, neuro surgery, anesthesiology | 95970, 95971, 95972, 95973, 95974, 95975, 95978, 95979 | See Note D.
EQ212 | pulse oxymetry recording software (prolonged monitoring) | 3,660.00 | Pulmonary disease, IM | 94762 | See Note A.
EP055 | Slide Stainer | 9,291.00 | Pathology | 88184 | See Note A.
EQ271 | Radiuscope |  | ophthalmology, optometry | 92310—92317 | See Note A.
EQ220 | remote monitoring service (neurodiagnostics) | 9,500.00 | Neurology | 95955 | See Note A.
EQ221 | review master | 23,500.00 | pulmonary disease, neurology | 95805, 95807-11, 95816, 95822, 95955-56 | See Note A.
EF022 | table, cystoscopy |  | Urology | 52204-24, 52265-75, 52310-17, 52327-32 | See Note A.
EQ253 | ultrasound, echocardiography digital acquisition (Novo Microsonics, TomTec) | 29,900.00 | ob-gyn, cardiology, pediatrics | 76825-28, 93303-12, 93314, 93320, 93325, 93350 | See Note A.
EQ261 | vacuum cart |  | anesthesia | 64620 | See Notes A and C
EP054 | Wash assistant, FACS | 38,000.00 | pathology | 88184 | See Note A.
*CPT codes and descriptions only are copyright 2004 American Medical Association. All Rights Reserved. Applicable FARS/DFARS apply.
Notes:
A. Additional information required. Need detailed description (including system components as specified), source, and current pricing information.
B. Proposed deletion as indirect expense.
C. Item may no longer be available.
D. Proposed deletion as supplied to physicians at no cost.

B. Geographic Practice Cost Indices (GPCIs)

[If you choose to comment on issues in this section, please include the caption “GPCIs” at the beginning of your comments.]

Section 1848(e)(1)(A) of the Act requires us to develop separate GPCIs to measure resource cost differences among localities compared to the national average for each of the three fee schedule components. While requiring that the practice expense and malpractice GPCIs reflect the full relative cost differences, section 1848(e)(1)(A)(iii) of the Act requires that the physician work GPCIs reflect only one-quarter of the relative cost differences compared to the national average.

Section 1848(1)(E) of the Act, as amended by section 412 of the MMA, established a floor of 1.0 for the work GPCI for any locality where the GPCI would otherwise fall below 1.0. This 1.0 work GPCI floor was used for purposes of payment for services furnished on or after January 1, 2004 and before January 1, 2007. This 1.0 floor will remain in effect in 2006.

Section 602 of the MMA added section 1848(e)(1)(G) of the Act, which sets a floor of 1.67 for the work, practice expense, and malpractice GPCIs for services furnished in Alaska between January 1, 2004 and December 31, 2005 for any locality where the GPCI would otherwise fall below 1.67. Effective January 1, 2006, this provision will end and the proposed 2006 GPCIs for Alaska will be 1.017 for physician work, 1.103 for PE, and 1.029 for malpractice.

Payment Localities

In the August 15, 2004 PFS rule proposed rule, we discussed the issue of changes to the GPCI payment localities (69 FR 47504). In that proposed rule, we noted that we look for the support of a State medical society as the impetus for changes to existing payment localities. Because the GPCIs for each locality are calculated using the average of the county-specific data from all of the counties in the locality, removing high-cost counties from a locality will result in lower GPCIs for the remaining counties. Therefore, because of this redistributive impact, we have refrained, in the past, from making changes to payment localities unless the State medical association provides evidence that any proposed change has statewide support.

In the November 15, 2004 PFS final rule, we discussed a “placeholder” proposal submitted to us in comments received from the California Medical Association (CMA) (69 FR 66263). The proposal described in CMA's comment would move any county with a county-specific geographic adjustment factor (GAF) that is at least 5 percent greater than its locality GAF to its own individual county payment locality. (The GAF is the weighted average of the GPCIs for each locality. The GPCIs are weighted by the same weighting factors applied to physician work, practice expense, and malpractice in the Medicare Economic Index (MEI) used to update the CF.) However, in order to minimize reductions in the 2005 GAF of the Rest of California locality that would otherwise result from removal of the data for these high-cost counties, the CMA proposed maintaining Rest of California locality payments at the 2004 level by redistributing payments from the existing (and newly created) payment localities.

On October 21, 2004, the CMA Board of Trustees voted without objection to support the placeholder proposal with the amendment that the redistribution of payments designed to maintain 2004 levels of payment for the Rest of California payment locality would occur for two years only, in 2005 and 2006. However, we determined that we do not have the authority under section 1848(e) of the Act to modify the GPCIs of some localities in a State solely in order to offset higher payments to other localities.

After the publication of the November 15, 2004 PFS final rule, the CMA submitted a proposal for a demonstration project that was the same as its proposal discussed in that final rule. There were several aspects of the proposal that made implementation problematic for us under our demonstration authority. For example, physicians whose payments would decrease under the demonstration could challenge the validity of a new locality configuration established without providing them the opportunity to comment through the regulatory process (as is our normal process for making locality changes). In particular, physicians who are not members of county medical societies or the CMA did not agree to participate in the proposed demonstration, and some of them may have challenged its implementation.

Also, the Medicare PFS currently uses identical GPCIs to pay for services provided in an area by both physicians and nonphysician providers such as podiatrists, optometrists, physical therapists, and nurse practitioners (NPs). Changing the locality configuration for medical doctors and doctors of osteopathic medicine, but not for other professionals, would have some peculiar results that were not addressed in the CMA proposal. For example, in areas where the GPCIs would be reduced under the demonstration, some practitioners not participating under the demonstration (such as physical therapists) could be paid more than physicians in the same locality. Conversely, where the GPCIs would be increased under the demonstration, there would likely be complaints from the nonphysician practitioners (NPP) not included in the demonstration.

Nonetheless, we do recognize the potential impact of wide variations in the practice costs within a single payment locality. In last year's PFS final rule, we noted that we received many comments from physicians and individuals in Santa Cruz County expressing the opinion that Santa Cruz County should be removed from the Rest of California payment locality and placed in its own payment locality. The county-specific GAF of Santa Cruz County is 10 percent higher than the Rest of California locality GAF. Santa Cruz County is adjacent to Santa Clara County and San Mateo County. Santa Clara and San Mateo Counties have two of the highest GAFs in the nation. The published 2006 GAF for the Rest of California payment locality is 24 percent less than the GAFs of Santa Clara and San Mateo.

Sonoma County is also part of the Rest of California payment locality. The county-specific GAF of Sonoma County is 8 percent higher than the Rest of California locality GAF. Sonoma County is bordered by Marin County and Napa County. Using published 2006 values, the payment locality that includes Marin and Napa counties has the fourth highest GAF in the nation, and is 13 percent higher than the GAF of the Rest of California payment locality.

We recognize that changing demographics over time may lead to payment disparities in particular circumstances. We rely upon State medical societies to identify and resolve these disparities because there are redistributive impacts within a State when new localities are created (or existing ones reconfigured). Yet we also recognize that CMS is ultimately responsible for establishing fee schedule areas. We have considered a number of alternative locality configurations including—

• The CMA approach which calculates county-specific GAFs, and compares them to their locality GAF and designating any county with a GAF at least 5 percent higher than its locality GAF as a new locality;

• An approach that sorts counties by descending GAFs and compares the highest county to the second highest county. If the difference between these two counties is 5 percent or less, they are included in the same locality. The third highest county GAF is then compared to the highest county GAF and so on, until the next county GAP is not within 5 percent of the highest county GAF. At that point, the county GAF that is more than 5 percent lower than the highest county GAF becomes the comparison for the next lowest county GAF, to create a second locality. This process is repeated down throughout all of the counties;

• An approach that compares the county with the highest GAF to the statewide average, removing counties that are 5 percent or more than the statewide average; and

• An approach that uses Metropolitan Statistical Ares defined by the Office of Management and Budget.

However, because these reconfigurations would result in significant redistributions across most California counties, we are simply proposing that Santa Cruz and Sonoma Counties (the two counties with the most significant disparity between the assigned Rest of California GAF and the county-specific GAF) be removed from the Rest of California payment locality and that each would be its own payment locality. We invite comments regarding this proposal and possible alternative approaches to address this issue. We are particularly interested in whether the CMA supports this approach.

If implemented, our proposal would change the 2006 GPCIs and GAFs for Santa Cruz County, Sonoma County and the Rest of California. The Santa Cruz GAF would be 1.119, a value 10 percent above the 2005 Rest of California GAF. The Sonoma County GAF would be 1.098, a value 8 percent above the 2005 Rest of California GAF. The Rest of California GAF would be 1.011, a value 0.01 percent below the 2005 Rest of California GAF. We would note that the 2006 Rest of California GAF published in the November 15, 2004 PFS final rule (69 FR 66695) was 1.017. This represents the second year of the transition to the new GPCIs and GAFs incorporating updated data (69 FR 66260). The proposed 2006 Rest of California GAF of 1.011 fully reflects incorporating the updated data.

The issue of payment locality designation in light of changing economic and population trends will be of importance to us for the foreseeable future. We are interested in other solutions to the problem, and will work with anyone who presents an idea or makes a suggestion that will help resolve the problems associated with the designation and revision of payment localities.

C. Malpractice Relative Value Units (RVUs)

[If you choose to comment on issues in this section, please include the caption “Malpractice RVUs” at the beginning of your comments.]

As discussed in the Revisions to Payment Policies Under the Physician Fee Schedule for Calendar Year 2005 final rule, published November 15, 2004 (69 FR 66236), we revised the resource-based malpractice expense RVUs using specialty-specific malpractice premium data because those data represent the actual malpractice expense to the physician and are widely available. Based upon discussions with the medical community, we concluded that the primary determinants of malpractice liability costs are physician specialty, level of surgical involvement, and the physician's malpractice history.

Malpractice premium data were collected for the 20 Medicare physician specialties with the largest share of malpractice RVUs. We collected data based on premiums for a $1 million/$3 million mature claims-made policy (a policy covering claims made, rather than services provided during the policy term). We collected premium data from all 50 States, Washington, DC, and Puerto Rico. Data were collected from commercial and physician-owned insurers and from joint underwriting associations (JUAs). The premium data collected represented at least 50 percent of total physician malpractice premiums paid in each State. For a more detailed description of the methodology utilized in the development of resource based malpractice RVUs, refer to the November 15, 2004 final rule.

1. Five Percent Specialty Threshold

As discussed in the November 15, 2004 final rule, we are concerned that the malpractice RVUs could be inappropriately inflated or deflated due to aberrant data based upon incorrectly reported specialty classifications. Therefore, we examined the impact of establishing a minimum percentage threshold for any procedure performed by any specialty before the risk factor of that specialty is included in the malpractice RVU calculation of a particular code.

We conducted an analysis excluding data for any specialty that performs less than 5 percent of a particular service or procedure from the malpractice RVU calculation for that service or procedure. The purpose of applying the minimum threshold was to identify and remove from the data specialties listed infrequently as performing a certain procedure. The assumption was that the infrequent instances of these specialties in our data represent aberrant occurrences and removing the associated risk factor from the malpractice RVU calculation would improve accuracy and stability of the RVUs.

We excluded evaluation and management (E&M) services from the analysis. Medicare claims data show that E&M codes are performed by virtually all physician specialties. Therefore, in the case of E&M codes, it is likely that even the low relative percentages of performance by some specialties would accurately represent the provision of the service by those specialties.

For all services other than E&M services, we believe removing data attributable to specialties that occur in our data less than 5 percent of the time would most appropriately balance the objective to identify aberrant data (claims with a specialty identified that is highly unlikely to have performed a particular procedure) while including specialties that perform a procedure a small percentage of the time. We believe a higher threshold would result in the removal of data for specialties actually performing the procedure, while a lower threshold would likely fail to remove some aberrant data, particularly for low-volume codes (fewer than 100 occurrences, where each claim represent 1 or more percentage points).

The overall impact of removing the risk factor for specialties that occur less than 5 percent of the time in our data for a procedure is minimal. There is no impact on the malpractice RVUs for over 5,280 codes, and there is an impact of less than 1 percent on the malpractice RVUs for over 1,300 additional codes. Only 16 codes decrease by at least 0.1 RVUs, with the biggest decrease being a negative 0.28 impact on the malpractice RVU for CPT code 17108, Destruction of skin lesions, from a current RVU of 0.82 to a proposed RVU of 0.54.

Conversely, there are 219 codes for which RVUs increase by at least 0.1, the largest increase being a positive 0.81 RVU increase for CPT code 61583, Craniofacial approach, skull, from a current RVU of 8.32 to a proposed RVU of 9.13. Among codes whose malpractice RVUs would increase under our proposal, 646 have increases of less than 1 percent. The impact analysis section of this proposed rule examines the effects of this proposed change by specialty.

2. Specialty Crosswalk Issues

Malpractice insurers generally use five-digit codes developed by the Insurance Services Office (ISO), an advisory body serving property and casualty insurers, to classify physician specialties into different risk classes for premium rating purposes. ISO codes classify physicians not only by specialty, but in many cases also by whether or not the specialty performs surgical procedures. A given specialty could thus have two ISO codes, one for use in rating a member of that specialty who performs surgical procedures and another for rating a member who does not perform surgery.

Medicare uses its own system of specialty classification for payment and data purposes. Therefore, to calculate the malpractice RVUs, it was necessary to map Medicare specialties to ISO codes and insurer risk classes. For some physician specialties, NPP, and other entities (for example, IDTFs) paid under the PFS, there was not a clear ISO assignment available. In these instances, we crosswalked these unassigned specialties to the most approximate existing ISO codes and risk classes based upon their relationship to those specialties for which we did have clear ISO crosswalks. The crosswalks we used to establish the 2005 malpractice RVUs were displayed in the November 15, 2004 PFS final rule (69 FR 66268). In most instances, when an appropriate crosswalk could not be identified we utilized the average for all physicians category, which is a weighted average of all specialty premium data.

Differences among specialties in malpractice premiums are a direct reflection of the malpractice risk associated with the services performed by a given specialty. The relative differences in national average premiums between various specialties can be expressed as a specialty risk factor. These risk factors are an index calculated by dividing the national average premium for each specialty by the national average premium for nephrology, which is the specialty with the lowest average premium among the 20 specialties for which data were collected.

We stated in the November 15, 2004 PFS final rule that we would continue to work with the AMA RUC's Professional Liability Insurance (PLI) Workgroup to address any potential inconsistencies that may still exist in our methodology. Based upon this commitment, the RUC PLI Workgroup has forwarded various recommendations for our consideration. The RUC developed its recommendations based upon comments submitted to them by physician specialty organizations.

The RUC PLI Workgroup provided all specialty societies and the HCPAC with the opportunity to submit comments on the crosswalks listed in the November 15, 2004 final rule. Based on the comments, the Workgroup believes the risk factors assigned to certain professions overestimate the insurance premiums for these professions. We crosswalked clinical psychology, licensed clinical social work, and psychology to the nonsurgical risk factor for psychiatry (risk factor of 1.11). We crosswalked occupational therapy to occupational medicine (risk factor of 1.11). The PLI Workgroup recommends crosswalking these professions to allergy and immunology, with a risk factor of 1.00 (although the Workgroup suggests the actual risk factor for these professions may be below the risk factor for allergy and immunology and encourages the collection of malpractice premium data for these professions).

The Workgroup also believes that opticians and optometrists should be assigned this risk factor of 1.0, as opposed to being crosswalked to ophthalmology (nonsurgical risk factor of 1.24, surgical risk factor of 2.31). The Workgroup further suggests that it would be more appropriate to assign the risk factor of 1.0 to the chiropractic and physical therapy specialties rather than their current crosswalk to physical medicine and rehabilitation (nonsurgical and surgical risk factors of 1.26). The Workgroup felt that these specialties will not incur PLI premiums in excess of the current base premiums associated a risk factor of 1.0.

We examined the risk factors assigned to these professions, and agree that the PLI associated with them should reflect the lowest physician specialty risk factor (absent actual premium data for these professions). Therefore, we propose assigning these specialties a risk factor of 1.00. We invite comment from representatives of the affected specialties and others regarding the appropriateness of this proposal, as well as other specialty crosswalks and suggestions for reliable sources of actual malpractice premium data for nonphysician groups.

The RUC PLI Workgroup also felt that a number of professions that were assigned to the average for all physicians risk factor should be removed from the calculation of malpractice RVUs altogether. The PLI Workgroup believes that it would be more appropriate to exclude data from the following professions: Certified clinical nurse specialist (CNS), clinical laboratory, multispecialty clinic or group practice, NP, physician assistant (PA), and physiological laboratory (independent). In calculating the malpractice RVUs applicable for 2005, 34 Medicare specialties were excluded from the calculation because they could not be otherwise assigned or crosswalked. The RUC recommends the above specialties and professions be similarly excluded. We agree and propose to establish malpractice RVUs based upon the mix of specialties exclusive of the above specialties and professions.

The PLI Workgroup also made the following recommendations that we are not accepting: Certified registered nurse anesthetists (CRNAs) should be crosswalked to anesthesiology which is 2.84 rather than to the “all physicians” which is 3.04; colorectal surgeons should be crosswalked to general surgery (the current risk factor is based on actual data); and gynecologists and oncologists (currently 5.63) should be crosswalked to surgical oncology (currently 6.13). We believe the current crosswalks we are using for these specialties appropriately reflect the types of services they provide. However, we would welcome comments on these proposals as well.

3. Cardiac Catheterization and Angioplasty Exception

In response to a comment received on our proposed methodology at the time, in the November 2, 1999 final rule (64 FR 59384), we applied surgical risk factors to the following cardiology catheterization and angioplasty codes: 92980 to 92998 and 93501 to 93536. This exception was established because these procedures are quite invasive and more akin to surgical than nonsurgical procedures.

In the November 15, 2004 final rule (69 FR 66275), we discussed changes in those codes that would fall under the exception. Based on a recommendation by the RUC, we revised the list of codes to which this exception applies. The RUC's PLI Workgroup requests that we correct a clerical error made by the RUC in identifying those codes that would fall under the exception. We agree with the RUC PLI Workgroup recommendation and propose that the following CPT codes be added to the existing list of codes under the exception: 92975; 92980 to 92998; and 93617 to 93641.

4. Dominant Specialty for Low-Volume Codes

The final recommendation from the PLI Workgroup is to use the dominant specialty approach for services or procedures with fewer than 100 occurrences. The Workgroup supplied a list of 1,844 services for our review and recommends that we utilize only the dominant specialty in calculating the final malpractice RVUs for these services. The PLI Workgroup worked in conjunction with various specialty organizations to identify the dominant specialty that performs each service.

We recognize and appreciate the efforts of the Workgroup to review these codes. We have considered the data that was presented to us and the argument for using the dominant specialty to establish the malpractice RVUs for these 1,844 codes.

We have previously registered our concerns with the dominant specialty approach. We believe that basing payment on all specialties that perform a particular service ensures that the actual PLI costs of all specialties are included in the calculation of the malpractice RVUs. Therefore, we do not believe it would appropriate, even for these low-volume services, to include only the dominant specialty if other specialties regularly provide the service.

However, as noted previously in our proposal to remove data for specialties that make up less than 5 percent of the total volume for that service, we also recognize the need to take steps to minimize the risk that aberrant data would inappropriately skew the malpractice RVU calculation. We believe that, for most services, the proposal to remove specialties making up less than 5 percent of the occurrences will ensure that aberrant data are removed. Yet for those services with especially low volumes, the malpractice RVUs may be especially susceptible to the influence of aberrant data in only a very few cases (but more than 5 percent, that is, 2 cases in a service with 20 occurrences). We will continue to evaluate ways to ensure these low-volume services are not skewed by a few occurrences of aberrant data, but we are concerned that including only the dominant specialty performing these services would exclude data from other specialties that are actually performing them.

We are not proposing to adopt this methodology at this time. We would note that low volume procedures or services are not necessarily performed by only one specialty. As noted above, we would distinguish between excluding data presumed to be erroneous from data reflecting utilization by specialties that perform a service but are not the dominant specialty. However, we acknowledge that there may be instances where aberrant data exist that would not be identified and removed by our proposed 5 percent threshold discussed previously. We will continue to work with the RUC PLI Workgroup examine this issue in the future.

D. Medicare Telehealth Services

[If you choose to comment on issues in this section, please include the caption “TELEHEALTH” at the beginning of your comments.]

1. Requests for Adding Services to the List of Medicare Telehealth Services

Section 1834(m) of the Act defines telehealth services as professional consultations, office and other outpatient visits, and office psychiatry services identified as of July 1, 2000 by CPT codes 99241 through 99275, 99201 through 99215, 90804 through 90809, and 90862. In addition, the statute requires us to establish a process for adding services to or deleting services from the list of telehealth services on an annual basis.

In the December 31, 2002 Federal Register (67 FR 79988), we established a process for adding or deleting services to the list of Medicare telehealth services. This process provides the public an ongoing opportunity to submit requests for adding services. We assign any request to make additions to the list of Medicare telehealth services to one of the following categories:

• Category #1: Services that are similar to office and other outpatient visits, consultation, and office psychiatry services. In reviewing these requests, we look for similarities between the proposed and existing telehealth services for the roles of, and interactions among, the beneficiary, the physician (or other practitioner) at the distant site and, if necessary, the telepresenter. We also look for similarities in the telecommunications system used to deliver the proposed service, for example, the use of interactive audio and video equipment.

• Category #2: Services that are not similar to the current list of telehealth services. Our review of these requests includes an assessment of whether the use of a telecommunications system to deliver the service produces similar diagnostic findings or therapeutic interventions as compared with the face-to-face “hands on” delivery of the same service. Requestors should submit evidence showing that the use of a telecommunications system does not affect the diagnosis or treatment plan as compared to a face-to-face delivery of the requested service.

Since establishing the process, we have added the psychiatric diagnostic interview examination and ESRD services with 2 to 3 visits per month and 4 or more visits per month to the list of Medicare telehealth services (although we require at least one visit a month by a physician, CNS, NP, or PA to examine the vascular access site).

Requests for adding services to the list of Medicare telehealth services must be submitted and received no later than December 31st of each CY to be considered for the next proposed rule. For example, requests submitted before the end of CY 2004 are considered for the CY 2006 proposed rule. For more information on submitting a request for an addition to the list of Medicare telehealth services, visit our Web site at http://www.cms.hhs.gov/physicians/telehealth.

2. Submitted Requests for Addition to the List of Telehealth Services

We received the following public requests for additional approved services in CY 2004: (1) Diabetes outpatient self-management training services and medical nutritional therapy; and (2) modification of the definition of an interactive telecommunications system for purposes of furnishing a telehealth service. The following is a discussion of the requests submitted in CY 2004.

a. Medical Nutrition Therapy and Diabetes Self-Management Training

The American Telemedicine Association (ATA) and an individual practitioner submitted a request to add medical nutrition therapy (MNT) (as represented by HCPCS codes G0270, G0271 and 97802 through 97804) and diabetes outpatient self-management training services (DSMT) (as defined by HCPCS codes G0108 and G0109). The requestors believe that MNT and DSMT are similar to the services currently on the list of Medicare telehealth services and, therefore, should be added to the list of Medicare telehealth services.

CMS Review

Section 1861(s)(2) of the Act authorizes coverage and payment of MNT for certain beneficiaries who have diabetes or a renal disease. Individual MNT typically involves obtaining a nutrition history, counseling, the formulation of a treatment plan, implementation of a treatment plan through discussion with the patient, and follow-up with the patient. These components would be comparable to E&M office or other outpatient visits which are currently Medicare telehealth services. Additionally, the interactive dynamic of individual MNT is similar in nature to an E&M office visit because the nutrition professional is able to have a direct one-on-one discussion with the beneficiary and the beneficiary is able to ask immediate questions regarding his or role in following the treatment plan. Therefore, we propose to add individual MNT as represented by HCPCS codes G0270, 97802 and 97803 to the list of Medicare telehealth services.

Practitioners Who May Furnish Medical Nutrition Therapy Services

Section 1834(m) of the Act specifies that practitioners defined in section 1842(b)(18)(C) of the Act may receive payment for furnishing telehealth services at the distant site. Effective January 1, 2002, section 1842(b)(18)(C) of the Act includes a registered dietitian or nutrition professional as a Medicare practitioner. As a condition of Medicare Part B payment, the statute allows only a registered dietitian or nutrition professional to furnish medical nutrition therapy services (subject to referral made by the treating physician) for the purpose of managing diabetes or renal disease. Medicare practitioners who are not a licensed or certified registered dietitian or other nutrition professional, as defined in § 410.134, may not furnish and receive payment for MNT services.

We propose to revise § 410.78 and § 414.65 to include individual MNT as a Medicare telehealth service. Additionally, since a certified registered dietitian or other nutrition professional are the only practitioners permitted by law to furnish MNT, we propose to revise § 410.78 to add a registered dietitian and nutrition professional as defined in § 410.134 to the list of practitioners that may furnish and receive payment for a telehealth service.

Group Medical Nutritional Therapy (MNT)

We believe that group counseling services have a different interactive dynamic between the physician or practitioner at the distant site and beneficiary at the originating site as compared to the current list of Medicare telehealth services. We do not currently have other group counseling services as telehealth services and do not believe that group MNT falls within the first category of requests. Category 1 requests must be similar to the current list of Medicare telehealth services in order to be added to the list.

For instance, office and other outpatient visits, consultation and the current office psychiatry services involve an individual professional encounter between the physician or practitioner and beneficiary. Through direct discussion with the beneficiary, the physician or practitioner provides patient counseling regarding diagnostic test results, recommendations for further studies, prognosis, treatment options, and other follow-up instructions. In this interactive dynamic, the patient is able to ask immediate questions and the physician or practitioner is able to discern whether the beneficiary understands his or her responsibilities in following the treatment plan. However, group therapy services do not allow for the same degree of direct patient interaction as compared with individual therapy services.

As such, we were not able to conclude that the roles of and interaction among the physician or practitioner at the distant site and beneficiary at the originating site are similar to the existing Medicare telehealth services. Furthermore, the requestors did not submit comparative analyses illustrating that the use of a telecommunications system is an adequate substitute for the face-to-face delivery of group MNT services (which is a requirement for category 2). Therefore, we propose to not add group MNT (as described by HCPCS codes G0271 and 97804) to the list of Medicare telehealth services. However, we invite specific public comments on whether the use of an interactive telecommunications system is clinically adequate for furnishing group MNT. Additionally, if the requestors were to submit data showing that the use of a telecommunications system does not change the diagnosis or treatment plan as compared to face-to-face delivery, we would consider approving group MNT as a category 2 service.

Diabetes Outpatient Self-Management Training Services (DSMT)

The DSMT benefit, described at section 1861(qq) of the Act, is a comprehensive diabetes training program (one component of which is MNT). We consider DSMT as a category 2 request because the major portion of DSMT is furnished in the group setting and, as explained above, we believe group therapy has a different interactive dynamic than the current list of Medicare telehealth services. Additionally, the statute requires the training content for DSMT to include teaching beneficiaries the skills necessary for the self-administration of injectable drugs. We question the merits of providing beneficiary training to administer insulin injections via telehealth. For example, teaching a patient how to inject insulin requires consideration and instruction regarding factors such as the type of needle to be used, the anatomic location of the injection, the injection technique, and possible complications of the injection, all of which we believe, absent evidence to the contrary, require the physical presence of the teaching practitioner.

These components are typically not part of the services currently on the list of telehealth services and the requestor did not provide any comparative analyses illustrating that the use of a telecommunications system is an adequate substitute for the in-person, collaborative, skill-based training required for DSMT services. Therefore, we propose to not add DSMT (as described by HCPCS codes G0108 and G0109) to the list of Medicare telehealth services.

b. Definition of an Interactive Telecommunications System

The Medical College of Georgia (MCG) requested that we modify our definition of an interactive telecommunications system for purposes of furnishing a telehealth consultation. The MCG uses an interactive audio and one-way, real-time video telecommunications system, over an internet-based protocol, to furnish consultations for acute ischemic stroke patients. The physician at the distant site (typically a neurologist) can see the patient; however, the patient and physician (or practitioner) in the emergency room who is with the patient cannot see the neurologist. Under this model, the neurologist at the distant site examines the stroke patient in real-time video and reviews CT scans and other critical laboratory data to assess the stroke patient's suitability for tissue-type plasminogen activator (tPA) treatment. The requestor noted that the use of tPA treatment is restricted to 3 hours after onset of stroke, and argued that rapid evaluation by a neurologist for stroke patients located in outlying rural hospitals is crucial. The requestor believes that the use of an interactive two-way video system does not provide added benefit to the consulting neurologist, would be unnecessarily cumbersome, and noted that the use of one-way video currently prohibits billing as a telehealth consultation.

CMS Review

As noted previously, consultations are included on the list of approved telehealth services. However, as a condition of payment, § 410.78 of the regulations requires the use of an interactive two-way audio and video telecommunications system to furnish a telehealth consultation. The use of one-way video does not meet the current interactive telecommunications system requirements for telehealth services and, therefore, the requestor cannot bill for a consultation service based on the model described above.

We have concerns with modifying our definition of an interactive telecommunications system to permit one-way video in place of an interactive two-way video system. The use of an interactive audio and video telecommunications system permitting two-way real-time interaction between the physician or practitioner at the distant site and the beneficiary and telepresenter (if necessary) at the originating site is a substitute for the face-to-face examination requirements of a consultation under Medicare.

We are concerned that the use of one-way video may not be clinically adequate for the evaluation of certain types of patients. Since telehealth services are intended as a substitute for services that traditionally require a face-to-face interaction between a physician (or practitioner) and a patient, we believe that the use of a two-way video communication is much less of a departure from this standard than a one-way video communication, because the face-to-face interaction between a physician and a patient allows two-way interactive communication, both verbally and physically. We are concerned that, without two-way video, communication of many subtle but important nuances of the interaction between the physician at the distant site and patient or clinical staff at the originating site would be lost, leading to reduced diagnostic accuracy and the possibility of unfavorable medical outcomes.

However, we recognize that a timely neurological evaluation is critical for determining suitability for tPA treatment. Given the potential for adverse affects, such as the increased risk of bleeding, the decision to administer tPA (or not to administer) is crucial in determining the course of management for the stroke patient. Therefore, we are currently reviewing the definition of an interactive telecommunications system and request specific public comments regarding the added clinical value of two-way interactive video as compared to one-way video for the purpose of furnishing telehealth services. We are also interested in receiving comments as to whether an interactive audio and one-way video telecommunications system that permits the physician at the distant site to examine the patient in real-time is clinically adequate for a broad range of specialty consultations.

c. Definition of a Telehealth Originating Site

Section 418 of the MMA required the Health Resources Services Administration (HRSA) within the Department of Health and Human Services (HHS), in consultation with CMS, to conduct an evaluation of demonstration projects under which SNFs, as defined in section 1819(a) of the Act, are treated as originating sites for Medicare telehealth services. The MMA also required HRSA to submit a report to the Congress that would include recommendations on “mechanisms to ensure that permitting a SNF to serve as an originating site for the use of telehealth services or any other service delivered via a telecommunications system does not serve as a substitute for in-person visits furnished by a physician, or for in-person visits furnished by a PA, NP or CNS, as is otherwise required by the Secretary.” This report is currently under development.

The MMA provides us with the authority to include a SNF as a Medicare telehealth originating site under section 1834(m) of the Act effective January 1, 2006, if the Secretary concludes in the report that it is advisable to do so and that mechanisms could be established to ensure that the use of a telecommunications system does not substitute for the required in-person physician or practitioner SNF visits. We will review and consider the recommendations of the report to determine whether to add SNFs to the list of approved originating sites. We are also soliciting public comments on this topic.

E. Contractor Pricing of Unlisted Therapy Modalities and Procedures

[If you choose to comment on issues in this section, please include the caption “CODING—CONTRACTOR PRICING” at the beginning of your comments.]

We recognize that there may be services or procedures performed that have no specific CPT codes assigned. In these situations, it is appropriate to use one of the CPT codes designated for reporting unlisted procedures. These unlisted codes do not typically have RVUs assigned to them.

For services coded using these unlisted codes, the provider includes a description of specific procedures that were furnished. The contractor uses this information to determine an appropriate valuation.

Currently, there are two unlisted CPT codes with assigned RVUs, CPT 97039, Unlisted modality (specify and time if constant attendance), and 97139 Unlisted therapeutic procedure. Given the variability of the services that could be provided using these nonspecific codes, use of assigned RVUs may not accurately reflect the resources actually associated with the provided services. This may result in an inappropriate payment (overpayment or underpayment) for the service provided.

Other unlisted services that are under the PFS are contractor priced. To make the pricing methodology consistent with our policy for other unlisted services, and to more appropriately match payments with the actual resources expended to deliver the services provided, we propose to have the contractors value CPT codes 97039 and 97139.

F. Payment for Teaching Anesthesiologists

[If you choose to comment on issues in this section, please include the caption “TEACHING ANESTHESIOLOGISTS” at the beginning of your comments.]

The following discussion summarizes the current policy for the payment for services provided by teaching anesthesiologists and solicits public comments on possible revisions to the current payment policy.

1. Payment for Anesthesia Services

Anesthesia services are paid under the PFS, but on a different basis than other physician services. Payments for anesthesia services are calculated using a “base unit” that is specific to the anesthesia code plus the anesthesia time units. As noted in our regulations at § 414.46(a)(1), the base unit reflects all activities other than anesthesia time and includes the usual pre-operative and post-operative care. Anesthesia time units are computed (in 15 minute increments) from the actual elapsed time for the anesthesia procedure.

Anesthesia services may be personally performed by the anesthesiologist, or the anesthesiologist may medically direct qualified individuals involved in up to four concurrent anesthesia cases. Qualified individuals can include anesthesiologist assistants (AAs), certified registered nurse anesthetists (CRNAs), interns, or residents, and, under certain circumstances, student nurse anesthetists. When the anesthesiologist medically directs an anesthesia case, the payment for the physician's medical direction service is 50 percent of the allowance otherwise recognized if the anesthesiologist personally performed the service. The physician would have to fulfill each of the medical direction criteria in § 415.110(a) to bill under the medical direction policy.

2. Teaching Physician Payment Policy

Under the teaching physician payment policy for complex surgery, the full fee schedule payment can be made for the services of the teaching physician as long as the teaching physician is present with the resident for the critical or key portions of the service. In order to bill for two overlapping surgeries, the teaching surgeon must be present during the key or critical portions of both operations.

Beginning in 1994, the teaching physician payment policy has been applied to anesthesiologists only when the teaching anesthesiologist is involved in one anesthesia case with a resident. If the teaching physician is involved with two concurrent cases, then the rules for “medical direction” of anesthesia apply.

In August 2002, we released a Medicare Carriers Manual transmittal relating to the involvement of a non-medically directed teaching CRNA with two student nurse anesthetists. The new policy allowed the teaching CRNA to be paid for his or her involvement with two concurrent cases with student nurse anesthetists, but not at the full fee level. If a teaching CRNA is involved with two concurrent cases with student nurse anesthetists, payment may be based on the base unit plus the time of each case that the teaching CRNA is present with the student nurse anesthetist. To bill the base unit, the teaching CRNA must be present with the student nurse anesthetist throughout the pre- and post-anesthesia care.

In the Revisions to Payment Policies Under the Physician Fee Schedule for Calendar Year 2004 final rule, published November 7, 2003 (68 FR 63196-63395), we revised § 414.46 of our regulations to allow teaching anesthesiologists to bill in a similar manner to teaching CRNAs for the teaching anesthesiologist's involvement in two concurrent cases involving residents. This policy took effect for services furnished on or after January 1, 2004. This was intended as an alternative to the “medical direction” payment policy applicable to concurrent cases involving teaching anesthesiologists and residents.

Under this policy, teaching anesthesiologists can bill and be paid the full fee schedule for the base unit portion of the payment if they are present with the resident during the pre- and post-anesthesia care included in the base units. Teaching anesthesiologists can also bill and be paid the full fee schedule amount for anesthesia time based on the amount of time the physician is present with the resident during each of the two concurrent cases. Payment to a teaching anesthesiologist for two concurrent cases involving residents under this policy would be greater than under the medical direction payment policy. However, if the teaching anesthesiologist is not present with the resident during the pre- and post-anesthesia care for both concurrent cases, the physician could only bill the cases as “medically directed.”

Despite the higher level of payment available under this policy, the American Society of Anesthesiologists (ASA) has informed us that it is not aware of any teaching anesthesia programs that have arranged their practices to meet the conditions necessary to bill under the revised policy. The ASA suggests that the teaching physician regulations for teaching anesthesiologists should be similar to those for teaching surgeons for overlapping complex surgery procedures. The ASA thinks that anesthesia is similar to complex surgery in terms of critical periods, overlap, and availability of teaching physicians. However, the critical portions of the teaching anesthesia service and the critical portions of the teaching surgeon service are not the same. The ASA believes that inadequate payment levels have contributed to the loss of teaching anesthesiologists and an inability to recruit new faculty.

We are requesting comments on a teaching physician policy for anesthesiologists that could build on the policy announced in the November 7, 2003 PFS final rule, but provide the appropriate revisions that would allow it to be more flexible for teaching anesthesia programs. We would also be interested in receiving data and studies relevant to this issue as well as any offsetting savings that could be made to account for any potential costs that could be incurred if there was a policy change.

G. End Stage Renal Disease (ESRD) Related Provisions

On November 15, 2004, we published the Revisions to Payment Policies Under the Physician Fee Schedule for Calendar Year 2005 final rule in the Federal Register (69 FR 66319), revising payments to ESRD facilities in accordance with provisions of the MMA. This final rule implemented section 1881(b) of the Act, as amended by section 623 of the MMA, which directed the Secretary to make a number of revisions to the composite rate payment system, as well as payment for separately billable drugs furnished by ESRD facilities. Changes that were implemented January 1, 2005 included a revision to payments for drugs billed separately by ESRD facilities whereby the top ten ESRD drugs are paid based on acquisition costs (as determined by the Office of Inspector General (OIG)) and other separately billed drugs are paid average sales price (ASP) +6 percent.

Also, in accordance with section 623 of the MMA, an adjustment of 8.7 percent was made to the composite payment rate to account for the difference between previous payments for separately billed drugs and biologicals and the revised pricing that took effect January 1, 2005. As required by section 623 of the MMA, we are proposing to update this add-on adjustment to reflect changes in ESRD drug utilization. In addition, we are proposing to revise the add-on adjustment to reflect the methodology we will be using for ESRD drugs.

Section 623 of the MMA also required the establishment of basic case-mix adjustments to the composite payment rate for a limited number of patient characteristics. The November 15, 2004 final rule implemented three categories of patient characteristic adjustments (age, low body mass index (BMI), and body surface area (BSA)) that were implemented April 1, 2005. We are proposing to maintain these categories and patient characteristics as established in the November 15, 2004 final rule (69 FR 66238).

Also, section 1881(b)(12) of the Act as amended by section 623 of the MMA provided authority to revise the geographic adjustment applied to the composite payment rate. Accordingly, we are proposing to revise the geographic classifications and wage indexes currently in effect for adjusting composite rate payments. As required by section 623 of the MMA, these proposed changes will be phased in over time.

In addition, we are proposing revisions to the regulations applicable to the composite rate exceptions process to reflect section 623 of the MMA provisions that restrict exceptions to pediatric facilities.

1. Revised Pricing Methodology for Separately Billable Drugs and Biologicals Furnished by ESRD Facilities

[If you choose to comment on issues in this section, please include the caption “ESRD-Pricing Methodology” at the beginning of your comments.]

In the Revisions to Payment Policies under the Physician Fee Schedule for Calendar Year 2005 final rule, published on November 15, 2004, we determined that for CY 2005, payment for the top 10 separately billable ESRD drugs billed by freestanding facilities would be based on the acquisition cost of the drug, as determined by the OIG, updated by the Producer Price Index (PPI). The remaining separately billable ESRD drugs would be paid at the ASP +6 percent for freestanding facilities. We also determined that hospital-based facilities would continue cost reimbursement for all drugs with the exception of erythopoeitin (EPO) which would be paid the acquisition cost, as determined by the OIG, updated by the PPI.

As discussed in section II.H. of this proposed rule, for CY 2006, we are proposing that payment for a drug furnished in connection with renal dialysis services and separately billed by freestanding renal dialysis facilities will be based on section 1874A of the Act. We are also proposing to update the payment allowances quarterly based on the ASP reported to us by drug manufacturers. For CY 2006, we are proposing to continue cost reimbursement for hospital-based facilities; while, proposing to pay for EPO in hospital-based facilities at the ASP +6 percent.

2. Adjustment to Account for Changes in the Pricing of Separately Billable Drugs and Biologicals, and the Estimated Increase in Expenditures for Drugs and Biologicals.

[If you choose to comment on issues in this section, please include the caption “ESRD—Drugs and Biologicals” at the beginning of your comments.]

Section 623(d) of the MMA, added section 1881(b)(12) of the Act which contains two provisions that describe how the drug add-on adjustment will be implemented in the ESRD payment system. First, that the add-on adjustment reflects the difference between payment methodology for separately billed drugs under the drug price in effect in CY 2004 and current drug pricing and, second, the aggregate payments for CY 2005 must equal aggregate payments absent this MMA provision.

In the November 15, 2004 final rule (69 FR 66322), we described in detail the methodology that we used for developing the drug add-on adjustment to the composite rate to account for the difference between estimated drug payments under the average wholesale price (AWP) payment system and the acquisition costs as determined by the OIG. This adjustment was developed so that aggregate spending for composite rate plus separately billed drugs would remain budget neutral for CY 2005.

Section 1881(b)(12) of the Act also contains two provisions related to adjustments to payments for drugs and biologicals for CY 2006. First, section 1881(b)(12)(C)(ii) of the Act provides that we recalculate the add-on adjustment to reflect the drug pricing methodology applied by the Secretary under section 1881(b)(13)(A)(iii) of the Act. That is, we must compute the drug add-on adjustment based on the difference between estimated payments using the AWP payment methodology and the proposed new payment methodology using ASP +6 percent.

In addition, section 1881(b)(12)(F) of the Act requires that, beginning in 2006, we establish an annual update adjustment to reflect estimated growth in expenditures for separately billable drugs and biologicals furnished by ESRD facilities. This update would be applied only to the drug add-on portion of the composite rate. In order to meet both requirements, we are proposing to develop the CY 2006 drug add-on adjustment in two steps.

First, we would recalculate the CY 2005 add-on adjustment to reflect the difference in drug payments using 95 percent AWP pricing and payments using ASP +6 pricing. This calculation would replace the current 8.7 percent adjustment and would be budget neutral to CY 2005 payments. The next step would be to develop a proposed annual update methodology that we would use in CY 2006 to reflect the estimated growth in drug expenditures each year. As mentioned above, this update would be applied only to the drug add-on portion of the composite payment rate. The following sections discuss the recomputation of the drug add-on adjustment followed by a discussion of the update of the adjustment for CY 2006.

a. Proposed Recalculation of the CY 2005 Drug Add-on Adjustment

For CY 2006, we are proposing to use the same method that we used to develop the drug add-on adjustment for CY 2005 to recalculate the adjustment to reflect the proposed revision to the ESRD drug payment methodology from acquisition costs to ASP +6 percent. That is, we propose to calculate the spread based on the difference in aggregate payments between estimated payment based on AWP pricing and estimated payment based on ASP +6 pricing. As discussed in detail below, we propose to use pricing data from the second quarter of CY 2005. All of the data used to develop the proposed add-on adjustment will be updated for the final rule, as more current data, including ASP data, will be available.

(1) Historical Drug Expenditure Data

To develop the drug add-on adjustment we used historical total aggregate payments for separately billed ESRD drugs for half of CY 2000 and all of CY 2001, CY 2002 and CY 2003. For EPO, these payments were broken down according to type of ESRD facility (hospital-based versus independent). We also used the number of dialysis treatments performed by these two types of facilities over the same period.

(2) ASP +6 Percent Prices

We obtained the ASP +6 percent prices, for the second quarter of CY 2005, as shown in the following table. For purposes of this proposed rule, we have used the latest ASP pricing available, which are second quarter prices. For the final rule, we will have prices for all 4 quarters of CY 2005 and plan to develop prices representing the average CY 2005 ASP payments for the drugs listed in Table 20 below.

TABLE 20.
Drugs | Second quarter ASP +6 percent
Epogen | $9.25
Calcitriol | $0.86
Doxercalciferol | $2.78
Iron_dextran | $11.22
Iron_sucrose | $0.37
Levocarnitine | $11.12
Paricalcitol | $3.97
Sodium_ferric_glut | $4.73
Alteplase, Recombinant | $30.09
Vancomycin | $3.19

(3) Estimated Medicare Payments Using 95 Percent of AWP

In order to estimate AWP payments we used the first quarter 2005 AWP prices and updated them to the second quarter by applying, for drugs other than EPO, an estimated AWP quarterly growth of approximately 0.74 percent (annual growth factor of 3 percent). This growth factor is based on historical trends of AWP pricing (for all drugs) for the year 1997-2003. We did not increase the payment rate for Epogen since payment was maintained at $10.00 per thousand units prior to MMA. (See Table 21.)

TABLE 21.
Drugs | AWP rates for the second quarter of 2005
Epogen | $10.00 *
Calcitriol | $1.40
Doxercalciferol | $3.11
Iron_dextran | $18.04
Iron_sucrose | $0.66
Levocarnitine | $36.75
Paricalcitol | $5.37
Sodium_ferric_glut | $8.23
Alteplase, Recombinant | $38.82
Vancomycin | $5.55
* Statutory rate.

(4) Dialysis Treatments

We updated the number of dialysis treatments by the actuarial projected growth in the number of ESRD beneficiaries. Since Medicare covers a maximum of three treatments per week, utilization growth is limited, and, therefore, any increase in the number of treatments should be due to beneficiary enrollment. In CY 2005, we estimate there will be a total of 34.5 million treatments performed. We note that this represents the most current actuarial projection and differs slightly from the projection published in the November, 15, 2004 final rule. (69 FR 66323)

(5) Drug Payments

We updated the total aggregate Epogen drug payments for both hospital-based and independent facilities by using historical trend factors. For CY 2004 and CY 2005, the CY 2003 payment level was increased each year by trend factor of 9.0 percent.

Using the 9 percent growth factor for Epogen, we updated the aggregate spending for separately billable drugs, other than EPO, for independent facilities. Aggregate payments in this category show extremely varied growth between 2000 and 2003, and, for this reason, we felt that trend analysis was not sufficient. Therefore, we believe it would be reasonable to correlate the growth of Epogen and separately billable drugs in an independent facility, since Epogen constitute the largest amount of drugs dispensed in an independent facility. Additionally, we deducted 50 cents for each administration of Epogen from the total Epogen spending for both hospital-based and independent facilities, to account for spending on syringes that were included in the EPO payments prior to the implementation of the MMA drug payment provisions. In CY 2005, we estimate payments for these syringes will amount to $1.6 million for hospital-based facilities and $26.8 million for independent facilities. For CY 2005, we estimate that total spending, after the deduction of payments for syringes, will reach $246 million for Epogen provided in hospital-based facilities, and $2.850 million for drugs provided in independent facilities ($1.960 million for Epogen and $890 million for other drugs). We note that all other drugs provided in hospital-based ESRD facilities continue to be paid at cost.

(6) Add-On Calculation and Budget Neutrality

For each of the top 10 drugs (as explained below), we calculated the percent by which ASP +6 percent is projected to be less than payment amounts under the 95 percent of AWP pricing system for CY 2005. For Epogen, this amount is 7.5 percent. We applied this 7.5 percent figure to the total aggregate drug payments for Epogen in hospital-based facilities, resulting in a difference of $18 million.

We then calculated a weighted average of the percentages by which ASP +6 percent would be below 95 percent of AWP payment prices, for the top 10 ESRD drugs for independent facilities. We weighted these percentages by using the CY 2005 estimated Medicare payment amounts for the top 10 drugs. This procedure resulted in a weighted average payment reduction of 12 percent. We note that in the previous calculation for the CY 2005 add-on adjustment, we had used CY 2002 values from the OIG. (See Table 22 for the calculated drug weights, and Table 23 for the percentage by which ASP prices are lower than AWP prices.) The CY 2003 data projected forward to CY 2005 indicated a significant drop in payments for drugs other than Epogen that are provided in an independent facility. This trend, which we expect will continue when we obtain CY 2004 historical data for the final rule, decreases the weights of the drugs, other than Epogen and increases the weight of Epogen. The overall effect is to lower the weighted average by several percentage points.

TABLE 22.
Drugs | CY 2005 estimated drug payments as a percentage of total drug expenditures (percent) | CY 2002 OIG drug payments as a percentage of total drug expenditures (percent)
Epogen | 78.83 | 67.85
Calcitriol | 0.13 | 1.22
Doxercalciferol | 1.74 | 1.28
Iron_dextran | 0.38 | 0.65
Iron_sucrose | 0.71 | 5.00
Levocarnitine | 0.89 | 1.68
Paricalcitol | 17.37 | 15.90
Sodium_ferric_glut | 0.53 | 6.03
Alteplase, Recombinant | 0.18 | 0.19
Vancomycin | 0.24 | 0.20
* Compared to the $10.00 statutory price.

TABLE 23.
Drugs | Percent by which ASP+6 percent rates are below 95 percent of AWP prices (except EPO) (percent)
Epogen | * 7.5
Calcitriol | 38.7
Doxercalciferol | 10.6
Iron_dextran | 37.8
Iron_sucrose | 45.1
Levocarnitine | 69.7
Paricalcitol | 26.0
Sodium_ferric_glut | 42.6
Alteplase, Recombinant | 22.5
Vancomycin | 42.6
* Compared to the $10.00 statutory price.

We estimate that these ten drugs represent nearly 92 percent of total CY 2005 drug payments to independent facilities. To account for the drug spread related to the 8 percent of drug expenditures for which we do not have pricing data, we applied the weighted average to 100 percent of aggregate drug spending projections for independent facilities, producing a projected difference of $343 million. The weighted average is applied to 100 percent of drug spending projections for independent facilities to account for the drug spread related to the 8 percent of drugs expenditures for which we do not have pricing data.

We combined the CY 2005 figures of $18 million for the hospital-based facilities and $343 million for the independent facilities, for a total of $362 million. We distributed this over a total projected 34.5 million treatments resulting in a revised CY 2005 add-on to the per treatment composite rate of 8.1 percent. By making this adjustment to the composite rate, we estimate that the aggregate payments to both independent and hospital-based ESRD facilities would be budget neutral with respect to drug payments for CY 2005, as required by the MMA. We note that this 8.1 percent adjustment replaces the current 8.7 percent adjustment for CY 2005 in our calculations.

b. Calculation of the Proposed CY 2006 Update to the Drug Add-On Adjustment

This section describes the approach that we are proposing to use to update the drug add-on adjustment.

(1) Drug Payments and Dialysis Treatments

Similar to the process discussed in the previous section, we updated the total aggregate Epogen drug payments for each hospital-based and independent facility using historical trend factors. For CY 2006, the payment level was increased from CY 2005 by a trend factor of 9.0 percent.

We also updated aggregate spending for separately billable drugs, other than EPO, for independent facilities using the 9 percent growth factor for Epogen. As discussed earlier, payments in this category have shown extremely varied growth in recent history and historical data between CY 2002 and CY 2003 showed a significant drop in aggregate spending. We felt it was reasonable to use trend analysis and correlate the growth of Epogen and other separately billable drugs. We expect that we will have further data for the final rule. This procedure resulted in projected expenditures of $268 million for Epogen provided in hospital-based facilities and $3.107 million for drugs provided in independent facilities ($2.137 million for Epogen and $970 million for other drugs). These numbers include an estimated reduction for the 50 cent payment for syringes of $1.6 million for hospital-based facilities and $27.5 million for independent facilities. We also updated the projected number of dialysis treatments using CMS actuarial enrollment projections. This resulted in a projected 35.4 million treatments for CY 2006.

(2) Adjustment to Composite Rate Add-On

We then applied the 9 percent growth between projected CY 2005 and CY 2006 aggregate drug expenditures to the CY 2005 expected drug spread figures of $18 million for Epogen provided in hospital-based facilities and $343 million for drugs provided in independent facilities. This resulted in an incremental increase in the drug spread in CY 2006 of $2 million for Epogen provided in hospital-based facilities and $31 million for drugs provided in independent facilities. We distributed the combined $33 million over 35.4 million projected treatments, resulting in an additional 0.7 percent addition to the CY 2005 add-on of 8.1 percent.

(3) Proposed Drug Add-On Adjustment for CY 2006

With the recalculated CY 2005 add-on to the per treatment composite rate being 8.1 percent and with the additional increment for expenditures in CY 2006 being 0.7 percent, we combine them to produce one drug add-on adjustment for CY 2006 that would be 8.9 percent.

(4) Add-On for Spread for Drugs Furnished in Hospital-Based Facilities

In its June 2005 Report to Congress, MedPAC recommended that payment differences be eliminated for separately billed drugs furnished in independent and hospital-based facilities and that all these drugs be paid under the ASP +6 percent system. While we agree with MedPAC that paying the same rates in both settings would be the preferable policy, we have not proposed this policy because data on dosing units for drugs furnished by hospital-based facilities are not available. This data is needed to estimate the drug payments using ASP +6 percent pricing. That is a key component of the calculation of the drug add-on adjustment. In their report, MedPAC acknowledges these data issues and recommends that CMS take steps to collect data on acquisition costs and payment per unit for drugs provided in hospital-based ESRD facilities. We are currently examining approaches for obtaining these data. However, we seek comment about a potential method to estimate the drug add-on amount for drugs furnished in hospital-based facilities, and we seek comment about alternative estimation methodologies, data, or both.

One estimation approach could be an approach where the pricing spread for drugs other than EPO furnished in hospital based facilities would be assumed to be the same as for those drugs in independent facilities. This aggregate approach would assume that the add-on amount for drugs other than EPO furnished in hospital-based facilities results in the same relative amount of drugs furnished as for those drugs in independent facilities. Using aggregate ratios, the drug add-on amounts calculated for drugs other than EPO furnished in independent facilities might be extrapolated for drugs other than EPO furnished in hospital-based facilities.

Use of this approach could allow calculation of a reasonable estimate of aggregate drug add-on amount for drugs other than EPO furnished in hospital-based facilities until the time that data becomes available to more accurately calculate the drug add-on adjustment. This approach would allow payment of all drugs furnished in hospital-based facilities under the ASP +6 percent payment methodology, achieve consistent payments for ESRD separately billed drugs regardless of setting, and provide a reasonable estimation of the drug add-on amount needed to adjust the composite rates for drugs other than EPO furnished in hospital-based facilities. We seek comment about this potential method to estimate spread for drugs furnished in hospital-based facilities, as well as alternative estimation methodologies, data, or both.

3. Proposed Revisions to Geographic Designations and Wage Indexes Applied to the ESRD Composite Payment Rate

[If you choose to comment on issues in this section, please include the caption “ESRD-Composite Payment Rate Wage Index” at the beginning of your comments.]

Because of the significance of labor costs in determining the total cost of care, the prospective payment systems (PPSs) which we administer traditionally have used a wage index to account for differences in area wage levels. The labor-related shares of costs used to develop the composite rates were 36.78 percent for hospital-based facilities and 40.65 percent for independent facilities. The current composite payment rates are calculated using a blend of two wage indexes, one based on hospital wage data for fiscal years ending in CY 1982, and the other developed from CY 1980 data from the Bureau of Labor Statistics (BLS). The wage indexes are calculated for each urban and rural area based on 1980 U.S. Census definitions of metropolitan statistical areas (MSAs) or their equivalents, and areas outside of MSAs in each State, respectively. (51 FR 29411)

Section 4201(a)(2) of OBRA 1990 (Pub. L. 101-508) froze the composite payment rates, and the basis for their calculation, at the level in effect as of September 30, 1990 (except for subsequent statutory updates that did not affect the data used to calculate wage indexes). The OBRA 1990 restriction on revising the ESRD composite payment rates has had another effect. ESRD facilities located in counties classified as rural based on the 1980 Census, but which subsequently are classified as urban, are still considered rural for purposes of determining whether urban or rural composite payment rates apply. The rural rates are generally lower than those for urban ESRD facilities.

In addition, restrictions also apply to the wage index values used to compute the ESRD composite payment rates. Payments to facilities in areas where labor costs fall below 90 percent of the national average, or exceed 130 percent of that average, are not adjusted beyond the 90 percent or 130 percent level. (See the Prospective Reimbursement for Dialysis Services and Approval of Special Purpose Renal Dialysis Facilities final rule (48 FR 21254) and the Composite Rates and Methodology for Determining the Rates final notice (51 FR 29404)). This effectively means that ESRD facilities located in areas with wage index values less than 0.9000 are paid more than they would otherwise receive if we fully adjusted for area wage differences. Conversely, facilities in locales with wage index values greater than 1.3000 are paid less than they would receive if we fully adjusted the rates based on actual wage levels.

Section 1881(b)(12)(D) of the Act, as amended by section 623(d) of the MMA, gave the Secretary the discretionary authority to revise the current wage index. That provision also requires that any revised measure be phased-in over a multiyear period. In the November 15, 2004 final rule establishing new case-mix adjusted composite payment rates (69 FR 66332), we stated that we were deferring replacing the current wage index pending further assessment. We have completed our review, and believe that modernizing the current ESRD wage index is a matter of some urgency. After further analysis we are proposing to use OMB's revised geographic definitions announced in OMB Bulletin No. 03-04, issued June 6, 2003. These new definitions are known as Core-Based Statistical Areas (CBSAs). In conjunction with the CBSAs, we are also proposing to recalculate the ESRD wage indexes based on acute care hospital wage and employment data for FY 2002, as reported to us in connection with the development of the wage index used in the inpatient hospital prospective payment system (IPPS). In addition, we are also proposing to update the labor portion of the ESRD composite rate to which the wage index is applied. The basis for our proposed revisions to the current ESRD composite rate wage index to reflect these changes is set forth in the following sections.

a. Current Urban and Rural Locales Based on MSAs

We currently adjust the labor-related share of the composite payment rates to account for differences in area wage levels using a wage index which is a blend of two wage index values, one based on hospital wage data from FY 1982, and the other developed from 1980 hospital data from the BLS. The hospital and BLS proportions of the blended wage index are 40 percent and 60 percent, respectively. The hospital and BLS wage index values used to compute the blended wage index were published in the Federal Register on August 15, 1986 (51 FR 29412).

The use of a blended wage index results from our effort to transition ESRD facilities from composite payment rates using a wage index based on BLS data, to one developed from hospital wage and employment data obtained from Medicare cost reports (“the hospital wage index”). A major limitation of the BLS wage index was its inability to distinguish area differences in the use of part-time hospital workers. In order to mitigate the impact of changes in facility payment rates as a result of our adoption of the new hospital wage index, we began a five-year phase-in of the new measure. During the phase-in period, we had intended to use a weighted wage index, under which the BLS portion would decrease 20 percent and the share represented by the hospital wage index would increase 20 percent each year. During the second year of the phase-in, for which the hospital and BLS portions of the wage index were 40 percent and 60 percent, respectively, the wage index was frozen as a result of the OBRA 1990 prohibition on composite payment rate revisions.

The wage indexes are calculated for each urban and rural area. In general, an urban area is a MSA or New England County Metropolitan Area as defined by OMB based on 1980 U.S. Census definitions. A rural area consists of all counties within each State outside of an urban area. The counties which comprise the urban locales currently used to compute the wage index values incorporated in the urban composite payment rates were last published in the Federal Register on May 30, 1986 (51 FR 19738-19739). Although OMB has revised the definitions of the MSAs since that time, the composite payment rate urban/rural designations have not been changed due to the prohibition on revising the ESRD payment methodology established under section 4201(a)(2) of OBRA 1990. More current MSAs are used in connection with several other non-acute care Medicare PPSs that we administer, including those for SNFs, long-term care hospitals (LTCHs), inpatient psychiatric facilities (IPFs), home health agencies (HHAs), and inpatient rehabilitation facilities (IRFs).

b. Revision of Geographic Classifications

On June 6, 2003, OMB issued Bulletin 03-04 that announced new geographic area designations based on the 2000 Census. The bulletin established revised definitions for the nation's MSAs, designated county based Metropolitan Divisions within the MSAs that have a single core with a population of at least 2.5 million, created two new sets of statistical areas (Micropolitan Statistical Areas and Combined Statistical Areas), and defined New England City and Town Areas. The bulletin may be accessed on the Internet at: http://www.whitehouse.gov/omb/bulletins/bo3-04.html.

Section 623 of the MMA gave the Secretary the authority to revise the geographic areas used to develop the wage indexes currently reflected in the composite payment rates, removing the OBRA 1990 restriction. Although we published revised composite payment rates in the November 15, 2004 final rule implementing MMA mandated revisions to those rates, we did not propose revising the wage indexes, or the geographic areas on which they are based at that time. For reasons discussed below, we are proposing to use OMB's list of geographic designations for purposes of adjusting the urban and rural composite payment rates. Facilities located in counties within MSAs or Metropolitan Divisions within CBSAs would be considered urban, while facilities located in micropolitan counties or other counties outside of the CBSAs would be classified as rural. We point out that these are the same urban and rural definitions used in connection with the Medicare IPPS, and are discussed in the August 11, 2004 final rule establishing the IPPS FY 2005 payment rates (69 FR 49026).

c. Core-Based Statistical Areas (CBSAs)

OMB reviews its metropolitan area definitions preceding each decennial census. As explained in the August 11, 2004 IPPS final rule (69 FR 49026), OMB chartered the Metropolitan Standards Review Committee to examine the metropolitan area standards and develop recommendations for possible changes to those standards. Three notices related to the review of the standards, providing an opportunity for public comment on the recommendations of the Committee, were published in the Federal Register on December 21, 1998 (63 FR 70526), October 20, 1999 (64 FR 56628), and August 22, 2000 (65 FR 51060).

In the December 27, 2000 Federal Register (65 FR 82228), OMB published a notice announcing its new standards. According to that notice, OMB defines a CBSA beginning in 2003 as “a geographic entity associated with at least one core of 10,000 or more population, plus adjacent territory that has a high degree of social and economic integration with the core as measured by commuting ties.” The standards designate and define two categories of CBSAs: MSAs and Micropolitan Statistical Areas (65 FR 82235).

According to OMB, MSAs are based on urbanized areas of 50,000 or more population, and Micropolitan Statistical Areas (referred to hereafter as Micropolitan Areas) are based on urban clusters with at least 10,000, but less than 50,000 population. Counties that do not fall within CBSAs are deemed “Outside CBSAs”. Previously OMB defined MSAs around areas with a minimum core population of 50,000, and smaller areas were “Outside MSAs”. On June 6, 2003 OMB announced the new CBSAs, consisting of MSAs and the new Micropolitan Areas based on the results of the 2000 Census.

d. Adoption of MSAs as Urban Areas for Composite Payments

In its June 6, 2003 announcement, OMB cautioned that its new metropolitan area definitions “should not be used to develop and implement Federal, State, and local nonstatistical programs and policies without full consideration of the effects of using these definitions for these purposes. These areas should not serve as a general purpose geographic framework for nonstatistical activities, and they may or may not be suitable for use in program funding formulas.”

We point out that Medicare's PPSs, including the ESRD composite payment rate, historically have used the metropolitan area definitions developed by OMB. While the hospital IPPS is the most significant of these, the OMB geographic designations are also used to define labor market areas for purposes of recognizing area differences in labor costs under the SNF, inpatient rehabilitation, IPFs, and home health PPSs. In discussing the adoption of the OMB geographic designation for the IPPS area labor adjustment, the FY 1985 IPPS proposed rule published July 3, 1984 (49 FR 27426) noted as follows:

[i]n administering a national payment system, we must have a national classification system built on clear, objective standards. Otherwise the program becomes increasingly difficult to administer because the distinction between rural and urban hospitals is blurred. We believe that the MSA system (developed by OMB) is the only one that currently meets the requirements for use as a classification system in a national payment program. The MSA classification system is a statistical standard developed for use by Federal agencies in the production, analysis, and publication of data on metropolitan areas. The standards have been developed with the aim of producing definitions that will be as consistent as possible for all MSAs nationwide.

The logic represented in the statement above still applies today. The process used by OMB to develop the geographic designations resulted in the creation of geographic locales that we believe also reflect the characteristics of unified labor market areas. The CBSAs contain a core population plus adjacent areas that reflect a high degree of social and economic integration. This integration is measured by commuting patterns, thus demonstrating that the areas likely draw workers from the same general locale. In addition, the CBSAs reflect the most up-to-date information, based on the 2000 Census. OMB reviews its metropolitan area definitions preceding each decennial census to ensure consideration of the most recent population changes. Finally, in the context of the IPPS, we have reviewed alternative methods for determining geographic areas for purposes of the wage index. In each case, we have concluded that it was preferable to retain the independently developed OMB designations rather than replace them with alternatives. (See the August 11, 2004 final IPPS rule at 69 FR 49027-49028.)

Aside from the long established precedent of using OMB geographic designations to adjust for differing area wage levels in the PPSs that we administer, we also point out that the Congress has recognized the propriety of the OMB definitions in distinguishing among geographic areas for making Medicare payments. For example, section 1886(d)(2)(D) of the Act defines an “urban area” as “an area within a MSA (as defined by the OMB) or within a similar area as the Secretary has recognized.” Similarly, in the sections of the Act governing the guidelines to be used by the Medicare Geographic Classification Review Board for hospital reclassification, the Congress directed the Secretary to create guidelines for “determining whether the county in which the hospital is located should be treated as being a part of a particular [MSA]”. (See sections 1886(d)(10)(A) and (D)(i)(II) of the Act.) The Congress has accepted the use of MSAs as a reasonable basis for dividing the nation into labor market areas for purposes of Medicare payments. Accordingly, we are proposing to revise the ESRD composite payment system labor market areas based on OMB's geographic designations. Facilities located in counties within MSAs (including those in the MSA category of CBSA) would be classified as urban. We are proposing that facilities located in Micropolitan Areas (the other category of CBSA) or in other counties outside of CBSAs in each State, would be considered rural.

e. Revised OMB Geographic Areas

In the following sections we discuss the classification of facilities located in New England MSAs, within Metropolitan Divisions of MSAs, and our proposed treatment of the CBSA classification of Micropolitan Areas.

(1) New England MSAs

Under the current composite payment system, urban areas in New England reflect county-based locales known as New England County Metropolitan Areas (NECMAs), rather than MSAs. We use NECMAs in New England to provide consistency in labor market definitions compared to the MSAs used in the rest of the country, which are also based on counties. Under the new CBSAs, OMB has defined MSAs and Micropolitan Areas in New England on the basis of counties. OMB has also established a new classification, New England City and Town Areas (NECTAs), which are similar to the previous New England MSAs, but which are not used in the geographic area revisions proposed in this proposed rule.

In the interest of consistency among all urban labor market areas, we are proposing to use the county-based definitions for all MSAs in the nation. As a result of the 2000 Census, we now have county-based MSAs in New England. We believe that adopting county-based definitions for all urban areas in the country provides consistency and stability, and minimizes administrative complexity in the Medicare program. We point out that our use of MSAs in New England comports with the implementation of the CBSA designations under the IPPS for New England urban locales. (See the August 11, 2004 Federal Register, 69 FR 49208.) Accordingly, under the revised composite payment rates discussed in this proposed rule, we are proposing to use New England MSAs along with MSAs in the rest of the nation to define urban areas. As a result, urban locales in New England would no longer be based on NECMAs.

(2) Metropolitan Divisions

Under OMB's new CBSA designations, a Metropolitan Division is a county or group of counties within a CBSA that contains a core population of at least 2.5 million, representing an employment center, plus adjacent counties associated with the main county or counties through commuting ties. A county qualifies as a main county if 65 percent or more of its employed residents work within the county, and the ratio of the number of jobs located in the county to the number of employed residents is at least 75 percent. A county qualifies as a secondary county if at least 50 percent, but less than 65 percent, of its employed residents work within the county, and the ratio of the number of jobs located in the county to the number of employed residents is at least 75 percent. After all the main and secondary counties are identified and grouped, each additional county that already has qualified for inclusion in the MSA falls within the Metropolitan Division associated with the main or secondary county or counties with which the county at issue has the highest employment interchange measure. Counties in a Metropolitan Division must be contiguous (See the December 27, 2000 Federal Register, Standards for Defining Metropolitan and Micropolitan Statistical Areas, (65 FR 82236)).

Under the CBSA definitions, there are 11 MSAs containing Metropolitan Divisions: Boston; Chicago; Dallas; Detroit; Los Angeles; Miami; New York; Philadelphia; San Francisco; Seattle; and Washington, DC. We believe that these MSAs may be too large to accurately reflect the local labor costs prevailing within each of these areas. For example, the Chicago-Naperville-Joliet IL-IN-WI MSA consists of 14 counties classified among 3 Metropolitan Divisions: Chicago-Naperville-Joliet IL (8 counties); Lake County-Kenosha County IL-WI (2 counties); and Gary IN (4 counties). Similarly, the New York-Newark-Edison NY-NJ-PA MSA consists of 23 counties classified among 4 Metropolitan Divisions: New York-Wayne-White Plains NY-NJ (11 counties); Newark-Union NJ-PA (6 counties); Edison NJ (4 counties); and Suffolk County-Nassau County NY (2 counties). Accordingly, for the 11 MSAs with Metropolitan Divisions, we are proposing to use the Metropolitan Division as the urban area for purposes of constructing the wage index and applying revised composite payment rates.

We believe that the proposed use of Metropolitan Divisions would result in a more accurate adjustment accounting for local variation in labor costs within each of the 11 MSAs with those Divisions. We are proposing to recognize each county-based Metropolitan Division within the 11 affected MSAs as a separate urban area for purposes of applying revised composite payment rates. Each Metropolitan Division would have its own wage index and its own urban composite payment rate. This proposed methodology is consistent with the new CBSA-based labor market definitions under the IPPS. (See the August 11, 2004 Federal Register, 69 FR 49029.)

(3) Micropolitan Statistical Areas

In its June 6, 2003 bulletin, OMB also designated another classification of metropolitan area, Micropolitan Statistical Areas, which we will refer to as Micropolitan Areas. That bulletin listed 565 Micropolitan Areas. Of the 3142 counties in the United States, 1090 are in MSAs and 674 are in Micropolitan Areas, with the remaining 1378 outside of either classification. As discussed in greater detail in the August 11, 2004 IPPS final rule (69 FR 49029-49032), the way that Micropolitan Area counties are classified in connection with developing revised wage indexes has a substantial impact on the wage index adjustment. Specifically, whether or not Micropolitan Areas are included in computing the statewide rural wage indexes has a significant effect on the rural wage index in any State that contains these locales. Consistent with the IPPS final rule, we are proposing that each Micropolitan Area county continue to be considered part of each State's rural labor market area. That is, we would continue to classify all Micropolitan counties as rural.

To facilitate an understanding of our proposed policies relating to the revisions to the ESRD facility labor market areas discussed in this proposed rule, we have provided addendum F in the Addendum section to this proposed rule. Addendum F is a crosswalk table that contains a listing of each SSA State and county location code; state and county name; existing 1980 MSA based labor market area designation; and CBSA-based labor market area. Addendum F also contains the new wage indexes for each urban and rural area.

f. Proposed Revisions to the Labor Component of the Composite Rate

The current labor-related portions of the hospital-based and independent composite payment rates (in other words, the portion adjusted by each facility's area wage index) are 36.78 percent and 40.65 percent, respectively. These labor-related shares have not been revised since the inception of the ESRD composite payment system in 1983.

When the composite rates were established in 1983, we developed the labor-related share of the rate based on 1978 and 1979 cost data collected from 110 ESRD facilities; 40 independent and 70 hospital-based. For other PPSs administered by us, the labor-related shares are determined based on the labor components established in the relevant market baskets for each provider type.

The basis for determining the current labor shares is based on outdated data from very few facilities relative to the current number of ESRD facilities (110 versus approximately 4300 facilities). We are proposing to establish a single labor-related share applicable to all ESRD facilities based on the labor-related categories included in the ESRD composite rate market basket. This change will bring the methodology for the ESRD composite rate labor-related share more in line with that for determining the labor-related shares for other Medicare PPSs.

(1) ESRD Composite Rate Market Basket

In the following sections, we present a brief background on market baskets, provide a reference to the detailed methodology used to develop the ESRD composite rate market basket, and outline the methodology used to determine the proposed ESRD labor share.

As required by section 422(b) of the Medicare, Medicaid, and SCHIP Benefits Improvement and Protection Act of 2000 (BIPA), Pub. L. 106-554, we developed an ESRD composite rate market basket. Each of the PPSs that we administer utilizes a market basket that reflects each type of provider's production patterns used to furnish patient care. The market baskets capture the rate of price inflation for a fixed quantity of inputs (both goods and services used to provide medical services) relative to a base year. Each of the PPS market baskets distinguishes between labor-related and non-labor costs. Similar to other PPSs, we believe the ESRD composite rate market basket index is an appropriate measure for revising the labor-related portion of the composite payment rate. The detailed methodology used to develop the ESRD composite rate market basket, including data sources, cost categories, and price proxies, is set forth in the Secretary's May 2003 report to the Congress, Toward a Bundled Outpatient Medicare ESRD Prospective Payment System. That report is available on the Internet at http://qa.cms.hhs.gov/providers/esrd and we recommend it to interested readers. We used CY 1997 as the base year for the development of the ESRD composite rate market basket cost categories. Source data included CY 1997 Medicare cost reports (Form CMS-265-94), supplemented with 1997 data from the U.S. Department of Commerce, Bureau of the Census' Business Expenditure Survey (BES). Analysis of Medicare cost reports for CYs 1996, 1997, 1998, and 1999 showed little difference in cost weights compared to CY 1997. Medicare cost reports from independent ESRD facilities were used to construct the market basket because data from independent ESRD facilities tend to reflect the actual cost structure faced by the ESRD facility itself, and are not influenced by the allocation of overhead over the entire institution as in hospital-based facilities. This approach is consistent with our standard methodology used in the development of other market baskets, particularly those used for updating the SNF and home health PPSs. We expect that the cost structure in both hospital-based and independent ESRD facilities and units would be similar. Therefore, we are proposing to base the labor-related share of the composite payment rates on data from freestanding facilities only.

In Table 24, we have reproduced Table 2 from the May 2003 report to the Congress containing the ESRD composite rate market basket cost categories, weights, and price proxies in this proposed rule. This table lists all of the expenditure categories in the ESRD composite rate market basket.

Table 24.—ESRD Composite Rate Market Basket Cost Categories, Weights, and Price Proxies
Cost category | Price/wage variable | Base-year: CY 1997 weights (percent)
Total |  | 100.000
Compensation |  | 47.388
Wages and Salaries | ECI—Health Care Workers | 38.808
Employee Benefits | ECI—Benefits Health Care Workers | 8.580
Professional Fees | ECI—Compensation Prof. & Tech. (Priv.) | 0.903
Utilities |  | 1.524
Electricity | WPI—Commercial Electric Power | 0.818
Natural Gas | WPI—Commercial Natural Gas | 0.113
Water and Sewerage | CPI—Water & Sewage | 0.593
All Other |  | 36.156
Pharmaceuticals | WPI—Prescription Drugs | 0.967
Supplies | PPI—Surgical, Medical and Dental* | 17.748
Labs | PPI—Medical Labs | 0.433
Telephone | CPI—Telephone Services | 0.875
Housekeeping and Operations | PPI—Building, cleaning, and maintenance | 1.247
Administrative and Other Costs | CPI—All items less food and energy | 14.886
Capital Costs |  | 14.029
Capital Related—Building and Equipment | CPI—Residential Rent | 9.071
Capital Related—Machinery | PPI—Electrical Machinery and Equipment | 4.957

The labor-related share of a market basket is determined by identifying the national average proportion of operating costs that are related to, influenced by, or vary with the local labor market. The labor-related share is typically the sum of wages and salaries, fringe benefits, professional fees, labor-intensive services, and a portion of the capital share from the appropriate market basket.

We used the 1997-based ESRD composite rate market basket costs to determine the proposed labor-related share for ESRD facilities. The proposed labor-related share for ESRD facilities is 53.711, as shown in Table 25. It is the sum of wages and salaries, employee benefits, professional fees, housekeeping and operations, and 46 percent of the weight for capital-related building and equipment (the portion of capital that we have determined to be influenced by local labor markets). The following section describes each of the categories that make up the proposed labor-related share for the ESRD composite rate payment system and how they were derived.

Table 25.—Proposed ESRD Composite Rate Labor-Related Share
Cost category | Proposed CY 1997-based ESRD composite rate labor share (percent)
Wages and salaries | 38.808
Employee benefits | 8.580
Professional fees | 0.903
Housekeeping and operations | 1.247
SUBTOTAL | 49.538
Labor-related share of capital costs | 4.173
Total | 53.711

(2) Wage and Salaries

The wages and salaries weight for the ESRD composite rate labor-related share includes salaries for both direct and indirect patient care. We computed a weight for wages and salaries for direct patient care from Worksheet B of the Medicare cost report. However, Worksheet B only includes direct patient care salaries. We had to derive an estimate for non-direct patient care salaries in order to calculate the market basket weight. We first computed the ratio of salaries to total cost in each cost center from the trial balance of the cost report (Worksheet A). We applied these ratios to the costs reported on Worksheet B for the corresponding cost centers to obtain the total wages and salaries for each composite rate cost center. These salaries were then summed and added to the direct patient care salary amount that is reported separately. When divided by total composite rate costs, the result is a cost weight for total salaries. This increased the expenditure weight from 34.154 percent for direct patient care salaries to 38.808 percent for total salaries.

(3) Employee Benefits

The benefits weight was derived from the BES since a benefit share for all employees is not available for the ESRD Medicare cost reports. The cost reports only reflect benefits for direct patient care. We applied the benefits proportion of wages and salaries for kidney dialysis centers from the BES to the salary amount calculated from the cost reports as described above. This resulted in a benefit weight that was 1.758 percentage points larger (8.850 versus 6.822) than the benefits for direct patient care calculated from the cost reports. To avoid double counting and to ensure all of the market basket weights still totaled 100 percent, we removed this additional 1.758 percentage points for benefits from pharmaceuticals, administrative and general, supplies, laboratory services, housekeeping and operations, and the capital components. This calculation reapportions the benefits expense for each of these categories using a method similar to the method used for distributing non-direct patient care salaries as described above. This method approximates the proportion of each cost center's costs that are benefits using available salary expenditure data.

(4) Professional Fees

Professional fees include accounting, bookkeeping, and legal expenses. We derived the weight for professional fees from the BES since the Medicare cost reports do not include this level of detail. We first calculated the ratio of BES professional fees for kidney dialysis centers to total BES wages and salaries for kidney dialysis centers. We applied this ratio to the total wages and salaries share calculated from the cost reports to estimate the proportion of ESRD facility professional fees. The resulting weight was 0.903 percent. To avoid double counting, this proportion was deducted from the calculated weight for the administrative and other expenditure category, where the fees would have been reported on the Medicare cost reports.

(5) Housekeeping and Operations

The housekeeping and operations cost category includes expenses such as janitorial and building services costs. We developed a market basket weight for this category using data from both Worksheets A and B of the cost reports. Worksheet B combines the capital-related costs for buildings and fixtures with the operation and maintenance of plant (operations) and housekeeping cost centers, so we were unable to calculate a weight directly from Worksheet B. Accordingly, we computed the proportion of housekeeping and operations costs, to the combination of total capital-related costs for buildings and fixtures and housekeeping and operations costs using Worksheet A because these categories are individually reported on this worksheet. We then subtracted this share from the proportion of Worksheet B total capital-related costs to yield a weight for housekeeping and operations. To avoid double counting, we subtracted utilities expenditures (which are included in the utilities weight shown in Table 24) from the housekeeping and operations weight, as well as the non-direct patient care salaries and benefits share associated with the operations and housekeeping cost centers from Worksheet A. The resulting market basket weight for housekeeping and operations was 1.247 percent.

(6) Labor-Related Share for Capital-Related Expenses

The labor-related share for capital-related expenses (46 percent of ESRD facilities' adjusted capital-related building and equipment expenses) reflects the proportion of ESRD facilities' capital-related building and equipment expenses that we believe varies with local area wages.

Capital-related expenses are affected in some proportion by local area labor costs (such as construction worker wages) that are reflected in the price of the capital asset. However, many other inputs that determine capital costs are not related to local area wage costs, such as interest rates. Thus, it is appropriate that capital-related expenses would vary less with local wages than would the operating expenses for ESRD facilities. The 46 percent figure is based on regressions run for the Prospective Payment System for Inpatient Hospital Capital-Related Costs in 1991 (56 FR 43375).

We use a similar methodology to calculate capital-related expenses for the labor-related shares for rehabilitation facilities, psychiatric facilities, long-term care facilities, and SNFs. (See Rehabilitation Facility Prospective Payment System for FY 2006, Part II (70 FR 30233) and Prospective Payment System and Consolidated Billing for Skilled Nursing Facilities-Update (66 FR 39585)).

Table 26 provides a comparison of the current and proposed labor/nonlabor portions of the ESRD base composite rate.

TABLE 26.—Comparison of the Current and Proposed Labor/Nonlabor Portions of the ESRD Base Composite Rate
| Hospital-based | Independent
Base Composite Rate | $132.41 | $128.35
Current Labor Share | 48.70 | 52.17
Current NonLabor Share | 83.71 | 76.18
Proposed Labor Share (53.711 percent) | 71.12 | 68.94
Proposed NonLabor Share | 61.29 | 59.41

As indicated earlier in this discussion, the ESRD market basket was derived from CY 1997 data. As with other payment systems, we would propose updating the labor share of the composite payment when the components of the ESRD market basket are rebased to reflect more recent data.

g. Implementation of Revised Composite Wage Indexes

In the section below, we explain how each ESRD facility's new composite payment rate would be determined to reflect the proposed 2 year transition, based on section 623(d)(1) of the MMA's requirement that the application of any revised geographic index be phased in over a multi-year period.

(1) Hospital Data Used

In this proposed rule, for purposes of adjusting the labor-related portion of the ESRD composite rate beginning January 1, 2006, we propose to use acute care hospital inpatient wage index data. This data was generated from cost reporting periods beginning FY 2002, and is the most recent complete data available.

To determine the applicable ESRD wage index values, we are proposing to use the acute care hospital inpatient wage data without regard to any approved geographic reclassification under section 1886(d)(8) or (d)(10) of the Act, which only applies to hospitals that are paid under the IPPS. We note this policy is consistent with the area wage adjustments used in all other non-acute care facility PPSs (such as, SNFs, IPPSs, HHAs, and IRFs).

The proposed wage index values that would be applicable to the ESRD composite rate for services furnished on or after January 1, 2006, are shown in Tables 27 and 28 in this proposed rule.

(2) Labor Market Areas With No Hospital Wage Data

In adopting OMB's CBSA designations, we identified a small number of ESRD facilities in both urban and rural geographic areas where there were no hospitals, and, thus, no hospital wage index data on which to base the calculations of the FY 2006 ESRD wage index. The first situation is rural Massachusetts. Because there is no reasonable proxy for rural data within Massachusetts, we are proposing to use last year's acute care hospital wage index value for rural Massachusetts.

The second situation involves ESRD facilities in urban areas in Hinesville, GA (CBSA 25980) and Mansfield, OH (CBSA 31900). We propose to use a wage index based on the wage indexes in all of the other urban areas within the state to serve as a reasonable proxy for the urban areas without hospital wage index data. Specifically, we are proposing to use the average wage index for all urban areas within the State as the urban wage index value for purposes of the ESRD wage index for these areas. We solicit comments on these approaches to calculating the wage index values for areas without hospitals (and, thus, without hospital wage data) for FY 2006 and subsequent years.

(3) Use of Floor/Ceiling Values

As discussed in this preamble, the current wage index values applied to the labor share of the ESRD composite payment rate are restricted at the high and low ends with a floor of 0.9000 and a cap of 1.3000. The effects of these restrictions have been to overpay facilities in low wage areas and underpay facilities in high wage areas. The floor and cap were originally intended to remain in effect only until the transition from use of BLS wage date to hospital wage data ended. However, since the transition was never completed because of the statutory restrictions discussed above in this preamble, the floor and cap have remained in effect since 1983.

The basis for the 1.3000 wage index cap was to ensure that we did not pay any more than the allowable reasonable charge per treatment that was in effect before the composite payment rate system was implemented. Since the allowable reasonable charge screen no longer has any relevance to the current composite rate, and because of the effect it has had on restricting payment in high cost wage areas, we are proposing to eliminate the wage index cap.

However, because of the potential adverse impact that removing the wage index floor could have on access to dialysis for ESRD beneficiaries, we are proposing to maintain a wage index floor at this time. We note that when we established the 0.9000 floor beginning in 1983, it was intended that the floor would be phased out by the end of the transition. Because the floor has been in place for so long, we are concerned that eliminating the floor entirely could decrease payments to facilities in some areas significantly. However, we believe that a floor of 0.9000 may be too high under the proposed revision to the labor market areas, since a substantial number of wage areas (172 out of 481 wage areas) have wage index values less than 0.9000. The current wage areas used for adjusting composite rate payments have only 83 areas with wage index values below 0.9000.

Given that the distribution of wage index values has changed so significantly, we are proposing to reduce the floor to 0.8500 for CY 2006 and to 0.8000 for CY 2007 as we transition to the new geographic areas and wage indexes. This would result in application of the wage index floor to 17.7 percent of facilities that would otherwise have been subject to the current 0.9000 floor in CY 2006 and to 10.0 percent of facilities in CY 2007. It would also protect 86 geographic areas at a floor of 0.8500 in CY 2006 and 36 geographic areas at a floor of 0.8000 in CY 2007.

Although we are proposing to maintain a wage index floor through CY 2007, our goal is to eliminate the wage index floor in the future. Therefore, for CY 2008 we would re-evaluate the need for continuing the floor. We are soliciting comment on this issue, especially in light of the fact the any wage index changes must be budget neutral for aggregate payments to facilities.

(4) Transition Period

Section 623(d) of MMA added section 1881(b)(12)(D) of the Act which requires that any revisions to the geographic adjustments applied to the composite payment rate must be phased-in over a multiyear period. In determining the best approach to phasing-in the proposed new wage index adjustments, we considered not only the immediate impact on payments from revising the wage index values, but also the impact on payments over time because of our inability to update the wage index. Facilities in areas where wages have increased at a higher rate than the national average may have been disadvantaged by the continued use of outdated wage data and geographic designations to adjust the composite payment rate.

With both of these considerations in mind, we are proposing a two-year transition under which facilities would be paid the higher of the new wage-adjusted composite rate, or a 50-50 blend of the current wage adjusted composite rate and the new wage-adjusted composite rate. This proposed transition would allow facilities that may have been disadvantaged under the current wage index adjustment to move immediately to the new wage adjustment. It also provides for a reasonable transition period for other facilities. Given the age of the current wage index adjustments, we believe it is appropriate to move as quickly as possible to the revised updated wage adjustments. Since we are proposing to maintain the wage index floor during the transition period, we believe the overall impact to facilities will be mitigated. Also, as discussed in the following section, the proposed budget neutrality adjustment will ensure that the level of aggregate payments to ESRD facilities is maintained. We note that our proposal to allow some facilities to move directly to the new wage-adjusted composite rate will have some impact on the level of the budget neutrality adjustment. However, we estimate that the overall effect on total payments to facilities would not be significant. For example, the impact on aggregate payments to rural facilities would be a decrease of about 0.2 percent and an increase of about 0.1 percent for urban facilities. This occurs because all of the facilities that are currently subject to the 1.300 wage index cap are located in urban areas.

We also considered alternative approaches for transitioning facilities to the proposed updated wage adjustments. Another approach would be to apply the proposed 50-50 transition to all facilities, whether or not they do better using the updated wage index adjustment. This approach would treat all facilities equally for transition purposes, but would mean that those facilities that are currently underpaid because of the current outdated wage index adjustment would have to wait until the transition was completed to receive the higher payment to which they are entitled.

An alternative to the proposed two-year transition would be to adopt a three-year transition. This would allow facilities that would receive lower payments using the revised wage adjustment to have an additional year to adapt to the lower payment amount. This approach, if coupled with allowing facilities that do better to move immediately to the new wage index, would have a more significant impact on the budget neutrality adjustment required by MMA. (See budget neutrality discussion below.).

We are specifically seeking comments on the proposed transition or any of the alternative approaches mentioned above.

(5) ESRD Wage Index Budget Neutrality

Section 623(d) of MMA amended section 1881(b)(12)(E)(i) of the Act which requires that any revisions to the ESRD composite rate payment system as a result of the MMA provision (including the geographic adjustment) be made in a budget neutral manner. This means that aggregate payments to ESRD facilities in CY 2006 should be the same as aggregate payments would have been if we had not made any changes to the geographic adjusters. In order to achieve budget neutrality, we are proposing to apply a budget neutrality adjustment factor directly to the revised ESRD wage index values, rather than applying the adjustment to the base composite payment rates. For payment purposes, we believe this is the simplest approach since it allows us to maintain a base composite rate for hospital-based facilities and one for independent facilities during the transition from the current wage adjustments to the revised wage adjustments.

In order to compute the proposed wage index budget neutrality adjustment factor, we used treatment counts from the CY 2004 billing data and facility-specific 2005 composite payment rates. We note that this file is currently only about 85 percent complete. For the final rule, we expect to use the most complete CY 2004 file available. Using the CY 2004 billing data, we first computed the estimated total dollar amount that ESRD facilities would have received in CY 2006 had there been no changes to the ESRD wage index. This amount becomes the estimated target amount of expenditures for all ESRD facilities. Then we computed the estimated dollar amount that would be paid to the same ESRD facilities using the revised ESRD wage index. After comparing these two dollar amounts, we calculate an adjustment factor to the ESRD wage index as the factor that when multiplied by the revised ESRD wage index will result in the target amount of expenditures for all ESRD facilities. Since the revised wage index values are only applied to the labor-related portion of the composite payment rate, we computed the adjustment based on that proportion (that is, 53.711 percent). We applied the estimated budget neutrality adjustment factor to the revised wage index values and then simulated payments for CY 2006 to ensure that estimated aggregate payments to ESRD facilities would remain budget neutral. This proposed adjustment factor would be 1.023024.

Each ESRD wage index value has been adjusted by this factor to establish the budget neutral wage index values that we propose to use to adjust the labor portion of the composite payment rate beginning January 1, 2006. (See Tables 27 and 28.) By using these adjusted ESRD wage index values, the estimated aggregate payments to ESRD facilities will meet the estimated target expenditure amount.

This calculation becomes more complex because of our proposed transition policy. Under that policy an ESRD facility that would receive a higher composite rate payment using the new geographic adjustment would receive 100 percent of that rate in the first year of transition. However, if an ESRD facility's composite rate using the new geographic adjustment is less than its current rate, then that facility will receive 50 percent of the composite rate payment it would have received using the current wage index and 50 percent of the composite rate using the revised wage index. To account for the differential payments, we compare the target amount of expenditures for all ESRD facilities in an iterative fashion until the time that the ESRD wage index adjustment factor would result in the target amount of expenditures for all ESRD facilities. This is shown in column 4 of Table 37 in section V. (Regulatory Impact Analysis) of this proposed rule. In aggregate the change to all ESRD facilities would be 0.0 percent. The distributive effect of the revised ESRD wage index can be seen in the various impact table groupings in column 4 of Table 37 in section V. of this proposed rule.

Another element of the proposed transition policy would be a proposed wage index floor of 0.8500. Using the method described above to compute the budget neutrality factor, makes it necessary to apply the budget neutrality factor to this floor which would result in a proposed adjusted floor of 0.8696.

(6) Transition Examples

In the following examples, we show the application of revised wage adjusted composite payment rates during the proposed two year transition period:

• Example 1—Neighborhood Dialysis Center is an independent dialysis facility located in Baltimore County, Maryland. As the Crosswalk Table (see addendum F) reveals, Baltimore County was previously classified as part of the Baltimore MSA, and is still classified as an urban county under the new CBSA classification system. The current wage-adjusted composite payment rate for Neighborhood Dialysis Center is $134.93.

Because Neighborhood Dialysis Center is located within the Baltimore-Towson MD CBSA (code 12580), its new wage index, which has been adjusted for budget neutrality, is 1.0135. Applying the wage index of 1.0135 to the revised labor-related component of the base composite rate for independent facilities shown in Table 26, yields a labor adjusted payment rate of $129.28.

($68.94 × 1.0135) + $59.41 = $129.28

This labor adjusted payment rate of $129.28 is less than the wage-adjusted composite rate of $134.93 currently applicable to Neighborhood Dialysis Center. In accordance with our proposed two year transition, this facility would receive a wage-adjusted composite payment rate beginning January 1, 2006 equal to 50 percent of its current wage-adjusted rate plus 50 percent of its new wage-adjusted rate. The CY 2006 blended wage-adjusted rate for this facility would be $132.11.

($0.50 × $134.93) + (0.50 × $129.28) = $132.11

The 8.9 percent drug add-on adjustment and relevant case-mix adjustments (related to the budget neutrality adjustment) would be applied to this blended rate.

• Example 2—Serve U Well is a hospital-based dialysis facility located in Morrow County, Ohio. The Crosswalk table (see Addendum F) reveals that Morrow County was previously classified as rural, but is now classified urban as part of the Columbus, OH CBSA, code 18140. The new CBSA wage index applicable to Serve U Well, adjusted for budget neutrality, is 1.0077. Applying the wage index of 1.0077 to the revised labor related component of the base composite rate for hospital-based facilities shown in Table 26 yields a wage-adjusted composite rate of $132.96.

($71.12 × 1.0077) + $61.29 = $132.96

Serve U Well's current rural Ohio wage-adjusted composite payment rate is $128.66. Because the revised wage-adjusted composite payment rate of $132.96 is greater than $128.66, Serve U Well would receive 100 percent of its new wage-adjusted composite payment rate of $132.96 beginning January 1, 2006.

As in the previous example, the 8.9 percent drug add-on adjustment and relevant case-mix adjustments (related to the budget neutrality adjustment) would be applied to this new wage-adjusted composite rate.

(7) Frequency of Update

Section 623(d)(1) of the MMA provides that any revised wage index used in connection with the composite payment rates must be phased-in over a multiyear period. We are proposing a two-year transition period to the new wage indexes based on CBSAs. An issue remains as to how frequently the new wage index values should be updated to reflect changes in area wage levels. These changes would be detected through our receipt of hospital wage and employment data obtained from the Medicare hospital cost reports subsequent to FY 2005. In order to keep payments to ESRD facilities as up-to-date as possible, we propose to update the wage index on an annual basis, as part of the overall ESRD payment update.

(8) Wage Index Table

The following two tables show the proposed ESRD wage index for urban areas (Table 27) and rural areas (Table 28).

BILLING CODE 4120-01-P

BILLING CODE 4120-01-C

Table 28.—Proposed ESRD Wage Index for Rural Areas Based on CBSA Labor Market Areas
CBSA code | Nonurban area | Wage index
1 | Alabama | 0.8696
2 | Alaska | 1.2266
3 | Arizona | 0.8979
4 | Arkansas | 0.8696
5 | California | 1.1107
6 | Colorado | 0.9605
7 | Connecticut | 1.2066
8 | Delaware | 0.9827
10 | Florida | 0.8796
11 | Georgia | 0.8696
12 | Hawaii | 1.0805
13 | Idaho | 0.8696
14 | Illinois | 0.8696
15 | Indiana | 0.8829
16 | Iowa | 0.8698
17 | Kansas | 0.8696
18 | Kentucky | 0.8696
19 | Louisiana | 0.8696
20 | Maine | 0.9056
21 | Maryland | 0.9304
22 | Massachusetts | 1.0451
23 | Michigan | 0.9074
24 | Minnesota | 0.9394
25 | Mississippi | 0.8696
26 | Missouri | 0.8696
27 | Montana | 0.9036
28 | Nebraska | 0.8865
29 | Nevada | 0.9283
30 | New Hampshire | 1.0923
32 | New Mexico | 0.8843
33 | New York | 0.8696
34 | North Carolina | 0.8764
35 | North Dakota | 0.8696
36 | Ohio | 0.8988
37 | Oklahoma | 0.8696
38 | Oregon | 1.0056
39 | Pennsylvania | 0.8696
42 | South Carolina | 0.8840
43 | South Dakota | 0.8696
44 | Tennessee | 0.8696
45 | Texas | 0.8696
46 | Utah | 0.8696
47 | Vermont | 1.0067
48 | Virginia | 0.8696
49 | Washington | 1.0699
50 | West Virginia | 0.8696
51 | Wisconsin | 0.9698
52 | Wyoming | 0.9426

(9) Crosswalk Table

The crosswalk table for the MSA and CBSA can be found in Addendum F to this proposed rule.

4. Proposed Revisions to § 413.170 (Scope) and § 413.174 (Prospective Rates for Hospital-Based and Independent ESRD Facilities)

Under section 623 of the MMA, we propose to revise § 413.170(b) to specify that this subpart provides procedures and criteria under which only a pediatric facility may receive an exception.

Also under section 623 of the MMA, we propose to revise § 413.174 to reflect the changes in the additional payment for separately billable drugs.

5. Proposed Revisions to the Composite Payment Rate Exceptions Process

[If you choose to comment on issues in this section, please include the caption “ESRD-Exceptions Process” at the beginning of your comments.]

The current regulations at § 413.180 through § 413.192 contain the procedures for requesting exceptions to ESRD facility composite payment rates, and establish five criteria for approval of exception requests. The five criteria are as follows:

• Atypical service intensity (§ 413.184).

• Isolated essential facility (§ 413.186).

• Extraordinary circumstances (§ 413.188).

• Self-dialysis training costs (§ 413.190).

• Frequency of dialysis (§ 413.192).

Under section 1881(b)(7) of the Act, when a facility's costs were higher than the prospectively determined composite rate, we could, under certain conditions, grant the facility an exception to its composite payment rate and set a higher prospective rate. The facility had to show, on the basis of projected cost and utilization trends, that it would have an allowable cost per treatment higher than its prospective composite payment rate and that any excess costs were attributable to one or more of the specific exception criteria.

As explained further below, ESRD facility exception rates in effect on December 31, 2000, or those that were subsequently approved based on an application under section 422(a)(2)(B) of BIPA, (collectively hereinafter termed “existing exception rates”), will remain in effect under section 422(a)(2)(C) of BIPA as long as the exception rate exceeds the facility's updated composite payment rate.

Section 623 of the MMA amended BIPA to provide that the prohibition on exceptions to the ESRD composite rate does not apply to pediatric facilities that do not have an exception rate in effect on October 1, 2002. As a result, only pediatric facilities can now qualify for exception rates. We do not intend for the proposed regulation changes detailed below to limit the exception criteria under which a pediatric facility may qualify. However, we believe that pediatric facilities would not qualify for an exception under most of the existing exception criteria because of the uniqueness of their pediatric patient population (at least 50 percent) and, in the past, ESRD facilities with high percentages of pediatric patients only qualified for exceptions under the “atypical patient mix” criterion. Therefore, we are proposing to revise the regulations by eliminating the other exception criteria (Isolated essential facilities, Extraordinary circumstances, and Frequency of dialysis) specified in § 413.182(b), (c), and (e). However, we are proposing to retain the exception criterion for self-dialysis training costs under § 413.182(d) because some pediatric facilities may qualify for an exception on that basis.

a. Statutory Changes

Section 422 of BIPA 2000, prohibited us from providing for any further composite rate exceptions on or after December 31, 2000; allowed one final opportunity for ESRD facilities that did not apply for an exception during 2000 to apply for one by July 1, 2001; and provided for approved exceptions (either those in effect or those that were approved based on subsequent applications) to continue in effect as long as the rate exceeds the updated composite rate.

By prohibiting future exceptions to the composite rate for ESRD facilities, we believe the Congress intended to make the ESRD composite rate payment system more compatible with other Medicare PPSs that do not allow exceptions to their payment rates. By providing for the continuation of existing exception rates as long as those rates exceed the updated case-mix adjusted composite rate, we believe the Congress intended, in effect, to provide for the transition of most ESRD facilities to payment under the composite rate payment system.

In response to ESRD facility concerns about the current composite rate payment methodology, the Congress enacted section 623 of the MMA, which revised ESRD facility prospective composite payment rates. As a result, effective January 1, 2005, ESRD facility prospective composite payment rates were increased 1.6 percent and include a drug add-on of 8.7 percent. These increases were implemented in the PFS final rule published on November 15, 2004 (69 FR 66319-66320). Section 623 also amended section 422(a)(2) of BIPA to provide that the prohibition on exceptions to the ESRD composite rates does not apply as of October 1, 2002, to pediatric facilities that do not have an exception rate in effect on October 1, 2002—in effect restoring the exception process for pediatric facilities. Pediatric facilities are defined as “renal facilities at least 50 percent of whose patients are individuals under 18 years of age.”

Existing exception rates are protected under section 422(a)(2)(C) of BIPA 2000. The “protection” clause for existing exception rates provides that exception rates in effect on December 1, 2000 (or approved based on an application by July 1, 2001) shall remain in effect as long as the facility's exception rate is higher than the updated composite rate. Pediatric ESRD facility exception rates granted under the provisions of section 623 of the MMA are not subject to the “protection” clause for existing exception rates.

b. Summary of Proposed Changes to Part 413, Subpart H

As a result of the statutory changes discussed above, we are proposing to revise both the content and the organization of the existing regulations at 42 CFR part 413, subpart H (Payment for ESRD Services and Organ Procurement Costs) by limiting certain qualifications and clarifying the regulations. Currently, all of the Medicare rules for requesting exceptions to composite rate payments for covered outpatient maintenance dialysis treatments can be found at § 413.180 through § 413.192. We propose to revise the current regulations at part 413, subpart H by—

• Adding a definition of a “pediatric facility” (in accordance with section 422(a)(2)of BIPA 2000, as amended by section 623(b) of the MMA) to mean a renal facility at least 50 percent of whose patients are individuals under 18 years of age;

• Removing existing exception criteria that are no longer applicable; and

• Adjudicating future exception requests in accordance with the proposed revised exception criteria.

(1) Proposed Revisions to § 413.180 (Procedures for Requesting Exceptions to Payment Rates)

In response to the changes made by section 422 of BIPA 2000 and section 623 of MMA, we are proposing significant changes to the existing regulations at § 413.180 through § 413.192 regarding ESRD exception criteria and application procedures. Under our current regulations, existing exception rates that were approved prior to December 31, 2000 (or those approved during the window that closed on July 1, 2001) would remain in effect as long as the conditions under which the exception was granted have not changed and as long as the facility files a request to retain the exception rate with its fiscal intermediary during the 30-day period before the opening of an exception cycle (and the request is approved by the fiscal intermediary.) Even though pediatric exceptions are not subject to the “protection” clause under section 422(a)(2)(C) of BIPA, we propose to continue all exception rates in effect on the same basis. Since section 422(a)(2)(B) of BIPA allows existing exception rates to continue in effect as long as the exception rate exceeds the facility's updated composite payment rate, we expect that the facilities will compare their existing exception rates to their basic case-mix adjusted composite rates to determine which is the best payment rate for their facility. We expect that each ESRD facility would choose to be paid at the higher of its existing exception rate or its basic case-mix composite rate (which includes all the payment adjustments required under section 623 of the MMA). If the facility retains its exception rate, the rate is not subject to any of the adjustments specified in section 623 of the MMA. We believe the determination as to whether an ESRD facility's exception rate per treatment will exceed its average case-mix adjusted composite rate per treatment is best left to the affected entity. An ESRD facility that has an existing exception rate may give up that rate if it determines that it should be paid instead under the case-mix adjusted composite rate methodology.

In § 413.180, we propose to revise our regulations to provide that each ESRD facility must notify its fiscal intermediary (in writing) if it wishes to give up its exception rate. The facility would be paid based on its case-mix adjusted composite payment rate beginning thirty days after the intermediary's receipt of written notification that the facility wishes to give up its exception rate. Once a facility notifies its fiscal intermediary that it wishes to give up its exception rate, that decision could not be subsequently rescinded or reversed. We also propose to revise paragraph (b) of this section to provide that ESRD facilities that retain their existing exception rates do not need to notify their intermediaries. Therefore, we propose to remove the last sentence from paragraph (b) that states, “However, a facility may only request an exception or seek to retain its previously approved exception rate when authorized under the conditions specified in paragraphs (d) and (e) of this section.”

In the past, an ESRD facility could request an exception to its prospective composite payment rate within 180 days of the effective date of its new composite rate(s) or the date on which we opened a specific exception window. Because only pediatric facilities can now file for exceptions, we expect to receive a minimal number of exception applications. In this section, we propose to revise paragraph (d) to remove the requirement that an application for an exception be filed within the 180-day window because we believe the small volume of applications will make it administratively feasible for us to accept applications on a rolling basis. Further, we are proposing to revise paragraph (d) to state that a pediatric ESRD facility may request an exception to its composite payment rate at any time after it is in operation for at least 12 consecutive months.

We are proposing to permit pediatric ESRD facilities to file exception requests at any time. We also propose to change our regulations to continue pediatric facility exception rates granted under section 623 of the MMA (hereinafter referred to as “pediatric facility exception rates”) in the same way as existing exception rates. Specifically, we are proposing that pediatric facility exception rates would remain in effect until the facility notifies its fiscal intermediary that it wishes to give up its rate because its case-mix adjusted composite rate is higher. Therefore, we propose to eliminate paragraph (e) of this section, entitled “Criteria for retaining a previously approved exception request” and replace it with paragraph (f) (Completion of requirements and criteria) of this section. We are proposing to eliminate paragraph (e) because ESRD facilities that have an approved exception rate (either an existing exception rate or a pediatric facility exception rate) and elect to retain it do not need to notify their intermediaries. Current paragraph (f), entitled, “Documentation for a payment rate exception request”, would be redesignated as proposed paragraph (e). We are proposing to clarify existing regulations by indicating that the applicant must include in its documentation a copy of the most recent cost report filed in accordance with § 413.198. As a result of these proposed changes to this section, we propose to revise the remaining paragraphs as follows:

• Current paragraph (g) would be redesignated as proposed paragraph (f).

• Current paragraph (h) would be redesignated as proposed paragraph (g).

• Current paragraph (i) would be redesignated as proposed paragraph (h).

• Current paragraph (j) provides the period of an exception approval. We would redesignate paragraph (j) as proposed paragraph (i). We propose to revise the redesignated paragraph to state that an approved exception payment rate applies for the period from the date the complete exception request was filed with the facility's fiscal intermediary until thirty days after the intermediary's receipt of the facility's letter notifying the intermediary of the facility's request to give up its exception rate and become subject to the current composite payment rate methodology. Once a facility decides not to retain its current exception rate (and puts that decision in writing), that decision cannot be subsequently rescinded or reversed.

• Current paragraph (k) would be removed.

• Current paragraph (l) would be redesignated as proposed paragraph (j).

• Current paragraph (m) would be redesignated as proposed paragraph (k). In the past, a pediatric facility denied an exception rate would have to wait until a subsequent exception window opened to file a new request. We are proposing to revise redesignated paragraph (m) to state that a pediatric ESRD facility that has been denied an exception rate may immediately file another exception request. Any subsequent exception request would be required to address and document the issues cited in our denial letter.

(2) Proposed Revisions to § 413.182 (Criteria for Approval of Exception Requests)

We propose to revise this section to state that CMS may approve exceptions to a pediatric ESRD facility's prospective payment rate if the pediatric facility did not have an approved exception rate as of October 1, 2002. The proposed revised section would also state that the pediatric facility would be required to demonstrate, by convincing objective evidence, that its total per treatment costs are reasonable and allowable under the relevant cost reimbursement principles of part 413 and that its per treatment costs in excess of its payment rate would be directly attributable to any of the following criteria:

• Pediatric patient mix, as specified in § 413.184.

• Self-dialysis training costs in pediatric facilities, as specified in § 413.186.

In the future, pediatric facilities would file for an exception under the proposed revised exception criteria in revised § 413.184 (Payment exception: Pediatric patient mix) and redesignated § 413.190 (Payment exception: Self-dialysis training costs in pediatric facilities). (We are proposing to revise § 413.190 and redesignate it as § 413.186, see discussion below.).

(3) Proposed Revisions to § 413.184 (Payment Exception: Atypical Service Intensity (Patient Mix))

Because only pediatric ESRD facilities (those with at least a 50 percent patient mix) may qualify for an exception rate, we are proposing to rename § 413.184 to read, “Payment exception: Pediatric patient mix”. We also propose to revise paragraph (a) of this section to specify that to qualify for an exception to its prospective payment rate based on its pediatric patient mix, a facility would be required to demonstrate that—

• At least 50 percent of its patients are individuals under 18 years of age;

• Its nursing personnel costs are allocated properly between each mode of care;

• The additional nursing hours per treatment are not the result of an excess number of employees;

• Its pediatric patients require a significantly higher staff-to-patient ratio than typical adult patients; and

• These services, procedures, or supplies and its per treatment costs are clearly prudent and reasonable when compared to those of pediatric facilities with a similar patient mix.

The “Atypical service intensity” criterion is the one under which exceptions for facilities that treated a high proportion of pediatric patients were granted in the past. In order to receive approval for an exception rate, pediatric facilities would still need to meet many of the same criteria previously required under § 413.184 for “Atypical service intensity.”

To better match the patient listing documentation requirements to the characteristics of pediatric ESRD facilities, we are proposing to eliminate five categories currently required in § 413.184(b) (Documentation) and replace those items with a revised list. Under the proposed revised paragraph, a facility would be required to submit a listing of all outpatient dialysis patients (including all home patients) treated during its most recently completed and filed cost report (cost reporting requirements under § 413.198) showing—

• Age of patients, and the percentage of patients under the age of 18;

• Individual patient diagnosis;

• Home patients and ages;

• In-facility patients, staff assisted, or self-dialysis;

• Diabetic patients; and

• Patients isolated because of contagious disease.

(4) Proposed Removal of § 413.186 (Payment Exception: Isolated Essential Facility)

Since pediatric facilities are the only ESRD facilities that can now apply for exceptions, we are proposing to remove § 413.186 to conform with the elimination of § 413.182(b), (c) and (e) as discussed above and redesignate § 413.190 as the new § 413.186. We would also rename the section to read, “Payment exception: Self-dialysis training costs in pediatric facilities”. No further changes are proposed to § 413.186.

(5) Proposed Removal of § 413.188 (Payment Exception: Extraordinary Circumstances)

We are proposing to remove this § 413.188 to conform with the elimination of elimination of § 413.182(b), (c) and (e) as discussed above.

(6) Proposed Redesignation of § 413.190 (Payment Exception: Self-Dialysis Training Costs)

We propose to continue to recognize exceptions for self-dialysis training costs under § 413.190 only for pediatric facilities, and to rename this section, “Payment exception: Self-dialysis training costs in pediatric facilities.” We are proposing to change the name to conform with the current statute that prohibits exceptions for facilities other than pediatric ESRD facilities. We are also proposing to redesignate this section as § 413.186. (As discussed above, we are proposing to remove existing § 413.186.) The current regulatory language in § 413.190 (proposed to be redesignated as § 413.186) would remain unchanged.

(7) Proposed Removal of § 413.192 (Payment Exception: Frequency of Dialysis)

We are proposing to remove this section to conform with the elimination of § 413.182(b), (c) and (e) as discussed above.

H. Payment for Covered Outpatient Drugs and Biologicals

[If you choose to comment on issues in this section, please include the caption “Payment for Covered Outpatient Drugs and Biologicals” at the beginning of your comments.]

Medicare Part B covers a limited number of prescription drugs and biologicals. For the purposes of this proposed rule, the term “drugs” will hereafter refer to both drugs and biologicals. Medicare Part B covered drugs not paid on a cost or prospective payment basis generally fall into three categories:

• Drugs furnished incident to a physician's service.

• DME drugs.

• Drugs specifically covered by statute (immunosuppressive drugs, for example).

Beginning in CY 2005, the vast majority of Medicare Part B drugs not paid on a cost or prospective payment basis are paid under the ASP methodology. The ASP methodology is based on data submitted to us quarterly by manufacturers. In addition to the payment for the drug, Medicare currently pays a dispensing fee for inhalation drugs, a furnishing fee for blood clotting factors, and a supplying fee for certain Part B drugs.

This section of the preamble discusses proposed changes and issues related to the determination of the payment amounts for covered Part B drugs and the separate payments allowable for dispensing inhalation drugs, furnishing blood clotting factor, and supplying certain other Part B drugs. This section of the preamble also discusses proposed changes in how manufacturers calculate and report ASP data to us.

1. ASP Issues

[If you choose to comment on issues in this section, please include the caption “ASP Issues” at the beginning of your comments.]

Section 303(c) of the MMA amended Title XVIII of the Act by adding new section 1847A. This new section establishes the use of the ASP methodology for payment for most drugs and biologicals not paid on a cost or prospective payment basis furnished on or after January 1, 2005. The ASP reporting requirements are set forth in section 1927(b) of the Act. Manufacturers must submit ASP data to us quarterly. The manufacturers' submissions are due to us not later than 30 days after the last day of each calendar quarter. The methodology for developing Medicare drug payment allowances based on the manufacturers' submitted ASP data is specified in the regulations in part 414, subpart K. Based on the data we receive, we update the Part B drug payment amounts quarterly.

In this section of the preamble, we discuss issues and propose changes related to the methodology manufacturers use to apply the estimate of lagged price concessions in the ASP calculation. We also discuss the submission of ASP data, including WAC, and our intent to propose, in a separate notice, the collection of additional information from manufacturers, using a revised reporting format, to ensure more accurate calculation of the Medicare payment amounts.

Also, included in this section is a discussion of the weighting methodology we follow to establish the Medicare payment amounts using the ASP data.

a. Estimation Methodology for Lagged Price Concessions

Section 1847A(c)(5)(A) of the Act states that the ASP is to be calculated by the manufacturer on a quarterly basis. As a part of that calculation, manufacturers are to take into account price concessions such as—

• Volume discounts.

• Prompt pay discounts.

• Cash discounts.

• Free goods that are contingent on any purchase requirement.

• Chargebacks.

• Rebates (other than rebates under the Medicaid drug rebate programs).

If the data on these price concessions are lagged, then the manufacturer is required to estimate costs attributable to these price concessions. Specifically, the manufacturer sums the price concessions for the most recent 12-month period available associated with all sales subject to the ASP reporting requirements. The manufacturer then calculates a percentage using this summed amount as the numerator and the corresponding total sales data as the denominator. This results in a 12-month rolling average price concession percentage that is applied to the total in dollars for the sales subject to the ASP reporting requirement for the quarter being submitted to determine the price concession estimate for the quarter. The methodology is specified in § 414.804(a)(3) and was published in the Manufacturer Submission of Manufacturer's ASP Data for Medicare Part B Drugs and Biologicals final rule published on September 16, 2004 (69 FR 55763).

Our goal is to ensure that the ASP data submitted by manufacturers reflects an appropriate estimate of lagged price concessions. Since publication of the September 16, 2004 final rule, we have identified a refinement of the ASP calculation and lagged price concession estimation methodology related to chargebacks that we believe will improve the accuracy of the estimate. As a result, we are proposing to clarify the ASP calculation in this proposed rule.

b. Price Concessions: Wholesaler Chargebacks

Wholesaler chargebacks are a type of price concession, generally paid on a lagged basis, that apply to sales to customers (for example, physicians) via a wholesaler (or distributor). Wholesaler chargeback arrangements may vary in scope and complexity. However, simply put, the wholesaler administers contract prices negotiated between the manufacturer and end purchasers (for example, physician or other health care providers), or otherwise implements pricing terms established by the manufacturer (for example, pricing that varies by type of purchaser or class of trade). The wholesaler charges the customer a certain price and charges back the manufacturer an agreed upon amount for the purposes of making up the difference between the wholesaler's price (for example, WAC) and the customer's price.

Under the current estimation methodology for lagged price concessions, total lagged price concessions, including lagged wholesaler chargebacks, for the 12-month period are divided by total sales for that same period to determine a ratio that is applied to the total sales for the reporting period. The ratio of lagged price concessions to sales is calculated over all sales, both indirect sales (sales to wholesalers and distributors and other similar entities that sells to others in the distribution chain) and direct sales (sales directly from manufacturer to providers, such as hospitals or HMOs). To the extent that the relationship between total dollars for indirect sales and total dollars for all sales is different for the reporting quarter and the 12-month period used, the current ratio methodology for estimating lagged price concessions may overstate or understate wholesaler chargebacks expected for the reporting period. A more accurate estimation of lagged price concessions would minimize the effect of quarter to quarter variations in the relationship between indirect sales and all sales.

As a result, we propose to revise § 414.804 to require manufacturers to calculate the ASP for direct sales independently from the ASP for all other sales subject to the ASP reporting requirement (indirect sales). Then, the manufacturer would calculate a weighted average of the direct sales ASP and the indirect sales ASP to submit to us. For example, for a National Drug Code (NDC), the manufacturer has 100 direct sales and 200 indirect sales. Taking into account applicable price concessions for direct sales and those for indirect sales, including use of the ratio methodology for estimating lagged price concessions, the direct sales ASP is $25, and the indirect sales ASP is $27. The weighted average of the ASPs would be as shown in this example.

We believe the weighted average of direct sales ASP and indirect sales ASP improves the overall accuracy of the ASP calculation, particularly for NDCs with significant fluctuations in the percentage of sales that are direct sales.

We are proposing conforming changes to § 414.804 for the methodology for calculating the lagged price concessions percentage. We are also proposing to revise the regulation text to clarify that the estimation ratio methodology relates to lagged price concessions. We also are proposing to define direct sales and indirect sales in § 414.802, and seek to develop definitions for these terms so that all sales subject to the ASP reporting requirement are included under these two definitions.

We seek comments about the advisability of requiring manufacturers to calculate the ASP for direct sales, including price concessions, independently from the ASP for indirect sales and then calculating a weighted average of these ASPs to submit to CMS. We also seek comments about the potential affects of this approach on the ASP as well as our proposed definitions of direct sales and indirect sales (that is, that direct sales are from manufacturer to provider or supplier, and indirect sales are the remaining sales subject to the ASP reporting requirement).

c. Determining the Payment Amount Based on ASP Data

We have received inquiries related to the formula we use to calculate the payment amount for each billing code. We posted a Frequently Asked Question on this subject on our Web site (http://www.questions.cms.hhs.gov) earlier this year. We are including this section in this preamble to ensure greater public access to this information. Our approach to calculating the payment amounts is as follows:

• For each billing code, we calculate a weighted ASP using the ASP data submitted by manufacturers.

• Manufacturers submit ASP data at the 11-digit NDC level.

• Manufacturers submit the number of units of the 11-digit NDC sold and the ASP for those units.

• We convert the manufacturers' ASP for each NDC into the ASP per billing unit by dividing the manufacturer's ASP for that NDC by the number of billing units in that NDC. For example, a manufacturer sells a box of 4 vials of a drug. Each vial contains 20 milligrams (mg). The billing code is per 10 mg. The conversion formula is: Manufacturer's ASP/[(4 vials × 20 mg)/10 mg = 8 billable units per NDC].

• Then, the ASP per billing unit and the number of units (11-digit NDCs) sold for each NDC assigned to the billing code are used to calculate a weighted ASP for the billing code. We sum the ASP per billing unit times the number of 11-digit NDCs sold for each NDC assigned to the billing code, and then divide by the total number of NDCs sold. The ASP per billing unit for each NDC is weighted equally regardless of package size.

d. Reporting WAC

In response to manufacturer's questions about reporting WAC, we posted a Frequently Asked Question on this subject on our Web site (http://www.questions.cms.hhs.gov) last year. In the posting on the Web site, we state that manufacturers must report the WAC for a single source drug or biological if it is less than the ASP for a quarter and in cases where the ASP during the first quarter of sales is unavailable. Upon further review, we have determined that the WAC must be reported each quarter if required for payment to be made under section 1847A of the Act, in addition to the ASP, if available.

Section 1927(b)(3)(A)(iii) of the Act specifies the ASP data manufacturers must report. Section 1927(b)(3)(A)(iii)(II) of the Act specifies that the manufacturer must report the WAC, if it is required in order for payment to be made under section 1847A of the Act. Under section 1847A of the Act, the payment is based on WAC (as opposed to ASP) in the following cases:

• For a single source drug or biological, when the WAC-based calculated payment is less than the ASP-based calculated payment for all NDCs assigned to such drug or biological product. (See section 1847A(b)(4) of the Act.)

• During an initial period in which data on the prices for sales for the drug or biological is not sufficiently available from the manufacturer to compute an ASP. (See section 1847A(c)(4) of the Act.)

In these instances, we must make the determination of whether the payment amount is based on ASP or WAC. Therefore, WAC is required for payment in all of these instances.

On April 6, 2004, we published the ASP reporting regulations in the Manufacturer Submission of Manufacturer's ASP Data for Medicare Part B Drugs and Biologicals interim final rule with comment (66 FR 17935-17941). In that interim final rule, we specified that manufacturers must report the ASP data to us using the template provided in Addendum A of that interim final rule. That template included the manufacturer's name, NDC, manufacturer's ASP, and number of units. The WAC was not included in the template. Therefore, in order to report the WAC, manufacturers have used several approaches. Some manufacturers have appended the WAC to the template; others have noted it in their written cover letters to their submissions. Still others have sent the WAC to us using electronic mail. Because a place for the WAC was not included in the template, it is possible that manufacturers may not have submitted the WAC even though it was required. On a few occasions, we have contacted the manufacturer to obtain the WAC when it was needed to determine the payment amount. Therefore, because of the requirement to submit the WAC and the confusion manufacturers have experienced in submitting the WAC data we will propose, in a separate information collection notice, to revise the reporting template to include a place to report WAC. See the discussion in section e. below for further details about potential changes to the reporting format.

To clarify the instances when manufacturers are required to report the WAC, in this proposed rule we are clarifying that manufacturers are required to report quarterly both the ASP and the WAC for NDCs assigned to a single source drug or biological billing code. Manufacturers are also required to report the WAC for use in determining the payment during the initial period under section 1847A(c)(4) of the Act. That is, the WAC is reported for the reporting period prior to reporting the ASP based on a full quarter of sales.

Because the WAC could change during a reporting period, we are proposing that in reporting the WAC, manufacturers would be required to report the WAC in effect on the last day of the reporting period.

e. Revised Format for Submitting ASP Data

As specified in the April 6, 2004 interim final rule, manufacturers are required to report the ASP data to us in Microsoft Excel using the specified template. As discussed above, the current template does not provide adequate instructions for manufacturers to report both the ASP and the WAC. Therefore, in a separate information collection notice that will be published at or about the same time as this proposed rule, we will propose to revise the ASP reporting format to accommodate submission of both the ASP and the WAC. We will also propose to collect the following additional information:

• Drug name.

• Package size (strength of product, volume per item, and number of items per NDC).

• Expiration date for last lot manufactured.

• Date the NDC was first marketed (for products first marketed on or after October 1, 2005).

• Date of first sale for products first sold on or after October 1, 2005.

We are mentioning the separate information collection notice in this proposed rule in order to broaden public awareness of the separate notice. The separate notice will be posted at http://www.cms.hhs.gov/regulations/pra/. The current reporting format is an approved information collection. The OMB control number is 0938-0921.

f. Limitations on ASP

Section 1847A(d)(1) of the Act states that “the Inspector General of the Department of Health and Human Services shall conduct studies, which may include surveys to determine the widely available market prices of drugs and biologicals to which this section applies, as the Inspector General, in consultation with the Secretary determines to be appropriate.” Section 1847A(d)(2) of the Act states that “Based upon such studies and other data for drugs and biologicals, the Inspector General shall compare the ASP under this section for drugs and biologicals with—

• The widely available market price for such drugs and biologicals (if any); and

• The average manufacturer price (as determined under section 1927(k)(1) for such drugs and biologicals.”

Section 1847A(d)(3)(A) of the Act states that “The Secretary may disregard the ASP for a drug or biological that exceeds the widely available market price or the average manufacturer price for such drug or biological by the applicable threshold percentage (as defined in subparagraph (B)).” The applicable threshold is specified as 5 percent for CY 2005. For CY 2006 and subsequent years, section 1847A(d)(3)(B)of the Act establishes that the applicable threshold is “the percentage applied under this subparagraph subject to such adjustment as the Secretary may specify for the widely available market price or the average manufacturer price, or both.”

For CY 2006, we propose to specify an applicable threshold percentage of 5 percent for both the widely available market price (WAMP) and average manufacturer price (AMP). The OIG is conducting its first review. However, we did not receive the OIG's final report in time for consideration before developing this proposed rule. Thus, we believe that continuing the CY 2005 threshold percentage applicable to both the WAMP and AMP is most appropriate.

2. Payment for Drugs Furnished During CY 2006 in Connection With the Furnishing of Renal Dialysis Services if Separately Billed by Renal Dialysis Facilities

[If you choose to comment on issues in this section, please include the caption “Payment for ESRD Drugs” at the beginning of your comments.]

Section 1881(b)(13)(A)(iii) of the Act indicates that payment for a drug furnished during CY 2006 and subsequent years in connection with the furnishing of renal dialysis services, if separately billed by renal dialysis facilities, will be based on the acquisition cost of the drug as determined by the OIG report to the Secretary as required by section 623(c) of the MMA or, the amount determined under section 1847A of the Act for the drug, as the Secretary may specify. In the report entitled, “Medicare Reimbursement for Existing End Stage Renal Disease Drugs,” the OIG obtained the drug acquisition costs for the top 10 ESRD drugs for the 4 largest ESRD chains as well as a sampling of the remaining independent facilities. Based on the information obtained from this report, for CY 2005, payment for the top 10 ESRD drugs billed by freestanding facilities and payment for EPO billed by hospital-based facilities was based on acquisition costs as determined by the OIG. Due to the lag in the data obtained by the OIG, we updated the acquisition costs for the top 10 ESRD drugs to 2005 by the PPI. The separately billable ESRD drugs not contained in the OIG report were paid at the ASP +6 percent for freestanding facilities. The payment allowances for these remaining drugs were updated on a quarterly basis during 2005.

Section 1881(b)(13)(A)(iii) of the Act gives the Secretary the authority to establish the payment amounts for separately billable ESRD drugs beginning in 2006 based on acquisition costs or the amount determined under section 1847A of the Act. For reasons discussed below, we do not believe that it is appropriate to continue to use 2002 acquisition costs updated by the PPI for another year as the basis for payment. The acquisition costs are based on 2002 data which, despite updates by the PPI, do not necessarily reflect current market conditions. As discussed below, the chances increase that Medicare payments will either overpay or underpay for drugs, thus, resulting in payments that are inconsistent with the goal of making accurate payments for drugs. We also considered whether actual acquisition cost data could be periodically updated. However, we do not believe that it would be feasible to base Medicare payments over the long term on continually acquiring data on actual acquisition costs from ESRD facilities. This approach would provide incentives for manufacturers and facilities to increase acquisition costs without constraint. It also would not necessarily provide data regarding current market rates. Therefore, we believe it is appropriate for the payment methodology for all ESRD drugs when separately billed by freestanding ESRD facilities during CY 2006 to be paid the amount determined under section 1847A of the Act. This payment amount is the ASP +6 percent rate.

In reaching the conclusion about establishing payment using the amount determined under section 1847A of the Act rather than actual acquisition costs, we analyzed the ASP +6 percent payment rates for all separately billable ESRD drugs, including the top 10, for both the first and second quarters of CY 2005. (We note that the ASP payment rates are updated quarterly. The new rates are made available each quarter at the following Web site: http://www.cms.hhs.gov/providers/drugs/asp.asp.). Additionally, we analyzed the CY 2005 payment rates, based on OIG data, updated by the PPI to reflect inflation as well as the potential CY 2006 payment rates, based on the OIG data, also updated by the PPI to reflect inflation for the top 10 separately billable ESRD drugs. As indicated in the “Top 10 Separately Billable ESRD Drugs” chart, the payment rates for the top 10 separately billable ESRD drugs based on the acquisition costs (as determined by the OIG), updated by the PPI would increase by 7 percent for CY 2006. In contrast, the percentage change in the ASP +6 percent payment rates for the top 10 separately billable ESRD drugs based on the first and second quarters of CY 2005 varied on a drug-by-drug basis.

Top 10 Separately Billable ESRD Drugs
Drug name | 2005 Payment rate | Estimated 2006 payment rate based on OIG data (2003 data inflated 16.2% to 2006 by the estimated PPI) | Estimated 2006 payment rate based on ASP+6 (2nd quarter 2005 rates) | Percent change in ASP +6 rates between 1st quarter and 2nd quarter 2005 (percent)
Epoetin alpha | $9.760 | $10.440 | $9.250 | −1%
Paricalcitol | $4.000 | $4.270 | $3.971 | −1
Sodium Ferric Gluconate | $4.950 | $5.290 | $4.726 | −2
Iron Sucrose | $0.370 | $0.390 | $0.365 | 1
Levocarnitine | $13.630 | $14.560 | $11.122 | −24
Doxercalciferol | $2.600 | $2.780 | $2.784 | −0.5
Calcitriol | $0.960 | $1.030 | $0.859 | 21
Iron Dextran | $10.940 | $11.700 | $11.218 | 1
Vancomycin | $2.980 | $3.190 | $3.188 | 32
Alteplase, Recombinant | $31.740 | $33.920 | $30.089 | 0

However, the percentage increases or decreases in the ASP +6 percent payment rates are relatively minimal. For example, the payment allowance for Alteplase, recombinant, J2997, decreased from first quarter 2005 to second quarter 2005 by less than 1 percent. Based on an analysis of the 2002 acquisition costs for the top 10 separately billable ESRD drugs, when updated by the PPI for CY 2006, it is our contention that relying on 2002 acquisition cost data updated for a number of years as would be necessary to establish a payment amount for 2006 is not the most appropriate option for determining Medicare payment rates when other drug-specific pricing is available. Further, we contend that relying on the ASP +6 percent as the payment rate for all separately billable ESRD drugs when billed by freestanding ESRD facilities for CY 2006 is a more reliable indicator of the market transaction prices for these drugs. The ASP is reflective of manufacturer sales for specific drug products and is more indicative of market and sales trends for those specific products than the 2002 OIG acquisition cost data.

We also note MedPAC's recommendation in its June 2005 report that the ASP be the basis of payment for all separately billable ESRD drugs provided by both freestanding and hospital-based facilities in CY 2006 (MedPAC, “Report to the Congress: Issues in a Modernized Medicare Program,” June 2005). In making this recommendation, MedPAC states that the ASP data are more current (updated quarterly), and, thus, more likely to reflect actual transaction prices, compared with acquisition cost data which are not regularly collected by the OIG or CMS. Furthermore, the report indicated that utilizing the same payment policy for both freestanding and hospital-based facilities would ensure uniformity across the various settings irrespective of the site of care. In addition, MedPAC recommends in its report that we obtain, “* * * data to estimate hospitals' costs and Medicare's payment per unit for these drugs. No published source identifies the unit payment for these drugs because Medicare pays hospitals their reasonable costs.” MedPAC further states: “We attempted to calculate the unit payment from 2003 claims data, but the accuracy of the data fields we needed to make this calculation was unclear, particularly the number of units furnished and Medicare's payment to the hospital.” MedPAC also recommends that CMS and/or OIG collect acquisition cost data periodically in the future to gauge the appropriate percentage of ASP for the payment amount.

While we acknowledge MedPAC's recommendations, we are proposing to make payment using the ASP +6 percent methodology for all separately billed ESRD drugs furnished in freestanding facilities and for EPO furnished in hospital-based facilities. Paying for EPO furnished in hospital-based facilities using the ASP +6 percent methodology is consistent with past practices where we have paid for EPO in hospital-based facilities consistent with freestanding facilities. That is, in 2005, we paid for EPO in hospital-based facilities based on acquisition costs consistent with freestanding facilities. While we are not proposing to pay for drugs other than EPO furnished in hospital-based facilities under the ASP +6 percent methodology at this time, we are interested in moving to this approach. We believe that it is more appropriate to pay for separately billed drugs furnished in hospital-based facilities under the ASP +6 percent methodology rather than on a reasonable cost basis, as we believe that there should be consistency across sites in payment for the same item or service. However, we have not made this proposal due to the lack of data regarding drug costs and expenditures associated with hospital-based ESRD payments. We have discussed a potential approach to making estimates of these costs and units. We seek comments about the estimation method discussed in section II.G. of this proposed rule or other methods or data that could be used.

Therefore, for CY 2006, we propose that payment for a drug furnished in connection with renal dialysis services and separately billed by freestanding renal dialysis facilities and EPO billed by hospital-based facilities be based on section 1847A of the Act. We propose to update the payment allowances quarterly based on the ASP reported to us by drug manufacturers. We seek comment on our proposed decision to revise the payment methodology for separately billable ESRD drugs. While we have not proposed to pay hospital-based facilities under the ASP +6 percent methodology for 2006, we seek comments about the potential method we have discussed to accomplish this policy. We also seek comment on how this proposed decision could affect beneficiaries or providers access to these drugs.

3. Clotting Factor Furnishing Fee

[If you choose to comment on issues in this section, please include the caption “Clotting Factor” at the beginning of your comments.]

Section 303(e)(1) of the MMA added section 1842(o)(5) of the Act which requires the Secretary, beginning in CY 2005 to pay a furnishing fee, in an amount the Secretary determines to be appropriate, to hemophilia treatment centers and homecare companies for the items and services associated with the furnishing of blood clotting factor. In the Revisions to Payment Policies Under the Physician Fee Schedule for Calendar Year 2005 final rule, published November 15, 2004 (69 FR 66236) we established a furnishing fee of $0.14 per unit of clotting factor for CY 2005. Section 1842(o)(5) of the Act specifies that the furnishing fee for clotting factor for years after CY 2005 will be equal to the fee for the previous year increased by the percentage increase in the consumer price index (CPI) for medical care for the 12-month period ending with June of the previous year. The CPI data for the 12-month period ending in June 2005 is not yet available. As a point of reference, we note that the percent change in the CPI for medical care for the 12-month period ending June 2004 was 5.1 percent. In the final rule, we will include the actual figure for the percent change in the CPI medical care for the 12-month period ending June 2005, and the updated furnishing fee for CY 2006 calculated based on that figure.

4. Payment for Inhalation Drugs and Dispensing Fee

[If you choose to comment on issues in this section, please include the caption “Inhalation Drugs and Dispensing Fee” at the beginning of your comments.]

Medicare Part B pays for inhalation drugs administered via a nebulizer, a covered item of DME. Medicare Part B pays for DME and associated supplies, including inhalations drugs that are necessary for the operation of the nebulizer. Metered-dose inhalers (MDIs) are another mode of delivery for inhalation drugs. MDIs are considered disposable medical equipment (for which there is no current Medicare Part B benefit category), and consequently are not currently covered under Part B. Beginning in CY 2006, coverage for MDIs will generally be available through the Medicare Part D benefit. This represents an important expansion in the options available to beneficiaries for inhalation drug coverage under Medicare. With Medicare coverage of both delivery methods available, we anticipate that physicians will choose the option that best suits a patient's particular needs consistent with the applicable standards of medical practice. We expect that both modes of inhalation drug delivery will play an important role in the Medicare program in the years to come.

Prior to CY 2004, most Medicare Part B covered drugs, including inhalation drugs, were paid at 95 percent of the AWP. Numerous studies by the OIG and General Accounting Office (GAO) indicated that 95 percent of AWP substantially exceeded suppliers' acquisition costs for Medicare Part B drugs, particularly for the high volume nebulizer drugs, albuterol and ipratropium bromide.¹ For example, supplier's acquisition costs were estimated to be 34 percent of AWP for ipratropium bromide and 17 percent of AWP for albuterol based on averaging results from a GAO and an OIG study.² The MMA changed the Medicare payment methodology for many Part B covered drugs. As an interim step, in CY 2004, Medicare paid a reduced percentage of AWP, 80 percent of AWP in the case of albuterol and ipratropium bromide. Beginning with CY 2005, Medicare paid for nebulizer drugs at 106 percent of the ASP. The move to the ASP system represented a substantial reduction in reimbursement for the high volume nebulizer drugs.

¹ GAO, “Medicare Payment for Covered Outpatient Drugs Exceed Providers' Costs,” September 2001. OIG, “Excessive Medicare Reimbursement for Albuterol,” March 2002. OIG, “Excessive Medicare Reimbursement for Ipratropium Bromide,” March 2002.

² For more details see the Interim Final Rule regarding Changes to Medicare Payment for Drugs and Physician Fee Schedule Payments for Calendar Year 2004 published in the Federal Register on January 7, 2004.

In addition to paying for the cost of the drug itself, Medicare has paid a dispensing fee for inhalation drugs. Prior to CY 2005, Medicare paid a monthly $5 dispensing fee for each covered nebulizer drug or combination of drugs used. In the Revisions to Payment Policies Under the Physician Fee Schedule for Calendar Year 2005 proposed rule, published August 5, 2004, we proposed to continue to pay a dispensing fee for these drugs. In that proposed rule, we sought comment on an appropriate dispensing fee level to cover the shipping, handling, compounding, and other pharmacy activities required to get these medications to beneficiaries.

In response to last year's proposed rule, we received a number of comments that varied substantially in terms of the dispensing fee amount that commenters thought was adequate. We received comments from a retail pharmacy that indicated that a dispensing fee of five to six times the prior $5 fee was necessary to cover costs. Another retail pharmacy indicated that a dispensing fee of $25 would be an adequate amount and would be profitable.

We also received several comments that asserted that a substantially higher fee was needed and that the dispensing fee should cover a variety of services. A number of commenters referenced an August 2004 report prepared for the American Association of Homecare (AAH) by a consultant that surveyed 104 home care agencies, which indicated that in order to maintain the CY 2004 levels of service to Medicare beneficiaries and provide an operating margin of 7 percent, Medicare would have to pay a dispensing fee of $68.10 per service encounter (service encounters they estimate occur on average every 42 days). The survey included costs for a wide range of activities including activities associated with getting the drug to the beneficiary, as well as other additional services. More specifically, the AAH data included the following cost categories:

• Clinical intake.

• Establishing and revising the plan of care.

• Care coordination.

• Patient education.

• Caregiver training.

• Compliance monitoring/refill calls.

• In-home visits.

• Delivery of services.

• Billing/collections.

• Other costs (not specified by AAH).

As an example, the AAH data indicated that inhalation drug suppliers spent on average about 29 minutes per new patient on patient education and caregiver training and continued to spend on average about 17 minutes per month for each established patient on patient education and caregiver training. The data also indicated that suppliers spent on average about 23 minutes per patient each month on in-home visits, with there being substantial variation in the provision of this service. A number of commenters asserted that these and other services included in the AAH data were important to the provision of inhalation drugs, and should be paid for by Medicare.

Between publication of the August 5, 2004 proposed rule and the November 15, 2004 final rule, the GAO released a report based on a survey of 12 inhalation therapy companies, representing 42 percent of the market, which indicated wide variation across companies in the patient monthly cost of dispensing inhalation drugs from a low of $7 to a high of $204.³ The GAO report indicated that the wide variation in supplier costs is due, in part, to variation in the services suppliers offer and that some of the costs incurred by suppliers may not be necessary to dispense inhalation drugs, for example, marketing, overnight shipping, and 24-hour hotlines.

³ GAO, “Appropirate Dispensing Fee Needed for Suppliers of Inhalation Therapy Drugs,” GAO-05-72, October 2004.

In light of the substantial changes occurring in inhalation drug reimbursement in 2005, we viewed 2005 as a transitional year. With the wide variation in the reported costs and services provided by inhalation drug suppliers suggested by the comments and the GAO study, we stated in last year's final rule that we would establish an interim dispensing fee for inhalation drugs applicable for CY 2005 and reconsider the issue for CY 2006. The 2005 dispensing fee for a 30-day supply of inhalation drugs was based on the industry recommended $68 fee from AAH study, excluding certain costs that Medicare generally does not reimburse regardless of the scope of the Medicare benefit (that is, sales and marketing, bad debt, and an explicit profit margin). The resulting fee established for a 30-day supply of inhalation drugs was $57 for CY 2005. This CY 2005 fee substantially exceeded some providers' costs as reflected in a few comments on last year's proposed rule and the GAO study. For example, as noted previously, we received comments from two retail pharmacy companies indicating that a fee of $25 or a fee of five to six times the prior $5 fee was adequate to cover costs. Because the AAH study did not include cost data for a 90-day supply, we applied the methodology used in the GAO report to convert the 30-day fee to a 90-day fee. The 2005 fee established for a 90-day supply was $80. In using the AAH data to establish an interim fee for dispensing for CY 2005, we indicated in last year's final rule that we were concerned that some of the services included in the AAH study may be outside the scope of a dispensing fee and that we would consider this issue further in order to establish an appropriate dispensing fee for CY 2006.

Authority for a dispensing fee for inhalation drugs is based on section 1842(o)(2) of the Act. This section of the Act stipulates that if payment is made to a licensed pharmacy for a drug or biological under Medicare Part B, the Secretary may pay a dispensing fee (less the applicable deductible and coinsurance) to the pharmacy. The statute does not define “dispensing fee.” As noted above, the AAH data on which the 2005 dispensing fee is based includes a wide range of cost categories. The cost categories include basic pharmacy services such as delivery of drugs, as well as other services such as in-home visits. We are soliciting comments on what services appropriately fall within the scope of a dispensing fee, the cost of providing those services, and whether any of the services being provided by inhalation drug suppliers may be covered through another part of the Medicare program, such as the physician fee schedule or the DME benefit. We intend to establish a dispensing fee amount for 2006 that is adequate to cover the costs of those services that appropriately fall within the scope of a dispensing fee, and we think that it is likely that this fee amount will be lower than the 2005 level. As discussed previously, we believe that 2005 was a transition year. Payment for inhalation drugs in 2005 was reduced from a percentage of AWP to 106 percent of ASP and the 2005 dispensing fee was set at a much higher level than previously paid based on the limited information available and taking into account the transition. Additional changes will occur in 2006 because the implementation of the Medicare prescription drug benefit will expand coverage options for inhalation drugs to include metered dose inhalers under Medicare Part D. As noted above, we expect that physicians will choose the treatment option that best suits a particular beneficiary's needs and that both nebulizers and metered-dose inhalers will play an important role in the Medicare program. We do not know what the effect will be of this upcoming expansion of inhalation drug coverage options, but we believe it is important that this second transitional year be as smooth as possible. We are seeking comments on an appropriate dispensing fee level for 2006. We also seek data and information on the various services inhalation drug suppliers are currently providing to Medicare beneficiaries and the associated costs. Furthermore, we are also soliciting comments on how inhalation drug suppliers have utilized the newly available 90-day scripts in order to reduce unit shipping costs and any reasons as to why 90-day supplies may not have been utilized. We also seek information on how revised guidelines regarding the time frame for delivery of refills has affected the need for overnight delivery services. We are interested in comments that detail the extent to which suppliers have shifted their shipping to ground services.

CMS takes quality of care seriously and we have been implementing a number of quality initiatives such as the chronic care improvement program. We expect that Medicare beneficiaries receive high quality care, and we seek data and information on any efforts by inhalation drug suppliers to measure patient outcomes. Furthermore, we seek comments and additional information about what are typical dispensing costs for an efficient, high-quality supplier. Finally, we seek comment on the potential impact on beneficiaries and providers of possible changes to the inhalation drug dispensing fee in 2006, as well as the impact of the new drug benefit on inhalation drug access.

5. Supplying Fee

[If you choose to comment on issues in this section, please include the caption “Supplying Fee” at the beginning of your comments.]

Section 303(e)(2) of the MMA added section 1842(o)(6) of the Act that requires the Secretary to pay a supplying fee (less applicable deductible and coinsurance) to pharmacies for certain Medicare Part B drugs and biologicals, as determined appropriate by the Secretary. The types of Medicare Part B drugs and biologicals eligible for a supplying fee are immunosuppressive drugs described in section 1861(s)(2)(J) of the Act, oral anticancer chemotherapeutic drugs described in section 1861(s)(2)(Q) of the Act, and oral anti-emetic drugs used as part of an anticancer chemotherapeutic regimen described in section 1861(s)(2)(T) of the Act.

Beginning with CY 2005, we established a supplying fee of $24 per prescription for these categories of drugs, with a higher fee of $50 for the initial oral immunosuppressive prescription supplied in the first month after a transplant. When multiple drugs are supplied to a beneficiary, a separate supplying fee is paid for each prescription, except when different strengths of the same drug are supplied on a single day. In the November 15, 2004 final rule, we indicated that we were establishing a supplying fee that was higher than that of other payers due to the lack of on-line claims adjudication for Medicare Part B oral drugs. Other than the cost of billing Medicare Part B, we indicated that we did not believe there were any other significant cost differences between Medicare and other payers that justified a higher Medicare supplying fee for these drugs. We noted in last year's final rule that many other payers with online adjudication have dispensing fees in the range of $5 to $10 per prescription. We also indicated that we had received comments that the average cost to a pharmacy to dispense a non-Medicaid third party or cash prescription for those drugs ranges anywhere from $7.50 to $8.00.

When multiple drugs are supplied to a beneficiary on the same day or in the same month, current policy is to pay a full supplying fee for each additional drug. As mentioned previously, we established a supplying fee higher than that of other payers to compensate for the added costs associated with our lack of online claims adjudication. However, in situations where multiple drugs are supplied to a beneficiary during the same month, many of which are likely to be supplied on the same day, we are concerned that we are overpaying for the costs associated with our lack of online claims adjudication. We believe that there are likely to be substantial economies of scale and that the burden associated with our lack of online claims adjudication would be relatively similar whether one prescription or multiple prescriptions were supplied during the same month.

Consequently, in § 414.1001 (Basis of payment), we are proposing changes to the supplying fee for multiple prescriptions supplied during the same month. We would continue paying $24 for the first prescription supplied during a month (or $50 for the first oral immunosuppressive prescription supplied in the first month after a transplant). We believe that this $24 supplying fee for the first prescription would adequately compensate a supplier for the billing costs associated with the lack of on-line claims adjudication, and that the cost of supplying additional prescriptions in the same month should be comparable to that of other payers. Therefore, in that same section, we are proposing to pay a supplier an $8 supplying fee per prescription for any prescription, after the first one, that that supplier provided to a beneficiary during a month. If a beneficiary obtained prescriptions at two separate pharmacies during a one-month period, each pharmacy would be paid a $24 fee for the first drug it supplied and an $8 fee per prescription for any subsequent prescriptions during the month.

We are also proposing to expand the circumstances under which we pay supplying fees for multiple prescriptions filled on the same day. Currently, we pay a supplying fee for each prescription supplied on the same day as long as the prescriptions are for different drugs. We are now proposing to pay a supplying fee for each prescription, even if the prescriptions are for different strengths of the same drug. This change is intended to recognize the costs involved in filling separate prescriptions for different strengths of a drug. For example, if two prescriptions were supplied on a single day and they were for different strengths of the same drug, we are proposing to pay a supplying fee of $24 for the first prescription and a supplying fee of $8 for the second prescription.

Our goal is to ensure that each beneficiary who needs covered oral drugs has access to those medications while maintaining our fiduciary responsibility to pay appropriately for Medicare covered services. We seek comments about the appropriateness of our proposed supplying fee for multiple prescriptions supplied during a single month. We also seek data and information about the incremental costs of supplying additional prescriptions to a Medicare beneficiary during a single month, as well as data and information about how pharmacy costs and reimbursement for supplying oral drugs under Medicare compares to that of other payers.

I. Private Contracts and Opt-Out Provision

[If you choose to comment on issues in this section, please include the caption “PRIVATE CONTRACTS AND OP-OUT” at the beginning of your comments.]

Section 4507 of the BBA of 1997 amended section 1802 of the Act to permit certain physicians and practitioners to opt-out of Medicare if certain conditions were met, and to provide through private contracts services that would otherwise be covered by Medicare. Under these private contracts, the mandatory claims submission and limiting charge rules of section 1848(g) of the Act would not apply. The amendments to section 1802 of the Act, which were effective on January 1, 1998, made the provisions of the Medicare statute that would ordinarily preclude physicians and practitioners from contracting privately with Medicare beneficiaries to pay without regard to Medicare limits inapplicable if the conditions necessary for an effective “opt-out” are met.

When a physician or practitioner fails to maintain the conditions necessary for opt-out and does not take good faith efforts to correct his or her failure to maintain opt-out, current regulations at § 405.435(b) specify the consequences to that physician or practitioner for the remainder of that physician's or practitioner's 2-year opt-out period. However, § 405.435(b) describes a situation where the Medicare carrier notifies the physician or practitioner that he or she is violating the regulations and the statute. The current regulations do not address the consequences to physicians and practitioners in situations when a condition resulting in failure to maintain opt-out occurs during the 2-year opt-out period, but a Medicare carrier does not discover or give notice of a physician's or practitioner's failure to maintain opt-out during the 2-year opt-out period. Therefore, we are proposing to amend § 405.435 in order to clarify that the consequences specified in § 405.435(b) for the failure on the part of a physician or practitioner to maintain opt-out will apply regardless of whether or when a carrier notifies a physician or practitioner of the failure to maintain opt-out. We are also proposing to add a new paragraph (d) to clarify that in situations where a violation of § 405.435(a) is not discovered by the carrier during the 2-year opt-out period when the violation actually occurred, then the requirements of § 405.435(b)(1) through (b)(8) would be applicable from the date that the first violation of § 405.435(a) occurred until the end of the opt-out period during which the violation occurred (unless the physician or practitioner takes good faith efforts to restore opt-out conditions, for example, by refunding the amounts in excess of the charge limits to beneficiaries with whom he or she did not sign a private contract). These good faith efforts must be made within 45 days of any notice by the carrier that the physician or practitioner has failed to maintain opt-out (where the carrier discovers the failure after the two-year opt-out period has expired), or within 45 days after the physician or practitioner has discovered the failure to maintain opt-out, whichever is earlier.

J. Multiple Procedure Reduction for Diagnostic Imaging

[If you choose to comment on issues in this section, please include the caption “MULTIPLE PROCEDURE REDUCTION” at the beginning of your comments.]

Medicare has a longstanding policy of reducing payment for multiple surgical procedures performed on the same patient, by the same physician, on the same day. In those cases, full payment is made for the highest priced procedure and each subsequent procedure is paid at 50 percent. Effective January 1, 1995, the multiple procedure policy, with the same reductions, was extended to nuclear medicine diagnostic procedures (CPT codes 78306, 78320, 78802, 78803, 78806 and 78807). In the Medicare Program Physician Fee Schedule for Calendar Year 1995 final rule, published on December 8, 1994 (59 FR 63410), we indicated that we would consider applying the policy to other diagnostic tests in the future.

Under the PFS, diagnostic imaging procedures are priced in the following three ways:

• The professional component (PC) represents the physician work, that is, the interpretation.

• The TC represents practice expense, that is, clinical staff, supplies, and equipment.

• The global service represents both PC and TC. Generally, diagnostic imaging procedures even those performed on contiguous body parts are paid at 100 percent for each procedure. For example, the TC payment is approximately $978 for a magnetic resonance imaging (MRI) of the abdomen (without and with dye), and $529 for an MRI of the pelvis (with dye) (CPT codes 74183 and 72196, respectively), even when both procedures are performed in a single session.

Under the resource-based PE methodology, specific PE inputs of clinical labor, supplies and equipment are used to calculate PE RVUs for each individual service. We do not believe these same inputs are needed to perform subsequent procedures. When multiple images are acquired in a single session, most of the clinical labor activities and most supplies are not performed or furnished twice. Specifically, we consider that the following clinical labor activities are not duplicated for subsequent procedures:

• Greeting the patient.

• Positioning and escorting the patient.

• Providing education and obtaining consent.

• Retrieving prior exams.

• Setting up the IV.

• Preparing and cleaning the room.

In addition, we consider that supplies, with the exception of film, are not duplicated for subsequent procedures. Equipment time and indirect costs are allocated based on clinical labor time; therefore, these inputs should be reduced accordingly.

Excluding the above practice expense inputs, along with the corresponding portion of equipment time and indirect costs, supports a 50 percent reduction in the payment for the TC of subsequent procedures. Applying this reduction to the two procedures indicated above would result in a full payment of $978 for the highest priced procedure, and a reduced payment of $264.50 (50 percent × $529) for the second procedure. This same calculation is currently used for the multiple procedure payment reduction for surgery. We are not proposing to apply a multiple procedure reduction to PC services at this time because we believe physician work is not significantly affected for multiple procedures.

The global service payment equals the combined PC and TC components. When the global service code is billed for these procedures, the TC would be reduced the same as above, but the PC would be paid in full at $117 and $90 for codes 74183 and 72196, respectively.

In our view, duplicate payment is currently being made for the TC of multiple diagnostic imaging services, particularly when contiguous body parts are viewed in a single session. The Medicare Payment Advisory Commission (MedPAC) supports this reduction in its March 2005 Report to the Congress on Medicare Payment Policy.

We have identified 11 families of imaging procedures by imaging modality (ultrasound, CT and computed tomographic angiography (CTA), MRI and magnetic resonance angiography (MRA) and contiguous body area (for example, CT and CTA of Chest/Thorax/Abdomen/Pelvis). MedPAC pointed out that Medicare's payment rates are based on each service being provided independently and that the rates do not account for efficiencies that may be gained when multiple studies using the same imaging modality are performed in the same session. Those efficiencies are more likely when contiguous body areas are the focus of the imaging because the patient and equipment have already been prepared for the second and subsequent procedures, potentially yielding resource savings in areas such as clerical time, technical preparation, and supplies. Using billing data, we identified a number of contiguous body areas for which imaging is performed during the same session. Next, because our proposed discounting policies are based on the expectation that facilities will achieve savings by not having to expend more than once, many of the resources associated with performance of a second, and any subsequent procedures, we organized the families by imaging modality.

We propose extending the multiple procedure payment reduction to TC only services and the TC portion of global services for the procedures in Table 29, below. At this time, we propose applying the reduction only to procedures involving contiguous body parts within a family of codes, not across families. For example, the reduction would not apply to an MRI of the brain (CPT 70552) in code family 5, when performed in the same session as an MRI of the neck and spine (CPT 72142) in code family 6. When multiple procedures within the same family are performed in the same session, we propose making full payment for the TC of the highest priced procedure and payment at 50 percent of the TC for each additional procedure. The following is an example of the current and proposed payments:

| 74183 | 72196 | Total current payment | Total proposed payment | Payment calculation
PC | $117.00 | $90.00 | $207.00 | $207.00 | no reduction.
TC | $978.00 | $530.00 | $1,507.00 | $1,243 | $978 + (.5 × $530)
Global | $1,095.00 | $620.00 | $1,714.00 | $1,450 | $207 + $978 + (.5 × $530)

Table 29.—Diagnostic Imaging Services
Family 1 Ultrasound (Chest/Abdomen/Pelvis—Non-Obstetrical
76604 | Ultrasound exam, chest, b-scan
76645 | Ultrasound exam, breast(s)
76700 | Ultrasound exam, abdom, complete
76705 | Echo exam of abdomen
76770 | Ultrasound exam abdo back wall, comp
76775 | Ultrasound exam abdo back wall, lim
76778 | Ultrasound exam kidney transplant
76830 | Transvaginal Ultrasound, non-ob
76831 | Echo exam, uterus
76856 | Ultrasound exam, pelvic, complete
76857 | Ultrasound exam, pelvic, limited
Family 2 CT and CTA (Chest/Thorax/Abd/Pelvis)
71250 | CT thorax w/o dye
71260 | CT thorax w/ dye
71270 | CT thorax w/o & w/ dye
71275 | CTA, chest
72191 | CTA, pelv w/o & w/ dye
72192 | CT pelvis w/o dye
72193 | CT pelvis w/ dye
72194 | CT pelvis w/o & w/ dye
74150 | CT abdomen w/o dye
74160 | CT abdomen w/ dye
74170 | CT abdomen w/o & w/ dye
74175 | CTA, abdom w/o & w/ dye
75635 | CTA abdominal arteries
0067T | CT colonography; dx
Family 3 CT and CTA (Head/Brain/Orbit/Maxillofacial/Neck)
70450 | CT head/brain w/o dye
70460 | CT head/brain w/ dye
70470 | CT head/brain w/o & w/ dye
70480 | CT orbit/ear/fossa w/o dye
70481 | CT orbit/ear/fossa w/ dye
70482 | CT orbit/ear/fossa w/o & w/ dye
70486 | CT maxillofacial w/o dye
70487 | CT maxillofacial w/ dye
70488 | CT maxillofacial w/o & w/ dye
70490 | CT soft tissue neck w/o dye
70491 | CT soft tissue neck w/ dye
70492 | CT soft tissue neck w/o & w/ dye
70496 | CTA, head
70498 | CTA, neck
Family 4 MRI and MRA (Chest/Abd/Pelvis)
71550 | MRI chest w/o dye
71551 | MRI chest w/ dye
71552 | MRI chest w/o & w/ dye
71555 | MRI angio chest w/ or w/o dye
72195 | MRI pelvis w/o dye
72196 | MRI pelvis w/ dye
72197 | MRI pelvis w/o &w/ dye
72198 | MRI angio pelvis w/ or w/o dye
74181 | MRI abdomen w/o dye
74182 | MRI abdomen w/ dye
74183 | MRI abdomen w/o and w/ dye
74185 | MRI angio, abdom w/ or w/o dye
Family 5 MRI and MRA (Head/Brain/Neck)
70540 | MRI orbit/face/neck w/o dye
70542 | MRI orbit/face/neck w/ dye
70543 | MRI orbit/face/neck w/o & w/dye
70544 | MRA head w/o dye
70545 | MRA head w/dye
70546 | MRA head w/o & w/dye
70547 | MRA neck w/o dye
70548 | MRA neck w/dye
70549 | MRA neck w/o & w/dye
70551 | MRI brain w/o dye
70552 | MRI brain w/dye
70553 | MRI brain w/o & w/dye
Family 6 MRI and MRA (spine)
72141 | MRI neck spine w/o dye
72142 | MRI neck spine w/dye
72146 | MRI chest spine w/o dye
72147 | MRI chest spine w/dye
72148 | MRI lumbar spine w/o dye
72149 | MRI lumbar spine w/dye
72156 | MRI neck spine w/o & w/dye
72157 | MRI chest spine w/o & w/dye
72158 | MRI lumbar spine w/o & w/dye
Family 7 CT (spine)
72125 | CT neck spine w/o dye
72126 | CT neck spine w/dye
72127 | CT neck spine w/o & w/dye
72128 | CT chest spine w/o dye
72129 | CT chest spine w/dye
72130 | CT chest spine w/o & w/dye
72131 | CT lumbar spine w/o dye
72132 | CT lumbar spine w/dye
72133 | CT lumbar spine w/o & w/dye
Family 8 MRI and MRA (lower extremities)
73718 | MRI lower extremity w/o dye
73719 | MRI lower extremity w/dye
73720 | MRI lower ext w/ & w/o dye
73721 | MRI joint of lwr extre w/o dye
73722 | MRI joint of lwr extr w/dye
73723 | MRI joint of lwr extr w/o & w/dye
73725 | MRA lower ext w or w/o dye
Family 9 CT and CTA (lower extremities)
73700 | CT lower extremity w/o dye
73701 | CT lower extremity w/dye
73702 | CT lower extremity w/o & w/dye
73706 | CTA lower ext w/o & w/dye
Family 10 Mr and MRI (upper extremities and joints)
73218 | MRI upper extr w/o dye
73219 | MRI upper extr w/dye
73220 | MRI upper extremity w/o & w/dye
73221 | MRI joint upper extr w/o dye
73222 | MRI joint upper extr w/dye
73223 | MRI joint upper extr w/o & w/dye
Family 11 CT and CTA (upper extremities)
73200 | CT upper extremity w/o dye
73201 | CT upper extremity w/dye
73202 | CT upper extremity w/o & w/dye
73206 | CTA upper extr w/o & w/dye

K. Therapy Cap

[If you choose to comment on issues in this section, please include the caption “THERAPY CAP” at the beginning of your comments.]

Section 1833(g)(1) of the Act applies an annual, per beneficiary combined cap on outpatient physical therapy (PT) and speech-language pathology services, and a similar separate cap on outpatient occupational therapy services under Medicare Part B. This cap was added by section 4541 of the BBA 1997, Pub. L. 105-33. However, the application of the caps was suspended from CY 2000 through CY 2002 under section 1833(g)(4) of the Act by section 221 of the of BBRA 1999, Pub. L. 106-113, and extended by section 421 of BIPA 2000, Pub. L. 105-551. The caps were implemented from September 1, 2003 through December 7, 2003. Section 624 of the MMA reinstated the moratorium on the application of these caps from December 8, 2003 through December 31, 2005. Thus, the caps will again become effective beginning January 1, 2006.

Section 1883(g)(2) of the Act provides that, for 1999 through 2001, the caps were both $1500, and for years after 2001, the caps are equal to the preceding year's cap increased by the percentage increase in the MEI (except that if an increase for a year is not a multiple of $10, it is rounded to the nearest multiple of $10). We will publish the dollar amount for therapy caps in the final rule, when the MEI is available. Based on the April 4, 2005 MEI estimate, the estimated value of therapy caps for 2006 would be $1,750.

L. Chiropractic Services Demonstration

[If you choose to comment on issues in this section, please include the caption “CHIROPRACTIC SERVICES” at the beginning of your comments.]

Section 1861(r)(5) of the Act limits current Medicare coverage for chiropractic treatment by means of the manual manipulation of the spine for the purpose of correcting a subluxation, defined generally as a malfunction of the spine. Specifically, Medicare covers three CPT Codes provided by chiropractors: 98940 (manipulative treatment, 1-2 regions of the spine), 98941 (manipulative treatment, 3-4 regions of the spine), and 98942 (manipulative treatment, 5 regions of the spine). Treatment must be provided for an active subluxation only, and not for prevention or maintenance. Additionally, treatment of the subluxation must be related to a neuromusculoskeletal condition where there is a reasonable expectation of recovery or functional improvement.

Section 651 of the MMA provides for a 2-year demonstration to evaluate the feasibility and advisability of covering chiropractic services under Medicare. These services extend beyond the current coverage for manipulation to care for neuromusculoskeletal conditions typical among eligible beneficiaries, and will cover diagnostic and other services that a chiropractor is legally authorized to perform by the State or jurisdiction in which the treatment is provided. Physician approval will not be required for these services. The demonstration must be budget neutral and will be conducted in four sites, two rural and two urban. One site of each area type must be a health professional shortage area (HPSA).

On January 28, 2005, we published a notice in the Federal Register (70 FR 4130) describing the covered services and site selection for this demonstration. As recognized in the notice, the statute requires the Secretary to ensure that aggregate payments made under the Medicare program do not exceed the amount that would have been paid under the Medicare program in the absence of this demonstration.

Ensuring budget neutrality requires that the Secretary develop a strategy for recouping funds should the demonstration result in costs higher than would occur in the absence of the demonstration. In this case, we stated we would make adjustments in the national chiropractor fee schedule to recover the costs of the demonstration in excess of the amount estimated to yield budget neutrality. We indicated that we will assess budget neutrality by determining the change in costs based on a pre/post comparison of costs and the rate of change for specific diagnoses that are treated by chiropractors and physicians in the demonstration sites and control sites. We will not limit our analysis to reviewing only chiropractor claims, because the costs of the expanded chiropractor services may have an impact on other Medicare costs.

We anticipate that any necessary reduction will be made in the 2010 and 2011 fee schedules because it will take approximately 2 years to complete the claims analysis. If we determine that the adjustment for budget neutrality is greater than 2 percent of spending for the chiropractor fee schedule codes (comprised of the 3 currently covered CPT codes 98940, 98941 and 98942), we will implement the adjustment over a 2-year period. However, if the adjustment is less than 2 percent of spending under the chiropractor fee schedule codes, we will implement the adjustment over a 1-year period. We will include the detailed analysis of budget neutrality and the proposed offset in the 2009 Federal Register publication of the PFS.

PT services that are performed by chiropractors under the demonstration will be included under the PT cap described in section J above. We are including these services under the cap because chiropractors are subject to the same rules as medical doctors for therapy services under the demonstration. Therefore these services should be included under the therapy cap. See our Web site http://www.cms.hhs.gov/researchers/demos/eccs/ for additional information concerning the chiropractic services demonstration.

M. Supplemental Payments to Federally Qualified Health Centers (FQHCs) Subcontracting With Medicare Advantage Plans

[If you choose to comment on issues in this section, please include the caption “SUPPLEMENTAL PAYMENTS—FQHCS” at the beginning of your comments.]

Title II of the MMA established the Medicare Advantage (MA) program. The MA program replaces the Medicare+Choice (M+C) program established under Part C of the Act. Although the MA program retains many key features of the M+C program, it includes several new features, such as the availability of a regional MA plan option. Regional MA plans must be preferred provider organization (PPO) plans.

Section 237 of the MMA amended section 1833(a)(3) of the Act to provide supplemental payments to FQHCs that contract with MA organizations to, in general, cover the difference, if any, between the payment received by the health center for treating enrollees in MA plans offered by the MA organization and the payment that the FQHC is entitled to receive under the cost-based all-inclusive payment rate as set forth in part 405, subpart X. This new supplemental payment for covered Medicare FQHC services furnished to MA enrollees augments the direct payments made by MA Plans to FQHCs for covered Medicare FQHC services. Medicare's obligation to provide supplemental payments to FQHCs applies to centers with direct or indirect subcontract arrangements following a written agreement with MA organizations.

Centers eligible for supplemental payments under section 1833(a)(3) of the Act, as revised by Section 237 of the MMA, include any facility qualified to furnish FQHC services described in section 1832(a)(2)(D) of the Act. Only the following entities are qualified to furnish FQHC services: (1) entities receiving a grant under section 330 (other than subsection (h)) of Public Health Services Act or receiving funding from this grant under a contract with its recipient and meets the requirements to receive this grant; (2) entities determined by the Secretary to meet the requirements for receiving this grant; (3) entities treated by the Secretary, for purposes of Part B, as a comprehensive Federally funded health center as of January 1, 1990; or (4) an outpatient health program or facility operated by a tribe or tribal organization receiving funds under title V of Indian Health Care Improvement Act.

In order to implement this new payment provision, CMS must determine whether the Medicare cost-based payments that the FQHC would be entitled to exceed the amount of payments received by the center from the MA organization and, if so, pay the difference to the FQHC at least quarterly. In determining the supplemental payment, the statute also excludes in the calculation of the supplemental payments any financial incentives provided to FQHCs under their MA arrangements, such as risk pool payments, bonuses, or withholds.

Managed care organizations frequently use financial incentives in their contracts with providers to reduce unnecessary utilization of services. These incentives may be negative, such as withholding a portion of the capitation payments, if utilization goals are not satisfied. Incentives may also be positive, such as a bonus payment if utilization outcomes are achieved. In both cases, these incentives (whether positive or negative) are separate from the MA organization's payment for services provided under its direct or indirect contract with the FQHC and are prohibited by statute from being included in our calculation of supplemental payments due to the Medicare FQHC. In other words, in determining the difference between payments from the MA organization to the FQHC and what the FQHC will receive on a cost basis, we are precluded from using the incentive payments in the calculation of the FQHC supplemental payment. Only capitated per month per beneficiary or fee-for-service payments from the MA plan for services furnished to MA enrollees are included in the calculations of the rate differential.

Under original Medicare, each center is paid an all-inclusive per visit rate based on its reasonable costs as reported in the FQHC cost report. The payment is calculated, in general, by dividing the center's total allowable cost by the total number of visits for FQHC services. At the beginning of the rate year, the Medicare Fiscal Intermediary (FI) calculates an interim rate based on estimated allowable costs and visits from the center if it is new to the FQHC program or actual costs and visits from the previous cost reporting period for existing FQHCs. The center's interim rate is reconciled to actual reasonable costs at the end of the cost reporting period.

Proposed Payment Methodology

We are proposing a supplemental payment method based on a per visit calculation subject to an annual reconciliation. The supplemental payment for FQHC covered services rendered to MA enrollees is equal to the difference between 100 percent of the FQHC's all-inclusive cost-based per visit rate and the average per visit rate received by the center from the MA plan in which the enrollee is enrolled, less any amount the FQHC may charge as described in section 1857(e)(3)(B) of the Act. Each center will be required to submit (for the first rate year) to the intermediary an estimate of the average MA payment per visit for covered FQHC services. Every eligible center will be required to submit a detailed estimate of its average per visit payment for enrollees in each MA plan offered by the MA organization and any other information as may be required to enable the intermediary to accurately establish an interim supplemental payment, which will be the difference between the estimated MA per visit payment rate and the center's interim all-inclusive cost-based per visit rate. Expected payments from the MA plan will only be used until actual MA revenue and visits can be collected on the center's FQHC cost report. The interim and final supplemental payment amount will vary by center depending on its current Medicare reimbursement rates and its contractual arrangements with MA plans.

Effective January 1, 2006, eligible FQHCs will report actual revenue received from the MA plan and visits on their cost reports. At the end of the cost reporting period the FI would use actual MA revenue and visit data along with the FQHCs' final all-inclusive payment rate, to determine the center's final actual supplemental per visit payment for enrollees in the relevant MA plan. This will serve as the interim rate for the subsequent rate year. Actual aggregated supplemental payments will then be reconciled with aggregated interim supplemental payments, and any underpayment or overpayment thereon will then be accounted for in determining final Medicare FQHC program liability at cost settlement. Necessary changes will be made to the FQHC cost report to effectuate the calculation of the supplemental rate.

A supplemental payment will be made every time a face-to-face encounter occurs between a MA enrollee and any one of the following FQHC covered core practitioners: physicians, NPs, PAs, clinical nurse midwives, clinical psychologists, or clinical social workers. The supplemental payment is made directly to each qualified center through the Medicare FI. Each center is responsible for submitting Medicare claims with the proper codes for these visits. Necessary changes will be made to the instructions for the FQHC claim form to effectuate the billing and payment of supplemental payments.

To conform our regulations to the statute, we are proposing to add § 405.2469 to specify the per visit payment methodology for making supplemental payments to FQHCs under contract (directly or indirectly) with MA organizations.

N. National Coverage Decisions Timeframes

[If you choose to comment on issues in this section, please include the caption “NCD TIMEFRAMES” at the beginning of your comments.]

We have established requirements concerning the administrative review of local coverage determinations (LCDs) and National Coverage Determinations (NCDs) at 42 CFR part 426, with subpart C specifically addressing the general provisions for the review of LCDs and NCDs. Under our existing regulations in part 426, subpart C, the Departmental Appeals Board may stay the adjudicatory proceedings in certain circumstances to allow CMS to consider significant new evidence that is submitted in the context of a challenge to an NCD. Our previous regulations at § 426.340(e), permitted a brief stay of the adjudicatory proceedings (not more than 90 days), for CMS to complete its reconsideration of the NCD. Those time frames, although short, were consistent with the previous process for making NCDs that did not require publication of a proposed decision memorandum and an opportunity for public comment on the proposed decision memorandum.

Section 731 of the MMA of 2003 modifies certain timeframes in the NCD review process. Specifically, the MMA amended section 1862(l) of the Act to specify that for NCD requests not requiring an external technology assessment (TA) or Medicare Coverage Advisory Committee (MCAC) review, the decision on the request shall be made not later than 6 months after the date the request is received. For those NCD requests requiring either an external TA or MCAC review, where a clinical trial is not requested, the decision on the request must be made not later than 9 months after the date the request is received.

Furthermore, section 731 of the MMA stipulates that not later than the end of the 6 or 9 month period described above, a draft of the proposed decision must be made available on the CMS website (or other appropriate means) for public comment. This comment period will last 30 days. Comments will be reviewed and a final decision will be issued not later than 60 days after the conclusion of the comment period. A summary of the public comments received and responses to the comments will continue to be included in the final NCD.

In light of the procedural change made by section 731 of the MMA that requires a public comment period before we can issue a final determination for NCDs, we are proposing to amend § 426.340 to reflect the new timeframes in the MMA. The regulation is amended to state that if the CMS informs the Board that a revision or reconsideration was or will be initiated, then the Board will stay the proceedings and set appropriate timeframes by which the revision or reconsideration will be completed, that reflects sufficient time for the publication of a proposed determination, a thirty day public comment period, and time for CMS to prepare a final determination that responds to public comments as specified in section 1862(l) of the Act. Subsequently, the reference to the 90 day reconsideration period in § 426.340(e)(3) will be eliminated for NCD appeals to reflect the new timeframes in the MMA. The LCD timeframes will not be affected by this change.

O. Coverage of Screening for Glaucoma

[If you choose to comment on issues in this section, please include the caption “COVERAGE OF SCREENING—GLAUCOMA” at the beginning of your comments.]

On January 1, 2002, we implemented regulations at § 410.23(a)(2), Conditions for and limitations on coverage of screening for glaucoma, requiring that the term “eligible beneficiary” be defined to include individuals in the following high risk categories: (i) Individual with diabetes mellitus; (ii) Individual with a family history of glaucoma; or (iii) African-Americans age 50 and over. Based on our review of the current medical literature, we believe that there are other beneficiaries who are at risk for glaucoma and should be included in the definition of eligible beneficiary for purposes of the glaucoma screening benefit.

The Eye Diseases Prevalence Research Group recently reviewed the literature on the prevalence of glaucoma in adults in the United States (Arch Ophthalmol 2004; 122:532-538) and provided separate data for Hispanic persons. They reported that Hispanic subjects had a marked higher prevalence in the oldest age group. After controlling for age and gender, rates of open angle glaucoma in Hispanic persons did not differ significantly from that among whites, except for those age 65 years and older. The prevalence of open angle glaucoma in Hispanic persons age 65 years and older was significantly higher than among whites. Overall, Hispanic subjects had a significantly lower prevalence of open angle glaucoma than African-Americans. One notable limitation of this review article is that the data on Hispanic persons came from a single study of mostly Mexican-born Hispanics from Arizona (Quigley HA et al. The prevalence of glaucoma in a population based study of Hispanic subjects: proyecto VER. Ann Ophthalmol 2001; 119:1819-1825). We believe the evidence is adequate to conclude that Hispanic persons age 65 and older are at high risk and could benefit from glaucoma screening.

Therefore in § 410.23(a)(2), we are proposing to revise the definition of an eligible beneficiary to include Hispanic Americans age 65 and over. If this proposal is adopted in the final rule, effective January 1, 2006, Hispanic Americans age 65 and older would qualify for Medicare coverage and payment for glaucoma screening services, if the applicable condition and limitations on coverage of screening for glaucoma specified in § 410.23(b) and (c) are met.

In view of the possibility that it may be appropriate to include other individuals in the statutory definition of those at “high risk” for glaucoma, we are requesting comments on this issue. Specifically, we request that anyone providing us with specific recommendations on this issue provide documentation in support of them from the peer-reviewed medical literature.

P. Physician Referrals for Nuclear Medicine Services and Supplies to Health Care Entities With Which They Have Financial Relationships

[If you choose to comment on issues in this section, please include the caption “NUCLEAR MEDICINE SERVICES” at the beginning of your comments.]

1. Background

Under section 1877 of the Act, a physician may not refer a Medicare patient for certain designated health services (DHS) to an entity with which the physician (or an immediate family member of the physician) has a financial relationship, unless an exception applies. Section 1877 of the Act also prohibits the DHS entity from submitting claims to Medicare or billing the beneficiary or any other entity for Medicare DHS that are furnished as a result of a prohibited referral. Sections 1877(h)(6)(D) and (E) of the Act define DHS to include “[r]adiology services, including magnetic resonance imaging, computerized axial tomography and ultrasound services” and “[r]adiation therapy services and supplies.” This proposed rule would include diagnostic and therapeutic nuclear medicine procedures under the DHS categories for radiology and certain other imaging services and radiation therapy services and supplies, respectively.

On January 9, 1998, we published a proposed rule (63 FR 1659) that, among other things, proposed regulatory definitions for the various DHS categories listed in the statute. In that proposed rule, we proposed to include nuclear medicine services in the definition of radiology services. In the January 4, 2001 physician self-referral Phase I final rule (66 FR 856), we defined “radiology and certain other imaging services” and “radiation therapy services and supplies” at § 411.351. We did not include nuclear medicine services in either definition because, at that time, we believed that diagnostic nuclear medicine services were not commonly considered to be radiology services and that therapeutic nuclear medicine services were not commonly considered to be radiation therapy services. We received one comment urging us to include nuclear medicine services in the definition of radiology services. In the Phase II final rule, published on March 26, 2004 (69 FR 16054), we indicated that we were concerned with the issues raised by the commenter and that we might revisit the issue of nuclear medicine in a proposed rule.

2. Proposal To Include Nuclear Medicine

Our knowledge of nuclear medicine, which is based in part on our awareness of the health care community's view of nuclear medicine, has changed significantly since we published the Phase I final rule. As a result, we have reconsidered the question of whether nuclear medicine services should be considered a DHS. We are proposing to amend § 411.351 to include diagnostic nuclear medicine services in the definition of “radiology and certain other imaging services” and to include therapeutic nuclear medicine services in the definition of “radiation therapy services and supplies.” We believe this change is needed in light of the statute's inclusion of radiology and radiation therapy as DHS. We also believe this change is appropriate, given the current manner in which these services are covered and paid under the Medicare program. As noted in the Phase I final rule (66 FR 860) and the Phase II final rule (69 FR 16071), we interpret the self-referral prohibition in a manner that is consistent with existing Medicare coverage and payment rules. In addition, we believe nuclear medicine services (both diagnostic and therapeutic services and supplies) pose the same risk of abuse that the Congress intended to eliminate for other types of radiology, imaging, and radiation therapy services and supplies. In § 411.351 (Definitions), we would revise the definition of “Radiation therapy services and supplies” to remove the language that excluded therapeutic nuclear medicine services and supplies from the definition. We would also revise the definition of “Radiology and certain other imaging services” to remove the language that excluded diagnostic nuclear medicine services from the definition. In addition, we would revise the list of radiology services on our website and in annual updates to include CPT and HCPCS codes that include the diagnostic uses of nuclear medicine, and the list of radiation therapy services and supplies to include the therapeutic use of nuclear medicine. For purposes of this proposed rule, we have attached Addendum G, which contains the codes for all diagnostic nuclear medicine procedures, all therapeutic nuclear medicine procedures, and the nuclear medicine radiopharmaceuticals. In the final rule, we intend to include the diagnostic nuclear medicine services in the list of codes for “Radiology and Certain Other Imaging Services” and the therapeutic nuclear medicine services in the list of “Radiation Therapy Services and Supplies.” Each radiopharmaceutical would be included in each category in which it is used, that is, some may be included in both categories. We welcome comment on whether the list is accurate and complete.

Section 1877(h)(6)(D) of the Act provides that “radiology services, including magnetic resonance imaging, computerized axial tomography scans, and ultrasound services” are DHS. We believe it is appropriate to include nuclear diagnostic services as radiology services within the meaning of this statute.

Dorland's Illustrated Medical Dictionary, 29th Edition, 2000, at 1512, defines radiology as “that branch of the health sciences dealing with radioactive substances and radiant energy and with the diagnosis and treatment of disease by means of both ionizing (that is, x-rays) and non-ionizing (that is, ultrasound) radiations.” ⁴ Nuclear medicine uses very small amounts of radioactive materials (radiopharmaceuticals) to diagnose and treat disease. In nuclear imaging, the radiopharmaceuticals are detected by special types of cameras that work with computers to provide very precise pictures about the area of the body being imaged. In treatment or therapy, the radiopharmaceuticals go directly to the organ being treated. The amount of radiation in a typical nuclear imaging procedure is comparable to that received during a diagnostic x-ray. The Society for Nuclear Medicine (SNM) states that the science of nuclear medicine, particularly nuclear medicine imaging, provides physicians with information about both structure and function of certain internal body organs. SNM further states that “unlike a diagnostic X-ray where radiation is passed through the body, nuclear medicine tracers are taken internally; external detectors measure the radiation that they emit.” (http://www.snm.org) The ACR, in its March 26, 2004 letter to us, stated that nuclear medicine is considered a part of the specialty of radiology. It noted that the American Board of Radiology certifies diagnostic radiologists through an examination process that includes nuclear medicine in both the written and oral exams. The AMA also recognizes nuclear medicine as a subspecialty of radiology. The AMA's “Current Procedural Terminology CPT 2005”, (2004), identifies its “Radiology Guidelines (including Nuclear Medicine and Diagnostic Ultrasound)” as CPT codes in the 70000-79999 series. In its radiology section, at 273-302, the AMA includes both diagnostic imaging procedures (including diagnostic nuclear medicine), and therapeutic procedures. The radiology subsections are as follows: Diagnostic Radiology (Diagnostic Imaging) is comprised of CPT codes 70010-76499. Diagnostic Ultrasound is comprised of CPT codes 76506-76999. Radiation Oncology is comprised of CPT codes 77261-77799. Nuclear Medicine (Diagnostic) is comprised of CPT codes 78000-78999, and Nuclear Medicine (Therapeutic) is comprised of CPT codes 79005-79999.

⁴ The Encyclopaedia Britannica online explains that radiology is a branch of medicine using radiation for the diagnosis and treatment of disease. It states that “Radiology originally involved the use of X rays in the diagnosis of disease and the use of X rays, gamma rays, and other forms of ionizing radiation in the treatment of disease. In more recent years radiology has come also to embrace diagnosis by a method of organ scanning with the use of radioactive isotopes and also with non-ionizing radiation, such as ultrasound waves and nuclear magnetic resonance. Similarly, the scope of radiotherapy has extended to include, in the treatment of cancer, such agents as hormones and chemotherapeutic drugs.” (“radiology.” Encyclopaedia Britannica, 2005, Encyclopaedia Britannica Online 3 June 2005 http://search.ed.com/eb/article?tocid=9062423.)

We also note that the Medicare statute places diagnostic nuclear medicine in the same category as diagnostic radiology for coverage and payment purposes. That is, we cover diagnostic nuclear medicine under our authority in section 1861(s)(3) of the Act, the same statutory section that authorizes coverage for diagnostic X-rays, CT scans, MRIs, and ultrasound services. In addition, section 1833(t) of the Act sets forth Medicare payment for “outpatient hospital radiology services (including diagnostic and therapeutic radiology, nuclear medicine and CAT scan procedures, magnetic resonance imaging, and ultrasound and other imaging services, but excluding screening mammography)” as described in section 1833(a)(2)(E)(i) of the Act.

For these reasons, we believe that the Congress intended “radiology services” in section 1877(h)(6) of the Act to include diagnostic and therapeutic nuclear medicine. While we believe that diagnostic nuclear medicine is a subset of radiology, even if it is not, it is an imaging service covered by 1861(s)(3) of the Act, and of the type that the Congress intended to prohibit.

Similarly, we believe it is proper to interpret the DHS category described in section 1877(h)(6)(E) of the Act, “radiation therapy services and supplies” to include therapeutic nuclear medicine services. Radiation therapy is the treatment of disease (especially cancer) by exposure to radiation from a radioactive substance. Therapeutic nuclear medicine employs radioactive substances known as radionuclides. Medicare covers therapeutic nuclear medicine services and other forms of radiation therapy under section 1861(s)(4) of the Act, which authorizes coverage and payment for “X-ray, radium, and radioactive isotope therapy.”

Although our proposal to include as DHS diagnostic nuclear medicine services and therapeutic nuclear medicine services and supplies is based primarily on our view that nuclear medicine services are radiology and radiation therapy within the meaning of section 1877(h)(6) of the Act, we would resolve any doubt on the matter in favor of our proposal because of the risk of abuse and anti-competitive behavior inherent in physician self-referrals for nuclear medicine services. The risk of abuse and anti-competitiveness is exacerbated by the greater affordability of nuclear medicine equipment, by our expansive coverage of nuclear medicine services, and by the setting in which mostly diagnostic and some therapeutic nuclear medicine services now are primarily performed.

At the time we were preparing the Phase I final rule, the vast majority of nuclear medicine procedures were already subject to the physician self-referral prohibition because they were primarily performed in hospital facilities rather than in physician-owned freestanding facilities. Thus, they were performed as inpatient or outpatient hospital services and were therefore DHS subject to the self-referral prohibition in accordance with section 1877(h)(6)(K) of the Act. Since publication of the Phase I final rule, however, many more nuclear medicine procedures have been performed in physician offices or in physician-owned freestanding facilities. This has occurred for several reasons. First, positron emission tomography (PET) scanners may be used outside of a hospital setting. Second, there have been significant technological advances; an entity does not have to own a particle accelerator to produce the radioactive tracer necessary for a PET scan because a small network of pharmacies now distribute radioactive tracer. Third, our coverage of PET scans has increased dramatically. We began covering PET scans in December 2000. This initial, limited, coverage was for only a few types of cancers. Since December 2001, we have significantly expanded our coverage to include an increased number of cancers and other conditions. In his March 17, 2005 testimony before the Congress concerning imaging services, the Executive Director of the MedPAC noted that diagnostic imaging services paid under Medicare's PFS grew more rapidly than any other type of physician service between 1999 and 2003. Whereas physician services grew 22 percent in those years, imaging services grew twice as fast, by 45 percent. This measure is the growth in the volume and intensity of services per beneficiary. However, not all imaging services grew at that rate, and some grew even faster. Nuclear medicine grew 85 percent between those years (1999 and 2003).

Under Medicare, almost all imaging services have two distinct parts: (1) The performance of the test; and (2) the interpretation of the results by a physician. If the study is performed in a physician office, the physician submits a TC claim and the interpreting physician submits a PC claim. Tests performed in a hospital result in a facility payment rather than a TC claim. Thus, if more imaging services are performed in physician offices, TC claims will increase as a share of all fee schedule imagining claims. An increase in TC claims occurred between 1999 and 2002, which indicates that imaging procedures shifted to physician offices. Because the TC of an imaging service generally is assigned a higher payment rate than the PC, growth of TC claims as a share of all imaging claims leads to additional payments under the PFS. These additional payments accounted for about 20 percent of the growth in the volume and intensity of imaging services between 1999 and 2002 (MedPAC 2004).

Recent studies and articles indicate that risk of abuse for radiology services (and diagnostic nuclear medicine) will continue if not specifically prohibited. The Journal of Radiology reported what happened after a managed care organization halted reimbursement to non-radiologists for some forms of imaging (other than CT scans, MRIs, sonography or nuclear medicine) but left the physicians free to refer their patients to radiologists if they believe the imaging they had been conducting on their patients was needed. The following specialties were not allowed to perform any imaging services: Gastroenterologists, general surgeons, nephrologists, neurosurgeons, oncologists, pediatric surgeons, and physiatrists. The study found that imaging declined 20 to 25 percent from what was expected given the previous trend of imaging growth, and an absolute decline of 6 percent. Prior to these prohibitions, non-radiologists were performing 39 percent of outpatient radiographs. The 20 to 25 percent decline from the trend was roughly half of this 39 percent initial share. That is, the research showed that approximately half of the imaging performed by self-referrers ceased when these self-referrers lost their financial interest in the services. (The Effect of Imaging Guidelines on the Number and Quality of Outpatient Radiographic Examinations. AJR 2000; 175:9-15. Harold Moskowitz, Jonathan Sunshine, Donald Grossman, Leslie Adams, Lynn Gelinas. See also Recent Rapid Increase in Utilization of Radionuclide Myocardial Perfusion Imaging and Related Procedures; 1996-1998 Practice Patterns. Radiology 2002; 222:144-148. David C. Levin, MD, Laurence Parker, PhD, Charles M. Intenzo, MD, Jonathan H. Sunshine, PhD.) (Growth in utilization of Radionuclide Myocardial Perfusion Imaging (MPI) between 1996 and 1998 was almost 10 times higher among cardiologists than radiologists). Although the Moskowitz study did not include nuclear imaging, we do not see a basis for assuming that physician behavior would be different for nuclear imaging than it is for other imaging services. To the contrary, we believe financial relationships related to diagnostic and therapeutic nuclear medicine, including joint ventures and leases, pose a risk of anti-competitive behavior and risk of abuse comparable to that associated with investment interests in CT, MRI, ultrasound, other radiology ventures, and radiation therapy facilities.

Thus, we believe our proposal to include nuclear medicine as a DHS is consistent with the intent of the Congress to prevent over-utilization of health care services covered by Medicare and to prohibit physicians from selecting treatment modalities based on financial incentives.

We have been told that consultants and others have been actively encouraging physicians to participate in joint ventures to purchase diagnostic nuclear medicine machines for investment because Phase I did not include nuclear medicine services. We have received many inquiries from physicians and attorneys asking whether physician ownership of, and referral to, nuclear medicine facilities complies with the physician self-referral provisions. We are mindful that our previous guidance, particularly that provided in the Phase I final rule, may have encouraged physician investment in nuclear medicine equipment and ventures, particularly PET scanners, which are very expensive and often require a substantial financial investment on the part of physician-owners. We are aware that including nuclear medicine services as DHS will require that physician-investors in nuclear medicine equipment (including PET scanners) divest their ownership or investment interests or be precluded from submitting claims to Medicare or billing the beneficiary or any entity for the nuclear medicine DHS referred by physician-owners and performed with the physician-owned equipment (unless the arrangement falls within an exception to section 1877 of the Act).

We are soliciting comments as to whether, or how, to minimize the impact on physicians who are currently parties to arrangements that involve nuclear medicine services and supplies (that is, by specifying a delayed effective date or by grandfathering certain arrangements).

Q. Sustainable Growth Rate

[If you choose to comment on issues in this section, please include the caption “SGR” at the beginning of your comments.]

1. Current Estimate

Sections 1848(d) and (f) of the Act require the Secretary to set the physician fee schedule update under the SGR system. We are currently forecasting an update of −4.3 percent for 2006, and anticipate further negative updates in later years. As in the past, we will include a complete discussion of our methodology for calculating the SGR in the final rule.

Underlying the projected rate reductions is substantial growth in Medicare spending. The vast majority of spending growth in 2004 is attributable to the following five areas:

• An increase in spending for office visits, with a shift toward longer and more intense visits.

• Greater utilization of minor procedures, including physical therapy and drug administration.

• More patients receiving more frequent and more complex imaging services, such as MRIs and echocardiograms.

• More laboratory and other physician-ordered tests.

• Higher utilization of physician-administered prescription drugs.

We would like to understand these trends further, including which changes in utilization are likely to be associated with important health improvements and which ones may have more questionable health benefits. Consequently, we have had discussions on these topics with numerous physician and nonphysician groups, as well as other Medicare stakeholders such as the Congress and the Medicare Payment Advisory Commission (MedPAC).

The AMA has provided us with several illustrations of recent trends in medical practice that it believes contribute to the overall growth in spending on physicians' services. For example, the AMA points out that some payers are encouraging physicians to determine the left ventricular valve function of their patients with congestive heart failure using an echocardiogram. Also, five years ago, statin therapy to lower cholesterol levels was only recommended for patients as old as 79. Now, patients as old as 86 may receive statin therapy, resulting in additional laboratory tests.

The AMA provided many other examples, and we are evaluating them to better understand their impact on physician spending. With regard to the specific examples mentioned above, we agree the utilization of these services has increased. However, in the case of echocardiograms, the 19 percent rate of increase from 2003 to 2004 is similar to the increase observed for all imaging services. There was also a 17 percent rate of increase in laboratory tests (lipid panels) consistent with more patients receiving statin therapy (new prescriptions require more frequent visits and more lab tests). However, total spending for the service was only $42 million.

2. Ongoing Issues

In addition to providing adequate payments, Medicare's physician payment system should encourage physicians to provide quality care and prevent avoidable health care costs. We support MedPAC's recommendation for the development of measures related to the quality and efficiency of care furnished by physicians. Physicians' decisions are central to the health care their patients receive, and there are substantial variations across geographic areas and among similar specialties in the use of services, including those accounting for most of the spending growth. We want to work with physicians in this effort to better understand the consequences of these differences in the use of follow-up visits, imaging procedures, laboratory testing, minor therapeutic procedures, and physician-administered drugs for the health of beneficiaries, and to identify ways to provide better support for utilization decisions that clearly increase the quality of care while avoiding unnecessary costs for beneficiaries and the Medicare program.

We are already engaged with the physician community in developing useful quality measures, and we expect to intensify these efforts given the rapid growth in spending. As an early step in using such measures to improve care, we are now exploring means of sharing information related to quality of care and use of resources with individual physicians. We anticipate that only data showing the quality of care and resource use in the aggregate would be released to the public. Some measures can be derived from claims data with little or no collection burden (for example, information on the frequency and complexity of minor therapy procedures, imaging procedures, lab test, and visits for their patients with chronic illnesses.) We believe that by providing feedback to physicians individually and by working with physician groups to understand and respond to the overall trends, we can provide more useful information and support physicians' efforts to run more efficient practices.

Finally, we continue to work closely with the medical community, Congress, MedPAC, and others toward a long-term approach ensuring adequate physician payments in the future while also ensuring Medicare's payments are made only for care that is necessary and beneficial. We are particularly interested in comments that build on recent progress on payment reforms to promote higher quality and avoid unnecessary costs, and that are consistent with the President's budgetary goal of paying for better value in Medicare without increasing overall Medicare costs. For example, we are interested in ways to promote higher-quality ambulatory care that can achieve offsetting savings by avoiding complications or unnecessary services. In addition, it has been suggested that we have the authority to make certain administrative adjustments in the SGR methodology, such as removing Part B drug payments from the calculation of both projected and actual expenditures (retroactive to 1996) that are used to set the spending target. We encourage comments regarding possible changes to the SGR methodology, including the legal theories that support them. We are particularly interested in comments on steps to promote physician payment adequacy without increasing overall Medicare costs.

III. Collection of Information Requirements

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

We are soliciting public comment on each of these issues for the following sections of this document that contain information collection requirements:

Section 413.180 Procedures for Requesting Exceptions to Payment Rates

Paragraph (b) specifies the criteria for a pediatric ESRD facility requesting an exception to payment rates.

Paragraph (e) outlines the documentation that a pediatric ESRD facility must submit to CMS when requesting an exception to its payment rates. Paragraph (i) discusses the period of approval for payment exception requests. A prospective exception payment rate approved by CMS applies for the period from the date the complete exception request was filed with its intermediary until thirty days after the intermediary's receipt of the facility's letter notifying the intermediary of the facility's request to give up its exception rate.

The burden associated with the requirements in paragraph (e) is the time and effort required by the facility to prepare and submit the exception request to CMS. The burden associated with the requirement in paragraph (i) is the time and effort required by the facility to draft and mail the letter that notifies the intermediary of the facilities request to give up its exception rate.

The collection requirement in this section has not changed. While this requirement is subject to the PRA, this requirement is currently approved in OMB No. 0938-0296.

Section 413.184 Payment Exception: Pediatric Patient Mix

Paragraph (b) specifies the documentation requirements that a pediatric ESRD facility must meet in order to qualify for an exception to its prospective payment rate based on its pediatric patient mix. In addition to the other qualifications specified in this section, this section states that a facility must submit a listing of all outpatient dialysis patients (including all home patients) treated during the most recently completed and filed cost report.

The burden associated with this requirement is the time and effort for the facility to submit a listing of all outpatient dialysis patients (including all home patients) treated during the most recently completed and filed cost report.

The collection requirement in this section has not changed. While this requirement is subject to the PRA, this requirement is currently approved in OMB No. 0938-0296.

Section 413.186 Payment Exception: Self-Dialysis Training Costs in Pediatric Facilities

In summary, this section outlines the requirements a pediatric ESRD facility must meet to qualify for an exception to the prospective payment rate based on self-dialysis training costs. Paragraph (e) states that a facility must provide specific information to support its exception request. Paragraph (f) states that in addition to the other qualifications outlined in this section, pediatric ESRD facility must submit with its exception request a list of patients, by modality, trained during the most recent cost report period, in order to justify its accelerated training exception request.

The burden associated with these requirements is the time and effort for the facility to prepare and submit the required information to support its exception request, and the time and effort for the pediatric ESRD facility to prepare and submit with its exception request a list of patients, by modality, trained during the most recent cost report period.

The collection requirements in this section have not changed. While these requirements are subject to the PRA, they are currently approved in OMB No. 0938-0296.

Section 414.804 Basis of Payment

In summary, this section requires manufacturers to report ASP data to CMS. This section details the process a manufacturer must follow to calculate the ASP. The ASP reporting requirements are discussed in further detail in the interim final rule with comment, Medicare Program; Manufacturer Submission of Manufacturer's Average Sales Price (ASP) Data for Medicare Part B Drugs and Biologicals, that published on April 2, 2004 in the Federal Register (69FR17935-17941).

The burden associated with these requirements is the time and effort required by manufacturers of Medicare Part B Drugs and biologicals to prepare and submit to the required ASP data to CMS.

While these requirements are subject to the PRA, the requirements are currently approved in OMB No. 0938-0921, with a current expiration date of September 30, 2007.

We intend to revise this information collection to include adequate instructions for manufacturers to report the ASP, the WAC, and other data elements. These revisions will be addressed in detail in a revised information collection request in accordance with the Paperwork Reduction Act of 1995.

We have submitted a copy of this proposed rule to OMB for its review of the information collection requirements described above. These requirements are not effective until they have been approved by OMB.

If you comment on these information collection and recordkeeping requirements, please mail copies directly to the following:

Centers for Medicare & Medicaid Services, Office of Strategic Operations and Regulatory Affairs, Regulations Development Group, Attn: Jim Wickliffe, [CMS-1502-P], Room C4-26-05, 7500 Security Boulevard, Baltimore, MD 21244-1850; and

Office of Information and Regulatory Affairs, Office of Management and Budget, Room 10235, New Executive Office Building, Washington, DC 20503, Attn: Christopher Martin, CMS Desk Officer, CMS-1502-P, Christopher_Martin@omb.eop.gov. Fax (202) 395-6974.

IV. Response to Comments

Because of the large number of public comments we normally receive on Federal Register documents, we are not able to acknowledge or respond to them individually. We will consider all comments we receive by the date and time specified in the DATES section of this preamble, and, when we proceed with a subsequent document, we will respond to the comments in the preamble to that document.

V. Regulatory Impact Analysis

[If you choose to comment on issues in this section, please include the caption “IMPACT” at the beginning of your comments.]

We have examined the impact of this rule as required by Executive Order 12866 (September 1993, Regulatory Planning and Review), the Regulatory Flexibility Act (RFA) (September 16, 1980 Pub. L. 96-354), section 1102(b) of the Social Security Act, the Unfunded Mandates Reform Act of 1995 (Pub. L. 104-4), and Executive Order 13132.

Executive Order 12866 (as amended by Executive Order 13258, which merely reassigns responsibilities of duties) directs agencies to assess all costs and benefits of available regulatory alternatives and, when regulation is necessary, to select regulatory approaches that maximize net benefits (including potential economic, environmental, public health and safety effects, distributive impacts, and equity). A regulatory impact analysis must be prepared for proposed rules with economically significant effects (that is, a proposed rule that would have an annual effect on the economy of $100 million or more in any one year, or would adversely affect in a material way the economy, a sector of the economy, productivity, competition, jobs, the environment, public health or safety, or State, local, or tribal governments or communities). As indicated in more detail below, we estimate that the PFS provisions included in this proposed rule will redistribute more than $100 million in one year. We are considering this proposed rule to be economically significant because its provisions are estimated to result in an increase, decrease or aggregate redistribution of Medicare spending that will exceed $100 million. Therefore, this proposed rule is a major rule and we have prepared a regulatory impact analysis.

The RFA requires that we analyze regulatory options for small businesses and other entities. We prepare a regulatory flexibility analysis unless we certify that a rule would not have a significant economic impact on a substantial number of small entities. The analysis must include a justification concerning the reason action is being taken, the kinds and number of small entities the rule affects, and an explanation of any meaningful options that achieve the objectives with less significant adverse economic impact on the small entities.

Section 1102(b) of the Act requires us to prepare a regulatory impact analysis for any proposed rule that may have a significant impact on the operations of a substantial number of small rural hospitals. This analysis must conform to the provisions of section 603 of the RFA. For purposes of section 1102(b) of the Act, we define a small rural hospital as a hospital that is located outside a Metropolitan Statistical Area and has fewer than 100 beds. We have determined that this proposed rule would have minimal impact on small hospitals located in rural areas. Of 213 hospital-based ESRD facilities located in rural areas, only 40 are affiliated with hospitals with fewer than 100 beds.

For purposes of the RFA, physicians, nonphysician practitioners, and suppliers are considered small businesses if they generate revenues of $6 million or less. Approximately 95 percent of physicians are considered to be small entities. There are about 875,000 physicians, other practitioners and medical suppliers that receive Medicare payment under the PFS.

For purposes of the RFA, approximately 90 percent of suppliers of durable medical equipment (DME) and prosthetic devices are considered small businesses according to the Small Business Administration's (SBA) size standards. We estimate that 106,000 entities bill Medicare for durable medical equipment, prosthetics, orthotics, and supplies (DMEPOS) each year. Total annual estimated Medicare revenues for DME suppliers exceed approximately $8.5 billion in 2004. Of this amount, approximately $1.4 billion were for nebulizer drugs in 2004. The vast majority, 95 percent, of retail pharmacy companies are small businesses as measured by the SBA size standard. Approximately, 16,000 pharmacies billed Medicare for immunosuppressive, oral anti-cancer, or oral anti-emetic drugs in 2004. Pharmacies received Medicare revenues for those drugs of approximately $350 million in 2004.

In addition, most ESRD facilities are considered small entities, either based on nonprofit status or by having revenues of $29 million or less in any year. We consider a substantial number of entities to be affected if the proposed rule is estimated to impact more than 5 percent of the total number of small entities. Based on our analysis of the 896 nonprofit ESRD facilities considered small entities in accordance with the above definitions, we estimate that the combined impact of the proposed changes to payment for renal dialysis services included in this proposed rule would have a 1.3 percent increase in overall payments relative to current overall payments.

The analysis and discussion provided in this section, as well as elsewhere in this proposed rule, complies with the RFA requirements.

Section 202 of the Unfunded Mandates Reform Act of 1995 also requires that agencies assess anticipated costs and benefits before issuing any rule that may result in expenditures in any year by State, local, or tribal governments, in the aggregate, or by the private sector, of $110 million. Medicare beneficiaries are considered to be part of the private sector for this purpose.

We have examined this proposed rule in accordance with Executive Order 13132 and have determined that this regulation would not have any significant impact on the rights, roles, or responsibilities of State, local, or tribal governments. A discussion concerning the impact of this rule on beneficiaries is found later in this section.

We have prepared the following analysis, which, together with the information provided in the rest of this preamble, meets all assessment requirements. It explains the rationale for and purposes of the rule; details the costs and benefits of the rule; analyzes alternatives; and presents the measures we propose to use to minimize the burden on small entities. As indicated elsewhere in this proposed rule, we propose to change our methodology for calculating resource-based practice expense RVUs and make a variety of other changes to our regulations, payments, or payment policies to ensure that our payment systems reflect changes in medical practice and the relative value of services. We provide information for each of the policy changes in the relevant sections of this proposed rule. We are unaware of any relevant Federal rules that duplicate, overlap or conflict with this proposed rule. The relevant sections of this proposed rule contain a description of significant alternatives if applicable.

A. Resource-Based PE RVUs

Table 30 below shows the specialty level impact on payment of changes to the PE methodology being proposed for CY 2006. The columns in the table demonstrate the estimated impacts on payments (relative to estimated 2006 payments, absent any adjustment for inflation or utilization) during each year of the transition. For example, the first column displays the impact of blending 25 percent of the PE RVUs calculated using the methodology we are proposing with current PE RVUs. The percent of the RVUs based on the proposed method increase until the transition is complete in 2009.

Our estimates of changes in physician Medicare revenues for PFS services compare payment rates for CY 2006 with payment rates for CY 2005 using CY 2004 Medicare utilization for both years. In general, updating the utilization data has little or no impact on total payments to a specialty, but the practice expense values for a new code may change because we did not initially have Medicare utilization data to determine the specialty mix for the service. In these cases, we either assigned the code to a particular specialty's practice expense pool based on the specialty most likely to provide the service, or we used the “all physician” practice expense pool to determine the code's practice expense RVUs. While we try to minimize instability in the practice expense RVUs for new services by assigning the specialty that is most likely to perform the service until such time as we have actual utilization data, the addition of actual utilization data may still result in some change to the practice expense RVUs during the first few years a code is in existence.

The estimated payment impacts reflect the averages for each specialty based on Medicare utilization. To the extent that there are year-to-year changes in the volume and mix of services provided by a specialty, the actual impact on total Medicare revenues may be different than those shown here. Also, the payment impact for an individual physician may be different from the specialty average impact, based on the mix of services the physician provides. Because physicians, practitioners and suppliers, furnish services to both Medicare and non-Medicare patients and they may receive substantial Medicare revenues for services that are not paid under the PFS, the average change in total revenues for any specialty, practitioner or supplier, would be less than the impacts displayed here. For instance, independent laboratories receive approximately 80 percent of their Medicare revenues from clinical laboratory services that are not paid under the PFS. The table shows only the payment impacts on PFS services.

We modeled the impact of the proposed changes to the practice expense methodology and illustrated the effect in Table 30 below.

Table 30.—Impact of Practice Expense Changes on Total Medicare Allowed Charges by Physician, Practitioner and Supplier Subcategory
Specialty | 2006 (25% Blend) | 2007 (50% Blend) | 2008 (75% Blend) | 2009 (100% Blend)
Physicians:
Allergy/Immunology | 0.6% | 1.1% | 1.7% | 2.3%
Anesthesiology | −0.7% | −1.5% | −2.2% | −2.9%
Cardiac Surgery | −1.0% | −2.0% | −2.9% | −3.9%
Cardiology | −0.5% | −1.1% | −1.6% | −2.1%
Colon and Rectal Surgery | 0.7% | 1.5% | 2.2% | 3.0%
Critical Care | −0.3% | −0.5% | −0.8% | −1.0%
Dermatology | 4.1% | 8.4% | 12.8% | 17.5%
Emergency Medicine | −0.4% | −0.8% | −1.3% | −1.7%
Endocrinology | −0.5% | −1.0% | −1.5% | −1.9%
Family Practice | 0.1% | 0.1% | 0.2% | 0.2%
Gastroenterology | 1.4% | 2.8% | 4.3% | 5.7%
General Practice | 0.2% | 0.3% | 0.5% | 0.7%
General Surgery | 0.2% | 0.3% | 0.5% | 0.6%
Geriatrics | −0.2% | −0.5% | −0.7% | −1.0%
Hand Surgery | −0.5% | −1.0% | −1.5% | −1.9%
Hematology/Oncology | 0.4% | 0.7% | 1.1% | 1.4%
Infectious Disease | −0.1% | −0.2% | −0.2% | −0.3%
Internal Medicine | −0.1% | −0.3% | −0.4% | −0.6%
Interventional Radiology | 0.2% | 0.5% | 0.7% | 0.9%
Nephrology | −0.2% | −0.4% | −0.6% | −0.8%
Neurology | −0.6% | −1.1% | −1.7% | −2.2%
Neurosurgery | −0.7% | −1.4% | −2.0% | −2.7%
Nuclear Medicine | −0.3% | −0.5% | −0.8% | −1.0%
Obstetrics/Gynecology | 0.0% | 0.1% | 0.1% | 0.2%
Ophthalmology | −1.1% | −2.2% | −3.3% | −4.4%
Orthopedic Surgery | −0.4% | −0.7% | −1.1% | −1.5%
Otolaryngology | −0.6% | −1.1% | −1.7% | −2.2%
Pathology | 1.3% | 2.6% | 3.9% | 5.3%
Pediatrics | 0.1% | 0.2% | 0.3% | 0.5%
Physical Medicine | −0.5% | −1.1% | −1.6% | −2.1%
Plastic Surgery | 0.1% | 0.1% | 0.2% | 0.3%
Psychiatry | 0.0% | 0.1% | 0.1% | 0.1%
Pulmonary Disease | −0.2% | −0.4% | −0.6% | −0.7%
Radiation Oncology | 1.9% | 3.9% | 5.8% | 7.9%
Radiology | 0.4% | 0.8% | 1.2% | 1.7%
Rheumatology | −0.9% | −1.8% | −2.7% | −3.6%
Thoracic Surgery | −0.8% | −1.5% | −2.3% | −3.0%
Urology | 1.8% | 3.6% | 5.5% | 7.3%
Vascular Surgery | 0.5% | 0.9% | 1.4% | 1.9%
Practitioners:
Audiologist | −5.8% | −11.3% | −16.5% | −21.3%
Chiropractor | −1.3% | −2.7% | −4.0% | −5.3%
Clinical Psychologist | −0.6% | −1.1% | −1.7% | −2.2%
Clinical Social Worker | −0.6% | −1.2% | −1.8% | −2.4%
Nurse Anesthetist | −0.4% | −0.8% | −1.2% | −1.6%
Nurse Practitioner | 0.1% | 0.1% | 0.2% | 0.2%
Optometry | −0.8% | −1.6% | −2.4% | −3.1%
Oral/Maxillofacial Surgery | 0.8% | 1.6% | 2.4% | 3.2%
Physical/Occupational Therapy | 1.5% | 2.9% | 4.4% | 6.0%
Physician Assistants | 0.0% | 0.1% | 0.1% | 0.2%
Podiatry | 1.3% | 2.6% | 3.9% | 5.3%
Suppliers:
Diagnostic Testing Facility | −2.4% | −4.7% | −7.0% | −9.2%
Independent Laboratory | 6.4% | 13.1% | 20.3% | 28.0%
Portable X-Ray Supplier | 0.4% | 0.8% | 1.1% | 1.5%

The table shows the effect of the proposed refinements to the PE methodology. As described in section II.A.2. in the preamble of this proposed rule, we are proposing to use the updated practice expense per hour data from the accepted supplementary surveys only in the calculation of indirect PE, and to utilize a “bottom-up” methodology to calculate direct PE.

Even if no other changes were made to our PE calculation methodology, a significant redistribution of PE RVUs would still be produced by the acceptance of the supplementary PE surveys from seven specialties and the corresponding increases in the direct and indirect PE per hour for these specialties. As noted in the preamble discussion regarding our proposal to change the PE methodology, the nonphysician work pool was created to protect codes without physician work components until further refinement could occur. Removing these codes from the nonphysician work pool generally has a negative impact on these codes (although we note that we have consistently indicated this methodology was an interim approach until we had better data available). In addition, the limited number of codes remaining in the nonphysician work pool would also experience significant impacts. Eliminating the nonphysician work pool would generally negatively impact these codes remaining in the pool (for example, certain codes used by audiology and portable x-ray suppliers). We believe that much of this impact is due to the change in the scaling of the inputs when codes move from the nonphysician work pool to the individual specialty pool.

We believe that, in addition to the increased accuracy and simplicity that result from using a “bottom-up” approach for direct costs, this proposed approach also helps mitigate some of the potentially inequitable redistribution of practice expense RVUs resulting from the acceptance of new specialty-specific survey data. However, several of the impacts that are shown require further consideration.

Audiology is clearly negatively impacted when its services are removed from the nonphysician work pool, though the impact is cut nearly in half when the “bottom-up” approach is used for the direct costs. This impact is in large part driven by the decrease in the PE RVUs for audiology CPT codes 92557, 92567 and 92588, which we believe may now be more appropriately priced in our proposal than they were in the nonphysician work pool that uses historic charge-based RVUs to determine the direct practice expense for a service. However, we would welcome discussions with audiologists regarding this impact, so that we can ensure that the relative costs are reflected appropriately.

Despite submitting a supplementary survey that showed higher PE costs per hour, cardiology is shown to have an impact of −2.1 percent in the last column of Table 30. This is largely due to the decrease in direct PE for several high-volume services resulting from the adoption of the “bottom up” approach. For example, the RVUs for the complete electrocardiogram service, CPT code 93000, decline by 43 percent. The RVUs for multiple 3-D heart imaging, CPT Code 78465, decline by 32 percent. However, it should be noted that, if the new survey data had not been used to calculate indirect PE, cardiology would have had a significantly larger (11 percent) negative impact.

Both physical/occupational therapy and independent laboratory show significant positive impacts in the last column of 6.0 and 28.0 percent, respectively. For therapy services, we had previously applied an adjustment that assigned all therapy services the therapy practice expense per hour, even when billed by specialties with higher costs. Under the top-down methodology, this adjustment was applied to both direct and indirect costs. However, under our proposed methodology, the practice expense per hour data would not be used to calculate direct expenses and this would eliminate the adjustment for direct practice expense costs.

The total CPEP/RUC dollars for supplies and equipment for the services performed by independent laboratories are significantly higher than the aggregate dollars shown by the recent supplementary survey for these cost pools. Therefore, under the current top-down methodology, the CPEP/RUC dollars are scaled down to equal the survey dollars, and the practice expense RVUs are consequently reduced. Under our proposed methodology, the direct costs would no longer be scaled, resulting in higher practice expense RVUs for these services. (This also results in a positive 5.2 percent impact for pathologists, who also perform these services.) Although, as discussed above, we generally believe the refined CPEP/RUC data to be more accurate for calculating direct costs than the SMS or supplementary survey data, we are concerned that there is such a discrepancy between the refined direct cost inputs and a recent survey. We will want to discuss this issue with both the specialty and the RUC to ensure that the refined CPEP/RUC data accurately reflect the typical resources needed for these services. However, as we indicated above, independent laboratories receive only approximately 20 percent of their total Medicare revenues from PFS services, and there should not be significant impact on other specialties from this increase for independent laboratory services.

As discussed in section II.C. of this proposed rule, we are proposing technical changes to the calculation of the malpractice RVUs. We are proposing to remove the malpractice data for specialties that occur less than 5 percent of the time in our data for a procedure code. In addition, the RUC practice liability workgroup has written to us recommending several changes to the crosswalks used to assign risk factors to specialties for which we did not have data otherwise. We are proposing to accept these recommendations, and, as also recommended, we are proposing to use the lowest risk factor of 1.00 for specialties such as clinical psychology, licensed clinical social work, chiropractors, and physical therapists. We are also proposing to add cardiology catheterization and angioplasty codes to the list of codes for which we apply surgical rather than nonsurgical risk adjustment factors. Table 31 below shows the impacts of these proposed changes. Because the malpractice RVUs account for less than 4 percent of total payments, the overall impacts on any particular specialty are negligible.

TABLE 31.—Specialty Impact of Malpractice RVU Changes
Speciality | Impact of removing aberrant malpractice data (percent) | Impact of crosswalk changes (percent) | Combined impacts * (percent)
Physicians:
Allergy/Immunology | 0.0 | 0.0 | 0.0
Anesthesiology | 0.0 | 0.0 | −0.1
Cardiac Surgery | 0.2 | 0.1 | 0.2
Cardiology | 0.0 | 0.1 | 0.1
Colon and Rectal Surgery | 0.0 | 0.0 | 0.0
Critical Care | 0.0 | 0.0 | 0.0
Dermatology | −0.1 | 0.0 | −0.1
Emergency Medicine | 0.0 | 0.0 | 0.0
Endocrinology | 0.0 | 0.0 | 0.0
Family Practice | 0.0 | 0.0 | 0.0
Gastroenterology | 0.0 | 0.0 | 0.0
General Practice | 0.0 | 0.0 | 0.0
General Surgery | 0.0 | 0.0 | 0.1
Geriatrics | 0.0 | 0.0 | 0.0
Hand Surgery | 0.1 | 0.0 | 0.1
Hematology/Oncology | 0.0 | 0.0 | 0.0
Infectious Disease | 0.0 | 0.0 | 0.0
Internal Medicine | 0.0 | 0.0 | 0.0
Interventional Radiology | −0.1 | 0.0 | −0.1
Nephrology | 0.0 | 0.0 | 0.0
Neurology | 0.0 | 0.0 | 0.0
Neurosurgery | 0.2 | 0.1 | 0.2
Nuclear Medicine | −0.1 | 0.0 | −0.1
Obstetrics/Gynecology | 0.0 | 0.0 | 0.0
Ophthalmology | 0.0 | 0.0 | 0.0
Orthopedic Surgery | 0.1 | 0.0 | 0.1
Otolaryngology | 0.0 | 0.0 | 0.0
Pathology | 0.0 | 0.0 | 0.0
Pediatrics | 0.0 | 0.0 | 0.0
Physical Medicine | 0.0 | 0.0 | −0.1
Plastic Surgery | 0.0 | 0.0 | 0.0
Psychiatry | 0.0 | −0.1 | −0.1
Pulmonary Disease | 0.0 | 0.0 | 0.0
Radiation Oncology | 0.0 | 0.0 | 0.0
Radiology | 0.0 | 0.0 | 0.0
Rheumatology | 0.0 | 0.0 | 0.0
Thoracic Surgery | 0.2 | 0.0 | 0.2
Urology | 0.0 | 0.0 | 0.0
Vascular Surgery | 0.0 | 0.0 | 0.0
Practitioners:
Audiologist | 0.0 | 0.0 | 0.0
Chiropractor | 0.0 | −0.5 | −0.6
Clinical Psychologist | 0.0 | 0.0 | −0.3
Clinical Social Worker | 0.0 | 0.0 | −0.4
Nurse Anesthetist | 0.0 | −0.2 | 0.0
Nurse Practitioner | 0.0 | 0.0 | 0.0
Optometry | 0.0 | −0.1 | 0.0
Oral/Maxillofacial Surgery | 0.0 | 0.0 | 0.0
Physical/Occupational Therapy | 0.0 | 0.0 | −0.5
Physician Assistants | 0.0 | 0.0 | 0.0
Podiatry | 0.2 | 0.0 | 0.0
Suppliers:
Diagnostic Testing Facility | 0.0 | 0.0 | 0.0
Independent Laboratory | 0.0 | 0.0 | 0.0
Portable X-Ray Supplier | 0.0 | 0.0 | 0.0
*Sum of the columns may be different due to rounding.

As discussed in section II.J. of this proposed rule, we are proposing to reduce payments for technical components of certain multiple imaging procedures performed in the same session within the same imaging families. In order to calculate the impact of this proposed change, we examined 2004 PFS carrier claims processed through March 31, 2005. We extracted all claims that were billed on the same day, for the same beneficiary, at the same provider, for multiple diagnostic imaging procedures within the same family of codes. For each subset of claims, the procedures were arrayed based on the pricing of the technical component of these services. We simulated the effect of the multiple procedure payment reduction by accounting for 100 percent of the highest priced technical component, and 50 percent of all other technical components. Note that if the procedure was billed globally, the professional component was always calculated at 100 percent of the professional component (modifier-26) value.

The simulated total allowed charges for each family of codes includes all global, technical, and professional utilization for the family of codes (for example, the sum of claims where the multiple procedure payment reduction would have been in effect, in addition to claims that would not have been subject to the multiple procedure payment reduction). These simulated totals were then compared to the actual allowed charges for each family of codes within the same time period to calculate the impacts of the proposed change.

Table 32 below shows the actual 2004 allowed charges by family of imaging procedures and lists the percentage impact by family if this proposed policy had been in effect. Family 2 has the largest (−18.9 percent) impact, while Family 11 has the smallest (−1.3 percent) impact.

Table 32.—Impact of Multiple Procedure Reduction for Diagnostic Imaging by Family of Imaging Services
Family | Description of family of imaging procedures | 2004 Medicare allowed charges ($ in millions) | Percentage impact (percent)
01 | Ultrasound (Chest/Abdomen/Pelvis—Non-Obstetrical | $138 | −6.8
02 | CT and CTA (Chest/Thorax/Abd/Pelvis) | 563 | −18.9
03 | CT and CTA (Head/Brain/Orbit/Maxillofacial/Neck) | 97 | −2.6
04 | MRI and MRA (Chest/Abd/Pelvis) | 105 | −4.7
05 | MRI and MRA (Head/Brain/Neck) | 532 | −6.2
06 | MRI and MRA (spine) | 540 | −4.3
07 | CT (spine) | 24 | −4.1
08 | MRI and MRA (lower extremities) | 166 | −3.2
09 | CT and CTA (lower extremities) | 5 | −2.0
10 | MR and MRI (upper extremities and joints) | 107 | −2.7
11 | CT and CTA (upper extremities) | 2 | −1.3
| Total for all procedures subject to multiple imaging reductions | 2,276 | −8.3

Using the same data, we also summarized the dollar value of the reductions by specialty. Specialty-specific percentage impacts were calculated by comparing each specialty's 2004 allowed charges for all Medicare allowed services to the reduced allowed charges that would have occurred had this proposal been in effect. As expected, the most significant impacts occur among radiologists, who would experience a −2.1 percent impact. Diagnostic testing facilities experience a −2.9 percent impact. Most other specialties experience a 0.2 percent payment increase as a result of the budget neutrality adjustment. (Because this multiple procedure reduction adjustment would otherwise reduce overall payments by 0.2 percent, it is necessary to include a budget neutrality adjustment to the RVUs, resulting in positive impacts for most specialties.) Table 33 below shows the percentage impact by specialty in combination with other proposed changes.

Table 33 below shows the estimated change in average payments by specialty, nonphysician practitioner, and supplier, resulting from proposed changes to the calculation of practice expense and malpractice RVUs, and the multiple imaging procedure discount. The first column displays Medicare allowed charges during 2004 for each specialty, practitioner, and supplier. The practice expense changes shown in the second column represent the first year impact of a 4-year transition resulting from all practice expense revisions including the adoption of the bottom-up approach and the elimination of the nonphysician work pool. The impact shown is identical to the first column of Table 30. The malpractice impacts shown in the third column are identical to those displayed above in Table 31. The fourth column in Table 33 below demonstrates the impacts for each specialty of the proposed multiple imaging procedure discount. The fifth column shows the combined impact of all proposed changes by specialty.

The largest impacts in this column are attributable to the proposed changes to the PE methodology. The final column includes the current estimate of the 2006 PFS update factor of −4.3 percent. It also combines the impacts of the previous three columns. In addition, this column reflects the expiration of the transitional adjustment required by section 303 of the MMA for drug administration services. This adjustment was set at 32 percent for 2004 and 3 percent for 2005.

Section 1848(d) and (f) of the Act requires the Secretary to set the PFS update under the SGR system. We are currently forecasting a negative update of −4.3 percent for 2006 and negative updates for the next few years. As in the past, we will include a complete discussion of our methodology for calculating the SGR in the final rule.

Table 33.—Impact of Practice Expense, Malpractice RVUs, Multiple Imaging Discount, and Physician Fee Schedule Update on Total Medicare Allowed Charges by Physician, Practitioner, and Supplier Subcategory
Specialty | Medicare allowed charges for 2004 ($ in millions) | Impact of PE RVU changes (percent) | Impact of malpractice RVU changes (percent) | Impact of multiple imaging discount (percent) | Impact of all proposed changes (percent) | Combined impact: includes update and drug admin. trans. (percent)
Physicians:
Allergy\Immunology | $165 | 0.6 | 0.0 | 0.2 | 0.8 | −3.5
Anesthesiology | 1,486 | −0.7 | −0.1 | 0.2 | −0.6 | −4.9
Cardiac Surgery | 385 | −1.0 | 0.2 | 0.2 | −0.5 | −4.8
Cardiology | 7,219 | −0.5 | 0.1 | 0.2 | −0.2 | −4.5
Colon and Rectal Surgery | 118 | 0.7 | 0.0 | 0.2 | 1.0 | −3.3
Critical Care | 147 | −0.3 | 0.0 | 0.2 | −0.1 | −4.4
Dermatology | 2,033 | 4.1 | −0.1 | 0.2 | 4.2 | −0.1
Emergency Medicine | 1,841 | −0.4 | 0.0 | 0.2 | −0.2 | −4.5
Endocrinology | 301 | −0.5 | 0.0 | 0.2 | −0.3 | −4.6
Family Practice | 4,683 | 0.1 | 0.0 | 0.1 | 0.2 | −4.1
Gastroenterology | 1,710 | 1.4 | 0.0 | 0.1 | 1.5 | −2.8
General Practice | 1,023 | 0.2 | 0.0 | 0.1 | 0.2 | −4.1
General Surgery | 2,319 | 0.2 | 0.1 | 0.2 | 0.4 | −3.9
Geriatrics | 123 | −0.2 | 0.0 | 0.2 | −0.1 | −4.4
Hand Surgery | 68 | −0.5 | 0.1 | 0.2 | −0.2 | −4.5
Hematology\Oncology | 985 | 0.4 | 0.0 | 0.1 | 0.5 | −5.2
Infectious Disease | 410 | −0.1 | 0.0 | 0.2 | 0.1 | −4.3
Internal Medicine | 9,257 | −0.1 | 0.0 | 0.2 | 0.1 | −4.2
Interventional Radiology | 209 | 0.2 | −0.1 | −0.9 | −0.8 | −5.1
Nephrology | 1,507 | −0.2 | 0.0 | 0.2 | 0.0 | −4.3
Neurology | 1,284 | −0.6 | 0.0 | 0.0 | −0.6 | −4.9
Neurosurgery | 538 | −0.7 | 0.2 | 0.1 | −0.3 | −4.6
Nuclear Medicine | 87 | −0.3 | −0.1 | −0.2 | −0.5 | −4.8
Obstetrics\Gynecology | 599 | 0.0 | 0.0 | 0.1 | 0.2 | −4.2
Ophthalmology | 4,739 | −1.1 | 0.0 | 0.2 | −1.0 | −5.3
Orthopedic Surgery | 3,145 | −0.4 | 0.1 | 0.2 | −0.1 | −4.4
Otolaryngology | 871 | −0.6 | 0.0 | 0.2 | −0.4 | −4.7
Pathology | 915 | 1.3 | 0.0 | 0.2 | 1.5 | −2.8
Pediatrics | 66 | 0.1 | 0.0 | 0.2 | 0.3 | −4.1
Physical Medicine | 750 | −0.5 | −0.1 | 0.2 | −0.4 | −4.7
Plastic Surgery | 279 | 0.1 | 0.0 | 0.2 | 0.3 | −4.0
Psychiatry | 1,127 | 0.0 | −0.1 | 0.2 | 0.1 | −4.2
Pulmonary Disease | 1,521 | −0.2 | 0.0 | 0.2 | 0.0 | −4.3
Radiation Oncology | 1,308 | 1.9 | 0.0 | 0.1 | 2.0 | −2.3
Radiology | 5,154 | 0.4 | 0.0 | −2.1 | −1.7 | −6.0
Rheumatology | 400 | −0.9 | 0.0 | 0.1 | −0.8 | −5.4
Thoracic Surgery | 464 | −0.8 | 0.2 | 0.2 | −0.4 | −4.7
Urology | 1,782 | 1.8 | 0.0 | 0.0 | 1.8 | −2.6
Vascular Surgery | 560 | 0.5 | 0.0 | 0.2 | 0.7 | −3.6
Practitioners:
Audiologist | 31 | −5.8 | 0.0 | 0.2 | −5.6 | −9.9
Chiropractor | 720 | −1.3 | −0.6 | 0.2 | −1.8 | −6.1
Clinical Psychologist | 527 | −0.6 | −0.3 | 0.2 | −0.6 | −4.9
Clinical Social Worker | 345 | −0.6 | −0.4 | 0.2 | −0.8 | −5.1
Nurse Anesthetist | 523 | −0.4 | 0.0 | 0.2 | −0.2 | −4.5
Nurse Practitioner | 617 | 0.1 | 0.0 | 0.2 | 0.2 | −4.1
Optometry | 720 | −0.8 | 0.0 | 0.2 | −0.6 | −4.9
Oral\Maxillofacial Surgery | 37 | 0.8 | 0.0 | 0.2 | 1.0 | −3.3
Physical\Occupational Therapy | 1,283 | 1.5 | −0.5 | 0.2 | 1.2 | −3.1
Physicians Assistant | 472 | 0.0 | 0.0 | 0.2 | 0.3 | −4.0
Podiatry | 1,487 | 1.3 | 0.0 | 0.2 | 1.5 | −2.8
Suppliers:
Diagnostic Testing Facility | 1,087 | −2.4 | 0.0 | −2.9 | −5.3 | −9.6
Independent Laboratory | 631 | 6.4 | 0.0 | 0.2 | 6.6 | 2.3
Portable X-Ray Supplier | 96 | 0.4 | 0.0 | 0.1 | 0.5 | −3.8

Table 34 below shows the impact on total payments for selected high-volume procedures of all of the changes previously discussed. We selected these procedures because they are the most commonly provided by a broad spectrum of physician specialties. There are separate columns that show the change in the facility rates and the nonfacility rates. For an explanation of facility and nonfacility practice expense refer to section II.A. in the preamble of this proposed rule. If we change any of the proposed provisions following the consideration of public comments, these figures may change.

Table 34.—Impact of Proposed Rule on Payment for Selected Procedures
HCPCS | MOD | Description | Non-facility: Old | Non-facility: New | Non-facility: Percent change | Facility: Old | Facility: New | Facility: Percent change
11721 |  | Debride nail, 6 or more | $39.79 | $38.77 | −3 | $31.08 | $29.60 | −5
17000 |  | Destroy benign/premlg lesion | 60.64 | 62.54 | 3 | 44.34 | 44.39 | 0
27130 |  | Total hip arthroplasty | N/A | N/A | N/A | 1,396.14 | 1,321.88 | −5
27244 |  | Treat thigh fracture | N/A | N/A | N/A | 1,134.65 | 1,073.62 | −5
27447 |  | Total knee arthroplasty | N/A | N/A | N/A | 1,507.94 | 1,427.92 | −5
33533 |  | CABG, arterial, single | N/A | N/A | N/A | 1,923.30 | 1,813.54 | −6
35301 |  | Rechanneling of artery | N/A | N/A | N/A | 1,128.59 | 1,072.23 | −5
43239 |  | Upper GI endoscopy, biopsy | 333.50 | 336.27 | 1 | 162.20 | 159.18 | −2
66821 |  | After cataract laser surgery | 248.23 | 233.25 | −6 | 230.42 | 216.83 | −6
66984 |  | Cataract surg w/iol, 1 stage | N/A | N/A | N/A | 684.05 | 649.50 | −5
67210 |  | Treatment of retinal lesion | 599.54 | 568.15 | −5 | 573.39 | 544.48 | −5
71010 |  | Chest x-ray | 28.04 | 25.68 | −8 | N/A | N/A | N/A
71010 | 26 | Chest x-ray | 9.47 | 9.17 | −3 | 9.47 | 9.17 | −3
76091 |  | Mammogram, both breasts | 97.40 | 101.39 | 4 | N/A | N/A | N/A
76091 | 26 | Mammogram, both breasts | 45.10 | 43.77 | −3 | 45.10 | 43.77 | −3
76092 |  | Mammogram, screening | 85.65 | 83.77 | −2 | N/A | N/A | N/A
76092 | 26 | Mammogram, screening | 36.38 | 35.33 | −3 | 36.38 | 35.33 | −3
77427 |  | Radiation tx management, x5 | 172.05 | 168.64 | −2 | 172.05 | 166.10 | −3
78465 | 26 | Heart image (3d), multiple | 77.31 | 74.92 | −3 | 77.31 | 74.92 | −3
88305 | 26 | Tissue exam by pathologist | 42.07 | 40.14 | −5 | 42.07 | 40.14 | −5
90801 |  | Psy dx interview | 153.11 | 147.29 | −4 | 144.01 | 137.12 | −5
90862 |  | Medication management | 51.92 | 50.31 | −3 | 48.89 | 46.77 | −4
90935 |  | Hemodialysis, one evaluation | N/A | N/A | N/A | 73.14 | 69.37 | −5
92012 |  | Eye exam established pat | 65.18 | 61.63 | −5 | 37.14 | 35.32 | −5
92014 |  | Eye exam & treatment | 96.26 | 91.31 | −5 | 60.64 | 57.66 | −5
92980 |  | Insert intracoronary stent | N/A | N/A | N/A | 809.11 | 786.38 | −3
93000 |  | Electrocardiogram, complete | 26.91 | 24.23 | −10 | N/A | N/A | N/A
93010 |  | Electrocardiogram report | 9.10 | 8.81 | −3 | 9.10 | 8.81 | −3
93015 |  | Cardiovascular stress test | 108.01 | 107.55 | 0 | N/A | N/A | N/A
93307 | 26 | Echo exam of heart | 49.27 | 47.67 | −3 | 49.27 | 47.67 | −3
93510 | 26 | Left heart catheterization | 257.32 | 252.61 | −2 | 257.32 | 252.61 | −2
98941 |  | Chiropractic manipulation | 36.76 | 34.78 | −5 | 31.83 | 30.42 | −4
99203 |  | Office/outpatient visit, new | 97.02 | 93.33 | −4 | 72.38 | 69.11 | −5
99213 |  | Office/outpatient visit, est | 52.68 | 50.65 | −4 | 35.62 | 33.96 | −5
99214 |  | Office/outpatient visit, est | 82.62 | 79.62 | −4 | 59.12 | 56.30 | −5
99222 |  | Initial hospital care | N/A | N/A | N/A | 112.93 | 107.79 | −5
99223 |  | Initial hospital care | N/A | N/A | N/A | 157.27 | 150.29 | −4
99231 |  | Subsequent hospital care | N/A | N/A | N/A | 34.11 | 32.60 | −4
99232 |  | Subsequent hospital care | N/A | N/A | N/A | 55.71 | 53.31 | −4
99233 |  | Subsequent hospital care | N/A | N/A | N/A | 79.21 | 75.74 | −4
99236 |  | Observ/hosp same date | N/A | N/A | N/A | 223.22 | 213.40 | −4
99239 |  | Hospital discharge day | N/A | N/A | N/A | 96.64 | 92.53 | −4
99243 |  | Office consultation | 122.79 | 118.66 | −3 | 93.99 | 90.08 | −4
99244 |  | Office consultation | 172.81 | 166.69 | −4 | 138.70 | 133.04 | −4
99253 |  | Initial inpatient consult | N/A | N/A | N/A | 98.91 | 94.99 | −4
99254 |  | Initial inpatient consult | N/A | N/A | N/A | 142.12 | 136.30 | −4
99261 |  | Follow-up inpatient consult | N/A | N/A | N/A | 22.36 | 21.43 | −4
99262 |  | Follow-up inpatient consult | N/A | N/A | N/A | 45.48 | 43.50 | −4
99263 |  | Follow-up inpatient consult | N/A | N/A | N/A | 67.46 | 64.57 | −4
99283 |  | Emergency dept visit | N/A | N/A | N/A | 62.15 | 59.30 | −5
99284 |  | Emergency dept visit | N/A | N/A | N/A | 97.02 | 92.54 | −5
99291 |  | Critical care, first hour | 256.57 | 243.87 | −5 | 207.68 | 198.33 | −4
99292 |  | Critical care, add&iuml'l 30 min | 113.69 | 108.60 | −4 | 103.84 | 99.17 | −4
99302 |  | Nursing facility care | 87.92 | 84.00 | −4 | 87.92 | 84.00 | −4
99303 |  | Nursing facility care | 108.39 | 103.43 | −5 | 108.39 | 103.43 | −5
99312 |  | Nursing fac care, subseq | 56.47 | 54.03 | −4 | 56.47 | 54.03 | −4
99313 |  | Nursing fac care, subseq | 79.58 | 76.18 | −4 | 79.58 | 76.18 | −4
99348 |  | Home visit, est patient | 72.01 | 68.65 | −5 | N/A | N/A | N/A
99350 |  | Home visit, est patient | 164.48 | 156.46 | −5 | N/A | N/A | N/A
G0008 |  | Immunization admin | 18.57 | 17.88 | −4 | N/A | N/A | N/A
G0317 |  | ESRD related svs 4+mo 20+yrs | 307.73 | 294.91 | −4 | 307.73 | 294.91 | −4
G0344 |  | Initial preventive exam | 97.40 | 93.69 | −4 | 72.76 | 69.47 | −5
G0366 |  | EKG for initial prevent exam | 26.91 | 24.23 | −10 | N/A | N/A | N/A
G0367 |  | EKG tracing for initial prev | 17.81 | 15.42 | −13 | N/A | N/A | N/A
G0368 |  | EKG interpret & report preve | 9.10 | 8.81 | −3 | 9.10 | 8.81 | −3

In the November 15, 2004 PFS final rule, we showed the combined impact of PFS and drug payment changes on the total revenues for specialties that perform a significant volume of drug administration services. (69 FR 66406) Although we have not performed a similar combined impact analysis this year for all of the specialties considered last year, we have undertaken a similar analysis of hematology/oncology. In last year's final rule, we announced a one-year demonstration to collect information about symptoms for cancer patients receiving chemotherapy (69 FR 66308). Although this demonstration was implemented through the Secretary's authority under sections 402(a)(1)(B) and 402(a)(2) of the Social Security Act Amendments of 1967 (Pub. L. 90-248) and not through administrative rulemaking, we discussed the impacts of the additional payments from this demonstration in last year's final rule impact analysis.

Therefore, we are also including an analysis of the impact on payments to hematology/oncology as this demonstration project ends. As indicated in Table 35 below, PFS services account for approximately 28 percent of Medicare revenues for hematology/oncology. Medicare payments for all PFS services provided by the specialties of hematology/oncology are projected to decrease by 5.2 percent for 2006. We estimate the impact of the one-year demonstration was 15 percent higher payments relative to PFS payments during 2005. We estimate that approximately 69 percent of total Medicare revenues for hematology/oncology are attributed to drugs, and, for purposes of this analysis, we are assuming no change in the payment levels for Part B drugs during 2006. Assuming no changes in utilization for 2006, we project total Medicare revenues to oncologists would decline by 5.6 percent. However, if the volume of drugs and PFS services increased at historical rates, total Medicare revenues for hematology/oncology would increase by 8.1 percent between 2005 and 2006.

Table 35—Impact of Drug and Physician Fee Schedule Payment Changes
Physician Fee Schedule: Specialty | Physician Fee Schedule: Percent of total medicare revenues from fee schedule (percent) | Physician Fee Schedule: Change medicare physician fee schedule revenues (percent) | Physician Fee Schedule: Change one-year demonstration project (percent) | Drugs: Percent of total medicare revenues from drugs | Drugs: Change medicare drug revenues (percent) | All Revenues: Combined percent change all medicare revenues* | All Revenues: Combined percent change all medicare revenues with utilization increase**
Hematology/Oncology | 28 | −5.2 | −15 | 69 | 0 | −5.6 | 8.1%
*Note: Reflects changes in total Medicare revenues assuming no changes in utilization. Calculation reflects average changes in fee schedule payments and for drugs weighted by percent of Medicare revenues.
** Note: We estimate that Medicare payments to oncologists would increase by 8% between 2005 and 2006 if growth in the volume of drugs and physician fee schedule services were to grow at historical rates, despite the effect of the end of the one-year demonstration project.

B. Geographic Practice Cost Indices (GPCI)—Payment Localities

As discussed in section II.B. of the preamble to this proposed rule, we are proposing two changes to the California GPCI payment localities. We are proposing to remove both Santa Cruz County and Sonoma County from the Rest of California payment locality, and make both of those counties separate payment localities.

In the November 15, 2004 final rule, we published 2005 and 2006 GPCI and GAF values reflecting the 2 year phase-in of the updated GPCI data. For the Rest of California payment locality that included Santa Cruz and Sonoma counties, the 2005 GAF is 1.012, and the 2006 GAF published at that time was 1.017. After removing Santa Cruz County from the Rest of California locality, its proposed 2006 GAF increases to 1.119. Removing Sonoma County from the Rest of California locality results in a proposed 2006 GAF of 1.098 for the new Sonoma County payment locality. The Rest of California proposed 2006 GAF is 1.011. Table 36 below shows the impacts of the proposed changes in the GPCIs and GAFs. Although only Santa Cruz and Sonoma Counties and the Rest of California locality are specifically impacted by the proposed change, in Table 36, we are showing the GPCIs and GAFs for all California payment localities (the changes from the 2005 to 2006 GAFs for these counties represent the second year of the transition to updated GPCIs).

Table 36.—Impacts on California Payment Localities
Locality name | County | Work GPCI | 2005 GPCI: PE GPCI | 2005 GPCI: MP GPCI | GAF | 2006 Proposed GPCI: Work GPCI | 2006 Proposed GPCI: PE GPCI | 2006 Proposed GPCI: MP GPCI | 2006 Proposed GPCI: GAF | Percent change from 2005 GAFs
Anaheim\Santa Ana | Orange | 1.036 | 1.21 | 0.954 | 1.109 | 1.034 | 1.236 | 0.954 | 1.119 | 0.9
Los Angeles | Los Angeles | 1.049 | 1.147 | 0.954 | 1.088 | 1.041 | 1.156 | 0.954 | 1.088 | 0.0
Marin\Napa\Solano | Marin, Napa, Solano | 1.025 | 1.294 | 0.651 | 1.128 | 1.035 | 1.34 | 0.651 | 1.154 | 2.3
Oakland\Berkley | Alameda, Contra Costa | 1.048 | 1.303 | 0.651 | 1.144 | 1.054 | 1.371 | 0.651 | 1.177 | 2.9
San Francisco | San Francisco | 1.064 | 1.501 | 0.651 | 1.239 | 1.06 | 1.543 | 0.651 | 1.256 | 1.4
San Mateo | San Mateo | 1.061 | 1.484 | 0.639 | 1.23 | 1.073 | 1.536 | 0.639 | 1.259 | 2.4
Santa Clara | Santa Clara | 1.073 | 1.46 | 0.604 | 1.224 | 1.083 | 1.54 | 0.604 | 1.265 | 3.3
Santa Cruz | Santa Cruz | 1.007 | 1.043 | 0.733 | 1.012 | 1.014 | 1.218 | 0.717 | 1.119 | 10.6
Sonoma | Sonoma | 1.007 | 1.043 | 0.733 | 1.012 | 1.017 | 1.23 | 0.717 | 1.098 | 8.5
Ventura | Ventura | 1.028 | 1.152 | 0.744 | 1.072 | 1.028 | 1.179 | 0.744 | 1.083 | 1.0
Rest of California* |  | 1.007 | 1.043 | 0.733 | 1.012 | 1.007 | 1.042 | 0.717 | 1.011 | −0.1%
*Alpine, Amador, Butte, Calaveras, Colusa, Del Norte, El Dorado, Fresno, Glenn, Humboldt, Imperial, Inyo, Kern, Kings, Lake, Lassen, Madera, Mariposa, Mendocino, Merced, Modoc, Mono, Monterey, Nevada, Placer, Plumas, Riverside, Sacramento, San Benito, San Bernardino, San Joaquin, San Diego, San Luis Obispo, Santa Barbara, Shasta, Sierra, Siskiyou, Stanislaus, Sutter, Tehama, Trinity, Tulare, Tuolumne, Yolo, Yuba

C. Medicare Telehealth Services

In section II.D. of this proposed rule, we are proposing to add individual medical nutrition therapy, as represented by HCPCS codes G0270, 97802, and 97803, to the list of telehealth services. We believe that this change will have little effect on Medicare expenditures.

D. Contractor Pricing of CPT Codes 97039 and 97139

As discussed earlier in the preamble of this proposed rule (section II.E.), we are proposing to have the contractors value CPT codes 97039 and 97139. This will make the pricing methodology for these services consistent with our policy for other unlisted services and we believe it will have no significant impact on Medicare expenditures.

E. ESRD-MMA Related Provisions

The ESRD related provisions in this proposed rule are discussed in section II.G. In order to understand the impact of the proposed changes affecting payments to different categories of ESRD facilities, it is necessary to compare estimated payments under the current payment system (current payments) to estimated payments under the proposed revisions to the composite rate payment system as set forth in this proposed rule (proposed payments). To estimate the impact among various classes of ESRD facilities, it is imperative that the estimates of current payments and proposed payments contain similar inputs. Therefore, we simulated payments only for those ESRD facilities for which we are able to calculate both current 2005 payments and proposed 2006 payments.

Due to data limitations, we are unable to estimate current and proposed payments for 77 facilities that bill for ESRD dialysis treatments. ESRD providers were grouped into the categories based on characteristics provided in the Online Survey and Certification and Reporting (OSCAR) file and the most recent cost report data from the Healthcare Cost Report Information System (HCRIS). We also used the December 2004 update of CY 2004 Standard Analytical File (SAF) claims as a basis for Medicare dialysis treatments and separately billable drugs and biologicals. While the December 2004 update of the 2004 SAF file is not complete, we wanted to use the most recent data available, and plan to use an updated version of the 2004 SAF file for the final rule.

Table 37—Impact of Proposed Changes in Payments to Hospital Based and Independent ESRD Facilities (Includes Drug and Composite Rate Payments)
[Percent change in total payments to ESRD facilities (both program and beneficiaries)]
| Number of facilities | Number of Dialysis treatments (in millions) | Effect of changes in wage index¹ | Effect of changes in drug payments² | Overall effect ³
All | 4,293 | 29.5 | 0.0 | 1.2 | 0.5
Independent | 3,716 | 26.1 | −0.1 | 1.2 | 0.4
Hospital Based | 577 | 3.3 | 1.3 | 1.0 | 1.2
Size:
Small < than 5000 treatments per year | 1,714 | 4.9 | −0.5 | 1.1 | 0.1
Medium 5000 to 9999 treatments per year | 1,724 | 12.4 | 0.1 | 1.3 | 0.6
Large > than 10000 treatments per year | 855 | 12.1 | 0.2 | 1.2 | 0.6
Type of Ownership:
Profit | 3,388 | 23.8 | −0.2 | 1.2 | 0.4
Nonprofit | 896 | 5.6 | 1.0 | 1.1 | 1.0
Rural | 1,189 | 6.0 | −0.6 | 1.1 | 0.1
Urban | 3,104 | 23.5 | 0.2 | 1.2 | 0.6
Region:
New England | 143 | 1.1 | 3.7 | 1.6 | 2.9
Middle Atlantic | 521 | 3.9 | 2.1 | 1.5 | 1.9
East North Central | 651 | 4.6 | −1.9 | 0.9 | −0.8
West North Central | 333 | 1.6 | −0.9 | 1.0 | −0.2
South Atlantic | 975 | 6.8 | −0.3 | 1.2 | 0.4
East South Central | 342 | 2.2 | −1.6 | 1.1 | −0.4
West South Central | 585 | 4.1 | −1.3 | 1.1 | −0.3
Mountain | 226 | 1.3 | −0.6 | 1.1 | 0.0
Pacific | 486 | 3.7 | 2.6 | 1.5 | 2.2
Puerto Rico | 31 | 0.3 | −1.6 | 0.7 | −0.7
¹ This column shows the effect of wage changes to composite rate payments to ESRD providers. Composite rate payments computed using the current wage index are compared to composite rate payments using the proposed wage index changes.
² This column shows the effect of the changes in drug payments to ESRD providers. These include proposed changes In payment for separately billable drugs (2006 ASP+6) and the 8.9% drug add-on compared to current payment for separately billable drugs (2005 AAP) and the current 8.7 percent drug add-on.
³ This column shows the percent change between proposed and current payments to ESRD facilities. The proposed payments include the wage adjusted composite rate, and the 8.9% drug add-on times treatments plus proposed payment for separately billable drugs. The current payment to ESRD facilities includes the current wage adjusted composite rate times treatments plus current drug payments for separately billable drugs.

Table 37 above shows the impact of this year's proposed changes to payments to hospital based and independent ESRD facilities. We have included both composite rate payments as well as payments for separately billable drugs and biologicals because both are affected by the proposed changes. The first column of Table 37 identifies the type of ESRD provider, the second column indicates the number of ESRD facilities for each type, and the third column indicates the number of dialysis treatments.

The fourth column shows the effect of proposed changes to the ESRD wage index as it affects the composite rate payments to ESRD facilities. The fourth column compares aggregate wage adjusted composite rate payments using the proposed ESRD wage index compared to the current ESRD wage adjusted composite rate payments. The overall effect to all ESRD providers in aggregate is zero because the proposed ESRD wage index has been multiplied by a budget neutrality factor to comply with the statutory requirement that any wage index revisions be done in a manner that results in the same aggregate amount of expenditures as would have been made without any changes in the wage index. The percent changes shown in the fifth and sixth columns are the result of the increase to the drug add-on and the changes in drug prices which are explained in section G below.

The fifth column shows the effect of the proposed changes in drug payments to ESRD providers. Current payments for drugs represent 2005 Medicare reimbursement using AAP prices for the top ten drugs (as discussed earlier in this preamble). Current Medicare spending for the top ten drugs is estimated using 2005 AAP prices times actual drug utilization from 2004 claims. (EPO units are estimated using payments because the units field on bills represents the number of EPO administrations rather than the number of EPO units). Spending under the proposed change is 2005 ASP +6 percent for the top ten drugs times actual drug utilization from 2004 claims. The proposed prices for these top ten drugs are discussed earlier in this preamble. In order to simulate what ASP +6 percent pricing will be in 2006 we inflated the 2005 first quarter ASP +6 prices by a forecast of the PPI for prescription drugs (5.7 percent annual growth from 2005 to 2006).

Proposed payment for drugs in 2006 also includes the 8.9 percent drug add-on to the composite rate. This amount is computed by multiplying the wage adjusted composite rate for each provider times dialysis treatments from 2004 claims. Column 5 is computed by comparing spending under the proposed payment for drugs (ASP +6 percent inflated to 2006) including the 8.9 percent drug add-on amount to spending under current payments for drugs with the current drug add-on of 8.7 percent. In order to make column 5 comparable with rest of Table 38, current composite rate payments to ESRD facilities were included in both current and proposed spending calculations.

We did not simulate any case mix in this impact table because 2004 claims data do not include the new data fields (height and weight) that are needed to calculate case mix. These data fields were not required be reported by providers until January 1, 2005. However, we have not proposed any changes to case mix for calendar year 2006.

Column 6 shows the overall effect of all changes in drug and composite rate payments to ESRD providers. The overall effect is measured as the difference between proposed payment with all MMA changes as proposed in this rule and current payment. Proposed payment is computed by multiplying the composite rate for each provider (with both the proposed wage index and the 8.9 percent drug add-on) times dialysis treatments from 2004. In addition, the proposed payment includes payments for separately billable drugs under the ASP +6 drug pricing inflated to 2006 levels. Current payment is the current wage adjusted composite rate for each provider times dialysis treatments from 2004 claims plus current AAP priced drug payments for separately billable drugs with the current 8.7 percent drug add-on.

The overall impact to ESRD providers in aggregate is 0.5 percent. Among the two separately shown effects, the effect of changes to the wage index has the most variation among provider type but is budget neutral in aggregate. The effect of change in drug payments contributes most to the overall effect, but varies little among provider types.

We also note that the proposed revisions to the composite rate exceptions process will have no impact on payments to ESRD providers since we have only proposed changes in process and these changes do not affect which providers will be eligible for exceptions nor the amount of the exception.

F. Payment for Covered Outpatient Drugs and Biologicals

As discussed in section II.H. of this proposed rule, the proposal to pay a reduced supplying fee for each Medicare Part B oral drug prescription, after the first one, supplied to a beneficiary during a month is estimated to reduce total Federal expenditures by $8 million in 2006, and $30 million over the five-year period, CY 2006 to 2010. The preamble seeks comment on an appropriate inhalation drug dispensing fee amount for 2006. The effect on Federal expenditures of a potential change to the inhalation drug dispensing fee would depend on the dispensing fee amount established.

G. Private Contracts and Opt-Out Provision

The changes discussed in section II.I. of this proposed rule, with respect to private contracts and the opt-out provision, are currently estimated to have no significant impact on Medicare expenditures. However, we believe the changes will clarify that the consequences for the failure to maintain opt-out will apply regardless of whether the physician or practitioner was notified by the carrier.

H. FQHC Supplemental Payment Provision

Section 237 of the MMA amended section 1833(a)(3) of Act to provide supplemental payments to FQHCs that contract with Medicare Advantage (MA) organizations to cover the difference, if any, between the payment received by the health center for treating MA enrollees and the payment to which the FQHC would be entitled to receive under its cost-based all-inclusive payment rate. We estimate that this new MMA payment provision for FQHC services will not increase Medicare payments. In other words, this MMA provision would have no budgetary impact on the Medicare trust fund due to the fact that a supplemental payment would only be made when the MA payment to the health center is less than its original FQHC cost based rate. Consequently, no additional Medicare expenditures would be needed to pay the center up to what it would have received under original Medicare.

I. National Coverage Decisions Timeframes

The proposed changes to § 426.340 discussed in section II.N. of this proposed rule, are made in order to conform certain timeframes in the regulation to meet legislative changes made by the MMA of 2003. These changes to the regulation will meet Congressional intent in the development of NCDs, and will conform the regulation to the overall NCD process. There will be no budget implications as a result of these changes.

J. Coverage of Screening for Glaucoma

As discussed in section II.O. of the preamble to this proposed rule, we would expand the definition of an eligible beneficiary under the glaucoma screening benefit to include Hispanic Americans age 65 and over, effective January 1, 2006, subject to certain frequency and other limitations on coverage. At present, § 410.23(a)(2) (Conditions for and limitations on coverage of screening for glaucoma) defines the term “eligible beneficiary” to include individuals in the following high risk categories:

• Individual with diabetes mellitus.

• Individual with a family history of glaucoma.

• African-Americans age 50 and over.

Based on the projected utilization of these screening services and related medically necessary follow-up tests and treatment that may be required for the additional beneficiaries screened, we estimate that this expanded benefit will result in an increase in Medicare payments to ophthalmologists or optometrists who will provide these screening tests and related follow-up tests and treatment. However, this is not expected to have a significant cost impact on the Medicare program.

K. Physician Referral for Nuclear Medicine Services

This proposal, which is discussed in section II.P. of this proposed rule, would primarily affect physicians and health care entities that furnish items and services to Medicare beneficiaries. We have attempted to minimize its effect by interpreting the law in a practical and realistic manner. We are unable to quantify the number of physicians who have either an ownership or an investment interest in entities that furnish nuclear medicine services and/or supplies. Even if we assume that a substantial number of physicians have ownership or investment interests in these types of entities, we believe that, in general, the economic impact on these physicians would not necessarily be substantial, for the reasons stated below.

Physician owners/investors of entities that furnish nuclear medicine services and supplies in a manner that satisfies the requirements of the in-office ancillary services exception would not be affected by this proposed rule. In addition, physician ownership of or investment in entities that furnish nuclear medicine services and supplies to residents of rural areas would not be affected by this requirement.

If a physician's ownership or investment interest would lead to a prohibition on his or her referrals to that entity, the physician has two options. First, he or she can stop making referrals to that entity and make referrals to another entity. Second, the physician can divest himself or herself of the interest. While the impact on an individual physician may be significant, we do not believe that physicians, in general, will be significantly affected if they have to stop making referrals to an entity in which they have an ownership interest. We have come to this conclusion because we assume that the majority of physicians receive most of their income from the services they personally furnish, not from nuclear medicine services performed by entities that they own. In addition, we assume that, unless the physician established the entity to serve only his or her patients, the entity receives referrals from other physicians. Thus, the physician may still receive a return on the ownership or investment. We do not believe that the second option (divestiture of the ownership interest) would necessarily have a significant economic effect. However, we assume, that, at least from an economic standpoint, most physicians invest in entities because they are income producing. If an investment is successful, a physician may have little difficulty finding new investors willing to take over the physician's investment. The physician, in turn, can then invest the monies received in some other investment. We believe the cost of divestiture will vary from situation to situation.

We also do not believe that beneficiary access to medically necessary nuclear medicine services would be threatened simply because most physician ownership of entities that furnish nuclear medicine services would be prohibited. As indicated above, we see no reason why medically necessary nuclear medicine services could not be furnished by entities owned by those not in a position to refer such services.

We expect that this proposed rule may result in savings to both the Medicare and Medicaid programs by minimizing anti-competitive business arrangements as well as financial incentives that encourage over-utilization of costly nuclear medicine services. (See David Armstrong, “MRI and CT Centers Offer Doctors Way to Profit on Scans,” Wall Street Journal, May 2, 2005, et al.) We cannot gauge with any certainty the extent of these savings to either program at this time.

L. Alternatives Considered

This proposed rule contains a range of policies, including some proposals related to specific MMA provisions. The preamble provides descriptions of the statutory provisions that are addressed, identifies those policies when discretion has been exercised, presents rationale for our decisions and, where relevant, alternatives that were considered.

M. Impact on Beneficiaries

There are a number of changes made in this proposed rule that would have an effect on beneficiaries. In general, we believe these changes will improve beneficiary access to services that are currently covered or will expand the Medicare benefit package to include new services. As explained in more detail below, the regulatory provisions may affect beneficiary liability in some cases. Any changes in aggregate beneficiary liability from a particular provision will be a function of the coinsurance (20 percent if applicable for the particular provision after the beneficiary has met the deductible) and the effect of the aggregate cost (savings) of the provision on the calculation of the Medicare Part B premium rate (generally 25 percent of the provision's cost or savings).

To illustrate this point, as shown in Table 34, the 2005 national payment amount in the nonfacility setting for CPT code 99203 (Office/outpatient visit, new), is $97.02 which means that currently a beneficiary is responsible for 20 percent of this amount, or $19.40. Under this proposed rule the 2006 national payment amount in the nonfacility setting for CPT code 99203, as shown in Table 34, is $93.33 which means that, in 2006, the beneficiary coinsurance for this service would be $18.66.

Very few of the changes we are proposing impact overall payments and therefore will affect Medicare beneficiaries' coinsurance liability. Proposals discussed above that do affect overall spending would similarly impact beneficiaries' coinsurance.

For example, we have tried to ensure that the proposal concerning physician self-referral for nuclear medicine services would not adversely impact the medical care of Medicare or Medicaid patients. While we recognize that these proposed revisions may have an impact on current arrangements under which patients are receiving medical care, there are other ways to structure these arrangements so that patients may continue to receive medically necessary nuclear medicine services. In almost all cases, we believe this proposal concerning physician referral for nuclear medicine services should not require substantial changes in delivery arrangements and would help minimize anti-competitive behavior that can affect where a beneficiary receives health care services and possibly the quality of the services furnished. We also believe it will minimize the number of medically unnecessary nuclear medicine procedures billed to the Medicare and Medicaid programs.

N. Accounting Statement

As required by OMB Circular A-4 (available at http://www.whitehouse.gov/omb/circulars/a004/a-4.pdf), in Table 38 below, we have prepared an accounting statement showing the classification of the expenditures associated with the provisions of this proposed rule. This table includes the impact of the proposed changes in this rule on providers and suppliers and encompasses the anticipated negative update to the physician fee schedule based on the statutory SGR formula.

Expenditures are classified as transfers to Medicare providers/or suppliers (that is, ESRD facilities and physicians, other practitioners and medical suppliers that receive payment under the physician fee schedule or Medicare Part B).

TABLE 38.—Accounting Statement: Classification of Estimated Expenditures, From CY 2005 to the CY 2006
[in millions]
Category | Transfers
Annualized Monetized Transfers | Negative transfer-Estimated decrease in expenditures ($1,860).
From Whom To Whom? | Federal Government To ESRD Medicare Providers; physicians, other practitioners and suppliers who receive payment under the Medicare Physician Fee Schedule; and Medicare Suppliers billing for Part B drugs.

In accordance with the provisions of Executive Order 12866, this final rule was reviewed by the Office of Management and Budget.

List of Subjects

42 CFR Part 405

Administrative practice and procedure, Health facilities, Health professions, Kidney diseases, Medical devices, Medicare, Reporting and recordkeeping requirements, Rural areas, X-rays.

42 CFR Part 410

Health facilities, Health professions, Kidney diseases, Laboratories, Medicare, Reporting and recordkeeping requirements, Rural areas, X-rays.

42 CFR Part 411

Kidney diseases, Medicare, Physician Referral, Reporting and recordkeeping requirements.

42 CFR Part 413

Health facilities, Kidney diseases, Medicare, Reporting and recordkeeping requirements.

42 CFR Part 414

Administrative practice and procedure, Health facilities, Health professions, Kidney diseases, Medicare, Reporting and recordkeeping requirements.

42 CFR Part 426

Administrative practice and procedure, Medicare, Reporting and recordkeeping requirements.

For the reasons set forth in the preamble, the Centers for Medicare & Medicaid Services proposes to amend 42 CFR chapter IV as set forth below:

PART 405—FEDERAL HEALTH INSURANCE FOR THE AGED AND DISABLED

1. The authority citation for part 405 continues to read as follows:

Authority: Secs. 1102, 1861, 1862(a), 1871, 1874, 1881, and 1886(k) of the Social Security Act (42 U.S.C. 1302, 1395x, 1395y(a), 1395hh, 1395kk, 1395rr, and 1395ww(k)), and sec. 353 of the Public Health Service Act (42 U.S.C. 263a).

Subpart D—Private Contracts

2. Section 405.435 is amended by—

A. Revising introductory text in paragraph (b).

B. Adding paragraph (d).

The revision and addition read as follows:

§ 405.435 Failure to maintain opt-out.

* * * * *

(b) If a physician or practitioner fails to maintain opt-out in accordance with paragraph (a) of this section, then, for the remainder of the opt-out period, except as provided by paragraph (d) of this section—

* * * * *

(d) If a physician or practitioner demonstrates that he or she has taken good faith efforts to maintain opt-out (including by refunding amounts in excess of the charge limits to beneficiaries with whom he or she did not sign a private contract) within 45 days of a notice from the carrier of a violation of paragraph (a) of this section, then the requirements of paragraphs (b)(1) through (b)(8) of this section are not applicable. In situations where a violation of paragraph (a) of this section is not discovered by the carrier during the 2-year opt-out period when the violation actually occurred, then the requirements of paragraphs (b)(1) through (b)(8) of this section are applicable from the date that the first violation of paragraph (a) of this section occurred until the end of the opt-out period during which the violation occurred (unless the physician or practitioner takes good faith efforts, within 45 days of any notice from the carrier that the physician or practitioner failed to maintain opt-out, or the physician's or practitioner's discovery of the failure to maintain opt-out, whichever is earlier, to correct his or her violations of paragraph (a) of this section, for example, by refunding the amounts in excess of the charge limits to beneficiaries with whom he or she did not sign a private contract).

* * * * *

Subpart X—Rural Health Clinic and Federally Qualified Health Center Services

3. Add § 405.2469 to read as follows:

§ 405.2469 Federally Qualified Health Centers supplemental payments.

Federally Qualified Health Centers under contract (directly or indirectly) with Medicare Advantage plans are eligible for supplemental payments for covered Federally Qualified Health Center services furnished to enrollees in Medicare Advantage plans offered by the Medicare Advantage organization to cover the difference, if any, between their payments from the Medicare Advantage plan and what they would receive under the cost-based Federally Qualified Health Center payment system.

(a) Calculation of supplemental payment. (1) The supplemental payment for Federally Qualified Health Center covered services provided to Medicare patients enrolled in Medicare Advantage plans is based on—

(i) The difference between payments received by the center from the Medicare Advantage plan as determined on a per visit basis;

(ii) The Federally Qualified Health Center's all-inclusive cost-based per visit rate as set forth in this subpart;

(iii) Less any amount the FQHC may charge as described in section 1857(e)(3)(B) of the Act.

(2) Any financial incentives provided to Federally Qualified Health Centers under their Medicare Advantage contracts, such as risk pool payments, bonuses, or withholds, are prohibited from being included in the calculation of supplemental payments due to the Federally Qualified Health Center.

(b) Per visit supplemental payment. A supplemental payment required under this section is made to the Federally Qualified Health Center when a covered face-to-face encounter occurs between a Medicare Advantage enrollee and a practitioner as set forth in § 405.4563.

PART 410—SUPPLEMENTARY MEDICAL INSURANCE (SMI) BENEFITS

4. The authority citation for part 410 continues to read as follows:

Authority: Secs. 1102 and 1871 of the Social Security Act (42 U.S.C. 1302 and 1395hh).

Subpart B—Medical and Other Health Services

5. Section 410.23 is amended by revising paragraph (a)(2)(i) through (iv) to read as follows:

§ 410.23 Screening for glaucoma: Conditions for and limitations on coverage.

(a) * * *

(2) * * *

(i) Individual with diabetes mellitus.

(ii) Individual with a family history of glaucoma.

(iii) African-Americans age 50 and over.

(iv) Hispanic-Americans age 65 and over.

* * * * *

6. Section 410.78 is amended by—

A. Revising paragraph (b) introductory text.

B. Adding paragraph (b)(2)(viii).

The revision and addition read as follows:

§ 410.78 Telehealth services

* * * * *

(b) General rule. Medicare Part B pays for office and other outpatient visits, professional consultation, psychiatric diagnostic interview examination, individual psychotherapy, pharmacologic management, end stage renal disease related services included in the monthly capitation payment (except for one visit per month to examine the access site), and individual medical nutrition therapy furnished by an interactive telecommunications system if the following conditions are met:

(2) * * *

(viii) A registered dietician or nutrition professional as described in § 410.134.

* * * * *

PART 411—EXCLUSIONS FROM MEDICARE AND LIMITATIONS ON MEDICARE PAYMENT

7. The authority citation for part 411 continues to read as follows:

Authority: Secs. 1102 and 1871 of the Social Security Act (42 U.S.C. 1302 and 1395hh).

Subpart J—Financial Relationships Between Physicians and Entities Furnishing Designated Health Services

8. Section 411.351 is amended by—

A. Revising the definition “Radiation therapy services and supplies”.

B. Revising the definition “Radiology and certain other imaging services”.

The revisions read as follows:

§ 411.351 Definitions.

* * * * *

Radiation therapy services and supplies means those particular services and supplies so identified on the List of CPT/HCPCS Codes. All services and supplies identified on the List of CPT/HCPCS Codes are radiation therapy services and supplies for purposes of this subpart. Any service or supply not specifically identified as radiation therapy services or supplies on the List of CPT/HCPCS Codes is not a radiation therapy service or supply for purposes of this subpart. The list of codes identifying radiation therapy services and supplies are those covered under section 1861(s)(4) of the Act and § 410.35 of this chapter.

Radiation and certain other imaging services means those particular services so identified on the List of CPT/HCPCS Codes. All services so identified on the List of CPT/HCPCS Codes are radiology and certain other imaging services for purposes of this subpart. Any service not specifically identified as radiology and certain other imaging services on the List of CPT/HCPCS Codes, is not a radiology or certain other imaging service for purposes of this subpart. The list of codes identifying radiology and certain other imaging services includes the professional and technical components of any diagnostic test or procedure using x-rays, ultrasound, or other imaging services, computerized axial tomography, or magnetic resonance imaging, or diagnostic nuclear medicine, as covered under section 1861(s)(3) of the Act and § 410.32 and § 410.34 of this chapter, but does not include—

(1) X-ray, fluoroscopy, or ultrasound procedures that require the insertion of a needle, catheter, tube, or probe through the skin or into a body orifice.

(2) Radiology procedures that are integral to the performance of a non-radiological medical procedure and performed—

(i) During the nonradiological medical procedure; or

(ii) Immediately following the non-radiological medical procedure where necessary to confirm placement of an item placed during the nonradiological medical procedure.

* * * * *

PART 413—PRINCIPLES OF REASONABLE COST REIMBURSEMENT; PAYMENT FOR END-STAGE RENAL DISEASE SERVICES; PROSPECTIVELY DETERMINED PAYMENT RATES FOR SKILLED NURSING FACILITIES

9. The authority citation for part 413 continues to read as follows:

Authority: Secs. 1102, 1812(d), 1814(b), 1815, 1833(a), (i), and (n), 1871, 1881, 1883, and 1886 of the Social Security Act (42 U.S.C. 1302, 1395D(D), 1395f(b), 1395g, 13951(a), (i), and (n), 1395hh, 1395rr, 1395tt, and 1395ww).

Subpart H—Payment for End-Stage Renal Disease (ESRD) Services and Organ Procurement Costs

10. Section 413.170 is amended by revising paragraph (b) to read as follows:

§ 413.170 Scope.

* * * * *

(b) Providing procedures and criteria under which a pediatric ESRD facility (an ESRD facility with at least a 50 percent pediatric patient mix) may receive an exception to the prospective payment rates; and

* * * * *

11. Section 413.174 is amended by—

A. Revising paragraph (f).

B. Removing paragraph (g).

The revisions read as follows:

§ 413.174 Prospective rates for hospital-based and independent ESRD facilities.

* * * * *

(f) Additional payment for separately billable drugs. CMS makes an additional payment for certain drugs furnished to ESRD patients by a Medicare-approved ESRD facility. CMS makes this payment directly to the ESRD facility. Payment for these drugs is made—

(1) Only on an assignment basis, directly to the facility which must accept, as payment in full, the amount that CMS determines;

(2) Subject to the Part B deductible and coinsurance;

(3) To hospital-based facilities in accordance with the cost reimbursement rules set forth in this part, except for erythropoietin/epogen (commonly called EPO), which is paid the same amount as independent facilities; and

(4) To independent facilities in accordance with the methodology set forth in § 405.517 of this chapter.

12. Section 413.180 is amended by—

A. Revising paragraphs (b) and (d)

B. Removing paragraphs (e) and (k).

C. Redesignating paragraphs (f) through (j) as paragraphs (e) through (i).

D. Redesignating paragraphs (l) and (m) as paragraphs (j) and (k).

The amendment reads as follows:

§ 413.180 Procedures for requesting exceptions to payment rates.

* * * * *

(b) Criteria for requesting an exception. If a pediatric ESRD facility projects on the basis of prior year costs and utilization trends that it has an allowable cost per treatment higher than its prospective rate set under § 413.174, and if these excess costs are attributable to one or more of the factors in § 413.182, the facility may request, in accordance with paragraph (e) of this section, that CMS approve an exception to that rate and set a higher prospective payment rate.

* * * * *

(d) Payment rate exception request. Effective October 1, 2002, CMS may approve exceptions to a pediatric ESRD facility's updated prospective payment rate, if the pediatric ESRD facility did not have an approved exception rate as of October 1, 2002. A pediatric ESRD facility may request an exception to its payment rate at any time after it is in operation for at least 12 consecutive months.

* * * * *

13. Section 413.182 is revised to read as follows:

§ 413.182 Criteria for approval of exception requests.

(a) CMS may approve exceptions to a pediatric ESRD facility's prospective payment rate if the pediatric ESRD facility did not have an approved exception rate as of October 1, 2002.

(b) The pediatric ESRD facility must demonstrate, by convincing objective evidence, that its total per treatment costs are reasonable and allowable under the relevant cost reimbursement principles of part 413 and that its per treatment costs in excess of its payment rate are directly attributable to any of the following criteria:

(1) Pediatric patient mix, as specified in § 413.184.

(2) Self-dialysis training costs in pediatric facilities, as specified in § 413.186

14. Section 413.184 is amended by revising paragraphs (a) and (b)(1) to read as follows:

§ 413.184 Payment exception: Pediatric patient mix.

(a) Qualifications. To qualify for an exception to its prospective payment rate based on its pediatric patient mix a facility must demonstrate that—

(1) At least 50 percent of its patients are individuals under 18 years of age;

(2) Its nursing personnel costs are allocated properly between each mode of care;

(3) The additional nursing hours per treatment are not the result of an excess number of employees;

(4) Its pediatric patients require a significantly higher staff-to-patient ratio than typical adult patients; and

(5) These services, procedures, or supplies and its per treatment costs are clearly prudent and reasonable when compared to those of pediatric facilities with a similar patient mix.

(b) Documentation. (1) A pediatric ESRD facility must submit a listing of all outpatient dialysis patients (including all home patients) treated during the most recently completed and filed cost report (in accordance with cost reporting requirements under § 413.198) showing—

(i) Age of patients and percentage of patients under the age of 18;

(ii) Individual patient diagnosis;

(iii) Home patients and ages;

(iv) In-facility patients, staff-assisted, or self-dialysis;

(v) Diabetic patients; and

(vi) Patients isolated because of contagious disease.

* * * * *

§ 413.186 [Removed]

15. Section 413.186 is removed.

§ 413.188 [Removed]

16. Section 413.188 is removed.

17. Redesignate § 413.190 as § 413.186 and revise the newly designated § 413.186 to read as follows:

§ 413.186 Payment exception: Self-dialysis training costs in pediatric facilities.

(a) Qualification. To qualify for an exception to the prospective payment rate based on self-dialysis training costs, the pediatric ESRD facility must establish that it incurs per treatment costs for furnishing self-dialysis and home dialysis training that exceed the facility's payment rate for the training sessions.

(b) Justification. To justify its exception request, a facility must—

(1) Separately identify those elements contributing to its costs in excess of the composite training rate; and

(2) Demonstrate that its per treatment costs are reasonable and allowable.

(c) Criteria for determining proper cost reporting. CMS considers the pediatric ESRD facility's total costs, cost finding and apportionment, including its allocation of costs, to determine if costs are properly reported by treatment modality.

(d) Limitation of exception requests. Exception requests for a higher training rate are limited to those cost components relating to training such as technical staff, medical supplies, and the special costs of education (manuals and education materials). These requests may include overhead and other indirect costs to the extent that these costs are directly attributable to the additional training costs.

(e) Documentation. The pediatric ESRD facility must provide the following information to support its exception request:

(1) A copy of the facility's training program.

(2) Computation of the facility's cost per treatment for maintenance sessions and training sessions including an explanation of the cost difference between the two modalities.

(3) Class size and patients' training schedules.

(4) Number of training sessions required, by treatment modality, to train patients.

(5) Number of patients trained for the current year and the prior 2 years on a monthly basis.

(6) Projection for the next 12 months of future training candidates.

(7) The number and qualifications of staff at training sessions.

(f) Accelerated training exception. (1) A pediatric ESRD facility may bill Medicare for a dialysis training session only when a patient receives a dialysis treatment (normally three times a week for hemodialysis). Continuous cycling peritoneal dialysis (CCPD) and continuous ambulatory peritoneal dialysis (CAPD) are daily treatment modalities; ESRD facilities are paid the equivalent of three hemodialysis treatments for each week that CCPD and CAPD treatments are provided.

(2) If a pediatric ESRD facility elects to train all its patients using a particular treatment modality more often than during each dialysis treatment and, as a result, the number of billable training dialysis sessions is less than the number of actual training sessions, the facility may request a composite rate exception, limited to the lesser of the—

(i) Facility's projected training cost per treatment; or

(ii) Cost per treatment the facility receives in training a patient if it had trained patients only during a dialysis treatment, that is, three times per week.

(3) An ESRD facility may bill a maximum of 25 training sessions per patient for hemodialysis training and 15 sessions for CCPD and CAPD training.

(4) In computing the payment amount under an accelerated training exception, CMS uses a minimum number of training sessions per patient (15 for hemodialysis and 5 for CAPD and CCPD) when the facility actually provides fewer than the minimum number of training sessions.

(5) To justify an accelerated training exception request, an ESRD facility must document that a significant number of training sessions for a particular modality are provided during a shorter but more condensed period.

(6) The facility must submit with the exception request a list of patients, by modality, trained during the most recent cost report period. The list must include each beneficiary's—

(i) Name;

(ii) Age; and

(iii) Training status (completed, not completed, being retrained, or in the process of being trained).

(7) The total treatments from the patient list must be the same as the total treatments reported on the cost report filed with the request.

§ 413.192 [Removed]

18. Section 413.192 is removed.

PART 414—PAYMENT FOR PART B MEDICAL AND OTHER HEALTH SERVICES

19. The authority citation for part 414 continues to read as follows:

Authority: Secs. 1102, 1871, and 1881(b)(1) of the Social Security Act (42 U.S.C. 1302, 1395hh, and 1395rr(b)(1)).

Subpart B—Physicians and Other Practitioners

20. Section 414.65 is amended by revising paragraph (a)(1) to read as follows:.

§ 414.65 Payment for telehealth services

(a) * * *

(1) The Medicare payment amount for office or other outpatient visits, consultation, individual psychotherapy, psychiatric diagnostic interview examination, pharmacologic management, end stage renal disease related services included in the monthly capitation payment (except for one visit per month to examine the access site), and individual medical nutrition therapy furnished via an interactive telecommunications system is equal to the current fee schedule amount applicable for the service of the physician or practitioner.

* * * * *

21. Section 414.802 is amended by adding definitions of “direct sales” and “indirect sales” to read as follows:

§ 414.802 Definitions

* * * * *

Direct Sales means sales directly from the manufacturer to the provider (for example, physician or other health care provider) or supplier.

* * * * *

Indirect Sales means from the manufacturer to a wholesaler, distributor, or similar entity that sells to others in the distribution chain. Indirect sales also include any sale subject to the average sales price reporting requirement that is not a direct sale.

* * * * *

22. Section 414.804(a) is amended by:

A. Redesignating paragraphs (a)(3), (a)(4), (a)(5), and (a)(6), as paragraphs (a)(4), (a)(5), (a)(6), and (a)(7).

B. Adding a new paragraph (a)(3).

C. Revising newly redesignated paragraph (a)(4).

The redesignations and revisions read as follows:

§ 414.804 Basis of payment.

(a) * * *

(3) In calculating the manufacturer's average sales price, a manufacturer must—

(i) Calculate the average sales price for direct sales;

(ii) Calculate the average sales price for indirect sales; and

(iii) Calculate the weighted average of the results from paragraphs (a)(3)(i) and (a)(3)(ii). Example. [(ASP for direct sales × direct sales units) + (ASP for indirect sales × indirect sales units)]/(direct sales units + indirect units sales units).

(4) To the extent that data on price concessions, as described in paragraph (a)(2) of this section, are available on a lagged basis, the manufacturer must estimate this amount in accordance with the methodology described in paragraphs (a)(4)(i) through (a)(4)(iv) of this section, for each of the amounts calculated under paragraphs (a)(3)(i) and (a)(3)(ii) of this section, before calculating the weighted average described in paragraph (a)(3)(iii) of this section.

(i) For each National Drug Code, the manufacturer calculates a percentage equal to the sum of the price concessions for the most recent 12-month period available associated with sales subject to the average sales price reporting requirement divided by the total in dollars for the sales subject to the average sales price reporting requirement for the same 12-month period.

(ii) The manufacturer then multiplies the percentage described in paragraph (a)(4)(i) of this section by the total in dollars for the sales subject to the average sales price reporting requirement for the quarter being submitted. (The manufacturer must carry a sufficient number of decimal places in the calculation of the price concessions percentage in order to round accurately the net total sales amount for the quarter to the nearest whole dollar.) The result of this multiplication is then subtracted from the total in dollars for the sales subject to the average sales price reporting requirement for the quarter being submitted.

(iii) The manufacturer then uses the result of the calculation described in paragraph (a)(4)(ii) of this section as the numerator and the number of units sold in the quarter as the denominator to calculate the manufacturer's average sales price for the National Drug Code in the quarter being submitted.

(iv) Example. The total lagged price concessions (discounts, rebates, etc.) over the most recent 12-month period available associated with direct sales for National Drug Code 12345-6789-01 subject to the ASP reporting requirement equal $200,000. The total in dollars for the direct sales subject to the average sales price reporting requirement for the same period equals $600,000. The lagged price concessions percentage for this period equals 200,000/600,000 = .33333. The total in dollars for the direct sales subject to the average sales price reporting requirement for the quarter being reported equals $50,000 for 10,000 direct sales units sold. Assuming no non-lagged price concessions apply, the manufacturer's average sales price calculation for direct sales for this National Drug Code for this quarter is: $50,000—(0.33333 × $50,000) = $33,334 (net total direct sales amount); $33,334/10,000 = $3.33 (average sales price for direct sales). The average sales price for indirect sales is calculated independently.

* * * * *

Subpart L—Supplying and Dispensing Fees

23. Section 414.1001 is amended by revising paragraph (a) as follows:

§ 414.1001 Basis of payment.

(a) A supplying fee of $24 is paid to a supplier for the first prescription of drugs and biologicals described in sections 1861(s)(2)(J), 1861(s)(2)(Q), and 1861(s)(2)(T) of the Act that that supplier provided to a beneficiary during a month. A supplying fee of $8 is paid to a supplier for each prescription of drugs and biologicals described in sections 1861(s)(2)(J), 1861(s)(2)(Q), and 1861(s)(2)(T) of the Act, after the first one, that that supplier provided to a beneficiary during a month.

* * * * *

PART 426—REVIEW OF NATIONAL COVERAGE DETERMINATIONS AND LOCAL COVERAGE DETERMINATIONS

24. The authority citation for part 426 continues to read as follows:

Authority: Secs. 1102 and 1871 of the Social Security Act (42 U.S.C. 1302 and 1395hh).

25. The heading for part 426 is revised to read as set forth above.

Subpart C—General Provisions for the Review of LCDs and NCDs

26. Section 426.340 is amended by—

A. Revising paragraph (e)(2).

B. Adding paragraph (e)(3).

C. Revising paragraph (f)(2).

D. Adding paragraph (f)(3).

The revisions and additions read as follows:

§ 426.340 Procedures for review of new evidence.

* * * * *

(e) * * *

(2) For LCDs, sets a reasonable timeframe, not more than 90 days, by which the contractor completes the reconsideration.

(3) For NCDs, sets a reasonable timeframe, in compliance with the timeframes specified in section 1862(1) of the Act, by which CMS completes the reconsideration.

(f) * * *

(2) For LCDs, the 90-day reconsideration timeframe is not met.

(3) For NCDs, the reconsideration timeframe as specified by the Board, in compliance with section 1862(1) of the Act, is not met.

* * * * *

(Catalog of Federal Domestic Assistance Program No. 93.778, Medical Assistance Program).

(Catalog of Federal Domestic Assistance Program No. 93.773, Medicare—Hospital Insurance; and Program No. 93.774, Medicare—Supplementary Medical Insurance Program).

Dated: July 12, 2005.
Mark B. McClellan,
Administrator, Centers for Medicare & Medicaid Services.
Approved: July 18, 2005.
Michael O. Leavitt,
Secretary.

Note: These addenda will not appear in the Code of Federal Regulations.

Addendum A—Explanation and Use of Addenda B

The addenda on the following pages provide various data pertaining to the Medicare fee schedule for physicians' services furnished in 2006. Addendum B contains the RVUs for work, non-facility practice expense, facility practice expense, and malpractice expense, and other information for all services included in the physician fee schedule.

In previous years, we have listed many services in Addendum B that are not paid under the physician fee schedule. To avoid publishing as many pages of codes for these services, we are not including clinical laboratory codes and most alpha-numeric codes (Healthcare Common Procedure Coding System (HCPCS) codes not included in CPT) in Addendum B.

Addendum B—2006 Relative Value Units and Related Information Used in Determining Medicare Payments For 2006

This addendum contains the following information for each CPT code and alphanumeric HCPCS code, except for alphanumeric codes beginning with B (enteral and parenteral therapy), E (durable medical equipment), K (temporary codes for nonphysicians' services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier -26) for the service. If there is a PC and a TC for the service, Addendum B contains three entries for the code: One for the global values (both professional and technical); one for modifier -26 (PC); and one for modifier TC. The global service is not designated by a modifier, and physicians must bill using the code without a modifier if the physician furnishes both the PC and the TC of the service.

Modifier -53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national coverage determination regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted/discontinued code. These codes are deleted effective with the beginning of the calendar year.

E = Excluded from physician fee schedule by regulation. These codes are for items or services that CMS chose to exclude from the physician fee schedule payment by regulation. No RVUs are shown, and no payment may be made under the physician fee schedule for these codes. Payment for them, if they are covered, continues under reasonable charge or other payment procedures.

F = Deleted/discontinued codes. (Code not subject to a 90-day grace period.) These codes are deleted effective with the beginning of the year and are never subject to a grace period. This indicator is no longer effective with the 2006 physician fee schedule as of January 1, 2006.

G = Code not valid for Medicare purposes. Medicare does not recognize codes assigned this status. Medicare uses another code for reporting of, and payment for, these services. (Code subject to a 90 day grace period.) This indicator is no longer effective with the 2006 physician fee schedule as of January 1, 2006.

H = Deleted modifier. For 2000 and later years, either the TC or PC component shown for the code has been deleted and the deleted component is shown in the data base with the H status indicator.

I = Not valid for Medicare purposes. Medicare uses another code for the reporting of, and the payment for these services. (Code NOT subject to a 90-day grace period.)

N = Noncovered service. These codes are noncovered services. Medicare payment may not be made for these codes. If RVUs are shown, they are not used for Medicare payment.

P = Bundled or excluded code. There are no RVUs for these services. No separate payment is made for them under the physician fee schedule.

—If the item or service is covered as incident to a physician's service and is furnished on the same day as a physician's service, payment for it is bundled into the payment for the physician's service to which it is incident (an example is an elastic bandage furnished by a physician incident to a physician's service).

—If the item or service is covered as other than incident to a physician's service, it is excluded from the physician fee schedule (for example, colostomy supplies) and is paid under the other payment provisions of the Act.

R = Restricted coverage. Special coverage instructions apply. If the service is covered and no RVUs are shown, it is carrier-priced.

T = Injections. There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians' services” for physician fee schedule payment purposes. No RVUs are shown for these codes, and no payment may be made under the physician fee schedule. (Examples are ambulance services and clinical diagnostic laboratory services.)

4. Description of code. This is an abbreviated version of the narrative description of the code.

5. Physician work RVUs. These are the RVUs for the physician work for this service in 2005. Codes that are not used for Medicare payment are identified with a “+.”

6. Non-facility practice expense RVUs. These are the fully implemented resource-based practice expense RVUs for non-facility settings.

7. Facility practice expense RVUs. These are the fully implemented resource-based practice expense RVUs for facility settings.

8. Malpractice expense RVUs. These are the RVUs for the malpractice expense for the service for 2005.

9. Facility total. This is the sum of the work, fully implemented facility practice expense, and malpractice expense RVUs.

10. Non-facility total. This is the sum of the work, fully implemented non-facility practice expense, and malpractice expense RVUs.

11. Global period. This indicator shows the number of days in the global period for the code (0, 10, or 90 days). An explanation of the alpha codes follows:

MMM = The code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = Code related to another service that is always included in the global period of the other service. (Note: Physician work and practice expense are associated with intra service time and in some instances the post service time.)

——————————

¹ CPT codes and descriptions only are copyright 2005 American Medical Associaiton. All rights reserved. Applicable FARS/DFARS apply.

² Copyright 2005 American Dental Association. All rights reserved.

³ +Indicates RVUs are not used for Medicare payment.

Addendum B.—Relative Value Units (RVUs) and Related Information
CPT ¹ HCPCS ² | Mod | Status | Description | Physician work RVUs ³ | Non- facility PE RVUs | Facility PE RVUs | Mal- practice RVUs | Non- facility total | Facility total | Global
0003T |  | C | Cervicography | 0.00 | 0.00 | 0.00 | 0.00 | 0.00 | 0.00 | XXX
0008T |  | C | Upper gi endoscopy w/suture | 0.00 | 0.00 | 0.00 | 0.00 | 0.00 | 0.00 | XXX
0010T |  | C | Tb test, gamma interferon | 0.00 | 0.00 | 0.00 | 0.00 | 0.00 | 0.00 | XXX
0016T |  | C | Thermotx choroid vasc lesion | 0.00 | 0.00 | 0.00 | 0.00 | 0.00 | 0.00 | XXX
0017T |  | C | Photocoagulat macular drusen | 0.00 | 0.00 | 0.00 | 0.00 | 0.00 | 0.00 | XXX
0018T |  | C | Transcranial magnetic stimul | 0.00 | 0.00 | 0.00 | 0.00 | 0.00 | 0.00 | XXX
0019T |  | I | Extracorp shock wave tx, ms | 0.00 | 0.00 | 0.00 | 0.00 | 0.00 | 0.00 | XXX
0020T |  | C | Extracorp shock wave tx, ft | 0.00 | 0.00 | 0.00 | 0.00 | 0.00 | 0.00 | XXX
0021T |  | C | Fetal oximetry, trnsvag/cerv | 0.00 | 0.00 | 0.00 | 0.00 | 0.00 | 0.00 | XXX
0023T |  | C | Phenotype drug test, hiv 1 | 0.00 | 0.00 | 0.00 | 0.00 | 0.00 | 0.00 | XXX
0024T |  | C | Transcath cardiac reduction | 0.00 | 0.00 | 0.00 | 0.00 | 0.00 | 0.00 | XXX
0026T |  | C | Measure remnant lipoproteins | 0.00 | 0.00 | 0.00 | 0.00 | 0.00 | 0.00 | XXX
0027T |  | C | Endoscopic epidural lysis | 0.00 | 0.00 | 0.00 | 0.00 | 0.00 | 0.00 | XXX
0028T |  | C | Dexa body composition study | 0.00 | 0.00 | 0.00 | 0.00 | 0.00 | 0.00 | XXX
0029T |  | C | Magnetic tx for incontinence | 0.00 | 0.00 | 0.00 | 0.00 | 0.00 | 0.00 | XXX
0030T |  | C | Antiprothrombin antibody | 0.00 | 0.00 | 0.00 | 0.00 | 0.00 | 0.00 | XXX
0031T |  | C | Speculoscopy | 0.00 | 0.00 | 0.00 | 0.00 | 0.00 | 0.00 | XXX
0032T |  | C | Speculoscopy w/direct sample | 0.00 | 0.00 | 0.00 | 0.00 | 0.00 | 0.00 | XXX
0033T |  | C | Endovasc taa repr incl subcl | 0.00 | 0.00 | 0.00 | 0.00 | 0.00 | 0.00 | XXX
0034T |  | C | Endovasc taa repr w/o subcl | 0.00 | 0.00 | 0.00 | 0.00 | 0.00 | 0.00 | XXX
0035T |  | C | Insert endovasc prosth, taa | 0.00 | 0.00 | 0.00 | 0.00 | 0.00 | 0.00 | XXX
0036T |  | C | Endovasc prosth, taa, add-on | 0.00 | 0.00 | 0.00 | 0.00 | 0.00 | 0.00 | XXX
0037T |  | C | Artery transpose/endovas taa | 0.00 | 0.00 | 0.00 | 0.00 | 0.00 | 0.00 | XXX
0038T |  | C | Rad endovasc taa rpr w/cover | 0.00 | 0.00 | 0.00 | 0.00 | 0.00 | 0.00 | XXX
0039T |  | C | Rad s/i, endovasc taa repair | 0.00 | 0.00 | 0.00 | 0.00 | 0.00 | 0.00 | XXX
0040T |  | C | Rad s/i, endovasc taa prosth | 0.00 | 0.00 | 0.00 | 0.00 | 0.00 | 0.00 | XXX
0041T |  | C | Detect ur infect agnt w/cpas | 0.00 | 0.00 | 0.00 | 0.00 | 0.00 | 0.00 | XXX
0042T |  | C | Ct perfusion w/contrast, cbf | 0.00 | 0.00 | 0.00 | 0.00 | 0.00 | 0.00 | XXX
0043T |  | C | Co expired gas analysis | 0.00 | 0.00 | 0.00 | 0.00 | 0.00 | 0.00 | XXX
0044T |  | C | Whole body photography | 0.00 | 0.00 | 0.00 | 0.00 | 0.00 | 0.00 | XXX
0045T |  | C | Whole body photography | 0.00 | 0.00 | 0.00 | 0.00 | 0.00 | 0.00 | XXX
0046T |  | C | Cath lavage, mammary duct(s | 0.00 | 0.00 | 0.00 | 0.00 | 0.00 | 0.00 | XXX
0047T |  | C | Cath lavage, mammary duct(s) | 0.00 | 0.00 | 0.00 | 0.00 | 0.00 | 0.00 | XXX
0048T |  | C | Implant ventricular device | 0.00 | 0.00 | 0.00 | 0.00 | 0.00 | 0.00 | XXX
0049T |  | C | External circulation assist | 0.00 | 0.00 | 0.00 | 0.00 | 0.00 | 0.00 | XXX
0050T |  | C | Removal circulation assist | 0.00 | 0.00 | 0.00 | 0.00 | 0.00 | 0.00 | XXX
0051T |  | C | Implant total heart system | 0.00 | 0.00 | 0.00 | 0.00 | 0.00 | 0.00 | XXX
0052T |  | C | Replace component heart syst | 0.00 | 0.00 | 0.00 | 0.00 | 0.00 | 0.00 | XXX
0053T |  | C | Replace component heart syst | 0.00 | 0.00 | 0.00 | 0.00 | 0.00 | 0.00 | XXX
0054T |  | C | Bone surgery using computer | 0.00 | 0.00 | 0.00 | 0.00 | 0.00 | 0.00 | XXX
0055T |  | C | Bone surgery using computer | 0.00 | 0.00 | 0.00 | 0.00 | 0.00 | 0.00 | XXX
0056T |  | C | Bone surgery using computer | 0.00 | 0.00 | 0.00 | 0.00 | 0.00 | 0.00 | XXX
0058T |  | C | Cryopreservation, ovary tiss | 0.00 | 0.00 | 0.00 | 0.00 | 0.00 | 0.00 | XXX
0059T |  | C | Cryopreservation, oocyte | 0.00 | 0.00 | 0.00 | 0.00 | 0.00 | 0.00 | XXX
0060T |  | C | Electrical impedance scan | 0.00 | 0.00 | 0.00 | 0.00 | 0.00 | 0.00 | XXX
0061T |  | C | Destruction of tumor, breast | 0.00 | 0.00 | 0.00 | 0.00 | 0.00 | 0.00 | XXX
0062T |  | C | Rep intradisc annulus;1 lev | 0.00 | 0.00 | 0.00 | 0.00 | 0.00 | 0.00 | XXX
0063T |  | C | Rep intradisc annulus;>1lev | 0.00 | 0.00 | 0.00 | 0.00 | 0.00 | 0.00 | XXX
0064T |  | C | Spectroscop eval expired gas | 0.00 | 0.00 | 0.00 | 0.00 | 0.00 | 0.00 | XXX
0065T |  | C | Ocular photoscreen bilat | 0.00 | 0.00 | 0.00 | 0.00 | 0.00 | 0.00 | XXX
0066T |  | N | Ct colonography;screen | 0.00 | 0.00 | 0.00 | 0.00 | 0.00 | 0.00 | XXX
0066T | 26 | N | Ct colonography;screen | 0.00 | 0.00 | 0.00 | 0.00 | 0.00 | 0.00 | XXX
0066T | TC | N | Ct colonography;screen | 0.00 | 0.00 | 0.00 | 0.00 | 0.00 | 0.00 | XXX
0067T |  | C | Ct colonography;dx | 0.00 | 0.00 | 0.00 | 0.00 | 0.00 | 0.00 | XXX
0067T | 26 | C | Ct colonography;dx | 0.00 | 0.00 | 0.00 | 0.00 | 0.00 | 0.00 | XXX
0067T | TC | C | Ct colonography;dx | 0.00 | 0.00 | 0.00 | 0.00 | 0.00 | 0.00 | XXX
0068T |  | C | Interp/rept heart sound | 0.00 | 0.00 | 0.00 | 0.00 | 0.00 | 0.00 | XXX
0069T |  | C | Analysis only heart sound | 0.00 | 0.00 | 0.00 | 0.00 | 0.00 | 0.00 | XXX
0070T |  | C | Interp only heart sound | 0.00 | 0.00 | 0.00 | 0.00 | 0.00 | 0.00 | XXX
0071T |  | C | U/s leiomyomata ablate <200 | 0.00 | 0.00 | 0.00 | 0.00 | 0.00 | 0.00 | XXX
0072T |  | C | U/s leiomyomata ablate >200 | 0.00 | 0.00 | 0.00 | 0.00 | 0.00 | 0.00 | XXX
0073T |  | A | Delivery, comp imrt | 0.00 | 16.71 | NA | 0.13 | 16.84 | NA | XXX
0074T |  | N | Online physician e/m | 0.00 | 0.00 | 0.00 | 0.00 | 0.00 | 0.00 | XXX
0075T |  | C | Perq stent/chest vert art | 0.00 | 0.00 | 0.00 | 0.00 | 0.00 | 0.00 | XXX
0075T | 26 | C | Perq stent/chest vert art | 0.00 | 0.00 | 0.00 | 0.00 | 0.00 | 0.00 | XXX
0075T | TC | C | Perq stent/chest vert art | 0.00 | 0.00 | 0.00 | 0.00 | 0.00 | 0.00 | XXX
0076T |  | C | S&i stent/chest vert art | 0.00 | 0.00 | 0.00 | 0.00 | 0.00 | 0.00 | XXX
0076T | 26 | C | S&i stent/chest vert art | 0.00 | 0.00 | 0.00 | 0.00 | 0.00 | 0.00 | XXX
0076T | TC | C | S&i stent/chest vert art | 0.00 | 0.00 | 0.00 | 0.00 | 0.00 | 0.00 | XXX
0077T |  | C | Cereb therm perfusion probe | 0.00 | 0.00 | 0.00 | 0.00 | 0.00 | 0.00 | XXX
0078T |  | C | Endovasc aort repr w/device | 0.00 | 0.00 | 0.00 | 0.00 | 0.00 | 0.00 | XXX
0079T |  | C | Endovasc visc extnsn repr | 0.00 | 0.00 | 0.00 | 0.00 | 0.00 | 0.00 | XXX
0080T |  | C | Endovasc aort repr rad s&i | 0.00 | 0.00 | 0.00 | 0.00 | 0.00 | 0.00 | XXX
0081T |  | C | Endovasc visc extnsn s&i | 0.00 | 0.00 | 0.00 | 0.00 | 0.00 | 0.00 | XXX
0082T |  | C | Stereotactic rad delivery | 0.00 | 0.00 | 0.00 | 0.00 | 0.00 | 0.00 | XXX
0083T |  | C | Stereotactic rad tx mngmt | 0.00 | 0.00 | 0.00 | 0.00 | 0.00 | 0.00 | XXX
0084T |  | C | Temp prostate urethral stent | 0.00 | 0.00 | 0.00 | 0.00 | 0.00 | 0.00 | XXX
0085T |  | C | Breath test heart reject | 0.00 | 0.00 | 0.00 | 0.00 | 0.00 | 0.00 | XXX
0086T |  | C | L ventricle fill pressure | 0.00 | 0.00 | 0.00 | 0.00 | 0.00 | 0.00 | XXX
0087T |  | C | Sperm eval hyaluronan | 0.00 | 0.00 | 0.00 | 0.00 | 0.00 | 0.00 | XXX
0088T |  | C | Rf tongue base vol reduxn | 0.00 | 0.00 | 0.00 | 0.00 | 0.00 | 0.00 | XXX
0500F |  | I | Initial prenatal care visit | 0.00 | 0.00 | 0.00 | 0.00 | 0.00 | 0.00 | XXX
0501F |  | I | Prenatal flow sheet | 0.00 | 0.00 | 0.00 | 0.00 | 0.00 | 0.00 | XXX
0502F |  | I | Subsequent prenatal care | 0.00 | 0.00 | 0.00 | 0.00 | 0.00 | 0.00 | XXX
0503F |  | I | Postpartum care visit | 0.00 | 0.00 | 0.00 | 0.00 | 0.00 | 0.00 | XXX
1000F |  | I | Tobacco use, smoking, assess | 0.00 | 0.00 | 0.00 | 0.00 | 0.00 | 0.00 | XXX
1001F |  | I | Tobacco use, non-smoking | 0.00 | 0.00 | 0.00 | 0.00 | 0.00 | 0.00 | XXX
10021 |  | A | Fna w/o image | 1.27 | 2.11 | 0.53 | 0.10 | 3.48 | 1.90 | XXX
10022 |  | A | Fna w/image | 1.27 | 2.51 | 0.44 | 0.08 | 3.86 | 1.79 | XXX
1002F |  | I | Assess anginal symptom/level | 0.00 | 0.00 | 0.00 | 0.00 | 0.00 | 0.00 | XXX
10040 |  | A | Acne surgery | 1.18 | 1.12 | 0.84 | 0.05 | 2.35 | 2.07 | 010
10060 |  | A | Drainage of skin abscess | 1.17 | 1.27 | 0.94 | 0.12 | 2.56 | 2.24 | 010
10061 |  | A | Drainage of skin abscess | 2.40 | 1.90 | 1.49 | 0.26 | 4.56 | 4.15 | 010
10080 |  | A | Drainage of pilonidal cyst | 1.17 | 2.98 | 1.07 | 0.11 | 4.27 | 2.36 | 010
10081 |  | A | Drainage of pilonidal cyst | 2.45 | 3.91 | 1.48 | 0.24 | 6.60 | 4.17 | 010
10120 |  | A | Remove foreign body | 1.22 | 2.14 | 0.94 | 0.12 | 3.49 | 2.28 | 010
10121 |  | A | Remove foreign body | 2.70 | 3.47 | 1.75 | 0.33 | 6.49 | 4.77 | 010
10140 |  | A | Drainage of hematoma/fluid | 1.53 | 1.83 | 1.29 | 0.19 | 3.56 | 3.01 | 010
10160 |  | A | Puncture drainage of lesion | 1.20 | 1.62 | 1.08 | 0.14 | 2.96 | 2.43 | 010
10180 |  | A | Complex drainage, wound | 2.25 | 2.95 | 1.93 | 0.35 | 5.55 | 4.53 | 010
11000 |  | A | Debride infected skin | 0.60 | 0.61 | 0.21 | 0.07 | 1.28 | 0.88 | 000
11001 |  | A | Debride infected skin add-on | 0.30 | 0.24 | 0.11 | 0.04 | 0.58 | 0.45 | ZZZ
11004 |  | A | Debride genitalia & perineum | 10.33 | NA | 3.80 | 0.67 | NA | 14.80 | 000
11005 |  | A | Debride abdom wall | 13.78 | NA | 5.42 | 0.96 | NA | 20.16 | 000
11006 |  | A | Debride genit/per/abdom wall | 12.64 | NA | 4.73 | 1.28 | NA | 18.64 | 000
11008 |  | A | Remove mesh from abd wall | 5.01 | NA | 1.97 | 0.61 | NA | 7.59 | ZZZ
11010 |  | A | Debride skin, fx | 4.20 | 6.68 | 2.57 | 0.66 | 11.54 | 7.43 | 010
11011 |  | A | Debride skin/muscle, fx | 4.95 | 7.80 | 2.29 | 0.74 | 13.49 | 7.98 | 000
11012 |  | A | Debride skin/muscle/bone, fx | 6.88 | 11.37 | 3.73 | 1.16 | 19.41 | 11.78 | 000
11040 |  | A | Debride skin, partial | 0.50 | 0.55 | 0.21 | 0.06 | 1.11 | 0.77 | 000
11041 |  | A | Debride skin, full | 0.82 | 0.68 | 0.32 | 0.10 | 1.60 | 1.24 | 000
11042 |  | A | Debride skin/tissue | 1.12 | 0.98 | 0.43 | 0.13 | 2.23 | 1.68 | 000
11043 |  | A | Debride tissue/muscle | 2.38 | 3.33 | 2.54 | 0.32 | 6.03 | 5.25 | 010
11044 |  | A | Debride tissue/muscle/bone | 3.07 | 4.38 | 3.65 | 0.43 | 7.88 | 7.15 | 010
11055 |  | R | Trim skin lesion | 0.43 | 0.60 | 0.17 | 0.05 | 1.08 | 0.65 | 000
11056 |  | R | Trim skin lesions, 2 to 4 | 0.61 | 0.68 | 0.23 | 0.07 | 1.36 | 0.91 | 000
11057 |  | R | Trim skin lesions, over 4 | 0.79 | 0.78 | 0.29 | 0.10 | 1.68 | 1.18 | 000
11100 |  | A | Biopsy, skin lesion | 0.81 | 1.38 | 0.39 | 0.03 | 2.22 | 1.23 | 000
11101 |  | A | Biopsy, skin add-on | 0.41 | 0.37 | 0.20 | 0.02 | 0.80 | 0.63 | ZZZ
11200 |  | A | Removal of skin tags | 0.77 | 1.11 | 0.78 | 0.04 | 1.92 | 1.59 | 010
11201 |  | A | Remove skin tags add-on | 0.29 | 0.17 | 0.12 | 0.02 | 0.48 | 0.43 | ZZZ
11300 |  | A | Shave skin lesion | 0.51 | 1.05 | 0.21 | 0.03 | 1.59 | 0.75 | 000
11301 |  | A | Shave skin lesion | 0.85 | 1.22 | 0.39 | 0.04 | 2.11 | 1.28 | 000
11302 |  | A | Shave skin lesion | 1.05 | 1.43 | 0.46 | 0.05 | 2.53 | 1.57 | 000
11303 |  | A | Shave skin lesion | 1.24 | 1.73 | 0.52 | 0.07 | 3.04 | 1.83 | 000
11305 |  | A | Shave skin lesion | 0.67 | 0.91 | 0.27 | 0.07 | 1.65 | 1.01 | 000
11306 |  | A | Shave skin lesion | 0.99 | 1.20 | 0.42 | 0.07 | 2.27 | 1.48 | 000
11307 |  | A | Shave skin lesion | 1.14 | 1.41 | 0.49 | 0.07 | 2.63 | 1.70 | 000
11308 |  | A | Shave skin lesion | 1.41 | 1.56 | 0.58 | 0.13 | 3.10 | 2.13 | 000
11310 |  | A | Shave skin lesion | 0.73 | 1.19 | 0.32 | 0.04 | 1.96 | 1.09 | 000
11311 |  | A | Shave skin lesion | 1.05 | 1.35 | 0.49 | 0.05 | 2.45 | 1.59 | 000
11312 |  | A | Shave skin lesion | 1.20 | 1.57 | 0.55 | 0.06 | 2.83 | 1.81 | 000
11313 |  | A | Shave skin lesion | 1.62 | 1.95 | 0.71 | 0.10 | 3.67 | 2.43 | 000
11400 |  | A | Exc tr-ext b9+marg 0.5 < cm | 0.85 | 1.98 | 0.88 | 0.06 | 2.89 | 1.79 | 010
11401 |  | A | Exc tr-ext b9+marg 0.6-1 cm | 1.23 | 2.08 | 1.01 | 0.10 | 3.42 | 2.35 | 010
11402 |  | A | Exc tr-ext b9+marg 1.1-2 cm | 1.51 | 2.26 | 1.07 | 0.13 | 3.91 | 2.72 | 010
11403 |  | A | Exc tr-ext b9+marg 2.1-3 cm | 1.79 | 2.43 | 1.32 | 0.17 | 4.39 | 3.28 | 010
11404 |  | A | Exc tr-ext b9+marg 3.1-4 cm | 2.06 | 2.74 | 1.40 | 0.21 | 5.01 | 3.67 | 010
11406 |  | A | Exc tr-ext b9+marg > 4.0 cm | 2.77 | 3.08 | 1.64 | 0.32 | 6.16 | 4.73 | 010
11420 |  | A | Exc h-f-nk-sp b9+marg 0.5 < | 0.98 | 1.79 | 0.93 | 0.09 | 2.86 | 2.00 | 010
11421 |  | A | Exc h-f-nk-sp b9+marg 0.6-1 | 1.42 | 2.11 | 1.10 | 0.13 | 3.66 | 2.66 | 010
11422 |  | A | Exc h-f-nk-sp b9+marg 1.1-2 | 1.63 | 2.30 | 1.33 | 0.16 | 4.09 | 3.12 | 010
11423 |  | A | Exc h-f-nk-sp b9+marg 2.1-3 | 2.01 | 2.61 | 1.45 | 0.20 | 4.83 | 3.66 | 010
11424 |  | A | Exc h-f-nk-sp b9+marg 3.1-4 | 2.43 | 2.87 | 1.60 | 0.25 | 5.55 | 4.28 | 010
11426 |  | A | Exc h-f-nk-sp b9+marg > 4 cm | 3.78 | 3.50 | 2.09 | 0.44 | 7.72 | 6.30 | 010
11440 |  | A | Exc face-mm b9+marg 0.5 < cm | 1.06 | 2.19 | 1.29 | 0.08 | 3.33 | 2.43 | 010
11441 |  | A | Exc face-mm b9+marg 0.6-1 cm | 1.48 | 2.35 | 1.47 | 0.13 | 3.97 | 3.08 | 010
11442 |  | A | Exc face-mm b9+marg 1.1-2 cm | 1.72 | 2.59 | 1.55 | 0.16 | 4.47 | 3.43 | 010
11443 |  | A | Exc face-mm b9+marg 2.1-3 cm | 2.29 | 2.96 | 1.78 | 0.22 | 5.48 | 4.30 | 010
11444 |  | A | Exc face-mm b9+marg 3.1-4 cm | 3.15 | 3.52 | 2.14 | 0.30 | 6.97 | 5.59 | 010
11446 |  | A | Exc face-mm b9+marg > 4 cm | 4.49 | 4.17 | 2.71 | 0.43 | 9.09 | 7.63 | 010
11450 |  | A | Removal, sweat gland lesion | 2.74 | 4.91 | 2.02 | 0.34 | 7.99 | 5.10 | 090
11451 |  | A | Removal, sweat gland lesion | 3.95 | 6.43 | 2.52 | 0.53 | 10.90 | 7.00 | 090
11462 |  | A | Removal, sweat gland lesion | 2.52 | 5.04 | 2.03 | 0.32 | 7.88 | 4.86 | 090
11463 |  | A | Removal, sweat gland lesion | 3.95 | 6.59 | 2.67 | 0.54 | 11.08 | 7.16 | 090
11470 |  | A | Removal, sweat gland lesion | 3.26 | 4.98 | 2.28 | 0.40 | 8.64 | 5.93 | 090
11471 |  | A | Removal, sweat gland lesion | 4.41 | 6.48 | 2.76 | 0.58 | 11.47 | 7.75 | 090
11600 |  | A | Exc tr-ext mlg+marg 0.5 < cm | 1.31 | 2.68 | 0.96 | 0.10 | 4.09 | 2.38 | 010
11601 |  | A | Exc tr-ext mlg+marg 0.6-1 cm | 1.80 | 2.86 | 1.21 | 0.12 | 4.78 | 3.14 | 010
11602 |  | A | Exc tr-ext mlg+marg 1.1-2 cm | 1.95 | 3.00 | 1.25 | 0.12 | 5.07 | 3.32 | 010
11603 |  | A | Exc tr-ext mlg+marg 2.1-3 cm | 2.19 | 3.22 | 1.31 | 0.16 | 5.58 | 3.66 | 010
11604 |  | A | Exc tr-ext mlg+marg 3.1-4 cm | 2.40 | 3.52 | 1.37 | 0.20 | 6.13 | 3.98 | 010
11606 |  | A | Exc tr-ext mlg+marg > 4 cm | 3.43 | 4.22 | 1.70 | 0.36 | 8.01 | 5.49 | 010
11620 |  | A | Exc h-f-nk-sp mlg+marg 0.5 < | 1.19 | 2.65 | 0.94 | 0.09 | 3.93 | 2.22 | 010
11621 |  | A | Exc h-f-nk-sp mlg+marg 0.6-1 | 1.76 | 2.86 | 1.22 | 0.12 | 4.74 | 3.11 | 010
11622 |  | A | Exc h-f-nk-sp mlg+marg 1.1-2 | 2.09 | 3.14 | 1.37 | 0.14 | 5.38 | 3.60 | 010
11623 |  | A | Exc h-f-nk-sp mlg+marg 2.1-3 | 2.62 | 3.49 | 1.55 | 0.20 | 6.30 | 4.36 | 010
11624 |  | A | Exc h-f-nk-sp mlg+marg 3.1-4 | 3.07 | 3.90 | 1.74 | 0.27 | 7.23 | 5.07 | 010
11626 |  | A | Exc h-f-nk-sp mlg+mar > 4 cm | 4.30 | 4.79 | 2.34 | 0.45 | 9.54 | 7.09 | 010
11640 |  | A | Exc face-mm malig+marg 0.5 < | 1.35 | 2.74 | 1.09 | 0.11 | 4.20 | 2.55 | 010
11641 |  | A | Exc face-mm malig+marg 0.6-1 | 2.16 | 3.19 | 1.50 | 0.16 | 5.52 | 3.82 | 010
11642 |  | A | Exc face-mm malig+marg 1.1-2 | 2.60 | 3.59 | 1.67 | 0.19 | 6.38 | 4.45 | 010
11643 |  | A | Exc face-mm malig+marg 2.1-3 | 3.11 | 3.98 | 1.91 | 0.26 | 7.34 | 5.28 | 010
11644 |  | A | Exc face-mm malig+marg 3.1-4 | 4.03 | 4.87 | 2.39 | 0.37 | 9.27 | 6.79 | 010
11646 |  | A | Exc face-mm mlg+marg > 4 cm | 5.95 | 5.96 | 3.38 | 0.61 | 12.53 | 9.94 | 010
11719 |  | R | Trim nail(s) | 0.17 | 0.27 | 0.07 | 0.02 | 0.46 | 0.26 | 000
11720 |  | A | Debride nail, 1-5 | 0.32 | 0.36 | 0.12 | 0.04 | 0.72 | 0.48 | 000
11721 |  | A | Debride nail, 6 or more | 0.54 | 0.46 | 0.21 | 0.07 | 1.07 | 0.82 | 000
11730 |  | A | Removal of nail plate | 1.13 | 1.08 | 0.42 | 0.14 | 2.36 | 1.69 | 000
11732 |  | A | Remove nail plate, add-on | 0.57 | 0.46 | 0.22 | 0.07 | 1.10 | 0.86 | ZZZ
11740 |  | A | Drain blood from under nail | 0.37 | 0.59 | 0.36 | 0.04 | 1.00 | 0.77 | 000
11750 |  | A | Removal of nail bed | 1.86 | 2.27 | 1.76 | 0.22 | 4.35 | 3.85 | 010
11752 |  | A | Remove nail bed/finger tip | 2.68 | 3.09 | 2.95 | 0.35 | 6.12 | 5.98 | 010
11755 |  | A | Biopsy, nail unit | 1.31 | 1.70 | 0.78 | 0.14 | 3.15 | 2.23 | 000
11760 |  | A | Repair of nail bed | 1.58 | 2.68 | 1.71 | 0.21 | 4.47 | 3.50 | 010
11762 |  | A | Reconstruction of nail bed | 2.90 | 3.00 | 2.27 | 0.36 | 6.26 | 5.53 | 010
11765 |  | A | Excision of nail fold, toe | 0.69 | 1.91 | 0.80 | 0.08 | 2.68 | 1.57 | 010
11770 |  | A | Removal of pilonidal lesion | 2.62 | 3.43 | 1.49 | 0.33 | 6.37 | 4.44 | 010
11771 |  | A | Removal of pilonidal lesion | 5.74 | 5.69 | 3.32 | 0.74 | 12.18 | 9.80 | 090
11772 |  | A | Removal of pilonidal lesion | 6.98 | 7.42 | 5.05 | 0.89 | 15.29 | 12.92 | 090
11900 |  | A | Injection into skin lesions | 0.52 | 0.72 | 0.22 | 0.02 | 1.26 | 0.76 | 000
11901 |  | A | Added skin lesions injection | 0.80 | 0.76 | 0.38 | 0.03 | 1.59 | 1.21 | 000
11920 |  | R | Correct skin color defects | 1.61 | 3.44 | 1.08 | 0.24 | 5.30 | 2.93 | 000
11921 |  | R | Correct skin color defects | 1.93 | 3.70 | 1.24 | 0.29 | 5.92 | 3.47 | 000
11922 |  | R | Correct skin color defects | 0.49 | 1.08 | 0.24 | 0.07 | 1.65 | 0.80 | ZZZ
11950 |  | R | Therapy for contour defects | 0.84 | 1.13 | 0.41 | 0.06 | 2.03 | 1.31 | 000
11951 |  | R | Therapy for contour defects | 1.19 | 1.47 | 0.51 | 0.11 | 2.77 | 1.82 | 000
11952 |  | R | Therapy for contour defects | 1.69 | 1.81 | 0.67 | 0.16 | 3.66 | 2.52 | 000
11954 |  | R | Therapy for contour defects | 1.85 | 2.32 | 0.89 | 0.25 | 4.42 | 3.00 | 000
11960 |  | A | Insert tissue expander(s) | 9.09 | NA | 10.12 | 1.31 | NA | 20.51 | 090
11970 |  | A | Replace tissue expander | 7.06 | NA | 5.95 | 1.05 | NA | 14.07 | 090
11971 |  | A | Remove tissue expander(s) | 2.13 | 8.65 | 3.67 | 0.32 | 11.10 | 6.12 | 090
11975 |  | N | Insert contraceptive cap | 1.48 | 1.50 | 0.57 | 0.17 | 3.15 | 2.22 | XXX
11976 |  | R | Removal of contraceptive cap | 1.78 | 1.75 | 0.66 | 0.21 | 3.74 | 2.66 | 000
11977 |  | N | Removal/reinsert contra cap | 3.31 | 2.31 | 1.25 | 0.37 | 5.99 | 4.93 | XXX
11980 |  | A | Implant hormone pellet(s) | 1.48 | 1.12 | 0.58 | 0.13 | 2.73 | 2.19 | 000
11981 |  | A | Insert drug implant device | 1.48 | 1.82 | 0.67 | 0.12 | 3.43 | 2.28 | XXX
11982 |  | A | Remove drug implant device | 1.78 | 2.03 | 0.82 | 0.17 | 3.98 | 2.78 | XXX
11983 |  | A | Remove/insert drug implant | 3.31 | 2.51 | 1.51 | 0.23 | 6.05 | 5.04 | XXX
12001 |  | A | Repair superficial wound(s) | 1.70 | 1.91 | 0.75 | 0.15 | 3.76 | 2.60 | 010
12002 |  | A | Repair superficial wound(s) | 1.86 | 1.97 | 0.87 | 0.17 | 4.00 | 2.90 | 010
12004 |  | A | Repair superficial wound(s) | 2.24 | 2.24 | 0.98 | 0.21 | 4.70 | 3.43 | 010
12005 |  | A | Repair superficial wound(s) | 2.87 | 2.73 | 1.16 | 0.27 | 5.87 | 4.30 | 010
12006 |  | A | Repair superficial wound(s) | 3.67 | 3.28 | 1.47 | 0.35 | 7.29 | 5.49 | 010
12007 |  | A | Repair superficial wound(s) | 4.12 | 3.69 | 1.76 | 0.45 | 8.26 | 6.33 | 010
12011 |  | A | Repair superficial wound(s) | 1.76 | 2.06 | 0.76 | 0.16 | 3.99 | 2.68 | 010
12013 |  | A | Repair superficial wound(s) | 1.99 | 2.20 | 0.90 | 0.18 | 4.37 | 3.07 | 010
12014 |  | A | Repair superficial wound(s) | 2.46 | 2.49 | 1.02 | 0.23 | 5.19 | 3.72 | 010
12015 |  | A | Repair superficial wound(s) | 3.20 | 3.03 | 1.21 | 0.29 | 6.52 | 4.70 | 010
12016 |  | A | Repair superficial wound(s) | 3.93 | 3.45 | 1.48 | 0.37 | 7.74 | 5.78 | 010
12017 |  | A | Repair superficial wound(s) | 4.71 | NA | 1.84 | 0.47 | NA | 7.02 | 010
12018 |  | A | Repair superficial wound(s) | 5.53 | NA | 2.19 | 0.64 | NA | 8.37 | 010
12020 |  | A | Closure of split wound | 2.63 | 3.78 | 1.88 | 0.30 | 6.71 | 4.80 | 010
12021 |  | A | Closure of split wound | 1.84 | 1.82 | 1.40 | 0.24 | 3.90 | 3.48 | 010
12031 |  | A | Layer closure of wound(s) | 2.15 | 2.69 | 1.06 | 0.17 | 5.01 | 3.39 | 010
12032 |  | A | Layer closure of wound(s) | 2.47 | 4.16 | 1.76 | 0.16 | 6.80 | 4.39 | 010
12034 |  | A | Layer closure of wound(s) | 2.93 | 3.55 | 1.47 | 0.25 | 6.73 | 4.64 | 010
12035 |  | A | Layer closure of wound(s) | 3.43 | 5.25 | 2.09 | 0.39 | 9.07 | 5.91 | 010
12036 |  | A | Layer closure of wound(s) | 4.05 | 5.50 | 2.47 | 0.55 | 10.10 | 7.07 | 010
12037 |  | A | Layer closure of wound(s) | 4.67 | 6.07 | 2.88 | 0.66 | 11.40 | 8.21 | 010
12041 |  | A | Layer closure of wound(s) | 2.37 | 2.89 | 1.20 | 0.19 | 5.46 | 3.77 | 010
12042 |  | A | Layer closure of wound(s) | 2.75 | 3.58 | 1.49 | 0.17 | 6.50 | 4.41 | 010
12044 |  | A | Layer closure of wound(s) | 3.15 | 3.70 | 1.61 | 0.27 | 7.12 | 5.03 | 010
12045 |  | A | Layer closure of wound(s) | 3.64 | 5.20 | 2.22 | 0.41 | 9.25 | 6.27 | 010
12046 |  | A | Layer closure of wound(s) | 4.25 | 6.30 | 2.68 | 0.54 | 11.09 | 7.47 | 010
12047 |  | A | Layer closure of wound(s) | 4.65 | 6.42 | 2.99 | 0.58 | 11.64 | 8.22 | 010
12051 |  | A | Layer closure of wound(s) | 2.47 | 3.52 | 1.47 | 0.20 | 6.19 | 4.15 | 010
12052 |  | A | Layer closure of wound(s) | 2.78 | 3.56 | 1.46 | 0.17 | 6.50 | 4.40 | 010
12053 |  | A | Layer closure of wound(s) | 3.13 | 3.83 | 1.55 | 0.23 | 7.18 | 4.91 | 010
12054 |  | A | Layer closure of wound(s) | 3.46 | 4.13 | 1.64 | 0.30 | 7.89 | 5.40 | 010
12055 |  | A | Layer closure of wound(s) | 4.43 | 5.03 | 2.12 | 0.45 | 9.91 | 7.00 | 010
12056 |  | A | Layer closure of wound(s) | 5.24 | 6.86 | 2.95 | 0.59 | 12.69 | 8.78 | 010
12057 |  | A | Layer closure of wound(s) | 5.96 | 6.58 | 3.62 | 0.56 | 13.11 | 10.15 | 010
13100 |  | A | Repair of wound or lesion | 3.13 | 4.22 | 2.26 | 0.26 | 7.60 | 5.64 | 010
13101 |  | A | Repair of wound or lesion | 3.92 | 5.05 | 2.65 | 0.26 | 9.23 | 6.82 | 010
13102 |  | A | Repair wound/lesion add-on | 1.24 | 1.27 | 0.56 | 0.13 | 2.64 | 1.93 | ZZZ
13120 |  | A | Repair of wound or lesion | 3.31 | 4.29 | 2.29 | 0.26 | 7.85 | 5.86 | 010
13121 |  | A | Repair of wound or lesion | 4.33 | 5.26 | 2.75 | 0.25 | 9.84 | 7.32 | 010
13122 |  | A | Repair wound/lesion add-on | 1.44 | 1.54 | 0.62 | 0.15 | 3.13 | 2.21 | ZZZ
13131 |  | A | Repair of wound or lesion | 3.79 | 4.58 | 2.63 | 0.26 | 8.63 | 6.68 | 010
13132 |  | A | Repair of wound or lesion | 5.95 | 6.47 | 4.16 | 0.32 | 12.74 | 10.43 | 010
13133 |  | A | Repair wound/lesion add-on | 2.19 | 1.80 | 1.02 | 0.18 | 4.18 | 3.39 | ZZZ
13150 |  | A | Repair of wound or lesion | 3.81 | 4.92 | 2.70 | 0.34 | 9.06 | 6.85 | 010
13151 |  | A | Repair of wound or lesion | 4.45 | 5.08 | 3.10 | 0.31 | 9.83 | 7.86 | 010
13152 |  | A | Repair of wound or lesion | 6.33 | 6.56 | 3.96 | 0.40 | 13.30 | 10.69 | 010
13153 |  | A | Repair wound/lesion add-on | 2.38 | 2.07 | 1.11 | 0.24 | 4.69 | 3.74 | ZZZ
13160 |  | A | Late closure of wound | 10.48 | NA | 7.03 | 1.54 | NA | 19.05 | 090
14000 |  | A | Skin tissue rearrangement | 5.89 | 8.20 | 5.35 | 0.59 | 14.68 | 11.83 | 090
14001 |  | A | Skin tissue rearrangement | 8.48 | 10.09 | 6.90 | 0.82 | 19.39 | 16.20 | 090
14020 |  | A | Skin tissue rearrangement | 6.59 | 9.07 | 6.37 | 0.64 | 16.30 | 13.61 | 090
14021 |  | A | Skin tissue rearrangement | 10.06 | 10.93 | 8.08 | 0.81 | 21.80 | 18.95 | 090
14040 |  | A | Skin tissue rearrangement | 7.88 | 9.46 | 7.06 | 0.62 | 17.95 | 15.55 | 090
14041 |  | A | Skin tissue rearrangement | 11.49 | 11.70 | 8.59 | 0.73 | 23.92 | 20.81 | 090
14060 |  | A | Skin tissue rearrangement | 8.51 | 9.39 | 7.32 | 0.68 | 18.58 | 16.51 | 090
14061 |  | A | Skin tissue rearrangement | 12.29 | 12.73 | 9.39 | 0.76 | 25.78 | 22.44 | 090
14300 |  | A | Skin tissue rearrangement | 11.76 | 12.16 | 8.95 | 1.16 | 25.09 | 21.87 | 090
14350 |  | A | Skin tissue rearrangement | 9.62 | NA | 7.01 | 1.34 | NA | 17.97 | 090
15000 |  | A | Skin graft | 4.00 | 3.98 | 2.14 | 0.54 | 8.52 | 6.68 | 000
15001 |  | A | Skin graft add-on | 1.00 | 1.32 | 0.40 | 0.14 | 2.46 | 1.54 | ZZZ
15050 |  | A | Skin pinch graft | 4.30 | 6.91 | 4.97 | 0.57 | 11.78 | 9.84 | 090
15100 |  | A | Skin split graft | 9.06 | 12.29 | 7.58 | 1.28 | 22.63 | 17.91 | 090
15101 |  | A | Skin split graft add-on | 1.72 | 3.48 | 1.11 | 0.24 | 5.45 | 3.08 | ZZZ
15120 |  | A | Skin split graft | 9.84 | 11.33 | 7.57 | 1.16 | 22.32 | 18.57 | 090
15121 |  | A | Skin split graft add-on | 2.68 | 4.31 | 1.75 | 0.36 | 7.34 | 4.79 | ZZZ
15200 |  | A | Skin full graft | 8.04 | 9.81 | 6.07 | 0.98 | 18.82 | 15.09 | 090
15201 |  | A | Skin full graft add-on | 1.32 | 2.51 | 0.60 | 0.19 | 4.02 | 2.12 | ZZZ
15220 |  | A | Skin full graft | 7.88 | 9.79 | 6.51 | 0.84 | 18.51 | 15.23 | 090
15221 |  | A | Skin full graft add-on | 1.19 | 2.30 | 0.55 | 0.16 | 3.65 | 1.90 | ZZZ
15240 |  | A | Skin full graft | 9.05 | 10.88 | 7.76 | 0.92 | 20.85 | 17.72 | 090
15241 |  | A | Skin full graft add-on | 1.86 | 2.54 | 0.89 | 0.23 | 4.63 | 2.98 | ZZZ
15260 |  | A | Skin full graft | 10.06 | 11.18 | 8.47 | 0.69 | 21.93 | 19.22 | 090
15261 |  | A | Skin full graft add-on | 2.23 | 2.85 | 1.36 | 0.21 | 5.29 | 3.80 | ZZZ
15342 |  | A | Cultured skin graft, 25 cm | 1.00 | 1.86 | 0.54 | 0.12 | 2.98 | 1.66 | 010
15343 |  | A | Culture skn graft addl 25 cm | 0.25 | 0.09 | 0.09 | 0.03 | 0.37 | 0.37 | ZZZ
15350 |  | A | Skin homograft | 4.00 | 6.20 | 3.75 | 0.51 | 10.71 | 8.26 | 090
15351 |  | A | Skin homograft add-on | 1.00 | NA | 0.36 | 0.14 | NA | 1.50 | ZZZ
15400 |  | A | Skin heterograft | 4.00 | 4.14 | 3.97 | 0.47 | 8.61 | 8.43 | 090
15401 |  | A | Skin heterograft add-on | 1.00 | 1.79 | 0.43 | 0.14 | 2.93 | 1.57 | ZZZ
15570 |  | A | Form skin pedicle flap | 9.22 | 10.97 | 6.57 | 1.34 | 21.53 | 17.13 | 090
15572 |  | A | Form skin pedicle flap | 9.28 | 9.50 | 6.27 | 1.20 | 19.98 | 16.75 | 090
15574 |  | A | Form skin pedicle flap | 9.89 | 10.88 | 7.59 | 1.20 | 21.97 | 18.68 | 090
15576 |  | A | Form skin pedicle flap | 8.70 | 9.94 | 6.72 | 0.87 | 19.51 | 16.29 | 090
15600 |  | A | Skin graft | 1.91 | 7.11 | 2.95 | 0.27 | 9.29 | 5.13 | 090
15610 |  | A | Skin graft | 2.42 | 4.58 | 3.30 | 0.35 | 7.36 | 6.07 | 090
15620 |  | A | Skin graft | 2.95 | 7.48 | 3.77 | 0.35 | 10.77 | 7.07 | 090
15630 |  | A | Skin graft | 3.28 | 7.06 | 4.05 | 0.34 | 10.68 | 7.66 | 090
15650 |  | A | Transfer skin pedicle flap | 3.97 | 7.20 | 4.12 | 0.42 | 11.59 | 8.50 | 090
15732 |  | A | Muscle-skin graft, head/neck | 17.85 | 17.55 | 11.84 | 1.99 | 37.38 | 31.67 | 090
15734 |  | A | Muscle-skin graft, trunk | 17.80 | 17.23 | 11.96 | 2.61 | 37.64 | 32.36 | 090
15736 |  | A | Muscle-skin graft, arm | 16.28 | 17.29 | 10.85 | 2.45 | 36.03 | 29.58 | 090
15738 |  | A | Muscle-skin graft, leg | 17.93 | 17.10 | 11.35 | 2.65 | 37.68 | 31.92 | 090
15740 |  | A | Island pedicle flap graft | 10.25 | 11.22 | 8.29 | 0.63 | 22.11 | 19.17 | 090
15750 |  | A | Neurovascular pedicle graft | 11.41 | NA | 8.81 | 1.42 | NA | 21.65 | 090
15756 |  | A | Free myo/skin flap microvasc | 35.25 | NA | 19.96 | 4.61 | NA | 59.82 | 090
15757 |  | A | Free skin flap, microvasc | 35.25 | NA | 20.93 | 3.89 | NA | 60.07 | 090
15758 |  | A | Free fascial flap, microvasc | 35.12 | NA | 20.93 | 4.23 | NA | 60.28 | 090
15760 |  | A | Composite skin graft | 8.75 | 10.37 | 7.07 | 0.85 | 19.97 | 16.66 | 090
15770 |  | A | Derma-fat-fascia graft | 7.53 | NA | 6.55 | 1.05 | NA | 15.13 | 090
15775 |  | R | Hair transplant punch grafts | 3.96 | 4.40 | 1.34 | 0.52 | 8.88 | 5.82 | 000
15776 |  | R | Hair transplant punch grafts | 5.54 | 5.71 | 2.82 | 0.72 | 11.97 | 9.08 | 000
15780 |  | A | Abrasion treatment of skin | 7.29 | 11.64 | 8.13 | 0.67 | 19.61 | 16.09 | 090
15781 |  | A | Abrasion treatment of skin | 4.85 | 7.37 | 5.36 | 0.34 | 12.56 | 10.55 | 090
15782 |  | A | Abrasion treatment of skin | 4.32 | 9.54 | 6.31 | 0.34 | 14.20 | 10.96 | 090
15783 |  | A | Abrasion treatment of skin | 4.29 | 7.10 | 4.35 | 0.28 | 11.67 | 8.92 | 090
15786 |  | A | Abrasion, lesion, single | 2.03 | 3.43 | 1.39 | 0.11 | 5.58 | 3.54 | 010
15787 |  | A | Abrasion, lesions, add-on | 0.33 | 1.02 | 0.16 | 0.04 | 1.40 | 0.53 | ZZZ
15788 |  | R | Chemical peel, face, epiderm | 2.09 | 7.25 | 3.43 | 0.11 | 9.46 | 5.63 | 090
15789 |  | R | Chemical peel, face, dermal | 4.92 | 8.43 | 5.00 | 0.20 | 13.55 | 10.12 | 090
15792 |  | R | Chemical peel, nonfacial | 1.86 | 7.34 | 4.59 | 0.13 | 9.33 | 6.59 | 090
15793 |  | A | Chemical peel, nonfacial | 3.74 | 6.85 | 4.57 | 0.19 | 10.78 | 8.50 | 090
15810 |  | A | Salabrasion | 4.74 | 0.00 | 3.74 | 0.51 | 5.25 | 8.99 | 090
15811 |  | A | Salabrasion | 5.39 | 5.30 | 4.65 | 0.80 | 11.49 | 10.84 | 090
15819 |  | A | Plastic surgery, neck | 9.39 | NA | 7.02 | 0.97 | NA | 17.38 | 090
15820 |  | A | Revision of lower eyelid | 5.15 | 6.76 | 5.38 | 0.40 | 12.31 | 10.93 | 090
15821 |  | A | Revision of lower eyelid | 5.72 | 7.13 | 5.55 | 0.45 | 13.30 | 11.72 | 090
15822 |  | A | Revision of upper eyelid | 4.45 | 5.66 | 4.37 | 0.37 | 10.48 | 9.19 | 090
15823 |  | A | Revision of upper eyelid | 7.05 | 7.64 | 6.27 | 0.50 | 15.20 | 13.82 | 090
15824 |  | R | Removal of forehead wrinkles | 0.00 | 0.00 | 0.00 | 0.00 | 0.00 | 0.00 | 000
15825 |  | R | Removal of neck wrinkles | 0.00 | 0.00 | 0.00 | 0.00 | 0.00 | 0.00 | 000
15826 |  | R | Removal of brow wrinkles | 0.00 | 0.00 | 0.00 | 0.00 | 0.00 | 0.00 | 000
15828 |  | R | Removal of face wrinkles | 0.00 | 0.00 | 0.00 | 0.00 | 0.00 | 0.00 | 000
15829 |  | R | Removal of skin wrinkles | 0.00 | 0.00 | 0.00 | 0.00 | 0.00 | 0.00 | 000
15831 |  | A | Excise excessive skin tissue | 12.40 | NA | 7.99 | 1.75 | NA | 22.14 | 090
15832 |  | A | Excise excessive skin tissue | 11.59 | NA | 8.13 | 1.66 | NA | 21.39 | 090
15833 |  | A | Excise excessive skin tissue | 10.64 | NA | 7.89 | 1.49 | NA | 20.02 | 090
15834 |  | A | Excise excessive skin tissue | 10.85 | NA | 7.50 | 1.61 | NA | 19.96 | 090
15835 |  | A | Excise excessive skin tissue | 11.67 | NA | 7.42 | 1.60 | NA | 20.69 | 090
15836 |  | A | Excise excessive skin tissue | 9.35 | NA | 6.64 | 1.34 | NA | 17.33 | 090
15837 |  | A | Excise excessive skin tissue | 8.44 | 8.28 | 7.16 | 1.18 | 17.90 | 16.78 | 090
15838 |  | A | Excise excessive skin tissue | 7.13 | NA | 5.93 | 0.58 | NA | 13.64 | 090
15839 |  | A | Excise excessive skin tissue | 9.39 | 8.67 | 6.28 | 1.22 | 19.28 | 16.89 | 090
15840 |  | A | Graft for face nerve palsy | 13.27 | NA | 9.70 | 1.32 | NA | 24.28 | 090
15841 |  | A | Graft for face nerve palsy | 23.28 | NA | 14.69 | 2.54 | NA | 40.51 | 090
15842 |  | A | Flap for face nerve palsy | 37.98 | NA | 22.25 | 4.93 | NA | 65.16 | 090
15845 |  | A | Skin and muscle repair, face | 12.58 | NA | 9.08 | 0.81 | NA | 22.47 | 090
15850 |  | B | Removal of sutures | 0.78 | 1.53 | 0.30 | 0.05 | 2.36 | 1.13 | XXX
15851 |  | A | Removal of sutures | 0.86 | 1.62 | 0.30 | 0.06 | 2.54 | 1.22 | 000
15852 |  | A | Dressing change not for burn | 0.86 | 1.77 | 0.32 | 0.09 | 2.72 | 1.27 | 000
15860 |  | A | Test for blood flow in graft | 1.95 | NA | 0.77 | 0.27 | NA | 2.99 | 000
15876 |  | R | Suction assisted lipectomy | 0.00 | 0.00 | 0.00 | 0.00 | 0.00 | 0.00 | 000
15877 |  | R | Suction assisted lipectomy | 0.00 | 0.00 | 0.00 | 0.00 | 0.00 | 0.00 | 000
15878 |  | R | Suction assisted lipectomy | 0.00 | 0.00 | 0.00 | 0.00 | 0.00 | 0.00 | 000
15879 |  | R | Suction assisted lipectomy | 0.00 | 0.00 | 0.00 | 0.00 | 0.00 | 0.00 | 000
15920 |  | A | Removal of tail bone ulcer | 7.96 | NA | 5.45 | 1.04 | NA | 14.44 | 090
15922 |  | A | Removal of tail bone ulcer | 9.91 | NA | 7.03 | 1.42 | NA | 18.36 | 090
15931 |  | A | Remove sacrum pressure sore | 9.25 | NA | 5.58 | 1.25 | NA | 16.08 | 090
15933 |  | A | Remove sacrum pressure sore | 10.85 | NA | 7.66 | 1.52 | NA | 20.03 | 090
15934 |  | A | Remove sacrum pressure sore | 12.70 | NA | 7.84 | 1.78 | NA | 22.32 | 090
15935 |  | A | Remove sacrum pressure sore | 14.58 | NA | 10.04 | 2.09 | NA | 26.71 | 090
15936 |  | A | Remove sacrum pressure sore | 12.38 | NA | 7.99 | 1.76 | NA | 22.14 | 090
15937 |  | A | Remove sacrum pressure sore | 14.22 | NA | 9.53 | 2.06 | NA | 25.81 | 090
15940 |  | A | Remove hip pressure sore | 9.35 | NA | 6.02 | 1.31 | NA | 16.68 | 090
15941 |  | A | Remove hip pressure sore | 11.43 | NA | 9.13 | 1.66 | NA | 22.23 | 090
15944 |  | A | Remove hip pressure sore | 11.46 | NA | 8.36 | 1.65 | NA | 21.47 | 090
15945 |  | A | Remove hip pressure sore | 12.70 | NA | 9.36 | 1.84 | NA | 23.90 | 090
15946 |  | A | Remove hip pressure sore | 21.58 | NA | 13.97 | 3.16 | NA | 38.71 | 090
15950 |  | A | Remove thigh pressure sore | 7.55 | NA | 5.30 | 1.04 | NA | 13.88 | 090
15951 |  | A | Remove thigh pressure sore | 10.72 | NA | 7.67 | 1.49 | NA | 19.88 | 090
15952 |  | A | Remove thigh pressure sore | 11.39 | NA | 7.57 | 1.60 | NA | 20.56 | 090
15953 |  | A | Remove thigh pressure sore | 12.64 | NA | 8.75 | 1.79 | NA | 23.18 | 090
15956 |  | A | Remove thigh pressure sore | 15.53 | NA | 10.47 | 2.21 | NA | 28.21 | 090
15958 |  | A | Remove thigh pressure sore | 15.49 | NA | 10.73 | 2.25 | NA | 28.47 | 090
15999 |  | C | Removal of pressure sore | 0.00 | 0.00 | 0.00 | 0.00 | 0.00 | 0.00 | YYY
16000 |  | A | Initial treatment of burn(s) | 0.89 | 0.84 | 0.25 | 0.08 | 1.81 | 1.22 | 000
16010 |  | A | Treatment of burn(s) | 0.87 | NA | 0.61 | 0.09 | NA | 1.58 | 000
16015 |  | A | Treatment of burn(s) | 2.35 | NA | 1.13 | 0.32 | NA | 3.81 | 000
16020 |  | A | Treatment of burn(s) | 0.80 | 1.24 | 0.57 | 0.08 | 2.13 | 1.45 | 000
16025 |  | A | Treatment of burn(s) | 1.85 | 1.71 | 0.94 | 0.19 | 3.75 | 2.99 | 000
16030 |  | A | Treatment of burn(s) | 2.08 | 2.09 | 1.10 | 0.24 | 4.41 | 3.43 | 000
16035 |  | A | Incision of burn scab, initi | 3.75 | NA | 1.59 | 0.46 | NA | 5.80 | 090
16036 |  | A | Escharotomy; add'l incision | 1.50 | NA | 0.59 | 0.20 | NA | 2.29 | ZZZ
17000 |  | A | Destroy benign/premlg lesion | 0.60 | 1.09 | 0.59 | 0.03 | 1.73 | 1.22 | 010
17003 |  | A | Destroy lesions, 2-14 | 0.15 | 0.12 | 0.08 | 0.01 | 0.28 | 0.24 | ZZZ
17004 |  | A | Destroy lesions, 15 or more | 2.80 | 2.58 | 1.71 | 0.11 | 5.49 | 4.62 | 010
17106 |  | A | Destruction of skin lesions | 4.59 | 4.81 | 3.35 | 0.35 | 9.75 | 8.29 | 090
17107 |  | A | Destruction of skin lesions | 9.17 | 7.66 | 5.50 | 0.63 | 17.46 | 15.30 | 090
17108 |  | A | Destruction of skin lesions | 13.21 | 9.87 | 7.77 | 0.54 | 23.62 | 21.52 | 090
17110 |  | A | Destruct lesion, 1-14 | 0.65 | 1.65 | 0.75 | 0.05 | 2.35 | 1.45 | 010
17111 |  | A | Destruct lesion, 15 or more | 0.92 | 1.79 | 0.87 | 0.05 | 2.76 | 1.84 | 010
17250 |  | A | Chemical cautery, tissue | 0.50 | 1.23 | 0.34 | 0.06 | 1.79 | 0.90 | 000
17260 |  | A | Destruction of skin lesions | 0.91 | 1.33 | 0.69 | 0.04 | 2.28 | 1.64 | 010
17261 |  | A | Destruction of skin lesions | 1.17 | 1.83 | 0.91 | 0.05 | 3.05 | 2.13 | 010
17262 |  | A | Destruction of skin lesions | 1.58 | 2.13 | 1.11 | 0.06 | 3.78 | 2.76 | 010
17263 |  | A | Destruction of skin lesions | 1.79 | 2.32 | 1.18 | 0.07 | 4.19 | 3.04 | 010
17264 |  | A | Destruction of skin lesions | 1.94 | 2.51 | 1.19 | 0.08 | 4.53 | 3.22 | 010
17266 |  | A | Destruction of skin lesions | 2.34 | 2.79 | 1.26 | 0.09 | 5.23 | 3.69 | 010
17270 |  | A | Destruction of skin lesions | 1.32 | 1.89 | 0.94 | 0.05 | 3.27 | 2.31 | 010
17271 |  | A | Destruction of skin lesions | 1.49 | 2.01 | 1.07 | 0.06 | 3.56 | 2.63 | 010
17272 |  | A | Destruction of skin lesions | 1.77 | 2.25 | 1.21 | 0.07 | 4.10 | 3.06 | 010
17273 |  | A | Destruction of skin lesions | 2.05 | 2.48 | 1.31 | 0.08 | 4.62 | 3.44 | 010
17274 |  | A | Destruction of skin lesions | 2.60 | 2.87 | 1.53 | 0.10 | 5.56 | 4.23 | 010
17276 |  | A | Destruction of skin lesions | 3.21 | 3.26 | 1.72 | 0.16 | 6.63 | 5.08 | 010
17280 |  | A | Destruction of skin lesions | 1.17 | 1.80 | 0.87 | 0.05 | 3.03 | 2.09 | 010
17281 |  | A | Destruction of skin lesions | 1.72 | 2.15 | 1.18 | 0.07 | 3.94 | 2.98 | 010
17282 |  | A | Destruction of skin lesions | 2.04 | 2.43 | 1.35 | 0.08 | 4.55 | 3.47 | 010
17283 |  | A | Destruction of skin lesions | 2.65 | 2.86 | 1.58 | 0.11 | 5.61 | 4.34 | 010
17284 |  | A | Destruction of skin lesions | 3.22 | 3.26 | 1.82 | 0.13 | 6.60 | 5.17 | 010
17286 |  | A | Destruction of skin lesions | 4.44 | 4.01 | 2.44 | 0.23 | 8.68 | 7.11 | 010
17304 |  | A | 1 stage mohs, up to 5 spec | 7.61 | 9.35 | 3.85 | 0.30 | 17.26 | 11.76 | 000
17305 |  | A | 2 stage mohs, up to 5 spec | 2.86 | 4.64 | 1.46 | 0.11 | 7.61 | 4.42 | 000
17306 |  | A | 3 stage mohs, up to 5 spec | 2.86 | 4.79 | 1.47 | 0.11 | 7.76 | 4.44 | 000
17307 |  | A | Mohs addl stage up to 5 spec | 2.86 | 4.39 | 1.49 | 0.11 | 7.36 | 4.45 | 000
17310 |  | A | Mohs any stage > 5 spec each | 0.95 | 1.74 | 0.51 | 0.03 | 2.72 | 1.49 | ZZZ
17340 |  | A | Cryotherapy of skin | 0.76 | 0.38 | 0.36 | 0.05 | 1.19 | 1.17 | 010
17360 |  | A | Skin peel therapy | 1.43 | 1.51 | 0.96 | 0.06 | 3.00 | 2.46 | 010
17380 |  | R | Hair removal by electrolysis | 0.00 | 0.00 | 0.00 | 0.00 | 0.00 | 0.00 | 000
17999 |  | C | Skin tissue procedure | 0.00 | 0.00 | 0.00 | 0.00 | 0.00 | 0.00 | YYY
19000 |  | A | Drainage of breast lesion | 0.84 | 1.97 | 0.32 | 0.08 | 2.89 | 1.24 | 000
19001 |  | A | Drain breast lesion add-on | 0.42 | 0.25 | 0.15 | 0.04 | 0.71 | 0.61 | ZZZ
19020 |  | A | Incision of breast lesion | 3.57 | 6.18 | 2.67 | 0.45 | 10.20 | 6.68 | 090
19030 |  | A | Injection for breast x-ray | 1.53 | 3.03 | 0.53 | 0.09 | 4.65 | 2.15 | 000
19100 |  | A | Bx breast percut w/o image | 1.27 | 2.06 | 0.43 | 0.16 | 3.50 | 1.86 | 000
19101 |  | A | Biopsy of breast, open | 3.19 | 4.65 | 1.98 | 0.39 | 8.23 | 5.56 | 010
19102 |  | A | Bx breast percut w/image | 2.00 | 3.99 | 0.68 | 0.14 | 6.13 | 2.83 | 000
19103 |  | A | Bx breast percut w/device | 3.70 | 11.81 | 1.26 | 0.30 | 15.81 | 5.25 | 000
19110 |  | A | Nipple exploration | 4.30 | 5.75 | 2.87 | 0.57 | 10.62 | 7.74 | 090
19112 |  | A | Excise breast duct fistula | 3.67 | 5.89 | 2.69 | 0.48 | 10.04 | 6.84 | 090
19120 |  | A | Removal of breast lesion | 5.56 | 4.56 | 3.06 | 0.73 | 10.85 | 9.35 | 090
19125 |  | A | Excision, breast lesion | 6.06 | 4.77 | 3.28 | 0.80 | 11.63 | 10.14 | 090
19126 |  | A | Excision, addl breast lesion | 2.94 | NA | 0.98 | 0.38 | NA | 4.29 | ZZZ
19140 |  | A | Removal of breast tissue | 5.14 | 7.05 | 3.39 | 0.69 | 12.88 | 9.22 | 090
19160 |  | A | Partial mastectomy | 5.99 | NA | 3.41 | 0.79 | NA | 10.19 | 090
19162 |  | A | P-mastectomy w/ln removal | 13.54 | NA | 6.26 | 1.79 | NA | 21.59 | 090
19180 |  | A | Removal of breast | 8.81 | NA | 5.00 | 1.18 | NA | 14.99 | 090
19182 |  | A | Removal of breast | 7.74 | NA | 4.72 | 1.04 | NA | 13.50 | 090
19200 |  | A | Removal of breast | 15.50 | NA | 7.87 | 1.92 | NA | 25.29 | 090
19220 |  | A | Removal of breast | 15.73 | NA | 8.17 | 2.07 | NA | 25.98 | 090
19240 |  | A | Removal of breast | 16.01 | NA | 8.15 | 2.12 | NA | 26.28 | 090
19260 |  | A | Removal of chest wall lesion | 15.45 | NA | 10.76 | 2.13 | NA | 28.34 | 090
19271 |  | A | Revision of chest wall | 18.91 | NA | 17.32 | 2.62 | NA | 38.84 | 090
19272 |  | A | Extensive chest wall surgery | 21.56 | NA | 18.30 | 2.99 | NA | 42.85 | 090
19290 |  | A | Place needle wire, breast | 1.27 | 3.01 | 0.44 | 0.07 | 4.36 | 1.78 | 000
19291 |  | A | Place needle wire, breast | 0.63 | 1.27 | 0.22 | 0.04 | 1.94 | 0.89 | ZZZ
19295 |  | A | Place breast clip, percut | 0.00 | 2.74 | NA | 0.01 | 2.75 | NA | ZZZ
19296 |  | A | Place po breast cath for rad | 3.64 | 117.96 | 1.50 | 0.36 | 121.96 | 5.49 | 000
19297 |  | A | Place breast cath for rad | 1.72 | NA | 0.62 | 0.17 | NA | 2.52 | ZZZ
19298 |  | A | Place breast rad tube/caths | 6.01 | 39.56 | 2.35 | 0.43 | 46.00 | 8.79 | 000
19316 |  | A | Suspension of breast | 10.69 | NA | 7.30 | 1.64 | NA | 19.63 | 090
19318 |  | A | Reduction of large breast | 15.63 | NA | 10.79 | 2.92 | NA | 29.34 | 090
19324 |  | A | Enlarge breast | 5.85 | NA | 4.79 | 0.84 | NA | 11.48 | 090
19325 |  | A | Enlarge breast with implant | 8.46 | NA | 6.33 | 1.33 | NA | 16.11 | 090
19328 |  | A | Removal of breast implant | 5.68 | NA | 4.88 | 0.91 | NA | 11.47 | 090
19330 |  | A | Removal of implant material | 7.60 | NA | 5.88 | 1.26 | NA | 14.74 | 090
19340 |  | A | Immediate breast prosthesis | 6.33 | NA | 3.03 | 1.06 | NA | 10.42 | ZZZ
19342 |  | A | Delayed breast prosthesis | 11.20 | NA | 8.67 | 1.83 | NA | 21.70 | 090
19350 |  | A | Breast reconstruction | 8.93 | 13.03 | 6.95 | 1.41 | 23.37 | 17.28 | 090
19355 |  | A | Correct inverted nipple(s) | 7.58 | 9.85 | 4.63 | 0.92 | 18.34 | 13.12 | 090
19357 |  | A | Breast reconstruction | 18.17 | NA | 15.13 | 2.93 | NA | 36.23 | 090
19361 |  | A | Breast reconstruction | 19.27 | NA | 12.09 | 2.92 | NA | 34.28 | 090
19364 |  | A | Breast reconstruction | 41.02 | NA | 22.83 | 6.22 | NA | 70.07 | 090
19366 |  | A | Breast reconstruction | 21.29 | NA | 11.31 | 3.24 | NA | 35.84 | 090
19367 |  | A | Breast reconstruction | 25.74 | NA | 16.16 | 4.03 | NA | 45.93 | 090
19368 |  | A | Breast reconstruction | 32.43 | NA | 18.34 | 5.52 | NA | 56.30 | 090
19369 |  | A | Breast reconstruction | 29.84 | NA | 17.81 | 4.50 | NA | 52.15 | 090
19370 |  | A | Surgery of breast capsule | 8.06 | NA | 6.70 | 1.29 | NA | 16.05 | 090
19371 |  | A | Removal of breast capsule | 9.36 | NA | 7.60 | 1.62 | NA | 18.57 | 090
19380 |  | A | Revise breast reconstruction | 9.15 | NA | 7.48 | 1.44 | NA | 18.07 | 090
19396 |  | A | Design custom breast implant | 2.17 | 2.17 | 1.02 | 0.30 | 4.65 | 3.50 | 000
19499 |  | C | Breast surgery procedure | 0.00 | 0.00 | 0.00 | 0.00 | 0.00 | 0.00 | YYY
20000 |  | A | Incision of abscess | 2.12 | 2.70 | 1.73 | 0.25 | 5.07 | 4.10 | 010
20005 |  | A | Incision of deep abscess | 3.42 | 3.50 | 2.23 | 0.46 | 7.37 | 6.10 | 010
2000F |  | I | Blood pressure, measured | 0.00 | 0.00 | 0.00 | 0.00 | 0.00 | 0.00 | XXX
20100 |  | A | Explore wound, neck | 10.08 | NA | 4.35 | 1.21 | NA | 15.64 | 010
20101 |  | A | Explore wound, chest | 3.23 | 5.85 | 1.57 | 0.44 | 9.52 | 5.24 | 010
20102 |  | A | Explore wound, abdomen | 3.94 | 7.18 | 1.88 | 0.49 | 11.61 | 6.31 | 010
20103 |  | A | Explore wound, extremity | 5.30 | 8.22 | 3.29 | 0.75 | 14.27 | 9.34 | 010
20150 |  | A | Excise epiphyseal bar | 13.70 | NA | 7.00 | 2.03 | NA | 22.73 | 090
20200 |  | A | Muscle biopsy | 1.46 | 2.95 | 0.74 | 0.23 | 4.64 | 2.44 | 000
20205 |  | A | Deep muscle biopsy | 2.35 | 3.79 | 1.17 | 0.33 | 6.47 | 3.86 | 000
20206 |  | A | Needle biopsy, muscle | 0.99 | 6.34 | 0.66 | 0.07 | 7.40 | 1.72 | 000
20220 |  | A | Bone biopsy, trocar/needle | 1.27 | 4.29 | 0.79 | 0.08 | 5.65 | 2.15 | 000
20225 |  | A | Bone biopsy, trocar/needle | 1.87 | 22.84 | 1.17 | 0.22 | 24.94 | 3.27 | 000
20240 |  | A | Bone biopsy, excisional | 3.24 | NA | 2.48 | 0.44 | NA | 6.16 | 010
20245 |  | A | Bone biopsy, excisional | 7.79 | NA | 6.39 | 1.31 | NA | 15.48 | 010
20250 |  | A | Open bone biopsy | 5.03 | NA | 3.45 | 1.02 | NA | 9.50 | 010
20251 |  | A | Open bone biopsy | 5.56 | NA | 4.09 | 1.15 | NA | 10.80 | 010
20500 |  | A | Injection of sinus tract | 1.23 | 2.10 | 1.46 | 0.12 | 3.46 | 2.81 | 010
20501 |  | A | Inject sinus tract for x-ray | 0.76 | 2.87 | 0.26 | 0.04 | 3.67 | 1.06 | 000
20520 |  | A | Removal of foreign body | 1.85 | 2.81 | 1.70 | 0.21 | 4.88 | 3.77 | 010
20525 |  | A | Removal of foreign body | 3.50 | 8.59 | 2.55 | 0.51 | 12.60 | 6.55 | 010
20526 |  | A | Ther injection, carp tunnel | 0.94 | 0.94 | 0.51 | 0.13 | 2.01 | 1.58 | 000
20550 |  | A | Inj tendon sheath/ligament | 0.75 | 0.69 | 0.23 | 0.09 | 1.54 | 1.07 | 000
20551 |  | A | Inj tendon origin/insertion | 0.75 | 0.67 | 0.32 | 0.08 | 1.50 | 1.15 | 000
20552 |  | A | Inj trigger point, 1/2 muscl | 0.66 | 0.70 | 0.20 | 0.05 | 1.41 | 0.91 | 000
20553 |  | A | Inject trigger points, =/> 3 | 0.75 | 0.79 | 0.21 | 0.04 | 1.58 | 1.00 | 000
20600 |  | A | Drain/inject, joint/bursa | 0.66 | 0.66 | 0.35 | 0.08 | 1.40 | 1.09 | 000
20605 |  | A | Drain/inject, joint/bursa | 0.68 | 0.75 | 0.35 | 0.08 | 1.52 | 1.11 | 000
20610 |  | A | Drain/inject, joint/bursa | 0.79 | 0.92 | 0.41 | 0.11 | 1.83 | 1.31 | 000
20612 |  | A | Aspirate/inj ganglion cyst | 0.70 | 0.70 | 0.35 | 0.10 | 1.50 | 1.15 | 000
20615 |  | A | Treatment of bone cyst | 2.28 | 3.38 | 1.82 | 0.20 | 5.87 | 4.31 | 010
20650 |  | A | Insert and remove bone pin | 2.23 | 2.35 | 1.54 | 0.31 | 4.90 | 4.09 | 010
20660 |  | A | Apply, rem fixation device | 2.52 | 2.95 | 1.58 | 0.59 | 6.05 | 4.68 | 000
20661 |  | A | Application of head brace | 4.89 | NA | 4.82 | 1.14 | NA | 10.85 | 090
20662 |  | A | Application of pelvis brace | 6.07 | NA | 5.39 | 0.56 | NA | 12.02 | 090
20663 |  | A | Application of thigh brace | 5.43 | NA | 4.71 | 0.94 | NA | 11.08 | 090
20664 |  | A | Halo brace application | 8.07 | NA | 6.89 | 1.74 | NA | 16.70 | 090
20665 |  | A | Removal of fixation device | 1.31 | 2.06 | 1.32 | 0.19 | 3.57 | 2.82 | 010
20670 |  | A | Removal of support implant | 1.74 | 10.66 | 2.02 | 0.28 | 12.68 | 4.04 | 010
20680 |  | A | Removal of support implant | 3.35 | 8.36 | 3.59 | 0.56 | 12.27 | 7.50 | 090
20690 |  | A | Apply bone fixation device | 3.52 | NA | 2.45 | 0.59 | NA | 6.56 | 090
20692 |  | A | Apply bone fixation device | 6.41 | NA | 3.67 | 1.05 | NA | 11.14 | 090
20693 |  | A | Adjust bone fixation device | 5.86 | NA | 5.26 | 0.98 | NA | 12.10 | 090
20694 |  | A | Remove bone fixation device | 4.16 | 6.78 | 3.93 | 0.71 | 11.65 | 8.80 | 090
20802 |  | A | Replantation, arm, complete | 41.17 | NA | 20.55 | 3.81 | NA | 65.53 | 090
20805 |  | A | Replant forearm, complete | 50.03 | NA | 32.77 | 4.84 | NA | 87.64 | 090
20808 |  | A | Replantation hand, complete | 61.68 | NA | 40.74 | 6.86 | NA | 109.28 | 090
20816 |  | A | Replantation digit, complete | 30.95 | NA | 35.39 | 4.52 | NA | 70.86 | 090
20822 |  | A | Replantation digit, complete | 25.60 | NA | 32.40 | 4.18 | NA | 62.18 | 090
20824 |  | A | Replantation thumb, complete | 30.95 | NA | 34.30 | 4.61 | NA | 69.86 | 090
20827 |  | A | Replantation thumb, complete | 26.42 | NA | 34.08 | 3.66 | NA | 64.16 | 090
20838 |  | A | Replantation foot, complete | 41.43 | NA | 21.78 | 1.12 | NA | 64.34 | 090
20900 |  | A | Removal of bone for graft | 5.58 | 8.42 | 5.50 | 0.94 | 14.95 | 12.02 | 090
20902 |  | A | Removal of bone for graft | 7.56 | NA | 6.66 | 1.30 | NA | 15.52 | 090
20910 |  | A | Remove cartilage for graft | 5.34 | NA | 5.04 | 0.71 | NA | 11.09 | 090
20912 |  | A | Remove cartilage for graft | 6.35 | NA | 5.63 | 0.69 | NA | 12.67 | 090
20920 |  | A | Removal of fascia for graft | 5.31 | NA | 4.26 | 0.66 | NA | 10.23 | 090
20922 |  | A | Removal of fascia for graft | 6.61 | 7.41 | 4.87 | 0.70 | 14.72 | 12.18 | 090
20924 |  | A | Removal of tendon for graft | 6.48 | NA | 5.69 | 1.04 | NA | 13.22 | 090
20926 |  | A | Removal of tissue for graft | 5.53 | NA | 4.66 | 0.87 | NA | 11.06 | 090
20930 |  | B | Spinal bone allograft | 0.00 | 0.00 | 0.00 | 0.00 | 0.00 | 0.00 | XXX
20931 |  | A | Spinal bone allograft | 1.81 | NA | 0.90 | 0.43 | NA | 3.15 | ZZZ
20936 |  | B | Spinal bone autograft | 0.00 | 0.00 | 0.00 | 0.00 | 0.00 | 0.00 | XXX
20937 |  | A | Spinal bone autograft | 2.80 | NA | 1.41 | 0.54 | NA | 4.74 | ZZZ
20938 |  | A | Spinal bone autograft | 3.03 | NA | 1.52 | 0.64 | NA | 5.18 | ZZZ
20950 |  | A | Fluid pressure, muscle | 1.26 | 6.35 | 0.97 | 0.20 | 7.81 | 2.43 | 000
20955 |  | A | Fibula bone graft, microvasc | 39.23 | NA | 23.52 | 4.89 | NA | 67.64 | 090
20956 |  | A | Iliac bone graft, microvasc | 39.29 | NA | 24.03 | 7.01 | NA | 70.33 | 090
20957 |  | A | Mt bone graft, microvasc | 40.67 | NA | 18.69 | 7.05 | NA | 66.42 | 090
20962 |  | A | Other bone graft, microvasc | 39.29 | NA | 25.76 | 6.55 | NA | 71.60 | 090
20969 |  | A | Bone/skin graft, microvasc | 43.94 | NA | 25.78 | 4.79 | NA | 74.51 | 090
20970 |  | A | Bone/skin graft, iliac crest | 43.09 | NA | 24.61 | 6.60 | NA | 74.30 | 090
20972 |  | A | Bone/skin graft, metatarsal | 43.02 | NA | 20.22 | 5.30 | NA | 68.54 | 090
20973 |  | A | Bone/skin graft, great toe | 45.78 | NA | 24.42 | 5.54 | NA | 75.74 | 090
20974 |  | A | Electrical bone stimulation | 0.62 | 0.71 | 0.53 | 0.11 | 1.44 | 1.26 | 000
20975 |  | A | Electrical bone stimulation | 2.61 | NA | 1.67 | 0.51 | NA | 4.78 | 000
20979 |  | A | Us bone stimulation | 0.62 | 0.77 | 0.33 | 0.09 | 1.49 | 1.04 | 000
20982 |  | A | Ablate, bone tumor(s) perq | 7.28 | 105.12 | 12.41 | 0.69 | 113.09 | 20.38 | 000
20999 |  | C | Musculoskeletal surgery | 0.00 | 0.00 | 0.00 | 0.00 | 0.00 | 0.00 | YYY
21010 |  | A | Incision of jaw joint | 10.14 | NA | 7.28 | 1.11 | NA | 18.53 | 090
21015 |  | A | Resection of facial tumor | 5.29 | NA | 4.86 | 0.70 | NA | 10.86 | 090
21025 |  | A | Excision of bone, lower jaw | 10.06 | 12.30 | 9.24 | 1.32 | 23.68 | 20.62 | 090
21026 |  | A | Excision of facial bone(s) | 4.85 | 7.94 | 6.20 | 0.60 | 13.39 | 11.65 | 090
21029 |  | A | Contour of face bone lesion | 7.72 | 9.32 | 6.85 | 0.94 | 17.98 | 15.50 | 090
21030 |  | A | Excise max/zygoma b9 tumor | 4.50 | 6.45 | 4.96 | 0.54 | 11.49 | 10.00 | 090
21031 |  | A | Remove exostosis, mandible | 3.25 | 5.29 | 3.62 | 0.48 | 9.01 | 7.35 | 090
21032 |  | A | Remove exostosis, maxilla | 3.25 | 5.45 | 3.51 | 0.47 | 9.16 | 7.23 | 090
21034 |  | A | Excise max/zygoma mlg tumor | 16.18 | 15.67 | 12.29 | 1.71 | 33.56 | 30.19 | 090
21040 |  | A | Excise mandible lesion | 4.50 | 6.51 | 4.70 | 0.54 | 11.55 | 9.74 | 090
21044 |  | A | Removal of jaw bone lesion | 11.86 | NA | 9.18 | 1.12 | NA | 22.17 | 090
21045 |  | A | Extensive jaw surgery | 16.18 | NA | 12.08 | 1.52 | NA | 29.79 | 090
21046 |  | A | Remove mandible cyst complex | 13.01 | NA | 11.91 | 1.85 | NA | 26.77 | 090
21047 |  | A | Excise lwr jaw cyst w/repair | 18.76 | NA | 13.17 | 2.12 | NA | 34.05 | 090
21048 |  | A | Remove maxilla cyst complex | 13.51 | NA | 12.13 | 1.76 | NA | 27.40 | 090
21049 |  | A | Excis uppr jaw cyst w/repair | 18.01 | NA | 12.78 | 1.59 | NA | 32.37 | 090
21050 |  | A | Removal of jaw joint | 10.77 | NA | 9.31 | 1.47 | NA | 21.56 | 090
21060 |  | A | Remove jaw joint cartilage | 10.23 | NA | 8.51 | 1.38 | NA | 20.12 | 090
21070 |  | A | Remove coronoid process | 8.21 | NA | 7.03 | 1.27 | NA | 16.50 | 090
21076 |  | A | Prepare face/oral prosthesis | 13.43 | 12.00 | 9.44 | 1.99 | 27.42 | 24.85 | 010
21077 |  | A | Prepare face/oral prosthesis | 33.77 | 29.60 | 24.40 | 4.55 | 67.91 | 62.72 | 090
21079 |  | A | Prepare face/oral prosthesis | 22.35 | 20.43 | 16.13 | 3.15 | 45.94 | 41.63 | 090
21080 |  | A | Prepare face/oral prosthesis | 25.11 | 23.16 | 18.23 | 3.74 | 52.01 | 47.08 | 090
21081 |  | A | Prepare face/oral prosthesis | 22.90 | 21.14 | 16.42 | 3.20 | 47.24 | 42.52 | 090
21082 |  | A | Prepare face/oral prosthesis | 20.88 | 18.48 | 14.83 | 3.11 | 42.47 | 38.82 | 090
21083 |  | A | Prepare face/oral prosthesis | 19.31 | 17.90 | 13.57 | 2.88 | 40.09 | 35.76 | 090
21084 |  | A | Prepare face/oral prosthesis | 22.52 | 21.12 | 16.44 | 2.18 | 45.82 | 41.15 | 090
21085 |  | A | Prepare face/oral prosthesis | 9.01 | 8.28 | 6.79 | 1.27 | 18.56 | 17.07 | 010
21086 |  | A | Prepare face/oral prosthesis | 24.93 | 22.34 | 18.15 | 3.71 | 50.98 | 46.79 | 090
21087 |  | A | Prepare face/oral prosthesis | 24.93 | 22.11 | 18.05 | 3.44 | 50.48 | 46.42 | 090
21088 |  | C | Prepare face/oral prosthesis | 0.00 | 0.00 | 0.00 | 0.00 | 0.00 | 0.00 | 090
21089 |  | C | Prepare face/oral prosthesis | 0.00 | 0.00 | 0.00 | 0.00 | 0.00 | 0.00 | 090
21100 |  | A | Maxillofacial fixation | 4.22 | 11.76 | 4.79 | 0.34 | 16.32 | 9.35 | 090
21110 |  | A | Interdental fixation | 5.21 | 10.08 | 8.54 | 0.72 | 16.01 | 14.47 | 090
21116 |  | A | Injection, jaw joint x-ray | 0.81 | 4.08 | 0.34 | 0.06 | 4.95 | 1.21 | 000
21120 |  | A | Reconstruction of chin | 4.93 | 10.42 | 7.29 | 0.60 | 15.95 | 12.82 | 090
21121 |  | A | Reconstruction of chin | 7.65 | 9.92 | 7.81 | 0.90 | 18.47 | 16.36 | 090
21122 |  | A | Reconstruction of chin | 8.53 | NA | 8.55 | 1.07 | NA | 18.15 | 090
21123 |  | A | Reconstruction of chin | 11.16 | NA | 10.59 | 1.40 | NA | 23.15 | 090
21125 |  | A | Augmentation, lower jaw bone | 10.62 | 55.80 | 8.18 | 0.79 | 67.21 | 19.59 | 090
21127 |  | A | Augmentation, lower jaw bone | 11.12 | 48.12 | 9.27 | 1.52 | 60.76 | 21.91 | 090
21137 |  | A | Reduction of forehead | 9.83 | NA | 7.48 | 1.32 | NA | 18.63 | 090
21138 |  | A | Reduction of forehead | 12.19 | NA | 9.25 | 1.74 | NA | 23.18 | 090
21139 |  | A | Reduction of forehead | 14.62 | NA | 11.13 | 1.18 | NA | 26.93 | 090
21141 |  | A | Reconstruct midface, lefort | 18.11 | NA | 13.41 | 2.35 | NA | 33.87 | 090
21142 |  | A | Reconstruct midface, lefort | 18.82 | NA | 12.75 | 2.38 | NA | 33.95 | 090
21143 |  | A | Reconstruct midface, lefort | 19.59 | NA | 14.37 | 1.66 | NA | 35.62 | 090
21145 |  | A | Reconstruct midface, lefort | 19.95 | NA | 13.66 | 2.84 | NA | 36.45 | 090
21146 |  | A | Reconstruct midface, lefort | 20.72 | NA | 15.04 | 3.09 | NA | 38.85 | 090
21147 |  | A | Reconstruct midface, lefort | 21.78 | NA | 14.88 | 1.84 | NA | 38.51 | 090
21150 |  | A | Reconstruct midface, lefort | 25.25 | NA | 16.60 | 2.55 | NA | 44.40 | 090
21151 |  | A | Reconstruct midface, lefort | 28.32 | NA | 21.89 | 2.30 | NA | 52.51 | 090
21154 |  | A | Reconstruct midface, lefort | 30.53 | NA | 22.45 | 2.48 | NA | 55.46 | 090
21155 |  | A | Reconstruct midface, lefort | 34.47 | NA | 23.33 | 6.64 | NA | 64.44 | 090
21159 |  | A | Reconstruct midface, lefort | 42.40 | NA | 27.95 | 8.18 | NA | 78.53 | 090
21160 |  | A | Reconstruct midface, lefort | 46.46 | NA | 27.92 | 4.13 | NA | 78.51 | 090
21172 |  | A | Reconstruct orbit/forehead | 27.82 | NA | 13.53 | 3.55 | NA | 44.90 | 090
21175 |  | A | Reconstruct orbit/forehead | 33.19 | NA | 17.38 | 4.83 | NA | 55.40 | 090
21179 |  | A | Reconstruct entire forehead | 22.26 | NA | 13.72 | 2.80 | NA | 38.78 | 090
21180 |  | A | Reconstruct entire forehead | 25.20 | NA | 14.96 | 3.48 | NA | 43.65 | 090
21181 |  | A | Contour cranial bone lesion | 9.91 | NA | 7.23 | 1.32 | NA | 18.46 | 090
21182 |  | A | Reconstruct cranial bone | 32.20 | NA | 18.55 | 2.80 | NA | 53.56 | 090
21183 |  | A | Reconstruct cranial bone | 35.33 | NA | 20.24 | 4.47 | NA | 60.04 | 090
21184 |  | A | Reconstruct cranial bone | 38.26 | NA | 21.33 | 5.70 | NA | 65.29 | 090
21188 |  | A | Reconstruction of midface | 22.47 | NA | 18.35 | 1.69 | NA | 42.52 | 090
21193 |  | A | Reconst lwr jaw w/o graft | 17.15 | NA | 12.42 | 2.23 | NA | 31.81 | 090
21194 |  | A | Reconst lwr jaw w/graft | 19.85 | NA | 13.45 | 2.02 | NA | 35.32 | 090
21195 |  | A | Reconst lwr jaw w/o fixation | 17.24 | NA | 14.61 | 1.64 | NA | 33.50 | 090
21196 |  | A | Reconst lwr jaw w/fixation | 18.92 | NA | 15.41 | 2.07 | NA | 36.40 | 090
21198 |  | A | Reconstr lwr jaw segment | 14.17 | NA | 12.46 | 1.44 | NA | 28.07 | 090
21199 |  | A | Reconstr lwr jaw w/advance | 16.01 | NA | 8.90 | 1.39 | NA | 26.30 | 090
21206 |  | A | Reconstruct upper jaw bone | 14.11 | NA | 12.46 | 1.33 | NA | 27.90 | 090
21208 |  | A | Augmentation of facial bones | 10.23 | 23.47 | 9.29 | 1.09 | 34.79 | 20.61 | 090
21209 |  | A | Reduction of facial bones | 6.72 | 10.88 | 7.90 | 0.90 | 18.50 | 15.52 | 090
21210 |  | A | Face bone graft | 10.23 | 27.25 | 9.15 | 1.30 | 38.78 | 20.68 | 090
21215 |  | A | Lower jaw bone graft | 10.77 | 47.37 | 9.24 | 1.53 | 59.67 | 21.54 | 090
21230 |  | A | Rib cartilage graft | 10.77 | NA | 7.79 | 1.29 | NA | 19.85 | 090
21235 |  | A | Ear cartilage graft | 6.72 | 10.18 | 6.28 | 0.61 | 17.52 | 13.62 | 090
21240 |  | A | Reconstruction of jaw joint | 14.06 | NA | 11.95 | 2.24 | NA | 28.25 | 090
21242 |  | A | Reconstruction of jaw joint | 12.96 | NA | 11.42 | 1.78 | NA | 26.15 | 090
21243 |  | A | Reconstruction of jaw joint | 20.80 | NA | 17.27 | 3.25 | NA | 41.33 | 090
21244 |  | A | Reconstruction of lower jaw | 11.86 | NA | 11.91 | 1.25 | NA | 25.02 | 090
21245 |  | A | Reconstruction of jaw | 11.86 | 14.32 | 9.62 | 1.19 | 27.37 | 22.67 | 090
21246 |  | A | Reconstruction of jaw | 12.47 | NA | 8.83 | 1.35 | NA | 22.65 | 090
21247 |  | A | Reconstruct lower jaw bone | 22.65 | NA | 17.07 | 2.83 | NA | 42.54 | 090
21248 |  | A | Reconstruction of jaw | 11.48 | 12.29 | 9.24 | 1.55 | 25.32 | 22.28 | 090
21249 |  | A | Reconstruction of jaw | 17.52 | 16.75 | 12.47 | 2.48 | 36.76 | 32.47 | 090
21255 |  | A | Reconstruct lower jaw bone | 16.72 | NA | 15.70 | 2.38 | NA | 34.80 | 090
21256 |  | A | Reconstruction of orbit | 16.20 | NA | 11.48 | 1.50 | NA | 29.18 | 090
21260 |  | A | Revise eye sockets | 16.53 | NA | 13.26 | 0.97 | NA | 30.76 | 090
21261 |  | A | Revise eye sockets | 31.50 | NA | 23.50 | 3.42 | NA | 58.42 | 090
21263 |  | A | Revise eye sockets | 28.44 | NA | 19.87 | 2.62 | NA | 50.93 | 090
21267 |  | A | Revise eye sockets | 18.91 | NA | 18.95 | 1.70 | NA | 39.56 | 090
21268 |  | A | Revise eye sockets | 24.49 | NA | 19.69 | 3.65 | NA | 47.83 | 090
21270 |  | A | Augmentation, cheek bone | 10.23 | 11.66 | 7.09 | 0.72 | 22.61 | 18.04 | 090
21275 |  | A | Revision, orbitofacial bones | 11.24 | NA | 7.91 | 1.29 | NA | 20.45 | 090
21280 |  | A | Revision of eyelid | 6.03 | NA | 5.78 | 0.42 | NA | 12.23 | 090
21282 |  | A | Revision of eyelid | 3.49 | NA | 4.35 | 0.26 | NA | 8.10 | 090
21295 |  | A | Revision of jaw muscle/bone | 1.53 | NA | 2.51 | 0.16 | NA | 4.20 | 090
21296 |  | A | Revision of jaw muscle/bone | 4.25 | NA | 4.95 | 0.34 | NA | 9.54 | 090
21299 |  | C | Cranio/maxillofacial surgery | 0.00 | 0.00 | 0.00 | 0.00 | 0.00 | 0.00 | YYY
21300 |  | A | Treatment of skull fracture | 0.72 | 2.00 | 0.26 | 0.13 | 2.85 | 1.11 | 000
21310 |  | A | Treatment of nose fracture | 0.58 | 2.16 | 0.15 | 0.05 | 2.79 | 0.78 | 000
21315 |  | A | Treatment of nose fracture | 1.51 | 4.19 | 1.81 | 0.14 | 5.84 | 3.46 | 010
21320 |  | A | Treatment of nose fracture | 1.85 | 3.89 | 1.58 | 0.18 | 5.92 | 3.61 | 010
21325 |  | A | Treatment of nose fracture | 3.77 | NA | 8.21 | 0.31 | NA | 12.29 | 090
21330 |  | A | Treatment of nose fracture | 5.38 | NA | 9.26 | 0.56 | NA | 15.20 | 090
21335 |  | A | Treatment of nose fracture | 8.62 | NA | 9.38 | 0.74 | NA | 18.74 | 090
21336 |  | A | Treat nasal septal fracture | 5.72 | NA | 9.31 | 0.55 | NA | 15.59 | 090
21337 |  | A | Treat nasal septal fracture | 2.71 | 5.96 | 3.49 | 0.28 | 8.95 | 6.48 | 090
21338 |  | A | Treat nasoethmoid fracture | 6.46 | NA | 13.21 | 0.82 | NA | 20.49 | 090
21339 |  | A | Treat nasoethmoid fracture | 8.10 | NA | 13.20 | 0.96 | NA | 22.26 | 090
21340 |  | A | Treatment of nose fracture | 10.77 | NA | 8.17 | 1.15 | NA | 20.09 | 090
21343 |  | A | Treatment of sinus fracture | 12.96 | NA | 14.86 | 1.47 | NA | 29.28 | 090
21344 |  | A | Treatment of sinus fracture | 19.73 | NA | 15.85 | 2.43 | NA | 38.01 | 090
21345 |  | A | Treat nose/jaw fracture | 8.17 | 9.82 | 7.04 | 0.92 | 18.91 | 16.13 | 090
21346 |  | A | Treat nose/jaw fracture | 10.61 | NA | 11.91 | 1.21 | NA | 23.73 | 090
21347 |  | A | Treat nose/jaw fracture | 12.70 | NA | 15.39 | 1.47 | NA | 29.55 | 090
21348 |  | A | Treat nose/jaw fracture | 16.69 | NA | 10.81 | 2.48 | NA | 29.98 | 090
21355 |  | A | Treat cheek bone fracture | 3.77 | 6.07 | 3.42 | 0.34 | 10.18 | 7.52 | 010
21356 |  | A | Treat cheek bone fracture | 4.15 | 6.99 | 4.41 | 0.46 | 11.60 | 9.02 | 010
21360 |  | A | Treat cheek bone fracture | 6.46 | NA | 5.80 | 0.74 | NA | 13.00 | 090
21365 |  | A | Treat cheek bone fracture | 14.96 | NA | 10.51 | 1.69 | NA | 27.16 | 090
21366 |  | A | Treat cheek bone fracture | 17.78 | NA | 11.02 | 2.49 | NA | 31.29 | 090
21385 |  | A | Treat eye socket fracture | 9.17 | NA | 8.06 | 0.97 | NA | 18.20 | 090
21386 |  | A | Treat eye socket fracture | 9.17 | NA | 6.88 | 0.97 | NA | 17.01 | 090
21387 |  | A | Treat eye socket fracture | 9.71 | NA | 8.67 | 1.08 | NA | 19.46 | 090
21390 |  | A | Treat eye socket fracture | 10.13 | NA | 7.58 | 0.90 | NA | 18.61 | 090
21395 |  | A | Treat eye socket fracture | 12.69 | NA | 8.75 | 1.44 | NA | 22.88 | 090
21400 |  | A | Treat eye socket fracture | 1.40 | 2.60 | 1.82 | 0.15 | 4.15 | 3.37 | 090
21401 |  | A | Treat eye socket fracture | 3.27 | 7.77 | 3.44 | 0.38 | 11.41 | 7.09 | 090
21406 |  | A | Treat eye socket fracture | 7.01 | NA | 5.92 | 0.73 | NA | 13.67 | 090
21407 |  | A | Treat eye socket fracture | 8.62 | NA | 6.66 | 0.94 | NA | 16.22 | 090
21408 |  | A | Treat eye socket fracture | 12.38 | NA | 8.63 | 1.44 | NA | 22.45 | 090
21421 |  | A | Treat mouth roof fracture | 5.14 | 9.62 | 8.32 | 0.73 | 15.49 | 14.19 | 090
21422 |  | A | Treat mouth roof fracture | 8.33 | NA | 7.89 | 0.99 | NA | 17.20 | 090
21423 |  | A | Treat mouth roof fracture | 10.40 | NA | 9.02 | 1.27 | NA | 20.69 | 090
21431 |  | A | Treat craniofacial fracture | 7.05 | NA | 9.40 | 0.70 | NA | 17.15 | 090
21432 |  | A | Treat craniofacial fracture | 8.62 | NA | 7.96 | 0.81 | NA | 17.39 | 090
21433 |  | A | Treat craniofacial fracture | 25.36 | NA | 15.91 | 2.78 | NA | 44.05 | 090
21435 |  | A | Treat craniofacial fracture | 17.25 | NA | 12.37 | 1.98 | NA | 31.60 | 090
21436 |  | A | Treat craniofacial fracture | 28.06 | NA | 17.82 | 3.09 | NA | 48.96 | 090
21440 |  | A | Treat dental ridge fracture | 2.71 | 7.43 | 6.26 | 0.38 | 10.52 | 9.34 | 090
21445 |  | A | Treat dental ridge fracture | 5.38 | 10.05 | 8.32 | 0.78 | 16.21 | 14.48 | 090
21450 |  | A | Treat lower jaw fracture | 2.98 | 7.70 | 6.71 | 0.33 | 11.01 | 10.02 | 090
21451 |  | A | Treat lower jaw fracture | 4.87 | 9.77 | 8.44 | 0.63 | 15.27 | 13.94 | 090
21452 |  | A | Treat lower jaw fracture | 1.98 | 12.37 | 4.74 | 0.27 | 14.62 | 7.00 | 090
21453 |  | A | Treat lower jaw fracture | 5.54 | 11.18 | 10.71 | 0.74 | 17.46 | 16.99 | 090
21454 |  | A | Treat lower jaw fracture | 6.46 | NA | 6.17 | 0.82 | NA | 13.46 | 090
21461 |  | A | Treat lower jaw fracture | 8.10 | 26.43 | 12.53 | 0.98 | 35.51 | 21.60 | 090
21462 |  | A | Treat lower jaw fracture | 9.80 | 29.34 | 12.71 | 1.27 | 40.41 | 23.78 | 090
21465 |  | A | Treat lower jaw fracture | 11.91 | NA | 9.63 | 1.50 | NA | 23.05 | 090
21470 |  | A | Treat lower jaw fracture | 15.35 | NA | 11.78 | 1.96 | NA | 29.09 | 090
21480 |  | A | Reset dislocated jaw | 0.61 | 1.72 | 0.19 | 0.06 | 2.39 | 0.86 | 000
21485 |  | A | Reset dislocated jaw | 3.99 | 8.73 | 7.76 | 0.51 | 13.23 | 12.25 | 090
21490 |  | A | Repair dislocated jaw | 11.86 | NA | 9.55 | 1.96 | NA | 23.37 | 090
21493 |  | A | Treat hyoid bone fracture | 1.27 | NA | 0.53 | 0.12 | NA | 1.92 | 090
21494 |  | A | Treat hyoid bone fracture | 6.28 | NA | 3.42 | 0.57 | NA | 10.27 | 090
21495 |  | A | Treat hyoid bone fracture | 5.69 | NA | 8.55 | 0.46 | NA | 14.70 | 090
21497 |  | A | Interdental wiring | 3.86 | 8.88 | 7.77 | 0.50 | 13.24 | 12.12 | 090
21499 |  | C | Head surgery procedure | 0.00 | 0.00 | 0.00 | 0.00 | 0.00 | 0.00 | YYY
21501 |  | A | Drain neck/chest lesion | 3.81 | 6.31 | 3.73 | 0.43 | 10.55 | 7.97 | 090
21502 |  | A | Drain chest lesion | 7.12 | NA | 5.42 | 0.97 | NA | 13.52 | 090
21510 |  | A | Drainage of bone lesion | 5.74 | NA | 5.42 | 0.80 | NA | 11.96 | 090
21550 |  | A | Biopsy of neck/chest | 2.06 | 3.85 | 1.74 | 0.16 | 6.08 | 3.96 | 010
21555 |  | A | Remove lesion, neck/chest | 4.35 | 5.54 | 3.17 | 0.56 | 10.45 | 8.08 | 090
21556 |  | A | Remove lesion, neck/chest | 5.57 | NA | 4.05 | 0.65 | NA | 10.27 | 090
21557 |  | A | Remove tumor, neck/chest | 8.89 | NA | 5.23 | 1.08 | NA | 15.19 | 090
21600 |  | A | Partial removal of rib | 6.89 | NA | 5.68 | 0.99 | NA | 13.57 | 090
21610 |  | A | Partial removal of rib | 14.62 | NA | 8.68 | 3.07 | NA | 26.37 | 090
21615 |  | A | Removal of rib | 9.88 | NA | 6.42 | 1.45 | NA | 17.75 | 090
21616 |  | A | Removal of rib and nerves | 12.04 | NA | 7.95 | 1.86 | NA | 21.85 | 090
21620 |  | A | Partial removal of sternum | 6.79 | NA | 5.72 | 0.98 | NA | 13.50 | 090
21627 |  | A | Sternal debridement | 6.81 | NA | 6.17 | 1.02 | NA | 14.00 | 090
21630 |  | A | Extensive sternum surgery | 17.38 | NA | 11.45 | 2.58 | NA | 31.42 | 090
21632 |  | A | Extensive sternum surgery | 18.15 | NA | 10.81 | 2.65 | NA | 31.60 | 090
21685 |  | A | Hyoid myotomy & suspension | 13.01 | NA | 9.82 | 1.06 | NA | 23.89 | 090
21700 |  | A | Revision of neck muscle | 6.19 | NA | 4.74 | 0.32 | NA | 11.26 | 090
21705 |  | A | Revision of neck muscle/rib | 9.61 | NA | 5.43 | 1.43 | NA | 16.47 | 090
21720 |  | A | Revision of neck muscle | 5.68 | NA | 2.87 | 0.91 | NA | 9.46 | 090
21725 |  | A | Revision of neck muscle | 6.99 | NA | 5.31 | 1.21 | NA | 13.51 | 090
21740 |  | A | Reconstruction of sternum | 16.51 | NA | 8.37 | 2.36 | NA | 27.24 | 090
21742 |  | C | Repair stern/nuss w/o scope | 0.00 | 0.00 | 0.00 | 0.00 | 0.00 | 0.00 | 090
21743 |  | C | Repair sternum/nuss w/scope | 0.00 | 0.00 | 0.00 | 0.00 | 0.00 | 0.00 | 090
21750 |  | A | Repair of sternum separation | 10.77 | NA | 5.94 | 1.63 | NA | 18.35 | 090
21800 |  | A | Treatment of rib fracture | 0.96 | 0.00 | 1.31 | 0.09 | 1.05 | 2.36 | 090
21805 |  | A | Treatment of rib fracture | 2.76 | NA | 3.20 | 0.38 | NA | 6.34 | 090
21810 |  | A | Treatment of rib fracture(s) | 6.86 | NA | 4.93 | 0.94 | NA | 12.74 | 090
21820 |  | A | Treat sternum fracture | 1.28 | 1.78 | 1.70 | 0.16 | 3.22 | 3.15 | 090
21825 |  | A | Treat sternum fracture | 7.41 | NA | 6.25 | 1.11 | NA | 14.78 | 090
21899 |  | C | Neck/chest surgery procedure | 0.00 | 0.00 | 0.00 | 0.00 | 0.00 | 0.00 | YYY
21920 |  | A | Biopsy soft tissue of back | 2.06 | 3.54 | 1.48 | 0.14 | 5.74 | 3.68 | 010
21925 |  | A | Biopsy soft tissue of back | 4.49 | 5.12 | 3.24 | 0.60 | 10.20 | 8.33 | 090
21930 |  | A | Remove lesion, back or flank | 5.00 | 5.82 | 3.39 | 0.66 | 11.48 | 9.05 | 090
21935 |  | A | Remove tumor, back | 17.97 | NA | 9.46 | 2.47 | NA | 29.90 | 090
22100 |  | A | Remove part of neck vertebra | 9.74 | NA | 7.39 | 2.13 | NA | 19.26 | 090
22101 |  | A | Remove part, thorax vertebra | 9.82 | NA | 7.57 | 1.90 | NA | 19.28 | 090
22102 |  | A | Remove part, lumbar vertebra | 9.82 | NA | 7.89 | 1.87 | NA | 19.58 | 090
22103 |  | A | Remove extra spine segment | 2.34 | NA | 1.17 | 0.44 | NA | 3.96 | ZZZ
22110 |  | A | Remove part of neck vertebra | 12.75 | NA | 8.96 | 2.76 | NA | 24.47 | 090
22112 |  | A | Remove part, thorax vertebra | 12.82 | NA | 9.03 | 2.52 | NA | 24.36 | 090
22114 |  | A | Remove part, lumbar vertebra | 12.82 | NA | 9.02 | 2.63 | NA | 24.46 | 090
22116 |  | A | Remove extra spine segment | 2.32 | NA | 1.14 | 0.50 | NA | 3.96 | ZZZ
22210 |  | A | Revision of neck spine | 23.83 | NA | 15.05 | 5.44 | NA | 44.31 | 090
22212 |  | A | Revision of thorax spine | 19.43 | NA | 12.99 | 3.90 | NA | 36.32 | 090
22214 |  | A | Revision of lumbar spine | 19.46 | NA | 13.43 | 3.91 | NA | 36.80 | 090
22216 |  | A | Revise, extra spine segment | 6.04 | NA | 3.04 | 1.29 | NA | 10.37 | ZZZ
22220 |  | A | Revision of neck spine | 21.38 | NA | 13.33 | 5.06 | NA | 39.78 | 090
22222 |  | A | Revision of thorax spine | 21.53 | NA | 11.12 | 4.12 | NA | 36.78 | 090
22224 |  | A | Revision of lumbar spine | 21.53 | NA | 13.85 | 4.18 | NA | 39.56 | 090
22226 |  | A | Revise, extra spine segment | 6.04 | NA | 3.00 | 1.29 | NA | 10.34 | ZZZ
22305 |  | A | Treat spine process fracture | 2.05 | 2.25 | 1.86 | 0.39 | 4.69 | 4.31 | 090
22310 |  | A | Treat spine fracture | 2.62 | 2.72 | 2.28 | 0.50 | 5.84 | 5.40 | 090
22315 |  | A | Treat spine fracture | 8.85 | 9.37 | 7.16 | 1.85 | 20.07 | 17.86 | 090
22318 |  | A | Treat odontoid fx w/o graft | 21.51 | NA | 13.09 | 5.28 | NA | 39.89 | 090
22319 |  | A | Treat odontoid fx w/graft | 24.01 | NA | 14.38 | 6.03 | NA | 44.41 | 090
22325 |  | A | Treat spine fracture | 18.31 | NA | 11.94 | 3.87 | NA | 34.12 | 090
22326 |  | A | Treat neck spine fracture | 19.60 | NA | 12.41 | 4.42 | NA | 36.43 | 090
22327 |  | A | Treat thorax spine fracture | 19.21 | NA | 12.28 | 3.98 | NA | 35.47 | 090
22328 |  | A | Treat each add spine fx | 4.61 | NA | 2.21 | 0.94 | NA | 7.76 | ZZZ
22505 |  | A | Manipulation of spine | 1.87 | NA | 0.92 | 0.36 | NA | 3.15 | 010
22520 |  | A | Percut vertebroplasty thor | 8.92 | 60.09 | 5.24 | 1.71 | 70.72 | 15.87 | 010
22521 |  | A | Percut vertebroplasty lumb | 8.35 | 54.29 | 5.08 | 1.60 | 64.24 | 15.03 | 010
22522 |  | A | Percut vertebroplasty add'l | 4.31 | NA | 1.70 | 0.82 | NA | 6.83 | ZZZ
22532 |  | A | Lat thorax spine fusion | 24.01 | NA | 14.47 | 4.34 | NA | 42.82 | 090
22533 |  | A | Lat lumbar spine fusion | 23.14 | NA | 13.34 | 3.15 | NA | 39.63 | 090
22534 |  | A | Lat thor/lumb, add'l seg | 6.00 | NA | 2.95 | 1.25 | NA | 10.20 | ZZZ
22548 |  | A | Neck spine fusion | 25.83 | NA | 15.46 | 5.59 | NA | 46.88 | 090
22554 |  | A | Neck spine fusion | 18.63 | NA | 12.07 | 4.45 | NA | 35.15 | 090
22556 |  | A | Thorax spine fusion | 23.47 | NA | 14.33 | 4.34 | NA | 42.14 | 090
22558 |  | A | Lumbar spine fusion | 22.29 | NA | 12.94 | 3.15 | NA | 38.39 | 090
22585 |  | A | Additional spinal fusion | 5.53 | NA | 2.72 | 1.25 | NA | 9.50 | ZZZ
22590 |  | A | Spine & skull spinal fusion | 20.52 | NA | 13.02 | 4.78 | NA | 38.32 | 090
22595 |  | A | Neck spinal fusion | 19.40 | NA | 12.54 | 4.40 | NA | 36.34 | 090
22600 |  | A | Neck spine fusion | 16.15 | NA | 10.93 | 3.72 | NA | 30.80 | 090
22610 |  | A | Thorax spine fusion | 16.03 | NA | 11.12 | 3.52 | NA | 30.67 | 090
22612 |  | A | Lumbar spine fusion | 21.01 | NA | 13.81 | 4.46 | NA | 39.28 | 090
22614 |  | A | Spine fusion, extra segment | 6.44 | NA | 3.25 | 1.38 | NA | 11.08 | ZZZ
22630 |  | A | Lumbar spine fusion | 20.85 | NA | 13.27 | 4.72 | NA | 38.84 | 090
22632 |  | A | Spine fusion, extra segment | 5.23 | NA | 2.59 | 1.16 | NA | 8.98 | ZZZ
22800 |  | A | Fusion of spine | 18.26 | NA | 12.40 | 3.75 | NA | 34.41 | 090
22802 |  | A | Fusion of spine | 30.89 | NA | 19.00 | 6.15 | NA | 56.04 | 090
22804 |  | A | Fusion of spine | 36.29 | NA | 22.00 | 6.98 | NA | 65.27 | 090
22808 |  | A | Fusion of spine | 26.28 | NA | 15.86 | 4.92 | NA | 47.07 | 090
22810 |  | A | Fusion of spine | 30.28 | NA | 17.84 | 5.13 | NA | 53.25 | 090
22812 |  | A | Fusion of spine | 32.72 | NA | 19.47 | 5.28 | NA | 57.46 | 090
22818 |  | A | Kyphectomy, 1-2 segments | 31.84 | NA | 18.38 | 6.45 | NA | 56.67 | 090
22819 |  | A | Kyphectomy, 3 or more | 36.46 | NA | 19.51 | 7.65 | NA | 63.63 | 090
22830 |  | A | Exploration of spinal fusion | 10.85 | NA | 7.73 | 2.29 | NA | 20.87 | 090
22840 |  | A | Insert spine fixation device | 12.55 | NA | 6.31 | 2.78 | NA | 21.63 | ZZZ
22841 |  | B | Insert spine fixation device | 0.00 | 0.00 | 0.00 | 0.00 | 0.00 | 0.00 | XXX
22842 |  | A | Insert spine fixation device | 12.59 | NA | 6.32 | 2.74 | NA | 21.64 | ZZZ
22843 |  | A | Insert spine fixation device | 13.47 | NA | 6.41 | 2.85 | NA | 22.73 | ZZZ
22844 |  | A | Insert spine fixation device | 16.45 | NA | 8.49 | 3.18 | NA | 28.12 | ZZZ
22845 |  | A | Insert spine fixation device | 11.96 | NA | 5.91 | 2.85 | NA | 20.72 | ZZZ
22846 |  | A | Insert spine fixation device | 12.42 | NA | 6.16 | 2.95 | NA | 21.53 | ZZZ
22847 |  | A | Insert spine fixation device | 13.81 | NA | 6.82 | 2.99 | NA | 23.62 | ZZZ
22848 |  | A | Insert pelv fixation device | 6.00 | NA | 3.09 | 1.15 | NA | 10.24 | ZZZ
22849 |  | A | Reinsert spinal fixation | 18.52 | NA | 11.40 | 3.89 | NA | 33.80 | 090
22850 |  | A | Remove spine fixation device | 9.53 | NA | 6.80 | 2.04 | NA | 18.37 | 090
22851 |  | A | Apply spine prosth device | 6.71 | NA | 3.27 | 1.49 | NA | 11.47 | ZZZ
22852 |  | A | Remove spine fixation device | 9.02 | NA | 6.60 | 1.89 | NA | 17.50 | 090
22855 |  | A | Remove spine fixation device | 15.14 | NA | 9.43 | 3.51 | NA | 28.08 | 090
22899 |  | C | Spine surgery procedure | 0.00 | 0.00 | 0.00 | 0.00 | 0.00 | 0.00 | YYY
22900 |  | A | Remove abdominal wall lesion | 5.80 | NA | 3.22 | 0.76 | NA | 9.78 | 090
22999 |  | C | Abdomen surgery procedure | 0.00 | 0.00 | 0.00 | 0.00 | 0.00 | 0.00 | YYY
23000 |  | A | Removal of calcium deposits | 4.36 | 8.16 | 4.28 | 0.68 | 13.20 | 9.32 | 090
23020 |  | A | Release shoulder joint | 8.94 | NA | 7.31 | 1.54 | NA | 17.79 | 090
23030 |  | A | Drain shoulder lesion | 3.43 | 7.02 | 2.81 | 0.57 | 11.01 | 6.81 | 010
23031 |  | A | Drain shoulder bursa | 2.75 | 7.33 | 2.62 | 0.46 | 10.54 | 5.83 | 010
23035 |  | A | Drain shoulder bone lesion | 8.62 | NA | 7.93 | 1.47 | NA | 18.02 | 090
23040 |  | A | Exploratory shoulder surgery | 9.21 | NA | 7.61 | 1.60 | NA | 18.42 | 090
23044 |  | A | Exploratory shoulder surgery | 7.12 | NA | 6.22 | 1.24 | NA | 14.58 | 090
23065 |  | A | Biopsy shoulder tissues | 2.27 | 2.71 | 1.60 | 0.20 | 5.18 | 4.08 | 010
23066 |  | A | Biopsy shoulder tissues | 4.16 | 7.54 | 3.89 | 0.63 | 12.33 | 8.68 | 090
23075 |  | A | Removal of shoulder lesion | 2.39 | 3.59 | 1.75 | 0.34 | 6.33 | 4.49 | 010
23076 |  | A | Removal of shoulder lesion | 7.64 | NA | 5.45 | 1.13 | NA | 14.21 | 090
23077 |  | A | Remove tumor of shoulder | 16.10 | NA | 9.99 | 2.33 | NA | 28.42 | 090
23100 |  | A | Biopsy of shoulder joint | 6.03 | NA | 5.48 | 1.04 | NA | 12.55 | 090
23101 |  | A | Shoulder joint surgery | 5.58 | NA | 5.15 | 0.96 | NA | 11.69 | 090
23105 |  | A | Remove shoulder joint lining | 8.24 | NA | 6.90 | 1.42 | NA | 16.56 | 090
23106 |  | A | Incision of collarbone joint | 5.96 | NA | 5.51 | 0.99 | NA | 12.46 | 090
23107 |  | A | Explore treat shoulder joint | 8.63 | NA | 7.15 | 1.49 | NA | 17.27 | 090
23120 |  | A | Partial removal, collar bone | 7.11 | NA | 6.24 | 1.23 | NA | 14.59 | 090
23125 |  | A | Removal of collar bone | 9.40 | NA | 7.32 | 1.62 | NA | 18.34 | 090
23130 |  | A | Remove shoulder bone, part | 7.56 | NA | 6.89 | 1.30 | NA | 15.75 | 090
23140 |  | A | Removal of bone lesion | 6.89 | NA | 5.09 | 1.08 | NA | 13.07 | 090
23145 |  | A | Removal of bone lesion | 9.10 | NA | 7.23 | 1.49 | NA | 17.82 | 090
23146 |  | A | Removal of bone lesion | 7.84 | NA | 6.88 | 1.35 | NA | 16.06 | 090
23150 |  | A | Removal of humerus lesion | 8.49 | NA | 6.70 | 1.32 | NA | 16.51 | 090
23155 |  | A | Removal of humerus lesion | 10.35 | NA | 8.07 | 1.80 | NA | 20.22 | 090
23156 |  | A | Removal of humerus lesion | 8.69 | NA | 7.14 | 1.50 | NA | 17.33 | 090
23170 |  | A | Remove collar bone lesion | 6.86 | NA | 5.82 | 1.12 | NA | 13.80 | 090
23172 |  | A | Remove shoulder blade lesion | 6.90 | NA | 6.08 | 1.01 | NA | 13.99 | 090
23174 |  | A | Remove humerus lesion | 9.52 | NA | 8.10 | 1.65 | NA | 19.27 | 090
23180 |  | A | Remove collar bone lesion | 8.54 | NA | 8.60 | 1.47 | NA | 18.61 | 090
23182 |  | A | Remove shoulder blade lesion | 8.16 | NA | 8.18 | 1.37 | NA | 17.71 | 090
23184 |  | A | Remove humerus lesion | 9.39 | NA | 8.92 | 1.63 | NA | 19.94 | 090
23190 |  | A | Partial removal of scapula | 7.24 | NA | 5.98 | 1.17 | NA | 14.40 | 090
23195 |  | A | Removal of head of humerus | 9.82 | NA | 7.48 | 1.70 | NA | 19.00 | 090
23200 |  | A | Removal of collar bone | 12.08 | NA | 8.44 | 1.93 | NA | 22.46 | 090
23210 |  | A | Removal of shoulder blade | 12.49 | NA | 8.72 | 2.02 | NA | 23.24 | 090
23220 |  | A | Partial removal of humerus | 14.57 | NA | 10.48 | 2.48 | NA | 27.53 | 090
23221 |  | A | Partial removal of humerus | 17.75 | NA | 11.47 | 3.05 | NA | 32.26 | 090
23222 |  | A | Partial removal of humerus | 23.93 | NA | 15.31 | 3.94 | NA | 43.17 | 090
23330 |  | A | Remove shoulder foreign body | 1.85 | 3.54 | 1.81 | 0.24 | 5.64 | 3.90 | 010
23331 |  | A | Remove shoulder foreign body | 7.38 | NA | 6.57 | 1.27 | NA | 15.23 | 090
23332 |  | A | Remove shoulder foreign body | 11.62 | NA | 9.02 | 2.02 | NA | 22.66 | 090
23350 |  | A | Injection for shoulder x-ray | 1.00 | 3.39 | 0.35 | 0.06 | 4.45 | 1.41 | 000
23395 |  | A | Muscle transfer,shoulder/arm | 16.85 | NA | 12.46 | 2.93 | NA | 32.25 | 090
23397 |  | A | Muscle transfers | 16.14 | NA | 11.05 | 2.73 | NA | 29.92 | 090
23400 |  | A | Fixation of shoulder blade | 13.55 | NA | 9.73 | 2.29 | NA | 25.57 | 090
23405 |  | A | Incision of tendon & muscle | 8.38 | NA | 6.69 | 1.45 | NA | 16.51 | 090
23406 |  | A | Incise tendon(s) & muscle(s) | 10.79 | NA | 8.07 | 1.87 | NA | 20.74 | 090
23410 |  | A | Repair rotator cuff, acute | 12.45 | NA | 9.10 | 2.16 | NA | 23.72 | 090
23412 |  | A | Repair rotator cuff, chronic | 13.32 | NA | 9.58 | 2.31 | NA | 25.20 | 090
23415 |  | A | Release of shoulder ligament | 9.98 | NA | 7.73 | 1.73 | NA | 19.44 | 090
23420 |  | A | Repair of shoulder | 13.31 | NA | 10.51 | 2.31 | NA | 26.12 | 090
23430 |  | A | Repair biceps tendon | 9.99 | NA | 7.84 | 1.73 | NA | 19.56 | 090
23440 |  | A | Remove/transplant tendon | 10.48 | NA | 7.99 | 1.82 | NA | 20.29 | 090
23450 |  | A | Repair shoulder capsule | 13.41 | NA | 9.53 | 2.32 | NA | 25.26 | 090
23455 |  | A | Repair shoulder capsule | 14.38 | NA | 10.11 | 2.49 | NA | 26.98 | 090
23460 |  | A | Repair shoulder capsule | 15.38 | NA | 11.01 | 2.66 | NA | 29.05 | 090
23462 |  | A | Repair shoulder capsule | 15.31 | NA | 10.42 | 2.59 | NA | 28.32 | 090
23465 |  | A | Repair shoulder capsule | 15.86 | NA | 10.83 | 2.76 | NA | 29.46 | 090
23466 |  | A | Repair shoulder capsule | 14.23 | NA | 11.02 | 2.46 | NA | 27.71 | 090
23470 |  | A | Reconstruct shoulder joint | 17.15 | NA | 11.86 | 2.98 | NA | 32.00 | 090
23472 |  | A | Reconstruct shoulder joint | 21.11 | NA | 13.97 | 3.66 | NA | 38.74 | 090
23480 |  | A | Revision of collar bone | 11.18 | NA | 8.49 | 1.94 | NA | 21.61 | 090
23485 |  | A | Revision of collar bone | 13.44 | NA | 9.57 | 2.33 | NA | 25.34 | 090
23490 |  | A | Reinforce clavicle | 11.86 | NA | 8.43 | 1.47 | NA | 21.76 | 090
23491 |  | A | Reinforce shoulder bones | 14.22 | NA | 10.37 | 2.46 | NA | 27.05 | 090
23500 |  | A | Treat clavicle fracture | 2.08 | 2.79 | 2.44 | 0.30 | 5.17 | 4.82 | 090
23505 |  | A | Treat clavicle fracture | 3.69 | 4.29 | 3.74 | 0.61 | 8.59 | 8.04 | 090
23515 |  | A | Treat clavicle fracture | 7.41 | NA | 6.34 | 1.28 | NA | 15.03 | 090
23520 |  | A | Treat clavicle dislocation | 2.16 | 2.77 | 2.67 | 0.34 | 5.28 | 5.17 | 090
23525 |  | A | Treat clavicle dislocation | 3.60 | 4.40 | 3.83 | 0.46 | 8.46 | 7.88 | 090
23530 |  | A | Treat clavicle dislocation | 7.31 | NA | 5.75 | 1.20 | NA | 14.27 | 090
23532 |  | A | Treat clavicle dislocation | 8.02 | NA | 6.76 | 1.38 | NA | 16.15 | 090
23540 |  | A | Treat clavicle dislocation | 2.23 | 2.79 | 2.28 | 0.29 | 5.31 | 4.81 | 090
23545 |  | A | Treat clavicle dislocation | 3.26 | 4.10 | 3.29 | 0.35 | 7.71 | 6.90 | 090
23550 |  | A | Treat clavicle dislocation | 7.24 | NA | 6.18 | 1.25 | NA | 14.67 | 090
23552 |  | A | Treat clavicle dislocation | 8.46 | NA | 7.08 | 1.46 | NA | 17.00 | 090
23570 |  | A | Treat shoulder blade fx | 2.23 | 2.92 | 2.81 | 0.36 | 5.52 | 5.40 | 090
23575 |  | A | Treat shoulder blade fx | 4.06 | 4.75 | 4.19 | 0.59 | 9.40 | 8.84 | 090
23585 |  | A | Treat scapula fracture | 8.97 | NA | 7.39 | 1.54 | NA | 17.90 | 090
23600 |  | A | Treat humerus fracture | 2.94 | 4.40 | 3.44 | 0.48 | 7.81 | 6.86 | 090
23605 |  | A | Treat humerus fracture | 4.87 | 5.95 | 4.97 | 0.84 | 11.66 | 10.68 | 090
23615 |  | A | Treat humerus fracture | 9.36 | NA | 8.56 | 1.62 | NA | 19.54 | 090
23616 |  | A | Treat humerus fracture | 21.28 | NA | 13.70 | 3.69 | NA | 38.67 | 090
23620 |  | A | Treat humerus fracture | 2.40 | 3.51 | 2.89 | 0.40 | 6.31 | 5.69 | 090
23625 |  | A | Treat humerus fracture | 3.93 | 4.80 | 4.16 | 0.67 | 9.40 | 8.76 | 090
23630 |  | A | Treat humerus fracture | 7.35 | NA | 6.41 | 1.27 | NA | 15.04 | 090
23650 |  | A | Treat shoulder dislocation | 3.39 | 3.68 | 2.67 | 0.30 | 7.36 | 6.35 | 090
23655 |  | A | Treat shoulder dislocation | 4.57 | NA | 4.04 | 0.69 | NA | 9.30 | 090
23660 |  | A | Treat shoulder dislocation | 7.49 | NA | 6.18 | 1.29 | NA | 14.96 | 090
23665 |  | A | Treat dislocation/fracture | 4.47 | 5.18 | 4.59 | 0.71 | 10.36 | 9.77 | 090
23670 |  | A | Treat dislocation/fracture | 7.91 | NA | 6.61 | 1.36 | NA | 15.88 | 090
23675 |  | A | Treat dislocation/fracture | 6.05 | 6.63 | 5.66 | 1.01 | 13.70 | 12.73 | 090
23680 |  | A | Treat dislocation/fracture | 10.06 | NA | 7.86 | 1.75 | NA | 19.67 | 090
23700 |  | A | Fixation of shoulder | 2.53 | NA | 2.11 | 0.44 | NA | 5.08 | 010
23800 |  | A | Fusion of shoulder joint | 14.17 | NA | 10.10 | 2.35 | NA | 26.62 | 090
23802 |  | A | Fusion of shoulder joint | 16.61 | NA | 9.87 | 2.70 | NA | 29.19 | 090
23900 |  | A | Amputation of arm & girdle | 19.73 | NA | 11.40 | 3.18 | NA | 34.31 | 090
23920 |  | A | Amputation at shoulder joint | 14.62 | NA | 9.65 | 2.46 | NA | 26.73 | 090
23921 |  | A | Amputation follow-up surgery | 5.49 | NA | 4.93 | 0.78 | NA | 11.20 | 090
23929 |  | C | Shoulder surgery procedure | 0.00 | 0.00 | 0.00 | 0.00 | 0.00 | 0.00 | YYY
23930 |  | A | Drainage of arm lesion | 2.95 | 5.96 | 2.24 | 0.43 | 9.34 | 5.62 | 010
23931 |  | A | Drainage of arm bursa | 1.79 | 5.52 | 2.09 | 0.28 | 7.60 | 4.16 | 010
23935 |  | A | Drain arm/elbow bone lesion | 6.09 | NA | 5.72 | 1.05 | NA | 12.86 | 090
24000 |  | A | Exploratory elbow surgery | 5.82 | NA | 5.24 | 0.97 | NA | 12.03 | 090
24006 |  | A | Release elbow joint | 9.32 | NA | 7.51 | 1.50 | NA | 18.33 | 090
24065 |  | A | Biopsy arm/elbow soft tissue | 2.08 | 3.47 | 1.72 | 0.17 | 5.73 | 3.97 | 010
24066 |  | A | Biopsy arm/elbow soft tissue | 5.21 | 8.65 | 4.03 | 0.80 | 14.66 | 10.04 | 090
24075 |  | A | Remove arm/elbow lesion | 3.92 | 7.23 | 3.34 | 0.56 | 11.71 | 7.81 | 090
24076 |  | A | Remove arm/elbow lesion | 6.30 | NA | 4.75 | 0.95 | NA | 12.01 | 090
24077 |  | A | Remove tumor of arm/elbow | 11.76 | NA | 7.55 | 1.72 | NA | 21.04 | 090
24100 |  | A | Biopsy elbow joint lining | 4.93 | NA | 4.39 | 0.85 | NA | 10.17 | 090
24101 |  | A | Explore/treat elbow joint | 6.13 | NA | 5.73 | 1.03 | NA | 12.90 | 090
24102 |  | A | Remove elbow joint lining | 8.04 | NA | 6.64 | 1.33 | NA | 16.01 | 090
24105 |  | A | Removal of elbow bursa | 3.61 | NA | 4.25 | 0.61 | NA | 8.47 | 090
24110 |  | A | Remove humerus lesion | 7.39 | NA | 6.46 | 1.28 | NA | 15.13 | 090
24115 |  | A | Remove/graft bone lesion | 9.64 | NA | 7.02 | 1.67 | NA | 18.33 | 090
24116 |  | A | Remove/graft bone lesion | 11.81 | NA | 8.78 | 2.05 | NA | 22.65 | 090
24120 |  | A | Remove elbow lesion | 6.65 | NA | 5.74 | 1.10 | NA | 13.49 | 090
24125 |  | A | Remove/graft bone lesion | 7.90 | NA | 6.05 | 1.06 | NA | 15.01 | 090
24126 |  | A | Remove/graft bone lesion | 8.32 | NA | 6.82 | 1.16 | NA | 16.30 | 090
24130 |  | A | Removal of head of radius | 6.25 | NA | 5.82 | 1.04 | NA | 13.11 | 090
24134 |  | A | Removal of arm bone lesion | 9.74 | NA | 8.50 | 1.64 | NA | 19.88 | 090
24136 |  | A | Remove radius bone lesion | 8.00 | NA | 7.04 | 1.38 | NA | 16.42 | 090
24138 |  | A | Remove elbow bone lesion | 8.06 | NA | 7.53 | 1.34 | NA | 16.92 | 090
24140 |  | A | Partial removal of arm bone | 9.19 | NA | 8.71 | 1.51 | NA | 19.41 | 090
24145 |  | A | Partial removal of radius | 7.59 | NA | 7.71 | 1.25 | NA | 16.54 | 090
24147 |  | A | Partial removal of elbow | 7.55 | NA | 8.23 | 1.30 | NA | 17.08 | 090
24149 |  | A | Radical resection of elbow | 14.21 | NA | 11.28 | 2.34 | NA | 27.82 | 090
24150 |  | A | Extensive humerus surgery | 13.28 | NA | 9.69 | 2.32 | NA | 25.28 | 090
24151 |  | A | Extensive humerus surgery | 15.59 | NA | 11.17 | 2.59 | NA | 29.36 | 090
24152 |  | A | Extensive radius surgery | 10.06 | NA | 7.49 | 1.48 | NA | 19.04 | 090
24153 |  | A | Extensive radius surgery | 11.54 | NA | 5.91 | 0.74 | NA | 18.20 | 090
24155 |  | A | Removal of elbow joint | 11.73 | NA | 8.15 | 1.92 | NA | 21.80 | 090
24160 |  | A | Remove elbow joint implant | 7.84 | NA | 6.68 | 1.30 | NA | 15.82 | 090
24164 |  | A | Remove radius head implant | 6.23 | NA | 5.58 | 1.03 | NA | 12.84 | 090
24200 |  | A | Removal of arm foreign body | 1.76 | 3.26 | 1.59 | 0.20 | 5.22 | 3.55 | 010
24201 |  | A | Removal of arm foreign body | 4.56 | 9.27 | 4.11 | 0.72 | 14.55 | 9.38 | 090
24220 |  | A | Injection for elbow x-ray | 1.31 | 3.46 | 0.46 | 0.08 | 4.85 | 1.85 | 000
24300 |  | A | Manipulate elbow w/anesth | 3.75 | NA | 5.52 | 0.65 | NA | 9.92 | 090
24301 |  | A | Muscle/tendon transfer | 10.20 | NA | 7.93 | 1.66 | NA | 19.79 | 090
24305 |  | A | Arm tendon lengthening | 7.45 | NA | 6.49 | 1.15 | NA | 15.10 | 090
24310 |  | A | Revision of arm tendon | 5.98 | NA | 5.40 | 0.96 | NA | 12.34 | 090
24320 |  | A | Repair of arm tendon | 10.56 | NA | 7.54 | 1.73 | NA | 19.83 | 090
24330 |  | A | Revision of arm muscles | 9.61 | NA | 7.63 | 1.60 | NA | 18.84 | 090
24331 |  | A | Revision of arm muscles | 10.65 | NA | 8.40 | 1.77 | NA | 20.82 | 090
24332 |  | A | Tenolysis, triceps | 7.45 | NA | 6.56 | 1.23 | NA | 15.24 | 090
24340 |  | A | Repair of biceps tendon | 7.90 | NA | 6.76 | 1.36 | NA | 16.01 | 090
24341 |  | A | Repair arm tendon/muscle | 7.91 | NA | 7.68 | 1.36 | NA | 16.94 | 090
24342 |  | A | Repair of ruptured tendon | 10.62 | NA | 8.25 | 1.85 | NA | 20.72 | 090
24343 |  | A | Repr elbow lat ligmnt w/tiss | 8.66 | NA | 7.89 | 1.43 | NA | 17.98 | 090
24344 |  | A | Reconstruct elbow lat ligmnt | 14.01 | NA | 11.16 | 2.36 | NA | 27.53 | 090
24345 |  | A | Repr elbw med ligmnt w/tissu | 8.66 | NA | 7.78 | 1.44 | NA | 17.87 | 090
24346 |  | A | Reconstruct elbow med ligmnt | 14.01 | NA | 11.00 | 2.33 | NA | 27.34 | 090
24350 |  | A | Repair of tennis elbow | 5.25 | NA | 5.40 | 0.87 | NA | 11.52 | 090
24351 |  | A | Repair of tennis elbow | 5.91 | NA | 5.72 | 1.02 | NA | 12.65 | 090
24352 |  | A | Repair of tennis elbow | 6.43 | NA | 5.97 | 1.10 | NA | 13.50 | 090
24354 |  | A | Repair of tennis elbow | 6.48 | NA | 5.95 | 1.07 | NA | 13.50 | 090
24356 |  | A | Revision of tennis elbow | 6.68 | NA | 6.10 | 1.11 | NA | 13.90 | 090
24360 |  | A | Reconstruct elbow joint | 12.34 | NA | 9.17 | 2.05 | NA | 23.56 | 090
24361 |  | A | Reconstruct elbow joint | 14.09 | NA | 10.24 | 2.18 | NA | 26.51 | 090
24362 |  | A | Reconstruct elbow joint | 15.00 | NA | 9.75 | 2.60 | NA | 27.35 | 090
24363 |  | A | Replace elbow joint | 18.50 | NA | 13.29 | 3.01 | NA | 34.80 | 090
24365 |  | A | Reconstruct head of radius | 8.40 | NA | 6.97 | 1.41 | NA | 16.78 | 090
24366 |  | A | Reconstruct head of radius | 9.14 | NA | 7.29 | 1.52 | NA | 17.95 | 090
24400 |  | A | Revision of humerus | 11.06 | NA | 8.58 | 1.92 | NA | 21.56 | 090
24410 |  | A | Revision of humerus | 14.83 | NA | 10.10 | 2.57 | NA | 27.49 | 090
24420 |  | A | Revision of humerus | 13.45 | NA | 10.21 | 2.17 | NA | 25.83 | 090
24430 |  | A | Repair of humerus | 12.82 | NA | 9.43 | 2.21 | NA | 24.45 | 090
24435 |  | A | Repair humerus with graft | 13.18 | NA | 10.55 | 2.27 | NA | 25.99 | 090
24470 |  | A | Revision of elbow joint | 8.75 | NA | 7.46 | 1.48 | NA | 17.69 | 090
24495 |  | A | Decompression of forearm | 8.13 | NA | 8.34 | 1.18 | NA | 17.65 | 090
24498 |  | A | Reinforce humerus | 11.92 | NA | 8.97 | 2.06 | NA | 22.95 | 090
24500 |  | A | Treat humerus fracture | 3.22 | 4.99 | 3.57 | 0.50 | 8.71 | 7.29 | 090
24505 |  | A | Treat humerus fracture | 5.17 | 6.69 | 5.24 | 0.89 | 12.75 | 11.30 | 090
24515 |  | A | Treat humerus fracture | 11.65 | NA | 9.09 | 2.02 | NA | 22.76 | 090
24516 |  | A | Treat humerus fracture | 11.65 | NA | 8.82 | 2.02 | NA | 22.49 | 090
24530 |  | A | Treat humerus fracture | 3.50 | 5.33 | 3.92 | 0.57 | 9.40 | 7.99 | 090
24535 |  | A | Treat humerus fracture | 6.87 | 7.89 | 6.43 | 1.18 | 15.94 | 14.48 | 090
24538 |  | A | Treat humerus fracture | 9.44 | NA | 8.42 | 1.64 | NA | 19.50 | 090
24545 |  | A | Treat humerus fracture | 10.46 | NA | 8.18 | 1.82 | NA | 20.46 | 090
24546 |  | A | Treat humerus fracture | 15.70 | NA | 10.96 | 2.73 | NA | 29.39 | 090
24560 |  | A | Treat humerus fracture | 2.81 | 4.64 | 3.09 | 0.44 | 7.88 | 6.33 | 090
24565 |  | A | Treat humerus fracture | 5.56 | 6.71 | 5.37 | 0.93 | 13.20 | 11.86 | 090
24566 |  | A | Treat humerus fracture | 7.80 | NA | 7.86 | 1.30 | NA | 16.96 | 090
24575 |  | A | Treat humerus fracture | 10.66 | NA | 8.14 | 1.86 | NA | 20.66 | 090
24576 |  | A | Treat humerus fracture | 2.87 | 4.90 | 3.60 | 0.46 | 8.23 | 6.93 | 090
24577 |  | A | Treat humerus fracture | 5.79 | 7.01 | 5.67 | 0.95 | 13.75 | 12.41 | 090
24579 |  | A | Treat humerus fracture | 11.60 | NA | 8.55 | 2.02 | NA | 22.17 | 090
24582 |  | A | Treat humerus fracture | 8.56 | NA | 8.78 | 1.48 | NA | 18.82 | 090
24586 |  | A | Treat elbow fracture | 15.22 | NA | 10.87 | 2.64 | NA | 28.73 | 090
24587 |  | A | Treat elbow fracture | 15.17 | NA | 10.68 | 2.52 | NA | 28.37 | 090
24600 |  | A | Treat elbow dislocation | 4.23 | 4.99 | 3.39 | 0.50 | 9.72 | 8.12 | 090
24605 |  | A | Treat elbow dislocation | 5.42 | NA | 5.20 | 0.89 | NA | 11.51 | 090
24615 |  | A | Treat elbow dislocation | 9.43 | NA | 7.57 | 1.60 | NA | 18.59 | 090
24620 |  | A | Treat elbow fracture | 6.98 | NA | 6.08 | 1.07 | NA | 14.13 | 090
24635 |  | A | Treat elbow fracture | 13.20 | NA | 13.92 | 2.28 | NA | 29.40 | 090
24640 |  | A | Treat elbow dislocation | 1.20 | 2.03 | 0.77 | 0.12 | 3.35 | 2.10 | 010
24650 |  | A | Treat radius fracture | 2.16 | 4.11 | 2.66 | 0.35 | 6.62 | 5.18 | 090
24655 |  | A | Treat radius fracture | 4.40 | 6.05 | 4.65 | 0.70 | 11.15 | 9.75 | 090
24665 |  | A | Treat radius fracture | 8.15 | NA | 7.26 | 1.41 | NA | 16.81 | 090
24666 |  | A | Treat radius fracture | 9.50 | NA | 7.80 | 1.62 | NA | 18.92 | 090
24670 |  | A | Treat ulnar fracture | 2.55 | 4.27 | 2.98 | 0.41 | 7.23 | 5.93 | 090
24675 |  | A | Treat ulnar fracture | 4.72 | 6.10 | 4.83 | 0.81 | 11.63 | 10.36 | 090
24685 |  | A | Treat ulnar fracture | 8.81 | NA | 7.27 | 1.52 | NA | 17.60 | 090
24800 |  | A | Fusion of elbow joint | 11.20 | NA | 8.49 | 1.63 | NA | 21.33 | 090
24802 |  | A | Fusion/graft of elbow joint | 13.70 | NA | 10.04 | 2.37 | NA | 26.11 | 090
24900 |  | A | Amputation of upper arm | 9.61 | NA | 6.91 | 1.53 | NA | 18.05 | 090
24920 |  | A | Amputation of upper arm | 9.55 | NA | 6.77 | 1.61 | NA | 17.93 | 090
24925 |  | A | Amputation follow-up surgery | 7.07 | NA | 5.91 | 1.14 | NA | 14.12 | 090
24930 |  | A | Amputation follow-up surgery | 10.25 | NA | 7.05 | 1.67 | NA | 18.97 | 090
24931 |  | A | Amputate upper arm & implant | 12.73 | NA | 5.68 | 1.89 | NA | 20.30 | 090
24935 |  | A | Revision of amputation | 15.57 | NA | 7.92 | 2.13 | NA | 25.62 | 090
24940 |  | C | Revision of upper arm | 0.00 | 0.00 | 0.00 | 0.00 | 0.00 | 0.00 | 090
24999 |  | C | Upper arm/elbow surgery | 0.00 | 0.00 | 0.00 | 0.00 | 0.00 | 0.00 | YYY
25000 |  | A | Incision of tendon sheath | 3.38 | NA | 6.49 | 0.55 | NA | 10.41 | 090
25001 |  | A | Incise flexor carpi radialis | 3.38 | NA | 4.10 | 0.55 | NA | 8.03 | 090
25020 |  | A | Decompress forearm 1 space | 5.92 | NA | 9.00 | 0.93 | NA | 15.85 | 090
25023 |  | A | Decompress forearm 1 space | 12.97 | NA | 14.21 | 2.03 | NA | 29.21 | 090
25024 |  | A | Decompress forearm 2 spaces | 9.51 | NA | 7.28 | 1.36 | NA | 18.15 | 090
25025 |  | A | Decompress forearm 2 spaces | 16.55 | NA | 9.75 | 1.82 | NA | 28.13 | 090
25028 |  | A | Drainage of forearm lesion | 5.25 | NA | 7.73 | 0.81 | NA | 13.79 | 090
25031 |  | A | Drainage of forearm bursa | 4.14 | NA | 7.45 | 0.63 | NA | 12.22 | 090
25035 |  | A | Treat forearm bone lesion | 7.36 | NA | 12.69 | 1.24 | NA | 21.29 | 090
25040 |  | A | Explore/treat wrist joint | 7.18 | NA | 7.00 | 1.15 | NA | 15.34 | 090
25065 |  | A | Biopsy forearm soft tissues | 1.99 | 3.49 | 1.85 | 0.15 | 5.64 | 4.00 | 010
25066 |  | A | Biopsy forearm soft tissues | 4.13 | NA | 6.69 | 0.64 | NA | 11.46 | 090
25075 |  | A | Removal forearm lesion subcu | 3.74 | NA | 5.66 | 0.55 | NA | 9.95 | 090
25076 |  | A | Removal forearm lesion deep | 4.92 | NA | 8.98 | 0.74 | NA | 14.64 | 090
25077 |  | A | Remove tumor, forearm/wrist | 9.77 | NA | 11.47 | 1.42 | NA | 22.66 | 090
25085 |  | A | Incision of wrist capsule | 5.50 | NA | 6.78 | 0.85 | NA | 13.13 | 090
25100 |  | A | Biopsy of wrist joint | 3.90 | NA | 5.04 | 0.59 | NA | 9.53 | 090
25101 |  | A | Explore/treat wrist joint | 4.69 | NA | 5.64 | 0.75 | NA | 11.08 | 090
25105 |  | A | Remove wrist joint lining | 5.85 | NA | 6.97 | 0.92 | NA | 13.74 | 090
25107 |  | A | Remove wrist joint cartilage | 6.43 | NA | 7.98 | 0.99 | NA | 15.41 | 090
25110 |  | A | Remove wrist tendon lesion | 3.92 | NA | 6.65 | 0.62 | NA | 11.19 | 090
25111 |  | A | Remove wrist tendon lesion | 3.39 | NA | 4.51 | 0.53 | NA | 8.43 | 090
25112 |  | A | Reremove wrist tendon lesion | 4.53 | NA | 5.05 | 0.70 | NA | 10.28 | 090
25115 |  | A | Remove wrist/forearm lesion | 8.83 | NA | 13.21 | 1.31 | NA | 23.35 | 090
25116 |  | A | Remove wrist/forearm lesion | 7.11 | NA | 12.34 | 1.11 | NA | 20.56 | 090
25118 |  | A | Excise wrist tendon sheath | 4.37 | NA | 5.49 | 0.68 | NA | 10.54 | 090
25119 |  | A | Partial removal of ulna | 6.04 | NA | 7.25 | 0.96 | NA | 14.25 | 090
25120 |  | A | Removal of forearm lesion | 6.10 | NA | 11.29 | 1.00 | NA | 18.39 | 090
25125 |  | A | Remove/graft forearm lesion | 7.48 | NA | 12.05 | 1.06 | NA | 20.60 | 090
25126 |  | A | Remove/graft forearm lesion | 7.56 | NA | 12.20 | 1.27 | NA | 21.02 | 090
25130 |  | A | Removal of wrist lesion | 5.26 | NA | 6.15 | 0.80 | NA | 12.21 | 090
25135 |  | A | Remove & graft wrist lesion | 6.89 | NA | 7.22 | 1.02 | NA | 15.13 | 090
25136 |  | A | Remove & graft wrist lesion | 5.97 | NA | 6.35 | 1.03 | NA | 13.35 | 090
25145 |  | A | Remove forearm bone lesion | 6.37 | NA | 11.29 | 1.01 | NA | 18.67 | 090
25150 |  | A | Partial removal of ulna | 7.09 | NA | 7.83 | 1.14 | NA | 16.06 | 090
25151 |  | A | Partial removal of radius | 7.39 | NA | 11.93 | 1.18 | NA | 20.50 | 090
25170 |  | A | Extensive forearm surgery | 11.09 | NA | 14.28 | 1.77 | NA | 27.15 | 090
25210 |  | A | Removal of wrist bone | 5.95 | NA | 6.52 | 0.88 | NA | 13.35 | 090
25215 |  | A | Removal of wrist bones | 7.90 | NA | 8.37 | 1.19 | NA | 17.46 | 090
25230 |  | A | Partial removal of radius | 5.23 | NA | 5.89 | 0.79 | NA | 11.91 | 090
25240 |  | A | Partial removal of ulna | 5.17 | NA | 6.61 | 0.81 | NA | 12.59 | 090
25246 |  | A | Injection for wrist x-ray | 1.45 | 3.36 | 0.50 | 0.09 | 4.90 | 2.05 | 000
25248 |  | A | Remove forearm foreign body | 5.14 | NA | 8.08 | 0.72 | NA | 13.94 | 090
25250 |  | A | Removal of wrist prosthesis | 6.60 | NA | 5.92 | 1.01 | NA | 13.53 | 090
25251 |  | A | Removal of wrist prosthesis | 9.58 | NA | 7.68 | 1.26 | NA | 18.52 | 090
25259 |  | A | Manipulate wrist w/anesthes | 3.75 | NA | 5.53 | 0.62 | NA | 9.90 | 090
25260 |  | A | Repair forearm tendon/muscle | 7.81 | NA | 12.49 | 1.19 | NA | 21.49 | 090
25263 |  | A | Repair forearm tendon/muscle | 7.83 | NA | 12.46 | 1.18 | NA | 21.47 | 090
25265 |  | A | Repair forearm tendon/muscle | 9.89 | NA | 13.46 | 1.47 | NA | 24.82 | 090
25270 |  | A | Repair forearm tendon/muscle | 6.00 | NA | 11.23 | 0.95 | NA | 18.18 | 090
25272 |  | A | Repair forearm tendon/muscle | 7.04 | NA | 11.96 | 1.11 | NA | 20.11 | 090
25274 |  | A | Repair forearm tendon/muscle | 8.76 | NA | 12.81 | 1.36 | NA | 22.92 | 090
25275 |  | A | Repair forearm tendon sheath | 8.51 | NA | 7.34 | 1.31 | NA | 17.15 | 090
25280 |  | A | Revise wrist/forearm tendon | 7.22 | NA | 11.85 | 1.08 | NA | 20.15 | 090
25290 |  | A | Incise wrist/forearm tendon | 5.29 | NA | 13.90 | 0.82 | NA | 20.01 | 090
25295 |  | A | Release wrist/forearm tendon | 6.55 | NA | 11.39 | 1.00 | NA | 18.94 | 090
25300 |  | A | Fusion of tendons at wrist | 8.81 | NA | 8.15 | 1.26 | NA | 18.22 | 090
25301 |  | A | Fusion of tendons at wrist | 8.41 | NA | 7.76 | 1.29 | NA | 17.46 | 090
25310 |  | A | Transplant forearm tendon | 8.15 | NA | 12.25 | 1.21 | NA | 21.61 | 090
25312 |  | A | Transplant forearm tendon | 9.58 | NA | 13.12 | 1.41 | NA | 24.11 | 090
25315 |  | A | Revise palsy hand tendon(s) | 10.20 | NA | 13.54 | 1.58 | NA | 25.32 | 090
25316 |  | A | Revise palsy hand tendon(s) | 12.33 | NA | 15.27 | 1.74 | NA | 29.35 | 090
25320 |  | A | Repair/revise wrist joint | 10.77 | NA | 11.02 | 1.61 | NA | 23.40 | 090
25332 |  | A | Revise wrist joint | 11.41 | NA | 8.89 | 1.83 | NA | 22.13 | 090
25335 |  | A | Realignment of hand | 12.89 | NA | 11.18 | 1.92 | NA | 25.99 | 090
25337 |  | A | Reconstruct ulna/radioulnar | 10.17 | NA | 10.64 | 1.61 | NA | 22.42 | 090
25350 |  | A | Revision of radius | 8.79 | NA | 13.10 | 1.46 | NA | 23.35 | 090
25355 |  | A | Revision of radius | 10.17 | NA | 13.71 | 1.73 | NA | 25.61 | 090
25360 |  | A | Revision of ulna | 8.44 | NA | 12.99 | 1.41 | NA | 22.84 | 090
25365 |  | A | Revise radius & ulna | 12.40 | NA | 14.72 | 2.15 | NA | 29.28 | 090
25370 |  | A | Revise radius or ulna | 13.37 | NA | 15.25 | 2.28 | NA | 30.89 | 090
25375 |  | A | Revise radius & ulna | 13.05 | NA | 15.43 | 2.26 | NA | 30.73 | 090
25390 |  | A | Shorten radius or ulna | 10.40 | NA | 13.71 | 1.65 | NA | 25.76 | 090
25391 |  | A | Lengthen radius or ulna | 13.66 | NA | 15.64 | 2.21 | NA | 31.51 | 090
25392 |  | A | Shorten radius & ulna | 13.96 | NA | 15.22 | 2.10 | NA | 31.28 | 090
25393 |  | A | Lengthen radius & ulna | 15.88 | NA | 16.66 | 2.76 | NA | 35.30 | 090
25394 |  | A | Repair carpal bone, shorten | 10.40 | NA | 7.82 | 1.59 | NA | 19.81 | 090
25400 |  | A | Repair radius or ulna | 10.92 | NA | 14.27 | 1.82 | NA | 27.01 | 090
25405 |  | A | Repair/graft radius or ulna | 14.39 | NA | 16.29 | 2.32 | NA | 33.00 | 090
25415 |  | A | Repair radius & ulna | 13.36 | NA | 15.55 | 2.17 | NA | 31.07 | 090
25420 |  | A | Repair/graft radius & ulna | 16.34 | NA | 17.27 | 2.61 | NA | 36.23 | 090
25425 |  | A | Repair/graft radius or ulna | 13.22 | NA | 20.06 | 2.08 | NA | 35.36 | 090
25426 |  | A | Repair/graft radius & ulna | 15.83 | NA | 15.84 | 2.54 | NA | 34.22 | 090
25430 |  | A | Vasc graft into carpal bone | 9.26 | NA | 7.15 | 1.27 | NA | 17.68 | 090
25431 |  | A | Repair nonunion carpal bone | 10.44 | NA | 8.14 | 1.90 | NA | 20.48 | 090
25440 |  | A | Repair/graft wrist bone | 10.44 | NA | 9.04 | 1.63 | NA | 21.11 | 090
25441 |  | A | Reconstruct wrist joint | 12.91 | NA | 9.69 | 2.07 | NA | 24.67 | 090
25442 |  | A | Reconstruct wrist joint | 10.85 | NA | 8.61 | 1.53 | NA | 21.00 | 090
25443 |  | A | Reconstruct wrist joint | 10.39 | NA | 8.50 | 1.37 | NA | 20.26 | 090
25444 |  | A | Reconstruct wrist joint | 11.15 | NA | 8.75 | 1.71 | NA | 21.61 | 090
25445 |  | A | Reconstruct wrist joint | 9.70 | NA | 7.74 | 1.55 | NA | 18.99 | 090
25446 |  | A | Wrist replacement | 16.56 | NA | 11.56 | 2.47 | NA | 30.59 | 090
25447 |  | A | Repair wrist joint(s) | 10.37 | NA | 8.38 | 1.61 | NA | 20.36 | 090
25449 |  | A | Remove wrist joint implant | 14.50 | NA | 10.34 | 2.21 | NA | 27.05 | 090
25450 |  | A | Revision of wrist joint | 7.88 | NA | 9.64 | 1.36 | NA | 18.87 | 090
25455 |  | A | Revision of wrist joint | 9.50 | NA | 10.38 | 0.96 | NA | 20.84 | 090
25490 |  | A | Reinforce radius | 9.55 | NA | 12.92 | 1.43 | NA | 23.90 | 090
25491 |  | A | Reinforce ulna | 9.97 | NA | 13.59 | 1.60 | NA | 25.16 | 090
25492 |  | A | Reinforce radius and ulna | 12.33 | NA | 14.41 | 2.14 | NA | 28.89 | 090
25500 |  | A | Treat fracture of radius | 2.45 | 3.74 | 2.64 | 0.35 | 6.55 | 5.44 | 090
25505 |  | A | Treat fracture of radius | 5.21 | 6.63 | 5.27 | 0.90 | 12.74 | 11.38 | 090
25515 |  | A | Treat fracture of radius | 9.19 | NA | 7.21 | 1.59 | NA | 17.99 | 090
25520 |  | A | Treat fracture of radius | 6.26 | 6.94 | 5.89 | 1.08 | 14.28 | 13.23 | 090
25525 |  | A | Treat fracture of radius | 12.24 | NA | 9.67 | 2.12 | NA | 24.04 | 090
25526 |  | A | Treat fracture of radius | 12.99 | NA | 13.19 | 2.19 | NA | 28.36 | 090
25530 |  | A | Treat fracture of ulna | 2.09 | 3.93 | 2.78 | 0.34 | 6.37 | 5.21 | 090
25535 |  | A | Treat fracture of ulna | 5.14 | 6.11 | 5.15 | 0.89 | 12.14 | 11.18 | 090
25545 |  | A | Treat fracture of ulna | 8.91 | NA | 7.41 | 1.53 | NA | 17.85 | 090
25560 |  | A | Treat fracture radius & ulna | 2.44 | 3.86 | 2.52 | 0.35 | 6.66 | 5.31 | 090
25565 |  | A | Treat fracture radius & ulna | 5.63 | 6.78 | 5.27 | 0.93 | 13.34 | 11.83 | 090
25574 |  | A | Treat fracture radius & ulna | 7.01 | NA | 6.97 | 1.21 | NA | 15.19 | 090
25575 |  | A | Treat fracture radius/ulna | 10.45 | NA | 9.21 | 1.81 | NA | 21.47 | 090
25600 |  | A | Treat fracture radius/ulna | 2.64 | 4.25 | 2.88 | 0.42 | 7.31 | 5.93 | 090
25605 |  | A | Treat fracture radius/ulna | 5.81 | 7.30 | 6.05 | 1.00 | 14.11 | 12.86 | 090
25611 |  | A | Treat fracture radius/ulna | 7.78 | NA | 8.63 | 1.34 | NA | 17.75 | 090
25620 |  | A | Treat fracture radius/ulna | 8.56 | NA | 7.02 | 1.42 | NA | 17.00 | 090
25622 |  | A | Treat wrist bone fracture | 2.62 | 4.43 | 3.00 | 0.41 | 7.45 | 6.03 | 090
25624 |  | A | Treat wrist bone fracture | 4.53 | 6.13 | 4.93 | 0.76 | 11.42 | 10.22 | 090
25628 |  | A | Treat wrist bone fracture | 8.44 | NA | 7.58 | 1.37 | NA | 17.38 | 090
25630 |  | A | Treat wrist bone fracture | 2.89 | 4.34 | 2.85 | 0.45 | 7.68 | 6.18 | 090
25635 |  | A | Treat wrist bone fracture | 4.39 | 6.05 | 3.80 | 0.74 | 11.18 | 8.92 | 090
25645 |  | A | Treat wrist bone fracture | 7.25 | NA | 6.41 | 1.20 | NA | 14.86 | 090
25650 |  | A | Treat wrist bone fracture | 3.06 | 4.20 | 3.07 | 0.45 | 7.71 | 6.57 | 090
25651 |  | A | Pin ulnar styloid fracture | 5.36 | NA | 5.32 | 0.86 | NA | 11.54 | 090
25652 |  | A | Treat fracture ulnar styloid | 7.61 | NA | 6.78 | 1.21 | NA | 15.60 | 090
25660 |  | A | Treat wrist dislocation | 4.76 | NA | 4.57 | 0.58 | NA | 9.91 | 090
25670 |  | A | Treat wrist dislocation | 7.93 | NA | 6.76 | 1.28 | NA | 15.96 | 090
25671 |  | A | Pin radioulnar dislocation | 6.00 | NA | 5.95 | 1.00 | NA | 12.96 | 090
25675 |  | A | Treat wrist dislocation | 4.67 | 5.76 | 4.51 | 0.62 | 11.05 | 9.80 | 090
25676 |  | A | Treat wrist dislocation | 8.05 | NA | 7.06 | 1.34 | NA | 16.45 | 090
25680 |  | A | Treat wrist fracture | 5.99 | NA | 4.65 | 0.78 | NA | 11.42 | 090
25685 |  | A | Treat wrist fracture | 9.79 | NA | 7.57 | 1.60 | NA | 18.96 | 090
25690 |  | A | Treat wrist dislocation | 5.50 | NA | 5.34 | 0.88 | NA | 11.72 | 090
25695 |  | A | Treat wrist dislocation | 8.35 | NA | 6.86 | 1.32 | NA | 16.53 | 090
25800 |  | A | Fusion of wrist joint | 9.77 | NA | 8.74 | 1.57 | NA | 20.08 | 090
25805 |  | A | Fusion/graft of wrist joint | 11.28 | NA | 9.86 | 1.80 | NA | 22.94 | 090
25810 |  | A | Fusion/graft of wrist joint | 10.57 | NA | 9.54 | 1.67 | NA | 21.78 | 090
25820 |  | A | Fusion of hand bones | 7.45 | NA | 7.54 | 1.22 | NA | 16.21 | 090
25825 |  | A | Fuse hand bones with graft | 9.28 | NA | 8.88 | 1.41 | NA | 19.57 | 090
25830 |  | A | Fusion, radioulnar jnt/ulna | 10.06 | NA | 13.60 | 1.55 | NA | 25.21 | 090
25900 |  | A | Amputation of forearm | 9.02 | NA | 11.89 | 1.30 | NA | 22.21 | 090
25905 |  | A | Amputation of forearm | 9.13 | NA | 11.58 | 1.40 | NA | 22.11 | 090
25907 |  | A | Amputation follow-up surgery | 7.81 | NA | 11.06 | 1.10 | NA | 19.96 | 090
25909 |  | A | Amputation follow-up surgery | 8.97 | NA | 11.60 | 1.44 | NA | 22.01 | 090
25915 |  | A | Amputation of forearm | 17.08 | NA | 17.81 | 2.93 | NA | 37.83 | 090
25920 |  | A | Amputate hand at wrist | 8.69 | NA | 7.56 | 1.35 | NA | 17.59 | 090
25922 |  | A | Amputate hand at wrist | 7.42 | NA | 6.76 | 1.12 | NA | 15.31 | 090
25924 |  | A | Amputation follow-up surgery | 8.47 | NA | 7.77 | 1.32 | NA | 17.56 | 090
25927 |  | A | Amputation of hand | 8.81 | NA | 11.04 | 1.27 | NA | 21.11 | 090
25929 |  | A | Amputation follow-up surgery | 7.60 | NA | 5.70 | 1.14 | NA | 14.43 | 090
25931 |  | A | Amputation follow-up surgery | 7.82 | NA | 10.79 | 1.15 | NA | 19.75 | 090
25999 |  | C | Forearm or wrist surgery | 0.00 | 0.00 | 0.00 | 0.00 | 0.00 | 0.00 | YYY
26010 |  | A | Drainage of finger abscess | 1.54 | 5.21 | 1.56 | 0.18 | 6.93 | 3.29 | 010
26011 |  | A | Drainage of finger abscess | 2.19 | 8.22 | 2.23 | 0.33 | 10.74 | 4.75 | 010
26020 |  | A | Drain hand tendon sheath | 4.67 | NA | 5.17 | 0.73 | NA | 10.56 | 090
26025 |  | A | Drainage of palm bursa | 4.82 | NA | 4.94 | 0.76 | NA | 10.52 | 090
26030 |  | A | Drainage of palm bursa(s) | 5.93 | NA | 5.53 | 0.92 | NA | 12.38 | 090
26034 |  | A | Treat hand bone lesion | 6.23 | NA | 6.14 | 1.01 | NA | 13.38 | 090
26035 |  | A | Decompress fingers/hand | 9.52 | NA | 7.64 | 1.47 | NA | 18.62 | 090
26037 |  | A | Decompress fingers/hand | 7.25 | NA | 6.11 | 1.13 | NA | 14.50 | 090
26040 |  | A | Release palm contracture | 3.34 | NA | 3.91 | 0.53 | NA | 7.77 | 090
26045 |  | A | Release palm contracture | 5.56 | NA | 5.45 | 0.93 | NA | 11.94 | 090
26055 |  | A | Incise finger tendon sheath | 2.70 | 13.25 | 3.79 | 0.43 | 16.38 | 6.92 | 090
26060 |  | A | Incision of finger tendon | 2.82 | NA | 3.39 | 0.45 | NA | 6.65 | 090
26070 |  | A | Explore/treat hand joint | 3.69 | NA | 3.29 | 0.48 | NA | 7.45 | 090
26075 |  | A | Explore/treat finger joint | 3.79 | NA | 3.68 | 0.53 | NA | 7.99 | 090
26080 |  | A | Explore/treat finger joint | 4.24 | NA | 4.69 | 0.66 | NA | 9.59 | 090
26100 |  | A | Biopsy hand joint lining | 3.67 | NA | 3.99 | 0.54 | NA | 8.19 | 090
26105 |  | A | Biopsy finger joint lining | 3.71 | NA | 4.08 | 0.59 | NA | 8.38 | 090
26110 |  | A | Biopsy finger joint lining | 3.53 | NA | 3.91 | 0.53 | NA | 7.97 | 090
26115 |  | A | Removal hand lesion subcut | 3.86 | 12.36 | 4.61 | 0.59 | 16.81 | 9.06 | 090
26116 |  | A | Removal hand lesion, deep | 5.53 | NA | 5.81 | 0.84 | NA | 12.18 | 090
26117 |  | A | Remove tumor, hand/finger | 8.56 | NA | 6.86 | 1.26 | NA | 16.67 | 090
26121 |  | A | Release palm contracture | 7.55 | NA | 6.73 | 1.17 | NA | 15.44 | 090
26123 |  | A | Release palm contracture | 9.30 | NA | 8.57 | 1.43 | NA | 19.30 | 090
26125 |  | A | Release palm contracture | 4.61 | NA | 2.37 | 0.70 | NA | 7.68 | ZZZ
26130 |  | A | Remove wrist joint lining | 5.42 | NA | 5.17 | 0.94 | NA | 11.53 | 090
26135 |  | A | Revise finger joint, each | 6.96 | NA | 6.25 | 1.07 | NA | 14.28 | 090
26140 |  | A | Revise finger joint, each | 6.17 | NA | 5.85 | 0.92 | NA | 12.94 | 090
26145 |  | A | Tendon excision, palm/finger | 6.32 | NA | 5.85 | 0.97 | NA | 13.15 | 090
26160 |  | A | Remove tendon sheath lesion | 3.16 | 11.58 | 3.98 | 0.49 | 15.23 | 7.63 | 090
26170 |  | A | Removal of palm tendon, each | 4.77 | NA | 4.78 | 0.69 | NA | 10.24 | 090
26180 |  | A | Removal of finger tendon | 5.18 | NA | 5.23 | 0.78 | NA | 11.19 | 090
26185 |  | A | Remove finger bone | 5.25 | NA | 5.85 | 0.81 | NA | 11.91 | 090
26200 |  | A | Remove hand bone lesion | 5.51 | NA | 5.19 | 0.88 | NA | 11.58 | 090
26205 |  | A | Remove/graft bone lesion | 7.71 | NA | 6.67 | 1.20 | NA | 15.57 | 090
26210 |  | A | Removal of finger lesion | 5.15 | NA | 5.24 | 0.79 | NA | 11.18 | 090
26215 |  | A | Remove/graft finger lesion | 7.10 | NA | 6.17 | 0.98 | NA | 14.25 | 090
26230 |  | A | Partial removal of hand bone | 6.33 | NA | 5.71 | 1.01 | NA | 13.05 | 090
26235 |  | A | Partial removal, finger bone | 6.19 | NA | 5.62 | 0.95 | NA | 12.76 | 090
26236 |  | A | Partial removal, finger bone | 5.32 | NA | 5.14 | 0.81 | NA | 11.27 | 090
26250 |  | A | Extensive hand surgery | 7.56 | NA | 6.23 | 1.07 | NA | 14.85 | 090
26255 |  | A | Extensive hand surgery | 12.43 | NA | 9.06 | 1.68 | NA | 23.18 | 090
26260 |  | A | Extensive finger surgery | 7.03 | NA | 5.99 | 1.01 | NA | 14.03 | 090
26261 |  | A | Extensive finger surgery | 9.10 | NA | 5.99 | 1.14 | NA | 16.23 | 090
26262 |  | A | Partial removal of finger | 5.67 | NA | 5.16 | 0.88 | NA | 11.71 | 090
26320 |  | A | Removal of implant from hand | 3.98 | NA | 4.17 | 0.59 | NA | 8.74 | 090
26340 |  | A | Manipulate finger w/anesth | 2.51 | NA | 4.73 | 0.39 | NA | 7.62 | 090
26350 |  | A | Repair finger/hand tendon | 5.99 | NA | 13.59 | 0.93 | NA | 20.51 | 090
26352 |  | A | Repair/graft hand tendon | 7.69 | NA | 14.33 | 1.13 | NA | 23.15 | 090
26356 |  | A | Repair finger/hand tendon | 8.08 | NA | 17.23 | 1.21 | NA | 26.52 | 090
26357 |  | A | Repair finger/hand tendon | 8.59 | NA | 14.61 | 1.33 | NA | 24.52 | 090
26358 |  | A | Repair/graft hand tendon | 9.15 | NA | 15.56 | 1.38 | NA | 26.09 | 090
26370 |  | A | Repair finger/hand tendon | 7.11 | NA | 14.05 | 1.12 | NA | 22.28 | 090
26372 |  | A | Repair/graft hand tendon | 8.77 | NA | 15.41 | 1.40 | NA | 25.58 | 090
26373 |  | A | Repair finger/hand tendon | 8.17 | NA | 14.94 | 1.23 | NA | 24.33 | 090
26390 |  | A | Revise hand/finger tendon | 9.20 | NA | 12.48 | 1.40 | NA | 23.08 | 090
26392 |  | A | Repair/graft hand tendon | 10.26 | NA | 15.62 | 1.57 | NA | 27.45 | 090
26410 |  | A | Repair hand tendon | 4.63 | NA | 11.08 | 0.73 | NA | 16.44 | 090
26412 |  | A | Repair/graft hand tendon | 6.31 | NA | 12.37 | 0.97 | NA | 19.65 | 090
26415 |  | A | Excision, hand/finger tendon | 8.35 | NA | 11.10 | 0.98 | NA | 20.43 | 090
26416 |  | A | Graft hand or finger tendon | 9.38 | NA | 13.70 | 0.79 | NA | 23.87 | 090
26418 |  | A | Repair finger tendon | 4.25 | NA | 11.46 | 0.67 | NA | 16.37 | 090
26420 |  | A | Repair/graft finger tendon | 6.77 | NA | 12.71 | 1.07 | NA | 20.55 | 090
26426 |  | A | Repair finger/hand tendon | 6.15 | NA | 12.28 | 0.95 | NA | 19.38 | 090
26428 |  | A | Repair/graft finger tendon | 7.21 | NA | 12.96 | 1.09 | NA | 21.26 | 090
26432 |  | A | Repair finger tendon | 4.02 | NA | 9.55 | 0.64 | NA | 14.21 | 090
26433 |  | A | Repair finger tendon | 4.56 | NA | 10.05 | 0.72 | NA | 15.32 | 090
26434 |  | A | Repair/graft finger tendon | 6.09 | NA | 10.81 | 0.93 | NA | 17.84 | 090
26437 |  | A | Realignment of tendons | 5.82 | NA | 10.83 | 0.89 | NA | 17.54 | 090
26440 |  | A | Release palm/finger tendon | 5.02 | NA | 12.48 | 0.75 | NA | 18.25 | 090
26442 |  | A | Release palm & finger tendon | 8.17 | NA | 14.98 | 1.20 | NA | 24.35 | 090
26445 |  | A | Release hand/finger tendon | 4.31 | NA | 12.19 | 0.65 | NA | 17.15 | 090
26449 |  | A | Release forearm/hand tendon | 7.00 | NA | 14.77 | 1.06 | NA | 22.83 | 090
26450 |  | A | Incision of palm tendon | 3.67 | NA | 6.88 | 0.59 | NA | 11.14 | 090
26455 |  | A | Incision of finger tendon | 3.64 | NA | 6.84 | 0.58 | NA | 11.05 | 090
26460 |  | A | Incise hand/finger tendon | 3.46 | NA | 6.72 | 0.55 | NA | 10.72 | 090
26471 |  | A | Fusion of finger tendons | 5.73 | NA | 10.54 | 0.88 | NA | 17.15 | 090
26474 |  | A | Fusion of finger tendons | 5.32 | NA | 10.64 | 0.76 | NA | 16.72 | 090
26476 |  | A | Tendon lengthening | 5.18 | NA | 10.25 | 0.79 | NA | 16.22 | 090
26477 |  | A | Tendon shortening | 5.15 | NA | 10.36 | 0.81 | NA | 16.32 | 090
26478 |  | A | Lengthening of hand tendon | 5.80 | NA | 11.05 | 0.90 | NA | 17.75 | 090
26479 |  | A | Shortening of hand tendon | 5.74 | NA | 10.82 | 0.92 | NA | 17.48 | 090
26480 |  | A | Transplant hand tendon | 6.69 | NA | 14.01 | 1.02 | NA | 21.73 | 090
26483 |  | A | Transplant/graft hand tendon | 8.30 | NA | 14.50 | 1.26 | NA | 24.06 | 090
26485 |  | A | Transplant palm tendon | 7.71 | NA | 14.35 | 1.15 | NA | 23.20 | 090
26489 |  | A | Transplant/graft palm tendon | 9.56 | NA | 11.43 | 1.26 | NA | 22.25 | 090
26490 |  | A | Revise thumb tendon | 8.42 | NA | 12.07 | 1.21 | NA | 21.70 | 090
26492 |  | A | Tendon transfer with graft | 9.63 | NA | 12.83 | 1.40 | NA | 23.86 | 090
26494 |  | A | Hand tendon/muscle transfer | 8.48 | NA | 12.21 | 1.28 | NA | 21.97 | 090
26496 |  | A | Revise thumb tendon | 9.60 | NA | 12.51 | 1.45 | NA | 23.56 | 090
26497 |  | A | Finger tendon transfer | 9.58 | NA | 12.79 | 1.41 | NA | 23.78 | 090
26498 |  | A | Finger tendon transfer | 14.01 | NA | 15.30 | 2.10 | NA | 31.41 | 090
26499 |  | A | Revision of finger | 8.99 | NA | 12.25 | 1.35 | NA | 22.59 | 090
26500 |  | A | Hand tendon reconstruction | 5.96 | NA | 10.72 | 0.90 | NA | 17.58 | 090
26502 |  | A | Hand tendon reconstruction | 7.14 | NA | 11.30 | 1.13 | NA | 19.57 | 090
26504 |  | A | Hand tendon reconstruction | 7.47 | NA | 11.78 | 1.24 | NA | 20.50 | 090
26508 |  | A | Release thumb contracture | 6.01 | NA | 10.92 | 0.98 | NA | 17.92 | 090
26510 |  | A | Thumb tendon transfer | 5.43 | NA | 10.60 | 0.79 | NA | 16.82 | 090
26516 |  | A | Fusion of knuckle joint | 7.15 | NA | 11.48 | 1.10 | NA | 19.73 | 090
26517 |  | A | Fusion of knuckle joints | 8.84 | NA | 12.69 | 1.41 | NA | 22.94 | 090
26518 |  | A | Fusion of knuckle joints | 9.03 | NA | 12.59 | 1.35 | NA | 22.97 | 090
26520 |  | A | Release knuckle contracture | 5.30 | NA | 12.91 | 0.80 | NA | 19.01 | 090
26525 |  | A | Release finger contracture | 5.33 | NA | 12.98 | 0.81 | NA | 19.12 | 090
26530 |  | A | Revise knuckle joint | 6.69 | NA | 5.96 | 1.04 | NA | 13.70 | 090
26531 |  | A | Revise knuckle with implant | 7.92 | NA | 6.91 | 1.17 | NA | 16.00 | 090
26535 |  | A | Revise finger joint | 5.24 | NA | 3.74 | 0.71 | NA | 9.69 | 090
26536 |  | A | Revise/implant finger joint | 6.37 | NA | 9.37 | 0.96 | NA | 16.70 | 090
26540 |  | A | Repair hand joint | 6.43 | NA | 11.12 | 0.99 | NA | 18.55 | 090
26541 |  | A | Repair hand joint with graft | 8.63 | NA | 12.57 | 1.28 | NA | 22.48 | 090
26542 |  | A | Repair hand joint with graft | 6.78 | NA | 11.28 | 1.02 | NA | 19.08 | 090
26545 |  | A | Reconstruct finger joint | 6.92 | NA | 11.40 | 1.05 | NA | 19.37 | 090
26546 |  | A | Repair nonunion hand | 8.93 | NA | 14.18 | 1.44 | NA | 24.54 | 090
26548 |  | A | Reconstruct finger joint | 8.04 | NA | 12.05 | 1.20 | NA | 21.29 | 090
26550 |  | A | Construct thumb replacement | 21.25 | NA | 16.68 | 2.45 | NA | 40.38 | 090
26551 |  | A | Great toe-hand transfer | 46.60 | NA | 30.93 | 7.96 | NA | 85.49 | 090
26553 |  | A | Single transfer, toe-hand | 46.29 | NA | 24.09 | 2.41 | NA | 72.79 | 090
26554 |  | A | Double transfer, toe-hand | 54.98 | NA | 35.75 | 9.41 | NA | 100.14 | 090
26555 |  | A | Positional change of finger | 16.64 | NA | 17.43 | 2.48 | NA | 36.56 | 090
26556 |  | A | Toe joint transfer | 47.28 | NA | 33.97 | 2.57 | NA | 83.82 | 090
26560 |  | A | Repair of web finger | 5.38 | NA | 9.22 | 0.85 | NA | 15.45 | 090
26561 |  | A | Repair of web finger | 10.92 | NA | 11.75 | 1.45 | NA | 24.12 | 090
26562 |  | A | Repair of web finger | 15.01 | NA | 16.25 | 2.23 | NA | 33.49 | 090
26565 |  | A | Correct metacarpal flaw | 6.74 | NA | 11.26 | 1.00 | NA | 19.01 | 090
26567 |  | A | Correct finger deformity | 6.82 | NA | 11.21 | 1.04 | NA | 19.08 | 090
26568 |  | A | Lengthen metacarpal/finger | 9.09 | NA | 14.50 | 1.49 | NA | 25.08 | 090
26580 |  | A | Repair hand deformity | 18.19 | NA | 13.16 | 2.28 | NA | 33.63 | 090
26587 |  | A | Reconstruct extra finger | 14.06 | NA | 8.99 | 1.53 | NA | 24.58 | 090
26590 |  | A | Repair finger deformity | 17.97 | NA | 13.46 | 2.77 | NA | 34.20 | 090
26591 |  | A | Repair muscles of hand | 3.26 | NA | 8.94 | 0.48 | NA | 12.68 | 090
26593 |  | A | Release muscles of hand | 5.31 | NA | 10.45 | 0.78 | NA | 16.54 | 090
26596 |  | A | Excision constricting tissue | 8.96 | NA | 8.42 | 1.43 | NA | 18.81 | 090
26600 |  | A | Treat metacarpal fracture | 1.96 | 3.79 | 2.57 | 0.30 | 6.05 | 4.83 | 090
26605 |  | A | Treat metacarpal fracture | 2.86 | 4.70 | 3.55 | 0.49 | 8.05 | 6.90 | 090
26607 |  | A | Treat metacarpal fracture | 5.36 | NA | 5.98 | 0.87 | NA | 12.21 | 090
26608 |  | A | Treat metacarpal fracture | 5.36 | NA | 6.00 | 0.88 | NA | 12.25 | 090
26615 |  | A | Treat metacarpal fracture | 5.33 | NA | 5.12 | 0.86 | NA | 11.31 | 090
26641 |  | A | Treat thumb dislocation | 3.94 | 4.72 | 3.42 | 0.39 | 9.05 | 7.75 | 090
26645 |  | A | Treat thumb fracture | 4.41 | 5.31 | 4.08 | 0.67 | 10.39 | 9.16 | 090
26650 |  | A | Treat thumb fracture | 5.72 | NA | 6.43 | 0.94 | NA | 13.09 | 090
26665 |  | A | Treat thumb fracture | 7.61 | NA | 6.39 | 0.90 | NA | 14.90 | 090
26670 |  | A | Treat hand dislocation | 3.69 | 4.41 | 2.85 | 0.39 | 8.49 | 6.92 | 090
26675 |  | A | Treat hand dislocation | 4.64 | 5.57 | 4.34 | 0.77 | 10.98 | 9.75 | 090
26676 |  | A | Pin hand dislocation | 5.52 | NA | 6.43 | 0.91 | NA | 12.86 | 090
26685 |  | A | Treat hand dislocation | 6.98 | NA | 5.94 | 1.09 | NA | 14.02 | 090
26686 |  | A | Treat hand dislocation | 7.95 | NA | 6.67 | 1.24 | NA | 15.86 | 090
26700 |  | A | Treat knuckle dislocation | 3.69 | 3.68 | 2.76 | 0.35 | 7.71 | 6.80 | 090
26705 |  | A | Treat knuckle dislocation | 4.19 | 5.43 | 4.18 | 0.66 | 10.28 | 9.03 | 090
26706 |  | A | Pin knuckle dislocation | 5.12 | NA | 4.95 | 0.81 | NA | 10.88 | 090
26715 |  | A | Treat knuckle dislocation | 5.74 | NA | 5.33 | 0.91 | NA | 11.98 | 090
26720 |  | A | Treat finger fracture, each | 1.66 | 2.70 | 1.98 | 0.24 | 4.60 | 3.89 | 090
26725 |  | A | Treat finger fracture, each | 3.34 | 4.60 | 3.40 | 0.53 | 8.47 | 7.26 | 090
26727 |  | A | Treat finger fracture, each | 5.23 | NA | 5.98 | 0.84 | NA | 12.05 | 090
26735 |  | A | Treat finger fracture, each | 5.98 | NA | 5.37 | 0.95 | NA | 12.30 | 090
26740 |  | A | Treat finger fracture, each | 1.94 | 3.04 | 2.63 | 0.31 | 5.30 | 4.88 | 090
26742 |  | A | Treat finger fracture, each | 3.85 | 5.11 | 3.78 | 0.58 | 9.54 | 8.21 | 090
26746 |  | A | Treat finger fracture, each | 5.81 | NA | 5.37 | 0.91 | NA | 12.09 | 090
26750 |  | A | Treat finger fracture, each | 1.70 | 2.41 | 1.94 | 0.22 | 4.33 | 3.86 | 090
26755 |  | A | Treat finger fracture, each | 3.11 | 4.27 | 2.91 | 0.42 | 7.80 | 6.44 | 090
26756 |  | A | Pin finger fracture, each | 4.39 | NA | 5.49 | 0.71 | NA | 10.59 | 090
26765 |  | A | Treat finger fracture, each | 4.17 | NA | 4.24 | 0.66 | NA | 9.07 | 090
26770 |  | A | Treat finger dislocation | 3.03 | 3.34 | 2.32 | 0.27 | 6.64 | 5.62 | 090
26775 |  | A | Treat finger dislocation | 3.71 | 5.29 | 3.69 | 0.54 | 9.54 | 7.94 | 090
26776 |  | A | Pin finger dislocation | 4.80 | NA | 5.76 | 0.77 | NA | 11.33 | 090
26785 |  | A | Treat finger dislocation | 4.21 | NA | 4.37 | 0.68 | NA | 9.26 | 090
26820 |  | A | Thumb fusion with graft | 8.27 | NA | 12.42 | 1.30 | NA | 21.99 | 090
26841 |  | A | Fusion of thumb | 7.13 | NA | 12.37 | 1.18 | NA | 20.69 | 090
26842 |  | A | Thumb fusion with graft | 8.25 | NA | 12.54 | 1.32 | NA | 22.11 | 090
26843 |  | A | Fusion of hand joint | 7.62 | NA | 11.60 | 1.15 | NA | 20.37 | 090
26844 |  | A | Fusion/graft of hand joint | 8.74 | NA | 12.56 | 1.33 | NA | 22.63 | 090
26850 |  | A | Fusion of knuckle | 6.97 | NA | 11.44 | 1.06 | NA | 19.48 | 090
26852 |  | A | Fusion of knuckle with graft | 8.47 | NA | 12.16 | 1.22 | NA | 21.85 | 090
26860 |  | A | Fusion of finger joint | 4.69 | NA | 10.46 | 0.73 | NA | 15.88 | 090
26861 |  | A | Fusion of finger jnt, add-on | 1.74 | NA | 0.90 | 0.27 | NA | 2.92 | ZZZ
26862 |  | A | Fusion/graft of finger joint | 7.37 | NA | 11.62 | 1.10 | NA | 20.09 | 090
26863 |  | A | Fuse/graft added joint | 3.90 | NA | 2.05 | 0.56 | NA | 6.50 | ZZZ
26910 |  | A | Amputate metacarpal bone | 7.61 | NA | 10.59 | 1.16 | NA | 19.36 | 090
26951 |  | A | Amputation of finger/thumb | 4.59 | NA | 9.50 | 0.71 | NA | 14.80 | 090
26952 |  | A | Amputation of finger/thumb | 6.31 | NA | 10.91 | 0.95 | NA | 18.17 | 090
26989 |  | C | Hand/finger surgery | 0.00 | 0.00 | 0.00 | 0.00 | 0.00 | 0.00 | YYY
26990 |  | A | Drainage of pelvis lesion | 7.48 | NA | 6.97 | 1.22 | NA | 15.67 | 090
26991 |  | A | Drainage of pelvis bursa | 6.68 | 10.53 | 5.30 | 1.11 | 18.32 | 13.09 | 090
26992 |  | A | Drainage of bone lesion | 13.03 | NA | 9.96 | 2.16 | NA | 25.15 | 090
27000 |  | A | Incision of hip tendon | 5.62 | NA | 5.11 | 0.98 | NA | 11.71 | 090
27001 |  | A | Incision of hip tendon | 6.94 | NA | 5.89 | 1.24 | NA | 14.08 | 090
27003 |  | A | Incision of hip tendon | 7.34 | NA | 6.33 | 1.12 | NA | 14.79 | 090
27005 |  | A | Incision of hip tendon | 9.67 | NA | 7.57 | 1.72 | NA | 18.95 | 090
27006 |  | A | Incision of hip tendons | 9.69 | NA | 7.73 | 1.69 | NA | 19.11 | 090
27025 |  | A | Incision of hip/thigh fascia | 11.16 | NA | 8.32 | 1.84 | NA | 21.33 | 090
27030 |  | A | Drainage of hip joint | 13.02 | NA | 9.33 | 2.26 | NA | 24.61 | 090
27033 |  | A | Exploration of hip joint | 13.40 | NA | 9.61 | 2.32 | NA | 25.33 | 090
27035 |  | A | Denervation of hip joint | 16.69 | NA | 10.89 | 2.15 | NA | 29.73 | 090
27036 |  | A | Excision of hip joint/muscle | 12.89 | NA | 9.70 | 2.26 | NA | 24.85 | 090
27040 |  | A | Biopsy of soft tissues | 2.88 | 5.38 | 2.05 | 0.27 | 8.53 | 5.20 | 010
27041 |  | A | Biopsy of soft tissues | 9.90 | NA | 6.60 | 1.35 | NA | 17.85 | 090
27047 |  | A | Remove hip/pelvis lesion | 7.45 | 7.18 | 4.71 | 1.03 | 15.67 | 13.19 | 090
27048 |  | A | Remove hip/pelvis lesion | 6.25 | NA | 4.72 | 0.92 | NA | 11.89 | 090
27049 |  | A | Remove tumor, hip/pelvis | 13.67 | NA | 8.24 | 2.06 | NA | 23.97 | 090
27050 |  | A | Biopsy of sacroiliac joint | 4.36 | NA | 4.30 | 0.60 | NA | 9.26 | 090
27052 |  | A | Biopsy of hip joint | 6.23 | NA | 5.71 | 1.08 | NA | 13.02 | 090
27054 |  | A | Removal of hip joint lining | 8.55 | NA | 7.11 | 1.47 | NA | 17.13 | 090
27060 |  | A | Removal of ischial bursa | 5.43 | NA | 4.27 | 0.80 | NA | 10.50 | 090
27062 |  | A | Remove femur lesion/bursa | 5.37 | NA | 5.02 | 0.93 | NA | 11.32 | 090
27065 |  | A | Removal of hip bone lesion | 5.90 | NA | 5.29 | 1.01 | NA | 12.20 | 090
27066 |  | A | Removal of hip bone lesion | 10.33 | NA | 8.19 | 1.79 | NA | 20.31 | 090
27067 |  | A | Remove/graft hip bone lesion | 13.84 | NA | 10.34 | 1.84 | NA | 26.02 | 090
27070 |  | A | Partial removal of hip bone | 10.72 | NA | 8.80 | 1.74 | NA | 21.26 | 090
27071 |  | A | Partial removal of hip bone | 11.46 | NA | 9.74 | 1.92 | NA | 23.12 | 090
27075 |  | A | Extensive hip surgery | 35.02 | NA | 18.71 | 5.64 | NA | 59.37 | 090
27076 |  | A | Extensive hip surgery | 22.13 | NA | 14.10 | 3.70 | NA | 39.94 | 090
27077 |  | A | Extensive hip surgery | 40.02 | NA | 22.00 | 6.12 | NA | 68.14 | 090
27078 |  | A | Extensive hip surgery | 13.45 | NA | 9.64 | 2.22 | NA | 25.31 | 090
27079 |  | A | Extensive hip surgery | 13.76 | NA | 9.29 | 1.94 | NA | 24.99 | 090
27080 |  | A | Removal of tail bone | 6.39 | NA | 4.72 | 0.93 | NA | 12.05 | 090
27086 |  | A | Remove hip foreign body | 1.87 | 4.44 | 1.80 | 0.25 | 6.56 | 3.92 | 010
27087 |  | A | Remove hip foreign body | 8.55 | NA | 6.51 | 1.35 | NA | 16.41 | 090
27090 |  | A | Removal of hip prosthesis | 11.15 | NA | 8.50 | 1.94 | NA | 21.59 | 090
27091 |  | A | Removal of hip prosthesis | 22.15 | NA | 13.56 | 3.84 | NA | 39.56 | 090
27093 |  | A | Injection for hip x-ray | 1.30 | 4.24 | 0.49 | 0.13 | 5.67 | 1.92 | 000
27095 |  | A | Injection for hip x-ray | 1.50 | 5.37 | 0.52 | 0.14 | 7.01 | 2.17 | 000
27096 |  | A | Inject sacroiliac joint | 1.40 | 4.02 | 0.32 | 0.08 | 5.50 | 1.81 | 000
27097 |  | A | Revision of hip tendon | 8.81 | NA | 6.21 | 1.57 | NA | 16.58 | 090
27098 |  | A | Transfer tendon to pelvis | 8.84 | NA | 6.82 | 0.95 | NA | 16.61 | 090
27100 |  | A | Transfer of abdominal muscle | 11.08 | NA | 8.39 | 1.85 | NA | 21.33 | 090
27105 |  | A | Transfer of spinal muscle | 11.77 | NA | 8.87 | 1.72 | NA | 22.37 | 090
27110 |  | A | Transfer of iliopsoas muscle | 13.27 | NA | 8.88 | 2.18 | NA | 24.32 | 090
27111 |  | A | Transfer of iliopsoas muscle | 12.15 | NA | 8.85 | 1.94 | NA | 22.95 | 090
27120 |  | A | Reconstruction of hip socket | 18.02 | NA | 11.51 | 3.08 | NA | 32.60 | 090
27122 |  | A | Reconstruction of hip socket | 14.99 | NA | 10.69 | 2.61 | NA | 28.29 | 090
27125 |  | A | Partial hip replacement | 14.70 | NA | 10.30 | 2.54 | NA | 27.54 | 090
27130 |  | A | Total hip arthroplasty | 20.13 | NA | 12.88 | 3.50 | NA | 36.51 | 090
27132 |  | A | Total hip arthroplasty | 23.32 | NA | 15.15 | 4.04 | NA | 42.51 | 090
27134 |  | A | Revise hip joint replacement | 28.54 | NA | 17.24 | 4.94 | NA | 50.72 | 090
27137 |  | A | Revise hip joint replacement | 21.18 | NA | 13.50 | 3.67 | NA | 38.35 | 090
27138 |  | A | Revise hip joint replacement | 22.18 | NA | 13.95 | 3.84 | NA | 39.97 | 090
27140 |  | A | Transplant femur ridge | 12.24 | NA | 9.11 | 2.11 | NA | 23.47 | 090
27146 |  | A | Incision of hip bone | 17.43 | NA | 11.77 | 2.96 | NA | 32.17 | 090
27147 |  | A | Revision of hip bone | 20.59 | NA | 12.90 | 3.57 | NA | 37.06 | 090
27151 |  | A | Incision of hip bones | 22.52 | NA | 7.72 | 3.91 | NA | 34.16 | 090
27156 |  | A | Revision of hip bones | 24.64 | NA | 15.58 | 4.21 | NA | 44.43 | 090
27158 |  | A | Revision of pelvis | 19.75 | NA | 10.86 | 3.16 | NA | 33.77 | 090
27161 |  | A | Incision of neck of femur | 16.71 | NA | 11.73 | 2.94 | NA | 31.38 | 090
27165 |  | A | Incision/fixation of femur | 17.92 | NA | 12.51 | 3.10 | NA | 33.53 | 090
27170 |  | A | Repair/graft femur head/neck | 16.08 | NA | 10.95 | 2.81 | NA | 29.85 | 090
27175 |  | A | Treat slipped epiphysis | 8.47 | NA | 6.48 | 1.46 | NA | 16.41 | 090
27176 |  | A | Treat slipped epiphysis | 12.05 | NA | 8.73 | 2.22 | NA | 23.01 | 090
27177 |  | A | Treat slipped epiphysis | 15.09 | NA | 10.56 | 2.61 | NA | 28.26 | 090
27178 |  | A | Treat slipped epiphysis | 11.99 | NA | 8.16 | 2.08 | NA | 22.24 | 090
27179 |  | A | Revise head/neck of femur | 12.99 | NA | 9.67 | 2.25 | NA | 24.91 | 090
27181 |  | A | Treat slipped epiphysis | 14.69 | NA | 9.92 | 1.57 | NA | 26.18 | 090
27185 |  | A | Revision of femur epiphysis | 9.19 | NA | 7.28 | 2.39 | NA | 18.86 | 090
27187 |  | A | Reinforce hip bones | 13.55 | NA | 9.99 | 2.37 | NA | 25.90 | 090
27193 |  | A | Treat pelvic ring fracture | 5.56 | 4.94 | 4.94 | 0.96 | 11.47 | 11.47 | 090
27194 |  | A | Treat pelvic ring fracture | 9.66 | NA | 7.43 | 1.65 | NA | 18.74 | 090
27200 |  | A | Treat tail bone fracture | 1.84 | 2.16 | 2.09 | 0.28 | 4.29 | 4.21 | 090
27202 |  | A | Treat tail bone fracture | 7.04 | NA | 15.72 | 1.06 | NA | 23.83 | 090
27215 |  | A | Treat pelvic fracture(s) | 10.05 | NA | 6.86 | 1.97 | NA | 18.88 | 090
27216 |  | A | Treat pelvic ring fracture | 15.20 | NA | 9.29 | 2.63 | NA | 27.12 | 090
27217 |  | A | Treat pelvic ring fracture | 14.12 | NA | 9.83 | 2.41 | NA | 26.36 | 090
27218 |  | A | Treat pelvic ring fracture | 20.16 | NA | 11.08 | 3.48 | NA | 34.72 | 090
27220 |  | A | Treat hip socket fracture | 6.18 | 5.56 | 5.47 | 1.07 | 12.81 | 12.72 | 090
27222 |  | A | Treat hip socket fracture | 12.71 | NA | 9.65 | 2.19 | NA | 24.54 | 090
27226 |  | A | Treat hip wall fracture | 14.92 | NA | 7.58 | 2.48 | NA | 24.97 | 090
27227 |  | A | Treat hip fracture(s) | 23.46 | NA | 14.93 | 4.05 | NA | 42.44 | 090
27228 |  | A | Treat hip fracture(s) | 27.17 | NA | 17.08 | 4.66 | NA | 48.92 | 090
27230 |  | A | Treat thigh fracture | 5.50 | 5.35 | 4.95 | 0.95 | 11.80 | 11.41 | 090
27232 |  | A | Treat thigh fracture | 10.68 | NA | 6.97 | 1.85 | NA | 19.50 | 090
27235 |  | A | Treat thigh fracture | 12.16 | NA | 9.14 | 2.11 | NA | 23.42 | 090
27236 |  | A | Treat thigh fracture | 15.61 | NA | 10.71 | 2.71 | NA | 29.03 | 090
27238 |  | A | Treat thigh fracture | 5.52 | NA | 4.99 | 0.89 | NA | 11.40 | 090
27240 |  | A | Treat thigh fracture | 12.50 | NA | 9.20 | 2.16 | NA | 23.87 | 090
27244 |  | A | Treat thigh fracture | 15.95 | NA | 10.94 | 2.77 | NA | 29.67 | 090
27245 |  | A | Treat thigh fracture | 20.32 | NA | 13.31 | 3.52 | NA | 37.15 | 090
27246 |  | A | Treat thigh fracture | 4.71 | 4.33 | 4.30 | 0.81 | 9.85 | 9.82 | 090
27248 |  | A | Treat thigh fracture | 10.45 | NA | 7.95 | 1.81 | NA | 20.21 | 090
27250 |  | A | Treat hip dislocation | 6.95 | NA | 4.46 | 0.62 | NA | 12.03 | 090
27252 |  | A | Treat hip dislocation | 10.39 | NA | 7.21 | 1.66 | NA | 19.26 | 090
27253 |  | A | Treat hip dislocation | 12.93 | NA | 9.47 | 2.24 | NA | 24.63 | 090
27254 |  | A | Treat hip dislocation | 18.27 | NA | 11.66 | 3.17 | NA | 33.10 | 090
27256 |  | A | Treat hip dislocation | 4.12 | 3.43 | 2.02 | 0.46 | 8.01 | 6.60 | 010
27257 |  | A | Treat hip dislocation | 5.22 | NA | 2.73 | 0.69 | NA | 8.64 | 010
27258 |  | A | Treat hip dislocation | 15.44 | NA | 10.55 | 2.64 | NA | 28.63 | 090
27259 |  | A | Treat hip dislocation | 21.56 | NA | 13.80 | 3.74 | NA | 39.11 | 090
27265 |  | A | Treat hip dislocation | 5.05 | NA | 4.64 | 0.63 | NA | 10.32 | 090
27266 |  | A | Treat hip dislocation | 7.49 | NA | 6.15 | 1.29 | NA | 14.94 | 090
27275 |  | A | Manipulation of hip joint | 2.27 | NA | 2.04 | 0.39 | NA | 4.71 | 010
27280 |  | A | Fusion of sacroiliac joint | 13.40 | NA | 9.96 | 2.53 | NA | 25.89 | 090
27282 |  | A | Fusion of pubic bones | 11.34 | NA | 8.03 | 1.86 | NA | 21.24 | 090
27284 |  | A | Fusion of hip joint | 23.46 | NA | 14.32 | 3.92 | NA | 41.69 | 090
27286 |  | A | Fusion of hip joint | 23.46 | NA | 15.30 | 3.12 | NA | 41.88 | 090
27290 |  | A | Amputation of leg at hip | 23.30 | NA | 13.67 | 3.43 | NA | 40.40 | 090
27295 |  | A | Amputation of leg at hip | 18.66 | NA | 10.98 | 2.95 | NA | 32.59 | 090
27299 |  | C | Pelvis/hip joint surgery | 0.00 | 0.00 | 0.00 | 0.00 | 0.00 | 0.00 | YYY
27301 |  | A | Drain thigh/knee lesion | 6.49 | 9.54 | 5.00 | 1.04 | 17.08 | 12.54 | 090
27303 |  | A | Drainage of bone lesion | 8.29 | NA | 6.75 | 1.43 | NA | 16.47 | 090
27305 |  | A | Incise thigh tendon & fascia | 5.92 | NA | 5.02 | 1.01 | NA | 11.95 | 090
27306 |  | A | Incision of thigh tendon | 4.62 | NA | 4.56 | 0.85 | NA | 10.03 | 090
27307 |  | A | Incision of thigh tendons | 5.80 | NA | 5.21 | 1.04 | NA | 12.05 | 090
27310 |  | A | Exploration of knee joint | 9.28 | NA | 7.35 | 1.61 | NA | 18.24 | 090
27315 |  | A | Partial removal, thigh nerve | 6.97 | NA | 4.85 | 1.09 | NA | 12.91 | 090
27320 |  | A | Partial removal, thigh nerve | 6.30 | NA | 5.10 | 1.06 | NA | 12.46 | 090
27323 |  | A | Biopsy, thigh soft tissues | 2.28 | 3.74 | 1.85 | 0.24 | 6.26 | 4.37 | 010
27324 |  | A | Biopsy, thigh soft tissues | 4.90 | NA | 4.09 | 0.75 | NA | 9.74 | 090
27327 |  | A | Removal of thigh lesion | 4.47 | 5.95 | 3.65 | 0.64 | 11.06 | 8.76 | 090
27328 |  | A | Removal of thigh lesion | 5.57 | NA | 4.27 | 0.84 | NA | 10.68 | 090
27329 |  | A | Remove tumor, thigh/knee | 14.15 | NA | 8.81 | 2.14 | NA | 25.09 | 090
27330 |  | A | Biopsy, knee joint lining | 4.97 | NA | 4.42 | 0.86 | NA | 10.25 | 090
27331 |  | A | Explore/treat knee joint | 5.88 | NA | 5.34 | 1.02 | NA | 12.24 | 090
27332 |  | A | Removal of knee cartilage | 8.28 | NA | 6.89 | 1.43 | NA | 16.60 | 090
27333 |  | A | Removal of knee cartilage | 7.30 | NA | 6.46 | 1.26 | NA | 15.02 | 090
27334 |  | A | Remove knee joint lining | 8.71 | NA | 7.18 | 1.51 | NA | 17.39 | 090
27335 |  | A | Remove knee joint lining | 10.01 | NA | 7.96 | 1.74 | NA | 19.71 | 090
27340 |  | A | Removal of kneecap bursa | 4.18 | NA | 4.41 | 0.72 | NA | 9.31 | 090
27345 |  | A | Removal of knee cyst | 5.92 | NA | 5.44 | 1.00 | NA | 12.37 | 090
27347 |  | A | Remove knee cyst | 5.78 | NA | 5.27 | 0.98 | NA | 12.03 | 090
27350 |  | A | Removal of kneecap | 8.18 | NA | 7.01 | 1.41 | NA | 16.60 | 090
27355 |  | A | Remove femur lesion | 7.66 | NA | 6.55 | 1.32 | NA | 15.53 | 090
27356 |  | A | Remove femur lesion/graft | 9.49 | NA | 7.61 | 1.65 | NA | 18.75 | 090
27357 |  | A | Remove femur lesion/graft | 10.53 | NA | 8.42 | 1.95 | NA | 20.90 | 090
27358 |  | A | Remove femur lesion/fixation | 4.74 | NA | 2.44 | 0.82 | NA | 8.00 | ZZZ
27360 |  | A | Partial removal, leg bone(s) | 10.50 | NA | 9.16 | 1.83 | NA | 21.49 | 090
27365 |  | A | Extensive leg surgery | 16.28 | NA | 11.33 | 2.79 | NA | 30.40 | 090
27370 |  | A | Injection for knee x-ray | 0.96 | 3.56 | 0.33 | 0.08 | 4.60 | 1.38 | 000
27372 |  | A | Removal of foreign body | 5.07 | 9.52 | 4.54 | 0.84 | 15.43 | 10.45 | 090
27380 |  | A | Repair of kneecap tendon | 7.16 | NA | 6.99 | 1.24 | NA | 15.40 | 090
27381 |  | A | Repair/graft kneecap tendon | 10.34 | NA | 8.75 | 1.79 | NA | 20.88 | 090
27385 |  | A | Repair of thigh muscle | 7.77 | NA | 7.33 | 1.36 | NA | 16.45 | 090
27386 |  | A | Repair/graft of thigh muscle | 10.56 | NA | 9.15 | 1.85 | NA | 21.56 | 090
27390 |  | A | Incision of thigh tendon | 5.33 | NA | 4.95 | 0.92 | NA | 11.20 | 090
27391 |  | A | Incision of thigh tendons | 7.20 | NA | 6.35 | 1.23 | NA | 14.78 | 090
27392 |  | A | Incision of thigh tendons | 9.21 | NA | 7.35 | 1.57 | NA | 18.13 | 090
27393 |  | A | Lengthening of thigh tendon | 6.39 | NA | 5.64 | 1.10 | NA | 13.13 | 090
27394 |  | A | Lengthening of thigh tendons | 8.51 | NA | 6.98 | 1.47 | NA | 16.96 | 090
27395 |  | A | Lengthening of thigh tendons | 11.73 | NA | 9.02 | 2.04 | NA | 22.79 | 090
27396 |  | A | Transplant of thigh tendon | 7.87 | NA | 6.77 | 1.34 | NA | 15.97 | 090
27397 |  | A | Transplants of thigh tendons | 11.28 | NA | 8.76 | 1.82 | NA | 21.87 | 090
27400 |  | A | Revise thigh muscles/tendons | 9.03 | NA | 7.04 | 1.31 | NA | 17.37 | 090
27403 |  | A | Repair of knee cartilage | 8.34 | NA | 6.95 | 1.44 | NA | 16.72 | 090
27405 |  | A | Repair of knee ligament | 8.66 | NA | 7.25 | 1.51 | NA | 17.42 | 090
27407 |  | A | Repair of knee ligament | 10.28 | NA | 8.05 | 1.78 | NA | 20.11 | 090
27409 |  | A | Repair of knee ligaments | 12.91 | NA | 9.63 | 2.24 | NA | 24.78 | 090
27412 |  | A | Autochondrocyte implant knee | 23.28 | NA | 14.69 | 4.35 | NA | 42.32 | 090
27415 |  | A | Osteochondral knee allograft | 18.53 | NA | 12.45 | 4.35 | NA | 35.33 | 090
27418 |  | A | Repair degenerated kneecap | 10.85 | NA | 8.61 | 1.88 | NA | 21.34 | 090
27420 |  | A | Revision of unstable kneecap | 9.84 | NA | 7.85 | 1.71 | NA | 19.40 | 090
27422 |  | A | Revision of unstable kneecap | 9.79 | NA | 7.86 | 1.70 | NA | 19.35 | 090
27424 |  | A | Revision/removal of kneecap | 9.82 | NA | 7.83 | 1.70 | NA | 19.35 | 090
27425 |  | A | Lat retinacular release open | 5.22 | NA | 5.33 | 0.90 | NA | 11.45 | 090
27427 |  | A | Reconstruction, knee | 9.37 | NA | 7.56 | 1.63 | NA | 18.55 | 090
27428 |  | A | Reconstruction, knee | 14.01 | NA | 10.90 | 2.42 | NA | 27.33 | 090
27429 |  | A | Reconstruction, knee | 15.53 | NA | 12.03 | 2.70 | NA | 30.27 | 090
27430 |  | A | Revision of thigh muscles | 9.68 | NA | 7.75 | 1.69 | NA | 19.12 | 090
27435 |  | A | Incision of knee joint | 9.50 | NA | 8.21 | 1.69 | NA | 19.40 | 090
27437 |  | A | Revise kneecap | 8.47 | NA | 7.01 | 1.49 | NA | 16.96 | 090
27438 |  | A | Revise kneecap with implant | 11.23 | NA | 8.28 | 1.95 | NA | 21.46 | 090
27440 |  | A | Revision of knee joint | 10.43 | NA | 5.82 | 1.81 | NA | 18.06 | 090
27441 |  | A | Revision of knee joint | 10.82 | NA | 6.50 | 1.88 | NA | 19.20 | 090
27442 |  | A | Revision of knee joint | 11.89 | NA | 8.64 | 2.09 | NA | 22.62 | 090
27443 |  | A | Revision of knee joint | 10.93 | NA | 8.44 | 1.90 | NA | 21.27 | 090
27445 |  | A | Revision of knee joint | 17.69 | NA | 11.96 | 3.08 | NA | 32.73 | 090
27446 |  | A | Revision of knee joint | 15.85 | NA | 10.91 | 2.80 | NA | 29.57 | 090
27447 |  | A | Total knee arthroplasty | 21.49 | NA | 14.16 | 3.79 | NA | 39.44 | 090
27448 |  | A | Incision of thigh | 11.06 | NA | 8.33 | 1.94 | NA | 21.33 | 090
27450 |  | A | Incision of thigh | 13.99 | NA | 10.24 | 2.42 | NA | 26.65 | 090
27454 |  | A | Realignment of thigh bone | 17.57 | NA | 12.12 | 3.12 | NA | 32.81 | 090
27455 |  | A | Realignment of knee | 12.83 | NA | 9.54 | 2.24 | NA | 24.61 | 090
27457 |  | A | Realignment of knee | 13.46 | NA | 9.60 | 2.34 | NA | 25.40 | 090
27465 |  | A | Shortening of thigh bone | 13.88 | NA | 9.89 | 2.47 | NA | 26.24 | 090
27466 |  | A | Lengthening of thigh bone | 16.34 | NA | 11.46 | 2.77 | NA | 30.58 | 090
27468 |  | A | Shorten/lengthen thighs | 18.98 | NA | 12.09 | 3.30 | NA | 34.37 | 090
27470 |  | A | Repair of thigh | 16.08 | NA | 11.42 | 2.79 | NA | 30.29 | 090
27472 |  | A | Repair/graft of thigh | 17.73 | NA | 12.28 | 3.07 | NA | 33.07 | 090
27475 |  | A | Surgery to stop leg growth | 8.65 | NA | 6.97 | 1.36 | NA | 16.98 | 090
27477 |  | A | Surgery to stop leg growth | 9.86 | NA | 7.49 | 1.73 | NA | 19.08 | 090
27479 |  | A | Surgery to stop leg growth | 12.81 | NA | 9.48 | 2.78 | NA | 25.07 | 090
27485 |  | A | Surgery to stop leg growth | 8.85 | NA | 7.16 | 1.53 | NA | 17.53 | 090
27486 |  | A | Revise/replace knee joint | 19.28 | NA | 13.08 | 3.36 | NA | 35.71 | 090
27487 |  | A | Revise/replace knee joint | 25.28 | NA | 16.04 | 4.39 | NA | 45.71 | 090
27488 |  | A | Removal of knee prosthesis | 15.75 | NA | 11.34 | 2.74 | NA | 29.83 | 090
27495 |  | A | Reinforce thigh | 15.56 | NA | 11.05 | 2.71 | NA | 29.32 | 090
27496 |  | A | Decompression of thigh/knee | 6.11 | NA | 5.42 | 0.99 | NA | 12.52 | 090
27497 |  | A | Decompression of thigh/knee | 7.17 | NA | 5.28 | 1.15 | NA | 13.61 | 090
27498 |  | A | Decompression of thigh/knee | 8.00 | NA | 5.79 | 1.24 | NA | 15.03 | 090
27499 |  | A | Decompression of thigh/knee | 9.01 | NA | 6.64 | 1.47 | NA | 17.11 | 090
27500 |  | A | Treatment of thigh fracture | 5.92 | 6.67 | 4.85 | 1.02 | 13.61 | 11.79 | 090
27501 |  | A | Treatment of thigh fracture | 5.92 | 6.35 | 5.23 | 1.03 | 13.30 | 12.18 | 090
27502 |  | A | Treatment of thigh fracture | 10.58 | NA | 7.88 | 1.78 | NA | 20.24 | 090
27503 |  | A | Treatment of thigh fracture | 10.58 | NA | 8.05 | 1.84 | NA | 20.47 | 090
27506 |  | A | Treatment of thigh fracture | 17.45 | NA | 12.39 | 3.03 | NA | 32.87 | 090
27507 |  | A | Treatment of thigh fracture | 14.00 | NA | 9.53 | 2.42 | NA | 25.95 | 090
27508 |  | A | Treatment of thigh fracture | 5.83 | 6.55 | 5.32 | 0.97 | 13.35 | 12.12 | 090
27509 |  | A | Treatment of thigh fracture | 7.72 | NA | 7.64 | 1.34 | NA | 16.69 | 090
27510 |  | A | Treatment of thigh fracture | 9.14 | NA | 7.12 | 1.53 | NA | 17.79 | 090
27511 |  | A | Treatment of thigh fracture | 13.65 | NA | 10.77 | 2.37 | NA | 26.79 | 090
27513 |  | A | Treatment of thigh fracture | 17.93 | NA | 13.38 | 3.12 | NA | 34.43 | 090
27514 |  | A | Treatment of thigh fracture | 17.30 | NA | 12.88 | 3.00 | NA | 33.19 | 090
27516 |  | A | Treat thigh fx growth plate | 5.37 | 6.45 | 5.36 | 0.81 | 12.63 | 11.54 | 090
27517 |  | A | Treat thigh fx growth plate | 8.79 | NA | 7.24 | 1.22 | NA | 17.25 | 090
27519 |  | A | Treat thigh fx growth plate | 15.03 | NA | 11.17 | 2.55 | NA | 28.75 | 090
27520 |  | A | Treat kneecap fracture | 2.87 | 4.69 | 3.34 | 0.47 | 8.03 | 6.67 | 090
27524 |  | A | Treat kneecap fracture | 10.01 | NA | 7.97 | 1.74 | NA | 19.72 | 090
27530 |  | A | Treat knee fracture | 3.78 | 5.44 | 4.30 | 0.65 | 9.87 | 8.72 | 090
27532 |  | A | Treat knee fracture | 7.30 | 7.13 | 6.27 | 1.26 | 15.69 | 14.83 | 090
27535 |  | A | Treat knee fracture | 11.50 | NA | 9.71 | 2.00 | NA | 23.21 | 090
27536 |  | A | Treat knee fracture | 15.66 | NA | 11.25 | 2.73 | NA | 29.64 | 090
27538 |  | A | Treat knee fracture(s) | 4.87 | 6.23 | 5.04 | 0.84 | 11.94 | 10.75 | 090
27540 |  | A | Treat knee fracture | 13.11 | NA | 9.21 | 2.27 | NA | 24.59 | 090
27550 |  | A | Treat knee dislocation | 5.76 | 6.12 | 4.78 | 0.76 | 12.64 | 11.30 | 090
27552 |  | A | Treat knee dislocation | 7.91 | NA | 6.75 | 1.36 | NA | 16.01 | 090
27556 |  | A | Treat knee dislocation | 14.42 | NA | 11.21 | 2.50 | NA | 28.13 | 090
27557 |  | A | Treat knee dislocation | 16.77 | NA | 12.63 | 2.97 | NA | 32.38 | 090
27558 |  | A | Treat knee dislocation | 17.73 | NA | 12.57 | 3.08 | NA | 33.38 | 090
27560 |  | A | Treat kneecap dislocation | 3.82 | 4.97 | 3.08 | 0.40 | 9.19 | 7.29 | 090
27562 |  | A | Treat kneecap dislocation | 5.79 | NA | 4.62 | 0.94 | NA | 11.36 | 090
27566 |  | A | Treat kneecap dislocation | 12.23 | NA | 9.03 | 2.12 | NA | 23.38 | 090
27570 |  | A | Fixation of knee joint | 1.74 | NA | 1.72 | 0.30 | NA | 3.77 | 010
27580 |  | A | Fusion of knee | 19.38 | NA | 14.25 | 3.37 | NA | 37.00 | 090
27590 |  | A | Amputate leg at thigh | 12.03 | NA | 6.53 | 1.74 | NA | 20.30 | 090
27591 |  | A | Amputate leg at thigh | 12.69 | NA | 8.40 | 2.02 | NA | 23.11 | 090
27592 |  | A | Amputate leg at thigh | 10.02 | NA | 6.02 | 1.45 | NA | 17.49 | 090
27594 |  | A | Amputation follow-up surgery | 6.92 | NA | 5.04 | 1.02 | NA | 12.99 | 090
27596 |  | A | Amputation follow-up surgery | 10.60 | NA | 6.65 | 1.57 | NA | 18.82 | 090
27598 |  | A | Amputate lower leg at knee | 10.53 | NA | 6.85 | 1.65 | NA | 19.03 | 090
27599 |  | C | Leg surgery procedure | 0.00 | 0.00 | 0.00 | 0.00 | 0.00 | 0.00 | YYY
27600 |  | A | Decompression of lower leg | 5.65 | NA | 4.37 | 0.86 | NA | 10.88 | 090
27601 |  | A | Decompression of lower leg | 5.64 | NA | 4.68 | 0.80 | NA | 11.13 | 090
27602 |  | A | Decompression of lower leg | 7.35 | NA | 4.97 | 1.10 | NA | 13.43 | 090
27603 |  | A | Drain lower leg lesion | 4.94 | 7.21 | 4.07 | 0.74 | 12.89 | 9.75 | 090
27604 |  | A | Drain lower leg bursa | 4.47 | 5.96 | 3.87 | 0.69 | 11.12 | 9.03 | 090
27605 |  | A | Incision of achilles tendon | 2.88 | 7.29 | 2.26 | 0.41 | 10.58 | 5.55 | 010
27606 |  | A | Incision of achilles tendon | 4.14 | NA | 3.25 | 0.69 | NA | 8.07 | 010
27607 |  | A | Treat lower leg bone lesion | 7.98 | NA | 6.02 | 1.31 | NA | 15.30 | 090
27610 |  | A | Explore/treat ankle joint | 8.35 | NA | 6.79 | 1.40 | NA | 16.54 | 090
27612 |  | A | Exploration of ankle joint | 7.33 | NA | 5.95 | 1.13 | NA | 14.42 | 090
27613 |  | A | Biopsy lower leg soft tissue | 2.17 | 3.43 | 1.77 | 0.20 | 5.81 | 4.14 | 010
27614 |  | A | Biopsy lower leg soft tissue | 5.66 | 7.24 | 4.34 | 0.78 | 13.69 | 10.78 | 090
27615 |  | A | Remove tumor, lower leg | 12.57 | NA | 9.08 | 1.83 | NA | 23.48 | 090
27618 |  | A | Remove lower leg lesion | 5.09 | 6.11 | 3.92 | 0.72 | 11.92 | 9.73 | 090
27619 |  | A | Remove lower leg lesion | 8.41 | 9.38 | 5.82 | 1.25 | 19.03 | 15.48 | 090
27620 |  | A | Explore/treat ankle joint | 5.98 | NA | 5.31 | 0.97 | NA | 12.26 | 090
27625 |  | A | Remove ankle joint lining | 8.31 | NA | 6.30 | 1.28 | NA | 15.89 | 090
27626 |  | A | Remove ankle joint lining | 8.92 | NA | 6.73 | 1.48 | NA | 17.12 | 090
27630 |  | A | Removal of tendon lesion | 4.80 | 7.39 | 4.27 | 0.74 | 12.93 | 9.81 | 090
27635 |  | A | Remove lower leg bone lesion | 7.79 | NA | 6.54 | 1.31 | NA | 15.63 | 090
27637 |  | A | Remove/graft leg bone lesion | 9.86 | NA | 8.03 | 1.66 | NA | 19.55 | 090
27638 |  | A | Remove/graft leg bone lesion | 10.57 | NA | 8.04 | 1.84 | NA | 20.45 | 090
27640 |  | A | Partial removal of tibia | 11.37 | NA | 9.90 | 1.88 | NA | 23.15 | 090
27641 |  | A | Partial removal of fibula | 9.25 | NA | 8.03 | 1.46 | NA | 18.74 | 090
27645 |  | A | Extensive lower leg surgery | 14.18 | NA | 11.57 | 2.41 | NA | 28.16 | 090
27646 |  | A | Extensive lower leg surgery | 12.67 | NA | 10.60 | 2.05 | NA | 25.32 | 090
27647 |  | A | Extensive ankle/heel surgery | 12.24 | NA | 7.48 | 1.75 | NA | 21.47 | 090
27648 |  | A | Injection for ankle x-ray | 0.96 | 3.39 | 0.34 | 0.08 | 4.43 | 1.38 | 000
27650 |  | A | Repair achilles tendon | 9.70 | NA | 7.30 | 1.59 | NA | 18.59 | 090
27652 |  | A | Repair/graft achilles tendon | 10.33 | NA | 7.81 | 1.71 | NA | 19.85 | 090
27654 |  | A | Repair of achilles tendon | 10.02 | NA | 6.97 | 1.58 | NA | 18.57 | 090
27656 |  | A | Repair leg fascia defect | 4.57 | 8.20 | 3.70 | 0.69 | 13.46 | 8.96 | 090
27658 |  | A | Repair of leg tendon, each | 4.98 | NA | 4.45 | 0.79 | NA | 10.22 | 090
27659 |  | A | Repair of leg tendon, each | 6.81 | NA | 5.50 | 1.09 | NA | 13.40 | 090
27664 |  | A | Repair of leg tendon, each | 4.59 | NA | 4.42 | 0.76 | NA | 9.77 | 090
27665 |  | A | Repair of leg tendon, each | 5.40 | NA | 4.84 | 0.89 | NA | 11.14 | 090
27675 |  | A | Repair lower leg tendons | 7.18 | NA | 5.59 | 1.11 | NA | 13.89 | 090
27676 |  | A | Repair lower leg tendons | 8.43 | NA | 6.57 | 1.37 | NA | 16.36 | 090
27680 |  | A | Release of lower leg tendon | 5.74 | NA | 4.96 | 0.93 | NA | 11.63 | 090
27681 |  | A | Release of lower leg tendons | 6.82 | NA | 5.74 | 1.15 | NA | 13.72 | 090
27685 |  | A | Revision of lower leg tendon | 6.50 | 7.38 | 5.35 | 0.97 | 14.86 | 12.82 | 090
27686 |  | A | Revise lower leg tendons | 7.46 | NA | 6.30 | 1.24 | NA | 15.00 | 090
27687 |  | A | Revision of calf tendon | 6.24 | NA | 5.18 | 1.00 | NA | 12.43 | 090
27690 |  | A | Revise lower leg tendon | 8.72 | NA | 6.22 | 1.33 | NA | 16.27 | 090
27691 |  | A | Revise lower leg tendon | 9.97 | NA | 7.54 | 1.64 | NA | 19.15 | 090
27692 |  | A | Revise additional leg tendon | 1.87 | NA | 0.90 | 0.32 | NA | 3.10 | ZZZ
27695 |  | A | Repair of ankle ligament | 6.51 | NA | 5.71 | 1.05 | NA | 13.27 | 090
27696 |  | A | Repair of ankle ligaments | 8.28 | NA | 6.28 | 1.28 | NA | 15.83 | 090
27698 |  | A | Repair of ankle ligament | 9.37 | NA | 6.77 | 1.47 | NA | 17.61 | 090
27700 |  | A | Revision of ankle joint | 9.30 | NA | 5.63 | 1.30 | NA | 16.23 | 090
27702 |  | A | Reconstruct ankle joint | 13.68 | NA | 10.12 | 2.37 | NA | 26.17 | 090
27703 |  | A | Reconstruction, ankle joint | 15.88 | NA | 10.91 | 2.76 | NA | 29.56 | 090
27704 |  | A | Removal of ankle implant | 7.63 | NA | 5.42 | 1.27 | NA | 14.31 | 090
27705 |  | A | Incision of tibia | 10.38 | NA | 7.92 | 1.80 | NA | 20.10 | 090
27707 |  | A | Incision of fibula | 4.37 | NA | 4.78 | 0.76 | NA | 9.91 | 090
27709 |  | A | Incision of tibia & fibula | 9.96 | NA | 7.87 | 1.73 | NA | 19.56 | 090
27712 |  | A | Realignment of lower leg | 14.26 | NA | 10.43 | 2.47 | NA | 27.15 | 090
27715 |  | A | Revision of lower leg | 14.40 | NA | 10.43 | 2.49 | NA | 27.32 | 090
27720 |  | A | Repair of tibia | 11.79 | NA | 9.10 | 2.04 | NA | 22.93 | 090
27722 |  | A | Repair/graft of tibia | 11.82 | NA | 8.84 | 2.05 | NA | 22.72 | 090
27724 |  | A | Repair/graft of tibia | 18.21 | NA | 11.98 | 3.16 | NA | 33.34 | 090
27725 |  | A | Repair of lower leg | 15.60 | NA | 11.56 | 2.71 | NA | 29.87 | 090
27727 |  | A | Repair of lower leg | 14.02 | NA | 10.02 | 2.43 | NA | 26.47 | 090
27730 |  | A | Repair of tibia epiphysis | 7.41 | NA | 6.21 | 1.72 | NA | 15.35 | 090
27732 |  | A | Repair of fibula epiphysis | 5.32 | NA | 4.80 | 0.77 | NA | 10.90 | 090
27734 |  | A | Repair lower leg epiphyses | 8.49 | NA | 6.11 | 1.35 | NA | 15.95 | 090
27740 |  | A | Repair of leg epiphyses | 9.31 | NA | 7.72 | 1.62 | NA | 18.65 | 090
27742 |  | A | Repair of leg epiphyses | 10.30 | NA | 5.76 | 1.79 | NA | 17.85 | 090
27745 |  | A | Reinforce tibia | 10.07 | NA | 7.91 | 1.75 | NA | 19.73 | 090
27750 |  | A | Treatment of tibia fracture | 3.20 | 4.90 | 3.74 | 0.55 | 8.65 | 7.49 | 090
27752 |  | A | Treatment of tibia fracture | 5.84 | 6.74 | 5.51 | 1.01 | 13.59 | 12.36 | 090
27756 |  | A | Treatment of tibia fracture | 6.78 | NA | 6.25 | 1.17 | NA | 14.20 | 090
27758 |  | A | Treatment of tibia fracture | 11.67 | NA | 8.89 | 2.03 | NA | 22.59 | 090
27759 |  | A | Treatment of tibia fracture | 13.77 | NA | 9.99 | 2.38 | NA | 26.13 | 090
27760 |  | A | Treatment of ankle fracture | 3.02 | 4.83 | 3.48 | 0.48 | 8.32 | 6.98 | 090
27762 |  | A | Treatment of ankle fracture | 5.25 | 6.43 | 5.12 | 0.85 | 12.53 | 11.22 | 090
27766 |  | A | Treatment of ankle fracture | 8.37 | NA | 6.99 | 1.44 | NA | 16.80 | 090
27780 |  | A | Treatment of fibula fracture | 2.66 | 4.05 | 3.12 | 0.41 | 7.12 | 6.18 | 090
27781 |  | A | Treatment of fibula fracture | 4.40 | 5.61 | 4.51 | 0.73 | 10.74 | 9.64 | 090
27784 |  | A | Treatment of fibula fracture | 7.11 | NA | 6.26 | 1.23 | NA | 14.60 | 090
27786 |  | A | Treatment of ankle fracture | 2.85 | 4.61 | 3.23 | 0.46 | 7.92 | 6.54 | 090
27788 |  | A | Treatment of ankle fracture | 4.45 | 5.76 | 4.52 | 0.74 | 10.95 | 9.71 | 090
27792 |  | A | Treatment of ankle fracture | 7.67 | NA | 6.74 | 1.32 | NA | 15.72 | 090
27808 |  | A | Treatment of ankle fracture | 2.84 | 4.94 | 3.59 | 0.46 | 8.24 | 6.89 | 090
27810 |  | A | Treatment of ankle fracture | 5.13 | 6.35 | 5.00 | 0.82 | 12.30 | 10.96 | 090
27814 |  | A | Treatment of ankle fracture | 10.68 | NA | 8.29 | 1.85 | NA | 20.82 | 090
27816 |  | A | Treatment of ankle fracture | 2.90 | 4.54 | 3.31 | 0.43 | 7.86 | 6.63 | 090
27818 |  | A | Treatment of ankle fracture | 5.50 | 6.47 | 5.02 | 0.82 | 12.79 | 11.34 | 090
27822 |  | A | Treatment of ankle fracture | 11.00 | NA | 13.08 | 1.91 | NA | 25.99 | 090
27823 |  | A | Treatment of ankle fracture | 13.01 | NA | 13.87 | 2.25 | NA | 29.12 | 090
27824 |  | A | Treat lower leg fracture | 2.90 | 4.22 | 3.47 | 0.45 | 7.56 | 6.81 | 090
27825 |  | A | Treat lower leg fracture | 6.19 | 6.69 | 5.23 | 1.02 | 13.91 | 12.44 | 090
27826 |  | A | Treat lower leg fracture | 8.55 | NA | 11.29 | 1.47 | NA | 21.31 | 090
27827 |  | A | Treat lower leg fracture | 14.07 | NA | 15.09 | 2.43 | NA | 31.58 | 090
27828 |  | A | Treat lower leg fracture | 16.24 | NA | 16.21 | 2.81 | NA | 35.26 | 090
27829 |  | A | Treat lower leg joint | 5.49 | NA | 8.63 | 0.95 | NA | 15.08 | 090
27830 |  | A | Treat lower leg dislocation | 3.79 | 4.54 | 3.74 | 0.54 | 8.87 | 8.07 | 090
27831 |  | A | Treat lower leg dislocation | 4.56 | NA | 4.32 | 0.73 | NA | 9.61 | 090
27832 |  | A | Treat lower leg dislocation | 6.49 | NA | 5.97 | 1.03 | NA | 13.49 | 090
27840 |  | A | Treat ankle dislocation | 4.58 | NA | 3.63 | 0.46 | NA | 8.67 | 090
27842 |  | A | Treat ankle dislocation | 6.21 | NA | 4.96 | 1.00 | NA | 12.17 | 090
27846 |  | A | Treat ankle dislocation | 9.80 | NA | 7.68 | 1.70 | NA | 19.18 | 090
27848 |  | A | Treat ankle dislocation | 11.20 | NA | 11.46 | 1.94 | NA | 24.61 | 090
27860 |  | A | Fixation of ankle joint | 2.34 | NA | 1.93 | 0.39 | NA | 4.67 | 010
27870 |  | A | Fusion of ankle joint, open | 13.92 | NA | 10.21 | 2.36 | NA | 26.49 | 090
27871 |  | A | Fusion of tibiofibular joint | 9.18 | NA | 7.35 | 1.59 | NA | 18.12 | 090
27880 |  | A | Amputation of lower leg | 11.85 | NA | 6.96 | 1.75 | NA | 20.56 | 090
27881 |  | A | Amputation of lower leg | 12.34 | NA | 8.58 | 1.98 | NA | 22.90 | 090
27882 |  | A | Amputation of lower leg | 8.95 | NA | 6.29 | 1.29 | NA | 16.53 | 090
27884 |  | A | Amputation follow-up surgery | 8.22 | NA | 5.60 | 1.22 | NA | 15.04 | 090
27886 |  | A | Amputation follow-up surgery | 9.33 | NA | 6.34 | 1.40 | NA | 17.06 | 090
27888 |  | A | Amputation of foot at ankle | 9.68 | NA | 7.28 | 1.51 | NA | 18.47 | 090
27889 |  | A | Amputation of foot at ankle | 9.99 | NA | 6.30 | 1.46 | NA | 17.75 | 090
27892 |  | A | Decompression of leg | 7.39 | NA | 5.44 | 1.10 | NA | 13.93 | 090
27893 |  | A | Decompression of leg | 7.35 | NA | 5.32 | 1.10 | NA | 13.78 | 090
27894 |  | A | Decompression of leg | 10.49 | NA | 7.57 | 1.65 | NA | 19.71 | 090
27899 |  | C | Leg/ankle surgery procedure | 0.00 | 0.00 | 0.00 | 0.00 | 0.00 | 0.00 | YYY
28001 |  | A | Drainage of bursa of foot | 2.74 | 3.15 | 1.93 | 0.33 | 6.21 | 5.00 | 010
28002 |  | A | Treatment of foot infection | 4.62 | 5.17 | 3.71 | 0.61 | 10.39 | 8.94 | 010
28003 |  | A | Treatment of foot infection | 8.42 | 6.42 | 5.15 | 1.12 | 15.96 | 14.69 | 090
28005 |  | A | Treat foot bone lesion | 8.69 | NA | 5.96 | 1.16 | NA | 15.81 | 090
28008 |  | A | Incision of foot fascia | 4.45 | 4.77 | 3.20 | 0.57 | 9.79 | 8.22 | 090
28010 |  | A | Incision of toe tendon | 2.85 | 2.45 | 2.42 | 0.36 | 5.66 | 5.62 | 090
28011 |  | A | Incision of toe tendons | 4.14 | 0.00 | 3.28 | 0.59 | 4.73 | 8.01 | 090
28020 |  | A | Exploration of foot joint | 5.01 | 6.09 | 4.06 | 0.72 | 11.82 | 9.79 | 090
28022 |  | A | Exploration of foot joint | 4.67 | 5.39 | 3.80 | 0.62 | 10.68 | 9.09 | 090
28024 |  | A | Exploration of toe joint | 4.38 | 5.38 | 3.85 | 0.58 | 10.34 | 8.81 | 090
28030 |  | A | Removal of foot nerve | 6.15 | NA | 3.67 | 0.74 | NA | 10.56 | 090
28035 |  | A | Decompression of tibia nerve | 5.09 | 6.00 | 4.03 | 0.70 | 11.79 | 9.82 | 090
28043 |  | A | Excision of foot lesion | 3.54 | 3.94 | 3.14 | 0.46 | 7.94 | 7.13 | 090
28045 |  | A | Excision of foot lesion | 4.72 | 5.58 | 3.58 | 0.63 | 10.93 | 8.93 | 090
28046 |  | A | Resection of tumor, foot | 10.18 | 8.90 | 6.37 | 1.36 | 20.44 | 17.91 | 090
28050 |  | A | Biopsy of foot joint lining | 4.25 | 5.11 | 3.55 | 0.60 | 9.96 | 8.40 | 090
28052 |  | A | Biopsy of foot joint lining | 3.94 | 5.08 | 3.38 | 0.53 | 9.55 | 7.85 | 090
28054 |  | A | Biopsy of toe joint lining | 3.45 | 4.89 | 3.18 | 0.46 | 8.80 | 7.09 | 090
28060 |  | A | Partial removal, foot fascia | 5.23 | 5.69 | 3.86 | 0.70 | 11.62 | 9.79 | 090
28062 |  | A | Removal of foot fascia | 6.52 | 6.70 | 4.03 | 0.83 | 14.05 | 11.38 | 090
28070 |  | A | Removal of foot joint lining | 5.10 | 5.45 | 3.78 | 0.73 | 11.28 | 9.61 | 090
28072 |  | A | Removal of foot joint lining | 4.58 | 5.68 | 4.20 | 0.68 | 10.94 | 9.46 | 090
28080 |  | A | Removal of foot lesion | 3.58 | 5.41 | 3.72 | 0.47 | 9.45 | 7.77 | 090
28086 |  | A | Excise foot tendon sheath | 4.78 | 7.81 | 4.55 | 0.76 | 13.35 | 10.09 | 090
28088 |  | A | Excise foot tendon sheath | 3.86 | 5.80 | 3.79 | 0.61 | 10.26 | 8.26 | 090
28090 |  | A | Removal of foot lesion | 4.41 | 5.34 | 3.44 | 0.59 | 10.34 | 8.44 | 090
28092 |  | A | Removal of toe lesions | 3.64 | 5.34 | 3.47 | 0.49 | 9.47 | 7.59 | 090
28100 |  | A | Removal of ankle/heel lesion | 5.66 | 7.86 | 4.61 | 0.82 | 14.34 | 11.09 | 90
28102 |  | A | Remove/graft foot lesion | 7.74 | NA | 5.81 | 1.14 | NA | 14.68 | 090
28103 |  | A | Remove/graft foot lesion | 6.50 | NA | 4.57 | 0.91 | NA | 11.98 | 090
28104 |  | A | Removal of foot lesion | 5.12 | 5.69 | 3.88 | 0.70 | 11.51 | 9.70 | 090
28106 |  | A | Remove/graft foot lesion | 7.16 | NA | 4.44 | 0.97 | NA | 12.58 | 090
28107 |  | A | Remove/graft foot lesion | 5.56 | 6.67 | 4.17 | 0.74 | 12.97 | 10.47 | 090
28108 |  | A | Removal of toe lesions | 4.16 | 4.85 | 3.25 | 0.53 | 9.54 | 7.94 | 090
28110 |  | A | Part removal of metatarsal | 4.08 | 5.43 | 3.22 | 0.54 | 10.05 | 7.84 | 090
28111 |  | A | Part removal of metatarsal | 5.01 | 6.36 | 3.62 | 0.67 | 12.04 | 9.30 | 090
28112 |  | A | Part removal of metatarsal | 4.49 | 5.96 | 3.54 | 0.61 | 11.06 | 8.64 | 090
28113 |  | A | Part removal of metatarsal | 4.79 | 6.33 | 4.34 | 0.63 | 11.75 | 9.76 | 090
28114 |  | A | Removal of metatarsal heads | 9.80 | 11.63 | 8.27 | 1.42 | 22.85 | 19.49 | 090
28116 |  | A | Revision of foot | 7.76 | 7.08 | 5.17 | 1.03 | 15.87 | 13.96 | 090
28118 |  | A | Removal of heel bone | 5.96 | 6.41 | 4.30 | 0.84 | 13.21 | 11.11 | 090
28119 |  | A | Removal of heel spur | 5.39 | 5.67 | 3.73 | 0.70 | 11.76 | 9.83 | 090
28120 |  | A | Part removal of ankle/heel | 5.40 | 7.28 | 4.34 | 0.77 | 13.45 | 10.51 | 090
28122 |  | A | Partial removal of foot bone | 7.29 | 7.04 | 5.23 | 0.98 | 15.31 | 13.50 | 090
28124 |  | A | Partial removal of toe | 4.81 | 5.27 | 3.67 | 0.60 | 10.68 | 9.08 | 090
28126 |  | A | Partial removal of toe | 3.52 | 4.46 | 2.98 | 0.45 | 8.43 | 6.95 | 090
28130 |  | A | Removal of ankle bone | 8.12 | NA | 6.57 | 1.26 | NA | 15.94 | 090
28140 |  | A | Removal of metatarsal | 6.91 | 7.29 | 4.70 | 0.92 | 15.12 | 12.53 | 090
28150 |  | A | Removal of toe | 4.09 | 5.05 | 3.27 | 0.53 | 9.67 | 7.89 | 090
28153 |  | A | Partial removal of toe | 3.66 | 4.58 | 2.73 | 0.47 | 8.70 | 6.86 | 090
28160 |  | A | Partial removal of toe | 3.74 | 4.80 | 3.31 | 0.49 | 9.03 | 7.53 | 090
28171 |  | A | Extensive foot surgery | 9.61 | NA | 5.43 | 1.33 | NA | 16.37 | 090
28173 |  | A | Extensive foot surgery | 8.81 | 7.79 | 5.16 | 1.12 | 17.71 | 15.08 | 090
28175 |  | A | Extensive foot surgery | 6.05 | 5.93 | 3.73 | 0.73 | 12.71 | 10.51 | 090
28190 |  | A | Removal of foot foreign body | 1.96 | 3.47 | 1.44 | 0.22 | 5.65 | 3.62 | 010
28192 |  | A | Removal of foot foreign body | 4.64 | 5.62 | 3.60 | 0.61 | 10.87 | 8.85 | 090
28193 |  | A | Removal of foot foreign body | 5.73 | 5.84 | 3.91 | 0.73 | 12.30 | 10.37 | 090
28200 |  | A | Repair of foot tendon | 4.60 | 5.32 | 3.53 | 0.61 | 10.53 | 8.74 | 090
28202 |  | A | Repair/graft of foot tendon | 6.84 | 7.31 | 4.47 | 0.91 | 15.06 | 12.23 | 090
28208 |  | A | Repair of foot tendon | 4.37 | 5.05 | 3.30 | 0.58 | 10.00 | 8.25 | 090
28210 |  | A | Repair/graft of foot tendon | 6.35 | 6.38 | 4.03 | 0.81 | 13.55 | 11.20 | 090
28220 |  | A | Release of foot tendon | 4.53 | 4.93 | 3.41 | 0.57 | 10.03 | 8.51 | 090
28222 |  | A | Release of foot tendons | 5.62 | 5.50 | 4.08 | 0.69 | 11.81 | 10.39 | 090
28225 |  | A | Release of foot tendon | 3.66 | 4.53 | 2.90 | 0.46 | 8.64 | 7.02 | 090
28226 |  | A | Release of foot tendons | 4.53 | 5.06 | 3.70 | 0.58 | 10.16 | 8.81 | 090
28230 |  | A | Incision of foot tendon(s) | 4.24 | 4.90 | 3.61 | 0.55 | 9.69 | 8.40 | 090
28232 |  | A | Incision of toe tendon | 3.39 | 4.71 | 3.26 | 0.44 | 8.54 | 7.08 | 090
28234 |  | A | Incision of foot tendon | 3.37 | 4.87 | 3.33 | 0.44 | 8.68 | 7.14 | 090
28238 |  | A | Revision of foot tendon | 7.74 | 7.39 | 4.89 | 1.06 | 16.19 | 13.69 | 090
28240 |  | A | Release of big toe | 4.36 | 4.87 | 3.45 | 0.58 | 9.81 | 8.39 | 090
28250 |  | A | Revision of foot fascia | 5.92 | 5.82 | 4.10 | 0.82 | 12.57 | 10.84 | 090
28260 |  | A | Release of midfoot joint | 7.97 | 6.56 | 4.95 | 1.14 | 15.67 | 14.06 | 090
28261 |  | A | Revision of foot tendon | 11.73 | 8.87 | 7.22 | 1.57 | 22.17 | 20.53 | 090
28262 |  | A | Revision of foot and ankle | 15.84 | 13.37 | 10.63 | 2.59 | 31.81 | 29.06 | 090
28264 |  | A | Release of midfoot joint | 10.35 | 7.94 | 7.12 | 1.54 | 19.83 | 19.01 | 090
28270 |  | A | Release of foot contracture | 4.76 | 5.16 | 3.72 | 0.62 | 10.54 | 9.10 | 090
28272 |  | A | Release of toe joint, each | 3.80 | 4.44 | 2.87 | 0.46 | 8.70 | 7.12 | 090
28280 |  | A | Fusion of toes | 5.19 | 6.34 | 4.39 | 0.73 | 12.26 | 10.31 | 090
28285 |  | A | Repair of hammertoe | 4.59 | 5.12 | 3.44 | 0.59 | 10.30 | 8.62 | 090
28286 |  | A | Repair of hammertoe | 4.56 | 5.06 | 3.27 | 0.57 | 10.19 | 8.40 | 090
28288 |  | A | Partial removal of foot bone | 4.74 | 6.20 | 4.83 | 0.65 | 11.59 | 10.22 | 090
28289 |  | A | Repair hallux rigidus | 7.04 | 8.06 | 5.68 | 1.02 | 16.12 | 13.74 | 090
28290 |  | A | Correction of bunion | 5.66 | 6.44 | 4.63 | 0.82 | 12.92 | 11.11 | 090
28292 |  | A | Correction of bunion | 7.04 | 7.80 | 5.60 | 0.91 | 15.75 | 13.55 | 090
28293 |  | A | Correction of bunion | 9.16 | 11.26 | 6.22 | 1.13 | 21.55 | 16.51 | 090
28294 |  | A | Correction of bunion | 8.57 | 7.68 | 4.72 | 1.09 | 17.34 | 14.38 | 090
28296 |  | A | Correction of bunion | 9.19 | 8.36 | 5.39 | 1.19 | 18.74 | 15.77 | 090
28297 |  | A | Correction of bunion | 9.19 | 9.04 | 6.14 | 1.32 | 19.55 | 16.65 | 090
28298 |  | A | Correction of bunion | 7.95 | 7.47 | 4.98 | 1.05 | 16.47 | 13.98 | 090
28299 |  | A | Correction of bunion | 10.58 | 8.99 | 6.05 | 1.37 | 20.94 | 18.00 | 090
28300 |  | A | Incision of heel bone | 9.55 | NA | 6.86 | 1.54 | NA | 17.95 | 090
28302 |  | A | Incision of ankle bone | 9.56 | NA | 6.72 | 1.42 | NA | 17.70 | 090
28304 |  | A | Incision of midfoot bones | 9.17 | 8.16 | 5.67 | 1.27 | 18.60 | 16.11 | 090
28305 |  | A | Incise/graft midfoot bones | 10.50 | NA | 6.72 | 1.27 | NA | 18.49 | 090
28306 |  | A | Incision of metatarsal | 5.86 | 6.96 | 4.14 | 0.84 | 13.66 | 10.84 | 090
28307 |  | A | Incision of metatarsal | 6.33 | 10.64 | 5.16 | 0.90 | 17.87 | 12.39 | 090
28308 |  | A | Incision of metatarsal | 5.29 | 6.01 | 3.71 | 0.70 | 12.00 | 9.71 | 090
28309 |  | A | Incision of metatarsals | 12.79 | NA | 7.83 | 2.04 | NA | 22.65 | 090
28310 |  | A | Revision of big toe | 5.43 | 5.98 | 3.56 | 0.70 | 12.12 | 9.70 | 090
28312 |  | A | Revision of toe | 4.55 | 5.67 | 3.60 | 0.63 | 10.85 | 8.78 | 090
28313 |  | A | Repair deformity of toe | 5.01 | 5.47 | 4.69 | 0.73 | 11.21 | 10.43 | 090
28315 |  | A | Removal of sesamoid bone | 4.86 | 5.15 | 3.35 | 0.63 | 10.63 | 8.84 | 090
28320 |  | A | Repair of foot bones | 9.19 | NA | 6.56 | 1.43 | NA | 17.18 | 090
28322 |  | A | Repair of metatarsals | 8.35 | 9.10 | 6.19 | 1.27 | 18.72 | 15.81 | 090
28340 |  | A | Resect enlarged toe tissue | 6.98 | 6.67 | 4.24 | 0.84 | 14.49 | 12.07 | 090
28341 |  | A | Resect enlarged toe | 8.42 | 7.22 | 4.82 | 1.01 | 16.64 | 14.25 | 090
28344 |  | A | Repair extra toe(s) | 4.26 | 5.88 | 3.60 | 0.51 | 10.65 | 8.37 | 090
28345 |  | A | Repair webbed toe(s) | 5.92 | 6.38 | 4.61 | 0.80 | 13.10 | 11.33 | 090
28360 |  | A | Reconstruct cleft foot | 13.35 | NA | 10.20 | 2.28 | NA | 25.83 | 090
28400 |  | A | Treatment of heel fracture | 2.16 | 3.82 | 2.96 | 0.35 | 6.33 | 5.48 | 090
28405 |  | A | Treatment of heel fracture | 4.57 | 5.00 | 4.50 | 0.73 | 10.30 | 9.80 | 090
28406 |  | A | Treatment of heel fracture | 6.31 | NA | 6.54 | 1.11 | NA | 13.97 | 090
28415 |  | A | Treat heel fracture | 15.98 | NA | 15.56 | 2.66 | NA | 34.20 | 090
28420 |  | A | Treat/graft heel fracture | 16.65 | NA | 15.18 | 2.80 | NA | 34.63 | 090
28430 |  | A | Treatment of ankle fracture | 2.09 | 3.58 | 2.48 | 0.31 | 5.98 | 4.88 | 090
28435 |  | A | Treatment of ankle fracture | 3.40 | 4.07 | 3.64 | 0.55 | 8.02 | 7.59 | 090
28436 |  | A | Treatment of ankle fracture | 4.71 | NA | 5.69 | 0.81 | NA | 11.21 | 090
28445 |  | A | Treat ankle fracture | 15.63 | NA | 10.73 | 2.58 | NA | 28.94 | 090
28450 |  | A | Treat midfoot fracture, each | 1.90 | 3.31 | 2.40 | 0.28 | 5.50 | 4.58 | 090
28455 |  | A | Treat midfoot fracture, each | 3.10 | 3.64 | 3.37 | 0.44 | 7.18 | 6.91 | 090
28456 |  | A | Treat midfoot fracture | 2.69 | NA | 4.03 | 0.44 | NA | 7.15 | 090
28465 |  | A | Treat midfoot fracture, each | 7.01 | NA | 7.98 | 1.10 | NA | 16.10 | 090
28470 |  | A | Treat metatarsal fracture | 1.99 | 3.31 | 2.36 | 0.30 | 5.60 | 4.66 | 090
28475 |  | A | Treat metatarsal fracture | 2.98 | 3.53 | 3.12 | 0.44 | 6.94 | 6.54 | 090
28476 |  | A | Treat metatarsal fracture | 3.38 | NA | 4.82 | 0.54 | NA | 8.74 | 090
28485 |  | A | Treat metatarsal fracture | 5.71 | NA | 7.53 | 0.83 | NA | 14.07 | 090
28490 |  | A | Treat big toe fracture | 1.09 | 2.00 | 1.59 | 0.14 | 3.23 | 2.82 | 090
28495 |  | A | Treat big toe fracture | 1.58 | 2.21 | 2.01 | 0.20 | 3.99 | 3.79 | 090
28496 |  | A | Treat big toe fracture | 2.33 | 7.96 | 3.12 | 0.36 | 10.66 | 5.82 | 090
28505 |  | A | Treat big toe fracture | 3.81 | 9.34 | 5.68 | 0.56 | 13.71 | 10.05 | 090
28510 |  | A | Treatment of toe fracture | 1.09 | 1.54 | 1.49 | 0.14 | 2.77 | 2.72 | 090
28515 |  | A | Treatment of toe fracture | 1.46 | 1.93 | 1.85 | 0.18 | 3.58 | 3.50 | 090
28525 |  | A | Treat toe fracture | 3.33 | 8.76 | 5.19 | 0.49 | 12.58 | 9.01 | 090
28530 |  | A | Treat sesamoid bone fracture | 1.06 | 1.67 | 1.41 | 0.14 | 2.87 | 2.61 | 090
28531 |  | A | Treat sesamoid bone fracture | 2.35 | 7.40 | 3.45 | 0.34 | 10.09 | 6.14 | 090
28540 |  | A | Treat foot dislocation | 2.04 | 2.65 | 2.41 | 0.26 | 4.95 | 4.72 | 090
28545 |  | A | Treat foot dislocation | 2.45 | 2.60 | 2.48 | 0.37 | 5.42 | 5.30 | 090
28546 |  | A | Treat foot dislocation | 3.21 | 6.89 | 4.25 | 0.52 | 10.62 | 7.97 | 090
28555 |  | A | Repair foot dislocation | 6.30 | 11.09 | 7.52 | 1.04 | 18.43 | 14.86 | 090
28570 |  | A | Treat foot dislocation | 1.66 | 2.65 | 2.27 | 0.23 | 4.54 | 4.17 | 090
28575 |  | A | Treat foot dislocation | 3.32 | 3.92 | 3.70 | 0.56 | 7.79 | 7.58 | 090
28576 |  | A | Treat foot dislocation | 4.17 | NA | 4.11 | 0.69 | NA | 8.97 | 090
28585 |  | A | Repair foot dislocation | 8.00 | 8.69 | 7.47 | 1.25 | 17.94 | 16.71 | 090
28600 |  | A | Treat foot dislocation | 1.89 | 3.03 | 2.61 | 0.27 | 5.20 | 4.77 | 090
28605 |  | A | Treat foot dislocation | 2.72 | 3.35 | 3.16 | 0.40 | 6.46 | 6.28 | 090
28606 |  | A | Treat foot dislocation | 4.90 | NA | 4.64 | 0.82 | NA | 10.36 | 090
28615 |  | A | Repair foot dislocation | 7.78 | NA | 9.80 | 1.30 | NA | 18.87 | 090
28630 |  | A | Treat toe dislocation | 1.70 | 1.61 | 0.96 | 0.20 | 3.51 | 2.87 | 010
28635 |  | A | Treat toe dislocation | 1.91 | 2.21 | 1.51 | 0.26 | 4.38 | 3.68 | 010
28636 |  | A | Treat toe dislocation | 2.78 | 3.87 | 2.55 | 0.43 | 7.08 | 5.75 | 010
28645 |  | A | Repair toe dislocation | 4.22 | 5.95 | 4.24 | 0.57 | 10.74 | 9.03 | 090
28660 |  | A | Treat toe dislocation | 1.23 | 1.48 | 0.76 | 0.13 | 2.84 | 2.13 | 010
28665 |  | A | Treat toe dislocation | 1.92 | 0.00 | 1.42 | 0.26 | 2.18 | 3.60 | 010
28666 |  | A | Treat toe dislocation | 2.67 | NA | 2.48 | 0.43 | NA | 5.58 | 010
28675 |  | A | Repair of toe dislocation | 2.93 | 7.92 | 4.53 | 0.45 | 11.29 | 7.91 | 090
28705 |  | A | Fusion of foot bones | 18.81 | NA | 12.10 | 3.08 | NA | 33.99 | 090
28715 |  | A | Fusion of foot bones | 13.11 | NA | 9.48 | 2.16 | NA | 24.75 | 090
28725 |  | A | Fusion of foot bones | 11.61 | NA | 8.02 | 1.86 | NA | 21.49 | 090
28730 |  | A | Fusion of foot bones | 10.76 | NA | 8.29 | 1.70 | NA | 20.75 | 090
28735 |  | A | Fusion of foot bones | 10.85 | NA | 7.65 | 1.68 | NA | 20.18 | 090
28737 |  | A | Revision of foot bones | 9.65 | NA | 6.70 | 1.47 | NA | 17.82 | 090
28740 |  | A | Fusion of foot bones | 8.03 | 10.65 | 6.34 | 1.22 | 19.89 | 15.58 | 090
28750 |  | A | Fusion of big toe joint | 7.30 | 11.53 | 6.49 | 1.13 | 19.97 | 14.93 | 090
28755 |  | A | Fusion of big toe joint | 4.74 | 6.22 | 3.72 | 0.65 | 11.61 | 9.11 | 090
28760 |  | A | Fusion of big toe joint | 7.76 | 8.16 | 5.48 | 1.05 | 16.96 | 14.28 | 090
28800 |  | A | Amputation of midfoot | 8.22 | NA | 5.67 | 1.15 | NA | 15.04 | 090
28805 |  | A | Amputation thru metatarsal | 8.40 | NA | 5.52 | 1.18 | NA | 15.10 | 090
28810 |  | A | Amputation toe & metatarsal | 6.21 | NA | 4.39 | 0.86 | NA | 11.46 | 090
28820 |  | A | Amputation of toe | 4.41 | 7.47 | 3.72 | 0.61 | 12.49 | 8.74 | 090
28825 |  | A | Partial amputation of toe | 3.59 | 6.95 | 3.42 | 0.50 | 11.03 | 7.50 | 090
28899 |  | C | Foot/toes surgery procedure | 0.00 | 0.00 | 0.00 | 0.00 | 0.00 | 0.00 | YYY
29000 |  | A | Application of body cast | 2.25 | 3.98 | 1.70 | 0.41 | 6.64 | 4.37 | 000
29010 |  | A | Application of body cast | 2.06 | 4.62 | 1.73 | 0.45 | 7.14 | 4.25 | 000
29015 |  | A | Application of body cast | 2.41 | 4.23 | 1.57 | 0.28 | 6.92 | 4.27 | 000
29020 |  | A | Application of body cast | 2.11 | 4.69 | 1.39 | 0.28 | 7.08 | 3.79 | 000
29025 |  | A | Application of body cast | 2.40 | 4.38 | 1.82 | 0.44 | 7.23 | 4.66 | 000
29035 |  | A | Application of body cast | 1.77 | 5.06 | 1.54 | 0.28 | 7.11 | 3.60 | 000
29040 |  | A | Application of body cast | 2.22 | 3.53 | 1.49 | 0.36 | 6.12 | 4.08 | 000
29044 |  | A | Application of body cast | 2.12 | 5.87 | 1.85 | 0.35 | 8.35 | 4.33 | 000
29046 |  | A | Application of body cast | 2.41 | 4.95 | 2.04 | 0.42 | 7.79 | 4.87 | 000
29049 |  | A | Application of figure eight | 0.89 | 2.01 | 0.51 | 0.13 | 3.03 | 1.54 | 000
29055 |  | A | Application of shoulder cast | 1.78 | 4.12 | 1.44 | 0.30 | 6.21 | 3.52 | 000
29058 |  | A | Application of shoulder cast | 1.31 | 2.28 | 0.70 | 0.17 | 3.76 | 2.19 | 000
29065 |  | A | Application of long arm cast | 0.87 | 2.25 | 0.73 | 0.15 | 3.28 | 1.75 | 000
29075 |  | A | Application of forearm cast | 0.77 | 2.08 | 0.66 | 0.13 | 2.98 | 1.57 | 000
29085 |  | A | Apply hand/wrist cast | 0.87 | 1.98 | 0.62 | 0.14 | 3.00 | 1.63 | 000
29086 |  | A | Apply finger cast | 0.62 | 0.95 | 0.48 | 0.07 | 1.65 | 1.17 | 000
29105 |  | A | Apply long arm splint | 0.87 | 1.76 | 0.49 | 0.12 | 2.76 | 1.49 | 000
29125 |  | A | Apply forearm splint | 0.59 | 1.51 | 0.38 | 0.07 | 2.17 | 1.04 | 000
29126 |  | A | Apply forearm splint | 0.77 | 1.49 | 0.45 | 0.07 | 2.33 | 1.29 | 000
29130 |  | A | Application of finger splint | 0.50 | 0.46 | 0.17 | 0.06 | 1.02 | 0.73 | 000
29131 |  | A | Application of finger splint | 0.55 | 0.74 | 0.23 | 0.03 | 1.32 | 0.81 | 000
29200 |  | A | Strapping of chest | 0.65 | 0.76 | 0.33 | 0.04 | 1.45 | 1.02 | 000
29220 |  | A | Strapping of low back | 0.64 | 0.74 | 0.39 | 0.04 | 1.42 | 1.07 | 000
29240 |  | A | Strapping of shoulder | 0.71 | 0.86 | 0.35 | 0.06 | 1.64 | 1.12 | 000
29260 |  | A | Strapping of elbow or wrist | 0.55 | 0.78 | 0.31 | 0.05 | 1.38 | 0.91 | 000
29280 |  | A | Strapping of hand or finger | 0.51 | 0.82 | 0.31 | 0.03 | 1.36 | 0.85 | 000
29305 |  | A | Application of hip cast | 2.03 | 4.78 | 1.72 | 0.35 | 7.17 | 4.10 | 000
29325 |  | A | Application of hip casts | 2.32 | 4.95 | 1.90 | 0.40 | 7.67 | 4.63 | 000
29345 |  | A | Application of long leg cast | 1.40 | 2.53 | 1.03 | 0.24 | 4.17 | 2.67 | 000
29355 |  | A | Application of long leg cast | 1.53 | 2.59 | 1.09 | 0.26 | 4.38 | 2.89 | 000
29358 |  | A | Apply long leg cast brace | 1.43 | 2.76 | 1.06 | 0.25 | 4.44 | 2.74 | 000
29365 |  | A | Application of long leg cast | 1.18 | 2.64 | 0.92 | 0.20 | 4.02 | 2.31 | 000
29405 |  | A | Apply short leg cast | 0.86 | 2.14 | 0.69 | 0.14 | 3.14 | 1.70 | 000
29425 |  | A | Apply short leg cast | 1.01 | 2.20 | 0.73 | 0.15 | 3.36 | 1.89 | 000
29435 |  | A | Apply short leg cast | 1.18 | 2.22 | 0.90 | 0.20 | 3.60 | 2.29 | 000
29440 |  | A | Addition of walker to cast | 0.57 | 1.06 | 0.27 | 0.08 | 1.71 | 0.92 | 000
29445 |  | A | Apply rigid leg cast | 1.78 | 2.49 | 0.95 | 0.27 | 4.54 | 3.00 | 000
29450 |  | A | Application of leg cast | 2.08 | 1.97 | 1.07 | 0.27 | 4.32 | 3.43 | 000
29505 |  | A | Application, long leg splint | 0.69 | 1.50 | 0.44 | 0.08 | 2.27 | 1.21 | 000
29515 |  | A | Application lower leg splint | 0.73 | 1.16 | 0.45 | 0.09 | 1.98 | 1.27 | 000
29520 |  | A | Strapping of hip | 0.54 | 0.88 | 0.46 | 0.03 | 1.45 | 1.03 | 000
29530 |  | A | Strapping of knee | 0.57 | 0.83 | 0.32 | 0.05 | 1.45 | 0.94 | 000
29540 |  | A | Strapping of ankle and/or ft | 0.51 | 0.48 | 0.31 | 0.06 | 1.05 | 0.88 | 000
29550 |  | A | Strapping of toes | 0.47 | 0.46 | 0.29 | 0.06 | 0.99 | 0.82 | 000
29580 |  | A | Application of paste boot | 0.57 | 0.76 | 0.35 | 0.07 | 1.40 | 0.99 | 000
29590 |  | A | Application of foot splint | 0.76 | 0.53 | 0.28 | 0.09 | 1.38 | 1.13 | 000
29700 |  | A | Removal/revision of cast | 0.57 | 0.89 | 0.27 | 0.08 | 1.54 | 0.92 | 000
29705 |  | A | Removal/revision of cast | 0.76 | 0.80 | 0.37 | 0.13 | 1.69 | 1.26 | 000
29710 |  | A | Removal/revision of cast | 1.34 | 1.49 | 0.68 | 0.20 | 3.03 | 2.22 | 000
29715 |  | A | Removal/revision of cast | 0.94 | 1.82 | 0.39 | 0.09 | 2.85 | 1.42 | 000
29720 |  | A | Repair of body cast | 0.68 | 1.53 | 0.38 | 0.12 | 2.33 | 1.18 | 000
29730 |  | A | Windowing of cast | 0.75 | 0.79 | 0.34 | 0.12 | 1.67 | 1.21 | 000
29740 |  | A | Wedging of cast | 1.12 | 1.38 | 0.48 | 0.18 | 2.68 | 1.78 | 000
29750 |  | A | Wedging of clubfoot cast | 1.26 | 1.27 | 0.57 | 0.21 | 2.74 | 2.04 | 000
29799 |  | C | Casting/strapping procedure | 0.00 | 0.00 | 0.00 | 0.00 | 0.00 | 0.00 | YYY
29800 |  | A | Jaw arthroscopy/surgery | 6.43 | NA | 6.72 | 0.99 | NA | 14.14 | 090
29804 |  | A | Jaw arthroscopy/surgery | 8.15 | NA | 7.64 | 1.38 | NA | 17.16 | 090
29805 |  | A | Shoulder arthroscopy, dx | 5.89 | NA | 5.48 | 1.02 | NA | 12.39 | 090
29806 |  | A | Shoulder arthroscopy/surgery | 14.38 | NA | 10.80 | 2.49 | NA | 27.67 | 090
29807 |  | A | Shoulder arthroscopy/surgery | 13.91 | NA | 10.64 | 2.41 | NA | 26.96 | 090
29819 |  | A | Shoulder arthroscopy/surgery | 7.63 | NA | 6.56 | 1.32 | NA | 15.51 | 090
29820 |  | A | Shoulder arthroscopy/surgery | 7.07 | NA | 6.01 | 1.22 | NA | 14.31 | 090
29821 |  | A | Shoulder arthroscopy/surgery | 7.73 | NA | 6.57 | 1.33 | NA | 15.63 | 090
29822 |  | A | Shoulder arthroscopy/surgery | 7.43 | NA | 6.46 | 1.28 | NA | 15.18 | 090
29823 |  | A | Shoulder arthroscopy/surgery | 8.18 | NA | 6.98 | 1.41 | NA | 16.57 | 090
29824 |  | A | Shoulder arthroscopy/surgery | 8.26 | NA | 7.29 | 1.42 | NA | 16.96 | 090
29825 |  | A | Shoulder arthroscopy/surgery | 7.63 | NA | 6.54 | 1.32 | NA | 15.48 | 090
29826 |  | A | Shoulder arthroscopy/surgery | 9.00 | NA | 7.28 | 1.55 | NA | 17.83 | 090
29827 |  | A | Arthroscop rotator cuff repr | 15.37 | NA | 11.16 | 2.66 | NA | 29.19 | 090
29830 |  | A | Elbow arthroscopy | 5.76 | NA | 5.18 | 0.99 | NA | 11.93 | 090
29834 |  | A | Elbow arthroscopy/surgery | 6.28 | NA | 5.64 | 1.08 | NA | 13.00 | 090
29835 |  | A | Elbow arthroscopy/surgery | 6.48 | NA | 5.69 | 1.13 | NA | 13.30 | 090
29836 |  | A | Elbow arthroscopy/surgery | 7.56 | NA | 6.56 | 1.22 | NA | 15.33 | 090
29837 |  | A | Elbow arthroscopy/surgery | 6.87 | NA | 5.92 | 1.19 | NA | 13.99 | 090
29838 |  | A | Elbow arthroscopy/surgery | 7.72 | NA | 6.66 | 1.30 | NA | 15.67 | 090
29840 |  | A | Wrist arthroscopy | 5.54 | NA | 5.15 | 0.84 | NA | 11.53 | 090
29843 |  | A | Wrist arthroscopy/surgery | 6.01 | NA | 5.44 | 0.92 | NA | 12.37 | 090
29844 |  | A | Wrist arthroscopy/surgery | 6.37 | NA | 5.63 | 1.04 | NA | 13.04 | 090
29845 |  | A | Wrist arthroscopy/surgery | 7.53 | NA | 6.29 | 0.99 | NA | 14.81 | 090
29846 |  | A | Wrist arthroscopy/surgery | 6.75 | NA | 5.86 | 1.07 | NA | 13.68 | 090
29847 |  | A | Wrist arthroscopy/surgery | 7.08 | NA | 5.99 | 1.08 | NA | 14.16 | 090
29848 |  | A | Wrist endoscopy/surgery | 5.44 | NA | 5.43 | 0.86 | NA | 11.73 | 090
29850 |  | A | Knee arthroscopy/surgery | 8.20 | NA | 5.02 | 1.25 | NA | 14.47 | 090
29851 |  | A | Knee arthroscopy/surgery | 13.11 | NA | 9.49 | 2.34 | NA | 24.93 | 090
29855 |  | A | Tibial arthroscopy/surgery | 10.62 | NA | 8.48 | 1.84 | NA | 20.95 | 090
29856 |  | A | Tibial arthroscopy/surgery | 14.15 | NA | 10.34 | 2.39 | NA | 26.87 | 090
29860 |  | A | Hip arthroscopy, dx | 8.06 | NA | 6.73 | 1.36 | NA | 16.15 | 090
29861 |  | A | Hip arthroscopy/surgery | 9.16 | NA | 7.11 | 1.59 | NA | 17.86 | 090
29862 |  | A | Hip arthroscopy/surgery | 9.91 | NA | 8.29 | 1.62 | NA | 19.82 | 090
29863 |  | A | Hip arthroscopy/surgery | 9.91 | NA | 8.25 | 1.42 | NA | 19.58 | 090
29866 |  | A | Autgrft implnt, knee w/scope | 13.91 | NA | 10.98 | 2.39 | NA | 27.28 | 090
29867 |  | A | Allgrft implnt, knee w/scope | 17.03 | NA | 12.80 | 2.78 | NA | 32.61 | 090
29868 |  | A | Meniscal trnspl, knee w/scpe | 23.64 | NA | 16.26 | 4.35 | NA | 44.25 | 090
29870 |  | A | Knee arthroscopy, dx | 5.07 | NA | 4.72 | 0.85 | NA | 10.64 | 090
29871 |  | A | Knee arthroscopy/drainage | 6.55 | NA | 5.68 | 1.14 | NA | 13.38 | 090
29873 |  | A | Knee arthroscopy/surgery | 6.00 | NA | 6.35 | 1.04 | NA | 13.39 | 090
29874 |  | A | Knee arthroscopy/surgery | 7.05 | NA | 5.88 | 1.11 | NA | 14.04 | 090
29875 |  | A | Knee arthroscopy/surgery | 6.31 | NA | 5.65 | 1.09 | NA | 13.06 | 090
29876 |  | A | Knee arthroscopy/surgery | 7.93 | NA | 6.80 | 1.37 | NA | 16.09 | 090
29877 |  | A | Knee arthroscopy/surgery | 7.35 | NA | 6.52 | 1.28 | NA | 15.16 | 090
29879 |  | A | Knee arthroscopy/surgery | 8.05 | NA | 6.89 | 1.39 | NA | 16.32 | 090
29880 |  | A | Knee arthroscopy/surgery | 8.51 | NA | 7.12 | 1.47 | NA | 17.10 | 090
29881 |  | A | Knee arthroscopy/surgery | 7.77 | NA | 6.73 | 1.34 | NA | 15.84 | 090
29882 |  | A | Knee arthroscopy/surgery | 8.66 | NA | 7.01 | 1.50 | NA | 17.16 | 090
29883 |  | A | Knee arthroscopy/surgery | 11.05 | NA | 8.77 | 1.92 | NA | 21.74 | 090
29884 |  | A | Knee arthroscopy/surgery | 7.33 | NA | 6.48 | 1.27 | NA | 15.09 | 090
29885 |  | A | Knee arthroscopy/surgery | 9.10 | NA | 7.71 | 1.58 | NA | 18.39 | 090
29886 |  | A | Knee arthroscopy/surgery | 7.55 | NA | 6.63 | 1.30 | NA | 15.47 | 090
29887 |  | A | Knee arthroscopy/surgery | 9.05 | NA | 7.67 | 1.57 | NA | 18.29 | 090
29888 |  | A | Knee arthroscopy/surgery | 13.91 | NA | 9.87 | 2.41 | NA | 26.19 | 090
29889 |  | A | Knee arthroscopy/surgery | 16.01 | NA | 12.04 | 2.78 | NA | 30.83 | 090
29891 |  | A | Ankle arthroscopy/surgery | 8.41 | NA | 7.29 | 1.39 | NA | 17.09 | 090
29892 |  | A | Ankle arthroscopy/surgery | 9.01 | NA | 7.52 | 1.41 | NA | 17.94 | 090
29893 |  | A | Scope, plantar fasciotomy | 5.22 | 6.64 | 4.09 | 0.63 | 12.49 | 9.94 | 090
29894 |  | A | Ankle arthroscopy/surgery | 7.21 | NA | 5.34 | 1.15 | NA | 13.71 | 090
29895 |  | A | Ankle arthroscopy/surgery | 6.99 | NA | 5.34 | 1.11 | NA | 13.44 | 090
29897 |  | A | Ankle arthroscopy/surgery | 7.18 | NA | 5.71 | 1.17 | NA | 14.06 | 090
29898 |  | A | Ankle arthroscopy/surgery | 8.33 | NA | 6.05 | 1.28 | NA | 15.66 | 090
29899 |  | A | Ankle arthroscopy/surgery | 13.92 | NA | 10.23 | 2.40 | NA | 26.54 | 090
29900 |  | A | Mcp joint arthroscopy, dx | 5.42 | NA | 5.67 | 0.94 | NA | 12.03 | 090
29901 |  | A | Mcp joint arthroscopy, surg | 6.13 | NA | 6.05 | 1.06 | NA | 13.25 | 090
29902 |  | A | Mcp joint arthroscopy, surg | 6.70 | NA | 6.33 | 1.12 | NA | 14.15 | 090
29999 |  | C | Arthroscopy of joint | 0.00 | 0.00 | 0.00 | 0.00 | 0.00 | 0.00 | YYY
30000 |  | A | Drainage of nose lesion | 1.43 | 3.99 | 1.37 | 0.12 | 5.54 | 2.92 | 010
30020 |  | A | Drainage of nose lesion | 1.43 | 3.41 | 1.45 | 0.12 | 4.97 | 3.00 | 010
30100 |  | A | Intranasal biopsy | 0.94 | 2.03 | 0.80 | 0.07 | 3.04 | 1.82 | 000
30110 |  | A | Removal of nose polyp(s) | 1.63 | 3.28 | 1.54 | 0.14 | 5.05 | 3.31 | 010
30115 |  | A | Removal of nose polyp(s) | 4.35 | NA | 5.73 | 0.41 | NA | 10.49 | 090
30117 |  | A | Removal of intranasal lesion | 3.17 | 13.54 | 4.61 | 0.26 | 16.97 | 8.04 | 090
30118 |  | A | Removal of intranasal lesion | 9.70 | NA | 9.03 | 0.78 | NA | 19.50 | 090
30120 |  | A | Revision of nose | 5.27 | 6.80 | 5.78 | 0.52 | 12.59 | 11.57 | 090
30124 |  | A | Removal of nose lesion | 3.11 | NA | 3.63 | 0.25 | NA | 6.98 | 090
30125 |  | A | Removal of nose lesion | 7.16 | NA | 8.11 | 0.63 | NA | 15.90 | 090
30130 |  | A | Removal of turbinate bones | 3.38 | NA | 5.52 | 0.31 | NA | 9.21 | 090
30140 |  | A | Removal of turbinate bones | 3.43 | NA | 6.22 | 0.35 | NA | 10.00 | 090
30150 |  | A | Partial removal of nose | 9.15 | NA | 10.64 | 0.93 | NA | 20.72 | 090
30160 |  | A | Removal of nose | 9.59 | NA | 9.92 | 0.88 | NA | 20.39 | 090
30200 |  | A | Injection treatment of nose | 0.78 | 1.64 | 0.73 | 0.06 | 2.48 | 1.57 | 000
30210 |  | A | Nasal sinus therapy | 1.08 | 2.12 | 1.29 | 0.09 | 3.30 | 2.46 | 010
30220 |  | A | Insert nasal septal button | 1.54 | 4.36 | 1.51 | 0.12 | 6.02 | 3.18 | 010
30300 |  | A | Remove nasal foreign body | 1.04 | 4.50 | 1.84 | 0.08 | 5.62 | 2.96 | 010
30310 |  | A | Remove nasal foreign body | 1.96 | NA | 3.04 | 0.16 | NA | 5.16 | 010
30320 |  | A | Remove nasal foreign body | 4.52 | NA | 6.84 | 0.39 | NA | 11.75 | 090
30400 |  | R | Reconstruction of nose | 9.84 | NA | 15.01 | 1.04 | NA | 25.89 | 090
30410 |  | R | Reconstruction of nose | 12.99 | NA | 17.64 | 1.42 | NA | 32.05 | 090
30420 |  | R | Reconstruction of nose | 15.89 | NA | 17.44 | 1.46 | NA | 34.80 | 090
30430 |  | R | Revision of nose | 7.21 | NA | 15.31 | 0.77 | NA | 23.30 | 090
30435 |  | R | Revision of nose | 11.71 | NA | 18.43 | 1.22 | NA | 31.36 | 090
30450 |  | R | Revision of nose | 18.66 | NA | 21.03 | 1.96 | NA | 41.65 | 090
30460 |  | A | Revision of nose | 9.97 | NA | 9.57 | 1.03 | NA | 20.57 | 090
30462 |  | A | Revision of nose | 19.58 | NA | 19.21 | 2.53 | NA | 41.32 | 090
30465 |  | A | Repair nasal stenosis | 11.64 | NA | 11.57 | 1.06 | NA | 24.28 | 090
30520 |  | A | Repair of nasal septum | 5.70 | NA | 6.65 | 0.46 | NA | 12.81 | 090
30540 |  | A | Repair nasal defect | 7.76 | NA | 9.00 | 0.67 | NA | 17.43 | 090
30545 |  | A | Repair nasal defect | 11.38 | NA | 11.78 | 1.70 | NA | 24.86 | 090
30560 |  | A | Release of nasal adhesions | 1.26 | 4.73 | 2.09 | 0.10 | 6.09 | 3.45 | 010
30580 |  | A | Repair upper jaw fistula | 6.69 | 7.88 | 5.69 | 0.89 | 15.46 | 13.27 | 090
30600 |  | A | Repair mouth/nose fistula | 6.02 | 7.54 | 4.90 | 0.70 | 14.26 | 11.63 | 090
30620 |  | A | Intranasal reconstruction | 5.97 | NA | 8.69 | 0.57 | NA | 15.23 | 090
30630 |  | A | Repair nasal septum defect | 7.12 | NA | 7.85 | 0.61 | NA | 15.58 | 090
30801 |  | A | Cauterization, inner nose | 1.09 | 4.06 | 1.92 | 0.09 | 5.25 | 3.10 | 010
30802 |  | A | Cauterization, inner nose | 2.03 | 4.58 | 2.36 | 0.16 | 6.78 | 4.56 | 010
30901 |  | A | Control of nosebleed | 1.21 | 1.34 | 0.31 | 0.11 | 2.67 | 1.63 | 000
30903 |  | A | Control of nosebleed | 1.54 | 2.74 | 0.48 | 0.13 | 4.42 | 2.16 | 000
30905 |  | A | Control of nosebleed | 1.97 | 3.51 | 0.73 | 0.17 | 5.65 | 2.88 | 000
30906 |  | A | Repeat control of nosebleed | 2.45 | 3.89 | 1.15 | 0.20 | 6.55 | 3.81 | 000
30915 |  | A | Ligation, nasal sinus artery | 7.20 | NA | 6.62 | 0.58 | NA | 14.40 | 090
30920 |  | A | Ligation, upper jaw artery | 9.84 | NA | 8.89 | 0.80 | NA | 19.52 | 090
30930 |  | A | Therapy, fracture of nose | 1.26 | NA | 1.61 | 0.12 | NA | 2.99 | 010
30999 |  | C | Nasal surgery procedure | 0.00 | 0.00 | 0.00 | 0.00 | 0.00 | 0.00 | YYY
31000 |  | A | Irrigation, maxillary sinus | 1.15 | 2.85 | 1.38 | 0.09 | 4.09 | 2.63 | 010
31002 |  | A | Irrigation, sphenoid sinus | 1.91 | NA | 3.13 | 0.15 | NA | 5.19 | 010
31020 |  | A | Exploration, maxillary sinus | 2.95 | 8.41 | 5.16 | 0.29 | 11.65 | 8.40 | 090
31030 |  | A | Exploration, maxillary sinus | 5.92 | 11.21 | 6.59 | 0.60 | 17.73 | 13.11 | 090
31032 |  | A | Explore sinus, remove polyps | 6.57 | NA | 7.16 | 0.59 | NA | 14.32 | 090
31040 |  | A | Exploration behind upper jaw | 9.43 | NA | 9.43 | 0.87 | NA | 19.73 | 090
31050 |  | A | Exploration, sphenoid sinus | 5.28 | NA | 6.29 | 0.49 | NA | 12.06 | 090
31051 |  | A | Sphenoid sinus surgery | 7.11 | NA | 8.19 | 0.62 | NA | 15.92 | 090
31070 |  | A | Exploration of frontal sinus | 4.28 | NA | 5.90 | 0.38 | NA | 10.56 | 090
31075 |  | A | Exploration of frontal sinus | 9.17 | NA | 9.59 | 0.75 | NA | 19.51 | 090
31080 |  | A | Removal of frontal sinus | 11.42 | NA | 13.18 | 1.23 | NA | 25.83 | 090
31081 |  | A | Removal of frontal sinus | 12.76 | NA | 13.68 | 2.46 | NA | 28.90 | 090
31084 |  | A | Removal of frontal sinus | 13.52 | NA | 13.27 | 1.19 | NA | 27.98 | 090
31085 |  | A | Removal of frontal sinus | 14.21 | NA | 13.72 | 1.72 | NA | 29.65 | 090
31086 |  | A | Removal of frontal sinus | 12.87 | NA | 13.07 | 1.07 | NA | 27.00 | 090
31087 |  | A | Removal of frontal sinus | 13.11 | NA | 12.29 | 1.44 | NA | 26.83 | 090
31090 |  | A | Exploration of sinuses | 9.54 | NA | 12.48 | 0.94 | NA | 22.96 | 090
31200 |  | A | Removal of ethmoid sinus | 4.97 | NA | 8.87 | 0.29 | NA | 14.13 | 090
31201 |  | A | Removal of ethmoid sinus | 8.38 | NA | 9.09 | 0.82 | NA | 18.28 | 090
31205 |  | A | Removal of ethmoid sinus | 10.24 | NA | 11.45 | 0.67 | NA | 22.36 | 090
31225 |  | A | Removal of upper jaw | 19.24 | NA | 17.49 | 1.59 | NA | 38.32 | 090
31230 |  | A | Removal of upper jaw | 21.95 | NA | 18.89 | 1.77 | NA | 42.62 | 090
31231 |  | A | Nasal endoscopy, dx | 1.10 | 3.34 | 0.86 | 0.09 | 4.54 | 2.05 | 000
31233 |  | A | Nasal/sinus endoscopy, dx | 2.18 | 4.23 | 1.44 | 0.20 | 6.62 | 3.82 | 000
31235 |  | A | Nasal/sinus endoscopy, dx | 2.65 | 4.82 | 1.67 | 0.26 | 7.72 | 4.57 | 000
31237 |  | A | Nasal/sinus endoscopy, surg | 2.99 | 5.08 | 1.82 | 0.28 | 8.35 | 5.09 | 000
31238 |  | A | Nasal/sinus endoscopy, surg | 3.27 | 5.11 | 2.02 | 0.27 | 8.65 | 5.56 | 000
31239 |  | A | Nasal/sinus endoscopy, surg | 8.71 | NA | 7.73 | 0.62 | NA | 17.05 | 010
31240 |  | A | Nasal/sinus endoscopy, surg | 2.62 | NA | 1.68 | 0.24 | NA | 4.53 | 000
31254 |  | A | Revision of ethmoid sinus | 4.65 | NA | 2.75 | 0.45 | NA | 7.85 | 000
31255 |  | A | Removal of ethmoid sinus | 6.96 | NA | 3.96 | 0.73 | NA | 11.65 | 000
31256 |  | A | Exploration maxillary sinus | 3.30 | NA | 2.04 | 0.33 | NA | 5.67 | 000
31267 |  | A | Endoscopy, maxillary sinus | 5.46 | NA | 3.17 | 0.55 | NA | 9.18 | 000
31276 |  | A | Sinus endoscopy, surgical | 8.86 | NA | 4.93 | 0.92 | NA | 14.71 | 000
31287 |  | A | Nasal/sinus endoscopy, surg | 3.92 | NA | 2.37 | 0.39 | NA | 6.68 | 000
31288 |  | A | Nasal/sinus endoscopy, surg | 4.58 | NA | 2.71 | 0.46 | NA | 7.75 | 000
31290 |  | A | Nasal/sinus endoscopy, surg | 17.24 | NA | 11.64 | 1.40 | NA | 30.29 | 010
31291 |  | A | Nasal/sinus endoscopy, surg | 18.20 | NA | 12.08 | 1.68 | NA | 31.95 | 010
31292 |  | A | Nasal/sinus endoscopy, surg | 14.77 | NA | 10.26 | 1.21 | NA | 26.24 | 010
31293 |  | A | Nasal/sinus endoscopy, surg | 16.22 | NA | 11.00 | 1.28 | NA | 28.50 | 010
31294 |  | A | Nasal/sinus endoscopy, surg | 19.07 | NA | 12.43 | 1.53 | NA | 33.03 | 010
31299 |  | C | Sinus surgery procedure | 0.00 | 0.00 | 0.00 | 0.00 | 0.00 | 0.00 | YYY
31300 |  | A | Removal of larynx lesion | 14.30 | NA | 14.71 | 1.17 | NA | 30.18 | 090
31320 |  | A | Diagnostic incision, larynx | 5.26 | NA | 10.05 | 0.46 | NA | 15.77 | 090
31360 |  | A | Removal of larynx | 17.08 | NA | 16.42 | 1.38 | NA | 34.88 | 090
31365 |  | A | Removal of larynx | 24.17 | NA | 19.92 | 1.97 | NA | 46.06 | 090
31367 |  | A | Partial removal of larynx | 21.87 | NA | 21.49 | 1.78 | NA | 45.14 | 090
31368 |  | A | Partial removal of larynx | 27.10 | NA | 25.03 | 2.20 | NA | 54.33 | 090
31370 |  | A | Partial removal of larynx | 21.39 | NA | 21.85 | 1.74 | NA | 44.98 | 090
31375 |  | A | Partial removal of larynx | 20.22 | NA | 20.05 | 1.63 | NA | 41.90 | 090
31380 |  | A | Partial removal of larynx | 20.22 | NA | 20.20 | 1.70 | NA | 42.12 | 090
31382 |  | A | Partial removal of larynx | 20.53 | NA | 21.26 | 1.67 | NA | 43.46 | 090
31390 |  | A | Removal of larynx & pharynx | 27.54 | NA | 23.90 | 2.23 | NA | 53.67 | 090
31395 |  | A | Reconstruct larynx & pharynx | 31.10 | NA | 27.81 | 2.48 | NA | 61.39 | 090
31400 |  | A | Revision of larynx | 10.31 | NA | 13.38 | 0.83 | NA | 24.52 | 090
31420 |  | A | Removal of epiglottis | 10.22 | NA | 9.33 | 0.83 | NA | 20.38 | 090
31500 |  | A | Insert emergency airway | 2.33 | NA | 0.54 | 0.17 | NA | 3.04 | 000
31502 |  | A | Change of windpipe airway | 0.65 | NA | 0.28 | 0.05 | NA | 0.98 | 000
31505 |  | A | Diagnostic laryngoscopy | 0.61 | 1.43 | 0.60 | 0.05 | 2.09 | 1.26 | 000
31510 |  | A | Laryngoscopy with biopsy | 1.92 | 3.23 | 1.22 | 0.16 | 5.31 | 3.30 | 000
31511 |  | A | Remove foreign body, larynx | 2.16 | 3.06 | 1.03 | 0.19 | 5.41 | 3.38 | 000
31512 |  | A | Removal of larynx lesion | 2.07 | 3.15 | 1.32 | 0.18 | 5.40 | 3.58 | 000
31513 |  | A | Injection into vocal cord | 2.10 | NA | 1.42 | 0.17 | NA | 3.69 | 000
31515 |  | A | Laryngoscopy for aspiration | 1.80 | 3.44 | 1.04 | 0.14 | 5.38 | 2.98 | 000
31520 |  | A | Diagnostic laryngoscopy | 2.57 | NA | 1.52 | 0.20 | NA | 4.28 | 000
31525 |  | A | Diagnostic laryngoscopy | 2.64 | 3.59 | 1.61 | 0.21 | 6.43 | 4.46 | 000
31526 |  | A | Diagnostic laryngoscopy | 2.58 | NA | 1.67 | 0.21 | NA | 4.45 | 000
31527 |  | A | Laryngoscopy for treatment | 3.28 | NA | 1.82 | 0.26 | NA | 5.36 | 000
31528 |  | A | Laryngoscopy and dilation | 2.37 | NA | 1.43 | 0.19 | NA | 3.99 | 000
31529 |  | A | Laryngoscopy and dilation | 2.69 | NA | 1.66 | 0.22 | NA | 4.56 | 000
31530 |  | A | Operative laryngoscopy | 3.39 | NA | 1.89 | 0.29 | NA | 5.57 | 000
31531 |  | A | Operative laryngoscopy | 3.59 | NA | 2.20 | 0.29 | NA | 6.07 | 000
31535 |  | A | Operative laryngoscopy | 3.17 | NA | 1.93 | 0.26 | NA | 5.36 | 000
31536 |  | A | Operative laryngoscopy | 3.56 | NA | 2.18 | 0.29 | NA | 6.02 | 000
31540 |  | A | Operative laryngoscopy | 4.13 | NA | 2.45 | 0.33 | NA | 6.91 | 000
31541 |  | A | Operative laryngoscopy | 4.53 | NA | 2.69 | 0.37 | NA | 7.58 | 000
31545 |  | A | Remove vc lesion w/scope | 6.31 | NA | 3.38 | 0.37 | NA | 10.07 | 000
31546 |  | A | Remove vc lesion scope/graft | 9.75 | NA | 4.88 | 0.78 | NA | 15.41 | 000
31560 |  | A | Operative laryngoscopy | 5.46 | NA | 3.04 | 0.43 | NA | 8.93 | 000
31561 |  | A | Operative laryngoscopy | 6.00 | NA | 3.25 | 0.49 | NA | 9.74 | 000
31570 |  | A | Laryngoscopy with injection | 3.87 | 5.43 | 2.30 | 0.31 | 9.61 | 6.48 | 000
31571 |  | A | Laryngoscopy with injection | 4.27 | NA | 2.51 | 0.35 | NA | 7.13 | 000
31575 |  | A | Diagnostic laryngoscopy | 1.10 | 1.86 | 0.87 | 0.09 | 3.05 | 2.06 | 000
31576 |  | A | Laryngoscopy with biopsy | 1.97 | 3.62 | 1.26 | 0.14 | 5.73 | 3.37 | 000
31577 |  | A | Remove foreign body, larynx | 2.47 | 3.67 | 1.49 | 0.21 | 6.36 | 4.17 | 000
31578 |  | A | Removal of larynx lesion | 2.85 | 4.19 | 1.48 | 0.23 | 7.27 | 4.55 | 000
31579 |  | A | Diagnostic laryngoscopy | 2.26 | 3.64 | 1.44 | 0.18 | 6.09 | 3.88 | 000
31580 |  | A | Revision of larynx | 12.38 | NA | 15.50 | 1.00 | NA | 28.89 | 090
31582 |  | A | Revision of larynx | 21.63 | NA | 25.01 | 1.75 | NA | 48.40 | 090
31584 |  | A | Treat larynx fracture | 19.65 | NA | 17.74 | 1.71 | NA | 39.10 | 090
31585 |  | A | Treat larynx fracture | 4.64 | NA | 6.55 | 0.38 | NA | 11.57 | 090
31586 |  | A | Treat larynx fracture | 8.04 | NA | 10.59 | 0.67 | NA | 19.29 | 090
31587 |  | A | Revision of larynx | 11.99 | NA | 9.04 | 0.97 | NA | 22.00 | 090
31588 |  | A | Revision of larynx | 13.12 | NA | 13.31 | 1.06 | NA | 27.48 | 090
31590 |  | A | Reinnervate larynx | 6.97 | NA | 14.97 | 0.84 | NA | 22.79 | 090
31595 |  | A | Larynx nerve surgery | 8.35 | NA | 10.28 | 0.68 | NA | 19.31 | 090
31599 |  | C | Larynx surgery procedure | 0.00 | 0.00 | 0.00 | 0.00 | 0.00 | 0.00 | YYY
31600 |  | A | Incision of windpipe | 7.18 | NA | 3.09 | 0.80 | NA | 11.08 | 000
31601 |  | A | Incision of windpipe | 4.45 | NA | 2.32 | 0.40 | NA | 7.17 | 000
31603 |  | A | Incision of windpipe | 4.15 | NA | 1.65 | 0.44 | NA | 6.24 | 000
31605 |  | A | Incision of windpipe | 3.58 | NA | 1.15 | 0.40 | NA | 5.13 | 000
31610 |  | A | Incision of windpipe | 8.77 | NA | 8.10 | 0.79 | NA | 17.66 | 090
31611 |  | A | Surgery/speech prosthesis | 5.64 | NA | 6.98 | 0.46 | NA | 13.08 | 090
31612 |  | A | Puncture/clear windpipe | 0.91 | 1.10 | 0.34 | 0.08 | 2.09 | 1.33 | 000
31613 |  | A | Repair windpipe opening | 4.59 | NA | 5.91 | 0.42 | NA | 10.92 | 090
31614 |  | A | Repair windpipe opening | 7.12 | NA | 8.67 | 0.58 | NA | 16.38 | 090
31615 |  | A | Visualization of windpipe | 2.09 | 2.55 | 1.17 | 0.16 | 4.80 | 3.43 | 000
31620 |  | A | Endobronchial us add-on | 1.40 | 5.59 | 0.54 | 0.11 | 7.10 | 2.05 | ZZZ
31622 |  | A | Dx bronchoscope/wash | 2.79 | 5.46 | 1.04 | 0.18 | 8.42 | 4.00 | 000
31623 |  | A | Dx bronchoscope/brush | 2.89 | 6.17 | 1.03 | 0.13 | 9.19 | 4.05 | 000
31624 |  | A | Dx bronchoscope/lavage | 2.89 | 5.56 | 1.03 | 0.13 | 8.57 | 4.05 | 000
31625 |  | A | Bronchoscopy w/biopsy(s) | 3.37 | 5.61 | 1.18 | 0.18 | 9.16 | 4.73 | 000
31628 |  | A | Bronchoscopy/lung bx, each | 3.81 | 6.81 | 1.28 | 0.18 | 10.80 | 5.26 | 000
31629 |  | A | Bronchoscopy/needle bx, each | 4.10 | 13.48 | 1.37 | 0.16 | 17.74 | 5.63 | 000
31630 |  | A | Bronchoscopy dilate/fx repr | 3.82 | NA | 1.66 | 0.32 | NA | 5.80 | 000
31631 |  | A | Bronchoscopy, dilate w/stent | 4.37 | NA | 1.72 | 0.34 | NA | 6.43 | 000
31632 |  | A | Bronchoscopy/lung bx, add'l | 1.03 | 0.80 | 0.30 | 0.18 | 2.01 | 1.52 | ZZZ
31633 |  | A | Bronchoscopy/needle bx add'l | 1.32 | 0.91 | 0.39 | 0.16 | 2.39 | 1.87 | ZZZ
31635 |  | A | Bronchoscopy w/fb removal | 3.68 | 5.90 | 1.39 | 0.24 | 9.81 | 5.31 | 000
31636 |  | A | Bronchoscopy, bronch stents | 4.31 | NA | 1.72 | 0.31 | NA | 6.34 | 000
31637 |  | A | Bronchoscopy, stent add-on | 1.58 | NA | 0.55 | 0.13 | NA | 2.26 | ZZZ
31638 |  | A | Bronchoscopy, revise stent | 4.89 | NA | 1.92 | 0.22 | NA | 7.03 | 000
31640 |  | A | Bronchoscopy w/tumor excise | 4.94 | NA | 2.01 | 0.46 | NA | 7.41 | 000
31641 |  | A | Bronchoscopy, treat blockage | 5.03 | NA | 1.83 | 0.35 | NA | 7.21 | 000
31643 |  | A | Diag bronchoscope/catheter | 3.50 | NA | 1.20 | 0.20 | NA | 4.90 | 000
31645 |  | A | Bronchoscopy, clear airways | 3.17 | 4.95 | 1.10 | 0.16 | 8.28 | 4.43 | 000
31646 |  | A | Bronchoscopy, reclear airway | 2.73 | 4.68 | 0.98 | 0.14 | 7.54 | 3.85 | 000
31656 |  | A | Bronchoscopy, inj for x-ray | 2.17 | 6.94 | 0.83 | 0.15 | 9.27 | 3.16 | 000
31700 |  | A | Insertion of airway catheter | 1.34 | 2.16 | 0.67 | 0.08 | 3.58 | 2.10 | 000
31708 |  | A | Instill airway contrast dye | 1.41 | NA | 0.48 | 0.07 | NA | 1.97 | 000
31710 |  | A | Insertion of airway catheter | 1.30 | NA | 0.42 | 0.12 | NA | 1.84 | 000
31715 |  | A | Injection for bronchus x-ray | 1.11 | NA | 0.34 | 0.07 | NA | 1.53 | 000
31717 |  | A | Bronchial brush biopsy | 2.12 | 7.76 | 0.78 | 0.14 | 10.02 | 3.05 | 000
31720 |  | A | Clearance of airways | 1.06 | NA | 0.32 | 0.07 | NA | 1.46 | 000
31725 |  | A | Clearance of airways | 1.96 | NA | 0.57 | 0.14 | NA | 2.67 | 000
31730 |  | A | Intro, windpipe wire/tube | 2.86 | 7.21 | 0.97 | 0.21 | 10.27 | 4.03 | 000
31750 |  | A | Repair of windpipe | 13.03 | NA | 17.23 | 1.05 | NA | 31.30 | 090
31755 |  | A | Repair of windpipe | 15.94 | NA | 24.11 | 1.29 | NA | 41.34 | 090
31760 |  | A | Repair of windpipe | 22.36 | NA | 10.59 | 2.94 | NA | 35.89 | 090
31766 |  | A | Reconstruction of windpipe | 30.44 | NA | 13.49 | 4.52 | NA | 48.45 | 090
31770 |  | A | Repair/graft of bronchus | 22.52 | NA | 10.00 | 2.83 | NA | 35.35 | 090
31775 |  | A | Reconstruct bronchus | 23.55 | NA | 11.47 | 3.01 | NA | 38.02 | 090
31780 |  | A | Reconstruct windpipe | 17.73 | NA | 10.66 | 1.65 | NA | 30.03 | 090
31781 |  | A | Reconstruct windpipe | 23.54 | NA | 11.70 | 2.24 | NA | 37.48 | 090
31785 |  | A | Remove windpipe lesion | 17.23 | NA | 9.85 | 1.59 | NA | 28.67 | 090
31786 |  | A | Remove windpipe lesion | 23.99 | NA | 12.72 | 3.29 | NA | 40.00 | 090
31800 |  | A | Repair of windpipe injury | 7.43 | NA | 8.95 | 0.79 | NA | 17.17 | 090
31805 |  | A | Repair of windpipe injury | 13.14 | NA | 7.04 | 1.82 | NA | 22.00 | 090
31820 |  | A | Closure of windpipe lesion | 4.49 | 5.62 | 3.57 | 0.38 | 10.49 | 8.44 | 090
31825 |  | A | Repair of windpipe defect | 6.81 | 7.56 | 5.24 | 0.53 | 14.90 | 12.58 | 090
31830 |  | A | Revise windpipe scar | 4.50 | 5.72 | 3.90 | 0.44 | 10.66 | 8.83 | 090
31899 |  | C | Airways surgical procedure | 0.00 | 0.00 | 0.00 | 0.00 | 0.00 | 0.00 | YYY
32000 |  | A | Drainage of chest | 1.54 | 2.92 | 0.48 | 0.08 | 4.54 | 2.10 | 000
32002 |  | A | Treatment of collapsed lung | 2.19 | 3.14 | 1.08 | 0.12 | 5.45 | 3.39 | 000
32005 |  | A | Treat lung lining chemically | 2.19 | 6.09 | 0.68 | 0.23 | 8.51 | 3.11 | 000
32019 |  | A | Insert pleural catheter | 4.18 | 18.66 | 1.62 | 0.42 | 23.26 | 6.22 | 000
32020 |  | A | Insertion of chest tube | 3.98 | NA | 1.32 | 0.43 | NA | 5.73 | 000
32035 |  | A | Exploration of chest | 8.68 | NA | 5.73 | 1.26 | NA | 15.67 | 090
32036 |  | A | Exploration of chest | 9.69 | NA | 6.26 | 1.43 | NA | 17.38 | 090
32095 |  | A | Biopsy through chest wall | 8.37 | NA | 5.25 | 1.22 | NA | 14.83 | 090
32100 |  | A | Exploration/biopsy of chest | 15.25 | NA | 7.65 | 2.23 | NA | 25.13 | 090
32110 |  | A | Explore/repair chest | 23.02 | NA | 10.50 | 3.21 | NA | 36.72 | 090
32120 |  | A | Re-exploration of chest | 11.54 | NA | 6.89 | 1.63 | NA | 20.06 | 090
32124 |  | A | Explore chest free adhesions | 12.73 | NA | 7.08 | 1.89 | NA | 21.69 | 090
32140 |  | A | Removal of lung lesion(s) | 13.94 | NA | 7.53 | 1.96 | NA | 23.43 | 090
32141 |  | A | Remove/treat lung lesions | 14.01 | NA | 7.39 | 2.00 | NA | 23.40 | 090
32150 |  | A | Removal of lung lesion(s) | 14.16 | NA | 7.47 | 2.00 | NA | 23.63 | 090
32151 |  | A | Remove lung foreign body | 14.22 | NA | 7.93 | 2.03 | NA | 24.18 | 090
32160 |  | A | Open chest heart massage | 9.31 | NA | 5.19 | 1.31 | NA | 15.81 | 090
32200 |  | A | Drain, open, lung lesion | 15.30 | NA | 8.72 | 2.13 | NA | 26.16 | 090
32201 |  | A | Drain, percut, lung lesion | 4.00 | 21.42 | 1.37 | 0.24 | 25.66 | 5.60 | 000
32215 |  | A | Treat chest lining | 11.33 | NA | 6.72 | 1.68 | NA | 19.73 | 090
32220 |  | A | Release of lung | 24.01 | NA | 12.63 | 3.56 | NA | 40.20 | 090
32225 |  | A | Partial release of lung | 13.97 | NA | 7.49 | 2.06 | NA | 23.52 | 090
32310 |  | A | Removal of chest lining | 13.45 | NA | 7.24 | 1.99 | NA | 22.67 | 090
32320 |  | A | Free/remove chest lining | 24.01 | NA | 11.91 | 3.51 | NA | 39.42 | 090
32400 |  | A | Needle biopsy chest lining | 1.76 | 2.16 | 0.56 | 0.10 | 4.03 | 2.42 | 000
32402 |  | A | Open biopsy chest lining | 7.57 | NA | 4.98 | 1.07 | NA | 13.62 | 090
32405 |  | A | Biopsy, lung or mediastinum | 1.93 | 0.69 | 0.66 | 0.11 | 2.74 | 2.71 | 000
32420 |  | A | Puncture/clear lung | 2.18 | NA | 0.69 | 0.12 | NA | 2.99 | 000
32440 |  | A | Removal of lung | 25.01 | NA | 12.36 | 3.68 | NA | 41.05 | 090
32442 |  | A | Sleeve pneumonectomy | 26.25 | NA | 14.11 | 3.84 | NA | 44.21 | 090
32445 |  | A | Removal of lung | 25.10 | NA | 13.42 | 3.71 | NA | 42.23 | 090
32480 |  | A | Partial removal of lung | 23.76 | NA | 11.57 | 3.49 | NA | 38.82 | 090
32482 |  | A | Bilobectomy | 25.01 | NA | 12.42 | 3.66 | NA | 41.09 | 090
32484 |  | A | Segmentectomy | 20.70 | NA | 10.89 | 3.03 | NA | 34.62 | 090
32486 |  | A | Sleeve lobectomy | 23.93 | NA | 12.60 | 3.51 | NA | 40.04 | 090
32488 |  | A | Completion pneumonectomy | 25.72 | NA | 13.17 | 3.80 | NA | 42.69 | 090
32491 |  | R | Lung volume reduction | 21.26 | NA | 11.97 | 2.98 | NA | 36.21 | 090
32500 |  | A | Partial removal of lung | 22.01 | NA | 11.78 | 3.25 | NA | 37.04 | 090
32501 |  | A | Repair bronchus add-on | 4.69 | NA | 1.51 | 0.65 | NA | 6.85 | ZZZ
32520 |  | A | Remove lung & revise chest | 21.69 | NA | 10.81 | 3.20 | NA | 35.70 | 090
32522 |  | A | Remove lung & revise chest | 24.21 | NA | 11.65 | 3.32 | NA | 39.18 | 090
32525 |  | A | Remove lung & revise chest | 26.51 | NA | 12.30 | 3.87 | NA | 42.68 | 090
32540 |  | A | Removal of lung lesion | 14.65 | NA | 9.15 | 2.07 | NA | 25.87 | 090
32601 |  | A | Thoracoscopy, diagnostic | 5.46 | NA | 2.30 | 0.80 | NA | 8.57 | 000
32602 |  | A | Thoracoscopy, diagnostic | 5.96 | NA | 2.47 | 0.87 | NA | 9.30 | 000
32603 |  | A | Thoracoscopy, diagnostic | 7.82 | NA | 2.97 | 1.14 | NA | 11.92 | 000
32604 |  | A | Thoracoscopy, diagnostic | 8.79 | NA | 3.39 | 1.25 | NA | 13.43 | 000
32605 |  | A | Thoracoscopy, diagnostic | 6.93 | NA | 2.84 | 1.00 | NA | 10.78 | 000
32606 |  | A | Thoracoscopy, diagnostic | 8.41 | NA | 3.27 | 1.22 | NA | 12.89 | 000
32650 |  | A | Thoracoscopy, surgical | 10.75 | NA | 6.45 | 1.58 | NA | 18.78 | 090
32651 |  | A | Thoracoscopy, surgical | 12.92 | NA | 6.95 | 1.86 | NA | 21.73 | 090
32652 |  | A | Thoracoscopy, surgical | 18.67 | NA | 9.69 | 2.72 | NA | 31.08 | 090
32653 |  | A | Thoracoscopy, surgical | 12.88 | NA | 6.67 | 1.88 | NA | 21.42 | 090
32654 |  | A | Thoracoscopy, surgical | 12.44 | NA | 7.15 | 1.63 | NA | 21.22 | 090
32655 |  | A | Thoracoscopy, surgical | 13.11 | NA | 6.96 | 1.89 | NA | 21.96 | 090
32656 |  | A | Thoracoscopy, surgical | 12.92 | NA | 7.54 | 1.89 | NA | 22.34 | 090
32657 |  | A | Thoracoscopy, surgical | 13.66 | NA | 7.35 | 1.99 | NA | 22.99 | 090
32658 |  | A | Thoracoscopy, surgical | 11.63 | NA | 6.95 | 1.69 | NA | 20.27 | 090
32659 |  | A | Thoracoscopy, surgical | 11.59 | NA | 7.08 | 1.62 | NA | 20.29 | 090
32660 |  | A | Thoracoscopy, surgical | 17.43 | NA | 8.99 | 2.08 | NA | 28.50 | 090
32661 |  | A | Thoracoscopy, surgical | 13.26 | NA | 7.43 | 1.92 | NA | 22.61 | 090
32662 |  | A | Thoracoscopy, surgical | 16.45 | NA | 8.45 | 2.17 | NA | 27.07 | 090
32663 |  | A | Thoracoscopy, surgical | 18.48 | NA | 10.24 | 2.72 | NA | 31.44 | 090
32664 |  | A | Thoracoscopy, surgical | 14.21 | NA | 7.35 | 2.32 | NA | 23.88 | 090
32665 |  | A | Thoracoscopy, surgical | 15.55 | NA | 7.88 | 2.15 | NA | 25.58 | 090
32800 |  | A | Repair lung hernia | 13.70 | NA | 7.28 | 1.98 | NA | 22.96 | 090
32810 |  | A | Close chest after drainage | 13.06 | NA | 7.37 | 1.93 | NA | 22.36 | 090
32815 |  | A | Close bronchial fistula | 23.17 | NA | 10.69 | 3.27 | NA | 37.12 | 090
32820 |  | A | Reconstruct injured chest | 21.49 | NA | 11.99 | 2.52 | NA | 36.00 | 090
32851 |  | A | Lung transplant, single | 38.65 | NA | 25.98 | 5.56 | NA | 70.19 | 090
32852 |  | A | Lung transplant with bypass | 41.82 | NA | 30.94 | 6.00 | NA | 78.76 | 090
32853 |  | A | Lung transplant, double | 47.84 | NA | 29.88 | 7.05 | NA | 84.77 | 090
32854 |  | A | Lung transplant with bypass | 51.00 | NA | 32.72 | 7.20 | NA | 90.92 | 090
32855 |  | C | Prepare donor lung, single | 0.00 | 0.00 | 0.00 | 0.00 | 0.00 | 0.00 | XXX
32856 |  | C | Prepare donor lung, double | 0.00 | 0.00 | 0.00 | 0.00 | 0.00 | 0.00 | XXX
32900 |  | A | Removal of rib(s) | 20.28 | NA | 9.73 | 2.93 | NA | 32.94 | 090
32905 |  | A | Revise & repair chest wall | 20.76 | NA | 9.90 | 3.15 | NA | 33.81 | 090
32906 |  | A | Revise & repair chest wall | 26.78 | NA | 11.79 | 3.97 | NA | 42.54 | 090
32940 |  | A | Revision of lung | 19.44 | NA | 9.22 | 2.88 | NA | 31.54 | 090
32960 |  | A | Therapeutic pneumothorax | 1.84 | 1.72 | 0.55 | 0.16 | 3.72 | 2.55 | 000
32997 |  | A | Total lung lavage | 6.00 | NA | 1.86 | 0.55 | NA | 8.41 | 000
32999 |  | C | Chest surgery procedure | 0.00 | 0.00 | 0.00 | 0.00 | 0.00 | 0.00 | YYY
33010 |  | A | Drainage of heart sac | 2.24 | NA | 0.80 | 0.14 | NA | 3.19 | 000
33011 |  | A | Repeat drainage of heart sac | 2.24 | NA | 0.84 | 0.15 | NA | 3.23 | 000
33015 |  | A | Incision of heart sac | 6.80 | NA | 4.87 | 0.65 | NA | 12.33 | 090
33020 |  | A | Incision of heart sac | 12.62 | NA | 6.63 | 1.79 | NA | 21.03 | 090
33025 |  | A | Incision of heart sac | 12.09 | NA | 6.19 | 1.80 | NA | 20.09 | 090
33030 |  | A | Partial removal of heart sac | 18.72 | NA | 9.25 | 2.83 | NA | 30.80 | 090
33031 |  | A | Partial removal of heart sac | 21.80 | NA | 9.77 | 3.13 | NA | 34.71 | 090
33050 |  | A | Removal of heart sac lesion | 14.37 | NA | 7.68 | 2.14 | NA | 24.18 | 090
33120 |  | A | Removal of heart lesion | 24.57 | NA | 11.29 | 3.69 | NA | 39.54 | 090
33130 |  | A | Removal of heart lesion | 21.40 | NA | 9.93 | 3.00 | NA | 34.34 | 090
33140 |  | A | Heart revascularize (tmr) | 20.01 | NA | 10.59 | 2.85 | NA | 33.45 | 090
33141 |  | A | Heart tmr w/other procedure | 4.84 | NA | 1.55 | 0.69 | NA | 7.08 | ZZZ
33200 |  | A | Insertion of heart pacemaker | 12.48 | NA | 6.92 | 1.70 | NA | 21.11 | 090
33201 |  | A | Insertion of heart pacemaker | 10.18 | NA | 6.49 | 1.36 | NA | 18.03 | 090
33206 |  | A | Insertion of heart pacemaker | 6.67 | NA | 4.59 | 0.52 | NA | 11.79 | 090
33207 |  | A | Insertion of heart pacemaker | 8.05 | NA | 4.83 | 0.59 | NA | 13.46 | 090
33208 |  | A | Insertion of heart pacemaker | 8.14 | NA | 4.98 | 0.56 | NA | 13.67 | 090
33210 |  | A | Insertion of heart electrode | 3.31 | NA | 1.30 | 0.18 | NA | 4.78 | 000
33211 |  | A | Insertion of heart electrode | 3.40 | NA | 1.37 | 0.21 | NA | 4.97 | 000
33212 |  | A | Insertion of pulse generator | 5.52 | NA | 3.44 | 0.43 | NA | 9.39 | 090
33213 |  | A | Insertion of pulse generator | 6.37 | NA | 3.86 | 0.45 | NA | 10.68 | 090
33214 |  | A | Upgrade of pacemaker system | 7.76 | NA | 5.09 | 0.58 | NA | 13.43 | 090
33215 |  | A | Reposition pacing-defib lead | 4.76 | NA | 3.38 | 0.37 | NA | 8.51 | 090
33216 |  | A | Insert lead pace-defib, one | 5.78 | NA | 4.39 | 0.36 | NA | 10.54 | 090
33217 |  | A | Insert lead pace-defib, dual | 5.75 | NA | 4.45 | 0.39 | NA | 10.59 | 090
33218 |  | A | Repair lead pace-defib, one | 5.44 | NA | 4.46 | 0.37 | NA | 10.27 | 090
33220 |  | A | Repair lead pace-defib, dual | 5.52 | NA | 4.46 | 0.37 | NA | 10.35 | 090
33222 |  | A | Revise pocket, pacemaker | 4.96 | NA | 4.42 | 0.42 | NA | 9.80 | 090
33223 |  | A | Revise pocket, pacing-defib | 6.46 | NA | 4.77 | 0.45 | NA | 11.68 | 090
33224 |  | A | Insert pacing lead & connect | 9.06 | NA | 4.21 | 0.54 | NA | 13.80 | 000
33225 |  | A | L ventric pacing lead add-on | 8.35 | NA | 3.40 | 0.45 | NA | 12.20 | ZZZ
33226 |  | A | Reposition l ventric lead | 8.70 | NA | 3.97 | 0.59 | NA | 13.25 | 000
33233 |  | A | Removal of pacemaker system | 3.30 | NA | 3.42 | 0.22 | NA | 6.94 | 090
33234 |  | A | Removal of pacemaker system | 7.83 | NA | 5.06 | 0.56 | NA | 13.45 | 090
33235 |  | A | Removal pacemaker electrode | 9.41 | NA | 7.06 | 0.73 | NA | 17.20 | 090
33236 |  | A | Remove electrode/thoracotomy | 12.61 | NA | 7.35 | 1.68 | NA | 21.64 | 090
33237 |  | A | Remove electrode/thoracotomy | 13.72 | NA | 7.78 | 1.59 | NA | 23.08 | 090
33238 |  | A | Remove electrode/thoracotomy | 15.23 | NA | 8.15 | 2.02 | NA | 25.40 | 090
33240 |  | A | Insert pulse generator | 7.61 | NA | 4.72 | 0.41 | NA | 12.74 | 090
33241 |  | A | Remove pulse generator | 3.25 | NA | 3.09 | 0.18 | NA | 6.52 | 090
33243 |  | A | Remove eltrd/thoracotomy | 22.66 | NA | 11.36 | 2.09 | NA | 36.11 | 090
33244 |  | A | Remove eltrd, transven | 13.77 | NA | 9.12 | 0.99 | NA | 23.88 | 090
33245 |  | A | Insert epic eltrd pace-defib | 14.31 | NA | 8.05 | 2.01 | NA | 24.37 | 090
33246 |  | A | Insert epic eltrd/generator | 20.72 | NA | 10.36 | 2.63 | NA | 33.71 | 090
33249 |  | A | Eltrd/insert pace-defib | 14.24 | NA | 8.82 | 0.77 | NA | 23.83 | 090
33250 |  | A | Ablate heart dysrhythm focus | 21.86 | NA | 11.92 | 3.18 | NA | 36.96 | 090
33251 |  | A | Ablate heart dysrhythm focus | 24.89 | NA | 11.44 | 3.59 | NA | 39.92 | 090
33253 |  | A | Reconstruct atria | 31.07 | NA | 13.48 | 4.52 | NA | 49.08 | 090
33261 |  | A | Ablate heart dysrhythm focus | 24.89 | NA | 11.47 | 3.45 | NA | 39.81 | 090
33282 |  | A | Implant pat-active ht record | 4.17 | NA | 4.20 | 0.23 | NA | 8.60 | 090
33284 |  | A | Remove pat-active ht record | 2.51 | NA | 3.56 | 0.14 | NA | 6.20 | 090
33300 |  | A | Repair of heart wound | 17.93 | NA | 9.18 | 2.65 | NA | 29.76 | 090
33305 |  | A | Repair of heart wound | 21.45 | NA | 10.32 | 3.12 | NA | 34.90 | 090
33310 |  | A | Exploratory heart surgery | 18.52 | NA | 9.32 | 2.58 | NA | 30.42 | 090
33315 |  | A | Exploratory heart surgery | 22.38 | NA | 10.57 | 3.27 | NA | 36.22 | 090
33320 |  | A | Repair major blood vessel(s) | 16.79 | NA | 8.23 | 2.07 | NA | 27.09 | 090
33321 |  | A | Repair major vessel | 20.21 | NA | 9.56 | 2.90 | NA | 32.67 | 090
33322 |  | A | Repair major blood vessel(s) | 20.63 | NA | 10.16 | 2.85 | NA | 33.64 | 090
33330 |  | A | Insert major vessel graft | 21.44 | NA | 10.06 | 2.81 | NA | 34.31 | 090
33332 |  | A | Insert major vessel graft | 23.97 | NA | 10.31 | 3.02 | NA | 37.30 | 090
33335 |  | A | Insert major vessel graft | 30.02 | NA | 12.98 | 4.27 | NA | 47.27 | 090
33400 |  | A | Repair of aortic valve | 28.52 | NA | 14.97 | 4.10 | NA | 47.59 | 090
33401 |  | A | Valvuloplasty, open | 23.92 | NA | 13.45 | 3.56 | NA | 40.93 | 090
33403 |  | A | Valvuloplasty, w/cp bypass | 24.90 | NA | 13.75 | 3.54 | NA | 42.19 | 090
33404 |  | A | Prepare heart-aorta conduit | 28.56 | NA | 13.97 | 4.32 | NA | 46.84 | 090
33405 |  | A | Replacement of aortic valve | 35.02 | NA | 17.44 | 5.31 | NA | 57.77 | 090
33406 |  | A | Replacement of aortic valve | 37.51 | NA | 18.22 | 5.43 | NA | 61.16 | 090
33410 |  | A | Replacement of aortic valve | 32.47 | NA | 15.85 | 4.68 | NA | 53.00 | 090
33411 |  | A | Replacement of aortic valve | 36.27 | NA | 17.89 | 5.46 | NA | 59.63 | 090
33412 |  | A | Replacement of aortic valve | 42.02 | NA | 19.54 | 6.37 | NA | 67.93 | 090
33413 |  | A | Replacement of aortic valve | 43.52 | NA | 19.98 | 6.51 | NA | 70.00 | 090
33414 |  | A | Repair of aortic valve | 30.36 | NA | 13.80 | 4.56 | NA | 48.72 | 090
33415 |  | A | Revision, subvalvular tissue | 27.16 | NA | 11.72 | 4.13 | NA | 43.02 | 090
33416 |  | A | Revise ventricle muscle | 30.36 | NA | 13.13 | 4.56 | NA | 48.05 | 090
33417 |  | A | Repair of aortic valve | 28.55 | NA | 13.26 | 4.09 | NA | 45.90 | 090
33420 |  | A | Revision of mitral valve | 22.72 | NA | 9.43 | 1.81 | NA | 33.95 | 090
33422 |  | A | Revision of mitral valve | 25.95 | NA | 12.99 | 3.93 | NA | 42.87 | 090
33425 |  | A | Repair of mitral valve | 27.01 | NA | 12.48 | 4.06 | NA | 43.56 | 090
33426 |  | A | Repair of mitral valve | 33.02 | NA | 16.35 | 5.01 | NA | 54.37 | 090
33427 |  | A | Repair of mitral valve | 40.02 | NA | 18.50 | 6.07 | NA | 64.59 | 090
33430 |  | A | Replacement of mitral valve | 33.52 | NA | 16.51 | 5.08 | NA | 55.10 | 090
33460 |  | A | Revision of tricuspid valve | 23.61 | NA | 10.97 | 3.44 | NA | 38.02 | 090
33463 |  | A | Valvuloplasty, tricuspid | 25.63 | NA | 12.58 | 3.86 | NA | 42.07 | 090
33464 |  | A | Valvuloplasty, tricuspid | 27.34 | NA | 13.16 | 4.14 | NA | 44.65 | 090
33465 |  | A | Replace tricuspid valve | 28.81 | NA | 12.64 | 4.38 | NA | 45.82 | 090
33468 |  | A | Revision of tricuspid valve | 30.13 | NA | 13.24 | 4.06 | NA | 47.43 | 090
33470 |  | A | Revision of pulmonary valve | 20.82 | NA | 10.71 | 1.03 | NA | 32.56 | 090
33471 |  | A | Valvotomy, pulmonary valve | 22.26 | NA | 9.77 | 3.38 | NA | 35.41 | 090
33472 |  | A | Revision of pulmonary valve | 22.26 | NA | 11.93 | 3.54 | NA | 37.73 | 090
33474 |  | A | Revision of pulmonary valve | 23.06 | NA | 10.74 | 3.21 | NA | 37.00 | 090
33475 |  | A | Replacement, pulmonary valve | 33.02 | NA | 15.10 | 4.92 | NA | 53.04 | 090
33476 |  | A | Revision of heart chamber | 25.78 | NA | 12.17 | 2.41 | NA | 40.36 | 090
33478 |  | A | Revision of heart chamber | 26.75 | NA | 12.66 | 3.88 | NA | 43.29 | 090
33496 |  | A | Repair, prosth valve clot | 27.26 | NA | 12.45 | 4.12 | NA | 43.83 | 090
33500 |  | A | Repair heart vessel fistula | 25.56 | NA | 11.23 | 3.86 | NA | 40.65 | 090
33501 |  | A | Repair heart vessel fistula | 17.79 | NA | 8.19 | 1.90 | NA | 27.87 | 090
33502 |  | A | Coronary artery correction | 21.05 | NA | 10.82 | 2.99 | NA | 34.86 | 090
33503 |  | A | Coronary artery graft | 21.79 | NA | 9.79 | 1.77 | NA | 33.36 | 090
33504 |  | A | Coronary artery graft | 24.67 | NA | 11.64 | 3.35 | NA | 39.66 | 090
33505 |  | A | Repair artery w/tunnel | 26.85 | NA | 12.68 | 2.18 | NA | 41.72 | 090
33506 |  | A | Repair artery, translocation | 35.52 | NA | 14.19 | 4.65 | NA | 54.36 | 090
33508 |  | A | Endoscopic vein harvest | 0.31 | NA | 0.10 | 0.04 | NA | 0.45 | ZZZ
33510 |  | A | CABG, vein, single | 29.02 | NA | 15.53 | 4.40 | NA | 48.95 | 090
33511 |  | A | CABG, vein, two | 30.02 | NA | 16.23 | 4.55 | NA | 50.80 | 090
33512 |  | A | CABG, vein, three | 31.81 | NA | 16.76 | 4.66 | NA | 53.24 | 090
33513 |  | A | CABG, vein, four | 32.01 | NA | 16.93 | 4.87 | NA | 53.81 | 090
33514 |  | A | CABG, vein, five | 32.77 | NA | 17.19 | 4.76 | NA | 54.72 | 090
33516 |  | A | Cabg, vein, six or more | 35.02 | NA | 17.95 | 5.11 | NA | 58.08 | 090
33517 |  | A | CABG, artery-vein, single | 2.58 | NA | 0.82 | 0.39 | NA | 3.79 | ZZZ
33518 |  | A | CABG, artery-vein, two | 4.85 | NA | 1.55 | 0.73 | NA | 7.13 | ZZZ
33519 |  | A | CABG, artery-vein, three | 7.12 | NA | 2.28 | 1.04 | NA | 10.44 | ZZZ
33521 |  | A | CABG, artery-vein, four | 9.41 | NA | 3.01 | 1.37 | NA | 13.79 | ZZZ
33522 |  | A | CABG, artery-vein, five | 11.67 | NA | 3.74 | 1.77 | NA | 17.18 | ZZZ
33523 |  | A | Cabg, art-vein, six or more | 13.96 | NA | 4.44 | 2.12 | NA | 20.52 | ZZZ
33530 |  | A | Coronary artery, bypass/reop | 5.86 | NA | 1.87 | 0.88 | NA | 8.61 | ZZZ
33533 |  | A | CABG, arterial, single | 30.02 | NA | 15.67 | 4.55 | NA | 50.24 | 090
33534 |  | A | CABG, arterial, two | 32.21 | NA | 16.85 | 4.69 | NA | 53.75 | 090
33535 |  | A | CABG, arterial, three | 34.52 | NA | 17.30 | 5.01 | NA | 56.83 | 090
33536 |  | A | Cabg, arterial, four or more | 37.51 | NA | 17.58 | 5.42 | NA | 60.52 | 090
33542 |  | A | Removal of heart lesion | 28.87 | NA | 12.67 | 4.37 | NA | 45.91 | 090
33545 |  | A | Repair of heart damage | 36.79 | NA | 15.37 | 5.19 | NA | 57.35 | 090
33572 |  | A | Open coronary endarterectomy | 4.45 | NA | 1.42 | 0.65 | NA | 6.52 | ZZZ
33600 |  | A | Closure of valve | 29.53 | NA | 12.38 | 4.41 | NA | 46.32 | 090
33602 |  | A | Closure of valve | 28.56 | NA | 12.52 | 3.81 | NA | 44.88 | 090
33606 |  | A | Anastomosis/artery-aorta | 30.75 | NA | 13.32 | 4.40 | NA | 48.47 | 090
33608 |  | A | Repair anomaly w/conduit | 31.10 | NA | 13.68 | 4.73 | NA | 49.51 | 090
33610 |  | A | Repair by enlargement | 30.62 | NA | 13.44 | 4.55 | NA | 48.61 | 090
33611 |  | A | Repair double ventricle | 34.02 | NA | 13.78 | 4.36 | NA | 52.16 | 090
33612 |  | A | Repair double ventricle | 35.02 | NA | 14.82 | 5.28 | NA | 55.12 | 090
33615 |  | A | Repair, modified fontan | 34.02 | NA | 12.93 | 4.31 | NA | 51.26 | 090
33617 |  | A | Repair single ventricle | 37.01 | NA | 15.54 | 5.64 | NA | 58.19 | 090
33619 |  | A | Repair single ventricle | 45.02 | NA | 20.23 | 6.44 | NA | 71.69 | 090
33641 |  | A | Repair heart septum defect | 21.40 | NA | 9.33 | 3.22 | NA | 33.95 | 090
33645 |  | A | Revision of heart veins | 24.83 | NA | 11.50 | 3.78 | NA | 40.11 | 090
33647 |  | A | Repair heart septum defects | 28.75 | NA | 13.50 | 3.31 | NA | 45.56 | 090
33660 |  | A | Repair of heart defects | 30.02 | NA | 13.24 | 4.48 | NA | 47.74 | 090
33665 |  | A | Repair of heart defects | 28.62 | NA | 13.32 | 3.99 | NA | 45.93 | 090
33670 |  | A | Repair of heart chambers | 35.02 | NA | 13.52 | 4.64 | NA | 53.18 | 090
33681 |  | A | Repair heart septum defect | 30.62 | NA | 14.26 | 4.44 | NA | 49.32 | 090
33684 |  | A | Repair heart septum defect | 29.67 | NA | 13.27 | 3.38 | NA | 46.32 | 090
33688 |  | A | Repair heart septum defect | 30.63 | NA | 10.17 | 4.72 | NA | 45.52 | 090
33690 |  | A | Reinforce pulmonary artery | 19.56 | NA | 9.86 | 1.96 | NA | 31.38 | 090
33692 |  | A | Repair of heart defects | 30.76 | NA | 13.32 | 4.57 | NA | 48.66 | 090
33694 |  | A | Repair of heart defects | 34.02 | NA | 13.87 | 5.26 | NA | 53.15 | 090
33697 |  | A | Repair of heart defects | 36.02 | NA | 14.41 | 4.08 | NA | 54.51 | 090
33702 |  | A | Repair of heart defects | 26.55 | NA | 12.26 | 3.67 | NA | 42.48 | 090
33710 |  | A | Repair of heart defects | 29.73 | NA | 13.76 | 4.42 | NA | 47.91 | 090
33720 |  | A | Repair of heart defect | 26.57 | NA | 11.98 | 3.83 | NA | 42.38 | 090
33722 |  | A | Repair of heart defect | 28.43 | NA | 13.09 | 1.30 | NA | 42.82 | 090
33730 |  | A | Repair heart-vein defect(s) | 34.27 | NA | 14.33 | 5.01 | NA | 53.61 | 090
33732 |  | A | Repair heart-vein defect | 28.18 | NA | 13.51 | 3.67 | NA | 45.36 | 090
33735 |  | A | Revision of heart chamber | 21.40 | NA | 9.04 | 1.91 | NA | 32.35 | 090
33736 |  | A | Revision of heart chamber | 23.53 | NA | 11.97 | 3.08 | NA | 38.57 | 090
33737 |  | A | Revision of heart chamber | 21.77 | NA | 11.26 | 3.24 | NA | 36.27 | 090
33750 |  | A | Major vessel shunt | 21.42 | NA | 10.37 | 1.16 | NA | 32.95 | 090
33755 |  | A | Major vessel shunt | 21.80 | NA | 8.58 | 3.25 | NA | 33.64 | 090
33762 |  | A | Major vessel shunt | 21.80 | NA | 10.24 | 3.13 | NA | 35.18 | 090
33764 |  | A | Major vessel shunt & graft | 21.80 | NA | 10.24 | 3.00 | NA | 35.04 | 090
33766 |  | A | Major vessel shunt | 22.78 | NA | 11.07 | 3.69 | NA | 37.53 | 090
33767 |  | A | Major vessel shunt | 24.51 | NA | 11.37 | 3.81 | NA | 39.69 | 090
33770 |  | A | Repair great vessels defect | 37.01 | NA | 14.36 | 5.72 | NA | 57.09 | 090
33771 |  | A | Repair great vessels defect | 34.67 | NA | 12.11 | 5.66 | NA | 52.44 | 090
33774 |  | A | Repair great vessels defect | 30.99 | NA | 14.46 | 4.80 | NA | 50.25 | 090
33775 |  | A | Repair great vessels defect | 32.21 | NA | 14.39 | 4.98 | NA | 51.58 | 090
33776 |  | A | Repair great vessels defect | 34.06 | NA | 15.27 | 5.07 | NA | 54.40 | 090
33777 |  | A | Repair great vessels defect | 33.48 | NA | 14.86 | 5.47 | NA | 53.81 | 090
33778 |  | A | Repair great vessels defect | 40.02 | NA | 16.36 | 6.18 | NA | 62.56 | 090
33779 |  | A | Repair great vessels defect | 36.23 | NA | 15.87 | 2.91 | NA | 55.01 | 090
33780 |  | A | Repair great vessels defect | 41.77 | NA | 18.55 | 3.67 | NA | 64.00 | 090
33781 |  | A | Repair great vessels defect | 36.47 | NA | 13.19 | 5.95 | NA | 55.61 | 090
33786 |  | A | Repair arterial trunk | 39.02 | NA | 15.99 | 5.69 | NA | 60.69 | 090
33788 |  | A | Revision of pulmonary artery | 26.63 | NA | 11.48 | 4.02 | NA | 42.13 | 090
33800 |  | A | Aortic suspension | 16.25 | NA | 7.95 | 2.45 | NA | 26.65 | 090
33802 |  | A | Repair vessel defect | 17.67 | NA | 9.00 | 2.26 | NA | 28.93 | 090
33803 |  | A | Repair vessel defect | 19.61 | NA | 9.30 | 3.19 | NA | 32.10 | 090
33813 |  | A | Repair septal defect | 20.66 | NA | 10.52 | 3.12 | NA | 34.30 | 090
33814 |  | A | Repair septal defect | 25.78 | NA | 12.31 | 3.84 | NA | 41.93 | 090
33820 |  | A | Revise major vessel | 16.30 | NA | 8.10 | 2.34 | NA | 26.74 | 090
33822 |  | A | Revise major vessel | 17.32 | NA | 8.59 | 2.67 | NA | 28.59 | 090
33824 |  | A | Revise major vessel | 19.53 | NA | 9.68 | 2.88 | NA | 32.09 | 090
33840 |  | A | Remove aorta constriction | 20.64 | NA | 9.97 | 2.15 | NA | 32.76 | 090
33845 |  | A | Remove aorta constriction | 22.13 | NA | 10.97 | 3.21 | NA | 36.31 | 090
33851 |  | A | Remove aorta constriction | 21.28 | NA | 10.39 | 3.17 | NA | 34.84 | 090
33852 |  | A | Repair septal defect | 23.72 | NA | 11.20 | 2.15 | NA | 37.07 | 090
33853 |  | A | Repair septal defect | 31.73 | NA | 14.43 | 4.47 | NA | 50.63 | 090
33860 |  | A | Ascending aortic graft | 38.02 | NA | 16.03 | 5.74 | NA | 59.79 | 090
33861 |  | A | Ascending aortic graft | 42.02 | NA | 17.31 | 6.35 | NA | 65.68 | 090
33863 |  | A | Ascending aortic graft | 45.02 | NA | 18.24 | 6.57 | NA | 69.83 | 090
33870 |  | A | Transverse aortic arch graft | 44.02 | NA | 17.91 | 6.60 | NA | 68.53 | 090
33875 |  | A | Thoracic aortic graft | 33.08 | NA | 13.78 | 4.88 | NA | 51.73 | 090
33877 |  | A | Thoracoabdominal graft | 42.63 | NA | 16.01 | 5.92 | NA | 64.56 | 090
33910 |  | A | Remove lung artery emboli | 24.60 | NA | 11.12 | 3.69 | NA | 39.41 | 090
33915 |  | A | Remove lung artery emboli | 21.03 | NA | 9.71 | 1.44 | NA | 32.18 | 090
33916 |  | A | Surgery of great vessel | 25.84 | NA | 11.10 | 3.66 | NA | 40.60 | 090
33917 |  | A | Repair pulmonary artery | 24.51 | NA | 11.84 | 3.69 | NA | 40.04 | 090
33918 |  | A | Repair pulmonary atresia | 26.46 | NA | 11.61 | 4.14 | NA | 42.21 | 090
33919 |  | A | Repair pulmonary atresia | 40.02 | NA | 17.47 | 5.95 | NA | 63.44 | 090
33920 |  | A | Repair pulmonary atresia | 31.96 | NA | 13.44 | 4.37 | NA | 49.77 | 090
33922 |  | A | Transect pulmonary artery | 23.53 | NA | 10.87 | 3.09 | NA | 37.48 | 090
33924 |  | A | Remove pulmonary shunt | 5.50 | NA | 1.79 | 0.82 | NA | 8.11 | ZZZ
33933 |  | C | Prepare donor heart/lung | 0.00 | 0.00 | 0.00 | 0.00 | 0.00 | 0.00 | XXX
33935 |  | R | Transplantation, heart/lung | 60.99 | NA | 27.47 | 9.03 | NA | 97.50 | 090
33944 |  | C | Prepare donor heart | 0.00 | 0.00 | 0.00 | 0.00 | 0.00 | 0.00 | XXX
33945 |  | R | Transplantation of heart | 42.12 | NA | 20.34 | 6.24 | NA | 68.70 | 090
33960 |  | A | External circulation assist | 19.37 | NA | 4.83 | 2.66 | NA | 26.86 | 000
33961 |  | A | External circulation assist | 10.93 | NA | 3.52 | 0.88 | NA | 15.33 | ZZZ
33967 |  | A | Insert ia percut device | 4.85 | NA | 1.91 | 0.35 | NA | 7.11 | 000
33968 |  | A | Remove aortic assist device | 0.64 | NA | 0.23 | 0.07 | NA | 0.94 | 000
33970 |  | A | Aortic circulation assist | 6.75 | NA | 2.27 | 0.82 | NA | 9.84 | 000
33971 |  | A | Aortic circulation assist | 9.70 | NA | 6.06 | 1.25 | NA | 17.01 | 090
33973 |  | A | Insert balloon device | 9.77 | NA | 3.29 | 1.26 | NA | 14.32 | 000
33974 |  | A | Remove intra-aortic balloon | 14.42 | NA | 7.94 | 1.73 | NA | 24.09 | 090
33975 |  | A | Implant ventricular device | 21.01 | NA | 6.15 | 3.06 | NA | 30.22 | XXX
33976 |  | A | Implant ventricular device | 23.02 | NA | 7.41 | 3.25 | NA | 33.68 | XXX
33977 |  | A | Remove ventricular device | 19.30 | NA | 10.77 | 2.80 | NA | 32.87 | 090
33978 |  | A | Remove ventricular device | 21.74 | NA | 11.54 | 3.30 | NA | 36.58 | 090
33979 |  | A | Insert intracorporeal device | 46.02 | NA | 14.63 | 6.95 | NA | 67.60 | XXX
33980 |  | A | Remove intracorporeal device | 56.28 | NA | 24.71 | 8.56 | NA | 89.55 | 090
33999 |  | C | Cardiac surgery procedure | 0.00 | 0.00 | 0.00 | 0.00 | 0.00 | 0.00 | YYY
34001 |  | A | Removal of artery clot | 12.92 | NA | 6.54 | 1.84 | NA | 21.29 | 090
34051 |  | A | Removal of artery clot | 15.22 | NA | 7.62 | 2.20 | NA | 25.04 | 090
34101 |  | A | Removal of artery clot | 10.01 | NA | 5.21 | 1.41 | NA | 16.63 | 090
34111 |  | A | Removal of arm artery clot | 10.01 | NA | 5.24 | 1.40 | NA | 16.65 | 090
34151 |  | A | Removal of artery clot | 25.01 | NA | 10.17 | 3.55 | NA | 38.73 | 090
34201 |  | A | Removal of artery clot | 10.03 | NA | 5.25 | 1.45 | NA | 16.73 | 090
34203 |  | A | Removal of leg artery clot | 16.51 | NA | 7.83 | 2.35 | NA | 26.70 | 090
34401 |  | A | Removal of vein clot | 25.01 | NA | 10.75 | 3.09 | NA | 38.85 | 090
34421 |  | A | Removal of vein clot | 12.00 | NA | 6.19 | 1.55 | NA | 19.75 | 090
34451 |  | A | Removal of vein clot | 27.01 | NA | 11.17 | 3.83 | NA | 42.02 | 090
34471 |  | A | Removal of vein clot | 10.18 | NA | 5.27 | 1.18 | NA | 16.63 | 090
34490 |  | A | Removal of vein clot | 9.87 | NA | 5.32 | 1.41 | NA | 16.60 | 090
34501 |  | A | Repair valve, femoral vein | 16.01 | NA | 8.30 | 2.34 | NA | 26.66 | 090
34502 |  | A | Reconstruct vena cava | 26.96 | NA | 12.14 | 3.62 | NA | 42.72 | 090
34510 |  | A | Transposition of vein valve | 18.96 | NA | 9.10 | 2.32 | NA | 30.37 | 090
34520 |  | A | Cross-over vein graft | 17.96 | NA | 8.32 | 2.28 | NA | 28.56 | 090
34530 |  | A | Leg vein fusion | 16.65 | NA | 8.38 | 1.73 | NA | 26.77 | 090
34800 |  | A | Endovas aaa repr w/sm tube | 20.76 | NA | 9.00 | 2.45 | NA | 32.21 | 090
34802 |  | A | Endovas aaa repr w/2-p part | 23.02 | NA | 9.69 | 2.32 | NA | 35.03 | 090
34803 |  | A | Endovas aaa repr w/3-p part | 24.05 | NA | 10.04 | 2.00 | NA | 36.08 | 090
34804 |  | A | Endovas aaa repr w/1-p part | 23.02 | NA | 9.71 | 2.29 | NA | 35.02 | 090
34805 |  | A | Endovas aaa repr w/long tube | 21.89 | NA | 9.29 | 2.00 | NA | 33.18 | 090
34808 |  | A | Endovas iliac a device add-on | 4.13 | NA | 1.36 | 0.59 | NA | 6.08 | ZZZ
34812 |  | A | Xpose for endoprosth, femorl | 6.75 | NA | 2.18 | 1.18 | NA | 10.12 | 000
34813 |  | A | Femoral endovas graft add-on | 4.80 | NA | 1.54 | 0.67 | NA | 7.01 | ZZZ
34820 |  | A | Xpose for endoprosth, iliac | 9.76 | NA | 3.16 | 1.50 | NA | 14.42 | 000
34825 |  | A | Endovasc extend prosth, init | 12.00 | NA | 6.06 | 1.28 | NA | 19.35 | 090
34826 |  | A | Endovasc exten prosth, add'l | 4.13 | NA | 1.36 | 0.44 | NA | 5.93 | ZZZ
34830 |  | A | Open aortic tube prosth repr | 32.61 | NA | 13.30 | 4.54 | NA | 50.45 | 090
34831 |  | A | Open aortoiliac prosth repr | 35.36 | NA | 11.49 | 4.88 | NA | 51.73 | 090
34832 |  | A | Open aortofemor prosth repr | 35.36 | NA | 14.18 | 4.84 | NA | 54.38 | 090
34833 |  | A | Xpose for endoprosth, iliac | 12.00 | NA | 4.44 | 1.69 | NA | 18.14 | 000
34834 |  | A | Xpose, endoprosth, brachial | 5.35 | NA | 2.20 | 0.76 | NA | 8.31 | 000
34900 |  | A | Endovasc iliac repr w/graft | 16.39 | NA | 7.46 | 1.99 | NA | 25.84 | 090
35001 |  | A | Repair defect of artery | 19.65 | NA | 9.25 | 2.80 | NA | 31.70 | 090
35002 |  | A | Repair artery rupture, neck | 21.01 | NA | 9.62 | 2.99 | NA | 33.62 | 090
35005 |  | A | Repair defect of artery | 18.13 | NA | 8.98 | 1.76 | NA | 28.87 | 090
35011 |  | A | Repair defect of artery | 18.01 | NA | 7.76 | 2.54 | NA | 28.31 | 090
35013 |  | A | Repair artery rupture, arm | 22.01 | NA | 9.41 | 3.09 | NA | 34.52 | 090
35021 |  | A | Repair defect of artery | 19.66 | NA | 9.21 | 2.86 | NA | 31.73 | 090
35022 |  | A | Repair artery rupture, chest | 23.20 | NA | 9.69 | 3.16 | NA | 36.05 | 090
35045 |  | A | Repair defect of arm artery | 17.58 | NA | 7.31 | 2.44 | NA | 27.33 | 090
35081 |  | A | Repair defect of artery | 28.03 | NA | 11.15 | 4.00 | NA | 43.18 | 090
35082 |  | A | Repair artery rupture, aorta | 38.52 | NA | 14.91 | 5.42 | NA | 58.85 | 090
35091 |  | A | Repair defect of artery | 35.42 | NA | 13.20 | 5.12 | NA | 53.74 | 090
35092 |  | A | Repair artery rupture, aorta | 45.02 | NA | 17.18 | 6.38 | NA | 68.58 | 090
35102 |  | A | Repair defect of artery | 30.77 | NA | 12.04 | 4.47 | NA | 47.28 | 090
35103 |  | A | Repair artery rupture, groin | 40.52 | NA | 15.45 | 5.74 | NA | 61.71 | 090
35111 |  | A | Repair defect of artery | 25.01 | NA | 10.22 | 3.46 | NA | 38.69 | 090
35112 |  | A | Repair artery rupture,spleen | 30.02 | NA | 11.74 | 4.07 | NA | 45.83 | 090
35121 |  | A | Repair defect of artery | 30.02 | NA | 12.04 | 4.29 | NA | 46.35 | 090
35122 |  | A | Repair artery rupture, belly | 35.02 | NA | 13.53 | 4.74 | NA | 53.29 | 090
35131 |  | A | Repair defect of artery | 25.01 | NA | 10.45 | 3.79 | NA | 39.25 | 090
35132 |  | A | Repair artery rupture, groin | 30.02 | NA | 12.07 | 4.29 | NA | 46.38 | 090
35141 |  | A | Repair defect of artery | 20.01 | NA | 8.64 | 2.89 | NA | 31.54 | 090
35142 |  | A | Repair artery rupture, thigh | 23.32 | NA | 10.07 | 3.35 | NA | 36.73 | 090
35151 |  | A | Repair defect of artery | 22.66 | NA | 9.70 | 3.23 | NA | 35.59 | 090
35152 |  | A | Repair artery rupture, knee | 25.63 | NA | 11.02 | 3.60 | NA | 40.25 | 090
35180 |  | A | Repair blood vessel lesion | 13.63 | NA | 6.76 | 1.00 | NA | 21.39 | 090
35182 |  | A | Repair blood vessel lesion | 30.02 | NA | 12.67 | 4.35 | NA | 47.04 | 090
35184 |  | A | Repair blood vessel lesion | 18.01 | NA | 8.08 | 2.52 | NA | 28.60 | 090
35188 |  | A | Repair blood vessel lesion | 14.29 | NA | 7.41 | 2.15 | NA | 23.85 | 090
35189 |  | A | Repair blood vessel lesion | 28.02 | NA | 11.63 | 4.00 | NA | 43.65 | 090
35190 |  | A | Repair blood vessel lesion | 12.76 | NA | 6.29 | 1.79 | NA | 20.83 | 090
35201 |  | A | Repair blood vessel lesion | 16.15 | NA | 7.72 | 2.33 | NA | 26.20 | 090
35206 |  | A | Repair blood vessel lesion | 13.26 | NA | 6.37 | 1.86 | NA | 21.48 | 090
35207 |  | A | Repair blood vessel lesion | 10.15 | NA | 7.14 | 1.48 | NA | 18.77 | 090
35211 |  | A | Repair blood vessel lesion | 22.13 | NA | 10.31 | 3.19 | NA | 35.63 | 090
35216 |  | A | Repair blood vessel lesion | 18.76 | NA | 8.81 | 2.64 | NA | 30.21 | 090
35221 |  | A | Repair blood vessel lesion | 24.40 | NA | 9.73 | 3.36 | NA | 37.49 | 090
35226 |  | A | Repair blood vessel lesion | 14.51 | NA | 7.48 | 2.01 | NA | 24.00 | 090
35231 |  | A | Repair blood vessel lesion | 20.01 | NA | 9.46 | 2.88 | NA | 32.35 | 090
35236 |  | A | Repair blood vessel lesion | 17.11 | NA | 7.66 | 2.42 | NA | 27.19 | 090
35241 |  | A | Repair blood vessel lesion | 23.14 | NA | 10.80 | 3.52 | NA | 37.46 | 090
35246 |  | A | Repair blood vessel lesion | 26.46 | NA | 11.26 | 3.85 | NA | 41.58 | 090
35251 |  | A | Repair blood vessel lesion | 30.21 | NA | 11.57 | 4.12 | NA | 45.90 | 090
35256 |  | A | Repair blood vessel lesion | 18.37 | NA | 8.09 | 2.62 | NA | 29.08 | 090
35261 |  | A | Repair blood vessel lesion | 17.81 | NA | 7.90 | 2.60 | NA | 28.31 | 090
35266 |  | A | Repair blood vessel lesion | 14.92 | NA | 6.83 | 2.09 | NA | 23.84 | 090
35271 |  | A | Repair blood vessel lesion | 22.13 | NA | 10.20 | 3.15 | NA | 35.48 | 090
35276 |  | A | Repair blood vessel lesion | 24.26 | NA | 10.98 | 3.48 | NA | 38.72 | 090
35281 |  | A | Repair blood vessel lesion | 28.02 | NA | 11.44 | 3.96 | NA | 43.42 | 090
35286 |  | A | Repair blood vessel lesion | 16.17 | NA | 7.82 | 2.34 | NA | 26.34 | 090
35301 |  | A | Rechanneling of artery | 18.71 | NA | 8.19 | 2.67 | NA | 29.56 | 090
35311 |  | A | Rechanneling of artery | 27.01 | NA | 11.26 | 3.41 | NA | 41.69 | 090
35321 |  | A | Rechanneling of artery | 16.01 | NA | 7.16 | 2.24 | NA | 25.41 | 090
35331 |  | A | Rechanneling of artery | 26.21 | NA | 10.90 | 3.82 | NA | 40.93 | 090
35341 |  | A | Rechanneling of artery | 25.12 | NA | 10.55 | 3.77 | NA | 39.44 | 090
35351 |  | A | Rechanneling of artery | 23.02 | NA | 9.34 | 3.34 | NA | 35.69 | 090
35355 |  | A | Rechanneling of artery | 18.51 | NA | 7.87 | 2.66 | NA | 29.04 | 090
35361 |  | A | Rechanneling of artery | 28.22 | NA | 11.40 | 4.14 | NA | 43.75 | 090
35363 |  | A | Rechanneling of artery | 30.21 | NA | 12.24 | 4.32 | NA | 46.77 | 090
35371 |  | A | Rechanneling of artery | 14.73 | NA | 6.75 | 2.13 | NA | 23.61 | 090
35372 |  | A | Rechanneling of artery | 18.01 | NA | 7.81 | 2.62 | NA | 28.44 | 090
35381 |  | A | Rechanneling of artery | 15.82 | NA | 7.58 | 2.25 | NA | 25.65 | 090
35390 |  | A | Reoperation, carotid add-on | 3.20 | NA | 1.04 | 0.46 | NA | 4.69 | ZZZ
35400 |  | A | Angioscopy | 3.01 | NA | 1.08 | 0.43 | NA | 4.52 | ZZZ
35450 |  | A | Repair arterial blockage | 10.07 | NA | 3.53 | 1.25 | NA | 14.85 | 000
35452 |  | A | Repair arterial blockage | 6.91 | NA | 2.54 | 0.94 | NA | 10.40 | 000
35454 |  | A | Repair arterial blockage | 6.04 | NA | 2.26 | 0.87 | NA | 9.17 | 000
35456 |  | A | Repair arterial blockage | 7.35 | NA | 2.70 | 1.04 | NA | 11.10 | 000
35458 |  | A | Repair arterial blockage | 9.50 | NA | 3.38 | 1.26 | NA | 14.14 | 000
35459 |  | A | Repair arterial blockage | 8.64 | NA | 3.10 | 1.21 | NA | 12.95 | 000
35460 |  | A | Repair venous blockage | 6.04 | NA | 2.22 | 0.83 | NA | 9.09 | 000
35470 |  | A | Repair arterial blockage | 8.64 | 87.06 | 3.50 | 0.69 | 96.39 | 12.82 | 000
35471 |  | A | Repair arterial blockage | 10.07 | 97.32 | 4.16 | 0.67 | 108.06 | 14.90 | 000
35472 |  | A | Repair arterial blockage | 6.91 | 63.69 | 2.86 | 0.58 | 71.19 | 10.36 | 000
35473 |  | A | Repair arterial blockage | 6.04 | 59.64 | 2.53 | 0.51 | 66.20 | 9.08 | 000
35474 |  | A | Repair arterial blockage | 7.36 | 85.82 | 3.03 | 0.57 | 93.76 | 10.96 | 000
35475 |  | R | Repair arterial blockage | 9.50 | 57.78 | 3.73 | 0.62 | 67.90 | 13.85 | 000
35476 |  | A | Repair venous blockage | 6.04 | 45.66 | 2.47 | 0.34 | 52.04 | 8.85 | 000
35480 |  | A | Atherectomy, open | 11.08 | NA | 4.00 | 1.28 | NA | 16.36 | 000
35481 |  | A | Atherectomy, open | 7.62 | NA | 2.83 | 1.13 | NA | 11.58 | 000
35482 |  | A | Atherectomy, open | 6.65 | NA | 2.54 | 0.89 | NA | 10.08 | 000
35483 |  | A | Atherectomy, open | 8.11 | NA | 2.98 | 1.15 | NA | 12.24 | 000
35484 |  | A | Atherectomy, open | 10.44 | NA | 3.69 | 1.27 | NA | 15.40 | 000
35485 |  | A | Atherectomy, open | 9.50 | NA | 3.49 | 1.35 | NA | 14.34 | 000
35490 |  | A | Atherectomy, percutaneous | 11.08 | NA | 4.92 | 0.71 | NA | 16.72 | 000
35491 |  | A | Atherectomy, percutaneous | 7.62 | NA | 3.37 | 0.74 | NA | 11.72 | 000
35492 |  | A | Atherectomy, percutaneous | 6.65 | NA | 3.29 | 0.43 | NA | 10.37 | 000
35493 |  | A | Atherectomy, percutaneous | 8.11 | NA | 3.99 | 0.56 | NA | 12.66 | 000
35494 |  | A | Atherectomy, percutaneous | 10.44 | NA | 4.70 | 0.59 | NA | 15.73 | 000
35495 |  | A | Atherectomy, percutaneous | 9.50 | NA | 4.63 | 0.69 | NA | 14.82 | 000
35500 |  | A | Harvest vein for bypass | 6.45 | NA | 1.97 | 0.93 | NA | 9.35 | ZZZ
35501 |  | A | Artery bypass graft | 19.20 | NA | 8.16 | 2.80 | NA | 30.16 | 090
35506 |  | A | Artery bypass graft | 19.68 | NA | 9.16 | 2.86 | NA | 31.70 | 090
35507 |  | A | Artery bypass graft | 19.68 | NA | 9.10 | 2.84 | NA | 31.62 | 090
35508 |  | A | Artery bypass graft | 18.66 | NA | 9.26 | 2.77 | NA | 30.68 | 090
35509 |  | A | Artery bypass graft | 18.08 | NA | 8.46 | 2.61 | NA | 29.14 | 090
35510 |  | A | Artery bypass graft | 23.02 | NA | 10.15 | 2.11 | NA | 35.27 | 090
35511 |  | A | Artery bypass graft | 21.21 | NA | 9.12 | 2.90 | NA | 33.23 | 090
35512 |  | A | Artery bypass graft | 22.51 | NA | 9.96 | 2.11 | NA | 34.58 | 090
35515 |  | A | Artery bypass graft | 18.66 | NA | 9.19 | 2.77 | NA | 30.61 | 090
35516 |  | A | Artery bypass graft | 16.33 | NA | 6.58 | 2.33 | NA | 25.25 | 090
35518 |  | A | Artery bypass graft | 21.21 | NA | 8.73 | 3.02 | NA | 32.97 | 090
35521 |  | A | Artery bypass graft | 22.21 | NA | 9.54 | 3.12 | NA | 34.88 | 090
35522 |  | A | Artery bypass graft | 21.77 | NA | 9.61 | 2.11 | NA | 33.50 | 090
35525 |  | A | Artery bypass graft | 20.64 | NA | 9.13 | 2.11 | NA | 31.88 | 090
35526 |  | A | Artery bypass graft | 29.97 | NA | 12.27 | 3.62 | NA | 45.86 | 090
35531 |  | A | Artery bypass graft | 36.22 | NA | 14.08 | 5.16 | NA | 55.47 | 090
35533 |  | A | Artery bypass graft | 28.02 | NA | 11.43 | 3.84 | NA | 43.28 | 090
35536 |  | A | Artery bypass graft | 31.71 | NA | 12.60 | 4.61 | NA | 48.93 | 090
35541 |  | A | Artery bypass graft | 25.81 | NA | 10.90 | 3.70 | NA | 40.41 | 090
35546 |  | A | Artery bypass graft | 25.55 | NA | 10.58 | 3.69 | NA | 39.82 | 090
35548 |  | A | Artery bypass graft | 21.58 | NA | 9.19 | 2.97 | NA | 33.74 | 090
35549 |  | A | Artery bypass graft | 23.36 | NA | 10.07 | 3.29 | NA | 36.72 | 090
35551 |  | A | Artery bypass graft | 26.68 | NA | 11.14 | 3.74 | NA | 41.57 | 090
35556 |  | A | Artery bypass graft | 21.77 | NA | 9.44 | 3.09 | NA | 34.30 | 090
35558 |  | A | Artery bypass graft | 21.21 | NA | 9.28 | 2.99 | NA | 33.48 | 090
35560 |  | A | Artery bypass graft | 32.01 | NA | 12.93 | 4.74 | NA | 49.68 | 090
35563 |  | A | Artery bypass graft | 24.21 | NA | 10.24 | 3.51 | NA | 37.95 | 090
35565 |  | A | Artery bypass graft | 23.22 | NA | 9.85 | 3.29 | NA | 36.36 | 090
35566 |  | A | Artery bypass graft | 26.93 | NA | 11.05 | 3.82 | NA | 41.81 | 090
35571 |  | A | Artery bypass graft | 24.07 | NA | 10.52 | 3.42 | NA | 38.01 | 090
35572 |  | A | Harvest femoropopliteal vein | 6.82 | NA | 2.20 | 0.99 | NA | 10.02 | ZZZ
35583 |  | A | Vein bypass graft | 22.38 | NA | 9.86 | 3.16 | NA | 35.41 | 090
35585 |  | A | Vein bypass graft | 28.41 | NA | 11.88 | 4.01 | NA | 44.30 | 090
35587 |  | A | Vein bypass graft | 24.76 | NA | 11.12 | 3.51 | NA | 39.39 | 090
35600 |  | A | Harvest artery for cabg | 4.95 | NA | 1.59 | 0.73 | NA | 7.27 | ZZZ
35601 |  | A | Artery bypass graft | 17.50 | NA | 8.32 | 2.49 | NA | 28.31 | 090
35606 |  | A | Artery bypass graft | 18.72 | NA | 8.71 | 2.69 | NA | 30.12 | 090
35612 |  | A | Artery bypass graft | 15.77 | NA | 7.64 | 2.08 | NA | 25.49 | 090
35616 |  | A | Artery bypass graft | 15.71 | NA | 7.81 | 2.19 | NA | 25.71 | 090
35621 |  | A | Artery bypass graft | 20.01 | NA | 8.42 | 2.91 | NA | 31.34 | 090
35623 |  | A | Bypass graft, not vein | 24.01 | NA | 10.18 | 3.45 | NA | 37.63 | 090
35626 |  | A | Artery bypass graft | 27.77 | NA | 11.71 | 4.07 | NA | 43.54 | 090
35631 |  | A | Artery bypass graft | 34.02 | NA | 13.43 | 4.95 | NA | 52.40 | 090
35636 |  | A | Artery bypass graft | 29.52 | NA | 12.07 | 4.09 | NA | 45.68 | 090
35641 |  | A | Artery bypass graft | 24.58 | NA | 10.71 | 3.53 | NA | 38.82 | 090
35642 |  | A | Artery bypass graft | 17.99 | NA | 8.74 | 2.27 | NA | 28.99 | 090
35645 |  | A | Artery bypass graft | 17.47 | NA | 8.09 | 2.49 | NA | 28.06 | 090
35646 |  | A | Artery bypass graft | 31.01 | NA | 12.72 | 4.43 | NA | 48.16 | 090
35647 |  | A | Artery bypass graft | 28.02 | NA | 11.42 | 3.98 | NA | 43.42 | 090
35650 |  | A | Artery bypass graft | 19.01 | NA | 8.12 | 2.71 | NA | 29.84 | 090
35651 |  | A | Artery bypass graft | 25.05 | NA | 10.43 | 3.35 | NA | 38.83 | 090
35654 |  | A | Artery bypass graft | 25.01 | NA | 10.36 | 3.52 | NA | 38.89 | 090
35656 |  | A | Artery bypass graft | 19.54 | NA | 8.36 | 2.79 | NA | 30.69 | 090
35661 |  | A | Artery bypass graft | 19.01 | NA | 8.66 | 2.71 | NA | 30.38 | 090
35663 |  | A | Artery bypass graft | 22.01 | NA | 9.68 | 3.10 | NA | 34.80 | 090
35665 |  | A | Artery bypass graft | 21.01 | NA | 9.17 | 3.00 | NA | 33.18 | 090
35666 |  | A | Artery bypass graft | 22.20 | NA | 10.32 | 3.15 | NA | 35.67 | 090
35671 |  | A | Artery bypass graft | 19.34 | NA | 9.08 | 2.77 | NA | 31.19 | 090
35681 |  | A | Composite bypass graft | 1.60 | NA | 0.52 | 0.23 | NA | 2.35 | ZZZ
35682 |  | A | Composite bypass graft | 7.20 | NA | 2.32 | 1.03 | NA | 10.56 | ZZZ
35683 |  | A | Composite bypass graft | 8.51 | NA | 2.75 | 1.20 | NA | 12.46 | ZZZ
35685 |  | A | Bypass graft patency/patch | 4.05 | NA | 1.34 | 0.58 | NA | 5.96 | ZZZ
35686 |  | A | Bypass graft/av fist patency | 3.35 | NA | 1.12 | 0.47 | NA | 4.94 | ZZZ
35691 |  | A | Arterial transposition | 18.06 | NA | 8.16 | 2.58 | NA | 28.79 | 090
35693 |  | A | Arterial transposition | 15.37 | NA | 7.60 | 2.21 | NA | 25.18 | 090
35694 |  | A | Arterial transposition | 19.17 | NA | 8.36 | 2.69 | NA | 30.22 | 090
35695 |  | A | Arterial transposition | 19.17 | NA | 8.30 | 2.73 | NA | 30.20 | 090
35697 |  | A | Reimplant artery each | 3.01 | NA | 1.00 | 0.41 | NA | 4.42 | ZZZ
35700 |  | A | Reoperation, bypass graft | 3.09 | NA | 1.00 | 0.44 | NA | 4.52 | ZZZ
35701 |  | A | Exploration, carotid artery | 8.51 | NA | 5.00 | 1.12 | NA | 14.63 | 090
35721 |  | A | Exploration, femoral artery | 7.18 | NA | 4.28 | 1.03 | NA | 12.49 | 090
35741 |  | A | Exploration popliteal artery | 8.01 | NA | 4.53 | 1.12 | NA | 13.65 | 090
35761 |  | A | Exploration of artery/vein | 5.37 | NA | 3.89 | 0.75 | NA | 10.01 | 090
35800 |  | A | Explore neck vessels | 7.02 | NA | 4.49 | 0.95 | NA | 12.47 | 090
35820 |  | A | Explore chest vessels | 12.89 | NA | 7.01 | 1.94 | NA | 21.84 | 090
35840 |  | A | Explore abdominal vessels | 9.78 | NA | 5.16 | 1.34 | NA | 16.28 | 090
35860 |  | A | Explore limb vessels | 5.55 | NA | 3.90 | 0.78 | NA | 10.23 | 090
35870 |  | A | Repair vessel graft defect | 22.18 | NA | 9.48 | 3.00 | NA | 34.67 | 090
35875 |  | A | Removal of clot in graft | 10.13 | NA | 5.10 | 1.41 | NA | 16.64 | 090
35876 |  | A | Removal of clot in graft | 17.00 | NA | 7.33 | 2.39 | NA | 26.72 | 090
35879 |  | A | Revise graft w/vein | 16.01 | NA | 7.48 | 2.27 | NA | 25.76 | 090
35881 |  | A | Revise graft w/vein | 18.01 | NA | 8.43 | 2.55 | NA | 28.99 | 090
35901 |  | A | Excision, graft, neck | 8.20 | NA | 5.13 | 1.15 | NA | 14.48 | 090
35903 |  | A | Excision, graft, extremity | 9.40 | NA | 5.97 | 1.30 | NA | 16.67 | 090
35905 |  | A | Excision, graft, thorax | 31.26 | NA | 12.78 | 4.43 | NA | 48.47 | 090
35907 |  | A | Excision, graft, abdomen | 35.02 | NA | 13.79 | 4.91 | NA | 53.71 | 090
36000 |  | A | Place needle in vein | 0.18 | 0.56 | 0.05 | 0.01 | 0.75 | 0.24 | XXX
36002 |  | A | Pseudoaneurysm injection trt | 1.96 | 2.77 | 1.00 | 0.17 | 4.90 | 3.13 | 000
36005 |  | A | Injection ext venography | 0.95 | 8.00 | 0.33 | 0.05 | 9.00 | 1.33 | 000
36010 |  | A | Place catheter in vein | 2.43 | 18.12 | 0.80 | 0.20 | 20.76 | 3.44 | XXX
36011 |  | A | Place catheter in vein | 3.15 | 27.36 | 1.09 | 0.27 | 30.78 | 4.51 | XXX
36012 |  | A | Place catheter in vein | 3.52 | 20.90 | 1.26 | 0.23 | 24.64 | 5.00 | XXX
36013 |  | A | Place catheter in artery | 2.53 | 20.81 | 0.69 | 0.25 | 23.58 | 3.46 | XXX
36014 |  | A | Place catheter in artery | 3.03 | 20.65 | 1.09 | 0.19 | 23.86 | 4.31 | XXX
36015 |  | A | Place catheter in artery | 3.52 | 23.90 | 1.26 | 0.21 | 27.63 | 4.98 | XXX
36100 |  | A | Establish access to artery | 3.03 | 12.20 | 1.14 | 0.26 | 15.49 | 4.43 | XXX
36120 |  | A | Establish access to artery | 2.01 | 10.97 | 0.67 | 0.14 | 13.13 | 2.83 | XXX
36140 |  | A | Establish access to artery | 2.01 | 12.60 | 0.66 | 0.16 | 14.77 | 2.83 | XXX
36145 |  | A | Artery to vein shunt | 2.01 | 12.69 | 0.69 | 0.11 | 14.81 | 2.82 | XXX
36160 |  | A | Establish access to aorta | 2.53 | 13.15 | 0.85 | 0.26 | 15.93 | 3.63 | XXX
36200 |  | A | Place catheter in aorta | 3.03 | 16.72 | 1.06 | 0.24 | 19.99 | 4.33 | XXX
36215 |  | A | Place catheter in artery | 4.68 | 27.47 | 1.69 | 0.27 | 32.42 | 6.64 | XXX
36216 |  | A | Place catheter in artery | 5.28 | 29.85 | 1.88 | 0.31 | 35.44 | 7.47 | XXX
36217 |  | A | Place catheter in artery | 6.30 | 55.46 | 2.28 | 0.44 | 62.20 | 9.02 | XXX
36218 |  | A | Place catheter in artery | 1.01 | 5.04 | 0.36 | 0.07 | 6.12 | 1.44 | ZZZ
36245 |  | A | Place catheter in artery | 4.68 | 32.95 | 1.76 | 0.31 | 37.94 | 6.75 | XXX
36246 |  | A | Place catheter in artery | 5.28 | 30.80 | 1.91 | 0.38 | 36.46 | 7.57 | XXX
36247 |  | A | Place catheter in artery | 6.30 | 50.01 | 2.25 | 0.47 | 56.79 | 9.02 | XXX
36248 |  | A | Place catheter in artery | 1.01 | 4.05 | 0.36 | 0.07 | 5.13 | 1.44 | ZZZ
36260 |  | A | Insertion of infusion pump | 9.72 | NA | 4.82 | 1.29 | NA | 15.83 | 090
36261 |  | A | Revision of infusion pump | 5.45 | NA | 3.59 | 0.70 | NA | 9.75 | 090
36262 |  | A | Removal of infusion pump | 4.02 | NA | 2.71 | 0.54 | NA | 7.27 | 090
36299 |  | C | Vessel injection procedure | 0.00 | 0.00 | 0.00 | 0.00 | 0.00 | 0.00 | YYY
36400 |  | A | Bl draw < 3 yrs fem/jugular | 0.38 | 0.29 | 0.09 | 0.03 | 0.70 | 0.50 | XXX
36405 |  | A | Bl draw < 3 yrs scalp vein | 0.31 | 0.26 | 0.08 | 0.03 | 0.60 | 0.42 | XXX
36406 |  | A | Bl draw < 3 yrs other vein | 0.18 | 0.28 | 0.05 | 0.01 | 0.47 | 0.24 | XXX
36410 |  | A | Non-routine bl draw > 3 yrs | 0.18 | 0.30 | 0.05 | 0.01 | 0.49 | 0.24 | XXX
36416 |  | B | Capillary blood draw | 0.00 | 0.00 | 0.00 | 0.00 | 0.00 | 0.00 | XXX
36420 |  | A | Vein access cutdown < 1 yr | 1.01 | NA | 0.27 | 0.07 | NA | 1.35 | XXX
36425 |  | A | Vein access cutdown > 1 yr | 0.76 | NA | 0.22 | 0.06 | NA | 1.04 | XXX
36430 |  | A | Blood transfusion service | 0.00 | 0.96 | NA | 0.06 | 1.02 | NA | XXX
36440 |  | A | Bl push transfuse, 2 yr or < | 1.03 | NA | 0.28 | 0.10 | NA | 1.42 | XXX
36450 |  | A | Bl exchange/transfuse, nb | 2.23 | NA | 0.69 | 0.21 | NA | 3.14 | XXX
36455 |  | A | Bl exchange/transfuse non-nb | 2.43 | NA | 0.98 | 0.15 | NA | 3.57 | XXX
36460 |  | A | Transfusion service, fetal | 6.59 | NA | 2.18 | 0.79 | NA | 9.57 | XXX
36468 |  | R | Injection(s), spider veins | 0.00 | 0.00 | 0.00 | 0.00 | 0.00 | 0.00 | 000
36469 |  | R | Injection(s), spider veins | 0.00 | 0.00 | 0.00 | 0.00 | 0.00 | 0.00 | 000
36470 |  | A | Injection therapy of vein | 1.09 | 2.62 | 0.76 | 0.12 | 3.83 | 1.97 | 010
36471 |  | A | Injection therapy of veins | 1.57 | 2.99 | 0.95 | 0.19 | 4.75 | 2.71 | 010
36475 |  | A | Endovenous rf, 1st vein | 6.73 | 48.94 | 2.56 | 0.37 | 56.05 | 9.67 | 000
36476 |  | A | Endovenous rf, vein add-on | 3.39 | 7.59 | 1.16 | 0.18 | 11.15 | 4.72 | ZZZ
36478 |  | A | Endovenous laser, 1st vein | 6.73 | 44.54 | 2.56 | 0.37 | 51.64 | 9.67 | 000
36479 |  | A | Endovenous laser vein add-on | 3.39 | 7.69 | 1.16 | 0.18 | 11.26 | 4.72 | ZZZ
36481 |  | A | Insertion of catheter, vein | 6.99 | NA | 2.68 | 0.55 | NA | 10.22 | 000
36500 |  | A | Insertion of catheter, vein | 3.52 | NA | 1.39 | 0.20 | NA | 5.11 | 000
36510 |  | A | Insertion of catheter, vein | 1.09 | 3.44 | 0.56 | 0.10 | 4.63 | 1.75 | 000
36511 |  | A | Apheresis wbc | 1.74 | NA | 0.71 | 0.08 | NA | 2.53 | 000
36512 |  | A | Apheresis rbc | 1.74 | NA | 0.72 | 0.08 | NA | 2.54 | 000
36513 |  | A | Apheresis platelets | 1.74 | NA | 0.71 | 0.17 | NA | 2.62 | 000
36514 |  | A | Apheresis plasma | 1.74 | 15.88 | 0.69 | 0.08 | 17.70 | 2.52 | 000
36515 |  | A | Apheresis, adsorp/reinfuse | 1.74 | 62.05 | 0.65 | 0.08 | 63.87 | 2.47 | 000
36516 |  | A | Apheresis, selective | 1.22 | 76.84 | 0.47 | 0.08 | 78.15 | 1.77 | 000
36522 |  | A | Photopheresis | 1.67 | 32.02 | 1.04 | 0.13 | 33.83 | 2.85 | 000
36540 |  | B | Collect blood venous device | 0.00 | 0.00 | 0.00 | 0.00 | 0.00 | 0.00 | XXX
36550 |  | A | Declot vascular device | 0.00 | 0.38 | NA | 0.37 | 0.75 | NA | XXX
36555 |  | A | Insert non-tunnel cv cath | 2.69 | 5.43 | 0.79 | 0.11 | 8.22 | 3.58 | 000
36556 |  | A | Insert non-tunnel cv cath | 2.51 | 5.21 | 0.72 | 0.19 | 7.91 | 3.42 | 000
36557 |  | A | Insert tunneled cv cath | 5.10 | 20.41 | 2.67 | 0.57 | 26.08 | 8.34 | 010
36558 |  | A | Insert tunneled cv cath | 4.80 | 20.32 | 2.61 | 0.57 | 25.69 | 7.97 | 010
36560 |  | A | Insert tunneled cv cath | 6.25 | 28.86 | 3.04 | 0.57 | 35.68 | 9.87 | 010
36561 |  | A | Insert tunneled cv cath | 6.00 | 28.25 | 2.93 | 0.57 | 34.82 | 9.50 | 010
36563 |  | A | Insert tunneled cv cath | 6.20 | 24.94 | 2.90 | 0.84 | 31.99 | 9.95 | 010
36565 |  | A | Insert tunneled cv cath | 6.00 | 24.32 | 2.91 | 0.57 | 30.89 | 9.48 | 010
36566 |  | A | Insert tunneled cv cath | 6.50 | 24.65 | 3.04 | 0.57 | 31.72 | 10.12 | 010
36568 |  | A | Insert picc cath | 1.92 | 7.06 | 0.60 | 0.11 | 9.10 | 2.64 | 000
36569 |  | A | Insert picc cath | 1.82 | 7.26 | 0.62 | 0.19 | 9.27 | 2.63 | 000
36570 |  | A | Insert picvad cath | 5.32 | 31.95 | 2.74 | 0.57 | 37.84 | 8.63 | 010
36571 |  | A | Insert picvad cath | 5.30 | 31.47 | 2.71 | 0.57 | 37.34 | 8.58 | 010
36575 |  | A | Repair tunneled cv cath | 0.67 | 4.06 | 0.27 | 0.20 | 4.93 | 1.14 | 000
36576 |  | A | Repair tunneled cv cath | 3.20 | 6.61 | 1.84 | 0.19 | 10.00 | 5.23 | 010
36578 |  | A | Replace tunneled cv cath | 3.50 | 11.13 | 2.34 | 0.19 | 14.82 | 6.03 | 010
36580 |  | A | Replace cvad cath | 1.31 | 6.63 | 0.43 | 0.19 | 8.13 | 1.93 | 000
36581 |  | A | Replace tunneled cv cath | 3.44 | 19.51 | 1.98 | 0.19 | 23.13 | 5.61 | 010
36582 |  | A | Replace tunneled cv cath | 5.20 | 26.90 | 2.91 | 0.19 | 32.29 | 8.30 | 010
36583 |  | A | Replace tunneled cv cath | 5.25 | 26.86 | 2.99 | 0.19 | 32.30 | 8.43 | 010
36584 |  | A | Replace picc cath | 1.20 | 6.64 | 0.61 | 0.19 | 8.04 | 2.00 | 000
36585 |  | A | Replace picvad cath | 4.80 | 28.57 | 2.80 | 0.19 | 33.56 | 7.79 | 010
36589 |  | A | Removal tunneled cv cath | 2.27 | 2.16 | 1.41 | 0.24 | 4.68 | 3.92 | 010
36590 |  | A | Removal tunneled cv cath | 3.31 | 3.35 | 1.72 | 0.44 | 7.10 | 5.46 | 010
36595 |  | A | Mech remov tunneled cv cath | 3.60 | 16.43 | 1.51 | 0.21 | 20.23 | 5.32 | 000
36596 |  | A | Mech remov tunneled cv cath | 0.75 | 3.62 | 0.52 | 0.05 | 4.43 | 1.32 | 000
36597 |  | A | Reposition venous catheter | 1.21 | 2.44 | 0.46 | 0.07 | 3.72 | 1.74 | 000
36600 |  | A | Withdrawal of arterial blood | 0.32 | 0.48 | 0.09 | 0.02 | 0.82 | 0.43 | XXX
36620 |  | A | Insertion catheter, artery | 1.15 | NA | 0.23 | 0.07 | NA | 1.45 | 000
36625 |  | A | Insertion catheter, artery | 2.11 | NA | 0.52 | 0.26 | NA | 2.89 | 000
36640 |  | A | Insertion catheter, artery | 2.10 | NA | 1.02 | 0.21 | NA | 3.34 | 000
36660 |  | A | Insertion catheter, artery | 1.40 | NA | 0.43 | 0.14 | NA | 1.97 | 000
36680 |  | A | Insert needle, bone cavity | 1.20 | NA | 0.49 | 0.11 | NA | 1.81 | 000
36800 |  | A | Insertion of cannula | 2.43 | NA | 1.76 | 0.25 | NA | 4.44 | 000
36810 |  | A | Insertion of cannula | 3.97 | NA | 1.67 | 0.45 | NA | 6.09 | 000
36815 |  | A | Insertion of cannula | 2.63 | NA | 1.14 | 0.35 | NA | 4.12 | 000
36818 |  | A | Av fuse, uppr arm, cephalic | 11.54 | NA | 6.06 | 1.89 | NA | 19.49 | 090
36819 |  | A | Av fuse, uppr arm, basilic | 14.01 | NA | 6.20 | 1.95 | NA | 22.16 | 090
36820 |  | A | Av fusion/forearm vein | 14.01 | NA | 6.21 | 1.94 | NA | 22.16 | 090
36821 |  | A | Av fusion direct any site | 8.94 | NA | 4.55 | 1.23 | NA | 14.71 | 090
36822 |  | A | Insertion of cannula(s) | 5.42 | NA | 4.32 | 0.79 | NA | 10.53 | 090
36823 |  | A | Insertion of cannula(s) | 21.01 | NA | 9.19 | 2.88 | NA | 33.09 | 090
36825 |  | A | Artery-vein autograft | 9.85 | NA | 4.92 | 1.35 | NA | 16.12 | 090
36830 |  | A | Artery-vein nonautograft | 12.00 | NA | 5.10 | 1.66 | NA | 18.77 | 090
36831 |  | A | Open thrombect av fistula | 8.01 | NA | 3.88 | 1.09 | NA | 12.98 | 090
36832 |  | A | Av fistula revision, open | 10.50 | NA | 4.62 | 1.44 | NA | 16.56 | 090
36833 |  | A | Av fistula revision | 11.95 | NA | 5.08 | 1.65 | NA | 18.68 | 090
36834 |  | A | Repair A-V aneurysm | 9.94 | NA | 4.67 | 1.37 | NA | 15.98 | 090
36835 |  | A | Artery to vein shunt | 7.15 | NA | 4.23 | 0.98 | NA | 12.37 | 090
36838 |  | A | Dist revas ligation, hemo | 20.64 | NA | 9.21 | 3.01 | NA | 32.86 | 090
36860 |  | A | External cannula declotting | 2.01 | 2.26 | 0.70 | 0.11 | 4.38 | 2.82 | 000
36861 |  | A | Cannula declotting | 2.53 | NA | 1.54 | 0.27 | NA | 4.33 | 000
36870 |  | A | Percut thrombect av fistula | 5.16 | 52.60 | 3.30 | 0.29 | 58.05 | 8.75 | 090
37140 |  | A | Revision of circulation | 23.61 | NA | 10.93 | 2.01 | NA | 36.54 | 090
37145 |  | A | Revision of circulation | 24.62 | NA | 10.73 | 3.25 | NA | 38.60 | 090
37160 |  | A | Revision of circulation | 21.61 | NA | 9.10 | 2.81 | NA | 33.52 | 090
37180 |  | A | Revision of circulation | 24.62 | NA | 10.06 | 3.34 | NA | 38.02 | 090
37181 |  | A | Splice spleen/kidney veins | 26.69 | NA | 10.89 | 3.40 | NA | 40.98 | 090
37182 |  | A | Insert hepatic shunt (tips) | 17.00 | NA | 6.37 | 1.00 | NA | 24.37 | 000
37183 |  | A | Remove hepatic shunt (tips) | 8.01 | NA | 3.16 | 0.47 | NA | 11.63 | 000
37195 |  | C | Thrombolytic therapy, stroke | 0.00 | 0.00 | 0.00 | 0.00 | 0.00 | 0.00 | XXX
37200 |  | A | Transcatheter biopsy | 4.56 | NA | 1.58 | 0.27 | NA | 6.41 | 000
37201 |  | A | Transcatheter therapy infuse | 5.00 | NA | 2.67 | 0.33 | NA | 8.00 | 000
37202 |  | A | Transcatheter therapy infuse | 5.68 | NA | 3.25 | 0.43 | NA | 9.36 | 000
37203 |  | A | Transcatheter retrieval | 5.03 | 33.96 | 2.14 | 0.29 | 39.28 | 7.46 | 000
37204 |  | A | Transcatheter occlusion | 18.15 | NA | 6.22 | 1.48 | NA | 25.84 | 000
37205 |  | A | Transcath iv stent, percut | 8.29 | NA | 3.95 | 0.60 | NA | 12.84 | 000
37206 |  | A | Transcath iv stent/perc addl | 4.13 | NA | 1.50 | 0.31 | NA | 5.94 | ZZZ
37207 |  | A | Transcath iv stent, open | 8.29 | NA | 3.10 | 1.17 | NA | 12.56 | 000
37208 |  | A | Transcath iv stent/open addl | 4.13 | NA | 1.36 | 0.59 | NA | 6.08 | ZZZ
37209 |  | A | Exchange arterial catheter | 2.27 | NA | 0.78 | 0.15 | NA | 3.21 | 000
37215 |  | R | Transcath stent, cca w/eps | 18.75 | NA | 9.55 | 1.09 | NA | 29.39 | 090
37216 |  | R | Transcath stent, cca w/o eps | 18.02 | NA | 9.26 | 1.04 | NA | 28.31 | 090
37250 |  | A | Iv us first vessel add-on | 2.10 | NA | 0.76 | 0.21 | NA | 3.08 | ZZZ
37251 |  | A | Iv us each add vessel add-on | 1.60 | NA | 0.55 | 0.19 | NA | 2.35 | ZZZ
37500 |  | A | Endoscopy ligate perf veins | 11.00 | NA | 6.76 | 1.54 | NA | 19.30 | 090
37501 |  | C | Vascular endoscopy procedure | 0.00 | 0.00 | 0.00 | 0.00 | 0.00 | 0.00 | YYY
37565 |  | A | Ligation of neck vein | 10.88 | NA | 5.51 | 1.33 | NA | 17.72 | 090
37600 |  | A | Ligation of neck artery | 11.25 | NA | 6.44 | 1.41 | NA | 19.11 | 090
37605 |  | A | Ligation of neck artery | 13.12 | NA | 6.74 | 1.98 | NA | 21.84 | 090
37606 |  | A | Ligation of neck artery | 6.28 | NA | 4.46 | 1.23 | NA | 11.97 | 090
37607 |  | A | Ligation of a-v fistula | 6.16 | NA | 3.48 | 0.85 | NA | 10.49 | 090
37609 |  | A | Temporal artery procedure | 3.01 | 4.38 | 1.93 | 0.36 | 7.75 | 5.29 | 010
37615 |  | A | Ligation of neck artery | 5.73 | NA | 4.00 | 0.68 | NA | 10.41 | 090
37616 |  | A | Ligation of chest artery | 16.50 | NA | 7.92 | 2.32 | NA | 26.74 | 090
37617 |  | A | Ligation of abdomen artery | 22.07 | NA | 9.00 | 2.97 | NA | 34.05 | 090
37618 |  | A | Ligation of extremity artery | 4.84 | NA | 3.50 | 0.67 | NA | 9.01 | 090
37620 |  | A | Revision of major vein | 10.56 | NA | 5.83 | 0.91 | NA | 17.30 | 090
37650 |  | A | Revision of major vein | 7.81 | NA | 4.55 | 1.01 | NA | 13.36 | 090
37660 |  | A | Revision of major vein | 21.01 | NA | 8.86 | 2.48 | NA | 32.35 | 090
37700 |  | A | Revise leg vein | 3.73 | NA | 2.73 | 0.53 | NA | 6.99 | 090
37720 |  | A | Removal of leg vein | 5.66 | NA | 3.62 | 0.80 | NA | 10.08 | 090
37730 |  | A | Removal of leg veins | 7.33 | NA | 4.20 | 1.04 | NA | 12.57 | 090
37735 |  | A | Removal of leg veins/lesion | 10.53 | NA | 5.36 | 1.48 | NA | 17.37 | 090
37760 |  | A | Ligation, leg veins, open | 10.47 | NA | 5.22 | 1.44 | NA | 17.13 | 090
37765 |  | A | Phleb veins - extrem - to 20 | 7.35 | NA | 4.46 | 0.48 | NA | 12.30 | 090
37766 |  | A | Phleb veins - extrem 20+ | 9.31 | NA | 5.18 | 0.48 | NA | 14.97 | 090
37780 |  | A | Revision of leg vein | 3.84 | NA | 2.79 | 0.53 | NA | 7.15 | 090
37785 |  | A | Ligate/divide/excise vein | 3.84 | 5.13 | 2.67 | 0.54 | 9.51 | 7.05 | 090
37788 |  | A | Revascularization, penis | 22.02 | NA | 10.13 | 2.25 | NA | 34.40 | 090
37790 |  | A | Penile venous occlusion | 8.35 | NA | 4.76 | 0.59 | NA | 13.70 | 090
37799 |  | C | Vascular surgery procedure | 0.00 | 0.00 | 0.00 | 0.00 | 0.00 | 0.00 | YYY
38100 |  | A | Removal of spleen, total | 14.51 | NA | 6.10 | 1.91 | NA | 22.52 | 090
38101 |  | A | Removal of spleen, partial | 15.32 | NA | 6.48 | 2.04 | NA | 23.84 | 090
38102 |  | A | Removal of spleen, total | 4.80 | NA | 1.61 | 0.63 | NA | 7.04 | ZZZ
38115 |  | A | Repair of ruptured spleen | 15.83 | NA | 6.57 | 2.08 | NA | 24.48 | 090
38120 |  | A | Laparoscopy, splenectomy | 17.00 | NA | 7.30 | 2.24 | NA | 26.55 | 090
38129 |  | C | Laparoscope proc, spleen | 0.00 | 0.00 | 0.00 | 0.00 | 0.00 | 0.00 | YYY
38200 |  | A | Injection for spleen x-ray | 2.65 | NA | 0.93 | 0.14 | NA | 3.72 | 000
38204 |  | B | Bl donor search management | 0.00 | 0.00 | 0.00 | 0.00 | 0.00 | 0.00 | XXX
38205 |  | R | Harvest allogenic stem cells | 1.50 | NA | 0.65 | 0.07 | NA | 2.22 | 000
38206 |  | R | Harvest auto stem cells | 1.50 | NA | 0.65 | 0.07 | NA | 2.22 | 000
38207 |  | I | Cryopreserve stem cells | 0.00 | 0.00 | 0.00 | 0.00 | 0.00 | 0.00 | XXX
38208 |  | I | Thaw preserved stem cells | 0.00 | 0.00 | 0.00 | 0.00 | 0.00 | 0.00 | XXX
38209 |  | I | Wash harvest stem cells | 0.00 | 0.00 | 0.00 | 0.00 | 0.00 | 0.00 | XXX
38210 |  | I | T-cell depletion of harvest | 0.00 | 0.00 | 0.00 | 0.00 | 0.00 | 0.00 | XXX
38211 |  | I | Tumor cell deplete of harvst | 0.00 | 0.00 | 0.00 | 0.00 | 0.00 | 0.00 | XXX
38212 |  | I | Rbc depletion of harvest | 0.00 | 0.00 | 0.00 | 0.00 | 0.00 | 0.00 | XXX
38213 |  | I | Platelet deplete of harvest | 0.00 | 0.00 | 0.00 | 0.00 | 0.00 | 0.00 | XXX
38214 |  | I | Volume deplete of harvest | 0.00 | 0.00 | 0.00 | 0.00 | 0.00 | 0.00 | XXX
38215 |  | I | Harvest stem cell concentrte | 0.00 | 0.00 | 0.00 | 0.00 | 0.00 | 0.00 | XXX
38220 |  | A | Bone marrow aspiration | 1.08 | 3.52 | 0.51 | 0.05 | 4.66 | 1.64 | XXX
38221 |  | A | Bone marrow biopsy | 1.37 | 3.73 | 0.63 | 0.07 | 5.17 | 2.07 | XXX
38230 |  | R | Bone marrow collection | 4.54 | NA | 3.13 | 0.48 | NA | 8.15 | 010
38240 |  | R | Bone marrow/stem transplant | 2.24 | NA | 1.00 | 0.11 | NA | 3.35 | XXX
38241 |  | R | Bone marrow/stem transplant | 2.24 | NA | 1.01 | 0.11 | NA | 3.36 | XXX
38242 |  | A | Lymphocyte infuse transplant | 1.71 | NA | 0.76 | 0.08 | NA | 2.55 | 000
38300 |  | A | Drainage, lymph node lesion | 1.99 | 4.20 | 2.04 | 0.25 | 6.45 | 4.28 | 010
38305 |  | A | Drainage, lymph node lesion | 6.00 | NA | 4.41 | 0.88 | NA | 11.29 | 090
38308 |  | A | Incision of lymph channels | 6.45 | NA | 3.68 | 0.85 | NA | 10.99 | 090
38380 |  | A | Thoracic duct procedure | 7.46 | NA | 5.54 | 0.74 | NA | 13.75 | 090
38381 |  | A | Thoracic duct procedure | 12.89 | NA | 6.70 | 1.84 | NA | 21.43 | 090
38382 |  | A | Thoracic duct procedure | 10.08 | NA | 5.67 | 1.37 | NA | 17.12 | 090
38500 |  | A | Biopsy/removal, lymph nodes | 3.75 | 3.64 | 2.06 | 0.49 | 7.88 | 6.30 | 010
38505 |  | A | Needle biopsy, lymph nodes | 1.14 | 2.05 | 0.80 | 0.09 | 3.28 | 2.03 | 000
38510 |  | A | Biopsy/removal, lymph nodes | 6.43 | 5.44 | 3.41 | 0.72 | 12.59 | 10.56 | 010
38520 |  | A | Biopsy/removal, lymph nodes | 6.67 | NA | 3.96 | 0.84 | NA | 11.47 | 090
38525 |  | A | Biopsy/removal, lymph nodes | 6.07 | NA | 3.27 | 0.80 | NA | 10.15 | 090
38530 |  | A | Biopsy/removal, lymph nodes | 7.99 | NA | 4.30 | 1.12 | NA | 13.40 | 090
38542 |  | A | Explore deep node(s), neck | 5.91 | NA | 4.39 | 0.60 | NA | 10.90 | 090
38550 |  | A | Removal, neck/armpit lesion | 6.92 | NA | 3.86 | 0.88 | NA | 11.66 | 090
38555 |  | A | Removal, neck/armpit lesion | 14.15 | NA | 8.26 | 1.75 | NA | 24.16 | 090
38562 |  | A | Removal, pelvic lymph nodes | 10.49 | NA | 5.88 | 1.20 | NA | 17.57 | 090
38564 |  | A | Removal, abdomen lymph nodes | 10.83 | NA | 5.25 | 1.32 | NA | 17.40 | 090
38570 |  | A | Laparoscopy, lymph node biop | 9.26 | NA | 3.99 | 1.13 | NA | 14.38 | 010
38571 |  | A | Laparoscopy, lymphadenectomy | 14.69 | NA | 6.36 | 1.15 | NA | 22.20 | 010
38572 |  | A | Laparoscopy, lymphadenectomy | 16.60 | NA | 7.09 | 1.90 | NA | 25.60 | 010
38589 |  | C | Laparoscope proc, lymphatic | 0.00 | 0.00 | 0.00 | 0.00 | 0.00 | 0.00 | YYY
38700 |  | A | Removal of lymph nodes, neck | 8.25 | NA | 6.11 | 0.72 | NA | 15.08 | 090
38720 |  | A | Removal of lymph nodes, neck | 13.62 | NA | 9.11 | 1.20 | NA | 23.92 | 090
38724 |  | A | Removal of lymph nodes, neck | 14.55 | NA | 9.57 | 1.28 | NA | 25.40 | 090
38740 |  | A | Remove armpit lymph nodes | 10.03 | NA | 4.90 | 1.32 | NA | 16.25 | 090
38745 |  | A | Remove armpit lymph nodes | 13.11 | NA | 6.02 | 1.73 | NA | 20.85 | 090
38746 |  | A | Remove thoracic lymph nodes | 4.89 | NA | 1.57 | 0.72 | NA | 7.18 | ZZZ
38747 |  | A | Remove abdominal lymph nodes | 4.89 | NA | 1.63 | 0.64 | NA | 7.16 | ZZZ
38760 |  | A | Remove groin lymph nodes | 12.96 | NA | 6.08 | 1.71 | NA | 20.75 | 090
38765 |  | A | Remove groin lymph nodes | 19.99 | NA | 8.92 | 2.47 | NA | 31.38 | 090
38770 |  | A | Remove pelvis lymph nodes | 13.24 | NA | 6.35 | 1.40 | NA | 20.99 | 090
38780 |  | A | Remove abdomen lymph nodes | 16.60 | NA | 8.20 | 1.88 | NA | 26.69 | 090
38790 |  | A | Inject for lymphatic x-ray | 1.29 | NA | 0.78 | 0.13 | NA | 2.20 | 000
38792 |  | A | Identify sentinel node | 0.52 | NA | 0.46 | 0.06 | NA | 1.04 | 000
38794 |  | A | Access thoracic lymph duct | 4.45 | NA | 3.68 | 0.32 | NA | 8.45 | 090
38999 |  | C | Blood/lymph system procedure | 0.00 | 0.00 | 0.00 | 0.00 | 0.00 | 0.00 | YYY
39000 |  | A | Exploration of chest | 6.10 | NA | 4.54 | 0.89 | NA | 11.53 | 090
39010 |  | A | Exploration of chest | 11.79 | NA | 7.16 | 1.75 | NA | 20.70 | 090
39200 |  | A | Removal chest lesion | 13.63 | NA | 7.22 | 2.02 | NA | 22.86 | 090
39220 |  | A | Removal chest lesion | 17.42 | NA | 8.95 | 2.45 | NA | 28.83 | 090
39400 |  | A | Visualization of chest | 5.61 | NA | 4.56 | 0.82 | NA | 10.99 | 010
39499 |  | C | Chest procedure | 0.00 | 0.00 | 0.00 | 0.00 | 0.00 | 0.00 | YYY
39501 |  | A | Repair diaphragm laceration | 13.20 | NA | 6.33 | 1.77 | NA | 21.29 | 090
39502 |  | A | Repair paraesophageal hernia | 16.34 | NA | 7.04 | 2.16 | NA | 25.54 | 090
39503 |  | A | Repair of diaphragm hernia | 95.05 | NA | 32.58 | 10.95 | NA | 138.58 | 090
39520 |  | A | Repair of diaphragm hernia | 16.11 | NA | 7.79 | 2.23 | NA | 26.14 | 090
39530 |  | A | Repair of diaphragm hernia | 15.42 | NA | 6.96 | 2.10 | NA | 24.48 | 090
39531 |  | A | Repair of diaphragm hernia | 16.43 | NA | 7.20 | 2.21 | NA | 25.84 | 090
39540 |  | A | Repair of diaphragm hernia | 13.33 | NA | 6.11 | 1.79 | NA | 21.23 | 090
39541 |  | A | Repair of diaphragm hernia | 14.42 | NA | 6.45 | 1.92 | NA | 22.79 | 090
39545 |  | A | Revision of diaphragm | 13.38 | NA | 7.43 | 1.83 | NA | 22.64 | 090
39560 |  | A | Resect diaphragm, simple | 12.00 | NA | 6.12 | 1.59 | NA | 19.72 | 090
39561 |  | A | Resect diaphragm, complex | 17.50 | NA | 9.27 | 2.44 | NA | 29.21 | 090
39599 |  | C | Diaphragm surgery procedure | 0.00 | 0.00 | 0.00 | 0.00 | 0.00 | 0.00 | YYY
4000F |  | I | Tobacco use txmnt counseling | 0.00 | 0.00 | 0.00 | 0.00 | 0.00 | 0.00 | XXX
4001F |  | I | Tobacco use txmnt, pharmacol | 0.00 | 0.00 | 0.00 | 0.00 | 0.00 | 0.00 | XXX
4002F |  | I | Statin therapy, rx | 0.00 | 0.00 | 0.00 | 0.00 | 0.00 | 0.00 | XXX
4006F |  | I | Beta-blocker therapy, rx | 0.00 | 0.00 | 0.00 | 0.00 | 0.00 | 0.00 | XXX
4009F |  | I | Ace inhibitor therapy, rx | 0.00 | 0.00 | 0.00 | 0.00 | 0.00 | 0.00 | XXX
4011F |  | I | Oral antiplatelet tx, rx | 0.00 | 0.00 | 0.00 | 0.00 | 0.00 | 0.00 | XXX
40490 |  | A | Biopsy of lip | 1.22 | 1.72 | 0.62 | 0.05 | 3.00 | 1.89 | 000
40500 |  | A | Partial excision of lip | 4.28 | 7.24 | 4.29 | 0.38 | 11.90 | 8.95 | 090
40510 |  | A | Partial excision of lip | 4.70 | 6.69 | 3.93 | 0.49 | 11.88 | 9.12 | 090
40520 |  | A | Partial excision of lip | 4.67 | 7.48 | 4.01 | 0.52 | 12.67 | 9.20 | 090
40525 |  | A | Reconstruct lip with flap | 7.56 | NA | 6.14 | 0.85 | NA | 14.55 | 090
40527 |  | A | Reconstruct lip with flap | 9.14 | NA | 7.15 | 0.97 | NA | 17.26 | 090
40530 |  | A | Partial removal of lip | 5.40 | 7.88 | 4.49 | 0.55 | 13.83 | 10.44 | 090
40650 |  | A | Repair lip | 3.64 | 6.63 | 3.19 | 0.38 | 10.65 | 7.21 | 090
40652 |  | A | Repair lip | 4.26 | 7.65 | 4.15 | 0.52 | 12.43 | 8.93 | 090
40654 |  | A | Repair lip | 5.31 | 8.62 | 4.82 | 0.60 | 14.53 | 10.73 | 090
40700 |  | A | Repair cleft lip/nasal | 12.80 | NA | 8.83 | 0.95 | NA | 22.57 | 090
40701 |  | A | Repair cleft lip/nasal | 15.86 | NA | 10.99 | 1.65 | NA | 28.51 | 090
40702 |  | A | Repair cleft lip/nasal | 13.05 | NA | 8.06 | 1.23 | NA | 22.34 | 090
40720 |  | A | Repair cleft lip/nasal | 13.56 | NA | 9.60 | 1.79 | NA | 24.95 | 090
40761 |  | A | Repair cleft lip/nasal | 14.73 | NA | 9.96 | 1.93 | NA | 26.62 | 090
40799 |  | C | Lip surgery procedure | 0.00 | 0.00 | 0.00 | 0.00 | 0.00 | 0.00 | YYY
40800 |  | A | Drainage of mouth lesion | 1.17 | 3.06 | 1.77 | 0.13 | 4.36 | 3.07 | 010
40801 |  | A | Drainage of mouth lesion | 2.54 | 4.13 | 2.73 | 0.31 | 6.98 | 5.57 | 010
40804 |  | A | Removal, foreign body, mouth | 1.24 | 3.40 | 1.80 | 0.11 | 4.75 | 3.15 | 010
40805 |  | A | Removal, foreign body, mouth | 2.70 | 4.51 | 2.77 | 0.32 | 7.52 | 5.79 | 010
40806 |  | A | Incision of lip fold | 0.31 | 1.86 | 0.50 | 0.04 | 2.21 | 0.85 | 000
40808 |  | A | Biopsy of mouth lesion | 0.96 | 2.75 | 1.48 | 0.10 | 3.81 | 2.54 | 010
40810 |  | A | Excision of mouth lesion | 1.31 | 2.97 | 1.65 | 0.13 | 4.41 | 3.09 | 010
40812 |  | A | Excise/repair mouth lesion | 2.31 | 3.83 | 2.37 | 0.28 | 6.42 | 4.96 | 010
40814 |  | A | Excise/repair mouth lesion | 3.42 | 5.05 | 3.85 | 0.41 | 8.88 | 7.67 | 090
40816 |  | A | Excision of mouth lesion | 3.67 | 5.28 | 3.95 | 0.40 | 9.35 | 8.02 | 090
40818 |  | A | Excise oral mucosa for graft | 2.41 | 5.21 | 3.88 | 0.21 | 7.84 | 6.50 | 090
40819 |  | A | Excise lip or cheek fold | 2.41 | 4.19 | 3.09 | 0.29 | 6.90 | 5.79 | 090
40820 |  | A | Treatment of mouth lesion | 1.28 | 4.09 | 2.45 | 0.11 | 5.48 | 3.84 | 010
40830 |  | A | Repair mouth laceration | 1.76 | 3.71 | 2.00 | 0.19 | 5.66 | 3.96 | 010
40831 |  | A | Repair mouth laceration | 2.46 | 4.69 | 2.96 | 0.30 | 7.45 | 5.73 | 010
40840 |  | R | Reconstruction of mouth | 8.74 | 9.82 | 6.80 | 1.08 | 19.64 | 16.62 | 090
40842 |  | R | Reconstruction of mouth | 8.74 | 10.09 | 6.62 | 1.08 | 19.91 | 16.44 | 090
40843 |  | R | Reconstruction of mouth | 12.10 | 12.11 | 7.61 | 1.39 | 25.60 | 21.11 | 090
40844 |  | R | Reconstruction of mouth | 16.02 | 15.74 | 11.32 | 1.99 | 33.76 | 29.33 | 090
40845 |  | R | Reconstruction of mouth | 18.59 | 17.02 | 12.90 | 2.00 | 37.61 | 33.48 | 090
40899 |  | C | Mouth surgery procedure | 0.00 | 0.00 | 0.00 | 0.00 | 0.00 | 0.00 | YYY
41000 |  | A | Drainage of mouth lesion | 1.30 | 2.32 | 1.40 | 0.12 | 3.74 | 2.82 | 010
41005 |  | A | Drainage of mouth lesion | 1.26 | 3.42 | 1.71 | 0.12 | 4.80 | 3.09 | 010
41006 |  | A | Drainage of mouth lesion | 3.25 | 4.87 | 3.13 | 0.35 | 8.47 | 6.73 | 090
41007 |  | A | Drainage of mouth lesion | 3.11 | 5.08 | 2.98 | 0.31 | 8.50 | 6.40 | 090
41008 |  | A | Drainage of mouth lesion | 3.37 | 4.79 | 3.16 | 0.42 | 8.58 | 6.95 | 090
41009 |  | A | Drainage of mouth lesion | 3.59 | 5.09 | 3.53 | 0.47 | 9.15 | 7.59 | 090
41010 |  | A | Incision of tongue fold | 1.06 | 3.43 | 1.65 | 0.07 | 4.56 | 2.78 | 010
41015 |  | A | Drainage of mouth lesion | 3.96 | 5.52 | 4.14 | 0.46 | 9.93 | 8.56 | 090
41016 |  | A | Drainage of mouth lesion | 4.07 | 5.70 | 4.22 | 0.53 | 10.30 | 8.82 | 090
41017 |  | A | Drainage of mouth lesion | 4.07 | 5.72 | 4.29 | 0.53 | 10.32 | 8.89 | 090
41018 |  | A | Drainage of mouth lesion | 5.10 | 6.20 | 4.53 | 0.68 | 11.98 | 10.31 | 090
41100 |  | A | Biopsy of tongue | 1.63 | 2.45 | 1.40 | 0.15 | 4.24 | 3.18 | 010
41105 |  | A | Biopsy of tongue | 1.42 | 2.34 | 1.30 | 0.13 | 3.89 | 2.85 | 010
41108 |  | A | Biopsy of floor of mouth | 1.05 | 2.11 | 1.11 | 0.10 | 3.26 | 2.27 | 010
41110 |  | A | Excision of tongue lesion | 1.51 | 3.04 | 1.63 | 0.13 | 4.68 | 3.27 | 010
41112 |  | A | Excision of tongue lesion | 2.74 | 4.56 | 3.19 | 0.28 | 7.57 | 6.21 | 090
41113 |  | A | Excision of tongue lesion | 3.20 | 4.84 | 3.44 | 0.34 | 8.38 | 6.97 | 090
41114 |  | A | Excision of tongue lesion | 8.48 | NA | 7.11 | 0.83 | NA | 16.41 | 090
41115 |  | A | Excision of tongue fold | 1.74 | 3.40 | 1.83 | 0.18 | 5.33 | 3.75 | 010
41116 |  | A | Excision of mouth lesion | 2.44 | 4.49 | 2.78 | 0.23 | 7.16 | 5.45 | 090
41120 |  | A | Partial removal of tongue | 9.78 | NA | 15.03 | 0.79 | NA | 25.60 | 090
41130 |  | A | Partial removal of tongue | 11.15 | NA | 15.86 | 0.93 | NA | 27.94 | 090
41135 |  | A | Tongue and neck surgery | 23.11 | NA | 22.62 | 1.88 | NA | 47.60 | 090
41140 |  | A | Removal of tongue | 25.51 | NA | 25.94 | 2.26 | NA | 53.71 | 090
41145 |  | A | Tongue removal, neck surgery | 30.07 | NA | 29.85 | 2.54 | NA | 62.46 | 090
41150 |  | A | Tongue, mouth, jaw surgery | 23.06 | NA | 24.08 | 1.94 | NA | 49.08 | 090
41153 |  | A | Tongue, mouth, neck surgery | 23.78 | NA | 24.40 | 2.00 | NA | 50.17 | 090
41155 |  | A | Tongue, jaw, & neck surgery | 27.74 | NA | 26.14 | 2.33 | NA | 56.21 | 090
41250 |  | A | Repair tongue laceration | 1.91 | 2.94 | 1.24 | 0.18 | 5.03 | 3.33 | 010
41251 |  | A | Repair tongue laceration | 2.27 | 3.33 | 1.61 | 0.22 | 5.83 | 4.10 | 010
41252 |  | A | Repair tongue laceration | 2.98 | 3.98 | 2.22 | 0.29 | 7.25 | 5.49 | 010
41500 |  | A | Fixation of tongue | 3.71 | NA | 7.33 | 0.30 | NA | 11.34 | 090
41510 |  | A | Tongue to lip surgery | 3.42 | NA | 7.57 | 0.20 | NA | 11.18 | 090
41520 |  | A | Reconstruction, tongue fold | 2.74 | 4.77 | 3.55 | 0.27 | 7.78 | 6.56 | 090
41599 |  | C | Tongue and mouth surgery | 0.00 | 0.00 | 0.00 | 0.00 | 0.00 | 0.00 | YYY
41800 |  | A | Drainage of gum lesion | 1.17 | 2.92 | 1.40 | 0.12 | 4.21 | 2.69 | 010
41805 |  | A | Removal foreign body, gum | 1.24 | 3.00 | 2.30 | 0.13 | 4.37 | 3.68 | 010
41806 |  | A | Removal foreign body,jawbone | 2.70 | 3.96 | 3.09 | 0.37 | 7.03 | 6.16 | 010
41820 |  | R | Excision, gum, each quadrant | 0.00 | 0.00 | 0.00 | 0.00 | 0.00 | 0.00 | 000
41821 |  | R | Excision of gum flap | 0.00 | 0.00 | 0.00 | 0.00 | 0.00 | 0.00 | 000
41822 |  | R | Excision of gum lesion | 2.31 | 3.99 | 1.90 | 0.31 | 6.62 | 4.53 | 010
41823 |  | R | Excision of gum lesion | 3.31 | 5.68 | 3.99 | 0.47 | 9.46 | 7.77 | 090
41825 |  | A | Excision of gum lesion | 1.31 | 3.12 | 2.11 | 0.15 | 4.59 | 3.57 | 010
41826 |  | A | Excision of gum lesion | 2.31 | 2.95 | 2.19 | 0.30 | 5.56 | 4.81 | 010
41827 |  | A | Excision of gum lesion | 3.42 | 5.67 | 3.61 | 0.35 | 9.44 | 7.38 | 090
41828 |  | R | Excision of gum lesion | 3.10 | 3.86 | 2.82 | 0.44 | 7.40 | 6.35 | 010
41830 |  | R | Removal of gum tissue | 3.35 | 5.14 | 3.57 | 0.44 | 8.93 | 7.35 | 010
41850 |  | R | Treatment of gum lesion | 0.00 | 0.00 | 0.00 | 0.00 | 0.00 | 0.00 | 000
41870 |  | R | Gum graft | 0.00 | 0.00 | 0.00 | 0.00 | 0.00 | 0.00 | 000
41872 |  | R | Repair gum | 2.60 | 5.14 | 3.43 | 0.30 | 8.03 | 6.33 | 090
41874 |  | R | Repair tooth socket | 3.10 | 4.96 | 3.14 | 0.45 | 8.51 | 6.69 | 090
41899 |  | C | Dental surgery procedure | 0.00 | 0.00 | 0.00 | 0.00 | 0.00 | 0.00 | YYY
42000 |  | A | Drainage mouth roof lesion | 1.23 | 2.52 | 1.25 | 0.12 | 3.87 | 2.60 | 010
42100 |  | A | Biopsy roof of mouth | 1.31 | 2.09 | 1.34 | 0.13 | 3.53 | 2.78 | 010
42104 |  | A | Excision lesion, mouth roof | 1.64 | 2.69 | 1.56 | 0.16 | 4.49 | 3.37 | 010
42106 |  | A | Excision lesion, mouth roof | 2.10 | 3.41 | 2.38 | 0.25 | 5.76 | 4.73 | 010
42107 |  | A | Excision lesion, mouth roof | 4.44 | 5.85 | 3.92 | 0.44 | 10.73 | 8.80 | 090
42120 |  | A | Remove palate/lesion | 6.17 | NA | 11.56 | 0.52 | NA | 18.25 | 090
42140 |  | A | Excision of uvula | 1.62 | 3.76 | 2.07 | 0.13 | 5.52 | 3.82 | 090
42145 |  | A | Repair palate, pharynx/uvula | 8.06 | NA | 7.39 | 0.65 | NA | 16.10 | 090
42160 |  | A | Treatment mouth roof lesion | 1.80 | 4.16 | 2.20 | 0.17 | 6.13 | 4.17 | 010
42180 |  | A | Repair palate | 2.51 | 3.11 | 2.06 | 0.21 | 5.82 | 4.78 | 010
42182 |  | A | Repair palate | 3.83 | 3.90 | 2.95 | 0.40 | 8.13 | 7.18 | 010
42200 |  | A | Reconstruct cleft palate | 12.00 | NA | 9.92 | 1.27 | NA | 23.20 | 090
42205 |  | A | Reconstruct cleft palate | 13.30 | NA | 9.82 | 1.58 | NA | 24.70 | 090
42210 |  | A | Reconstruct cleft palate | 14.51 | NA | 11.21 | 2.16 | NA | 27.88 | 090
42215 |  | A | Reconstruct cleft palate | 8.83 | NA | 8.74 | 1.31 | NA | 18.88 | 090
42220 |  | A | Reconstruct cleft palate | 7.02 | NA | 6.92 | 0.73 | NA | 14.67 | 090
42225 |  | A | Reconstruct cleft palate | 9.55 | NA | 16.15 | 0.86 | NA | 26.56 | 090
42226 |  | A | Lengthening of palate | 10.01 | NA | 14.14 | 1.01 | NA | 25.16 | 090
42227 |  | A | Lengthening of palate | 9.53 | NA | 14.78 | 0.98 | NA | 25.29 | 090
42235 |  | A | Repair palate | 7.88 | NA | 11.93 | 0.72 | NA | 20.52 | 090
42260 |  | A | Repair nose to lip fistula | 9.81 | 10.14 | 6.90 | 1.26 | 21.21 | 17.97 | 090
42280 |  | A | Preparation, palate mold | 1.54 | 1.98 | 1.11 | 0.19 | 3.71 | 2.85 | 010
42281 |  | A | Insertion, palate prosthesis | 1.93 | 2.69 | 1.84 | 0.17 | 4.79 | 3.94 | 010
42299 |  | C | Palate/uvula surgery | 0.00 | 0.00 | 0.00 | 0.00 | 0.00 | 0.00 | YYY
42300 |  | A | Drainage of salivary gland | 1.93 | 2.83 | 1.80 | 0.16 | 4.92 | 3.89 | 010
42305 |  | A | Drainage of salivary gland | 6.07 | NA | 4.62 | 0.51 | NA | 11.21 | 090
42310 |  | A | Drainage of salivary gland | 1.56 | 2.33 | 1.52 | 0.13 | 4.02 | 3.21 | 010
42320 |  | A | Drainage of salivary gland | 2.35 | 3.31 | 2.06 | 0.21 | 5.88 | 4.62 | 010
42325 |  | A | Create salivary cyst drain | 2.76 | 4.68 | 2.36 | 0.27 | 7.71 | 5.38 | 090
42326 |  | A | Create salivary cyst drain | 3.78 | 6.24 | 3.09 | 0.29 | 10.31 | 7.16 | 090
42330 |  | A | Removal of salivary stone | 2.21 | 3.15 | 1.81 | 0.19 | 5.56 | 4.21 | 010
42335 |  | A | Removal of salivary stone | 3.32 | 4.98 | 3.10 | 0.29 | 8.59 | 6.71 | 090
42340 |  | A | Removal of salivary stone | 4.60 | 6.10 | 3.86 | 0.42 | 11.12 | 8.88 | 090
42400 |  | A | Biopsy of salivary gland | 0.78 | 1.68 | 0.72 | 0.06 | 2.52 | 1.56 | 000
42405 |  | A | Biopsy of salivary gland | 3.30 | 3.98 | 2.40 | 0.28 | 7.56 | 5.98 | 010
42408 |  | A | Excision of salivary cyst | 4.54 | 5.96 | 3.55 | 0.45 | 10.95 | 8.54 | 090
42409 |  | A | Drainage of salivary cyst | 2.82 | 4.58 | 2.72 | 0.27 | 7.67 | 5.80 | 090
42410 |  | A | Excise parotid gland/lesion | 9.35 | NA | 6.08 | 0.91 | NA | 16.34 | 090
42415 |  | A | Excise parotid gland/lesion | 16.89 | NA | 10.54 | 1.43 | NA | 28.87 | 090
42420 |  | A | Excise parotid gland/lesion | 19.60 | NA | 11.99 | 1.65 | NA | 33.24 | 090
42425 |  | A | Excise parotid gland/lesion | 13.03 | NA | 8.37 | 1.05 | NA | 22.45 | 090
42426 |  | A | Excise parotid gland/lesion | 21.27 | NA | 12.61 | 1.80 | NA | 35.68 | 090
42440 |  | A | Excise submaxillary gland | 6.97 | NA | 4.67 | 0.59 | NA | 12.23 | 090
42450 |  | A | Excise sublingual gland | 4.62 | 5.96 | 4.22 | 0.42 | 11.00 | 9.26 | 090
42500 |  | A | Repair salivary duct | 4.30 | 5.74 | 4.11 | 0.41 | 10.45 | 8.82 | 090
42505 |  | A | Repair salivary duct | 6.18 | 7.14 | 5.27 | 0.55 | 13.87 | 12.00 | 090
42507 |  | A | Parotid duct diversion | 6.11 | NA | 6.45 | 0.49 | NA | 13.05 | 090
42508 |  | A | Parotid duct diversion | 9.11 | NA | 8.25 | 1.04 | NA | 18.40 | 090
42509 |  | A | Parotid duct diversion | 11.54 | NA | 9.97 | 0.93 | NA | 22.44 | 090
42510 |  | A | Parotid duct diversion | 8.16 | NA | 7.61 | 0.66 | NA | 16.43 | 090
42550 |  | A | Injection for salivary x-ray | 1.25 | 3.10 | 0.43 | 0.07 | 4.43 | 1.75 | 000
42600 |  | A | Closure of salivary fistula | 4.82 | 6.55 | 4.03 | 0.43 | 11.80 | 9.28 | 090
42650 |  | A | Dilation of salivary duct | 0.77 | 1.11 | 0.71 | 0.07 | 1.96 | 1.55 | 000
42660 |  | A | Dilation of salivary duct | 1.13 | 1.37 | 0.88 | 0.09 | 2.60 | 2.10 | 000
42665 |  | A | Ligation of salivary duct | 2.54 | 4.27 | 2.55 | 0.23 | 7.03 | 5.31 | 090
42699 |  | C | Salivary surgery procedure | 0.00 | 0.00 | 0.00 | 0.00 | 0.00 | 0.00 | YYY
42700 |  | A | Drainage of tonsil abscess | 1.62 | 2.65 | 1.68 | 0.13 | 4.40 | 3.43 | 010
42720 |  | A | Drainage of throat abscess | 5.42 | 4.79 | 3.69 | 0.44 | 10.65 | 9.55 | 010
42725 |  | A | Drainage of throat abscess | 10.72 | NA | 8.03 | 0.91 | NA | 19.66 | 090
42800 |  | A | Biopsy of throat | 1.39 | 2.19 | 1.38 | 0.11 | 3.69 | 2.88 | 010
42802 |  | A | Biopsy of throat | 1.54 | 4.59 | 1.99 | 0.12 | 6.26 | 3.65 | 010
42804 |  | A | Biopsy of upper nose/throat | 1.24 | 3.65 | 1.68 | 0.10 | 4.99 | 3.02 | 010
42806 |  | A | Biopsy of upper nose/throat | 1.58 | 3.97 | 1.87 | 0.13 | 5.68 | 3.58 | 010
42808 |  | A | Excise pharynx lesion | 2.30 | 3.08 | 1.88 | 0.19 | 5.58 | 4.38 | 010
42809 |  | A | Remove pharynx foreign body | 1.81 | 2.30 | 1.30 | 0.16 | 4.27 | 3.27 | 010
42810 |  | A | Excision of neck cyst | 3.26 | 5.63 | 3.51 | 0.29 | 9.18 | 7.06 | 090
42815 |  | A | Excision of neck cyst | 7.07 | NA | 6.34 | 0.61 | NA | 14.02 | 090
42820 |  | A | Remove tonsils and adenoids | 3.91 | NA | 3.22 | 0.31 | NA | 7.44 | 090
42821 |  | A | Remove tonsils and adenoids | 4.29 | NA | 3.43 | 0.35 | NA | 8.07 | 090
42825 |  | A | Removal of tonsils | 3.42 | NA | 3.12 | 0.25 | NA | 6.78 | 090
42826 |  | A | Removal of tonsils | 3.38 | NA | 2.97 | 0.27 | NA | 6.62 | 090
42830 |  | A | Removal of adenoids | 2.58 | NA | 2.52 | 0.20 | NA | 5.30 | 090
42831 |  | A | Removal of adenoids | 2.72 | NA | 2.80 | 0.22 | NA | 5.73 | 090
42835 |  | A | Removal of adenoids | 2.30 | NA | 2.42 | 0.21 | NA | 4.93 | 090
42836 |  | A | Removal of adenoids | 3.19 | NA | 2.91 | 0.26 | NA | 6.35 | 090
42842 |  | A | Extensive surgery of throat | 8.77 | NA | 10.81 | 0.71 | NA | 20.29 | 090
42844 |  | A | Extensive surgery of throat | 14.32 | NA | 15.91 | 1.16 | NA | 31.39 | 090
42845 |  | A | Extensive surgery of throat | 24.30 | NA | 22.66 | 1.98 | NA | 48.94 | 090
42860 |  | A | Excision of tonsil tags | 2.22 | NA | 2.37 | 0.18 | NA | 4.78 | 090
42870 |  | A | Excision of lingual tonsil | 5.40 | NA | 8.48 | 0.44 | NA | 14.32 | 090
42890 |  | A | Partial removal of pharynx | 12.95 | NA | 13.90 | 1.05 | NA | 27.90 | 090
42892 |  | A | Revision of pharyngeal walls | 15.84 | NA | 16.83 | 1.28 | NA | 33.95 | 090
42894 |  | A | Revision of pharyngeal walls | 22.90 | NA | 21.54 | 1.86 | NA | 46.30 | 090
42900 |  | A | Repair throat wound | 5.25 | NA | 3.57 | 0.50 | NA | 9.32 | 010
42950 |  | A | Reconstruction of throat | 8.11 | NA | 11.60 | 0.72 | NA | 20.42 | 090
42953 |  | A | Repair throat, esophagus | 8.97 | NA | 16.55 | 0.88 | NA | 26.40 | 090
42955 |  | A | Surgical opening of throat | 7.39 | NA | 10.46 | 0.80 | NA | 18.66 | 090
42960 |  | A | Control throat bleeding | 2.33 | NA | 1.93 | 0.19 | NA | 4.46 | 010
42961 |  | A | Control throat bleeding | 5.59 | NA | 4.89 | 0.45 | NA | 10.93 | 090
42962 |  | A | Control throat bleeding | 7.14 | NA | 5.80 | 0.58 | NA | 13.52 | 090
42970 |  | A | Control nose/throat bleeding | 5.43 | NA | 4.09 | 0.39 | NA | 9.91 | 090
42971 |  | A | Control nose/throat bleeding | 6.21 | NA | 5.02 | 0.51 | NA | 11.74 | 090
42972 |  | A | Control nose/throat bleeding | 7.20 | NA | 5.58 | 0.62 | NA | 13.41 | 090
42999 |  | C | Throat surgery procedure | 0.00 | 0.00 | 0.00 | 0.00 | 0.00 | 0.00 | YYY
43020 |  | A | Incision of esophagus | 8.10 | NA | 5.31 | 0.87 | NA | 14.27 | 090
43030 |  | A | Throat muscle surgery | 7.70 | NA | 5.34 | 0.70 | NA | 13.74 | 090
43045 |  | A | Incision of esophagus | 20.13 | NA | 10.51 | 2.58 | NA | 33.22 | 090
43100 |  | A | Excision of esophagus lesion | 9.20 | NA | 6.06 | 0.93 | NA | 16.19 | 090
43101 |  | A | Excision of esophagus lesion | 16.25 | NA | 7.77 | 2.31 | NA | 26.33 | 090
43107 |  | A | Removal of esophagus | 40.02 | NA | 17.70 | 5.22 | NA | 62.94 | 090
43108 |  | A | Removal of esophagus | 34.21 | NA | 13.87 | 4.07 | NA | 52.14 | 090
43112 |  | A | Removal of esophagus | 43.52 | NA | 18.73 | 5.79 | NA | 68.04 | 090
43113 |  | A | Removal of esophagus | 35.29 | NA | 14.88 | 4.42 | NA | 54.59 | 090
43116 |  | A | Partial removal of esophagus | 31.23 | NA | 16.17 | 3.05 | NA | 50.45 | 090
43117 |  | A | Partial removal of esophagus | 40.02 | NA | 16.75 | 5.17 | NA | 61.94 | 090
43118 |  | A | Partial removal of esophagus | 33.22 | NA | 13.41 | 4.10 | NA | 50.73 | 090
43121 |  | A | Partial removal of esophagus | 29.21 | NA | 13.19 | 3.90 | NA | 46.30 | 090
43122 |  | A | Partial removal of esophagus | 40.02 | NA | 16.93 | 5.40 | NA | 62.35 | 090
43123 |  | A | Partial removal of esophagus | 33.22 | NA | 13.85 | 4.15 | NA | 51.22 | 090
43124 |  | A | Removal of esophagus | 27.33 | NA | 12.85 | 3.73 | NA | 43.92 | 090
43130 |  | A | Removal of esophagus pouch | 11.75 | NA | 7.35 | 1.16 | NA | 20.27 | 090
43135 |  | A | Removal of esophagus pouch | 16.11 | NA | 7.95 | 2.33 | NA | 26.39 | 090
43200 |  | A | Esophagus endoscopy | 1.59 | 4.08 | 1.08 | 0.13 | 5.80 | 2.80 | 000
43201 |  | A | Esoph scope w/submucous inj | 2.09 | 4.71 | 1.14 | 0.15 | 6.95 | 3.39 | 000
43202 |  | A | Esophagus endoscopy, biopsy | 1.89 | 5.75 | 0.98 | 0.15 | 7.79 | 3.03 | 000
43204 |  | A | Esoph scope w/sclerosis inj | 3.77 | NA | 1.66 | 0.30 | NA | 5.73 | 000
43205 |  | A | Esophagus endoscopy/ligation | 3.79 | NA | 1.66 | 0.28 | NA | 5.73 | 000
43215 |  | A | Esophagus endoscopy | 2.61 | NA | 1.25 | 0.22 | NA | 4.08 | 000
43216 |  | A | Esophagus endoscopy/lesion | 2.40 | 0.00 | 1.13 | 0.20 | 2.60 | 3.73 | 000
43217 |  | A | Esophagus endoscopy | 2.91 | 7.19 | 1.27 | 0.26 | 10.35 | 4.43 | 000
43219 |  | A | Esophagus endoscopy | 2.81 | NA | 1.45 | 0.24 | NA | 4.50 | 000
43220 |  | A | Esoph endoscopy, dilation | 2.10 | NA | 1.04 | 0.17 | NA | 3.32 | 000
43226 |  | A | Esoph endoscopy, dilation | 2.34 | NA | 1.13 | 0.19 | NA | 3.66 | 000
43227 |  | A | Esoph endoscopy, repair | 3.60 | NA | 1.57 | 0.28 | NA | 5.45 | 000
43228 |  | A | Esoph endoscopy, ablation | 3.77 | NA | 1.64 | 0.34 | NA | 5.75 | 000
43231 |  | A | Esoph endoscopy w/us exam | 3.20 | NA | 1.42 | 0.23 | NA | 4.85 | 000
43232 |  | A | Esoph endoscopy w/us fn bx | 4.48 | NA | 1.92 | 0.34 | NA | 6.74 | 000
43234 |  | A | Upper GI endoscopy, exam | 2.01 | 5.49 | 0.92 | 0.17 | 7.67 | 3.11 | 000
43235 |  | A | Uppr gi endoscopy, diagnosis | 2.39 | 5.55 | 1.11 | 0.19 | 8.13 | 3.70 | 000
43236 |  | A | Uppr gi scope w/submuc inj | 2.93 | 6.89 | 1.34 | 0.21 | 10.02 | 4.48 | 000
43237 |  | A | Endoscopic us exam, esoph | 3.99 | NA | 1.75 | 0.43 | NA | 6.17 | 000
43238 |  | A | Uppr gi endoscopy w/us fn bx | 5.03 | NA | 2.14 | 0.43 | NA | 7.60 | 000
43239 |  | A | Upper GI endoscopy, biopsy | 2.88 | 6.18 | 1.30 | 0.22 | 9.28 | 4.39 | 000
43240 |  | A | Esoph endoscope w/drain cyst | 6.86 | NA | 2.83 | 0.56 | NA | 10.25 | 000
43241 |  | A | Upper GI endoscopy with tube | 2.60 | NA | 1.19 | 0.21 | NA | 4.00 | 000
43242 |  | A | Uppr gi endoscopy w/us fn bx | 7.31 | NA | 2.93 | 0.53 | NA | 10.78 | 000
43243 |  | A | Upper gi endoscopy & inject | 4.57 | NA | 1.95 | 0.33 | NA | 6.85 | 000
43244 |  | A | Upper GI endoscopy/ligation | 5.05 | NA | 2.14 | 0.37 | NA | 7.56 | 000
43245 |  | A | Uppr gi scope dilate strictr | 3.19 | NA | 1.40 | 0.26 | NA | 4.85 | 000
43246 |  | A | Place gastrostomy tube | 4.33 | NA | 1.81 | 0.34 | NA | 6.48 | 000
43247 |  | A | Operative upper GI endoscopy | 3.39 | NA | 1.49 | 0.27 | NA | 5.14 | 000
43248 |  | A | Uppr gi endoscopy/guide wire | 3.16 | NA | 1.45 | 0.23 | NA | 4.83 | 000
43249 |  | A | Esoph endoscopy, dilation | 2.91 | NA | 1.33 | 0.22 | NA | 4.46 | 000
43250 |  | A | Upper GI endoscopy/tumor | 3.21 | NA | 1.42 | 0.26 | NA | 4.89 | 000
43251 |  | A | Operative upper GI endoscopy | 3.70 | NA | 1.61 | 0.29 | NA | 5.59 | 000
43255 |  | A | Operative upper GI endoscopy | 4.82 | NA | 2.05 | 0.35 | NA | 7.22 | 000
43256 |  | A | Uppr gi endoscopy w/stent | 4.35 | NA | 1.85 | 0.32 | NA | 6.52 | 000
43257 |  | A | Uppr gi scope w/thrml txmnt | 5.51 | NA | 2.27 | 0.36 | NA | 8.14 | 000
43258 |  | A | Operative upper GI endoscopy | 4.55 | NA | 1.93 | 0.33 | NA | 6.81 | 000
43259 |  | A | Endoscopic ultrasound exam | 5.20 | NA | 2.15 | 0.35 | NA | 7.70 | 000
43260 |  | A | Endo cholangiopancreatograph | 5.96 | NA | 2.48 | 0.43 | NA | 8.87 | 000
43261 |  | A | Endo cholangiopancreatograph | 6.27 | NA | 2.60 | 0.46 | NA | 9.33 | 000
43262 |  | A | Endo cholangiopancreatograph | 7.39 | NA | 3.02 | 0.54 | NA | 10.96 | 000
43263 |  | A | Endo cholangiopancreatograph | 7.29 | NA | 3.02 | 0.54 | NA | 10.85 | 000
43264 |  | A | Endo cholangiopancreatograph | 8.91 | NA | 3.59 | 0.65 | NA | 13.15 | 000
43265 |  | A | Endo cholangiopancreatograph | 10.02 | NA | 4.00 | 0.73 | NA | 14.75 | 000
43267 |  | A | Endo cholangiopancreatograph | 7.39 | NA | 3.00 | 0.54 | NA | 10.94 | 000
43268 |  | A | Endo cholangiopancreatograph | 7.39 | NA | 3.15 | 0.54 | NA | 11.08 | 000
43269 |  | A | Endo cholangiopancreatograph | 8.22 | NA | 3.33 | 0.60 | NA | 12.15 | 000
43271 |  | A | Endo cholangiopancreatograph | 7.39 | NA | 3.01 | 0.54 | NA | 10.94 | 000
43272 |  | A | Endo cholangiopancreatograph | 7.39 | NA | 3.01 | 0.54 | NA | 10.94 | 000
43280 |  | A | Laparoscopy, fundoplasty | 17.25 | NA | 7.17 | 2.27 | NA | 26.69 | 090
43289 |  | C | Laparoscope proc, esoph | 0.00 | 0.00 | 0.00 | 0.00 | 0.00 | 0.00 | YYY
43300 |  | A | Repair of esophagus | 9.15 | NA | 6.22 | 1.12 | NA | 16.49 | 090
43305 |  | A | Repair esophagus and fistula | 17.39 | NA | 10.37 | 1.54 | NA | 29.30 | 090
43310 |  | A | Repair of esophagus | 25.40 | NA | 10.89 | 3.60 | NA | 39.89 | 090
43312 |  | A | Repair esophagus and fistula | 28.44 | NA | 11.55 | 4.00 | NA | 43.99 | 090
43313 |  | A | Esophagoplasty congenital | 45.30 | NA | 18.40 | 5.45 | NA | 69.15 | 090
43314 |  | A | Tracheo-esophagoplasty cong | 50.29 | NA | 18.88 | 6.63 | NA | 75.80 | 090
43320 |  | A | Fuse esophagus & stomach | 19.94 | NA | 9.05 | 2.73 | NA | 31.72 | 090
43324 |  | A | Revise esophagus & stomach | 20.58 | NA | 8.62 | 2.75 | NA | 31.95 | 090
43325 |  | A | Revise esophagus & stomach | 20.07 | NA | 8.66 | 2.59 | NA | 31.32 | 090
43326 |  | A | Revise esophagus & stomach | 19.75 | NA | 9.17 | 2.84 | NA | 31.76 | 090
43330 |  | A | Repair of esophagus | 19.78 | NA | 8.46 | 2.62 | NA | 30.86 | 090
43331 |  | A | Repair of esophagus | 20.14 | NA | 9.83 | 2.93 | NA | 32.90 | 090
43340 |  | A | Fuse esophagus & intestine | 19.62 | NA | 8.81 | 2.45 | NA | 30.87 | 090
43341 |  | A | Fuse esophagus & intestine | 20.86 | NA | 10.35 | 2.91 | NA | 34.12 | 090
43350 |  | A | Surgical opening, esophagus | 15.79 | NA | 8.31 | 1.42 | NA | 25.52 | 090
43351 |  | A | Surgical opening, esophagus | 18.36 | NA | 9.70 | 2.46 | NA | 30.51 | 090
43352 |  | A | Surgical opening, esophagus | 15.27 | NA | 8.27 | 2.05 | NA | 25.59 | 090
43360 |  | A | Gastrointestinal repair | 35.72 | NA | 14.98 | 4.96 | NA | 55.66 | 090
43361 |  | A | Gastrointestinal repair | 40.52 | NA | 16.63 | 4.49 | NA | 61.64 | 090
43400 |  | A | Ligate esophagus veins | 21.21 | NA | 10.06 | 1.95 | NA | 33.22 | 090
43401 |  | A | Esophagus surgery for veins | 22.10 | NA | 9.26 | 3.04 | NA | 34.40 | 090
43405 |  | A | Ligate/staple esophagus | 20.02 | NA | 9.60 | 2.83 | NA | 32.45 | 090
43410 |  | A | Repair esophagus wound | 13.48 | NA | 7.54 | 1.71 | NA | 22.72 | 090
43415 |  | A | Repair esophagus wound | 25.01 | NA | 11.61 | 3.52 | NA | 40.14 | 090
43420 |  | A | Repair esophagus opening | 14.36 | NA | 7.24 | 1.43 | NA | 23.03 | 090
43425 |  | A | Repair esophagus opening | 21.04 | NA | 9.84 | 3.02 | NA | 33.90 | 090
43450 |  | A | Dilate esophagus | 1.38 | 2.83 | 0.77 | 0.11 | 4.32 | 2.26 | 000
43453 |  | A | Dilate esophagus | 1.51 | 6.53 | 0.82 | 0.11 | 8.15 | 2.44 | 000
43456 |  | A | Dilate esophagus | 2.58 | 14.11 | 1.21 | 0.20 | 16.89 | 3.99 | 000
43458 |  | A | Dilate esophagus | 3.07 | 7.20 | 1.40 | 0.24 | 10.51 | 4.70 | 000
43460 |  | A | Pressure treatment esophagus | 3.80 | NA | 1.57 | 0.31 | NA | 5.68 | 000
43496 |  | C | Free jejunum flap, microvasc | 0.00 | 0.00 | 0.00 | 0.00 | 0.00 | 0.00 | 090
43499 |  | C | Esophagus surgery procedure | 0.00 | 0.00 | 0.00 | 0.00 | 0.00 | 0.00 | YYY
43500 |  | A | Surgical opening of stomach | 11.05 | NA | 4.93 | 1.45 | NA | 17.43 | 090
43501 |  | A | Surgical repair of stomach | 20.05 | NA | 8.20 | 2.64 | NA | 30.89 | 090
43502 |  | A | Surgical repair of stomach | 23.15 | NA | 9.34 | 3.09 | NA | 35.57 | 090
43510 |  | A | Surgical opening of stomach | 13.09 | NA | 6.97 | 1.48 | NA | 21.54 | 090
43520 |  | A | Incision of pyloric muscle | 10.00 | NA | 5.09 | 1.36 | NA | 16.45 | 090
43600 |  | A | Biopsy of stomach | 1.91 | NA | 0.69 | 0.14 | NA | 2.74 | 000
43605 |  | A | Biopsy of stomach | 11.98 | NA | 5.22 | 1.58 | NA | 18.79 | 090
43610 |  | A | Excision of stomach lesion | 14.61 | NA | 6.07 | 1.93 | NA | 22.61 | 090
43611 |  | A | Excision of stomach lesion | 17.85 | NA | 7.47 | 2.35 | NA | 27.67 | 090
43620 |  | A | Removal of stomach | 30.05 | NA | 11.60 | 3.95 | NA | 45.60 | 090
43621 |  | A | Removal of stomach | 30.74 | NA | 11.77 | 4.03 | NA | 46.54 | 090
43622 |  | A | Removal of stomach | 32.54 | NA | 12.36 | 4.29 | NA | 49.20 | 090
43631 |  | A | Removal of stomach, partial | 22.61 | NA | 9.03 | 2.98 | NA | 34.61 | 090
43632 |  | A | Removal of stomach, partial | 22.61 | NA | 9.03 | 2.98 | NA | 34.61 | 090
43633 |  | A | Removal of stomach, partial | 23.12 | NA | 9.19 | 3.05 | NA | 35.35 | 090
43634 |  | A | Removal of stomach, partial | 25.13 | NA | 9.90 | 3.32 | NA | 38.35 | 090
43635 |  | A | Removal of stomach, partial | 2.06 | NA | 0.68 | 0.27 | NA | 3.02 | ZZZ
43638 |  | A | Removal of stomach, partial | 29.02 | NA | 11.70 | 3.80 | NA | 44.52 | 090
43639 |  | A | Removal of stomach, partial | 29.67 | NA | 11.47 | 3.90 | NA | 45.04 | 090
43640 |  | A | Vagotomy & pylorus repair | 17.02 | NA | 7.17 | 2.25 | NA | 26.44 | 090
43641 |  | A | Vagotomy & pylorus repair | 17.27 | NA | 7.28 | 2.24 | NA | 26.79 | 090
43644 |  | A | Lap gastric bypass/roux-en-y | 27.89 | NA | 11.14 | 3.15 | NA | 42.18 | 090
43645 |  | A | Lap gastr bypass incl smll i | 30.02 | NA | 12.02 | 3.53 | NA | 45.57 | 090
43651 |  | A | Laparoscopy, vagus nerve | 10.15 | NA | 4.71 | 1.33 | NA | 16.19 | 090
43652 |  | A | Laparoscopy, vagus nerve | 12.15 | NA | 5.63 | 1.55 | NA | 19.33 | 090
43653 |  | A | Laparoscopy, gastrostomy | 7.74 | NA | 4.16 | 1.01 | NA | 12.90 | 090
43659 |  | C | Laparoscope proc, stom | 0.00 | 0.00 | 0.00 | 0.00 | 0.00 | 0.00 | YYY
43750 |  | A | Place gastrostomy tube | 4.49 | NA | 2.14 | 0.43 | NA | 7.06 | 010
43752 |  | A | Nasal/orogastric w/stent | 0.81 | NA | 0.27 | 0.02 | NA | 1.10 | 000
43760 |  | A | Change gastrostomy tube | 1.10 | 5.82 | 0.45 | 0.09 | 7.01 | 1.65 | 000
43761 |  | A | Reposition gastrostomy tube | 2.01 | 1.18 | 0.69 | 0.13 | 3.32 | 2.84 | 000
43800 |  | A | Reconstruction of pylorus | 13.70 | NA | 5.81 | 1.81 | NA | 21.32 | 090
43810 |  | A | Fusion of stomach and bowel | 14.66 | NA | 6.10 | 1.93 | NA | 22.69 | 090
43820 |  | A | Fusion of stomach and bowel | 15.38 | NA | 6.33 | 2.03 | NA | 23.74 | 090
43825 |  | A | Fusion of stomach and bowel | 19.23 | NA | 7.91 | 2.53 | NA | 29.67 | 090
43830 |  | A | Place gastrostomy tube | 9.54 | NA | 4.85 | 1.25 | NA | 15.64 | 090
43831 |  | A | Place gastrostomy tube | 7.85 | NA | 4.53 | 1.03 | NA | 13.41 | 090
43832 |  | A | Place gastrostomy tube | 15.61 | NA | 6.83 | 1.97 | NA | 24.41 | 090
43840 |  | A | Repair of stomach lesion | 15.57 | NA | 6.69 | 2.05 | NA | 24.31 | 090
43842 |  | A | V-band gastroplasty | 18.48 | NA | 7.69 | 2.44 | NA | 28.60 | 090
43843 |  | A | Gastroplasty w/o v-band | 18.66 | NA | 7.68 | 2.45 | NA | 28.79 | 090
43845 |  | C | Gastroplasty duodenal switch | 0.00 | 0.00 | 0.00 | 0.00 | 0.00 | 0.00 | 090
43846 |  | A | Gastric bypass for obesity | 24.06 | NA | 9.88 | 3.18 | NA | 37.12 | 090
43847 |  | A | Gastric bypass incl small i | 26.93 | NA | 10.74 | 3.55 | NA | 41.23 | 090
43848 |  | A | Revision gastroplasty | 29.41 | NA | 11.64 | 3.87 | NA | 44.92 | 090
43850 |  | A | Revise stomach-bowel fusion | 24.73 | NA | 9.69 | 3.27 | NA | 37.69 | 090
43855 |  | A | Revise stomach-bowel fusion | 26.17 | NA | 10.20 | 3.46 | NA | 39.83 | 090
43860 |  | A | Revise stomach-bowel fusion | 25.01 | NA | 9.81 | 3.30 | NA | 38.12 | 090
43865 |  | A | Revise stomach-bowel fusion | 26.53 | NA | 10.32 | 3.50 | NA | 40.35 | 090
43870 |  | A | Repair stomach opening | 9.70 | NA | 4.51 | 1.27 | NA | 15.48 | 090
43880 |  | A | Repair stomach-bowel fistula | 24.66 | NA | 9.78 | 3.26 | NA | 37.70 | 090
43999 |  | C | Stomach surgery procedure | 0.00 | 0.00 | 0.00 | 0.00 | 0.00 | 0.00 | YYY
44005 |  | A | Freeing of bowel adhesion | 16.24 | NA | 6.64 | 2.14 | NA | 25.02 | 090
44010 |  | A | Incision of small bowel | 12.53 | NA | 5.39 | 1.64 | NA | 19.56 | 090
44015 |  | A | Insert needle cath bowel | 2.63 | NA | 0.87 | 0.35 | NA | 3.84 | ZZZ
44020 |  | A | Explore small intestine | 14.00 | NA | 5.87 | 1.85 | NA | 21.72 | 090
44021 |  | A | Decompress small bowel | 14.09 | NA | 5.92 | 1.86 | NA | 21.86 | 090
44025 |  | A | Incision of large bowel | 14.29 | NA | 5.96 | 1.89 | NA | 22.14 | 090
44050 |  | A | Reduce bowel obstruction | 14.04 | NA | 5.88 | 1.85 | NA | 21.77 | 090
44055 |  | A | Correct malrotation of bowel | 22.01 | NA | 8.59 | 2.90 | NA | 33.51 | 090
44100 |  | A | Biopsy of bowel | 2.01 | NA | 0.75 | 0.17 | NA | 2.94 | 000
44110 |  | A | Excise intestine lesion(s) | 11.81 | NA | 5.18 | 1.55 | NA | 18.54 | 090
44111 |  | A | Excision of bowel lesion(s) | 14.30 | NA | 6.03 | 1.86 | NA | 22.19 | 090
44120 |  | A | Removal of small intestine | 17.00 | NA | 6.99 | 2.24 | NA | 26.23 | 090
44121 |  | A | Removal of small intestine | 4.45 | NA | 1.49 | 0.58 | NA | 6.51 | ZZZ
44125 |  | A | Removal of small intestine | 17.55 | NA | 7.16 | 2.26 | NA | 26.97 | 090
44126 |  | A | Enterectomy w/o taper, cong | 35.52 | NA | 13.91 | 4.68 | NA | 54.11 | 090
44127 |  | A | Enterectomy w/taper, cong | 41.02 | NA | 15.47 | 5.75 | NA | 62.24 | 090
44128 |  | A | Enterectomy cong, add-on | 4.45 | NA | 1.49 | 0.61 | NA | 6.55 | ZZZ
44130 |  | A | Bowel to bowel fusion | 14.50 | NA | 6.15 | 1.87 | NA | 22.52 | 090
44132 |  | R | Enterectomy, cadaver donor | 0.00 | 0.00 | 0.00 | 0.00 | 0.00 | 0.00 | XXX
44133 |  | R | Enterectomy, live donor | 0.00 | 0.00 | 0.00 | 0.00 | 0.00 | 0.00 | XXX
44135 |  | R | Intestine transplnt, cadaver | 0.00 | 0.00 | 0.00 | 0.00 | 0.00 | 0.00 | XXX
44136 |  | R | Intestine transplant, live | 0.00 | 0.00 | 0.00 | 0.00 | 0.00 | 0.00 | XXX
44137 |  | C | Remove intestinal allograft | 0.00 | 0.00 | 0.00 | 0.00 | 0.00 | 0.00 | XXX
44139 |  | A | Mobilization of colon | 2.23 | NA | 0.74 | 0.28 | NA | 3.26 | ZZZ
44140 |  | A | Partial removal of colon | 21.01 | NA | 8.53 | 2.70 | NA | 32.25 | 090
44141 |  | A | Partial removal of colon | 19.52 | NA | 9.91 | 2.52 | NA | 31.95 | 090
44143 |  | A | Partial removal of colon | 23.01 | NA | 10.52 | 3.04 | NA | 36.57 | 090
44144 |  | A | Partial removal of colon | 21.54 | NA | 9.50 | 2.85 | NA | 33.89 | 090
44145 |  | A | Partial removal of colon | 26.43 | NA | 10.68 | 3.28 | NA | 40.39 | 090
44146 |  | A | Partial removal of colon | 27.56 | NA | 12.67 | 3.40 | NA | 43.62 | 090
44147 |  | A | Partial removal of colon | 20.72 | NA | 8.60 | 2.55 | NA | 31.87 | 090
44150 |  | A | Removal of colon | 23.96 | NA | 11.88 | 3.03 | NA | 38.87 | 090
44151 |  | A | Removal of colon/ileostomy | 26.89 | NA | 13.23 | 3.48 | NA | 43.60 | 090
44152 |  | A | Removal of colon/ileostomy | 27.85 | NA | 11.39 | 3.51 | NA | 42.75 | 090
44153 |  | A | Removal of colon/ileostomy | 30.60 | NA | 14.27 | 3.54 | NA | 48.41 | 090
44155 |  | A | Removal of colon/ileostomy | 27.88 | NA | 13.17 | 3.27 | NA | 44.31 | 090
44156 |  | A | Removal of colon/ileostomy | 30.80 | NA | 14.81 | 3.94 | NA | 49.56 | 090
44160 |  | A | Removal of colon | 18.63 | NA | 7.65 | 2.36 | NA | 28.64 | 090
44200 |  | A | Laparoscopy, enterolysis | 14.45 | NA | 6.12 | 1.89 | NA | 22.46 | 090
44201 |  | A | Laparoscopy, jejunostomy | 9.79 | NA | 4.60 | 1.30 | NA | 15.69 | 090
44202 |  | A | Lap resect s/intestine singl | 22.05 | NA | 8.81 | 2.84 | NA | 33.71 | 090
44203 |  | A | Lap resect s/intestine, addl | 4.45 | NA | 1.46 | 0.57 | NA | 6.48 | ZZZ
44204 |  | A | Laparo partial colectomy | 25.09 | NA | 9.81 | 3.10 | NA | 38.00 | 090
44205 |  | A | Lap colectomy part w/ileum | 22.24 | NA | 8.72 | 2.74 | NA | 33.71 | 090
44206 |  | A | Lap part colectomy w/stoma | 27.01 | NA | 11.08 | 3.45 | NA | 41.54 | 090
44207 |  | A | L colectomy/coloproctostomy | 30.02 | NA | 11.32 | 3.66 | NA | 45.00 | 090
44208 |  | A | L colectomy/coloproctostomy | 32.01 | NA | 12.97 | 3.87 | NA | 48.85 | 090
44210 |  | A | Laparo total proctocolectomy | 28.02 | NA | 11.74 | 3.41 | NA | 43.17 | 090
44211 |  | A | Laparo total proctocolectomy | 35.02 | NA | 14.52 | 4.16 | NA | 53.70 | 090
44212 |  | A | Laparo total proctocolectomy | 32.51 | NA | 13.56 | 3.77 | NA | 49.84 | 090
44238 |  | C | Laparoscope proc, intestine | 0.00 | 0.00 | 0.00 | 0.00 | 0.00 | 0.00 | YYY
44239 |  | C | Laparoscope proc, rectum | 0.00 | 0.00 | 0.00 | 0.00 | 0.00 | 0.00 | YYY
44300 |  | A | Open bowel to skin | 12.11 | NA | 5.43 | 1.60 | NA | 19.15 | 090
44310 |  | A | Ileostomy/jejunostomy | 15.96 | NA | 6.62 | 1.98 | NA | 24.57 | 090
44312 |  | A | Revision of ileostomy | 8.03 | NA | 4.12 | 0.92 | NA | 13.06 | 090
44314 |  | A | Revision of ileostomy | 15.06 | NA | 6.65 | 1.74 | NA | 23.45 | 090
44316 |  | A | Devise bowel pouch | 21.10 | NA | 8.65 | 2.37 | NA | 32.12 | 090
44320 |  | A | Colostomy | 17.65 | NA | 7.58 | 2.25 | NA | 27.48 | 090
44322 |  | A | Colostomy with biopsies | 11.98 | NA | 8.49 | 1.54 | NA | 22.01 | 090
44340 |  | A | Revision of colostomy | 7.73 | NA | 4.26 | 0.99 | NA | 12.98 | 090
44345 |  | A | Revision of colostomy | 15.44 | NA | 6.83 | 1.96 | NA | 24.23 | 090
44346 |  | A | Revision of colostomy | 16.99 | NA | 7.34 | 2.12 | NA | 26.45 | 090
44360 |  | A | Small bowel endoscopy | 2.60 | NA | 1.21 | 0.19 | NA | 4.00 | 000
44361 |  | A | Small bowel endoscopy/biopsy | 2.88 | NA | 1.32 | 0.21 | NA | 4.40 | 000
44363 |  | A | Small bowel endoscopy | 3.50 | NA | 1.48 | 0.27 | NA | 5.25 | 000
44364 |  | A | Small bowel endoscopy | 3.74 | NA | 1.62 | 0.27 | NA | 5.63 | 000
44365 |  | A | Small bowel endoscopy | 3.32 | NA | 1.49 | 0.24 | NA | 5.05 | 000
44366 |  | A | Small bowel endoscopy | 4.41 | NA | 1.88 | 0.32 | NA | 6.61 | 000
44369 |  | A | Small bowel endoscopy | 4.52 | NA | 1.85 | 0.33 | NA | 6.70 | 000
44370 |  | A | Small bowel endoscopy/stent | 4.80 | NA | 2.16 | 0.37 | NA | 7.33 | 000
44372 |  | A | Small bowel endoscopy | 4.41 | NA | 1.85 | 0.35 | NA | 6.61 | 000
44373 |  | A | Small bowel endoscopy | 3.50 | NA | 1.53 | 0.27 | NA | 5.30 | 000
44376 |  | A | Small bowel endoscopy | 5.26 | NA | 2.17 | 0.42 | NA | 7.85 | 000
44377 |  | A | Small bowel endoscopy/biopsy | 5.53 | NA | 2.32 | 0.40 | NA | 8.25 | 000
44378 |  | A | Small bowel endoscopy | 7.13 | NA | 2.92 | 0.52 | NA | 10.58 | 000
44379 |  | A | S bowel endoscope w/stent | 7.47 | NA | 3.13 | 0.62 | NA | 11.23 | 000
44380 |  | A | Small bowel endoscopy | 1.05 | NA | 0.63 | 0.08 | NA | 1.76 | 000
44382 |  | A | Small bowel endoscopy | 1.27 | NA | 0.71 | 0.12 | NA | 2.10 | 000
44383 |  | A | Ileoscopy w/stent | 2.95 | NA | 1.42 | 0.21 | NA | 4.57 | 000
44385 |  | A | Endoscopy of bowel pouch | 1.82 | 3.53 | 0.83 | 0.15 | 5.51 | 2.80 | 000
44386 |  | A | Endoscopy, bowel pouch/biop | 2.12 | 7.02 | 0.93 | 0.20 | 9.34 | 3.26 | 000
44388 |  | A | Colonoscopy | 2.83 | 5.31 | 1.21 | 0.26 | 8.40 | 4.30 | 000
44389 |  | A | Colonoscopy with biopsy | 3.14 | 7.02 | 1.36 | 0.27 | 10.43 | 4.76 | 000
44390 |  | A | Colonoscopy for foreign body | 3.83 | 7.54 | 1.59 | 0.32 | 11.68 | 5.74 | 000
44391 |  | A | Colonoscopy for bleeding | 4.32 | 8.94 | 1.82 | 0.34 | 13.60 | 6.48 | 000
44392 |  | A | Colonoscopy & polypectomy | 3.82 | 6.91 | 1.57 | 0.34 | 11.06 | 5.73 | 000
44393 |  | A | Colonoscopy, lesion removal | 4.84 | 7.17 | 1.99 | 0.42 | 12.43 | 7.25 | 000
44394 |  | A | Colonoscopy w/snare | 4.43 | 8.31 | 1.82 | 0.38 | 13.12 | 6.63 | 000
44397 |  | A | Colonoscopy w/stent | 4.71 | NA | 1.88 | 0.39 | NA | 6.98 | 000
44500 |  | A | Intro, gastrointestinal tube | 0.49 | NA | 0.17 | 0.03 | NA | 0.69 | 000
44602 |  | A | Suture, small intestine | 16.04 | NA | 6.29 | 2.11 | NA | 24.44 | 090
44603 |  | A | Suture, small intestine | 18.67 | NA | 7.15 | 2.41 | NA | 28.23 | 090
44604 |  | A | Suture, large intestine | 16.04 | NA | 6.36 | 2.11 | NA | 24.51 | 090
44605 |  | A | Repair of bowel lesion | 19.54 | NA | 8.24 | 2.51 | NA | 30.29 | 090
44615 |  | A | Intestinal stricturoplasty | 15.94 | NA | 6.60 | 2.06 | NA | 24.60 | 090
44620 |  | A | Repair bowel opening | 12.20 | NA | 5.27 | 1.51 | NA | 18.99 | 090
44625 |  | A | Repair bowel opening | 15.06 | NA | 6.23 | 1.85 | NA | 23.14 | 090
44626 |  | A | Repair bowel opening | 25.37 | NA | 9.65 | 3.26 | NA | 38.28 | 090
44640 |  | A | Repair bowel-skin fistula | 21.66 | NA | 8.45 | 2.77 | NA | 32.89 | 090
44650 |  | A | Repair bowel fistula | 22.59 | NA | 8.78 | 2.92 | NA | 34.28 | 090
44660 |  | A | Repair bowel-bladder fistula | 21.37 | NA | 8.77 | 2.13 | NA | 32.27 | 090
44661 |  | A | Repair bowel-bladder fistula | 24.82 | NA | 9.74 | 2.80 | NA | 37.36 | 090
44680 |  | A | Surgical revision, intestine | 15.41 | NA | 6.37 | 1.99 | NA | 23.77 | 090
44700 |  | A | Suspend bowel w/prosthesis | 16.12 | NA | 6.68 | 1.83 | NA | 24.63 | 090
44701 |  | A | Intraop colon lavage add-on | 3.11 | NA | 1.03 | 0.37 | NA | 4.51 | ZZZ
44715 |  | C | Prepare donor intestine | 0.00 | 0.00 | 0.00 | 0.00 | 0.00 | 0.00 | XXX
44720 |  | A | Prep donor intestine/venous | 5.01 | NA | 1.67 | 0.37 | NA | 7.05 | XXX
44721 |  | A | Prep donor intestine/artery | 7.01 | NA | 2.33 | 0.97 | NA | 10.32 | XXX
44799 |  | C | Unlisted procedure intestine | 0.00 | 0.00 | 0.00 | 0.00 | 0.00 | 0.00 | YYY
44800 |  | A | Excision of bowel pouch | 11.23 | NA | 5.38 | 1.47 | NA | 18.08 | 090
44820 |  | A | Excision of mesentery lesion | 12.09 | NA | 5.44 | 1.59 | NA | 19.12 | 090
44850 |  | A | Repair of mesentery | 10.74 | NA | 4.94 | 1.39 | NA | 17.07 | 090
44899 |  | C | Bowel surgery procedure | 0.00 | 0.00 | 0.00 | 0.00 | 0.00 | 0.00 | YYY
44900 |  | A | Drain app abscess, open | 10.14 | NA | 4.67 | 1.33 | NA | 16.14 | 090
44901 |  | A | Drain app abscess, percut | 3.38 | 26.78 | 1.15 | 0.22 | 30.37 | 4.74 | 000
44950 |  | A | Appendectomy | 10.01 | NA | 4.26 | 1.31 | NA | 15.58 | 090
44955 |  | A | Appendectomy add-on | 1.53 | NA | 0.53 | 0.20 | NA | 2.26 | ZZZ
44960 |  | A | Appendectomy | 12.34 | NA | 5.27 | 1.63 | NA | 19.24 | 090
44970 |  | A | Laparoscopy, appendectomy | 8.71 | NA | 4.06 | 1.14 | NA | 13.90 | 090
44979 |  | C | Laparoscope proc, app | 0.00 | 0.00 | 0.00 | 0.00 | 0.00 | 0.00 | YYY
45000 |  | A | Drainage of pelvic abscess | 4.52 | NA | 3.02 | 0.52 | NA | 8.06 | 090
45005 |  | A | Drainage of rectal abscess | 1.99 | 3.94 | 1.55 | 0.25 | 6.19 | 3.80 | 010
45020 |  | A | Drainage of rectal abscess | 4.72 | NA | 3.33 | 0.55 | NA | 8.60 | 090
45100 |  | A | Biopsy of rectum | 3.68 | NA | 2.40 | 0.44 | NA | 6.52 | 090
45108 |  | A | Removal of anorectal lesion | 4.76 | NA | 2.78 | 0.59 | NA | 8.13 | 090
45110 |  | A | Removal of rectum | 28.02 | NA | 12.24 | 3.35 | NA | 43.61 | 090
45111 |  | A | Partial removal of rectum | 16.49 | NA | 7.10 | 2.06 | NA | 25.65 | 090
45112 |  | A | Removal of rectum | 30.55 | NA | 11.60 | 3.42 | NA | 45.57 | 090
45113 |  | A | Partial proctectomy | 30.59 | NA | 12.48 | 3.48 | NA | 46.56 | 090
45114 |  | A | Partial removal of rectum | 27.33 | NA | 10.73 | 3.35 | NA | 41.42 | 090
45116 |  | A | Partial removal of rectum | 24.59 | NA | 9.88 | 2.87 | NA | 37.34 | 090
45119 |  | A | Remove rectum w/reservoir | 30.85 | NA | 12.33 | 3.35 | NA | 46.54 | 090
45120 |  | A | Removal of rectum | 24.61 | NA | 10.07 | 2.89 | NA | 37.57 | 090
45121 |  | A | Removal of rectum and colon | 27.05 | NA | 10.96 | 3.24 | NA | 41.26 | 090
45123 |  | A | Partial proctectomy | 16.71 | NA | 6.81 | 1.85 | NA | 25.37 | 090
45126 |  | A | Pelvic exenteration | 45.18 | NA | 19.60 | 4.32 | NA | 69.10 | 090
45130 |  | A | Excision of rectal prolapse | 16.45 | NA | 6.73 | 1.79 | NA | 24.98 | 090
45135 |  | A | Excision of rectal prolapse | 19.29 | NA | 8.34 | 2.35 | NA | 29.98 | 090
45136 |  | A | Excise ileoanal reservior | 27.31 | NA | 12.34 | 2.81 | NA | 42.47 | 090
45150 |  | A | Excision of rectal stricture | 5.67 | NA | 3.01 | 0.61 | NA | 9.29 | 090
45160 |  | A | Excision of rectal lesion | 15.33 | NA | 6.62 | 1.67 | NA | 23.62 | 090
45170 |  | A | Excision of rectal lesion | 11.49 | NA | 5.21 | 1.35 | NA | 18.06 | 090
45190 |  | A | Destruction, rectal tumor | 9.75 | NA | 4.64 | 1.13 | NA | 15.52 | 090
45300 |  | A | Proctosigmoidoscopy dx | 0.38 | 1.56 | 0.29 | 0.04 | 1.98 | 0.71 | 000
45303 |  | A | Proctosigmoidoscopy dilate | 0.44 | 18.29 | 0.37 | 0.05 | 18.78 | 0.86 | 000
45305 |  | A | Proctosigmoidoscopy w/bx | 1.01 | 2.68 | 0.51 | 0.11 | 3.80 | 1.63 | 000
45307 |  | A | Proctosigmoidoscopy fb | 0.94 | 3.03 | 0.49 | 0.11 | 4.09 | 1.54 | 000
45308 |  | A | Proctosigmoidoscopy removal | 0.83 | 2.10 | 0.45 | 0.09 | 3.02 | 1.37 | 000
45309 |  | A | Proctosigmoidoscopy removal | 2.01 | 2.86 | 0.85 | 0.22 | 5.09 | 3.09 | 000
45315 |  | A | Proctosigmoidoscopy removal | 1.40 | 2.95 | 0.65 | 0.15 | 4.50 | 2.20 | 000
45317 |  | A | Proctosigmoidoscopy bleed | 1.50 | 2.57 | 0.68 | 0.15 | 4.22 | 2.33 | 000
45320 |  | A | Proctosigmoidoscopy ablate | 1.58 | 3.10 | 0.74 | 0.16 | 4.84 | 2.48 | 000
45321 |  | A | Proctosigmoidoscopy volvul | 1.17 | NA | 0.58 | 0.13 | NA | 1.89 | 000
45327 |  | A | Proctosigmoidoscopy w/stent | 1.65 | NA | 0.69 | 0.16 | NA | 2.51 | 000
45330 |  | A | Diagnostic sigmoidoscopy | 0.96 | 2.33 | 0.55 | 0.08 | 3.37 | 1.59 | 000
45331 |  | A | Sigmoidoscopy and biopsy | 1.15 | 3.20 | 0.65 | 0.09 | 4.44 | 1.90 | 000
45332 |  | A | Sigmoidoscopy w/fb removal | 1.79 | 5.02 | 0.86 | 0.16 | 6.97 | 2.82 | 000
45333 |  | A | Sigmoidoscopy & polypectomy | 1.79 | 5.08 | 0.87 | 0.15 | 7.02 | 2.81 | 000
45334 |  | A | Sigmoidoscopy for bleeding | 2.74 | NA | 1.24 | 0.20 | NA | 4.18 | 000
45335 |  | A | Sigmoidoscopy w/submuc inj | 1.46 | 3.34 | 0.75 | 0.11 | 4.91 | 2.33 | 000
45337 |  | A | Sigmoidoscopy & decompress | 2.36 | NA | 1.07 | 0.21 | NA | 3.65 | 000
45338 |  | A | Sigmoidoscopy w/tumr remove | 2.34 | 5.50 | .09 | 0.19 | 8.04 | 3.62 | 000
45339 |  | A | Sigmoidoscopy w/ablate tumr | 3.15 | 3.72 | 1.39 | 0.26 | 7.12 | 4.79 | 000
45340 |  | A | Sig w/balloon dilation | 1.89 | 6.40 | 0.89 | 0.15 | 8.44 | 2.94 | 000
45341 |  | A | Sigmoidoscopy w/ultrasound | 2.61 | NA | 1.11 | 0.19 | NA | 3.90 | 000
45342 |  | A | Sigmoidoscopy w/us guide bx | 4.06 | NA | 1.61 | 0.30 | NA | 5.97 | 000
45345 |  | A | Sigmoidoscopy w/stent | 2.93 | NA | 1.21 | 0.23 | NA | 4.37 | 000
45355 |  | A | Surgical colonoscopy | 3.52 | NA | 1.41 | 0.36 | NA | 5.29 | 000
45378 |  | A | Diagnostic colonoscopy | 3.70 | 6.60 | 1.58 | 0.30 | 10.59 | 5.57 | 000
45378 | 53 | A | Diagnostic colonoscopy | 0.96 | 2.33 | 0.55 | 0.08 | 3.37 | 1.59 | 000
45379 |  | A | Colonoscopy w/fb removal | 4.69 | 7.80 | 1.93 | 0.39 | 12.88 | 7.01 | 000
45380 |  | A | Colonoscopy and biopsy | 4.44 | 7.80 | 1.86 | 0.35 | 12.59 | 6.65 | 000
45381 |  | A | Colonoscopy, submucous inj | 4.20 | 7.72 | 1.79 | 0.30 | 12.22 | 6.29 | 000
45382 |  | A | Colonoscopy/control bleeding | 5.69 | 10.76 | 2.36 | 0.41 | 16.86 | 8.47 | 000
45383 |  | A | Lesion removal colonoscopy | 5.87 | 8.55 | 2.37 | 0.48 | 14.91 | 8.72 | 000
45384 |  | A | Lesion remove colonoscopy | 4.70 | 7.38 | 1.96 | 0.38 | 12.46 | 7.04 | 000
45385 |  | A | Lesion removal colonoscopy | 5.31 | 8.44 | 2.18 | 0.42 | 14.17 | 7.91 | 000
45386 |  | A | Colonoscopy dilate stricture | 4.58 | 13.23 | 1.91 | 0.39 | 18.20 | 6.88 | 000
45387 |  | A | Colonoscopy w/stent | 5.91 | NA | 2.50 | 0.48 | NA | 8.89 | 000
45391 |  | A | Colonoscopy w/endoscope us | 5.10 | NA | 2.15 | 0.42 | NA | 7.67 | 000
45392 |  | A | Colonoscopy w/endoscopic fnb | 6.55 | NA | 2.69 | 0.42 | NA | 9.66 | 000
45500 |  | A | Repair of rectum | 7.29 | NA | 3.57 | 0.75 | NA | 11.61 | 090
45505 |  | A | Repair of rectum | 7.59 | NA | 3.91 | 0.86 | NA | 12.36 | 090
45520 |  | A | Treatment of rectal prolapse | 0.55 | 1.77 | 0.40 | 0.05 | 2.37 | 1.00 | 000
45540 |  | A | Correct rectal prolapse | 16.28 | NA | 6.73 | 1.84 | NA | 24.85 | 090
45541 |  | A | Correct rectal prolapse | 13.41 | NA | 5.92 | 1.55 | NA | 20.88 | 090
45550 |  | A | Repair rectum/remove sigmoid | 23.02 | NA | 9.11 | 2.61 | NA | 34.74 | 090
45560 |  | A | Repair of rectocele | 10.58 | NA | 5.13 | 1.13 | NA | 16.84 | 090
45562 |  | A | Exploration/repair of rectum | 15.39 | NA | 7.05 | 1.83 | NA | 24.27 | 090
45563 |  | A | Exploration/repair of rectum | 23.48 | NA | 10.44 | 3.10 | NA | 37.02 | 090
45800 |  | A | Repair rect/bladder fistula | 17.78 | NA | 7.84 | 1.85 | NA | 27.46 | 090
45805 |  | A | Repair fistula w/colostomy | 20.79 | NA | 9.62 | 2.02 | NA | 32.43 | 090
45820 |  | A | Repair rectourethral fistula | 18.49 | NA | 8.03 | 1.58 | NA | 28.09 | 090
45825 |  | A | Repair fistula w/colostomy | 21.26 | NA | 9.95 | 2.31 | NA | 33.53 | 090
45900 |  | A | Reduction of rectal prolapse | 2.62 | NA | 1.50 | 0.30 | NA | 4.41 | 010
45905 |  | A | Dilation of anal sphincter | 2.30 | NA | 1.47 | 0.27 | NA | 4.05 | 010
45910 |  | A | Dilation of rectal narrowing | 2.81 | NA | 1.76 | 0.30 | NA | 4.86 | 010
45915 |  | A | Remove rectal obstruction | 3.15 | 4.28 | 2.06 | 0.30 | 7.72 | 5.51 | 010
45999 |  | C | Rectum surgery procedure | 0.00 | 0.00 | 0.00 | 0.00 | 0.00 | 0.00 | YYY
46020 |  | A | Placement of seton | 2.91 | 2.40 | 1.89 | 0.31 | 5.62 | 5.10 | 010
46030 |  | A | Removal of rectal marker | 1.23 | 1.41 | 0.72 | 0.14 | 2.78 | 2.09 | 010
46040 |  | A | Incision of rectal abscess | 4.96 | 5.50 | 3.59 | 0.62 | 11.08 | 9.17 | 090
46045 |  | A | Incision of rectal abscess | 4.32 | NA | 2.92 | 0.54 | NA | 7.78 | 090
46050 |  | A | Incision of anal abscess | 1.19 | 2.55 | 0.84 | 0.14 | 3.88 | 2.17 | 010
46060 |  | A | Incision of rectal abscess | 5.69 | NA | 3.28 | 0.67 | NA | 9.64 | 090
46070 |  | A | Incision of anal septum | 2.72 | NA | 1.86 | 0.36 | NA | 4.93 | 090
46080 |  | A | Incision of anal sphincter | 2.49 | 2.40 | 1.13 | 0.30 | 5.20 | 3.92 | 010
46083 |  | A | Incise external hemorrhoid | 1.40 | 2.46 | 0.91 | 0.15 | 4.01 | 2.47 | 010
46200 |  | A | Removal of anal fissure | 3.42 | 4.08 | 2.92 | 0.39 | 7.89 | 6.73 | 090
46210 |  | A | Removal of anal crypt | 2.68 | 5.04 | 2.65 | 0.31 | 8.02 | 5.64 | 090
46211 |  | A | Removal of anal crypts | 4.25 | 5.43 | 3.67 | 0.48 | 10.16 | 8.40 | 090
46220 |  | A | Removal of anal tag | 1.56 | 2.33 | 0.96 | 0.17 | 4.06 | 2.70 | 010
46221 |  | A | Ligation of hemorrhoid(s) | 2.04 | 2.71 | 1.77 | 0.23 | 4.98 | 4.05 | 010
46230 |  | A | Removal of anal tags | 2.58 | 3.06 | 1.29 | 0.30 | 5.94 | 4.17 | 010
46250 |  | A | Hemorrhoidectomy | 3.89 | 5.25 | 2.60 | 0.48 | 9.62 | 6.97 | 090
46255 |  | A | Hemorrhoidectomy | 4.60 | 5.85 | 2.82 | 0.58 | 11.03 | 8.00 | 090
46257 |  | A | Remove hemorrhoids & fissure | 5.40 | NA | 2.89 | 0.64 | NA | 8.93 | 090
46258 |  | A | Remove hemorrhoids & fistula | 5.73 | NA | 3.31 | 0.68 | NA | 9.72 | 090
46260 |  | A | Hemorrhoidectomy | 6.37 | NA | 3.20 | 0.76 | NA | 10.33 | 090
46261 |  | A | Remove hemorrhoids & fissure | 7.08 | NA | 3.64 | 0.79 | NA | 11.51 | 090
46262 |  | A | Remove hemorrhoids & fistula | 7.50 | NA | 3.77 | 0.83 | NA | 12.10 | 090
46270 |  | A | Removal of anal fistula | 3.72 | 4.97 | 2.85 | 0.46 | 9.15 | 7.02 | 090
46275 |  | A | Removal of anal fistula | 4.56 | 4.76 | 3.00 | 0.52 | 9.84 | 8.08 | 090
46280 |  | A | Removal of anal fistula | 5.98 | NA | 3.29 | 0.66 | NA | 9.94 | 090
46285 |  | A | Removal of anal fistula | 4.09 | 3.95 | 2.77 | 0.44 | 8.48 | 7.30 | 090
46288 |  | A | Repair anal fistula | 7.13 | NA | 3.69 | 0.79 | NA | 11.62 | 090
46320 |  | A | Removal of hemorrhoid clot | 1.61 | 2.12 | 0.84 | 0.18 | 3.91 | 2.63 | 010
46500 |  | A | Injection into hemorrhoid(s) | 1.61 | 2.26 | 1.26 | 0.16 | 4.04 | 3.04 | 010
46600 |  | A | Diagnostic anoscopy | 0.50 | 1.52 | 0.34 | 0.05 | 2.07 | 0.89 | 000
46604 |  | A | Anoscopy and dilation | 1.31 | 9.37 | 0.64 | 0.12 | 10.81 | 2.08 | 000
46606 |  | A | Anoscopy and biopsy | 0.81 | 3.69 | 0.44 | 0.09 | 4.59 | 1.34 | 000
46608 |  | A | Anoscopy, remove for body | 1.51 | 4.23 | 0.65 | 0.16 | 5.91 | 2.32 | 000
46610 |  | A | Anoscopy, remove lesion | 1.32 | 3.92 | 0.62 | 0.15 | 5.40 | 2.10 | 000
46611 |  | A | Anoscopy | 1.81 | 3.20 | 0.78 | 0.19 | 5.20 | 2.78 | 000
46612 |  | A | Anoscopy, remove lesions | 2.34 | 5.32 | 1.01 | 0.28 | 7.95 | 3.64 | 000
46614 |  | A | Anoscopy, control bleeding | 2.01 | 2.48 | 0.87 | 0.20 | 4.69 | 3.08 | 000
46615 |  | A | Anoscopy | 2.69 | 2.43 | 1.07 | 0.33 | 5.45 | 4.09 | 000
46700 |  | A | Repair of anal stricture | 9.14 | NA | 4.24 | 0.94 | NA | 14.32 | 090
46705 |  | A | Repair of anal stricture | 6.90 | NA | 3.77 | 0.91 | NA | 11.58 | 090
46706 |  | A | Repr of anal fistula w/glue | 2.39 | 0.00 | 1.27 | 0.28 | 2.67 | 3.94 | 010
46715 |  | A | Rep perf anoper fistu | 7.20 | NA | 3.63 | 0.92 | NA | 11.75 | 090
46716 |  | A | Rep perf anoper/vestib fistu | 15.08 | NA | 7.93 | 1.58 | NA | 24.59 | 090
46730 |  | A | Construction of absent anus | 26.76 | NA | 11.97 | 2.46 | NA | 41.19 | 090
46735 |  | A | Construction of absent anus | 32.18 | NA | 13.46 | 3.20 | NA | 48.85 | 090
46740 |  | A | Construction of absent anus | 30.02 | NA | 13.17 | 2.41 | NA | 45.60 | 090
46742 |  | A | Repair of imperforated anus | 35.82 | NA | 16.88 | 3.19 | NA | 55.89 | 090
46744 |  | A | Repair of cloacal anomaly | 52.66 | NA | 21.39 | 6.38 | NA | 80.42 | 090
46746 |  | A | Repair of cloacal anomaly | 58.25 | NA | 24.73 | 7.68 | NA | 90.65 | 090
46748 |  | A | Repair of cloacal anomaly | 64.24 | NA | 25.56 | 3.36 | NA | 93.15 | 090
46750 |  | A | Repair of anal sphincter | 10.25 | NA | 5.05 | 1.10 | NA | 16.40 | 090
46751 |  | A | Repair of anal sphincter | 8.78 | NA | 5.23 | 0.94 | NA | 14.94 | 090
46753 |  | A | Reconstruction of anus | 8.30 | NA | 3.85 | 0.94 | NA | 13.08 | 090
46754 |  | A | Removal of suture from anus | 2.20 | 3.53 | 1.72 | 0.19 | 5.93 | 4.11 | 010
46760 |  | A | Repair of anal sphincter | 14.44 | NA | 7.10 | 1.59 | NA | 23.13 | 090
46761 |  | A | Repair of anal sphincter | 13.85 | NA | 6.00 | 1.43 | NA | 21.28 | 090
46762 |  | A | Implant artificial sphincter | 12.72 | NA | 5.77 | 1.24 | NA | 19.72 | 090
46900 |  | A | Destruction, anal lesion(s) | 1.91 | 2.72 | 1.33 | 0.17 | 4.80 | 3.41 | 010
46910 |  | A | Destruction, anal lesion(s) | 1.86 | 3.04 | 1.07 | 0.19 | 5.09 | 3.13 | 010
46916 |  | A | Cryosurgery, anal lesion(s) | 1.86 | 3.30 | 1.52 | 0.11 | 5.27 | 3.49 | 010
46917 |  | A | Laser surgery, anal lesions | 1.86 | 9.15 | 1.15 | 0.21 | 11.23 | 3.22 | 010
46922 |  | A | Excision of anal lesion(s) | 1.86 | 3.33 | 1.08 | 0.22 | 5.42 | 3.16 | 010
46924 |  | A | Destruction, anal lesion(s) | 2.77 | 8.93 | 1.36 | 0.26 | 11.95 | 4.39 | 010
46934 |  | A | Destruction of hemorrhoids | 3.51 | 5.32 | 3.23 | 0.32 | 9.14 | 7.06 | 090
46935 |  | A | Destruction of hemorrhoids | 2.43 | 3.49 | 1.25 | 0.23 | 6.15 | 3.91 | 010
46936 |  | A | Destruction of hemorrhoids | 3.69 | 5.13 | 2.63 | 0.34 | 9.16 | 6.66 | 090
46937 |  | A | Cryotherapy of rectal lesion | 2.70 | 3.09 | 1.23 | 0.14 | 5.92 | 4.07 | 010
46938 |  | A | Cryotherapy of rectal lesion | 4.66 | 4.24 | 3.08 | 0.58 | 9.48 | 8.32 | 090
46940 |  | A | Treatment of anal fissure | 2.32 | 2.08 | 1.10 | 0.23 | 4.63 | 3.65 | 010
46942 |  | A | Treatment of anal fissure | 2.04 | 1.94 | 1.07 | 0.19 | 4.17 | 3.31 | 010
46945 |  | A | Ligation of hemorrhoids | 1.84 | 3.37 | 2.65 | 0.19 | 5.41 | 4.69 | 090
46946 |  | A | Ligation of hemorrhoids | 2.59 | 3.73 | 2.58 | 0.27 | 6.59 | 5.44 | 090
46947 |  | A | Hemorrhoidopexy by stapling | 5.21 | NA | 2.73 | 0.75 | NA | 8.69 | 090
46999 |  | C | Anus surgery procedure | 0.00 | 0.00 | 0.00 | 0.00 | 0.00 | 0.00 | YYY
47000 |  | A | Needle biopsy of liver | 1.90 | 4.66 | 0.66 | 0.12 | 6.69 | 2.69 | 000
47001 |  | A | Needle biopsy, liver add-on | 1.90 | NA | 0.64 | 0.25 | NA | 2.79 | ZZZ
47010 |  | A | Open drainage, liver lesion | 16.02 | NA | 8.67 | 1.80 | NA | 26.49 | 090
47011 |  | A | Percut drain, liver lesion | 3.70 | NA | 1.27 | 0.22 | NA | 5.18 | 000
47015 |  | A | Inject/aspirate liver cyst | 15.12 | NA | 7.48 | 1.83 | NA | 24.43 | 090
47100 |  | A | Wedge biopsy of liver | 11.67 | NA | 5.98 | 1.53 | NA | 19.18 | 090
47120 |  | A | Partial removal of liver | 35.52 | NA | 14.87 | 4.65 | NA | 55.05 | 090
47122 |  | A | Extensive removal of liver | 55.16 | NA | 20.98 | 7.19 | NA | 83.33 | 090
47125 |  | A | Partial removal of liver | 49.22 | NA | 19.10 | 6.45 | NA | 74.76 | 090
47130 |  | A | Partial removal of liver | 53.38 | NA | 20.51 | 6.94 | NA | 80.83 | 090
47135 |  | R | Transplantation of liver | 81.56 | NA | 31.02 | 9.93 | NA | 122.51 | 090
47136 |  | R | Transplantation of liver | 68.64 | NA | 26.67 | 8.41 | NA | 103.72 | 090
47140 |  | A | Partial removal, donor liver | 55.03 | NA | 22.05 | 5.17 | NA | 82.25 | 090
47141 |  | A | Partial removal, donor liver | 67.53 | NA | 26.60 | 5.17 | NA | 99.30 | 090
47142 |  | A | Partial removal, donor liver | 75.04 | NA | 29.09 | 5.17 | NA | 109.30 | 090
47143 |  | C | Prep donor liver, whole | 0.00 | 0.00 | 0.00 | 0.00 | 0.00 | 0.00 | XXX
47144 |  | C | Prep donor liver, 3-segment | 0.00 | 0.00 | 0.00 | 0.00 | 0.00 | 0.00 | 090
47145 |  | C | Prep donor liver, lobe split | 0.00 | 0.00 | 0.00 | 0.00 | 0.00 | 0.00 | 090
47146 |  | A | Prep donor liver/venous | 6.01 | NA | 2.00 | 0.83 | NA | 8.84 | XXX
47147 |  | A | Prep donor liver/arterial | 7.01 | NA | 2.33 | 0.97 | NA | 10.32 | XXX
47300 |  | A | Surgery for liver lesion | 15.09 | NA | 7.14 | 1.98 | NA | 24.21 | 090
47350 |  | A | Repair liver wound | 19.57 | NA | 8.75 | 2.58 | NA | 30.90 | 090
47360 |  | A | Repair liver wound | 26.93 | NA | 11.43 | 3.37 | NA | 41.73 | 090
47361 |  | A | Repair liver wound | 47.14 | NA | 18.17 | 5.85 | NA | 71.16 | 090
47362 |  | A | Repair liver wound | 18.52 | NA | 8.58 | 2.50 | NA | 29.60 | 090
47370 |  | A | Laparo ablate liver tumor rf | 19.70 | NA | 8.04 | 2.55 | NA | 30.29 | 090
47371 |  | A | Laparo ablate liver cryosurg | 19.70 | NA | 8.03 | 2.60 | NA | 30.33 | 090
47379 |  | C | Laparoscope procedure, liver | 0.00 | 0.00 | 0.00 | 0.00 | 0.00 | 0.00 | YYY
47380 |  | A | Open ablate liver tumor rf | 23.02 | NA | 9.22 | 2.86 | NA | 35.10 | 090
47381 |  | A | Open ablate liver tumor cryo | 23.29 | NA | 9.55 | 2.84 | NA | 35.68 | 090
47382 |  | A | Percut ablate liver rf | 15.20 | NA | 6.19 | 0.96 | NA | 22.35 | 010
47399 |  | C | Liver surgery procedure | 0.00 | 0.00 | 0.00 | 0.00 | 0.00 | 0.00 | YYY
47400 |  | A | Incision of liver duct | 32.50 | NA | 13.33 | 3.07 | NA | 48.90 | 090
47420 |  | A | Incision of bile duct | 19.89 | NA | 8.62 | 2.62 | NA | 31.13 | 090
47425 |  | A | Incision of bile duct | 19.84 | NA | 8.70 | 2.61 | NA | 31.15 | 090
47460 |  | A | Incise bile duct sphincter | 18.05 | NA | 8.55 | 2.20 | NA | 28.80 | 090
47480 |  | A | Incision of gallbladder | 10.82 | NA | 5.85 | 1.42 | NA | 18.09 | 090
47490 |  | A | Incision of gallbladder | 7.23 | NA | 5.80 | 0.43 | NA | 13.47 | 090
47500 |  | A | Injection for liver x-rays | 1.96 | NA | 0.68 | 0.12 | NA | 2.76 | 000
47505 |  | A | Injection for liver x-rays | 0.76 | NA | 0.26 | 0.04 | NA | 1.06 | 000
47510 |  | A | Insert catheter, bile duct | 7.84 | NA | 5.27 | 0.46 | NA | 13.56 | 090
47511 |  | A | Insert bile duct drain | 10.50 | NA | 5.35 | 0.62 | NA | 16.47 | 090
47525 |  | A | Change bile duct catheter | 5.55 | 15.88 | 2.95 | 0.33 | 21.77 | 8.83 | 010
47530 |  | A | Revise/reinsert bile tube | 5.85 | 34.20 | 3.89 | 0.37 | 40.42 | 10.11 | 090
47550 |  | A | Bile duct endoscopy add-on | 3.03 | NA | 1.00 | 0.40 | NA | 4.42 | ZZZ
47552 |  | A | Biliary endoscopy thru skin | 6.04 | NA | 2.43 | 0.42 | NA | 8.89 | 000
47553 |  | A | Biliary endoscopy thru skin | 6.35 | NA | 2.17 | 0.37 | NA | 8.89 | 000
47554 |  | A | Biliary endoscopy thru skin | 9.07 | NA | 3.38 | 0.96 | NA | 13.41 | 000
47555 |  | A | Biliary endoscopy thru skin | 7.57 | NA | 2.60 | 0.45 | NA | 10.62 | 000
47556 |  | A | Biliary endoscopy thru skin | 8.57 | NA | 2.94 | 0.50 | NA | 12.01 | 000
47560 |  | A | Laparoscopy w/cholangio | 4.89 | NA | 1.63 | 0.65 | NA | 7.17 | 000
47561 |  | A | Laparo w/cholangio/biopsy | 5.18 | NA | 1.88 | 0.66 | NA | 7.72 | 000
47562 |  | A | Laparoscopic cholecystectomy | 11.09 | NA | 4.93 | 1.46 | NA | 17.48 | 090
47563 |  | A | Laparo cholecystectomy/graph | 11.94 | NA | 5.24 | 1.58 | NA | 18.76 | 090
47564 |  | A | Laparo cholecystectomy/explr | 14.24 | NA | 5.87 | 1.88 | NA | 21.99 | 090
47570 |  | A | Laparo cholecystoenterostomy | 12.59 | NA | 5.31 | 1.65 | NA | 19.55 | 090
47579 |  | C | Laparoscope proc, biliary | 0.00 | 0.00 | 0.00 | 0.00 | 0.00 | 0.00 | YYY
47600 |  | A | Removal of gallbladder | 13.59 | NA | 6.04 | 1.79 | NA | 21.42 | 090
47605 |  | A | Removal of gallbladder | 14.70 | NA | 6.41 | 1.94 | NA | 23.04 | 090
47610 |  | A | Removal of gallbladder | 18.83 | NA | 7.80 | 2.48 | NA | 29.11 | 090
47612 |  | A | Removal of gallbladder | 18.79 | NA | 7.76 | 2.47 | NA | 29.01 | 090
47620 |  | A | Removal of gallbladder | 20.65 | NA | 8.37 | 2.73 | NA | 31.76 | 090
47630 |  | A | Remove bile duct stone | 9.12 | NA | 5.10 | 0.65 | NA | 14.86 | 090
47700 |  | A | Exploration of bile ducts | 15.63 | NA | 7.31 | 2.06 | NA | 25.00 | 090
47701 |  | A | Bile duct revision | 27.83 | NA | 11.28 | 3.67 | NA | 42.77 | 090
47711 |  | A | Excision of bile duct tumor | 23.05 | NA | 9.75 | 3.04 | NA | 35.84 | 090
47712 |  | A | Excision of bile duct tumor | 30.25 | NA | 12.16 | 3.92 | NA | 46.33 | 090
47715 |  | A | Excision of bile duct cyst | 18.81 | NA | 8.31 | 2.48 | NA | 29.60 | 090
47716 |  | A | Fusion of bile duct cyst | 16.45 | NA | 7.69 | 2.14 | NA | 26.29 | 090
47720 |  | A | Fuse gallbladder & bowel | 15.92 | NA | 7.37 | 2.10 | NA | 25.39 | 090
47721 |  | A | Fuse upper gi structures | 19.13 | NA | 8.43 | 2.52 | NA | 30.08 | 090
47740 |  | A | Fuse gallbladder & bowel | 18.49 | NA | 8.24 | 2.41 | NA | 29.14 | 090
47741 |  | A | Fuse gallbladder & bowel | 21.35 | NA | 9.13 | 2.82 | NA | 33.31 | 090
47760 |  | A | Fuse bile ducts and bowel | 25.86 | NA | 10.66 | 3.41 | NA | 39.93 | 090
47765 |  | A | Fuse liver ducts & bowel | 24.89 | NA | 10.59 | 3.29 | NA | 38.77 | 090
47780 |  | A | Fuse bile ducts and bowel | 26.51 | NA | 11.02 | 3.49 | NA | 41.02 | 090
47785 |  | A | Fuse bile ducts and bowel | 31.19 | NA | 12.65 | 4.09 | NA | 47.93 | 090
47800 |  | A | Reconstruction of bile ducts | 23.32 | NA | 9.89 | 3.07 | NA | 36.27 | 090
47801 |  | A | Placement, bile duct support | 15.18 | NA | 8.39 | 1.16 | NA | 24.73 | 090
47802 |  | A | Fuse liver duct & intestine | 21.56 | NA | 9.49 | 2.85 | NA | 33.90 | 090
47900 |  | A | Suture bile duct injury | 19.91 | NA | 8.73 | 2.64 | NA | 31.28 | 090
47999 |  | C | Bile tract surgery procedure | 0.00 | 0.00 | 0.00 | 0.00 | 0.00 | 0.00 | YYY
48000 |  | A | Drainage of abdomen | 28.09 | NA | 11.45 | 3.47 | NA | 43.01 | 090
48001 |  | A | Placement of drain, pancreas | 35.47 | NA | 13.61 | 4.68 | NA | 53.77 | 090
48005 |  | A | Resect/debride pancreas | 42.19 | NA | 16.29 | 5.54 | NA | 64.02 | 090
48020 |  | A | Removal of pancreatic stone | 15.71 | NA | 7.25 | 2.12 | NA | 25.09 | 090
48100 |  | A | Biopsy of pancreas, open | 12.23 | NA | 5.54 | 1.62 | NA | 19.39 | 090
48102 |  | A | Needle biopsy, pancreas | 4.68 | 8.56 | 2.01 | 0.28 | 13.52 | 6.97 | 010
48120 |  | A | Removal of pancreas lesion | 15.86 | NA | 6.81 | 2.09 | NA | 24.76 | 090
48140 |  | A | Partial removal of pancreas | 22.96 | NA | 9.40 | 3.02 | NA | 35.37 | 090
48145 |  | A | Partial removal of pancreas | 24.03 | NA | 9.69 | 3.17 | NA | 36.88 | 090
48146 |  | A | Pancreatectomy | 26.41 | NA | 11.78 | 3.49 | NA | 41.68 | 090
48148 |  | A | Removal of pancreatic duct | 17.34 | NA | 7.48 | 2.29 | NA | 27.12 | 090
48150 |  | A | Partial removal of pancreas | 48.03 | NA | 19.10 | 6.30 | NA | 73.43 | 090
48152 |  | A | Pancreatectomy | 43.77 | NA | 17.84 | 5.78 | NA | 67.39 | 090
48153 |  | A | Pancreatectomy | 47.92 | NA | 19.14 | 6.29 | NA | 73.35 | 090
48154 |  | A | Pancreatectomy | 44.12 | NA | 17.89 | 5.82 | NA | 67.83 | 090
48155 |  | A | Removal of pancreas | 24.65 | NA | 11.47 | 3.26 | NA | 39.38 | 090
48160 |  | N | Pancreas removal/transplant | 0.00 | 0.00 | 0.00 | 0.00 | 0.00 | 0.00 | XXX
48180 |  | A | Fuse pancreas and bowel | 24.73 | NA | 10.02 | 3.27 | NA | 38.02 | 090
48400 |  | A | Injection, intraop add-on | 1.95 | NA | 0.67 | 0.15 | NA | 2.77 | ZZZ
48500 |  | A | Surgery of pancreatic cyst | 15.29 | NA | 7.24 | 2.02 | NA | 24.55 | 090
48510 |  | A | Drain pancreatic pseudocyst | 14.32 | NA | 7.52 | 1.82 | NA | 23.66 | 090
48511 |  | A | Drain pancreatic pseudocyst | 4.00 | 21.86 | 1.37 | 0.24 | 26.10 | 5.61 | 000
48520 |  | A | Fuse pancreas cyst and bowel | 15.60 | NA | 6.62 | 2.05 | NA | 24.27 | 090
48540 |  | A | Fuse pancreas cyst and bowel | 19.73 | NA | 7.98 | 2.60 | NA | 30.31 | 090
48545 |  | A | Pancreatorrhaphy | 18.19 | NA | 7.86 | 2.37 | NA | 28.42 | 090
48547 |  | A | Duodenal exclusion | 25.84 | NA | 10.33 | 3.41 | NA | 39.58 | 090
48551 |  | C | Prep donor pancreas | 0.00 | 0.00 | 0.00 | 0.00 | 0.00 | 0.00 | XXX
48552 |  | A | Prep donor pancreas/venous | 4.31 | NA | 1.44 | 0.31 | NA | 6.06 | XXX
48554 |  | R | Transpl allograft pancreas | 34.19 | NA | 18.44 | 4.18 | NA | 56.81 | 090
48556 |  | A | Removal, allograft pancreas | 15.72 | NA | 8.08 | 2.07 | NA | 25.87 | 090
48999 |  | C | Pancreas surgery procedure | 0.00 | 0.00 | 0.00 | 0.00 | 0.00 | 0.00 | YYY
49000 |  | A | Exploration of abdomen | 11.68 | NA | 5.34 | 1.52 | NA | 18.54 | 090
49002 |  | A | Reopening of abdomen | 10.49 | NA | 4.98 | 1.37 | NA | 16.85 | 090
49010 |  | A | Exploration behind abdomen | 12.28 | NA | 5.89 | 1.51 | NA | 19.68 | 090
49020 |  | A | Drain abdominal abscess | 22.86 | NA | 10.37 | 2.84 | NA | 36.07 | 090
49021 |  | A | Drain abdominal abscess | 3.38 | 21.59 | 1.15 | 0.20 | 25.17 | 4.73 | 000
49040 |  | A | Drain, open, abdom abscess | 13.53 | NA | 6.52 | 1.69 | NA | 21.74 | 090
49041 |  | A | Drain, percut, abdom abscess | 4.00 | 20.71 | 1.37 | 0.24 | 24.95 | 5.60 | 000
49060 |  | A | Drain, open, retrop abscess | 15.87 | NA | 7.69 | 1.74 | NA | 25.30 | 090
49061 |  | A | Drain, percut, retroper absc | 3.70 | 20.47 | 1.27 | 0.22 | 24.39 | 5.18 | 000
49062 |  | A | Drain to peritoneal cavity | 11.36 | NA | 5.43 | 1.39 | NA | 18.18 | 090
49080 |  | A | Puncture, peritoneal cavity | 1.35 | 3.87 | 0.48 | 0.08 | 5.30 | 1.91 | 000
49081 |  | A | Removal of abdominal fluid | 1.26 | 2.80 | 0.45 | 0.09 | 4.15 | 1.80 | 000
49085 |  | A | Remove abdomen foreign body | 12.14 | NA | 5.45 | 1.62 | NA | 19.22 | 090
49180 |  | A | Biopsy, abdominal mass | 1.73 | 3.17 | 0.60 | 0.10 | 5.00 | 2.43 | 000
49200 |  | A | Removal of abdominal lesion | 10.25 | NA | 5.04 | 1.24 | NA | 16.53 | 090
49201 |  | A | Remove abdom lesion, complex | 14.85 | NA | 6.97 | 1.87 | NA | 23.69 | 090
49215 |  | A | Excise sacral spine tumor | 33.52 | NA | 13.82 | 4.37 | NA | 51.70 | 090
49220 |  | A | Multiple surgery, abdomen | 14.89 | NA | 6.56 | 1.88 | NA | 23.33 | 090
49250 |  | A | Excision of umbilicus | 8.36 | NA | 4.23 | 1.08 | NA | 13.67 | 090
49255 |  | A | Removal of omentum | 11.14 | NA | 5.56 | 1.43 | NA | 18.13 | 090
49320 |  | A | Diag laparo separate proc | 5.10 | NA | 2.61 | 0.65 | NA | 8.36 | 010
49321 |  | A | Laparoscopy, biopsy | 5.40 | NA | 2.62 | 0.70 | NA | 8.72 | 010
49322 |  | A | Laparoscopy, aspiration | 5.70 | NA | 2.95 | 0.71 | NA | 9.36 | 010
49323 |  | A | Laparo drain lymphocele | 9.49 | NA | 4.56 | 1.20 | NA | 15.25 | 090
49329 |  | C | Laparo proc, abdm/per/oment | 0.00 | 0.00 | 0.00 | 0.00 | 0.00 | 0.00 | YYY
49400 |  | A | Air injection into abdomen | 1.88 | 3.03 | 0.64 | 0.15 | 5.06 | 2.67 | 000
49419 |  | A | Insrt abdom cath for chemotx | 6.65 | NA | 3.52 | 0.81 | NA | 10.99 | 090
49420 |  | A | Insert abdom drain, temp | 2.22 | NA | 1.16 | 0.21 | NA | 3.59 | 000
49421 |  | A | Insert abdom drain, perm | 5.54 | NA | 3.12 | 0.74 | NA | 9.40 | 090
49422 |  | A | Remove perm cannula/catheter | 6.25 | NA | 2.86 | 0.83 | NA | 9.94 | 010
49423 |  | A | Exchange drainage catheter | 1.46 | 14.27 | 0.55 | 0.09 | 15.82 | 2.10 | 000
49424 |  | A | Assess cyst, contrast inject | 0.76 | 3.70 | 0.31 | 0.04 | 4.50 | 1.11 | 000
49425 |  | A | Insert abdomen-venous drain | 11.37 | NA | 5.48 | 1.54 | NA | 18.40 | 090
49426 |  | A | Revise abdomen-venous shunt | 9.64 | NA | 4.71 | 1.28 | NA | 15.63 | 090
49427 |  | A | Injection, abdominal shunt | 0.89 | NA | 0.31 | 0.07 | NA | 1.27 | 000
49428 |  | A | Ligation of shunt | 6.06 | NA | 3.73 | 0.80 | NA | 10.59 | 010
49429 |  | A | Removal of shunt | 7.40 | NA | 3.35 | 1.02 | NA | 11.77 | 010
49491 |  | A | Rpr hern preemie reduc | 11.13 | NA | 5.10 | 1.40 | NA | 17.63 | 090
49492 |  | A | Rpr ing hern premie, blocked | 14.04 | NA | 6.08 | 1.80 | NA | 21.92 | 090
49495 |  | A | Rpr ing hernia baby, reduc | 5.89 | NA | 2.97 | 0.74 | NA | 9.60 | 090
49496 |  | A | Rpr ing hernia baby, blocked | 8.80 | NA | 4.26 | 1.07 | NA | 14.13 | 090
49500 |  | A | Rpr ing hernia, init, reduce | 5.48 | NA | 3.18 | 0.71 | NA | 9.37 | 090
49501 |  | A | Rpr ing hernia, init blocked | 8.89 | NA | 4.19 | 1.12 | NA | 14.20 | 090
49505 |  | A | Prp i/hern init reduc >5 yr | 7.61 | NA | 3.73 | 1.03 | NA | 12.37 | 090
49507 |  | A | Prp i/hern init block >5 yr | 9.58 | NA | 4.42 | 1.27 | NA | 15.27 | 090
49520 |  | A | Rerepair ing hernia, reduce | 9.64 | NA | 4.40 | 1.28 | NA | 15.32 | 090
49521 |  | A | Rerepair ing hernia, blocked | 11.97 | NA | 5.18 | 1.59 | NA | 18.75 | 090
49525 |  | A | Repair ing hernia, sliding | 8.58 | NA | 4.06 | 1.13 | NA | 13.77 | 090
49540 |  | A | Repair lumbar hernia | 10.39 | NA | 4.70 | 1.37 | NA | 16.47 | 090
49550 |  | A | Rpr rem hernia, init, reduce | 8.64 | NA | 4.09 | 1.14 | NA | 13.87 | 090
49553 |  | A | Rpr fem hernia, init blocked | 9.45 | NA | 4.38 | 1.24 | NA | 15.07 | 090
49555 |  | A | Rerepair fem hernia, reduce | 9.04 | NA | 4.23 | 1.20 | NA | 14.47 | 090
49557 |  | A | Rerepair fem hernia, blocked | 11.15 | NA | 4.93 | 1.47 | NA | 17.56 | 090
49560 |  | A | Rpr ventral hern init, reduc | 11.57 | NA | 5.09 | 1.52 | NA | 18.18 | 090
49561 |  | A | Rpr ventral hern init, block | 14.26 | NA | 5.98 | 1.88 | NA | 22.12 | 090
49565 |  | A | Rerepair ventrl hern, reduce | 11.57 | NA | 5.16 | 1.52 | NA | 18.25 | 090
49566 |  | A | Rerepair ventrl hern, block | 14.41 | NA | 6.05 | 1.90 | NA | 22.36 | 090
49568 |  | A | Hernia repair w/mesh | 4.89 | NA | 1.63 | 0.64 | NA | 7.16 | ZZZ
49570 |  | A | Rpr epigastric hern, reduce | 5.69 | NA | 3.15 | 0.75 | NA | 9.59 | 090
49572 |  | A | Rpr epigastric hern, blocked | 6.73 | NA | 3.44 | 0.88 | NA | 11.06 | 090
49580 |  | A | Rpr umbil hern, reduc < 5 yr | 4.11 | NA | 2.58 | 0.54 | NA | 7.23 | 090
49582 |  | A | Rpr umbil hern, block < 5 yr | 6.65 | NA | 3.45 | 0.88 | NA | 10.99 | 090
49585 |  | A | Rpr umbil hern, reduc > 5 yr | 6.23 | NA | 3.28 | 0.82 | NA | 10.34 | 090
49587 |  | A | Rpr umbil hern, block > 5 yr | 7.57 | NA | 3.71 | 0.99 | NA | 12.27 | 090
49590 |  | A | Repair spigelian hernia | 8.55 | NA | 4.06 | 1.13 | NA | 13.73 | 090
49600 |  | A | Repair umbilical lesion | 10.96 | NA | 5.26 | 1.32 | NA | 17.54 | 090
49605 |  | A | Repair umbilical lesion | 76.04 | NA | 27.99 | 9.36 | NA | 113.39 | 090
49606 |  | A | Repair umbilical lesion | 18.61 | NA | 7.55 | 2.45 | NA | 28.60 | 090
49610 |  | A | Repair umbilical lesion | 10.50 | NA | 5.11 | 1.07 | NA | 16.68 | 090
49611 |  | A | Repair umbilical lesion | 8.93 | NA | 6.74 | 0.78 | NA | 16.45 | 090
49650 |  | A | Laparo hernia repair initial | 6.27 | NA | 3.18 | 0.93 | NA | 10.38 | 090
49651 |  | A | Laparo hernia repair recur | 8.25 | NA | 4.03 | 1.14 | NA | 13.41 | 090
49659 |  | C | Laparo proc, hernia repair | 0.00 | 0.00 | 0.00 | 0.00 | 0.00 | 0.00 | YYY
49900 |  | A | Repair of abdominal wall | 12.28 | NA | 6.21 | 1.62 | NA | 20.12 | 090
49904 |  | A | Omental flap, extra-abdom | 20.01 | NA | 14.59 | 2.69 | NA | 37.29 | 090
49905 |  | A | Omental flap, intra-abdom | 6.55 | NA | 2.26 | 0.75 | NA | 9.57 | ZZZ
49906 |  | C | Free omental flap, microvasc | 0.00 | 0.00 | 0.00 | 0.00 | 0.00 | 0.00 | 090
49999 |  | C | Abdomen surgery procedure | 0.00 | 0.00 | 0.00 | 0.00 | 0.00 | 0.00 | YYY
50010 |  | A | Exploration of kidney | 10.98 | NA | 5.82 | 0.93 | NA | 17.74 | 090
50020 |  | A | Renal abscess, open drain | 14.67 | NA | 8.25 | 1.34 | NA | 24.26 | 090
50021 |  | A | Renal abscess, percut drain | 3.38 | 22.82 | 1.16 | 0.20 | 26.39 | 4.74 | 000
50040 |  | A | Drainage of kidney | 14.95 | NA | 7.61 | 1.03 | NA | 23.59 | 090
50045 |  | A | Exploration of kidney | 15.47 | NA | 7.41 | 1.24 | NA | 24.12 | 090
50060 |  | A | Removal of kidney stone | 19.31 | NA | 9.10 | 1.36 | NA | 29.76 | 090
50065 |  | A | Incision of kidney | 20.80 | NA | 6.01 | 1.59 | NA | 28.40 | 090
50070 |  | A | Incision of kidney | 20.33 | NA | 9.43 | 1.44 | NA | 31.20 | 090
50075 |  | A | Removal of kidney stone | 25.35 | NA | 11.47 | 1.80 | NA | 38.62 | 090
50080 |  | A | Removal of kidney stone | 14.72 | NA | 7.28 | 1.04 | NA | 23.04 | 090
50081 |  | A | Removal of kidney stone | 21.81 | NA | 10.27 | 1.54 | NA | 33.62 | 090
50100 |  | A | Revise kidney blood vessels | 16.10 | NA | 7.67 | 2.06 | NA | 25.83 | 090
50120 |  | A | Exploration of kidney | 15.92 | NA | 7.79 | 1.21 | NA | 24.92 | 090
50125 |  | A | Explore and drain kidney | 16.53 | NA | 7.75 | 1.43 | NA | 25.71 | 090
50130 |  | A | Removal of kidney stone | 17.29 | NA | 8.29 | 1.22 | NA | 26.81 | 090
50135 |  | A | Exploration of kidney | 19.19 | NA | 8.99 | 1.33 | NA | 29.51 | 090
50200 |  | A | Biopsy of kidney | 2.64 | NA | 1.32 | 0.16 | NA | 4.11 | 000
50205 |  | A | Biopsy of kidney | 11.31 | NA | 5.32 | 1.30 | NA | 17.93 | 090
50220 |  | A | Remove kidney, open | 17.15 | NA | 8.12 | 1.35 | NA | 26.63 | 090
50225 |  | A | Removal kidney open, complex | 20.24 | NA | 9.34 | 1.50 | NA | 31.08 | 090
50230 |  | A | Removal kidney open, radical | 22.08 | NA | 9.88 | 1.55 | NA | 33.51 | 090
50234 |  | A | Removal of kidney & ureter | 22.41 | NA | 10.18 | 1.59 | NA | 34.19 | 090
50236 |  | A | Removal of kidney & ureter | 24.87 | NA | 11.78 | 1.76 | NA | 38.41 | 090
50240 |  | A | Partial removal of kidney | 22.01 | NA | 10.38 | 1.55 | NA | 33.94 | 090
50280 |  | A | Removal of kidney lesion | 15.68 | NA | 7.62 | 1.19 | NA | 24.49 | 090
50290 |  | A | Removal of kidney lesion | 14.74 | NA | 6.95 | 1.41 | NA | 23.10 | 090
50320 |  | A | Remove kidney, living donor | 22.22 | NA | 11.43 | 2.35 | NA | 36.00 | 090
50323 |  | C | Prep cadaver renal allograft | 0.00 | 0.00 | 0.00 | 0.00 | 0.00 | 0.00 | XXX
50325 |  | C | Prep donor renal graft | 0.00 | 0.00 | 0.00 | 0.00 | 0.00 | 0.00 | XXX
50327 |  | A | Prep renal graft/venous | 4.01 | NA | 1.35 | 0.29 | NA | 5.65 | XXX
50328 |  | A | Prep renal graft/arterial | 3.51 | NA | 1.18 | 0.26 | NA | 4.95 | XXX
50329 |  | A | Prep renal graft/ureteral | 3.35 | NA | 1.13 | 0.25 | NA | 4.73 | XXX
50340 |  | A | Removal of kidney | 12.15 | NA | 6.71 | 1.65 | NA | 20.51 | 090
50360 |  | A | Transplantation of kidney | 31.54 | NA | 15.94 | 3.81 | NA | 51.29 | 090
50365 |  | A | Transplantation of kidney | 36.82 | NA | 18.27 | 4.42 | NA | 59.52 | 090
50370 |  | A | Remove transplanted kidney | 13.73 | NA | 7.40 | 1.67 | NA | 22.80 | 090
50380 |  | A | Reimplantation of kidney | 20.77 | NA | 12.41 | 2.50 | NA | 35.69 | 090
50390 |  | A | Drainage of kidney lesion | 1.96 | NA | 0.68 | 0.12 | NA | 2.76 | 000
50391 |  | A | Instll rx agnt into rnal tub | 1.96 | 1.68 | 0.74 | 0.14 | 3.79 | 2.85 | 000
50392 |  | A | Insert kidney drain | 3.38 | NA | 1.61 | 0.20 | NA | 5.18 | 000
50393 |  | A | Insert ureteral tube | 4.16 | NA | 1.88 | 0.25 | NA | 6.29 | 000
50394 |  | A | Injection for kidney x-ray | 0.76 | 2.72 | 0.70 | 0.05 | 3.53 | 1.51 | 000
50395 |  | A | Create passage to kidney | 3.38 | NA | 1.61 | 0.21 | NA | 5.19 | 000
50396 |  | A | Measure kidney pressure | 2.09 | NA | 1.15 | 0.13 | NA | 3.38 | 000
50398 |  | A | Change kidney tube | 1.46 | 16.40 | 0.55 | 0.09 | 17.95 | 2.10 | 000
50400 |  | A | Revision of kidney/ureter | 19.51 | NA | 9.04 | 1.38 | NA | 29.93 | 090
50405 |  | A | Revision of kidney/ureter | 23.94 | NA | 10.26 | 1.78 | NA | 35.98 | 090
50500 |  | A | Repair of kidney wound | 19.58 | NA | 8.86 | 2.01 | NA | 30.45 | 090
50520 |  | A | Close kidney-skin fistula | 17.23 | NA | 8.35 | 1.49 | NA | 27.07 | 090
50525 |  | A | Repair renal-abdomen fistula | 22.28 | NA | 9.57 | 1.83 | NA | 33.68 | 090
50526 |  | A | Repair renal-abdomen fistula | 24.03 | NA | 10.40 | 1.96 | NA | 36.38 | 090
50540 |  | A | Revision of horseshoe kidney | 19.94 | NA | 8.96 | 1.36 | NA | 30.26 | 090
50541 |  | A | Laparo ablate renal cyst | 16.01 | NA | 7.41 | 1.13 | NA | 24.55 | 090
50542 |  | A | Laparo ablate renal mass | 20.01 | NA | 9.49 | 1.39 | NA | 30.89 | 090
50543 |  | A | Laparo partial nephrectomy | 25.51 | NA | 11.90 | 1.80 | NA | 39.21 | 090
50544 |  | A | Laparoscopy, pyeloplasty | 22.41 | NA | 9.75 | 1.58 | NA | 33.74 | 090
50545 |  | A | Laparo radical nephrectomy | 24.01 | NA | 10.60 | 1.70 | NA | 36.31 | 090
50546 |  | A | Laparoscopic nephrectomy | 20.49 | NA | 9.49 | 1.57 | NA | 31.55 | 090
50547 |  | A | Laparo removal donor kidney | 25.51 | NA | 11.70 | 2.76 | NA | 39.97 | 090
50548 |  | A | Laparo remove w/ureter | 24.41 | NA | 10.57 | 1.72 | NA | 36.70 | 090
50549 |  | C | Laparoscope proc, renal | 0.00 | 0.00 | 0.00 | 0.00 | 0.00 | 0.00 | YYY
50551 |  | A | Kidney endoscopy | 5.60 | 4.47 | 2.34 | 0.40 | 10.48 | 8.35 | 000
50553 |  | A | Kidney endoscopy | 5.99 | 4.72 | 2.52 | 0.39 | 11.11 | 8.90 | 000
50555 |  | A | Kidney endoscopy & biopsy | 6.53 | 5.03 | 2.69 | 0.45 | 12.01 | 9.67 | 000
50557 |  | A | Kidney endoscopy & treatment | 6.62 | 5.04 | 2.73 | 0.47 | 12.13 | 9.82 | 000
50561 |  | A | Kidney endoscopy & treatment | 7.60 | 5.51 | 3.09 | 0.54 | 13.64 | 11.22 | 000
50562 |  | A | Renal scope w/tumor resect | 10.92 | NA | 4.95 | 0.73 | NA | 16.60 | 090
50570 |  | A | Kidney endoscopy | 9.55 | NA | 3.81 | 0.68 | NA | 14.04 | 000
50572 |  | A | Kidney endoscopy | 10.35 | NA | 4.07 | 0.85 | NA | 15.27 | 000
50574 |  | A | Kidney endoscopy & biopsy | 11.02 | NA | 4.37 | 0.77 | NA | 16.16 | 000
50575 |  | A | Kidney endoscopy | 13.99 | NA | 5.49 | 0.99 | NA | 20.46 | 000
50576 |  | A | Kidney endoscopy & treatment | 10.99 | NA | 4.34 | 0.78 | NA | 16.11 | 000
50580 |  | A | Kidney endoscopy & treatment | 11.86 | NA | 4.69 | 0.83 | NA | 17.38 | 000
50590 |  | A | Fragmenting of kidney stone | 9.10 | 13.68 | 4.92 | 0.65 | 23.43 | 14.67 | 090
50600 |  | A | Exploration of ureter | 15.85 | NA | 7.56 | 1.13 | NA | 24.54 | 090
50605 |  | A | Insert ureteral support | 15.47 | NA | 7.37 | 1.45 | NA | 24.29 | 090
50610 |  | A | Removal of ureter stone | 15.93 | NA | 7.84 | 1.43 | NA | 25.20 | 090
50620 |  | A | Removal of ureter stone | 15.17 | NA | 7.35 | 1.07 | NA | 23.59 | 090
50630 |  | A | Removal of ureter stone | 14.95 | NA | 7.26 | 1.09 | NA | 23.30 | 090
50650 |  | A | Removal of ureter | 17.41 | NA | 8.32 | 1.23 | NA | 26.97 | 090
50660 |  | A | Removal of ureter | 19.56 | NA | 9.17 | 1.38 | NA | 30.11 | 090
50684 |  | A | Injection for ureter x-ray | 0.76 | 4.95 | 0.55 | 0.05 | 5.76 | 1.37 | 000
50686 |  | A | Measure ureter pressure | 1.51 | 3.46 | 0.88 | 0.11 | 5.08 | 2.50 | 000
50688 |  | A | Change of ureter tube | 1.17 | NA | 1.12 | 0.07 | NA | 2.37 | 010
50690 |  | A | Injection for ureter x-ray | 1.16 | 1.88 | 0.78 | 0.07 | 3.12 | 2.02 | 000
50700 |  | A | Revision of ureter | 15.22 | NA | 7.83 | 1.27 | NA | 24.32 | 090
50715 |  | A | Release of ureter | 18.91 | NA | 8.92 | 2.13 | NA | 29.96 | 090
50722 |  | A | Release of ureter | 16.36 | NA | 7.93 | 1.90 | NA | 26.19 | 090
50725 |  | A | Release/revise ureter | 18.50 | NA | 8.71 | 1.52 | NA | 28.73 | 090
50727 |  | A | Revise ureter | 8.19 | NA | 4.89 | 0.61 | NA | 13.68 | 090
50728 |  | A | Revise ureter | 12.02 | NA | 6.12 | 1.00 | NA | 19.15 | 090
50740 |  | A | Fusion of ureter & kidney | 18.43 | NA | 8.33 | 1.96 | NA | 28.72 | 090
50750 |  | A | Fusion of ureter & kidney | 19.52 | NA | 9.27 | 1.38 | NA | 30.17 | 090
50760 |  | A | Fusion of ureters | 18.43 | NA | 8.59 | 1.55 | NA | 28.56 | 090
50770 |  | A | Splicing of ureters | 19.52 | NA | 9.08 | 1.45 | NA | 30.05 | 090
50780 |  | A | Reimplant ureter in bladder | 18.37 | NA | 8.59 | 1.51 | NA | 28.47 | 090
50782 |  | A | Reimplant ureter in bladder | 19.55 | NA | 9.12 | 1.61 | NA | 30.28 | 090
50783 |  | A | Reimplant ureter in bladder | 20.56 | NA | 9.37 | 1.98 | NA | 31.91 | 090
50785 |  | A | Reimplant ureter in bladder | 20.53 | NA | 9.44 | 1.45 | NA | 31.42 | 090
50800 |  | A | Implant ureter in bowel | 14.53 | NA | 7.37 | 1.19 | NA | 23.09 | 090
50810 |  | A | Fusion of ureter & bowel | 20.06 | NA | 9.22 | 2.31 | NA | 31.59 | 090
50815 |  | A | Urine shunt to intestine | 19.94 | NA | 9.51 | 1.54 | NA | 30.99 | 090
50820 |  | A | Construct bowel bladder | 21.90 | NA | 9.64 | 1.89 | NA | 33.44 | 090
50825 |  | A | Construct bowel bladder | 28.20 | NA | 12.72 | 2.07 | NA | 42.98 | 090
50830 |  | A | Revise urine flow | 31.29 | NA | 13.62 | 2.37 | NA | 47.28 | 090
50840 |  | A | Replace ureter by bowel | 20.01 | NA | 9.67 | 1.47 | NA | 31.15 | 090
50845 |  | A | Appendico-vesicostomy | 20.90 | NA | 10.32 | 1.57 | NA | 32.79 | 090
50860 |  | A | Transplant ureter to skin | 15.37 | NA | 7.50 | 1.29 | NA | 24.16 | 090
50900 |  | A | Repair of ureter | 13.63 | NA | 6.74 | 1.14 | NA | 21.51 | 090
50920 |  | A | Closure ureter/skin fistula | 14.34 | NA | 7.23 | 1.01 | NA | 22.58 | 090
50930 |  | A | Closure ureter/bowel fistula | 18.73 | NA | 8.70 | 1.28 | NA | 28.71 | 090
50940 |  | A | Release of ureter | 14.52 | NA | 7.19 | 1.26 | NA | 22.97 | 090
50945 |  | A | Laparoscopy ureterolithotomy | 17.00 | NA | 8.00 | 1.36 | NA | 26.37 | 090
50947 |  | A | Laparo new ureter/bladder | 24.51 | NA | 11.02 | 2.16 | NA | 37.69 | 090
50948 |  | A | Laparo new ureter/bladder | 22.51 | NA | 9.77 | 1.70 | NA | 33.99 | 090
50949 |  | C | Laparoscope proc, ureter | 0.00 | 0.00 | 0.00 | 0.00 | 0.00 | 0.00 | YYY
50951 |  | A | Endoscopy of ureter | 5.84 | 4.63 | 2.43 | 0.41 | 10.88 | 8.68 | 000
50953 |  | A | Endoscopy of ureter | 6.24 | 4.79 | 2.81 | 0.43 | 11.46 | 9.49 | 000
50955 |  | A | Ureter endoscopy & biopsy | 6.75 | 6.34 | 3.09 | 0.48 | 13.58 | 10.32 | 000
50957 |  | A | Ureter endoscopy & treatment | 6.79 | 4.97 | 2.79 | 0.48 | 12.24 | 10.06 | 000
50961 |  | A | Ureter endoscopy & treatment | 6.05 | 4.74 | 2.53 | 0.41 | 11.20 | 8.99 | 000
50970 |  | A | Ureter endoscopy | 7.14 | NA | 2.91 | 0.52 | NA | 10.57 | 000
50972 |  | A | Ureter endoscopy & catheter | 6.89 | NA | 2.84 | 0.49 | NA | 10.23 | 000
50974 |  | A | Ureter endoscopy & biopsy | 9.18 | NA | 3.63 | 0.64 | NA | 13.45 | 000
50976 |  | A | Ureter endoscopy & treatment | 9.05 | NA | 3.62 | 0.66 | NA | 13.33 | 000
50980 |  | A | Ureter endoscopy & treatment | 6.85 | NA | 2.80 | 0.48 | NA | 10.13 | 000
51000 |  | A | Drainage of bladder | 0.78 | 1.80 | 0.26 | 0.05 | 2.63 | 1.09 | 000
51005 |  | A | Drainage of bladder | 1.02 | 4.33 | 0.36 | 0.10 | 5.45 | 1.48 | 000
51010 |  | A | Drainage of bladder | 3.53 | 5.61 | 2.03 | 0.28 | 9.42 | 5.83 | 010
51020 |  | A | Incise & treat bladder | 6.71 | NA | 4.32 | 0.47 | NA | 11.50 | 090
51030 |  | A | Incise & treat bladder | 6.77 | NA | 4.37 | 0.58 | NA | 11.72 | 090
51040 |  | A | Incise & drain bladder | 4.40 | NA | 3.13 | 0.31 | NA | 7.84 | 090
51045 |  | A | Incise bladder/drain ureter | 6.77 | NA | 4.21 | 0.52 | NA | 11.50 | 090
51050 |  | A | Removal of bladder stone | 6.92 | NA | 4.21 | 0.49 | NA | 11.62 | 090
51060 |  | A | Removal of ureter stone | 8.86 | NA | 5.16 | 0.62 | NA | 14.64 | 090
51065 |  | A | Remove ureter calculus | 8.86 | NA | 5.01 | 0.63 | NA | 14.50 | 090
51080 |  | A | Drainage of bladder abscess | 5.96 | NA | 3.93 | 0.43 | NA | 10.32 | 090
51500 |  | A | Removal of bladder cyst | 10.14 | NA | 5.26 | 1.03 | NA | 16.43 | 090
51520 |  | A | Removal of bladder lesion | 9.30 | NA | 5.29 | 0.69 | NA | 15.28 | 090
51525 |  | A | Removal of bladder lesion | 13.98 | NA | 7.05 | 0.99 | NA | 22.01 | 090
51530 |  | A | Removal of bladder lesion | 12.38 | NA | 6.32 | 1.05 | NA | 19.76 | 090
51535 |  | A | Repair of ureter lesion | 12.58 | NA | 6.54 | 1.23 | NA | 20.35 | 090
51550 |  | A | Partial removal of bladder | 15.67 | NA | 7.46 | 1.31 | NA | 24.44 | 090
51555 |  | A | Partial removal of bladder | 21.24 | NA | 9.74 | 1.69 | NA | 32.68 | 090
51565 |  | A | Revise bladder & ureter(s) | 21.63 | NA | 10.17 | 1.63 | NA | 33.44 | 090
51570 |  | A | Removal of bladder | 24.25 | NA | 11.12 | 1.71 | NA | 37.08 | 090
51575 |  | A | Removal of bladder & nodes | 30.46 | NA | 13.75 | 2.16 | NA | 46.37 | 090
51580 |  | A | Remove bladder/revise tract | 31.09 | NA | 14.21 | 2.24 | NA | 47.54 | 090
51585 |  | A | Removal of bladder & nodes | 35.25 | NA | 15.79 | 2.48 | NA | 53.52 | 090
51590 |  | A | Remove bladder/revise tract | 32.68 | NA | 14.45 | 2.27 | NA | 49.39 | 090
51595 |  | A | Remove bladder/revise tract | 37.15 | NA | 16.33 | 2.59 | NA | 56.08 | 090
51596 |  | A | Remove bladder/create pouch | 39.54 | NA | 17.59 | 2.77 | NA | 59.90 | 090
51597 |  | A | Removal of pelvic structures | 38.37 | NA | 16.73 | 2.81 | NA | 57.90 | 090
51600 |  | A | Injection for bladder x-ray | 0.88 | 5.08 | 0.32 | 0.06 | 6.02 | 1.26 | 000
51605 |  | A | Preparation for bladder xray | 0.64 | NA | 0.39 | 0.04 | NA | 1.07 | 000
51610 |  | A | Injection for bladder x-ray | 1.05 | 2.29 | 0.68 | 0.07 | 3.41 | 1.80 | 000
51700 |  | A | Irrigation of bladder | 0.88 | 1.65 | 0.32 | 0.06 | 2.59 | 1.26 | 000
51701 |  | A | Insert bladder catheter | 0.50 | 1.55 | 0.20 | 0.04 | 2.09 | 0.74 | 000
51702 |  | A | Insert temp bladder cath | 0.50 | 2.06 | 0.25 | 0.04 | 2.60 | 0.79 | 000
51703 |  | A | Insert bladder cath, complex | 1.47 | 2.77 | 0.67 | 0.10 | 4.35 | 2.24 | 000
51705 |  | A | Change of bladder tube | 1.02 | 2.31 | 0.69 | 0.07 | 3.41 | 1.79 | 010
51710 |  | A | Change of bladder tube | 1.49 | 3.37 | 0.92 | 0.11 | 4.97 | 2.53 | 010
51715 |  | A | Endoscopic injection/implant | 3.74 | NA | 1.59 | 0.29 | NA | 5.61 | 000
51720 |  | A | Treatment of bladder lesion | 1.96 | 1.86 | 0.81 | 0.14 | 3.97 | 2.92 | 000
51725 |  | A | Simple cystometrogram | 1.51 | 5.51 | NA | 0.16 | 7.19 | NA | 000
51725 | 26 | A | Simple cystometrogram | 1.51 | 0.57 | 0.57 | 0.12 | 2.20 | 2.20 | 000
51725 | TC | A | Simple cystometrogram | 0.00 | 4.94 | NA | 0.04 | 4.98 | NA | 000
51726 |  | A | Complex cystometrogram | 1.71 | 7.56 | NA | 0.18 | 9.45 | NA | 000
51726 | 26 | A | Complex cystometrogram | 1.71 | 0.65 | 0.65 | 0.13 | 2.49 | 2.49 | 000
51726 | TC | A | Complex cystometrogram | 0.00 | 6.91 | NA | 0.05 | 6.96 | NA | 000
51736 |  | A | Urine flow measurement | 0.61 | 0.66 | NA | 0.06 | 1.33 | NA | 000
51736 | 26 | A | Urine flow measurement | 0.61 | 0.23 | 0.23 | 0.05 | 0.89 | 0.89 | 000
51736 | TC | A | Urine flow measurement | 0.00 | 0.43 | NA | 0.01 | 0.44 | NA | 000
51741 |  | A | Electro-uroflowmetry, first | 1.14 | 0.92 | NA | 0.11 | 2.17 | NA | 000
51741 | 26 | A | Electro-uroflowmetry, first | 1.14 | 0.43 | 0.43 | 0.09 | 1.66 | 1.66 | 000
51741 | TC | A | Electro-uroflowmetry, first | 0.00 | 0.49 | NA | 0.02 | 0.51 | NA | 000
51772 |  | A | Urethra pressure profile | 1.61 | 5.53 | NA | 0.20 | 7.34 | NA | 000
51772 | 26 | A | Urethra pressure profile | 1.61 | 0.61 | 0.61 | 0.15 | 2.37 | 2.37 | 000
51772 | TC | A | Urethra pressure profile | 0.00 | 4.91 | NA | 0.05 | 4.96 | NA | 000
51784 |  | A | Anal/urinary muscle study | 1.53 | 4.03 | NA | 0.16 | 5.73 | NA | 000
51784 | 26 | A | Anal/urinary muscle study | 1.53 | 0.57 | 0.57 | 0.12 | 2.23 | 2.23 | 000
51784 | TC | A | Anal/urinary muscle study | 0.00 | 3.46 | NA | 0.04 | 3.50 | NA | 000
51785 |  | A | Anal/urinary muscle study | 1.53 | 4.52 | NA | 0.15 | 6.21 | NA | 000
51785 | 26 | A | Anal/urinary muscle study | 1.53 | 0.58 | 0.58 | 0.11 | 2.22 | 2.22 | 000
51785 | TC | A | Anal/urinary muscle study | 0.00 | 3.95 | NA | 0.04 | 3.99 | NA | 000
51792 |  | A | Urinary reflex study | 1.10 | 5.83 | NA | 0.20 | 7.13 | NA | 000
51792 | 26 | A | Urinary reflex study | 1.10 | 0.43 | 0.43 | 0.07 | 1.61 | 1.61 | 000
51792 | TC | A | Urinary reflex study | 0.00 | 5.39 | NA | 0.13 | 5.52 | NA | 000
51795 |  | A | Urine voiding pressure study | 1.53 | 7.32 | NA | 0.22 | 9.08 | NA | 000
51795 | 26 | A | Urine voiding pressure study | 1.53 | 0.58 | 0.58 | 0.12 | 2.23 | 2.23 | 000
51795 | TC | A | Urine voiding pressure study | 0.00 | 6.75 | NA | 0.10 | 6.85 | NA | 000
51797 |  | A | Intraabdominal pressure test | 1.60 | 5.74 | NA | 0.17 | 7.51 | NA | 000
51797 | 26 | A | Intraabdominal pressure test | 1.60 | 0.61 | 0.61 | 0.12 | 2.33 | 2.33 | 000
51797 | TC | A | Intraabdominal pressure test | 0.00 | 5.13 | NA | 0.05 | 5.18 | NA | 000
51798 |  | A | Us urine capacity measure | 0.00 | 0.39 | NA | 0.08 | 0.47 | NA | XXX
51800 |  | A | Revision of bladder/urethra | 17.42 | NA | 8.48 | 1.32 | NA | 27.22 | 090
51820 |  | A | Revision of urinary tract | 17.90 | NA | 8.52 | 1.74 | NA | 28.16 | 090
51840 |  | A | Attach bladder/urethra | 10.71 | NA | 5.82 | 1.06 | NA | 17.59 | 090
51841 |  | A | Attach bladder/urethra | 13.04 | NA | 6.70 | 1.24 | NA | 20.97 | 090
51845 |  | A | Repair bladder neck | 9.74 | NA | 5.32 | 0.79 | NA | 15.85 | 090
51860 |  | A | Repair of bladder wound | 12.02 | NA | 6.15 | 1.16 | NA | 19.33 | 090
51865 |  | A | Repair of bladder wound | 15.05 | NA | 7.37 | 1.23 | NA | 23.65 | 090
51880 |  | A | Repair of bladder opening | 7.67 | NA | 4.26 | 0.72 | NA | 12.64 | 090
51900 |  | A | Repair bladder/vagina lesion | 12.98 | NA | 6.71 | 1.21 | NA | 20.90 | 090
51920 |  | A | Close bladder-uterus fistula | 11.81 | NA | 6.19 | 1.18 | NA | 19.18 | 090
51925 |  | A | Hysterectomy/bladder repair | 15.59 | NA | 8.45 | 2.03 | NA | 26.08 | 090
51940 |  | A | Correction of bladder defect | 28.45 | NA | 12.82 | 2.14 | NA | 43.40 | 090
51960 |  | A | Revision of bladder & bowel | 23.03 | NA | 11.01 | 1.63 | NA | 35.67 | 090
51980 |  | A | Construct bladder opening | 11.36 | NA | 6.10 | 0.86 | NA | 18.33 | 090
51990 |  | A | Laparo urethral suspension | 12.50 | NA | 6.34 | 1.39 | NA | 20.23 | 090
51992 |  | A | Laparo sling operation | 14.02 | NA | 6.88 | 1.41 | NA | 22.30 | 090
52000 |  | A | Cystoscopy | 2.01 | 3.39 | 0.90 | 0.14 | 5.55 | 3.06 | 000
52001 |  | A | Cystoscopy, removal of clots | 5.45 | 5.34 | 2.21 | 0.39 | 11.18 | 8.06 | 000
52005 |  | A | Cystoscopy & ureter catheter | 2.37 | 5.72 | 1.07 | 0.17 | 8.26 | 3.62 | 000
52007 |  | A | Cystoscopy and biopsy | 3.03 | 16.13 | 1.38 | 0.22 | 19.37 | 4.62 | 000
52010 |  | A | Cystoscopy & duct catheter | 3.03 | 10.59 | 1.37 | 0.21 | 13.83 | 4.61 | 000
52204 |  | A | Cystoscopy | 2.37 | 14.04 | 1.08 | 0.17 | 16.59 | 3.63 | 000
52214 |  | A | Cystoscopy and treatment | 3.71 | 36.60 | 1.59 | 0.26 | 40.57 | 5.56 | 000
52224 |  | A | Cystoscopy and treatment | 3.15 | 34.94 | 1.38 | 0.22 | 38.31 | 4.74 | 000
52234 |  | A | Cystoscopy and treatment | 4.63 | NA | 1.98 | 0.33 | NA | 6.94 | 000
52235 |  | A | Cystoscopy and treatment | 5.45 | NA | 2.31 | 0.39 | NA | 8.15 | 000
52240 |  | A | Cystoscopy and treatment | 9.73 | NA | 3.93 | 0.69 | NA | 14.34 | 000
52250 |  | A | Cystoscopy and radiotracer | 4.50 | NA | 1.98 | 0.32 | NA | 6.80 | 000
52260 |  | A | Cystoscopy and treatment | 3.92 | NA | 1.70 | 0.28 | NA | 5.89 | 000
52265 |  | A | Cystoscopy and treatment | 2.95 | 12.97 | 1.33 | 0.22 | 16.13 | 4.49 | 000
52270 |  | A | Cystoscopy & revise urethra | 3.37 | 10.79 | 1.49 | 0.24 | 14.40 | 5.10 | 000
52275 |  | A | Cystoscopy & revise urethra | 4.70 | 15.22 | 1.99 | 0.33 | 20.24 | 7.02 | 000
52276 |  | A | Cystoscopy and treatment | 5.00 | NA | 2.13 | 0.35 | NA | 7.48 | 000
52277 |  | A | Cystoscopy and treatment | 6.17 | NA | 2.59 | 0.44 | NA | 9.20 | 000
52281 |  | A | Cystoscopy and treatment | 2.81 | 7.08 | 1.30 | 0.20 | 10.08 | 4.31 | 000
52282 |  | A | Cystoscopy, implant stent | 6.40 | NA | 2.66 | 0.45 | NA | 9.51 | 000
52283 |  | A | Cystoscopy and treatment | 3.74 | 4.14 | 1.65 | 0.26 | 8.14 | 5.65 | 000
52285 |  | A | Cystoscopy and treatment | 3.61 | 4.23 | 1.60 | 0.26 | 8.09 | 5.47 | 000
52290 |  | A | Cystoscopy and treatment | 4.59 | NA | 1.97 | 0.32 | NA | 6.88 | 000
52300 |  | A | Cystoscopy and treatment | 5.31 | NA | 2.27 | 0.38 | NA | 7.97 | 000
52301 |  | A | Cystoscopy and treatment | 5.51 | NA | 2.03 | 0.46 | NA | 8.00 | 000
52305 |  | A | Cystoscopy and treatment | 5.31 | NA | 2.21 | 0.38 | NA | 7.90 | 000
52310 |  | A | Cystoscopy and treatment | 2.82 | 4.79 | 1.23 | 0.20 | 7.81 | 4.25 | 000
52315 |  | A | Cystoscopy and treatment | 5.21 | 8.76 | 2.18 | 0.37 | 14.34 | 7.76 | 000
52317 |  | A | Remove bladder stone | 6.72 | 28.18 | 2.71 | 0.48 | 35.38 | 9.91 | 000
52318 |  | A | Remove bladder stone | 9.20 | NA | 3.67 | 0.65 | NA | 13.52 | 000
52320 |  | A | Cystoscopy and treatment | 4.70 | NA | 1.94 | 0.33 | NA | 6.97 | 000
52325 |  | A | Cystoscopy, stone removal | 6.16 | NA | 2.52 | 0.44 | NA | 9.12 | 000
52327 |  | A | Cystoscopy, inject material | 5.19 | 30.65 | 2.14 | 0.37 | 36.21 | 7.70 | 000
52330 |  | A | Cystoscopy and treatment | 5.04 | 37.29 | 2.08 | 0.36 | 42.69 | 7.48 | 000
52332 |  | A | Cystoscopy and treatment | 2.84 | 5.70 | 1.26 | 0.21 | 8.75 | 4.31 | 000
52334 |  | A | Create passage to kidney | 4.83 | NA | 2.05 | 0.35 | NA | 7.23 | 000
52341 |  | A | Cysto w/ureter stricture tx | 6.00 | NA | 2.62 | 0.43 | NA | 9.05 | 000
52342 |  | A | Cysto w/up stricture tx | 6.50 | NA | 2.79 | 0.46 | NA | 9.75 | 000
52343 |  | A | Cysto w/renal stricture tx | 7.20 | NA | 3.06 | 0.51 | NA | 10.77 | 000
52344 |  | A | Cysto/uretero, stricture tx | 7.71 | NA | 3.34 | 0.55 | NA | 11.59 | 000
52345 |  | A | Cysto/uretero w/up stricture | 8.21 | NA | 3.53 | 0.58 | NA | 12.31 | 000
52346 |  | A | Cystouretero w/renal strict | 9.24 | NA | 3.92 | 0.65 | NA | 13.81 | 000
52351 |  | A | Cystouretero & or pyeloscope | 5.86 | NA | 2.56 | 0.41 | NA | 8.83 | 000
52352 |  | A | Cystouretero w/stone remove | 6.88 | NA | 2.99 | 0.49 | NA | 10.37 | 000
52353 |  | A | Cystouretero w/lithotripsy | 7.98 | NA | 3.40 | 0.57 | NA | 11.95 | 000
52354 |  | A | Cystouretero w/biopsy | 7.34 | NA | 3.16 | 0.52 | NA | 11.03 | 000
52355 |  | A | Cystouretero w/excise tumor | 8.83 | NA | 3.73 | 0.63 | NA | 13.19 | 000
52400 |  | A | Cystouretero w/congen repr | 9.69 | NA | 4.48 | 0.68 | NA | 14.85 | 090
52402 |  | A | Cystourethro cut ejacul duct | 5.28 | NA | 2.02 | 0.40 | NA | 7.70 | 000
52450 |  | A | Incision of prostate | 7.65 | NA | 4.40 | 0.54 | NA | 12.58 | 090
52500 |  | A | Revision of bladder neck | 8.48 | NA | 4.70 | 0.60 | NA | 13.78 | 090
52510 |  | A | Dilation prostatic urethra | 6.72 | NA | 3.71 | 0.48 | NA | 10.91 | 090
52601 |  | A | Prostatectomy (TURP) | 12.37 | NA | 6.08 | 0.87 | NA | 19.33 | 090
52606 |  | A | Control postop bleeding | 8.14 | NA | 4.23 | 0.57 | NA | 12.93 | 090
52612 |  | A | Prostatectomy, first stage | 7.99 | NA | 4.40 | 0.56 | NA | 12.95 | 090
52614 |  | A | Prostatectomy, second stage | 6.84 | NA | 4.00 | 0.48 | NA | 11.33 | 090
52620 |  | A | Remove residual prostate | 6.61 | NA | 3.57 | 0.47 | NA | 10.65 | 090
52630 |  | A | Remove prostate regrowth | 7.26 | NA | 3.82 | 0.51 | NA | 11.59 | 090
52640 |  | A | Relieve bladder contracture | 6.62 | NA | 3.53 | 0.47 | NA | 10.63 | 090
52647 |  | A | Laser surgery of prostate | 10.36 | 70.90 | 5.42 | 0.73 | 81.99 | 16.51 | 090
52648 |  | A | Laser surgery of prostate | 11.21 | NA | 5.70 | 0.79 | NA | 17.70 | 090
52700 |  | A | Drainage of prostate abscess | 6.80 | NA | 3.78 | 0.48 | NA | 11.06 | 090
53000 |  | A | Incision of urethra | 2.28 | NA | 1.67 | 0.16 | NA | 4.11 | 010
53010 |  | A | Incision of urethra | 3.64 | NA | 3.21 | 0.24 | NA | 7.09 | 090
53020 |  | A | Incision of urethra | 1.77 | NA | 0.80 | 0.13 | NA | 2.70 | 000
53025 |  | A | Incision of urethra | 1.13 | NA | 0.63 | 0.08 | NA | 1.84 | 000
53040 |  | A | Drainage of urethra abscess | 6.40 | NA | 3.88 | 0.45 | NA | 10.73 | 090
53060 |  | A | Drainage of urethra abscess | 2.64 | 2.08 | 1.50 | 0.28 | 4.99 | 4.42 | 010
53080 |  | A | Drainage of urinary leakage | 6.29 | NA | 6.21 | 0.52 | NA | 13.02 | 090
53085 |  | A | Drainage of urinary leakage | 10.27 | NA | 7.86 | 0.92 | NA | 19.05 | 090
53200 |  | A | Biopsy of urethra | 2.60 | 1.46 | 1.15 | 0.20 | 4.25 | 3.95 | 000
53210 |  | A | Removal of urethra | 12.58 | NA | 6.55 | 0.89 | NA | 20.01 | 090
53215 |  | A | Removal of urethra | 15.59 | NA | 7.67 | 1.10 | NA | 24.36 | 090
53220 |  | A | Treatment of urethra lesion | 7.00 | NA | 4.21 | 0.49 | NA | 11.70 | 090
53230 |  | A | Removal of urethra lesion | 9.59 | NA | 5.39 | 0.73 | NA | 15.71 | 090
53235 |  | A | Removal of urethra lesion | 10.14 | NA | 5.61 | 0.72 | NA | 16.47 | 090
53240 |  | A | Surgery for urethra pouch | 6.45 | NA | 3.96 | 0.52 | NA | 10.93 | 090
53250 |  | A | Removal of urethra gland | 5.89 | NA | 3.64 | 0.49 | NA | 10.02 | 090
53260 |  | A | Treatment of urethra lesion | 2.99 | 2.27 | 1.63 | 0.25 | 5.51 | 4.87 | 010
53265 |  | A | Treatment of urethra lesion | 3.13 | 2.83 | 1.67 | 0.24 | 6.19 | 5.04 | 010
53270 |  | A | Removal of urethra gland | 3.10 | 2.30 | 1.69 | 0.30 | 5.70 | 5.09 | 010
53275 |  | A | Repair of urethra defect | 4.53 | NA | 2.55 | 0.32 | NA | 7.39 | 010
53400 |  | A | Revise urethra, stage 1 | 12.78 | NA | 6.83 | 0.98 | NA | 20.58 | 090
53405 |  | A | Revise urethra, stage 2 | 14.49 | NA | 7.31 | 1.10 | NA | 22.90 | 090
53410 |  | A | Reconstruction of urethra | 16.45 | NA | 8.18 | 1.16 | NA | 25.80 | 090
53415 |  | A | Reconstruction of urethra | 19.42 | NA | 8.22 | 1.37 | NA | 29.01 | 090
53420 |  | A | Reconstruct urethra, stage 1 | 14.09 | NA | 6.54 | 0.96 | NA | 21.59 | 090
53425 |  | A | Reconstruct urethra, stage 2 | 15.99 | NA | 7.86 | 1.13 | NA | 24.99 | 090
53430 |  | A | Reconstruction of urethra | 16.35 | NA | 7.95 | 1.15 | NA | 25.45 | 090
53431 |  | A | Reconstruct urethra/bladder | 19.90 | NA | 9.43 | 1.41 | NA | 30.74 | 090
53440 |  | A | Male sling procedure | 13.63 | NA | 6.96 | 0.96 | NA | 21.55 | 090
53442 |  | A | Remove/revise male sling | 11.57 | NA | 6.10 | 0.82 | NA | 18.50 | 090
53444 |  | A | Insert tandem cuff | 13.41 | NA | 6.75 | 0.94 | NA | 21.10 | 090
53445 |  | A | Insert uro/ves nck sphincter | 14.07 | NA | 8.00 | 0.99 | NA | 23.06 | 090
53446 |  | A | Remove uro sphincter | 10.23 | NA | 5.98 | 0.72 | NA | 16.93 | 090
53447 |  | A | Remove/replace ur sphincter | 13.50 | NA | 7.35 | 0.95 | NA | 21.80 | 090
53448 |  | A | Remov/replc ur sphinctr comp | 21.16 | NA | 10.38 | 1.50 | NA | 33.04 | 090
53449 |  | A | Repair uro sphincter | 9.71 | NA | 5.49 | 0.68 | NA | 15.88 | 090
53450 |  | A | Revision of urethra | 6.14 | NA | 3.83 | 0.43 | NA | 10.40 | 090
53460 |  | A | Revision of urethra | 7.12 | NA | 4.26 | 0.50 | NA | 11.88 | 090
53500 |  | A | Urethrlys, transvag w/ scope | 12.21 | NA | 6.83 | 0.90 | NA | 19.95 | 090
53502 |  | A | Repair of urethra injury | 7.64 | NA | 4.47 | 0.62 | NA | 12.73 | 090
53505 |  | A | Repair of urethra injury | 7.64 | NA | 4.46 | 0.54 | NA | 12.63 | 090
53510 |  | A | Repair of urethra injury | 10.11 | NA | 5.77 | 0.74 | NA | 16.62 | 090
53515 |  | A | Repair of urethra injury | 13.32 | NA | 6.71 | 1.05 | NA | 21.08 | 090
53520 |  | A | Repair of urethra defect | 8.69 | NA | 5.13 | 0.61 | NA | 14.43 | 090
53600 |  | A | Dilate urethra stricture | 1.21 | 1.21 | 0.50 | 0.09 | 2.51 | 1.81 | 000
53601 |  | A | Dilate urethra stricture | 0.98 | 1.34 | 0.44 | 0.07 | 2.39 | 1.49 | 000
53605 |  | A | Dilate urethra stricture | 1.28 | NA | 0.48 | 0.09 | NA | 1.85 | 000
53620 |  | A | Dilate urethra stricture | 1.62 | 2.05 | 0.71 | 0.11 | 3.78 | 2.44 | 000
53621 |  | A | Dilate urethra stricture | 1.35 | 2.13 | 0.58 | 0.10 | 3.58 | 2.04 | 000
53660 |  | A | Dilation of urethra | 0.71 | 1.36 | 0.37 | 0.05 | 2.12 | 1.13 | 000
53661 |  | A | Dilation of urethra | 0.72 | 1.35 | 0.35 | 0.05 | 2.12 | 1.12 | 000
53665 |  | A | Dilation of urethra | 0.76 | NA | 0.28 | 0.06 | NA | 1.10 | 000
53850 |  | A | Prostatic microwave thermotx | 9.46 | 88.85 | 4.72 | 0.67 | 98.98 | 14.85 | 090
53852 |  | A | Prostatic rf thermotx | 9.89 | 84.87 | 5.22 | 0.70 | 95.46 | 15.81 | 090
53853 |  | A | Prostatic water thermother | 5.24 | 53.22 | 3.35 | 0.37 | 58.83 | 8.96 | 090
53899 |  | C | Urology surgery procedure | 0.00 | 0.00 | 0.00 | 0.00 | 0.00 | 0.00 | YYY
54000 |  | A | Slitting of prepuce | 1.54 | 2.98 | 1.12 | 0.11 | 4.63 | 2.77 | 010
54001 |  | A | Slitting of prepuce | 2.19 | 3.29 | 1.32 | 0.15 | 5.63 | 3.66 | 010
54015 |  | A | Drain penis lesion | 5.32 | NA | 2.90 | 0.38 | NA | 8.60 | 010
54050 |  | A | Destruction, penis lesion(s) | 1.24 | 1.81 | 1.15 | 0.08 | 3.13 | 2.48 | 010
54055 |  | A | Destruction, penis lesion(s) | 1.22 | 1.72 | 0.92 | 0.08 | 3.02 | 2.22 | 010
54056 |  | A | Cryosurgery, penis lesion(s) | 1.24 | 1.88 | 1.23 | 0.06 | 3.18 | 2.53 | 010
54057 |  | A | Laser surg, penis lesion(s) | 1.24 | 2.38 | 1.00 | 0.09 | 3.71 | 2.33 | 010
54060 |  | A | Excision of penis lesion(s) | 1.93 | 3.23 | 1.25 | 0.13 | 5.29 | 3.32 | 010
54065 |  | A | Destruction, penis lesion(s) | 2.42 | 2.90 | 1.43 | 0.13 | 5.45 | 3.99 | 010
54100 |  | A | Biopsy of penis | 1.90 | 3.02 | 0.99 | 0.10 | 5.02 | 2.99 | 000
54105 |  | A | Biopsy of penis | 3.50 | 4.45 | 2.18 | 0.25 | 8.20 | 5.93 | 010
54110 |  | A | Treatment of penis lesion | 10.13 | NA | 5.51 | 0.72 | NA | 16.36 | 090
54111 |  | A | Treat penis lesion, graft | 13.58 | NA | 6.75 | 0.96 | NA | 21.29 | 090
54112 |  | A | Treat penis lesion, graft | 15.87 | NA | 7.86 | 1.11 | NA | 24.84 | 090
54115 |  | A | Treatment of penis lesion | 6.15 | 4.90 | 3.98 | 0.43 | 11.48 | 10.56 | 090
54120 |  | A | Partial removal of penis | 9.98 | NA | 5.45 | 0.68 | NA | 16.11 | 090
54125 |  | A | Removal of penis | 13.54 | NA | 6.79 | 0.95 | NA | 21.28 | 090
54130 |  | A | Remove penis & nodes | 20.15 | NA | 9.51 | 1.52 | NA | 31.18 | 090
54135 |  | A | Remove penis & nodes | 26.37 | NA | 11.79 | 1.87 | NA | 40.03 | 090
54150 |  | A | Circumcision | 1.81 | 4.16 | 0.70 | 0.16 | 6.13 | 2.67 | XXX
54152 |  | A | Circumcision | 2.31 | NA | 1.36 | 0.19 | NA | 3.86 | 010
54160 |  | A | Circumcision | 2.48 | 4.20 | 1.25 | 0.19 | 6.88 | 3.92 | 010
54161 |  | A | Circumcision | 3.28 | NA | 1.83 | 0.23 | NA | 5.34 | 010
54162 |  | A | Lysis penil circumic lesion | 3.01 | 4.74 | 1.72 | 0.21 | 7.96 | 4.94 | 010
54163 |  | A | Repair of circumcision | 3.01 | NA | 2.30 | 0.21 | NA | 5.52 | 010
54164 |  | A | Frenulotomy of penis | 2.51 | NA | 2.10 | 0.18 | NA | 4.78 | 010
54200 |  | A | Treatment of penis lesion | 1.06 | 1.90 | 1.02 | 0.08 | 3.04 | 2.16 | 010
54205 |  | A | Treatment of penis lesion | 7.94 | NA | 5.26 | 0.56 | NA | 13.76 | 090
54220 |  | A | Treatment of penis lesion | 2.42 | 3.90 | 1.14 | 0.17 | 6.49 | 3.73 | 000
54230 |  | A | Prepare penis study | 1.34 | 1.21 | 0.75 | 0.09 | 2.65 | 2.18 | 000
54231 |  | A | Dynamic cavernosometry | 2.04 | 1.48 | 1.02 | 0.16 | 3.68 | 3.23 | 000
54235 |  | A | Penile injection | 1.19 | 1.09 | 0.70 | 0.08 | 2.36 | 1.97 | 000
54240 |  | A | Penis study | 1.31 | 1.12 | NA | 0.17 | 2.60 | NA | 000
54240 | 26 | A | Penis study | 1.31 | 0.47 | 0.47 | 0.11 | 1.90 | 1.90 | 000
54240 | TC | A | Penis study | 0.00 | 0.64 | NA | 0.06 | 0.70 | NA | 000
54250 |  | A | Penis study | 2.22 | 0.98 | NA | 0.02 | 3.23 | NA | 000
54250 | 26 | A | Penis study | 2.22 | 0.82 | 0.82 | 0.16 | 3.20 | 3.20 | 000
54250 | TC | A | Penis study | 0.00 | 0.17 | NA | 0.02 | 0.19 | NA | 000
54300 |  | A | Revision of penis | 10.41 | NA | 6.23 | 0.76 | NA | 17.40 | 090
54304 |  | A | Revision of penis | 12.49 | NA | 7.09 | 0.88 | NA | 20.47 | 090
54308 |  | A | Reconstruction of urethra | 11.83 | NA | 6.69 | 0.84 | NA | 19.36 | 090
54312 |  | A | Reconstruction of urethra | 13.58 | NA | 7.82 | 1.24 | NA | 22.63 | 090
54316 |  | A | Reconstruction of urethra | 16.82 | NA | 8.81 | 1.21 | NA | 26.84 | 090
54318 |  | A | Reconstruction of urethra | 11.25 | NA | 6.34 | 1.39 | NA | 18.98 | 090
54322 |  | A | Reconstruction of urethra | 13.02 | NA | 7.28 | 0.92 | NA | 21.22 | 090
54324 |  | A | Reconstruction of urethra | 16.32 | NA | 8.87 | 1.14 | NA | 26.34 | 090
54326 |  | A | Reconstruction of urethra | 15.73 | NA | 8.66 | 1.11 | NA | 25.51 | 090
54328 |  | A | Revise penis/urethra | 15.66 | NA | 8.24 | 0.98 | NA | 24.88 | 090
54332 |  | A | Revise penis/urethra | 17.08 | NA | 8.69 | 1.21 | NA | 26.98 | 090
54336 |  | A | Revise penis/urethra | 20.05 | NA | 11.00 | 2.20 | NA | 33.25 | 090
54340 |  | A | Secondary urethral surgery | 8.92 | NA | 5.40 | 0.63 | NA | 14.95 | 090
54344 |  | A | Secondary urethral surgery | 15.95 | NA | 8.70 | 1.54 | NA | 26.19 | 090
54348 |  | A | Secondary urethral surgery | 17.15 | NA | 9.18 | 1.23 | NA | 27.57 | 090
54352 |  | A | Reconstruct urethra/penis | 24.75 | NA | 12.36 | 2.24 | NA | 39.35 | 090
54360 |  | A | Penis plastic surgery | 11.93 | NA | 6.83 | 0.84 | NA | 19.60 | 090
54380 |  | A | Repair penis | 13.19 | NA | 7.19 | 0.93 | NA | 21.31 | 090
54385 |  | A | Repair penis | 15.40 | NA | 9.36 | 0.86 | NA | 25.62 | 090
54390 |  | A | Repair penis and bladder | 21.62 | NA | 10.88 | 1.54 | NA | 34.04 | 090
54400 |  | A | Insert semi-rigid prosthesis | 9.00 | NA | 5.00 | 0.64 | NA | 14.64 | 090
54401 |  | A | Insert self-contd prosthesis | 10.28 | NA | 6.69 | 0.73 | NA | 17.70 | 090
54405 |  | A | Insert multi-comp penis pros | 13.44 | NA | 6.85 | 0.95 | NA | 21.24 | 090
54406 |  | A | Remove muti-comp penis pros | 12.10 | NA | 6.33 | 0.86 | NA | 19.30 | 090
54408 |  | A | Repair multi-comp penis pros | 12.76 | NA | 6.73 | 0.90 | NA | 20.39 | 090
54410 |  | A | Remove/replace penis prosth | 15.51 | NA | 7.78 | 1.10 | NA | 24.39 | 090
54411 |  | A | Remov/replc penis pros, comp | 16.01 | NA | 8.24 | 1.13 | NA | 25.38 | 090
54415 |  | A | Remove self-contd penis pros | 8.21 | NA | 4.88 | 0.58 | NA | 13.66 | 090
54416 |  | A | Remv/repl penis contain pros | 10.87 | NA | 6.30 | 0.77 | NA | 17.94 | 090
54417 |  | A | Remv/replc penis pros, compl | 14.20 | NA | 7.28 | 1.00 | NA | 22.48 | 090
54420 |  | A | Revision of penis | 11.42 | NA | 6.21 | 0.81 | NA | 18.45 | 090
54430 |  | A | Revision of penis | 10.15 | NA | 5.85 | 0.72 | NA | 16.72 | 090
54435 |  | A | Revision of penis | 6.12 | NA | 4.09 | 0.43 | NA | 10.64 | 090
54440 |  | C | Repair of penis | 0.00 | 0.00 | 0.00 | 0.00 | 0.00 | 0.00 | 090
54450 |  | A | Preputial stretching | 1.12 | 0.99 | 0.50 | 0.08 | 2.20 | 1.70 | 000
54500 |  | A | Biopsy of testis | 1.31 | NA | 0.65 | 0.10 | NA | 2.06 | 000
54505 |  | A | Biopsy of testis | 3.46 | NA | 2.15 | 0.27 | NA | 5.88 | 010
54512 |  | A | Excise lesion testis | 8.59 | NA | 4.70 | 0.67 | NA | 13.96 | 090
54520 |  | A | Removal of testis | 5.23 | NA | 3.16 | 0.50 | NA | 8.89 | 090
54522 |  | A | Orchiectomy, partial | 9.51 | NA | 5.36 | 0.89 | NA | 15.76 | 090
54530 |  | A | Removal of testis | 8.59 | NA | 4.87 | 0.66 | NA | 14.11 | 090
54535 |  | A | Extensive testis surgery | 12.16 | NA | 6.19 | 0.95 | NA | 19.30 | 090
54550 |  | A | Exploration for testis | 7.79 | NA | 4.31 | 0.59 | NA | 12.68 | 090
54560 |  | A | Exploration for testis | 11.13 | NA | 5.74 | 0.90 | NA | 17.77 | 090
54600 |  | A | Reduce testis torsion | 7.01 | NA | 4.05 | 0.51 | NA | 11.57 | 090
54620 |  | A | Suspension of testis | 4.90 | NA | 2.78 | 0.37 | NA | 8.05 | 010
54640 |  | A | Suspension of testis | 6.90 | NA | 4.20 | 0.62 | NA | 11.72 | 090
54650 |  | A | Orchiopexy (Fowler-Stephens) | 11.45 | NA | 6.03 | 1.16 | NA | 18.64 | 090
54660 |  | A | Revision of testis | 5.11 | NA | 3.39 | 0.44 | NA | 8.94 | 090
54670 |  | A | Repair testis injury | 6.41 | NA | 3.95 | 0.47 | NA | 10.83 | 090
54680 |  | A | Relocation of testis(es) | 12.66 | NA | 6.67 | 1.16 | NA | 20.48 | 090
54690 |  | A | Laparoscopy, orchiectomy | 10.96 | NA | 5.61 | 1.02 | NA | 17.59 | 090
54692 |  | A | Laparoscopy, orchiopexy | 12.89 | NA | 6.14 | 1.30 | NA | 20.33 | 090
54699 |  | C | Laparoscope proc, testis | 0.00 | 0.00 | 0.00 | 0.00 | 0.00 | 0.00 | YYY
54700 |  | A | Drainage of scrotum | 3.43 | NA | 2.13 | 0.28 | NA | 5.84 | 010
54800 |  | A | Biopsy of epididymis | 2.33 | NA | 1.03 | 0.23 | NA | 3.60 | 000
54820 |  | A | Exploration of epididymis | 5.14 | NA | 3.32 | 0.40 | NA | 8.86 | 090
54830 |  | A | Remove epididymis lesion | 5.38 | NA | 3.45 | 0.41 | NA | 9.25 | 090
54840 |  | A | Remove epididymis lesion | 5.20 | NA | 3.19 | 0.37 | NA | 8.76 | 090
54860 |  | A | Removal of epididymis | 6.32 | NA | 3.85 | 0.45 | NA | 10.62 | 090
54861 |  | A | Removal of epididymis | 8.91 | NA | 5.03 | 0.63 | NA | 14.57 | 090
54900 |  | A | Fusion of spermatic ducts | 13.21 | NA | 6.74 | 0.93 | NA | 20.87 | 090
54901 |  | A | Fusion of spermatic ducts | 17.95 | NA | 8.13 | 1.82 | NA | 27.89 | 090
55000 |  | A | Drainage of hydrocele | 1.43 | 2.08 | 0.74 | 0.11 | 3.63 | 2.28 | 000
55040 |  | A | Removal of hydrocele | 5.36 | NA | 3.26 | 0.43 | NA | 9.05 | 090
55041 |  | A | Removal of hydroceles | 7.75 | NA | 4.52 | 0.60 | NA | 12.86 | 090
55060 |  | A | Repair of hydrocele | 5.52 | NA | 3.45 | 0.46 | NA | 9.43 | 090
55100 |  | A | Drainage of scrotum abscess | 2.13 | 3.74 | 1.72 | 0.17 | 6.04 | 4.02 | 010
55110 |  | A | Explore scrotum | 5.70 | NA | 3.58 | 0.43 | NA | 9.71 | 090
55120 |  | A | Removal of scrotum lesion | 5.09 | NA | 3.35 | 0.39 | NA | 8.83 | 090
55150 |  | A | Removal of scrotum | 7.22 | NA | 4.36 | 0.56 | NA | 12.15 | 090
55175 |  | A | Revision of scrotum | 5.24 | NA | 3.45 | 0.37 | NA | 9.06 | 090
55180 |  | A | Revision of scrotum | 10.72 | NA | 6.05 | 0.90 | NA | 17.67 | 090
55200 |  | A | Incision of sperm duct | 4.24 | 12.12 | 2.67 | 0.33 | 16.69 | 7.23 | 090
55250 |  | A | Removal of sperm duct(s) | 3.30 | 11.22 | 2.51 | 0.25 | 14.77 | 6.05 | 090
55300 |  | A | Prepare, sperm duct x-ray | 3.51 | NA | 1.53 | 0.25 | NA | 5.28 | 000
55400 |  | A | Repair of sperm duct | 8.50 | NA | 4.68 | 0.64 | NA | 13.81 | 090
55450 |  | A | Ligation of sperm duct | 4.12 | 7.06 | 2.20 | 0.29 | 11.47 | 6.61 | 010
55500 |  | A | Removal of hydrocele | 5.59 | NA | 3.35 | 0.55 | NA | 9.49 | 090
55520 |  | A | Removal of sperm cord lesion | 6.03 | NA | 3.31 | 0.75 | NA | 10.09 | 090
55530 |  | A | Revise spermatic cord veins | 5.66 | NA | 3.41 | 0.45 | NA | 9.52 | 090
55535 |  | A | Revise spermatic cord veins | 6.56 | NA | 3.89 | 0.47 | NA | 10.92 | 090
55540 |  | A | Revise hernia & sperm veins | 7.68 | NA | 3.86 | 0.94 | NA | 12.47 | 090
55550 |  | A | Laparo ligate spermatic vein | 6.57 | NA | 3.59 | 0.57 | NA | 10.74 | 090
55559 |  | C | Laparo proc, spermatic cord | 0.00 | 0.00 | 0.00 | 0.00 | 0.00 | 0.00 | YYY
55600 |  | A | Incise sperm duct pouch | 6.38 | NA | 3.89 | 0.62 | NA | 10.89 | 090
55605 |  | A | Incise sperm duct pouch | 7.97 | NA | 4.86 | 0.64 | NA | 13.46 | 090
55650 |  | A | Remove sperm duct pouch | 11.80 | NA | 6.12 | 0.92 | NA | 18.84 | 090
55680 |  | A | Remove sperm pouch lesion | 5.19 | NA | 3.39 | 0.47 | NA | 9.05 | 090
55700 |  | A | Biopsy of prostate | 1.57 | 4.22 | 0.76 | 0.11 | 5.90 | 2.45 | 000
55705 |  | A | Biopsy of prostate | 4.57 | NA | 2.60 | 0.32 | NA | 7.49 | 010
55720 |  | A | Drainage of prostate abscess | 7.65 | NA | 4.35 | 0.95 | NA | 12.94 | 090
55725 |  | A | Drainage of prostate abscess | 8.69 | NA | 5.02 | 0.70 | NA | 14.40 | 090
55801 |  | A | Removal of prostate | 17.81 | NA | 8.72 | 1.34 | NA | 27.86 | 090
55810 |  | A | Extensive prostate surgery | 22.60 | NA | 10.31 | 1.60 | NA | 34.51 | 090
55812 |  | A | Extensive prostate surgery | 27.52 | NA | 12.47 | 2.04 | NA | 42.03 | 090
55815 |  | A | Extensive prostate surgery | 30.47 | NA | 13.65 | 2.16 | NA | 46.28 | 090
55821 |  | A | Removal of prostate | 14.26 | NA | 7.15 | 1.01 | NA | 22.42 | 090
55831 |  | A | Removal of prostate | 15.63 | NA | 7.67 | 1.10 | NA | 24.40 | 090
55840 |  | A | Extensive prostate surgery | 22.71 | NA | 10.68 | 1.61 | NA | 35.00 | 090
55842 |  | A | Extensive prostate surgery | 24.39 | NA | 11.28 | 1.72 | NA | 37.39 | 090
55845 |  | A | Extensive prostate surgery | 28.57 | NA | 12.67 | 2.02 | NA | 43.25 | 090
55859 |  | A | Percut/needle insert, pros | 12.53 | NA | 6.72 | 0.89 | NA | 20.13 | 090
55860 |  | A | Surgical exposure, prostate | 14.46 | NA | 7.23 | 1.02 | NA | 22.71 | 090
55862 |  | A | Extensive prostate surgery | 18.40 | NA | 8.62 | 1.49 | NA | 28.51 | 090
55865 |  | A | Extensive prostate surgery | 22.89 | NA | 10.64 | 1.63 | NA | 35.16 | 090
55866 |  | A | Laparo radical prostatectomy | 30.75 | NA | 13.70 | 2.16 | NA | 46.62 | 090
55870 |  | A | Electroejaculation | 2.59 | 1.83 | 1.25 | 0.16 | 4.57 | 3.99 | 000
55873 |  | A | Cryoablate prostate | 19.48 | NA | 10.16 | 1.38 | NA | 31.02 | 090
55899 |  | C | Genital surgery procedure | 0.00 | 0.00 | 0.00 | 0.00 | 0.00 | 0.00 | YYY
55970 |  | N | Sex transformation, M to F | 0.00 | 0.00 | 0.00 | 0.00 | 0.00 | 0.00 | XXX
55980 |  | N | Sex transformation, F to M | 0.00 | 0.00 | 0.00 | 0.00 | 0.00 | 0.00 | XXX
56405 |  | A | I & D of vulva/perineum | 1.44 | 1.31 | 1.14 | 0.17 | 2.92 | 2.75 | 010
56420 |  | A | Drainage of gland abscess | 1.39 | 2.14 | 0.98 | 0.16 | 3.69 | 2.53 | 010
56440 |  | A | Surgery for vulva lesion | 2.85 | NA | 1.70 | 0.34 | NA | 4.88 | 010
56441 |  | A | Lysis of labial lesion(s) | 1.97 | 1.82 | 1.48 | 0.20 | 4.00 | 3.65 | 010
56501 |  | A | Destroy, vulva lesions, sim | 1.53 | 1.76 | 1.24 | 0.18 | 3.48 | 2.95 | 010
56515 |  | A | Destroy vulva lesion/s compl | 2.77 | 2.55 | 1.79 | 0.33 | 5.64 | 4.89 | 010
56605 |  | A | Biopsy of vulva/perineum | 1.10 | 1.05 | 0.45 | 0.13 | 2.28 | 1.68 | 000
56606 |  | A | Biopsy of vulva/perineum | 0.55 | 0.47 | 0.22 | 0.07 | 1.09 | 0.84 | ZZZ
56620 |  | A | Partial removal of vulva | 7.47 | NA | 4.72 | 0.90 | NA | 13.09 | 090
56625 |  | A | Complete removal of vulva | 8.41 | NA | 5.22 | 1.02 | NA | 14.64 | 090
56630 |  | A | Extensive vulva surgery | 12.36 | NA | 6.69 | 1.49 | NA | 20.55 | 090
56631 |  | A | Extensive vulva surgery | 16.21 | NA | 8.62 | 1.95 | NA | 26.78 | 090
56632 |  | A | Extensive vulva surgery | 20.30 | NA | 9.30 | 2.38 | NA | 31.98 | 090
56633 |  | A | Extensive vulva surgery | 16.48 | NA | 8.40 | 1.97 | NA | 26.86 | 090
56634 |  | A | Extensive vulva surgery | 17.89 | NA | 9.22 | 2.16 | NA | 29.26 | 090
56637 |  | A | Extensive vulva surgery | 21.98 | NA | 10.81 | 2.60 | NA | 35.39 | 090
56640 |  | A | Extensive vulva surgery | 22.18 | NA | 10.38 | 2.88 | NA | 35.44 | 090
56700 |  | A | Partial removal of hymen | 2.53 | NA | 1.84 | 0.30 | NA | 4.67 | 010
56720 |  | A | Incision of hymen | 0.68 | NA | 0.51 | 0.08 | NA | 1.27 | 000
56740 |  | A | Remove vagina gland lesion | 4.57 | NA | 2.53 | 0.56 | NA | 7.66 | 010
56800 |  | A | Repair of vagina | 3.89 | NA | 2.21 | 0.44 | NA | 6.54 | 010
56805 |  | A | Repair clitoris | 18.87 | NA | 9.45 | 2.14 | NA | 30.46 | 090
56810 |  | A | Repair of perineum | 4.13 | NA | 2.27 | 0.49 | NA | 6.89 | 010
56820 |  | A | Exam of vulva w/scope | 1.50 | 1.30 | 0.66 | 0.18 | 2.98 | 2.34 | 000
56821 |  | A | Exam/biopsy of vulva w/scope | 2.05 | 1.72 | 0.89 | 0.25 | 4.03 | 3.20 | 000
57000 |  | A | Exploration of vagina | 2.98 | NA | 1.78 | 0.31 | NA | 5.06 | 010
57010 |  | A | Drainage of pelvic abscess | 6.03 | NA | 3.81 | 0.71 | NA | 10.55 | 090
57020 |  | A | Drainage of pelvic fluid | 1.50 | 0.92 | 0.58 | 0.18 | 2.60 | 2.26 | 000
57022 |  | A | I & d vaginal hematoma, pp | 2.57 | NA | 1.49 | 0.26 | NA | 4.32 | 010
57023 |  | A | I & d vag hematoma, non-ob | 4.75 | NA | 2.57 | 0.58 | NA | 7.90 | 010
57061 |  | A | Destroy vag lesions, simple | 1.25 | 1.63 | 1.13 | 0.15 | 3.03 | 2.53 | 010
57065 |  | A | Destroy vag lesions, complex | 2.62 | 2.26 | 1.66 | 0.31 | 5.19 | 4.58 | 010
57100 |  | A | Biopsy of vagina | 1.20 | 1.06 | 0.48 | 0.14 | 2.40 | 1.82 | 000
57105 |  | A | Biopsy of vagina | 1.69 | 1.76 | 1.42 | 0.20 | 3.65 | 3.31 | 010
57106 |  | A | Remove vagina wall, partial | 6.36 | NA | 4.16 | 0.73 | NA | 11.25 | 090
57107 |  | A | Remove vagina tissue, part | 23.02 | NA | 10.42 | 2.71 | NA | 36.14 | 090
57109 |  | A | Vaginectomy partial w/nodes | 27.01 | NA | 12.16 | 3.21 | NA | 42.39 | 090
57110 |  | A | Remove vagina wall, complete | 14.30 | NA | 7.17 | 1.73 | NA | 23.20 | 090
57111 |  | A | Remove vagina tissue, compl | 27.01 | NA | 12.41 | 3.17 | NA | 42.60 | 090
57112 |  | A | Vaginectomy w/nodes, compl | 29.02 | NA | 12.99 | 3.07 | NA | 45.08 | 090
57120 |  | A | Closure of vagina | 7.41 | NA | 4.55 | 0.89 | NA | 12.85 | 090
57130 |  | A | Remove vagina lesion | 2.43 | 2.13 | 1.55 | 0.29 | 4.86 | 4.27 | 010
57135 |  | A | Remove vagina lesion | 2.68 | 2.23 | 1.66 | 0.31 | 5.21 | 4.64 | 010
57150 |  | A | Treat vagina infection | 0.55 | 1.01 | 0.21 | 0.07 | 1.64 | 0.83 | 000
57155 |  | A | Insert uteri tandems/ovoids | .27 | NA | 4.44 | 0.43 | NA | 11.15 | 090
57160 |  | A | Insert pessary/other device | 0.89 | 1.01 | 0.34 | 0.10 | 2.01 | 1.33 | 000
57170 |  | A | Fitting of diaphragm/cap | 0.91 | 1.33 | 0.32 | 0.11 | 2.35 | 1.34 | 000
57180 |  | A | Treat vaginal bleeding | 1.58 | 2.08 | 1.21 | 0.19 | 3.85 | 2.99 | 010
57200 |  | A | Repair of vagina | 3.94 | NA | 2.90 | 0.46 | NA | 7.30 | 090
57210 |  | A | Repair vagina/perineum | 5.17 | NA | 3.41 | 0.62 | NA | 9.20 | 090
57220 |  | A | Revision of urethra | 4.31 | NA | 3.10 | 0.51 | NA | 7.92 | 090
57230 |  | A | Repair of urethral lesion | 5.64 | NA | 3.54 | 0.54 | NA | 9.72 | 090
57240 |  | A | Repair bladder & vagina | 6.07 | NA | 3.93 | 0.62 | NA | 10.62 | 090
57250 |  | A | Repair rectum & vagina | 5.53 | NA | 3.55 | 0.65 | NA | 9.74 | 090
57260 |  | A | Repair of vagina | 8.28 | NA | 4.79 | 0.97 | NA | 14.04 | 090
57265 |  | A | Extensive repair of vagina | 11.34 | NA | 5.98 | 1.32 | NA | 18.64 | 090
57267 |  | A | Insert mesh/pelvic flr addon | 4.89 | NA | 1.93 | 0.64 | NA | 7.46 | ZZZ
57268 |  | A | Repair of bowel bulge | 6.76 | NA | 4.19 | 0.79 | NA | 11.74 | 090
57270 |  | A | Repair of bowel pouch | 12.11 | NA | 6.22 | 1.42 | NA | 19.75 | 090
57280 |  | A | Suspension of vagina | 15.05 | NA | 7.37 | 1.67 | NA | 24.09 | 090
57282 |  | A | Colpopexy, extraperitoneal | 6.87 | NA | 4.49 | 1.02 | NA | 12.38 | 090
57283 |  | A | Colpopexy, intraperitoneal | 10.86 | NA | 5.90 | 1.02 | NA | 17.78 | 090
57284 |  | A | Repair paravaginal defect | 12.71 | NA | 7.20 | 1.41 | NA | 21.32 | 090
57287 |  | A | Revise/remove sling repair | 10.71 | NA | 6.02 | 0.90 | NA | 17.63 | 090
57288 |  | A | Repair bladder defect | 13.03 | NA | 6.58 | 1.12 | NA | 20.73 | 090
57289 |  | A | Repair bladder & vagina | 11.58 | NA | 6.31 | 1.21 | NA | 19.10 | 090
57291 |  | A | Construction of vagina | 7.96 | NA | 4.96 | 0.93 | NA | 13.85 | 090
57292 |  | A | Construct vagina with graft | 13.10 | NA | 6.94 | 1.58 | NA | 21.61 | 090
57300 |  | A | Repair rectum-vagina fistula | 7.62 | NA | 4.27 | 0.87 | NA | 12.76 | 090
57305 |  | A | Repair rectum-vagina fistula | 13.78 | NA | 6.22 | 1.72 | NA | 21.72 | 090
57307 |  | A | Fistula repair & colostomy | 15.94 | NA | 6.93 | 2.01 | NA | 24.88 | 090
57308 |  | A | Fistula repair, transperine | 9.95 | NA | 5.08 | 1.14 | NA | 16.17 | 090
57310 |  | A | Repair urethrovaginal lesion | 6.78 | NA | 4.24 | 0.54 | NA | 11.56 | 090
57311 |  | A | Repair urethrovaginal lesion | 7.99 | NA | 4.58 | 0.65 | NA | 13.22 | 090
57320 |  | A | Repair bladder-vagina lesion | 8.02 | NA | 4.75 | 0.69 | NA | 13.46 | 090
57330 |  | A | Repair bladder-vagina lesion | 12.35 | NA | 6.33 | 1.06 | NA | 19.74 | 090
57335 |  | A | Repair vagina | 18.74 | NA | 9.27 | 1.91 | NA | 29.92 | 090
57400 |  | A | Dilation of vagina | 2.27 | NA | 1.12 | 0.26 | NA | 3.65 | 000
57410 |  | A | Pelvic examination | 1.75 | NA | 0.92 | 0.18 | NA | 2.86 | 000
57415 |  | A | Remove vaginal foreign body | 2.17 | NA | 1.46 | 0.24 | NA | 3.88 | 010
57420 |  | A | Exam of vagina w/scope | 1.60 | 1.34 | 0.69 | 0.19 | 3.13 | 2.48 | 000
57421 |  | A | Exam/biopsy of vag w/scope | 2.20 | 1.81 | 0.94 | 0.27 | 4.28 | 3.42 | 000
57425 |  | A | Laparoscopy, surg, colpopexy | 15.76 | NA | 6.86 | 1.75 | NA | 24.37 | 090
57452 |  | A | Exam of cervix w/scope | 1.50 | 1.27 | 0.80 | 0.18 | 2.95 | 2.49 | 000
57454 |  | A | Bx/curett of cervix w/scope | 2.33 | 1.61 | 1.13 | 0.28 | 4.23 | 3.75 | 000
57455 |  | A | Biopsy of cervix w/scope | 1.99 | 1.69 | 0.85 | 0.24 | 3.93 | 3.09 | 000
57456 |  | A | Endocerv curettage w/scope | 1.85 | 1.63 | 0.81 | 0.22 | 3.70 | 2.88 | 000
57460 |  | A | Bx of cervix w/scope, leep | 2.84 | 5.57 | 1.36 | 0.34 | 8.75 | 4.53 | 000
57461 |  | A | Conz of cervix w/scope, leep | 3.44 | 5.84 | 1.44 | 0.41 | 9.69 | 5.29 | 000
57500 |  | A | Biopsy of cervix | 0.97 | 2.43 | 0.63 | 0.12 | 3.52 | 1.72 | 000
57505 |  | A | Endocervical curettage | 1.14 | 1.44 | 1.09 | 0.14 | 2.72 | 2.38 | 010
57510 |  | A | Cauterization of cervix | 1.90 | 1.53 | 1.03 | 0.23 | 3.66 | 3.17 | 010
57511 |  | A | Cryocautery of cervix | 1.90 | 1.79 | 1.36 | 0.23 | 3.92 | 3.49 | 010
57513 |  | A | Laser surgery of cervix | 1.90 | 1.70 | 1.39 | 0.23 | 3.83 | 3.52 | 010
57520 |  | A | Conization of cervix | 4.04 | 3.85 | 2.83 | 0.49 | 8.38 | 7.36 | 090
57522 |  | A | Conization of cervix | 3.36 | 3.09 | 2.42 | 0.41 | 6.85 | 6.19 | 090
57530 |  | A | Removal of cervix | 4.79 | NA | 3.34 | 0.58 | NA | 8.71 | 090
57531 |  | A | Removal of cervix, radical | 28.02 | NA | 13.03 | 3.34 | NA | 44.39 | 090
57540 |  | A | Removal of residual cervix | 12.22 | NA | 6.16 | 1.49 | NA | 19.88 | 090
57545 |  | A | Remove cervix/repair pelvis | 13.04 | NA | 6.60 | 1.52 | NA | 21.15 | 090
57550 |  | A | Removal of residual cervix | 5.53 | NA | 3.79 | 0.67 | NA | 9.99 | 090
57555 |  | A | Remove cervix/repair vagina | 8.96 | NA | 5.03 | 1.09 | NA | 15.08 | 090
57556 |  | A | Remove cervix, repair bowel | 8.38 | NA | 4.85 | 0.92 | NA | 14.15 | 090
57700 |  | A | Revision of cervix | 3.55 | NA | 3.14 | 0.41 | NA | 7.10 | 090
57720 |  | A | Revision of cervix | 4.13 | NA | 3.09 | 0.49 | NA | 7.71 | 090
57800 |  | A | Dilation of cervical canal | 0.77 | 0.75 | 0.47 | 0.09 | 1.62 | 1.33 | 000
57820 |  | A | D & c of residual cervix | 1.67 | 1.46 | 1.13 | 0.20 | 3.33 | 3.00 | 010
58100 |  | A | Biopsy of uterus lining | 1.53 | 1.30 | 0.71 | 0.18 | 3.01 | 2.42 | 000
58120 |  | A | Dilation and curettage | 3.28 | 2.27 | 1.85 | 0.39 | 5.94 | 5.51 | 010
58140 |  | A | Myomectomy abdom method | 14.61 | NA | 6.99 | 1.81 | NA | 23.41 | 090
58145 |  | A | Myomectomy vag method | 8.05 | NA | 4.74 | 0.97 | NA | 13.75 | 090
58146 |  | A | Myomectomy abdom complex | 19.01 | NA | 8.83 | 2.32 | NA | 30.16 | 090
58150 |  | A | Total hysterectomy | 15.25 | NA | 7.36 | 1.84 | NA | 24.45 | 090
58152 |  | A | Total hysterectomy | 20.61 | NA | 9.68 | 2.47 | NA | 32.76 | 090
58180 |  | A | Partial hysterectomy | 15.30 | NA | 7.32 | 1.64 | NA | 24.27 | 090
58200 |  | A | Extensive hysterectomy | 21.60 | NA | 9.79 | 2.54 | NA | 33.93 | 090
58210 |  | A | Extensive hysterectomy | 28.87 | NA | 12.91 | 3.37 | NA | 45.14 | 090
58240 |  | A | Removal of pelvis contents | 38.41 | NA | 17.43 | 4.22 | NA | 60.06 | 090
58260 |  | A | Vaginal hysterectomy | 12.99 | NA | 6.61 | 1.57 | NA | 21.16 | 090
58262 |  | A | Vag hyst including t/o | 14.78 | NA | 7.28 | 1.79 | NA | 23.85 | 090
58263 |  | A | Vag hyst w/t/o & vag repair | 16.07 | NA | 7.77 | 1.94 | NA | 25.78 | 090
58267 |  | A | Vag hyst w/urinary repair | 17.04 | NA | 8.25 | 2.06 | NA | 27.35 | 090
58270 |  | A | Vag hyst w/enterocele repair | 14.27 | NA | 6.96 | 1.73 | NA | 22.96 | 090
58275 |  | A | Hysterectomy/revise vagina | 15.77 | NA | 7.66 | 1.91 | NA | 25.34 | 090
58280 |  | A | Hysterectomy/revise vagina | 17.01 | NA | 8.15 | 2.06 | NA | 27.23 | 090
58285 |  | A | Extensive hysterectomy | 22.27 | NA | 9.74 | 2.70 | NA | 34.72 | 090
58290 |  | A | Vag hyst complex | 19.01 | NA | 8.96 | 2.29 | NA | 30.26 | 090
58291 |  | A | Vag hyst incl t/o, complex | 20.80 | NA | 9.69 | 2.52 | NA | 33.01 | 090
58292 |  | A | Vag hyst t/o & repair, compl | 22.09 | NA | 10.16 | 2.67 | NA | 34.93 | 090
58293 |  | A | Vag hyst w/uro repair, compl | 23.08 | NA | 10.44 | 2.78 | NA | 36.29 | 090
58294 |  | A | Vag hyst w/enterocele, compl | 20.29 | NA | 9.37 | 2.39 | NA | 32.05 | 090
58300 |  | N | Insert intrauterine device | 1.01 | 1.33 | 0.38 | 0.12 | 2.46 | 1.51 | XXX
58301 |  | A | Remove intrauterine device | 1.27 | 1.28 | 0.47 | 0.15 | 2.70 | 1.89 | 000
58321 |  | A | Artificial insemination | 0.92 | 1.12 | 0.36 | 0.10 | 2.14 | 1.38 | 000
58322 |  | A | Artificial insemination | 1.10 | 1.18 | 0.41 | 0.13 | 2.41 | 1.64 | 000
58323 |  | A | Sperm washing | 0.23 | 0.47 | 0.09 | 0.03 | 0.73 | 0.35 | 000
58340 |  | A | Catheter for hysterography | 0.88 | 3.02 | 0.68 | 0.09 | 3.99 | 1.65 | 000
58345 |  | A | Reopen fallopian tube | 4.66 | NA | 2.48 | 0.41 | NA | 7.55 | 010
58346 |  | A | Insert heyman uteri capsule | 6.75 | NA | 3.93 | 0.56 | NA | 11.24 | 090
58350 |  | A | Reopen fallopian tube | 1.01 | 1.50 | 0.92 | 0.12 | 2.64 | 2.05 | 010
58353 |  | A | Endometr ablate, thermal | 3.56 | 33.29 | 2.02 | 0.43 | 37.28 | 6.01 | 010
58356 |  | A | Endometrial cryoablation | 6.37 | 6.85 | 2.59 | 0.82 | 14.05 | 9.78 | 010
58400 |  | A | Suspension of uterus | 6.36 | NA | 3.91 | 0.75 | NA | 11.03 | 090
58410 |  | A | Suspension of uterus | 12.74 | NA | 6.33 | 1.45 | NA | 20.51 | 090
58520 |  | A | Repair of ruptured uterus | 11.92 | NA | 5.92 | 1.47 | NA | 19.31 | 090
58540 |  | A | Revision of uterus | 14.65 | NA | 6.85 | 1.78 | NA | 23.28 | 090
58545 |  | A | Laparoscopic myomectomy | 14.61 | NA | 7.06 | 1.77 | NA | 23.44 | 090
58546 |  | A | Laparo-myomectomy, complex | 19.01 | NA | 8.75 | 2.30 | NA | 30.06 | 090
58550 |  | A | Laparo-asst vag hysterectomy | 14.20 | NA | 7.18 | 1.72 | NA | 23.10 | 090
58552 |  | A | Laparo-vag hyst incl t/o | 16.01 | NA | 7.88 | 1.72 | NA | 25.62 | 090
58553 |  | A | Laparo-vag hyst, complex | 19.01 | NA | 8.78 | 2.30 | NA | 30.09 | 090
58554 |  | A | Laparo-vag hyst w/t/o, compl | 22.01 | NA | 10.24 | 2.27 | NA | 34.52 | 090
58555 |  | A | Hysteroscopy, dx, sep proc | 3.34 | 2.16 | 1.52 | 0.40 | 5.90 | 5.26 | 000
58558 |  | A | Hysteroscopy, biopsy | 4.75 | NA | 2.13 | 0.57 | NA | 7.45 | 000
58559 |  | A | Hysteroscopy, lysis | 6.17 | NA | 2.68 | 0.74 | NA | 9.60 | 000
58560 |  | A | Hysteroscopy, resect septum | 7.00 | NA | 3.02 | 0.84 | NA | 10.86 | 000
58561 |  | A | Hysteroscopy, remove myoma | 10.01 | NA | 4.19 | 1.21 | NA | 15.41 | 000
58562 |  | A | Hysteroscopy, remove fb | 5.21 | NA | 2.30 | 0.63 | NA | 8.14 | 000
58563 |  | A | Hysteroscopy, ablation | 6.17 | 52.70 | 2.70 | 0.74 | 59.62 | 9.61 | 000
58565 |  | A | Hysteroscopy, sterilization | 7.03 | 46.78 | 3.88 | 1.19 | 55.01 | 12.11 | 090
58578 |  | C | Laparo proc, uterus | 0.00 | 0.00 | 0.00 | 0.00 | 0.00 | 0.00 | YYY
58579 |  | C | Hysteroscope procedure | 0.00 | 0.00 | 0.00 | 0.00 | 0.00 | 0.00 | YYY
58600 |  | A | Division of fallopian tube | 5.60 | NA | 3.29 | 0.66 | NA | 9.55 | 090
58605 |  | A | Division of fallopian tube | 5.00 | NA | 3.06 | 0.59 | NA | 8.65 | 090
58611 |  | A | Ligate oviduct(s) add-on | 1.45 | NA | 0.56 | 0.18 | NA | 2.19 | ZZZ
58615 |  | A | Occlude fallopian tube(s) | 3.90 | NA | 2.62 | 0.47 | NA | 6.98 | 010
58660 |  | A | Laparoscopy, lysis | 11.29 | NA | 5.17 | 1.40 | NA | 17.87 | 090
58661 |  | A | Laparoscopy, remove adnexa | 11.05 | NA | 5.02 | 1.34 | NA | 17.41 | 010
58662 |  | A | Laparoscopy, excise lesions | 11.79 | NA | 5.68 | 1.43 | NA | 18.90 | 090
58670 |  | A | Laparoscopy, tubal cautery | 5.60 | NA | 3.23 | 0.67 | NA | 9.50 | 090
58671 |  | A | Laparoscopy, tubal block | 5.60 | NA | 3.23 | 0.68 | NA | 9.51 | 090
58672 |  | A | Laparoscopy, fimbrioplasty | 12.89 | NA | 6.06 | 1.60 | NA | 20.55 | 090
58673 |  | A | Laparoscopy, salpingostomy | 13.75 | NA | 6.45 | 1.69 | NA | 21.88 | 090
58679 |  | C | Laparo proc, oviduct-ovary | 0.00 | 0.00 | 0.00 | 0.00 | 0.00 | 0.00 | YYY
58700 |  | A | Removal of fallopian tube | 12.05 | NA | 5.91 | 1.51 | NA | 19.48 | 090
58720 |  | A | Removal of ovary/tube(s) | 11.36 | NA | 5.69 | 1.39 | NA | 18.44 | 090
58740 |  | A | Revise fallopian tube(s) | 14.01 | NA | 7.03 | 1.71 | NA | 22.74 | 090
58750 |  | A | Repair oviduct | 14.85 | NA | 7.22 | 1.84 | NA | 23.91 | 090
58752 |  | A | Revise ovarian tube(s) | 14.85 | NA | 6.79 | 1.80 | NA | 23.44 | 090
58760 |  | A | Remove tubal obstruction | 13.14 | NA | 6.62 | 1.79 | NA | 21.54 | 090
58770 |  | A | Create new tubal opening | 13.98 | NA | 6.78 | 1.73 | NA | 22.49 | 090
58800 |  | A | Drainage of ovarian cyst(s) | 4.14 | 3.56 | 2.93 | 0.43 | 8.13 | 7.50 | 090
58805 |  | A | Drainage of ovarian cyst(s) | 5.88 | NA | 3.49 | 0.69 | NA | 10.06 | 090
58820 |  | A | Drain ovary abscess, open | 4.22 | NA | 3.35 | 0.52 | NA | 8.09 | 090
58822 |  | A | Drain ovary abscess, percut | 10.13 | NA | 5.19 | 1.16 | NA | 16.48 | 090
58823 |  | A | Drain pelvic abscess, percut | 3.38 | 21.63 | 1.16 | 0.24 | 25.24 | 4.77 | 000
58825 |  | A | Transposition, ovary(s) | 10.98 | NA | 5.69 | 1.32 | NA | 17.99 | 090
58900 |  | A | Biopsy of ovary(s) | 5.99 | NA | 3.57 | 0.69 | NA | 10.25 | 090
58920 |  | A | Partial removal of ovary(s) | 11.36 | NA | 5.49 | 1.43 | NA | 18.28 | 090
58925 |  | A | Removal of ovarian cyst(s) | 11.36 | NA | 5.62 | 1.41 | NA | 18.39 | 090
58940 |  | A | Removal of ovary(s) | 7.29 | NA | 4.08 | 0.91 | NA | 12.29 | 090
58943 |  | A | Removal of ovary(s) | 18.44 | NA | 8.48 | 2.22 | NA | 29.13 | 090
58950 |  | A | Resect ovarian malignancy | 16.93 | NA | 8.24 | 2.04 | NA | 27.22 | 090
58951 |  | A | Resect ovarian malignancy | 22.39 | NA | 10.22 | 2.63 | NA | 35.24 | 090
58952 |  | A | Resect ovarian malignancy | 25.02 | NA | 11.50 | 3.02 | NA | 39.54 | 090
58953 |  | A | Tah, rad dissect for debulk | 32.01 | NA | 14.24 | 3.83 | NA | 50.08 | 090
58954 |  | A | Tah rad debulk/lymph remove | 35.02 | NA | 15.44 | 4.17 | NA | 54.63 | 090
58956 |  | A | Bso, omentectomy w/tah | 20.82 | NA | 10.08 | 4.00 | NA | 34.90 | 090
58960 |  | A | Exploration of abdomen | 14.66 | NA | 7.21 | 1.79 | NA | 23.66 | 090
58970 |  | A | Retrieval of oocyte | 3.53 | 2.27 | 1.46 | 0.43 | 6.23 | 5.42 | 000
58974 |  | C | Transfer of embryo | 0.00 | 0.00 | 0.00 | 0.00 | 0.00 | 0.00 | 000
58976 |  | A | Transfer of embryo | 3.83 | 2.63 | 1.79 | 0.47 | 6.93 | 6.09 | 000
58999 |  | C | Genital surgery procedure | 0.00 | 0.00 | 0.00 | 0.00 | 0.00 | 0.00 | YYY
59000 |  | A | Amniocentesis, diagnostic | 1.30 | 2.01 | 0.66 | 0.31 | 3.63 | 2.27 | 000
59001 |  | A | Amniocentesis, therapeutic | 3.01 | NA | 1.39 | 0.71 | NA | 5.10 | 000
59012 |  | A | Fetal cord puncture,prenatal | 3.45 | NA | 1.51 | 0.82 | NA | 5.77 | 000
59015 |  | A | Chorion biopsy | 2.20 | 1.54 | 1.02 | 0.52 | 4.26 | 3.75 | 000
59020 |  | A | Fetal contract stress test | 0.66 | 0.83 | NA | 0.26 | 1.76 | NA | 000
59020 | 26 | A | Fetal contract stress test | 0.66 | 0.26 | 0.26 | 0.16 | 1.08 | 1.08 | 000
59020 | TC | A | Fetal contract stress test | 0.00 | 0.58 | NA | 0.10 | 0.68 | NA | 000
59025 |  | A | Fetal non-stress test | 0.53 | 0.48 | NA | 0.15 | 1.16 | NA | 000
59025 | 26 | A | Fetal non-stress test | 0.53 | 0.21 | 0.21 | 0.13 | 0.87 | 0.87 | 000
59025 | TC | A | Fetal non-stress test | 0.00 | 0.27 | NA | 0.02 | 0.29 | NA | 000
59030 |  | A | Fetal scalp blood sample | 1.99 | NA | 0.75 | 0.47 | NA | 3.22 | 000
59050 |  | A | Fetal monitor w/report | 0.89 | NA | 0.34 | 0.21 | NA | 1.44 | XXX
59051 |  | A | Fetal monitor/interpret only | 0.74 | NA | 0.28 | 0.17 | NA | 1.19 | XXX
59070 |  | A | Transabdom amnioinfus w/us | 5.25 | 5.16 | 2.29 | 0.28 | 10.69 | 7.82 | 000
59072 |  | A | Umbilical cord occlud w/us | 9.01 | NA | 3.56 | 0.16 | NA | 12.73 | 000
59074 |  | A | Fetal fluid drainage w/us | 5.25 | 4.51 | 2.29 | 0.28 | 10.04 | 7.82 | 000
59076 |  | A | Fetal shunt placement, w/us | 9.01 | NA | 3.56 | 0.16 | NA | 12.73 | 000
59100 |  | A | Remove uterus lesion | 12.35 | NA | 6.36 | 2.94 | NA | 21.65 | 090
59120 |  | A | Treat ectopic pregnancy | 11.49 | NA | 6.14 | 2.72 | NA | 20.35 | 090
59121 |  | A | Treat ectopic pregnancy | 11.67 | NA | 6.21 | 2.78 | NA | 20.67 | 090
59130 |  | A | Treat ectopic pregnancy | 14.23 | NA | 4.59 | 3.38 | NA | 22.20 | 090
59135 |  | A | Treat ectopic pregnancy | 13.89 | NA | 7.09 | 3.30 | NA | 24.28 | 090
59136 |  | A | Treat ectopic pregnancy | 13.19 | NA | 6.48 | 3.13 | NA | 22.80 | 090
59140 |  | A | Treat ectopic pregnancy | 5.46 | NA | 2.49 | 1.29 | NA | 9.24 | 090
59150 |  | A | Treat ectopic pregnancy | 11.67 | NA | 5.90 | 2.78 | NA | 20.35 | 090
59151 |  | A | Treat ectopic pregnancy | 11.49 | NA | 5.95 | 2.73 | NA | 20.17 | 090
59160 |  | A | D & c after delivery | 2.72 | 3.09 | 1.99 | 0.64 | 6.44 | 5.35 | 010
59200 |  | A | Insert cervical dilator | 0.79 | 1.15 | 0.30 | 0.19 | 2.13 | 1.28 | 000
59300 |  | A | Episiotomy or vaginal repair | 2.41 | 2.34 | 1.02 | 0.57 | 5.33 | 4.01 | 000
59320 |  | A | Revision of cervix | 2.48 | NA | 1.22 | 0.59 | NA | 4.30 | 000
59325 |  | A | Revision of cervix | 4.07 | NA | 1.86 | 0.88 | NA | 6.80 | 000
59350 |  | A | Repair of uterus | 4.95 | NA | 1.84 | 1.17 | NA | 7.96 | 000
59400 |  | A | Obstetrical care | 23.08 | NA | 15.13 | 5.48 | NA | 43.68 | MMM
59409 |  | A | Obstetrical care | 13.51 | NA | 5.17 | 3.21 | NA | 21.89 | MMM
59410 |  | A | Obstetrical care | 14.79 | NA | 6.16 | 3.51 | NA | 24.46 | MMM
59412 |  | A | Antepartum manipulation | 1.71 | NA | 0.80 | 0.40 | NA | 2.91 | MMM
59414 |  | A | Deliver placenta | 1.61 | NA | 0.62 | 0.38 | NA | 2.62 | MMM
59425 |  | A | Antepartum care only | 4.81 | 4.16 | 1.80 | 1.14 | 10.11 | 7.75 | MMM
59426 |  | A | Antepartum care only | 8.29 | 7.48 | 3.14 | 1.97 | 17.74 | 13.40 | MMM
59430 |  | A | Care after delivery | 2.13 | 1.21 | 0.91 | 0.50 | 3.84 | 3.55 | MMM
59510 |  | A | Cesarean delivery | 26.23 | NA | 17.03 | 6.23 | NA | 49.50 | MMM
59514 |  | A | Cesarean delivery only | 15.98 | NA | 6.06 | 3.79 | NA | 25.83 | MMM
59515 |  | A | Cesarean delivery | 17.37 | NA | 7.67 | 4.12 | NA | 29.16 | MMM
59525 |  | A | Remove uterus after cesarean | 8.55 | NA | 3.22 | 1.94 | NA | 13.71 | ZZZ
59610 |  | A | Vbac delivery | 24.63 | NA | 15.63 | 5.85 | NA | 46.11 | MMM
59612 |  | A | Vbac delivery only | 15.07 | NA | 5.90 | 3.58 | NA | 24.55 | MMM
59614 |  | A | Vbac care after delivery | 16.35 | NA | 6.77 | 3.88 | NA | 27.00 | MMM
59618 |  | A | Attempted vbac delivery | 27.80 | NA | 17.88 | 6.59 | NA | 52.26 | MMM
59620 |  | A | Attempted vbac delivery only | 17.54 | NA | 6.59 | 4.16 | NA | 28.28 | MMM
59622 |  | A | Attempted vbac after care | 18.94 | NA | 8.59 | 4.49 | NA | 32.02 | MMM
59812 |  | A | Treatment of miscarriage | 4.01 | NA | 2.50 | 0.95 | NA | 7.46 | 090
59820 |  | A | Care of miscarriage | 4.01 | 4.34 | 3.53 | 0.95 | 9.30 | 8.49 | 090
59821 |  | A | Treatment of miscarriage | 4.47 | 4.20 | 3.36 | 1.06 | 9.72 | 8.89 | 090
59830 |  | A | Treat uterus infection | 6.11 | NA | 3.91 | 1.44 | NA | 11.46 | 090
59840 |  | R | Abortion | 3.02 | NA | 2.09 | 0.71 | NA | 5.81 | 010
59841 |  | R | Abortion | 5.24 | NA | 2.93 | 1.24 | NA | 9.41 | 010
59850 |  | R | Abortion | 5.91 | NA | 3.22 | 1.28 | NA | 10.41 | 090
59851 |  | R | Abortion | 5.93 | NA | 3.70 | 1.28 | NA | 10.91 | 090
59852 |  | R | Abortion | 8.25 | NA | 4.94 | 1.80 | NA | 14.99 | 090
59855 |  | R | Abortion | 6.12 | NA | 3.48 | 1.45 | NA | 11.05 | 090
59856 |  | R | Abortion | 7.48 | NA | 4.00 | 1.78 | NA | 13.26 | 090
59857 |  | R | Abortion | 9.30 | NA | 4.63 | 2.01 | NA | 15.94 | 090
59866 |  | R | Abortion (mpr) | 4.00 | NA | 1.86 | 0.87 | NA | 6.73 | 000
59870 |  | A | Evacuate mole of uterus | 6.01 | NA | 4.43 | 1.42 | NA | 11.87 | 090
59871 |  | A | Remove cerclage suture | 2.13 | NA | 1.11 | 0.50 | NA | 3.75 | 000
59897 |  | C | Fetal invas px w/us | 0.00 | 0.00 | 0.00 | 0.00 | 0.00 | 0.00 | YYY
59898 |  | C | Laparo proc, ob care/deliver | 0.00 | 0.00 | 0.00 | 0.00 | 0.00 | 0.00 | YYY
59899 |  | C | Maternity care procedure | 0.00 | 0.00 | 0.00 | 0.00 | 0.00 | 0.00 | YYY
60000 |  | A | Drain thyroid/tongue cyst | 1.76 | 1.94 | 1.73 | 0.15 | 3.85 | 3.64 | 010
60001 |  | A | Aspirate/inject thyriod cyst | 0.97 | 1.57 | 0.33 | 0.07 | 2.61 | 1.38 | 000
60100 |  | A | Biopsy of thyroid | 1.56 | 1.38 | 0.55 | 0.10 | 3.05 | 2.21 | 000
60200 |  | A | Remove thyroid lesion | 9.56 | NA | 5.87 | 1.01 | NA | 16.44 | 090
60210 |  | A | Partial thyroid excision | 10.88 | NA | 5.53 | 1.23 | NA | 17.65 | 090
60212 |  | A | Partial thyroid excision | 16.04 | NA | 7.54 | 1.94 | NA | 25.52 | 090
60220 |  | A | Partial removal of thyroid | 11.90 | NA | 6.03 | 1.32 | NA | 19.25 | 090
60225 |  | A | Partial removal of thyroid | 14.20 | NA | 7.28 | 1.64 | NA | 23.12 | 090
60240 |  | A | Removal of thyroid | 16.07 | NA | 7.41 | 1.85 | NA | 25.33 | 090
60252 |  | A | Removal of thyroid | 20.58 | NA | 9.87 | 2.29 | NA | 32.75 | 090
60254 |  | A | Extensive thyroid surgery | 27.00 | NA | 13.74 | 2.60 | NA | 43.35 | 090
60260 |  | A | Repeat thyroid surgery | 17.47 | NA | 8.44 | 1.93 | NA | 27.84 | 090
60270 |  | A | Removal of thyroid | 20.28 | NA | 10.12 | 2.32 | NA | 32.72 | 090
60271 |  | A | Removal of thyroid | 16.83 | NA | 8.36 | 1.74 | NA | 26.93 | 090
60280 |  | A | Remove thyroid duct lesion | 5.87 | NA | 4.59 | 0.54 | NA | 11.00 | 090
60281 |  | A | Remove thyroid duct lesion | 8.54 | NA | 5.72 | 0.73 | NA | 14.98 | 090
60500 |  | A | Explore parathyroid glands | 16.24 | NA | 7.28 | 2.00 | NA | 25.52 | 090
60502 |  | A | Re-explore parathyroids | 20.36 | NA | 9.19 | 2.53 | NA | 32.08 | 090
60505 |  | A | Explore parathyroid glands | 21.50 | NA | 10.63 | 2.64 | NA | 34.77 | 090
60512 |  | A | Autotransplant parathyroid | 4.45 | NA | 1.58 | 0.53 | NA | 6.55 | ZZZ
60520 |  | A | Removal of thymus gland | 16.81 | NA | 8.03 | 2.19 | NA | 27.04 | 090
60521 |  | A | Removal of thymus gland | 18.88 | NA | 9.28 | 2.81 | NA | 30.97 | 090
60522 |  | A | Removal of thymus gland | 23.11 | NA | 11.00 | 3.26 | NA | 37.37 | 090
60540 |  | A | Explore adrenal gland | 17.03 | NA | 7.94 | 1.74 | NA | 26.71 | 090
60545 |  | A | Explore adrenal gland | 19.89 | NA | 8.85 | 2.07 | NA | 30.81 | 090
60600 |  | A | Remove carotid body lesion | 17.94 | NA | 10.62 | 2.19 | NA | 30.75 | 090
60605 |  | A | Remove carotid body lesion | 20.25 | NA | 11.93 | 2.49 | NA | 34.67 | 090
60650 |  | A | Laparoscopy adrenalectomy | 20.01 | NA | 8.14 | 2.28 | NA | 30.43 | 090
60659 |  | C | Laparo proc, endocrine | 0.00 | 0.00 | 0.00 | 0.00 | 0.00 | 0.00 | YYY
60699 |  | C | Endocrine surgery procedure | 0.00 | 0.00 | 0.00 | 0.00 | 0.00 | 0.00 | YYY
61000 |  | A | Remove cranial cavity fluid | 1.58 | 0.00 | 0.98 | 0.13 | 1.71 | 2.70 | 000
61001 |  | A | Remove cranial cavity fluid | 1.49 | 0.00 | 1.03 | 0.16 | 1.65 | 2.68 | 000
61020 |  | A | Remove brain cavity fluid | 1.51 | 0.00 | 1.33 | 0.34 | 1.85 | 3.18 | 000
61026 |  | A | Injection into brain canal | 1.69 | 0.00 | 1.38 | 0.33 | 2.02 | 3.40 | 000
61050 |  | A | Remove brain canal fluid | 1.51 | NA | 1.31 | 0.11 | NA | 2.94 | 000
61055 |  | A | Injection into brain canal | 2.10 | NA | 1.48 | 0.17 | NA | 3.75 | 000
61070 |  | A | Brain canal shunt procedure | 0.89 | 0.00 | 1.02 | 0.17 | 1.06 | 2.08 | 000
61105 |  | A | Twist drill hole | 5.14 | NA | 3.87 | 1.32 | NA | 10.33 | 090
61107 |  | A | Drill skull for implantation | 5.00 | NA | 2.46 | 1.29 | NA | 8.75 | 000
61108 |  | A | Drill skull for drainage | 10.19 | NA | 7.02 | 2.63 | NA | 19.84 | 090
61120 |  | A | Burr hole for puncture | 8.77 | NA | 5.88 | 2.09 | NA | 16.74 | 090
61140 |  | A | Pierce skull for biopsy | 15.91 | NA | 9.69 | 4.11 | NA | 29.71 | 090
61150 |  | A | Pierce skull for drainage | 17.58 | NA | 10.16 | 4.31 | NA | 32.05 | 090
61151 |  | A | Pierce skull for drainage | 12.42 | NA | 7.65 | 3.00 | NA | 23.08 | 090
61154 |  | A | Pierce skull & remove clot | 15.00 | NA | 9.30 | 4.20 | NA | 28.50 | 090
61156 |  | A | Pierce skull for drainage | 16.33 | NA | 9.63 | 4.22 | NA | 30.18 | 090
61210 |  | A | Pierce skull, implant device | 5.84 | NA | 2.84 | 1.50 | NA | 10.18 | 000
61215 |  | A | Insert brain-fluid device | 4.89 | NA | 3.95 | 1.26 | NA | 10.10 | 090
61250 |  | A | Pierce skull & explore | 10.42 | NA | 6.72 | 2.76 | NA | 19.90 | 090
61253 |  | A | Pierce skull & explore | 12.36 | NA | 7.56 | 2.61 | NA | 22.54 | 090
61304 |  | A | Open skull for exploration | 21.97 | NA | 12.56 | 5.61 | NA | 40.14 | 090
61305 |  | A | Open skull for exploration | 26.62 | NA | 14.98 | 6.07 | NA | 47.67 | 090
61312 |  | A | Open skull for drainage | 24.58 | NA | 14.74 | 6.34 | NA | 45.66 | 090
61313 |  | A | Open skull for drainage | 24.94 | NA | 14.50 | 6.43 | NA | 45.87 | 090
61314 |  | A | Open skull for drainage | 24.24 | NA | 12.75 | 6.26 | NA | 43.25 | 090
61315 |  | A | Open skull for drainage | 27.70 | NA | 15.67 | 7.14 | NA | 50.51 | 090
61316 |  | A | Implt cran bone flap to abdo | 1.39 | NA | 0.59 | 0.35 | NA | 2.33 | ZZZ
61320 |  | A | Open skull for drainage | 25.63 | NA | 14.43 | 6.60 | NA | 46.66 | 090
61321 |  | A | Open skull for drainage | 28.52 | NA | 15.77 | 7.12 | NA | 51.41 | 090
61322 |  | A | Decompressive craniotomy | 29.52 | NA | 15.34 | 7.61 | NA | 52.46 | 090
61323 |  | A | Decompressive lobectomy | 31.01 | NA | 15.73 | 8.01 | NA | 54.76 | 090
61330 |  | A | Decompress eye socket | 23.34 | NA | 13.39 | 2.31 | NA | 39.03 | 090
61332 |  | A | Explore/biopsy eye socket | 27.29 | NA | 15.22 | 4.82 | NA | 47.33 | 090
61333 |  | A | Explore orbit/remove lesion | 27.97 | NA | 15.20 | 3.91 | NA | 47.07 | 090
61334 |  | A | Explore orbit/remove object | 18.28 | NA | 10.39 | 1.74 | NA | 30.41 | 090
61340 |  | A | Subtemporal decompression | 18.67 | NA | 10.90 | 4.83 | NA | 34.40 | 090
61343 |  | A | Incise skull (press relief) | 29.79 | NA | 16.44 | 7.62 | NA | 53.84 | 090
61345 |  | A | Relieve cranial pressure | 27.21 | NA | 15.07 | 7.02 | NA | 49.30 | 090
61440 |  | A | Incise skull for surgery | 26.64 | NA | 13.94 | 6.88 | NA | 47.46 | 090
61450 |  | A | Incise skull for surgery | 25.96 | NA | 13.98 | 5.77 | NA | 45.71 | 090
61458 |  | A | Incise skull for brain wound | 27.30 | NA | 15.18 | 7.01 | NA | 49.49 | 090
61460 |  | A | Incise skull for surgery | 28.41 | NA | 16.01 | 6.02 | NA | 50.43 | 090
61470 |  | A | Incise skull for surgery | 26.07 | NA | 13.55 | 5.88 | NA | 45.51 | 090
61480 |  | A | Incise skull for surgery | 26.50 | NA | 14.94 | 6.71 | NA | 48.16 | 090
61490 |  | A | Incise skull for surgery | 25.67 | NA | 14.02 | 6.90 | NA | 46.59 | 090
61500 |  | A | Removal of skull lesion | 17.93 | NA | 10.58 | 4.10 | NA | 32.60 | 090
61501 |  | A | Remove infected skull bone | 14.85 | NA | 9.06 | 3.21 | NA | 27.12 | 090
61510 |  | A | Removal of brain lesion | 28.47 | NA | 16.35 | 7.33 | NA | 52.15 | 090
61512 |  | A | Remove brain lining lesion | 35.11 | NA | 19.25 | 9.05 | NA | 63.41 | 090
61514 |  | A | Removal of brain abscess | 25.27 | NA | 14.13 | 6.52 | NA | 45.92 | 090
61516 |  | A | Removal of brain lesion | 24.62 | NA | 13.97 | 6.33 | NA | 44.91 | 090
61517 |  | A | Implt brain chemotx add-on | 1.38 | NA | 0.62 | 0.35 | NA | 2.36 | ZZZ
61518 |  | A | Removal of brain lesion | 37.33 | NA | 20.64 | 9.62 | NA | 67.60 | 090
61519 |  | A | Remove brain lining lesion | 41.41 | NA | 22.14 | 10.60 | NA | 74.15 | 090
61520 |  | A | Removal of brain lesion | 54.87 | NA | 29.56 | 11.18 | NA | 95.61 | 090
61521 |  | A | Removal of brain lesion | 44.50 | NA | 23.66 | 11.36 | NA | 79.52 | 090
61522 |  | A | Removal of brain abscess | 29.47 | NA | 16.06 | 7.60 | NA | 53.13 | 090
61524 |  | A | Removal of brain lesion | 27.88 | NA | 15.32 | 7.14 | NA | 50.34 | 090
61526 |  | A | Removal of brain lesion | 52.19 | NA | 28.57 | 7.05 | NA | 87.82 | 090
61530 |  | A | Removal of brain lesion | 43.88 | NA | 24.30 | 6.13 | NA | 74.31 | 090
61531 |  | A | Implant brain electrodes | 14.64 | NA | 8.96 | 3.78 | NA | 27.37 | 090
61533 |  | A | Implant brain electrodes | 19.72 | NA | 11.30 | 5.10 | NA | 36.12 | 090
61534 |  | A | Removal of brain lesion | 20.98 | NA | 11.83 | 5.42 | NA | 38.24 | 090
61535 |  | A | Remove brain electrodes | 11.63 | NA | 7.29 | 3.01 | NA | 21.93 | 090
61536 |  | A | Removal of brain lesion | 35.54 | NA | 19.34 | 9.18 | NA | 64.06 | 090
61537 |  | A | Removal of brain tissue | 25.01 | NA | 14.46 | 6.92 | NA | 46.39 | 090
61538 |  | A | Removal of brain tissue | 26.82 | NA | 14.99 | 6.92 | NA | 48.73 | 090
61539 |  | A | Removal of brain tissue | 32.09 | NA | 17.37 | 8.30 | NA | 57.76 | 090
61540 |  | A | Removal of brain tissue | 30.02 | NA | 16.93 | 8.30 | NA | 55.25 | 090
61541 |  | A | Incision of brain tissue | 28.87 | NA | 15.84 | 6.58 | NA | 51.29 | 090
61542 |  | A | Removal of brain tissue | 31.03 | NA | 17.43 | 8.01 | NA | 56.47 | 090
61543 |  | A | Removal of brain tissue | 29.24 | NA | 16.02 | 7.54 | NA | 52.80 | 090
61544 |  | A | Remove & treat brain lesion | 25.51 | NA | 13.50 | 5.95 | NA | 44.96 | 090
61545 |  | A | Excision of brain tumor | 43.82 | NA | 23.67 | 10.60 | NA | 78.09 | 090
61546 |  | A | Removal of pituitary gland | 31.31 | NA | 17.12 | 7.65 | NA | 56.08 | 090
61548 |  | A | Removal of pituitary gland | 21.54 | NA | 12.46 | 3.42 | NA | 37.43 | 090
61550 |  | A | Release of skull seams | 14.66 | NA | 6.92 | 0.98 | NA | 22.56 | 090
61552 |  | A | Release of skull seams | 19.57 | NA | 9.46 | 1.06 | NA | 30.09 | 090
61556 |  | A | Incise skull/sutures | 22.27 | NA | 11.14 | 4.64 | NA | 38.05 | 090
61557 |  | A | Incise skull/sutures | 22.39 | NA | 13.35 | 5.78 | NA | 41.52 | 090
61558 |  | A | Excision of skull/sutures | 25.59 | NA | 13.91 | 1.36 | NA | 40.86 | 090
61559 |  | A | Excision of skull/sutures | 32.81 | NA | 18.91 | 8.48 | NA | 60.19 | 090
61563 |  | A | Excision of skull tumor | 26.84 | NA | 14.87 | 5.15 | NA | 46.87 | 090
61564 |  | A | Excision of skull tumor | 33.85 | NA | 17.88 | 8.75 | NA | 60.48 | 090
61566 |  | A | Removal of brain tissue | 31.01 | NA | 17.43 | 6.92 | NA | 55.36 | 090
61567 |  | A | Incision of brain tissue | 35.52 | NA | 20.22 | 6.52 | NA | 62.26 | 090
61570 |  | A | Remove foreign body, brain | 24.61 | NA | 13.62 | 5.86 | NA | 44.09 | 090
61571 |  | A | Incise skull for brain wound | 26.40 | NA | 14.81 | 6.77 | NA | 47.98 | 090
61575 |  | A | Skull base/brainstem surgery | 34.38 | NA | 19.10 | 5.32 | NA | 58.80 | 090
61576 |  | A | Skull base/brainstem surgery | 52.45 | NA | 33.91 | 5.56 | NA | 91.92 | 090
61580 |  | A | Craniofacial approach, skull | 30.36 | NA | 24.92 | 3.36 | NA | 58.65 | 090
61581 |  | A | Craniofacial approach, skull | 34.62 | NA | 22.74 | 3.91 | NA | 61.27 | 090
61582 |  | A | Craniofacial approach, skull | 31.67 | NA | 26.53 | 7.19 | NA | 65.39 | 090
61583 |  | A | Craniofacial approach, skull | 36.23 | NA | 24.49 | 9.18 | NA | 69.90 | 090
61584 |  | A | Orbitocranial approach/skull | 34.67 | NA | 23.90 | 8.16 | NA | 66.72 | 090
61585 |  | A | Orbitocranial approach/skull | 38.63 | NA | 25.74 | 7.01 | NA | 71.37 | 090
61586 |  | A | Resect nasopharynx, skull | 25.11 | NA | 21.90 | 4.36 | NA | 51.37 | 090
61590 |  | A | Infratemporal approach/skull | 41.80 | NA | 27.92 | 5.29 | NA | 75.01 | 090
61591 |  | A | Infratemporal approach/skull | 43.70 | NA | 28.74 | 5.64 | NA | 78.08 | 090
61592 |  | A | Orbitocranial approach/skull | 39.66 | NA | 25.87 | 10.04 | NA | 75.57 | 090
61595 |  | A | Transtemporal approach/skull | 29.59 | NA | 21.85 | 3.97 | NA | 55.41 | 090
61596 |  | A | Transcochlear approach/skull | 35.65 | NA | 23.83 | 3.39 | NA | 62.87 | 090
61597 |  | A | Transcondylar approach/skull | 37.98 | NA | 22.44 | 8.81 | NA | 69.23 | 090
61598 |  | A | Transpetrosal approach/skull | 33.43 | NA | 22.65 | 5.68 | NA | 61.75 | 090
61600 |  | A | Resect/excise cranial lesion | 25.86 | NA | 19.34 | 3.78 | NA | 48.98 | 090
61601 |  | A | Resect/excise cranial lesion | 27.91 | NA | 19.99 | 6.61 | NA | 54.51 | 090
61605 |  | A | Resect/excise cranial lesion | 29.35 | NA | 21.48 | 2.85 | NA | 53.68 | 090
61606 |  | A | Resect/excise cranial lesion | 38.85 | NA | 24.52 | 8.94 | NA | 72.31 | 090
61607 |  | A | Resect/excise cranial lesion | 36.29 | NA | 23.18 | 6.88 | NA | 66.35 | 090
61608 |  | A | Resect/excise cranial lesion | 42.12 | NA | 25.94 | 10.72 | NA | 78.79 | 090
61609 |  | A | Transect artery, sinus | 9.90 | NA | 4.72 | 2.55 | NA | 17.17 | ZZZ
61610 |  | A | Transect artery, sinus | 29.69 | NA | 12.81 | 7.66 | NA | 50.15 | ZZZ
61611 |  | A | Transect artery, sinus | 7.42 | NA | 3.72 | 1.88 | NA | 13.03 | ZZZ
61612 |  | A | Transect artery, sinus | 27.90 | NA | 12.98 | 4.30 | NA | 45.18 | ZZZ
61613 |  | A | Remove aneurysm, sinus | 40.88 | NA | 25.62 | 8.42 | NA | 74.92 | 090
61615 |  | A | Resect/excise lesion, skull | 32.08 | NA | 22.18 | 4.72 | NA | 58.98 | 090
61616 |  | A | Resect/excise lesion, skull | 43.36 | NA | 27.92 | 8.24 | NA | 79.52 | 090
61618 |  | A | Repair dura | 16.99 | NA | 10.21 | 3.71 | NA | 30.92 | 090
61619 |  | A | Repair dura | 20.72 | NA | 11.95 | 3.94 | NA | 36.62 | 090
61623 |  | A | Endovasc tempory vessel occl | 9.97 | NA | 4.07 | 1.05 | NA | 15.09 | 000
61624 |  | A | Transcath occlusion, cns | 20.16 | NA | 7.17 | 1.95 | NA | 29.28 | 000
61626 |  | A | Transcath occlusion, non-cns | 16.63 | NA | 5.79 | 1.24 | NA | 23.66 | 000
61680 |  | A | Intracranial vessel surgery | 30.72 | NA | 17.06 | 7.93 | NA | 55.71 | 090
61682 |  | A | Intracranial vessel surgery | 61.60 | NA | 31.45 | 15.85 | NA | 108.90 | 090
61684 |  | A | Intracranial vessel surgery | 39.83 | NA | 21.58 | 10.28 | NA | 71.69 | 090
61686 |  | A | Intracranial vessel surgery | 64.52 | NA | 33.92 | 16.66 | NA | 115.09 | 090
61690 |  | A | Intracranial vessel surgery | 29.33 | NA | 16.37 | 6.92 | NA | 52.62 | 090
61692 |  | A | Intracranial vessel surgery | 51.89 | NA | 26.84 | 13.39 | NA | 92.12 | 090
61697 |  | A | Brain aneurysm repr, complx | 50.54 | NA | 27.39 | 12.81 | NA | 90.74 | 090
61698 |  | A | Brain aneurysm repr, complx | 48.44 | NA | 26.12 | 12.50 | NA | 87.06 | 090
61700 |  | A | Brain aneurysm repr, simple | 50.54 | NA | 27.19 | 12.98 | NA | 90.72 | 090
61702 |  | A | Inner skull vessel surgery | 48.44 | NA | 25.43 | 10.76 | NA | 84.63 | 090
61703 |  | A | Clamp neck artery | 17.47 | NA | 10.25 | 4.05 | NA | 31.78 | 090
61705 |  | A | Revise circulation to head | 36.22 | NA | 18.95 | 8.84 | NA | 64.01 | 090
61708 |  | A | Revise circulation to head | 35.32 | NA | 15.74 | 2.50 | NA | 53.56 | 090
61710 |  | A | Revise circulation to head | 29.69 | NA | 13.97 | 4.51 | NA | 48.16 | 090
61711 |  | A | Fusion of skull arteries | 36.35 | NA | 19.36 | 9.39 | NA | 65.10 | 090
61720 |  | A | Incise skull/brain surgery | 16.77 | NA | 9.79 | 2.78 | NA | 29.34 | 090
61735 |  | A | Incise skull/brain surgery | 20.44 | NA | 11.91 | 2.72 | NA | 35.07 | 090
61750 |  | A | Incise skull/brain biopsy | 18.21 | NA | 10.39 | 4.71 | NA | 33.31 | 090
61751 |  | A | Brain biopsy w/ct/mr guide | 17.63 | NA | 10.61 | 4.55 | NA | 32.79 | 090
61760 |  | A | Implant brain electrodes | 22.28 | NA | 8.51 | 5.40 | NA | 36.19 | 090
61770 |  | A | Incise skull for treatment | 21.45 | NA | 12.04 | 3.54 | NA | 37.03 | 090
61790 |  | A | Treat trigeminal nerve | 10.86 | NA | 5.79 | 2.81 | NA | 19.47 | 090
61791 |  | A | Treat trigeminal tract | 14.62 | NA | 8.74 | 3.39 | NA | 26.75 | 090
61793 |  | A | Focus radiation beam | 17.24 | NA | 9.91 | 4.45 | NA | 31.61 | 090
61795 |  | A | Brain surgery using computer | 4.04 | NA | 1.98 | 0.79 | NA | 6.80 | ZZZ
61850 |  | A | Implant neuroelectrodes | 12.39 | NA | 7.61 | 3.21 | NA | 23.22 | 090
61860 |  | A | Implant neuroelectrodes | 20.88 | NA | 11.78 | 4.94 | NA | 37.61 | 090
61863 |  | A | Implant neuroelectrode | 19.01 | NA | 11.56 | 5.41 | NA | 35.98 | 090
61864 |  | A | Implant neuroelectrde, add'l | 4.50 | NA | 2.23 | 5.41 | NA | 12.14 | ZZZ
61867 |  | A | Implant neuroelectrode | 31.35 | NA | 17.66 | 5.41 | NA | 54.42 | 090
61868 |  | A | Implant neuroelectrde, add'l | 7.93 | NA | 3.92 | 5.41 | NA | 17.25 | ZZZ
61870 |  | A | Implant neuroelectrodes | 14.95 | NA | 9.43 | 3.86 | NA | 28.24 | 090
61875 |  | A | Implant neuroelectrodes | 15.07 | NA | 8.60 | 2.94 | NA | 26.61 | 090
61880 |  | A | Revise/remove neuroelectrode | 6.29 | NA | 4.50 | 1.66 | NA | 12.45 | 090
61885 |  | A | Insrt/redo neurostim 1 array | 5.85 | NA | 5.25 | 1.59 | NA | 12.69 | 090
61886 |  | A | Implant neurostim arrays | 8.01 | NA | 6.26 | 1.96 | NA | 16.22 | 090
61888 |  | A | Revise/remove neuroreceiver | 5.07 | NA | 3.56 | 1.33 | NA | 9.96 | 010
62000 |  | A | Treat skull fracture | 12.54 | NA | 6.22 | 1.06 | NA | 19.82 | 090
62005 |  | A | Treat skull fracture | 16.18 | NA | 8.90 | 3.86 | NA | 28.94 | 090
62010 |  | A | Treatment of head injury | 19.82 | NA | 11.47 | 5.12 | NA | 36.41 | 090
62100 |  | A | Repair brain fluid leakage | 22.04 | NA | 12.49 | 4.83 | NA | 39.37 | 090
62115 |  | A | Reduction of skull defect | 21.67 | NA | 11.50 | 5.49 | NA | 38.67 | 090
62116 |  | A | Reduction of skull defect | 23.60 | NA | 13.10 | 6.09 | NA | 42.78 | 090
62117 |  | A | Reduction of skull defect | 26.61 | NA | 15.04 | 4.52 | NA | 46.17 | 090
62120 |  | A | Repair skull cavity lesion | 23.36 | NA | 18.07 | 2.99 | NA | 44.42 | 090
62121 |  | A | Incise skull repair | 21.59 | NA | 15.08 | 4.16 | NA | 40.83 | 090
62140 |  | A | Repair of skull defect | 13.52 | NA | 8.16 | 3.46 | NA | 25.14 | 090
62141 |  | A | Repair of skull defect | 14.92 | NA | 8.86 | 3.75 | NA | 27.53 | 090
62142 |  | A | Remove skull plate/flap | 10.79 | NA | 6.86 | 2.72 | NA | 20.37 | 090
62143 |  | A | Replace skull plate/flap | 13.06 | NA | 7.89 | 3.36 | NA | 24.30 | 090
62145 |  | A | Repair of skull & brain | 18.83 | NA | 10.66 | 4.49 | NA | 33.98 | 090
62146 |  | A | Repair of skull with graft | 16.13 | NA | 9.43 | 3.61 | NA | 29.17 | 090
62147 |  | A | Repair of skull with graft | 19.35 | NA | 11.05 | 4.31 | NA | 34.71 | 090
62148 |  | A | Retr bone flap to fix skull | 2.00 | NA | 0.84 | 0.48 | NA | 3.32 | ZZZ
62160 |  | A | Neuroendoscopy add-on | 3.01 | NA | 1.49 | 0.77 | NA | 5.27 | ZZZ
62161 |  | A | Dissect brain w/scope | 20.01 | NA | 11.85 | 5.17 | NA | 37.03 | 090
62162 |  | A | Remove colloid cyst w/scope | 25.26 | NA | 14.54 | 5.89 | NA | 45.69 | 090
62163 |  | A | Neuroendoscopy w/fb removal | 15.51 | NA | 9.73 | 4.00 | NA | 29.24 | 090
62164 |  | A | Remove brain tumor w/scope | 27.51 | NA | 14.65 | 5.36 | NA | 47.53 | 090
62165 |  | A | Remove pituit tumor w/scope | 22.01 | NA | 13.05 | 3.00 | NA | 38.07 | 090
62180 |  | A | Establish brain cavity shunt | 21.07 | NA | 12.03 | 4.97 | NA | 38.07 | 090
62190 |  | A | Establish brain cavity shunt | 11.07 | NA | 6.95 | 2.79 | NA | 20.81 | 090
62192 |  | A | Establish brain cavity shunt | 12.25 | NA | 7.48 | 3.01 | NA | 22.74 | 090
62194 |  | A | Replace/irrigate catheter | 5.03 | NA | 2.47 | 0.92 | NA | 8.42 | 010
62200 |  | A | Establish brain cavity shunt | 18.33 | NA | 10.62 | 4.64 | NA | 33.59 | 090
62201 |  | A | Brain cavity shunt w/scope | 14.87 | NA | 9.26 | 3.67 | NA | 27.80 | 090
62220 |  | A | Establish brain cavity shunt | 13.01 | NA | 7.83 | 3.34 | NA | 24.18 | 090
62223 |  | A | Establish brain cavity shunt | 12.88 | NA | 8.10 | 3.13 | NA | 24.11 | 090
62225 |  | A | Replace/irrigate catheter | 5.41 | NA | 4.03 | 1.39 | NA | 10.83 | 090
62230 |  | A | Replace/revise brain shunt | 10.54 | NA | 6.36 | 2.70 | NA | 19.60 | 090
62252 |  | A | Csf shunt reprogram | 0.74 | 1.35 | NA | 0.21 | 2.30 | NA | XXX
62252 | 26 | A | Csf shunt reprogram | 0.74 | 0.36 | 0.36 | 0.19 | 1.29 | 1.29 | XXX
62252 | TC | A | Csf shunt reprogram | 0.00 | 0.99 | NA | 0.02 | 1.01 | NA | XXX
62256 |  | A | Remove brain cavity shunt | 6.60 | NA | 4.62 | 1.71 | NA | 12.93 | 090
62258 |  | A | Replace brain cavity shunt | 14.55 | NA | 8.54 | 3.73 | NA | 26.82 | 090
62263 |  | A | Epidural lysis mult sessions | 6.14 | 12.01 | 3.10 | 0.41 | 18.56 | 9.65 | 010
62264 |  | A | Epidural lysis on single day | 4.43 | 7.34 | 1.38 | 0.27 | 12.04 | 6.08 | 010
62268 |  | A | Drain spinal cord cyst | 4.74 | 10.84 | 2.19 | 0.43 | 16.01 | 7.36 | 000
62269 |  | A | Needle biopsy, spinal cord | 5.02 | 13.60 | 2.02 | 0.37 | 18.99 | 7.41 | 000
62270 |  | A | Spinal fluid tap, diagnostic | 1.13 | 2.88 | 0.56 | 0.08 | 4.09 | 1.78 | 000
62272 |  | A | Drain cerebro spinal fluid | 1.35 | 3.51 | 0.71 | 0.18 | 5.05 | 2.24 | 000
62273 |  | A | Inject epidural patch | 2.15 | 2.60 | 0.69 | 0.13 | 4.88 | 2.98 | 000
62280 |  | A | Treat spinal cord lesion | 2.64 | 6.38 | 0.99 | 0.30 | 9.32 | 3.93 | 010
62281 |  | A | Treat spinal cord lesion | 2.67 | 5.32 | 0.87 | 0.19 | 8.18 | 3.72 | 010
62282 |  | A | Treat spinal canal lesion | 2.33 | 7.60 | 0.90 | 0.17 | 10.10 | 3.40 | 010
62284 |  | A | Injection for myelogram | 1.54 | 4.79 | 0.69 | 0.13 | 6.46 | 2.36 | 000
62287 |  | A | Percutaneous diskectomy | 8.09 | NA | 5.57 | 0.58 | NA | 14.23 | 090
62290 |  | A | Inject for spine disk x-ray | 3.01 | 6.76 | 1.38 | 0.23 | 9.99 | 4.61 | 000
62291 |  | A | Inject for spine disk x-ray | 2.92 | 5.66 | 1.23 | 0.26 | 8.83 | 4.41 | 000
62292 |  | A | Injection into disk lesion | 7.87 | NA | 4.34 | 0.82 | NA | 13.03 | 090
62294 |  | A | Injection into spinal artery | 11.83 | NA | 5.73 | 1.24 | NA | 18.80 | 090
62310 |  | A | Inject spine c/t | 1.91 | 4.51 | 0.63 | 0.12 | 6.55 | 2.67 | 000
62311 |  | A | Inject spine l/s (cd) | 1.54 | 4.58 | 0.58 | 0.09 | 6.21 | 2.21 | 000
62318 |  | A | Inject spine w/cath, c/t | 2.04 | 5.36 | 0.63 | 0.12 | 7.53 | 2.80 | 000
62319 |  | A | Inject spine w/cath l/s (cd) | 1.87 | 4.65 | 0.59 | 0.11 | 6.64 | 2.58 | 000
62350 |  | A | Implant spinal canal cath | 6.87 | NA | 3.85 | 1.02 | NA | 11.74 | 090
62351 |  | A | Implant spinal canal cath | 10.01 | NA | 6.96 | 2.24 | NA | 19.21 | 090
62355 |  | A | Remove spinal canal catheter | 5.45 | NA | 3.09 | 0.71 | NA | 9.25 | 090
62360 |  | A | Insert spine infusion device | 2.63 | NA | 2.63 | 0.34 | NA | 5.59 | 090
62361 |  | A | Implant spine infusion pump | 5.42 | NA | 3.82 | 0.80 | NA | 10.04 | 090
62362 |  | A | Implant spine infusion pump | 7.04 | NA | 4.27 | 1.18 | NA | 12.50 | 090
62365 |  | A | Remove spine infusion device | 5.42 | NA | 3.50 | 0.86 | NA | 9.79 | 090
62367 |  | A | Analyze spine infusion pump | 0.48 | 0.22 | 0.12 | 0.00 | 0.70 | 0.60 | XXX
62368 |  | A | Analyze spine infusion pump | 0.75 | 0.29 | 0.18 | 0.00 | 1.04 | 0.93 | XXX
63001 |  | A | Removal of spinal lamina | 15.83 | NA | 9.30 | 3.76 | NA | 28.90 | 090
63003 |  | A | Removal of spinal lamina | 15.96 | NA | 9.63 | 3.72 | NA | 29.31 | 090
63005 |  | A | Removal of spinal lamina | 14.93 | NA | 9.73 | 3.34 | NA | 28.00 | 090
63011 |  | A | Removal of spinal lamina | 14.53 | NA | 8.08 | 3.37 | NA | 25.98 | 090
63012 |  | A | Removal of spinal lamina | 15.41 | NA | 9.87 | 3.48 | NA | 28.76 | 090
63015 |  | A | Removal of spinal lamina | 19.36 | NA | 11.62 | 4.75 | NA | 35.73 | 090
63016 |  | A | Removal of spinal lamina | 19.21 | NA | 11.52 | 4.58 | NA | 35.30 | 090
63017 |  | A | Removal of spinal lamina | 15.95 | NA | 10.15 | 3.63 | NA | 29.73 | 090
63020 |  | A | Neck spine disk surgery | 14.82 | NA | 9.47 | 3.71 | NA | 28.00 | 090
63030 |  | A | Low back disk surgery | 12.00 | NA | 8.23 | 3.00 | NA | 23.24 | 090
63035 |  | A | Spinal disk surgery add-on | 3.16 | NA | 1.55 | 0.79 | NA | 5.49 | ZZZ
63040 |  | A | Laminotomy, single cervical | 18.82 | NA | 11.23 | 4.67 | NA | 34.72 | 090
63042 |  | A | Laminotomy, single lumbar | 17.47 | NA | 11.06 | 4.25 | NA | 32.78 | 090
63043 |  | C | Laminotomy, add'l cervical | 0.00 | 0.00 | 0.00 | 0.00 | 0.00 | 0.00 | ZZZ
63044 |  | C | Laminotomy, add'l lumbar | 0.00 | 0.00 | 0.00 | 0.00 | 0.00 | 0.00 | ZZZ
63045 |  | A | Removal of spinal lamina | 16.51 | NA | 10.13 | 3.98 | NA | 30.62 | 090
63046 |  | A | Removal of spinal lamina | 15.81 | NA | 9.94 | 3.55 | NA | 29.30 | 090
63047 |  | A | Removal of spinal lamina | 14.62 | NA | 9.65 | 3.23 | NA | 27.50 | 090
63048 |  | A | Remove spinal lamina add-on | 3.27 | NA | 1.62 | 0.72 | NA | 5.60 | ZZZ
63050 |  | A | Cervical laminoplasty | 20.79 | NA | 11.41 | 4.66 | NA | 36.86 | 090
63051 |  | A | C-laminoplasty w/graft/plate | 24.30 | NA | 12.97 | 4.66 | NA | 41.93 | 090
63055 |  | A | Decompress spinal cord | 22.00 | NA | 12.84 | 5.27 | NA | 40.11 | 090
63056 |  | A | Decompress spinal cord | 20.37 | NA | 12.25 | 4.75 | NA | 37.37 | 090
63057 |  | A | Decompress spine cord add-on | 5.26 | NA | 2.56 | 1.22 | NA | 9.04 | ZZZ
63064 |  | A | Decompress spinal cord | 24.62 | NA | 14.08 | 5.69 | NA | 44.39 | 090
63066 |  | A | Decompress spine cord add-on | 3.27 | NA | 1.62 | 0.69 | NA | 5.57 | ZZZ
63075 |  | A | Neck spine disk surgery | 19.42 | NA | 11.81 | 4.62 | NA | 35.85 | 090
63076 |  | A | Neck spine disk surgery | 4.05 | NA | 2.00 | 0.96 | NA | 7.00 | ZZZ
63077 |  | A | Spine disk surgery, thorax | 21.45 | NA | 12.43 | 3.98 | NA | 37.87 | 090
63078 |  | A | Spine disk surgery, thorax | 3.29 | NA | 1.59 | 0.66 | NA | 5.54 | ZZZ
63081 |  | A | Removal of vertebral body | 23.74 | NA | 13.98 | 5.54 | NA | 43.26 | 090
63082 |  | A | Remove vertebral body add-on | 4.37 | NA | 2.16 | 1.02 | NA | 7.55 | ZZZ
63085 |  | A | Removal of vertebral body | 26.93 | NA | 15.05 | 4.48 | NA | 46.47 | 090
63086 |  | A | Remove vertebral body add-on | 3.20 | NA | 1.55 | 0.59 | NA | 5.33 | ZZZ
63087 |  | A | Removal of vertebral body | 35.59 | NA | 18.93 | 6.20 | NA | 60.72 | 090
63088 |  | A | Remove vertebral body add-on | 4.33 | NA | 2.11 | 0.82 | NA | 7.26 | ZZZ
63090 |  | A | Removal of vertebral body | 28.18 | NA | 15.60 | 4.21 | NA | 47.99 | 090
63091 |  | A | Remove vertebral body add-on | 3.04 | NA | 1.42 | 0.48 | NA | 4.93 | ZZZ
63101 |  | A | Removal of vertebral body | 32.01 | NA | 18.84 | 5.69 | NA | 56.54 | 090
63102 |  | A | Removal of vertebral body | 32.01 | NA | 18.78 | 5.69 | NA | 56.48 | 090
63103 |  | A | Remove vertebral body add-on | 4.83 | NA | 2.41 | 0.69 | NA | 7.93 | ZZZ
63170 |  | A | Incise spinal cord tract(s) | 19.84 | NA | 11.62 | 4.86 | NA | 36.32 | 090
63172 |  | A | Drainage of spinal cyst | 17.67 | NA | 10.42 | 4.48 | NA | 32.57 | 090
63173 |  | A | Drainage of spinal cyst | 22.00 | NA | 12.54 | 5.68 | NA | 40.22 | 090
63180 |  | A | Revise spinal cord ligaments | 18.28 | NA | 10.77 | 3.95 | NA | 33.00 | 090
63182 |  | A | Revise spinal cord ligaments | 20.51 | NA | 10.76 | 5.30 | NA | 36.57 | 090
63185 |  | A | Incise spinal column/nerves | 15.05 | NA | 7.93 | 2.79 | NA | 25.77 | 090
63190 |  | A | Incise spinal column/nerves | 17.45 | NA | 9.90 | 3.24 | NA | 30.59 | 090
63191 |  | A | Incise spinal column/nerves | 17.55 | NA | 10.21 | 6.34 | NA | 34.10 | 090
63194 |  | A | Incise spinal column & cord | 19.20 | NA | 11.48 | 3.26 | NA | 33.94 | 090
63195 |  | A | Incise spinal column & cord | 18.85 | NA | 10.81 | 4.87 | NA | 34.53 | 090
63196 |  | A | Incise spinal column & cord | 22.31 | NA | 13.11 | 5.76 | NA | 41.18 | 090
63197 |  | A | Incise spinal column & cord | 21.12 | NA | 11.95 | 5.36 | NA | 38.44 | 090
63198 |  | A | Incise spinal column & cord | 25.39 | NA | 8.28 | 6.43 | NA | 40.10 | 090
63199 |  | A | Incise spinal column & cord | 26.90 | NA | 14.73 | 1.40 | NA | 43.04 | 090
63200 |  | A | Release of spinal cord | 19.19 | NA | 11.10 | 4.96 | NA | 35.25 | 090
63250 |  | A | Revise spinal cord vessels | 40.78 | NA | 19.47 | 9.01 | NA | 69.26 | 090
63251 |  | A | Revise spinal cord vessels | 41.22 | NA | 22.08 | 10.41 | NA | 73.72 | 090
63252 |  | A | Revise spinal cord vessels | 41.21 | NA | 21.75 | 10.64 | NA | 73.60 | 090
63265 |  | A | Excise intraspinal lesion | 21.57 | NA | 12.49 | 5.43 | NA | 39.49 | 090
63266 |  | A | Excise intraspinal lesion | 22.31 | NA | 12.89 | 5.54 | NA | 40.74 | 090
63267 |  | A | Excise intraspinal lesion | 17.96 | NA | 10.83 | 4.37 | NA | 33.16 | 090
63268 |  | A | Excise intraspinal lesion | 18.53 | NA | 10.13 | 3.69 | NA | 32.35 | 090
63270 |  | A | Excise intraspinal lesion | 26.81 | NA | 15.13 | 6.82 | NA | 48.76 | 090
63271 |  | A | Excise intraspinal lesion | 26.93 | NA | 15.23 | 6.90 | NA | 49.06 | 090
63272 |  | A | Excise intraspinal lesion | 25.33 | NA | 14.36 | 6.18 | NA | 45.87 | 090
63273 |  | A | Excise intraspinal lesion | 24.30 | NA | 14.03 | 5.74 | NA | 44.06 | 090
63275 |  | A | Biopsy/excise spinal tumor | 23.69 | NA | 13.47 | 5.80 | NA | 42.95 | 090
63276 |  | A | Biopsy/excise spinal tumor | 23.46 | NA | 13.38 | 5.83 | NA | 42.66 | 090
63277 |  | A | Biopsy/excise spinal tumor | 20.84 | NA | 12.24 | 5.01 | NA | 38.09 | 090
63278 |  | A | Biopsy/excise spinal tumor | 20.57 | NA | 12.10 | 4.55 | NA | 37.22 | 090
63280 |  | A | Biopsy/excise spinal tumor | 28.37 | NA | 15.96 | 7.27 | NA | 51.59 | 090
63281 |  | A | Biopsy/excise spinal tumor | 28.07 | NA | 15.82 | 7.17 | NA | 51.06 | 090
63282 |  | A | Biopsy/excise spinal tumor | 26.40 | NA | 15.00 | 6.76 | NA | 48.17 | 090
63283 |  | A | Biopsy/excise spinal tumor | 25.01 | NA | 14.34 | 6.26 | NA | 45.61 | 090
63285 |  | A | Biopsy/excise spinal tumor | 36.02 | NA | 19.49 | 9.18 | NA | 64.69 | 090
63286 |  | A | Biopsy/excise spinal tumor | 35.65 | NA | 19.46 | 9.21 | NA | 64.32 | 090
63287 |  | A | Biopsy/excise spinal tumor | 36.71 | NA | 19.96 | 9.39 | NA | 66.06 | 090
63290 |  | A | Biopsy/excise spinal tumor | 37.39 | NA | 20.12 | 9.02 | NA | 66.54 | 090
63295 |  | A | Repair of laminectomy defect | 5.26 | NA | 2.07 | 1.03 | NA | 8.36 | ZZZ
63300 |  | A | Removal of vertebral body | 24.44 | NA | 13.97 | 5.97 | NA | 44.37 | 090
63301 |  | A | Removal of vertebral body | 27.62 | NA | 15.16 | 5.39 | NA | 48.17 | 090
63302 |  | A | Removal of vertebral body | 27.83 | NA | 15.47 | 5.53 | NA | 48.82 | 090
63303 |  | A | Removal of vertebral body | 30.51 | NA | 16.47 | 4.68 | NA | 51.66 | 090
63304 |  | A | Removal of vertebral body | 30.34 | NA | 16.88 | 6.41 | NA | 53.63 | 090
63305 |  | A | Removal of vertebral body | 32.04 | NA | 17.60 | 5.71 | NA | 55.35 | 090
63306 |  | A | Removal of vertebral body | 32.23 | NA | 17.37 | 8.33 | NA | 57.93 | 090
63307 |  | A | Removal of vertebral body | 31.64 | NA | 16.65 | 4.46 | NA | 52.75 | 090
63308 |  | A | Remove vertebral body add-on | 5.25 | NA | 2.53 | 1.29 | NA | 9.07 | ZZZ
63600 |  | A | Remove spinal cord lesion | 14.03 | NA | 5.29 | 1.52 | NA | 20.83 | 090
63610 |  | A | Stimulation of spinal cord | 8.74 | 53.74 | 2.21 | 0.86 | 63.34 | 11.80 | 000
63615 |  | A | Remove lesion of spinal cord | 16.29 | NA | 9.07 | 2.84 | NA | 28.20 | 090
63650 |  | A | Implant neuroelectrodes | 6.74 | NA | 3.09 | 0.53 | NA | 10.36 | 090
63655 |  | A | Implant neuroelectrodes | 10.29 | NA | 6.75 | 2.43 | NA | 19.47 | 090
63660 |  | A | Revise/remove neuroelectrode | 6.16 | NA | 3.53 | 0.78 | NA | 10.47 | 090
63685 |  | A | Insrt/redo spine n generator | 7.04 | NA | 4.05 | 1.05 | NA | 12.14 | 090
63688 |  | A | Revise/remove neuroreceiver | 5.39 | NA | 3.47 | 0.89 | NA | 9.76 | 090
63700 |  | A | Repair of spinal herniation | 16.54 | NA | 10.06 | 3.52 | NA | 30.12 | 090
63702 |  | A | Repair of spinal herniation | 18.49 | NA | 10.87 | 4.12 | NA | 33.48 | 090
63704 |  | A | Repair of spinal herniation | 21.19 | NA | 12.61 | 4.57 | NA | 38.37 | 090
63706 |  | A | Repair of spinal herniation | 24.12 | NA | 13.24 | 6.23 | NA | 43.58 | 090
63707 |  | A | Repair spinal fluid leakage | 11.26 | NA | 7.53 | 2.51 | NA | 21.30 | 090
63709 |  | A | Repair spinal fluid leakage | 14.33 | NA | 9.16 | 3.09 | NA | 26.58 | 090
63710 |  | A | Graft repair of spine defect | 14.08 | NA | 8.84 | 3.40 | NA | 26.32 | 090
63740 |  | A | Install spinal shunt | 11.36 | NA | 7.22 | 2.93 | NA | 21.51 | 090
63741 |  | A | Install spinal shunt | 8.26 | NA | 4.68 | 1.66 | NA | 14.60 | 090
63744 |  | A | Revision of spinal shunt | 8.11 | NA | 5.16 | 1.89 | NA | 15.16 | 090
63746 |  | A | Removal of spinal shunt | 6.43 | NA | 3.70 | 1.53 | NA | 11.66 | 090
64400 |  | A | N block inj, trigeminal | 1.11 | 1.83 | 0.42 | 0.07 | 3.01 | 1.60 | 000
64402 |  | A | N block inj, facial | 1.25 | 1.59 | 0.59 | 0.09 | 2.93 | 1.93 | 000
64405 |  | A | N block inj, occipital | 1.32 | 1.42 | 0.45 | 0.08 | 2.82 | 1.85 | 000
64408 |  | A | N block inj, vagus | 1.41 | 1.57 | 0.83 | 0.10 | 3.08 | 2.34 | 000
64410 |  | A | N block inj, phrenic | 1.43 | 2.36 | 0.45 | 0.09 | 3.89 | 1.97 | 000
64412 |  | A | N block inj, spinal accessor | 1.18 | 2.49 | 0.42 | 0.08 | 3.75 | 1.68 | 000
64413 |  | A | N block inj, cervical plexus | 1.40 | 1.77 | 0.49 | 0.08 | 3.25 | 1.97 | 000
64415 |  | A | N block inj, brachial plexus | 1.48 | 2.66 | 0.45 | 0.09 | 4.23 | 2.02 | 000
64416 |  | A | N block cont infuse, b plex | 3.50 | NA | 0.77 | 0.31 | NA | 4.58 | 010
64417 |  | A | N block inj, axillary | 1.44 | 2.84 | 0.48 | 0.11 | 4.40 | 2.03 | 000
64418 |  | A | N block inj, suprascapular | 1.32 | 2.49 | 0.43 | 0.07 | 3.89 | 1.82 | 000
64420 |  | A | N block inj, intercost, sng | 1.18 | 3.62 | 0.41 | 0.08 | 4.89 | 1.67 | 000
64421 |  | A | N block inj, intercost, mlt | 1.68 | 5.65 | 0.51 | 0.11 | 7.44 | 2.30 | 000
64425 |  | A | N block inj, ilio-ing/hypogi | 1.75 | 1.62 | 0.53 | 0.13 | 3.51 | 2.41 | 000
64430 |  | A | N block inj, pudendal | 1.46 | 2.47 | 0.56 | 0.10 | 4.03 | 2.12 | 000
64435 |  | A | N block inj, paracervical | 1.45 | 2.42 | 0.68 | 0.16 | 4.03 | 2.29 | 000
64445 |  | A | N block inj, sciatic, sng | 1.48 | 2.52 | 0.49 | 0.10 | 4.11 | 2.07 | 000
64446 |  | A | N blk inj, sciatic, cont inf | 3.26 | NA | 0.97 | 0.20 | NA | 4.43 | 010
64447 |  | A | N block inj fem, single | 1.50 | NA | 0.42 | 0.09 | NA | 2.01 | 000
64448 |  | A | N block inj fem, cont inf | 3.01 | NA | 0.79 | 0.18 | NA | 3.98 | 010
64449 |  | A | N block inj, lumbar plexus | 3.01 | NA | 0.91 | 0.15 | NA | 4.07 | 010
64450 |  | A | N block, other peripheral | 1.27 | 1.25 | 0.47 | 0.13 | 2.65 | 1.87 | 000
64470 |  | A | Inj paravertebral c/t | 1.85 | 6.70 | 0.69 | 0.11 | 8.66 | 2.66 | 000
64472 |  | A | Inj paravertebral c/t add-on | 1.29 | 2.16 | 0.33 | 0.08 | 3.53 | 1.71 | ZZZ
64475 |  | A | Inj paravertebral l/s | 1.41 | 6.37 | 0.62 | 0.10 | 7.89 | 2.13 | 000
64476 |  | A | Inj paravertebral l/s add-on | 0.98 | 1.95 | 0.24 | 0.07 | 3.00 | 1.29 | ZZZ
64479 |  | A | Inj foramen epidural c/t | 2.20 | 6.90 | 0.87 | 0.12 | 9.22 | 3.19 | 000
64480 |  | A | Inj foramen epidural add-on | 1.54 | 2.62 | 0.46 | 0.10 | 4.26 | 2.10 | ZZZ
64483 |  | A | Inj foramen epidural l/s | 1.90 | 7.23 | 0.81 | 0.11 | 9.25 | 2.82 | 000
64484 |  | A | Inj foramen epidural add-on | 1.33 | 3.01 | 0.36 | 0.08 | 4.42 | 1.77 | ZZZ
64505 |  | A | N block, spenopalatine gangl | 1.36 | 1.21 | 0.64 | 0.10 | 2.68 | 2.10 | 000
64508 |  | A | N block, carotid sinus s/p | 1.12 | 3.15 | 0.76 | 0.07 | 4.35 | 1.95 | 000
64510 |  | A | N block, stellate ganglion | 1.22 | 3.19 | 0.50 | 0.07 | 4.49 | 1.79 | 000
64517 |  | A | N block inj, hypogas plxs | 2.20 | 2.65 | 0.87 | 0.11 | 4.96 | 3.19 | 000
64520 |  | A | N block, lumbar/thoracic | 1.35 | 4.76 | 0.54 | 0.08 | 6.19 | 1.97 | 000
64530 |  | A | N block inj, celiac pelus | 1.58 | 4.14 | 0.64 | 0.10 | 5.82 | 2.32 | 000
64550 |  | A | Apply neurostimulator | 0.18 | 0.27 | 0.05 | 0.01 | 0.46 | 0.24 | 000
64553 |  | A | Implant neuroelectrodes | 2.31 | 2.70 | 1.81 | 0.18 | 5.20 | 4.31 | 010
64555 |  | A | Implant neuroelectrodes | 2.27 | 2.98 | 1.26 | 0.19 | 5.44 | 3.73 | 010
64560 |  | A | Implant neuroelectrodes | 2.36 | 2.54 | 1.25 | 0.22 | 5.12 | 3.84 | 010
64561 |  | A | Implant neuroelectrodes | 6.74 | 29.47 | 3.21 | 0.51 | 36.73 | 10.46 | 010
64565 |  | A | Implant neuroelectrodes | 1.76 | 3.12 | 1.24 | 0.13 | 5.01 | 3.14 | 010
64573 |  | A | Implant neuroelectrodes | 7.50 | NA | 5.15 | 1.60 | NA | 14.25 | 090
64575 |  | A | Implant neuroelectrodes | 4.35 | NA | 2.84 | 0.61 | NA | 7.80 | 090
64577 |  | A | Implant neuroelectrodes | 4.62 | NA | 3.20 | 1.04 | NA | 8.86 | 090
64580 |  | A | Implant neuroelectrodes | 4.12 | NA | 3.44 | 0.36 | NA | 7.92 | 090
64581 |  | A | Implant neuroelectrodes | 13.51 | NA | 6.11 | 1.05 | NA | 20.67 | 090
64585 |  | A | Revise/remove neuroelectrode | 2.06 | 10.39 | 2.13 | 0.20 | 12.65 | 4.39 | 010
64590 |  | A | Insrt/redo perph n generator | 2.40 | 6.92 | 2.33 | 0.19 | 9.51 | 4.92 | 010
64595 |  | A | Revise/remove neuroreceiver | 1.73 | 9.61 | 1.90 | 0.19 | 11.54 | 3.83 | 010
64600 |  | A | Injection treatment of nerve | 3.45 | 8.75 | 1.62 | 0.34 | 12.54 | 5.40 | 010
64605 |  | A | Injection treatment of nerve | 5.61 | 8.92 | 2.13 | 0.79 | 15.32 | 8.53 | 010
64610 |  | A | Injection treatment of nerve | 7.16 | 8.48 | 3.64 | 1.58 | 17.22 | 12.38 | 010
64612 |  | A | Destroy nerve, face muscle | 1.96 | 2.41 | 1.30 | 0.11 | 4.48 | 3.38 | 010
64613 |  | A | Destroy nerve, spine muscle | 1.96 | 2.86 | 1.20 | 0.11 | 4.93 | 3.28 | 010
64614 |  | A | Destroy nerve, extrem musc | 2.20 | 3.07 | 1.28 | 0.10 | 5.37 | 3.58 | 010
64620 |  | A | Injection treatment of nerve | 2.85 | 4.75 | 1.29 | 0.20 | 7.80 | 4.33 | 010
64622 |  | A | Destr paravertebrl nerve l/s | 3.01 | 7.17 | 1.33 | 0.18 | 10.35 | 4.52 | 010
64623 |  | A | Destr paravertebral n add-on | 0.99 | 2.74 | 0.22 | 0.06 | 3.79 | 1.27 | ZZZ
64626 |  | A | Destr paravertebrl nerve c/t | 3.29 | 7.26 | 1.90 | 0.20 | 10.75 | 5.39 | 010
64627 |  | A | Destr paravertebral n add-on | 1.16 | 4.18 | 0.26 | 0.07 | 5.41 | 1.50 | ZZZ
64630 |  | A | Injection treatment of nerve | 3.01 | 2.69 | 1.42 | 0.22 | 5.92 | 4.65 | 010
64640 |  | A | Injection treatment of nerve | 2.77 | 3.94 | 1.78 | 0.29 | 7.00 | 4.84 | 010
64680 |  | A | Injection treatment of nerve | 2.63 | 6.22 | 1.40 | 0.18 | 9.03 | 4.20 | 010
64681 |  | A | Injection treatment of nerve | 3.55 | 8.67 | 2.01 | 0.28 | 12.50 | 5.84 | 010
64702 |  | A | Revise finger/toe nerve | 4.23 | NA | 3.76 | 0.61 | NA | 8.60 | 090
64704 |  | A | Revise hand/foot nerve | 4.57 | NA | 3.29 | 0.61 | NA | 8.47 | 090
64708 |  | A | Revise arm/leg nerve | 6.12 | NA | 4.73 | 0.96 | NA | 11.81 | 090
64712 |  | A | Revision of sciatic nerve | 7.76 | NA | 4.79 | 0.95 | NA | 13.49 | 090
64713 |  | A | Revision of arm nerve(s) | 11.00 | NA | 5.70 | 1.82 | NA | 18.52 | 090
64714 |  | A | Revise low back nerve(s) | 10.33 | NA | 4.09 | 1.19 | NA | 15.61 | 090
64716 |  | A | Revision of cranial nerve | 6.31 | NA | 5.84 | 0.63 | NA | 12.78 | 090
64718 |  | A | Revise ulnar nerve at elbow | 5.99 | NA | 5.84 | 1.05 | NA | 12.88 | 090
64719 |  | A | Revise ulnar nerve at wrist | 4.85 | NA | 4.39 | 0.77 | NA | 10.01 | 090
64721 |  | A | Carpal tunnel surgery | 4.29 | 0.00 | 5.17 | 0.73 | 5.02 | 10.19 | 090
64722 |  | A | Relieve pressure on nerve(s) | 4.70 | NA | 2.96 | 0.48 | NA | 8.14 | 090
64726 |  | A | Release foot/toe nerve | 4.18 | NA | 2.77 | 0.54 | NA | 7.49 | 090
64727 |  | A | Internal nerve revision | 3.11 | NA | 1.46 | 0.48 | NA | 5.04 | ZZZ
64732 |  | A | Incision of brow nerve | 4.41 | NA | 3.45 | 0.98 | NA | 8.84 | 090
64734 |  | A | Incision of cheek nerve | 4.92 | NA | 3.99 | 0.89 | NA | 9.80 | 090
64736 |  | A | Incision of chin nerve | 4.60 | NA | 3.98 | 0.52 | NA | 9.10 | 090
64738 |  | A | Incision of jaw nerve | 5.73 | NA | 4.54 | 1.08 | NA | 11.36 | 090
64740 |  | A | Incision of tongue nerve | 5.59 | NA | 5.06 | 0.69 | NA | 11.34 | 090
64742 |  | A | Incision of facial nerve | 6.22 | NA | 4.61 | 0.73 | NA | 11.56 | 090
64744 |  | A | Incise nerve, back of head | 5.24 | NA | 3.71 | 1.16 | NA | 10.11 | 090
64746 |  | A | Incise diaphragm nerve | 5.93 | NA | 4.29 | 0.82 | NA | 11.04 | 090
64752 |  | A | Incision of vagus nerve | 7.06 | NA | 4.18 | 0.93 | NA | 12.17 | 090
64755 |  | A | Incision of stomach nerves | 13.53 | NA | 5.57 | 1.83 | NA | 20.93 | 090
64760 |  | A | Incision of vagus nerve | 6.96 | NA | 3.41 | 0.81 | NA | 11.19 | 090
64761 |  | A | Incision of pelvis nerve | 6.41 | NA | 3.50 | 0.53 | NA | 10.44 | 090
64763 |  | A | Incise hip/thigh nerve | 6.93 | NA | 5.06 | 0.94 | NA | 12.93 | 090
64766 |  | A | Incise hip/thigh nerve | 8.68 | NA | 5.25 | 1.06 | NA | 14.99 | 090
64771 |  | A | Sever cranial nerve | 7.35 | NA | 5.45 | 1.23 | NA | 14.03 | 090
64772 |  | A | Incision of spinal nerve | 7.21 | NA | 4.83 | 1.40 | NA | 13.45 | 090
64774 |  | A | Remove skin nerve lesion | 5.17 | NA | 3.77 | 0.74 | NA | 9.68 | 090
64776 |  | A | Remove digit nerve lesion | 5.12 | NA | 3.61 | 0.76 | NA | 9.49 | 090
64778 |  | A | Digit nerve surgery add-on | 3.12 | NA | 1.46 | 0.46 | NA | 5.03 | ZZZ
64782 |  | A | Remove limb nerve lesion | 6.23 | NA | 3.76 | 0.86 | NA | 10.85 | 090
64783 |  | A | Limb nerve surgery add-on | 3.72 | NA | 1.78 | 0.51 | NA | 6.01 | ZZZ
64784 |  | A | Remove nerve lesion | 9.83 | NA | 6.43 | 1.38 | NA | 17.64 | 090
64786 |  | A | Remove sciatic nerve lesion | 15.47 | NA | 9.57 | 2.60 | NA | 27.64 | 090
64787 |  | A | Implant nerve end | 4.30 | NA | 2.06 | 0.58 | NA | 6.94 | ZZZ
64788 |  | A | Remove skin nerve lesion | 4.61 | NA | 3.43 | 0.73 | NA | 8.77 | 090
64790 |  | A | Removal of nerve lesion | 11.31 | NA | 7.05 | 2.10 | NA | 20.46 | 090
64792 |  | A | Removal of nerve lesion | 14.93 | NA | 8.63 | 2.48 | NA | 26.04 | 090
64795 |  | A | Biopsy of nerve | 3.02 | NA | 1.53 | 0.52 | NA | 5.07 | 000
64802 |  | A | Remove sympathetic nerves | 9.16 | NA | 4.96 | 1.29 | NA | 15.41 | 090
64804 |  | A | Remove sympathetic nerves | 14.65 | NA | 6.92 | 2.14 | NA | 23.71 | 090
64809 |  | A | Remove sympathetic nerves | 13.68 | NA | 5.58 | 1.50 | NA | 20.76 | 090
64818 |  | A | Remove sympathetic nerves | 10.30 | NA | 5.10 | 1.33 | NA | 16.73 | 090
64820 |  | A | Remove sympathetic nerves | 10.37 | NA | 6.92 | 1.49 | NA | 18.78 | 090
64821 |  | A | Remove sympathetic nerves | 8.76 | NA | 7.13 | 1.24 | NA | 17.13 | 090
64822 |  | A | Remove sympathetic nerves | 8.76 | NA | 7.03 | 1.30 | NA | 17.09 | 090
64823 |  | A | Remove sympathetic nerves | 10.37 | NA | 7.91 | 1.57 | NA | 19.85 | 090
64831 |  | A | Repair of digit nerve | 9.45 | NA | 6.88 | 1.41 | NA | 17.74 | 090
64832 |  | A | Repair nerve add-on | 5.66 | NA | 2.85 | 0.85 | NA | 9.36 | ZZZ
64834 |  | A | Repair of hand or foot nerve | 10.19 | NA | 6.90 | 1.54 | NA | 18.63 | 090
64835 |  | A | Repair of hand or foot nerve | 10.94 | NA | 7.48 | 1.73 | NA | 20.15 | 090
64836 |  | A | Repair of hand or foot nerve | 10.94 | NA | 7.45 | 1.67 | NA | 20.07 | 090
64837 |  | A | Repair nerve add-on | 6.26 | NA | 3.14 | 0.97 | NA | 10.37 | ZZZ
64840 |  | A | Repair of leg nerve | 13.03 | NA | 8.05 | 1.37 | NA | 22.44 | 090
64856 |  | A | Repair/transpose nerve | 13.81 | NA | 8.93 | 2.12 | NA | 24.86 | 090
64857 |  | A | Repair arm/leg nerve | 14.50 | NA | 9.37 | 2.21 | NA | 26.08 | 090
64858 |  | A | Repair sciatic nerve | 16.50 | NA | 10.48 | 3.33 | NA | 30.31 | 090
64859 |  | A | Nerve surgery | 4.26 | NA | 2.13 | 0.67 | NA | 7.06 | ZZZ
64861 |  | A | Repair of arm nerves | 19.25 | NA | 11.42 | 4.08 | NA | 34.75 | 090
64862 |  | A | Repair of low back nerves | 19.45 | NA | 11.75 | 4.31 | NA | 35.50 | 090
64864 |  | A | Repair of facial nerve | 12.56 | NA | 8.49 | 1.26 | NA | 22.31 | 090
64865 |  | A | Repair of facial nerve | 15.25 | NA | 13.11 | 1.50 | NA | 29.86 | 090
64866 |  | A | Fusion of facial/other nerve | 15.75 | NA | 12.78 | 2.04 | NA | 30.57 | 090
64868 |  | A | Fusion of facial/other nerve | 14.05 | NA | 11.16 | 1.43 | NA | 26.64 | 090
64870 |  | A | Fusion of facial/other nerve | 16.00 | NA | 8.55 | 1.30 | NA | 25.85 | 090
64872 |  | A | Subsequent repair of nerve | 1.99 | NA | 1.05 | 0.29 | NA | 3.33 | ZZZ
64874 |  | A | Repair & revise nerve add-on | 2.99 | NA | 1.48 | 0.42 | NA | 4.89 | ZZZ
64876 |  | A | Repair nerve/shorten bone | 3.38 | NA | 1.70 | 0.47 | NA | 5.54 | ZZZ
64885 |  | A | Nerve graft, head or neck | 17.54 | NA | 11.26 | 1.63 | NA | 30.42 | 090
64886 |  | A | Nerve graft, head or neck | 20.76 | NA | 13.11 | 2.08 | NA | 35.96 | 090
64890 |  | A | Nerve graft, hand or foot | 15.16 | NA | 9.71 | 2.29 | NA | 27.16 | 090
64891 |  | A | Nerve graft, hand or foot | 16.15 | NA | 7.41 | 1.63 | NA | 25.19 | 090
64892 |  | A | Nerve graft, arm or leg | 14.66 | NA | 8.65 | 2.47 | NA | 25.78 | 090
64893 |  | A | Nerve graft, arm or leg | 15.61 | NA | 9.60 | 2.61 | NA | 27.82 | 090
64895 |  | A | Nerve graft, hand or foot | 19.26 | NA | 9.45 | 2.57 | NA | 31.27 | 090
64896 |  | A | Nerve graft, hand or foot | 20.50 | NA | 10.93 | 3.16 | NA | 34.59 | 090
64897 |  | A | Nerve graft, arm or leg | 18.25 | NA | 10.41 | 2.54 | NA | 31.20 | 090
64898 |  | A | Nerve graft, arm or leg | 19.51 | NA | 11.53 | 2.77 | NA | 33.80 | 090
64901 |  | A | Nerve graft add-on | 10.22 | NA | 5.09 | 1.37 | NA | 16.68 | ZZZ
64902 |  | A | Nerve graft add-on | 11.83 | NA | 5.76 | 1.55 | NA | 19.15 | ZZZ
64905 |  | A | Nerve pedicle transfer | 14.03 | NA | 8.29 | 2.00 | NA | 24.32 | 090
64907 |  | A | Nerve pedicle transfer | 18.84 | NA | 12.19 | 3.16 | NA | 34.19 | 090
64999 |  | C | Nervous system surgery | 0.00 | 0.00 | 0.00 | 0.00 | 0.00 | 0.00 | YYY
65091 |  | A | Revise eye | 6.46 | NA | 8.01 | 0.32 | NA | 14.79 | 090
65093 |  | A | Revise eye with implant | 6.87 | NA | 8.36 | 0.34 | NA | 15.57 | 090
65101 |  | A | Removal of eye | 7.03 | NA | 9.15 | 0.35 | NA | 16.53 | 090
65103 |  | A | Remove eye/insert implant | 7.58 | NA | 9.37 | 0.37 | NA | 17.31 | 090
65105 |  | A | Remove eye/attach implant | 8.50 | NA | 10.07 | 0.42 | NA | 18.99 | 090
65110 |  | A | Removal of eye | 13.96 | NA | 13.20 | 0.81 | NA | 27.96 | 090
65112 |  | A | Remove eye/revise socket | 16.39 | NA | 15.51 | 1.30 | NA | 33.20 | 090
65114 |  | A | Remove eye/revise socket | 17.54 | NA | 15.76 | 1.02 | NA | 34.31 | 090
65125 |  | A | Revise ocular implant | 3.13 | 8.39 | 3.52 | 0.19 | 11.71 | 6.83 | 090
65130 |  | A | Insert ocular implant | 7.15 | NA | 8.82 | 0.35 | NA | 16.32 | 090
65135 |  | A | Insert ocular implant | 7.33 | NA | 8.96 | 0.36 | NA | 16.65 | 090
65140 |  | A | Attach ocular implant | 8.03 | NA | 9.51 | 0.40 | NA | 17.93 | 090
65150 |  | A | Revise ocular implant | 6.26 | NA | 7.66 | 0.31 | NA | 14.23 | 090
65155 |  | A | Reinsert ocular implant | 8.67 | NA | 10.07 | 0.50 | NA | 19.24 | 090
65175 |  | A | Removal of ocular implant | 6.28 | NA | 8.16 | 0.31 | NA | 14.75 | 090
65205 |  | A | Remove foreign body from eye | 0.71 | 0.63 | 0.28 | 0.03 | 1.37 | 1.02 | 000
65210 |  | A | Remove foreign body from eye | 0.84 | 0.80 | 0.37 | 0.04 | 1.68 | 1.25 | 000
65220 |  | A | Remove foreign body from eye | 0.71 | 0.63 | 0.27 | 0.05 | 1.39 | 1.03 | 000
65222 |  | A | Remove foreign body from eye | 0.93 | 0.87 | 0.37 | 0.04 | 1.85 | 1.34 | 000
65235 |  | A | Remove foreign body from eye | 7.58 | NA | 6.60 | 0.37 | NA | 14.55 | 090
65260 |  | A | Remove foreign body from eye | 10.96 | NA | 9.39 | 0.57 | NA | 20.92 | 090
65265 |  | A | Remove foreign body from eye | 12.60 | NA | 10.34 | 0.62 | NA | 23.56 | 090
65270 |  | A | Repair of eye wound | 1.90 | 4.94 | 1.36 | 0.09 | 6.93 | 3.35 | 010
65272 |  | A | Repair of eye wound | 3.82 | 7.38 | 3.21 | 0.19 | 11.38 | 7.22 | 090
65273 |  | A | Repair of eye wound | 4.36 | NA | 3.49 | 0.22 | NA | 8.07 | 090
65275 |  | A | Repair of eye wound | 5.34 | 6.16 | 3.85 | 0.26 | 11.76 | 9.45 | 090
65280 |  | A | Repair of eye wound | 7.67 | NA | 6.08 | 0.38 | NA | 14.13 | 090
65285 |  | A | Repair of eye wound | 12.91 | NA | 8.99 | 0.64 | NA | 22.54 | 090
65286 |  | A | Repair of eye wound | 5.51 | 10.63 | 4.51 | 0.27 | 16.41 | 10.30 | 090
65290 |  | A | Repair of eye socket wound | 5.41 | NA | 4.61 | 0.31 | NA | 10.33 | 090
65400 |  | A | Removal of eye lesion | 6.06 | 8.08 | 5.99 | 0.30 | 14.45 | 12.35 | 090
65410 |  | A | Biopsy of cornea | 1.47 | 2.03 | 0.95 | 0.07 | 3.57 | 2.49 | 000
65420 |  | A | Removal of eye lesion | 4.17 | 8.48 | 4.35 | 0.21 | 12.86 | 8.73 | 090
65426 |  | A | Removal of eye lesion | 5.25 | 9.74 | 4.82 | 0.25 | 15.24 | 10.32 | 090
65430 |  | A | Corneal smear | 1.47 | 1.26 | 0.96 | 0.07 | 2.80 | 2.50 | 000
65435 |  | A | Curette/treat cornea | 0.92 | 0.98 | 0.70 | 0.04 | 1.94 | 1.66 | 000
65436 |  | A | Curette/treat cornea | 4.19 | 4.00 | 3.60 | 0.21 | 8.40 | 8.00 | 090
65450 |  | A | Treatment of corneal lesion | 3.28 | 3.98 | 3.86 | 0.16 | 7.42 | 7.30 | 090
65600 |  | A | Revision of cornea | 3.40 | 4.85 | 3.28 | 0.17 | 8.42 | 6.85 | 090
65710 |  | A | Corneal transplant | 12.35 | NA | 10.92 | 0.61 | NA | 23.89 | 090
65730 |  | A | Corneal transplant | 14.26 | NA | 11.73 | 0.70 | NA | 26.69 | 090
65750 |  | A | Corneal transplant | 15.01 | NA | 11.67 | 0.74 | NA | 27.42 | 090
65755 |  | A | Corneal transplant | 14.90 | NA | 11.59 | 0.73 | NA | 27.22 | 090
65760 |  | N | Revision of cornea | 0.00 | 0.00 | 0.00 | 0.00 | 0.00 | 0.00 | XXX
65765 |  | N | Revision of cornea | 0.00 | 0.00 | 0.00 | 0.00 | 0.00 | 0.00 | XXX
65767 |  | N | Corneal tissue transplant | 0.00 | 0.00 | 0.00 | 0.00 | 0.00 | 0.00 | XXX
65770 |  | A | Revise cornea with implant | 17.57 | NA | 12.88 | 0.87 | NA | 31.31 | 090
65771 |  | N | Radial keratotomy | 0.00 | 0.00 | 0.00 | 0.00 | 0.00 | 0.00 | XXX
65772 |  | A | Correction of astigmatism | 4.29 | 5.36 | 4.05 | 0.21 | 9.86 | 8.55 | 090
65775 |  | A | Correction of astigmatism | 5.79 | NA | 5.80 | 0.28 | NA | 11.88 | 090
65780 |  | A | Ocular reconst, transplant | 10.25 | NA | 10.04 | 0.44 | NA | 20.73 | 090
65781 |  | A | Ocular reconst, transplant | 17.68 | NA | 13.35 | 0.44 | NA | 31.46 | 090
65782 |  | A | Ocular reconst, transplant | 15.01 | NA | 11.71 | 0.44 | NA | 27.16 | 090
65800 |  | A | Drainage of eye | 1.91 | 1.73 | 1.16 | 0.09 | 3.73 | 3.16 | 000
65805 |  | A | Drainage of eye | 1.91 | 2.09 | 1.17 | 0.09 | 4.10 | 3.17 | 000
65810 |  | A | Drainage of eye | 4.87 | NA | 4.60 | 0.24 | NA | 9.71 | 090
65815 |  | A | Drainage of eye | 5.05 | 9.56 | 4.71 | 0.25 | 14.86 | 10.01 | 090
65820 |  | A | Relieve inner eye pressure | 8.14 | NA | 8.75 | 0.40 | NA | 17.29 | 090
65850 |  | A | Incision of eye | 10.52 | NA | 8.21 | 0.52 | NA | 19.25 | 090
65855 |  | A | Laser surgery of eye | 3.85 | 4.18 | 3.03 | 0.19 | 8.21 | 7.07 | 010
65860 |  | A | Incise inner eye adhesions | 3.55 | 3.92 | 2.45 | 0.18 | 7.64 | 6.17 | 090
65865 |  | A | Incise inner eye adhesions | 5.60 | NA | 5.47 | 0.28 | NA | 11.35 | 090
65870 |  | A | Incise inner eye adhesions | 6.27 | NA | 6.24 | 0.31 | NA | 12.82 | 090
65875 |  | A | Incise inner eye adhesions | 6.54 | NA | 6.61 | 0.32 | NA | 13.48 | 090
65880 |  | A | Incise inner eye adhesions | 7.09 | NA | 6.85 | 0.35 | NA | 14.29 | 090
65900 |  | A | Remove eye lesion | 10.93 | NA | 9.95 | 0.54 | NA | 21.42 | 090
65920 |  | A | Remove implant of eye | 8.41 | NA | 7.96 | 0.41 | NA | 16.78 | 090
65930 |  | A | Remove blood clot from eye | 7.44 | NA | 6.64 | 0.37 | NA | 14.45 | 090
66020 |  | A | Injection treatment of eye | 1.59 | 2.99 | 1.41 | 0.08 | 4.66 | 3.08 | 010
66030 |  | A | Injection treatment of eye | 1.25 | 2.84 | 1.26 | 0.06 | 4.15 | 2.57 | 010
66130 |  | A | Remove eye lesion | 7.70 | 9.24 | 5.49 | 0.38 | 17.31 | 13.56 | 090
66150 |  | A | Glaucoma surgery | 8.31 | NA | 9.16 | 0.46 | NA | 17.93 | 090
66155 |  | A | Glaucoma surgery | 8.30 | NA | 9.11 | 0.41 | NA | 17.81 | 090
66160 |  | A | Glaucoma surgery | 10.17 | NA | 9.93 | 0.50 | NA | 20.60 | 090
66165 |  | A | Glaucoma surgery | 8.02 | NA | 9.01 | 0.40 | NA | 17.42 | 090
66170 |  | A | Glaucoma surgery | 12.16 | NA | 11.92 | 0.60 | NA | 24.68 | 090
66172 |  | A | Incision of eye | 15.05 | NA | 14.84 | 0.74 | NA | 30.63 | 090
66180 |  | A | Implant eye shunt | 14.56 | NA | 10.51 | 0.71 | NA | 25.78 | 090
66185 |  | A | Revise eye shunt | 8.15 | NA | 7.20 | 0.40 | NA | 15.75 | 090
66220 |  | A | Repair eye lesion | 7.78 | NA | 6.93 | 0.40 | NA | 15.11 | 090
66225 |  | A | Repair/graft eye lesion | 11.05 | NA | 8.54 | 0.55 | NA | 20.14 | 090
66250 |  | A | Follow-up surgery of eye | 5.98 | 11.17 | 5.37 | 0.30 | 17.45 | 11.65 | 090
66500 |  | A | Incision of iris | 3.71 | NA | 4.49 | 0.18 | NA | 8.38 | 090
66505 |  | A | Incision of iris | 4.08 | NA | 4.84 | 0.20 | NA | 9.12 | 090
66600 |  | A | Remove iris and lesion | 8.69 | NA | 8.01 | 0.43 | NA | 17.12 | 090
66605 |  | A | Removal of iris | 12.80 | NA | 9.77 | 0.77 | NA | 23.34 | 090
66625 |  | A | Removal of iris | 5.13 | NA | 4.63 | 0.26 | NA | 10.02 | 090
66630 |  | A | Removal of iris | 6.16 | NA | 5.59 | 0.31 | NA | 12.06 | 090
66635 |  | A | Removal of iris | 6.25 | NA | 5.62 | 0.31 | NA | 12.18 | 090
66680 |  | A | Repair iris & ciliary body | 5.44 | NA | 5.15 | 0.27 | NA | 10.86 | 090
66682 |  | A | Repair iris & ciliary body | 6.21 | NA | 6.42 | 0.31 | NA | 12.95 | 090
66700 |  | A | Destruction, ciliary body | 4.78 | 5.20 | 3.87 | 0.24 | 10.21 | 8.88 | 090
66710 |  | A | Ciliary transsleral therapy | 4.78 | 5.03 | 3.77 | 0.23 | 10.04 | 8.78 | 090
66711 |  | A | Ciliary endoscopic ablation | 6.61 | NA | 6.35 | 0.30 | NA | 13.26 | 090
66720 |  | A | Destruction, ciliary body | 4.78 | 5.65 | 4.63 | 0.26 | 10.69 | 9.67 | 090
66740 |  | A | Destruction, ciliary body | 4.78 | 4.96 | 3.89 | 0.23 | 9.97 | 8.90 | 090
6761 |  | A | Revision of iris | 4.07 | 5.44 | 4.23 | 0.20 | 9.70 | 8.49 | 090
66762 |  | A | Revision of iris | 4.58 | 5.49 | 4.20 | 0.23 | 10.30 | 9.01 | 090
66770 |  | A | Removal of inner eye lesion | 5.18 | 5.91 | 4.70 | 0.26 | 11.35 | 10.14 | 090
66820 |  | A | Incision, secondary cataract | 3.89 | NA | 5.58 | 0.19 | NA | 9.66 | 090
66821 |  | A | After cataract laser surgery | 2.35 | 3.97 | 3.52 | 0.11 | 6.44 | 5.98 | 090
66825 |  | A | Reposition intraocular lens | 8.24 | NA | 8.76 | 0.40 | NA | 17.40 | 090
66830 |  | A | Removal of lens lesion | 8.21 | NA | 6.80 | 0.36 | NA | 15.36 | 090
66840 |  | A | Removal of lens material | 7.92 | NA | 6.71 | 0.39 | NA | 15.01 | 090
66850 |  | A | Removal of lens material | 9.12 | NA | 7.47 | 0.45 | NA | 17.04 | 090
66852 |  | A | Removal of lens material | 9.98 | NA | 7.92 | 0.49 | NA | 18.39 | 090
66920 |  | A | Extraction of lens | 8.87 | NA | 7.13 | 0.44 | NA | 16.44 | 090
66930 |  | A | Extraction of lens | 10.18 | NA | 7.96 | 0.49 | NA | 18.63 | 090
66940 |  | A | Extraction of lens | 8.94 | NA | 7.43 | 0.43 | NA | 16.80 | 090
66982 |  | A | Cataract surgery, complex | 13.51 | NA | 9.65 | 0.63 | NA | 23.79 | 090
66983 |  | A | Cataract surg w/iol, 1 stage | 9.00 | NA | 6.09 | 0.14 | NA | 15.23 | 090
66984 |  | A | Cataract surg w/iol, 1 stage | 10.23 | NA | 7.27 | 0.39 | NA | 17.89 | 090
66985 |  | A | Insert lens prosthesis | 8.40 | NA | 7.30 | 0.36 | NA | 16.06 | 090
66986 |  | A | Exchange lens prosthesis | 12.28 | NA | 8.98 | 0.60 | NA | 21.86 | 090
66990 |  | A | Ophthalmic endoscope add-on | 1.51 | NA | 0.67 | 0.07 | NA | 2.26 | ZZZ
66999 |  | C | Eye surgery procedure | 0.00 | 0.00 | 0.00 | 0.00 | 0.00 | 0.00 | YYY
67005 |  | A | Partial removal of eye fluid | 5.70 | NA | 4.77 | 0.28 | NA | 10.75 | 090
67010 |  | A | Partial removal of eye fluid | 6.87 | NA | 5.30 | 0.34 | NA | 12.52 | 090
67015 |  | A | Release of eye fluid | 6.92 | NA | 6.29 | 0.34 | NA | 13.55 | 090
67025 |  | A | Replace eye fluid | 6.84 | 8.89 | 6.09 | 0.34 | 16.08 | 13.27 | 090
67027 |  | A | Implant eye drug system | 10.85 | NA | 7.82 | 0.54 | NA | 19.21 | 090
67028 |  | A | Injection eye drug | 2.53 | 2.60 | 1.43 | 0.12 | 5.25 | 4.08 | 000
67030 |  | A | Incise inner eye strands | 4.84 | NA | 5.70 | 0.24 | NA | 10.78 | 090
67031 |  | A | Laser surgery, eye strands | 3.67 | 4.46 | 3.56 | 0.18 | 8.31 | 7.41 | 090
67036 |  | A | Removal of inner eye fluid | 11.89 | NA | 8.91 | 0.58 | NA | 21.38 | 090
67038 |  | A | Strip retinal membrane | 21.25 | NA | 15.11 | 1.04 | NA | 37.40 | 090
67039 |  | A | Laser treatment of retina | 14.53 | NA | 11.87 | 0.71 | NA | 27.11 | 090
67040 |  | A | Laser treatment of retina | 17.23 | NA | 13.34 | 0.85 | NA | 31.43 | 090
67101 |  | A | Repair detached retina | 7.54 | 8.91 | 6.39 | 0.37 | 16.81 | 14.30 | 090
67105 |  | A | Repair detached retina | 7.41 | 7.88 | 6.02 | 0.37 | 15.67 | 13.80 | 090
67107 |  | A | Repair detached retina | 14.85 | NA | 11.06 | 0.73 | NA | 26.64 | 090
67108 |  | A | Repair detached retina | 20.83 | NA | 14.10 | 1.02 | NA | 35.95 | 090
67110 |  | A | Repair detached retina | 8.82 | 9.91 | 7.23 | 0.44 | 19.16 | 16.49 | 090
67112 |  | A | Rerepair detached retina | 16.86 | NA | 11.54 | 0.83 | NA | 29.24 | 090
67115 |  | A | Release encircling material | 4.99 | NA | 4.97 | 0.25 | NA | 10.21 | 090
67120 |  | A | Remove eye implant material | 5.98 | 8.27 | 5.42 | 0.29 | 14.54 | 11.69 | 090
67121 |  | A | Remove eye implant material | 10.67 | NA | 8.34 | 0.53 | NA | 19.54 | 090
67141 |  | A | Treatment of retina | 5.20 | 5.70 | 4.76 | 0.26 | 11.16 | 10.22 | 090
67145 |  | A | Treatment of retina | 5.37 | 5.58 | 4.83 | 0.27 | 11.22 | 10.47 | 090
67208 |  | A | Treatment of retinal lesion | 6.70 | 5.98 | 5.40 | 0.33 | 13.01 | 12.43 | 090
67210 |  | A | Treatment of retinal lesion | 8.83 | 6.41 | 5.75 | 0.44 | 15.68 | 15.02 | 090
67218 |  | A | Treatment of retinal lesion | 18.54 | NA | 11.83 | 0.92 | NA | 31.29 | 090
67220 |  | A | Treatment of choroid lesion | 13.14 | 10.16 | 8.81 | 0.65 | 23.94 | 22.60 | 090
67221 |  | R | Ocular photodynamic ther | 4.01 | 4.15 | 1.79 | 0.20 | 8.35 | 6.00 | 000
67225 |  | A | Eye photodynamic ther add-on | 0.47 | 0.25 | 0.21 | 0.02 | 0.74 | 0.70 | ZZZ
67227 |  | A | Treatment of retinal lesion | 6.58 | 6.42 | 5.40 | 0.33 | 13.33 | 12.32 | 090
67228 |  | A | Treatment of retinal lesion | 12.75 | 11.17 | 8.35 | 0.63 | 24.54 | 21.73 | 090
67250 |  | A | Reinforce eye wall | 8.67 | NA | 8.85 | 0.47 | NA | 17.98 | 090
67255 |  | A | Reinforce/graft eye wall | 8.91 | NA | 9.54 | 0.44 | NA | 18.89 | 090
67299 |  | C | Eye surgery procedure | 0.00 | 0.00 | 0.00 | 0.00 | 0.00 | 0.00 | YYY
67311 |  | A | Revise eye muscle | 6.65 | NA | 5.88 | 0.37 | NA | 12.91 | 090
67312 |  | A | Revise two eye muscles | 8.55 | NA | 6.60 | 0.43 | NA | 15.58 | 090
67314 |  | A | Revise eye muscle | 7.53 | NA | 6.41 | 0.39 | NA | 14.32 | 090
67316 |  | A | Revise two eye muscles | 9.67 | NA | 7.33 | 0.49 | NA | 17.49 | 090
67318 |  | A | Revise eye muscle(s) | 7.86 | NA | 6.78 | 0.41 | NA | 15.05 | 090
67320 |  | A | Revise eye muscle(s) add-on | 4.33 | NA | 1.90 | 0.22 | NA | 6.45 | ZZZ
67331 |  | A | Eye surgery follow-up add-on | 4.06 | NA | 1.79 | 0.21 | NA | 6.05 | ZZZ
67332 |  | A | Rerevise eye muscles add-on | 4.49 | NA | 1.97 | 0.23 | NA | 6.69 | ZZZ
67334 |  | A | Revise eye muscle w/suture | 3.98 | NA | 1.75 | 0.20 | NA | 5.93 | ZZZ
67335 |  | A | Eye suture during surgery | 2.49 | NA | 1.09 | 0.13 | NA | 3.72 | ZZZ
67340 |  | A | Revise eye muscle add-on | 4.93 | NA | 2.15 | 0.25 | NA | 7.33 | ZZZ
67343 |  | A | Release eye tissue | 7.35 | NA | 6.37 | 0.37 | NA | 14.09 | 090
67345 |  | A | Destroy nerve of eye muscle | 2.97 | 2.52 | 1.97 | 0.17 | 5.65 | 5.10 | 010
67350 |  | A | Biopsy eye muscle | 2.88 | NA | 1.84 | 0.15 | NA | 4.86 | 000
67399 |  | C | Eye muscle surgery procedure | 0.00 | 0.00 | 0.00 | 0.00 | 0.00 | 0.00 | YYY
67400 |  | A | Explore/biopsy eye socket | 9.77 | NA | 10.83 | 0.56 | NA | 21.16 | 090
67405 |  | A | Explore/drain eye socket | 7.94 | NA | 9.42 | 0.44 | NA | 17.80 | 090
67412 |  | A | Explore/treat eye socket | 9.51 | NA | 10.47 | 0.48 | NA | 20.46 | 090
67413 |  | A | Explore/treat eye socket | 10.01 | NA | 10.36 | 0.50 | NA | 20.87 | 090
67414 |  | A | Explr/decompress eye socket | 11.13 | NA | 11.56 | 0.65 | NA | 23.34 | 090
67415 |  | A | Aspiration, orbital contents | 1.76 | NA | 0.74 | 0.09 | NA | 2.60 | 000
67420 |  | A | Explore/treat eye socket | 20.07 | NA | 16.76 | 1.15 | NA | 37.98 | 090
67430 |  | A | Explore/treat eye socket | 13.40 | NA | 14.29 | 0.86 | NA | 28.55 | 090
67440 |  | A | Explore/drain eye socket | 13.10 | NA | 13.73 | 0.70 | NA | 27.52 | 090
67445 |  | A | Explr/decompress eye socket | 14.43 | NA | 13.40 | 0.90 | NA | 28.73 | 090
67450 |  | A | Explore/biopsy eye socket | 13.52 | NA | 14.17 | 0.68 | NA | 28.36 | 090
67500 |  | A | Inject/treat eye socket | 0.79 | 0.65 | 0.28 | 0.05 | 1.49 | 1.12 | 000
67505 |  | A | Inject/treat eye socket | 0.82 | 0.67 | 0.30 | 0.05 | 1.54 | 1.17 | 000
67515 |  | A | Inject/treat eye socket | 0.61 | 0.57 | 0.37 | 0.03 | 1.21 | 1.01 | 000
67550 |  | A | Insert eye socket implant | 10.19 | NA | 10.89 | 0.72 | NA | 21.80 | 090
67560 |  | A | Revise eye socket implant | 10.60 | NA | 10.97 | 0.60 | NA | 22.17 | 090
67570 |  | A | Decompress optic nerve | 13.59 | NA | 13.08 | 0.68 | NA | 27.35 | 090
67599 |  | C | Orbit surgery procedure | 0.00 | 0.00 | 0.00 | 0.00 | 0.00 | 0.00 | YYY
67700 |  | A | Drainage of eyelid abscess | 1.35 | 5.70 | 1.24 | 0.07 | 7.12 | 2.66 | 010
67710 |  | A | Incision of eyelid | 1.02 | 5.07 | 1.18 | 0.05 | 6.14 | 2.25 | 010
67715 |  | A | Incision of eyelid fold | 1.22 | 5.09 | 1.26 | 0.06 | 6.37 | 2.54 | 010
67800 |  | A | Remove eyelid lesion | 1.38 | 1.58 | 1.02 | 0.07 | 3.03 | 2.47 | 010
67801 |  | A | Remove eyelid lesions | 1.88 | 1.91 | 1.23 | 0.09 | 3.89 | 3.21 | 010
67805 |  | A | Remove eyelid lesions | 2.22 | 2.46 | 1.61 | 0.11 | 4.79 | 3.95 | 010
67808 |  | A | Remove eyelid lesion(s) | 3.80 | NA | 3.69 | 0.19 | NA | 7.68 | 090
67810 |  | A | Biopsy of eyelid | 1.48 | 3.44 | 0.67 | 0.06 | 4.98 | 2.22 | 000
67820 |  | A | Revise eyelashes | 0.89 | 0.59 | 0.56 | 0.04 | 1.52 | 1.49 | 000
67825 |  | A | Revise eyelashes | 1.38 | 1.67 | 1.38 | 0.07 | 3.13 | 2.84 | 010
67830 |  | A | Revise eyelashes | 1.70 | 5.26 | 1.47 | 0.08 | 7.04 | 3.25 | 010
67835 |  | A | Revise eyelashes | 5.56 | NA | 4.52 | 0.28 | NA | 10.36 | 090
67840 |  | A | Remove eyelid lesion | 2.04 | 5.22 | 1.62 | 0.10 | 7.37 | 3.76 | 010
67850 |  | A | Treat eyelid lesion | 1.69 | 3.41 | 1.45 | 0.07 | 5.17 | 3.21 | 010
67875 |  | A | Closure of eyelid by suture | 1.35 | 3.13 | 0.92 | 0.07 | 4.56 | 2.35 | 000
67880 |  | A | Revision of eyelid | 3.80 | 6.35 | 3.71 | 0.19 | 10.34 | 7.70 | 090
67882 |  | A | Revision of eyelid | 5.07 | 7.35 | 4.70 | 0.25 | 12.67 | 10.02 | 090
67900 |  | A | Repair brow defect | 6.14 | 8.72 | 5.11 | 0.38 | 15.24 | 11.63 | 090
67901 |  | A | Repair eyelid defect | 6.97 | NA | 5.26 | 0.51 | NA | 12.74 | 090
67902 |  | A | Repair eyelid defect | 7.03 | NA | 5.32 | 0.45 | NA | 12.80 | 090
67903 |  | A | Repair eyelid defect | 6.37 | 9.07 | 5.33 | 0.47 | 15.92 | 12.17 | 090
67904 |  | A | Repair eyelid defect | 6.26 | 9.25 | 5.11 | 0.41 | 15.92 | 11.78 | 090
67906 |  | A | Repair eyelid defect | 6.79 | NA | 4.92 | 0.46 | NA | 12.17 | 090
67908 |  | A | Repair eyelid defect | 5.13 | 6.41 | 5.19 | 0.28 | 11.82 | 10.60 | 090
67909 |  | A | Revise eyelid defect | 5.40 | 7.70 | 4.82 | 0.31 | 13.41 | 10.53 | 090
67911 |  | A | Revise eyelid defect | 5.27 | NA | 4.66 | 0.31 | NA | 10.24 | 090
67912 |  | A | Correction eyelid w/implant | 5.68 | 17.75 | 5.37 | 0.28 | 23.71 | 11.33 | 090
67914 |  | A | Repair eyelid defect | 3.68 | 6.06 | 2.99 | 0.19 | 9.92 | 6.85 | 090
67915 |  | A | Repair eyelid defect | 3.19 | 5.70 | 2.74 | 0.16 | 9.05 | 6.09 | 090
67916 |  | A | Repair eyelid defect | 5.31 | 7.74 | 4.65 | 0.28 | 13.33 | 10.24 | 090
67917 |  | A | Repair eyelid defect | 6.02 | 8.14 | 4.95 | 0.36 | 14.52 | 11.33 | 090
67921 |  | A | Repair eyelid defect | 3.40 | 5.91 | 2.83 | 0.17 | 9.48 | 6.40 | 090
67922 |  | A | Repair eyelid defect | 3.07 | 5.63 | 2.70 | 0.15 | 8.84 | 5.91 | 090
67923 |  | A | Repair eyelid defect | 5.88 | 7.82 | 4.86 | 0.30 | 14.00 | 11.04 | 090
67924 |  | A | Repair eyelid defect | 5.79 | 8.56 | 4.58 | 0.30 | 14.65 | 10.67 | 090
67930 |  | A | Repair eyelid wound | 3.61 | 5.47 | 2.12 | 0.19 | 9.26 | 5.91 | 010
67935 |  | A | Repair eyelid wound | 6.22 | 8.21 | 4.28 | 0.39 | 14.82 | 10.89 | 090
67938 |  | A | Remove eyelid foreign body | 1.33 | 5.11 | 1.24 | 0.06 | 6.50 | 2.63 | 010
67950 |  | A | Revision of eyelid | 5.82 | 8.28 | 5.07 | 0.36 | 14.46 | 11.25 | 090
67961 |  | A | Revision of eyelid | 5.69 | 8.35 | 4.90 | 0.33 | 14.37 | 10.92 | 090
67966 |  | A | Revision of eyelid | 6.57 | 8.78 | 5.41 | 0.37 | 15.72 | 12.35 | 090
67971 |  | A | Reconstruction of eyelid | 9.80 | NA | 7.11 | 0.53 | NA | 17.44 | 090
67973 |  | A | Reconstruction of eyelid | 12.88 | NA | 9.07 | 0.75 | NA | 22.69 | 090
67974 |  | A | Reconstruction of eyelid | 12.85 | NA | 9.00 | 0.75 | NA | 22.59 | 090
67975 |  | A | Reconstruction of eyelid | 9.14 | NA | 6.79 | 0.50 | NA | 16.43 | 090
67999 |  | C | Revision of eyelid | 0.00 | 0.00 | 0.00 | 0.00 | 0.00 | 0.00 | YYY
68020 |  | A | Incise/drain eyelid lining | 1.37 | 1.38 | 1.18 | 0.06 | 2.81 | 2.62 | 010
68040 |  | A | Treatment of eyelid lesions | 0.85 | 0.69 | 0.42 | 0.04 | 1.59 | 1.31 | 000
68100 |  | A | Biopsy of eyelid lining | 1.35 | 3.09 | 0.93 | 0.07 | 4.51 | 2.36 | 000
68110 |  | A | Remove eyelid lining lesion | 1.77 | 3.91 | 1.62 | 0.09 | 5.78 | 3.48 | 010
68115 |  | A | Remove eyelid lining lesion | 2.36 | 5.67 | 1.87 | 0.12 | 8.15 | 4.36 | 010
68130 |  | A | Remove eyelid lining lesion | 4.93 | 8.34 | 4.50 | 0.24 | 13.51 | 9.67 | 090
68135 |  | A | Remove eyelid lining lesion | 1.84 | 1.77 | 1.62 | 0.09 | 3.70 | 3.55 | 010
68200 |  | A | Treat eyelid by injection | 0.49 | 0.52 | 0.32 | 0.02 | 1.03 | 0.83 | 000
68320 |  | A | Revise/graft eyelid lining | 5.37 | 10.81 | 5.41 | 0.27 | 16.45 | 11.05 | 090
68325 |  | A | Revise/graft eyelid lining | 7.36 | NA | 6.39 | 0.44 | NA | 14.19 | 090
68326 |  | A | Revise/graft eyelid lining | 7.15 | NA | 6.27 | 0.35 | NA | 13.77 | 090
68328 |  | A | Revise/graft eyelid lining | 8.19 | NA | 7.08 | 0.54 | NA | 15.81 | 090
68330 |  | A | Revise eyelid lining | 4.83 | 9.00 | 4.62 | 0.24 | 14.07 | 9.69 | 090
68335 |  | A | Revise/graft eyelid lining | 7.19 | NA | 6.24 | 0.36 | NA | 13.80 | 090
68340 |  | A | Separate eyelid adhesions | 4.17 | 8.47 | 4.02 | 0.21 | 12.85 | 8.39 | 090
68360 |  | A | Revise eyelid lining | 4.37 | 7.70 | 4.10 | 0.22 | 12.29 | 8.68 | 090
68362 |  | A | Revise eyelid lining | 7.34 | NA | 6.27 | 0.36 | NA | 13.97 | 090
68371 |  | A | Harvest eye tissue, alograft | 4.90 | NA | 4.61 | 0.44 | NA | 9.95 | 010
68399 |  | C | Eyelid lining surgery | 0.00 | 0.00 | 0.00 | 0.00 | 0.00 | 0.00 | YYY
68400 |  | A | Incise/drain tear gland | 1.69 | 5.61 | 1.72 | 0.08 | 7.38 | 3.49 | 010
68420 |  | A | Incise/drain tear sac | 2.30 | 5.90 | 1.99 | 0.11 | 8.31 | 4.40 | 010
68440 |  | A | Incise tear duct opening | 0.94 | 1.93 | 1.24 | 0.05 | 2.92 | 2.23 | 010
68500 |  | A | Removal of tear gland | 11.02 | NA | 9.45 | 0.55 | NA | 21.02 | 090
68505 |  | A | Partial removal, tear gland | 10.94 | NA | 10.29 | 0.55 | NA | 21.78 | 090
68510 |  | A | Biopsy of tear gland | 4.61 | 6.97 | 2.13 | 0.23 | 11.81 | 6.97 | 000
68520 |  | A | Removal of tear sac | 7.52 | NA | 7.21 | 0.37 | NA | 15.09 | 090
68525 |  | A | Biopsy of tear sac | 4.43 | NA | 1.97 | 0.22 | NA | 6.62 | 000
68530 |  | A | Clearance of tear duct | 3.66 | 7.71 | 2.55 | 0.18 | 11.55 | 6.39 | 010
68540 |  | A | Remove tear gland lesion | 10.60 | NA | 9.14 | 0.52 | NA | 20.26 | 090
68550 |  | A | Remove tear gland lesion | 13.27 | NA | 11.03 | 0.80 | NA | 25.09 | 090
68700 |  | A | Repair tear ducts | 6.60 | NA | 5.84 | 0.32 | NA | 12.76 | 090
68705 |  | A | Revise tear duct opening | 2.06 | 3.97 | 1.75 | 0.10 | 6.13 | 3.92 | 010
68720 |  | A | Create tear sac drain | 8.97 | NA | 7.65 | 0.44 | NA | 17.05 | 090
68745 |  | A | Create tear duct drain | 8.64 | NA | 7.65 | 0.52 | NA | 16.80 | 090
68750 |  | A | Create tear duct drain | 8.67 | NA | 8.04 | 0.43 | NA | 17.14 | 090
68760 |  | A | Close tear duct opening | 1.73 | 3.37 | 1.60 | 0.09 | 5.19 | 3.42 | 010
68761 |  | A | Close tear duct opening | 1.36 | 2.19 | 1.31 | 0.06 | 3.62 | 2.73 | 010
68770 |  | A | Close tear system fistula | 7.02 | NA | 3.78 | 0.35 | NA | 11.15 | 090
68801 |  | A | Dilate tear duct opening | 0.94 | 1.90 | 1.46 | 0.05 | 2.89 | 2.45 | 010
68810 |  | A | Probe nasolacrimal duct | 1.90 | 3.55 | 2.62 | 0.10 | 5.56 | 4.62 | 010
68811 |  | A | Probe nasolacrimal duct | 2.35 | NA | 2.35 | 0.13 | NA | 4.84 | 010
68815 |  | A | Probe nasolacrimal duct | 3.21 | 7.87 | 2.75 | 0.17 | 11.25 | 6.12 | 010
68840 |  | A | Explore/irrigate tear ducts | 1.25 | 1.55 | 1.11 | 0.06 | 2.86 | 2.42 | 010
68850 |  | A | Injection for tear sac x-ray | 0.80 | 0.87 | 0.71 | 0.04 | 1.71 | 1.55 | 000
68899 |  | C | Tear duct system surgery | 0.00 | 0.00 | 0.00 | 0.00 | 0.00 | 0.00 | YYY
69000 |  | A | Drain external ear lesion | 1.45 | 2.83 | 1.32 | 0.12 | 4.41 | 2.90 | 010
69005 |  | A | Drain external ear lesion | 2.11 | 2.90 | 1.79 | 0.17 | 5.18 | 4.07 | 010
69020 |  | A | Drain outer ear canal lesion | 1.48 | 3.93 | 2.00 | 0.12 | 5.54 | 3.60 | 010
69090 |  | N | Pierce earlobes | 0.00 | 0.00 | 0.00 | 0.00 | 0.00 | 0.00 | XXX
69100 |  | A | Biopsy of external ear | 0.81 | 1.76 | 0.41 | 0.03 | 2.61 | 1.25 | 000
69105 |  | A | Biopsy of external ear canal | 0.85 | 2.35 | 0.76 | 0.07 | 3.27 | 1.68 | 000
69110 |  | A | Remove external ear, partial | 3.44 | 7.01 | 4.35 | 0.30 | 10.75 | 8.09 | 090
69120 |  | A | Removal of external ear | 4.05 | NA | 5.99 | 0.38 | NA | 10.42 | 090
69140 |  | A | Remove ear canal lesion(s) | 7.98 | NA | 13.09 | 0.65 | NA | 21.72 | 090
69145 |  | A | Remove ear canal lesion(s) | 2.63 | 5.85 | 3.28 | 0.21 | 8.68 | 6.11 | 090
69150 |  | A | Extensive ear canal surgery | 13.44 | NA | 13.05 | 1.22 | NA | 27.71 | 090
69155 |  | A | Extensive ear/neck surgery | 20.81 | NA | 19.00 | 1.92 | NA | 41.73 | 090
69200 |  | A | Clear outer ear canal | 0.77 | 2.30 | 0.54 | 0.06 | 3.13 | 1.37 | 000
69205 |  | A | Clear outer ear canal | 1.20 | NA | 1.34 | 0.10 | NA | 2.64 | 010
69210 |  | A | Remove impacted ear wax | 0.61 | 0.62 | 0.22 | 0.05 | 1.28 | 0.88 | 000
69220 |  | A | Clean out mastoid cavity | 0.83 | 2.34 | 0.72 | 0.07 | 3.24 | 1.62 | 000
69222 |  | A | Clean out mastoid cavity | 1.40 | 3.80 | 2.01 | 0.12 | 5.32 | 3.53 | 010
69300 |  | R | Revise external ear | 6.36 | 0.00 | 4.43 | 0.72 | 7.08 | 11.51 | YYY
69310 |  | A | Rebuild outer ear canal | 10.79 | NA | 15.97 | 0.85 | NA | 27.61 | 090
69320 |  | A | Rebuild outer ear canal | 16.96 | NA | 21.39 | 1.37 | NA | 39.72 | 090
69399 |  | C | Outer ear surgery procedure | 0.00 | 0.00 | 0.00 | 0.00 | 0.00 | 0.00 | YYY
69400 |  | A | Inflate middle ear canal | 0.83 | 2.20 | 0.67 | 0.07 | 3.11 | 1.57 | 000
69401 |  | A | Inflate middle ear canal | 0.63 | 1.27 | 0.64 | 0.05 | 1.95 | 1.32 | 000
69405 |  | A | Catheterize middle ear canal | 2.64 | 3.49 | 2.26 | 0.21 | 6.33 | 5.10 | 010
69410 |  | A | Inset middle ear (baffle) | 0.33 | 2.06 | 0.48 | 0.03 | 2.42 | 0.84 | 000
69420 |  | A | Incision of eardrum | 1.33 | 3.12 | 1.57 | 0.11 | 4.56 | 3.01 | 010
69421 |  | A | Incision of eardrum | 1.73 | NA | 2.10 | 0.15 | NA | 3.98 | 010
69424 |  | A | Remove ventilating tube | 0.85 | 2.16 | 0.67 | 0.07 | 3.09 | 1.60 | 000
69433 |  | A | Create eardrum opening | 1.52 | 3.07 | 1.62 | 0.13 | 4.72 | 3.27 | 010
69436 |  | A | Create eardrum opening | 1.96 | NA | 2.22 | 0.19 | NA | 4.37 | 010
69440 |  | A | Exploration of middle ear | 7.58 | NA | 8.74 | 0.61 | NA | 16.93 | 090
69450 |  | A | Eardrum revision | 5.57 | NA | 7.04 | 0.45 | NA | 13.06 | 090
69501 |  | A | Mastoidectomy | 9.08 | NA | 8.89 | 0.73 | NA | 18.70 | 090
69502 |  | A | Mastoidectomy | 12.38 | NA | 11.46 | 1.00 | NA | 24.85 | 090
69505 |  | A | Remove mastoid structures | 13.00 | NA | 16.86 | 1.05 | NA | 30.90 | 090
69511 |  | A | Extensive mastoid surgery | 13.53 | NA | 17.13 | 1.09 | NA | 31.75 | 090
69530 |  | A | Extensive mastoid surgery | 19.20 | NA | 21.15 | 1.54 | NA | 41.89 | 090
69535 |  | A | Remove part of temporal bone | 36.16 | NA | 31.12 | 2.92 | NA | 70.20 | 090
69540 |  | A | Remove ear lesion | 1.20 | 3.69 | 1.93 | 0.10 | 4.99 | 3.23 | 010
69550 |  | A | Remove ear lesion | 10.99 | NA | 14.61 | 0.89 | NA | 26.49 | 090
69552 |  | A | Remove ear lesion | 19.47 | NA | 20.18 | 1.59 | NA | 41.23 | 090
69554 |  | A | Remove ear lesion | 33.18 | NA | 29.40 | 2.91 | NA | 65.48 | 090
69601 |  | A | Mastoid surgery revision | 13.25 | NA | 12.52 | 1.07 | NA | 26.84 | 090
69602 |  | A | Mastoid surgery revision | 13.59 | NA | 13.10 | 1.10 | NA | 27.79 | 090
69603 |  | A | Mastoid surgery revision | 14.03 | NA | 17.92 | 1.14 | NA | 33.08 | 090
69604 |  | A | Mastoid surgery revision | 14.03 | NA | 13.49 | 1.14 | NA | 28.66 | 090
69605 |  | A | Mastoid surgery revision | 18.50 | NA | 20.72 | 1.50 | NA | 40.71 | 090
69610 |  | A | Repair of eardrum | 4.43 | 5.43 | 3.19 | 0.36 | 10.22 | 7.98 | 010
69620 |  | A | Repair of eardrum | 5.89 | 10.93 | 6.17 | 0.48 | 17.30 | 12.54 | 090
69631 |  | A | Repair eardrum structures | 9.87 | NA | 11.14 | 0.80 | NA | 21.81 | 090
69632 |  | A | Rebuild eardrum structures | 12.76 | NA | 13.35 | 1.03 | NA | 27.14 | 090
69633 |  | A | Rebuild eardrum structures | 12.10 | NA | 12.97 | 0.98 | NA | 26.05 | 090
69635 |  | A | Repair eardrum structures | 13.34 | NA | 16.44 | 1.08 | NA | 30.86 | 090
69636 |  | A | Rebuild eardrum structures | 15.23 | NA | 18.98 | 1.23 | NA | 35.44 | 090
69637 |  | A | Rebuild eardrum structures | 15.12 | NA | 18.91 | 1.22 | NA | 35.25 | 090
69641 |  | A | Revise middle ear & mastoid | 12.72 | NA | 12.67 | 1.03 | NA | 26.41 | 090
69642 |  | A | Revise middle ear & mastoid | 16.84 | NA | 16.10 | 1.36 | NA | 34.30 | 090
69643 |  | A | Revise middle ear & mastoid | 15.33 | NA | 14.66 | 1.24 | NA | 31.23 | 090
69644 |  | A | Revise middle ear & mastoid | 16.97 | NA | 20.00 | 1.37 | NA | 38.35 | 090
69645 |  | A | Revise middle ear & mastoid | 16.39 | NA | 19.64 | 1.33 | NA | 37.36 | 090
69646 |  | A | Revise middle ear & mastoid | 18.00 | NA | 20.38 | 1.46 | NA | 39.83 | 090
69650 |  | A | Release middle ear bone | 9.67 | NA | 9.84 | 0.78 | NA | 20.29 | 090
69660 |  | A | Revise middle ear bone | 11.90 | NA | 11.04 | 0.96 | NA | 23.91 | 090
69661 |  | A | Revise middle ear bone | 15.75 | NA | 14.47 | 1.27 | NA | 31.49 | 090
69662 |  | A | Revise middle ear bone | 15.45 | NA | 13.54 | 1.25 | NA | 30.24 | 090
69666 |  | A | Repair middle ear structures | 9.76 | NA | 9.90 | 0.79 | NA | 20.45 | 090
69667 |  | A | Repair middle ear structures | 9.77 | NA | 9.90 | 0.79 | NA | 20.46 | 090
69670 |  | A | Remove mastoid air cells | 11.51 | NA | 11.57 | 0.93 | NA | 24.01 | 090
69676 |  | A | Remove middle ear nerve | 9.53 | NA | 10.65 | 0.81 | NA | 20.99 | 090
69700 |  | A | Close mastoid fistula | 8.24 | NA | 9.06 | 0.67 | NA | 17.97 | 090
69710 |  | N | Implant/replace hearing aid | 0.00 | 0.00 | 0.00 | 0.00 | 0.00 | 0.00 | XXX
69711 |  | A | Remove/repair hearing aid | 10.44 | NA | 10.65 | 0.83 | NA | 21.92 | 090
69714 |  | A | Implant temple bone w/stimul | 14.01 | NA | 12.46 | 1.13 | NA | 27.60 | 090
69715 |  | A | Temple bne implnt w/stimulat | 18.26 | NA | 14.75 | 1.48 | NA | 34.49 | 090
69717 |  | A | Temple bone implant revision | 14.99 | NA | 14.01 | 0.90 | NA | 29.90 | 090
69718 |  | A | Revise temple bone implant | 18.51 | NA | 14.97 | 3.21 | NA | 36.69 | 090
69720 |  | A | Release facial nerve | 14.39 | NA | 14.34 | 1.16 | NA | 29.89 | 090
69725 |  | A | Release facial nerve | 25.39 | NA | 19.77 | 2.44 | NA | 47.60 | 090
69740 |  | A | Repair facial nerve | 15.97 | NA | 13.13 | 1.27 | NA | 30.37 | 090
69745 |  | A | Repair facial nerve | 16.69 | NA | 14.67 | 1.14 | NA | 32.50 | 090
69799 |  | C | Middle ear surgery procedure | 0.00 | 0.00 | 0.00 | 0.00 | 0.00 | 0.00 | YYY
69801 |  | A | Incise inner ear | 8.57 | NA | 9.41 | 0.69 | NA | 18.67 | 090
69802 |  | A | Incise inner ear | 13.11 | NA | 12.21 | 1.06 | NA | 26.37 | 090
69805 |  | A | Explore inner ear | 13.83 | NA | 11.70 | 1.12 | NA | 26.64 | 090
69806 |  | A | Explore inner ear | 12.35 | NA | 10.92 | 1.00 | NA | 24.27 | 090
69820 |  | A | Establish inner ear window | 10.34 | NA | 11.04 | 0.90 | NA | 22.28 | 090
69840 |  | A | Revise inner ear window | 10.26 | NA | 12.73 | 0.79 | NA | 23.78 | 090
69905 |  | A | Remove inner ear | 11.10 | NA | 11.23 | 0.90 | NA | 23.23 | 090
69910 |  | A | Remove inner ear & mastoid | 13.64 | NA | 11.72 | 1.07 | NA | 26.42 | 090
69915 |  | A | Incise inner ear nerve | 21.24 | NA | 16.16 | 1.69 | NA | 39.09 | 090
69930 |  | A | Implant cochlear device | 16.81 | NA | 14.44 | 1.36 | NA | 32.61 | 090
69949 |  | C | Inner ear surgery procedure | 0.00 | 0.00 | 0.00 | 0.00 | 0.00 | 0.00 | YYY
69950 |  | A | Incise inner ear nerve | 25.65 | NA | 18.47 | 2.28 | NA | 46.40 | 090
69955 |  | A | Release facial nerve | 27.05 | NA | 20.91 | 2.48 | NA | 50.45 | 090
69960 |  | A | Release inner ear canal | 27.05 | NA | 19.59 | 2.17 | NA | 48.81 | 090
69970 |  | A | Remove inner ear lesion | 30.05 | NA | 22.69 | 2.41 | NA | 55.15 | 090
69979 |  | C | Temporal bone surgery | 0.00 | 0.00 | 0.00 | 0.00 | 0.00 | 0.00 | YYY
69990 |  | R | Microsurgery add-on | 3.47 | NA | 1.74 | 0.89 | NA | 6.09 | ZZZ
70010 |  | A | Contrast x-ray of brain | 1.19 | 4.33 | NA | 0.27 | 5.79 | NA | XXX
70010 | 26 | A | Contrast x-ray of brain | 1.19 | 0.41 | 0.41 | 0.05 | 1.65 | 1.65 | XXX
70010 | TC | A | Contrast x-ray of brain | 0.00 | 3.92 | NA | 0.22 | 4.14 | NA | XXX
70015 |  | A | Contrast x-ray of brain | 1.19 | 2.34 | NA | 0.16 | 3.70 | NA | XXX
70015 | 26 | A | Contrast x-ray of brain | 1.19 | 0.41 | 0.41 | 0.08 | 1.68 | 1.68 | XXX
70015 | TC | A | Contrast x-ray of brain | 0.00 | 1.94 | NA | 0.08 | 2.02 | NA | XXX
70030 |  | A | X-ray eye for foreign body | 0.17 | 0.53 | NA | 0.03 | 0.73 | NA | XXX
70030 | 26 | A | X-ray eye for foreign body | 0.17 | 0.06 | 0.06 | 0.01 | 0.24 | 0.24 | XXX
70030 | TC | A | X-ray eye for foreign body | 0.00 | 0.47 | NA | 0.02 | 0.49 | NA | XXX
70100 |  | A | X-ray exam of jaw | 0.18 | 0.62 | NA | 0.03 | 0.83 | NA | XXX
70100 | 26 | A | X-ray exam of jaw | 0.18 | 0.06 | 0.06 | 0.01 | 0.25 | 0.25 | XXX
70100 | TC | A | X-ray exam of jaw | 0.00 | 0.56 | NA | 0.02 | 0.58 | NA | XXX
70110 |  | A | X-ray exam of jaw | 0.25 | 0.74 | NA | 0.05 | 1.04 | NA | XXX
70110 | 26 | A | X-ray exam of jaw | 0.25 | 0.09 | 0.09 | 0.01 | 0.35 | 0.35 | XXX
70110 | TC | A | X-ray exam of jaw | 0.00 | 0.66 | NA | 0.04 | 0.70 | NA | XXX
70120 |  | A | X-ray exam of mastoids | 0.18 | 0.72 | NA | 0.05 | 0.95 | NA | XXX
70120 | 26 | A | X-ray exam of mastoids | 0.18 | 0.06 | 0.06 | 0.01 | 0.25 | 0.25 | XXX
70120 | TC | A | X-ray exam of mastoids | 0.00 | 0.66 | NA | 0.04 | 0.70 | NA | XXX
70130 |  | A | X-ray exam of mastoids | 0.34 | 1.03 | NA | 0.07 | 1.44 | NA | XXX
70130 | 26 | A | X-ray exam of mastoids | 0.34 | 0.12 | 0.12 | 0.02 | 0.48 | 0.48 | XXX
70130 | TC | A | X-ray exam of mastoids | 0.00 | 0.91 | NA | 0.05 | 0.96 | NA | XXX
70134 |  | A | X-ray exam of middle ear | 0.34 | 0.93 | NA | 0.07 | 1.34 | NA | XXX
70134 | 26 | A | X-ray exam of middle ear | 0.34 | 0.12 | 0.12 | 0.02 | 0.48 | 0.48 | XXX
70134 | TC | A | X-ray exam of middle ear | 0.00 | 0.81 | NA | 0.05 | 0.86 | NA | XXX
70140 |  | A | X-ray exam of facial bones | 0.19 | 0.66 | NA | 0.05 | 0.90 | NA | XXX
70140 | 26 | A | X-ray exam of facial bones | 0.19 | 0.06 | 0.06 | 0.01 | 0.26 | 0.26 | XXX
70140 | TC | A | X-ray exam of facial bones | 0.00 | 0.60 | NA | 0.04 | 0.64 | NA | XXX
70150 |  | A | X-ray exam of facial bones | 0.26 | 0.87 | NA | 0.06 | 1.19 | NA | XXX
70150 | 26 | A | X-ray exam of facial bones | 0.26 | 0.09 | 0.09 | 0.01 | 0.36 | 0.36 | XXX
70150 | TC | A | X-ray exam of facial bones | 0.00 | 0.78 | NA | 0.05 | 0.83 | NA | XXX
70160 |  | A | X-ray exam of nasal bones | 0.17 | 0.61 | NA | 0.03 | 0.81 | NA | XXX
70160 | 26 | A | X-ray exam of nasal bones | 0.17 | 0.06 | 0.06 | 0.01 | 0.24 | 0.24 | XXX
70160 | TC | A | X-ray exam of nasal bones | 0.00 | 0.55 | NA | 0.02 | 0.57 | NA | XXX
70170 |  | A | X-ray exam of tear duct | 0.30 | NA | NA | 0.07 | NA | NA | XXX
70170 | 26 | A | X-ray exam of tear duct | 0.30 | 0.11 | 0.11 | 0.01 | 0.42 | 0.42 | XXX
70170 | TC | A | X-ray exam of tear duct | 0.00 | NA | NA | 0.06 | NA | NA | XXX
70190 |  | A | X-ray exam of eye sockets | 0.21 | 0.71 | NA | 0.05 | 0.97 | NA | XXX
70190 | 26 | A | X-ray exam of eye sockets | 0.21 | 0.07 | 0.07 | 0.01 | 0.29 | 0.29 | XXX
70190 | TC | A | X-ray exam of eye sockets | 0.00 | 0.64 | NA | 0.04 | 0.68 | NA | XXX
70200 |  | A | X-ray exam of eye sockets | 0.28 | 0.89 | NA | 0.06 | 1.23 | NA | XXX
70200 | 26 | A | X-ray exam of eye sockets | 0.28 | 0.10 | 0.10 | 0.01 | 0.39 | 0.39 | XXX
70200 | TC | A | X-ray exam of eye sockets | 0.00 | 0.80 | NA | 0.05 | 0.85 | NA | XXX
70210 |  | A | X-ray exam of sinuses | 0.17 | 0.68 | NA | 0.05 | 0.90 | NA | XXX
70210 | 26 | A | X-ray exam of sinuses | 0.17 | 0.06 | 0.06 | 0.01 | 0.24 | 0.24 | XXX
70210 | TC | A | X-ray exam of sinuses | 0.00 | 0.62 | NA | 0.04 | 0.66 | NA | XXX
70220 |  | A | X-ray exam of sinuses | 0.25 | 0.85 | NA | 0.06 | 1.16 | NA | XXX
70220 | 26 | A | X-ray exam of sinuses | 0.25 | 0.09 | 0.09 | 0.01 | 0.35 | 0.35 | XXX
70220 | TC | A | X-ray exam of sinuses | 0.00 | 0.77 | NA | 0.05 | 0.82 | NA | XXX
70240 |  | A | X-ray exam, pituitary saddle | 0.19 | 0.53 | NA | 0.03 | 0.75 | NA | XXX
70240 | 26 | A | X-ray exam, pituitary saddle | 0.19 | 0.06 | 0.06 | 0.01 | 0.26 | 0.26 | XXX
70240 | TC | A | X-ray exam, pituitary saddle | 0.00 | 0.47 | NA | 0.02 | 0.49 | NA | XXX
70250 |  | A | X-ray exam of skull | 0.24 | 0.71 | NA | 0.05 | 1.00 | NA | XXX
70250 | 26 | A | X-ray exam of skull | 0.24 | 0.08 | 0.08 | 0.01 | 0.33 | 0.33 | XXX
70250 | TC | A | X-ray exam of skull | 0.00 | 0.63 | NA | 0.04 | 0.67 | NA | XXX
70260 |  | A | X-ray exam of skull | 0.34 | 0.99 | NA | 0.08 | 1.41 | NA | XXX
70260 | 26 | A | X-ray exam of skull | 0.34 | 0.12 | 0.12 | 0.02 | 0.48 | 0.48 | XXX
70260 | TC | A | X-ray exam of skull | 0.00 | 0.87 | NA | 0.06 | 0.93 | NA | XXX
70300 |  | A | X-ray exam of teeth | 0.10 | 0.29 | NA | 0.03 | 0.42 | NA | XXX
70300 | 26 | A | X-ray exam of teeth | 0.10 | 0.05 | 0.05 | 0.01 | 0.16 | 0.16 | XXX
70300 | TC | A | X-ray exam of teeth | 0.00 | 0.24 | NA | 0.02 | 0.26 | NA | XXX
70310 |  | A | X-ray exam of teeth | 0.16 | 0.54 | NA | 0.03 | 0.73 | NA | XXX
70310 | 26 | A | X-ray exam of teeth | 0.16 | 0.08 | 0.08 | 0.01 | 0.25 | 0.25 | XXX
70310 | TC | A | X-ray exam of teeth | 0.00 | 0.46 | NA | 0.02 | 0.48 | NA | XXX
70320 |  | A | Full mouth x-ray of teeth | 0.22 | 0.88 | NA | 0.06 | 1.16 | NA | XXX
70320 | 26 | A | Full mouth x-ray of teeth | 0.22 | 0.08 | 0.08 | 0.01 | 0.31 | 0.31 | XXX
70320 | TC | A | Full mouth x-ray of teeth | 0.00 | 0.80 | NA | 0.05 | 0.85 | NA | XXX
70328 |  | A | X-ray exam of jaw joint | 0.18 | 0.58 | NA | 0.03 | 0.79 | NA | XXX
70328 | 26 | A | X-ray exam of jaw joint | 0.18 | 0.06 | 0.06 | 0.01 | 0.25 | 0.25 | XXX
70328 | TC | A | X-ray exam of jaw joint | 0.00 | 0.52 | NA | 0.02 | 0.54 | NA | XXX
70330 |  | A | X-ray exam of jaw joints | 0.24 | 0.98 | NA | 0.06 | 1.28 | NA | XXX
70330 | 26 | A | X-ray exam of jaw joints | 0.24 | 0.08 | 0.08 | 0.01 | 0.33 | 0.33 | XXX
70330 | TC | A | X-ray exam of jaw joints | 0.00 | 0.89 | NA | 0.05 | 0.94 | NA | XXX
70332 |  | A | X-ray exam of jaw joint | 0.54 | 2.14 | NA | 0.14 | 2.83 | NA | XXX
70332 | 26 | A | X-ray exam of jaw joint | 0.54 | 0.21 | 0.21 | 0.02 | 0.77 | 0.77 | XXX
70332 | TC | A | X-ray exam of jaw joint | 0.00 | 1.94 | NA | 0.12 | 2.06 | NA | XXX
70336 |  | A | Magnetic image, jaw joint | 1.48 | 11.68 | NA | 0.66 | 13.82 | NA | XXX
70336 | 26 | A | Magnetic image, jaw joint | 1.48 | 0.51 | 0.51 | 0.07 | 2.07 | 2.07 | XXX
70336 | TC | A | Magnetic image, jaw joint | 0.00 | 11.16 | NA | 0.59 | 11.75 | NA | XXX
70350 |  | A | X-ray head for orthodontia | 0.17 | 0.42 | NA | 0.03 | 0.62 | NA | XXX
70350 | 26 | A | X-ray head for orthodontia | 0.17 | 0.07 | 0.07 | 0.01 | 0.25 | 0.25 | XXX
70350 | TC | A | X-ray head for orthodontia | 0.00 | 0.35 | NA | 0.02 | 0.37 | NA | XXX
70355 |  | A | Panoramic x-ray of jaws | 0.20 | 0.56 | NA | 0.05 | 0.81 | NA | XXX
70355 | 26 | A | Panoramic x-ray of jaws | 0.20 | 0.07 | 0.07 | 0.01 | 0.28 | 0.28 | XXX
70355 | TC | A | Panoramic x-ray of jaws | 0.00 | 0.48 | NA | 0.04 | 0.52 | NA | XXX
70360 |  | A | X-ray exam of neck | 0.17 | 0.50 | NA | 0.03 | 0.70 | NA | XXX
70360 | 26 | A | X-ray exam of neck | 0.17 | 0.06 | 0.06 | 0.01 | 0.24 | 0.24 | XXX
70360 | TC | A | X-ray exam of neck | 0.00 | 0.44 | NA | 0.02 | 0.46 | NA | XXX
70370 |  | A | Throat x-ray & fluoroscopy | 0.32 | 1.52 | NA | 0.08 | 1.92 | NA | XXX
70370 | 26 | A | Throat x-ray & fluoroscopy | 0.32 | 0.11 | 0.11 | 0.01 | 0.44 | 0.44 | XXX
70370 | TC | A | Throat x-ray & fluoroscopy | 0.00 | 1.42 | NA | 0.07 | 1.49 | NA | XXX
70371 |  | A | Speech evaluation, complex | 0.84 | 2.22 | NA | 0.16 | 3.22 | NA | XXX
70371 | 26 | A | Speech evaluation, complex | 0.84 | 0.29 | 0.29 | 0.04 | 1.17 | 1.17 | XXX
70371 | TC | A | Speech evaluation, complex | 0.00 | 1.93 | NA | 0.12 | 2.05 | NA | XXX
70373 |  | A | Contrast x-ray of larynx | 0.44 | 1.86 | NA | 0.13 | 2.43 | NA | XXX
70373 | 26 | A | Contrast x-ray of larynx | 0.44 | 0.15 | 0.15 | 0.02 | 0.61 | 0.61 | XXX
70373 | TC | A | Contrast x-ray of larynx | 0.00 | 1.71 | NA | 0.11 | 1.82 | NA | XXX
70380 |  | A | X-ray exam of salivary gland | 0.17 | 0.77 | NA | 0.05 | 0.99 | NA | XXX
70380 | 26 | A | X-ray exam of salivary gland | 0.17 | 0.06 | 0.06 | 0.01 | 0.24 | 0.24 | XXX
70380 | TC | A | X-ray exam of salivary gland | 0.00 | 0.71 | NA | 0.04 | 0.75 | NA | XXX
70390 |  | A | X-ray exam of salivary duct | 0.38 | 2.07 | NA | 0.13 | 2.58 | NA | XXX
70390 | 26 | A | X-ray exam of salivary duct | 0.38 | 0.13 | 0.13 | 0.02 | 0.53 | 0.53 | XXX
70390 | TC | A | X-ray exam of salivary duct | 0.00 | 1.94 | NA | 0.11 | 2.05 | NA | XXX
70450 |  | A | Ct head/brain w/o dye | 0.85 | 4.94 | NA | 0.29 | 6.09 | NA | XXX
70450 | 26 | A | Ct head/brain w/o dye | 0.85 | 0.29 | 0.29 | 0.04 | 1.18 | 1.18 | XXX
70450 | TC | A | Ct head/brain w/o dye | 0.00 | 4.65 | NA | 0.25 | 4.90 | NA | XXX
70460 |  | A | Ct head/brain w/dye | 1.13 | 6.12 | NA | 0.35 | 7.61 | NA | XXX
70460 | 26 | A | Ct head/brain w/dye | 1.13 | 0.39 | 0.39 | 0.05 | 1.57 | 1.57 | XXX
70460 | TC | A | Ct head/brain w/dye | 0.00 | 5.74 | NA | 0.30 | 6.04 | NA | XXX
70470 |  | A | Ct head/brain w/o & w/dye | 1.27 | 7.58 | NA | 0.43 | 9.28 | NA | XXX
70470 | 26 | A | Ct head/brain w/o & w/dye | 1.27 | 0.44 | 0.44 | 0.06 | 1.77 | 1.77 | XXX
70470 | TC | A | Ct head/brain w/o & w/dye | 0.00 | 7.14 | NA | 0.37 | 7.51 | NA | XXX
70480 |  | A | Ct orbit/ear/fossa w/o dye | 1.28 | 5.94 | NA | 0.31 | 7.53 | NA | XXX
70480 | 26 | A | Ct orbit/ear/fossa w/o dye | 1.28 | 0.44 | 0.44 | 0.06 | 1.78 | 1.78 | XXX
70480 | TC | A | Ct orbit/ear/fossa w/o dye | 0.00 | 5.50 | NA | 0.25 | 5.75 | NA | XXX
70481 |  | A | Ct orbit/ear/fossa w/dye | 1.38 | 7.04 | NA | 0.36 | 8.78 | NA | XXX
70481 | 26 | A | Ct orbit/ear/fossa w/dye | 1.38 | 0.47 | 0.47 | 0.06 | 1.92 | 1.92 | XXX
70481 | TC | A | Ct orbit/ear/fossa w/dye | 0.00 | 6.57 | NA | 0.30 | 6.87 | NA | XXX
70482 |  | A | Ct orbit/ear/fossa w/o&w/dye | 1.45 | 8.49 | NA | 0.43 | 10.38 | NA | XXX
70482 | 26 | A | Ct orbit/ear/fossa w/o&w/dye | 1.45 | 0.50 | 0.50 | 0.06 | 2.02 | 2.02 | XXX
70482 | TC | A | Ct orbit/ear/fossa w/o&w/dye | 0.00 | 7.99 | NA | 0.37 | 8.36 | NA | XXX
70486 |  | A | Ct maxillofacial w/o dye | 1.14 | 5.48 | NA | 0.30 | 6.93 | NA | XXX
70486 | 26 | A | Ct maxillofacial w/o dye | 1.14 | 0.39 | 0.39 | 0.05 | 1.58 | 1.58 | XXX
70486 | TC | A | Ct maxillofacial w/o dye | 0.00 | 5.09 | NA | 0.25 | 5.34 | NA | XXX
70487 |  | A | Ct maxillofacial w/dye | 1.30 | 6.63 | NA | 0.36 | 8.30 | NA | XXX
70487 | 26 | A | Ct maxillofacial w/dye | 1.30 | 0.45 | 0.45 | 0.06 | 1.81 | 1.81 | XXX
70487 | TC | A | Ct maxillofacial w/dye | 0.00 | 6.18 | NA | 0.30 | 6.48 | NA | XXX
70488 |  | A | Ct maxillofacial w/o & w/dye | 1.42 | 8.20 | NA | 0.43 | 10.06 | NA | XXX
70488 | 26 | A | Ct maxillofacial w/o & w/dye | 1.42 | 0.49 | 0.49 | 0.06 | 1.97 | 1.97 | XXX
70488 | TC | A | Ct maxillofacial w/o & w/dye | 0.00 | 7.72 | NA | 0.37 | 8.09 | NA | XXX
70490 |  | A | Ct soft tissue neck w/o dye | 1.28 | 5.44 | NA | 0.31 | 7.03 | NA | XXX
70490 | 26 | A | Ct soft tissue neck w/o dye | 1.28 | 0.44 | 0.44 | 0.06 | 1.78 | 1.78 | XXX
70490 | TC | A | Ct soft tissue neck w/o dye | 0.00 | 4.99 | NA | 0.25 | 5.24 | NA | XXX
70491 |  | A | Ct soft tissue neck w/dye | 1.38 | 6.59 | NA | 0.36 | 8.33 | NA | XXX
70491 | 26 | A | Ct soft tissue neck w/dye | 1.38 | 0.47 | 0.47 | 0.06 | 1.92 | 1.92 | XXX
70491 | TC | A | Ct soft tissue neck w/dye | 0.00 | 6.12 | NA | 0.30 | 6.42 | NA | XXX
70492 |  | A | Ct sft tsue nck w/o & w/dye | 1.45 | 8.14 | NA | 0.43 | 10.02 | NA | XXX
70492 | 26 | A | Ct sft tsue nck w/o & w/dye | 1.45 | 0.50 | 0.50 | 0.06 | 2.01 | 2.01 | XXX
70492 | TC | A | Ct sft tsue nck w/o & w/dye | 0.00 | 7.64 | NA | 0.37 | 8.01 | NA | XXX
70496 |  | A | Ct angiography, head | 1.75 | 12.21 | NA | 0.66 | 14.63 | NA | XXX
70496 | 26 | A | Ct angiography, head | 1.75 | 0.60 | 0.60 | 0.08 | 2.43 | 2.43 | XXX
70496 | TC | A | Ct angiography, head | 0.00 | 11.62 | NA | 0.58 | 12.20 | NA | XXX
70498 |  | A | Ct angiography, neck | 1.75 | 12.31 | NA | 0.66 | 14.73 | NA | XXX
70498 | 26 | A | Ct angiography, neck | 1.75 | 0.60 | 0.60 | 0.08 | 2.43 | 2.43 | XXX
70498 | TC | A | Ct angiography, neck | 0.00 | 11.71 | NA | 0.58 | 12.29 | NA | XXX
70540 |  | A | Mri orbit/face/neck w/o dye | 1.35 | 12.19 | NA | 0.45 | 13.99 | NA | XXX
70540 | 26 | A | Mri orbit/face/neck w/o dye | 1.35 | 0.46 | 0.46 | 0.06 | 1.88 | 1.88 | XXX
70540 | TC | A | Mri orbit/face/neck w/o dye | 0.00 | 11.73 | NA | 0.39 | 12.12 | NA | XXX
70542 |  | A | Mri orbit/face/neck w/dye | 1.62 | 14.04 | NA | 0.54 | 16.20 | NA | XXX
70542 | 26 | A | Mri orbit/face/neck w/dye | 1.62 | 0.56 | 0.56 | 0.07 | 2.25 | 2.25 | XXX
70542 | TC | A | Mri orbit/face/neck w/dye | 0.00 | 13.48 | NA | 0.47 | 13.95 | NA | XXX
70543 |  | A | Mri orbt/fac/nck w/o & w/dye | 2.15 | 23.46 | NA | 0.94 | 26.55 | NA | XXX
70543 | 26 | A | Mri orbt/fac/nck w/o & w/dye | 2.15 | 0.74 | 0.74 | 0.10 | 3.00 | 3.00 | XXX
70543 | TC | A | Mri orbt/fac/nck w/o & w/dye | 0.00 | 22.71 | NA | 0.84 | 23.55 | NA | XXX
70544 |  | A | Mr angiography head w/o dye | 1.20 | 12.25 | NA | 0.64 | 14.09 | NA | XXX
70544 | 26 | A | Mr angiography head w/o dye | 1.20 | 0.42 | 0.42 | 0.05 | 1.67 | 1.67 | XXX
70544 | TC | A | Mr angiography head w/o dye | 0.00 | 11.83 | NA | 0.59 | 12.42 | NA | XXX
70545 |  | A | Mr angiography head w/dye | 1.20 | 12.22 | NA | 0.64 | 14.06 | NA | XXX
70545 | 26 | A | Mr angiography head w/dye | 1.20 | 0.41 | 0.41 | 0.05 | 1.66 | 1.66 | XXX
70545 | TC | A | Mr angiography head w/dye | 0.00 | 11.81 | NA | 0.59 | 12.40 | NA | XXX
70546 |  | A | Mr angiograph head w/o&w/dye | 1.80 | 22.67 | NA | 0.67 | 25.14 | NA | XXX
70546 | 26 | A | Mr angiograph head w/o&w/dye | 1.80 | 0.62 | 0.62 | 0.08 | 2.50 | 2.50 | XXX
70546 | TC | A | Mr angiograph head w/o&w/dye | 0.00 | 22.05 | NA | 0.59 | 22.64 | NA | XXX
70547 |  | A | Mr angiography neck w/o dye | 1.20 | 12.23 | NA | 0.64 | 14.08 | NA | XXX
70547 | 26 | A | Mr angiography neck w/o dye | 1.20 | 0.41 | 0.41 | 0.05 | 1.66 | 1.66 | XXX
70547 | TC | A | Mr angiography neck w/o dye | 0.00 | 11.82 | NA | 0.59 | 12.41 | NA | XXX
70548 |  | A | Mr angiography neck w/dye | 1.20 | 12.55 | NA | 0.64 | 14.39 | NA | XXX
70548 | 26 | A | Mr angiography neck w/dye | 1.20 | 0.41 | 0.41 | 0.05 | 1.66 | 1.66 | XXX
70548 | TC | A | Mr angiography neck w/dye | 0.00 | 12.13 | NA | 0.59 | 12.72 | NA | XXX
70549 |  | A | Mr angiograph neck w/o&w/dye | 1.80 | 22.83 | NA | 0.67 | 25.30 | NA | XXX
70549 | 26 | A | Mr angiograph neck w/o&w/dye | 1.80 | 0.62 | 0.62 | 0.08 | 2.50 | 2.50 | XXX
70549 | TC | A | Mr angiograph neck w/o&w/dye | 0.00 | 22.21 | NA | 0.59 | 22.80 | NA | XXX
70551 |  | A | Mri brain w/o dye | 1.48 | 12.02 | NA | 0.66 | 14.16 | NA | XXX
70551 | 26 | A | Mri brain w/o dye | 1.48 | 0.51 | 0.51 | 0.07 | 2.07 | 2.07 | XXX
70551 | TC | A | Mri brain w/o dye | 0.00 | 11.51 | NA | 0.59 | 12.10 | NA | XXX
70552 |  | A | Mri brain w/dye | 1.78 | 14.21 | NA | 0.78 | 16.77 | NA | XXX
70552 | 26 | A | Mri brain w/dye | 1.78 | 0.62 | 0.62 | 0.08 | 2.48 | 2.48 | XXX
70552 | TC | A | Mri brain w/dye | 0.00 | 13.59 | NA | 0.70 | 14.29 | NA | XXX
70553 |  | A | Mri brain w/o & w/dye | 2.36 | 23.54 | NA | 1.41 | 27.31 | NA | XXX
70553 | 26 | A | Mri brain w/o & w/dye | 2.36 | 0.82 | 0.82 | 0.10 | 3.28 | 3.28 | XXX
70553 | TC | A | Mri brain w/o & w/dye | 0.00 | 22.72 | NA | 1.31 | 24.03 | NA | XXX
70557 |  | C | Mri brain w/o dye | 0.00 | 0.00 | 0.00 | 0.00 | 0.00 | 0.00 | XXX
70557 | 26 | A | Mri brain w/o dye | 2.91 | 1.16 | 1.16 | 0.08 | 4.15 | 4.15 | XXX
70557 | TC | C | Mri brain w/o dye | 0.00 | 0.00 | 0.00 | 0.00 | 0.00 | 0.00 | XXX
70558 |  | C | Mri brain w/dye | 0.00 | 0.00 | 0.00 | 0.00 | 0.00 | 0.00 | XXX
70558 | 26 | A | Mri brain w/dye | 3.21 | 1.28 | 1.28 | 0.10 | 4.58 | 4.58 | XXX
70558 | TC | C | Mri brain w/dye | 0.00 | 0.00 | 0.00 | 0.00 | 0.00 | 0.00 | XXX
70559 |  | C | Mri brain w/o & w/dye | 0.00 | 0.00 | 0.00 | 0.00 | 0.00 | 0.00 | XXX
70559 | 26 | A | Mri brain w/o & w/dye | 3.21 | 1.27 | 1.27 | 0.12 | 4.60 | 4.60 | XXX
70559 | TC | C | Mri brain w/o & w/dye | 0.00 | 0.00 | 0.00 | 0.00 | 0.00 | 0.00 | XXX
71010 |  | A | Chest x-ray | 0.18 | 0.50 | NA | 0.03 | 0.71 | NA | XXX
71010 | 26 | A | Chest x-ray | 0.18 | 0.06 | 0.06 | 0.01 | 0.25 | 0.25 | XXX
71010 | TC | A | Chest x-ray | 0.00 | 0.44 | NA | 0.02 | 0.46 | NA | XXX
71015 |  | A | Chest x-ray | 0.21 | 0.55 | NA | 0.03 | 0.79 | NA | XXX
71015 | 26 | A | Chest x-ray | 0.21 | 0.07 | 0.07 | 0.01 | 0.29 | 0.29 | XXX
71015 | TC | A | Chest x-ray | 0.00 | 0.48 | NA | 0.02 | 0.50 | NA | XXX
71020 |  | A | Chest x-ray | 0.22 | 0.68 | NA | 0.05 | 0.95 | NA | XXX
71020 | 26 | A | Chest x-ray | 0.22 | 0.08 | 0.08 | 0.01 | 0.31 | 0.31 | XXX
71020 | TC | A | Chest x-ray | 0.00 | 0.60 | NA | 0.04 | 0.64 | NA | XXX
71021 |  | A | Chest x-ray | 0.27 | 0.81 | NA | 0.06 | 1.14 | NA | XXX
71021 | 26 | A | Chest x-ray | 0.27 | 0.10 | 0.10 | 0.01 | 0.38 | 0.38 | XXX
71021 | TC | A | Chest x-ray | 0.00 | 0.72 | NA | 0.05 | 0.77 | NA | XXX
71022 |  | A | Chest x-ray | 0.31 | 0.83 | NA | 0.06 | 1.20 | NA | XXX
71022 | 26 | A | Chest x-ray | 0.31 | 0.11 | 0.11 | 0.01 | 0.43 | 0.43 | XXX
71022 | TC | A | Chest x-ray | 0.00 | 0.73 | NA | 0.05 | 0.78 | NA | XXX
71023 |  | A | Chest x-ray and fluoroscopy | 0.38 | 1.08 | NA | 0.06 | 1.52 | NA | XXX
71023 | 26 | A | Chest x-ray and fluoroscopy | 0.38 | 0.14 | 0.14 | 0.01 | 0.53 | 0.53 | XXX
71023 | TC | A | Chest x-ray and fluoroscopy | 0.00 | 0.94 | NA | 0.05 | 0.99 | NA | XXX
71030 |  | A | Chest x-ray | 0.31 | 0.92 | NA | 0.06 | 1.29 | NA | XXX
71030 | 26 | A | Chest x-ray | 0.31 | 0.11 | 0.11 | 0.01 | 0.43 | 0.43 | XXX
71030 | TC | A | Chest x-ray | 0.00 | 0.82 | NA | 0.05 | 0.87 | NA | XXX
71034 |  | A | Chest x-ray and fluoroscopy | 0.46 | 1.72 | NA | 0.10 | 2.28 | NA | XXX
71034 | 26 | A | Chest x-ray and fluoroscopy | 0.46 | 0.17 | 0.17 | 0.02 | 0.65 | 0.65 | XXX
71034 | TC | A | Chest x-ray and fluoroscopy | 0.00 | 1.55 | NA | 0.08 | 1.63 | NA | XXX
71035 |  | A | Chest x-ray | 0.18 | 0.66 | NA | 0.03 | 0.87 | NA | XXX
71035 | 26 | A | Chest x-ray | 0.18 | 0.06 | 0.06 | 0.01 | 0.25 | 0.25 | XXX
71035 | TC | A | Chest x-ray | 0.00 | 0.59 | NA | 0.02 | 0.61 | NA | XXX
71040 |  | A | Contrast x-ray of bronchi | 0.58 | 1.86 | NA | 0.11 | 2.55 | NA | XXX
71040 | 26 | A | Contrast x-ray of bronchi | 0.58 | 0.20 | 0.20 | 0.03 | 0.81 | 0.81 | XXX
71040 | TC | A | Contrast x-ray of bronchi | 0.00 | 1.66 | NA | 0.08 | 1.74 | NA | XXX
71060 |  | A | Contrast x-ray of bronchi | 0.74 | 2.68 | NA | 0.16 | 3.58 | NA | XXX
71060 | 26 | A | Contrast x-ray of bronchi | 0.74 | 0.25 | 0.25 | 0.03 | 1.02 | 1.02 | XXX
71060 | TC | A | Contrast x-ray of bronchi | 0.00 | 2.42 | NA | 0.13 | 2.55 | NA | XXX
71090 |  | A | X-ray & pacemaker insertion | 0.54 | NA | NA | 0.13 | NA | NA | XXX
71090 | 26 | A | X-ray & pacemaker insertion | 0.54 | 0.22 | 0.22 | 0.02 | 0.78 | 0.78 | XXX
71090 | TC | A | X-ray & pacemaker insertion | 0.00 | NA | NA | 0.11 | NA | NA | XXX
71100 |  | A | X-ray exam of ribs | 0.22 | 0.65 | NA | 0.05 | 0.92 | NA | XXX
71100 | 26 | A | X-ray exam of ribs | 0.22 | 0.08 | 0.08 | 0.01 | 0.31 | 0.31 | XXX
71100 | TC | A | X-ray exam of ribs | 0.00 | 0.58 | NA | 0.04 | 0.62 | NA | XXX
71101 |  | A | X-ray exam of ribs/chest | 0.27 | 0.78 | NA | 0.05 | 1.10 | NA | XXX
71101 | 26 | A | X-ray exam of ribs/chest | 0.27 | 0.10 | 0.10 | 0.01 | 0.38 | 0.38 | XXX
71101 | TC | A | X-ray exam of ribs/chest | 0.00 | 0.68 | NA | 0.04 | 0.72 | NA | XXX
71110 |  | A | X-ray exam of ribs | 0.27 | 0.87 | NA | 0.06 | 1.20 | NA | XXX
71110 | 26 | A | X-ray exam of ribs | 0.27 | 0.09 | 0.09 | 0.01 | 0.37 | 0.37 | XXX
71110 | TC | A | X-ray exam of ribs | 0.00 | 0.77 | NA | 0.05 | 0.82 | NA | XXX
71111 |  | A | X-ray exam of ribs/chest | 0.32 | 1.03 | NA | 0.07 | 1.43 | NA | XXX
71111 | 26 | A | X-ray exam of ribs/chest | 0.32 | 0.11 | 0.11 | 0.01 | 0.44 | 0.44 | XXX
71111 | TC | A | X-ray exam of ribs/chest | 0.00 | 0.93 | NA | 0.06 | 0.99 | NA | XXX
71120 |  | A | X-ray exam of breastbone | 0.20 | 0.72 | NA | 0.05 | 0.97 | NA | XXX
71120 | 26 | A | X-ray exam of breastbone | 0.20 | 0.07 | 0.07 | 0.01 | 0.28 | 0.28 | XXX
71120 | TC | A | X-ray exam of breastbone | 0.00 | 0.64 | NA | 0.04 | 0.68 | NA | XXX
71130 |  | A | X-ray exam of breastbone | 0.22 | 0.79 | NA | 0.05 | 1.06 | NA | XXX
71130 | 26 | A | X-ray exam of breastbone | 0.22 | 0.08 | 0.08 | 0.01 | 0.31 | 0.31 | XXX
71130 | TC | A | X-ray exam of breastbone | 0.00 | 0.72 | NA | 0.04 | 0.76 | NA | XXX
71250 |  | A | Ct thorax w/o dye | 1.16 | 6.29 | NA | 0.36 | 7.81 | NA | XXX
71250 | 26 | A | Ct thorax w/o dye | 1.16 | 0.40 | 0.40 | 0.05 | 1.61 | 1.61 | XXX
71250 | TC | A | Ct thorax w/o dye | 0.00 | 5.89 | NA | 0.31 | 6.20 | NA | XXX
71260 |  | A | Ct thorax w/dye | 1.24 | 7.63 | NA | 0.42 | 9.30 | NA | XXX
71260 | 26 | A | Ct thorax w/dye | 1.24 | 0.43 | 0.43 | 0.05 | 1.72 | 1.72 | XXX
71260 | TC | A | Ct thorax w/dye | 0.00 | 7.20 | NA | 0.37 | 7.57 | NA | XXX
71270 |  | A | Ct thorax w/o & w/dye | 1.38 | 9.45 | NA | 0.52 | 11.35 | NA | XXX
71270 | 26 | A | Ct thorax w/o & w/dye | 1.38 | 0.47 | 0.47 | 0.06 | 1.92 | 1.92 | XXX
71270 | TC | A | Ct thorax w/o & w/dye | 0.00 | 8.98 | NA | 0.46 | 9.44 | NA | XXX
71275 |  | A | Ct angiography, chest | 1.92 | 12.83 | NA | 0.48 | 15.23 | NA | XXX
71275 | 26 | A | Ct angiography, chest | 1.92 | 0.66 | 0.66 | 0.09 | 2.68 | 2.68 | XXX
71275 | TC | A | Ct angiography, chest | 0.00 | 12.17 | NA | 0.39 | 12.56 | NA | XXX
71550 |  | A | Mri chest w/o dye | 1.46 | 12.57 | NA | 0.51 | 14.55 | NA | XXX
71550 | 26 | A | Mri chest w/o dye | 1.46 | 0.50 | 0.50 | 0.06 | 2.03 | 2.03 | XXX
71550 | TC | A | Mri chest w/o dye | 0.00 | 12.07 | NA | 0.45 | 12.52 | NA | XXX
71551 |  | A | Mri chest w/dye | 1.73 | 14.97 | NA | 0.60 | 17.30 | NA | XXX
71551 | 26 | A | Mri chest w/dye | 1.73 | 0.60 | 0.60 | 0.08 | 2.41 | 2.41 | XXX
71551 | TC | A | Mri chest w/dye | 0.00 | 14.37 | NA | 0.52 | 14.89 | NA | XXX
71552 |  | A | Mri chest w/o & w/dye | 2.26 | 24.34 | NA | 0.78 | 27.38 | NA | XXX
71552 | 26 | A | Mri chest w/o & w/dye | 2.26 | 0.78 | 0.78 | 0.10 | 3.14 | 3.14 | XXX
71552 | TC | A | Mri chest w/o & w/dye | 0.00 | 23.56 | NA | 0.68 | 24.24 | NA | XXX
71555 |  | R | Mri angio chest w or w/o dye | 1.81 | 12.49 | NA | 0.67 | 14.97 | NA | XXX
71555 | 26 | R | Mri angio chest w or w/o dye | 1.81 | 0.63 | 0.63 | 0.08 | 2.52 | 2.52 | XXX
71555 | TC | R | Mri angio chest w or w/o dye | 0.00 | 11.86 | NA | 0.59 | 12.45 | NA | XXX
72010 |  | A | X-ray exam of spine | 0.45 | 1.29 | NA | 0.08 | 1.82 | NA | XXX
72010 | 26 | A | X-ray exam of spine | 0.45 | 0.16 | 0.16 | 0.02 | 0.63 | 0.63 | XXX
72010 | TC | A | X-ray exam of spine | 0.00 | 1.13 | NA | 0.06 | 1.19 | NA | XXX
72020 |  | A | X-ray exam of spine | 0.15 | 0.48 | NA | 0.03 | 0.66 | NA | XXX
72020 | 26 | A | X-ray exam of spine | 0.15 | 0.05 | 0.05 | 0.01 | 0.21 | 0.21 | XXX
72020 | TC | A | X-ray exam of spine | 0.00 | 0.43 | NA | 0.02 | 0.45 | NA | XXX
72040 |  | A | X-ray exam of neck spine | 0.22 | 0.71 | NA | 0.05 | 0.98 | NA | XXX
72040 | 26 | A | X-ray exam of neck spine | 0.22 | 0.08 | 0.08 | 0.01 | 0.31 | 0.31 | XXX
72040 | TC | A | X-ray exam of neck spine | 0.00 | 0.63 | NA | 0.04 | 0.67 | NA | XXX
72050 |  | A | X-ray exam of neck spine | 0.31 | 1.04 | NA | 0.07 | 1.42 | NA | XXX
72050 | 26 | A | X-ray exam of neck spine | 0.31 | 0.11 | 0.11 | 0.01 | 0.43 | 0.43 | XXX
72050 | TC | A | X-ray exam of neck spine | 0.00 | 0.93 | NA | 0.06 | 0.99 | NA | XXX
72052 |  | A | X-ray exam of neck spine | 0.36 | 1.32 | NA | 0.08 | 1.76 | NA | XXX
72052 | 26 | A | X-ray exam of neck spine | 0.36 | 0.13 | 0.13 | 0.02 | 0.51 | 0.51 | XXX
72052 | TC | A | X-ray exam of neck spine | 0.00 | 1.20 | NA | 0.06 | 1.26 | NA | XXX
72069 |  | A | X-ray exam of trunk spine | 0.22 | 0.64 | NA | 0.03 | 0.89 | NA | XXX
72069 | 26 | A | X-ray exam of trunk spine | 0.22 | 0.08 | 0.08 | 0.01 | 0.31 | 0.31 | XXX
72069 | TC | A | X-ray exam of trunk spine | 0.00 | 0.56 | NA | 0.02 | 0.58 | NA | XXX
72070 |  | A | X-ray exam of thoracic spine | 0.22 | 0.72 | NA | 0.05 | 0.99 | NA | XXX
72070 | 26 | A | X-ray exam of thoracic spine | 0.22 | 0.08 | 0.08 | 0.01 | 0.31 | 0.31 | XXX
72070 | TC | A | X-ray exam of thoracic spine | 0.00 | 0.65 | NA | 0.04 | 0.69 | NA | XXX
72072 |  | A | X-ray exam of thoracic spine | 0.22 | 0.82 | NA | 0.06 | 1.10 | NA | XXX
72072 | 26 | A | X-ray exam of thoracic spine | 0.22 | 0.08 | 0.08 | 0.01 | 0.31 | 0.31 | XXX
72072 | TC | A | X-ray exam of thoracic spine | 0.00 | 0.75 | NA | 0.05 | 0.80 | NA | XXX
72074 |  | A | X-ray exam of thoracic spine | 0.22 | 1.00 | NA | 0.07 | 1.29 | NA | XXX
72074 | 26 | A | X-ray exam of thoracic spine | 0.22 | 0.08 | 0.08 | 0.01 | 0.31 | 0.31 | XXX
72074 | TC | A | X-ray exam of thoracic spine | 0.00 | 0.93 | NA | 0.06 | 0.99 | NA | XXX
72080 |  | A | X-ray exam of trunk spine | 0.22 | 0.74 | NA | 0.05 | 1.01 | NA | XXX
72080 | 26 | A | X-ray exam of trunk spine | 0.22 | 0.08 | 0.08 | 0.01 | 0.31 | 0.31 | XXX
72080 | TC | A | X-ray exam of trunk spine | 0.00 | 0.67 | NA | 0.04 | 0.71 | NA | XXX
72090 |  | A | X-ray exam of trunk spine | 0.28 | 0.85 | NA | 0.05 | 1.18 | NA | XXX
72090 | 26 | A | X-ray exam of trunk spine | 0.28 | 0.10 | 0.10 | 0.01 | 0.39 | 0.39 | XXX
72090 | TC | A | X-ray exam of trunk spine | 0.00 | 0.76 | NA | 0.04 | 0.80 | NA | XXX
72100 |  | A | X-ray exam of lower spine | 0.22 | 0.77 | NA | 0.05 | 1.04 | NA | XXX
72100 | 26 | A | X-ray exam of lower spine | 0.22 | 0.08 | 0.08 | 0.01 | 0.31 | 0.31 | XXX
72100 | TC | A | X-ray exam of lower spine | 0.00 | 0.70 | NA | 0.04 | 0.74 | NA | XXX
72110 |  | A | X-ray exam of lower spine | 0.31 | 1.08 | NA | 0.07 | 1.46 | NA | XXX
72110 | 26 | A | X-ray exam of lower spine | 0.31 | 0.11 | 0.11 | 0.01 | 0.43 | 0.43 | XXX
72110 | TC | A | X-ray exam of lower spine | 0.00 | 0.97 | NA | 0.06 | 1.03 | NA | XXX
72114 |  | A | X-ray exam of lower spine | 0.36 | 1.41 | NA | 0.08 | 1.85 | NA | XXX
72114 | 26 | A | X-ray exam of lower spine | 0.36 | 0.13 | 0.13 | 0.02 | 0.51 | 0.51 | XXX
72114 | TC | A | X-ray exam of lower spine | 0.00 | 1.29 | NA | 0.06 | 1.35 | NA | XXX
72120 |  | A | X-ray exam of lower spine | 0.22 | 1.00 | NA | 0.07 | 1.29 | NA | XXX
72120 | 26 | A | X-ray exam of lower spine | 0.22 | 0.07 | 0.07 | 0.01 | 0.30 | 0.30 | XXX
72120 | TC | A | X-ray exam of lower spine | 0.00 | 0.93 | NA | 0.06 | 0.99 | NA | XXX
72125 |  | A | Ct neck spine w/o dye | 1.16 | 6.29 | NA | 0.36 | 7.81 | NA | XXX
72125 | 26 | A | Ct neck spine w/o dye | 1.16 | 0.40 | 0.40 | 0.05 | 1.61 | 1.61 | XXX
72125 | TC | A | Ct neck spine w/o dye | 0.00 | 5.89 | NA | 0.31 | 6.20 | NA | XXX
72126 |  | A | Ct neck spine w/dye | 1.22 | 7.60 | NA | 0.42 | 9.25 | NA | XXX
72126 | 26 | A | Ct neck spine w/dye | 1.22 | 0.42 | 0.42 | 0.05 | 1.69 | 1.69 | XXX
72126 | TC | A | Ct neck spine w/dye | 0.00 | 7.18 | NA | 0.37 | 7.55 | NA | XXX
72127 |  | A | Ct neck spine w/o & w/dye | 1.27 | 9.40 | NA | 0.52 | 11.19 | NA | XXX
72127 | 26 | A | Ct neck spine w/o & w/dye | 1.27 | 0.44 | 0.44 | 0.06 | 1.77 | 1.77 | XXX
72127 | TC | A | Ct neck spine w/o & w/dye | 0.00 | 8.96 | NA | 0.46 | 9.42 | NA | XXX
72128 |  | A | Ct chest spine w/o dye | 1.16 | 6.29 | NA | 0.36 | 7.81 | NA | XXX
72128 | 26 | A | Ct chest spine w/o dye | 1.16 | 0.40 | 0.40 | 0.05 | 1.61 | 1.61 | XXX
72128 | TC | A | Ct chest spine w/o dye | 0.00 | 5.89 | NA | 0.31 | 6.20 | NA | XXX
72129 |  | A | Ct chest spine w/dye | 1.22 | 7.58 | NA | 0.42 | 9.22 | NA | XXX
72129 | 26 | A | Ct chest spine w/dye | 1.22 | 0.42 | 0.42 | 0.05 | 1.69 | 1.69 | XXX
72129 | TC | A | Ct chest spine w/dye | 0.00 | 7.15 | NA | 0.37 | 7.52 | NA | XXX
72130 |  | A | Ct chest spine w/o & w/dye | 1.27 | 9.44 | NA | 0.52 | 11.23 | NA | XXX
72130 | 26 | A | Ct chest spine w/o & w/dye | 1.27 | 0.44 | 0.44 | 0.06 | 1.77 | 1.77 | XXX
72130 | TC | A | Ct chest spine w/o & w/dye | 0.00 | 9.00 | NA | 0.46 | 9.46 | NA | XXX
72131 |  | A | Ct lumbar spine w/o dye | 1.16 | 6.30 | NA | 0.36 | 7.82 | NA | XXX
72131 | 26 | A | Ct lumbar spine w/o dye | 1.16 | 0.40 | 0.40 | 0.05 | 1.61 | 1.61 | XXX
72131 | TC | A | Ct lumbar spine w/o dye | 0.00 | 5.90 | NA | 0.31 | 6.21 | NA | XXX
72132 |  | A | Ct lumbar spine w/dye | 1.22 | 7.57 | NA | 0.42 | 9.22 | NA | XXX
72132 | 26 | A | Ct lumbar spine w/dye | 1.22 | 0.42 | 0.42 | 0.05 | 1.69 | 1.69 | XXX
72132 | TC | A | Ct lumbar spine w/dye | 0.00 | 7.15 | NA | 0.37 | 7.52 | NA | XXX
72133 |  | A | Ct lumbar spine w/o & w/dye | 1.27 | 9.42 | NA | 0.52 | 11.22 | NA | XXX
72133 | 26 | A | Ct lumbar spine w/o & w/dye | 1.27 | 0.44 | 0.44 | 0.06 | 1.77 | 1.77 | XXX
72133 | TC | A | Ct lumbar spine w/o & w/dye | 0.00 | 8.98 | NA | 0.46 | 9.44 | NA | XXX
72141 |  | A | Mri neck spine w/o dye | 1.60 | 11.72 | NA | 0.66 | 13.99 | NA | XXX
72141 | 26 | A | Mri neck spine w/o dye | 1.60 | 0.56 | 0.56 | 0.07 | 2.23 | 2.23 | XXX
72141 | TC | A | Mri neck spine w/o dye | 0.00 | 11.17 | NA | 0.59 | 11.76 | NA | XXX
72142 |  | A | Mri neck spine w/dye | 1.92 | 14.23 | NA | 0.79 | 16.94 | NA | XXX
72142 | 26 | A | Mri neck spine w/dye | 1.92 | 0.67 | 0.67 | 0.09 | 2.68 | 2.68 | XXX
72142 | TC | A | Mri neck spine w/dye | 0.00 | 13.56 | NA | 0.70 | 14.26 | NA | XXX
72146 |  | A | Mri chest spine w/o dye | 1.60 | 12.68 | NA | 0.71 | 14.99 | NA | XXX
72146 | 26 | A | Mri chest spine w/o dye | 1.60 | 0.56 | 0.56 | 0.07 | 2.23 | 2.23 | XXX
72146 | TC | A | Mri chest spine w/o dye | 0.00 | 12.12 | NA | 0.64 | 12.76 | NA | XXX
72147 |  | A | Mri chest spine w/dye | 1.92 | 13.76 | NA | 0.79 | 16.48 | NA | XXX
72147 | 26 | A | Mri chest spine w/dye | 1.92 | 0.66 | 0.66 | 0.09 | 2.68 | 2.68 | XXX
72147 | TC | A | Mri chest spine w/dye | 0.00 | 13.10 | NA | 0.70 | 13.80 | NA | XXX
72148 |  | A | Mri lumbar spine w/o dye | 1.48 | 12.61 | NA | 0.71 | 14.80 | NA | XXX
72148 | 26 | A | Mri lumbar spine w/o dye | 1.48 | 0.51 | 0.51 | 0.07 | 2.07 | 2.07 | XXX
72148 | TC | A | Mri lumbar spine w/o dye | 0.00 | 12.10 | NA | 0.64 | 12.74 | NA | XXX
72149 |  | A | Mri lumbar spine w/dye | 1.78 | 14.26 | NA | 0.78 | 16.82 | NA | XXX
72149 | 26 | A | Mri lumbar spine w/dye | 1.78 | 0.63 | 0.63 | 0.08 | 2.49 | 2.49 | XXX
72149 | TC | A | Mri lumbar spine w/dye | 0.00 | 13.63 | NA | 0.70 | 14.33 | NA | XXX
72156 |  | A | Mri neck spine w/o & w/dye | 2.58 | 23.52 | NA | 1.42 | 27.52 | NA | XXX
72156 | 26 | A | Mri neck spine w/o & w/dye | 2.58 | 0.89 | 0.89 | 0.11 | 3.57 | 3.57 | XXX
72156 | TC | A | Mri neck spine w/o & w/dye | 0.00 | 22.63 | NA | 1.31 | 23.94 | NA | XXX
72157 |  | A | Mri chest spine w/o & w/dye | 2.58 | 23.15 | NA | 1.42 | 27.15 | NA | XXX
72157 | 26 | A | Mri chest spine w/o & w/dye | 2.58 | 0.88 | 0.88 | 0.11 | 3.57 | 3.57 | XXX
72157 | TC | A | Mri chest spine w/o & w/dye | 0.00 | 22.27 | NA | 1.31 | 23.58 | NA | XXX
72158 |  | A | Mri lumbar spine w/o & w/dye | 2.36 | 23.45 | NA | 1.41 | 27.22 | NA | XXX
72158 | 26 | A | Mri lumbar spine w/o & w/dye | 2.36 | 0.82 | 0.82 | 0.10 | 3.28 | 3.28 | XXX
72158 | TC | A | Mri lumbar spine w/o & w/dye | 0.00 | 22.63 | NA | 1.31 | 23.94 | NA | XXX
72159 |  | N | Mr angio spine w/o&w/dye | 1.80 | 13.69 | NA | 0.74 | 16.23 | NA | XXX
72159 | 26 | N | Mr angio spine w/o&w/dye | 1.80 | 0.69 | 0.69 | 0.10 | 2.59 | 2.59 | XXX
72159 | TC | N | Mr angio spine w/o&w/dye | 0.00 | 13.00 | NA | 0.64 | 13.64 | NA | XXX
72170 |  | A | X-ray exam of pelvis | 0.17 | 0.57 | NA | 0.03 | 0.77 | NA | XXX
72170 | 26 | A | X-ray exam of pelvis | 0.17 | 0.06 | 0.06 | 0.01 | 0.24 | 0.24 | XXX
72170 | TC | A | X-ray exam of pelvis | 0.00 | 0.51 | NA | 0.02 | 0.53 | NA | XXX
72190 |  | A | X-ray exam of pelvis | 0.21 | 0.78 | NA | 0.05 | 1.04 | NA | XXX
72190 | 26 | A | X-ray exam of pelvis | 0.21 | 0.07 | 0.07 | 0.01 | 0.29 | 0.29 | XXX
72190 | TC | A | X-ray exam of pelvis | 0.00 | 0.71 | NA | 0.04 | 0.75 | NA | XXX
72191 |  | A | Ct angiograph pelv w/o&w/dye | 1.81 | 12.28 | NA | 0.47 | 14.56 | NA | XXX
72191 | 26 | A | Ct angiograph pelv w/o&w/dye | 1.81 | 0.62 | 0.62 | 0.08 | 2.52 | 2.52 | XXX
72191 | TC | A | Ct angiograph pelv w/o&w/dye | 0.00 | 11.66 | NA | 0.39 | 12.05 | NA | XXX
72192 |  | A | Ct pelvis w/o dye | 1.09 | 6.18 | NA | 0.36 | 7.63 | NA | XXX
72192 | 26 | A | Ct pelvis w/o dye | 1.09 | 0.38 | 0.38 | 0.05 | 1.52 | 1.52 | XXX
72192 | TC | A | Ct pelvis w/o dye | 0.00 | 5.80 | NA | 0.31 | 6.11 | NA | XXX
72193 |  | A | Ct pelvis w/dye | 1.16 | 7.32 | NA | 0.41 | 8.89 | NA | XXX
72193 | 26 | A | Ct pelvis w/dye | 1.16 | 0.40 | 0.40 | 0.05 | 1.61 | 1.61 | XXX
72193 | TC | A | Ct pelvis w/dye | 0.00 | 6.92 | NA | 0.36 | 7.28 | NA | XXX
72194 |  | A | Ct pelvis w/o & w/dye | 1.22 | 9.11 | NA | 0.48 | 10.81 | NA | XXX
72194 | 26 | A | Ct pelvis w/o & w/dye | 1.22 | 0.42 | 0.42 | 0.05 | 1.69 | 1.69 | XXX
72194 | TC | A | Ct pelvis w/o & w/dye | 0.00 | 8.69 | NA | 0.43 | 9.12 | NA | XXX
72195 |  | A | Mri pelvis w/o dye | 1.46 | 12.01 | NA | 0.51 | 13.98 | NA | XXX
72195 | 26 | A | Mri pelvis w/o dye | 1.46 | 0.50 | 0.50 | 0.06 | 2.03 | 2.03 | XXX
72195 | TC | A | Mri pelvis w/o dye | 0.00 | 11.50 | NA | 0.45 | 11.95 | NA | XXX
72196 |  | A | Mri pelvis w/dye | 1.73 | 14.11 | NA | 0.60 | 16.44 | NA | XXX
72196 | 26 | A | Mri pelvis w/dye | 1.73 | 0.60 | 0.60 | 0.08 | 2.41 | 2.41 | XXX
72196 | TC | A | Mri pelvis w/dye | 0.00 | 13.51 | NA | 0.52 | 14.03 | NA | XXX
72197 |  | A | Mri pelvis w/o & w/dye | 2.26 | 23.58 | NA | 1.02 | 26.87 | NA | XXX
72197 | 26 | A | Mri pelvis w/o & w/dye | 2.26 | 0.78 | 0.78 | 0.10 | 3.14 | 3.14 | XXX
72197 | TC | A | Mri pelvis w/o & w/dye | 0.00 | 22.81 | NA | 0.92 | 23.73 | NA | XXX
72198 |  | A | Mr angio pelvis w/o & w/dye | 1.80 | 12.37 | NA | 0.67 | 14.85 | NA | XXX
72198 | 26 | A | Mr angio pelvis w/o & w/dye | 1.80 | 0.62 | 0.62 | 0.08 | 2.50 | 2.50 | XXX
72198 | TC | A | Mr angio pelvis w/o & w/dye | 0.00 | 11.75 | NA | 0.59 | 12.34 | NA | XXX
72200 |  | A | X-ray exam sacroiliac joints | 0.17 | 0.61 | NA | 0.03 | 0.81 | NA | XXX
72200 | 26 | A | X-ray exam sacroiliac joints | 0.17 | 0.06 | 0.06 | 0.01 | 0.24 | 0.24 | XXX
72200 | TC | A | X-ray exam sacroiliac joints | 0.00 | 0.54 | NA | 0.02 | 0.56 | NA | XXX
72202 |  | A | X-ray exam sacroiliac joints | 0.19 | 0.72 | NA | 0.05 | 0.96 | NA | XXX
72202 | 26 | A | X-ray exam sacroiliac joints | 0.19 | 0.06 | 0.06 | 0.01 | 0.26 | 0.26 | XXX
72202 | TC | A | X-ray exam sacroiliac joints | 0.00 | 0.66 | NA | 0.04 | 0.70 | NA | XXX
72220 |  | A | X-ray exam of tailbone | 0.17 | 0.63 | NA | 0.05 | 0.85 | NA | XXX
72220 | 26 | A | X-ray exam of tailbone | 0.17 | 0.06 | 0.06 | 0.01 | 0.24 | 0.24 | XXX
72220 | TC | A | X-ray exam of tailbone | 0.00 | 0.57 | NA | 0.04 | 0.61 | NA | XXX
72240 |  | A | Contrast x-ray of neck spine | 0.91 | 4.45 | NA | 0.29 | 5.66 | NA | XXX
72240 | 26 | A | Contrast x-ray of neck spine | 0.91 | 0.30 | 0.30 | 0.04 | 1.25 | 1.25 | XXX
72240 | TC | A | Contrast x-ray of neck spine | 0.00 | 4.15 | NA | 0.25 | 4.40 | NA | XXX
72255 |  | A | Contrast x-ray, thorax spine | 0.91 | 4.03 | NA | 0.26 | 5.20 | NA | XXX
72255 | 26 | A | Contrast x-ray, thorax spine | 0.91 | 0.28 | 0.28 | 0.04 | 1.23 | 1.23 | XXX
72255 | TC | A | Contrast x-ray, thorax spine | 0.00 | 3.74 | NA | 0.22 | 3.96 | NA | XXX
72265 |  | A | Contrast x-ray, lower spine | 0.83 | 3.91 | NA | 0.26 | 5.00 | NA | XXX
72265 | 26 | A | Contrast x-ray, lower spine | 0.83 | 0.26 | 0.26 | 0.04 | 1.13 | 1.13 | XXX
72265 | TC | A | Contrast x-ray, lower spine | 0.00 | 3.65 | NA | 0.22 | 3.87 | NA | XXX
72270 |  | A | Contrast x-ray, spine | 1.33 | 5.96 | NA | 0.39 | 7.68 | NA | XXX
72270 | 26 | A | Contrast x-ray, spine | 1.33 | 0.44 | 0.44 | 0.06 | 1.83 | 1.83 | XXX
72270 | TC | A | Contrast x-ray, spine | 0.00 | 5.52 | NA | 0.33 | 5.85 | NA | XXX
72275 |  | A | Epidurography | 0.76 | 2.22 | NA | 0.26 | 3.25 | NA | XXX
72275 | 26 | A | Epidurography | 0.76 | 0.20 | 0.20 | 0.04 | 1.00 | 1.00 | XXX
72275 | TC | A | Epidurography | 0.00 | 2.03 | NA | 0.22 | 2.25 | NA | XXX
72285 |  | A | X-ray c/t spine disk | 1.16 | 7.10 | NA | 0.50 | 8.76 | NA | XXX
72285 | 26 | A | X-ray c/t spine disk | 1.16 | 0.37 | 0.37 | 0.07 | 1.60 | 1.60 | XXX
72285 | TC | A | X-ray c/t spine disk | 0.00 | 6.73 | NA | 0.43 | 7.16 | NA | XXX
72295 |  | A | X-ray of lower spine disk | 0.83 | 6.61 | NA | 0.46 | 7.90 | NA | XXX
72295 | 26 | A | X-ray of lower spine disk | 0.83 | 0.28 | 0.28 | 0.06 | 1.17 | 1.17 | XXX
72295 | TC | A | X-ray of lower spine disk | 0.00 | 6.34 | NA | 0.40 | 6.74 | NA | XXX
73000 |  | A | X-ray exam of collar bone | 0.16 | 0.57 | NA | 0.03 | 0.76 | NA | XXX
73000 | 26 | A | X-ray exam of collar bone | 0.16 | 0.05 | 0.05 | 0.01 | 0.22 | 0.22 | XXX
73000 | TC | A | X-ray exam of collar bone | 0.00 | 0.52 | NA | 0.02 | 0.54 | NA | XXX
73010 |  | A | X-ray exam of shoulder blade | 0.17 | 0.59 | NA | 0.03 | 0.79 | NA | XXX
73010 | 26 | A | X-ray exam of shoulder blade | 0.17 | 0.06 | 0.06 | 0.01 | 0.24 | 0.24 | XXX
73010 | TC | A | X-ray exam of shoulder blade | 0.00 | 0.52 | NA | 0.02 | 0.54 | NA | XXX
73020 |  | A | X-ray exam of shoulder | 0.15 | 0.51 | NA | 0.03 | 0.69 | NA | XXX
73020 | 26 | A | X-ray exam of shoulder | 0.15 | 0.05 | 0.05 | 0.01 | 0.21 | 0.21 | XXX
73020 | TC | A | X-ray exam of shoulder | 0.00 | 0.45 | NA | 0.02 | 0.47 | NA | XXX
73030 |  | A | X-ray exam of shoulder | 0.18 | 0.62 | NA | 0.05 | 0.85 | NA | XXX
73030 | 26 | A | X-ray exam of shoulder | 0.18 | 0.06 | 0.06 | 0.01 | 0.25 | 0.25 | XXX
73030 | TC | A | X-ray exam of shoulder | 0.00 | 0.56 | NA | 0.04 | 0.60 | NA | XXX
73040 |  | A | Contrast x-ray of shoulder | 0.54 | 2.30 | NA | 0.14 | 2.99 | NA | XXX
73040 | 26 | A | Contrast x-ray of shoulder | 0.54 | 0.19 | 0.19 | 0.02 | 0.75 | 0.75 | XXX
73040 | TC | A | Contrast x-ray of shoulder | 0.00 | 2.11 | NA | 0.12 | 2.23 | NA | XXX
73050 |  | A | X-ray exam of shoulders | 0.20 | 0.74 | NA | 0.05 | 0.99 | NA | XXX
73050 | 26 | A | X-ray exam of shoulders | 0.20 | 0.07 | 0.07 | 0.01 | 0.28 | 0.28 | XXX
73050 | TC | A | X-ray exam of shoulders | 0.00 | 0.67 | NA | 0.04 | 0.71 | NA | XXX
73060 |  | A | X-ray exam of humerus | 0.17 | 0.63 | NA | 0.05 | 0.85 | NA | XXX
73060 | 26 | A | X-ray exam of humerus | 0.17 | 0.06 | 0.06 | 0.01 | 0.24 | 0.24 | XXX
73060 | TC | A | X-ray exam of humerus | 0.00 | 0.57 | NA | 0.04 | 0.61 | NA | XXX
73070 |  | A | X-ray exam of elbow | 0.15 | 0.57 | NA | 0.03 | 0.75 | NA | XXX
73070 | 26 | A | X-ray exam of elbow | 0.15 | 0.05 | 0.05 | 0.01 | 0.21 | 0.21 | XXX
73070 | TC | A | X-ray exam of elbow | 0.00 | 0.52 | NA | 0.02 | 0.54 | NA | XXX
73080 |  | A | X-ray exam of elbow | 0.17 | 0.67 | NA | 0.05 | 0.89 | NA | XXX
73080 | 26 | A | X-ray exam of elbow | 0.17 | 0.06 | 0.06 | 0.01 | 0.24 | 0.24 | XXX
73080 | TC | A | X-ray exam of elbow | 0.00 | 0.61 | NA | 0.04 | 0.65 | NA | XXX
73085 |  | A | Contrast x-ray of elbow | 0.54 | 2.20 | NA | 0.14 | 2.88 | NA | XXX
73085 | 26 | A | Contrast x-ray of elbow | 0.54 | 0.19 | 0.19 | 0.02 | 0.75 | 0.75 | XXX
73085 | TC | A | Contrast x-ray of elbow | 0.00 | 2.01 | NA | 0.12 | 2.13 | NA | XXX
73090 |  | A | X-ray exam of forearm | 0.16 | 0.58 | NA | 0.03 | 0.77 | NA | XXX
73090 | 26 | A | X-ray exam of forearm | 0.16 | 0.05 | 0.05 | 0.01 | 0.22 | 0.22 | XXX
73090 | TC | A | X-ray exam of forearm | 0.00 | 0.53 | NA | 0.02 | 0.55 | NA | XXX
73092 |  | A | X-ray exam of arm, infant | 0.16 | 0.56 | NA | 0.03 | 0.75 | NA | XXX
73092 | 26 | A | X-ray exam of arm, infant | 0.16 | 0.05 | 0.05 | 0.01 | 0.22 | 0.22 | XXX
73092 | TC | A | X-ray exam of arm, infant | 0.00 | 0.51 | NA | 0.02 | 0.53 | NA | XXX
73100 |  | A | X-ray exam of wrist | 0.16 | 0.55 | NA | 0.03 | 0.74 | NA | XXX
73100 | 26 | A | X-ray exam of wrist | 0.16 | 0.05 | 0.05 | 0.01 | 0.22 | 0.22 | XXX
73100 | TC | A | X-ray exam of wrist | 0.00 | 0.50 | NA | 0.02 | 0.52 | NA | XXX
73110 |  | A | X-ray exam of wrist | 0.17 | 0.65 | NA | 0.03 | 0.85 | NA | XXX
73110 | 26 | A | X-ray exam of wrist | 0.17 | 0.06 | 0.06 | 0.01 | 0.24 | 0.24 | XXX
73110 | TC | A | X-ray exam of wrist | 0.00 | 0.59 | NA | 0.02 | 0.61 | NA | XXX
73115 |  | A | Contrast x-ray of wrist | 0.54 | 1.95 | NA | 0.12 | 2.61 | NA | XXX
73115 | 26 | A | Contrast x-ray of wrist | 0.54 | 0.19 | 0.19 | 0.02 | 0.75 | 0.75 | XXX
73115 | TC | A | Contrast x-ray of wrist | 0.00 | 1.76 | NA | 0.10 | 1.86 | NA | XXX
73120 |  | A | X-ray exam of hand | 0.16 | 0.56 | NA | 0.03 | 0.75 | NA | XXX
73120 | 26 | A | X-ray exam of hand | 0.16 | 0.05 | 0.05 | 0.01 | 0.22 | 0.22 | XXX
73120 | TC | A | X-ray exam of hand | 0.00 | 0.51 | NA | 0.02 | 0.53 | NA | XXX
73130 |  | A | X-ray exam of hand | 0.17 | 0.62 | NA | 0.03 | 0.82 | NA | XXX
73130 | 26 | A | X-ray exam of hand | 0.17 | 0.06 | 0.06 | 0.01 | 0.24 | 0.24 | XXX
73130 | TC | A | X-ray exam of hand | 0.00 | 0.56 | NA | 0.02 | 0.58 | NA | XXX
73140 |  | A | X-ray exam of finger(s) | 0.13 | 0.52 | NA | 0.03 | 0.68 | NA | XXX
73140 | 26 | A | X-ray exam of finger(s) | 0.13 | 0.04 | 0.04 | 0.01 | 0.18 | 0.18 | XXX
73140 | TC | A | X-ray exam of finger(s) | 0.00 | 0.47 | NA | 0.02 | 0.49 | NA | XXX
73200 |  | A | Ct upper extremity w/o dye | 1.09 | 5.54 | NA | 0.30 | 6.93 | NA | XXX
73200 | 26 | A | Ct upper extremity w/o dye | 1.09 | 0.38 | 0.38 | 0.05 | 1.52 | 1.52 | XXX
73200 | TC | A | Ct upper extremity w/o dye | 0.00 | 5.16 | NA | 0.25 | 5.41 | NA | XXX
73201 |  | A | Ct upper extremity w/dye | 1.16 | 6.72 | NA | 0.36 | 8.24 | NA | XXX
73201 | 26 | A | Ct upper extremity w/dye | 1.16 | 0.40 | 0.40 | 0.05 | 1.61 | 1.61 | XXX
73201 | TC | A | Ct upper extremity w/dye | 0.00 | 6.32 | NA | 0.31 | 6.63 | NA | XXX
73202 |  | A | Ct uppr extremity w/o&w/dye | 1.22 | 8.51 | NA | 0.44 | 10.17 | NA | XXX
73202 | 26 | A | Ct uppr extremity w/o&w/dye | 1.22 | 0.42 | 0.42 | 0.05 | 1.69 | 1.69 | XXX
73202 | TC | A | Ct uppr extremity w/o&w/dye | 0.00 | 8.09 | NA | 0.39 | 8.48 | NA | XXX
73206 |  | A | Ct angio upr extrm w/o&w/dye | 1.81 | 11.18 | NA | 0.47 | 13.47 | NA | XXX
73206 | 26 | A | Ct angio upr extrm w/o&w/dye | 1.81 | 0.62 | 0.62 | 0.08 | 2.51 | 2.51 | XXX
73206 | TC | A | Ct angio upr extrm w/o&w/dye | 0.00 | 10.56 | NA | 0.39 | 10.95 | NA | XXX
73218 |  | A | Mri upper extremity w/o dye | 1.35 | 11.98 | NA | 0.45 | 13.78 | NA | XXX
73218 | 26 | A | Mri upper extremity w/o dye | 1.35 | 0.46 | 0.46 | 0.06 | 1.88 | 1.88 | XXX
73218 | TC | A | Mri upper extremity w/o dye | 0.00 | 11.52 | NA | 0.39 | 11.91 | NA | XXX
73219 |  | A | Mri upper extremity w/dye | 1.62 | 14.47 | NA | 0.54 | 16.63 | NA | XXX
73219 | 26 | A | Mri upper extremity w/dye | 1.62 | 0.56 | 0.56 | 0.07 | 2.26 | 2.26 | XXX
73219 | TC | A | Mri upper extremity w/dye | 0.00 | 13.90 | NA | 0.47 | 14.37 | NA | XXX
73220 |  | A | Mri uppr extremity w/o&w/dye | 2.15 | 23.76 | NA | 0.94 | 26.86 | NA | XXX
73220 | 26 | A | Mri uppr extremity w/o&w/dye | 2.15 | 0.75 | 0.75 | 0.10 | 3.00 | 3.00 | XXX
73220 | TC | A | Mri uppr extremity w/o&w/dye | 0.00 | 23.02 | NA | 0.84 | 23.86 | NA | XXX
73221 |  | A | Mri joint upr extrem w/o dye | 1.35 | 11.84 | NA | 0.45 | 13.64 | NA | XXX
73221 | 26 | A | Mri joint upr extrem w/o dye | 1.35 | 0.46 | 0.46 | 0.06 | 1.88 | 1.88 | XXX
73221 | TC | A | Mri joint upr extrem w/o dye | 0.00 | 11.38 | NA | 0.39 | 11.77 | NA | XXX
73222 |  | A | Mri joint upr extrem w/dye | 1.62 | 13.74 | NA | 0.54 | 15.91 | NA | XXX
73222 | 26 | A | Mri joint upr extrem w/dye | 1.62 | 0.56 | 0.56 | 0.07 | 2.25 | 2.25 | XXX
73222 | TC | A | Mri joint upr extrem w/dye | 0.00 | 13.18 | NA | 0.47 | 13.65 | NA | XXX
73223 |  | A | Mri joint upr extr w/o&w/dye | 2.15 | 23.20 | NA | 0.94 | 26.30 | NA | XXX
73223 | 26 | A | Mri joint upr extr w/o&w/dye | 2.15 | 0.74 | 0.74 | 0.10 | 3.00 | 3.00 | XXX
73223 | TC | A | Mri joint upr extr w/o&w/dye | 0.00 | 22.46 | NA | 0.84 | 23.30 | NA | XXX
73225 |  | N | Mr angio upr extr w/o&w/dye | 1.73 | 12.75 | NA | 0.69 | 15.17 | NA | XXX
73225 | 26 | N | Mr angio upr extr w/o&w/dye | 1.73 | 0.66 | 0.66 | 0.10 | 2.50 | 2.50 | XXX
73225 | TC | N | Mr angio upr extr w/o&w/dye | 0.00 | 12.09 | NA | 0.59 | 12.68 | NA | XXX
73500 |  | A | X-ray exam of hip | 0.17 | 0.52 | NA | 0.03 | 0.72 | NA | XXX
73500 | 26 | A | X-ray exam of hip | 0.17 | 0.06 | 0.06 | 0.01 | 0.24 | 0.24 | XXX
73500 | TC | A | X-ray exam of hip | 0.00 | 0.46 | NA | 0.02 | 0.48 | NA | XXX
73510 |  | A | X-ray exam of hip | 0.21 | 0.69 | NA | 0.05 | 0.95 | NA | XXX
73510 | 26 | A | X-ray exam of hip | 0.21 | 0.07 | 0.07 | 0.01 | 0.29 | 0.29 | XXX
73510 | TC | A | X-ray exam of hip | 0.00 | 0.61 | NA | 0.04 | 0.65 | NA | XXX
73520 |  | A | X-ray exam of hips | 0.26 | 0.78 | NA | 0.05 | 1.09 | NA | XXX
73520 | 26 | A | X-ray exam of hips | 0.26 | 0.09 | 0.09 | 0.01 | 0.36 | 0.36 | XXX
73520 | TC | A | X-ray exam of hips | 0.00 | 0.69 | NA | 0.04 | 0.73 | NA | XXX
73525 |  | A | Contrast x-ray of hip | 0.54 | 2.24 | NA | 0.15 | 2.94 | NA | XXX
73525 | 26 | A | Contrast x-ray of hip | 0.54 | 0.19 | 0.19 | 0.03 | 0.76 | 0.76 | XXX
73525 | TC | A | Contrast x-ray of hip | 0.00 | 2.06 | NA | 0.12 | 2.18 | NA | XXX
73530 |  | A | X-ray exam of hip | 0.29 | NA | NA | 0.03 | NA | NA | XXX
73530 | 26 | A | X-ray exam of hip | 0.29 | 0.10 | 0.10 | 0.01 | 0.40 | 0.40 | XXX
73530 | TC | A | X-ray exam of hip | 0.00 | NA | NA | 0.02 | NA | NA | XXX
73540 |  | A | X-ray exam of pelvis & hips | 0.20 | 0.67 | NA | 0.05 | 0.92 | NA | XXX
73540 | 26 | A | X-ray exam of pelvis & hips | 0.20 | 0.07 | 0.07 | 0.01 | 0.28 | 0.28 | XXX
73540 | TC | A | X-ray exam of pelvis & hips | 0.00 | 0.60 | NA | 0.04 | 0.64 | NA | XXX
73542 |  | A | X-ray exam, sacroiliac joint | 0.59 | 2.05 | NA | 0.15 | 2.79 | NA | XXX
73542 | 26 | A | X-ray exam, sacroiliac joint | 0.59 | 0.16 | 0.16 | 0.03 | 0.78 | 0.78 | XXX
73542 | TC | A | X-ray exam, sacroiliac joint | 0.00 | 1.89 | NA | 0.12 | 2.01 | NA | XXX
73550 |  | A | X-ray exam of thigh | 0.17 | 0.62 | NA | 0.05 | 0.84 | NA | XXX
73550 | 26 | A | X-ray exam of thigh | 0.17 | 0.06 | 0.06 | 0.01 | 0.24 | 0.24 | XXX
73550 | TC | A | X-ray exam of thigh | 0.00 | 0.56 | NA | 0.04 | 0.60 | NA | XXX
73560 |  | A | X-ray exam of knee, 1 or 2 | 0.17 | 0.59 | NA | 0.03 | 0.79 | NA | XXX
73560 | 26 | A | X-ray exam of knee, 1 or 2 | 0.17 | 0.06 | 0.06 | 0.01 | 0.24 | 0.24 | XXX
73560 | TC | A | X-ray exam of knee, 1 or 2 | 0.00 | 0.52 | NA | 0.02 | 0.54 | NA | XXX
73562 |  | A | X-ray exam of knee, 3 | 0.18 | 0.66 | NA | 0.05 | 0.89 | NA | XXX
73562 | 26 | A | X-ray exam of knee, 3 | 0.18 | 0.06 | 0.06 | 0.01 | 0.25 | 0.25 | XXX
73562 | TC | A | X-ray exam of knee, 3 | 0.00 | 0.59 | NA | 0.04 | 0.63 | NA | XXX
73564 |  | A | X-ray exam, knee, 4 or more | 0.22 | 0.74 | NA | 0.05 | 1.01 | NA | XXX
73564 | 26 | A | X-ray exam, knee, 4 or more | 0.22 | 0.08 | 0.08 | 0.01 | 0.31 | 0.31 | XXX
73564 | TC | A | X-ray exam, knee, 4 or more | 0.00 | 0.67 | NA | 0.04 | 0.71 | NA | XXX
73565 |  | A | X-ray exam of knees | 0.17 | 0.57 | NA | 0.03 | 0.77 | NA | XXX
73565 | 26 | A | X-ray exam of knees | 0.17 | 0.06 | 0.06 | 0.01 | 0.24 | 0.24 | XXX
73565 | TC | A | X-ray exam of knees | 0.00 | 0.50 | NA | 0.02 | 0.52 | NA | XXX
73580 |  | A | Contrast x-ray of knee joint | 0.54 | 2.71 | NA | 0.17 | 3.42 | NA | XXX
73580 | 26 | A | Contrast x-ray of knee joint | 0.54 | 0.18 | 0.18 | 0.03 | 0.75 | 0.75 | XXX
73580 | TC | A | Contrast x-ray of knee joint | 0.00 | 2.53 | NA | 0.14 | 2.67 | NA | XXX
73590 |  | A | X-ray exam of lower leg | 0.17 | 0.58 | NA | 0.03 | 0.78 | NA | XXX
73590 | 26 | A | X-ray exam of lower leg | 0.17 | 0.06 | 0.06 | 0.01 | 0.24 | 0.24 | XXX
73590 | TC | A | X-ray exam of lower leg | 0.00 | 0.52 | NA | 0.02 | 0.54 | NA | XXX
73592 |  | A | X-ray exam of leg, infant | 0.16 | 0.56 | NA | 0.03 | 0.75 | NA | XXX
73592 | 26 | A | X-ray exam of leg, infant | 0.16 | 0.05 | 0.05 | 0.01 | 0.22 | 0.22 | XXX
73592 | TC | A | X-ray exam of leg, infant | 0.00 | 0.51 | NA | 0.02 | 0.53 | NA | XXX
73600 |  | A | X-ray exam of ankle | 0.16 | 0.55 | NA | 0.03 | 0.74 | NA | XXX
73600 | 26 | A | X-ray exam of ankle | 0.16 | 0.05 | 0.05 | 0.01 | 0.22 | 0.22 | XXX
73600 | TC | A | X-ray exam of ankle | 0.00 | 0.50 | NA | 0.02 | 0.52 | NA | XXX
73610 |  | A | X-ray exam of ankle | 0.17 | 0.62 | NA | 0.03 | 0.82 | NA | XXX
73610 | 26 | A | X-ray exam of ankle | 0.17 | 0.06 | 0.06 | 0.01 | 0.24 | 0.24 | XXX
73610 | TC | A | X-ray exam of ankle | 0.00 | 0.56 | NA | 0.02 | 0.58 | NA | XXX
73615 |  | A | Contrast x-ray of ankle | 0.54 | 2.19 | NA | 0.15 | 2.89 | NA | XXX
73615 | 26 | A | Contrast x-ray of ankle | 0.54 | 0.19 | 0.19 | 0.03 | 0.76 | 0.76 | XXX
73615 | TC | A | Contrast x-ray of ankle | 0.00 | 2.01 | NA | 0.12 | 2.13 | NA | XXX
73620 |  | A | X-ray exam of foot | 0.16 | 0.53 | NA | 0.03 | 0.72 | NA | XXX
73620 | 26 | A | X-ray exam of foot | 0.16 | 0.05 | 0.05 | 0.01 | 0.22 | 0.22 | XXX
73620 | TC | A | X-ray exam of foot | 0.00 | 0.48 | NA | 0.02 | 0.50 | NA | XXX
73630 |  | A | X-ray exam of foot | 0.17 | 0.61 | NA | 0.03 | 0.81 | NA | XXX
73630 | 26 | A | X-ray exam of foot | 0.17 | 0.06 | 0.06 | 0.01 | 0.24 | 0.24 | XXX
73630 | TC | A | X-ray exam of foot | 0.00 | 0.54 | NA | 0.02 | 0.56 | NA | XXX
73650 |  | A | X-ray exam of heel | 0.16 | 0.53 | NA | 0.03 | 0.72 | NA | XXX
73650 | 26 | A | X-ray exam of heel | 0.16 | 0.05 | 0.05 | 0.01 | 0.22 | 0.22 | XXX
73650 | TC | A | X-ray exam of heel | 0.00 | 0.48 | NA | 0.02 | 0.50 | NA | XXX
73660 |  | A | X-ray exam of toe(s) | 0.13 | 0.51 | NA | 0.03 | 0.67 | NA | XXX
73660 | 26 | A | X-ray exam of toe(s) | 0.13 | 0.04 | 0.04 | 0.01 | 0.18 | 0.18 | XXX
73660 | TC | A | X-ray exam of toe(s) | 0.00 | 0.47 | NA | 0.02 | 0.49 | NA | XXX
73700 |  | A | Ct lower extremity w/o dye | 1.09 | 5.54 | NA | 0.30 | 6.93 | NA | XXX
73700 | 26 | A | Ct lower extremity w/o dye | 1.09 | 0.38 | 0.38 | 0.05 | 1.52 | 1.52 | XXX
73700 | TC | A | Ct lower extremity w/o dye | 0.00 | 5.16 | NA | 0.25 | 5.41 | NA | XXX
73701 |  | A | Ct lower extremity w/dye | 1.16 | 6.68 | NA | 0.36 | 8.20 | NA | XXX
73701 | 26 | A | Ct lower extremity w/dye | 1.16 | 0.40 | 0.40 | 0.05 | 1.61 | 1.61 | XXX
73701 | TC | A | Ct lower extremity w/dye | 0.00 | 6.28 | NA | 0.31 | 6.59 | NA | XXX
73702 |  | A | Ct lwr extremity w/o&w/dye | 1.22 | 8.40 | NA | 0.44 | 10.06 | NA | XXX
73702 | 26 | A | Ct lwr extremity w/o&w/dye | 1.22 | 0.42 | 0.42 | 0.05 | 1.69 | 1.69 | XXX
73702 | TC | A | Ct lwr extremity w/o&w/dye | 0.00 | 7.98 | NA | 0.39 | 8.37 | NA | XXX
73706 |  | A | Ct angio lwr extr w/o&w/dye | 1.90 | 11.68 | NA | 0.47 | 14.06 | NA | XXX
73706 | 26 | A | Ct angio lwr extr w/o&w/dye | 1.90 | 0.65 | 0.65 | 0.08 | 2.64 | 2.64 | XXX
73706 | TC | A | Ct angio lwr extr w/o&w/dye | 0.00 | 11.03 | NA | 0.39 | 11.42 | NA | XXX
73718 |  | A | Mri lower extremity w/o dye | 1.35 | 11.94 | NA | 0.45 | 13.74 | NA | XXX
73718 | 26 | A | Mri lower extremity w/o dye | 1.35 | 0.46 | 0.46 | 0.06 | 1.88 | 1.88 | XXX
73718 | TC | A | Mri lower extremity w/o dye | 0.00 | 11.48 | NA | 0.39 | 11.87 | NA | XXX
73719 |  | A | Mri lower extremity w/dye | 1.62 | 13.98 | NA | 0.54 | 16.15 | NA | XXX
73719 | 26 | A | Mri lower extremity w/dye | 1.62 | 0.56 | 0.56 | 0.07 | 2.25 | 2.25 | XXX
73719 | TC | A | Mri lower extremity w/dye | 0.00 | 13.43 | NA | 0.47 | 13.90 | NA | XXX
73720 |  | A | Mri lwr extremity w/o&w/dye | 2.15 | 23.69 | NA | 0.94 | 26.79 | NA | XXX
73720 | 26 | A | Mri lwr extremity w/o&w/dye | 2.15 | 0.74 | 0.74 | 0.10 | 2.99 | 2.99 | XXX
73720 | TC | A | Mri lwr extremity w/o&w/dye | 0.00 | 22.96 | NA | 0.84 | 23.80 | NA | XXX
73721 |  | A | Mri jnt of lwr extre w/o dye | 1.35 | 11.94 | NA | 0.45 | 13.75 | NA | XXX
73721 | 26 | A | Mri jnt of lwr extre w/o dye | 1.35 | 0.46 | 0.46 | 0.06 | 1.88 | 1.88 | XXX
73721 | TC | A | Mri jnt of lwr extre w/o dye | 0.00 | 11.48 | NA | 0.39 | 11.87 | NA | XXX
73722 |  | A | Mri joint of lwr extr w/dye | 1.62 | 13.75 | NA | 0.54 | 15.92 | NA | XXX
73722 | 26 | A | Mri joint of lwr extr w/dye | 1.62 | 0.56 | 0.56 | 0.07 | 2.25 | 2.25 | XXX
73722 | TC | A | Mri joint of lwr extr w/dye | 0.00 | 13.19 | NA | 0.47 | 13.66 | NA | XXX
73723 |  | A | Mri joint lwr extr w/o&w/dye | 2.15 | 23.23 | NA | 0.94 | 26.32 | NA | XXX
73723 | 26 | A | Mri joint lwr extr w/o&w/dye | 2.15 | 0.74 | 0.74 | 0.10 | 3.00 | 3.00 | XXX
73723 | TC | A | Mri joint lwr extr w/o&w/dye | 0.00 | 22.48 | NA | 0.84 | 23.32 | NA | XXX
73725 |  | R | Mr ang lwr ext w or w/o dye | 1.82 | 12.54 | NA | 0.67 | 15.03 | NA | XXX
73725 | 26 | R | Mr ang lwr ext w or w/o dye | 1.82 | 0.63 | 0.63 | 0.08 | 2.53 | 2.53 | XXX
73725 | TC | R | Mr ang lwr ext w or w/o dye | 0.00 | 11.91 | NA | 0.59 | 12.50 | NA | XXX
74000 |  | A | X-ray exam of abdomen | 0.18 | 0.57 | NA | 0.03 | 0.78 | NA | XXX
74000 | 26 | A | X-ray exam of abdomen | 0.18 | 0.06 | 0.06 | 0.01 | 0.25 | 0.25 | XXX
74000 | TC | A | X-ray exam of abdomen | 0.00 | 0.50 | NA | 0.02 | 0.52 | NA | XXX
74010 |  | A | X-ray exam of abdomen | 0.23 | 0.71 | NA | 0.05 | 0.99 | NA | XXX
74010 | 26 | A | X-ray exam of abdomen | 0.23 | 0.08 | 0.08 | 0.01 | 0.32 | 0.32 | XXX
74010 | TC | A | X-ray exam of abdomen | 0.00 | 0.63 | NA | 0.04 | 0.67 | NA | XXX
74020 |  | A | X-ray exam of abdomen | 0.27 | 0.75 | NA | 0.05 | 1.07 | NA | XXX
74020 | 26 | A | X-ray exam of abdomen | 0.27 | 0.10 | 0.10 | 0.01 | 0.38 | 0.38 | XXX
74020 | TC | A | X-ray exam of abdomen | 0.00 | 0.65 | NA | 0.04 | 0.69 | NA | XXX
74022 |  | A | X-ray exam series, abdomen | 0.32 | 0.89 | NA | 0.06 | 1.27 | NA | XXX
74022 | 26 | A | X-ray exam series, abdomen | 0.32 | 0.11 | 0.11 | 0.01 | 0.44 | 0.44 | XXX
74022 | TC | A | X-ray exam series, abdomen | 0.00 | 0.78 | NA | 0.05 | 0.83 | NA | XXX
74150 |  | A | Ct abdomen w/o dye | 1.19 | 6.02 | NA | 0.35 | 7.57 | NA | XXX
74150 | 26 | A | Ct abdomen w/o dye | 1.19 | 0.41 | 0.41 | 0.05 | 1.65 | 1.65 | XXX
74150 | TC | A | Ct abdomen w/o dye | 0.00 | 5.61 | NA | 0.30 | 5.91 | NA | XXX
74160 |  | A | Ct abdomen w/dye | 1.27 | 7.66 | NA | 0.42 | 9.36 | NA | XXX
74160 | 26 | A | Ct abdomen w/dye | 1.27 | 0.44 | 0.44 | 0.06 | 1.77 | 1.77 | XXX
74160 | TC | A | Ct abdomen w/dye | 0.00 | 7.22 | NA | 0.36 | 7.58 | NA | XXX
74170 |  | A | Ct abdomen w/o & w/dye | 1.40 | 9.77 | NA | 0.49 | 11.66 | NA | XXX
74170 | 26 | A | Ct abdomen w/o & w/dye | 1.40 | 0.48 | 0.48 | 0.06 | 1.95 | 1.95 | XXX
74170 | TC | A | Ct abdomen w/o & w/dye | 0.00 | 9.29 | NA | 0.43 | 9.72 | NA | XXX
74175 |  | A | Ct angio abdom w/o & w/dye | 1.90 | 12.48 | NA | 0.47 | 14.86 | NA | XXX
74175 | 26 | A | Ct angio abdom w/o & w/dye | 1.90 | 0.65 | 0.65 | 0.08 | 2.64 | 2.64 | XXX
74175 | TC | A | Ct angio abdom w/o & w/dye | 0.00 | 11.83 | NA | 0.39 | 12.22 | NA | XXX
74181 |  | A | Mri abdomen w/o dye | 1.46 | 11.66 | NA | 0.51 | 13.63 | NA | XXX
74181 | 26 | A | Mri abdomen w/o dye | 1.46 | 0.50 | 0.50 | 0.06 | 2.03 | 2.03 | XXX
74181 | TC | A | Mri abdomen w/o dye | 0.00 | 11.15 | NA | 0.45 | 11.60 | NA | XXX
74182 |  | A | Mri abdomen w/dye | 1.73 | 14.55 | NA | 0.60 | 16.89 | NA | XXX
74182 | 26 | A | Mri abdomen w/dye | 1.73 | 0.60 | 0.60 | 0.08 | 2.41 | 2.41 | XXX
74182 | TC | A | Mri abdomen w/dye | 0.00 | 13.96 | NA | 0.52 | 14.48 | NA | XXX
74183 |  | A | Mri abdomen w/o & w/dye | 2.26 | 23.60 | NA | 1.02 | 26.88 | NA | XXX
74183 | 26 | A | Mri abdomen w/o & w/dye | 2.26 | 0.78 | 0.78 | 0.10 | 3.14 | 3.14 | XXX
74183 | TC | A | Mri abdomen w/o & w/dye | 0.00 | 22.82 | NA | 0.92 | 23.74 | NA | XXX
74185 |  | R | Mri angio, abdom w orw/o dye | 1.80 | 12.41 | NA | 0.67 | 14.88 | NA | XXX
74185 | 26 | R | Mri angio, abdom w orw/o dye | 1.80 | 0.62 | 0.62 | 0.08 | 2.50 | 2.50 | XXX
74185 | TC | R | Mri angio, abdom w orw/o dye | 0.00 | 11.79 | NA | 0.59 | 12.38 | NA | XXX
74190 |  | A | X-ray exam of peritoneum | 0.48 | NA | NA | 0.09 | NA | NA | XXX
74190 | 26 | A | X-ray exam of peritoneum | 0.48 | 0.17 | 0.17 | 0.02 | 0.67 | 0.67 | XXX
74190 | TC | A | X-ray exam of peritoneum | 0.00 | NA | NA | 0.07 | NA | NA | XXX
74210 |  | A | Contrst x-ray exam of throat | 0.36 | 1.45 | NA | 0.08 | 1.89 | NA | XXX
74210 | 26 | A | Contrst x-ray exam of throat | 0.36 | 0.13 | 0.13 | 0.02 | 0.51 | 0.51 | XXX
74210 | TC | A | Contrst x-ray exam of throat | 0.00 | 1.33 | NA | 0.06 | 1.39 | NA | XXX
74220 |  | A | Contrast x-ray, esophagus | 0.46 | 1.57 | NA | 0.08 | 2.11 | NA | XXX
74220 | 26 | A | Contrast x-ray, esophagus | 0.46 | 0.16 | 0.16 | 0.02 | 0.64 | 0.64 | XXX
74220 | TC | A | Contrast x-ray, esophagus | 0.00 | 1.41 | NA | 0.06 | 1.47 | NA | XXX
74230 |  | A | Cine/vid x-ray, throat/esoph | 0.53 | 1.63 | NA | 0.09 | 2.25 | NA | XXX
74230 | 26 | A | Cine/vid x-ray, throat/esoph | 0.53 | 0.18 | 0.18 | 0.02 | 0.73 | 0.73 | XXX
74230 | TC | A | Cine/vid x-ray, throat/esoph | 0.00 | 1.45 | NA | 0.07 | 1.52 | NA | XXX
74235 |  | A | Remove esophagus obstruction | 1.19 | NA | NA | 0.19 | NA | NA | XXX
74235 | 26 | A | Remove esophagus obstruction | 1.19 | 0.41 | 0.41 | 0.05 | 1.65 | 1.65 | XXX
74235 | TC | A | Remove esophagus obstruction | 0.00 | NA | NA | 0.14 | NA | NA | XXX
74240 |  | A | X-ray exam, upper gi tract | 0.69 | 1.89 | NA | 0.11 | 2.69 | NA | XXX
74240 | 26 | A | X-ray exam, upper gi tract | 0.69 | 0.24 | 0.24 | 0.03 | 0.96 | 0.96 | XXX
74240 | TC | A | X-ray exam, upper gi tract | 0.00 | 1.65 | NA | 0.08 | 1.73 | NA | XXX
74241 |  | A | X-ray exam, upper gi tract | 0.69 | 1.98 | NA | 0.11 | 2.78 | NA | XXX
74241 | 26 | A | X-ray exam, upper gi tract | 0.69 | 0.24 | 0.24 | 0.03 | 0.96 | 0.96 | XXX
74241 | TC | A | X-ray exam, upper gi tract | 0.00 | 1.74 | NA | 0.08 | 1.82 | NA | XXX
74245 |  | A | X-ray exam, upper gi tract | 0.91 | 3.16 | NA | 0.17 | 4.24 | NA | XXX
74245 | 26 | A | X-ray exam, upper gi tract | 0.91 | 0.32 | 0.32 | 0.04 | 1.27 | 1.27 | XXX
74245 | TC | A | X-ray exam, upper gi tract | 0.00 | 2.85 | NA | 0.13 | 2.98 | NA | XXX
74246 |  | A | Contrst x-ray uppr gi tract | 0.69 | 2.16 | NA | 0.13 | 2.98 | NA | XXX
74246 | 26 | A | Contrst x-ray uppr gi tract | 0.69 | 0.24 | 0.24 | 0.03 | 0.96 | 0.96 | XXX
74246 | TC | A | Contrst x-ray uppr gi tract | 0.00 | 1.92 | NA | 0.10 | 2.02 | NA | XXX
74247 |  | A | Contrst x-ray uppr gi tract | 0.69 | 2.30 | NA | 0.14 | 3.13 | NA | XXX
74247 | 26 | A | Contrst x-ray uppr gi tract | 0.69 | 0.24 | 0.24 | 0.03 | 0.96 | 0.96 | XXX
74247 | TC | A | Contrst x-ray uppr gi tract | 0.00 | 2.06 | NA | 0.11 | 2.17 | NA | XXX
74249 |  | A | Contrst x-ray uppr gi tract | 0.91 | 3.38 | NA | 0.18 | 4.47 | NA | XXX
74249 | 26 | A | Contrst x-ray uppr gi tract | 0.91 | 0.32 | 0.32 | 0.04 | 1.27 | 1.27 | XXX
74249 | TC | A | Contrst x-ray uppr gi tract | 0.00 | 3.06 | NA | 0.14 | 3.20 | NA | XXX
74250 |  | A | X-ray exam of small bowel | 0.47 | 1.83 | NA | 0.09 | 2.39 | NA | XXX
74250 | 26 | A | X-ray exam of small bowel | 0.47 | 0.16 | 0.16 | 0.02 | 0.65 | 0.65 | XXX
74250 | TC | A | X-ray exam of small bowel | 0.00 | 1.67 | NA | 0.07 | 1.74 | NA | XXX
74251 |  | A | X-ray exam of small bowel | 0.69 | 4.38 | NA | 0.10 | 5.17 | NA | XXX
74251 | 26 | A | X-ray exam of small bowel | 0.69 | 0.24 | 0.24 | 0.03 | 0.96 | 0.96 | XXX
74251 | TC | A | X-ray exam of small bowel | 0.00 | 4.14 | NA | 0.07 | 4.21 | NA | XXX
74260 |  | A | X-ray exam of small bowel | 0.50 | 3.97 | NA | 0.10 | 4.57 | NA | XXX
74260 | 26 | A | X-ray exam of small bowel | 0.50 | 0.17 | 0.17 | 0.02 | 0.69 | 0.69 | XXX
74260 | TC | A | X-ray exam of small bowel | 0.00 | 3.81 | NA | 0.08 | 3.89 | NA | XXX
74270 |  | A | Contrast x-ray exam of colon | 0.69 | 2.44 | NA | 0.14 | 3.27 | NA | XXX
74270 | 26 | A | Contrast x-ray exam of colon | 0.69 | 0.24 | 0.24 | 0.03 | 0.96 | 0.96 | XXX
74270 | TC | A | Contrast x-ray exam of colon | 0.00 | 2.20 | NA | 0.11 | 2.31 | NA | XXX
74280 |  | A | Contrast x-ray exam of colon | 0.99 | 3.35 | NA | 0.17 | 4.51 | NA | XXX
74280 | 26 | A | Contrast x-ray exam of colon | 0.99 | 0.34 | 0.34 | 0.04 | 1.37 | 1.37 | XXX
74280 | TC | A | Contrast x-ray exam of colon | 0.00 | 3.02 | NA | 0.13 | 3.15 | NA | XXX
74283 |  | A | Contrast x-ray exam of colon | 2.02 | 3.31 | NA | 0.23 | 5.57 | NA | XXX
74283 | 26 | A | Contrast x-ray exam of colon | 2.02 | 0.69 | 0.69 | 0.09 | 2.81 | 2.81 | XXX
74283 | TC | A | Contrast x-ray exam of colon | 0.00 | 2.62 | NA | 0.14 | 2.76 | NA | XXX
74290 |  | A | Contrast x-ray, gallbladder | 0.32 | 1.08 | NA | 0.06 | 1.47 | NA | XXX
74290 | 26 | A | Contrast x-ray, gallbladder | 0.32 | 0.11 | 0.11 | 0.01 | 0.44 | 0.44 | XXX
74290 | TC | A | Contrast x-ray, gallbladder | 0.00 | 0.98 | NA | 0.05 | 1.03 | NA | XXX
74291 |  | A | Contrast x-rays, gallbladder | 0.20 | 0.83 | NA | 0.03 | 1.06 | NA | XXX
74291 | 26 | A | Contrast x-rays, gallbladder | 0.20 | 0.07 | 0.07 | 0.01 | 0.28 | 0.28 | XXX
74291 | TC | A | Contrast x-rays, gallbladder | 0.00 | 0.76 | NA | 0.02 | 0.78 | NA | XXX
74300 |  | C | X-ray bile ducts/pancreas | 0.00 | 0.00 | 0.00 | 0.00 | 0.00 | 0.00 | XXX
74300 | 26 | A | X-ray bile ducts/pancreas | 0.36 | 0.13 | 0.13 | 0.02 | 0.51 | 0.51 | XXX
74300 | TC | C | X-ray bile ducts/pancreas | 0.00 | 0.00 | 0.00 | 0.00 | 0.00 | 0.00 | XXX
74301 |  | C | X-rays at surgery add-on | 0.00 | 0.00 | 0.00 | 0.00 | 0.00 | 0.00 | ZZZ
74301 | 26 | A | X-rays at surgery add-on | 0.21 | 0.07 | 0.07 | 0.01 | 0.29 | 0.29 | ZZZ
74301 | TC | C | X-rays at surgery add-on | 0.00 | 0.00 | 0.00 | 0.00 | 0.00 | 0.00 | ZZZ
74305 |  | A | X-ray bile ducts/pancreas | 0.42 | NA | NA | 0.07 | NA | NA | XXX
74305 | 26 | A | X-ray bile ducts/pancreas | 0.42 | 0.15 | 0.15 | 0.02 | 0.59 | 0.59 | XXX
74305 | TC | A | X-ray bile ducts/pancreas | 0.00 | NA | NA | 0.05 | NA | NA | XXX
74320 |  | A | Contrast x-ray of bile ducts | 0.54 | 3.15 | NA | 0.19 | 3.88 | NA | XXX
74320 | 26 | A | Contrast x-ray of bile ducts | 0.54 | 0.19 | 0.19 | 0.02 | 0.75 | 0.75 | XXX
74320 | TC | A | Contrast x-ray of bile ducts | 0.00 | 2.96 | NA | 0.17 | 3.13 | NA | XXX
74327 |  | A | X-ray bile stone removal | 0.70 | 2.28 | NA | 0.14 | 3.12 | NA | XXX
74327 | 26 | A | X-ray bile stone removal | 0.70 | 0.24 | 0.24 | 0.03 | 0.97 | 0.97 | XXX
74327 | TC | A | X-ray bile stone removal | 0.00 | 2.03 | NA | 0.11 | 2.14 | NA | XXX
74328 |  | A | X-ray bile duct endoscopy | 0.70 | NA | NA | 0.20 | NA | NA | XXX
74328 | 26 | A | X-ray bile duct endoscopy | 0.70 | 0.24 | 0.24 | 0.03 | 0.97 | 0.97 | XXX
74328 | TC | A | X-ray bile duct endoscopy | 0.00 | NA | NA | 0.17 | NA | NA | XXX
74329 |  | A | X-ray for pancreas endoscopy | 0.70 | NA | NA | 0.20 | NA | NA | XXX
74329 | 26 | A | X-ray for pancreas endoscopy | 0.70 | 0.24 | 0.24 | 0.03 | 0.97 | 0.97 | XXX
74329 | TC | A | X-ray for pancreas endoscopy | 0.00 | NA | NA | 0.17 | NA | NA | XXX
74330 |  | A | X-ray bile/panc endoscopy | 0.90 | NA | NA | 0.21 | NA | NA | XXX
74330 | 26 | A | X-ray bile/panc endoscopy | 0.90 | 0.31 | 0.31 | 0.04 | 1.25 | 1.25 | XXX
74330 | TC | A | X-ray bile/panc endoscopy | 0.00 | NA | NA | 0.17 | NA | NA | XXX
74340 |  | A | X-ray guide for GI tube | 0.54 | NA | NA | 0.16 | NA | NA | XXX
74340 | 26 | A | X-ray guide for GI tube | 0.54 | 0.19 | 0.19 | 0.02 | 0.75 | 0.75 | XXX
74340 | TC | A | X-ray guide for GI tube | 0.00 | NA | NA | 0.14 | NA | NA | XXX
74350 |  | A | X-ray guide, stomach tube | 0.76 | 3.17 | NA | 0.20 | 4.13 | NA | XXX
74350 | 26 | A | X-ray guide, stomach tube | 0.76 | 0.26 | 0.26 | 0.03 | 1.05 | 1.05 | XXX
74350 | TC | A | X-ray guide, stomach tube | 0.00 | 2.90 | NA | 0.17 | 3.07 | NA | XXX
74355 |  | A | X-ray guide, intestinal tube | 0.76 | NA | NA | 0.17 | NA | NA | XXX
74355 | 26 | A | X-ray guide, intestinal tube | 0.76 | 0.26 | 0.26 | 0.03 | 1.05 | 1.05 | XXX
74355 | TC | A | X-ray guide, intestinal tube | 0.00 | NA | NA | 0.14 | NA | NA | XXX
74360 |  | A | X-ray guide, GI dilation | 0.54 | NA | NA | 0.19 | NA | NA | XXX
74360 | 26 | A | X-ray guide, GI dilation | 0.54 | 0.20 | 0.20 | 0.02 | 0.76 | 0.76 | XXX
74360 | TC | A | X-ray guide, GI dilation | 0.00 | NA | NA | 0.17 | NA | NA | XXX
74363 |  | A | X-ray, bile duct dilation | 0.88 | NA | NA | 0.37 | NA | NA | XXX
74363 | 26 | A | X-ray, bile duct dilation | 0.88 | 0.31 | 0.31 | 0.04 | 1.23 | 1.23 | XXX
74363 | TC | A | X-ray, bile duct dilation | 0.00 | NA | NA | 0.33 | NA | NA | XXX
74400 |  | A | Contrst x-ray, urinary tract | 0.49 | 2.16 | NA | 0.13 | 2.79 | NA | XXX
74400 | 26 | A | Contrst x-ray, urinary tract | 0.49 | 0.17 | 0.17 | 0.02 | 0.68 | 0.68 | XXX
74400 | TC | A | Contrst x-ray, urinary tract | 0.00 | 2.00 | NA | 0.11 | 2.11 | NA | XXX
74410 |  | A | Contrst x-ray, urinary tract | 0.49 | 2.39 | NA | 0.13 | 3.01 | NA | XXX
74410 | 26 | A | Contrst x-ray, urinary tract | 0.49 | 0.17 | 0.17 | 0.02 | 0.68 | 0.68 | XXX
74410 | TC | A | Contrst x-ray, urinary tract | 0.00 | 2.22 | NA | 0.11 | 2.33 | NA | XXX
74415 |  | A | Contrst x-ray, urinary tract | 0.49 | 2.73 | NA | 0.14 | 3.36 | NA | XXX
74415 | 26 | A | Contrst x-ray, urinary tract | 0.49 | 0.17 | 0.17 | 0.02 | 0.68 | 0.68 | XXX
74415 | TC | A | Contrst x-ray, urinary tract | 0.00 | 2.56 | NA | 0.12 | 2.68 | NA | XXX
74420 |  | A | Contrst x-ray, urinary tract | 0.36 | NA | NA | 0.16 | NA | NA | XXX
74420 | 26 | A | Contrst x-ray, urinary tract | 0.36 | 0.13 | 0.13 | 0.02 | 0.51 | 0.51 | XXX
74420 | TC | A | Contrst x-ray, urinary tract | 0.00 | NA | NA | 0.14 | NA | NA | XXX
74425 |  | A | Contrst x-ray, urinary tract | 0.36 | NA | NA | 0.09 | NA | NA | XXX
74425 | 26 | A | Contrst x-ray, urinary tract | 0.36 | 0.13 | 0.13 | 0.02 | 0.51 | 0.51 | XXX
74425 | TC | A | Contrst x-ray, urinary tract | 0.00 | NA | NA | 0.07 | NA | NA | XXX
74430 |  | A | Contrast x-ray, bladder | 0.32 | 1.46 | NA | 0.08 | 1.86 | NA | XXX
74430 | 26 | A | Contrast x-ray, bladder | 0.32 | 0.11 | 0.11 | 0.02 | 0.45 | 0.45 | XXX
74430 | TC | A | Contrast x-ray, bladder | 0.00 | 1.35 | NA | 0.06 | 1.41 | NA | XXX
74440 |  | A | X-ray, male genital tract | 0.38 | 1.37 | NA | 0.08 | 1.83 | NA | XXX
74440 | 26 | A | X-ray, male genital tract | 0.38 | 0.13 | 0.13 | 0.02 | 0.53 | 0.53 | XXX
74440 | TC | A | X-ray, male genital tract | 0.00 | 1.24 | NA | 0.06 | 1.30 | NA | XXX
74445 |  | A | X-ray exam of penis | 1.14 | NA | NA | 0.13 | NA | NA | XXX
74445 | 26 | A | X-ray exam of penis | 1.14 | 0.41 | 0.41 | 0.07 | 1.62 | 1.62 | XXX
74445 | TC | A | X-ray exam of penis | 0.00 | NA | NA | 0.06 | NA | NA | XXX
74450 |  | A | X-ray, urethra/bladder | 0.33 | NA | NA | 0.10 | NA | NA | XXX
74450 | 26 | A | X-ray, urethra/bladder | 0.33 | 0.12 | 0.12 | 0.02 | 0.47 | 0.47 | XXX
74450 | TC | A | X-ray, urethra/bladder | 0.00 | NA | NA | 0.08 | NA | NA | XXX
74455 |  | A | X-ray, urethra/bladder | 0.33 | 1.87 | NA | 0.12 | 2.32 | NA | XXX
74455 | 26 | A | X-ray, urethra/bladder | 0.33 | 0.12 | 0.12 | 0.02 | 0.47 | 0.47 | XXX
74455 | TC | A | X-ray, urethra/bladder | 0.00 | 1.76 | NA | 0.10 | 1.86 | NA | XXX
74470 |  | A | X-ray exam of kidney lesion | 0.54 | NA | NA | 0.09 | NA | NA | XXX
74470 | 26 | A | X-ray exam of kidney lesion | 0.54 | 0.19 | 0.19 | 0.02 | 0.75 | 0.75 | XXX
74470 | TC | A | X-ray exam of kidney lesion | 0.00 | NA | NA | 0.07 | NA | NA | XXX
74475 |  | A | X-ray control, cath insert | 0.54 | 3.97 | NA | 0.24 | 4.75 | NA | XXX
74475 | 26 | A | X-ray control, cath insert | 0.54 | 0.19 | 0.19 | 0.02 | 0.75 | 0.75 | XXX
74475 | TC | A | X-ray control, cath insert | 0.00 | 3.78 | NA | 0.22 | 4.00 | NA | XXX
74480 |  | A | X-ray control, cath insert | 0.54 | 3.72 | NA | 0.24 | 4.51 | NA | XXX
74480 | 26 | A | X-ray control, cath insert | 0.54 | 0.19 | 0.19 | 0.02 | 0.75 | 0.75 | XXX
74480 | TC | A | X-ray control, cath insert | 0.00 | 3.53 | NA | 0.22 | 3.75 | NA | XXX
74485 |  | A | X-ray guide, GU dilation | 0.54 | 3.17 | NA | 0.20 | 3.91 | NA | XXX
74485 | 26 | A | X-ray guide, GU dilation | 0.54 | 0.19 | 0.19 | 0.03 | 0.76 | 0.76 | XXX
74485 | TC | A | X-ray guide, GU dilation | 0.00 | 2.98 | NA | 0.17 | 3.15 | NA | XXX
74710 |  | A | X-ray measurement of pelvis | 0.34 | 1.05 | NA | 0.08 | 1.47 | NA | XXX
74710 | 26 | A | X-ray measurement of pelvis | 0.34 | 0.12 | 0.12 | 0.02 | 0.48 | 0.48 | XXX
74710 | TC | A | X-ray measurement of pelvis | 0.00 | 0.93 | NA | 0.06 | 0.99 | NA | XXX
74740 |  | A | X-ray, female genital tract | 0.38 | 1.55 | NA | 0.09 | 2.02 | NA | XXX
74740 | 26 | A | X-ray, female genital tract | 0.38 | 0.14 | 0.14 | 0.02 | 0.54 | 0.54 | XXX
74740 | TC | A | X-ray, female genital tract | 0.00 | 1.42 | NA | 0.07 | 1.49 | NA | XXX
74742 |  | A | X-ray, fallopian tube | 0.61 | NA | NA | 0.20 | NA | NA | XXX
74742 | 26 | A | X-ray, fallopian tube | 0.61 | 0.21 | 0.21 | 0.03 | 0.85 | 0.85 | XXX
74742 | TC | A | X-ray, fallopian tube | 0.00 | NA | NA | 0.17 | NA | NA | XXX
74775 |  | A | X-ray exam of perineum | 0.62 | NA | NA | 0.11 | NA | NA | XXX
74775 | 26 | A | X-ray exam of perineum | 0.62 | 0.22 | 0.22 | 0.03 | 0.87 | 0.87 | XXX
74775 | TC | A | X-ray exam of perineum | 0.00 | NA | NA | 0.08 | NA | NA | XXX
75552 |  | A | Heart mri for morph w/o dye | 1.60 | 13.56 | NA | 0.66 | 15.82 | NA | XXX
75552 | 26 | A | Heart mri for morph w/o dye | 1.60 | 0.56 | 0.56 | 0.07 | 2.23 | 2.23 | XXX
75552 | TC | A | Heart mri for morph w/o dye | 0.00 | 13.00 | NA | 0.59 | 13.59 | NA | XXX
75553 |  | A | Heart mri for morph w/dye | 2.00 | 13.77 | NA | 0.66 | 16.43 | NA | XXX
75553 | 26 | A | Heart mri for morph w/dye | 2.00 | 0.68 | 0.68 | 0.07 | 2.76 | 2.76 | XXX
75553 | TC | A | Heart mri for morph w/dye | 0.00 | 13.08 | NA | 0.59 | 13.67 | NA | XXX
75554 |  | A | Cardiac MRI/function | 1.83 | 17.01 | NA | 0.66 | 19.50 | NA | XXX
75554 | 26 | A | Cardiac MRI/function | 1.83 | 0.68 | 0.68 | 0.07 | 2.58 | 2.58 | XXX
75554 | TC | A | Cardiac MRI/function | 0.00 | 16.33 | NA | 0.59 | 16.92 | NA | XXX
75555 |  | A | Cardiac MRI/limited study | 1.74 | 15.87 | NA | 0.66 | 18.27 | NA | XXX
75555 | 26 | A | Cardiac MRI/limited study | 1.74 | 0.67 | 0.67 | 0.07 | 2.49 | 2.49 | XXX
75555 | TC | A | Cardiac MRI/limited study | 0.00 | 15.20 | NA | 0.59 | 15.79 | NA | XXX
75556 |  | N | Cardiac MRI/flow mapping | 0.00 | 0.00 | 0.00 | 0.00 | 0.00 | 0.00 | XXX
75600 |  | A | Contrast x-ray exam of aorta | 0.49 | 11.90 | NA | 0.67 | 13.06 | NA | XXX
75600 | 26 | A | Contrast x-ray exam of aorta | 0.49 | 0.20 | 0.20 | 0.02 | 0.71 | 0.71 | XXX
75600 | TC | A | Contrast x-ray exam of aorta | 0.00 | 11.70 | NA | 0.65 | 12.35 | NA | XXX
75605 |  | A | Contrast x-ray exam of aorta | 1.14 | 10.80 | NA | 0.70 | 12.65 | NA | XXX
75605 | 26 | A | Contrast x-ray exam of aorta | 1.14 | 0.42 | 0.42 | 0.05 | 1.61 | 1.61 | XXX
75605 | TC | A | Contrast x-ray exam of aorta | 0.00 | 10.38 | NA | 0.65 | 11.03 | NA | XXX
75625 |  | A | Contrast x-ray exam of aorta | 1.14 | 10.87 | NA | 0.71 | 12.73 | NA | XXX
75625 | 26 | A | Contrast x-ray exam of aorta | 1.14 | 0.40 | 0.40 | 0.06 | 1.60 | 1.60 | XXX
75625 | TC | A | Contrast x-ray exam of aorta | 0.00 | 10.47 | NA | 0.65 | 11.12 | NA | XXX
75630 |  | A | X-ray aorta, leg arteries | 1.79 | 11.50 | NA | 0.80 | 14.09 | NA | XXX
75630 | 26 | A | X-ray aorta, leg arteries | 1.79 | 0.64 | 0.64 | 0.11 | 2.54 | 2.54 | XXX
75630 | TC | A | X-ray aorta, leg arteries | 0.00 | 10.86 | NA | 0.69 | 11.55 | NA | XXX
75635 |  | A | Ct angio abdominal arteries | 2.40 | 15.78 | NA | 0.50 | 18.68 | NA | XXX
75635 | 26 | A | Ct angio abdominal arteries | 2.40 | 0.83 | 0.83 | 0.11 | 3.35 | 3.35 | XXX
75635 | TC | A | Ct angio abdominal arteries | 0.00 | 14.94 | NA | 0.39 | 15.33 | NA | XXX
75650 |  | A | Artery x-rays, head & neck | 1.49 | 10.92 | NA | 0.72 | 13.13 | NA | XXX
75650 | 26 | A | Artery x-rays, head & neck | 1.49 | 0.52 | 0.52 | 0.07 | 2.08 | 2.08 | XXX
75650 | TC | A | Artery x-rays, head & neck | 0.00 | 10.40 | NA | 0.65 | 11.05 | NA | XXX
75658 |  | A | Artery x-rays, arm | 1.31 | 10.93 | NA | 0.72 | 12.96 | NA | XXX
75658 | 26 | A | Artery x-rays, arm | 1.31 | 0.49 | 0.49 | 0.07 | 1.87 | 1.87 | XXX
75658 | TC | A | Artery x-rays, arm | 0.00 | 10.44 | NA | 0.65 | 11.09 | NA | XXX
75660 |  | A | Artery x-rays, head & neck | 1.31 | 10.89 | NA | 0.71 | 12.91 | NA | XXX
75660 | 26 | A | Artery x-rays, head & neck | 1.31 | 0.46 | 0.46 | 0.06 | 1.84 | 1.84 | XXX
75660 | TC | A | Artery x-rays, head & neck | 0.00 | 10.42 | NA | 0.65 | 11.07 | NA | XXX
75662 |  | A | Artery x-rays, head & neck | 1.66 | 11.28 | NA | 0.71 | 13.65 | NA | XXX
75662 | 26 | A | Artery x-rays, head & neck | 1.66 | 0.62 | 0.62 | 0.06 | 2.34 | 2.34 | XXX
75662 | TC | A | Artery x-rays, head & neck | 0.00 | 10.66 | NA | 0.65 | 11.31 | NA | XXX
75665 |  | A | Artery x-rays, head & neck | 1.31 | 10.88 | NA | 0.74 | 12.93 | NA | XXX
75665 | 26 | A | Artery x-rays, head & neck | 1.31 | 0.46 | 0.46 | 0.09 | 1.86 | 1.86 | XXX
75665 | TC | A | Artery x-rays, head & neck | 0.00 | 10.42 | NA | 0.65 | 11.07 | NA | XXX
75671 |  | A | Artery x-rays, head & neck | 1.66 | 11.32 | NA | 0.72 | 13.70 | NA | XXX
75671 | 26 | A | Artery x-rays, head & neck | 1.66 | 0.58 | 0.58 | 0.07 | 2.31 | 2.31 | XXX
75671 | TC | A | Artery x-rays, head & neck | 0.00 | 10.74 | NA | 0.65 | 11.39 | NA | XXX
75676 |  | A | Artery x-rays, neck | 1.31 | 11.00 | NA | 0.72 | 13.03 | NA | XXX
75676 | 26 | A | Artery x-rays, neck | 1.31 | 0.46 | 0.46 | 0.07 | 1.84 | 1.84 | XXX
75676 | TC | A | Artery x-rays, neck | 0.00 | 10.54 | NA | 0.65 | 11.19 | NA | XXX
75680 |  | A | Artery x-rays, neck | 1.66 | 11.21 | NA | 0.72 | 13.60 | NA | XXX
75680 | 26 | A | Artery x-rays, neck | 1.66 | 0.58 | 0.58 | 0.07 | 2.31 | 2.31 | XXX
75680 | TC | A | Artery x-rays, neck | 0.00 | 10.63 | NA | 0.65 | 11.28 | NA | XXX
75685 |  | A | Artery x-rays, spine | 1.31 | 10.92 | NA | 0.71 | 12.94 | NA | XXX
75685 | 26 | A | Artery x-rays, spine | 1.31 | 0.45 | 0.45 | 0.06 | 1.83 | 1.83 | XXX
75685 | TC | A | Artery x-rays, spine | 0.00 | 10.47 | NA | 0.65 | 11.12 | NA | XXX
75705 |  | A | Artery x-rays, spine | 2.18 | 11.26 | NA | 0.78 | 14.22 | NA | XXX
75705 | 26 | A | Artery x-rays, spine | 2.18 | 0.77 | 0.77 | 0.13 | 3.08 | 3.08 | XXX
75705 | TC | A | Artery x-rays, spine | 0.00 | 10.49 | NA | 0.65 | 11.14 | NA | XXX
75710 |  | A | Artery x-rays, arm/leg | 1.14 | 10.90 | NA | 0.72 | 12.76 | NA | XXX
75710 | 26 | A | Artery x-rays, arm/leg | 1.14 | 0.41 | 0.41 | 0.07 | 1.62 | 1.62 | XXX
75710 | TC | A | Artery x-rays, arm/leg | 0.00 | 10.49 | NA | 0.65 | 11.14 | NA | XXX
75716 |  | A | Artery x-rays, arms/legs | 1.31 | 11.30 | NA | 0.72 | 13.33 | NA | XXX
75716 | 26 | A | Artery x-rays, arms/legs | 1.31 | 0.46 | 0.46 | 0.07 | 1.84 | 1.84 | XXX
75716 | TC | A | Artery x-rays, arms/legs | 0.00 | 10.84 | NA | 0.65 | 11.49 | NA | XXX
75722 |  | A | Artery x-rays, kidney | 1.14 | 10.99 | NA | 0.70 | 12.84 | NA | XXX
75722 | 26 | A | Artery x-rays, kidney | 1.14 | 0.42 | 0.42 | 0.05 | 1.61 | 1.61 | XXX
75722 | TC | A | Artery x-rays, kidney | 0.00 | 10.57 | NA | 0.65 | 11.22 | NA | XXX
75724 |  | A | Artery x-rays, kidneys | 1.49 | 11.60 | NA | 0.70 | 13.79 | NA | XXX
75724 | 26 | A | Artery x-rays, kidneys | 1.49 | 0.59 | 0.59 | 0.05 | 2.13 | 2.13 | XXX
75724 | TC | A | Artery x-rays, kidneys | 0.00 | 11.01 | NA | 0.65 | 11.66 | NA | XXX
75726 |  | A | Artery x-rays, abdomen | 1.14 | 10.86 | NA | 0.70 | 12.70 | NA | XXX
75726 | 26 | A | Artery x-rays, abdomen | 1.14 | 0.39 | 0.39 | 0.05 | 1.58 | 1.58 | XXX
75726 | TC | A | Artery x-rays, abdomen | 0.00 | 10.47 | NA | 0.65 | 11.12 | NA | XXX
75731 |  | A | Artery x-rays, adrenal gland | 1.14 | 10.63 | NA | 0.71 | 12.49 | NA | XXX
75731 | 26 | A | Artery x-rays, adrenal gland | 1.14 | 0.39 | 0.39 | 0.06 | 1.60 | 1.60 | XXX
75731 | TC | A | Artery x-rays, adrenal gland | 0.00 | 10.24 | NA | 0.65 | 10.89 | NA | XXX
75733 |  | A | Artery x-rays, adrenals | 1.31 | 11.21 | NA | 0.71 | 13.24 | NA | XXX
75733 | 26 | A | Artery x-rays, adrenals | 1.31 | 0.46 | 0.46 | 0.06 | 1.84 | 1.84 | XXX
75733 | TC | A | Artery x-rays, adrenals | 0.00 | 10.75 | NA | 0.65 | 11.40 | NA | XXX
75736 |  | A | Artery x-rays, pelvis | 1.14 | 10.89 | NA | 0.71 | 12.74 | NA | XXX
75736 | 26 | A | Artery x-rays, pelvis | 1.14 | 0.40 | 0.40 | 0.06 | 1.60 | 1.60 | XXX
75736 | TC | A | Artery x-rays, pelvis | 0.00 | 10.49 | NA | 0.65 | 11.14 | NA | XXX
75741 |  | A | Artery x-rays, lung | 1.31 | 10.77 | NA | 0.71 | 12.79 | NA | XXX
75741 | 26 | A | Artery x-rays, lung | 1.31 | 0.46 | 0.46 | 0.06 | 1.83 | 1.83 | XXX
75741 | TC | A | Artery x-rays, lung | 0.00 | 10.32 | NA | 0.65 | 10.97 | NA | XXX
75743 |  | A | Artery x-rays, lungs | 1.66 | 10.97 | NA | 0.72 | 13.36 | NA | XXX
75743 | 26 | A | Artery x-rays, lungs | 1.66 | 0.57 | 0.57 | 0.07 | 2.31 | 2.31 | XXX
75743 | TC | A | Artery x-rays, lungs | 0.00 | 10.40 | NA | 0.65 | 11.05 | NA | XXX
75746 |  | A | Artery x-rays, lung | 1.14 | 10.87 | NA | 0.70 | 12.72 | NA | XXX
75746 | 26 | A | Artery x-rays, lung | 1.14 | 0.40 | 0.40 | 0.05 | 1.59 | 1.59 | XXX
75746 | TC | A | Artery x-rays, lung | 0.00 | 10.47 | NA | 0.65 | 11.12 | NA | XXX
75756 |  | A | Artery x-rays, chest | 1.14 | 11.30 | NA | 0.69 | 13.13 | NA | XXX
75756 | 26 | A | Artery x-rays, chest | 1.14 | 0.47 | 0.47 | 0.04 | 1.65 | 1.65 | XXX
75756 | TC | A | Artery x-rays, chest | 0.00 | 10.82 | NA | 0.65 | 11.47 | NA | XXX
75774 |  | A | Artery x-ray, each vessel | 0.36 | 10.44 | NA | 0.67 | 11.47 | NA | ZZZ
75774 | 26 | A | Artery x-ray, each vessel | 0.36 | 0.13 | 0.13 | 0.02 | 0.51 | 0.51 | ZZZ
75774 | TC | A | Artery x-ray, each vessel | 0.00 | 10.31 | NA | 0.65 | 10.96 | NA | ZZZ
75790 |  | A | Visualize A-V shunt | 1.84 | 2.36 | NA | 0.17 | 4.38 | NA | XXX
75790 | 26 | A | Visualize A-V shunt | 1.84 | 0.63 | 0.63 | 0.09 | 2.56 | 2.56 | XXX
75790 | TC | A | Visualize A-V shunt | 0.00 | 1.73 | NA | 0.08 | 1.81 | NA | XXX
75801 |  | A | Lymph vessel x-ray, arm/leg | 0.81 | NA | NA | 0.37 | NA | NA | XXX
75801 | 26 | A | Lymph vessel x-ray, arm/leg | 0.81 | 0.28 | 0.28 | 0.08 | 1.17 | 1.17 | XXX
75801 | TC | A | Lymph vessel x-ray, arm/leg | 0.00 | NA | NA | 0.29 | NA | NA | XXX
75803 |  | A | Lymph vessel x-ray,arms/legs | 1.17 | NA | NA | 0.34 | NA | NA | XXX
75803 | 26 | A | Lymph vessel x-ray,arms/legs | 1.17 | 0.40 | 0.40 | 0.05 | 1.62 | 1.62 | XXX
75803 | TC | A | Lymph vessel x-ray,arms/legs | 0.00 | NA | NA | 0.29 | NA | NA | XXX
75805 |  | A | Lymph vessel x-ray, trunk | 0.81 | NA | NA | 0.38 | NA | NA | XXX
75805 | 26 | A | Lymph vessel x-ray, trunk | 0.81 | 0.28 | 0.28 | 0.05 | 1.14 | 1.14 | XXX
75805 | TC | A | Lymph vessel x-ray, trunk | 0.00 | NA | NA | 0.33 | NA | NA | XXX
75807 |  | A | Lymph vessel x-ray, trunk | 1.17 | NA | NA | 0.38 | NA | NA | XXX
75807 | 26 | A | Lymph vessel x-ray, trunk | 1.17 | 0.40 | 0.40 | 0.05 | 1.63 | 1.63 | XXX
75807 | TC | A | Lymph vessel x-ray, trunk | 0.00 | NA | NA | 0.33 | NA | NA | XXX
75809 |  | A | Nonvascular shunt, x-ray | 0.47 | 1.26 | NA | 0.07 | 1.80 | NA | XXX
75809 | 26 | A | Nonvascular shunt, x-ray | 0.47 | 0.16 | 0.16 | 0.02 | 0.65 | 0.65 | XXX
75809 | TC | A | Nonvascular shunt, x-ray | 0.00 | 1.10 | NA | 0.05 | 1.15 | NA | XXX
75810 |  | A | Vein x-ray, spleen/liver | 1.14 | NA | NA | 0.70 | NA | NA | XXX
75810 | 26 | A | Vein x-ray, spleen/liver | 1.14 | 0.39 | 0.39 | 0.05 | 1.58 | 1.58 | XXX
75810 | TC | A | Vein x-ray, spleen/liver | 0.00 | NA | NA | 0.65 | NA | NA | XXX
75820 |  | A | Vein x-ray, arm/leg | 0.70 | 1.67 | NA | 0.09 | 2.46 | NA | XXX
75820 | 26 | A | Vein x-ray, arm/leg | 0.70 | 0.24 | 0.24 | 0.03 | 0.97 | 0.97 | XXX
75820 | TC | A | Vein x-ray, arm/leg | 0.00 | 1.43 | NA | 0.06 | 1.49 | NA | XXX
75822 |  | A | Vein x-ray, arms/legs | 1.06 | 2.25 | NA | 0.13 | 3.44 | NA | XXX
75822 | 26 | A | Vein x-ray, arms/legs | 1.06 | 0.37 | 0.37 | 0.05 | 1.48 | 1.48 | XXX
75822 | TC | A | Vein x-ray, arms/legs | 0.00 | 1.88 | NA | 0.08 | 1.96 | NA | XXX
75825 |  | A | Vein x-ray, trunk | 1.14 | 10.64 | NA | 0.72 | 12.50 | NA | XXX
75825 | 26 | A | Vein x-ray, trunk | 1.14 | 0.39 | 0.39 | 0.07 | 1.60 | 1.60 | XXX
75825 | TC | A | Vein x-ray, trunk | 0.00 | 10.25 | NA | 0.65 | 10.90 | NA | XXX
75827 |  | A | Vein x-ray, chest | 1.14 | 10.67 | NA | 0.70 | 12.51 | NA | XXX
75827 | 26 | A | Vein x-ray, chest | 1.14 | 0.39 | 0.39 | 0.05 | 1.58 | 1.58 | XXX
75827 | TC | A | Vein x-ray, chest | 0.00 | 10.28 | NA | 0.65 | 10.93 | NA | XXX
75831 |  | A | Vein x-ray, kidney | 1.14 | 10.64 | NA | 0.71 | 12.49 | NA | XXX
75831 | 26 | A | Vein x-ray, kidney | 1.14 | 0.39 | 0.39 | 0.06 | 1.59 | 1.59 | XXX
75831 | TC | A | Vein x-ray, kidney | 0.00 | 10.25 | NA | 0.65 | 10.90 | NA | XXX
75833 |  | A | Vein x-ray, kidneys | 1.49 | 10.96 | NA | 0.74 | 13.19 | NA | XXX
75833 | 26 | A | Vein x-ray, kidneys | 1.49 | 0.52 | 0.52 | 0.09 | 2.10 | 2.10 | XXX
75833 | TC | A | Vein x-ray, kidneys | 0.00 | 10.43 | NA | 0.65 | 11.08 | NA | XXX
75840 |  | A | Vein x-ray, adrenal gland | 1.14 | 10.79 | NA | 0.72 | 12.66 | NA | XXX
75840 | 26 | A | Vein x-ray, adrenal gland | 1.14 | 0.39 | 0.39 | 0.07 | 1.61 | 1.61 | XXX
75840 | TC | A | Vein x-ray, adrenal gland | 0.00 | 10.40 | NA | 0.65 | 11.05 | NA | XXX
75842 |  | A | Vein x-ray, adrenal glands | 1.49 | 10.98 | NA | 0.72 | 13.19 | NA | XXX
75842 | 26 | A | Vein x-ray, adrenal glands | 1.49 | 0.51 | 0.51 | 0.07 | 2.07 | 2.07 | XXX
75842 | TC | A | Vein x-ray, adrenal glands | 0.00 | 10.47 | NA | 0.65 | 11.12 | NA | XXX
75860 |  | A | Vein x-ray, neck | 1.14 | 10.70 | NA | 0.69 | 12.53 | NA | XXX
75860 | 26 | A | Vein x-ray, neck | 1.14 | 0.41 | 0.41 | 0.04 | 1.59 | 1.59 | XXX
75860 | TC | A | Vein x-ray, neck | 0.00 | 10.29 | NA | 0.65 | 10.94 | NA | XXX
75870 |  | A | Vein x-ray, skull | 1.14 | 10.60 | NA | 0.70 | 12.45 | NA | XXX
75870 | 26 | A | Vein x-ray, skull | 1.14 | 0.41 | 0.41 | 0.05 | 1.60 | 1.60 | XXX
75870 | TC | A | Vein x-ray, skull | 0.00 | 10.20 | NA | 0.65 | 10.85 | NA | XXX
75872 |  | A | Vein x-ray, skull | 1.14 | 10.61 | NA | 0.79 | 12.54 | NA | XXX
75872 | 26 | A | Vein x-ray, skull | 1.14 | 0.39 | 0.39 | 0.14 | 1.67 | 1.67 | XXX
75872 | TC | A | Vein x-ray, skull | 0.00 | 10.22 | NA | 0.65 | 10.87 | NA | XXX
75880 |  | A | Vein x-ray, eye socket | 0.70 | 1.65 | NA | 0.09 | 2.44 | NA | XXX
75880 | 26 | A | Vein x-ray, eye socket | 0.70 | 0.24 | 0.24 | 0.03 | 0.97 | 0.97 | XXX
75880 | TC | A | Vein x-ray, eye socket | 0.00 | 1.41 | NA | 0.06 | 1.47 | NA | XXX
75885 |  | A | Vein x-ray, liver | 1.44 | 11.06 | NA | 0.71 | 13.21 | NA | XXX
75885 | 26 | A | Vein x-ray, liver | 1.44 | 0.50 | 0.50 | 0.06 | 2.00 | 2.00 | XXX
75885 | TC | A | Vein x-ray, liver | 0.00 | 10.56 | NA | 0.65 | 11.21 | NA | XXX
75887 |  | A | Vein x-ray, liver | 1.44 | 11.75 | NA | 0.71 | 13.90 | NA | XXX
75887 | 26 | A | Vein x-ray, liver | 1.44 | 0.50 | 0.50 | 0.06 | 2.00 | 2.00 | XXX
75887 | TC | A | Vein x-ray, liver | 0.00 | 11.25 | NA | 0.65 | 11.90 | NA | XXX
75889 |  | A | Vein x-ray, liver | 1.14 | 10.77 | NA | 0.70 | 12.61 | NA | XXX
75889 | 26 | A | Vein x-ray, liver | 1.14 | 0.39 | 0.39 | 0.05 | 1.58 | 1.58 | XXX
75889 | TC | A | Vein x-ray, liver | 0.00 | 10.38 | NA | 0.65 | 11.03 | NA | XXX
75891 |  | A | Vein x-ray, liver | 1.14 | 10.56 | NA | 0.70 | 12.40 | NA | XXX
75891 | 26 | A | Vein x-ray, liver | 1.14 | 0.39 | 0.39 | 0.05 | 1.58 | 1.58 | XXX
75891 | TC | A | Vein x-ray, liver | 0.00 | 10.17 | NA | 0.65 | 10.82 | NA | XXX
75893 |  | A | Venous sampling by catheter | 0.54 | 11.08 | NA | 0.67 | 12.30 | NA | XXX
75893 | 26 | A | Venous sampling by catheter | 0.54 | 0.19 | 0.19 | 0.02 | 0.75 | 0.75 | XXX
75893 | TC | A | Venous sampling by catheter | 0.00 | 10.89 | NA | 0.65 | 11.54 | NA | XXX
75894 |  | A | X-rays, transcath therapy | 1.31 | NA | NA | 1.35 | NA | NA | XXX
75894 | 26 | A | X-rays, transcath therapy | 1.31 | 0.45 | 0.45 | 0.08 | 1.85 | 1.85 | XXX
75894 | TC | A | X-rays, transcath therapy | 0.00 | NA | NA | 1.27 | NA | NA | XXX
75896 |  | A | X-rays, transcath therapy | 1.31 | NA | NA | 1.15 | NA | NA | XXX
75896 | 26 | A | X-rays, transcath therapy | 1.31 | 0.47 | 0.47 | 0.05 | 1.84 | 1.84 | XXX
75896 | TC | A | X-rays, transcath therapy | 0.00 | NA | NA | 1.10 | NA | NA | XXX
75898 |  | A | Follow-up angiography | 1.65 | NA | NA | 0.13 | NA | NA | XXX
75898 | 26 | A | Follow-up angiography | 1.65 | 0.58 | 0.58 | 0.07 | 2.30 | 2.30 | XXX
75898 | TC | A | Follow-up angiography | 0.00 | NA | NA | 0.06 | NA | NA | XXX
75900 |  | A | Arterial catheter exchange | 0.49 | NA | NA | 1.14 | NA | NA | XXX
75900 | 26 | A | Arterial catheter exchange | 0.49 | 0.17 | 0.17 | 0.03 | 0.69 | 0.69 | XXX
75900 | TC | A | Arterial catheter exchange | 0.00 | NA | NA | 1.11 | NA | NA | XXX
75901 |  | A | Remove cva device obstruct | 0.49 | 2.30 | NA | 0.85 | 3.64 | NA | XXX
75901 | 26 | A | Remove cva device obstruct | 0.49 | 0.17 | 0.17 | 0.02 | 0.68 | 0.68 | XXX
75901 | TC | A | Remove cva device obstruct | 0.00 | 2.13 | NA | 0.83 | 2.96 | NA | XXX
75902 |  | A | Remove cva lumen obstruct | 0.39 | 1.56 | NA | 0.85 | 2.80 | NA | XXX
75902 | 26 | A | Remove cva lumen obstruct | 0.39 | 0.14 | 0.14 | 0.02 | 0.55 | 0.55 | XXX
75902 | TC | A | Remove cva lumen obstruct | 0.00 | 1.43 | NA | 0.83 | 2.26 | NA | XXX
75940 |  | A | X-ray placement, vein filter | 0.54 | NA | NA | 0.69 | NA | NA | XXX
75940 | 26 | A | X-ray placement, vein filter | 0.54 | 0.19 | 0.19 | 0.04 | 0.77 | 0.77 | XXX
75940 | TC | A | X-ray placement, vein filter | 0.00 | NA | NA | 0.65 | NA | NA | XXX
75945 |  | A | Intravascular us | 0.40 | NA | NA | 0.28 | NA | NA | XXX
75945 | 26 | A | Intravascular us | 0.40 | 0.14 | 0.14 | 0.04 | 0.58 | 0.58 | XXX
75945 | TC | A | Intravascular us | 0.00 | NA | NA | 0.24 | NA | NA | XXX
75946 |  | A | Intravascular us add-on | 0.40 | NA | NA | 0.18 | NA | NA | ZZZ
75946 | 26 | A | Intravascular us add-on | 0.40 | 0.14 | 0.14 | 0.05 | 0.59 | 0.59 | ZZZ
75946 | TC | A | Intravascular us add-on | 0.00 | NA | NA | 0.13 | NA | NA | ZZZ
75952 |  | C | Endovasc repair abdom aorta | 0.00 | 0.00 | 0.00 | 0.00 | 0.00 | 0.00 | XXX
75952 | 26 | A | Endovasc repair abdom aorta | 4.50 | 1.51 | 1.51 | 0.43 | 6.44 | 6.44 | XXX
75952 | TC | C | Endovasc repair abdom aorta | 0.00 | 0.00 | 0.00 | 0.00 | 0.00 | 0.00 | XXX
75953 |  | C | Abdom aneurysm endovas rpr | 0.00 | 0.00 | 0.00 | 0.00 | 0.00 | 0.00 | XXX
75953 | 26 | A | Abdom aneurysm endovas rpr | 1.36 | 0.46 | 0.46 | 0.13 | 1.95 | 1.95 | XXX
75953 | TC | C | Abdom aneurysm endovas rpr | 0.00 | 0.00 | 0.00 | 0.00 | 0.00 | 0.00 | XXX
75954 |  | C | Iliac aneurysm endovas rpr | 0.00 | 0.00 | 0.00 | 0.00 | 0.00 | 0.00 | XXX
75954 | 26 | A | Iliac aneurysm endovas rpr | 2.25 | 0.81 | 0.81 | 0.15 | 3.22 | 3.22 | XXX
75954 | TC | C | Iliac aneurysm endovas rpr | 0.00 | 0.00 | 0.00 | 0.00 | 0.00 | 0.00 | XXX
75960 |  | A | Transcath iv stent rs&i | 0.82 | NA | NA | 0.82 | NA | NA | XXX
75960 | 26 | A | Transcath iv stent rs&i | 0.82 | 0.30 | 0.30 | 0.05 | 1.17 | 1.17 | XXX
75960 | TC | A | Transcath iv stent rs&i | 0.00 | NA | NA | 0.77 | NA | NA | XXX
75961 |  | A | Retrieval, broken catheter | 4.25 | 10.29 | NA | 0.73 | 15.27 | NA | XXX
75961 | 26 | A | Retrieval, broken catheter | 4.25 | 1.47 | 1.47 | 0.18 | 5.90 | 5.90 | XXX
75961 | TC | A | Retrieval, broken catheter | 0.00 | 8.82 | NA | 0.55 | 9.37 | NA | XXX
75962 |  | A | Repair arterial blockage | 0.54 | 13.03 | NA | 0.86 | 14.43 | NA | XXX
75962 | 26 | A | Repair arterial blockage | 0.54 | 0.19 | 0.19 | 0.03 | 0.76 | 0.76 | XXX
75962 | TC | A | Repair arterial blockage | 0.00 | 12.84 | NA | 0.83 | 13.67 | NA | XXX
75964 |  | A | Repair artery blockage, each | 0.36 | 7.07 | NA | 0.46 | 7.89 | NA | ZZZ
75964 | 26 | A | Repair artery blockage, each | 0.36 | 0.13 | 0.13 | 0.03 | 0.52 | 0.52 | ZZZ
75964 | TC | A | Repair artery blockage, each | 0.00 | 6.94 | NA | 0.43 | 7.37 | NA | ZZZ
75966 |  | A | Repair arterial blockage | 1.31 | 13.24 | NA | 0.89 | 15.44 | NA | XXX
75966 | 26 | A | Repair arterial blockage | 1.31 | 0.48 | 0.48 | 0.06 | 1.86 | 1.86 | XXX
75966 | TC | A | Repair arterial blockage | 0.00 | 12.75 | NA | 0.83 | 13.58 | NA | XXX
75968 |  | A | Repair artery blockage, each | 0.36 | 7.01 | NA | 0.45 | 7.82 | NA | ZZZ
75968 | 26 | A | Repair artery blockage, each | 0.36 | 0.14 | 0.14 | 0.02 | 0.52 | 0.52 | ZZZ
75968 | TC | A | Repair artery blockage, each | 0.00 | 6.87 | NA | 0.43 | 7.30 | NA | ZZZ
75970 |  | A | Vascular biopsy | 0.83 | NA | NA | 0.64 | NA | NA | XXX
75970 | 26 | A | Vascular biopsy | 0.83 | 0.30 | 0.30 | 0.04 | 1.17 | 1.17 | XXX
75970 | TC | A | Vascular biopsy | 0.00 | NA | NA | 0.60 | NA | NA | XXX
75978 |  | A | Repair venous blockage | 0.54 | 13.02 | NA | 0.85 | 14.41 | NA | XXX
75978 | 26 | A | Repair venous blockage | 0.54 | 0.19 | 0.19 | 0.02 | 0.75 | 0.75 | XXX
75978 | TC | A | Repair venous blockage | 0.00 | 12.83 | NA | 0.83 | 13.66 | NA | XXX
75980 |  | A | Contrast xray exam bile duct | 1.44 | NA | NA | 0.35 | NA | NA | XXX
75980 | 26 | A | Contrast xray exam bile duct | 1.44 | 0.50 | 0.50 | 0.06 | 2.00 | 2.00 | XXX
75980 | TC | A | Contrast xray exam bile duct | 0.00 | NA | NA | 0.29 | NA | NA | XXX
75982 |  | A | Contrast xray exam bile duct | 1.44 | NA | NA | 0.39 | NA | NA | XXX
75982 | 26 | A | Contrast xray exam bile duct | 1.44 | 0.50 | 0.50 | 0.06 | 2.00 | 2.00 | XXX
75982 | TC | A | Contrast xray exam bile duct | 0.00 | NA | NA | 0.33 | NA | NA | XXX
75984 |  | A | Xray control catheter change | 0.72 | 2.31 | NA | 0.14 | 3.18 | NA | XXX
75984 | 26 | A | Xray control catheter change | 0.72 | 0.25 | 0.25 | 0.03 | 1.00 | 1.00 | XXX
75984 | TC | A | Xray control catheter change | 0.00 | 2.07 | NA | 0.11 | 2.18 | NA | XXX
75989 |  | A | Abscess drainage under x-ray | 1.19 | 3.31 | NA | 0.22 | 4.72 | NA | XXX
75989 | 26 | A | Abscess drainage under x-ray | 1.19 | 0.41 | 0.41 | 0.05 | 1.65 | 1.65 | XXX
75989 | TC | A | Abscess drainage under x-ray | 0.00 | 2.90 | NA | 0.17 | 3.07 | NA | XXX
75992 |  | A | Atherectomy, x-ray exam | 0.54 | NA | NA | 0.86 | NA | NA | XXX
75992 | 26 | A | Atherectomy, x-ray exam | 0.54 | 0.20 | 0.20 | 0.03 | 0.77 | 0.77 | XXX
75992 | TC | A | Atherectomy, x-ray exam | 0.00 | NA | NA | 0.83 | NA | NA | XXX
75993 |  | A | Atherectomy, x-ray exam | 0.36 | NA | NA | 0.45 | NA | NA | ZZZ
75993 | 26 | A | Atherectomy, x-ray exam | 0.36 | 0.14 | 0.14 | 0.02 | 0.52 | 0.52 | ZZZ
75993 | TC | A | Atherectomy, x-ray exam | 0.00 | NA | NA | 0.43 | NA | NA | ZZZ
75994 |  | A | Atherectomy, x-ray exam | 1.31 | NA | NA | 0.90 | NA | NA | XXX
75994 | 26 | A | Atherectomy, x-ray exam | 1.31 | 0.48 | 0.48 | 0.07 | 1.86 | 1.86 | XXX
75994 | TC | A | Atherectomy, x-ray exam | 0.00 | NA | NA | 0.83 | NA | NA | XXX
75995 |  | A | Atherectomy, x-ray exam | 1.31 | NA | NA | 0.88 | NA | NA | XXX
75995 | 26 | A | Atherectomy, x-ray exam | 1.31 | 0.50 | 0.50 | 0.05 | 1.86 | 1.86 | XXX
75995 | TC | A | Atherectomy, x-ray exam | 0.00 | NA | NA | 0.83 | NA | NA | XXX
75996 |  | A | Atherectomy, x-ray exam | 0.36 | NA | NA | 0.45 | NA | NA | ZZZ
75996 | 26 | A | Atherectomy, x-ray exam | 0.36 | 0.12 | 0.12 | 0.02 | 0.50 | 0.50 | ZZZ
75996 | TC | A | Atherectomy, x-ray exam | 0.00 | NA | NA | 0.43 | NA | NA | ZZZ
75998 |  | A | Fluoroguide for vein device | 0.38 | 1.88 | NA | 0.11 | 2.37 | NA | ZZZ
75998 | 26 | A | Fluoroguide for vein device | 0.38 | 0.14 | 0.14 | 0.01 | 0.53 | 0.53 | ZZZ
75998 | TC | A | Fluoroguide for vein device | 0.00 | 1.75 | NA | 0.10 | 1.85 | NA | ZZZ
76000 |  | A | Fluoroscope examination | 0.17 | 1.78 | NA | 0.08 | 2.03 | NA | XXX
76000 | 26 | A | Fluoroscope examination | 0.17 | 0.05 | 0.05 | 0.01 | 0.23 | 0.23 | XXX
76000 | TC | A | Fluoroscope examination | 0.00 | 1.72 | NA | 0.07 | 1.79 | NA | XXX
76001 |  | A | Fluoroscope exam, extensive | 0.67 | NA | NA | 0.19 | NA | NA | XXX
76001 | 26 | A | Fluoroscope exam, extensive | 0.67 | 0.23 | 0.23 | 0.05 | 0.95 | 0.95 | XXX
76001 | TC | A | Fluoroscope exam, extensive | 0.00 | NA | NA | 0.14 | NA | NA | XXX
76003 |  | A | Needle localization by x-ray | 0.54 | 1.47 | NA | 0.09 | 2.10 | NA | XXX
76003 | 26 | A | Needle localization by x-ray | 0.54 | 0.18 | 0.18 | 0.02 | 0.74 | 0.74 | XXX
76003 | TC | A | Needle localization by x-ray | 0.00 | 1.30 | NA | 0.07 | 1.37 | NA | XXX
76005 |  | A | Fluoroguide for spine inject | 0.60 | 1.34 | NA | 0.10 | 2.04 | NA | XXX
76005 | 26 | A | Fluoroguide for spine inject | 0.60 | 0.15 | 0.15 | 0.03 | 0.78 | 0.78 | XXX
76005 | TC | A | Fluoroguide for spine inject | 0.00 | 1.19 | NA | 0.07 | 1.26 | NA | XXX
76006 |  | A | X-ray stress view | 0.41 | 0.32 | 0.17 | 0.06 | 0.79 | 0.64 | XXX
76010 |  | A | X-ray, nose to rectum | 0.18 | 0.58 | NA | 0.03 | 0.79 | NA | XXX
76010 | 26 | A | X-ray, nose to rectum | 0.18 | 0.06 | 0.06 | 0.01 | 0.25 | 0.25 | XXX
76010 | TC | A | X-ray, nose to rectum | 0.00 | 0.52 | NA | 0.02 | 0.54 | NA | XXX
76012 |  | C | Percut vertebroplasty fluor | 0.00 | 0.00 | 0.00 | 0.00 | 0.00 | 0.00 | XXX
76012 | 26 | A | Percut vertebroplasty fluor | 1.31 | 0.49 | 0.49 | 0.10 | 1.90 | 1.90 | XXX
76012 | TC | C | Percut vertebroplasty fluor | 0.00 | 0.00 | 0.00 | 0.00 | 0.00 | 0.00 | XXX
76013 |  | C | Percut vertebroplasty, ct | 0.00 | 0.00 | 0.00 | 0.00 | 0.00 | 0.00 | XXX
76013 | 26 | A | Percut vertebroplasty, ct | 1.38 | 0.50 | 0.50 | 0.07 | 1.96 | 1.96 | XXX
76013 | TC | C | Percut vertebroplasty, ct | 0.00 | 0.00 | 0.00 | 0.00 | 0.00 | 0.00 | XXX
76020 |  | A | X-rays for bone age | 0.19 | 0.55 | NA | 0.03 | 0.77 | NA | XXX
76020 | 26 | A | X-rays for bone age | 0.19 | 0.06 | 0.06 | 0.01 | 0.26 | 0.26 | XXX
76020 | TC | A | X-rays for bone age | 0.00 | 0.49 | NA | 0.02 | 0.51 | NA | XXX
76040 |  | A | X-rays, bone evaluation | 0.27 | 0.82 | NA | 0.06 | 1.15 | NA | XXX
76040 | 26 | A | X-rays, bone evaluation | 0.27 | 0.09 | 0.09 | 0.01 | 0.37 | 0.37 | XXX
76040 | TC | A | X-rays, bone evaluation | 0.00 | 0.73 | NA | 0.05 | 0.78 | NA | XXX
76061 |  | A | X-rays, bone survey | 0.45 | 1.31 | NA | 0.08 | 1.84 | NA | XXX
76061 | 26 | A | X-rays, bone survey | 0.45 | 0.16 | 0.16 | 0.02 | 0.63 | 0.63 | XXX
76061 | TC | A | X-rays, bone survey | 0.00 | 1.15 | NA | 0.06 | 1.21 | NA | XXX
76062 |  | A | X-rays, bone survey | 0.54 | 1.93 | NA | 0.10 | 2.57 | NA | XXX
76062 | 26 | A | X-rays, bone survey | 0.54 | 0.19 | 0.19 | 0.02 | 0.75 | 0.75 | XXX
76062 | TC | A | X-rays, bone survey | 0.00 | 1.74 | NA | 0.08 | 1.82 | NA | XXX
76065 |  | A | X-rays, bone evaluation | 0.70 | 1.27 | NA | 0.08 | 2.05 | NA | XXX
76065 | 26 | A | X-rays, bone evaluation | 0.70 | 0.24 | 0.24 | 0.03 | 0.97 | 0.97 | XXX
76065 | TC | A | X-rays, bone evaluation | 0.00 | 1.03 | NA | 0.05 | 1.08 | NA | XXX
76066 |  | A | Joint survey, single view | 0.31 | 1.06 | NA | 0.08 | 1.45 | NA | XXX
76066 | 26 | A | Joint survey, single view | 0.31 | 0.11 | 0.11 | 0.02 | 0.44 | 0.44 | XXX
76066 | TC | A | Joint survey, single view | 0.00 | 0.96 | NA | 0.06 | 1.02 | NA | XXX
76070 |  | A | Ct bone density, axial | 0.25 | 3.37 | NA | 0.17 | 3.79 | NA | XXX
76070 | 26 | A | Ct bone density, axial | 0.25 | 0.09 | 0.09 | 0.01 | 0.35 | 0.35 | XXX
76070 | TC | A | Ct bone density, axial | 0.00 | 3.29 | NA | 0.16 | 3.45 | NA | XXX
76071 |  | A | Ct bone density, peripheral | 0.22 | 2.43 | NA | 0.06 | 2.71 | NA | XXX
76071 | 26 | A | Ct bone density, peripheral | 0.22 | 0.07 | 0.07 | 0.01 | 0.30 | 0.30 | XXX
76071 | TC | A | Ct bone density, peripheral | 0.00 | 2.36 | NA | 0.05 | 2.41 | NA | XXX
76075 |  | A | Dxa bone density, axial | 0.30 | 2.58 | NA | 0.18 | 3.06 | NA | XXX
76075 | 26 | A | Dxa bone density, axial | 0.30 | 0.11 | 0.11 | 0.01 | 0.42 | 0.42 | XXX
76075 | TC | A | Dxa bone density, axial | 0.00 | 2.47 | NA | 0.17 | 2.64 | NA | XXX
76076 |  | A | Dxa bone density/peripheral | 0.22 | 0.75 | NA | 0.06 | 1.03 | NA | XXX
76076 | 26 | A | Dxa bone density/peripheral | 0.22 | 0.08 | 0.08 | 0.01 | 0.31 | 0.31 | XXX
76076 | TC | A | Dxa bone density/peripheral | 0.00 | 0.67 | NA | 0.05 | 0.72 | NA | XXX
76077 |  | A | Dxa bone density/v-fracture | 0.17 | 0.71 | NA | 0.06 | 0.94 | NA | XXX
76077 | 26 | A | Dxa bone density/v-fracture | 0.17 | 0.06 | 0.06 | 0.01 | 0.24 | 0.24 | XXX
76077 | TC | A | Dxa bone density/v-fracture | 0.00 | 0.65 | NA | 0.05 | 0.70 | NA | XXX
76078 |  | A | Radiographic absorptiometry | 0.20 | 0.70 | NA | 0.06 | 0.96 | NA | XXX
76078 | 26 | A | Radiographic absorptiometry | 0.20 | 0.07 | 0.07 | 0.01 | 0.28 | 0.28 | XXX
76078 | TC | A | Radiographic absorptiometry | 0.00 | 0.63 | NA | 0.05 | 0.68 | NA | XXX
76080 |  | A | X-ray exam of fistula | 0.54 | 1.23 | NA | 0.08 | 1.86 | NA | XXX
76080 | 26 | A | X-ray exam of fistula | 0.54 | 0.19 | 0.19 | 0.02 | 0.75 | 0.75 | XXX
76080 | TC | A | X-ray exam of fistula | 0.00 | 1.05 | NA | 0.06 | 1.11 | NA | XXX
76082 |  | A | Computer mammogram add-on | 0.06 | 0.39 | NA | 0.02 | 0.47 | NA | ZZZ
76082 | 26 | A | Computer mammogram add-on | 0.06 | 0.02 | 0.02 | 0.01 | 0.09 | 0.09 | ZZZ
76082 | TC | A | Computer mammogram add-on | 0.00 | 0.37 | NA | 0.01 | 0.38 | NA | ZZZ
76083 |  | A | Computer mammogram add-on | 0.06 | 0.39 | NA | 0.02 | 0.47 | NA | ZZZ
76083 | 26 | A | Computer mammogram add-on | 0.06 | 0.02 | 0.02 | 0.01 | 0.09 | 0.09 | ZZZ
76083 | TC | A | Computer mammogram add-on | 0.00 | 0.37 | NA | 0.01 | 0.38 | NA | ZZZ
76086 |  | A | X-ray of mammary duct | 0.36 | 2.40 | NA | 0.16 | 2.92 | NA | XXX
76086 | 26 | A | X-ray of mammary duct | 0.36 | 0.13 | 0.13 | 0.02 | 0.51 | 0.51 | XXX
76086 | TC | A | X-ray of mammary duct | 0.00 | 2.28 | NA | 0.14 | 2.42 | NA | XXX
76088 |  | A | X-ray of mammary ducts | 0.45 | 3.32 | NA | 0.21 | 3.99 | NA | XXX
76088 | 26 | A | X-ray of mammary ducts | 0.45 | 0.16 | 0.16 | 0.02 | 0.63 | 0.63 | XXX
76088 | TC | A | X-ray of mammary ducts | 0.00 | 3.17 | NA | 0.19 | 3.36 | NA | XXX
76090 |  | A | Mammogram, one breast | 0.70 | 1.44 | NA | 0.09 | 2.23 | NA | XXX
76090 | 26 | A | Mammogram, one breast | 0.70 | 0.24 | 0.24 | 0.03 | 0.97 | 0.97 | XXX
76090 | TC | A | Mammogram, one breast | 0.00 | 1.20 | NA | 0.06 | 1.26 | NA | XXX
76091 |  | A | Mammogram, both breasts | 0.87 | 1.82 | NA | 0.11 | 2.80 | NA | XXX
76091 | 26 | A | Mammogram, both breasts | 0.87 | 0.30 | 0.30 | 0.04 | 1.21 | 1.21 | XXX
76091 | TC | A | Mammogram, both breasts | 0.00 | 1.52 | NA | 0.07 | 1.59 | NA | XXX
76092 |  | A | Mammogram, screening | 0.70 | 1.51 | NA | 0.10 | 2.31 | NA | XXX
76092 | 26 | A | Mammogram, screening | 0.70 | 0.24 | 0.24 | 0.03 | 0.97 | 0.97 | XXX
76092 | TC | A | Mammogram, screening | 0.00 | 1.27 | NA | 0.07 | 1.34 | NA | XXX
76093 |  | A | Magnetic image, breast | 1.63 | 18.79 | NA | 0.99 | 21.41 | NA | XXX
76093 | 26 | A | Magnetic image, breast | 1.63 | 0.56 | 0.56 | 0.07 | 2.26 | 2.26 | XXX
76093 | TC | A | Magnetic image, breast | 0.00 | 18.23 | NA | 0.92 | 19.15 | NA | XXX
76094 |  | A | Magnetic image, both breasts | 1.63 | 23.36 | NA | 1.31 | 26.31 | NA | XXX
76094 | 26 | A | Magnetic image, both breasts | 1.63 | 0.56 | 0.56 | 0.07 | 2.26 | 2.26 | XXX
76094 | TC | A | Magnetic image, both breasts | 0.00 | 22.81 | NA | 1.24 | 24.05 | NA | XXX
76095 |  | A | Stereotactic breast biopsy | 1.59 | 6.38 | NA | 0.46 | 8.43 | NA | XXX
76095 | 26 | A | Stereotactic breast biopsy | 1.59 | 0.54 | 0.54 | 0.09 | 2.22 | 2.22 | XXX
76095 | TC | A | Stereotactic breast biopsy | 0.00 | 5.84 | NA | 0.37 | 6.21 | NA | XXX
76096 |  | A | X-ray of needle wire, breast | 0.56 | 1.37 | NA | 0.09 | 2.02 | NA | XXX
76096 | 26 | A | X-ray of needle wire, breast | 0.56 | 0.19 | 0.19 | 0.02 | 0.77 | 0.77 | XXX
76096 | TC | A | X-ray of needle wire, breast | 0.00 | 1.17 | NA | 0.07 | 1.24 | NA | XXX
76098 |  | A | X-ray exam, breast specimen | 0.16 | 0.46 | NA | 0.03 | 0.65 | NA | XXX
76098 | 26 | A | X-ray exam, breast specimen | 0.16 | 0.05 | 0.05 | 0.01 | 0.22 | 0.22 | XXX
76098 | TC | A | X-ray exam, breast specimen | 0.00 | 0.40 | NA | 0.02 | 0.42 | NA | XXX
76100 |  | A | X-ray exam of body section | 0.58 | 2.02 | NA | 0.10 | 2.70 | NA | XXX
76100 | 26 | A | X-ray exam of body section | 0.58 | 0.20 | 0.20 | 0.03 | 0.81 | 0.81 | XXX
76100 | TC | A | X-ray exam of body section | 0.00 | 1.82 | NA | 0.07 | 1.89 | NA | XXX
76101 |  | A | Complex body section x-ray | 0.58 | 2.53 | NA | 0.11 | 3.22 | NA | XXX
76101 | 26 | A | Complex body section x-ray | 0.58 | 0.20 | 0.20 | 0.03 | 0.81 | 0.81 | XXX
76101 | TC | A | Complex body section x-ray | 0.00 | 2.32 | NA | 0.08 | 2.40 | NA | XXX
76102 |  | A | Complex body section x-rays | 0.58 | 3.39 | NA | 0.14 | 4.11 | NA | XXX
76102 | 26 | A | Complex body section x-rays | 0.58 | 0.20 | 0.20 | 0.03 | 0.81 | 0.81 | XXX
76102 | TC | A | Complex body section x-rays | 0.00 | 3.19 | NA | 0.11 | 3.30 | NA | XXX
76120 |  | A | Cine/video x-rays | 0.38 | 1.78 | NA | 0.08 | 2.24 | NA | XXX
76120 | 26 | A | Cine/video x-rays | 0.38 | 0.14 | 0.14 | 0.02 | 0.54 | 0.54 | XXX
76120 | TC | A | Cine/video x-rays | 0.00 | 1.65 | NA | 0.06 | 1.71 | NA | XXX
76125 |  | A | Cine/video x-rays add-on | 0.27 | NA | NA | 0.06 | NA | NA | ZZZ
76125 | 26 | A | Cine/video x-rays add-on | 0.27 | 0.10 | 0.10 | 0.01 | 0.38 | 0.38 | ZZZ
76125 | TC | A | Cine/video x-rays add-on | 0.00 | NA | NA | 0.05 | NA | NA | ZZZ
76140 |  | I | X-ray consultation | 0.00 | 0.00 | 0.00 | 0.00 | 0.00 | 0.00 | XXX
76150 |  | A | X-ray exam, dry process | 0.00 | 0.45 | NA | 0.02 | 0.47 | NA | XXX
76350 |  | C | Special x-ray contrast study | 0.00 | 0.00 | 0.00 | 0.00 | 0.00 | 0.00 | XXX
76355 |  | A | Ct scan for localization | 1.21 | 12.79 | NA | 0.47 | 14.47 | NA | XXX
76355 | 26 | A | Ct scan for localization | 1.21 | 0.42 | 0.42 | 0.05 | 1.68 | 1.68 | XXX
76355 | TC | A | Ct scan for localization | 0.00 | 12.37 | NA | 0.42 | 12.79 | NA | XXX
76360 |  | A | Ct scan for needle biopsy | 1.16 | 7.23 | NA | 0.47 | 8.86 | NA | XXX
76360 | 26 | A | Ct scan for needle biopsy | 1.16 | 0.40 | 0.40 | 0.05 | 1.61 | 1.61 | XXX
76360 | TC | A | Ct scan for needle biopsy | 0.00 | 6.83 | NA | 0.42 | 7.25 | NA | XXX
76362 |  | A | Ct guide for tissue ablation | 4.00 | NA | NA | 1.65 | NA | NA | XXX
76362 | 26 | A | Ct guide for tissue ablation | 4.00 | 1.37 | 1.37 | 0.18 | 5.55 | 5.55 | XXX
76362 | TC | A | Ct guide for tissue ablation | 0.00 | NA | NA | 1.46 | NA | NA | XXX
76370 |  | A | Ct scan for therapy guide | 0.85 | 3.57 | NA | 0.20 | 4.63 | NA | XXX
76370 | 26 | A | Ct scan for therapy guide | 0.85 | 0.29 | 0.29 | 0.04 | 1.18 | 1.18 | XXX
76370 | TC | A | Ct scan for therapy guide | 0.00 | 3.28 | NA | 0.16 | 3.44 | NA | XXX
76375 |  | A | 3d/holograph reconstr add-on | 0.16 | 2.92 | NA | 0.19 | 3.27 | NA | XXX
76375 | 26 | A | 3d/holograph reconstr add-on | 0.16 | 0.05 | 0.05 | 0.01 | 0.22 | 0.22 | XXX
76375 | TC | A | 3d/holograph reconstr add-on | 0.00 | 2.87 | NA | 0.18 | 3.05 | NA | XXX
76380 |  | A | CAT scan follow-up study | 0.98 | 4.06 | NA | 0.22 | 5.27 | NA | XXX
76380 | 26 | A | CAT scan follow-up study | 0.98 | 0.34 | 0.34 | 0.04 | 1.36 | 1.36 | XXX
76380 | TC | A | CAT scan follow-up study | 0.00 | 3.73 | NA | 0.18 | 3.91 | NA | XXX
76390 |  | N | Mr spectroscopy | 1.40 | 10.86 | NA | 0.66 | 12.92 | NA | XXX
76390 | 26 | N | Mr spectroscopy | 1.40 | 0.49 | 0.49 | 0.07 | 1.96 | 1.96 | XXX
76390 | TC | N | Mr spectroscopy | 0.00 | 10.37 | NA | 0.59 | 10.96 | NA | XXX
76393 |  | A | Mr guidance for needle place | 1.50 | 11.11 | NA | 0.64 | 13.25 | NA | XXX
76393 | 26 | A | Mr guidance for needle place | 1.50 | 0.52 | 0.52 | 0.09 | 2.11 | 2.11 | XXX
76393 | TC | A | Mr guidance for needle place | 0.00 | 10.59 | NA | 0.55 | 11.14 | NA | XXX
76394 |  | A | Mri for tissue ablation | 4.25 | NA | NA | 1.81 | NA | NA | XXX
76394 | 26 | A | Mri for tissue ablation | 4.25 | 1.45 | 1.45 | 0.24 | 5.94 | 5.94 | XXX
76394 | TC | A | Mri for tissue ablation | 0.00 | NA | NA | 1.57 | NA | NA | XXX
76400 |  | A | Magnetic image, bone marrow | 1.60 | 12.18 | NA | 0.66 | 14.45 | NA | XXX
76400 | 26 | A | Magnetic image, bone marrow | 1.60 | 0.55 | 0.55 | 0.07 | 2.22 | 2.22 | XXX
76400 | TC | A | Magnetic image, bone marrow | 0.00 | 11.63 | NA | 0.59 | 12.22 | NA | XXX
76496 |  | C | Fluoroscopic procedure | 0.00 | 0.00 | 0.00 | 0.00 | 0.00 | 0.00 | XXX
76496 | 26 | C | Fluoroscopic procedure | 0.00 | 0.00 | 0.00 | 0.00 | 0.00 | 0.00 | XXX
76496 | TC | C | Fluoroscopic procedure | 0.00 | 0.00 | 0.00 | 0.00 | 0.00 | 0.00 | XXX
76497 |  | C | Ct procedure | 0.00 | 0.00 | 0.00 | 0.00 | 0.00 | 0.00 | XXX
76497 | 26 | C | Ct procedure | 0.00 | 0.00 | 0.00 | 0.00 | 0.00 | 0.00 | XXX
76497 | TC | C | Ct procedure | 0.00 | 0.00 | 0.00 | 0.00 | 0.00 | 0.00 | XXX
76498 |  | C | Mri procedure | 0.00 | 0.00 | 0.00 | 0.00 | 0.00 | 0.00 | XXX
76498 | 26 | C | Mri procedure | 0.00 | 0.00 | 0.00 | 0.00 | 0.00 | 0.00 | XXX
76498 | TC | C | Mri procedure | 0.00 | 0.00 | 0.00 | 0.00 | 0.00 | 0.00 | XXX
76499 |  | C | Radiographic procedure | 0.00 | 0.00 | 0.00 | 0.00 | 0.00 | 0.00 | XXX
76499 | 26 | C | Radiographic procedure | 0.00 | 0.00 | 0.00 | 0.00 | 0.00 | 0.00 | XXX
76499 | TC | C | Radiographic procedure | 0.00 | 0.00 | 0.00 | 0.00 | 0.00 | 0.00 | XXX
76506 |  | A | Echo exam of head | 0.63 | 1.95 | NA | 0.14 | 2.72 | NA | XXX
76506 | 26 | A | Echo exam of head | 0.63 | 0.24 | 0.24 | 0.06 | 0.93 | 0.93 | XXX
76506 | TC | A | Echo exam of head | 0.00 | 1.71 | NA | 0.08 | 1.79 | NA | XXX
76510 |  | A | Ophth us, b & quant a | 1.55 | 2.73 | NA | 0.10 | 4.38 | NA | XXX
76510 | 26 | A | Ophth us, b & quant a | 1.55 | 0.67 | 0.67 | 0.03 | 2.25 | 2.25 | XXX
76510 | TC | A | Ophth us, b & quant a | 0.00 | 2.06 | NA | 0.07 | 2.13 | NA | XXX
76511 |  | A | Ophth us, quant a only | 0.94 | 2.24 | NA | 0.10 | 3.28 | NA | XXX
76511 | 26 | A | Ophth us, quant a only | 0.94 | 0.40 | 0.40 | 0.03 | 1.37 | 1.37 | XXX
76511 | TC | A | Ophth us, quant a only | 0.00 | 1.85 | NA | 0.07 | 1.92 | NA | XXX
76512 |  | A | Ophth us, b w/non-quant a | 0.94 | 2.05 | NA | 0.12 | 3.11 | NA | XXX
76512 | 26 | A | Ophth us, b w/non-quant a | 0.94 | 0.41 | 0.41 | 0.02 | 1.37 | 1.37 | XXX
76512 | TC | A | Ophth us, b w/non-quant a | 0.00 | 1.64 | NA | 0.10 | 1.74 | NA | XXX
76513 |  | A | Echo exam of eye, water bath | 0.66 | 1.73 | NA | 0.12 | 2.51 | NA | XXX
76513 | 26 | A | Echo exam of eye, water bath | 0.66 | 0.28 | 0.28 | 0.02 | 0.96 | 0.96 | XXX
76513 | TC | A | Echo exam of eye, water bath | 0.00 | 1.45 | NA | 0.10 | 1.55 | NA | XXX
76514 |  | A | Echo exam of eye, thickness | 0.17 | 0.13 | NA | 0.02 | 0.32 | NA | XXX
76514 | 26 | A | Echo exam of eye, thickness | 0.17 | 0.08 | 0.08 | 0.01 | 0.26 | 0.26 | XXX
76514 | TC | A | Echo exam of eye, thickness | 0.00 | 0.05 | NA | 0.01 | 0.06 | NA | XXX
76516 |  | A | Echo exam of eye | 0.54 | 1.39 | NA | 0.08 | 2.01 | NA | XXX
76516 | 26 | A | Echo exam of eye | 0.54 | 0.24 | 0.24 | 0.01 | 0.79 | 0.79 | XXX
76516 | TC | A | Echo exam of eye | 0.00 | 1.16 | NA | 0.07 | 1.23 | NA | XXX
76519 |  | A | Echo exam of eye | 0.54 | 1.48 | NA | 0.08 | 2.10 | NA | XXX
76519 | 26 | A | Echo exam of eye | 0.54 | 0.24 | 0.24 | 0.01 | 0.79 | 0.79 | XXX
76519 | TC | A | Echo exam of eye | 0.00 | 1.25 | NA | 0.07 | 1.32 | NA | XXX
76529 |  | A | Echo exam of eye | 0.57 | 1.33 | NA | 0.10 | 2.00 | NA | XXX
76529 | 26 | A | Echo exam of eye | 0.57 | 0.24 | 0.24 | 0.02 | 0.83 | 0.83 | XXX
76529 | TC | A | Echo exam of eye | 0.00 | 1.09 | NA | 0.08 | 1.17 | NA | XXX
76536 |  | A | Us exam of head and neck | 0.56 | 1.90 | NA | 0.10 | 2.56 | NA | XXX
76536 | 26 | A | Us exam of head and neck | 0.56 | 0.19 | 0.19 | 0.02 | 0.77 | 0.77 | XXX
76536 | TC | A | Us exam of head and neck | 0.00 | 1.71 | NA | 0.08 | 1.79 | NA | XXX
76604 |  | A | Us exam, chest, b-scan | 0.55 | 1.66 | NA | 0.09 | 2.30 | NA | XXX
76604 | 26 | A | Us exam, chest, b-scan | 0.55 | 0.19 | 0.19 | 0.02 | 0.76 | 0.76 | XXX
76604 | TC | A | Us exam, chest, b-scan | 0.00 | 1.47 | NA | 0.07 | 1.54 | NA | XXX
76645 |  | A | Us exam, breast(s) | 0.54 | 1.47 | NA | 0.08 | 2.09 | NA | XXX
76645 | 26 | A | Us exam, breast(s) | 0.54 | 0.19 | 0.19 | 0.02 | 0.75 | 0.75 | XXX
76645 | TC | A | Us exam, breast(s) | 0.00 | 1.29 | NA | 0.06 | 1.35 | NA | XXX
76700 |  | A | Us exam, abdom, complete | 0.81 | 2.52 | NA | 0.15 | 3.48 | NA | XXX
76700 | 26 | A | Us exam, abdom, complete | 0.81 | 0.28 | 0.28 | 0.04 | 1.13 | 1.13 | XXX
76700 | TC | A | Us exam, abdom, complete | 0.00 | 2.24 | NA | 0.11 | 2.35 | NA | XXX
76705 |  | A | Echo exam of abdomen | 0.59 | 1.91 | NA | 0.11 | 2.61 | NA | XXX
76705 | 26 | A | Echo exam of abdomen | 0.59 | 0.20 | 0.20 | 0.03 | 0.82 | 0.82 | XXX
76705 | TC | A | Echo exam of abdomen | 0.00 | 1.71 | NA | 0.08 | 1.79 | NA | XXX
76770 |  | A | Us exam abdo back wall, comp | 0.74 | 2.52 | NA | 0.14 | 3.40 | NA | XXX
76770 | 26 | A | Us exam abdo back wall, comp | 0.74 | 0.25 | 0.25 | 0.03 | 1.02 | 1.02 | XXX
76770 | TC | A | Us exam abdo back wall, comp | 0.00 | 2.27 | NA | 0.11 | 2.38 | NA | XXX
76775 |  | A | Us exam abdo back wall, lim | 0.58 | 1.89 | NA | 0.11 | 2.58 | NA | XXX
76775 | 26 | A | Us exam abdo back wall, lim | 0.58 | 0.20 | 0.20 | 0.03 | 0.81 | 0.81 | XXX
76775 | TC | A | Us exam abdo back wall, lim | 0.00 | 1.69 | NA | 0.08 | 1.77 | NA | XXX
76778 |  | A | Us exam kidney transplant | 0.74 | 2.52 | NA | 0.14 | 3.40 | NA | XXX
76778 | 26 | A | Us exam kidney transplant | 0.74 | 0.25 | 0.25 | 0.03 | 1.02 | 1.02 | XXX
76778 | TC | A | Us exam kidney transplant | 0.00 | 2.27 | NA | 0.11 | 2.38 | NA | XXX
76800 |  | A | Us exam, spinal canal | 1.13 | 1.98 | NA | 0.13 | 3.24 | NA | XXX
76800 | 26 | A | Us exam, spinal canal | 1.13 | 0.34 | 0.34 | 0.05 | 1.52 | 1.52 | XXX
76800 | TC | A | Us exam, spinal canal | 0.00 | 1.64 | NA | 0.08 | 1.72 | NA | XXX
76801 |  | A | Ob us < 14 wks, single fetus | 0.99 | 2.44 | NA | 0.16 | 3.59 | NA | XXX
76801 | 26 | A | Ob us < 14 wks, single fetus | 0.99 | 0.35 | 0.35 | 0.04 | 1.38 | 1.38 | XXX
76801 | TC | A | Ob us < 14 wks, single fetus | 0.00 | 2.09 | NA | 0.12 | 2.21 | NA | XXX
76802 |  | A | Ob us < 14 wks, add'l fetus | 0.83 | 1.26 | NA | 0.16 | 2.25 | NA | ZZZ
76802 | 26 | A | Ob us < 14 wks, add'l fetus | 0.83 | 0.30 | 0.30 | 0.04 | 1.17 | 1.17 | ZZZ
76802 | TC | A | Ob us < 14 wks, add'l fetus | 0.00 | 0.96 | NA | 0.12 | 1.08 | NA | ZZZ
76805 |  | A | Ob us >/= 14 wks, sngl fetus | 0.99 | 2.57 | NA | 0.16 | 3.72 | NA | XXX
76805 | 26 | A | Ob us >/= 14 wks, sngl fetus | 0.99 | 0.35 | 0.35 | 0.04 | 1.38 | 1.38 | XXX
76805 | TC | A | Ob us >/= 14 wks, sngl fetus | 0.00 | 2.22 | NA | 0.12 | 2.34 | NA | XXX
76810 |  | A | Ob us >/= 14 wks, addl fetus | 0.98 | 1.46 | NA | 0.26 | 2.70 | NA | ZZZ
76810 | 26 | A | Ob us >/= 14 wks, addl fetus | 0.98 | 0.35 | 0.35 | 0.04 | 1.37 | 1.37 | ZZZ
76810 | TC | A | Ob us >/= 14 wks, addl fetus | 0.00 | 1.11 | NA | 0.22 | 1.33 | NA | ZZZ
76811 |  | A | Ob us, detailed, sngl fetus | 1.90 | 3.92 | NA | 0.52 | 6.34 | NA | XXX
76811 | 26 | A | Ob us, detailed, sngl fetus | 1.90 | 0.71 | 0.71 | 0.09 | 2.71 | 2.71 | XXX
76811 | TC | A | Ob us, detailed, sngl fetus | 0.00 | 3.21 | NA | 0.43 | 3.64 | NA | XXX
76812 |  | A | Ob us, detailed, addl fetus | 1.78 | 2.26 | NA | 0.49 | 4.54 | NA | ZZZ
76812 | 26 | A | Ob us, detailed, addl fetus | 1.78 | 0.66 | 0.66 | 0.08 | 2.53 | 2.53 | ZZZ
76812 | TC | A | Ob us, detailed, addl fetus | 0.00 | 1.60 | NA | 0.41 | 2.01 | NA | ZZZ
76815 |  | A | Ob us, limited, fetus(s) | 0.65 | 1.67 | NA | 0.11 | 2.43 | NA | XXX
76815 | 26 | A | Ob us, limited, fetus(s) | 0.65 | 0.23 | 0.23 | 0.03 | 0.91 | 0.91 | XXX
76815 | TC | A | Ob us, limited, fetus(s) | 0.00 | 1.44 | NA | 0.08 | 1.52 | NA | XXX
76816 |  | A | Ob us, follow-up, per fetus | 0.85 | 1.64 | NA | 0.10 | 2.59 | NA | XXX
76816 | 26 | A | Ob us, follow-up, per fetus | 0.85 | 0.32 | 0.32 | 0.04 | 1.21 | 1.21 | XXX
76816 | TC | A | Ob us, follow-up, per fetus | 0.00 | 1.32 | NA | 0.06 | 1.38 | NA | XXX
76817 |  | A | Transvaginal us, obstetric | 0.75 | 1.83 | NA | 0.09 | 2.67 | NA | XXX
76817 | 26 | A | Transvaginal us, obstetric | 0.75 | 0.27 | 0.27 | 0.03 | 1.05 | 1.05 | XXX
76817 | TC | A | Transvaginal us, obstetric | 0.00 | 1.56 | NA | 0.06 | 1.62 | NA | XXX
76818 |  | A | Fetal biophys profile w/nst | 1.05 | 2.03 | NA | 0.15 | 3.24 | NA | XXX
76818 | 26 | A | Fetal biophys profile w/nst | 1.05 | 0.39 | 0.39 | 0.05 | 1.49 | 1.49 | XXX
76818 | TC | A | Fetal biophys profile w/nst | 0.00 | 1.64 | NA | 0.10 | 1.74 | NA | XXX
76819 |  | A | Fetal biophys profil w/o nst | 0.77 | 1.82 | NA | 0.13 | 2.73 | NA | XXX
76819 | 26 | A | Fetal biophys profil w/o nst | 0.77 | 0.28 | 0.28 | 0.03 | 1.08 | 1.08 | XXX
76819 | TC | A | Fetal biophys profil w/o nst | 0.00 | 1.54 | NA | 0.10 | 1.64 | NA | XXX
76820 |  | A | Umbilical artery echo | 0.50 | 1.50 | NA | 0.15 | 2.15 | NA | XXX
76820 | 26 | A | Umbilical artery echo | 0.50 | 0.19 | 0.19 | 0.03 | 0.72 | 0.72 | XXX
76820 | TC | A | Umbilical artery echo | 0.00 | 1.32 | NA | 0.12 | 1.44 | NA | XXX
76821 |  | A | Middle cerebral artery echo | 0.70 | 1.88 | NA | 0.15 | 2.73 | NA | XXX
76821 | 26 | A | Middle cerebral artery echo | 0.70 | 0.26 | 0.26 | 0.03 | 0.99 | 0.99 | XXX
76821 | TC | A | Middle cerebral artery echo | 0.00 | 1.61 | NA | 0.12 | 1.73 | NA | XXX
76825 |  | A | Echo exam of fetal heart | 1.67 | 3.06 | NA | 0.18 | 4.91 | NA | XXX
76825 | 26 | A | Echo exam of fetal heart | 1.67 | 0.60 | 0.60 | 0.07 | 2.34 | 2.34 | XXX
76825 | TC | A | Echo exam of fetal heart | 0.00 | 2.46 | NA | 0.11 | 2.57 | NA | XXX
76826 |  | A | Echo exam of fetal heart | 0.83 | 1.47 | NA | 0.08 | 2.38 | NA | XXX
76826 | 26 | A | Echo exam of fetal heart | 0.83 | 0.29 | 0.29 | 0.03 | 1.15 | 1.15 | XXX
76826 | TC | A | Echo exam of fetal heart | 0.00 | 1.17 | NA | 0.05 | 1.22 | NA | XXX
76827 |  | A | Echo exam of fetal heart | 0.58 | 1.73 | NA | 0.14 | 2.45 | NA | XXX
76827 | 26 | A | Echo exam of fetal heart | 0.58 | 0.21 | 0.21 | 0.02 | 0.81 | 0.81 | XXX
76827 | TC | A | Echo exam of fetal heart | 0.00 | 1.52 | NA | 0.12 | 1.64 | NA | XXX
76828 |  | A | Echo exam of fetal heart | 0.56 | 1.16 | NA | 0.11 | 1.84 | NA | XXX
76828 | 26 | A | Echo exam of fetal heart | 0.56 | 0.22 | 0.22 | 0.03 | 0.81 | 0.81 | XXX
76828 | TC | A | Echo exam of fetal heart | 0.00 | 0.95 | NA | 0.08 | 1.03 | NA | XXX
76830 |  | A | Transvaginal us, non-ob | 0.69 | 2.01 | NA | 0.13 | 2.83 | NA | XXX
76830 | 26 | A | Transvaginal us, non-ob | 0.69 | 0.24 | 0.24 | 0.03 | 0.96 | 0.96 | XXX
76830 | TC | A | Transvaginal us, non-ob | 0.00 | 1.77 | NA | 0.10 | 1.87 | NA | XXX
76831 |  | A | Echo exam, uterus | 0.72 | 1.98 | NA | 0.13 | 2.84 | NA | XXX
76831 | 26 | A | Echo exam, uterus | 0.72 | 0.26 | 0.26 | 0.03 | 1.01 | 1.01 | XXX
76831 | TC | A | Echo exam, uterus | 0.00 | 1.73 | NA | 0.10 | 1.83 | NA | XXX
76856 |  | A | Us exam, pelvic, complete | 0.69 | 2.10 | NA | 0.13 | 2.92 | NA | XXX
76856 | 26 | A | Us exam, pelvic, complete | 0.69 | 0.24 | 0.24 | 0.03 | 0.96 | 0.96 | XXX
76856 | TC | A | Us exam, pelvic, complete | 0.00 | 1.86 | NA | 0.10 | 1.96 | NA | XXX
76857 |  | A | Us exam, pelvic, limited | 0.38 | 2.08 | NA | 0.08 | 2.54 | NA | XXX
76857 | 26 | A | Us exam, pelvic, limited | 0.38 | 0.13 | 0.13 | 0.02 | 0.53 | 0.53 | XXX
76857 | TC | A | Us exam, pelvic, limited | 0.00 | 1.95 | NA | 0.06 | 2.01 | NA | XXX
76870 |  | A | Us exam, scrotum | 0.64 | 2.12 | NA | 0.13 | 2.89 | NA | XXX
76870 | 26 | A | Us exam, scrotum | 0.64 | 0.22 | 0.22 | 0.03 | 0.89 | 0.89 | XXX
76870 | TC | A | Us exam, scrotum | 0.00 | 1.90 | NA | 0.10 | 2.00 | NA | XXX
76872 |  | A | Us, transrectal | 0.69 | 2.59 | NA | 0.14 | 3.42 | NA | XXX
76872 | 26 | A | Us, transrectal | 0.69 | 0.25 | 0.25 | 0.04 | 0.98 | 0.98 | XXX
76872 | TC | A | Us, transrectal | 0.00 | 2.35 | NA | 0.10 | 2.45 | NA | XXX
76873 |  | A | Echograp trans r, pros study | 1.55 | 3.05 | NA | 0.25 | 4.85 | NA | XXX
76873 | 26 | A | Echograp trans r, pros study | 1.55 | 0.55 | 0.55 | 0.09 | 2.19 | 2.19 | XXX
76873 | TC | A | Echograp trans r, pros study | 0.00 | 2.50 | NA | 0.16 | 2.66 | NA | XXX
76880 |  | A | Us exam, extremity | 0.59 | 2.06 | NA | 0.11 | 2.77 | NA | XXX
76880 | 26 | A | Us exam, extremity | 0.59 | 0.20 | 0.20 | 0.03 | 0.82 | 0.82 | XXX
76880 | TC | A | Us exam, extremity | 0.00 | 1.86 | NA | 0.08 | 1.94 | NA | XXX
76885 |  | A | Us exam infant hips, dynamic | 0.74 | 2.21 | NA | 0.13 | 3.09 | NA | XXX
76885 | 26 | A | Us exam infant hips, dynamic | 0.74 | 0.25 | 0.25 | 0.03 | 1.02 | 1.02 | XXX
76885 | TC | A | Us exam infant hips, dynamic | 0.00 | 1.96 | NA | 0.10 | 2.06 | NA | XXX
76886 |  | A | Us exam infant hips, static | 0.62 | 1.82 | NA | 0.11 | 2.55 | NA | XXX
76886 | 26 | A | Us exam infant hips, static | 0.62 | 0.21 | 0.21 | 0.03 | 0.86 | 0.86 | XXX
76886 | TC | A | Us exam infant hips, static | 0.00 | 1.61 | NA | 0.08 | 1.69 | NA | XXX
76930 |  | A | Echo guide, cardiocentesis | 0.67 | 1.69 | NA | 0.12 | 2.48 | NA | XXX
76930 | 26 | A | Echo guide, cardiocentesis | 0.67 | 0.26 | 0.26 | 0.02 | 0.95 | 0.95 | XXX
76930 | TC | A | Echo guide, cardiocentesis | 0.00 | 1.43 | NA | 0.10 | 1.53 | NA | XXX
76932 |  | A | Echo guide for heart biopsy | 0.67 | NA | NA | 0.12 | NA | NA | XXX
76932 | 26 | A | Echo guide for heart biopsy | 0.67 | 0.26 | 0.26 | 0.02 | 0.95 | 0.95 | XXX
76932 | TC | A | Echo guide for heart biopsy | 0.00 | NA | NA | 0.10 | NA | NA | XXX
76936 |  | A | Echo guide for artery repair | 1.99 | 6.80 | NA | 0.47 | 9.26 | NA | XXX
76936 | 26 | A | Echo guide for artery repair | 1.99 | 0.68 | 0.68 | 0.13 | 2.81 | 2.81 | XXX
76936 | TC | A | Echo guide for artery repair | 0.00 | 6.11 | NA | 0.34 | 6.45 | NA | XXX
76937 |  | A | Us guide, vascular access | 0.30 | 0.58 | NA | 0.13 | 1.01 | NA | ZZZ
76937 | 26 | A | Us guide, vascular access | 0.30 | 0.11 | 0.11 | 0.03 | 0.44 | 0.44 | ZZZ
76937 | TC | A | Us guide, vascular access | 0.00 | 0.47 | NA | 0.10 | 0.57 | NA | ZZZ
76940 |  | A | Us guide, tissue ablation | 2.00 | NA | NA | 0.60 | NA | NA | XXX
76940 | 26 | A | Us guide, tissue ablation | 2.00 | 0.67 | 0.67 | 0.31 | 2.98 | 2.98 | XXX
76940 | TC | A | Us guide, tissue ablation | 0.00 | NA | NA | 0.29 | NA | NA | XXX
76941 |  | A | Echo guide for transfusion | 1.34 | NA | NA | 0.15 | NA | NA | XXX
76941 | 26 | A | Echo guide for transfusion | 1.34 | 0.48 | 0.48 | 0.07 | 1.90 | 1.90 | XXX
76941 | TC | A | Echo guide for transfusion | 0.00 | NA | NA | 0.08 | NA | NA | XXX
76942 |  | A | Echo guide for biopsy | 0.67 | 3.73 | NA | 0.13 | 4.53 | NA | XXX
76942 | 26 | A | Echo guide for biopsy | 0.67 | 0.24 | 0.24 | 0.03 | 0.94 | 0.94 | XXX
76942 | TC | A | Echo guide for biopsy | 0.00 | 3.49 | NA | 0.10 | 3.59 | NA | XXX
76945 |  | A | Echo guide, villus sampling | 0.67 | NA | NA | 0.11 | NA | NA | XXX
76945 | 26 | A | Echo guide, villus sampling | 0.67 | 0.23 | 0.23 | 0.03 | 0.93 | 0.93 | XXX
76945 | TC | A | Echo guide, villus sampling | 0.00 | NA | NA | 0.08 | NA | NA | XXX
76946 |  | A | Echo guide for amniocentesis | 0.38 | 1.36 | NA | 0.12 | 1.86 | NA | XXX
76946 | 26 | A | Echo guide for amniocentesis | 0.38 | 0.14 | 0.14 | 0.02 | 0.54 | 0.54 | XXX
76946 | TC | A | Echo guide for amniocentesis | 0.00 | 1.21 | NA | 0.10 | 1.31 | NA | XXX
76948 |  | A | Echo guide, ova aspiration | 0.38 | 1.39 | NA | 0.12 | 1.89 | NA | XXX
76948 | 26 | A | Echo guide, ova aspiration | 0.38 | 0.14 | 0.14 | 0.02 | 0.54 | 0.54 | XXX
76948 | TC | A | Echo guide, ova aspiration | 0.00 | 1.25 | NA | 0.10 | 1.35 | NA | XXX
76950 |  | A | Echo guidance radiotherapy | 0.58 | 1.55 | NA | 0.10 | 2.23 | NA | XXX
76950 | 26 | A | Echo guidance radiotherapy | 0.58 | 0.20 | 0.20 | 0.03 | 0.81 | 0.81 | XXX
76950 | TC | A | Echo guidance radiotherapy | 0.00 | 1.35 | NA | 0.07 | 1.42 | NA | XXX
76965 |  | A | Echo guidance radiotherapy | 1.34 | 4.86 | NA | 0.37 | 6.57 | NA | XXX
76965 | 26 | A | Echo guidance radiotherapy | 1.34 | 0.49 | 0.49 | 0.08 | 1.91 | 1.91 | XXX
76965 | TC | A | Echo guidance radiotherapy | 0.00 | 4.38 | NA | 0.29 | 4.67 | NA | XXX
76970 |  | A | Ultrasound exam follow-up | 0.40 | 1.43 | NA | 0.08 | 1.91 | NA | XXX
76970 | 26 | A | Ultrasound exam follow-up | 0.40 | 0.14 | 0.14 | 0.02 | 0.56 | 0.56 | XXX
76970 | TC | A | Ultrasound exam follow-up | 0.00 | 1.29 | NA | 0.06 | 1.35 | NA | XXX
76975 |  | A | GI endoscopic ultrasound | 0.81 | 3.41 | NA | 0.14 | 4.37 | NA | XXX
76975 | 26 | A | GI endoscopic ultrasound | 0.81 | 0.30 | 0.30 | 0.04 | 1.15 | 1.15 | XXX
76975 | TC | A | GI endoscopic ultrasound | 0.00 | 3.12 | NA | 0.10 | 3.22 | NA | XXX
76977 |  | A | Us bone density measure | 0.05 | 0.65 | NA | 0.06 | 0.76 | NA | XXX
76977 | 26 | A | Us bone density measure | 0.05 | 0.02 | 0.02 | 0.01 | 0.08 | 0.08 | XXX
76977 | TC | A | Us bone density measure | 0.00 | 0.63 | NA | 0.05 | 0.68 | NA | XXX
76986 |  | A | Ultrasound guide intraoper | 1.20 | NA | NA | 0.27 | NA | NA | XXX
76986 | 26 | A | Ultrasound guide intraoper | 1.20 | 0.41 | 0.41 | 0.13 | 1.75 | 1.75 | XXX
76986 | TC | A | Ultrasound guide intraoper | 0.00 | NA | NA | 0.14 | NA | NA | XXX
76999 |  | C | Echo examination procedure | 0.00 | 0.00 | 0.00 | 0.00 | 0.00 | 0.00 | XXX
76999 | 26 | C | Echo examination procedure | 0.00 | 0.00 | 0.00 | 0.00 | 0.00 | 0.00 | XXX
76999 | TC | C | Echo examination procedure | 0.00 | 0.00 | 0.00 | 0.00 | 0.00 | 0.00 | XXX
77261 |  | A | Radiation therapy planning | 1.39 | 0.53 | 0.52 | 0.07 | 1.99 | 1.98 | XXX
77262 |  | A | Radiation therapy planning | 2.11 | 0.77 | 0.76 | 0.11 | 2.99 | 2.99 | XXX
77263 |  | A | Radiation therapy planning | 3.15 | 1.12 | 1.12 | 0.16 | 4.43 | 4.43 | XXX
77280 |  | A | Set radiation therapy field | 0.70 | 3.85 | NA | 0.22 | 4.77 | NA | XXX
77280 | 26 | A | Set radiation therapy field | 0.70 | 0.23 | 0.23 | 0.04 | 0.97 | 0.97 | XXX
77280 | TC | A | Set radiation therapy field | 0.00 | 3.62 | NA | 0.18 | 3.80 | NA | XXX
77285 |  | A | Set radiation therapy field | 1.05 | 6.38 | NA | 0.35 | 7.78 | NA | XXX
77285 | 26 | A | Set radiation therapy field | 1.05 | 0.35 | 0.35 | 0.05 | 1.45 | 1.45 | XXX
77285 | TC | A | Set radiation therapy field | 0.00 | 6.03 | NA | 0.30 | 6.33 | NA | XXX
77290 |  | A | Set radiation therapy field | 1.56 | 8.57 | NA | 0.43 | 10.56 | NA | XXX
77290 | 26 | A | Set radiation therapy field | 1.56 | 0.52 | 0.52 | 0.08 | 2.16 | 2.16 | XXX
77290 | TC | A | Set radiation therapy field | 0.00 | 8.05 | NA | 0.35 | 8.40 | NA | XXX
77295 |  | A | Set radiation therapy field | 4.57 | 24.31 | NA | 1.72 | 30.60 | NA | XXX
77295 | 26 | A | Set radiation therapy field | 4.57 | 1.51 | 1.51 | 0.23 | 6.30 | 6.30 | XXX
77295 | TC | A | Set radiation therapy field | 0.00 | 22.80 | NA | 1.48 | 24.28 | NA | XXX
77299 |  | C | Radiation therapy planning | 0.00 | 0.00 | 0.00 | 0.00 | 0.00 | 0.00 | XXX
77299 | 26 | C | Radiation therapy planning | 0.00 | 0.00 | 0.00 | 0.00 | 0.00 | 0.00 | XXX
77299 | TC | C | Radiation therapy planning | 0.00 | 0.00 | 0.00 | 0.00 | 0.00 | 0.00 | XXX
77300 |  | A | Radiation therapy dose plan | 0.62 | 1.49 | NA | 0.10 | 2.21 | NA | XXX
77300 | 26 | A | Radiation therapy dose plan | 0.62 | 0.21 | 0.21 | 0.03 | 0.86 | 0.86 | XXX
77300 | TC | A | Radiation therapy dose plan | 0.00 | 1.28 | NA | 0.07 | 1.35 | NA | XXX
77301 |  | A | Radiotherapy dose plan, imrt | 8.01 | 38.62 | NA | 1.89 | 48.51 | NA | XXX
77301 | 26 | A | Radiotherapy dose plan, imrt | 8.01 | 2.66 | 2.66 | 0.40 | 11.06 | 11.06 | XXX
77301 | TC | A | Radiotherapy dose plan, imrt | 0.00 | 35.96 | NA | 1.48 | 37.44 | NA | XXX
77305 |  | A | Teletx isodose plan simple | 0.70 | 1.83 | NA | 0.15 | 2.68 | NA | XXX
77305 | 26 | A | Teletx isodose plan simple | 0.70 | 0.24 | 0.24 | 0.04 | 0.98 | 0.98 | XXX
77305 | TC | A | Teletx isodose plan simple | 0.00 | 1.59 | NA | 0.11 | 1.70 | NA | XXX
77310 |  | A | Teletx isodose plan intermed | 1.05 | 2.36 | NA | 0.18 | 3.59 | NA | XXX
77310 | 26 | A | Teletx isodose plan intermed | 1.05 | 0.35 | 0.35 | 0.05 | 1.45 | 1.45 | XXX
77310 | TC | A | Teletx isodose plan intermed | 0.00 | 2.01 | NA | 0.13 | 2.14 | NA | XXX
77315 |  | A | Teletx isodose plan complex | 1.56 | 2.97 | NA | 0.22 | 4.75 | NA | XXX
77315 | 26 | A | Teletx isodose plan complex | 1.56 | 0.52 | 0.52 | 0.08 | 2.16 | 2.16 | XXX
77315 | TC | A | Teletx isodose plan complex | 0.00 | 2.45 | NA | 0.14 | 2.59 | NA | XXX
7321 |  | A | Special teletx port plan | 0.95 | 3.68 | NA | 0.26 | 4.89 | NA | XXX
77321 | 26 | A | Special teletx port plan | 0.95 | 0.31 | 0.31 | 0.05 | 1.31 | 1.31 | XXX
77321 | TC | A | Special teletx port plan | 0.00 | 3.37 | NA | 0.21 | 3.58 | NA | XXX
77326 |  | A | Brachytx isodose calc simp | 0.93 | 2.90 | NA | 0.18 | 4.01 | NA | XXX
77326 | 26 | A | Brachytx isodose calc simp | 0.93 | 0.31 | 0.31 | 0.05 | 1.29 | 1.29 | XXX
77326 | TC | A | Brachytx isodose calc simp | 0.00 | 2.59 | NA | 0.13 | 2.72 | NA | XXX
77327 |  | A | Brachytx isodose calc interm | 1.39 | 4.19 | NA | 0.25 | 5.83 | NA | XXX
77327 | 26 | A | Brachytx isodose calc interm | 1.39 | 0.46 | 0.46 | 0.07 | 1.92 | 1.92 | XXX
77327 | TC | A | Brachytx isodose calc interm | 0.00 | 3.73 | NA | 0.18 | 3.91 | NA | XXX
77328 |  | A | Brachytx isodose plan compl | 2.09 | 5.81 | NA | 0.36 | 8.27 | NA | XXX
77328 | 26 | A | Brachytx isodose plan compl | 2.09 | 0.69 | 0.69 | 0.11 | 2.90 | 2.90 | XXX
77328 | TC | A | Brachytx isodose plan compl | 0.00 | 5.12 | NA | 0.25 | 5.37 | NA | XXX
77331 |  | A | Special radiation dosimetry | 0.87 | 0.81 | NA | 0.06 | 1.74 | NA | XXX
77331 | 26 | A | Special radiation dosimetry | 0.87 | 0.29 | 0.29 | 0.04 | 1.20 | 1.20 | XXX
77331 | TC | A | Special radiation dosimetry | 0.00 | 0.52 | NA | 0.02 | 0.54 | NA | XXX
77332 |  | A | Radiation treatment aid(s) | 0.54 | 1.59 | NA | 0.10 | 2.23 | NA | XXX
77332 | 26 | A | Radiation treatment aid(s) | 0.54 | 0.18 | 0.18 | 0.03 | 0.75 | 0.75 | XXX
77332 | TC | A | Radiation treatment aid(s) | 0.00 | 1.41 | NA | 0.07 | 1.48 | NA | XXX
77333 |  | A | Radiation treatment aid(s) | 0.84 | 1.79 | NA | 0.15 | 2.78 | NA | XXX
77333 | 26 | A | Radiation treatment aid(s) | 0.84 | 0.28 | 0.28 | 0.04 | 1.16 | 1.16 | XXX
77333 | TC | A | Radiation treatment aid(s) | 0.00 | 1.51 | NA | 0.11 | 1.62 | NA | XXX
77334 |  | A | Radiation treatment aid(s) | 1.24 | 3.55 | NA | 0.23 | 5.02 | NA | XXX
77334 | 26 | A | Radiation treatment aid(s) | 1.24 | 0.41 | 0.41 | 0.06 | 1.71 | 1.71 | XXX
77334 | TC | A | Radiation treatment aid(s) | 0.00 | 3.14 | NA | 0.17 | 3.31 | NA | XXX
77336 |  | A | Radiation physics consult | 0.00 | 2.57 | NA | 0.16 | 2.73 | NA | XXX
77370 |  | A | Radiation physics consult | 0.00 | 3.45 | NA | 0.18 | 3.63 | NA | XXX
77399 |  | C | External radiation dosimetry | 0.00 | 0.00 | 0.00 | 0.00 | 0.00 | 0.00 | XXX
77399 | 26 | C | External radiation dosimetry | 0.00 | 0.00 | 0.00 | 0.00 | 0.00 | 0.00 | XXX
77399 | TC | C | External radiation dosimetry | 0.00 | 0.00 | 0.00 | 0.00 | 0.00 | 0.00 | XXX
77401 |  | A | Radiation treatment delivery | 0.00 | 1.53 | NA | 0.11 | 1.64 | NA | XXX
77402 |  | A | Radiation treatment delivery | 0.00 | 2.26 | NA | 0.11 | 2.37 | NA | XXX
77403 |  | A | Radiation treatment delivery | 0.00 | 2.14 | NA | 0.11 | 2.25 | NA | XXX
77404 |  | A | Radiation treatment delivery | 0.00 | 2.26 | NA | 0.11 | 2.37 | NA | XXX
77406 |  | A | Radiation treatment delivery | 0.00 | 2.24 | NA | 0.11 | 2.35 | NA | XXX
77407 |  | A | Radiation treatment delivery | 0.00 | 2.84 | NA | 0.12 | 2.96 | NA | XXX
77408 |  | A | Radiation treatment delivery | 0.00 | 2.69 | NA | 0.12 | 2.81 | NA | XXX
77409 |  | A | Radiation treatment delivery | 0.00 | 2.81 | NA | 0.12 | 2.93 | NA | XXX
77411 |  | A | Radiation treatment delivery | 0.00 | 2.79 | NA | 0.12 | 2.91 | NA | XXX
77412 |  | A | Radiation treatment delivery | 0.00 | 3.24 | NA | 0.13 | 3.37 | NA | XXX
77413 |  | A | Radiation treatment delivery | 0.00 | 3.22 | NA | 0.13 | 3.35 | NA | XXX
77414 |  | A | Radiation treatment delivery | 0.00 | 3.39 | NA | 0.13 | 3.52 | NA | XXX
77416 |  | A | Radiation treatment delivery | 0.00 | 3.36 | NA | 0.13 | 3.49 | NA | XXX
77417 |  | A | Radiology port film(s) | 0.00 | 0.56 | NA | 0.04 | 0.60 | NA | XXX
77418 |  | A | Radiation tx delivery, imrt | 0.00 | 16.71 | NA | 0.13 | 16.84 | NA | XXX
77427 |  | A | Radiation tx management, x5 | 3.32 | 1.16 | 1.09 | 0.17 | 4.65 | 4.58 | XXX
77431 |  | A | Radiation therapy management | 1.81 | 0.79 | 0.68 | 0.09 | 2.70 | 2.58 | XXX
77432 |  | A | Stereotactic radiation trmt | 7.94 | 2.92 | 2.92 | 0.41 | 11.27 | 11.27 | XXX
77470 |  | A | Special radiation treatment | 2.09 | 9.53 | NA | 0.70 | 12.32 | NA | XXX
77470 | 26 | A | Special radiation treatment | 2.09 | 0.69 | 0.69 | 0.11 | 2.90 | 2.90 | XXX
77470 | TC | A | Special radiation treatment | 0.00 | 8.84 | NA | 0.59 | 9.43 | NA | XXX
77499 |  | C | Radiation therapy management | 0.00 | 0.00 | 0.00 | 0.00 | 0.00 | 0.00 | XXX
77499 | 26 | C | Radiation therapy management | 0.00 | 0.00 | 0.00 | 0.00 | 0.00 | 0.00 | XXX
77499 | TC | C | Radiation therapy management | 0.00 | 0.00 | 0.00 | 0.00 | 0.00 | 0.00 | XXX
77520 |  | C | Proton trmt, simple w/o comp | 0.00 | 0.00 | 0.00 | 0.00 | 0.00 | 0.00 | XXX
77522 |  | C | Proton trmt, simple w/comp | 0.00 | 0.00 | 0.00 | 0.00 | 0.00 | 0.00 | XXX
77523 |  | C | Proton trmt, intermediate | 0.00 | 0.00 | 0.00 | 0.00 | 0.00 | 0.00 | XXX
77525 |  | C | Proton treatment, complex | 0.00 | 0.00 | 0.00 | 0.00 | 0.00 | 0.00 | XXX
77600 |  | R | Hyperthermia treatment | 1.56 | 5.57 | NA | 0.24 | 7.38 | NA | XXX
77600 | 26 | R | Hyperthermia treatment | 1.56 | 0.52 | 0.52 | 0.08 | 2.16 | 2.16 | XXX
77600 | TC | R | Hyperthermia treatment | 0.00 | 5.06 | NA | 0.16 | 5.22 | NA | XXX
77605 |  | R | Hyperthermia treatment | 2.09 | 8.40 | NA | 0.38 | 10.87 | NA | XXX
77605 | 26 | R | Hyperthermia treatment | 2.09 | 0.68 | 0.68 | 0.16 | 2.94 | 2.94 | XXX
77605 | TC | R | Hyperthermia treatment | 0.00 | 7.71 | NA | 0.22 | 7.93 | NA | XXX
77610 |  | R | Hyperthermia treatment | 1.56 | 7.34 | NA | 0.24 | 9.14 | NA | XXX
77610 | 26 | R | Hyperthermia treatment | 1.56 | 0.53 | 0.53 | 0.08 | 2.17 | 2.17 | XXX
77610 | TC | R | Hyperthermia treatment | 0.00 | 6.81 | NA | 0.16 | 6.97 | NA | XXX
77615 |  | R | Hyperthermia treatment | 2.09 | 11.06 | NA | 0.33 | 13.49 | NA | XXX
77615 | 26 | R | Hyperthermia treatment | 2.09 | 0.69 | 0.69 | 0.11 | 2.89 | 2.89 | XXX
77615 | TC | R | Hyperthermia treatment | 0.00 | 10.37 | NA | 0.22 | 10.59 | NA | XXX
77620 |  | R | Hyperthermia treatment | 1.56 | 4.94 | NA | 0.36 | 6.87 | NA | XXX
77620 | 26 | R | Hyperthermia treatment | 1.56 | 0.54 | 0.54 | 0.20 | 2.30 | 2.30 | XXX
77620 | TC | R | Hyperthermia treatment | 0.00 | 4.40 | NA | 0.16 | 4.56 | NA | XXX
77750 |  | A | Infuse radioactive materials | 4.91 | 3.28 | NA | 0.32 | 8.51 | NA | 090
77750 | 26 | A | Infuse radioactive materials | 4.91 | 1.63 | 1.63 | 0.25 | 6.79 | 6.79 | 090
77750 | TC | A | Infuse radioactive materials | 0.00 | 1.65 | NA | 0.07 | 1.72 | NA | 090
77761 |  | A | Apply intrcav radiat simple | 3.81 | 4.43 | NA | 0.33 | 8.57 | NA | 090
77761 | 26 | A | Apply intrcav radiat simple | 3.81 | 1.10 | 1.10 | 0.19 | 5.10 | 5.10 | 090
77761 | TC | A | Apply intrcav radiat simple | 0.00 | 3.32 | NA | 0.14 | 3.46 | NA | 090
77762 |  | A | Apply intrcav radiat interm | 5.72 | 6.33 | NA | 0.48 | 12.53 | NA | 090
77762 | 26 | A | Apply intrcav radiat interm | 5.72 | 1.86 | 1.86 | 0.29 | 7.88 | 7.88 | 090
77762 | TC | A | Apply intrcav radiat interm | 0.00 | 4.47 | NA | 0.19 | 4.66 | NA | 090
77763 |  | A | Apply intrcav radiat compl | 8.58 | 8.26 | NA | 0.66 | 17.50 | NA | 090
77763 | 26 | A | Apply intrcav radiat compl | 8.58 | 2.80 | 2.80 | 0.43 | 11.81 | 11.81 | 090
77763 | TC | A | Apply intrcav radiat compl | 0.00 | 5.46 | NA | 0.23 | 5.69 | NA | 090
77776 |  | A | Apply interstit radiat simpl | 4.66 | 4.34 | NA | 0.57 | 9.57 | NA | 090
77776 | 26 | A | Apply interstit radiat simpl | 4.66 | 0.94 | 0.94 | 0.44 | 6.04 | 6.04 | 090
77776 | TC | A | Apply interstit radiat simpl | 0.00 | 3.40 | NA | 0.13 | 3.53 | NA | 090
77777 |  | A | Apply interstit radiat inter | 7.48 | 6.94 | NA | 0.61 | 15.04 | NA | 090
77777 | 26 | A | Apply interstit radiat inter | 7.48 | 2.48 | 2.48 | 0.39 | 10.36 | 10.36 | 090
77777 | TC | A | Apply interstit radiat inter | 0.00 | 4.45 | NA | 0.22 | 4.67 | NA | 090
77778 |  | A | Apply interstit radiat compl | 11.19 | 9.63 | NA | 0.84 | 21.67 | NA | 090
77778 | 26 | A | Apply interstit radiat compl | 11.19 | 3.71 | 3.71 | 0.57 | 15.47 | 15.47 | 090
77778 | TC | A | Apply interstit radiat compl | 0.00 | 5.92 | NA | 0.27 | 6.19 | NA | 090
77781 |  | A | High intensity brachytherapy | 1.66 | 16.99 | NA | 1.14 | 19.79 | NA | 090
77781 | 26 | A | High intensity brachytherapy | 1.66 | 0.54 | 0.54 | 0.08 | 2.29 | 2.29 | 090
77781 | TC | A | High intensity brachytherapy | 0.00 | 16.45 | NA | 1.06 | 17.51 | NA | 090
77782 |  | A | High intensity brachytherapy | 2.49 | 19.56 | NA | 1.19 | 23.24 | NA | 090
77782 | 26 | A | High intensity brachytherapy | 2.49 | 0.82 | 0.82 | 0.13 | 3.45 | 3.45 | 090
77782 | TC | A | High intensity brachytherapy | 0.00 | 18.73 | NA | 1.06 | 19.79 | NA | 090
77783 |  | A | High intensity brachytherapy | 3.73 | 23.47 | NA | 1.25 | 28.45 | NA | 090
77783 | 26 | A | High intensity brachytherapy | 3.73 | 1.23 | 1.23 | 0.19 | 5.14 | 5.14 | 090
77783 | TC | A | High intensity brachytherapy | 0.00 | 22.24 | NA | 1.06 | 23.30 | NA | 090
77784 |  | A | High intensity brachytherapy | 5.61 | 29.75 | NA | 1.35 | 36.71 | NA | 090
77784 | 26 | A | High intensity brachytherapy | 5.61 | 1.85 | 1.85 | 0.29 | 7.75 | 7.75 | 090
77784 | TC | A | High intensity brachytherapy | 0.00 | 27.90 | NA | 1.06 | 28.96 | NA | 090
77789 |  | A | Apply surface radiation | 1.12 | 1.18 | NA | 0.08 | 2.38 | NA | 000
77789 | 26 | A | Apply surface radiation | 1.12 | 0.38 | 0.38 | 0.06 | 1.56 | 1.56 | 000
77789 | TC | A | Apply surface radiation | 0.00 | 0.80 | NA | 0.02 | 0.82 | NA | 000
77790 |  | A | Radiation handling | 1.05 | 1.02 | NA | 0.07 | 2.14 | NA | XXX
77790 | 26 | A | Radiation handling | 1.05 | 0.35 | 0.35 | 0.05 | 1.45 | 1.45 | XXX
77790 | TC | A | Radiation handling | 0.00 | 0.67 | NA | 0.02 | 0.69 | NA | XXX
77799 |  | C | Radium/radioisotope therapy | 0.00 | 0.00 | 0.00 | 0.00 | 0.00 | 0.00 | XXX
77799 | 26 | C | Radium/radioisotope therapy | 0.00 | 0.00 | 0.00 | 0.00 | 0.00 | 0.00 | XXX
77799 | TC | C | Radium/radioisotope therapy | 0.00 | 0.00 | 0.00 | 0.00 | 0.00 | 0.00 | XXX
78000 |  | A | Thyroid, single uptake | 0.19 | 1.18 | NA | 0.07 | 1.44 | NA | XXX
78000 | 26 | A | Thyroid, single uptake | 0.19 | 0.06 | 0.06 | 0.01 | 0.26 | 0.26 | XXX
78000 | TC | A | Thyroid, single uptake | 0.00 | 1.12 | NA | 0.06 | 1.18 | NA | XXX
78001 |  | A | Thyroid, multiple uptakes | 0.26 | 1.60 | NA | 0.08 | 1.94 | NA | XXX
78001 | 26 | A | Thyroid, multiple uptakes | 0.26 | 0.09 | 0.09 | 0.01 | 0.36 | 0.36 | XXX
001 | TC | A | Thyroid, multiple uptakes | 0.00 | 1.51 | NA | 0.07 | 1.58 | NA | XXX
78003 |  | A | Thyroid suppress/stimul | 0.33 | 1.31 | NA | 0.07 | 1.71 | NA | XXX
78003 | 26 | A | Thyroid suppress/stimul | 0.33 | 0.12 | 0.12 | 0.01 | 0.46 | 0.46 | XXX
78003 | TC | A | Thyroid suppress/stimul | 0.00 | 1.19 | NA | 0.06 | 1.25 | NA | XXX
78006 |  | A | Thyroid imaging with uptake | 0.49 | 3.24 | NA | 0.15 | 3.88 | NA | XXX
78006 | 26 | A | Thyroid imaging with uptake | 0.49 | 0.17 | 0.17 | 0.02 | 0.68 | 0.68 | XXX
78006 | TC | A | Thyroid imaging with uptake | 0.00 | 3.07 | NA | 0.13 | 3.20 | NA | XXX
78007 |  | A | Thyroid image, mult uptakes | 0.50 | 2.88 | NA | 0.16 | 3.54 | NA | XXX
78007 | 26 | A | Thyroid image, mult uptakes | 0.50 | 0.18 | 0.18 | 0.02 | 0.70 | 0.70 | XXX
78007 | TC | A | Thyroid image, mult uptakes | 0.00 | 2.70 | NA | 0.14 | 2.84 | NA | XXX
78010 |  | A | Thyroid imaging | 0.39 | 2.41 | NA | 0.13 | 2.93 | NA | XXX
78010 | 26 | A | Thyroid imaging | 0.39 | 0.14 | 0.14 | 0.02 | 0.55 | 0.55 | XXX
78010 | TC | A | Thyroid imaging | 0.00 | 2.27 | NA | 0.11 | 2.38 | NA | XXX
78011 |  | A | Thyroid imaging with flow | 0.45 | 2.97 | NA | 0.15 | 3.57 | NA | XXX
78011 | 26 | A | Thyroid imaging with flow | 0.45 | 0.16 | 0.16 | 0.02 | 0.63 | 0.63 | XXX
78011 | TC | A | Thyroid imaging with flow | 0.00 | 2.81 | NA | 0.13 | 2.94 | NA | XXX
78015 |  | A | Thyroid met imaging | 0.67 | 3.19 | NA | 0.17 | 4.04 | NA | XXX
78015 | 26 | A | Thyroid met imaging | 0.67 | 0.24 | 0.24 | 0.03 | 0.94 | 0.94 | XXX
78015 | TC | A | Thyroid met imaging | 0.00 | 2.95 | NA | 0.14 | 3.09 | NA | XXX
78016 |  | A | Thyroid met imaging/studies | 0.82 | 4.61 | NA | 0.21 | 5.64 | NA | XXX
78016 | 26 | A | Thyroid met imaging/studies | 0.82 | 0.30 | 0.30 | 0.03 | 1.15 | 1.15 | XXX
78016 | TC | A | Thyroid met imaging/studies | 0.00 | 4.32 | NA | 0.18 | 4.50 | NA | XXX
78018 |  | A | Thyroid met imaging, body | 0.86 | 5.95 | NA | 0.33 | 7.14 | NA | XXX
78018 | 26 | A | Thyroid met imaging, body | 0.86 | 0.31 | 0.31 | 0.04 | 1.21 | 1.21 | XXX
78018 | TC | A | Thyroid met imaging, body | 0.00 | 5.64 | NA | 0.29 | 5.93 | NA | XXX
78020 |  | A | Thyroid met uptake | 0.60 | 1.61 | NA | 0.16 | 2.37 | NA | ZZZ
78020 | 26 | A | Thyroid met uptake | 0.60 | 0.22 | 0.22 | 0.02 | 0.84 | 0.84 | ZZZ
78020 | TC | A | Thyroid met uptake | 0.00 | 1.39 | NA | 0.14 | 1.53 | NA | ZZZ
78070 |  | A | Parathyroid nuclear imaging | 0.82 | 4.32 | NA | 0.15 | 5.30 | NA | XXX
78070 | 26 | A | Parathyroid nuclear imaging | 0.82 | 0.29 | 0.29 | 0.04 | 1.15 | 1.15 | XXX
78070 | TC | A | Parathyroid nuclear imaging | 0.00 | 4.03 | NA | 0.11 | 4.14 | NA | XXX
78075 |  | A | Adrenal nuclear imaging | 0.74 | 6.80 | NA | 0.32 | 7.87 | NA | XXX
78075 | 26 | A | Adrenal nuclear imaging | 0.74 | 0.27 | 0.27 | 0.03 | 1.04 | 1.04 | XXX
78075 | TC | A | Adrenal nuclear imaging | 0.00 | 6.53 | NA | 0.29 | 6.82 | NA | XXX
78099 |  | C | Endocrine nuclear procedure | 0.00 | 0.00 | 0.00 | 0.00 | 0.00 | 0.00 | XXX
78099 | 26 | C | Endocrine nuclear procedure | 0.00 | 0.00 | 0.00 | 0.00 | 0.00 | 0.00 | XXX
78099 | TC | C | Endocrine nuclear procedure | 0.00 | 0.00 | 0.00 | 0.00 | 0.00 | 0.00 | XXX
78102 |  | A | Bone marrow imaging, ltd | 0.55 | 2.64 | NA | 0.14 | 3.33 | NA | XXX
78102 | 26 | A | Bone marrow imaging, ltd | 0.55 | 0.20 | 0.20 | 0.02 | 0.77 | 0.77 | XXX
78102 | TC | A | Bone marrow imaging, ltd | 0.00 | 2.43 | NA | 0.12 | 2.55 | NA | XXX
78103 |  | A | Bone marrow imaging, mult | 0.75 | 3.81 | NA | 0.20 | 4.76 | NA | XXX
78103 | 26 | A | Bone marrow imaging, mult | 0.75 | 0.27 | 0.27 | 0.03 | 1.05 | 1.05 | XXX
78103 | TC | A | Bone marrow imaging, mult | 0.00 | 3.54 | NA | 0.17 | 3.71 | NA | XXX
78104 |  | A | Bone marrow imaging, body | 0.80 | 4.58 | NA | 0.25 | 5.63 | NA | XXX
78104 | 26 | A | Bone marrow imaging, body | 0.80 | 0.28 | 0.28 | 0.03 | 1.11 | 1.11 | XXX
78104 | TC | A | Bone marrow imaging, body | 0.00 | 4.29 | NA | 0.22 | 4.51 | NA | XXX
78110 |  | A | Plasma volume, single | 0.19 | 1.22 | NA | 0.07 | 1.48 | NA | XXX
78110 | 26 | A | Plasma volume, single | 0.19 | 0.07 | 0.07 | 0.01 | 0.27 | 0.27 | XXX
78110 | TC | A | Plasma volume, single | 0.00 | 1.15 | NA | 0.06 | 1.21 | NA | XXX
78111 |  | A | Plasma volume, multiple | 0.22 | 2.38 | NA | 0.15 | 2.75 | NA | XXX
78111 | 26 | A | Plasma volume, multiple | 0.22 | 0.08 | 0.08 | 0.01 | 0.31 | 0.31 | XXX
78111 | TC | A | Plasma volume, multiple | 0.00 | 2.30 | NA | 0.14 | 2.44 | NA | XXX
78120 |  | A | Red cell mass, single | 0.23 | 1.74 | NA | 0.12 | 2.09 | NA | XXX
78120 | 26 | A | Red cell mass, single | 0.23 | 0.08 | 0.08 | 0.01 | 0.32 | 0.32 | XXX
78120 | TC | A | Red cell mass, single | 0.00 | 1.65 | NA | 0.11 | 1.76 | NA | XXX
78121 |  | A | Red cell mass, multiple | 0.32 | 2.69 | NA | 0.15 | 3.16 | NA | XXX
78121 | 26 | A | Red cell mass, multiple | 0.32 | 0.12 | 0.12 | 0.01 | 0.45 | 0.45 | XXX
78121 | TC | A | Red cell mass, multiple | 0.00 | 2.58 | NA | 0.14 | 2.72 | NA | XXX
78122 |  | A | Blood volume | 0.45 | 4.15 | NA | 0.26 | 4.86 | NA | XXX
78122 | 26 | A | Blood volume | 0.45 | 0.17 | 0.17 | 0.02 | 0.64 | 0.64 | XXX
78122 | TC | A | Blood volume | 0.00 | 3.98 | NA | 0.24 | 4.22 | NA | XXX
78130 |  | A | Red cell survival study | 0.61 | 2.95 | NA | 0.17 | 3.73 | NA | XXX
78130 | 26 | A | Red cell survival study | 0.61 | 0.22 | 0.22 | 0.03 | 0.86 | 0.86 | XXX
78130 | TC | A | Red cell survival study | 0.00 | 2.73 | NA | 0.14 | 2.87 | NA | XXX
78135 |  | A | Red cell survival kinetics | 0.64 | 5.59 | NA | 0.28 | 6.51 | NA | XXX
78135 | 26 | A | Red cell survival kinetics | 0.64 | 0.23 | 0.23 | 0.03 | 0.90 | 0.90 | XXX
78135 | TC | A | Red cell survival kinetics | 0.00 | 5.36 | NA | 0.25 | 5.61 | NA | XXX
78140 |  | A | Red cell sequestration | 0.61 | 3.79 | NA | 0.24 | 4.64 | NA | XXX
78140 | 26 | A | Red cell sequestration | 0.61 | 0.21 | 0.21 | 0.03 | 0.85 | 0.85 | XXX
78140 | TC | A | Red cell sequestration | 0.00 | 3.58 | NA | 0.21 | 3.79 | NA | XXX
78160 |  | A | Plasma iron turnover | 0.33 | 3.04 | NA | 0.23 | 3.60 | NA | XXX
78160 | 26 | A | Plasma iron turnover | 0.33 | 0.12 | 0.12 | 0.04 | 0.49 | 0.49 | XXX
78160 | TC | A | Plasma iron turnover | 0.00 | 2.92 | NA | 0.19 | 3.11 | NA | XXX
78162 |  | A | Radioiron absorption exam | 0.45 | 2.73 | NA | 0.19 | 3.37 | NA | XXX
78162 | 26 | A | Radioiron absorption exam | 0.45 | 0.19 | 0.19 | 0.02 | 0.66 | 0.66 | XXX
78162 | TC | A | Radioiron absorption exam | 0.00 | 2.54 | NA | 0.17 | 2.71 | NA | XXX
78170 |  | A | Red cell iron utilization | 0.41 | 4.36 | NA | 0.30 | 5.07 | NA | XXX
78170 | 26 | A | Red cell iron utilization | 0.41 | 0.15 | 0.15 | 0.02 | 0.58 | 0.58 | XXX
78170 | TC | A | Red cell iron utilization | 0.00 | 4.22 | NA | 0.28 | 4.50 | NA | XXX
78172 |  | C | Total body iron estimation | 0.00 | 0.00 | 0.00 | 0.00 | 0.00 | 0.00 | XXX
78172 | 26 | A | Total body iron estimation | 0.53 | 0.18 | 0.18 | 0.02 | 0.73 | 0.73 | XXX
78172 | TC | C | Total body iron estimation | 0.00 | 0.00 | 0.00 | 0.00 | 0.00 | 0.00 | XXX
78185 |  | A | Spleen imaging | 0.40 | 2.96 | NA | 0.15 | 3.51 | NA | XXX
78185 | 26 | A | Spleen imaging | 0.40 | 0.15 | 0.15 | 0.02 | 0.57 | 0.57 | XXX
78185 | TC | A | Spleen imaging | 0.00 | 2.81 | NA | 0.13 | 2.94 | NA | XXX
78190 |  | A | Platelet survival, kinetics | 1.09 | 6.43 | NA | 0.38 | 7.90 | NA | XXX
78190 | 26 | A | Platelet survival, kinetics | 1.09 | 0.41 | 0.41 | 0.08 | 1.58 | 1.58 | XXX
78190 | TC | A | Platelet survival, kinetics | 0.00 | 6.02 | NA | 0.30 | 6.32 | NA | XXX
78191 |  | A | Platelet survival | 0.61 | 6.53 | NA | 0.40 | 7.54 | NA | XXX
78191 | 26 | A | Platelet survival | 0.61 | 0.21 | 0.21 | 0.03 | 0.85 | 0.85 | XXX
78191 | TC | A | Platelet survival | 0.00 | 6.32 | NA | 0.37 | 6.69 | NA | XXX
78195 |  | A | Lymph system imaging | 1.20 | 5.19 | NA | 0.28 | 6.68 | NA | XXX
78195 | 26 | A | Lymph system imaging | 1.20 | 0.43 | 0.43 | 0.06 | 1.69 | 1.69 | XXX
78195 | TC | A | Lymph system imaging | 0.00 | 4.76 | NA | 0.22 | 4.98 | NA | XXX
78199 |  | C | Blood/lymph nuclear exam | 0.00 | 0.00 | 0.00 | 0.00 | 0.00 | 0.00 | XXX
78199 | 26 | C | Blood/lymph nuclear exam | 0.00 | 0.00 | 0.00 | 0.00 | 0.00 | 0.00 | XXX
78199 | TC | C | Blood/lymph nuclear exam | 0.00 | 0.00 | 0.00 | 0.00 | 0.00 | 0.00 | XXX
78201 |  | A | Liver imaging | 0.44 | 2.96 | NA | 0.15 | 3.55 | NA | XXX
78201 | 26 | A | Liver imaging | 0.44 | 0.16 | 0.16 | 0.02 | 0.62 | 0.62 | XXX
78201 | TC | A | Liver imaging | 0.00 | 2.80 | NA | 0.13 | 2.93 | NA | XXX
78202 |  | A | Liver imaging with flow | 0.51 | 3.44 | NA | 0.16 | 4.11 | NA | XXX
78202 | 26 | A | Liver imaging with flow | 0.51 | 0.18 | 0.18 | 0.02 | 0.71 | 0.71 | XXX
78202 | TC | A | Liver imaging with flow | 0.00 | 3.26 | NA | 0.14 | 3.40 | NA | XXX
78205 |  | A | Liver imaging (3D) | 0.71 | 5.87 | NA | 0.34 | 6.92 | NA | XXX
78205 | 26 | A | Liver imaging (3D) | 0.71 | 0.25 | 0.25 | 0.03 | 0.99 | 0.99 | XXX
78205 | TC | A | Liver imaging (3D) | 0.00 | 5.61 | NA | 0.31 | 5.92 | NA | XXX
78206 |  | A | Liver image (3d) with flow | 0.96 | 8.15 | NA | 0.15 | 9.26 | NA | XXX
78206 | 26 | A | Liver image (3d) with flow | 0.96 | 0.34 | 0.34 | 0.04 | 1.35 | 1.35 | XXX
78206 | TC | A | Liver image (3d) with flow | 0.00 | 7.80 | NA | 0.11 | 7.91 | NA | XXX
78215 |  | A | Liver and spleen imaging | 0.49 | 3.48 | NA | 0.16 | 4.13 | NA | XXX
78215 | 26 | A | Liver and spleen imaging | 0.49 | 0.17 | 0.17 | 0.02 | 0.68 | 0.68 | XXX
78215 | TC | A | Liver and spleen imaging | 0.00 | 3.31 | NA | 0.14 | 3.45 | NA | XXX
78216 |  | A | Liver & spleen image/flow | 0.57 | 3.49 | NA | 0.20 | 4.26 | NA | XXX
78216 | 26 | A | Liver & spleen image/flow | 0.57 | 0.20 | 0.20 | 0.02 | 0.79 | 0.79 | XXX
78216 | TC | A | Liver & spleen image/flow | 0.00 | 3.29 | NA | 0.18 | 3.47 | NA | XXX
78220 |  | A | Liver function study | 0.49 | 3.67 | NA | 0.21 | 4.37 | NA | XXX
78220 | 26 | A | Liver function study | 0.49 | 0.17 | 0.17 | 0.02 | 0.68 | 0.68 | XXX
78220 | TC | A | Liver function study | 0.00 | 3.50 | NA | 0.19 | 3.69 | NA | XXX
78223 |  | A | Hepatobiliary imaging | 0.84 | 4.79 | NA | 0.23 | 5.86 | NA | XXX
78223 | 26 | A | Hepatobiliary imaging | 0.84 | 0.29 | 0.29 | 0.04 | 1.17 | 1.17 | XXX
78223 | TC | A | Hepatobiliary imaging | 0.00 | 4.49 | NA | 0.19 | 4.68 | NA | XXX
78230 |  | A | Salivary gland imaging | 0.45 | 2.74 | NA | 0.15 | 3.34 | NA | XXX
78230 | 26 | A | Salivary gland imaging | 0.45 | 0.15 | 0.15 | 0.02 | 0.62 | 0.62 | XXX
78230 | TC | A | Salivary gland imaging | 0.00 | 2.58 | NA | 0.13 | 2.71 | NA | XXX
78231 |  | A | Serial salivary imaging | 0.52 | 3.14 | NA | 0.19 | 3.85 | NA | XXX
78231 | 26 | A | Serial salivary imaging | 0.52 | 0.19 | 0.19 | 0.02 | 0.73 | 0.73 | XXX
78231 | TC | A | Serial salivary imaging | 0.00 | 2.96 | NA | 0.17 | 3.13 | NA | XXX
78232 |  | A | Salivary gland function exam | 0.47 | 3.47 | NA | 0.20 | 4.14 | NA | XXX
78232 | 26 | A | Salivary gland function exam | 0.47 | 0.17 | 0.17 | 0.02 | 0.66 | 0.66 | XXX
78232 | TC | A | Salivary gland function exam | 0.00 | 3.30 | NA | 0.18 | 3.48 | NA | XXX
78258 |  | A | Esophageal motility study | 0.74 | 3.70 | NA | 0.17 | 4.61 | NA | XXX
78258 | 26 | A | Esophageal motility study | 0.74 | 0.26 | 0.26 | 0.03 | 1.03 | 1.03 | XXX
78258 | TC | A | Esophageal motility study | 0.00 | 3.44 | NA | 0.14 | 3.58 | NA | XXX
78261 |  | A | Gastric mucosa imaging | 0.69 | 4.56 | NA | 0.25 | 5.51 | NA | XXX
78261 | 26 | A | Gastric mucosa imaging | 0.69 | 0.25 | 0.25 | 0.03 | 0.97 | 0.97 | XXX
78261 | TC | A | Gastric mucosa imaging | 0.00 | 4.31 | NA | 0.22 | 4.53 | NA | XXX
78262 |  | A | Gastroesophageal reflux exam | 0.68 | 4.57 | NA | 0.25 | 5.50 | NA | XXX
78262 | 26 | A | Gastroesophageal reflux exam | 0.68 | 0.24 | 0.24 | 0.03 | 0.95 | 0.95 | XXX
78262 | TC | A | Gastroesophageal reflux exam | 0.00 | 4.33 | NA | 0.22 | 4.55 | NA | XXX
78264 |  | A | Gastric emptying study | 0.78 | 4.86 | NA | 0.25 | 5.89 | NA | XXX
78264 | 26 | A | Gastric emptying study | 0.78 | 0.27 | 0.27 | 0.03 | 1.08 | 1.08 | XXX
78264 | TC | A | Gastric emptying study | 0.00 | 4.59 | NA | 0.22 | 4.81 | NA | XXX
78270 |  | A | Vit B-12 absorption exam | 0.20 | 1.55 | NA | 0.11 | 1.86 | NA | XXX
78270 | 26 | A | Vit B-12 absorption exam | 0.20 | 0.07 | 0.07 | 0.01 | 0.28 | 0.28 | XXX
78270 | TC | A | Vit B-12 absorption exam | 0.00 | 1.48 | NA | 0.10 | 1.58 | NA | XXX
78271 |  | A | Vit b-12 absrp exam, int fac | 0.20 | 1.64 | NA | 0.11 | 1.95 | NA | XXX
78271 | 26 | A | Vit b-12 absrp exam, int fac | 0.20 | 0.07 | 0.07 | 0.01 | 0.28 | 0.28 | XXX
78271 | TC | A | Vit b-12 absrp exam, int fac | 0.00 | 1.56 | NA | 0.10 | 1.66 | NA | XXX
78272 |  | A | Vit B-12 absorp, combined | 0.27 | 2.15 | NA | 0.14 | 2.56 | NA | XXX
78272 | 26 | A | Vit B-12 absorp, combined | 0.27 | 0.10 | 0.10 | 0.01 | 0.38 | 0.38 | XXX
78272 | TC | A | Vit B-12 absorp, combined | 0.00 | 2.06 | NA | 0.13 | 2.19 | NA | XXX
78278 |  | A | Acute GI blood loss imaging | 0.99 | 6.10 | NA | 0.29 | 7.38 | NA | XXX
78278 | 26 | A | Acute GI blood loss imaging | 0.99 | 0.35 | 0.35 | 0.04 | 1.38 | 1.38 | XXX
78278 | TC | A | Acute GI blood loss imaging | 0.00 | 5.75 | NA | 0.25 | 6.00 | NA | XXX
78282 |  | C | GI protein loss exam | 0.00 | 0.00 | 0.00 | 0.00 | 0.00 | 0.00 | XXX
78282 | 26 | A | GI protein loss exam | 0.38 | 0.14 | 0.14 | 0.02 | 0.54 | 0.54 | XXX
78282 | TC | C | GI protein loss exam | 0.00 | 0.00 | 0.00 | 0.00 | 0.00 | 0.00 | XXX
78290 |  | A | Meckel's divert exam | 0.68 | 4.32 | NA | 0.19 | 5.19 | NA | XXX
78290 | 26 | A | Meckel's divert exam | 0.68 | 0.24 | 0.24 | 0.03 | 0.95 | 0.95 | XXX
78290 | TC | A | Meckel's divert exam | 0.00 | 4.08 | NA | 0.16 | 4.24 | NA | XXX
78291 |  | A | Leveen/shunt patency exam | 0.88 | 4.00 | NA | 0.20 | 5.08 | NA | XXX
78291 | 26 | A | Leveen/shunt patency exam | 0.88 | 0.31 | 0.31 | 0.04 | 1.23 | 1.23 | XXX
78291 | TC | A | Leveen/shunt patency exam | 0.00 | 3.68 | NA | 0.16 | 3.84 | NA | XXX
78299 |  | C | GI nuclear procedure | 0.00 | 0.00 | 0.00 | 0.00 | 0.00 | 0.00 | XXX
78299 | 26 | C | GI nuclear procedure | 0.00 | 0.00 | 0.00 | 0.00 | 0.00 | 0.00 | XXX
78299 | TC | C | GI nuclear procedure | 0.00 | 0.00 | 0.00 | 0.00 | 0.00 | 0.00 | XXX
78300 |  | A | Bone imaging, limited area | 0.62 | 2.97 | NA | 0.17 | 3.76 | NA | XXX
78300 | 26 | A | Bone imaging, limited area | 0.62 | 0.22 | 0.22 | 0.03 | 0.87 | 0.87 | XXX
78300 | TC | A | Bone imaging, limited area | 0.00 | 2.75 | NA | 0.14 | 2.89 | NA | XXX
78305 |  | A | Bone imaging, multiple areas | 0.83 | 4.16 | NA | 0.23 | 5.22 | NA | XXX
78305 | 26 | A | Bone imaging, multiple areas | 0.83 | 0.29 | 0.29 | 0.04 | 1.16 | 1.16 | XXX
78305 | TC | A | Bone imaging, multiple areas | 0.00 | 3.87 | NA | 0.19 | 4.06 | NA | XXX
78306 |  | A | Bone imaging, whole body | 0.86 | 4.77 | NA | 0.26 | 5.89 | NA | XXX
78306 | 26 | A | Bone imaging, whole body | 0.86 | 0.30 | 0.30 | 0.04 | 1.20 | 1.20 | XXX
78306 | TC | A | Bone imaging, whole body | 0.00 | 4.47 | NA | 0.22 | 4.69 | NA | XXX
78315 |  | A | Bone imaging, 3 phase | 1.02 | 5.69 | NA | 0.29 | 7.00 | NA | XXX
78315 | 26 | A | Bone imaging, 3 phase | 1.02 | 0.36 | 0.36 | 0.04 | 1.42 | 1.42 | XXX
78315 | TC | A | Bone imaging, 3 phase | 0.00 | 5.33 | NA | 0.25 | 5.58 | NA | XXX
78320 |  | A | Bone imaging (3D) | 1.04 | 5.89 | NA | 0.35 | 7.28 | NA | XXX
78320 | 26 | A | Bone imaging (3D) | 1.04 | 0.38 | 0.38 | 0.04 | 1.46 | 1.46 | XXX
78320 | TC | A | Bone imaging (3D) | 0.00 | 5.51 | NA | 0.31 | 5.82 | NA | XXX
78350 |  | A | Bone mineral, single photon | 0.22 | 1.00 | NA | 0.06 | 1.28 | NA | XXX
78350 | 26 | A | Bone mineral, single photon | 0.22 | 0.07 | 0.07 | 0.01 | 0.30 | 0.30 | XXX
78350 | TC | A | Bone mineral, single photon | 0.00 | 0.93 | NA | 0.05 | 0.98 | NA | XXX
78351 |  | N | Bone mineral, dual photon | 0.30 | 1.86 | 0.12 | 0.01 | 2.17 | 0.43 | XXX
78399 |  | C | Musculoskeletal nuclear exam | 0.00 | 0.00 | 0.00 | 0.00 | 0.00 | 0.00 | XXX
78399 | 26 | C | Musculoskeletal nuclear exam | 0.00 | 0.00 | 0.00 | 0.00 | 0.00 | 0.00 | XXX
78399 | TC | C | Musculoskeletal nuclear exam | 0.00 | 0.00 | 0.00 | 0.00 | 0.00 | 0.00 | XXX
78414 |  | C | Non-imaging heart function | 0.00 | 0.00 | 0.00 | 0.00 | 0.00 | 0.00 | XXX
78414 | 26 | A | Non-imaging heart function | 0.45 | 0.17 | 0.17 | 0.02 | 0.64 | 0.64 | XXX
78414 | TC | C | Non-imaging heart function | 0.00 | 0.00 | 0.00 | 0.00 | 0.00 | 0.00 | XXX
78428 |  | A | Cardiac shunt imaging | 0.78 | 3.31 | NA | 0.16 | 4.25 | NA | XXX
78428 | 26 | A | Cardiac shunt imaging | 0.78 | 0.30 | 0.30 | 0.03 | 1.11 | 1.11 | XXX
78428 | TC | A | Cardiac shunt imaging | 0.00 | 3.00 | NA | 0.13 | 3.13 | NA | XXX
78445 |  | A | Vascular flow imaging | 0.49 | 2.74 | NA | 0.13 | 3.36 | NA | XXX
78445 | 26 | A | Vascular flow imaging | 0.49 | 0.18 | 0.18 | 0.02 | 0.69 | 0.69 | XXX
78445 | TC | A | Vascular flow imaging | 0.00 | 2.57 | NA | 0.11 | 2.68 | NA | XXX
78455 |  | A | Venous thrombosis study | 0.73 | 4.31 | NA | 0.24 | 5.28 | NA | XXX
78455 | 26 | A | Venous thrombosis study | 0.73 | 0.26 | 0.26 | 0.03 | 1.02 | 1.02 | XXX
78455 | TC | A | Venous thrombosis study | 0.00 | 4.05 | NA | 0.21 | 4.26 | NA | XXX
78456 |  | A | Acute venous thrombus image | 1.00 | 5.25 | NA | 0.33 | 6.58 | NA | XXX
78456 | 26 | A | Acute venous thrombus image | 1.00 | 0.36 | 0.36 | 0.04 | 1.40 | 1.40 | XXX
78456 | TC | A | Acute venous thrombus image | 0.00 | 4.89 | NA | 0.29 | 5.18 | NA | XXX
78457 |  | A | Venous thrombosis imaging | 0.77 | 3.11 | NA | 0.17 | 4.06 | NA | XXX
78457 | 26 | A | Venous thrombosis imaging | 0.77 | 0.27 | 0.27 | 0.03 | 1.07 | 1.07 | XXX
78457 | TC | A | Venous thrombosis imaging | 0.00 | 2.85 | NA | 0.14 | 2.99 | NA | XXX
78458 |  | A | Ven thrombosis images, bilat | 0.90 | 4.31 | NA | 0.25 | 5.46 | NA | XXX
78458 | 26 | A | Ven thrombosis images, bilat | 0.90 | 0.33 | 0.33 | 0.04 | 1.27 | 1.27 | XXX
78458 | TC | A | Ven thrombosis images, bilat | 0.00 | 3.98 | NA | 0.21 | 4.19 | NA | XXX
78459 |  | C | Heart muscle imaging (PET) | 0.00 | 0.00 | 0.00 | 0.00 | 0.00 | 0.00 | XXX
78459 | 26 | A | Heart muscle imaging (PET) | 1.50 | 0.59 | 0.59 | 0.05 | 2.15 | 2.15 | XXX
78459 | TC | C | Heart muscle imaging (PET) | 0.00 | 0.00 | 0.00 | 0.00 | 0.00 | 0.00 | XXX
78460 |  | A | Heart muscle blood, single | 0.86 | 3.23 | NA | 0.17 | 4.27 | NA | XXX
78460 | 26 | A | Heart muscle blood, single | 0.86 | 0.30 | 0.30 | 0.04 | 1.20 | 1.20 | XXX
78460 | TC | A | Heart muscle blood, single | 0.00 | 2.93 | NA | 0.13 | 3.06 | NA | XXX
78461 |  | A | Heart muscle blood, multiple | 1.23 | 5.17 | NA | 0.30 | 6.70 | NA | XXX
78461 | 26 | A | Heart muscle blood, multiple | 1.23 | 0.45 | 0.45 | 0.05 | 1.73 | 1.73 | XXX
78461 | TC | A | Heart muscle blood, multiple | 0.00 | 4.72 | NA | 0.25 | 4.97 | NA | XXX
78464 |  | A | Heart image (3d), single | 1.09 | 7.18 | NA | 0.41 | 8.68 | NA | XXX
78464 | 26 | A | Heart image (3d), single | 1.09 | 0.40 | 0.40 | 0.04 | 1.53 | 1.53 | XXX
78464 | TC | A | Heart image (3d), single | 0.00 | 6.78 | NA | 0.37 | 7.15 | NA | XXX
78465 |  | A | Heart image (3d), multiple | 1.46 | 12.23 | NA | 0.67 | 14.37 | NA | XXX
78465 | 26 | A | Heart image (3d), multiple | 1.46 | 0.54 | 0.54 | 0.05 | 2.06 | 2.06 | XXX
78465 | TC | A | Heart image (3d), multiple | 0.00 | 11.69 | NA | 0.62 | 12.31 | NA | XXX
78466 |  | A | Heart infarct image | 0.69 | 3.35 | NA | 0.17 | 4.22 | NA | XXX
78466 | 26 | A | Heart infarct image | 0.69 | 0.25 | 0.25 | 0.03 | 0.97 | 0.97 | XXX
78466 | TC | A | Heart infarct image | 0.00 | 3.10 | NA | 0.14 | 3.24 | NA | XXX
78468 |  | A | Heart infarct image (ef) | 0.80 | 4.53 | NA | 0.22 | 5.55 | NA | XXX
78468 | 26 | A | Heart infarct image (ef) | 0.80 | 0.29 | 0.29 | 0.03 | 1.12 | 1.12 | XXX
78468 | TC | A | Heart infarct image (ef) | 0.00 | 4.25 | NA | 0.19 | 4.44 | NA | XXX
78469 |  | A | Heart infarct image (3D) | 0.92 | 5.38 | NA | 0.31 | 6.61 | NA | XXX
78469 | 26 | A | Heart infarct image (3D) | 0.92 | 0.32 | 0.32 | 0.03 | 1.27 | 1.27 | XXX
78469 | TC | A | Heart infarct image (3D) | 0.00 | 5.06 | NA | 0.28 | 5.34 | NA | XXX
78472 |  | A | Gated heart, planar, single | 0.98 | 5.73 | NA | 0.34 | 7.06 | NA | XXX
78472 | 26 | A | Gated heart, planar, single | 0.98 | 0.36 | 0.36 | 0.04 | 1.38 | 1.38 | XXX
78472 | TC | A | Gated heart, planar, single | 0.00 | 5.38 | NA | 0.30 | 5.68 | NA | XXX
78473 |  | A | Gated heart, multiple | 1.47 | 7.69 | NA | 0.48 | 9.64 | NA | XXX
78473 | 26 | A | Gated heart, multiple | 1.47 | 0.53 | 0.53 | 0.06 | 2.07 | 2.07 | XXX
78473 | TC | A | Gated heart, multiple | 0.00 | 7.15 | NA | 0.42 | 7.57 | NA | XXX
78478 |  | A | Heart wall motion add-on | 0.62 | 1.58 | NA | 0.12 | 2.32 | NA | XXX
78478 | 26 | A | Heart wall motion add-on | 0.62 | 0.24 | 0.24 | 0.02 | 0.88 | 0.88 | XXX
78478 | TC | A | Heart wall motion add-on | 0.00 | 1.34 | NA | 0.10 | 1.44 | NA | XXX
78480 |  | A | Heart function add-on | 0.62 | 1.57 | NA | 0.12 | 2.31 | NA | XXX
78480 | 26 | A | Heart function add-on | 0.62 | 0.23 | 0.23 | 0.02 | 0.87 | 0.87 | XXX
78480 | TC | A | Heart function add-on | 0.00 | 1.34 | NA | 0.10 | 1.44 | NA | XXX
78481 |  | A | Heart first pass, single | 0.98 | 4.47 | NA | 0.31 | 5.76 | NA | XXX
78481 | 26 | A | Heart first pass, single | 0.98 | 0.38 | 0.38 | 0.03 | 1.39 | 1.39 | XXX
78481 | TC | A | Heart first pass, single | 0.00 | 4.10 | NA | 0.28 | 4.38 | NA | XXX
78483 |  | A | Heart first pass, multiple | 1.47 | 6.69 | NA | 0.46 | 8.62 | NA | XXX
78483 | 26 | A | Heart first pass, multiple | 1.47 | 0.56 | 0.56 | 0.05 | 2.08 | 2.08 | XXX
78483 | TC | A | Heart first pass, multiple | 0.00 | 6.13 | NA | 0.41 | 6.54 | NA | XXX
78491 |  | C | Heart image (pet), single | 0.00 | 0.00 | 0.00 | 0.00 | 0.00 | 0.00 | XXX
78491 | 26 | A | Heart image (pet), single | 1.50 | 0.00 | 0.00 | 0.06 | 1.56 | 1.56 | XXX
78491 | TC | C | Heart image (pet), single | 0.00 | 0.00 | 0.00 | 0.00 | 0.00 | 0.00 | XXX
78492 |  | C | Heart image (pet), multiple | 0.00 | 0.00 | 0.00 | 0.00 | 0.00 | 0.00 | XXX
78492 | 26 | A | Heart image (pet), multiple | 1.87 | 0.00 | 0.00 | 0.07 | 1.94 | 1.94 | XXX
78492 | TC | C | Heart image (pet), multiple | 0.00 | 0.00 | 0.00 | 0.00 | 0.00 | 0.00 | XXX
78494 |  | A | Heart image, spect | 1.19 | 7.24 | NA | 0.35 | 8.78 | NA | XXX
78494 | 26 | A | Heart image, spect | 1.19 | 0.44 | 0.44 | 0.05 | 1.68 | 1.68 | XXX
78494 | TC | A | Heart image, spect | 0.00 | 6.80 | NA | 0.30 | 7.10 | NA | XXX
78496 |  | A | Heart first pass add-on | 0.50 | 5.71 | NA | 0.32 | 6.53 | NA | ZZZ
78496 | 26 | A | Heart first pass add-on | 0.50 | 0.19 | 0.19 | 0.02 | 0.71 | 0.71 | ZZZ
78496 | TC | A | Heart first pass add-on | 0.00 | 5.52 | NA | 0.30 | 5.82 | NA | ZZZ
78499 |  | C | Cardiovascular nuclear exam | 0.00 | 0.00 | 0.00 | 0.00 | 0.00 | 0.00 | XXX
78499 | 26 | C | Cardiovascular nuclear exam | 0.00 | 0.00 | 0.00 | 0.00 | 0.00 | 0.00 | XXX
78499 | TC | C | Cardiovascular nuclear exam | 0.00 | 0.00 | 0.00 | 0.00 | 0.00 | 0.00 | XXX
78580 |  | A | Lung perfusion imaging | 0.74 | 4.07 | NA | 0.21 | 5.02 | NA | XXX
78580 | 26 | A | Lung perfusion imaging | 0.74 | 0.26 | 0.26 | 0.03 | 1.03 | 1.03 | XXX
78580 | TC | A | Lung perfusion imaging | 0.00 | 3.81 | NA | 0.18 | 3.99 | NA | XXX
78584 |  | A | Lung V/Q image single breath | 0.99 | 3.50 | NA | 0.21 | 4.70 | NA | XXX
78584 | 26 | A | Lung V/Q image single breath | 0.99 | 0.35 | 0.35 | 0.04 | 1.38 | 1.38 | XXX
78584 | TC | A | Lung V/Q image single breath | 0.00 | 3.15 | NA | 0.17 | 3.32 | NA | XXX
78585 |  | A | Lung V/Q imaging | 1.09 | 6.36 | NA | 0.35 | 7.80 | NA | XXX
78585 | 26 | A | Lung V/Q imaging | 1.09 | 0.38 | 0.38 | 0.05 | 1.52 | 1.52 | XXX
78585 | TC | A | Lung V/Q imaging | 0.00 | 5.98 | NA | 0.30 | 6.28 | NA | XXX
78586 |  | A | Aerosol lung image, single | 0.40 | 3.04 | NA | 0.16 | 3.60 | NA | XXX
78586 | 26 | A | Aerosol lung image, single | 0.40 | 0.14 | 0.14 | 0.02 | 0.56 | 0.56 | XXX
78586 | TC | A | Aerosol lung image, single | 0.00 | 2.90 | NA | 0.14 | 3.04 | NA | XXX
78587 |  | A | Aerosol lung image, multiple | 0.49 | 3.41 | NA | 0.16 | 4.06 | NA | XXX
78587 | 26 | A | Aerosol lung image, multiple | 0.49 | 0.18 | 0.18 | 0.02 | 0.69 | 0.69 | XXX
78587 | TC | A | Aerosol lung image, multiple | 0.00 | 3.23 | NA | 0.14 | 3.37 | NA | XXX
78588 |  | A | Perfusion lung image | 1.09 | 4.60 | NA | 0.23 | 5.93 | NA | XXX
78588 | 26 | A | Perfusion lung image | 1.09 | 0.38 | 0.38 | 0.05 | 1.52 | 1.52 | XXX
78588 | TC | A | Perfusion lung image | 0.00 | 4.23 | NA | 0.18 | 4.41 | NA | XXX
78591 |  | A | Vent image, 1 breath, 1 proj | 0.40 | 3.12 | NA | 0.16 | 3.68 | NA | XXX
78591 | 26 | A | Vent image, 1 breath, 1 proj | 0.40 | 0.14 | 0.14 | 0.02 | 0.56 | 0.56 | XXX
78591 | TC | A | Vent image, 1 breath, 1 proj | 0.00 | 2.98 | NA | 0.14 | 3.12 | NA | XXX
78593 |  | A | Vent image, 1 proj, gas | 0.49 | 3.76 | NA | 0.20 | 4.45 | NA | XXX
78593 | 26 | A | Vent image, 1 proj, gas | 0.49 | 0.17 | 0.17 | 0.02 | 0.68 | 0.68 | XXX
78593 | TC | A | Vent image, 1 proj, gas | 0.00 | 3.59 | NA | 0.18 | 3.77 | NA | XXX
78594 |  | A | Vent image, mult proj, gas | 0.53 | 5.09 | NA | 0.27 | 5.89 | NA | XXX
78594 | 26 | A | Vent image, mult proj, gas | 0.53 | 0.19 | 0.19 | 0.02 | 0.74 | 0.74 | XXX
78594 | TC | A | Vent image, mult proj, gas | 0.00 | 4.90 | NA | 0.25 | 5.15 | NA | XXX
78596 |  | A | Lung differential function | 1.27 | 7.35 | NA | 0.42 | 9.05 | NA | XXX
78596 | 26 | A | Lung differential function | 1.27 | 0.44 | 0.44 | 0.05 | 1.76 | 1.76 | XXX
78596 | TC | A | Lung differential function | 0.00 | 6.92 | NA | 0.37 | 7.29 | NA | XXX
78599 |  | C | Respiratory nuclear exam | 0.00 | 0.00 | 0.00 | 0.00 | 0.00 | 0.00 | XXX
78599 | 26 | C | Respiratory nuclear exam | 0.00 | 0.00 | 0.00 | 0.00 | 0.00 | 0.00 | XXX
78599 | TC | C | Respiratory nuclear exam | 0.00 | 0.00 | 0.00 | 0.00 | 0.00 | 0.00 | XXX
78600 |  | A | Brain imaging, ltd static | 0.44 | 3.50 | NA | 0.16 | 4.11 | NA | XXX
78600 | 26 | A | Brain imaging, ltd static | 0.44 | 0.16 | 0.16 | 0.02 | 0.62 | 0.62 | XXX
78600 | TC | A | Brain imaging, ltd static | 0.00 | 3.35 | NA | 0.14 | 3.49 | NA | XXX
78601 |  | A | Brain imaging, ltd w/flow | 0.51 | 3.91 | NA | 0.20 | 4.62 | NA | XXX
78601 | 26 | A | Brain imaging, ltd w/flow | 0.51 | 0.18 | 0.18 | 0.02 | 0.71 | 0.71 | XXX
78601 | TC | A | Brain imaging, ltd w/flow | 0.00 | 3.73 | NA | 0.18 | 3.91 | NA | XXX
78605 |  | A | Brain imaging, complete | 0.53 | 3.77 | NA | 0.20 | 4.50 | NA | XXX
78605 | 26 | A | Brain imaging, complete | 0.53 | 0.19 | 0.19 | 0.02 | 0.74 | 0.74 | XXX
78605 | TC | A | Brain imaging, complete | 0.00 | 3.58 | NA | 0.18 | 3.76 | NA | XXX
78606 |  | A | Brain imaging, compl w/flow | 0.64 | 4.79 | NA | 0.24 | 5.67 | NA | XXX
78606 | 26 | A | Brain imaging, compl w/flow | 0.64 | 0.22 | 0.22 | 0.03 | 0.89 | 0.89 | XXX
78606 | TC | A | Brain imaging, compl w/flow | 0.00 | 4.57 | NA | 0.21 | 4.78 | NA | XXX
78607 |  | A | Brain imaging (3D) | 1.23 | 8.26 | NA | 0.40 | 9.90 | NA | XXX
78607 | 26 | A | Brain imaging (3D) | 1.23 | 0.45 | 0.45 | 0.05 | 1.73 | 1.73 | XXX
78607 | TC | A | Brain imaging (3D) | 0.00 | 7.82 | NA | 0.35 | 8.17 | NA | XXX
78608 |  | C | Brain imaging (PET) | 0.00 | 0.00 | 0.00 | 0.00 | 0.00 | 0.00 | XXX
78608 | 26 | A | Brain imaging (PET) | 1.50 | 0.00 | 0.00 | 0.06 | 1.56 | 1.56 | XXX
78608 | TC | C | Brain imaging (PET) | 0.00 | 0.00 | 0.00 | 0.00 | 0.00 | 0.00 | XXX
78609 |  | C | Brain imaging (PET) | 0.00 | 0.00 | 0.00 | 0.00 | 0.00 | 0.00 | XXX
78609 | 26 | A | Brain imaging (PET) | 1.50 | 0.00 | 0.00 | 0.06 | 1.56 | 1.56 | XXX
78609 | TC | C | Brain imaging (PET) | 0.00 | 0.00 | 0.00 | 0.00 | 0.00 | 0.00 | XXX
78610 |  | A | Brain flow imaging only | 0.30 | 2.15 | NA | 0.11 | 2.56 | NA | XXX
78610 | 26 | A | Brain flow imaging only | 0.30 | 0.11 | 0.11 | 0.01 | 0.42 | 0.42 | XXX
78610 | TC | A | Brain flow imaging only | 0.00 | 2.03 | NA | 0.10 | 2.13 | NA | XXX
78615 |  | A | Cerebral vascular flow image | 0.42 | 4.07 | NA | 0.23 | 4.72 | NA | XXX
78615 | 26 | A | Cerebral vascular flow image | 0.42 | 0.16 | 0.16 | 0.02 | 0.60 | 0.60 | XXX
78615 | TC | A | Cerebral vascular flow image | 0.00 | 3.91 | NA | 0.21 | 4.12 | NA | XXX
78630 |  | A | Cerebrospinal fluid scan | 0.68 | 5.67 | NA | 0.30 | 6.65 | NA | XXX
78630 | 26 | A | Cerebrospinal fluid scan | 0.68 | 0.24 | 0.24 | 0.03 | 0.95 | 0.95 | XXX
78630 | TC | A | Cerebrospinal fluid scan | 0.00 | 5.43 | NA | 0.27 | 5.70 | NA | XXX
78635 |  | A | CSF ventriculography | 0.61 | 3.91 | NA | 0.16 | 4.68 | NA | XXX
78635 | 26 | A | CSF ventriculography | 0.61 | 0.24 | 0.24 | 0.02 | 0.87 | 0.87 | XXX
78635 | TC | A | CSF ventriculography | 0.00 | 3.66 | NA | 0.14 | 3.80 | NA | XXX
78645 |  | A | CSF shunt evaluation | 0.57 | 4.91 | NA | 0.20 | 5.68 | NA | XXX
78645 | 26 | A | CSF shunt evaluation | 0.57 | 0.20 | 0.20 | 0.02 | 0.79 | 0.79 | XXX
78645 | TC | A | CSF shunt evaluation | 0.00 | 4.71 | NA | 0.18 | 4.89 | NA | XXX
78647 |  | A | Cerebrospinal fluid scan | 0.90 | 8.47 | NA | 0.35 | 9.73 | NA | XXX
78647 | 26 | A | Cerebrospinal fluid scan | 0.90 | 0.32 | 0.32 | 0.04 | 1.26 | 1.26 | XXX
78647 | TC | A | Cerebrospinal fluid scan | 0.00 | 8.15 | NA | 0.31 | 8.46 | NA | XXX
78650 |  | A | CSF leakage imaging | 0.61 | 5.35 | NA | 0.27 | 6.23 | NA | XXX
78650 | 26 | A | CSF leakage imaging | 0.61 | 0.22 | 0.22 | 0.03 | 0.86 | 0.86 | XXX
78650 | TC | A | CSF leakage imaging | 0.00 | 5.13 | NA | 0.24 | 5.37 | NA | XXX
78660 |  | A | Nuclear exam of tear flow | 0.53 | 2.68 | NA | 0.14 | 3.35 | NA | XXX
78660 | 26 | A | Nuclear exam of tear flow | 0.53 | 0.19 | 0.19 | 0.02 | 0.74 | 0.74 | XXX
78660 | TC | A | Nuclear exam of tear flow | 0.00 | 2.49 | NA | 0.12 | 2.61 | NA | XXX
78699 |  | C | Nervous system nuclear exam | 0.00 | 0.00 | 0.00 | 0.00 | 0.00 | 0.00 | XXX
78699 | 26 | C | Nervous system nuclear exam | 0.00 | 0.00 | 0.00 | 0.00 | 0.00 | 0.00 | XXX
78699 | TC | C | Nervous system nuclear exam | 0.00 | 0.00 | 0.00 | 0.00 | 0.00 | 0.00 | XXX
78700 |  | A | Kidney imaging, static | 0.45 | 3.42 | NA | 0.18 | 4.05 | NA | XXX
78700 | 26 | A | Kidney imaging, static | 0.45 | 0.16 | 0.16 | 0.02 | 0.63 | 0.63 | XXX
78700 | TC | A | Kidney imaging, static | 0.00 | 3.26 | NA | 0.16 | 3.42 | NA | XXX
78701 |  | A | Kidney imaging with flow | 0.49 | 3.93 | NA | 0.20 | 4.62 | NA | XXX
78701 | 26 | A | Kidney imaging with flow | 0.49 | 0.17 | 0.17 | 0.02 | 0.68 | 0.68 | XXX
78701 | TC | A | Kidney imaging with flow | 0.00 | 3.76 | NA | 0.18 | 3.94 | NA | XXX
78704 |  | A | Imaging renogram | 0.74 | 4.35 | NA | 0.24 | 5.34 | NA | XXX
78704 | 26 | A | Imaging renogram | 0.74 | 0.26 | 0.26 | 0.03 | 1.03 | 1.03 | XXX
78704 | TC | A | Imaging renogram | 0.00 | 4.09 | NA | 0.21 | 4.30 | NA | XXX
78707 |  | A | Kidney flow/function image | 0.96 | 4.89 | NA | 0.27 | 6.12 | NA | XXX
78707 | 26 | A | Kidney flow/function image | 0.96 | 0.34 | 0.34 | 0.04 | 1.34 | 1.34 | XXX
78707 | TC | A | Kidney flow/function image | 0.00 | 4.56 | NA | 0.23 | 4.79 | NA | XXX
78708 |  | A | Kidney flow/function image | 1.21 | 4.63 | NA | 0.28 | 6.12 | NA | XXX
78708 | 26 | A | Kidney flow/function image | 1.21 | 0.43 | 0.43 | 0.05 | 1.69 | 1.69 | XXX
78708 | TC | A | Kidney flow/function image | 0.00 | 4.20 | NA | 0.23 | 4.43 | NA | XXX
78709 |  | A | Kidney flow/function image | 1.41 | 5.73 | NA | 0.29 | 7.43 | NA | XXX
78709 | 26 | A | Kidney flow/function image | 1.41 | 0.49 | 0.49 | 0.06 | 1.97 | 1.97 | XXX
78709 | TC | A | Kidney flow/function image | 0.00 | 5.24 | NA | 0.23 | 5.47 | NA | XXX
78710 |  | A | Kidney imaging (3D) | 0.66 | 5.79 | NA | 0.34 | 6.79 | NA | XXX
78710 | 26 | A | Kidney imaging (3D) | 0.66 | 0.23 | 0.23 | 0.03 | 0.92 | 0.92 | XXX
78710 | TC | A | Kidney imaging (3D) | 0.00 | 5.55 | NA | 0.31 | 5.86 | NA | XXX
78715 |  | A | Renal vascular flow exam | 0.30 | 2.36 | NA | 0.11 | 2.78 | NA | XXX
78715 | 26 | A | Renal vascular flow exam | 0.30 | 0.11 | 0.11 | 0.01 | 0.42 | 0.42 | XXX
78715 | TC | A | Renal vascular flow exam | 0.00 | 2.25 | NA | 0.10 | 2.35 | NA | XXX
78725 |  | A | Kidney function study | 0.38 | 1.93 | NA | 0.13 | 2.44 | NA | XXX
78725 | 26 | A | Kidney function study | 0.38 | 0.14 | 0.14 | 0.02 | 0.54 | 0.54 | XXX
78725 | TC | A | Kidney function study | 0.00 | 1.79 | NA | 0.11 | 1.90 | NA | XXX
78730 |  | A | Urinary bladder retention | 0.36 | 2.27 | NA | 0.10 | 2.73 | NA | XXX
78730 | 26 | A | Urinary bladder retention | 0.36 | 0.13 | 0.13 | 0.02 | 0.51 | 0.51 | XXX
78730 | TC | A | Urinary bladder retention | 0.00 | 2.13 | NA | 0.08 | 2.21 | NA | XXX
78740 |  | A | Ureteral reflux study | 0.57 | 2.79 | NA | 0.15 | 3.51 | NA | XXX
78740 | 26 | A | Ureteral reflux study | 0.57 | 0.20 | 0.20 | 0.03 | 0.80 | 0.80 | XXX
78740 | TC | A | Ureteral reflux study | 0.00 | 2.59 | NA | 0.12 | 2.71 | NA | XXX
78760 |  | A | Testicular imaging | 0.66 | 3.08 | NA | 0.17 | 3.91 | NA | XXX
78760 | 26 | A | Testicular imaging | 0.66 | 0.23 | 0.23 | 0.03 | 0.92 | 0.92 | XXX
78760 | TC | A | Testicular imaging | 0.00 | 2.85 | NA | 0.14 | 2.99 | NA | XXX
78761 |  | A | Testicular imaging/flow | 0.71 | 3.69 | NA | 0.20 | 4.60 | NA | XXX
78761 | 26 | A | Testicular imaging/flow | 0.71 | 0.25 | 0.25 | 0.03 | 0.99 | 0.99 | XXX
78761 | TC | A | Testicular imaging/flow | 0.00 | 3.44 | NA | 0.17 | 3.61 | NA | XXX
78799 |  | C | Genitourinary nuclear exam | 0.00 | 0.00 | 0.00 | 0.00 | 0.00 | 0.00 | XXX
78799 | 26 | C | Genitourinary nuclear exam | 0.00 | 0.00 | 0.00 | 0.00 | 0.00 | 0.00 | XXX
78799 | TC | C | Genitourinary nuclear exam | 0.00 | 0.00 | 0.00 | 0.00 | 0.00 | 0.00 | XXX
78800 |  | A | Tumor imaging, limited area | 0.66 | 3.68 | NA | 0.22 | 4.56 | NA | XXX
78800 | 26 | A | Tumor imaging, limited area | 0.66 | 0.23 | 0.23 | 0.04 | 0.93 | 0.93 | XXX
78800 | TC | A | Tumor imaging, limited area | 0.00 | 3.45 | NA | 0.18 | 3.63 | NA | XXX
78801 |  | A | Tumor imaging, mult areas | 0.79 | 4.81 | NA | 0.27 | 5.87 | NA | XXX
78801 | 26 | A | Tumor imaging, mult areas | 0.79 | 0.28 | 0.28 | 0.05 | 1.12 | 1.12 | XXX
78801 | TC | A | Tumor imaging, mult areas | 0.00 | 4.53 | NA | 0.22 | 4.75 | NA | XXX
78802 |  | A | Tumor imaging, whole body | 0.86 | 6.11 | NA | 0.34 | 7.31 | NA | XXX
78802 | 26 | A | Tumor imaging, whole body | 0.86 | 0.30 | 0.30 | 0.04 | 1.20 | 1.20 | XXX
78802 | TC | A | Tumor imaging, whole body | 0.00 | 5.81 | NA | 0.30 | 6.11 | NA | XXX
78803 |  | A | Tumor imaging (3D) | 1.09 | 8.16 | NA | 0.40 | 9.65 | NA | XXX
78803 | 26 | A | Tumor imaging (3D) | 1.09 | 0.40 | 0.40 | 0.05 | 1.54 | 1.54 | XXX
78803 | TC | A | Tumor imaging (3D) | 0.00 | 7.77 | NA | 0.35 | 8.12 | NA | XXX
78804 |  | A | Tumor imaging, whole body | 1.07 | 11.45 | NA | 0.34 | 12.87 | NA | XXX
78804 | 26 | A | Tumor imaging, whole body | 1.07 | 0.39 | 0.39 | 0.04 | 1.50 | 1.50 | XXX
78804 | TC | A | Tumor imaging, whole body | 0.00 | 11.06 | NA | 0.30 | 11.36 | NA | XXX
78805 |  | A | Abscess imaging, ltd area | 0.73 | 3.72 | NA | 0.21 | 4.66 | NA | XXX
78805 | 26 | A | Abscess imaging, ltd area | 0.73 | 0.26 | 0.26 | 0.03 | 1.02 | 1.02 | XXX
78805 | TC | A | Abscess imaging, ltd area | 0.00 | 3.46 | NA | 0.18 | 3.64 | NA | XXX
78806 |  | A | Abscess imaging, whole body | 0.86 | 6.80 | NA | 0.39 | 8.05 | NA | XXX
78806 | 26 | A | Abscess imaging, whole body | 0.86 | 0.30 | 0.30 | 0.04 | 1.20 | 1.20 | XXX
78806 | TC | A | Abscess imaging, whole body | 0.00 | 6.49 | NA | 0.35 | 6.84 | NA | XXX
78807 |  | A | Nuclear localization/abscess | 1.09 | 7.96 | NA | 0.39 | 9.44 | NA | XXX
78807 | 26 | A | Nuclear localization/abscess | 1.09 | 0.41 | 0.41 | 0.04 | 1.54 | 1.54 | XXX
78807 | TC | A | Nuclear localization/abscess | 0.00 | 7.56 | NA | 0.35 | 7.91 | NA | XXX
78811 |  | C | Tumor imaging (pet), limited | 0.00 | 0.00 | 0.00 | 0.00 | 0.00 | 0.00 | XXX
78811 | 26 | A | Tumor imaging (pet), limited | 1.54 | 0.00 | 0.00 | 0.11 | 1.65 | 1.65 | XXX
78811 | TC | C | Tumor imaging (pet), limited | 0.00 | 0.00 | 0.00 | 0.00 | 0.00 | 0.00 | XXX
78812 |  | C | Tumor image (pet)/skul-thigh | 0.00 | 0.00 | 0.00 | 0.00 | 0.00 | 0.00 | XXX
78812 | 26 | A | Tumor image (pet)/skul-thigh | 1.93 | 0.00 | 0.00 | 0.11 | 2.04 | 2.04 | XXX
78812 | TC | C | Tumor image (pet)/skul-thigh | 0.00 | 0.00 | 0.00 | 0.00 | 0.00 | 0.00 | XXX
78813 |  | C | Tumor image (pet) full body | 0.00 | 0.00 | 0.00 | 0.00 | 0.00 | 0.00 | XXX
78813 | 26 | A | Tumor image (pet) full body | 2.00 | 0.00 | 0.00 | 0.11 | 2.11 | 2.11 | XXX
78813 | TC | C | Tumor image (pet) full body | 0.00 | 0.00 | 0.00 | 0.00 | 0.00 | 0.00 | XXX
78814 |  | C | Tumor image pet/ct, limited | 0.00 | 0.00 | 0.00 | 0.00 | 0.00 | 0.00 | XXX
78814 | 26 | A | Tumor image pet/ct, limited | 2.20 | 0.00 | 0.00 | 0.11 | 2.31 | 2.31 | XXX
78814 | TC | C | Tumor image pet/ct, limited | 0.00 | 0.00 | 0.00 | 0.00 | 0.00 | 0.00 | XXX
78815 |  | C | Tumorimage pet/ct skul-thigh | 0.00 | 0.00 | 0.00 | 0.00 | 0.00 | 0.00 | XXX
78815 | 26 | A | Tumorimage pet/ct skul-thigh | 2.44 | 0.00 | 0.00 | 0.11 | 2.55 | 2.55 | XXX
78815 | TC | C | Tumorimage pet/ct skul-thigh | 0.00 | 0.00 | 0.00 | 0.00 | 0.00 | 0.00 | XXX
78816 |  | C | Tumor image pet/ct full body | 0.00 | 0.00 | 0.00 | 0.00 | 0.00 | 0.00 | XXX
78816 | 26 | A | Tumor image pet/ct full body | 2.50 | 0.00 | 0.00 | 0.11 | 2.61 | 2.61 | XXX
78816 | TC | C | Tumor image pet/ct full body | 0.00 | 0.00 | 0.00 | 0.00 | 0.00 | 0.00 | XXX
78890 |  | B | Nuclear medicine data proc | 0.05 | 1.08 | NA | 0.07 | 1.20 | NA | XXX
78890 | 26 | B | Nuclear medicine data proc | 0.05 | 0.02 | 0.02 | 0.01 | 0.08 | 0.08 | XXX
78890 | TC | B | Nuclear medicine data proc | 0.00 | 1.06 | NA | 0.06 | 1.12 | NA | XXX
78891 |  | B | Nuclear med data proc | 0.10 | 2.15 | NA | 0.14 | 2.39 | NA | XXX
78891 | 26 | B | Nuclear med data proc | 0.10 | 0.04 | 0.04 | 0.01 | 0.15 | 0.15 | XXX
78891 | TC | B | Nuclear med data proc | 0.00 | 2.11 | NA | 0.13 | 2.24 | NA | XXX
78999 |  | C | Nuclear diagnostic exam | 0.00 | 0.00 | 0.00 | 0.00 | 0.00 | 0.00 | XXX
78999 | 26 | C | Nuclear diagnostic exam | 0.00 | 0.00 | 0.00 | 0.00 | 0.00 | 0.00 | XXX
78999 | TC | C | Nuclear diagnostic exam | 0.00 | 0.00 | 0.00 | 0.00 | 0.00 | 0.00 | XXX
79005 |  | A | Nuclear rx, oral admin | 1.80 | 2.82 | NA | 0.22 | 4.85 | NA | XXX
79005 | 26 | A | Nuclear rx, oral admin | 1.80 | 0.62 | 0.62 | 0.08 | 2.51 | 2.51 | XXX
79005 | TC | A | Nuclear rx, oral admin | 0.00 | 2.20 | NA | 0.14 | 2.34 | NA | XXX
79101 |  | A | Nuclear rx, iv admin | 1.96 | 2.98 | NA | 0.22 | 5.16 | NA | XXX
79101 | 26 | A | Nuclear rx, iv admin | 1.96 | 0.70 | 0.70 | 0.08 | 2.75 | 2.75 | XXX
79101 | TC | A | Nuclear rx, iv admin | 0.00 | 2.28 | NA | 0.14 | 2.42 | NA | XXX
79200 |  | A | Nuclear rx, intracav admin | 1.99 | 3.18 | NA | 0.23 | 5.41 | NA | XXX
79200 | 26 | A | Nuclear rx, intracav admin | 1.99 | 0.71 | 0.71 | 0.09 | 2.79 | 2.79 | XXX
79200 | TC | A | Nuclear rx, intracav admin | 0.00 | 2.47 | NA | 0.14 | 2.61 | NA | XXX
79300 |  | C | Nuclr rx, interstit colloid | 0.00 | 0.00 | 0.00 | 0.00 | 0.00 | 0.00 | XXX
79300 | 26 | A | Nuclr rx, interstit colloid | 1.60 | 0.59 | 0.59 | 0.13 | 2.32 | 2.32 | XXX
79300 | TC | C | Nuclr rx, interstit colloid | 0.00 | 0.00 | 0.00 | 0.00 | 0.00 | 0.00 | XXX
79403 |  | A | Hematopoietic nuclear tx | 2.25 | 5.17 | NA | 0.24 | 7.66 | NA | XXX
79403 | 26 | A | Hematopoietic nuclear tx | 2.25 | 0.92 | 0.92 | 0.10 | 3.28 | 3.28 | XXX
79403 | TC | A | Hematopoietic nuclear tx | 0.00 | 4.25 | NA | 0.14 | 4.39 | NA | XXX
79440 |  | A | Nuclear rx, intra-articular | 1.99 | 2.95 | NA | 0.22 | 5.16 | NA | XXX
79440 | 26 | A | Nuclear rx, intra-articular | 1.99 | 0.75 | 0.75 | 0.08 | 2.82 | 2.82 | XXX
79440 | TC | A | Nuclear rx, intra-articular | 0.00 | 2.20 | NA | 0.14 | 2.34 | NA | XXX
79445 |  | A | Nuclear rx, intra-arterial | 2.40 | NA | NA | 0.28 | NA | NA | XXX
79445 | 26 | A | Nuclear rx, intra-arterial | 2.40 | 0.86 | 0.86 | 0.12 | 3.39 | 3.39 | XXX
79445 | TC | A | Nuclear rx, intra-arterial | 0.00 | NA | NA | 0.16 | NA | NA | XXX
79999 |  | C | Nuclear medicine therapy | 0.00 | 0.00 | 0.00 | 0.00 | 0.00 | 0.00 | XXX
79999 | 26 | C | Nuclear medicine therapy | 0.00 | 0.00 | 0.00 | 0.00 | 0.00 | 0.00 | XXX
79999 | TC | C | Nuclear medicine therapy | 0.00 | 0.00 | 0.00 | 0.00 | 0.00 | 0.00 | XXX
80500 |  | A | Lab pathology consultation | 0.37 | 0.20 | 0.16 | 0.01 | 0.58 | 0.54 | XXX
80502 |  | A | Lab pathology consultation | 1.33 | 0.53 | 0.53 | 0.04 | 1.90 | 1.90 | XXX
83020 | 26 | A | Hemoglobin electrophoresis | 0.37 | 0.15 | 0.15 | 0.01 | 0.53 | 0.53 | XXX
83912 | 26 | A | Genetic examination | 0.37 | 0.12 | 0.12 | 0.01 | 0.50 | 0.50 | XXX
84165 | 26 | A | Protein e-phoresis, serum | 0.37 | 0.14 | 0.14 | 0.01 | 0.52 | 0.52 | XXX
84166 | 26 | A | Protein e-phoresis/urine/csf | 0.37 | 0.14 | 0.14 | 0.01 | 0.52 | 0.52 | XXX
84181 | 26 | A | Western blot test | 0.37 | 0.14 | 0.14 | 0.01 | 0.52 | 0.52 | XXX
84182 | 26 | A | Protein, western blot test | 0.37 | 0.16 | 0.16 | 0.02 | 0.55 | 0.55 | XXX
85060 |  | A | Blood smear interpretation | 0.45 | 0.18 | 0.18 | 0.02 | 0.65 | 0.65 | XXX
85097 |  | A | Bone marrow interpretation | 0.94 | 1.82 | 0.40 | 0.04 | 2.80 | 1.38 | XXX
85390 | 26 | A | Fibrinolysins screen | 0.37 | 0.13 | 0.13 | 0.01 | 0.51 | 0.51 | XXX
85396 |  | A | Clotting assay, whole blood | 0.37 | NA | 0.16 | 0.04 | NA | 0.57 | XXX
85576 | 26 | A | Blood platelet aggregation | 0.37 | 0.16 | 0.16 | 0.01 | 0.54 | 0.54 | XXX
86077 |  | A | Physician blood bank service | 0.94 | 0.38 | 0.38 | 0.03 | 1.35 | 1.35 | XXX
86078 |  | A | Physician blood bank service | 0.94 | 0.45 | 0.39 | 0.03 | 1.42 | 1.36 | XXX
86079 |  | A | Physician blood bank service | 0.94 | 0.44 | 0.40 | 0.03 | 1.41 | 1.37 | XXX
86255 | 26 | A | Fluorescent antibody, screen | 0.37 | 0.15 | 0.15 | 0.01 | 0.53 | 0.53 | XXX
86256 | 26 | A | Fluorescent antibody, titer | 0.37 | 0.15 | 0.15 | 0.01 | 0.53 | 0.53 | XXX
86320 | 26 | A | Serum immunoelectrophoresis | 0.37 | 0.15 | 0.15 | 0.01 | 0.53 | 0.53 | XXX
86325 | 26 | A | Other immunoelectrophoresis | 0.37 | 0.13 | 0.13 | 0.01 | 0.51 | 0.51 | XXX
86327 | 26 | A | Immunoelectrophoresis assay | 0.42 | 0.18 | 0.18 | 0.02 | 0.62 | 0.62 | XXX
86334 | 26 | A | Immunofix e-phoresis, serum | 0.37 | 0.15 | 0.15 | 0.01 | 0.53 | 0.53 | XXX
86335 | 26 | A | Immunfix e-phorsis/urine/csf | 0.37 | 0.14 | 0.14 | 0.01 | 0.52 | 0.52 | XXX
86485 |  | C | Skin test, candida | 0.00 | 0.00 | 0.00 | 0.00 | 0.00 | 0.00 | XXX
86490 |  | A | Coccidioidomycosis skin test | 0.00 | 0.28 | NA | 0.02 | 0.30 | NA | XXX
86510 |  | A | Histoplasmosis skin test | 0.00 | 0.30 | NA | 0.02 | 0.32 | NA | XXX
86580 |  | A | TB intradermal test | 0.00 | 0.22 | NA | 0.02 | 0.24 | NA | XXX
86585 |  | A | TB tine test | 0.00 | 0.21 | NA | 0.01 | 0.22 | NA | XXX
86586 |  | C | Skin test, unlisted | 0.00 | 0.00 | 0.00 | 0.00 | 0.00 | 0.00 | XXX
87164 | 26 | A | Dark field examination | 0.37 | 0.12 | 0.12 | 0.01 | 0.50 | 0.50 | XXX
87207 | 26 | A | Smear, special stain | 0.37 | 0.17 | 0.16 | 0.01 | 0.55 | 0.54 | XXX
88104 |  | A | Cytopathology, fluids | 0.56 | 0.87 | NA | 0.04 | 1.47 | NA | XXX
88104 | 26 | A | Cytopathology, fluids | 0.56 | 0.23 | 0.23 | 0.02 | 0.81 | 0.81 | XXX
88104 | TC | A | Cytopathology, fluids | 0.00 | 0.64 | NA | 0.02 | 0.66 | NA | XXX
88106 |  | A | Cytopathology, fluids | 0.56 | 1.35 | NA | 0.04 | 1.95 | NA | XXX
88106 | 26 | A | Cytopathology, fluids | 0.56 | 0.23 | 0.23 | 0.02 | 0.81 | 0.81 | XXX
88106 | TC | A | Cytopathology, fluids | 0.00 | 1.11 | NA | 0.02 | 1.13 | NA | XXX
88107 |  | A | Cytopathology, fluids | 0.76 | 1.54 | NA | 0.05 | 2.35 | NA | XXX
88107 | 26 | A | Cytopathology, fluids | 0.76 | 0.32 | 0.32 | 0.03 | 1.11 | 1.11 | XXX
88107 | TC | A | Cytopathology, fluids | 0.00 | 1.21 | NA | 0.02 | 1.23 | NA | XXX
88108 |  | A | Cytopath, concentrate tech | 0.56 | 1.22 | NA | 0.04 | 1.82 | NA | XXX
88108 | 26 | A | Cytopath, concentrate tech | 0.56 | 0.23 | 0.23 | 0.02 | 0.81 | 0.81 | XXX
88108 | TC | A | Cytopath, concentrate tech | 0.00 | 0.99 | NA | 0.02 | 1.01 | NA | XXX
88112 |  | A | Cytopath, cell enhance tech | 1.18 | 1.91 | NA | 0.04 | 3.14 | NA | XXX
88112 | 26 | A | Cytopath, cell enhance tech | 1.18 | 0.50 | 0.50 | 0.02 | 1.70 | 1.70 | XXX
88112 | TC | A | Cytopath, cell enhance tech | 0.00 | 1.42 | NA | 0.02 | 1.44 | NA | XXX
88125 |  | A | Forensic cytopathology | 0.26 | 0.25 | NA | 0.02 | 0.53 | NA | XXX
88125 | 26 | A | Forensic cytopathology | 0.26 | 0.11 | 0.11 | 0.01 | 0.38 | 0.38 | XXX
88125 | TC | A | Forensic cytopathology | 0.00 | 0.14 | NA | 0.01 | 0.15 | NA | XXX
88141 |  | A | Cytopath, c/v, interpret | 0.42 | 0.23 | 0.15 | 0.02 | 0.67 | 0.59 | XXX
88160 |  | A | Cytopath smear, other source | 0.50 | 0.83 | NA | 0.04 | 1.38 | NA | XXX
88160 | 26 | A | Cytopath smear, other source | 0.50 | 0.21 | 0.21 | 0.02 | 0.73 | 0.73 | XXX
88160 | TC | A | Cytopath smear, other source | 0.00 | 0.63 | NA | 0.02 | 0.65 | NA | XXX
88161 |  | A | Cytopath smear, other source | 0.50 | 0.93 | NA | 0.04 | 1.47 | NA | XXX
88161 | 26 | A | Cytopath smear, other source | 0.50 | 0.21 | 0.21 | 0.02 | 0.73 | 0.73 | XXX
88161 | TC | A | Cytopath smear, other source | 0.00 | 0.73 | NA | 0.02 | 0.75 | NA | XXX
88162 |  | A | Cytopath smear, other source | 0.76 | 1.03 | NA | 0.05 | 1.84 | NA | XXX
88162 | 26 | A | Cytopath smear, other source | 0.76 | 0.32 | 0.32 | 0.03 | 1.11 | 1.11 | XXX
88162 | TC | A | Cytopath smear, other source | 0.00 | 0.71 | NA | 0.02 | 0.73 | NA | XXX
88172 |  | A | Cytopathology eval of fna | 0.60 | 0.73 | NA | 0.04 | 1.37 | NA | XXX
88172 | 26 | A | Cytopathology eval of fna | 0.60 | 0.25 | 0.25 | 0.02 | 0.87 | 0.87 | XXX
88172 | TC | A | Cytopathology eval of fna | 0.00 | 0.47 | NA | 0.02 | 0.49 | NA | XXX
88173 |  | A | Cytopath eval, fna, report | 1.39 | 2.11 | NA | 0.07 | 3.57 | NA | XXX
88173 | 26 | A | Cytopath eval, fna, report | 1.39 | 0.58 | 0.58 | 0.05 | 2.02 | 2.02 | XXX
88173 | TC | A | Cytopath eval, fna, report | 0.00 | 1.53 | NA | 0.02 | 1.55 | NA | XXX
88182 |  | A | Cell marker study | 0.77 | 2.00 | NA | 0.07 | 2.84 | NA | XXX
88182 | 26 | A | Cell marker study | 0.77 | 0.32 | 0.32 | 0.03 | 1.12 | 1.12 | XXX
88182 | TC | A | Cell marker study | 0.00 | 1.67 | NA | 0.04 | 1.71 | NA | XXX
88184 |  | A | Flowcytometry/ tc, 1 marker | 0.00 | 1.62 | NA | 0.02 | 1.64 | NA | XXX
88185 |  | A | Flowcytometry/tc, add-on | 0.00 | 0.86 | NA | 0.02 | 0.88 | NA | ZZZ
88187 |  | A | Flowcytometry/read, 2-8 | 1.36 | 0.42 | 0.42 | 0.01 | 1.79 | 1.79 | XXX
88188 |  | A | Flowcytometry/read, 9-15 | 1.69 | 0.53 | 0.53 | 0.01 | 2.23 | 2.23 | XXX
88189 |  | A | Flowcytometry/read, 16 & > | 2.23 | 0.69 | 0.69 | 0.01 | 2.94 | 2.94 | XXX
88199 |  | C | Cytopathology procedure | 0.00 | 0.00 | 0.00 | 0.00 | 0.00 | 0.00 | XXX
88199 | 26 | C | Cytopathology procedure | 0.00 | 0.00 | 0.00 | 0.00 | 0.00 | 0.00 | XXX
88199 | TC | C | Cytopathology procedure | 0.00 | 0.00 | 0.00 | 0.00 | 0.00 | 0.00 | XXX
88291 |  | A | Cyto/molecular report | 0.52 | 0.21 | 0.18 | 0.02 | 0.75 | 0.72 | XXX
88299 |  | C | Cytogenetic study | 0.00 | 0.00 | 0.00 | 0.00 | 0.00 | 0.00 | XXX
88300 |  | A | Surgical path, gross | 0.08 | 0.45 | NA | 0.02 | 0.55 | NA | XXX
88300 | 26 | A | Surgical path, gross | 0.08 | 0.03 | 0.03 | 0.01 | 0.12 | 0.12 | XXX
88300 | TC | A | Surgical path, gross | 0.00 | 0.42 | NA | 0.01 | 0.43 | NA | XXX
88302 |  | A | Tissue exam by pathologist | 0.13 | 1.03 | NA | 0.03 | 1.19 | NA | XXX
88302 | 26 | A | Tissue exam by pathologist | 0.13 | 0.06 | 0.06 | 0.01 | 0.20 | 0.20 | XXX
88302 | TC | A | Tissue exam by pathologist | 0.00 | 0.98 | NA | 0.02 | 1.00 | NA | XXX
88304 |  | A | Tissue exam by pathologist | 0.22 | 1.43 | NA | 0.03 | 1.68 | NA | XXX
88304 | 26 | A | Tissue exam by pathologist | 0.22 | 0.09 | 0.09 | 0.01 | 0.32 | 0.32 | XXX
88304 | TC | A | Tissue exam by pathologist | 0.00 | 1.34 | NA | 0.02 | 1.36 | NA | XXX
88305 |  | A | Tissue exam by pathologist | 0.75 | 2.09 | NA | 0.07 | 2.91 | NA | XXX
88305 | 26 | A | Tissue exam by pathologist | 0.75 | 0.33 | 0.33 | 0.03 | 1.11 | 1.11 | XXX
88305 | TC | A | Tissue exam by pathologist | 0.00 | 1.76 | NA | 0.04 | 1.80 | NA | XXX
88307 |  | A | Tissue exam by pathologist | 1.59 | 3.27 | NA | 0.12 | 4.98 | NA | XXX
88307 | 26 | A | Tissue exam by pathologist | 1.59 | 0.66 | 0.66 | 0.06 | 2.32 | 2.32 | XXX
88307 | TC | A | Tissue exam by pathologist | 0.00 | 2.60 | NA | 0.06 | 2.66 | NA | XXX
88309 |  | A | Tissue exam by pathologist | 2.28 | 4.52 | NA | 0.14 | 6.95 | NA | XXX
88309 | 26 | A | Tissue exam by pathologist | 2.28 | 0.95 | 0.95 | 0.08 | 3.31 | 3.31 | XXX
88309 | TC | A | Tissue exam by pathologist | 0.00 | 3.57 | NA | 0.06 | 3.63 | NA | XXX
88311 |  | A | Decalcify tissue | 0.24 | 0.23 | NA | 0.02 | 0.49 | NA | XXX
88311 | 26 | A | Decalcify tissue | 0.24 | 0.10 | 0.10 | 0.01 | 0.35 | 0.35 | XXX
88311 | TC | A | Decalcify tissue | 0.00 | 0.13 | NA | 0.01 | 0.14 | NA | XXX
88312 |  | A | Special stains | 0.54 | 1.66 | NA | 0.03 | 2.23 | NA | XXX
88312 | 26 | A | Special stains | 0.54 | 0.23 | 0.23 | 0.02 | 0.79 | 0.79 | XXX
88312 | TC | A | Special stains | 0.00 | 1.44 | NA | 0.01 | 1.45 | NA | XXX
88313 |  | A | Special stains | 0.24 | 1.35 | NA | 0.02 | 1.61 | NA | XXX
88313 | 26 | A | Special stains | 0.24 | 0.10 | 0.10 | 0.01 | 0.35 | 0.35 | XXX
88313 | TC | A | Special stains | 0.00 | 1.25 | NA | 0.01 | 1.26 | NA | XXX
88314 |  | A | Histochemical stain | 0.45 | 2.06 | NA | 0.04 | 2.55 | NA | XXX
88314 | 26 | A | Histochemical stain | 0.45 | 0.19 | 0.19 | 0.02 | 0.66 | 0.66 | XXX
88314 | TC | A | Histochemical stain | 0.00 | 1.88 | NA | 0.02 | 1.90 | NA | XXX
88318 |  | A | Chemical histochemistry | 0.42 | 1.77 | NA | 0.03 | 2.22 | NA | XXX
88318 | 26 | A | Chemical histochemistry | 0.42 | 0.18 | 0.18 | 0.02 | 0.62 | 0.62 | XXX
88318 | TC | A | Chemical histochemistry | 0.00 | 1.60 | NA | 0.01 | 1.61 | NA | XXX
88319 |  | A | Enzyme histochemistry | 0.53 | 3.39 | NA | 0.04 | 3.96 | NA | XXX
88319 | 26 | A | Enzyme histochemistry | 0.53 | 0.22 | 0.22 | 0.02 | 0.77 | 0.77 | XXX
88319 | TC | A | Enzyme histochemistry | 0.00 | 3.17 | NA | 0.02 | 3.19 | NA | XXX
88321 |  | A | Microslide consultation | 1.30 | 0.80 | 0.55 | 0.05 | 2.15 | 1.90 | XXX
88323 |  | A | Microslide consultation | 1.35 | 1.84 | NA | 0.07 | 3.26 | NA | XXX
88323 | 26 | A | Microslide consultation | 1.35 | 0.56 | 0.56 | 0.05 | 1.96 | 1.96 | XXX
88323 | TC | A | Microslide consultation | 0.00 | 1.28 | NA | 0.02 | 1.30 | NA | XXX
88325 |  | A | Comprehensive review of data | 2.22 | 2.87 | 0.93 | 0.07 | 5.16 | 3.22 | XXX
88329 |  | A | Path consult introp | 0.67 | 0.64 | 0.28 | 0.02 | 1.34 | 0.97 | XXX
88331 |  | A | Path consult intraop, 1 bloc | 1.19 | 1.12 | NA | 0.08 | 2.40 | NA | XXX
88331 | 26 | A | Path consult intraop, 1 bloc | 1.19 | 0.50 | 0.50 | 0.04 | 1.73 | 1.73 | XXX
88331 | TC | A | Path consult intraop, 1 bloc | 0.00 | 0.63 | NA | 0.04 | 0.67 | NA | XXX
88332 |  | A | Path consult intraop, add'l | 0.59 | 0.46 | NA | 0.04 | 1.09 | NA | XXX
88332 | 26 | A | Path consult intraop, add'l | 0.59 | 0.24 | 0.24 | 0.02 | 0.85 | 0.85 | XXX
88332 | TC | A | Path consult intraop, add'l | 0.00 | 0.21 | NA | 0.02 | 0.23 | NA | XXX
88342 |  | A | Immunohistochemistry | 0.85 | 1.52 | NA | 0.05 | 2.42 | NA | XXX
88342 | 26 | A | Immunohistochemistry | 0.85 | 0.35 | 0.35 | 0.03 | 1.23 | 1.23 | XXX
88342 | TC | A | Immunohistochemistry | 0.00 | 1.16 | NA | 0.02 | 1.18 | NA | XXX
88346 |  | A | Immunofluorescent study | 0.86 | 1.65 | NA | 0.05 | 2.56 | NA | XXX
88346 | 26 | A | Immunofluorescent study | 0.86 | 0.36 | 0.36 | 0.03 | 1.25 | 1.25 | XXX
88346 | TC | A | Immunofluorescent study | 0.00 | 1.29 | NA | 0.02 | 1.31 | NA | XXX
88347 |  | A | Immunofluorescent study | 0.86 | 1.31 | NA | 0.05 | 2.22 | NA | XXX
88347 | 26 | A | Immunofluorescent study | 0.86 | 0.34 | 0.34 | 0.03 | 1.23 | 1.23 | XXX
88347 | TC | A | Immunofluorescent study | 0.00 | 0.97 | NA | 0.02 | 0.99 | NA | XXX
88348 |  | A | Electron microscopy | 1.51 | 10.48 | NA | 0.13 | 12.12 | NA | XXX
88348 | 26 | A | Electron microscopy | 1.51 | 0.62 | 0.62 | 0.06 | 2.20 | 2.20 | XXX
88348 | TC | A | Electron microscopy | 0.00 | 9.85 | NA | 0.07 | 9.92 | NA | XXX
88349 |  | A | Scanning electron microscopy | 0.76 | 4.10 | NA | 0.09 | 4.95 | NA | XXX
88349 | 26 | A | Scanning electron microscopy | 0.76 | 0.32 | 0.32 | 0.03 | 1.11 | 1.11 | XXX
88349 | TC | A | Scanning electron microscopy | 0.00 | 3.78 | NA | 0.06 | 3.84 | NA | XXX
88355 |  | A | Analysis, skeletal muscle | 1.85 | 8.06 | NA | 0.13 | 10.04 | NA | XXX
88355 | 26 | A | Analysis, skeletal muscle | 1.85 | 0.77 | 0.77 | 0.07 | 2.70 | 2.70 | XXX
88355 | TC | A | Analysis, skeletal muscle | 0.00 | 7.29 | NA | 0.06 | 7.35 | NA | XXX
88356 |  | A | Analysis, nerve | 3.03 | 4.70 | NA | 0.19 | 7.91 | NA | XXX
88356 | 26 | A | Analysis, nerve | 3.03 | 1.23 | 1.23 | 0.12 | 4.37 | 4.37 | XXX
88356 | TC | A | Analysis, nerve | 0.00 | 3.47 | NA | 0.07 | 3.54 | NA | XXX
88358 |  | A | Analysis, tumor | 0.95 | 0.92 | NA | 0.17 | 2.04 | NA | XXX
88358 | 26 | A | Analysis, tumor | 0.95 | 0.39 | 0.39 | 0.10 | 1.44 | 1.44 | XXX
88358 | TC | A | Analysis, tumor | 0.00 | 0.53 | NA | 0.07 | 0.60 | NA | XXX
88360 |  | A | Tumor immunohistochem/manual | 1.10 | 1.81 | NA | 0.08 | 2.99 | NA | XXX
88360 | 26 | A | Tumor immunohistochem/manual | 1.10 | 0.46 | 0.46 | 0.06 | 1.62 | 1.62 | XXX
88360 | TC | A | Tumor immunohistochem/manual | 0.00 | 1.35 | NA | 0.02 | 1.37 | NA | XXX
88361 |  | A | Tumor immunohistochem/comput | 1.18 | 3.07 | NA | 0.17 | 4.42 | NA | XXX
88361 | 26 | A | Tumor immunohistochem/comput | 1.18 | 0.48 | 0.48 | 0.10 | 1.76 | 1.76 | XXX
88361 | TC | A | Tumor immunohistochem/comput | 0.00 | 2.59 | NA | 0.07 | 2.66 | NA | XXX
88362 |  | A | Nerve teasing preparations | 2.17 | 4.63 | NA | 0.15 | 6.95 | NA | XXX
88362 | 26 | A | Nerve teasing preparations | 2.17 | 0.89 | 0.89 | 0.09 | 3.16 | 3.16 | XXX
88362 | TC | A | Nerve teasing preparations | 0.00 | 3.73 | NA | 0.06 | 3.79 | NA | XXX
88365 |  | A | Insitu hybridization (fish) | 1.20 | 2.32 | NA | 0.05 | 3.58 | NA | XXX
88365 | 26 | A | Insitu hybridization (fish) | 1.20 | 0.50 | 0.50 | 0.03 | 1.73 | 1.73 | XXX
88365 | TC | A | Insitu hybridization (fish) | 0.00 | 1.83 | NA | 0.02 | 1.85 | NA | XXX
88367 |  | A | Insitu hybridization, auto | 1.30 | 4.76 | NA | 0.12 | 6.18 | NA | XXX
88367 | 26 | A | Insitu hybridization, auto | 1.30 | 0.53 | 0.53 | 0.06 | 1.89 | 1.89 | XXX
88367 | TC | A | Insitu hybridization, auto | 0.00 | 4.23 | NA | 0.06 | 4.29 | NA | XXX
88368 |  | A | Insitu hybridization, manual | 1.40 | 3.95 | NA | 0.12 | 5.47 | NA | XXX
88368 | 26 | A | Insitu hybridization, manual | 1.40 | 0.58 | 0.58 | 0.06 | 2.05 | 2.05 | XXX
88368 | TC | A | Insitu hybridization, manual | 0.00 | 3.37 | NA | 0.06 | 3.43 | NA | XXX
88371 | 26 | A | Protein, western blot tissue | 0.37 | 0.13 | 0.13 | 0.01 | 0.51 | 0.51 | XXX
88372 | 26 | A | Protein analysis w/probe | 0.37 | 0.16 | 0.16 | 0.01 | 0.54 | 0.54 | XXX
88380 |  | C | Microdissection | 0.00 | 0.00 | 0.00 | 0.00 | 0.00 | 0.00 | XXX
88380 | 26 | C | Microdissection | 0.00 | 0.00 | 0.00 | 0.00 | 0.00 | 0.00 | XXX
88380 | TC | C | Microdissection | 0.00 | 0.00 | 0.00 | 0.00 | 0.00 | 0.00 | XXX
88399 |  | C | Surgical pathology procedure | 0.00 | 0.00 | 0.00 | 0.00 | 0.00 | 0.00 | XXX
88399 | 26 | C | Surgical pathology procedure | 0.00 | 0.00 | 0.00 | 0.00 | 0.00 | 0.00 | XXX
88399 | TC | C | Surgical pathology procedure | 0.00 | 0.00 | 0.00 | 0.00 | 0.00 | 0.00 | XXX
89060 | 26 | A | Exam,synovial fluid crystals | 0.37 | 0.16 | 0.16 | 0.01 | 0.54 | 0.54 | XXX
89100 |  | A | Sample intestinal contents | 0.60 | 3.64 | 0.32 | 0.03 | 4.27 | 0.95 | XXX
89105 |  | A | Sample intestinal contents | 0.50 | 3.28 | 0.28 | 0.02 | 3.80 | 0.80 | XXX
89130 |  | A | Sample stomach contents | 0.45 | 3.07 | 0.19 | 0.02 | 3.54 | 0.66 | XXX
89132 |  | A | Sample stomach contents | 0.19 | 2.84 | 0.16 | 0.01 | 3.04 | 0.36 | XXX
89135 |  | A | Sample stomach contents | 0.79 | 3.96 | 0.32 | 0.04 | 4.79 | 1.15 | XXX
89136 |  | A | Sample stomach contents | 0.21 | 2.93 | 0.15 | 0.01 | 3.15 | 0.37 | XXX
89140 |  | A | Sample stomach contents | 0.94 | 3.28 | 0.36 | 0.04 | 4.26 | 1.35 | XXX
89141 |  | A | Sample stomach contents | 0.85 | 3.72 | 0.40 | 0.03 | 4.60 | 1.29 | XXX
89220 |  | A | Sputum specimen collection | 0.00 | 0.39 | NA | 0.02 | 0.41 | NA | XXX
89230 |  | A | Collect sweat for test | 0.00 | 0.11 | NA | 0.02 | 0.13 | NA | XXX
89240 |  | C | Pathology lab procedure | 0.00 | 0.00 | 0.00 | 0.00 | 0.00 | 0.00 | XXX
90281 |  | I | Human ig, im | 0.00 | 0.00 | 0.00 | 0.00 | 0.00 | 0.00 | XXX
90283 |  | I | Human ig, iv | 0.00 | 0.00 | 0.00 | 0.00 | 0.00 | 0.00 | XXX
90287 |  | I | Botulinum antitoxin | 0.00 | 0.00 | 0.00 | 0.00 | 0.00 | 0.00 | XXX
90288 |  | I | Botulism ig, iv | 0.00 | 0.00 | 0.00 | 0.00 | 0.00 | 0.00 | XXX
90291 |  | I | Cmv ig, iv | 0.00 | 0.00 | 0.00 | 0.00 | 0.00 | 0.00 | XXX
90296 |  | E | Diphtheria antitoxin | 0.00 | 0.00 | 0.00 | 0.00 | 0.00 | 0.00 | XXX
90371 |  | E | Hep b ig, im | 0.00 | 0.00 | 0.00 | 0.00 | 0.00 | 0.00 | XXX
90375 |  | E | Rabies ig, im/sc | 0.00 | 0.00 | 0.00 | 0.00 | 0.00 | 0.00 | XXX
90376 |  | E | Rabies ig, heat treated | 0.00 | 0.00 | 0.00 | 0.00 | 0.00 | 0.00 | XXX
90379 |  | I | Rsv ig, iv | 0.00 | 0.00 | 0.00 | 0.00 | 0.00 | 0.00 | XXX
90384 |  | I | Rh ig, full-dose, im | 0.00 | 0.00 | 0.00 | 0.00 | 0.00 | 0.00 | XXX
90385 |  | E | Rh ig, minidose, im | 0.00 | 0.00 | 0.00 | 0.00 | 0.00 | 0.00 | XXX
90386 |  | I | Rh ig, iv | 0.00 | 0.00 | 0.00 | 0.00 | 0.00 | 0.00 | XXX
90389 |  | I | Tetanus ig, im | 0.00 | 0.00 | 0.00 | 0.00 | 0.00 | 0.00 | XXX
90393 |  | E | Vaccina ig, im | 0.00 | 0.00 | 0.00 | 0.00 | 0.00 | 0.00 | XXX
90396 |  | E | Varicella-zoster ig, im | 0.00 | 0.00 | 0.00 | 0.00 | 0.00 | 0.00 | XXX
90399 |  | I | Immune globulin | 0.00 | 0.00 | 0.00 | 0.00 | 0.00 | 0.00 | XXX
90465 |  | A | Immune admin 1 inj, < 8 yrs | 0.17 | 0.31 | 0.27 | 0.01 | 0.49 | 0.45 | XXX
90466 |  | A | Immune admin addl inj, < 8 y | 0.15 | 0.13 | 0.12 | 0.01 | 0.29 | 0.28 | ZZZ
90467 |  | R | Immune admin o or n, < 8 yrs | 0.17 | 0.31 | 0.00 | 0.01 | 0.49 | 0.18 | XXX
90468 |  | R | Immune admin o/n, addl < 8 y | 0.15 | 0.13 | 0.00 | 0.01 | 0.29 | 0.16 | ZZZ
90471 |  | A | Immunization admin | 0.17 | 0.31 | NA | 0.01 | 0.49 | NA | XXX
90472 |  | A | Immunization admin, each add | 0.15 | 0.13 | NA | 0.01 | 0.29 | NA | ZZZ
90473 |  | R | Immune admin oral/nasal | 0.17 | 0.31 | 0.00 | 0.01 | 0.49 | 0.18 | XXX
90474 |  | R | Immune admin oral/nasal addl | 0.15 | 0.13 | 0.00 | 0.01 | 0.29 | 0.16 | ZZZ
90476 |  | E | Adenovirus vaccine, type 4 | 0.00 | 0.00 | 0.00 | 0.00 | 0.00 | 0.00 | XXX
90477 |  | E | Adenovirus vaccine, type 7 | 0.00 | 0.00 | 0.00 | 0.00 | 0.00 | 0.00 | XXX
90581 |  | E | Anthrax vaccine, sc | 0.00 | 0.00 | 0.00 | 0.00 | 0.00 | 0.00 | XXX
90585 |  | E | Bcg vaccine, percut | 0.00 | 0.00 | 0.00 | 0.00 | 0.00 | 0.00 | XXX
90586 |  | E | Bcg vaccine, intravesical | 0.00 | 0.00 | 0.00 | 0.00 | 0.00 | 0.00 | XXX
90632 |  | E | Hep a vaccine, adult im | 0.00 | 0.00 | 0.00 | 0.00 | 0.00 | 0.00 | XXX
90633 |  | E | Hep a vacc, ped/adol, 2 dose | 0.00 | 0.00 | 0.00 | 0.00 | 0.00 | 0.00 | XXX
90634 |  | E | Hep a vacc, ped/adol, 3 dose | 0.00 | 0.00 | 0.00 | 0.00 | 0.00 | 0.00 | XXX
90636 |  | E | Hep a/hep b vacc, adult im | 0.00 | 0.00 | 0.00 | 0.00 | 0.00 | 0.00 | XXX
90645 |  | E | Hib vaccine, hboc, im | 0.00 | 0.00 | 0.00 | 0.00 | 0.00 | 0.00 | XXX
90646 |  | E | Hib vaccine, prp-d, im | 0.00 | 0.00 | 0.00 | 0.00 | 0.00 | 0.00 | XXX
90647 |  | E | Hib vaccine, prp-omp, im | 0.00 | 0.00 | 0.00 | 0.00 | 0.00 | 0.00 | XXX
90648 |  | E | Hib vaccine, prp-t, im | 0.00 | 0.00 | 0.00 | 0.00 | 0.00 | 0.00 | XXX
90665 |  | E | Lyme disease vaccine, im | 0.00 | 0.00 | 0.00 | 0.00 | 0.00 | 0.00 | XXX
90669 |  | N | Pneumococcal vacc, ped <5 | 0.00 | 0.00 | 0.00 | 0.00 | 0.00 | 0.00 | XXX
90675 |  | E | Rabies vaccine, im | 0.00 | 0.00 | 0.00 | 0.00 | 0.00 | 0.00 | XXX
90676 |  | E | Rabies vaccine, id | 0.00 | 0.00 | 0.00 | 0.00 | 0.00 | 0.00 | XXX
90680 |  | E | Rotovirus vaccine, oral | 0.00 | 0.00 | 0.00 | 0.00 | 0.00 | 0.00 | XXX
90690 |  | E | Typhoid vaccine, oral | 0.00 | 0.00 | 0.00 | 0.00 | 0.00 | 0.00 | XXX
90691 |  | E | Typhoid vaccine, im | 0.00 | 0.00 | 0.00 | 0.00 | 0.00 | 0.00 | XXX
90692 |  | E | Typhoid vaccine, h-p, sc/id | 0.00 | 0.00 | 0.00 | 0.00 | 0.00 | 0.00 | XXX
90693 |  | E | Typhoid vaccine, akd, sc | 0.00 | 0.00 | 0.00 | 0.00 | 0.00 | 0.00 | XXX
90698 |  | E | Dtap-hib-ip vaccine, im | 0.00 | 0.00 | 0.00 | 0.00 | 0.00 | 0.00 | XXX
90700 |  | E | Dtap vaccine, < 7 yrs, im | 0.00 | 0.00 | 0.00 | 0.00 | 0.00 | 0.00 | XXX
90701 |  | E | Dtp vaccine, im | 0.00 | 0.00 | 0.00 | 0.00 | 0.00 | 0.00 | XXX
90702 |  | E | Dt vaccine < 7, im | 0.00 | 0.00 | 0.00 | 0.00 | 0.00 | 0.00 | XXX
90703 |  | E | Tetanus vaccine, im | 0.00 | 0.00 | 0.00 | 0.00 | 0.00 | 0.00 | XXX
90704 |  | E | Mumps vaccine, sc | 0.00 | 0.00 | 0.00 | 0.00 | 0.00 | 0.00 | XXX
90705 |  | E | Measles vaccine, sc | 0.00 | 0.00 | 0.00 | 0.00 | 0.00 | 0.00 | XXX
90706 |  | E | Rubella vaccine, sc | 0.00 | 0.00 | 0.00 | 0.00 | 0.00 | 0.00 | XXX
90707 |  | E | Mmr vaccine, sc | 0.00 | 0.00 | 0.00 | 0.00 | 0.00 | 0.00 | XXX
90708 |  | E | Measles-rubella vaccine, sc | 0.00 | 0.00 | 0.00 | 0.00 | 0.00 | 0.00 | XXX
90710 |  | E | Mmrv vaccine, sc | 0.00 | 0.00 | 0.00 | 0.00 | 0.00 | 0.00 | XXX
90712 |  | E | Oral poliovirus vaccine | 0.00 | 0.00 | 0.00 | 0.00 | 0.00 | 0.00 | XXX
90713 |  | E | Poliovirus, ipv, sc | 0.00 | 0.00 | 0.00 | 0.00 | 0.00 | 0.00 | XXX
90715 |  | E | Tdap vaccine >7 im | 0.00 | 0.00 | 0.00 | 0.00 | 0.00 | 0.00 | XXX
90716 |  | E | Chicken pox vaccine, sc | 0.00 | 0.00 | 0.00 | 0.00 | 0.00 | 0.00 | XXX
90717 |  | E | Yellow fever vaccine, sc | 0.00 | 0.00 | 0.00 | 0.00 | 0.00 | 0.00 | XXX
90718 |  | E | Td vaccine > 7, im | 0.00 | 0.00 | 0.00 | 0.00 | 0.00 | 0.00 | XXX
90719 |  | E | Diphtheria vaccine, im | 0.00 | 0.00 | 0.00 | 0.00 | 0.00 | 0.00 | XXX
90720 |  | E | Dtp/hib vaccine, im | 0.00 | 0.00 | 0.00 | 0.00 | 0.00 | 0.00 | XXX
90721 |  | E | Dtap/hib vaccine, im | 0.00 | 0.00 | 0.00 | 0.00 | 0.00 | 0.00 | XXX
90723 |  | I | Dtap-hep b-ipv vaccine, im | 0.00 | 0.00 | 0.00 | 0.00 | 0.00 | 0.00 | XXX
90725 |  | E | Cholera vaccine, injectable | 0.00 | 0.00 | 0.00 | 0.00 | 0.00 | 0.00 | XXX
90727 |  | E | Plague vaccine, im | 0.00 | 0.00 | 0.00 | 0.00 | 0.00 | 0.00 | XX
90733 |  | E | Meningococcal vaccine, sc | 0.00 | 0.00 | 0.00 | 0.00 | 0.00 | 0.00 | XXX
90734 |  | E | Meningococcal vaccine, im | 0.00 | 0.00 | 0.00 | 0.00 | 0.00 | 0.00 | XXX
90735 |  | E | Encephalitis vaccine, sc | 0.00 | 0.00 | 0.00 | 0.00 | 0.00 | 0.00 | XXX
90748 |  | I | Hep b/hib vaccine, im | 0.00 | 0.00 | 0.00 | 0.00 | 0.00 | 0.00 | XXX
90749 |  | E | Vaccine toxoid | 0.00 | 0.00 | 0.00 | 0.00 | 0.00 | 0.00 | XXX
90780 |  | I | IV infusion therapy, 1 hour | 0.17 | 0.00 | 0.00 | 0.07 | 0.24 | 0.24 | XXX
90781 |  | I | IV infusion, additional hour | 0.17 | 0.00 | 0.00 | 0.04 | 0.21 | 0.21 | ZZZ
90782 |  | I | Injection, sc/im | 0.17 | 0.00 | 0.00 | 0.01 | 0.18 | 0.18 | XXX
90783 |  | A | Injection, ia | 0.17 | 0.31 | NA | 0.02 | 0.50 | NA | XXX
90784 |  | I | Injection, iv | 0.17 | 0.00 | 0.00 | 0.04 | 0.21 | 0.21 | XXX
90788 |  | A | Injection of antibiotic | 0.17 | 0.26 | NA | 0.01 | 0.44 | NA | XXX
90799 |  | C | Ther/prophylactic/dx inject | 0.00 | 0.00 | 0.00 | 0.00 | 0.00 | 0.00 | XXX
90801 |  | A | Psy dx interview | 2.81 | 1.19 | 0.91 | 0.06 | 4.05 | 3.77 | XXX
90802 |  | A | Intac psy dx interview | 3.02 | 1.23 | 0.96 | 0.07 | 4.32 | 4.05 | XXX
90804 |  | A | Psytx, office, 20-30 min | 1.21 | 0.49 | 0.37 | 0.03 | 1.74 | 1.61 | XXX
90805 |  | A | Psytx, off, 20-30 min w/e&m | 1.37 | 0.51 | 0.41 | 0.03 | 1.91 | 1.81 | XXX
90806 |  | A | Psytx, off, 45-50 min | 1.86 | 0.68 | 0.58 | 0.04 | 2.59 | 2.49 | XXX
90807 |  | A | Psytx, off, 45-50 min w/e&m | 2.02 | 0.70 | 0.61 | 0.05 | 2.78 | 2.69 | XXX
90808 |  | A | Psytx, office, 75-80 min | 2.80 | 1.00 | 0.87 | 0.06 | 3.85 | 3.73 | XXX
90809 |  | A | Psytx, off, 75-80, w/e&m | 2.96 | 0.99 | 0.90 | 0.07 | 4.02 | 3.92 | XXX
90810 |  | A | Intac psytx, off, 20-30 min | 1.32 | 0.51 | 0.41 | 0.04 | 1.87 | 1.77 | XXX
90811 |  | A | Intac psytx, 20-30, w/e&m | 1.48 | 0.58 | 0.45 | 0.04 | 2.10 | 1.97 | XXX
90812 |  | A | Intac psytx, off, 45-50 min | 1.97 | 0.77 | 0.62 | 0.04 | 2.79 | 2.64 | XXX
90813 |  | A | Intac psytx, 45-50 min w/e&m | 2.13 | 0.77 | 0.65 | 0.05 | 2.96 | 2.84 | XXX
90814 |  | A | Intac psytx, off, 75-80 min | 2.91 | 1.07 | 0.94 | 0.06 | 4.04 | 3.91 | XXX
90815 |  | A | Intac psytx, 75-80 w/e&m | 3.07 | 1.05 | 0.92 | 0.07 | 4.19 | 4.06 | XXX
90816 |  | A | Psytx, hosp, 20-30 min | 1.25 | NA | 0.45 | 0.03 | NA | 1.73 | XXX
90817 |  | A | Psytx, hosp, 20-30 min w/e&m | 1.41 | NA | 0.45 | 0.03 | NA | 1.90 | XXX
90818 |  | A | Psytx, hosp, 45-50 min | 1.89 | NA | 0.67 | 0.04 | NA | 2.60 | XXX
90819 |  | A | Psytx, hosp, 45-50 min w/e&m | 2.05 | NA | 0.64 | 0.05 | NA | 2.75 | XXX
90821 |  | A | Psytx, hosp, 75-80 min | 2.84 | NA | 0.97 | 0.06 | NA | 3.87 | XXX
90822 |  | A | Psytx, hosp, 75-80 min w/e&m | 3.00 | NA | 0.93 | 0.08 | NA | 4.01 | XXX
90823 |  | A | Intac psytx, hosp, 20-30 min | 1.36 | NA | 0.47 | 0.03 | NA | 1.86 | XXX
90824 |  | A | Intac psytx, hsp 20-30 w/e&m | 1.52 | NA | 0.48 | 0.04 | NA | 2.05 | XXX
90826 |  | A | Intac psytx, hosp, 45-50 min | 2.01 | NA | 0.70 | 0.05 | NA | 2.76 | XXX
90827 |  | A | Intac psytx, hsp 45-50 w/e&m | 2.16 | NA | 0.67 | 0.05 | NA | 2.89 | XXX
90828 |  | A | Intac psytx, hosp, 75-80 min | 2.95 | NA | 1.02 | 0.06 | NA | 4.03 | XXX
90829 |  | A | Intac psytx, hsp 75-80 w/e&m | 3.11 | NA | 0.96 | 0.07 | NA | 4.14 | XXX
90845 |  | A | Psychoanalysis | 1.79 | 0.57 | 0.54 | 0.04 | 2.40 | 2.37 | XXX
90846 |  | R | Family psytx w/o patient | 1.83 | 0.64 | 0.63 | 0.04 | 2.51 | 2.50 | XXX
90847 |  | R | Family psytx w/patient | 2.21 | 0.81 | 0.74 | 0.05 | 3.08 | 3.01 | XXX
90849 |  | R | Multiple family group psytx | 0.59 | 0.27 | 0.24 | 0.02 | 0.88 | 0.85 | XXX
90853 |  | A | Group psychotherapy | 0.59 | 0.25 | 0.23 | 0.01 | 0.85 | 0.83 | XXX
90857 |  | A | Intac group psytx | 0.63 | 0.29 | 0.25 | 0.01 | 0.93 | 0.89 | XXX
90862 |  | A | Medication management | 0.95 | 0.42 | 0.32 | 0.02 | 1.39 | 1.29 | XXX
90865 |  | A | Narcosynthesis | 2.85 | 1.35 | 0.89 | 0.12 | 4.31 | 3.86 | XXX
90870 |  | A | Electroconvulsive therapy | 1.88 | 1.82 | 0.58 | 0.04 | 3.74 | 2.50 | 000
90871 |  | N | Electroconvulsive therapy | 2.73 | NA | 0.99 | 0.07 | NA | 3.78 | 000
90875 |  | N | Psychophysiological therapy | 1.20 | 0.85 | 0.46 | 0.04 | 2.09 | 1.70 | XXX
90876 |  | N | Psychophysiological therapy | 1.90 | 1.11 | 0.72 | 0.05 | 3.06 | 2.68 | XXX
90880 |  | A | Hypnotherapy | 2.19 | 0.98 | 0.67 | 0.05 | 3.22 | 2.92 | XXX
90882 |  | N | Environmental manipulation | 0.00 | 0.00 | 0.00 | 0.00 | 0.00 | 0.00 | XXX
90885 |  | B | Psy evaluation of records | 0.97 | 0.37 | 0.37 | 0.02 | 1.36 | 1.36 | XXX
90887 |  | B | Consultation with family | 1.48 | 0.82 | 0.56 | 0.04 | 2.34 | 2.08 | XXX
90889 |  | B | Preparation of report | 0.00 | 0.00 | 0.00 | 0.00 | 0.00 | 0.00 | XXX
90899 |  | C | Psychiatric service/therapy | 0.00 | 0.00 | 0.00 | 0.00 | 0.00 | 0.00 | XXX
90901 |  | A | Biofeedback train, any meth | 0.41 | 0.64 | 0.14 | 0.02 | 1.07 | 0.57 | 000
90911 |  | A | Biofeedback peri/uro/rectal | 0.89 | 1.58 | 0.33 | 0.06 | 2.53 | 1.28 | 000
90918 |  | I | ESRD related services, month | 11.18 | 5.96 | 5.96 | 0.36 | 17.50 | 17.50 | XXX
90919 |  | I | ESRD related services, month | 8.55 | 3.90 | 3.90 | 0.29 | 12.74 | 12.74 | XXX
90920 |  | I | ESRD related services, month | 7.27 | 3.65 | 3.65 | 0.23 | 11.16 | 11.16 | XXX
90921 |  | I | ESRD related services, month | 4.47 | 2.37 | 2.37 | 0.14 | 6.98 | 6.98 | XXX
90922 |  | I | ESRD related services, day | 0.37 | 0.21 | 0.21 | 0.01 | 0.59 | 0.59 | XXX
90923 |  | I | Esrd related services, day | 0.28 | 0.13 | 0.13 | 0.01 | 0.42 | 0.42 | XXX
90924 |  | I | Esrd related services, day | 0.24 | 0.12 | 0.12 | 0.01 | 0.37 | 0.37 | XXX
90925 |  | I | Esrd related services, day | 0.15 | 0.08 | 0.08 | 0.01 | 0.24 | 0.24 | XXX
90935 |  | A | Hemodialysis, one evaluation | 1.22 | NA | 0.65 | 0.04 | NA | 1.91 | 000
90937 |  | A | Hemodialysis, repeated eval | 2.11 | NA | 0.95 | 0.07 | NA | 3.13 | 000
90945 |  | A | Dialysis, one evaluation | 1.28 | NA | 0.67 | 0.04 | NA | 1.99 | 000
90947 |  | A | Dialysis, repeated eval | 2.16 | NA | 0.97 | 0.07 | NA | 3.20 | 000
90997 |  | A | Hemoperfusion | 1.84 | NA | 0.65 | 0.06 | NA | 2.55 | 000
90999 |  | C | Dialysis procedure | 0.00 | 0.00 | 0.00 | 0.00 | 0.00 | 0.00 | XXX
91000 |  | A | Esophageal intubation | 0.73 | 0.84 | NA | 0.04 | 1.62 | NA | 000
91000 | 26 | A | Esophageal intubation | 0.73 | 0.25 | 0.25 | 0.03 | 1.01 | 1.01 | 000
91000 | TC | A | Esophageal intubation | 0.00 | 0.59 | NA | 0.01 | 0.60 | NA | 000
91010 |  | A | Esophagus motility study | 1.25 | 4.76 | NA | 0.12 | 6.14 | NA | 000
91010 | 26 | A | Esophagus motility study | 1.25 | 0.47 | 0.47 | 0.06 | 1.78 | 1.78 | 000
91010 | TC | A | Esophagus motility study | 0.00 | 4.30 | NA | 0.06 | 4.36 | NA | 000
91011 |  | A | Esophagus motility study | 1.50 | 5.79 | NA | 0.13 | 7.42 | NA | 000
91011 | 26 | A | Esophagus motility study | 1.50 | 0.57 | 0.57 | 0.07 | 2.15 | 2.15 | 000
91011 | TC | A | Esophagus motility study | 0.00 | 5.22 | NA | 0.06 | 5.28 | NA | 000
91012 |  | A | Esophagus motility study | 1.46 | 5.76 | NA | 0.13 | 7.35 | NA | 000
91012 | 26 | A | Esophagus motility study | 1.46 | 0.55 | 0.55 | 0.06 | 2.07 | 2.07 | 000
91012 | TC | A | Esophagus motility study | 0.00 | 5.21 | NA | 0.07 | 5.28 | NA | 000
91020 |  | A | Gastric motility | 1.44 | 4.49 | NA | 0.13 | 6.07 | NA | 000
91020 | 26 | A | Gastric motility | 1.44 | 0.51 | 0.51 | 0.07 | 2.02 | 2.02 | 000
91020 | TC | A | Gastric motility | 0.00 | 3.99 | NA | 0.06 | 4.05 | NA | 000
91030 |  | A | Acid perfusion of esophagus | 0.91 | 2.67 | NA | 0.06 | 3.64 | NA | 000
91030 | 26 | A | Acid perfusion of esophagus | 0.91 | 0.35 | 0.35 | 0.04 | 1.30 | 1.30 | 000
91030 | TC | A | Acid perfusion of esophagus | 0.00 | 2.32 | NA | 0.02 | 2.34 | NA | 000
91034 |  | A | Gastroesophageal reflux test | 0.97 | 5.70 | NA | 0.12 | 6.79 | NA | XXX
91034 | 26 | A | Gastroesophageal reflux test | 0.97 | 0.36 | 0.36 | 0.06 | 1.40 | 1.40 | XXX
91034 | TC | A | Gastroesophageal reflux test | 0.00 | 5.33 | NA | 0.06 | 5.39 | NA | XXX
91035 |  | A | G-esoph reflx tst w/electrod | 1.59 | 11.65 | NA | 0.12 | 13.36 | NA | XXX
91035 | 26 | A | G-esoph reflx tst w/electrod | 1.59 | 0.60 | 0.60 | 0.06 | 2.25 | 2.25 | XXX
91035 | TC | A | G-esoph reflx tst w/electrod | 0.00 | 11.05 | NA | 0.06 | 11.11 | NA | XXX
91037 |  | A | Esoph imped function test | 0.97 | 3.22 | NA | 0.12 | 4.32 | NA | XXX
91037 | 26 | A | Esoph imped function test | 0.97 | 0.36 | 0.36 | 0.06 | 1.40 | 1.40 | XXX
91037 | TC | A | Esoph imped function test | 0.00 | 2.86 | NA | 0.06 | 2.92 | NA | XXX
91038 |  | A | Esoph imped funct test > 1h | 1.10 | 2.47 | NA | 0.12 | 3.69 | NA | XXX
91038 | 26 | A | Esoph imped funct test > 1h | 1.10 | 0.42 | 0.42 | 0.06 | 1.58 | 1.58 | XXX
91038 | TC | A | Esoph imped funct test > 1h | 0.00 | 2.05 | NA | 0.06 | 2.11 | NA | XXX
91040 |  | A | Esoph balloon distension tst | 0.97 | 11.26 | NA | 0.12 | 12.35 | NA | XXX
91040 | 26 | A | Esoph balloon distension tst | 0.97 | 0.36 | 0.36 | 0.06 | 1.40 | 1.40 | XXX
91040 | TC | A | Esoph balloon distension tst | 0.00 | 10.89 | NA | 0.06 | 10.95 | NA | XXX
91052 |  | A | Gastric analysis test | 0.79 | 2.64 | NA | 0.05 | 3.48 | NA | 000
91052 | 26 | A | Gastric analysis test | 0.79 | 0.30 | 0.30 | 0.03 | 1.12 | 1.12 | 000
91052 | TC | A | Gastric analysis test | 0.00 | 2.34 | NA | 0.02 | 2.36 | NA | 000
91055 |  | A | Gastric intubation for smear | 0.94 | 2.91 | NA | 0.07 | 3.92 | NA | 000
91055 | 26 | A | Gastric intubation for smear | 0.94 | 0.27 | 0.27 | 0.05 | 1.26 | 1.26 | 000
91055 | TC | A | Gastric intubation for smear | 0.00 | 2.64 | NA | 0.02 | 2.66 | NA | 000
91060 |  | A | Gastric saline load test | 0.45 | 1.89 | NA | 0.05 | 2.39 | NA | 000
91060 | 26 | A | Gastric saline load test | 0.45 | 0.14 | 0.14 | 0.03 | 0.62 | 0.62 | 000
91060 | TC | A | Gastric saline load test | 0.00 | 1.75 | NA | 0.02 | 1.77 | NA | 000
91065 |  | A | Breath hydrogen test | 0.20 | 1.62 | NA | 0.03 | 1.85 | NA | 000
91065 | 26 | A | Breath hydrogen test | 0.20 | 0.07 | 0.07 | 0.01 | 0.28 | 0.28 | 000
91065 | TC | A | Breath hydrogen test | 0.00 | 1.55 | NA | 0.02 | 1.57 | NA | 000
91100 |  | A | Pass intestine bleeding tube | 1.08 | 2.70 | 0.28 | 0.07 | 3.85 | 1.43 | 000
91105 |  | A | Gastric intubation treatment | 0.37 | 1.99 | 0.09 | 0.03 | 2.39 | 0.49 | 000
91110 |  | A | Gi tract capsule endoscopy | 3.65 | 24.17 | NA | 0.16 | 27.98 | NA | XXX
91110 | 26 | A | Gi tract capsule endoscopy | 3.65 | 1.38 | 1.38 | 0.09 | 5.12 | 5.12 | XXX
91110 | TC | A | Gi tract capsule endoscopy | 0.00 | 22.79 | NA | 0.07 | 22.86 | NA | XXX
91120 |  | A | Rectal sensation test | 0.97 | 11.11 | NA | 0.11 | 12.19 | NA | XXX
91120 | 26 | A | Rectal sensation test | 0.97 | 0.36 | 0.36 | 0.07 | 1.41 | 1.41 | XXX
91120 | TC | A | Rectal sensation test | 0.00 | 10.74 | NA | 0.04 | 10.78 | NA | XXX
91122 |  | A | Anal pressure record | 1.77 | 5.15 | NA | 0.21 | 7.13 | NA | 000
91122 | 26 | A | Anal pressure record | 1.77 | 0.62 | 0.62 | 0.13 | 2.52 | 2.52 | 000
91122 | TC | A | Anal pressure record | 0.00 | 4.53 | NA | 0.08 | 4.61 | NA | 000
91123 |  | B | Irrigate fecal impaction | 0.00 | 0.00 | 0.00 | 0.00 | 0.00 | 0.00 | XXX
91132 |  | C | Electrogastrography | 0.00 | 0.00 | 0.00 | 0.00 | 0.00 | 0.00 | XXX
91132 | 26 | A | Electrogastrography | 0.52 | 0.20 | 0.20 | 0.02 | 0.74 | 0.74 | XXX
91132 | TC | C | Electrogastrography | 0.00 | 0.00 | 0.00 | 0.00 | 0.00 | 0.00 | XXX
91133 |  | C | Electrogastrography w/test | 0.00 | 0.00 | 0.00 | 0.00 | 0.00 | 0.00 | XXX
91133 | 26 | A | Electrogastrography w/test | 0.66 | 0.25 | 0.25 | 0.03 | 0.94 | 0.94 | XXX
91133 | TC | C | Electrogastrography w/test | 0.00 | 0.00 | 0.00 | 0.00 | 0.00 | 0.00 | XXX
91299 |  | C | Gastroenterology procedure | 0.00 | 0.00 | 0.00 | 0.00 | 0.00 | 0.00 | XXX
91299 | 26 | C | Gastroenterology procedure | 0.00 | 0.00 | 0.00 | 0.00 | 0.00 | 0.00 | XXX
91299 | TC | C | Gastroenterology procedure | 0.00 | 0.00 | 0.00 | 0.00 | 0.00 | 0.00 | XXX
92002 |  | A | Eye exam, new patient | 0.88 | 0.97 | 0.33 | 0.02 | 1.87 | 1.23 | XXX
92004 |  | A | Eye exam, new patient | 1.67 | 1.68 | 0.66 | 0.04 | 3.40 | 2.38 | XXX
92012 |  | A | Eye exam established pat | 0.67 | 1.01 | 0.28 | 0.02 | 1.70 | 0.97 | XXX
92014 |  | A | Eye exam & treatment | 1.10 | 1.39 | 0.46 | 0.03 | 2.52 | 1.59 | XXX
92015 |  | N | Refraction | 0.38 | 1.21 | 0.15 | 0.01 | 1.61 | 0.54 | XXX
92018 |  | A | New eye exam & treatment | 2.51 | NA | 1.05 | 0.07 | NA | 3.62 | XXX
92019 |  | A | Eye exam & treatment | 1.31 | NA | 0.55 | 0.03 | NA | 1.89 | XXX
92020 |  | A | Special eye evaluation | 0.37 | 0.33 | 0.16 | 0.01 | 0.71 | 0.54 | XXX
92060 |  | A | Special eye evaluation | 0.69 | 0.72 | NA | 0.03 | 1.45 | NA | XXX
92060 | 26 | A | Special eye evaluation | 0.69 | 0.28 | 0.28 | 0.02 | 0.99 | 0.99 | XXX
92060 | TC | A | Special eye evaluation | 0.00 | 0.44 | NA | 0.01 | 0.45 | NA | XXX
92065 |  | A | Orthoptic/pleoptic training | 0.37 | 0.57 | NA | 0.02 | 0.96 | NA | XXX
92065 | 26 | A | Orthoptic/pleoptic training | 0.37 | 0.15 | 0.15 | 0.01 | 0.53 | 0.53 | XXX
92065 | TC | A | Orthoptic/pleoptic training | 0.00 | 0.43 | NA | 0.01 | 0.44 | NA | XXX
92070 |  | A | Fitting of contact lens | 0.70 | 1.04 | 0.31 | 0.02 | 1.76 | 1.03 | XXX
92081 |  | A | Visual field examination(s) | 0.36 | 0.93 | NA | 0.02 | 1.31 | NA | XXX
92081 | 26 | A | Visual field examination(s) | 0.36 | 0.15 | 0.15 | 0.01 | 0.52 | 0.52 | XXX
92081 | TC | A | Visual field examination(s) | 0.00 | 0.78 | NA | 0.01 | 0.79 | NA | XXX
92082 |  | A | Visual field examination(s) | 0.44 | 1.22 | NA | 0.02 | 1.68 | NA | XXX
92082 | 26 | A | Visual field examination(s) | 0.44 | 0.19 | 0.19 | 0.01 | 0.64 | 0.64 | XXX
92082 | TC | A | Visual field examination(s) | 0.00 | 1.03 | NA | 0.01 | 1.04 | NA | XXX
92083 |  | A | Visual field examination(s) | 0.50 | 1.41 | NA | 0.02 | 1.93 | NA | XXX
92083 | 26 | A | Visual field examination(s) | 0.50 | 0.22 | 0.22 | 0.01 | 0.73 | 0.73 | XXX
92083 | TC | A | Visual field examination(s) | 0.00 | 1.19 | NA | 0.01 | 1.20 | NA | XXX
92100 |  | A | Serial tonometry exam(s) | 0.92 | 1.34 | 0.35 | 0.02 | 2.28 | 1.30 | XXX
92120 |  | A | Tonography & eye evaluation | 0.81 | 1.06 | 0.31 | 0.02 | 1.89 | 1.14 | XXX
92130 |  | A | Water provocation tonography | 0.81 | 1.26 | 0.36 | 0.02 | 2.09 | 1.19 | XXX
92135 |  | A | Opthalmic dx imaging | 0.35 | 0.77 | NA | 0.02 | 1.14 | NA | XXX
92135 | 26 | A | Opthalmic dx imaging | 0.35 | 0.15 | 0.15 | 0.01 | 0.51 | 0.51 | XXX
92135 | TC | A | Opthalmic dx imaging | 0.00 | 0.63 | NA | 0.01 | 0.64 | NA | XXX
92136 |  | A | Ophthalmic biometry | 0.54 | 1.58 | NA | 0.08 | 2.20 | NA | XXX
92136 | 26 | A | Ophthalmic biometry | 0.54 | 0.24 | 0.24 | 0.01 | 0.79 | 0.79 | XXX
92136 | TC | A | Ophthalmic biometry | 0.00 | 1.35 | NA | 0.07 | 1.42 | NA | XXX
92140 |  | A | Glaucoma provocative tests | 0.50 | 0.98 | 0.21 | 0.01 | 1.49 | 0.72 | XXX
92225 |  | A | Special eye exam, initial | 0.38 | 0.22 | 0.16 | 0.01 | 0.61 | 0.55 | XXX
92226 |  | A | Special eye exam, subsequent | 0.33 | 0.21 | 0.14 | 0.01 | 0.55 | 0.48 | XXX
92230 |  | A | Eye exam with photos | 0.60 | 1.39 | 0.20 | 0.02 | 2.01 | 0.82 | XXX
92235 |  | A | Eye exam with photos | 0.81 | 2.50 | NA | 0.08 | 3.39 | NA | XXX
92235 | 26 | A | Eye exam with photos | 0.81 | 0.36 | 0.36 | 0.02 | 1.19 | 1.19 | XXX
92235 | TC | A | Eye exam with photos | 0.00 | 2.14 | NA | 0.06 | 2.20 | NA | XXX
92240 |  | A | Icg angiography | 1.10 | 5.75 | NA | 0.09 | 6.94 | NA | XXX
92240 | 26 | A | Icg angiography | 1.10 | 0.49 | 0.49 | 0.03 | 1.62 | 1.62 | XXX
92240 | TC | A | Icg angiography | 0.00 | 5.27 | NA | 0.06 | 5.33 | NA | XXX
92250 |  | A | Eye exam with photos | 0.44 | 1.47 | NA | 0.02 | 1.93 | NA | XXX
92250 | 26 | A | Eye exam with photos | 0.44 | 0.19 | 0.19 | 0.01 | 0.64 | 0.64 | XXX
92250 | TC | A | Eye exam with photos | 0.00 | 1.29 | NA | 0.01 | 1.30 | NA | XXX
92260 |  | A | Ophthalmoscopy/dynamometry | 0.20 | 0.25 | 0.09 | 0.01 | 0.46 | 0.30 | XXX
92265 |  | A | Eye muscle evaluation | 0.81 | 1.39 | NA | 0.06 | 2.26 | NA | XXX
92265 | 26 | A | Eye muscle evaluation | 0.81 | 0.28 | 0.28 | 0.04 | 1.13 | 1.13 | XXX
92265 | TC | A | Eye muscle evaluation | 0.00 | 1.11 | NA | 0.02 | 1.13 | NA | XXX
92270 |  | A | Electro-oculography | 0.81 | 1.49 | NA | 0.05 | 2.35 | NA | XXX
92270 | 26 | A | Electro-oculography | 0.81 | 0.32 | 0.32 | 0.03 | 1.16 | 1.16 | XXX
92270 | TC | A | Electro-oculography | 0.00 | 1.17 | NA | 0.02 | 1.19 | NA | XXX
92275 |  | A | Electroretinography | 1.01 | 1.92 | NA | 0.05 | 2.98 | NA | XXX
92275 | 26 | A | Electroretinography | 1.01 | 0.42 | 0.42 | 0.03 | 1.46 | 1.46 | XXX
92275 | TC | A | Electroretinography | 0.00 | 1.50 | NA | 0.02 | 1.52 | NA | XXX
92283 |  | A | Color vision examination | 0.17 | 0.84 | NA | 0.02 | 1.03 | NA | XXX
92283 | 26 | A | Color vision examination | 0.17 | 0.07 | 0.07 | 0.01 | 0.25 | 0.25 | XXX
92283 | TC | A | Color vision examination | 0.00 | 0.77 | NA | 0.01 | 0.78 | NA | XXX
92284 |  | A | Dark adaptation eye exam | 0.24 | 1.74 | NA | 0.02 | 2.00 | NA | XXX
92284 | 26 | A | Dark adaptation eye exam | 0.24 | 0.08 | 0.08 | 0.01 | 0.33 | 0.33 | XXX
92284 | TC | A | Dark adaptation eye exam | 0.00 | 1.66 | NA | 0.01 | 1.67 | NA | XXX
92285 |  | A | Eye photography | 0.20 | 0.94 | NA | 0.02 | 1.16 | NA | XXX
92285 | 26 | A | Eye photography | 0.20 | 0.09 | 0.09 | 0.01 | 0.30 | 0.30 | XXX
92285 | TC | A | Eye photography | 0.00 | 0.86 | NA | 0.01 | 0.87 | NA | XXX
92286 |  | A | Internal eye photography | 0.66 | 2.88 | NA | 0.04 | 3.58 | NA | XXX
92286 | 26 | A | Internal eye photography | 0.66 | 0.29 | 0.29 | 0.02 | 0.97 | 0.97 | XXX
92286 | TC | A | Internal eye photography | 0.00 | 2.59 | NA | 0.02 | 2.61 | NA | XXX
92287 |  | A | Internal eye photography | 0.81 | 2.28 | 0.30 | 0.02 | 3.12 | 1.13 | XXX
92310 |  | N | Contact lens fitting | 1.17 | 1.13 | 0.45 | 0.04 | 2.34 | 1.66 | XXX
92311 |  | A | Contact lens fitting | 1.08 | 1.14 | 0.35 | 0.03 | 2.25 | 1.47 | XXX
92312 |  | A | Contact lens fitting | 1.26 | 1.17 | 0.49 | 0.03 | 2.47 | 1.78 | XXX
92313 |  | A | Contact lens fitting | 0.92 | 1.13 | 0.28 | 0.02 | 2.07 | 1.22 | XXX
92314 |  | N | Prescription of contact lens | 0.69 | 0.98 | 0.27 | 0.01 | 1.68 | 0.97 | XXX
92315 |  | A | Prescription of contact lens | 0.45 | 0.95 | 0.16 | 0.01 | 1.41 | 0.62 | XXX
92316 |  | A | Prescription of contact lens | 0.68 | 1.05 | 0.28 | 0.02 | 1.75 | 0.98 | XXX
92317 |  | A | Prescription of contact lens | 0.45 | 1.05 | 0.15 | 0.01 | 1.52 | 0.61 | XXX
92325 |  | A | Modification of contact lens | 0.00 | 0.49 | NA | 0.01 | 0.50 | NA | XXX
92326 |  | A | Replacement of contact lens | 0.00 | 1.41 | NA | 0.06 | 1.47 | NA | XXX
92330 |  | A | Fitting of artificial eye | 1.08 | 0.99 | 0.32 | 0.03 | 2.10 | 1.43 | XXX
92335 |  | A | Fitting of artificial eye | 0.45 | 0.88 | 0.16 | 0.01 | 1.34 | 0.62 | XXX
92340 |  | N | Fitting of spectacles | 0.37 | 0.66 | NA | 0.01 | 1.04 | NA | XXX
92341 |  | N | Fitting of spectacles | 0.47 | 0.70 | NA | 0.01 | 1.18 | NA | XXX
92342 |  | N | Fitting of spectacles | 0.53 | 0.72 | NA | 0.01 | 1.27 | NA | XXX
92352 |  | B | Special spectacles fitting | 0.37 | 0.67 | NA | 0.01 | 1.05 | NA | XXX
92353 |  | B | Special spectacles fitting | 0.50 | 0.72 | NA | 0.02 | 1.24 | NA | XXX
92354 |  | B | Special spectacles fitting | 0.00 | 7.13 | NA | 0.10 | 7.23 | NA | XXX
92355 |  | B | Special spectacles fitting | 0.00 | 3.53 | NA | 0.01 | 3.54 | NA | XXX
92358 |  | B | Eye prosthesis service | 0.00 | 0.81 | NA | 0.05 | 0.86 | NA | XXX
92370 |  | N | Repair & adjust spectacles | 0.32 | 0.53 | NA | 0.02 | 0.87 | NA | XXX
92371 |  | B | Repair & adjust spectacles | 0.00 | 0.53 | NA | 0.02 | 0.55 | NA | XXX
92390 |  | N | Supply of spectacles | 0.00 | 0.00 | 0.00 | 0.00 | 0.00 | 0.00 | XXX
92391 |  | N | Supply of contact lenses | 0.00 | 0.00 | 0.00 | 0.00 | 0.00 | 0.00 | XXX
92392 |  | I | Supply of low vision aids | 0.00 | 0.00 | 0.00 | 0.02 | 0.02 | 0.02 | XXX
92393 |  | I | Supply of artificial eye | 0.00 | 0.00 | 0.00 | 0.57 | 0.57 | 0.57 | XXX
92395 |  | I | Supply of spectacles | 0.00 | 0.00 | 0.00 | 0.10 | 0.10 | 0.10 | XXX
92396 |  | I | Supply of contact lenses | 0.00 | 0.00 | 0.00 | 0.07 | 0.07 | 0.07 | XXX
92499 |  | C | Eye service or procedure | 0.00 | 0.00 | 0.00 | 0.00 | 0.00 | 0.00 | XXX
92499 | 26 | C | Eye service or procedure | 0.00 | 0.00 | 0.00 | 0.00 | 0.00 | 0.00 | XXX
92499 | TC | C | Eye service or procedure | 0.00 | 0.00 | 0.00 | 0.00 | 0.00 | 0.00 | XXX
92502 |  | A | Ear and throat examination | 1.51 | NA | 1.08 | 0.05 | NA | 2.65 | 000
92504 |  | A | Ear microscopy examination | 0.18 | 0.50 | 0.09 | 0.01 | 0.69 | 0.28 | XXX
92506 |  | A | Speech/hearing evaluation | 0.86 | 2.68 | 0.38 | 0.03 | 3.57 | 1.27 | XXX
92507 |  | A | Speech/hearing therapy | 0.52 | 1.10 | 0.22 | 0.02 | 1.65 | 0.76 | XXX
92508 |  | A | Speech/hearing therapy | 0.26 | 0.51 | 0.12 | 0.01 | 0.78 | 0.39 | XXX
92510 |  | I | Rehab for ear implant | 1.50 | 0.00 | 0.00 | 0.07 | 1.57 | 1.57 | XXX
92511 |  | A | Nasopharyngoscopy | 0.84 | 3.23 | 0.76 | 0.03 | 4.10 | 1.64 | 000
92512 |  | A | Nasal function studies | 0.55 | 1.13 | 0.18 | 0.02 | 1.70 | 0.75 | XXX
92516 |  | A | Facial nerve function test | 0.43 | 1.18 | 0.21 | 0.01 | 1.62 | 0.65 | XXX
92520 |  | A | Laryngeal function studies | 0.76 | 0.51 | 0.38 | 0.03 | 1.31 | 1.17 | XXX
92526 |  | A | Oral function therapy | 0.55 | 1.75 | 0.20 | 0.02 | 2.32 | 0.77 | XXX
92531 |  | B | Spontaneous nystagmus study | 0.00 | 0.00 | 0.00 | 0.00 | 0.00 | 0.00 | XXX
92532 |  | B | Positional nystagmus test | 0.00 | 0.00 | 0.00 | 0.00 | 0.00 | 0.00 | XXX
92533 |  | B | Caloric vestibular test | 0.00 | 0.00 | 0.00 | 0.00 | 0.00 | 0.00 | XXX
92534 |  | B | Optokinetic nystagmus test | 0.00 | 0.00 | 0.00 | 0.00 | 0.00 | 0.00 | XXX
92541 |  | A | Spontaneous nystagmus test | 0.40 | 1.02 | NA | 0.04 | 1.47 | NA | XXX
92541 | 26 | A | Spontaneous nystagmus test | 0.40 | 0.18 | 0.18 | 0.02 | 0.60 | 0.60 | XXX
92541 | TC | A | Spontaneous nystagmus test | 0.00 | 0.84 | NA | 0.02 | 0.86 | NA | XXX
92542 |  | A | Positional nystagmus test | 0.33 | 1.13 | NA | 0.03 | 1.50 | NA | XXX
92542 | 26 | A | Positional nystagmus test | 0.33 | 0.15 | 0.15 | 0.01 | 0.49 | 0.49 | XXX
92542 | TC | A | Positional nystagmus test | 0.00 | 0.98 | NA | 0.02 | 1.00 | NA | XXX
92543 |  | A | Caloric vestibular test | 0.10 | 0.57 | NA | 0.02 | 0.69 | NA | XXX
92543 | 26 | A | Caloric vestibular test | 0.10 | 0.05 | 0.05 | 0.01 | 0.16 | 0.16 | XXX
92543 | TC | A | Caloric vestibular test | 0.00 | 0.52 | NA | 0.01 | 0.53 | NA | XXX
92544 |  | A | Optokinetic nystagmus test | 0.26 | 0.90 | NA | 0.03 | 1.19 | NA | XXX
92544 | 26 | A | Optokinetic nystagmus test | 0.26 | 0.12 | 0.12 | 0.01 | 0.39 | 0.39 | XXX
92544 | TC | A | Optokinetic nystagmus test | 0.00 | 0.78 | NA | 0.02 | 0.80 | NA | XXX
92545 |  | A | Oscillating tracking test | 0.23 | 0.81 | NA | 0.03 | 1.07 | NA | XXX
92545 | 26 | A | Oscillating tracking test | 0.23 | 0.11 | 0.11 | 0.01 | 0.35 | 0.35 | XXX
92545 | TC | A | Oscillating tracking test | 0.00 | 0.71 | NA | 0.02 | 0.73 | NA | XXX
92546 |  | A | Sinusoidal rotational test | 0.29 | 1.93 | NA | 0.03 | 2.25 | NA | XXX
92546 | 26 | A | Sinusoidal rotational test | 0.29 | 0.13 | 0.13 | 0.01 | 0.43 | 0.43 | XXX
92546 | TC | A | Sinusoidal rotational test | 0.00 | 1.81 | NA | 0.02 | 1.83 | NA | XXX
92547 |  | A | Supplemental electrical test | 0.00 | 0.08 | NA | 0.06 | 0.14 | NA | ZZZ
92548 |  | A | Posturography | 0.50 | 2.14 | NA | 0.15 | 2.79 | NA | XXX
92548 | 26 | A | Posturography | 0.50 | 0.25 | 0.25 | 0.02 | 0.77 | 0.77 | XXX
92548 | TC | A | Posturography | 0.00 | 1.89 | NA | 0.13 | 2.02 | NA | XXX
92551 |  | N | Pure tone hearing test, air | 0.00 | 0.00 | 0.00 | 0.00 | 0.00 | 0.00 | XXX
92552 |  | A | Pure tone audiometry, air | 0.00 | 0.44 | NA | 0.04 | 0.48 | NA | XXX
92553 |  | A | Audiometry, air & bone | 0.00 | 0.63 | NA | 0.06 | 0.69 | NA | XXX
92555 |  | A | Speech threshold audiometry | 0.00 | 0.35 | NA | 0.04 | 0.39 | NA | XXX
92556 |  | A | Speech audiometry, complete | 0.00 | 0.54 | NA | 0.06 | 0.60 | NA | XXX
92557 |  | A | Comprehensive hearing test | 0.00 | 1.12 | NA | 0.12 | 1.24 | NA | XXX
92559 |  | N | Group audiometric testing | 0.00 | 0.00 | 0.00 | 0.00 | 0.00 | 0.00 | XXX
92560 |  | N | Bekesy audiometry, screen | 0.00 | 0.00 | 0.00 | 0.00 | 0.00 | 0.00 | XXX
92561 |  | A | Bekesy audiometry, diagnosis | 0.00 | 0.68 | NA | 0.06 | 0.74 | NA | XXX
92562 |  | A | Loudness balance test | 0.00 | 0.42 | NA | 0.04 | 0.46 | NA | XXX
92563 |  | A | Tone decay hearing test | 0.00 | 0.37 | NA | 0.04 | 0.41 | NA | XXX
92564 |  | A | Sisi hearing test | 0.00 | 0.45 | NA | 0.05 | 0.50 | NA | XXX
92565 |  | A | Stenger test, pure tone | 0.00 | 0.36 | NA | 0.04 | 0.40 | NA | XXX
92567 |  | A | Tympanometry | 0.00 | 0.48 | NA | 0.06 | 0.54 | NA | XXX
92568 |  | A | Acoustic reflex testing | 0.00 | 0.32 | NA | 0.04 | 0.36 | NA | XXX
92569 |  | A | Acoustic reflex decay test | 0.00 | 0.34 | NA | 0.04 | 0.38 | NA | XXX
92571 |  | A | Filtered speech hearing test | 0.00 | 0.36 | NA | 0.04 | 0.40 | NA | XXX
92572 |  | A | Staggered spondaic word test | 0.00 | 0.17 | NA | 0.01 | 0.18 | NA | XXX
92573 |  | A | Lombard test | 0.00 | 0.33 | NA | 0.04 | 0.37 | NA | XXX
92575 |  | A | Sensorineural acuity test | 0.00 | 0.41 | NA | 0.02 | 0.43 | NA | XXX
92576 |  | A | Synthetic sentence test | 0.00 | 0.42 | NA | 0.05 | 0.47 | NA | XXX
92577 |  | A | Stenger test, speech | 0.00 | 0.60 | NA | 0.07 | 0.67 | NA | XXX
92579 |  | A | Visual audiometry (vra) | 0.00 | 0.68 | NA | 0.06 | 0.74 | NA | XXX
92582 |  | A | Conditioning play audiometry | 0.00 | 0.72 | NA | 0.06 | 0.78 | NA | XXX
92583 |  | A | Select picture audiometry | 0.00 | 0.79 | NA | 0.08 | 0.87 | NA | XXX
92584 |  | A | Electrocochleography | 0.00 | 2.15 | NA | 0.21 | 2.36 | NA | XXX
92585 |  | A | Auditor evoke potent, compre | 0.50 | 1.97 | NA | 0.17 | 2.64 | NA | XXX
92585 | 26 | A | Auditor evoke potent, compre | 0.50 | 0.21 | 0.21 | 0.03 | 0.74 | 0.74 | XXX
92585 | TC | A | Auditor evoke potent, compre | 0.00 | 1.77 | NA | 0.14 | 1.91 | NA | XXX
92586 |  | A | Auditor evoke potent, limit | 0.00 | 1.67 | NA | 0.14 | 1.81 | NA | XXX
92587 |  | A | Evoked auditory test | 0.13 | 1.15 | NA | 0.12 | 1.40 | NA | XXX
92587 | 26 | A | Evoked auditory test | 0.13 | 0.06 | 0.06 | 0.01 | 0.20 | 0.20 | XXX
92587 | TC | A | Evoked auditory test | 0.00 | 1.09 | NA | 0.11 | 1.20 | NA | XXX
92588 |  | A | Evoked auditory test | 0.36 | 1.43 | NA | 0.14 | 1.93 | NA | XXX
92588 | 26 | A | Evoked auditory test | 0.36 | 0.15 | 0.15 | 0.01 | 0.52 | 0.52 | XXX
92588 | TC | A | Evoked auditory test | 0.00 | 1.28 | NA | 0.13 | 1.41 | NA | XXX
92590 |  | N | Hearing aid exam, one ear | 0.00 | 0.00 | 0.00 | 0.00 | 0.00 | 0.00 | XXX
92591 |  | N | Hearing aid exam, both ears | 0.00 | 0.00 | 0.00 | 0.00 | 0.00 | 0.00 | XXX
92592 |  | N | Hearing aid check, one ear | 0.00 | 0.00 | 0.00 | 0.00 | 0.00 | 0.00 | XXX
92593 |  | N | Hearing aid check, both ears | 0.00 | 0.00 | 0.00 | 0.00 | 0.00 | 0.00 | XXX
92594 |  | N | Electro hearng aid test, one | 0.00 | 0.00 | 0.00 | 0.00 | 0.00 | 0.00 | XXX
92595 |  | N | Electro hearng aid tst, both | 0.00 | 0.00 | 0.00 | 0.00 | 0.00 | 0.00 | XXX
92596 |  | A | Ear protector evaluation | 0.00 | 0.58 | NA | 0.06 | 0.64 | NA | XXX
92597 |  | A | Oral speech device eval | 0.86 | 1.68 | 0.43 | 0.03 | 2.57 | 1.32 | XXX
92601 |  | A | Cochlear implt f/up exam < 7 | 0.00 | 3.54 | NA | 0.07 | 3.61 | NA | XXX
92602 |  | A | Reprogram cochlear implt < 7 | 0.00 | 2.41 | NA | 0.07 | 2.48 | NA | XXX
92603 |  | A | Cochlear implt f/up exam 7 > | 0.00 | 2.19 | NA | 0.07 | 2.26 | NA | XXX
92604 |  | A | Reprogram cochlear implt 7 > | 0.00 | 1.39 | NA | 0.07 | 1.46 | NA | XXX
92605 |  | B | Eval for nonspeech device rx | 0.00 | 0.00 | 0.00 | 0.00 | 0.00 | 0.00 | XXX
92606 |  | B | Non-speech device service | 0.00 | 0.00 | 0.00 | 0.00 | 0.00 | 0.00 | XXX
92607 |  | A | Ex for speech device rx, 1hr | 0.00 | 3.11 | NA | 0.05 | 3.16 | NA | XXX
92608 |  | A | Ex for speech device rx addl | 0.00 | 0.56 | NA | 0.05 | 0.61 | NA | XXX
92609 |  | A | Use of speech device service | 0.00 | 1.61 | NA | 0.04 | 1.65 | NA | XXX
92610 |  | A | Evaluate swallowing function | 0.00 | 2.97 | NA | 0.08 | 3.05 | NA | XXX
92611 |  | A | Motion fluoroscopy/swallow | 0.00 | 3.09 | NA | 0.08 | 3.17 | NA | XXX
92612 |  | A | Endoscopy swallow tst (fees) | 1.27 | 2.74 | 0.63 | 0.04 | 4.06 | 1.95 | XXX
92613 |  | A | Endoscopy swallow tst (fees) | 0.71 | 0.38 | 0.38 | 0.05 | 1.14 | 1.14 | XXX
92614 |  | A | Laryngoscopic sensory test | 1.27 | 2.47 | 0.63 | 0.04 | 3.78 | 1.95 | XXX
92615 |  | A | Eval laryngoscopy sense tst | 0.63 | 0.34 | 0.34 | 0.05 | 1.02 | 1.02 | XXX
92616 |  | A | Fees w/laryngeal sense test | 1.88 | 3.31 | 0.95 | 0.06 | 5.26 | 2.90 | XXX
92617 |  | A | Interprt fees/laryngeal test | 0.79 | 0.42 | 0.42 | 0.05 | 1.26 | 1.26 | XXX
92620 |  | A | Auditory function, 60 min | 0.00 | 1.18 | NA | 0.06 | 1.24 | NA | XXX
92621 |  | A | Auditory function, + 15 min | 0.00 | 0.26 | NA | 0.06 | 0.32 | NA | ZZZ
92625 |  | A | Tinnitus assessment | 0.00 | 1.16 | NA | 0.06 | 1.22 | NA | XXX
92700 |  | C | Ent procedure/service | 0.00 | 0.00 | 0.00 | 0.00 | 0.00 | 0.00 | XXX
92950 |  | A | Heart/lung resuscitation cpr | 3.80 | 3.97 | 0.95 | 0.28 | 8.04 | 5.03 | 000
92953 |  | A | Temporary external pacing | 0.23 | NA | 0.07 | 0.02 | NA | 0.32 | 000
92960 |  | A | Cardioversion electric, ext | 2.25 | 6.22 | 1.26 | 0.07 | 8.55 | 3.58 | 000
92961 |  | A | Cardioversion, electric, int | 4.60 | NA | 2.19 | 0.29 | NA | 7.08 | 000
92970 |  | A | Cardioassist, internal | 3.52 | NA | 1.06 | 0.16 | NA | 4.74 | 000
92971 |  | A | Cardioassist, external | 1.77 | NA | 0.91 | 0.06 | NA | 2.74 | 000
92973 |  | A | Percut coronary thrombectomy | 3.29 | NA | 1.35 | 0.23 | NA | 4.86 | ZZZ
92974 |  | A | Cath place, cardio brachytx | 3.01 | NA | 1.24 | 0.21 | NA | 4.45 | ZZZ
92975 |  | A | Dissolve clot, heart vessel | 7.25 | NA | 2.94 | 0.50 | NA | 10.69 | 000
92977 |  | A | Dissolve clot, heart vessel | 0.00 | 6.62 | NA | 0.46 | 7.08 | NA | XXX
92978 |  | A | Intravasc us, heart add-on | 1.80 | NA | NA | 0.30 | NA | NA | ZZZ
92978 | 26 | A | Intravasc us, heart add-on | 1.80 | 0.74 | 0.74 | 0.06 | 2.61 | 2.61 | ZZZ
92978 | TC | A | Intravasc us, heart add-on | 0.00 | NA | NA | 0.24 | NA | NA | ZZZ
92979 |  | A | Intravasc us, heart add-on | 1.44 | NA | NA | 0.19 | NA | NA | ZZZ
92979 | 26 | A | Intravasc us, heart add-on | 1.44 | 0.59 | 0.59 | 0.06 | 2.09 | 2.09 | ZZZ
92979 | TC | A | Intravasc us, heart add-on | 0.00 | NA | NA | 0.13 | NA | NA | ZZZ
92980 |  | A | Insert intracoronary stent | 14.85 | NA | 6.36 | 1.03 | NA | 22.24 | 000
92981 |  | A | Insert intracoronary stent | 4.17 | NA | 1.71 | 0.29 | NA | 6.17 | ZZZ
92982 |  | A | Coronary artery dilation | 10.98 | NA | 4.77 | 0.76 | NA | 16.52 | 000
92984 |  | A | Coronary artery dilation | 2.98 | NA | 1.21 | 0.21 | NA | 4.40 | ZZZ
92986 |  | A | Revision of aortic valve | 21.81 | NA | 12.62 | 1.51 | NA | 35.94 | 090
92987 |  | A | Revision of mitral valve | 22.72 | NA | 13.01 | 1.59 | NA | 37.32 | 090
92990 |  | A | Revision of pulmonary valve | 17.34 | NA | 10.33 | 1.20 | NA | 28.87 | 090
92992 |  | C | Revision of heart chamber | 0.00 | 0.00 | 0.00 | 0.00 | 0.00 | 0.00 | 090
92993 |  | C | Revision of heart chamber | 0.00 | 0.00 | 0.00 | 0.00 | 0.00 | 0.00 | 090
92995 |  | A | Coronary atherectomy | 12.09 | NA | 5.22 | 0.84 | NA | 18.16 | 000
92996 |  | A | Coronary atherectomy add-on | 3.27 | NA | 1.33 | 0.10 | NA | 4.70 | ZZZ
92997 |  | A | Pul art balloon repr, percut | 12.00 | NA | 5.04 | 0.40 | NA | 17.44 | 000
92998 |  | A | Pul art balloon repr, percut | 6.00 | NA | 2.24 | 0.28 | NA | 8.53 | ZZZ
93000 |  | A | Electrocardiogram, complete | 0.17 | 0.47 | NA | 0.03 | 0.67 | NA | XXX
93005 |  | A | Electrocardiogram, tracing | 0.00 | 0.41 | NA | 0.02 | 0.43 | NA | XXX
93010 |  | A | Electrocardiogram report | 0.17 | 0.06 | 0.06 | 0.01 | 0.24 | 0.24 | XXX
93012 |  | A | Transmission of ecg | 0.00 | 4.81 | NA | 0.18 | 4.99 | NA | XXX
93014 |  | A | Report on transmitted ecg | 0.52 | 0.19 | 0.19 | 0.02 | 0.73 | 0.73 | XXX
93015 |  | A | Cardiovascular stress test | 0.75 | 2.11 | NA | 0.14 | 3.00 | NA | XXX
93016 |  | A | Cardiovascular stress test | 0.45 | 0.18 | 0.18 | 0.02 | 0.65 | 0.65 | XXX
93017 |  | A | Cardiovascular stress test | 0.00 | 1.82 | NA | 0.11 | 1.93 | NA | XXX
93018 |  | A | Cardiovascular stress test | 0.30 | 0.12 | 0.12 | 0.01 | 0.43 | 0.43 | XXX
93024 |  | A | Cardiac drug stress test | 1.17 | 1.93 | NA | 0.12 | 3.22 | NA | XXX
93024 | 26 | A | Cardiac drug stress test | 1.17 | 0.47 | 0.47 | 0.04 | 1.68 | 1.68 | XXX
93024 | TC | A | Cardiac drug stress test | 0.00 | 1.46 | NA | 0.08 | 1.54 | NA | XXX
93025 |  | A | Microvolt t-wave assess | 0.75 | 7.06 | NA | 0.14 | 7.95 | NA | XXX
93025 | 26 | A | Microvolt t-wave assess | 0.75 | 0.30 | 0.30 | 0.03 | 1.08 | 1.08 | XXX
93025 | TC | A | Microvolt t-wave assess | 0.00 | 6.76 | NA | 0.11 | 6.87 | NA | XXX
93040 |  | A | Rhythm ECG with report | 0.16 | 0.21 | NA | 0.02 | 0.39 | NA | XXX
93041 |  | A | Rhythm ECG, tracing | 0.00 | 0.16 | NA | 0.01 | 0.17 | NA | XXX
93042 |  | A | Rhythm ECG, report | 0.16 | 0.05 | 0.05 | 0.01 | 0.22 | 0.22 | XXX
93224 |  | A | ECG monitor/report, 24 hrs | 0.52 | 3.30 | NA | 0.24 | 4.07 | NA | XXX
93225 |  | A | ECG monitor/record, 24 hrs | 0.00 | 1.20 | NA | 0.08 | 1.28 | NA | XXX
93226 |  | A | ECG monitor/report, 24 hrs | 0.00 | 1.90 | NA | 0.14 | 2.04 | NA | XXX
93227 |  | A | ECG monitor/review, 24 hrs | 0.52 | 0.20 | 0.20 | 0.02 | 0.74 | 0.74 | XXX
93230 |  | A | ECG monitor/report, 24 hrs | 0.52 | 3.42 | NA | 0.26 | 4.20 | NA | XXX
93231 |  | A | Ecg monitor/record, 24 hrs | 0.00 | 1.38 | NA | 0.11 | 1.49 | NA | XXX
93232 |  | A | ECG monitor/report, 24 hrs | 0.00 | 1.85 | NA | 0.13 | 1.98 | NA | XXX
93233 |  | A | ECG monitor/review, 24 hrs | 0.52 | 0.20 | 0.20 | 0.02 | 0.74 | 0.74 | XXX
93235 |  | A | ECG monitor/report, 24 hrs | 0.45 | 2.79 | NA | 0.16 | 3.40 | NA | XXX
93236 |  | A | ECG monitor/report, 24 hrs | 0.00 | 2.63 | NA | 0.14 | 2.77 | NA | XXX
93237 |  | A | ECG monitor/review, 24 hrs | 0.45 | 0.17 | 0.17 | 0.02 | 0.64 | 0.64 | XXX
93268 |  | A | ECG record/review | 0.52 | 5.84 | NA | 0.28 | 6.65 | NA | XXX
93270 |  | A | ECG recording | 0.00 | 1.04 | NA | 0.08 | 1.12 | NA | XXX
93271 |  | A | Ecg/monitoring and analysis | 0.00 | 4.60 | NA | 0.18 | 4.78 | NA | XXX
93272 |  | A | Ecg/review, interpret only | 0.52 | 0.19 | 0.19 | 0.02 | 0.73 | 0.73 | XXX
93278 |  | A | ECG/signal-averaged | 0.25 | 1.10 | NA | 0.12 | 1.47 | NA | XXX
93278 | 26 | A | ECG/signal-averaged | 0.25 | 0.10 | 0.10 | 0.01 | 0.36 | 0.36 | XXX
93278 | TC | A | ECG/signal-averaged | 0.00 | 1.00 | NA | 0.11 | 1.11 | NA | XXX
93303 |  | A | Echo transthoracic | 1.30 | 4.74 | NA | 0.27 | 6.32 | NA | XXX
93303 | 26 | A | Echo transthoracic | 1.30 | 0.50 | 0.50 | 0.04 | 1.84 | 1.84 | XXX
93303 | TC | A | Echo transthoracic | 0.00 | 4.25 | NA | 0.23 | 4.48 | NA | XXX
93304 |  | A | Echo transthoracic | 0.75 | 2.71 | NA | 0.15 | 3.61 | NA | XXX
93304 | 26 | A | Echo transthoracic | 0.75 | 0.29 | 0.29 | 0.02 | 1.06 | 1.06 | XXX
93304 | TC | A | Echo transthoracic | 0.00 | 2.42 | NA | 0.13 | 2.55 | NA | XXX
93307 |  | A | Echo exam of heart | 0.92 | 4.30 | NA | 0.26 | 5.48 | NA | XXX
93307 | 26 | A | Echo exam of heart | 0.92 | 0.36 | 0.36 | 0.03 | 1.32 | 1.32 | XXX
93307 | TC | A | Echo exam of heart | 0.00 | 3.94 | NA | 0.23 | 4.17 | NA | XXX
93308 |  | A | Echo exam of heart | 0.53 | 2.39 | NA | 0.15 | 3.08 | NA | XXX
93308 | 26 | A | Echo exam of heart | 0.53 | 0.21 | 0.21 | 0.02 | 0.76 | 0.76 | XXX
93308 | TC | A | Echo exam of heart | 0.00 | 2.19 | NA | 0.13 | 2.32 | NA | XXX
93312 |  | A | Echo transesophageal | 2.20 | 5.88 | NA | 0.37 | 8.45 | NA | XXX
93312 | 26 | A | Echo transesophageal | 2.20 | 0.82 | 0.82 | 0.08 | 3.10 | 3.10 | XXX
93312 | TC | A | Echo transesophageal | 0.00 | 5.06 | NA | 0.29 | 5.35 | NA | XXX
93313 |  | A | Echo transesophageal | 0.95 | 0.00 | 0.21 | 0.06 | 1.01 | 1.22 | XXX
93314 |  | A | Echo transesophageal | 1.25 | 5.32 | NA | 0.33 | 6.91 | NA | XXX
93314 | 26 | A | Echo transesophageal | 1.25 | 0.49 | 0.49 | 0.04 | 1.78 | 1.78 | XXX
93314 | TC | A | Echo transesophageal | 0.00 | 4.84 | NA | 0.29 | 5.13 | NA | XXX
93315 |  | C | Echo transesophageal | 0.00 | 0.00 | 0.00 | 0.00 | 0.00 | 0.00 | XXX
93315 | 26 | A | Echo transesophageal | 2.79 | 1.04 | 1.04 | 0.09 | 3.92 | 3.92 | XXX
93315 | TC | C | Echo transesophageal | 0.00 | 0.00 | 0.00 | 0.00 | 0.00 | 0.00 | XXX
93316 |  | A | Echo transesophageal | 0.95 | NA | 0.24 | 0.05 | NA | 1.24 | XXX
93317 |  | C | Echo transesophageal | 0.00 | 0.00 | 0.00 | 0.00 | 0.00 | 0.00 | XXX
93317 | 26 | A | Echo transesophageal | 1.83 | 0.69 | 0.69 | 0.08 | 2.60 | 2.60 | XXX
93317 | TC | C | Echo transesophageal | 0.00 | 0.00 | 0.00 | 0.00 | 0.00 | 0.00 | XXX
93318 |  | C | Echo transesophageal intraop | 0.00 | 0.00 | 0.00 | 0.00 | 0.00 | 0.00 | XXX
93318 | 26 | A | Echo transesophageal intraop | 2.20 | 0.47 | 0.47 | 0.14 | 2.82 | 2.82 | XXX
93318 | TC | C | Echo transesophageal intraop | 0.00 | 0.00 | 0.00 | 0.00 | 0.00 | 0.00 | XXX
93320 |  | A | Doppler echo exam, heart | 0.38 | 1.92 | NA | 0.13 | 2.43 | NA | ZZZ
93320 | 26 | A | Doppler echo exam, heart | 0.38 | 0.16 | 0.16 | 0.01 | 0.55 | 0.55 | ZZZ
93320 | TC | A | Doppler echo exam, heart | 0.00 | 1.76 | NA | 0.12 | 1.88 | NA | ZZZ
93321 |  | A | Doppler echo exam, heart | 0.15 | 1.07 | NA | 0.09 | 1.31 | NA | ZZZ
93321 | 26 | A | Doppler echo exam, heart | 0.15 | 0.06 | 0.06 | 0.01 | 0.22 | 0.22 | ZZZ
93321 | TC | A | Doppler echo exam, heart | 0.00 | 1.01 | NA | 0.08 | 1.09 | NA | ZZZ
93325 |  | A | Doppler color flow add-on | 0.07 | 2.41 | NA | 0.22 | 2.70 | NA | ZZZ
93325 | 26 | A | Doppler color flow add-on | 0.07 | 0.03 | 0.03 | 0.01 | 0.11 | 0.11 | ZZZ
93325 | TC | A | Doppler color flow add-on | 0.00 | 2.38 | NA | 0.21 | 2.59 | NA | ZZZ
93350 |  | A | Echo transthoracic | 1.48 | 3.36 | NA | 0.18 | 5.02 | NA | XXX
93350 | 26 | A | Echo transthoracic | 1.48 | 0.59 | 0.59 | 0.05 | 2.12 | 2.12 | XXX
93350 | TC | A | Echo transthoracic | 0.00 | 2.77 | NA | 0.13 | 2.90 | NA | XXX
93501 |  | A | Right heart catheterization | 3.03 | 21.04 | NA | 1.26 | 25.33 | NA | 000
93501 | 26 | A | Right heart catheterization | 3.03 | 1.19 | 1.19 | 0.21 | 4.43 | 4.43 | 000
93501 | TC | A | Right heart catheterization | 0.00 | 19.84 | NA | 1.05 | 20.89 | NA | 000
93503 |  | A | Insert/place heart catheter | 2.92 | NA | 0.67 | 0.20 | NA | 3.79 | 000
93505 |  | A | Biopsy of heart lining | 4.38 | 10.54 | NA | 0.46 | 15.38 | NA | 000
93505 | 26 | A | Biopsy of heart lining | 4.38 | 1.75 | 1.75 | 0.30 | 6.42 | 6.42 | 000
93505 | TC | A | Biopsy of heart lining | 0.00 | 8.79 | NA | 0.16 | 8.95 | NA | 000
93508 |  | A | Cath placement, angiography | 4.10 | 15.76 | NA | 0.93 | 20.78 | NA | 000
93508 | 26 | A | Cath placement, angiography | 4.10 | 2.23 | 2.23 | 0.28 | 6.61 | 6.61 | 000
93508 | TC | A | Cath placement, angiography | 0.00 | 13.52 | NA | 0.65 | 14.17 | NA | 000
93510 |  | A | Left heart catheterization | 4.33 | 35.48 | NA | 2.61 | 42.42 | NA | 000
93510 | 26 | A | Left heart catheterization | 4.33 | 2.34 | 2.34 | 0.30 | 6.97 | 6.97 | 000
93510 | TC | A | Left heart catheterization | 0.00 | 33.14 | NA | 2.31 | 35.45 | NA | 000
93511 |  | A | Left heart catheterization | 5.03 | NA | NA | 2.59 | NA | NA | 000
93511 | 26 | A | Left heart catheterization | 5.03 | 2.62 | 2.62 | 0.35 | 8.00 | 8.00 | 000
93511 | TC | A | Left heart catheterization | 0.00 | NA | NA | 2.24 | NA | NA | 000
93514 |  | A | Left heart catheterization | 7.05 | NA | NA | 2.74 | NA | NA | 000
93514 | 26 | A | Left heart catheterization | 7.05 | 3.31 | 3.31 | 0.49 | 10.85 | 10.85 | 000
93514 | TC | A | Left heart catheterization | 0.00 | NA | NA | 2.24 | NA | NA | 000
93524 |  | A | Left heart catheterization | 6.95 | NA | NA | 3.43 | NA | NA | 000
93524 | 26 | A | Left heart catheterization | 6.95 | 3.38 | 3.38 | 0.48 | 10.81 | 10.81 | 000
93524 | TC | A | Left heart catheterization | 0.00 | NA | NA | 2.95 | NA | NA | 000
93526 |  | A | Rt & Lt heart catheters | 5.99 | 49.26 | NA | 3.46 | 58.71 | NA | 000
93526 | 26 | A | Rt & Lt heart catheters | 5.99 | 3.00 | 3.00 | 0.42 | 9.42 | 9.42 | 000
93526 | TC | A | Rt & Lt heart catheters | 0.00 | 46.25 | NA | 3.04 | 49.29 | NA | 000
93527 |  | A | Rt & Lt heart catheters | 7.28 | NA | NA | 3.46 | NA | NA | 000
93527 | 26 | A | Rt & Lt heart catheters | 7.28 | 3.52 | 3.52 | 0.51 | 11.32 | 11.32 | 000
93527 | TC | A | Rt & Lt heart catheters | 0.00 | NA | NA | 2.95 | NA | NA | 000
93528 |  | A | Rt & Lt heart catheters | 9.01 | NA | NA | 3.57 | NA | NA | 000
93528 | 26 | A | Rt & Lt heart catheters | 9.01 | 4.30 | 4.30 | 0.62 | 13.93 | 13.93 | 000
93528 | TC | A | Rt & Lt heart catheters | 0.00 | NA | NA | 2.95 | NA | NA | 000
93529 |  | A | Rt, lt heart catheterization | 4.80 | NA | NA | 3.28 | NA | NA | 000
93529 | 26 | A | Rt, lt heart catheterization | 4.80 | 2.42 | 2.42 | 0.33 | 7.55 | 7.55 | 000
93529 | TC | A | Rt, lt heart catheterization | 0.00 | NA | NA | 2.95 | NA | NA | 000
93530 |  | A | Rt heart cath, congenital | 4.23 | NA | NA | 1.34 | NA | NA | 000
93530 | 26 | A | Rt heart cath, congenital | 4.23 | 2.02 | 2.02 | 0.29 | 6.54 | 6.54 | 000
93530 | TC | A | Rt heart cath, congenital | 0.00 | NA | NA | 1.05 | NA | NA | 000
93531 |  | A | R & l heart cath, congenital | 8.36 | NA | NA | 3.62 | NA | NA | 000
93531 | 26 | A | R & l heart cath, congenital | 8.36 | 3.74 | 3.74 | 0.58 | 12.68 | 12.68 | 000
93531 | TC | A | R & l heart cath, congenital | 0.00 | NA | NA | 3.04 | NA | NA | 000
93532 |  | A | R & l heart cath, congenital | 10.01 | NA | NA | 3.64 | NA | NA | 000
93532 | 26 | A | R & l heart cath, congenital | 10.01 | 4.44 | 4.44 | 0.69 | 15.14 | 15.14 | 000
93532 | TC | A | R & l heart cath, congenital | 0.00 | NA | NA | 2.95 | NA | NA | 000
93533 |  | A | R & l heart cath, congenital | 6.70 | NA | NA | 3.42 | NA | NA | 000
93533 | 26 | A | R & l heart cath, congenital | 6.70 | 2.87 | 2.87 | 0.47 | 10.04 | 10.04 | 000
93533 | TC | A | R & l heart cath, congenital | 0.00 | NA | NA | 2.95 | NA | NA | 000
93539 |  | A | Injection, cardiac cath | 0.40 | NA | 0.17 | 0.01 | NA | 0.58 | 000
93540 |  | A | Injection, cardiac cath | 0.43 | NA | 0.18 | 0.01 | NA | 0.62 | 000
93541 |  | A | Injection for lung angiogram | 0.29 | NA | 0.12 | 0.01 | NA | 0.42 | 000
93542 |  | A | Injection for heart x-rays | 0.29 | NA | 0.12 | 0.01 | NA | 0.42 | 000
93543 |  | A | Injection for heart x-rays | 0.29 | NA | 0.12 | 0.01 | NA | 0.42 | 000
93544 |  | A | Injection for aortography | 0.25 | NA | 0.10 | 0.01 | NA | 0.36 | 000
93545 |  | A | Inject for coronary x-rays | 0.40 | NA | 0.17 | 0.01 | NA | 0.58 | 000
93555 |  | A | Imaging, cardiac cath | 0.81 | 5.12 | NA | 0.37 | 6.30 | NA | XXX
93555 | 26 | A | Imaging, cardiac cath | 0.81 | 0.33 | 0.33 | 0.03 | 1.17 | 1.17 | XXX
93555 | TC | A | Imaging, cardiac cath | 0.00 | 4.79 | NA | 0.34 | 5.13 | NA | XXX
93556 |  | A | Imaging, cardiac cath | 0.83 | 7.95 | NA | 0.54 | 9.32 | NA | XXX
93556 | 26 | A | Imaging, cardiac cath | 0.83 | 0.34 | 0.34 | 0.03 | 1.20 | 1.20 | XXX
93556 | TC | A | Imaging, cardiac cath | 0.00 | 7.61 | NA | 0.51 | 8.12 | NA | XXX
93561 |  | A | Cardiac output measurement | 0.50 | NA | NA | 0.08 | NA | NA | 000
93561 | 26 | A | Cardiac output measurement | 0.50 | 0.16 | 0.16 | 0.02 | 0.68 | 0.68 | 000
93561 | TC | A | Cardiac output measurement | 0.00 | NA | NA | 0.06 | NA | NA | 000
93562 |  | A | Cardiac output measurement | 0.16 | NA | NA | 0.05 | NA | NA | 000
93562 | 26 | A | Cardiac output measurement | 0.16 | 0.05 | 0.05 | 0.01 | 0.22 | 0.22 | 000
93562 | TC | A | Cardiac output measurement | 0.00 | NA | NA | 0.04 | NA | NA | 000
93571 |  | A | Heart flow reserve measure | 1.80 | NA | NA | 0.30 | NA | NA | ZZZ
93571 | 26 | A | Heart flow reserve measure | 1.80 | 0.70 | 0.70 | 0.06 | 2.57 | 2.57 | ZZZ
93571 | TC | A | Heart flow reserve measure | 0.00 | NA | NA | 0.24 | NA | NA | ZZZ
93572 |  | A | Heart flow reserve measure | 1.44 | NA | NA | 0.17 | NA | NA | ZZZ
93572 | 26 | A | Heart flow reserve measure | 1.44 | 0.50 | 0.50 | 0.04 | 1.98 | 1.98 | ZZZ
93572 | TC | A | Heart flow reserve measure | 0.00 | NA | NA | 0.13 | NA | NA | ZZZ
93580 |  | A | Transcath closure of asd | 18.01 | NA | 7.75 | 1.25 | NA | 27.00 | 000
93581 |  | A | Transcath closure of vsd | 24.44 | NA | 9.69 | 1.71 | NA | 35.84 | 000
93600 |  | A | Bundle of His recording | 2.12 | NA | NA | 0.29 | NA | NA | 000
93600 | 26 | A | Bundle of His recording | 2.12 | 0.87 | 0.87 | 0.16 | 3.15 | 3.15 | 000
93600 | TC | A | Bundle of His recording | 0.00 | NA | NA | 0.13 | NA | NA | 000
93602 |  | A | Intra-atrial recording | 2.12 | NA | NA | 0.24 | NA | NA | 000
93602 | 26 | A | Intra-atrial recording | 2.12 | 0.86 | 0.86 | 0.17 | 3.15 | 3.15 | 000
93602 | TC | A | Intra-atrial recording | 0.00 | NA | NA | 0.07 | NA | NA | 000
93603 |  | A | Right ventricular recording | 2.12 | NA | NA | 0.29 | NA | NA | 000
93603 | 26 | A | Right ventricular recording | 2.12 | 0.84 | 0.84 | 0.18 | 3.15 | 3.15 | 000
93603 | TC | A | Right ventricular recording | 0.00 | NA | NA | 0.11 | NA | NA | 000
93609 |  | A | Map tachycardia, add-on | 5.00 | NA | NA | 0.52 | NA | NA | ZZZ
93609 | 26 | A | Map tachycardia, add-on | 5.00 | 2.03 | 2.03 | 0.35 | 7.38 | 7.38 | ZZZ
93609 | TC | A | Map tachycardia, add-on | 0.00 | NA | NA | 0.17 | NA | NA | ZZZ
93610 |  | A | Intra-atrial pacing | 3.03 | NA | NA | 0.34 | NA | NA | 000
93610 | 26 | A | Intra-atrial pacing | 3.03 | 1.21 | 1.21 | 0.24 | 4.47 | 4.47 | 000
93610 | TC | A | Intra-atrial pacing | 0.00 | NA | NA | 0.10 | NA | NA | 000
93612 |  | A | Intraventricular pacing | 3.03 | NA | NA | 0.36 | NA | NA | 000
93612 | 26 | A | Intraventricular pacing | 3.03 | 1.20 | 1.20 | 0.25 | 4.48 | 4.48 | 000
93612 | TC | A | Intraventricular pacing | 0.00 | NA | NA | 0.11 | NA | NA | 000
93613 |  | A | Electrophys map 3d, add-on | 7.00 | NA | 2.90 | 0.49 | NA | 10.39 | ZZZ
93615 |  | A | Esophageal recording | 0.99 | NA | NA | 0.05 | NA | NA | 000
93615 | 26 | A | Esophageal recording | 0.99 | 0.27 | 0.27 | 0.03 | 1.30 | 1.30 | 000
93615 | TC | A | Esophageal recording | 0.00 | NA | NA | 0.02 | NA | NA | 000
93616 |  | A | Esophageal recording | 1.49 | NA | NA | 0.11 | NA | NA | 000
93616 | 26 | A | Esophageal recording | 1.49 | 0.44 | 0.44 | 0.09 | 2.02 | 2.02 | 000
93616 | TC | A | Esophageal recording | 0.00 | NA | NA | 0.02 | NA | NA | 000
93618 |  | A | Heart rhythm pacing | 4.26 | NA | NA | 0.54 | NA | NA | 000
93618 | 26 | A | Heart rhythm pacing | 4.26 | 1.75 | 1.75 | 0.30 | 6.30 | 6.30 | 000
93618 | TC | A | Heart rhythm pacing | 0.00 | NA | NA | 0.24 | NA | NA | 000
93619 |  | A | Electrophysiology evaluation | 7.32 | NA | NA | 0.98 | NA | NA | 000
93619 | 26 | A | Electrophysiology evaluation | 7.32 | 3.37 | 3.37 | 0.51 | 11.21 | 11.21 | 000
93619 | TC | A | Electrophysiology evaluation | 0.00 | NA | NA | 0.47 | NA | NA | 000
93620 |  | C | Electrophysiology evaluation | 0.00 | 0.00 | 0.00 | 0.00 | 0.00 | 0.00 | 000
93620 | 26 | A | Electrophysiology evaluation | 11.59 | 5.11 | 5.11 | 0.80 | 17.50 | 17.50 | 000
93620 | TC | C | Electrophysiology evaluation | 0.00 | 0.00 | 0.00 | 0.00 | 0.00 | 0.00 | 000
93621 |  | C | Electrophysiology evaluation | 0.00 | 0.00 | 0.00 | 0.00 | 0.00 | 0.00 | ZZZ
93621 | 26 | A | Electrophysiology evaluation | 2.10 | 0.86 | 0.86 | 0.15 | 3.11 | 3.11 | ZZZ
93621 | TC | C | Electrophysiology evaluation | 0.00 | 0.00 | 0.00 | 0.00 | 0.00 | 0.00 | ZZZ
93622 |  | C | Electrophysiology evaluation | 0.00 | 0.00 | 0.00 | 0.00 | 0.00 | 0.00 | ZZZ
93622 | 26 | A | Electrophysiology evaluation | 3.11 | 1.26 | 1.26 | 0.22 | 4.59 | 4.59 | ZZZ
93622 | TC | C | Electrophysiology evaluation | 0.00 | 0.00 | 0.00 | 0.00 | 0.00 | 0.00 | ZZZ
93623 |  | C | Stimulation, pacing heart | 0.00 | 0.00 | 0.00 | 0.00 | 0.00 | 0.00 | ZZZ
93623 | 26 | A | Stimulation, pacing heart | 2.86 | 1.16 | 1.16 | 0.20 | 4.21 | 4.21 | ZZZ
93623 | TC | C | Stimulation, pacing heart | 0.00 | 0.00 | 0.00 | 0.00 | 0.00 | 0.00 | ZZZ
93624 |  | A | Electrophysiologic study | 4.81 | NA | NA | 0.46 | NA | NA | 000
93624 | 26 | A | Electrophysiologic study | 4.81 | 2.33 | 2.33 | 0.33 | 7.47 | 7.47 | 000
93624 | TC | A | Electrophysiologic study | 0.00 | NA | NA | 0.13 | NA | NA | 000
93631 |  | A | Heart pacing, mapping | 7.61 | NA | NA | 1.60 | NA | NA | 000
93631 | 26 | A | Heart pacing, mapping | 7.61 | 2.83 | 2.83 | 0.97 | 11.41 | 11.41 | 000
93631 | TC | A | Heart pacing, mapping | 0.00 | NA | NA | 0.62 | NA | NA | 000
93640 |  | A | Evaluation heart device | 3.52 | NA | NA | 0.66 | NA | NA | 000
93640 | 26 | A | Evaluation heart device | 3.52 | 1.42 | 1.42 | 0.24 | 5.18 | 5.18 | 000
93640 | TC | A | Evaluation heart device | 0.00 | NA | NA | 0.42 | NA | NA | 000
93641 |  | A | Electrophysiology evaluation | 5.93 | NA | NA | 0.83 | NA | NA | 000
93641 | 26 | A | Electrophysiology evaluation | 5.93 | 2.41 | 2.41 | 0.41 | 8.75 | 8.75 | 000
93641 | TC | A | Electrophysiology evaluation | 0.00 | NA | NA | 0.42 | NA | NA | 000
93642 |  | A | Electrophysiology evaluation | 4.89 | 8.17 | NA | 0.57 | 13.63 | NA | 000
93642 | 26 | A | Electrophysiology evaluation | 4.89 | 2.35 | 2.35 | 0.15 | 7.39 | 7.39 | 000
93642 | TC | A | Electrophysiology evaluation | 0.00 | 5.81 | NA | 0.42 | 6.23 | NA | 000
93650 |  | A | Ablate heart dysrhythm focus | 10.51 | NA | 4.68 | 0.73 | NA | 15.92 | 000
93651 |  | A | Ablate heart dysrhythm focus | 16.26 | NA | 6.61 | 1.13 | NA | 24.00 | 000
93652 |  | A | Ablate heart dysrhythm focus | 17.69 | NA | 7.17 | 1.23 | NA | 26.08 | 000
93660 |  | A | Tilt table evaluation | 1.89 | 2.58 | NA | 0.08 | 4.55 | NA | 000
93660 | 26 | A | Tilt table evaluation | 1.89 | 0.77 | 0.77 | 0.06 | 2.73 | 2.73 | 000
93660 | TC | A | Tilt table evaluation | 0.00 | 1.81 | NA | 0.02 | 1.83 | NA | 000
93662 |  | C | Intracardiac ecg (ice) | 0.00 | 0.00 | 0.00 | 0.00 | 0.00 | 0.00 | ZZZ
93662 | 26 | A | Intracardiac ecg (ice) | 2.81 | 1.16 | 1.16 | 0.09 | 4.06 | 4.06 | ZZZ
93662 | TC | C | Intracardiac ecg (ice) | 0.00 | 0.00 | 0.00 | 0.00 | 0.00 | 0.00 | ZZZ
93668 |  | N | Peripheral vascular rehab | 0.00 | 0.00 | 0.00 | 0.00 | 0.00 | 0.00 | XXX
93701 |  | A | Bioimpedance, thoracic | 0.17 | 0.94 | NA | 0.02 | 1.13 | NA | XXX
93701 | 26 | A | Bioimpedance, thoracic | 0.17 | 0.07 | 0.07 | 0.01 | 0.25 | 0.25 | XXX
93701 | TC | A | Bioimpedance, thoracic | 0.00 | 0.87 | NA | 0.01 | 0.88 | NA | XXX
93720 |  | A | Total body plethysmography | 0.17 | 0.92 | NA | 0.07 | 1.16 | NA | XXX
93721 |  | A | Plethysmography tracing | 0.00 | 0.87 | NA | 0.06 | 0.93 | NA | XXX
93722 |  | A | Plethysmography report | 0.17 | 0.05 | 0.05 | 0.01 | 0.23 | 0.23 | XXX
93724 |  | A | Analyze pacemaker system | 4.89 | 5.22 | NA | 0.39 | 10.50 | NA | 000
93724 | 26 | A | Analyze pacemaker system | 4.89 | 2.00 | 2.00 | 0.15 | 7.04 | 7.04 | 000
93724 | TC | A | Analyze pacemaker system | 0.00 | 3.22 | NA | 0.24 | 3.46 | NA | 000
93727 |  | A | Analyze ilr system | 0.52 | 0.37 | 0.20 | 0.02 | 0.91 | 0.74 | XXX
93731 |  | A | Analyze pacemaker system | 0.45 | 0.74 | NA | 0.05 | 1.24 | NA | XXX
93731 | 26 | A | Analyze pacemaker system | 0.45 | 0.18 | 0.18 | 0.01 | 0.64 | 0.64 | XXX
93731 | TC | A | Analyze pacemaker system | 0.00 | 0.56 | NA | 0.04 | 0.60 | NA | XXX
93732 |  | A | Analyze pacemaker system | 0.92 | 0.98 | NA | 0.07 | 1.97 | NA | XXX
93732 | 26 | A | Analyze pacemaker system | 0.92 | 0.37 | 0.37 | 0.03 | 1.32 | 1.32 | XXX
93732 | TC | A | Analyze pacemaker system | 0.00 | 0.62 | NA | 0.04 | 0.66 | NA | XXX
93733 |  | A | Telephone analy, pacemaker | 0.17 | 0.69 | NA | 0.07 | 0.93 | NA | XXX
93733 | 26 | A | Telephone analy, pacemaker | 0.17 | 0.07 | 0.07 | 0.01 | 0.25 | 0.25 | XXX
93733 | TC | A | Telephone analy, pacemaker | 0.00 | 0.62 | NA | 0.06 | 0.68 | NA | XXX
93734 |  | A | Analyze pacemaker system | 0.38 | 0.59 | NA | 0.03 | 1.00 | NA | XXX
93734 | 26 | A | Analyze pacemaker system | 0.38 | 0.16 | 0.16 | 0.01 | 0.55 | 0.55 | XXX
93734 | TC | A | Analyze pacemaker system | 0.00 | 0.43 | NA | 0.02 | 0.45 | NA | XXX
93735 |  | A | Analyze pacemaker system | 0.74 | 0.82 | NA | 0.06 | 1.62 | NA | XXX
93735 | 26 | A | Analyze pacemaker system | 0.74 | 0.29 | 0.29 | 0.02 | 1.05 | 1.05 | XXX
93735 | TC | A | Analyze pacemaker system | 0.00 | 0.53 | NA | 0.04 | 0.57 | NA | XXX
93736 |  | A | Telephonic analy, pacemaker | 0.15 | 0.60 | NA | 0.07 | 0.82 | NA | XXX
93736 | 26 | A | Telephonic analy, pacemaker | 0.15 | 0.06 | 0.06 | 0.01 | 0.22 | 0.22 | XXX
93736 | TC | A | Telephonic analy, pacemaker | 0.00 | 0.54 | NA | 0.06 | 0.60 | NA | XXX
93740 |  | B | Temperature gradient studies | 0.16 | 0.16 | NA | 0.02 | 0.34 | NA | XXX
93740 | 26 | B | Temperature gradient studies | 0.16 | 0.04 | 0.04 | 0.01 | 0.21 | 0.21 | XXX
93740 | TC | B | Temperature gradient studies | 0.00 | 0.12 | NA | 0.01 | 0.13 | NA | XXX
93741 |  | A | Analyze ht pace device sngl | 0.80 | 1.04 | NA | 0.07 | 1.91 | NA | XXX
93741 | 26 | A | Analyze ht pace device sngl | 0.80 | 0.32 | 0.32 | 0.03 | 1.15 | 1.15 | XXX
93741 | TC | A | Analyze ht pace device sngl | 0.00 | 0.72 | NA | 0.04 | 0.76 | NA | XXX
93742 |  | A | Analyze ht pace device sngl | 0.91 | 1.11 | NA | 0.07 | 2.09 | NA | XXX
93742 | 26 | A | Analyze ht pace device sngl | 0.91 | 0.38 | 0.38 | 0.03 | 1.32 | 1.32 | XXX
93742 | TC | A | Analyze ht pace device sngl | 0.00 | 0.73 | NA | 0.04 | 0.77 | NA | XXX
93743 |  | A | Analyze ht pace device dual | 1.03 | 1.20 | NA | 0.07 | 2.30 | NA | XXX
93743 | 26 | A | Analyze ht pace device dual | 1.03 | 0.42 | 0.42 | 0.03 | 1.48 | 1.48 | XXX
93743 | TC | A | Analyze ht pace device dual | 0.00 | 0.78 | NA | 0.04 | 0.82 | NA | XXX
93744 |  | A | Analyze ht pace device dual | 1.18 | 1.23 | NA | 0.08 | 2.50 | NA | XXX
93744 | 26 | A | Analyze ht pace device dual | 1.18 | 0.48 | 0.48 | 0.04 | 1.70 | 1.70 | XXX
93744 | TC | A | Analyze ht pace device dual | 0.00 | 0.75 | NA | 0.04 | 0.79 | NA | XXX
93745 |  | C | Set-up cardiovert-defibrill | 0.00 | 0.00 | 0.00 | 0.00 | 0.00 | 0.00 | XXX
93745 | 26 | C | Set-up cardiovert-defibrill | 0.00 | 0.00 | 0.00 | 0.00 | 0.00 | 0.00 | XXX
93745 | TC | C | Set-up cardiovert-defibrill | 0.00 | 0.00 | 0.00 | 0.00 | 0.00 | 0.00 | XXX
93760 |  | N | Cephalic thermogram | 0.00 | 0.00 | 0.00 | 0.00 | 0.00 | 0.00 | XXX
93762 |  | N | Peripheral thermogram | 0.00 | 0.00 | 0.00 | 0.00 | 0.00 | 0.00 | XXX
93770 |  | B | Measure venous pressure | 0.16 | 0.07 | NA | 0.02 | 0.25 | NA | XXX
93770 | 26 | B | Measure venous pressure | 0.16 | 0.05 | 0.05 | 0.01 | 0.22 | 0.22 | XXX
93770 | TC | B | Measure venous pressure | 0.00 | 0.02 | NA | 0.01 | 0.03 | NA | XXX
93784 |  | A | Ambulatory BP monitoring | 0.38 | 1.66 | NA | 0.03 | 2.07 | NA | XXX
93786 |  | A | Ambulatory BP recording | 0.00 | 0.99 | NA | 0.01 | 1.00 | NA | XXX
93788 |  | A | Ambulatory BP analysis | 0.00 | 0.55 | NA | 0.01 | 0.56 | NA | XXX
93790 |  | A | Review/report BP recording | 0.38 | 0.13 | 0.13 | 0.01 | 0.52 | 0.52 | XXX
93797 |  | A | Cardiac rehab | 0.18 | 0.34 | 0.07 | 0.01 | 0.53 | 0.26 | 000
93798 |  | A | Cardiac rehab/monitor | 0.28 | 0.50 | 0.11 | 0.01 | 0.79 | 0.40 | 000
93799 |  | C | Cardiovascular procedure | 0.00 | 0.00 | 0.00 | 0.00 | 0.00 | 0.00 | XXX
93799 | 26 | C | Cardiovascular procedure | 0.00 | 0.00 | 0.00 | 0.00 | 0.00 | 0.00 | XXX
93799 | TC | C | Cardiovascular procedure | 0.00 | 0.00 | 0.00 | 0.00 | 0.00 | 0.00 | XXX
93875 |  | A | Extracranial study | 0.22 | 2.40 | NA | 0.12 | 2.75 | NA | XXX
93875 | 26 | A | Extracranial study | 0.22 | 0.08 | 0.08 | 0.01 | 0.31 | 0.31 | XXX
93875 | TC | A | Extracranial study | 0.00 | 2.32 | NA | 0.11 | 2.43 | NA | XXX
93880 |  | A | Extracranial study | 0.60 | 5.78 | NA | 0.39 | 6.78 | NA | XXX
93880 | 26 | A | Extracranial study | 0.60 | 0.21 | 0.21 | 0.04 | 0.85 | 0.85 | XXX
93880 | TC | A | Extracranial study | 0.00 | 5.58 | NA | 0.35 | 5.93 | NA | XXX
93882 |  | A | Extracranial study | 0.40 | 3.57 | NA | 0.26 | 4.23 | NA | XXX
93882 | 26 | A | Extracranial study | 0.40 | 0.14 | 0.14 | 0.04 | 0.58 | 0.58 | XXX
93882 | TC | A | Extracranial study | 0.00 | 3.43 | NA | 0.22 | 3.65 | NA | XXX
93886 |  | A | Intracranial study | 0.94 | 6.78 | NA | 0.45 | 8.17 | NA | XXX
93886 | 26 | A | Intracranial study | 0.94 | 0.36 | 0.36 | 0.06 | 1.37 | 1.37 | XXX
93886 | TC | A | Intracranial study | 0.00 | 6.42 | NA | 0.39 | 6.81 | NA | XXX
93888 |  | A | Intracranial study | 0.62 | 4.33 | NA | 0.32 | 5.27 | NA | XXX
93888 | 26 | A | Intracranial study | 0.62 | 0.23 | 0.23 | 0.05 | 0.90 | 0.90 | XXX
93888 | TC | A | Intracranial study | 0.00 | 4.11 | NA | 0.27 | 4.38 | NA | XXX
93890 |  | A | Tcd, vasoreactivity study | 1.00 | 5.09 | NA | 0.45 | 6.54 | NA | XXX
93890 | 26 | A | Tcd, vasoreactivity study | 1.00 | 0.39 | 0.39 | 0.06 | 1.45 | 1.45 | XXX
93890 | TC | A | Tcd, vasoreactivity study | 0.00 | 4.70 | NA | 0.39 | 5.09 | NA | XXX
93892 |  | A | Tcd, emboli detect w/o inj | 1.15 | 5.40 | NA | 0.45 | 7.00 | NA | XXX
93892 | 26 | A | Tcd, emboli detect w/o inj | 1.15 | 0.45 | 0.45 | 0.06 | 1.66 | 1.66 | XXX
93892 | TC | A | Tcd, emboli detect w/o inj | 0.00 | 4.95 | NA | 0.39 | 5.34 | NA | XXX
93893 |  | A | Tcd, emboli detect w/inj | 1.15 | 5.23 | NA | 0.45 | 6.83 | NA | XXX
93893 | 26 | A | Tcd, emboli detect w/inj | 1.15 | 0.45 | 0.45 | 0.06 | 1.66 | 1.66 | XXX
93893 | TC | A | Tcd, emboli detect w/inj | 0.00 | 4.78 | NA | 0.39 | 5.17 | NA | XXX
93922 |  | A | Extremity study | 0.25 | 2.74 | NA | 0.15 | 3.14 | NA | XXX
93922 | 26 | A | Extremity study | 0.25 | 0.08 | 0.08 | 0.02 | 0.35 | 0.35 | XXX
93922 | TC | A | Extremity study | 0.00 | 2.65 | NA | 0.13 | 2.78 | NA | XXX
93923 |  | A | Extremity study | 0.45 | 4.15 | NA | 0.26 | 4.86 | NA | XXX
93923 | 26 | A | Extremity study | 0.45 | 0.15 | 0.15 | 0.04 | 0.64 | 0.64 | XXX
93923 | TC | A | Extremity study | 0.00 | 4.00 | NA | 0.22 | 4.22 | NA | XXX
93924 |  | A | Extremity study | 0.50 | 5.02 | NA | 0.30 | 5.82 | NA | XXX
93924 | 26 | A | Extremity study | 0.50 | 0.17 | 0.17 | 0.05 | 0.72 | 0.72 | XXX
93924 | TC | A | Extremity study | 0.00 | 4.85 | NA | 0.25 | 5.10 | NA | XXX
93925 |  | A | Lower extremity study | 0.58 | 7.09 | NA | 0.39 | 8.06 | NA | XXX
93925 | 26 | A | Lower extremity study | 0.58 | 0.20 | 0.20 | 0.04 | 0.82 | 0.82 | XXX
93925 | TC | A | Lower extremity study | 0.00 | 6.89 | NA | 0.35 | 7.24 | NA | XXX
93926 |  | A | Lower extremity study | 0.39 | 4.21 | NA | 0.27 | 4.87 | NA | XXX
93926 | 26 | A | Lower extremity study | 0.39 | 0.13 | 0.13 | 0.04 | 0.56 | 0.56 | XXX
93926 | TC | A | Lower extremity study | 0.00 | 4.08 | NA | 0.23 | 4.31 | NA | XXX
93930 |  | A | Upper extremity study | 0.46 | 5.52 | NA | 0.41 | 6.39 | NA | XXX
93930 | 26 | A | Upper extremity study | 0.46 | 0.16 | 0.16 | 0.04 | 0.66 | 0.66 | XXX
93930 | TC | A | Upper extremity study | 0.00 | 5.35 | NA | 0.37 | 5.72 | NA | XXX
93931 |  | A | Upper extremity study | 0.31 | 3.65 | NA | 0.27 | 4.24 | NA | XXX
93931 | 26 | A | Upper extremity study | 0.31 | 0.10 | 0.10 | 0.03 | 0.44 | 0.44 | XXX
93931 | TC | A | Upper extremity study | 0.00 | 3.55 | NA | 0.24 | 3.79 | NA | XXX
93965 |  | A | Extremity study | 0.35 | 2.85 | NA | 0.14 | 3.34 | NA | XXX
93965 | 26 | A | Extremity study | 0.35 | 0.12 | 0.12 | 0.02 | 0.49 | 0.49 | XXX
93965 | TC | A | Extremity study | 0.00 | 2.73 | NA | 0.12 | 2.85 | NA | XXX
93970 |  | A | Extremity study | 0.68 | 5.46 | NA | 0.46 | 6.60 | NA | XXX
93970 | 26 | A | Extremity study | 0.68 | 0.23 | 0.23 | 0.06 | 0.97 | 0.97 | XXX
93970 | TC | A | Extremity study | 0.00 | 5.22 | NA | 0.40 | 5.62 | NA | XXX
93971 |  | A | Extremity study | 0.45 | 3.69 | NA | 0.30 | 4.44 | NA | XXX
93971 | 26 | A | Extremity study | 0.45 | 0.16 | 0.16 | 0.03 | 0.64 | 0.64 | XXX
93971 | TC | A | Extremity study | 0.00 | 3.53 | NA | 0.27 | 3.80 | NA | XXX
93975 |  | A | Vascular study | 1.80 | 8.00 | NA | 0.56 | 10.36 | NA | XXX
93975 | 26 | A | Vascular study | 1.80 | 0.62 | 0.62 | 0.13 | 2.55 | 2.55 | XXX
93975 | TC | A | Vascular study | 0.00 | 7.38 | NA | 0.43 | 7.81 | NA | XXX
93976 |  | A | Vascular study | 1.21 | 4.46 | NA | 0.35 | 6.02 | NA | XXX
93976 | 26 | A | Vascular study | 1.21 | 0.42 | 0.42 | 0.05 | 1.68 | 1.68 | XXX
93976 | TC | A | Vascular study | 0.00 | 4.04 | NA | 0.30 | 4.34 | NA | XXX
93978 |  | A | Vascular study | 0.65 | 4.79 | NA | 0.43 | 5.88 | NA | XXX
93978 | 26 | A | Vascular study | 0.65 | 0.22 | 0.22 | 0.06 | 0.93 | 0.93 | XXX
93978 | TC | A | Vascular study | 0.00 | 4.57 | NA | 0.37 | 4.94 | NA | XXX
93979 |  | A | Vascular study | 0.44 | 3.39 | NA | 0.27 | 4.10 | NA | XXX
93979 | 26 | A | Vascular study | 0.44 | 0.15 | 0.15 | 0.03 | 0.62 | 0.62 | XXX
93979 | TC | A | Vascular study | 0.00 | 3.24 | NA | 0.24 | 3.48 | NA | XXX
93980 |  | A | Penile vascular study | 1.25 | 3.13 | NA | 0.42 | 4.80 | NA | XXX
93980 | 26 | A | Penile vascular study | 1.25 | 0.44 | 0.44 | 0.08 | 1.78 | 1.78 | XXX
93980 | TC | A | Penile vascular study | 0.00 | 2.69 | NA | 0.34 | 3.03 | NA | XXX
93981 |  | A | Penile vascular study | 0.44 | 2.85 | NA | 0.33 | 3.62 | NA | XXX
93981 | 26 | A | Penile vascular study | 0.44 | 0.15 | 0.15 | 0.02 | 0.61 | 0.61 | XXX
93981 | TC | A | Penile vascular study | 0.00 | 2.71 | NA | 0.31 | 3.02 | NA | XXX
93990 |  | A | Doppler flow testing | 0.25 | 4.13 | NA | 0.26 | 4.64 | NA | XXX
93990 | 26 | A | Doppler flow testing | 0.25 | 0.09 | 0.09 | 0.03 | 0.37 | 0.37 | XXX
93990 | TC | A | Doppler flow testing | 0.00 | 4.03 | NA | 0.23 | 4.26 | NA | XXX
94010 |  | A | Breathing capacity test | 0.17 | 0.67 | NA | 0.03 | 0.87 | NA | XXX
94010 | 26 | A | Breathing capacity test | 0.17 | 0.05 | 0.05 | 0.01 | 0.23 | 0.23 | XXX
94010 | TC | A | Breathing capacity test | 0.00 | 0.62 | NA | 0.02 | 0.64 | NA | XXX
94014 |  | A | Patient recorded spirometry | 0.52 | 0.77 | NA | 0.03 | 1.32 | NA | XXX
94015 |  | A | Patient recorded spirometry | 0.00 | 0.60 | NA | 0.01 | 0.61 | NA | XXX
94016 |  | A | Review patient spirometry | 0.52 | 0.17 | 0.17 | 0.02 | 0.71 | 0.71 | XXX
94060 |  | A | Evaluation of wheezing | 0.31 | 1.08 | NA | 0.07 | 1.46 | NA | XXX
94060 | 26 | A | Evaluation of wheezing | 0.31 | 0.09 | 0.09 | 0.01 | 0.41 | 0.41 | XXX
94060 | TC | A | Evaluation of wheezing | 0.00 | 0.99 | NA | 0.06 | 1.05 | NA | XXX
94070 |  | A | Evaluation of wheezing | 0.60 | 0.83 | NA | 0.13 | 1.57 | NA | XXX
94070 | 26 | A | Evaluation of wheezing | 0.60 | 0.18 | 0.18 | 0.03 | 0.81 | 0.81 | XXX
94070 | TC | A | Evaluation of wheezing | 0.00 | 0.66 | NA | 0.10 | 0.76 | NA | XXX
94150 |  | B | Vital capacity test | 0.07 | 0.47 | NA | 0.02 | 0.56 | NA | XXX
94150 | 26 | B | Vital capacity test | 0.07 | 0.03 | 0.03 | 0.01 | 0.11 | 0.11 | XXX
94150 | TC | B | Vital capacity test | 0.00 | 0.44 | NA | 0.01 | 0.45 | NA | XXX
94200 |  | A | Lung function test (MBC/MVV) | 0.11 | 0.44 | NA | 0.03 | 0.58 | NA | XXX
94200 | 26 | A | Lung function test (MBC/MVV) | 0.11 | 0.03 | 0.03 | 0.01 | 0.15 | 0.15 | XXX
94200 | TC | A | Lung function test (MBC/MVV) | 0.00 | 0.41 | NA | 0.02 | 0.43 | NA | XXX
94240 |  | A | Residual lung capacity | 0.26 | 0.66 | NA | 0.06 | 0.98 | NA | XXX
94240 | 26 | A | Residual lung capacity | 0.26 | 0.08 | 0.08 | 0.01 | 0.35 | 0.35 | XXX
94240 | TC | A | Residual lung capacity | 0.00 | 0.58 | NA | 0.05 | 0.63 | NA | XXX
94250 |  | A | Expired gas collection | 0.11 | 0.61 | NA | 0.02 | 0.74 | NA | XXX
94250 | 26 | A | Expired gas collection | 0.11 | 0.03 | 0.03 | 0.01 | 0.15 | 0.15 | XXX
94250 | TC | A | Expired gas collection | 0.00 | 0.58 | NA | 0.01 | 0.59 | NA | XXX
94260 |  | A | Thoracic gas volume | 0.13 | 0.58 | NA | 0.05 | 0.76 | NA | XXX
94260 | 26 | A | Thoracic gas volume | 0.13 | 0.04 | 0.04 | 0.01 | 0.18 | 0.18 | XXX
94260 | TC | A | Thoracic gas volume | 0.00 | 0.54 | NA | 0.04 | 0.58 | NA | XXX
94350 |  | A | Lung nitrogen washout curve | 0.26 | 0.72 | NA | 0.05 | 1.03 | NA | XXX
94350 | 26 | A | Lung nitrogen washout curve | 0.26 | 0.08 | 0.08 | 0.01 | 0.35 | 0.35 | XXX
94350 | TC | A | Lung nitrogen washout curve | 0.00 | 0.64 | NA | 0.04 | 0.68 | NA | XXX
94360 |  | A | Measure airflow resistance | 0.26 | 0.71 | NA | 0.07 | 1.04 | NA | XXX
94360 | 26 | A | Measure airflow resistance | 0.26 | 0.08 | 0.08 | 0.01 | 0.35 | 0.35 | XXX
94360 | TC | A | Measure airflow resistance | 0.00 | 0.63 | NA | 0.06 | 0.69 | NA | XXX
94370 |  | A | Breath airway closing volume | 0.26 | 0.69 | NA | 0.03 | 0.98 | NA | XXX
94370 | 26 | A | Breath airway closing volume | 0.26 | 0.08 | 0.08 | 0.01 | 0.35 | 0.35 | XXX
94370 | TC | A | Breath airway closing volume | 0.00 | 0.61 | NA | 0.02 | 0.63 | NA | XXX
94375 |  | A | Respiratory flow volume loop | 0.31 | 0.60 | NA | 0.03 | 0.94 | NA | XXX
94375 | 26 | A | Respiratory flow volume loop | 0.31 | 0.09 | 0.09 | 0.01 | 0.41 | 0.41 | XXX
94375 | TC | A | Respiratory flow volume loop | 0.00 | 0.51 | NA | 0.02 | 0.53 | NA | XXX
94400 |  | A | CO2 breathing response curve | 0.40 | 0.86 | NA | 0.09 | 1.35 | NA | XXX
94400 | 26 | A | CO2 breathing response curve | 0.40 | 0.12 | 0.12 | 0.03 | 0.55 | 0.55 | XXX
94400 | TC | A | CO2 breathing response curve | 0.00 | 0.74 | NA | 0.06 | 0.80 | NA | XXX
94450 |  | A | Hypoxia response curve | 0.40 | 0.86 | NA | 0.04 | 1.30 | NA | XXX
94450 | 26 | A | Hypoxia response curve | 0.40 | 0.12 | 0.12 | 0.02 | 0.54 | 0.54 | XXX
94450 | TC | A | Hypoxia response curve | 0.00 | 0.74 | NA | 0.02 | 0.76 | NA | XXX
94452 |  | A | Hast w/report | 0.31 | 1.00 | NA | 0.04 | 1.35 | NA | XXX
94452 | 26 | A | Hast w/report | 0.31 | 0.09 | 0.09 | 0.02 | 0.42 | 0.42 | XXX
94452 | TC | A | Hast w/report | 0.00 | 0.92 | NA | 0.02 | 0.94 | NA | XXX
94453 |  | A | Hast w/oxygen titrate | 0.40 | 1.47 | NA | 0.04 | 1.91 | NA | XXX
94453 | 26 | A | Hast w/oxygen titrate | 0.40 | 0.12 | 0.12 | 0.02 | 0.54 | 0.54 | XXX
94453 | TC | A | Hast w/oxygen titrate | 0.00 | 1.36 | NA | 0.02 | 1.38 | NA | XXX
94620 |  | A | Pulmonary stress test/simple | 0.64 | 2.17 | NA | 0.13 | 2.94 | NA | XXX
94620 | 26 | A | Pulmonary stress test/simple | 0.64 | 0.20 | 0.20 | 0.03 | 0.87 | 0.87 | XXX
94620 | TC | A | Pulmonary stress test/simple | 0.00 | 1.98 | NA | 0.10 | 2.08 | NA | XXX
94621 |  | A | Pulm stress test/complex | 1.42 | 2.21 | NA | 0.16 | 3.79 | NA | XXX
94621 | 26 | A | Pulm stress test/complex | 1.42 | 0.43 | 0.43 | 0.06 | 1.91 | 1.91 | XXX
94621 | TC | A | Pulm stress test/complex | 0.00 | 1.78 | NA | 0.10 | 1.88 | NA | XXX
94640 |  | A | Airway inhalation treatment | 0.00 | 0.30 | NA | 0.02 | 0.32 | NA | XXX
94642 |  | C | Aerosol inhalation treatment | 0.00 | 0.00 | 0.00 | 0.00 | 0.00 | 0.00 | XXX
94656 |  | A | Initial ventilator mgmt | 1.22 | 1.16 | 0.31 | 0.06 | 2.44 | 1.59 | XXX
94657 |  | A | Continued ventilator mgmt | 0.83 | 0.98 | 0.24 | 0.04 | 1.85 | 1.11 | XXX
94660 |  | A | Pos airway pressure, CPAP | 0.76 | 0.62 | 0.23 | 0.04 | 1.42 | 1.03 | XXX
94662 |  | A | Neg press ventilation, cnp | 0.76 | NA | 0.23 | 0.03 | NA | 1.02 | XXX
94664 |  | A | Evaluate pt use of inhaler | 0.00 | 0.31 | NA | 0.04 | 0.35 | NA | XXX
94667 |  | A | Chest wall manipulation | 0.00 | 0.51 | NA | 0.05 | 0.56 | NA | XXX
94668 |  | A | Chest wall manipulation | 0.00 | 0.44 | NA | 0.02 | 0.46 | NA | XXX
94680 |  | A | Exhaled air analysis, o2 | 0.26 | 1.70 | NA | 0.07 | 2.03 | NA | XXX
94680 | 26 | A | Exhaled air analysis, o2 | 0.26 | 0.08 | 0.08 | 0.01 | 0.35 | 0.35 | XXX
94680 | TC | A | Exhaled air analysis, o2 | 0.00 | 1.62 | NA | 0.06 | 1.68 | NA | XXX
94681 |  | A | Exhaled air analysis, o2/co2 | 0.20 | 2.27 | NA | 0.13 | 2.60 | NA | XXX
94681 | 26 | A | Exhaled air analysis, o2/co2 | 0.20 | 0.06 | 0.06 | 0.01 | 0.27 | 0.27 | XXX
94681 | TC | A | Exhaled air analysis, o2/co2 | 0.00 | 2.21 | NA | 0.12 | 2.33 | NA | XXX
94690 |  | A | Exhaled air analysis | 0.07 | 1.76 | NA | 0.05 | 1.88 | NA | XXX
94690 | 26 | A | Exhaled air analysis | 0.07 | 0.02 | 0.02 | 0.01 | 0.10 | 0.10 | XXX
94690 | TC | A | Exhaled air analysis | 0.00 | 1.74 | NA | 0.04 | 1.78 | NA | XXX
94720 |  | A | Monoxide diffusing capacity | 0.26 | 0.98 | NA | 0.07 | 1.31 | NA | XXX
94720 | 26 | A | Monoxide diffusing capacity | 0.26 | 0.08 | 0.08 | 0.01 | 0.35 | 0.35 | XXX
94720 | TC | A | Monoxide diffusing capacity | 0.00 | 0.90 | NA | 0.06 | 0.96 | NA | XXX
94725 |  | A | Membrane diffusion capacity | 0.26 | 2.55 | NA | 0.13 | 2.94 | NA | XXX
94725 | 26 | A | Membrane diffusion capacity | 0.26 | 0.08 | 0.08 | 0.01 | 0.35 | 0.35 | XXX
94725 | TC | A | Membrane diffusion capacity | 0.00 | 2.47 | NA | 0.12 | 2.59 | NA | XXX
94750 |  | A | Pulmonary compliance study | 0.23 | 1.37 | NA | 0.05 | 1.65 | NA | XXX
94750 | 26 | A | Pulmonary compliance study | 0.23 | 0.07 | 0.07 | 0.01 | 0.31 | 0.31 | XXX
94750 | TC | A | Pulmonary compliance study | 0.00 | 1.30 | NA | 0.04 | 1.34 | NA | XXX
94760 |  | T | Measure blood oxygen level | 0.00 | 0.04 | NA | 0.02 | 0.06 | NA | XXX
94761 |  | T | Measure blood oxygen level | 0.00 | 0.07 | NA | 0.06 | 0.13 | NA | XXX
94762 |  | A | Measure blood oxygen level | 0.00 | 0.52 | NA | 0.10 | 0.62 | NA | XXX
94770 |  | A | Exhaled carbon dioxide test | 0.15 | 0.76 | NA | 0.08 | 0.99 | NA | XXX
94770 | 26 | A | Exhaled carbon dioxide test | 0.15 | 0.04 | 0.04 | 0.01 | 0.20 | 0.20 | XXX
94770 | TC | A | Exhaled carbon dioxide test | 0.00 | 0.72 | NA | 0.07 | 0.79 | NA | XXX
94772 |  | C | Breath recording, infant | 0.00 | 0.00 | 0.00 | 0.00 | 0.00 | 0.00 | XXX
94772 | 26 | C | Breath recording, infant | 0.00 | 0.00 | 0.00 | 0.00 | 0.00 | 0.00 | XXX
94772 | TC | C | Breath recording, infant | 0.00 | 0.00 | 0.00 | 0.00 | 0.00 | 0.00 | XXX
94799 |  | C | Pulmonary service/procedure | 0.00 | 0.00 | 0.00 | 0.00 | 0.00 | 0.00 | XXX
94799 | 26 | C | Pulmonary service/procedure | 0.00 | 0.00 | 0.00 | 0.00 | 0.00 | 0.00 | XXX
94799 | TC | C | Pulmonary service/procedure | 0.00 | 0.00 | 0.00 | 0.00 | 0.00 | 0.00 | XXX
95004 |  | A | Percut allergy skin tests | 0.00 | 0.11 | NA | 0.01 | 0.12 | NA | XXX
95010 |  | A | Percut allergy titrate test | 0.15 | 0.33 | 0.07 | 0.01 | 0.49 | 0.23 | XXX
95015 |  | A | Id allergy titrate-drug/bug | 0.15 | 0.16 | 0.06 | 0.01 | 0.32 | 0.22 | XXX
95024 |  | A | Id allergy test, drug/bug | 0.00 | 0.16 | NA | 0.01 | 0.17 | NA | XXX
95027 |  | A | Id allergy titrate-airborne | 0.00 | 0.16 | NA | 0.01 | 0.17 | NA | XXX
95028 |  | A | Id allergy test-delayed type | 0.00 | 0.23 | NA | 0.01 | 0.24 | NA | XXX
95044 |  | A | Allergy patch tests | 0.00 | 0.19 | NA | 0.01 | 0.20 | NA | XXX
95052 |  | A | Photo patch test | 0.00 | 0.23 | NA | 0.01 | 0.24 | NA | XXX
95056 |  | A | Photosensitivity tests | 0.00 | 0.34 | NA | 0.01 | 0.35 | NA | XXX
95060 |  | A | Eye allergy tests | 0.00 | 0.42 | NA | 0.02 | 0.44 | NA | XXX
95065 |  | A | Nose allergy test | 0.00 | 0.31 | NA | 0.01 | 0.32 | NA | XXX
95070 |  | A | Bronchial allergy tests | 0.00 | 1.91 | NA | 0.02 | 1.93 | NA | XXX
95071 |  | A | Bronchial allergy tests | 0.00 | 2.50 | NA | 0.02 | 2.52 | NA | XXX
95075 |  | A | Ingestion challenge test | 0.95 | 0.83 | 0.40 | 0.03 | 1.81 | 1.38 | XXX
95078 |  | A | Provocative testing | 0.00 | 0.27 | NA | 0.02 | 0.29 | NA | XXX
95115 |  | A | Immunotherapy, one injection | 0.00 | 0.35 | NA | 0.02 | 0.37 | NA | 000
95117 |  | A | Immunotherapy injections | 0.00 | 0.45 | NA | 0.02 | 0.47 | NA | 000
95120 |  | I | Immunotherapy, one injection | 0.00 | 0.00 | 0.00 | 0.00 | 0.00 | 0.00 | XXX
95125 |  | I | Immunotherapy, many antigens | 0.00 | 0.00 | 0.00 | 0.00 | 0.00 | 0.00 | XXX
95130 |  | I | Immunotherapy, insect venom | 0.00 | 0.00 | 0.00 | 0.00 | 0.00 | 0.00 | XXX
95131 |  | I | Immunotherapy, insect venoms | 0.00 | 0.00 | 0.00 | 0.00 | 0.00 | 0.00 | XXX
95132 |  | I | Immunotherapy, insect venoms | 0.00 | 0.00 | 0.00 | 0.00 | 0.00 | 0.00 | XXX
95133 |  | I | Immunotherapy, insect venoms | 0.00 | 0.00 | 0.00 | 0.00 | 0.00 | 0.00 | XXX
95134 |  | I | Immunotherapy, insect venoms | 0.00 | 0.00 | 0.00 | 0.00 | 0.00 | 0.00 | XXX
95144 |  | A | Antigen therapy services | 0.06 | 0.21 | 0.02 | 0.01 | 0.28 | 0.09 | 000
95145 |  | A | Antigen therapy services | 0.06 | 0.33 | 0.02 | 0.01 | 0.40 | 0.09 | 000
95146 |  | A | Antigen therapy services | 0.06 | 0.48 | 0.03 | 0.01 | 0.55 | 0.10 | 000
95147 |  | A | Antigen therapy services | 0.06 | 0.46 | 0.02 | 0.01 | 0.53 | 0.09 | 000
95148 |  | A | Antigen therapy services | 0.06 | 0.65 | 0.03 | 0.01 | 0.72 | 0.10 | 000
95149 |  | A | Antigen therapy services | 0.06 | 0.89 | 0.03 | 0.01 | 0.96 | 0.10 | 000
95165 |  | A | Antigen therapy services | 0.06 | 0.20 | 0.02 | 0.01 | 0.27 | 0.09 | 000
95170 |  | A | Antigen therapy services | 0.06 | 0.15 | 0.03 | 0.01 | 0.22 | 0.10 | 000
95180 |  | A | Rapid desensitization | 2.01 | 2.07 | 0.97 | 0.04 | 4.13 | 3.03 | 000
95199 |  | C | Allergy immunology services | 0.00 | 0.00 | 0.00 | 0.00 | 0.00 | 0.00 | 000
95250 |  | A | Glucose monitoring, cont | 0.00 | 3.91 | NA | 0.01 | 3.92 | NA | XXX
95805 |  | A | Multiple sleep latency test | 1.88 | 15.27 | NA | 0.43 | 17.58 | NA | XXX
95805 | 26 | A | Multiple sleep latency test | 1.88 | 0.64 | 0.64 | 0.09 | 2.62 | 2.62 | XXX
95805 | TC | A | Multiple sleep latency test | 0.00 | 14.62 | NA | 0.34 | 14.96 | NA | XXX
95806 |  | A | Sleep study, unattended | 1.66 | 3.31 | NA | 0.39 | 5.36 | NA | XXX
95806 | 26 | A | Sleep study, unattended | 1.66 | 0.53 | 0.53 | 0.08 | 2.27 | 2.27 | XXX
95806 | TC | A | Sleep study, unattended | 0.00 | 2.78 | NA | 0.31 | 3.09 | NA | XXX
95807 |  | A | Sleep study, attended | 1.66 | 11.70 | NA | 0.50 | 13.86 | NA | XXX
95807 | 26 | A | Sleep study, attended | 1.66 | 0.52 | 0.52 | 0.08 | 2.26 | 2.26 | XXX
95807 | TC | A | Sleep study, attended | 0.00 | 11.18 | NA | 0.42 | 11.60 | NA | XXX
95808 |  | A | Polysomnography, 1-3 | 2.66 | 12.98 | NA | 0.55 | 16.18 | NA | XXX
95808 | 26 | A | Polysomnography, 1-3 | 2.66 | 0.90 | 0.90 | 0.13 | 3.68 | 3.68 | XXX
95808 | TC | A | Polysomnography, 1-3 | 0.00 | 12.08 | NA | 0.42 | 12.50 | NA | XXX
95810 |  | A | Polysomnography, 4 or more | 3.53 | 17.14 | NA | 0.59 | 21.26 | NA | XXX
95810 | 26 | A | Polysomnography, 4 or more | 3.53 | 1.15 | 1.15 | 0.17 | 4.85 | 4.85 | XXX
95810 | TC | A | Polysomnography, 4 or more | 0.00 | 15.99 | NA | 0.42 | 16.41 | NA | XXX
95811 |  | A | Polysomnography w/cpap | 3.80 | 18.83 | NA | 0.61 | 23.24 | NA | XXX
95811 | 26 | A | Polysomnography w/cpap | 3.80 | 1.24 | 1.24 | 0.18 | 5.22 | 5.22 | XXX
95811 | TC | A | Polysomnography w/cpap | 0.00 | 17.59 | NA | 0.43 | 18.02 | NA | XXX
95812 |  | A | Eeg, 41-60 minutes | 1.08 | 3.85 | NA | 0.17 | 5.10 | NA | XXX
95812 | 26 | A | Eeg, 41-60 minutes | 1.08 | 0.44 | 0.44 | 0.06 | 1.58 | 1.58 | XXX
95812 | TC | A | Eeg, 41-60 minutes | 0.00 | 3.40 | NA | 0.11 | 3.51 | NA | XXX
95813 |  | A | Eeg, over 1 hour | 1.73 | 4.77 | NA | 0.20 | 6.71 | NA | XXX
95813 | 26 | A | Eeg, over 1 hour | 1.73 | 0.68 | 0.68 | 0.09 | 2.50 | 2.50 | XXX
95813 | TC | A | Eeg, over 1 hour | 0.00 | 4.09 | NA | 0.11 | 4.20 | NA | XXX
95816 |  | A | Eeg, awake and drowsy | 1.08 | 3.52 | NA | 0.16 | 4.77 | NA | XXX
95816 | 26 | A | Eeg, awake and drowsy | 1.08 | 0.45 | 0.45 | 0.06 | 1.59 | 1.59 | XXX
95816 | TC | A | Eeg, awake and drowsy | 0.00 | 3.08 | NA | 0.10 | 3.18 | NA | XXX
95819 |  | A | Eeg, awake and asleep | 1.08 | 3.00 | NA | 0.16 | 4.24 | NA | XXX
95819 | 26 | A | Eeg, awake and asleep | 1.08 | 0.45 | 0.45 | 0.06 | 1.59 | 1.59 | XXX
95819 | TC | A | Eeg, awake and asleep | 0.00 | 2.55 | NA | 0.10 | 2.65 | NA | XXX
95822 |  | A | Eeg, coma or sleep only | 1.08 | 4.29 | NA | 0.19 | 5.56 | NA | XXX
95822 | 26 | A | Eeg, coma or sleep only | 1.08 | 0.45 | 0.45 | 0.06 | 1.59 | 1.59 | XXX
95822 | TC | A | Eeg, coma or sleep only | 0.00 | 3.84 | NA | 0.13 | 3.97 | NA | XXX
95824 |  | C | Eeg, cerebral death only | 0.00 | 0.00 | 0.00 | 0.00 | 0.00 | 0.00 | XXX
95824 | 26 | A | Eeg, cerebral death only | 0.74 | 0.30 | 0.30 | 0.04 | 1.08 | 1.08 | XXX
95824 | TC | C | Eeg, cerebral death only | 0.00 | 0.00 | 0.00 | 0.00 | 0.00 | 0.00 | XXX
95827 |  | A | Eeg, all night recording | 1.08 | 5.15 | NA | 0.19 | 6.42 | NA | XXX
95827 | 26 | A | Eeg, all night recording | 1.08 | 0.40 | 0.40 | 0.05 | 1.53 | 1.53 | XXX
95827 | TC | A | Eeg, all night recording | 0.00 | 4.75 | NA | 0.14 | 4.89 | NA | XXX
95829 |  | A | Surgery electrocorticogram | 6.21 | 28.77 | NA | 0.50 | 35.49 | NA | XXX
95829 | 26 | A | Surgery electrocorticogram | 6.21 | 2.25 | 2.25 | 0.48 | 8.94 | 8.94 | XXX
95829 | TC | A | Surgery electrocorticogram | 0.00 | 26.53 | NA | 0.02 | 26.55 | NA | XXX
95830 |  | A | Insert electrodes for EEG | 1.70 | 3.14 | 0.71 | 0.11 | 4.95 | 2.52 | XXX
95831 |  | A | Limb muscle testing, manual | 0.28 | 0.44 | NA | 0.01 | 0.73 | NA | XXX
95832 |  | A | Hand muscle testing, manual | 0.29 | 0.33 | NA | 0.02 | 0.64 | NA | XXX
95833 |  | A | Body muscle testing, manual | 0.47 | 0.56 | NA | 0.02 | 1.05 | NA | XXX
95834 |  | A | Body muscle testing, manual | 0.60 | 0.62 | NA | 0.03 | 1.25 | NA | XXX
95851 |  | A | Range of motion measurements | 0.16 | 0.35 | NA | 0.01 | 0.52 | NA | XXX
95852 |  | A | Range of motion measurements | 0.11 | 0.25 | NA | 0.01 | 0.37 | NA | XXX
95857 |  | A | Tensilon test | 0.53 | 0.59 | 0.22 | 0.02 | 1.14 | 0.77 | XXX
95858 |  | A | Tensilon test & myogram | 1.56 | NA | NA | 0.12 | NA | NA | XXX
95858 | 26 | A | Tensilon test & myogram | 1.56 | 0.65 | 0.65 | 0.08 | 2.30 | 2.30 | XXX
95858 | TC | A | Tensilon test & myogram | 0.00 | NA | NA | 0.04 | NA | NA | XXX
95860 |  | A | Muscle test, one limb | 0.96 | 1.35 | NA | 0.07 | 2.38 | NA | XXX
95860 | 26 | A | Muscle test, one limb | 0.96 | 0.41 | 0.41 | 0.05 | 1.42 | 1.42 | XXX
95860 | TC | A | Muscle test, one limb | 0.00 | 0.94 | NA | 0.02 | 0.96 | NA | XXX
95861 |  | A | Muscle test, 2 limbs | 1.54 | 1.47 | NA | 0.13 | 3.15 | NA | XXX
95861 | 26 | A | Muscle test, 2 limbs | 1.54 | 0.66 | 0.66 | 0.07 | 2.27 | 2.27 | XXX
95861 | TC | A | Muscle test, 2 limbs | 0.00 | 0.81 | NA | 0.06 | 0.87 | NA | XXX
95863 |  | A | Muscle test, 3 limbs | 1.87 | 1.78 | NA | 0.15 | 3.80 | NA | XXX
95863 | 26 | A | Muscle test, 3 limbs | 1.87 | 0.78 | 0.78 | 0.09 | 2.74 | 2.74 | XXX
95863 | TC | A | Muscle test, 3 limbs | 0.00 | 0.99 | NA | 0.06 | 1.05 | NA | XXX
95864 |  | A | Muscle test, 4 limbs | 1.99 | 2.53 | NA | 0.21 | 4.73 | NA | XXX
95864 | 26 | A | Muscle test, 4 limbs | 1.99 | 0.85 | 0.85 | 0.09 | 2.93 | 2.93 | XXX
95864 | TC | A | Muscle test, 4 limbs | 0.00 | 1.68 | NA | 0.12 | 1.80 | NA | XXX
95867 |  | A | Muscle test cran nerv unilat | 0.79 | 0.96 | NA | 0.07 | 1.82 | NA | XXX
95867 | 26 | A | Muscle test cran nerv unilat | 0.79 | 0.34 | 0.34 | 0.03 | 1.16 | 1.16 | XXX
95867 | TC | A | Muscle test cran nerv unilat | 0.00 | 0.62 | NA | 0.04 | 0.66 | NA | XXX
95868 |  | A | Muscle test cran nerve bilat | 1.18 | 1.26 | NA | 0.10 | 2.54 | NA | XXX
95868 | 26 | A | Muscle test cran nerve bilat | 1.18 | 0.49 | 0.49 | 0.05 | 1.73 | 1.73 | XXX
95868 | TC | A | Muscle test cran nerve bilat | 0.00 | 0.77 | NA | 0.05 | 0.82 | NA | XXX
95869 |  | A | Muscle test, thor paraspinal | 0.37 | 0.52 | NA | 0.04 | 0.93 | NA | XXX
95869 | 26 | A | Muscle test, thor paraspinal | 0.37 | 0.16 | 0.16 | 0.02 | 0.55 | 0.55 | XXX
95869 | TC | A | Muscle test, thor paraspinal | 0.00 | 0.37 | NA | 0.02 | 0.39 | NA | XXX
95870 |  | A | Muscle test, nonparaspinal | 0.37 | 0.51 | NA | 0.04 | 0.92 | NA | XXX
95870 | 26 | A | Muscle test, nonparaspinal | 0.37 | 0.16 | 0.16 | 0.02 | 0.55 | 0.55 | XXX
95870 | TC | A | Muscle test, nonparaspinal | 0.00 | 0.35 | NA | 0.02 | 0.37 | NA | XXX
95872 |  | A | Muscle test, one fiber | 1.50 | 1.28 | NA | 0.13 | 2.91 | NA | XXX
95872 | 26 | A | Muscle test, one fiber | 1.50 | 0.61 | 0.61 | 0.08 | 2.20 | 2.20 | XXX
95872 | TC | A | Muscle test, one fiber | 0.00 | 0.66 | NA | 0.05 | 0.71 | NA | XXX
95875 |  | A | Limb exercise test | 1.10 | 1.40 | NA | 0.11 | 2.61 | NA | XXX
95875 | 26 | A | Limb exercise test | 1.10 | 0.46 | 0.46 | 0.05 | 1.61 | 1.61 | XXX
95875 | TC | A | Limb exercise test | 0.00 | 0.94 | NA | 0.06 | 1.00 | NA | XXX
95900 |  | A | Motor nerve conduction test | 0.42 | 1.18 | NA | 0.04 | 1.64 | NA | XXX
95900 | 26 | A | Motor nerve conduction test | 0.42 | 0.18 | 0.18 | 0.02 | 0.62 | 0.62 | XXX
95900 | TC | A | Motor nerve conduction test | 0.00 | 1.00 | NA | 0.02 | 1.02 | NA | XXX
95903 |  | A | Motor nerve conduction test | 0.60 | 1.14 | NA | 0.05 | 1.79 | NA | XXX
95903 | 26 | A | Motor nerve conduction test | 0.60 | 0.25 | 0.25 | 0.03 | 0.88 | 0.88 | XXX
95903 | TC | A | Motor nerve conduction test | 0.00 | 0.89 | NA | 0.02 | 0.91 | NA | XXX
95904 |  | A | Sense nerve conduction test | 0.34 | 1.03 | NA | 0.04 | 1.41 | NA | XXX
95904 | 26 | A | Sense nerve conduction test | 0.34 | 0.15 | 0.15 | 0.02 | 0.51 | 0.51 | XXX
95904 | TC | A | Sense nerve conduction test | 0.00 | 0.88 | NA | 0.02 | 0.90 | NA | XXX
95920 |  | A | Intraop nerve test add-on | 2.11 | 2.06 | NA | 0.23 | 4.40 | NA | ZZZ
95920 | 26 | A | Intraop nerve test add-on | 2.11 | 0.90 | 0.90 | 0.16 | 3.18 | 3.18 | ZZZ
95920 | TC | A | Intraop nerve test add-on | 0.00 | 1.15 | NA | 0.07 | 1.22 | NA | ZZZ
95921 |  | A | Autonomic nerv function test | 0.90 | 0.79 | NA | 0.06 | 1.75 | NA | XXX
95921 | 26 | A | Autonomic nerv function test | 0.90 | 0.32 | 0.32 | 0.04 | 1.26 | 1.26 | XXX
95921 | TC | A | Autonomic nerv function test | 0.00 | 0.47 | NA | 0.02 | 0.49 | NA | XXX
95922 |  | A | Autonomic nerv function test | 0.96 | 0.89 | NA | 0.07 | 1.92 | NA | XXX
95922 | 26 | A | Autonomic nerv function test | 0.96 | 0.40 | 0.40 | 0.05 | 1.41 | 1.41 | XXX
95922 | TC | A | Autonomic nerv function test | 0.00 | 0.50 | NA | 0.02 | 0.52 | NA | XXX
95923 |  | A | Autonomic nerv function test | 0.90 | 1.87 | NA | 0.07 | 2.84 | NA | XXX
95923 | 26 | A | Autonomic nerv function test | 0.90 | 0.37 | 0.37 | 0.05 | 1.32 | 1.32 | XXX
95923 | TC | A | Autonomic nerv function test | 0.00 | 1.50 | NA | 0.02 | 1.52 | NA | XXX
95925 |  | A | *Somatosensory testing | 0.54 | 1.57 | NA | 0.10 | 2.21 | NA | XXX
95925 | 26 | A | Somatosensory testing | 0.54 | 0.22 | 0.22 | 0.04 | 0.80 | 0.80 | XXX
95925 | TC | A | Somatosensory testing | 0.00 | 1.35 | NA | 0.06 | 1.41 | NA | XXX
95926 |  | A | *Somatosensory testing | 0.54 | 1.52 | NA | 0.09 | 2.15 | NA | XXX
95926 | 26 | A | Somatosensory testing | 0.54 | 0.23 | 0.23 | 0.03 | 0.80 | 0.80 | XXX
95926 | TC | A | Somatosensory testing | 0.00 | 1.30 | NA | 0.06 | 1.36 | NA | XXX
95927 |  | A | Somatosensory testing | 0.54 | 1.63 | NA | 0.10 | 2.27 | NA | XXX
95927 | 26 | A | Somatosensory testing | 0.54 | 0.24 | 0.24 | 0.04 | 0.82 | 0.82 | XXX
95927 | TC | A | Somatosensory testing | 0.00 | 1.39 | NA | 0.06 | 1.45 | NA | XXX
95928 |  | A | C motor evoked, uppr limbs | 1.50 | 3.03 | NA | 0.09 | 4.63 | NA | XXX
95928 | 26 | A | C motor evoked, uppr limbs | 1.50 | 0.63 | 0.63 | 0.06 | 2.19 | 2.19 | XXX
95928 | TC | A | C motor evoked, uppr limbs | 0.00 | 2.40 | NA | 0.03 | 2.43 | NA | XXX
95929 |  | A | Cmotor evoked, lwr limbs | 1.50 | 3.23 | NA | 0.09 | 4.82 | NA | XXX
95929 | 26 | A | C motor evoked, lwr limbs | 1.50 | 0.63 | 0.63 | 0.06 | 2.19 | 2.19 | XXX
95929 | TC | A | C motor evoked, lwr limbs | 0.00 | 2.60 | NA | 0.03 | 2.63 | NA | XXX
95930 |  | A | Visual evoked potential test | 0.35 | 2.20 | NA | 0.03 | 2.59 | NA | XXX
95930 | 26 | A | Visual evoked potential test | 0.35 | 0.15 | 0.15 | 0.02 | 0.52 | 0.52 | XXX
95930 | TC | A | Visual evoked potential test | 0.00 | 2.06 | NA | 0.01 | 2.07 | NA | XXX
95933 |  | A | Blink reflex test | 0.59 | 1.02 | NA | 0.10 | 1.71 | NA | XXX
95933 | 26 | A | Blink reflex test | 0.59 | 0.23 | 0.23 | 0.04 | 0.86 | 0.86 | XXX
95933 | TC | A | Blink reflex test | 0.00 | 0.78 | NA | 0.06 | 0.84 | NA | XXX
95934 |  | A | H-reflex test | 0.51 | 0.55 | NA | 0.04 | 1.10 | NA | XXX
95934 | 26 | A | H-reflex test | 0.51 | 0.22 | 0.22 | 0.02 | 0.75 | 0.75 | XXX
95934 | TC | A | H-reflex test | 0.00 | 0.34 | NA | 0.02 | 0.36 | NA | XXX
95936 |  | A | H-reflex test | 0.55 | 0.48 | NA | 0.05 | 1.08 | NA | XXX
95936 | 26 | A | H-reflex test | 0.55 | 0.23 | 0.23 | 0.03 | 0.81 | 0.81 | XXX
95936 | TC | A | H-reflex test | 0.00 | 0.25 | NA | 0.02 | 0.27 | NA | XXX
95937 |  | A | Neuromuscular junction test | 0.65 | 0.65 | NA | 0.10 | 1.41 | NA | XXX
95937 | 26 | A | Neuromuscular junction test | 0.65 | 0.26 | 0.26 | 0.08 | 0.99 | 0.99 | XXX
95937 | TC | A | Neuromuscular junction test | 0.00 | 0.39 | NA | 0.02 | 0.41 | NA | XXX
95950 |  | A | Ambulatory eeg monitoring | 1.51 | 3.77 | NA | 0.51 | 5.79 | NA | XXX
95950 | 26 | A | Ambulatory eeg monitoring | 1.51 | 0.62 | 0.62 | 0.08 | 2.22 | 2.22 | XXX
95950 | TC | A | Ambulatory eeg monitoring | 0.00 | 3.15 | NA | 0.43 | 3.58 | NA | XXX
95951 | TC | C | EEG monitoring/videorecord | 0.00 | 0.00 | 0.00 | 0.00 | 0.00 | 0.00 | XXX
95951 | 26 | A | EEG monitoring/videorecord | 6.00 | 2.48 | 2.48 | 0.32 | 8.81 | 8.81 | XXX
95951 | TC | C | EEG monitoring/videorecord | 0.00 | 0.00 | 0.00 | 0.00 | 0.00 | 0.00 | XXX
95953 |  | A | EEG monitoring/computer | 3.09 | 7.05 | NA | 0.60 | 10.73 | NA | XXX
95953 | 26 | A | EEG monitoring/computer | 3.09 | 1.25 | 1.25 | 0.17 | 4.51 | 4.51 | XXX
95953 | TC | A | EEG monitoring/computer | 0.00 | 5.79 | NA | 0.43 | 6.22 | NA | XXX
95954 |  | A | EEG monitoring/giving drugs | 2.45 | 4.19 | NA | 0.19 | 6.83 | NA | XXX
95954 | 26 | A | EEG monitoring/giving drugs | 2.45 | 1.01 | 1.01 | 0.13 | 3.60 | 3.60 | XXX
95954 | TC | A | EEG monitoring/giving drugs | 0.00 | 3.17 | NA | 0.06 | 3.23 | NA | XXX
95955 |  | A | EEG during surgery | 1.01 | 2.70 | NA | 0.22 | 3.93 | NA | XXX
95955 | 26 | A | EEG during surgery | 1.01 | 0.35 | 0.35 | 0.05 | 1.41 | 1.41 | XXX
95955 | TC | A | EEG during surgery | 0.00 | 2.34 | NA | 0.17 | 2.51 | NA | XXX
95956 | TC | A | Eeg monitoring, cable/radio | 3.09 | 14.65 | NA | 0.59 | 18.33 | NA | XXX
95956 | 26 | A | Eeg monitoring, cable/radio | 3.09 | 1.27 | 1.27 | 0.16 | 4.51 | 4.51 | XXX
95956 | TC | A | Eeg monitoring, cable/radio | 0.00 | 13.38 | NA | 0.43 | 13.81 | NA | XXX
95957 |  | A | EEG digital analysis | 1.98 | 3.19 | NA | 0.23 | 5.41 | NA | XXX
95957 | 26 | A | EEG digital analysis | 1.98 | 0.83 | 0.83 | 0.11 | 2.92 | 2.92 | XXX
95957 | TC | A | EEG digital analysis | 0.00 | 2.36 | NA | 0.12 | 2.48 | NA | XXX
95958 |  | A | EEG monitoring/function test | 4.25 | 3.95 | NA | 0.34 | 8.54 | NA | XXX
95958 | 26 | A | EEG monitoring/function test | 4.25 | 1.71 | 1.71 | 0.21 | 6.17 | 6.17 | XXX
95958 | TC | A | EEG monitoring/function test | 0.00 | 2.24 | NA | 0.13 | 2.37 | NA | XXX
95961 |  | A | Electrode stimulation, brain | 2.98 | 2.76 | NA | 0.55 | 6.28 | NA | XXX
95961 | 26 | A | Electrode stimulation, brain | 2.98 | 1.29 | 1.29 | 0.48 | 4.74 | 4.74 | XXX
95961 | TC | A | Electrode stimulation, brain | 0.00 | 1.47 | NA | 0.07 | 1.54 | NA | XXX
95962 |  | A | Electrode stim, brain add-on | 3.22 | 2.58 | NA | 0.39 | 6.18 | NA | ZZZ
95962 | 26 | A | Electrode stim, brain add-on | 3.22 | 1.36 | 1.36 | 0.32 | 4.89 | 4.89 | ZZZ
95962 | TC | A | Electrode stim, brain add-on | 0.00 | 1.22 | NA | 0.07 | 1.29 | NA | ZZZ
95965 |  | C | Meg, spontaneous | 0.00 | 0.00 | 0.00 | 0.00 | 0.00 | 0.00 | XXX
95965 | 26 | A | Meg, spontaneous | 8.01 | 3.36 | 3.36 | 0.46 | 11.83 | 11.83 | XXX
95965 | TC | C | Meg, spontaneous | 0.00 | 0.00 | 0.00 | 0.00 | 0.00 | 0.00 | XXX
95966 |  | C | Meg, evoked, single | 0.00 | 0.00 | 0.00 | 0.00 | 0.00 | 0.00 | XXX
95966 | 26 | A | Meg, evoked, single | 4.00 | 1.67 | 1.67 | 0.19 | 5.85 | 5.85 | XXX
95966 | TC | C | Meg, evoked, single | 0.00 | 0.00 | 0.00 | 0.00 | 0.00 | 0.00 | XXX
95967 |  | C | Meg, evoked, each add'l | 0.00 | 0.00 | 0.00 | 0.00 | 0.00 | 0.00 | ZZZ
95967 | 26 | A | Meg, evoked, each add'l | 3.50 | 1.23 | 1.23 | 0.16 | 4.89 | 4.89 | ZZZ
95967 | TC | C | Meg, evoked, each add'l | 0.00 | 0.00 | 0.00 | 0.00 | 0.00 | 0.00 | ZZZ
95970 |  | A | Analyze neurostim, no prog | 0.45 | 0.84 | 0.14 | 0.03 | 1.32 | 0.62 | XXX
95971 |  | A | Analyze neurostim, simple | 0.78 | 0.67 | 0.22 | 0.07 | 1.53 | 1.07 | XXX
95972 |  | A | Analyze neurostim, complex | 1.50 | 1.21 | 0.48 | 0.14 | 2.85 | 2.13 | XXX
95973 |  | A | Analyze neurostim, complex | 0.92 | 0.62 | 0.33 | 0.07 | 1.61 | 1.32 | ZZZ
95974 |  | A | Cranial neurostim, complex | 3.01 | 1.68 | 1.27 | 0.16 | 4.85 | 4.43 | XXX
95975 |  | A | Cranial neurostim, complex | 1.70 | 0.88 | 0.71 | 0.12 | 2.70 | 2.53 | ZZZ
95978 |  | A | Analyze neurostim brain/1h | 3.51 | 1.96 | 1.32 | 0.18 | 5.65 | 5.00 | XXX
95979 |  | A | Analyz neurostim brain add-on | 1.64 | 0.86 | 0.67 | 0.08 | 2.58 | 2.39 | ZZZ
95990 |  | A | Spin/brain pump refil & main | 0.00 | 1.53 | NA | 0.06 | 1.59 | NA | XXX
95991 |  | A | Spin/brain pump refil & main | 0.77 | 1.38 | NA | 0.06 | 2.21 | NA | XXX
95999 |  | C | Neurological procedure | 0.00 | 0.00 | 0.00 | 0.00 | 0.00 | 0.00 | XXX
96000 |  | A | Motion analysis, video/3d | 1.80 | NA | 0.52 | 0.11 | NA | 2.43 | XXX
96001 |  | A | Motion test w/ft press meas | 2.15 | NA | 0.64 | 0.10 | NA | 2.90 | XXX
96002 |  | A | Dynamic surface emg | 0.41 | NA | 0.15 | 0.02 | NA | 0.58 | XXX
96003 |  | A | Dynamic fine wire emg | 0.37 | NA | 0.13 | 0.02 | NA | 0.52 | XXX
96004 |  | A | Phys review of motion tests | 2.14 | 0.96 | 0.89 | 0.11 | 3.21 | 3.15 | XXX
96100 |  | A | Psychological testing | 0.00 | 1.74 | NA | 0.18 | 1.92 | NA | XXX
96105 |  | A | Assessment of aphasia | 0.00 | 1.64 | NA | 0.18 | 1.82 | NA | XXX
96110 |  | A | Developmental test, lim | 0.00 | 0.17 | NA | 0.18 | 0.35 | NA | XXX
96111 |  | A | Developmental test, extend | 2.61 | 1.01 | 0.99 | 0.18 | 3.79 | 3.78 | XXX
96115 |  | A | Neurobehavior status exam | 0.00 | 1.82 | NA | 0.18 | 2.00 | NA | XXX
96117 |  | A | Neuropsych test battery | 0.00 | 1.78 | NA | 0.18 | 1.96 | NA | XXX
96150 |  | A | Assess hlth/behave, init | 0.50 | 0.17 | 0.17 | 0.01 | 0.68 | 0.68 | XXX
96151 |  | A | Assess hlth/behave, subseq | 0.48 | 0.17 | 0.16 | 0.01 | 0.66 | 0.65 | XXX
96152 |  | A | Intervene hlth/behave, indiv | 0.46 | 0.16 | 0.15 | 0.01 | 0.63 | 0.62 | XXX
96153 |  | A | Intervene hlth/behave, group | 0.10 | 0.04 | 0.03 | 0.01 | 0.15 | 0.14 | XXX
96154 |  | A | Interv hlth/behav, fam w/pt | 0.45 | 0.16 | 0.15 | 0.01 | 0.62 | 0.61 | XXX
96155 |  | N | Interv hlth/behav fam no pt | 0.44 | 0.17 | 0.16 | 0.02 | 0.63 | 0.62 | XXX
96400 |  | I | Chemotherapy, sc/im | 0.17 | 0.00 | 0.00 | 0.01 | 0.18 | 0.18 | XXX
96405 |  | A | Intralesional chemo admin | 0.52 | 2.58 | 0.24 | 0.03 | 3.13 | 0.79 | 000
96406 |  | A | Intralesional chemo admin | 0.80 | 3.20 | 0.29 | 0.03 | 4.03 | 1.12 | 000
96408 |  | I | Chemotherapy, push technique | 0.17 | 0.00 | 0.00 | 0.06 | 0.23 | 0.23 | XXX
96410 |  | I | Chemotherapy,infusion method | 0.17 | 0.00 | 0.00 | 0.08 | 0.25 | 0.25 | XXX
96412 |  | I | Chemo, infuse method add-on | 0.17 | 0.00 | 0.00 | 0.07 | 0.24 | 0.24 | ZZZ
96414 |  | I | Chemo, infuse method add-on | 0.17 | 0.00 | 0.00 | 0.08 | 0.25 | 0.25 | XXX
96420 |  | A | Chemotherapy, push technique | 0.17 | 2.67 | NA | 0.08 | 2.92 | NA | XXX
96422 |  | A | Chemotherapy,infusion method | 0.17 | 4.87 | NA | 0.08 | 5.12 | NA | XXX
96423 |  | A | Chemo, infuse method add-on | 0.17 | 1.89 | NA | 0.02 | 2.08 | NA | ZZZ
96425 |  | A | Chemotherapy,infusion method | 0.17 | 4.50 | NA | 0.08 | 4.75 | NA | XXX
96440 |  | A | Chemotherapy, intracavitary | 2.37 | 7.56 | 1.20 | 0.17 | 10.10 | 3.74 | 000
96445 |  | A | Chemotherapy, intracavitary | 2.20 | 7.64 | 1.15 | 0.14 | 9.99 | 3.50 | 000
96450 |  | A | Chemotherapy, into CNS | 1.89 | 6.62 | 1.07 | 0.08 | 8.59 | 3.04 | 000
96520 |  | A | Port pump refill & main | 0.21 | 3.79 | NA | 0.06 | 4.06 | NA | XXX
96530 |  | A | Syst pump refill & main | 0.21 | 2.66 | NA | 0.06 | 2.93 | NA | XXX
96542 |  | A | Chemotherapy injection | 1.42 | 4.09 | 0.64 | 0.06 | 5.57 | 2.12 | XXX
96545 |  | B | Provide chemotherapy agent | 0.00 | 0.00 | 0.00 | 0.00 | 0.00 | 0.00 | XXX
96549 |  | C | Chemotherapy, unspecified | 0.00 | 0.00 | 0.00 | 0.00 | 0.00 | 0.00 | XXX
96567 |  | A | Photodynamic tx, skin | 0.00 | 1.45 | NA | 0.04 | 1.49 | NA | XXX
96570 |  | A | Photodynamic tx, 30 min | 1.10 | 0.00 | 0.37 | 0.11 | 1.21 | 1.58 | ZZZ
96571 |  | A | Photodynamic tx, addl 15 min | 0.55 | 0.00 | 0.20 | 0.03 | 0.58 | 0.78 | ZZZ
96900 |  | A | Ultraviolet light therapy | 0.00 | 0.45 | NA | 0.02 | 0.47 | NA | XXX
96902 |  | B | Trichogram | 0.41 | 0.18 | 0.16 | 0.01 | 0.60 | 0.58 | XXX
96910 |  | A | Photochemotherapy with UV-B | 0.00 | 1.13 | NA | 0.04 | 1.17 | NA | XXX
96912 |  | A | Photochemotherapy with UV-A | 0.00 | 1.45 | NA | 0.05 | 1.50 | NA | XXX
96913 |  | A | Photochemotherapy, UV-A or B | 0.00 | 1.97 | NA | 0.10 | 2.07 | NA | XXX
96920 |  | A | Laser tx, skin < 250 sq cm | 1.15 | 2.91 | 0.61 | 0.02 | 4.08 | 1.78 | 000
96921 |  | A | Laser tx, skin 250-500 sq cm | 1.17 | 3.00 | 0.63 | 0.03 | 4.21 | 1.83 | 000
96922 |  | A | Laser tx, skin > 500 sq cm | 2.10 | 3.96 | 0.60 | 0.04 | 6.10 | 2.75 | 000
96999 |  | C | Dermatological procedure | 0.00 | 0.00 | 0.00 | 0.00 | 0.00 | 0.00 | XXX
97001 |  | A | Pt evaluation | 1.20 | 0.75 | NA | 0.05 | 2.00 | NA | XXX
97002 |  | A | Pt re-evaluation | 0.60 | 0.44 | NA | 0.02 | 1.06 | NA | XXX
97003 |  | A | Ot evaluation | 1.20 | 0.86 | NA | 0.06 | 2.12 | NA | XXX
97004 |  | A | Ot re-evaluation | 0.60 | 0.64 | NA | 0.02 | 1.26 | NA | XXX
97005 |  | I | Athletic train eval | 0.00 | 0.00 | 0.00 | 0.00 | 0.00 | 0.00 | XXX
97006 |  | I | Athletic train reeval | 0.00 | 0.00 | 0.00 | 0.00 | 0.00 | 0.00 | XXX
97010 |  | B | Hot or cold packs therapy | 0.06 | 0.06 | NA | 0.01 | 0.13 | NA | XXX
97012 |  | A | Mechanical traction therapy | 0.25 | 0.14 | NA | 0.01 | 0.40 | NA | XXX
97014 |  | I | Electric stimulation therapy | 0.18 | 0.19 | NA | 0.01 | 0.38 | NA | XXX
97016 |  | A | Vasopneumatic device therapy | 0.18 | 0.19 | NA | 0.01 | 0.38 | NA | XXX
97018 |  | A | Paraffin bath therapy | 0.06 | 0.11 | NA | 0.01 | 0.18 | NA | XXX
97020 |  | A | Microwave therapy | 0.06 | 0.06 | NA | 0.01 | 0.13 | NA | XXX
97022 |  | A | Whirlpool therapy | 0.17 | 0.23 | NA | 0.01 | 0.41 | NA | XXX
97024 |  | A | Diathermy treatment | 0.06 | 0.07 | NA | 0.01 | 0.14 | NA | XXX
97026 |  | A | Infrared therapy | 0.06 | 0.06 | NA | 0.01 | 0.13 | NA | XXX
97028 |  | A | Ultraviolet therapy | 0.08 | 0.07 | NA | 0.01 | 0.16 | NA | XXX
97032 |  | A | Electrical stimulation | 0.25 | 0.17 | NA | 0.01 | 0.43 | NA | XXX
97033 |  | A | Electric current therapy | 0.26 | 0.30 | NA | 0.01 | 0.57 | NA | XXX
97034 |  | A | Contrast bath therapy | 0.21 | 0.16 | NA | 0.01 | 0.38 | NA | XXX
97035 |  | A | Ultrasound therapy | 0.21 | 0.10 | NA | 0.01 | 0.32 | NA | XXX
97036 |  | A | Hydrotherapy | 0.28 | 0.34 | NA | 0.01 | 0.63 | NA | XXX
97039 |  | C | Physical therapy treatment | 0.20 | 0.10 | NA | 0.01 | 0.31 | NA | XXX
97110 |  | A | Therapeutic exercises | 0.45 | 0.28 | NA | 0.02 | 0.75 | NA | XXX
97112 |  | A | Neuromuscular reeducation | 0.45 | 0.32 | NA | 0.01 | 0.78 | NA | XXX
97113 |  | A | Aquatic therapy/exercises | 0.44 | 0.42 | NA | 0.01 | 0.87 | NA | XXX
97116 |  | A | Gait training therapy | 0.40 | 0.25 | NA | 0.01 | 0.66 | NA | XXX
97124 |  | A | Massage therapy | 0.35 | 0.24 | NA | 0.01 | 0.60 | NA | XXX
97139 |  | C | Physical medicine procedure | 0.21 | 0.21 | NA | 0.01 | 0.43 | NA | XXX
97140 |  | A | Manual therapy | 0.43 | 0.26 | NA | 0.01 | 0.70 | NA | XXX
97150 |  | A | Group therapeutic procedures | 0.27 | 0.19 | NA | 0.01 | 0.47 | NA | XXX
97504 |  | A | Orthotic training | 0.45 | 0.35 | NA | 0.03 | 0.83 | NA | XXX
97520 |  | A | Prosthetic training | 0.45 | 0.28 | NA | 0.01 | 0.74 | NA | XXX
97530 |  | A | Therapeutic activities | 0.44 | 0.33 | NA | 0.01 | 0.78 | NA | XXX
97532 |  | A | Cognitive skills development | 0.44 | 0.21 | NA | 0.01 | 0.66 | NA | XXX
97533 |  | A | Sensory integration | 0.44 | 0.25 | NA | 0.01 | 0.70 | NA | XXX
97535 |  | A | Self care mngment training | 0.45 | 0.34 | NA | 0.01 | 0.80 | NA | XXX
97537 |  | A | Community/work reintegration | 0.45 | 0.27 | NA | 0.01 | 0.73 | NA | XXX
97542 |  | A | Wheelchair mngment training | 0.45 | 0.29 | NA | 0.01 | 0.75 | NA | XXX
97545 |  | R | Work hardening | 0.00 | 0.00 | 0.00 | 0.00 | 0.00 | 0.00 | XXX
97546 |  | R | Work hardening add-on | 0.00 | 0.00 | 0.00 | 0.00 | 0.00 | 0.00 | ZZZ
97597 |  | A | Active wound care/20 cm or < | 0.58 | 0.74 | NA | 0.05 | 1.37 | NA | XXX
97598 |  | A | Active wound care > 20 cm | 0.80 | 0.88 | NA | 0.05 | 1.73 | NA | XXX
97602 |  | B | Wound(s) care non-selective | 0.00 | 0.00 | 0.00 | 0.00 | 0.00 | 0.00 | XXX
97605 |  | B | Neg press wound tx, < 50 cm | 0.00 | 0.00 | 0.00 | 0.00 | 0.00 | 0.00 | XXX
97606 |  | B | Neg press wound tx, > 50 cm | 0.00 | 0.00 | 0.00 | 0.00 | 0.00 | 0.00 | XXX
97703 |  | A | Prosthetic checkout | 0.25 | 0.47 | NA | 0.02 | 0.74 | NA | XXX
97750 |  | A | Physical performance test | 0.45 | 0.33 | NA | 0.02 | 0.80 | NA | XXX
97755 |  | A | Assistive technology assess | 0.62 | 0.29 | NA | 0.02 | 0.93 | NA | XXX
97799 |  | C | Physical medicine procedure | 0.00 | 0.00 | 0.00 | 0.00 | 0.00 | 0.00 | XXX
97802 |  | A | Medical nutrition, indiv, in | 0.00 | 0.43 | NA | 0.01 | 0.44 | NA | XXX
97803 |  | A | Med nutrition, indiv, subseq | 0.00 | 0.42 | NA | 0.01 | 0.43 | NA | XXX
97804 |  | A | Medical nutrition, group | 0.00 | 0.16 | NA | 0.01 | 0.17 | NA | XXX
97810 |  | N | Acupunct w/o stimul 15 min | 0.60 | 0.09 | 0.06 | 0.03 | 0.72 | 0.69 | XXX
97811 |  | N | Acupunct w/o stimul addl 15m | 0.50 | 0.06 | 0.05 | 0.03 | 0.59 | 0.58 | ZZZ
97813 |  | N | Acupunct w/stimul 15 min | 0.65 | 0.09 | 0.06 | 0.03 | 0.77 | 0.74 | XXX
97814 |  | N | Acupunct w/stimul addl 15m | 0.55 | 0.07 | 0.05 | 0.03 | 0.65 | 0.63 | ZZZ
98925 |  | A | Osteopathic manipulation | 0.45 | 0.31 | 0.14 | 0.02 | 0.78 | 0.61 | 000
98926 |  | A | Osteopathic manipulation | 0.65 | 0.40 | 0.24 | 0.03 | 1.08 | 0.92 | 000
98927 |  | A | Osteopathic manipulation | 0.87 | 0.49 | 0.28 | 0.03 | 1.40 | 1.18 | 000
98928 |  | A | Osteopathic manipulation | 1.03 | 0.58 | 0.33 | 0.04 | 1.65 | 1.41 | 000
98929 |  | A | Osteopathic manipulation | 1.19 | 0.66 | 0.36 | 0.05 | 1.90 | 1.60 | 000
98940 |  | A | Chiropractic manipulation | 0.45 | 0.22 | 0.12 | 0.01 | 0.68 | 0.58 | 000
98941 |  | A | Chiropractic manipulation | 0.65 | 0.29 | 0.17 | 0.01 | 0.95 | 0.83 | 000
98942 |  | A | Chiropractic manipulation | 0.87 | 0.35 | 0.23 | 0.02 | 1.24 | 1.12 | 000
98943 |  | N | Chiropractic manipulation | 0.40 | 0.24 | 0.16 | 0.01 | 0.65 | 0.57 | XXX
99000 |  | B | Specimen handling | 0.00 | 0.00 | 0.00 | 0.00 | 0.00 | 0.00 | XXX
99001 |  | B | Specimen handling | 0.00 | 0.00 | 0.00 | 0.00 | 0.00 | 0.00 | XXX
99002 |  | B | Device handling | 0.00 | 0.00 | 0.00 | 0.00 | 0.00 | 0.00 | XXX
99024 |  | B | Postop follow-up visit | 0.00 | 0.00 | 0.00 | 0.00 | 0.00 | 0.00 | XXX
99026 |  | N | In-hospital on call service | 0.00 | 0.00 | 0.00 | 0.00 | 0.00 | 0.00 | XXX
99027 |  | N | Out-of-hosp on call service | 0.00 | 0.00 | 0.00 | 0.00 | 0.00 | 0.00 | XXX
99050 |  | B | Medical services after hrs | 0.00 | 0.00 | 0.00 | 0.00 | 0.00 | 0.00 | XXX
99052 |  | B | Medical services at night | 0.00 | 0.00 | 0.00 | 0.00 | 0.00 | 0.00 | XXX
99054 |  | B | Medical servcs, unusual hrs | 0.00 | 0.00 | 0.00 | 0.00 | 0.00 | 0.00 | XXX
99056 |  | B | Non-office medical services | 0.00 | 0.00 | 0.00 | 0.00 | 0.00 | 0.00 | XXX
99058 |  | B | Office emergency care | 0.00 | 0.00 | 0.00 | 0.00 | 0.00 | 0.00 | XXX
99070 |  | B | Special supplies | 0.00 | 0.00 | 0.00 | 0.00 | 0.00 | 0.00 | XXX
99071 |  | B | Patient education materials | 0.00 | 0.00 | 0.00 | 0.00 | 0.00 | 0.00 | XXX
99075 |  | N | Medical testimony | 0.00 | 0.00 | 0.00 | 0.00 | 0.00 | 0.00 | XXX
99078 |  | B | Group health education | 0.00 | 0.00 | 0.00 | 0.00 | 0.00 | 0.00 | XXX
99080 |  | B | Special reports or forms | 0.00 | 0.00 | 0.00 | 0.00 | 0.00 | 0.00 | XXX
99082 |  | C | Unusual physician travel | 0.00 | 0.00 | 0.00 | 0.00 | 0.00 | 0.00 | XXX
99090 |  | B | Computer data analysis | 0.00 | 0.00 | 0.00 | 0.00 | 0.00 | 0.00 | XXX
99091 |  | B | Collect/review data from pt | 0.00 | 0.00 | 0.00 | 0.00 | 0.00 | 0.00 | XXX
99100 |  | B | Special anesthesia service | 0.00 | 0.00 | 0.00 | 0.00 | 0.00 | 0.00 | ZZZ
99116 |  | B | Anesthesia with hypothermia | 0.00 | 0.00 | 0.00 | 0.00 | 0.00 | 0.00 | ZZZ
99135 |  | B | Special anesthesia procedure | 0.00 | 0.00 | 0.00 | 0.00 | 0.00 | 0.00 | ZZZ
99140 |  | B | Emergency anesthesia | 0.00 | 0.00 | 0.00 | 0.00 | 0.00 | 0.00 | ZZZ
99141 |  | B | Sedation, iv/im or inhalant | 0.80 | 1.84 | 0.38 | 0.05 | 2.69 | 1.23 | XXX
99142 |  | B | Sedation, oral/rectal/nasal | 0.60 | 0.94 | 0.30 | 0.04 | 1.59 | 0.94 | XXX
99170 |  | A | Anogenitalexam, child | 1.75 | 1.71 | 0.55 | 0.08 | 3.55 | 2.38 | 000
99172 |  | N | Ocular function screen | 0.00 | 0.00 | 0.00 | 0.00 | 0.00 | 0.00 | XXX
99173 |  | N | Visual acuity screen | 0.00 | 0.00 | 0.00 | 0.00 | 0.00 | 0.00 | XXX
99175 |  | A | Induction of vomiting | 0.00 | 1.16 | NA | 0.10 | 1.26 | NA | XXX
99183 |  | A | Hyperbaric oxygen therapy | 2.34 | 3.09 | 0.70 | 0.16 | 5.60 | 3.21 | XXX
99185 |  | A | Regional hypothermia | 0.00 | 0.82 | NA | 0.04 | 0.86 | NA | XXX
99186 |  | A | Total body hypothermia | 0.00 | 1.62 | NA | 0.45 | 2.07 | NA | XXX
99195 |  | A | Phlebotomy | 0.00 | 0.88 | NA | 0.02 | 0.90 | NA | XXX
99199 |  | C | Special service/proc/report | 0.00 | 0.00 | 0.00 | 0.00 | 0.00 | 0.00 | XXX
99201 |  | A | Office/outpatient visit, new | 0.45 | 0.51 | 0.15 | 0.03 | 0.99 | 0.63 | XXX
99202 |  | A | Office/outpatient visit, new | 0.88 | 0.81 | 0.31 | 0.05 | 1.74 | 1.24 | XXX
99203 |  | A | Office/outpatient visit, new | 1.34 | 1.14 | 0.47 | 0.09 | 2.57 | 1.91 | XXX
99204 |  | A | Office/outpatient visit, new | 2.00 | 1.51 | 0.70 | 0.12 | 3.63 | 2.82 | XXX
99205 |  | A | Office/outpatient visit, new | 2.68 | 1.78 | 0.93 | 0.15 | 4.61 | 3.76 | XXX
99211 |  | A | Office/outpatient visit, est | 0.17 | 0.38 | 0.06 | 0.01 | 0.56 | 0.24 | XXX
99212 |  | A | Office/outpatient visit, est | 0.45 | 0.55 | 0.16 | 0.03 | 1.03 | 0.64 | XXX
99213 |  | A | Office/outpatient visit, est | 0.67 | 0.70 | 0.24 | 0.03 | 1.40 | 0.94 | XXX
99214 |  | A | Office/outpatient visit, est | 1.10 | 1.04 | 0.40 | 0.05 | 2.20 | 1.55 | XXX
99215 |  | A | Office/outpatient visit, est | 1.77 | 1.33 | 0.64 | 0.08 | 3.18 | 2.49 | XXX
99217 |  | A | Observation care discharge | 1.28 | NA | 0.54 | 0.06 | NA | 1.88 | XXX
99218 |  | A | Observation care | 1.28 | NA | 0.43 | 0.06 | NA | 1.78 | XXX
99219 |  | A | Observation care | 2.14 | NA | 0.71 | 0.10 | NA | 2.95 | XXX
99220 |  | A | Observation care | 3.00 | NA | 1.02 | 0.14 | NA | 4.16 | XXX
99221 |  | A | Initial hospital care | 1.28 | NA | 0.44 | 0.07 | NA | 1.80 | XXX
99222 |  | A | Initial hospital care | 2.14 | NA | 0.73 | 0.10 | NA | 2.97 | XXX
99223 |  | A | Initial hospital care | 3.00 | NA | 1.02 | 0.13 | NA | 4.15 | XXX
99231 |  | A | Subsequent hospital care | 0.64 | NA | 0.23 | 0.03 | NA | 0.90 | XXX
99232 |  | A | Subsequent hospital care | 1.06 | NA | 0.37 | 0.04 | NA | 1.47 | XXX
99233 |  | A | Subsequent hospital care | 1.51 | NA | 0.52 | 0.06 | NA | 2.09 | XXX
99234 |  | A | Observ/hosp same date | 2.57 | NA | 0.88 | 0.13 | NA | 3.58 | XXX
99235 |  | A | Observ/hosp same date | 3.42 | NA | 1.14 | 0.16 | NA | 4.71 | XXX
99236 |  | A | Observ/hosp same date | 4.27 | NA | 1.43 | 0.19 | NA | 5.89 | XXX
99238 |  | A | Hospital discharge day | 1.28 | NA | 0.54 | 0.05 | NA | 1.87 | XXX
99239 |  | A | Hospital discharge day | 1.75 | NA | 0.73 | 0.07 | NA | 2.55 | XXX
99241 |  | A | Office consultation | 0.64 | 0.65 | NA | 0.05 | 1.34 | NA | XXX
99242 |  | A | Office consultation | 1.29 | 1.07 | NA | 0.10 | 2.46 | NA | XXX
99243 |  | A | Office consultation | 1.72 | 1.42 | NA | 0.13 | 3.27 | NA | XXX
99244 |  | A | Office consultation | 2.59 | 1.85 | NA | 0.16 | 4.60 | NA | XXX
99245 |  | A | Office consultation | 3.43 | 2.29 | NA | 0.21 | 5.93 | NA | XXX
99251 |  | A | Initial inpatient consult | 0.66 | NA | 0.24 | 0.05 | NA | 0.95 | XXX
99252 |  | A | Initial inpatient consult | 1.32 | NA | 0.50 | 0.09 | NA | 1.92 | XXX
99253 |  | A | Initial inpatient consult | 1.82 | NA | 0.69 | 0.11 | NA | 2.62 | XXX
99254 |  | A | Initial inpatient consult | 2.65 | NA | 0.98 | 0.13 | NA | 3.76 | XXX
99255 |  | A | Initial inpatient consult | 3.65 | NA | 1.35 | 0.18 | NA | 5.17 | XXX
99261 |  | A | Follow-up inpatient consult | 0.42 | NA | 0.15 | 0.02 | NA | 0.59 | XXX
99262 |  | A | Follow-up inpatient consult | 0.85 | NA | 0.31 | 0.04 | NA | 1.20 | XXX
99263 |  | A | Follow-up inpatient consult | 1.27 | NA | 0.45 | 0.06 | NA | 1.78 | XXX
99271 |  | A | Confirmatory consultation | 0.45 | 0.55 | 0.16 | 0.03 | 1.03 | 0.64 | XXX
99272 |  | A | Confirmatory consultation | 0.84 | 0.84 | 0.31 | 0.06 | 1.74 | 1.21 | XXX
99273 |  | A | Confirmatory consultation | 1.19 | 1.11 | 0.45 | 0.10 | 2.40 | 1.74 | XXX
99274 |  | A | Confirmatory consultation | 1.73 | 1.37 | 0.64 | 0.12 | 3.22 | 2.49 | XXX
99275 |  | A | Confirmatory consultation | 2.31 | 1.65 | 0.83 | 0.15 | 4.12 | 3.30 | XXX
99281 |  | A | Emergency dept visit | 0.33 | NA | 0.09 | 0.02 | NA | 0.44 | XXX
99282 |  | A | Emergency dept visit | 0.55 | NA | 0.14 | 0.04 | NA | 0.73 | XXX
99283 |  | A | Emergency dept visit | 1.24 | NA | 0.30 | 0.09 | NA | 1.64 | XXX
99284 |  | A | Emergency dept visit | 1.95 | NA | 0.46 | 0.14 | NA | 2.55 | XXX
99285 |  | A | Emergency dept visit | 3.07 | NA | 0.70 | 0.23 | NA | 4.00 | XXX
99288 |  | B | Direct advanced life support | 0.00 | 0.00 | 0.00 | 0.00 | 0.00 | 0.00 | XXX
99289 |  | A | Ped crit care transport | 4.80 | NA | 1.42 | 0.24 | NA | 6.45 | XXX
99290 |  | A | Ped crit care transport addl | 2.40 | NA | 0.81 | 0.12 | NA | 3.34 | ZZZ
99291 |  | A | Critical care, first hour | 4.00 | 2.52 | 1.26 | 0.21 | 6.73 | 5.47 | XXX
99292 |  | A | Critical care, addl 30 min | 2.00 | 0.89 | 0.63 | 0.11 | 3.01 | 2.75 | ZZZ
99293 |  | A | Ped critical care, initial | 16.01 | NA | 4.66 | 1.12 | NA | 21.80 | XXX
99294 |  | A | Ped critical care, subseq | 8.01 | NA | 2.35 | 0.45 | NA | 10.81 | XXX
99295 |  | A | Neonate crit care, initial | 18.50 | NA | 5.27 | 1.16 | NA | 24.93 | XXX
99296 |  | A | Neonate critical care subseq | 8.01 | NA | 2.47 | 0.32 | NA | 10.80 | XXX
99298 |  | A | Ic for lbw infant < 1500 gm | 2.76 | NA | 0.92 | 0.17 | NA | 3.85 | XXX
99299 |  | A | Ic, lbw infant 1500-2500 gm | 2.51 | NA | 0.84 | 0.16 | NA | 3.51 | XXX
99301 |  | A | Nursing facility care | 1.20 | 0.50 | 0.50 | 0.05 | 1.75 | 1.75 | XXX
99302 |  | A | Nursing facility care | 1.61 | 0.63 | 0.63 | 0.07 | 2.32 | 2.32 | XXX
99303 |  | A | Nursing facility care | 2.01 | 0.75 | 0.75 | 0.08 | 2.84 | 2.84 | XXX
99311 |  | A | Nursing fac care, subseq | 0.60 | 0.27 | 0.27 | 0.03 | 0.90 | 0.90 | XXX
99312 |  | A | Nursing fac care, subseq | 1.00 | 0.45 | 0.45 | 0.04 | 1.49 | 1.49 | XXX
99313 |  | A | Nursing fac care, subseq | 1.42 | 0.62 | 0.62 | 0.06 | 2.10 | 2.10 | XXX
99315 |  | A | Nursing fac discharge day | 1.13 | 0.45 | 0.45 | 0.05 | 1.63 | 1.63 | XXX
99316 |  | A | Nursing fac discharge day | 1.50 | 0.58 | 0.58 | 0.06 | 2.14 | 2.14 | XXX
99321 |  | A | Rest home visit, new patient | 0.71 | 0.34 | 0.32 | 0.03 | 1.08 | 1.06 | XXX
99322 |  | A | Rest home visit, new patient | 1.01 | 0.45 | 0.44 | 0.05 | 1.52 | 1.50 | XXX
99323 |  | A | Rest home visit, new patient | 1.28 | 0.54 | 0.52 | 0.05 | 1.87 | 1.85 | XXX
99331 |  | A | Rest home visit, est pat | 0.60 | 0.31 | 0.29 | 0.03 | 0.94 | 0.92 | XXX
99332 |  | A | Rest home visit, est pat | 0.80 | 0.37 | 0.35 | 0.03 | 1.20 | 1.18 | XXX
99333 |  | A | Rest home visit, est pat | 1.00 | 0.45 | 0.43 | 0.04 | 1.49 | 1.47 | XXX
99341 |  | A | Home visit, new patient | 1.01 | 0.48 | 0.45 | 0.05 | 1.54 | 1.52 | XXX
99342 |  | A | Home visit, new patient | 1.52 | 0.67 | 0.65 | 0.07 | 2.27 | 2.24 | XXX
99343 |  | A | Home visit, new patient | 2.27 | 0.92 | 0.90 | 0.10 | 3.30 | 3.27 | XXX
99344 |  | A | Home visit, new patient | 3.04 | 1.15 | 1.13 | 0.13 | 4.32 | 4.29 | XXX
99345 |  | A | Home visit, new patient | 3.79 | 1.40 | 1.37 | 0.16 | 5.34 | 5.32 | XXX
99347 |  | A | Home visit, est patient | 0.76 | 0.40 | 0.37 | 0.04 | 1.20 | 1.17 | XXX
99348 |  | A | Home visit, est patient | 1.26 | 0.57 | 0.54 | 0.06 | 1.89 | 1.87 | XXX
99349 |  | A | Home visit, est patient | 2.02 | 0.81 | 0.79 | 0.09 | 2.93 | 2.90 | XXX
99350 |  | A | Home visit, est patient | 3.04 | 1.15 | 1.12 | 0.13 | 4.32 | 4.29 | XXX
99354 |  | A | Prolonged service, office | 1.77 | 0.77 | 0.65 | 0.08 | 2.63 | 2.50 | ZZZ
99355 |  | A | Prolonged service, office | 1.77 | 0.75 | 0.61 | 0.07 | 2.59 | 2.45 | ZZZ
99356 |  | A | Prolonged service, inpatient | 1.71 | NA | 0.61 | 0.07 | NA | 2.39 | ZZZ
99357 |  | A | Prolonged service, inpatient | 1.71 | NA | 0.62 | 0.08 | NA | 2.42 | ZZZ
99358 |  | B | Prolonged serv, w/o contact | 0.00 | 0.00 | 0.00 | 0.00 | 0.00 | 0.00 | ZZZ
99359 |  | B | Prolonged serv, w/o contact | 0.00 | 0.00 | 0.00 | 0.00 | 0.00 | 0.00 | ZZZ
99361 |  | B | Physician/team conference | 0.00 | 0.00 | 0.00 | 0.00 | 0.00 | 0.00 | XXX
99362 |  | B | Physician/team conference | 0.00 | 0.00 | 0.00 | 0.00 | 0.00 | 0.00 | XXX
99371 |  | B | Physician phone consultation | 0.00 | 0.00 | 0.00 | 0.00 | 0.00 | 0.00 | XXX
99372 |  | B | Physician phone consultation | 0.00 | 0.00 | 0.00 | 0.00 | 0.00 | 0.00 | XXX
99373 |  | B | Physician phone consultation | 0.00 | 0.00 | 0.00 | 0.00 | 0.00 | 0.00 | XXX
99374 |  | B | Home health care supervision | 1.10 | 0.70 | 0.42 | 0.05 | 1.85 | 1.57 | XXX
99375 |  | I | Home health care supervision | 1.73 | 0.00 | 0.00 | 0.07 | 1.80 | 1.80 | XXX
99377 |  | B | Hospice care supervision | 1.10 | 0.70 | 0.42 | 0.05 | 1.85 | 1.57 | XXX
99378 |  | I | Hospice care supervision | 1.73 | 0.00 | 0.00 | 0.07 | 1.80 | 1.80 | XXX
99379 |  | B | Nursing fac care supervision | 1.10 | 0.70 | 0.42 | 0.04 | 1.84 | 1.56 | XXX
99380 |  | B | Nursing fac care supervision | 1.73 | 0.99 | 0.66 | 0.06 | 2.79 | 2.45 | XXX
99381 |  | N | Prev visit, new, infant | 1.19 | 1.42 | 0.45 | 0.05 | 2.67 | 1.69 | XXX
99382 |  | N | Prev visit, new, age 1-4 | 1.36 | 1.47 | 0.52 | 0.05 | 2.88 | 1.93 | XXX
99383 |  | N | Prev visit, new, age 5-11 | 1.36 | 1.42 | 0.52 | 0.05 | 2.83 | 1.93 | XXX
99384 |  | N | Prev visit, new, age 12-17 | 1.53 | 1.49 | 0.59 | 0.06 | 3.08 | 2.18 | XXX
99385 |  | N | Prev visit, new, age 18-39 | 1.53 | 1.49 | 0.59 | 0.06 | 3.08 | 2.18 | XXX
99386 |  | N | Prev visit, new, age 40-64 | 1.88 | 1.66 | 0.72 | 0.07 | 3.62 | 2.67 | XXX
99387 |  | N | Prev visit, new, 65 & over | 2.06 | 1.80 | 0.78 | 0.07 | 3.94 | 2.92 | XXX
99391 |  | N | Prev visit, est, infant | 1.02 | 1.02 | 0.39 | 0.04 | 2.08 | 1.45 | XXX
99392 |  | N | Prev visit, est, age 1-4 | 1.19 | 1.09 | 0.45 | 0.05 | 2.33 | 1.69 | XXX
99393 |  | N | Prev visit, est, age 5-11 | 1.19 | 1.07 | 0.45 | 0.05 | 2.31 | 1.69 | XXX
99394 |  | N | Prev visit, est, age 12-17 | 1.36 | 1.13 | 0.52 | 0.05 | 2.55 | 1.93 | XXX
99395 |  | N | Prev visit, est, age 18-39 | 1.36 | 1.16 | 0.52 | 0.05 | 2.57 | 1.93 | XXX
99396 |  | N | Prev visit, est, age 40-64 | 1.53 | 1.24 | 0.59 | 0.06 | 2.83 | 2.18 | XXX
99397 |  | N | Prev visit, est, 65 & over | 1.71 | 1.37 | 0.65 | 0.06 | 3.14 | 2.43 | XXX
99401 |  | N | Preventive counseling, indiv | 0.48 | 0.58 | 0.19 | 0.01 | 1.07 | 0.68 | XXX
99402 |  | N | Preventive counseling, indiv | 0.98 | 0.81 | 0.37 | 0.02 | 1.81 | 1.37 | XXX
99403 |  | N | Preventive counseling, indiv | 1.46 | 1.02 | 0.56 | 0.04 | 2.52 | 2.06 | XXX
99404 |  | N | Preventive counseling, indiv | 1.95 | 1.24 | 0.74 | 0.05 | 3.24 | 2.75 | XXX
99411 |  | N | Preventive counseling, group | 0.15 | 0.20 | 0.06 | 0.01 | 0.36 | 0.22 | XXX
99412 |  | N | Preventive counseling, group | 0.25 | 0.26 | 0.10 | 0.01 | 0.52 | 0.36 | XXX
99420 |  | N | Health risk assessment test | 0.00 | 0.00 | 0.00 | 0.00 | 0.00 | 0.00 | XXX
99429 |  | N | Unlisted preventive service | 0.00 | 0.00 | 0.00 | 0.00 | 0.00 | 0.00 | XXX
99431 |  | A | Initial care, normal newborn | 1.17 | 0.00 | 0.37 | 0.05 | 1.22 | 1.59 | XXX
99432 |  | A | Newborn care, not in hosp | 1.26 | 1.01 | NA | 0.07 | 2.34 | NA | XXX
99433 |  | A | Normal newborn care/hospital | 0.62 | NA | 0.19 | 0.02 | NA | 0.83 | XXX
99435 |  | A | Newborn discharge day hosp | 1.50 | NA | 0.59 | 0.06 | NA | 2.15 | XXX
99436 |  | A | Attendance, birth | 1.50 | NA | 0.46 | 0.06 | NA | 2.02 | XXX
99440 |  | A | Newborn resuscitation | 2.94 | NA | 0.91 | 0.12 | NA | 3.96 | XXX
99450 |  | N | Life/disability evaluation | 0.00 | 0.00 | 0.00 | 0.00 | 0.00 | 0.00 | XXX
99455 |  | R | Disability examination | 0.00 | 0.00 | 0.00 | 0.00 | 0.00 | 0.00 | XXX
99456 |  | R | Disability examination | 0.00 | 0.00 | 0.00 | 0.00 | 0.00 | 0.00 | XXX
99499 |  | C | Unlisted e&m service | 0.00 | 0.00 | 0.00 | 0.00 | 0.00 | 0.00 | XXX
99500 |  | I | Home visit, prenatal | 0.00 | 0.00 | 0.00 | 0.00 | 0.00 | 0.00 | XXX
99501 |  | I | Home visit, postnatal | 0.00 | 0.00 | 0.00 | 0.00 | 0.00 | 0.00 | XXX
99502 |  | I | Home visit, nb care | 0.00 | 0.00 | 0.00 | 0.00 | 0.00 | 0.00 | XXX
99503 |  | I | Home visit, resp therapy | 0.00 | 0.00 | 0.00 | 0.00 | 0.00 | 0.00 | XXX
99504 |  | I | Home visit mech ventilator | 0.00 | 0.00 | 0.00 | 0.00 | 0.00 | 0.00 | XXX
99505 |  | I | Home visit, stoma care | 0.00 | 0.00 | 0.00 | 0.00 | 0.00 | 0.00 | XXX
99506 |  | I | Home visit, im injection | 0.00 | 0.00 | 0.00 | 0.00 | 0.00 | 0.00 | XXX
99507 |  | I | Home visit, cath maintain | 0.00 | 0.00 | 0.00 | 0.00 | 0.00 | 0.00 | XXX
99509 |  | I | Home visit day life activity | 0.00 | 0.00 | 0.00 | 0.00 | 0.00 | 0.00 | XXX
99510 |  | I | Home visit, sing/m/fam couns | 0.00 | 0.00 | 0.00 | 0.00 | 0.00 | 0.00 | XXX
99511 |  | I | Home visit, fecal/enema mgmt | 0.00 | 0.00 | 0.00 | 0.00 | 0.00 | 0.00 | XXX
99512 |  | I | Home visit for hemodialysis | 0.00 | 0.00 | 0.00 | 0.00 | 0.00 | 0.00 | XXX
99600 |  | I | Home visit nos | 0.00 | 0.00 | 0.00 | 0.00 | 0.00 | 0.00 | XXX
99601 |  | I | Home infusion/visit, 2 hrs | 0.00 | 0.00 | 0.00 | 0.00 | 0.00 | 0.00 | XXX
99602 |  | I | Home infusion, each addtl hr | 0.00 | 0.00 | 0.00 | 0.00 | 0.00 | 0.00 | XXX
A4890 |  | R | Repair/maint cont hemo equip | 0.00 | 0.00 | 0.00 | 0.00 | 0.00 | 0.00 | XXX
D0150 |  | R | Comprehensve oral evaluation | 0.00 | 0.00 | 0.00 | 0.00 | 0.00 | 0.00 | YYY
D0240 |  | R | Intraoral occlusal film | 0.00 | 0.00 | 0.00 | 0.00 | 0.00 | 0.00 | YYY
D0250 |  | R | Extraoral first film | 0.00 | 0.00 | 0.00 | 0.00 | 0.00 | 0.00 | YYY
D0260 |  | R | Extraoral ea additional film | 0.00 | 0.00 | 0.00 | 0.00 | 0.00 | 0.00 | YYY
D0270 |  | R | Dental bitewing single film | 0.00 | 0.00 | 0.00 | 0.00 | 0.00 | 0.00 | YYY
D0272 |  | R | Dental bitewings two films | 0.00 | 0.00 | 0.00 | 0.00 | 0.00 | 0.00 | YYY
D0274 |  | R | Dental bitewings four films | 0.00 | 0.00 | 0.00 | 0.00 | 0.00 | 0.00 | YYY
D0277 |  | R | Vert bitewings-sev to eight | 0.00 | 0.00 | 0.00 | 0.00 | 0.00 | 0.00 | XXX
D0416 |  | R | Viral culture | 0.00 | 0.00 | 0.00 | 0.00 | 0.00 | 0.00 | XXX
D0421 |  | R | Gen tst suscept oral disease | 0.00 | 0.00 | 0.00 | 0.00 | 0.00 | 0.00 | XXX
D0431 |  | R | Diag tst detect mucos abnorm | 0.00 | 0.00 | 0.00 | 0.00 | 0.00 | 0.00 | XXX
D0460 |  | R | Pulp vitality test | 0.00 | 0.00 | 0.00 | 0.00 | 0.00 | 0.00 | YYY
D0472 |  | R | Gross exam, prep & report | 0.00 | 0.00 | 0.00 | 0.00 | 0.00 | 0.00 | XXX
D0473 |  | R | Micro exam, prep & report | 0.00 | 0.00 | 0.00 | 0.00 | 0.00 | 0.00 | XXX
D0474 |  | R | Micro w exam of surg margins | 0.00 | 0.00 | 0.00 | 0.00 | 0.00 | 0.00 | XXX
D0475 |  | R | Decalcification procedure | 0.00 | 0.00 | 0.00 | 0.00 | 0.00 | 0.00 | XXX
D0476 |  | R | Spec stains for microorganis | 0.00 | 0.00 | 0.00 | 0.00 | 0.00 | 0.00 | XXX
D0477 |  | R | Spec stains not for microorg | 0.00 | 0.00 | 0.00 | 0.00 | 0.00 | 0.00 | XXX
D0478 |  | R | Immunohistochemical stains | 0.00 | 0.00 | 0.00 | 0.00 | 0.00 | 0.00 | XXX
D0479 |  | R | Tissue in-situ hybridization | 0.00 | 0.00 | 0.00 | 0.00 | 0.00 | 0.00 | XXX
D0480 |  | R | Cytopath smear prep & report | 0.00 | 0.00 | 0.00 | 0.00 | 0.00 | 0.00 | XXX
D0481 |  | R | Electron microscopy diagnost | 0.00 | 0.00 | 0.00 | 0.00 | 0.00 | 0.00 | XXX
D0482 |  | R | Direct immunofluorescence | 0.00 | 0.00 | 0.00 | 0.00 | 0.00 | 0.00 | XXX
D0483 |  | R | Indirect immunofluorescence | 0.00 | 0.00 | 0.00 | 0.00 | 0.00 | 0.00 | XXX
D0484 |  | R | Consult slides prep elsewher | 0.00 | 0.00 | 0.00 | 0.00 | 0.00 | 0.00 | XXX
D0485 |  | R | Consult inc prep of slides | 0.00 | 0.00 | 0.00 | 0.00 | 0.00 | 0.00 | XXX
D0502 |  | R | Other oral pathology procedu | 0.00 | 0.00 | 0.00 | 0.00 | 0.00 | 0.00 | YYY
D0999 |  | R | Unspecified diagnostic proce | 0.00 | 0.00 | 0.00 | 0.00 | 0.00 | 0.00 | YYY
D1510 |  | R | Space maintainer fxd unilat | 0.00 | 0.00 | 0.00 | 0.00 | 0.00 | 0.00 | YYY
D1515 |  | R | Fixed bilat space maintainer | 0.00 | 0.00 | 0.00 | 0.00 | 0.00 | 0.00 | YYY
D1520 |  | R | Remove unilat space maintain | 0.00 | 0.00 | 0.00 | 0.00 | 0.00 | 0.00 | YYY
D1525 |  | R | Remove bilat space maintain | 0.00 | 0.00 | 0.00 | 0.00 | 0.00 | 0.00 | YYY
D1550 |  | R | Recement space maintainer | 0.00 | 0.00 | 0.00 | 0.00 | 0.00 | 0.00 | YYY
D2999 |  | R | Dental unspec restorative pr | 0.00 | 0.00 | 0.00 | 0.00 | 0.00 | 0.00 | YYY
D3460 |  | R | Endodontic endosseous implan | 0.00 | 0.00 | 0.00 | 0.00 | 0.00 | 0.00 | YYY
D3999 |  | R | Endodontic procedure | 0.00 | 0.00 | 0.00 | 0.00 | 0.00 | 0.00 | YYY
D4260 |  | R | Osseous surgery per quadrant | 0.00 | 0.00 | 0.00 | 0.00 | 0.00 | 0.00 | YYY
D4263 |  | R | Bone replce graft first site | 0.00 | 0.00 | 0.00 | 0.00 | 0.00 | 0.00 | YYY
D4264 |  | R | Bone replce graft each add | 0.00 | 0.00 | 0.00 | 0.00 | 0.00 | 0.00 | YYY
D4268 |  | R | Surgical revision procedure | 0.00 | 0.00 | 0.00 | 0.00 | 0.00 | 0.00 | XXX
D4270 |  | R | Pedicle soft tissue graft pr | 0.00 | 0.00 | 0.00 | 0.00 | 0.00 | 0.00 | YYY
D4271 |  | R | Free soft tissue graft proc | 0.00 | 0.00 | 0.00 | 0.00 | 0.00 | 0.00 | YYY
D4273 |  | R | Subepithelial tissue graft | 0.00 | 0.00 | 0.00 | 0.00 | 0.00 | 0.00 | YYY
D4355 |  | R | Full mouth debridement | 0.00 | 0.00 | 0.00 | 0.00 | 0.00 | 0.00 | YYY
D4381 |  | R | Localized delivery antimicro | 0.00 | 0.00 | 0.00 | 0.00 | 0.00 | 0.00 | YYY
D5911 |  | R | Facial moulage sectional | 0.00 | 0.00 | 0.00 | 0.00 | 0.00 | 0.00 | YYY
D5912 |  | R | Facial moulage complete | 0.00 | 0.00 | 0.00 | 0.00 | 0.00 | 0.00 | YYY
D5951 |  | R | Feeding aid | 0.00 | 0.00 | 0.00 | 0.00 | 0.00 | 0.00 | YYY
D5983 |  | R | Radiation applicator | 0.00 | 0.00 | 0.00 | 0.00 | 0.00 | 0.00 | YYY
D5984 |  | R | Radiation shield | 0.00 | 0.00 | 0.00 | 0.00 | 0.00 | 0.00 | YYY
D5985 |  | R | Radiation cone locator | 0.00 | 0.00 | 0.00 | 0.00 | 0.00 | 0.00 | YYY
D5987 |  | R | Commissure splint | 0.00 | 0.00 | 0.00 | 0.00 | 0.00 | 0.00 | YYY
D6920 |  | R | Dental connector bar | 0.00 | 0.00 | 0.00 | 0.00 | 0.00 | 0.00 | YYY
D7111 |  | R | Extraction coronal remnants | 0.00 | 0.00 | 0.00 | 0.00 | 0.00 | 0.00 | XXX
D7140 |  | R | Extraction erupted tooth/exr | 0.00 | 0.00 | 0.00 | 0.00 | 0.00 | 0.00 | XXX
D7210 |  | R | Rem imp tooth w mucoper flp | 0.00 | 0.00 | 0.00 | 0.00 | 0.00 | 0.00 | YYY
D7220 |  | R | Impact tooth remov soft tiss | 0.00 | 0.00 | 0.00 | 0.00 | 0.00 | 0.00 | YYY
D7230 |  | R | Impact tooth remov part bony | 0.00 | 0.00 | 0.00 | 0.00 | 0.00 | 0.00 | YYY
D7240 |  | R | Impact tooth remov comp bony | 0.00 | 0.00 | 0.00 | 0.00 | 0.00 | 0.00 | YYY
D7241 |  | R | Impact tooth rem bony w/comp | 0.00 | 0.00 | 0.00 | 0.00 | 0.00 | 0.00 | YYY
D7250 |  | R | Tooth root removal | 0.00 | 0.00 | 0.00 | 0.00 | 0.00 | 0.00 | YYY
D7260 |  | R | Oral antral fistula closure | 0.00 | 0.00 | 0.00 | 0.00 | 0.00 | 0.00 | YYY
D7261 |  | R | Primary closure sinus perf | 0.00 | 0.00 | 0.00 | 0.00 | 0.00 | 0.00 | XXX
D7283 |  | R | Place device impacted tooth | 0.00 | 0.00 | 0.00 | 0.00 | 0.00 | 0.00 | XXX
D7288 |  | R | Brush biopsy | 0.00 | 0.00 | 0.00 | 0.00 | 0.00 | 0.00 | XXX
D7291 |  | R | Transseptal fiberotomy | 0.00 | 0.00 | 0.00 | 0.00 | 0.00 | 0.00 | YYY
D7321 |  | R | Alveoloplasty not w/extracts | 0.00 | 0.00 | 0.00 | 0.00 | 0.00 | 0.00 | XXX
D7511 |  | R | Incision/drain abscess intra | 0.00 | 0.00 | 0.00 | 0.00 | 0.00 | 0.00 | XXX
D7521 |  | R | Incision/drain abscess extra | 0.00 | 0.00 | 0.00 | 0.00 | 0.00 | 0.00 | XXX
D7940 |  | R | Reshaping bone orthognathic | 0.00 | 0.00 | 0.00 | 0.00 | 0.00 | 0.00 | YYY
D9110 |  | R | Tx dental pain minor proc | 0.00 | 0.00 | 0.00 | 0.00 | 0.00 | 0.00 | YYY
D9230 |  | R | Analgesia | 0.00 | 0.00 | 0.00 | 0.00 | 0.00 | 0.00 | YYY
D9248 |  | R | Sedation (non-iv) | 0.00 | 0.00 | 0.00 | 0.00 | 0.00 | 0.00 | XXX
D9630 |  | R | Other drugs/medicaments | 0.00 | 0.00 | 0.00 | 0.00 | 0.00 | 0.00 | YYY
D9930 |  | R | Treatment of complications | 0.00 | 0.00 | 0.00 | 0.00 | 0.00 | 0.00 | YYY
D9940 |  | R | Dental occlusal guard | 0.00 | 0.00 | 0.00 | 0.00 | 0.00 | 0.00 | YYY
D9950 |  | R | Occlusion analysis | 0.00 | 0.00 | 0.00 | 0.00 | 0.00 | 0.00 | YYY
D9951 |  | R | Limited occlusal adjustment | 0.00 | 0.00 | 0.00 | 0.00 | 0.00 | 0.00 | YYY
D9952 |  | R | Complete occlusal adjustment | 0.00 | 0.00 | 0.00 | 0.00 | 0.00 | 0.00 | YYY
G0008 |  | X | Admin influenza virus vac | 0.00 | 0.00 | 0.00 | 0.00 | 0.00 | 0.00 | XXX
G0009 |  | X | Admin pneumococcal vaccine | 0.00 | 0.00 | 0.00 | 0.00 | 0.00 | 0.00 | XXX
G0010 |  | X | Admin hepatitis b vaccine | 0.00 | 0.00 | 0.00 | 0.00 | 0.00 | 0.00 | XXX
G0030 |  | I | PET imaging prev PET single | 0.00 | 0.00 | 0.00 | 0.00 | 0.00 | 0.00 | XXX
G0030 | 26 | I | PET imaging prev PET single | 1.50 | 0.61 | 0.61 | 0.06 | 2.17 | 2.17 | XXX
G0030 | TC | I | PET imaging prev PET single | 0.00 | 0.00 | 0.00 | 0.00 | 0.00 | 0.00 | XXX
G0031 |  | I | PET imaging prev PET multple | 0.00 | 0.00 | 0.00 | 0.00 | 0.00 | 0.00 | XXX
G0031 | 26 | I | PET imaging prev PET multple | 1.87 | 0.76 | 0.76 | 0.07 | 2.70 | 2.70 | XXX
G0031 | TC | I | PET imaging prev PET multple | 0.00 | 0.00 | 0.00 | 0.00 | 0.00 | 0.00 | XXX
G0032 |  | I | PET follow SPECT 78464 singl | 0.00 | 0.00 | 0.00 | 0.00 | 0.00 | 0.00 | XXX
G0032 | 26 | I | PET follow SPECT 78464 singl | 1.50 | 0.57 | 0.57 | 0.06 | 2.13 | 2.13 | XXX
G0032 | TC | I | PET follow SPECT 78464 singl | 0.00 | 0.00 | 0.00 | 0.00 | 0.00 | 0.00 | XXX
G0033 |  | I | PET follow SPECT 78464 mult | 0.00 | 0.00 | 0.00 | 0.00 | 0.00 | 0.00 | XXX
G0033 | 26 | I | PET follow SPECT 78464 mult | 1.87 | 0.78 | 0.78 | 0.07 | 2.72 | 2.72 | XXX
G0033 | TC | I | PET follow SPECT 78464 mult | 0.00 | 0.00 | 0.00 | 0.00 | 0.00 | 0.00 | XXX
G0034 |  | I | PET follow SPECT 76865 singl | 0.00 | 0.00 | 0.00 | 0.00 | 0.00 | 0.00 | XXX
G0034 | 26 | I | PET follow SPECT 76865 singl | 1.50 | 0.60 | 0.60 | 0.05 | 2.15 | 2.15 | XXX
G0034 | TC | I | PET follow SPECT 76865 singl | 0.00 | 0.00 | 0.00 | 0.00 | 0.00 | 0.00 | XXX
G0035 |  | I | PET follow SPECT 78465 mult | 0.00 | 0.00 | 0.00 | 0.00 | 0.00 | 0.00 | XXX
G0035 | 26 | I | PET follow SPECT 78465 mult | 1.87 | 0.76 | 0.76 | 0.06 | 2.70 | 2.70 | XXX
G0035 | TC | I | PET follow SPECT 78465 mult | 0.00 | 0.00 | 0.00 | 0.00 | 0.00 | 0.00 | XXX
G0036 |  | I | PET follow cornry angio sing | 0.00 | 0.00 | 0.00 | 0.00 | 0.00 | 0.00 | XXX
G0036 | 26 | I | PET follow cornry angio sing | 1.50 | 0.59 | 0.59 | 0.05 | 2.14 | 2.14 | XXX
G0036 | TC | I | PET follow cornry angio sing | 0.00 | 0.00 | 0.00 | 0.00 | 0.00 | 0.00 | XXX
G0037 |  | I | PET follow cornry angio mult | 0.00 | 0.00 | 0.00 | 0.00 | 0.00 | 0.00 | XXX
G0037 | 26 | I | PET follow cornry angio mult | 1.87 | 0.74 | 0.74 | 0.06 | 2.67 | 2.67 | XXX
G0037 | TC | I | PET follow cornry angio mult | 0.00 | 0.00 | 0.00 | 0.00 | 0.00 | 0.00 | XXX
G0038 |  | I | PET follow myocard perf sing | 0.00 | 0.00 | 0.00 | 0.00 | 0.00 | 0.00 | XXX
G0038 | 26 | I | PET follow myocard perf sing | 1.50 | 0.51 | 0.51 | 0.07 | 2.09 | 2.09 | XXX
G0038 | TC | I | PET follow myocard perf sing | 0.00 | 0.00 | 0.00 | 0.00 | 0.00 | 0.00 | XXX
G0039 |  | I | PET follow myocard perf mult | 0.00 | 0.00 | 0.00 | 0.00 | 0.00 | 0.00 | XXX
G0039 | 26 | I | PET follow myocard perf mult | 1.87 | 0.74 | 0.74 | 0.07 | 2.69 | 2.69 | XXX
G0039 | TC | I | PET follow myocard perf mult | 0.00 | 0.00 | 0.00 | 0.00 | 0.00 | 0.00 | XXX
G0040 |  | I | PET follow stress echo singl | 0.00 | 0.00 | 0.00 | 0.00 | 0.00 | 0.00 | XXX
G0040 | 26 | I | PET follow stress echo singl | 1.50 | 0.61 | 0.61 | 0.06 | 2.18 | 2.18 | XXX
G0040 | TC | I | PET follow stress echo singl | 0.00 | 0.00 | 0.00 | 0.00 | 0.00 | 0.00 | XXX
G0041 |  | I | PET follow stress echo mult | 0.00 | 0.00 | 0.00 | 0.00 | 0.00 | 0.00 | XXX
G0041 | 26 | I | PET follow stress echo mult | 1.87 | 0.76 | 0.76 | 0.06 | 2.70 | 2.70 | XXX
G0041 | TC | I | PET follow stress echo mult | 0.00 | 0.00 | 0.00 | 0.00 | 0.00 | 0.00 | XXX
G0042 |  | I | PET follow ventriculogm sing | 0.00 | 0.00 | 0.00 | 0.00 | 0.00 | 0.00 | XXX
G0042 | 26 | I | PET follow ventriculogm sing | 1.50 | 0.63 | 0.63 | 0.05 | 2.18 | 2.18 | XXX
G0042 | TC | I | PET follow ventriculogm sing | 0.00 | 0.00 | 0.00 | 0.00 | 0.00 | 0.00 | XXX
G0043 |  | I | PET follow ventriculogm mult | 0.00 | 0.00 | 0.00 | 0.00 | 0.00 | 0.00 | XXX
G0043 | 26 | I | PET follow ventriculogm mult | 1.87 | 0.79 | 0.79 | 0.07 | 2.73 | 2.73 | XXX
G0043 | TC | I | PET follow ventriculogm mult | 0.00 | 0.00 | 0.00 | 0.00 | 0.00 | 0.00 | XXX
G0044 |  | I | PET following rest ECG singl | 0.00 | 0.00 | 0.00 | 0.00 | 0.00 | 0.00 | XXX
G0044 | 26 | I | PET following rest ECG singl | 1.50 | 0.62 | 0.62 | 0.05 | 2.17 | 2.17 | XXX
G0044 | TC | I | PET following rest ECG singl | 0.00 | 0.00 | 0.00 | 0.00 | 0.00 | 0.00 | XXX
G0045 |  | I | PET following rest ECG mult | 0.00 | 0.00 | 0.00 | 0.00 | 0.00 | 0.00 | XXX
G0045 | 26 | I | PET following rest ECG mult | 1.87 | 0.75 | 0.75 | 0.06 | 2.69 | 2.69 | XXX
G0045 | TC | I | PET following rest ECG mult | 0.00 | 0.00 | 0.00 | 0.00 | 0.00 | 0.00 | XXX
G0046 |  | I | PET follow stress ECG singl | 0.00 | 0.00 | 0.00 | 0.00 | 0.00 | 0.00 | XXX
G0046 | 26 | I | PET follow stress ECG singl | 1.50 | 0.62 | 0.62 | 0.05 | 2.17 | 2.17 | XXX
G0046 | TC | I | PET follow stress ECG singl | 0.00 | 0.00 | 0.00 | 0.00 | 0.00 | 0.00 | XXX
G0047 |  | I | PET follow stress ECG mult | 0.00 | 0.00 | 0.00 | 0.00 | 0.00 | 0.00 | XXX
G0047 | 26 | I | PET follow stress ECG mult | 1.87 | 0.76 | 0.76 | 0.06 | 2.70 | 2.70 | XXX
G0047 | TC | I | PET follow stress ECG mult | 0.00 | 0.00 | 0.00 | 0.00 | 0.00 | 0.00 | XXX
G0101 |  | A | CA screen;pelvic/breast exam | 0.45 | 0.51 | 0.17 | 0.02 | 0.98 | 0.64 | XXX
G0102 |  | A | Prostate ca screening; dre | 0.17 | 0.38 | 0.06 | 0.01 | 0.56 | 0.24 | XXX
G0104 |  | A | CA screen;flexi sigmoidscope | 0.96 | 2.33 | 0.55 | 0.08 | 3.37 | 1.59 | 000
G0105 |  | A | Colorectal scrn; hi risk ind | 3.70 | 6.60 | 1.58 | 0.30 | 10.59 | 5.57 | 000
G0105 | 53 | A | Colorectal scrn; hi risk ind | 0.96 | 2.33 | 0.55 | 0.08 | 3.37 | 1.59 | 000
G0106 |  | A | Colon CA screen;barium enema | 0.99 | 3.35 | NA | 0.17 | 4.51 | NA | XXX
G0106 | 26 | A | Colon CA screen;barium enema | 0.99 | 0.34 | 0.34 | 0.04 | 1.37 | 1.37 | XXX
G0106 | TC | A | Colon CA screen;barium enema | 0.00 | 3.02 | NA | 0.13 | 3.15 | NA | XXX
G0108 |  | A | Diab manage trn per indiv | 0.00 | 0.83 | NA | 0.01 | 0.84 | NA | XXX
G0109 |  | A | Diab manage trn ind/group | 0.00 | 0.48 | NA | 0.01 | 0.49 | NA | XXX
G0110 |  | R | Nett pulm-rehab educ; ind | 0.90 | 0.68 | NA | 0.04 | 1.62 | NA | XXX
G0111 |  | R | Nett pulm-rehab educ; group | 0.27 | 0.30 | NA | 0.01 | 0.58 | NA | XXX
G0112 |  | R | Nett;nutrition guid, initial | 1.72 | 1.26 | 0.65 | 0.04 | 3.02 | 2.41 | XXX
G0113 |  | R | Nett;nutrition guid,subseqnt | 1.29 | 0.81 | 0.40 | 0.05 | 2.15 | 1.74 | XXX
G0114 |  | R | Nett; psychosocial consult | 1.20 | 0.46 | NA | 0.05 | 1.71 | NA | XXX
G0115 |  | R | Nett; psychological testing | 1.20 | 0.78 | NA | 0.03 | 2.01 | NA | XXX
G0116 |  | R | Nett; psychosocial counsel | 1.11 | 0.94 | 0.32 | 0.05 | 2.10 | 1.49 | XXX
G0117 |  | T | Glaucoma scrn hgh risk direc | 0.45 | 0.73 | 0.19 | 0.01 | 1.19 | 0.65 | XXX
G0118 |  | T | Glaucoma scrn hgh risk direc | 0.17 | 0.55 | 0.06 | 0.01 | 0.73 | 0.24 | XXX
G0120 |  | A | Colon ca scrn; barium enema | 0.99 | 3.35 | NA | 0.17 | 4.51 | NA | XXX
G0120 | 26 | A | Colon ca scrn; barium enema | 0.99 | 0.34 | 0.34 | 0.04 | 1.37 | 1.37 | XXX
G0120 | TC | A | Colon ca scrn; barium enema | 0.00 | 3.02 | NA | 0.13 | 3.15 | NA | XXX
G0121 |  | A | Colon ca scrn not hi rsk ind | 3.70 | 6.60 | 1.58 | 0.30 | 10.59 | 5.57 | 000
G0121 | 53 | A | Colon ca scrn not hi rsk ind | 0.96 | 2.33 | 0.55 | 0.08 | 3.37 | 1.59 | 000
G0122 |  | N | Colon ca scrn; barium enema | 0.99 | 3.51 | NA | 0.18 | 4.68 | NA | XXX
G0122 | 26 | N | Colon ca scrn; barium enema | 0.99 | 0.38 | 0.38 | 0.05 | 1.42 | 1.42 | XXX
G0122 | TC | N | Colon ca scrn; barium enema | 0.00 | 3.13 | NA | 0.13 | 3.26 | NA | XXX
G0124 |  | A | Screen c/v thin layer by MD | 0.42 | 0.23 | 0.15 | 0.02 | 0.67 | 0.59 | XXX
G0125 |  | I | PET image pulmonary nodule | 0.00 | 0.00 | 0.00 | 0.00 | 0.00 | 0.00 | XXX
G0125 | 26 | I | PET image pulmonary nodule | 1.50 | 0.54 | 0.54 | 0.06 | 2.11 | 2.11 | XXX
G0125 | TC | I | PET image pulmonary nodule | 0.00 | 0.00 | 0.00 | 0.00 | 0.00 | 0.00 | XXX
G0127 |  | R | Trim nail(s) | 0.17 | 0.27 | 0.07 | 0.01 | 0.45 | 0.25 | 000
G0128 |  | R | CORF skilled nursing service | 0.08 | 0.03 | 0.03 | 0.01 | 0.12 | 0.12 | XXX
G0130 |  | A | Single energy x-ray study | 0.22 | 0.88 | NA | 0.06 | 1.16 | NA | XXX
G0130 | 26 | A | Single energy x-ray study | 0.22 | 0.08 | 0.08 | 0.01 | 0.31 | 0.31 | XXX
G0130 | TC | A | Single energy x-ray study | 0.00 | 0.80 | NA | 0.05 | 0.85 | NA | XXX
G0141 |  | A | Scr c/v cyto,autosys and md | 0.42 | 0.23 | 0.15 | 0.02 | 0.67 | 0.59 | XXX
G0166 |  | A | Extrnl counterpulse, per tx | 0.07 | 3.93 | 0.03 | 0.01 | 4.01 | 0.11 | XXX
G0168 |  | A | Wound closure by adhesive | 0.45 | 1.80 | 0.21 | 0.03 | 2.28 | 0.69 | 000
G0179 |  | A | MD recertification HHA PT | 0.45 | 0.94 | 0.87 | 0.02 | 1.41 | 1.35 | XXX
G0180 |  | A | MD certification HHA patient | 0.67 | 1.15 | 1.08 | 0.03 | 1.85 | 1.78 | XXX
G0181 |  | A | Home health care supervision | 1.73 | 1.38 | 1.31 | 0.07 | 3.18 | 3.12 | XXX
G0182 |  | A | Hospice care supervision | 1.73 | 1.54 | 1.47 | 0.07 | 3.34 | 3.27 | XXX
G0186 |  | C | Dstry eye lesn,fdr vssl tech | 0.00 | 0.00 | 0.00 | 0.00 | 0.00 | 0.00 | YYY
G0202 |  | A | Screeningmammographydigital | 0.70 | 2.78 | NA | 0.10 | 3.58 | NA | XXX
G0202 | 26 | A | Screeningmammographydigital | 0.70 | 0.23 | 0.23 | 0.03 | 0.96 | 0.96 | XXX
G0202 | TC | A | Screeningmammographydigital | 0.00 | 2.55 | NA | 0.07 | 2.62 | NA | XXX
G0204 |  | A | Diagnosticmammographydigital | 0.87 | 2.79 | NA | 0.11 | 3.77 | NA | XXX
G0204 | 26 | A | Diagnosticmammographydigital | 0.87 | 0.28 | 0.28 | 0.04 | 1.19 | 1.19 | XXX
G0204 | TC | A | Diagnosticmammographydigital | 0.00 | 2.51 | NA | 0.07 | 2.58 | NA | XXX
G0206 |  | A | Diagnosticmammographydigital | 0.70 | 2.25 | NA | 0.09 | 3.05 | NA | XXX
G0206 | 26 | A | Diagnosticmammographydigital | 0.70 | 0.23 | 0.23 | 0.03 | 0.96 | 0.96 | XXX
G0206 | TC | A | Diagnosticmammographydigital | 0.00 | 2.02 | NA | 0.06 | 2.08 | NA | XXX
G0210 |  | I | PET img wholebody dxlung | 0.00 | 0.00 | 0.00 | 0.00 | 0.00 | 0.00 | XXX
G0210 | 26 | I | PET img wholebody dxlung | 1.50 | 0.54 | 0.54 | 0.06 | 2.10 | 2.10 | XXX
G0210 | TC | I | PET img wholebody dxlung | 0.00 | 0.00 | 0.00 | 0.00 | 0.00 | 0.00 | XXX
G0211 |  | I | PET img wholbody init lung | 0.00 | 0.00 | 0.00 | 0.00 | 0.00 | 0.00 | XXX
G0211 | 26 | I | PET img wholbody init lung | 1.50 | 0.53 | 0.53 | 0.06 | 2.10 | 2.10 | XXX
G0211 | TC | I | PET img wholbody init lung | 0.00 | 0.00 | 0.00 | 0.00 | 0.00 | 0.00 | XXX
G0212 |  | I | PET img wholebod restag lung | 0.00 | 0.00 | 0.00 | 0.00 | 0.00 | 0.00 | XXX
G0212 | 26 | I | PET img wholebod restag lung | 1.50 | 0.54 | 0.54 | 0.06 | 2.10 | 2.10 | XXX
G0212 | TC | I | PET img wholebod restag lung | 0.00 | 0.00 | 0.00 | 0.00 | 0.00 | 0.00 | XXX
G0213 |  | I | PET img wholbody dx | 0.00 | 0.00 | 0.00 | 0.00 | 0.00 | 0.00 | XXX
G0213 | 26 | I | PET img wholbody dx | 1.50 | 0.53 | 0.53 | 0.06 | 2.10 | 2.10 | XXX
G0213 | TC | I | PET img wholbody dx | 0.00 | 0.00 | 0.00 | 0.00 | 0.00 | 0.00 | XXX
G0214 |  | I | PET img wholebod init | 0.00 | 0.00 | 0.00 | 0.00 | 0.00 | 0.00 | XXX
G0214 | 26 | I | PET img wholebod init | 1.50 | 0.53 | 0.53 | 0.06 | 2.10 | 2.10 | XXX
G0214 | TC | I | PET img wholebod init | 0.00 | 0.00 | 0.00 | 0.00 | 0.00 | 0.00 | XXX
G0215 |  | I | PETimg wholebod restag | 0.00 | 0.00 | 0.00 | 0.00 | 0.00 | 0.00 | XXX
G0215 | 26 | I | PETimg wholebod restag | 1.50 | 0.54 | 0.54 | 0.06 | 2.10 | 2.10 | XXX
G0215 | TC | I | PETimg wholebod restag | 0.00 | 0.00 | 0.00 | 0.00 | 0.00 | 0.00 | XXX
G0216 |  | I | PET img wholebod dx melanoma | 0.00 | 0.00 | 0.00 | 0.00 | 0.00 | 0.00 | XXX
G0216 | 26 | I | PET img wholebod dx melanoma | 1.50 | 0.54 | 0.54 | 0.06 | 2.10 | 2.10 | XXX
G0216 | TC | I | PET img wholebod dx melanoma | 0.00 | 0.00 | 0.00 | 0.00 | 0.00 | 0.00 | XXX
G0217 |  | I | PET img wholebod init melan | 0.00 | 0.00 | 0.00 | 0.00 | 0.00 | 0.00 | XXX
G0217 | 26 | I | PET img wholebod init melan | 1.50 | 0.54 | 0.54 | 0.06 | 2.10 | 2.10 | XXX
G0217 | TC | I | PET img wholebod init melan | 0.00 | 0.00 | 0.00 | 0.00 | 0.00 | 0.00 | XXX
G0218 |  | I | PET img wholebod restag mela | 0.00 | 0.00 | 0.00 | 0.00 | 0.00 | 0.00 | XXX
G0218 | 26 | I | PET img wholebod restag mela | 1.50 | 0.54 | 0.54 | 0.06 | 2.11 | 2.11 | XXX
G0218 | TC | I | PET img wholebod restag mela | 0.00 | 0.00 | 0.00 | 0.00 | 0.00 | 0.00 | XXX
G0219 |  | N | PET img wholbod melano nonco | 0.00 | 0.00 | 0.00 | 0.00 | 0.00 | 0.00 | XXX
G0219 | 26 | N | PET img wholbod melano nonco | 0.00 | 0.00 | 0.00 | 0.00 | 0.00 | 0.00 | XXX
G0219 | TC | N | PET img wholbod melano nonco | 0.00 | 0.00 | 0.00 | 0.00 | 0.00 | 0.00 | XXX
G0220 |  | I | PET img wholebod dx lymphoma | 0.00 | 0.00 | 0.00 | 0.00 | 0.00 | 0.00 | XXX
G0220 | 26 | I | PET img wholebod dx lymphoma | 1.50 | 0.54 | 0.54 | 0.06 | 2.10 | 2.10 | XXX
G0220 | TC | I | PET img wholebod dx lymphoma | 0.00 | 0.00 | 0.00 | 0.00 | 0.00 | 0.00 | XXX
G0221 |  | I | PET imag wholbod init lympho | 0.00 | 0.00 | 0.00 | 0.00 | 0.00 | 0.00 | XXX
G0221 | 26 | I | PET imag wholbod init lympho | 1.50 | 0.54 | 0.54 | 0.06 | 2.10 | 2.10 | XXX
G0221 | TC | I | PET imag wholbod init lympho | 0.00 | 0.00 | 0.00 | 0.00 | 0.00 | 0.00 | XXX
G0222 |  | I | PET imag wholbod resta lymph | 0.00 | 0.00 | 0.00 | 0.00 | 0.00 | 0.00 | XXX
G0222 | 26 | I | PET imag wholbod resta lymph | 1.50 | 0.54 | 0.54 | 0.06 | 2.11 | 2.11 | XXX
G0222 | TC | I | PET imag wholbod resta lymph | 0.00 | 0.00 | 0.00 | 0.00 | 0.00 | 0.00 | XXX
G0223 |  | I | PET imag wholbod reg dx head | 0.00 | 0.00 | 0.00 | 0.00 | 0.00 | 0.00 | XXX
G0223 | 26 | I | PET imag wholbod reg dx head | 1.50 | 0.54 | 0.54 | 0.06 | 2.10 | 2.10 | XXX
G0223 | TC | I | PET imag wholbod reg dx head | 0.00 | 0.00 | 0.00 | 0.00 | 0.00 | 0.00 | XXX
G0224 |  | I | PET imag wholbod reg ini hea | 0.00 | 0.00 | 0.00 | 0.00 | 0.00 | 0.00 | XXX
G0224 | 26 | I | PET imag wholbod reg ini hea | 1.50 | 0.54 | 0.54 | 0.06 | 2.10 | 2.10 | XXX
G0224 | TC | I | PET imag wholbod reg ini hea | 0.00 | 0.00 | 0.00 | 0.00 | 0.00 | 0.00 | XXX
G0225 |  | I | PET whol restag headneckonly | 0.00 | 0.00 | 0.00 | 0.00 | 0.00 | 0.00 | XXX
G0225 | 26 | I | PET whol restag headneckonly | 1.50 | 0.54 | 0.54 | 0.06 | 2.11 | 2.11 | XXX
G0225 | TC | I | PET whol restag headneckonly | 0.00 | 0.00 | 0.00 | 0.00 | 0.00 | 0.00 | XXX
G0226 |  | I | PET img wholbody dx esophagl | 0.00 | 0.00 | 0.00 | 0.00 | 0.00 | 0.00 | XXX
G0226 | 26 | I | PET img wholbody dx esophagl | 1.50 | 0.55 | 0.55 | 0.06 | 2.12 | 2.12 | XXX
G0226 | TC | I | PET img wholbody dx esophagl | 0.00 | 0.00 | 0.00 | 0.00 | 0.00 | 0.00 | XXX
G0227 |  | I | PET img wholbod ini esophage | 0.00 | 0.00 | 0.00 | 0.00 | 0.00 | 0.00 | XXX
G0227 | 26 | I | PET img wholbod ini esophage | 1.50 | 0.55 | 0.55 | 0.06 | 2.11 | 2.11 | XXX
G0227 | TC | I | PET img wholbod ini esophage | 0.00 | 0.00 | 0.00 | 0.00 | 0.00 | 0.00 | XXX
G0228 |  | I | PET img wholbod restg esopha | 0.00 | 0.00 | 0.00 | 0.00 | 0.00 | 0.00 | XXX
G0228 | 26 | I | PET img wholbod restg esopha | 1.50 | 0.54 | 0.54 | 0.06 | 2.10 | 2.10 | XXX
G0228 | TC | I | PET img wholbod restg esopha | 0.00 | 0.00 | 0.00 | 0.00 | 0.00 | 0.00 | XXX
G0229 |  | I | PET img metaboloc brain pres | 0.00 | 0.00 | 0.00 | 0.00 | 0.00 | 0.00 | XXX
G0229 | 26 | I | PET img metaboloc brain pres | 1.50 | 0.54 | 0.54 | 0.06 | 2.10 | 2.10 | XXX
G0229 | TC | I | PET img metaboloc brain pres | 0.00 | 0.00 | 0.00 | 0.00 | 0.00 | 0.00 | XXX
G0230 |  | I | PET myocard viability post | 0.00 | 0.00 | 0.00 | 0.00 | 0.00 | 0.00 | XXX
G0230 | 26 | I | PET myocard viability post | 1.50 | 0.55 | 0.55 | 0.06 | 2.12 | 2.12 | XXX
G0230 | TC | I | PET myocard viability post | 0.00 | 0.00 | 0.00 | 0.00 | 0.00 | 0.00 | XXX
G0231 |  | I | PET WhBD colorec; gamma cam | 0.00 | 0.00 | 0.00 | 0.00 | 0.00 | 0.00 | XXX
G0231 | 26 | I | PET WhBD colorec; gamma cam | 1.50 | 0.54 | 0.54 | 0.06 | 2.10 | 2.10 | XXX
G0231 | TC | I | PET WhBD colorec; gamma cam | 0.00 | 0.00 | 0.00 | 0.00 | 0.00 | 0.00 | XXX
G0232 |  | I | PET whbd lymphoma; gamma cam | 0.00 | 0.00 | 0.00 | 0.00 | 0.00 | 0.00 | XXX
G0232 | 26 | I | PET whbd lymphoma; gamma cam | 1.50 | 0.55 | 0.55 | 0.06 | 2.11 | 2.11 | XXX
G0232 | TC | I | PET whbd lymphoma; gamma cam | 0.00 | 0.00 | 0.00 | 0.00 | 0.00 | 0.00 | XXX
G0233 |  | I | PET whbd melanoma; gamma cam | 0.00 | 0.00 | 0.00 | 0.00 | 0.00 | 0.00 | XXX
G0233 | 26 | I | PET whbd melanoma; gamma cam | 1.50 | 0.55 | 0.55 | 0.06 | 2.11 | 2.11 | XXX
G0233 | TC | I | PET whbd melanoma; gamma cam | 0.00 | 0.00 | 0.00 | 0.00 | 0.00 | 0.00 | XXX
G0234 |  | I | PET WhBD pulm nod; gamma cam | 0.00 | 0.00 | 0.00 | 0.00 | 0.00 | 0.00 | XXX
G0234 | 26 | I | PET WhBD pulm nod; gamma cam | 1.50 | 0.54 | 0.54 | 0.06 | 2.11 | 2.11 | XXX
G0234 | TC | I | PET WhBD pulm nod; gamma cam | 0.00 | 0.00 | 0.00 | 0.00 | 0.00 | 0.00 | XXX
G0235 |  | N | PET not otherwise specified | 0.00 | 0.00 | 0.00 | 0.00 | 0.00 | 0.00 | XXX
G0235 | 26 | N | PET not otherwise specified | 0.00 | 0.00 | 0.00 | 0.00 | 0.00 | 0.00 | XXX
G0235 | TC | N | PET not otherwise specified | 0.00 | 0.00 | 0.00 | 0.00 | 0.00 | 0.00 | XXX
G0237 |  | A | Therapeutic procd strg endur | 0.00 | 0.40 | NA | 0.02 | 0.42 | NA | XXX
G0238 |  | A | Oth resp proc, indiv | 0.00 | 0.49 | NA | 0.00 | 0.49 | NA | XXX
G0239 |  | A | Oth resp proc, group | 0.00 | 0.33 | NA | 0.00 | 0.33 | NA | XXX
G0244 |  | E | Observ care by facility topt | 0.00 | 0.00 | 0.00 | 0.00 | 0.00 | 0.00 | XXX
G0245 |  | R | Initial foot exam pt lops | 0.88 | 0.81 | 0.31 | 0.04 | 1.73 | 1.23 | XXX
G0246 |  | R | Followup eval of foot pt lop | 0.45 | 0.55 | 0.16 | 0.02 | 1.02 | 0.63 | XXX
G0247 |  | R | Routine footcare pt w lops | 0.50 | 0.55 | 0.21 | 0.02 | 1.07 | 0.73 | ZZZ
G0248 |  | R | Demonstrate use home inr mon | 0.00 | 6.05 | NA | 0.01 | 6.06 | NA | XXX
G0249 |  | R | Provide test material,equipm | 0.00 | 3.64 | NA | 0.01 | 3.65 | NA | XXX
G0250 |  | R | MD review interpret of test | 0.18 | 0.06 | 0.06 | 0.01 | 0.25 | 0.25 | XXX
G0251 |  | E | Linear acc based stero radio | 0.00 | 0.00 | 0.00 | 0.00 | 0.00 | 0.00 | XXX
G0252 |  | N | PET imaging initial dx | 0.00 | 0.00 | 0.00 | 0.00 | 0.00 | 0.00 | XXX
G0252 | 26 | N | PET imaging initial dx | 1.50 | 0.59 | 0.59 | 0.04 | 2.13 | 2.13 | XXX
G0252 | TC | N | PET imaging initial dx | 0.00 | 0.00 | 0.00 | 0.00 | 0.00 | 0.00 | XXX
G0253 |  | I | PET image brst dection recur | 0.00 | 0.00 | 0.00 | 0.00 | 0.00 | 0.00 | XXX
G0253 | 26 | I | PET image brst dection recur | 1.87 | 0.66 | 0.66 | 0.08 | 2.62 | 2.62 | XXX
G0253 | TC | I | PET image brst dection recur | 0.00 | 0.00 | 0.00 | 0.00 | 0.00 | 0.00 | XXX
G0254 |  | I | PET image brst eval to tx | 0.00 | 0.00 | 0.00 | 0.00 | 0.00 | 0.00 | XXX
G0254 | 26 | I | PET image brst eval to tx | 1.87 | 0.68 | 0.68 | 0.08 | 2.64 | 2.64 | XXX
G0254 | TC | I | PET image brst eval to tx | 0.00 | 0.00 | 0.00 | 0.00 | 0.00 | 0.00 | XXX
G0255 |  | N | Current percep threshold tst | 0.00 | 0.00 | 0.00 | 0.00 | 0.00 | 0.00 | XXX
G0255 | 26 | N | Current percep threshold tst | 0.00 | 0.00 | 0.00 | 0.00 | 0.00 | 0.00 | XXX
G0255 | TC | N | Current percep threshold tst | 0.00 | 0.00 | 0.00 | 0.00 | 0.00 | 0.00 | XXX
G0257 |  | E | Unsched dialysis ESRD pt hos | 0.00 | 0.00 | 0.00 | 0.00 | 0.00 | 0.00 | XXX
G0258 |  | E | IV infusion during obs stay | 0.00 | 0.00 | 0.00 | 0.00 | 0.00 | 0.00 | XXX
G0259 |  | E | Inject for sacroiliac joint | 0.00 | 0.00 | 0.00 | 0.00 | 0.00 | 0.00 | XXX
G0260 |  | E | Inj for sacroiliac jt anesth | 0.00 | 0.00 | 0.00 | 0.00 | 0.00 | 0.00 | XXX
G0263 |  | E | Adm with CHF, CP, asthma | 0.00 | 0.00 | 0.00 | 0.00 | 0.00 | 0.00 | XXX
G0264 |  | E | Assmt otr CHF, CP, asthma | 0.00 | 0.00 | 0.00 | 0.00 | 0.00 | 0.00 | XXX
G0268 |  | A | Removal of impacted wax md | 0.61 | 0.62 | 0.23 | 0.02 | 1.25 | 0.86 | 000
G0269 |  | B | Occlusive device in vein art | 0.00 | 0.00 | 0.00 | 0.00 | 0.00 | 0.00 | XXX
G0270 |  | A | MNT subs tx for change dx | 0.00 | 0.42 | NA | 0.01 | 0.43 | NA | XXX
G0271 |  | A | Group MNT 2 or more 30 mins | 0.00 | 0.16 | NA | 0.01 | 0.17 | NA | XXX
G0275 |  | A | Renal angio, cardiac cath | 0.25 | NA | 0.11 | 0.01 | NA | 0.37 | ZZZ
G0278 |  | A | Iliac art angio,cardiac cath | 0.25 | NA | 0.11 | 0.01 | NA | 0.37 | ZZZ
G0279 |  | C | Excorp shock tx, elbow epi | 0.00 | 0.00 | 0.00 | 0.00 | 0.00 | 0.00 | XXX
G0280 |  | C | Excorp shock tx other than | 0.00 | 0.00 | 0.00 | 0.00 | 0.00 | 0.00 | XXX
G0281 |  | A | Elec stim unattend for press | 0.18 | 0.12 | NA | 0.01 | 0.31 | NA | XXX
G0282 |  | N | Elect stim wound care not pd | 0.00 | 0.00 | 0.00 | 0.00 | 0.00 | 0.00 | XXX
G0283 |  | A | Elec stim other than wound | 0.18 | 0.12 | NA | 0.01 | 0.31 | NA | XXX
G0288 |  | A | Recon, CTA for surg plan | 0.00 | 10.63 | NA | 0.18 | 10.81 | NA | XXX
G0289 |  | A | Arthro, loose body + chondro | 1.48 | NA | 0.78 | 0.26 | NA | 2.52 | ZZZ
G0290 |  | E | Drug-eluting stents, single | 0.00 | 0.00 | 0.00 | 0.00 | 0.00 | 0.00 | XXX
G0291 |  | E | Drug-eluting stents,each add | 0.00 | 0.00 | 0.00 | 0.00 | 0.00 | 0.00 | XXX
G0293 |  | E | Non-cov surg proc,clin trial | 0.00 | 0.00 | 0.00 | 0.00 | 0.00 | 0.00 | XXX
G0294 |  | E | Non-cov proc, clinical trial | 0.00 | 0.00 | 0.00 | 0.00 | 0.00 | 0.00 | XXX
G0295 |  | N | Electromagnetic therapy onc | 0.00 | 0.00 | 0.00 | 0.00 | 0.00 | 0.00 | XXX
G0308 |  | A | ESRD related svc 4+mo < 2yrs | 12.77 | 8.56 | 8.56 | 0.42 | 21.74 | 21.74 | XXX
G0309 |  | A | ESRD related svc 2-3mo <2yrs | 10.63 | 7.11 | 7.11 | 0.36 | 18.11 | 18.11 | XXX
G0310 |  | A | ESRD related svc 1 vst <2yrs | 8.51 | 5.69 | 5.69 | 0.28 | 14.48 | 14.48 | XXX
G0311 |  | A | ESRD related svs 4+mo 2-11yr | 9.75 | 4.73 | 4.73 | 0.34 | 14.82 | 14.82 | XXX
G0312 |  | A | ESRD relate svs 2-3 mo 2-11y | 8.13 | 3.93 | 3.93 | 0.29 | 12.34 | 12.34 | XXX
G0313 |  | A | ESRD related svs 1 mon 2-11y | 6.50 | 3.15 | 3.15 | 0.22 | 9.87 | 9.87 | XXX
G0314 |  | A | ESRD related svs 4+ mo 12-19 | 8.30 | 4.43 | 4.43 | 0.27 | 13.00 | 13.00 | XXX
G0315 |  | A | ESRD related svs 2-3mo/12-19 | 6.91 | 3.68 | 3.68 | 0.23 | 10.82 | 10.82 | XXX
G0316 |  | A | ESRD related svs 1vis/12-19y | 5.53 | 2.95 | 2.95 | 0.17 | 8.65 | 8.65 | XXX
G0317 |  | A | ESRD related svs 4+mo 20+yrs | 5.10 | 2.87 | 2.87 | 0.17 | 8.14 | 8.14 | XXX
G0318 |  | A | ESRD related svs 2-3 mo 20+y | 4.25 | 2.38 | 2.38 | 0.14 | 6.77 | 6.77 | XXX
G0319 |  | A | ESRD related svs 1visit 20+y | 3.40 | 1.90 | 1.90 | 0.11 | 5.41 | 5.41 | XXX
G0320 |  | A | ESD related svs home undr 2 | 10.63 | 7.11 | 7.11 | 0.36 | 18.11 | 18.11 | XXX
G0321 |  | A | ESRDrelatedsvs home mo 2-11y | 8.13 | 3.93 | 3.93 | 0.29 | 12.34 | 12.34 | XXX
G0322 |  | A | ESRD related svs hom mo12-19 | 6.91 | 3.68 | 3.68 | 0.23 | 10.82 | 10.82 | XXX
G0323 |  | A | ESRD related svs home mo 20+ | 4.25 | 2.38 | 2.38 | 0.14 | 6.77 | 6.77 | XXX
G0324 |  | A | ESRD related serv/dy,2y | 0.35 | 0.24 | 0.24 | 0.01 | 0.60 | 0.60 | XXX
G0325 |  | A | ESRD relate serv/dy 2-11yr | 0.23 | 0.12 | 0.12 | 0.01 | 0.36 | 0.36 | XXX
G0326 |  | A | ESRD relate serv/dy 12-19y | 0.27 | 0.13 | 0.13 | 0.01 | 0.41 | 0.41 | XXX
G0327 |  | A | ESRD relate serv/dy 20+yrs | 0.14 | 0.08 | 0.08 | 0.01 | 0.23 | 0.23 | XXX
G0329 |  | A | Electromagntic tx for ulcers | 0.06 | 0.14 | NA | 0.01 | 0.21 | NA | XXX
G0336 |  | I | PET imaging brain alzheimers | 0.00 | 0.00 | 0.00 | 0.00 | 0.00 | 0.00 | XXX
G0336 | 26 | I | PET imaging brain alzheimers | 1.50 | 0.52 | 0.52 | 0.05 | 2.07 | 2.07 | XXX
G0336 | TC | I | PET imaging brain alzheimers | 0.00 | 0.00 | 0.00 | 0.00 | 0.00 | 0.00 | XXX
G0337 |  | X | Hospice evaluation preelecti | 1.34 | 0.51 | 0.51 | 0.09 | 1.94 | 1.94 | XXX
G0341 |  | A | Percutaneous islet celltrans | 6.99 | NA | 2.68 | 0.48 | NA | 10.15 | 000
G0342 |  | A | Laparoscopy islet cell trans | 11.94 | NA | 5.24 | 1.46 | NA | 18.64 | 090
G0343 |  | A | Laparotomy islet cell transp | 19.89 | NA | 8.62 | 2.06 | NA | 30.57 | 090
G0344 |  | A | Initial preventive exam | 1.34 | 1.14 | 0.47 | 0.10 | 2.58 | 1.92 | XXX
G0345 |  | A | IV infuse hydration, initial | 0.17 | 1.43 | NA | 0.07 | 1.67 | NA | XXX
G0346 |  | A | Each additional infuse hour | 0.09 | 0.40 | NA | 0.04 | 0.53 | NA | ZZZ
G0347 |  | A | IV infusion therapy/diagnost | 0.21 | 1.76 | NA | 0.07 | 2.04 | NA | XXX
G0348 |  | A | Each additional hr up to 8hr | 0.18 | 0.46 | NA | 0.04 | 0.68 | NA | ZZZ
G0349 |  | A | Additional sequential infuse | 0.19 | 0.90 | NA | 0.04 | 1.13 | NA | ZZZ
G0350 |  | A | Concurrent infusion | 0.17 | 0.44 | NA | 0.04 | 0.65 | NA | ZZZ
G0351 |  | A | Therapeutic/diagnostic injec | 0.17 | 0.31 | NA | 0.01 | 0.49 | NA | XXX
G0353 |  | A | IV push,single orinitial dru | 0.18 | 1.30 | NA | 0.04 | 1.52 | NA | XXX
G0354 |  | A | Each addition sequential IV | 0.10 | 0.57 | NA | 0.04 | 0.71 | NA | ZZZ
G0355 |  | A | Chemo adminisrate subcut/IM | 0.21 | 1.15 | NA | 0.01 | 1.37 | NA | XXX
G0356 |  | A | Hormonal anti-neoplastic | 0.19 | 0.75 | NA | 0.01 | 0.95 | NA | XXX
G0357 |  | A | IV push single/initial subst | 0.24 | 2.94 | NA | 0.06 | 3.24 | NA | XXX
G0358 |  | A | IV push each additional drug | 0.20 | 1.62 | NA | 0.06 | 1.88 | NA | ZZZ
G0359 |  | A | Chemotherapy IV one hr initi | 0.28 | 4.22 | NA | 0.08 | 4.58 | NA | XXX
G0360 |  | A | Each additional hr 1-8 hrs | 0.19 | 0.78 | NA | 0.07 | 1.04 | NA | ZZZ
G0361 |  | A | Prolong chemo infuse>8hrs pu | 0.21 | 4.63 | NA | 0.08 | 4.92 | NA | XXX
G0362 |  | A | Each add sequential infusion | 0.21 | 1.95 | NA | 0.07 | 2.23 | NA | ZZZ
G0363 |  | T | Irrigate implanted venous de | 0.04 | 0.70 | NA | 0.01 | 0.75 | NA | XXX
G0364 |  | A | Bone marrow aspirate &biopsy | 0.16 | 0.14 | 0.06 | 0.04 | 0.34 | 0.26 | ZZZ
G0365 |  | A | Vessel mapping hemo access | 0.25 | 4.13 | NA | 0.25 | 4.63 | NA | XXX
G0365 | 26 | A | Vessel mapping hemo access | 0.25 | 0.09 | 0.09 | 0.02 | 0.36 | 0.36 | XXX
G0365 | TC | A | Vessel mapping hemo access | 0.00 | 4.03 | NA | 0.23 | 4.26 | NA | XXX
G0366 |  | A | EKG for initial prevent exam | 0.17 | 0.47 | 0.00 | 0.03 | 0.67 | 0.20 | XXX
G0367 |  | A | EKG tracing for initial prev | 0.00 | 0.41 | NA | 0.02 | 0.43 | NA | XXX
G0368 |  | A | EKG interpret & report preve | 0.17 | 0.06 | 0.06 | 0.01 | 0.24 | 0.24 | XXX
G0375 |  | A | Smoke/Tobacco counseling3-10 | 0.24 | 0.00 | 0.00 | 0.01 | 0.25 | 0.25 | XXX
G0376 |  | A | Smoke/Tobacco counseling >10 | 0.48 | 0.00 | 0.00 | 0.01 | 0.49 | 0.49 | XXX
G9013 |  | N | ESRD demo bundle level I | 0.00 | 0.00 | 0.00 | 0.00 | 0.00 | 0.00 | XXX
G9014 |  | N | ESRD demo bundle-level II | 0.00 | 0.00 | 0.00 | 0.00 | 0.00 | 0.00 | XXX
G9016 |  | N | Demo-smoking cessation coun | 0.00 | 0.00 | 0.00 | 0.00 | 0.00 | 0.00 | XXX
M0064 |  | A | Visit for drug monitoring | 0.37 | 0.38 | 0.12 | 0.01 | 0.76 | 0.50 | XXX
P3001 |  | A | Screening pap smear by phys | 0.42 | 0.23 | 0.15 | 0.02 | 0.67 | 0.59 | XXX
Q0035 |  | A | Cardiokymography | 0.17 | 0.41 | NA | 0.03 | 0.61 | NA | XXX
Q0035 | 26 | A | Cardiokymography | 0.17 | 0.06 | 0.06 | 0.01 | 0.24 | 0.24 | XXX
Q0035 | TC | A | Cardiokymography | 0.00 | 0.35 | NA | 0.02 | 0.37 | NA | XXX
Q0091 |  | A | Obtaining screen pap smear | 0.37 | 0.68 | NA | 0.02 | 1.07 | NA | XXX
Q0092 |  | A | Set up port xray equipment | 0.00 | 0.33 | NA | 0.01 | 0.34 | NA | XXX
Q3001 |  | C | Brachytherapy Radioelements | 0.00 | 0.00 | 0.00 | 0.00 | 0.00 | 0.00 | XXX
R0070 |  | C | Transport portable x-ray | 0.00 | 0.00 | 0.00 | 0.00 | 0.00 | 0.00 | XXX
R0075 |  | C | Transport port x-ray multipl | 0.00 | 0.00 | 0.00 | 0.00 | 0.00 | 0.00 | XXX
R0076 |  | B | Transport portable EKG | 0.00 | 0.00 | 0.00 | 0.00 | 0.00 | 0.00 | XXX
V5299 |  | R | Hearing service | 0.00 | 0.00 | 0.00 | 0.00 | 0.00 | 0.00 | XXX
¹ CPT codes and descriptions only are copyright 2005 American Medical Associaiton. All rights reserved. Applicable FARS/DFARS apply.
² Copyright 2005 American Dental Association. All rights reserved.
³ +Indicates RVUs are not used for Medicare payment.

Addendum C.—Codes for Which we Received Practice Expense Review Committee (PERC) Recommendations on Practice Expense Direct Cost Inputs
CPT Code | Short descriptors
00104 | Anesth, electroshock
00124 | Anesth, ear exam
11100 | Biopsy, skin lesion
11101 | Biopsy, skin add-on
11950 | Therapy for contour defects
11951 | Therapy for contour defects
11952 | Therapy for contour defects
11954 | Therapy for contour defects
11975 | Insert contraceptive cap
11976 | Removal of contraceptive cap
11977 | Removal/reinsert contra cap
12031 | Layer closure of wound(s)
12034 | Layer closure of wound(s)
12041 | Layer closure of wound(s)
12042 | Layer closure of wound(s)
12044 | Layer closure of wound(s)
12051 | Layer closure of wound(s)
12052 | Layer closure of wound(s)
12053 | Layer closure of wound(s)
12054 | Layer closure of wound(s)
12055 | Layer closure of wound(s)
12056 | Layer closure of wound(s)
12057 | Layer closure of wound(s)
13152 | Repair of wound or lesion
15775 | Hair transplant punch grafts
15776 | Hair transplant punch grafts
15851 | Removal of sutures
15852 | Dressing change not for burn
17250 | Chemical cautery, tissue
17304 | 1 stage mohs, up to 5 spec
17305 | 2 stage mohs, up to 5 spec
17306 | 3 stage mohs, up to 5 spec
17307 | Mohs addl stage up to 5 spec
17310 | Mohs any stage > 5 spec each
17360 | Skin peel therapy
19000 | Drainage of breast lesion
19396 | Design custom breast implant
20500 | Injection of sinus tract
21300 | Treatment of skull fracture
21310 | Treatment of nose fracture
21480 | Reset dislocated jaw
31700 | Insertion of airway catheter
31730 | Intro, windpipe wire/tube
32960 | Therapeutic pneumothorax
33960 | External circulation assist
33961 | External circulation assist
36522 | Photopheresis
36860 | External cannula declotting
38230 | Bone marrow collection
38794 | Access thoracic lymph duct
40490 | Biopsy of lip
41250 | Repair tongue laceration
41251 | Repair tongue laceration
41252 | Repair tongue laceration
41800 | Drainage of gum lesion
41805 | Removal foreign body, gum
41806 | Removal foreign body,jawbone
41822 | Excision of gum lesion
41825 | Excision of gum lesion
41826 | Excision of gum lesion
41828 | Excision of gum lesion
41830 | Removal of gum tissue
42100 | Biopsy roof of mouth
42104 | Excision lesion, mouth roof
42106 | Excision lesion, mouth roof
42107 | Excision lesion, mouth roof
42160 | Treatment mouth roof lesion
42280 | Preparation, palate mold
43750 | Place gastrostomy tube
43760 | Change gastrostomy tube
47000 | Needle biopsy of liver
48102 | Needle biopsy, pancreas
49080 | Puncture, peritoneal cavity
49081 | Removal of abdominal fluid
49428 | Ligation of shunt
51000 | Drainage of bladder
51005 | Drainage of bladder
54450 | Preputial stretching
56420 | Drainage of gland abscess
57150 | Treat vagina infection
57170 | Fitting of diaphragm/cap
57180 | Treat vaginal bleeding
58300 | Insert intrauterine device
58323 | Sperm washing
59160 | D & c after delivery
59300 | Episiotomy or vaginal repair
60000 | Drain thyroid/tongue cyst
60001 | Aspirate/inject thyriod cyst
61888 | Revise/remove neuroreceiver
62194 | Replace/irrigate catheter
67221 | Ocular photodynamic ther
67225 | Eye photodynamic ther add-on
68400 | Incise/drain tear gland
68420 | Incise/drain tear sac
68510 | Biopsy of tear gland
68530 | Clearance of tear duct
69100 | Biopsy of external ear
69300 | Revise external ear
76120 | Cine/video x-rays
76940 | Us guide, tissue ablation
76942 | Echo guide for biopsy
76975 | GI endoscopic ultrasound
78160 | Plasma iron turnover
78162 | Radioiron absorption exam
78170 | Red cell iron utilization
78172 | Total body iron estimation
78282 | GI protein loss exam
78350 | Bone mineral, single photon
78351 | Bone mineral, dual photon
78455 | Venous thrombosis study
79200 | Nuclear rx, intracav admin
79300 | Nuclr rx, interstit colloid
79440 | Nuclear rx, intra-articular
86585 | TB tine test
88355 | Analysis, skeletal muscle
88356 | Analysis, nerve
89100 | Sample intestinal contents
89105 | Sample intestinal contents
89130 | Sample stomach contents
89132 | Sample stomach contents
89135 | Sample stomach contents
89136 | Sample stomach contents
89140 | Sample stomach contents
89141 | Sample stomach contents
90465 | Immune admin 1 inj, < 8 yrs
90466 | Immune admin addl inj, < 8 y
90467 | Immune admin o or n, < 8 yrs
90468 | Immune admin o/n, addl < 8 y
90880 | Hypnotherapy
90997 | Hemoperfusion
92015 | Refraction
92230 | Eye exam with photos
92260 | Ophthalmoscopy/dynamometry
92265 | Eye muscle evaluation
92284 | Dark adaptation eye exam
92287 | Internal eye photography
92310 | Contact lens fitting
92311 | Contact lens fitting
92312 | Contact lens fitting
92313 | Contact lens fitting
92314 | Prescription of contact lens
92315 | Prescription of contact lens
92316 | Prescription of contact lens
92317 | Prescription of contact lens
92340 | Fitting of spectacles
92341 | Fitting of spectacles
92342 | Fitting of spectacles
92370 | Repair & adjust spectacles
92510 | Rehab for ear implant
92551 | Pure tone hearing test, air
93012 | Transmission of ecg
93271 | Ecg/monitoring and analysis
93561 | Cardiac output measurement
93562 | Cardiac output measurement
94014 | Patient recorded spirometry
94015 | Patient recorded spirometry
94016 | Review patient spirometry
94200 | Lung function test (MBC/MVV)
94250 | Expired gas collection
94350 | Lung nitrogen washout curve
94370 | Breath airway closing volume
94400 | CO2 breathing response curve
94620 | Pulmonary stress test/simple
94660 | Pos airway pressure, CPAP
94667 | Chest wall manipulation
94668 | Chest wall manipulation
94680 | Exhaled air analysis, o2
94681 | Exhaled air analysis, o2/co2
94690 | Exhaled air analysis
94725 | Membrane diffusion capacity
94750 | Pulmonary compliance study
95060 | Eye allergy tests
95065 | Nose allergy test
95071 | Bronchial allergy tests
95075 | Ingestion challenge test
95078 | Provocative testing
95805 | Multiple sleep latency test
95812 | Eeg, 41-60 minutes
95813 | Eeg, over 1 hour
95816 | Eeg, awake and drowsy
95819 | Eeg, awake and asleep
95822 | Eeg, coma or sleep only
95950 | Ambulatory eeg monitoring
95954 | EEG monitoring/giving drugs
95956 | Eeg monitoring, cable/radio
96900 | Ultraviolet light therapy
96105 | Assessment of aphasia
99185 | Regional hypothermia
99186 | Total body hypothermia

Addendum D—2006 Geographic Practice Cost Indicies (GPCI) by Medicare Carrier and Locality
Carrier | Locality | Locality name | Work GPCI | PE GPCI | MP GPCI
00510 | 00 | Alabama | 1.000 | 0.846 | 0.752
00831 | 01 | Alaska | 1.017 | 1.103 | 1.029
00832 | 00 | Arizona | 1.000 | 0.992 | 1.069
00520 | 13 | Arkansas | 1.000 | 0.831 | 0.438
31140 | 03 | Marin/Napa/Solano, CA | 1.035 | 1.340 | 0.651
31140 | 05 | San Francisco, CA | 1.060 | 1.543 | 0.651
31140 | 06 | San Mateo, CA | 1.073 | 1.536 | 0.639
31140 | 07 | Oakland/Berkley, CA | 1.054 | 1.371 | 0.651
31140 | 09 | Santa Clara, CA | 1.083 | 1.540 | 0.604
31140 | TBD** | Santa Cruz, CA | 1.014 | 1.218 | 0.717
31140 | 99 | Rest of California* | 1.010 | 1.042 | 0.717
31146 | 17 | Ventura, CA | 1.028 | 1.179 | 0.744
31146 | 18 | Los Angeles, CA | 1.041 | 1.156 | 0.954
31146 | 26 | Anaheim/Santa Ana, CA | 1.034 | 1.236 | 0.954
31140 | TBD** | Sonoma, CA | 1.017 | 1.230 | 0.717
31146 | 99 | Rest of California* | 1.010 | 1.042 | 0.717
00824 | 01 | Colorado | 1.000 | 1.014 | 0.803
00591 | 00 | Connecticut | 1.038 | 1.170 | 0.900
00903 | 01 | DC + MD/VA Suburbs | 1.048 | 1.250 | 0.926
00902 | 01 | Delaware | 1.012 | 1.018 | 0.892
00590 | 03 | Fort Lauderdale, FL | 1.000 | 0.988 | 1.703
00590 | 04 | Miami, FL | 1.000 | 1.046 | 2.269
00590 | 99 | Rest of Florida | 1.000 | 0.934 | 1.272
00511 | 01 | Atlanta, GA | 1.010 | 1.089 | 0.966
00511 | 99 | Rest of Georgia | 1.000 | 0.872 | 0.966
00833 | 01 | Hawaii/Guam | 1.005 | 1.111 | 0.800
05130 | 00 | Idaho | 1.000 | 0.868 | 0.459
00952 | 12 | East St. Louis, IL | 1.000 | 0.939 | 1.750
00952 | 15 | Suburban Chicago, IL | 1.018 | 1.115 | 1.652
00952 | 16 | Chicago, IL | 1.025 | 1.126 | 1.867
00952 | 99 | Rest of Illinois | 1.000 | 0.872 | 1.193
00630 | 00 | Indiana | 1.000 | 0.906 | 0.436
00826 | 00 | Iowa | 1.000 | 0.868 | 0.589
00650 | 00 | Kansas* | 1.000 | 0.878 | 0.721
00740 | 04 | Kansas* | 1.000 | 0.878 | 0.721
00660 | 00 | Kentucky | 1.000 | 0.854 | 0.873
00528 | 01 | New Orleans, LA | 1.000 | 0.946 | 1.197
00528 | 99 | Rest of Louisiana | 1.000 | 0.847 | 1.058
31142 | 03 | Southern Maine | 1.000 | 1.013 | 0.637
31142 | 99 | Rest of Maine | 1.000 | 0.886 | 0.637
00901 | 01 | Baltimore/Surr. Cntys, MD | 1.012 | 1.078 | 0.947
00901 | 99 | Rest of Maryland | 1.000 | 0.980 | 0.760
31143 | 01 | Metropolitan Boston | 1.030 | 1.329 | 0.823
31143 | 99 | Rest of Massachusetts | 1.007 | 1.103 | 0.823
00953 | 01 | Detroit, MI | 1.037 | 1.054 | 2.744
00953 | 99 | Rest of Michigan | 1.000 | 0.921 | 1.518
00954 | 00 | Minnesota | 1.000 | 1.005 | 0.410
00512 | 00 | Mississippi | 1.000 | 0.839 | 0.722
00740 | 02 | Metropolitan Kansas City, MO | 1.000 | 0.975 | 0.946
00523 | 01 | Metropolitan St. Louis, MO | 1.000 | 0.955 | 0.941
00523 | 99 | Rest of Missouri* | 1.000 | 0.802 | 0.892
00740 | 99 | Rest of Missouri* | 1.000 | 0.802 | 0.892
00751 | 01 | Montana | 1.000 | 0.844 | 0.904
00655 | 00 | Nebraska | 1.000 | 0.875 | 0.454
00834 | 00 | Nevada | 1.003 | 1.043 | 1.068
31144 | 40 | New Hampshire | 1.000 | 1.027 | 0.942
00805 | 01 | Northern NJ | 1.058 | 1.220 | 0.973
00805 | 99 | Rest of New Jersey | 1.043 | 1.119 | 0.973
00521 | 05 | New Mexico | 1.000 | 0.887 | 0.895
00801 | 99 | Rest of New York | 1.000 | 0.917 | 0.677
00803 | 01 | Manhattan, NY | 1.065 | 1.298 | 1.504
00803 | 02 | NYC Suburbs/Long I., NY | 1.052 | 1.280 | 1.785
00803 | 03 | Poughkpsie/N NYC Suburbs, NY | 1.014 | 1.074 | 1.167
14330 | 04 | Queens, NY | 1.032 | 1.228 | 1.710
05535 | 00 | North Carolina | 1.000 | 0.920 | 0.640
00820 | 01 | North Dakota | 1.000 | 0.860 | 0.602
00883 | 00 | Ohio | 1.000 | 0.933 | 0.976
00522 | 00 | Oklahoma | 1.000 | 0.854 | 0.382
00835 | 01 | Portland, OR | 1.002 | 1.057 | 0.441
00835 | 99 | Rest of Oregon | 1.000 | 0.925 | 0.441
00865 | 01 | Metropolitan Philadelphia, PA | 1.016 | 1.104 | 1.386
00865 | 99 | Rest of Pennsylvania | 1.000 | 0.902 | 0.806
00973 | 20 | Puerto Rico | 1.000 | 0.698 | 0.261
00870 | 01 | Rhode Island | 1.045 | 0.989 | 0.909
00880 | 01 | South Carolina | 1.000 | 0.893 | 0.394
00820 | 02 | South Dakota | 1.000 | 0.876 | 0.365
05440 | 35 | Tennessee | 1.000 | 0.879 | 0.631
00900 | 09 | Brazoria, TX | 1.020 | 0.961 | 1.298
00900 | 11 | Dallas, TX | 1.009 | 1.062 | 1.061
00900 | 15 | Galveston, TX | 1.000 | 0.952 | 1.298
00900 | 18 | Houston, TX | 1.016 | 1.014 | 1.297
00900 | 20 | Beaumont, TX | 1.000 | 0.860 | 1.298
00900 | 28 | Fort Worth, TX | 1.000 | 0.989 | 1.061
00900 | 31 | Austin, TX | 1.000 | 1.046 | 0.986
00900 | 99 | Rest of Texas | 1.000 | 0.865 | 1.138
00910 | 09 | Utah | 1.000 | 0.937 | 0.662
31145 | 50 | Vermont | 1.000 | 0.968 | 0.514
00973 | 50 | Virgin Islands | 1.000 | 1.014 | 1.003
00904 | 00 | Virginia | 1.000 | 0.940 | 0.579
00836 | 02 | Seattle (King Cnty), WA | 1.014 | 1.131 | 0.819
00836 | 99 | Rest of Washington | 1.000 | 0.978 | 0.819
00884 | 16 | West Virginia | 1.000 | 0.819 | 1.547
00951 | 00 | Wisconsin | 1.000 | 0.918 | 0.790
00825 | 21 | Wyoming | 1.000 | 0.853 | 0.935
For 2005 and 2006, if the work GPCI falls below a 1.0 work index, then the work GPCI equals 1.0.
For 2005, if the Work, PE and MP GPCI for Alaska falls below 1.67, then the Work, PE and MP GPCIs equal 1.67.
* states are served by more than one carrier
** locality numbers not assigned to proposed localities

Addendum E.—Proposed 2006 Geographic Adjustment Factors (GAFs)
Carrier | Locality | Locality name | 2006 GAF
31140 | 06 | San Mateo, CA | 1.259
31140 | 05 | San Francisco, CA | 1.256
31140 | 09 | Santa Clara, CA | 1.256
00803 | 01 | Manhattan, NY | 1.184
00803 | 02 | NYC Suburbs/Long I., NY | 1.180
31140 | 07 | Oakland/Berkley, CA | 1.177
31140 | 03 | Marin/Napa/Solano, CA | 1.154
31143 | 01 | Metropolitan Boston | 1.153
14330 | 04 | Queens, NY | 1.144
00903 | 01 | DC + MD/VA Suburbs | 1.132
00805 | 01 | Northern NJ | 1.126
31146 | 26 | Anaheim/Santa Ana, CA | 1.119
31140 | TBD* * | Santa Cruz, CA | 1.119
00953 | 01 | Detroit, MI | 1.111
00952 | 16 | Chicago, IL | 1.102
31140 | TBD* * | Sonoma, CA | 1.098
00591 | 00 | Connecticut | 1.091
31146 | 18 | Los Angeles, CA | 1.088
00952 | 15 | Suburban Chicago, IL | 1.085
31146 | 17 | Ventura, CA | 1.083
00805 | 99 | Rest of New Jersey | 1.074
00865 | 01 | Metropolitan Philadelphia, PA | 1.069
00590 | 04 | Miami, FL | 1.069
00836 | 02 | Seattle (King Cnty), WA | 1.058
00831 | 01 | Alaska | 1.055
00803 | 03 | Poughkpsie/N NYC Suburbs, NY | 1.046
00833 | 01 | Hawaii/Guam | 1.044
00511 | 01 | Atlanta, GA | 1.043
31143 | 99 | Rest of Massachusetts | 1.042
00901 | 01 | Baltimore/Surr. Cntys, MD | 1.039
00900 | 11 | Dallas, TX | 1.034
00900 | 18 | Houston, TX | 1.026
00834 | 00 | Nevada | 1.023
00590 | 03 | Fort Lauderdale, FL | 1.022
00900 | 31 | Austin, TX | 1.020
31146 | 99 | Rest of California * | 1.014
31140 | 99 | Rest of California * | 1.014
31144 | 40 | New Hampshire | 1.010
00902 | 01 | Delaware | 1.010
00973 | 50 | Virgin Islands | 1.007
00900 | 09 | Brazoria, TX | 1.005
00835 | 01 | Portland, OR | 1.005
00952 | 12 | East St. Louis, IL | 1.003
00832 | 00 | Arizona | 0.999
00824 | 01 | Colorado | 0.999
00900 | 28 | Fort Worth, TX | 0.998
31142 | 03 | Southern Maine | 0.992
00900 | 15 | Galveston, TX | 0.991
00740 | 02 | Metropolitan Kansas City, MO | 0.987
00953 | 99 | Rest of Michigan | 0.986
00836 | 99 | Rest of Washington | 0.984
00528 | 01 | New Orleans, LA | 0.984
00901 | 99 | Rest of Maryland | 0.982
00590 | 99 | Rest of Florida | 0.982
00954 | 00 | Minnesota | 0.980
00523 | 01 | Metropolitan St. Louis, MO | 0.978
00883 | 00 | Ohio | 0.970
31145 | 50 | Vermont | 0.968
00910 | 09 | Utah | 0.960
00904 | 00 | Virginia | 0.958
00951 | 00 | Wisconsin | 0.956
00952 | 99 | Rest of Illinois | 0.952
00801 | 99 | Rest of New York | 0.952
05535 | 00 | North Carolina | 0.951
00900 | 20 | Beaumont, TX | 0.951
00865 | 99 | Rest of Pennsylvania | 0.950
00900 | 99 | Rest of Texas | 0.947
00521 | 05 | New Mexico | 0.947
00835 | 99 | Rest of Oregon | 0.946
00511 | 99 | Rest of Georgia | 0.943
00884 | 16 | West Virginia | 0.942
00630 | 00 | Indiana | 0.937
31142 | 99 | Rest of Maine | 0.936
00740 | 04 | Kansas * | 0.936
00650 | 00 | Kansas * | 0.936
00528 | 99 | Rest of Louisiana | 0.936
00825 | 21 | Wyoming | 0.934
05440 | 35 | Tennessee | 0.933
00660 | 00 | Kentucky | 0.932
00880 | 01 | South Carolina | 0.930
00870 | 01 | Rhode Island | 0.930
00751 | 01 | Montana | 0.928
00826 | 00 | Iowa | 0.927
00655 | 00 | Nebraska | 0.925
00820 | 01 | North Dakota | 0.924
00510 | 00 | Alabama | 0.923
05130 | 00 | Idaho | 0.922
00820 | 02 | South Dakota | 0.922
00512 | 00 | Mississippi | 0.919
00522 | 00 | Oklahoma | 0.913
00740 | 99 | Rest of Missouri * | 0.910
00523 | 99 | Rest of Missouri * | 0.910
00520 | 13 | Arkansas | 0.905
00973 | 20 | Puerto Rico | 0.840
For 2005 and 2006, if the work GPCI falls below a 1.0 work index, the work GPCI equals 1.0.
* states are served by more than one carrier
** locality numbers not assigned to proposed localities

Addendum F.—ESRD Facilities—Metropolitan Statistical Areas (MSA)/Core-Based Statistical Areas (CBSA) Crosswalk
SSA state/county code | County and state name | ESRD MSA No. | CBSA No.
01000 | Autauga County, Alabama | 5240 | 33860
01010 | Baldwin County, Alabama | 5160 | 01
01020 | Barbour County, Alabama | 01 | 01
01030 | Bibb County, Alabama | 01 | 13820
01040 | Blount County, Alabama | 1000 | 13820
01050 | Bullock County, Alabama | 01 | 01
01060 | Butler County, Alabama | 01 | 01
01070 | Calhoun County, Alabama | 0450 | 11500
01080 | Chambers County, Alabama | 01 | 01
01090 | Cherokee County, Alabama | 01 | 01
01100 | Chilton County, Alabama | 01 | 13820
01110 | Choctaw County, Alabama | 01 | 01
01120 | Clarke County, Alabama | 01 | 01
01130 | Clay County, Alabama | 01 | 01
01140 | Cleburne County, Alabama | 01 | 01
01150 | Coffee County, Alabama | 01 | 01
01160 | Colbert County, Alabama | 2650 | 22520
01170 | Conecuh County, Alabama | 01 | 01
01180 | Coosa County, Alabama | 01 | 01
01190 | Covington County, Alabama | 01 | 01
01200 | Crenshaw County, Alabama | 01 | 01
01210 | Cullman County, Alabama | 01 | 01
01220 | Dale County, Alabama | 2180 | 01
01230 | Dallas County, Alabama | 01 | 01
01240 | De Kalb County, Alabama | 01 | 01
01250 | Elmore County, Alabama | 5240 | 33860
01260 | Escambia County, Alabama | 01 | 01
01270 | Etowah County, Alabama | 2880 | 23460
01280 | Fayette County, Alabama | 01 | 01
01290 | Franklin County, Alabama | 01 | 01
01300 | Geneva County, Alabama | 01 | 20020
01310 | Greene County, Alabama | 01 | 46220
01320 | Hale County, Alabama | 01 | 46220
01330 | Henry County, Alabama | 01 | 20020
01340 | Houston County, Alabama | 2180 | 20020
01350 | Jackson County, Alabama | 01 | 01
01360 | Jefferson County, Alabama | 1000 | 13820
01370 | Lamar County, Alabama | 01 | 01
01380 | Lauderdale County, Alabama | 2650 | 22520
01390 | Lawrence County, Alabama | 01 | 19460
01400 | Lee County, Alabama | 01 | 12220
01410 | Limestone County, Alabama | 01 | 26620
01420 | Lowndes County, Alabama | 01 | 33860
01430 | Macon County, Alabama | 01 | 01
01440 | Madison County, Alabama | 3440 | 26620
01450 | Marengo County, Alabama | 01 | 01
01460 | Marion County, Alabama | 01 | 01
01470 | Marshall County, Alabama | 01 | 01
01480 | Mobile County, Alabama | 5160 | 33660
01490 | Monroe County, Alabama | 01 | 01
01500 | Montgomery County, Alabama | 5240 | 33860
01510 | Morgan County, Alabama | 01 | 19460
01520 | Perry County, Alabama | 01 | 01
01530 | Pickens County, Alabama | 01 | 01
01540 | Pike County, Alabama | 01 | 01
01550 | Randolph County, Alabama | 01 | 01
01560 | Russell County, Alabama | 1800 | 17980
01570 | St Clair County, Alabama | 1000 | 13820
01580 | Shelby County, Alabama | 1000 | 13820
01590 | Sumter County, Alabama | 01 | 01
01600 | Talladega County, Alabama | 01 | 01
01610 | Tallapoosa County, Alabama | 01 | 01
01620 | Tuscaloosa County, Alabama | 8600 | 46220
01630 | Walker County, Alabama | 1000 | 13820
01640 | Washington County, Alabama | 01 | 01
01650 | Wilcox County, Alabama | 01 | 01
01660 | Winston County, Alabama | 01 | 01
02013 | Aleutians County East, Alaska | 02 | 02
02016 | Aleutians County West, Alaska | 02 | 02
02020 | Anchorage County, Alaska | 0380 | 11260
02030 | Angoon County, Alaska | 02 | 02
02040 | Barrow-North Slope County, Alaska | 02 | 02
02050 | Bethel County, Alaska | 02 | 02
02060 | Bristol Bay Borough County, Alaska | 02 | 02
02068 | Denali County, Alaska | 02 | 02
02070 | Bristol Bay County, Alaska | 02 | 02
02080 | Cordova-Mc Carthy County, Alaska | 02 | 02
02090 | Fairbanks County, Alaska | 02 | 21820
02100 | Haines County, Alaska | 02 | 02
02110 | Juneau County, Alaska | 02 | 02
02120 | Kenai-Cook Inlet County, Alaska | 02 | 02
02122 | Kenai Peninsula Borough, Alaska | 02 | 02
02130 | Ketchikan County, Alaska | 02 | 02
02140 | Kobuk County, Alaska | 02 | 02
02150 | Kodiak County, Alaska | 02 | 02
02160 | Kuskokwin County, Alaska | 02 | 02
02164 | Lake and Peninsula Borough, Alaska | 02 | 02
02170 | Matanuska County, Alaska | 02 | 11260
02180 | Nome County, Alaska | 02 | 02
02185 | North Slope Borough, Alaska | 02 | 02
02188 | Northwest Arctic Borough, Alaska | 02 | 02
02190 | Outer Ketchikan County, Alaska | 02 | 02
02200 | Prince Of Wales County, Alaska | 02 | 02
02201 | Prince of Wales-Outer Ketchikan Census Area, Alaska | 02 | 02
02210 | Seward County, Alaska | 02 | 02
02220 | Sitka County, Alaska | 02 | 02
02230 | Skagway-Yakutat County, Alaska | 02 | 02
02231 | Skagway-Yakutat-Angoon Census Area, Alaska | 02 | 02
02232 | Skagway-Hoonah-Angoon Census Area, Alaska | 02 | 02
02240 | Southeast Fairbanks County, Alaska | 02 | 02
02250 | Upper Yukon County, Alaska | 02 | 02
02260 | Valdz-Chitna-Whitier County, Alaska | 02 | 02
02261 | Valdex-Cordove Census Area, Alaska | 02 | 02
02270 | Wade Hampton County, Alaska | 02 | 02
02280 | Wrangell-Petersburg County, Alaska | 02 | 02
02282 | Yakutat Borough, Alaska | 02 | 02
02290 | Yukon-Koyukuk County, Alaska | 02 | 02
03000 | Apache County, Arizona | 03 | 03
03010 | Cochise County, Arizona | 03 | 03
03020 | Coconino County, Arizona | 03 | 22380
03030 | Gila County, Arizona | 03 | 03
03040 | Graham County, Arizona | 03 | 03
03050 | Greenlee County, Arizona | 03 | 03
03055 | La Paz County, Arizona | 03 | 03
03060 | Maricopa County, Arizona | 6200 | 38060
03070 | Mohave County, Arizona | 03 | 03
03080 | Navajo County, Arizona | 03 | 03
03090 | Pima County, Arizona | 8520 | 46060
03100 | Pinal County, Arizona | 03 | 38060
03110 | Santa Cruz County, Arizona | 03 | 03
03120 | Yavapai County, Arizona | 03 | 39140
03130 | Yuma County, Arizona | 03 | 49740
04000 | Arkansas County, Arkansas | 04 | 04
04010 | Ashley County, Arkansas | 04 | 04
04020 | Baxter County, Arkansas | 04 | 04
04030 | Benton County, Arkansas | 04 | 22220
04040 | Boone County, Arkansas | 04 | 04
04050 | Bradley County, Arkansas | 04 | 04
04060 | Calhoun County, Arkansas | 04 | 04
04070 | Carroll County, Arkansas | 04 | 04
04080 | Chicot County, Arkansas | 04 | 04
04090 | Clark County, Arkansas | 04 | 04
04100 | Clay County, Arkansas | 04 | 04
04110 | Cleburne County, Arkansas | 04 | 04
04120 | Cleveland County, Arkansas | 04 | 38220
04130 | Columbia County, Arkansas | 04 | 04
04140 | Conway County, Arkansas | 04 | 04
04150 | Craighead County, Arkansas | 04 | 27860
04160 | Crawford County, Arkansas | 2720 | 22900
04170 | Crittenden County, Arkansas | 4920 | 32820
04180 | Cross County, Arkansas | 04 | 04
04190 | Dallas County, Arkansas | 04 | 04
04200 | Desha County, Arkansas | 04 | 04
04210 | Drew County, Arkansas | 04 | 04
04220 | Faulkner County, Arkansas | 4400 | 30780
04230 | Franklin County, Arkansas | 04 | 22900
04240 | Fulton County, Arkansas | 04 | 04
04250 | Garland County, Arkansas | 04 | 26300
04260 | Grant County, Arkansas | 04 | 30780
04270 | Greene County, Arkansas | 04 | 04
04280 | Hempstead County, Arkansas | 04 | 04
04290 | Hot Spring County, Arkansas | 04 | 04
04300 | Howard County, Arkansas | 04 | 04
04310 | Independence County, Arkansas | 04 | 04
04320 | Izard County, Arkansas | 04 | 04
04330 | Jackson County, Arkansas | 04 | 04
04340 | Jefferson County, Arkansas | 6240 | 38220
04350 | Johnson County, Arkansas | 04 | 04
04360 | Lafayette County, Arkansas | 04 | 04
04370 | Lawrence County, Arkansas | 04 | 04
04380 | Lee County, Arkansas | 04 | 04
04390 | Lincoln County, Arkansas | 04 | 38220
04400 | Little River County, Arkansas | 04 | 04
04410 | Logan County, Arkansas | 04 | 04
04420 | Lonoke County, Arkansas | 4400 | 30780
04430 | Madison County, Arkansas | 04 | 22220
04440 | Marion County, Arkansas | 04 | 04
04450 | Miller County, Arkansas | 8360 | 45500
04460 | Mississippi County, Arkansas | 04 | 04
04470 | Monroe County, Arkansas | 04 | 04
04480 | Montgomery County, Arkansas | 04 | 04
04490 | Nevada County, Arkansas | 04 | 04
04500 | Newton County, Arkansas | 04 | 04
04510 | Ouachita County, Arkansas | 04 | 04
04520 | Perry County, Arkansas | 04 | 30780
04530 | Phillips County, Arkansas | 04 | 04
04540 | Pike County, Arkansas | 04 | 04
04550 | Poinsett County, Arkansas | 04 | 27860
04560 | Polk County, Arkansas | 04 | 04
04570 | Pope County, Arkansas | 04 | 04
04580 | Prairie County, Arkansas | 04 | 04
04590 | Pulaski County, Arkansas | 4400 | 30780
04600 | Randolph County, Arkansas | 04 | 04
04610 | St Francis County, Arkansas | 04 | 04
04620 | Saline County, Arkansas | 4400 | 30780
04630 | Scott County, Arkansas | 04 | 04
04640 | Searcy County, Arkansas | 04 | 04
04650 | Sebastian County, Arkansas | 2720 | 22900
04660 | Sevier County, Arkansas | 04 | 04
04670 | Sharp County, Arkansas | 04 | 04
04680 | Stone County, Arkansas | 04 | 04
04690 | Union County, Arkansas | 04 | 04
04700 | Van Buren County, Arkansas | 04 | 04
04710 | Washington County, Arkansas | 2580 | 22220
04720 | White County, Arkansas | 04 | 04
04730 | Woodruff County, Arkansas | 04 | 04
04740 | Yell County, Arkansas | 04 | 04
05000 | Alameda County, California | 5775 | 36084
05010 | Alpine County, California | 05 | 05
05020 | Amador County, California | 05 | 05
05030 | Butte County, California | 1620 | 17020
05040 | Calaveras County, California | 05 | 05
05050 | Colusa County, California | 05 | 05
05060 | Contra Costa County, California | 5775 | 36084
05070 | Del Norte County, California | 05 | 05
05080 | Eldorado County, California | 6920 | 40900
05090 | Fresno County, California | 2840 | 23420
05100 | Glenn County, California | 05 | 05
05110 | Humboldt County, California | 05 | 05
05120 | Imperial County, California | 05 | 20940
05130 | Inyo County, California | 05 | 05
05140 | Kern County, California | 0680 | 12540
05150 | Kings County, California | 05 | 25260
05160 | Lake County, California | 05 | 05
05170 | Lassen County, California | 05 | 05
05200 | Los Angeles County, California | 4480 | 31084
05210 | Los Angeles County, California | 4480 | 31084
05300 | Madera County, California | 05 | 31460
05310 | Marin County, California | 7360 | 41884
05320 | Mariposa County, California | 05 | 05
05330 | Mendocino County, California | 05 | 05
05340 | Merced County, California | 4940 | 32900
05350 | Modoc County, California | 05 | 05
05360 | Mono County, California | 05 | 05
05370 | Monterey County, California | 7120 | 41500
05380 | Napa County, California | 8720 | 34900
05390 | Nevada County, California | 05 | 05
05400 | Orange County, California | 0360 | 42044
05410 | Placer County, California | 6920 | 40900
05420 | Plumas County, California | 05 | 05
05430 | Riverside County, California | 6780 | 40140
05440 | Sacramento County, California | 6920 | 40900
05450 | San Benito County, California | 05 | 41940
05460 | San Bernardino County, California | 6780 | 40140
05470 | San Diego County, California | 7320 | 41740
05480 | San Francisco County, California | 7360 | 41884
05490 | San Joaquin County, California | 8120 | 44700
05500 | San Luis Obispo County, California | 05 | 42020
05510 | San Mateo County, California | 7360 | 41884
05520 | Santa Barbara County, California | 7480 | 42060
05530 | Santa Clara County, California | 7400 | 41940
05540 | Santa Cruz County, California | 7485 | 42100
05550 | Shasta County, California | 6690 | 39820
05560 | Sierra County, California | 05 | 05
05570 | Siskiyou County, California | 05 | 05
05580 | Solano County, California | 8720 | 46700
05590 | Sonoma County, California | 7500 | 42220
05600 | Stanislaus County, California | 5170 | 33700
05610 | Sutter County, California | 9340 | 49700
05620 | Tehama County, California | 05 | 05
05630 | Trinity County, California | 05 | 05
05640 | Tulare County, California | 8780 | 47300
05650 | Tuolumne County, California | 05 | 05
05660 | Ventura County, California | 6000 | 37100
05670 | Yolo County, California | 6920 | 40900
05680 | Yuba County, California | 9340 | 49700
06000 | Adams County, Colorado | 2080 | 19740
06010 | Alamosa County, Colorado | 06 | 06
06020 | Arapahoe County, Colorado | 2080 | 19740
06030 | Archuleta County, Colorado | 06 | 06
06040 | Baca County, Colorado | 06 | 06
06050 | Bent County, Colorado | 06 | 06
06060 | Boulder County, Colorado | 1125 | 14500
06070 | Chaffee County, Colorado | 06 | 06
06080 | Cheyenne County, Colorado | 06 | 06
06090 | Clear Creek County, Colorado | 06 | 19740
06100 | Conejos County, Colorado | 06 | 06
06110 | Costilla County, Colorado | 06 | 06
06120 | Crowley County, Colorado | 06 | 06
06130 | Custer County, Colorado | 06 | 06
06140 | Delta County, Colorado | 06 | 06
06150 | Denver County, Colorado | 2080 | 19740
06160 | Dolores County, Colorado | 06 | 06
06170 | Douglas County, Colorado | 2080 | 19740
06180 | Eagle County, Colorado | 06 | 06
06190 | Elbert County, Colorado | 06 | 19740
06200 | El Paso County, Colorado | 1720 | 17820
06210 | Fremont County, Colorado | 06 | 06
06220 | Garfield County, Colorado | 06 | 06
06230 | Gilpin County, Colorado | 06 | 19740
06240 | Grand County, Colorado | 06 | 06
06250 | Gunnison County, Colorado | 06 | 06
06260 | Hinsdale County, Colorado | 06 | 06
06270 | Huerfano County, Colorado | 06 | 06
06280 | Jackson County, Colorado | 06 | 06
06290 | Jefferson County, Colorado | 2080 | 19740
06300 | Kiowa County, Colorado | 06 | 06
06310 | Kit Carson County, Colorado | 06 | 06
06320 | Lake County, Colorado | 06 | 06
06330 | La Plata County, Colorado | 06 | 06
06340 | Larimer County, Colorado | 2670 | 22660
06350 | Las Animas County, Colorado | 06 | 06
06360 | Lincoln County, Colorado | 06 | 06
06370 | Logan County, Colorado | 06 | 06
06380 | Mesa County, Colorado | 06 | 24300
06390 | Mineral County, Colorado | 06 | 06
06400 | Moffat County, Colorado | 06 | 06
06410 | Montezuma County, Colorado | 06 | 06
06420 | Montrose County, Colorado | 06 | 06
06430 | Morgan County, Colorado | 06 | 06
06440 | Otero County, Colorado | 06 | 06
06450 | Ouray County, Colorado | 06 | 06
06460 | Park County, Colorado | 06 | 19740
06470 | Phillips County, Colorado | 06 | 06
06480 | Pitkin County, Colorado | 06 | 06
06490 | Prowers County, Colorado | 06 | 06
06500 | Pueblo County, Colorado | 6560 | 39380
06510 | Rio Blanco County, Colorado | 06 | 06
06520 | Rio Grande County, Colorado | 06 | 06
06530 | Routt County, Colorado | 06 | 06
06540 | Saguache County, Colorado | 06 | 06
06550 | San Juan County, Colorado | 06 | 06
06560 | San Miguel County, Colorado | 06 | 06
06570 | Sedgwick County, Colorado | 06 | 06
06580 | Summit County, Colorado | 06 | 06
06590 | Teller County, Colorado | 06 | 17820
06600 | Washington County, Colorado | 06 | 06
06610 | Weld County, Colorado | 3060 | 24540
06620 | Yuma County, Colorado | 06 | 06
06630 | Broomfield County, Colorado | 06 | 19740
07000 | Fairfield County, Connecticut | 1163 | 14860
07010 | Hartford County, Connecticut | 3283 | 25540
07020 | Litchfield County, Connecticut | 3283 | 25540
07030 | Middlesex County, Connecticut | 3283 | 25540
07040 | New Haven County, Connecticut | 5483 | 35300
07050 | New London County, Connecticut | 5523 | 35980
07060 | Tolland County, Connecticut | 3283 | 25540
07070 | Windham County, Connecticut | 07 | 07
08000 | Kent County, Delaware | 07 | 20100
08010 | New Castle County, Delaware | 9160 | 48864
08020 | Sussex County, Delaware | 08 | 08
09000 | Washington DC County, Dist Of Col | 8840 | 47894
10000 | Alachua County, Florida | 2900 | 23540
10010 | Baker County, Florida | 10 | 27260
10020 | Bay County, Florida | 6015 | 37460
10030 | Bradford County, Florida | 10 | 10
10040 | Brevard County, Florida | 4900 | 37340
10050 | Broward County, Florida | 2680 | 22744
10060 | Calhoun County, Florida | 10 | 10
10070 | Charlotte County, Florida | 10 | 39460
10080 | Citrus County, Florida | 10 | 10
10090 | Clay County, Florida | 3600 | 27260
10100 | Collier County, Florida | 5345 | 34940
10110 | Columbia County, Florida | 10 | 10
10120 | Dade County, Florida | 5000 | 33124
10130 | De Soto County, Florida | 10 | 10
10140 | Dixie County, Florida | 10 | 10
10150 | Duval County, Florida | 3600 | 27260
10160 | Escambia County, Florida | 6080 | 37860
10170 | Flagler County, Florida | 10 | 10
10180 | Franklin County, Florida | 10 | 10
10190 | Gadsden County, Florida | 8240 | 45220
10200 | Gilchrist County, Florida | 10 | 23540
10210 | Glades County, Florida | 10 | 10
10220 | Gulf County, Florida | 10 | 10
10230 | Hamilton County, Florida | 10 | 10
10240 | Hardee County, Florida | 10 | 10
10250 | Hendry County, Florida | 10 | 10
10260 | Hernando County, Florida | 8280 | 45300
10270 | Highlands County, Florida | 10 | 10
10280 | Hillsborough County, Florida | 8280 | 45300
10290 | Holmes County, Florida | 10 | 10
10300 | Indian River County, Florida | 10 | 46940
10310 | Jackson County, Florida | 10 | 10
10320 | Jefferson County, Florida | 10 | 45220
10330 | Lafayette County, Florida | 10 | 10
10340 | Lake County, Florida | 10 | 36740
10350 | Lee County, Florida | 2700 | 15980
10360 | Leon County, Florida | 8240 | 45220
10370 | Levy County, Florida | 10 | 10
10380 | Liberty County, Florida | 10 | 10
10390 | Madison County, Florida | 10 | 10
10400 | Manatee County, Florida | 1140 | 42260
10410 | Marion County, Florida | 5790 | 36100
10420 | Martin County, Florida | 2710 | 38940
10430 | Monroe County, Florida | 10 | 10
10440 | Nassau County, Florida | 3600 | 27260
10450 | Okaloosa County, Florida | 2750 | 23020
10460 | Okeechobee County, Florida | 10 | 10
10470 | Orange County, Florida | 5960 | 36740
10480 | Osceola County, Florida | 5960 | 36740
10490 | Palm Beach County, Florida | 8960 | 48424
10500 | Pasco County, Florida | 8280 | 45300
10510 | Pinellas County, Florida | 8280 | 45300
10520 | Polk County, Florida | 3980 | 29460
10530 | Putnam County, Florida | 10 | 10
10540 | St. Johns County, Florida | 3600 | 27260
10550 | St Lucie County, Florida | 2710 | 38940
10560 | Santa Rosa County, Florida | 6080 | 37860
10570 | Sarasota County, Florida | 7510 | 42260
10580 | Seminole County, Florida | 5960 | 36740
10590 | Sumter County, Florida | 10 | 10
10600 | Suwannee County, Florida | 10 | 10
10610 | Taylor County, Florida | 10 | 10
10620 | Union County, Florida | 10 | 10
10630 | Volusia County, Florida | 2020 | 19660
10640 | Wakulla County, Florida | 10 | 45220
10650 | Walton County, Florida | 10 | 10
10660 | Washington County, Florida | 10 | 10
11000 | Appling County, Georgia | 11 | 11
11010 | Atkinson County, Georgia | 11 | 11
11011 | Bacon County, Georgia | 11 | 11
11020 | Baker County, Georgia | 11 | 10500
11030 | Baldwin County, Georgia | 11 | 11
11040 | Banks County, Georgia | 11 | 11
11050 | Barrow County, Georgia | 0520 | 12060
11060 | Bartow County, Georgia | 11 | 12060
11070 | Ben Hill County, Georgia | 11 | 11
11080 | Berrien County, Georgia | 11 | 11
11090 | Bibb County, Georgia | 4680 | 31420
11100 | Bleckley County, Georgia | 11 | 11
11110 | Brantley County, Georgia | 11 | 15260
11120 | Brooks County, Georgia | 11 | 46660
11130 | Bryan County, Georgia | 11 | 42340
11140 | Bulloch County, Georgia | 11 | 11
11150 | Burke County, Georgia | 11 | 12260
11160 | Butts County, Georgia | 0520 | 12060
11161 | Calhoun County, Georgia | 11 | 11
11170 | Camden County, Georgia | 11 | 11
11180 | Candler County, Georgia | 11 | 11
11190 | Carroll County, Georgia | 11 | 12060
11200 | Catoosa County, Georgia | 1560 | 16860
11210 | Charlton County, Georgia | 11 | 11
11220 | Chatham County, Georgia | 7520 | 42340
11230 | Chattahoochee County, Georgia | 1800 | 17980
11240 | Chattooga County, Georgia | 11 | 11
11250 | Cherokee County, Georgia | 0520 | 12060
11260 | Clarke County, Georgia | 0500 | 12020
11270 | Clay County, Georgia | 11 | 11
11280 | Clayton County, Georgia | 0520 | 12060
11281 | Clinch County, Georgia | 11 | 11
11290 | Cobb County, Georgia | 0520 | 12060
11291 | Coffee County, Georgia | 11 | 11
11300 | Colquitt County, Georgia | 11 | 11
11310 | Columbia County, Georgia | 0600 | 12260
11311 | Cook County, Georgia | 11 | 11
11320 | Coweta County, Georgia | 0520 | 12060
11330 | Crawford County, Georgia | 11 | 31420
11340 | Crisp County, Georgia | 11 | 11
11341 | Dade County, Georgia | 1560 | 16860
11350 | Dawson County, Georgia | 11 | 12060
11360 | Decatur County, Georgia | 11 | 11
11370 | De Kalb County, Georgia | 0520 | 12060
11380 | Dodge County, Georgia | 11 | 11
11381 | Dooly County, Georgia | 11 | 11
11390 | Dougherty County, Georgia | 0120 | 10500
11400 | Douglas County, Georgia | 0520 | 12060
11410 | Early County, Georgia | 11 | 11
11420 | Echols County, Georgia | 11 | 46660
11421 | Effingham County, Georgia | 7520 | 42340
11430 | Elbert County, Georgia | 11 | 11
11440 | Emanuel County, Georgia | 11 | 11
11441 | Evans County, Georgia | 11 | 11
11450 | Fannin County, Georgia | 11 | 11
11451 | Fayette County, Georgia | 0520 | 12060
11460 | Floyd County, Georgia | 11 | 40660
11461 | Forsyth County, Georgia | 0520 | 12060
11462 | Franklin County, Georgia | 11 | 11
11470 | Fulton County, Georgia | 0520 | 12060
11471 | Gilmer County, Georgia | 11 | 11
11480 | Glascock County, Georgia | 11 | 11
11490 | Glynn County, Georgia | 11 | 15260
11500 | Gordon County, Georgia | 11 | 11
11510 | Grady County, Georgia | 11 | 11
11520 | Greene County, Georgia | 11 | 11
11530 | Gwinnett County, Georgia | 0520 | 12060
11540 | Habersham County, Georgia | 11 | 11
11550 | Hall County, Georgia | 11 | 23580
11560 | Hancock County, Georgia | 11 | 11
11570 | Haralson County, Georgia | 11 | 12060
11580 | Harris County, Georgia | 11 | 17980
11581 | Hart County, Georgia | 11 | 11
11590 | Heard County, Georgia | 11 | 12060
11591 | Henry County, Georgia | 0520 | 12060
11600 | Houston County, Georgia | 4680 | 47580
11601 | Irwin County, Georgia | 11 | 11
11610 | Jackson County, Georgia | 0500 | 11
11611 | Jasper County, Georgia | 11 | 12060
11612 | Jeff Davis County, Georgia | 11 | 11
11620 | Jefferson County, Georgia | 11 | 11
11630 | Jenkins County, Georgia | 11 | 11
11640 | Johnson County, Georgia | 11 | 11
11650 | Jones County, Georgia | 4680 | 31420
11651 | Lamar County, Georgia | 11 | 12060
11652 | Lanier County, Georgia | 11 | 46660
11660 | Laurens County, Georgia | 11 | 11
11670 | Lee County, Georgia | 0120 | 10500
11680 | Liberty County, Georgia | 11 | 25980
11690 | Lincoln County, Georgia | 11 | 11
11691 | Long County, Georgia | 11 | 25980
11700 | Lowndes County, Georgia | 11 | 46660
11701 | Lumpkin County, Georgia | 11 | 11
11702 | Mc Duffie County, Georgia | 0600 | 12260
11703 | Mc Intosh County, Georgia | 11 | 15260
11710 | Macon County, Georgia | 11 | 11
11720 | Madison County, Georgia | 0500 | 12020
11730 | Marion County, Georgia | 11 | 17980
11740 | Meriwether County, Georgia | 11 | 12060
11741 | Miller County, Georgia | 11 | 11
11750 | Mitchell County, Georgia | 11 | 11
11760 | Monroe County, Georgia | 11 | 31420
11770 | Montgomery County, Georgia | 11 | 11
11771 | Morgan County, Georgia | 11 | 11
11772 | Murray County, Georgia | 11 | 19140
11780 | Muscogee County, Georgia | 1800 | 17980
11790 | Newton County, Georgia | 0520 | 12060
11800 | Oconee County, Georgia | 0500 | 12020
11801 | Oglethorpe County, Georgia | 11 | 12020
11810 | Paulding County, Georgia | 0520 | 12060
11811 | Peach County, Georgia | 4680 | 11
11812 | Pickens County, Georgia | 11 | 12060
11820 | Pierce County, Georgia | 11 | 11
11821 | Pike County, Georgia | 11 | 12060
11830 | Polk County, Georgia | 11 | 11
11831 | Pulaski County, Georgia | 11 | 11
11832 | Putnam County, Georgia | 11 | 11
11833 | Quitman County, Georgia | 11 | 11
11834 | Rabun County, Georgia | 11 | 11
11835 | Randolph County, Georgia | 11 | 11
11840 | Richmond County, Georgia | 0600 | 12260
11841 | Rockdale County, Georgia | 0520 | 12060
11842 | Schley County, Georgia | 11 | 11
11850 | Screven County, Georgia | 11 | 11
11851 | Seminole County, Georgia | 11 | 11
11860 | Spalding County, Georgia | 0520 | 12060
11861 | Stephens County, Georgia | 11 | 11
11862 | Stewart County, Georgia | 11 | 11
11870 | Sumter County, Georgia | 11 | 11
11880 | Talbot County, Georgia | 11 | 11
11881 | Taliaferro County, Georgia | 11 | 11
11882 | Tattnall County, Georgia | 11 | 11
11883 | Taylor County, Georgia | 11 | 11
11884 | Telfair County, Georgia | 11 | 11
11885 | Terrell County, Georgia | 11 | 10500
11890 | Thomas County, Georgia | 11 | 11
11900 | Tift County, Georgia | 11 | 11
11901 | Toombs County, Georgia | 11 | 11
11902 | Towns County, Georgia | 11 | 11
11903 | Treutlen County, Georgia | 11 | 11
11910 | Troup County, Georgia | 11 | 11
11911 | Turner County, Georgia | 11 | 11
11912 | Twiggs County, Georgia | 11 | 31420
11913 | Union County, Georgia | 11 | 11
11920 | Upson County, Georgia | 11 | 11
11921 | Walker County, Georgia | 1560 | 16860
11930 | Walton County, Georgia | 0520 | 12060
11940 | Ware County, Georgia | 11 | 11
11941 | Warren County, Georgia | 11 | 11
11950 | Washington County, Georgia | 11 | 11
11960 | Wayne County, Georgia | 11 | 11
11961 | Webster County, Georgia | 11 | 11
11962 | Wheeler County, Georgia | 11 | 11
11963 | White County, Georgia | 11 | 11
11970 | Whitfield County, Georgia | 11 | 19140
11971 | Wilcox County, Georgia | 11 | 11
11972 | Wilkes County, Georgia | 11 | 11
11973 | Wilkinson County, Georgia | 11 | 11
11980 | Worth County, Georgia | 11 | 10500
12005 | Kalawao County, Hawaii | 12 | 12
12010 | Hawaii County, Hawaii | 12 | 12
12020 | Honolulu County, Hawaii | 3320 | 26180
12040 | Kauai County, Hawaii | 12 | 12
12050 | Maui County, Hawaii | 12 | 12
13000 | Ada County, Idaho | 1080 | 14260
13010 | Adams County, Idaho | 13 | 13
13020 | Bannock County, Idaho | 13 | 38540
13030 | Bear Lake County, Idaho | 13 | 13
13040 | Benewah County, Idaho | 13 | 13
13050 | Bingham County, Idaho | 13 | 13
13060 | Blaine County, Idaho | 13 | 13
13070 | Boise County, Idaho | 13 | 14260
13080 | Bonner County, Idaho | 13 | 13
13090 | Bonneville County, Idaho | 13 | 26820
13100 | Boundary County, Idaho | 13 | 13
13110 | Butte County, Idaho | 13 | 13
13120 | Camas County, Idaho | 13 | 13
13130 | Canyon County, Idaho | 13 | 14260
13140 | Caribou County, Idaho | 13 | 13
13150 | Cassia County, Idaho | 13 | 13
13160 | Clark County, Idaho | 13 | 13
13170 | Clearwater County, Idaho | 13 | 13
13180 | Custer County, Idaho | 13 | 13
13190 | Elmore County, Idaho | 13 | 13
13200 | Franklin County, Idaho | 13 | 30860
13210 | Fremont County, Idaho | 13 | 13
13220 | Gem County, Idaho | 13 | 14260
13230 | Gooding County, Idaho | 13 | 13
13240 | Idaho County, Idaho | 13 | 13
13250 | Jefferson County, Idaho | 13 | 26820
13260 | Jerome County, Idaho | 13 | 13
13270 | Kootenai County, Idaho | 13 | 17660
13280 | Latah County, Idaho | 13 | 13
13290 | Lemhi County, Idaho | 13 | 13
13300 | Lewis County, Idaho | 13 | 13
13310 | Lincoln County, Idaho | 13 | 13
13320 | Madison County, Idaho | 13 | 13
13330 | Minidoka County, Idaho | 13 | 13
13340 | Nez Perce County, Idaho | 13 | 30300
13350 | Oneida County, Idaho | 13 | 13
13360 | Owyhee County, Idaho | 13 | 14260
13370 | Payette County, Idaho | 13 | 13
13380 | Power County, Idaho | 13 | 38540
13390 | Shoshone County, Idaho | 13 | 13
13400 | Teton County, Idaho | 13 | 13
13410 | Twin Falls County, Idaho | 13 | 13
13420 | Valley County, Idaho | 13 | 13
13430 | Washington County, Idaho | 13 | 13
14000 | Adams County, Illinois | 14 | 14
14010 | Alexander County, Illinois | 14 | 14
14020 | Bond County, Illinois | 14 | 41180
14030 | Boone County, Illinois | 6880 | 40420
14040 | Brown County, Illinois | 14 | 14
14050 | Bureau County, Illinois | 14 | 14
14060 | Calhoun County, Illinois | 14 | 41180
14070 | Carroll County, Illinois | 14 | 14
14080 | Cass County, Illinois | 14 | 14
14090 | Champaign County, Illinois | 1400 | 16580
14100 | Christian County, Illinois | 14 | 14
14110 | Clark County, Illinois | 14 | 14
14120 | Clay County, Illinois | 14 | 14
14130 | Clinton County, Illinois | 7040 | 41180
14140 | Coles County, Illinois | 14 | 14
14141 | Cook County, Illinois | 1600 | 16974
14150 | Crawford County, Illinois | 14 | 14
14160 | Cumberland County, Illinois | 14 | 14
14170 | De Kalb County, Illinois | 14 | 16974
14180 | De Witt County, Illinois | 14 | 14
14190 | Douglas County, Illinois | 14 | 14
14250 | Du Page County, Illinois | 1600 | 16974
14310 | Edgar County, Illinois | 14 | 14
14320 | Edwards County, Illinois | 14 | 14
14330 | Effingham County, Illinois | 14 | 14
14340 | Fayette County, Illinois | 14 | 14
14350 | Ford County, Illinois | 14 | 16580
14360 | Franklin County, Illinois | 14 | 14
14370 | Fulton County, Illinois | 14 | 14
14380 | Gallatin County, Illinois | 14 | 14
14390 | Greene County, Illinois | 14 | 14
14400 | Grundy County, Illinois | 3690 | 16974
14410 | Hamilton County, Illinois | 14 | 14
14420 | Hancock County, Illinois | 14 | 14
14421 | Hardin County, Illinois | 14 | 14
14440 | Henderson County, Illinois | 14 | 14
14450 | Henry County, Illinois | 1960 | 19340
14460 | Iroquois County, Illinois | 14 | 14
14470 | Jackson County, Illinois | 14 | 14
14480 | Jasper County, Illinois | 14 | 14
14490 | Jefferson County, Illinois | 14 | 14
14500 | Jersey County, Illinois | 7040 | 41180
14510 | Jo Daviess County, Illinois | 14 | 14
14520 | Johnson County, Illinois | 14 | 14
14530 | Kane County, Illinois | 0620 | 16974
14540 | Kankakee County, Illinois | 3740 | 28100
14550 | Kendall County, Illinois | 0620 | 16974
14560 | Knox County, Illinois | 14 | 14
14570 | Lake County, Illinois | 3965 | 29404
14580 | La Salle County, Illinois | 14 | 14
14590 | Lawrence County, Illinois | 14 | 14
14600 | Lee County, Illinois | 14 | 14
14610 | Livingston County, Illinois | 14 | 14
14620 | Logan County, Illinois | 14 | 14
14630 | Mc Donough County, Illinois | 14 | 14
14640 | Mc Henry County, Illinois | 1600 | 16974
14650 | Mclean County, Illinois | 1040 | 14060
14660 | Macon County, Illinois | 2040 | 19500
14670 | Macoupin County, Illinois | 14 | 41180
14680 | Madison County, Illinois | 7040 | 41180
14690 | Marion County, Illinois | 14 | 14
14700 | Marshall County, Illinois | 14 | 37900
14710 | Mason County, Illinois | 14 | 14
14720 | Massac County, Illinois | 14 | 14
14730 | Menard County, Illinois | 7880 | 44100
14740 | Mercer County, Illinois | 14 | 19340
14750 | Monroe County, Illinois | 7040 | 41180
14760 | Montgomery County, Illinois | 14 | 14
14770 | Morgan County, Illinois | 14 | 14
14780 | Moultrie County, Illinois | 14 | 14
14790 | Ogle County, Illinois | 14 | 14
14800 | Peoria County, Illinois | 6120 | 37900
14810 | Perry County, Illinois | 14 | 14
14820 | Piatt County, Illinois | 14 | 16580
14830 | Pike County, Illinois | 14 | 14
14831 | Pope County, Illinois | 14 | 14
14850 | Pulaski County, Illinois | 14 | 14
14860 | Putnam County, Illinois | 14 | 14
14870 | Randolph County, Illinois | 14 | 14
14880 | Richland County, Illinois | 14 | 14
14890 | Rock Island County, Illinois | 1960 | 19340
14900 | St Clair County, Illinois | 7040 | 41180
14910 | Saline County, Illinois | 14 | 14
14920 | Sangamon County, Illinois | 7880 | 44100
14921 | Schuyler County, Illinois | 14 | 14
14940 | Scott County, Illinois | 14 | 14
14950 | Shelby County, Illinois | 14 | 14
14960 | Stark County, Illinois | 14 | 37900
14970 | Stephenson County, Illinois | 14 | 14
14980 | Tazewell County, Illinois | 6120 | 37900
14981 | Union County, Illinois | 14 | 14
14982 | Vermilion County, Illinois | 14 | 19180
14983 | Wabash County, Illinois | 14 | 14
14984 | Warren County, Illinois | 14 | 14
14985 | Washington County, Illinois | 14 | 14
14986 | Wayne County, Illinois | 14 | 14
14987 | White County, Illinois | 14 | 14
14988 | Whiteside County, Illinois | 14 | 14
14989 | Will County, Illinois | 3690 | 16974
14990 | Williamson County, Illinois | 14 | 14
14991 | Winnebago County, Illinois | 6880 | 40420
14992 | Woodford County, Illinois | 6120 | 37900
15000 | Adams County, Indiana | 15 | 15
15010 | Allen County, Indiana | 2760 | 23060
15020 | Bartholomew County, Indiana | 15 | 18020
15030 | Benton County, Indiana | 15 | 29140
15040 | Blackford County, Indiana | 15 | 15
15050 | Boone County, Indiana | 3480 | 26900
15060 | Brown County, Indiana | 15 | 26900
15070 | Carroll County, Indiana | 15 | 29140
15080 | Cass County, Indiana | 15 | 15
15090 | Clark County, Indiana | 4520 | 31140
15100 | Clay County, Indiana | 8320 | 45460
15110 | Clinton County, Indiana | 15 | 15
15120 | Crawford County, Indiana | 15 | 15
15130 | Daviess County, Indiana | 15 | 15
15140 | Dearborn County, Indiana | 1640 | 17140
15150 | Decatur County, Indiana | 15 | 15
15160 | De Kalb County, Indiana | 2760 | 15
15170 | Delaware County, Indiana | 5280 | 34620
15180 | Dubois County, Indiana | 15 | 15
15190 | Elkhart County, Indiana | 2330 | 21140
15200 | Fayette County, Indiana | 15 | 15
15210 | Floyd County, Indiana | 4520 | 31140
15220 | Fountain County, Indiana | 15 | 15
15230 | Franklin County, Indiana | 15 | 17140
15240 | Fulton County, Indiana | 15 | 15
15250 | Gibson County, Indiana | 15 | 21780
15260 | Grant County, Indiana | 15 | 15
15270 | Greene County, Indiana | 15 | 14020
15280 | Hamilton County, Indiana | 3480 | 26900
15290 | Hancock County, Indiana | 3480 | 26900
15300 | Harrison County, Indiana | 4520 | 31140
15310 | Hendricks County, Indiana | 3480 | 26900
15320 | Henry County, Indiana | 15 | 15
15330 | Howard County, Indiana | 3850 | 29020
15340 | Huntington County, Indiana | 15 | 15
15350 | Jackson County, Indiana | 15 | 15
15360 | Jasper County, Indiana | 15 | 23844
15370 | Jay County, Indiana | 15 | 15
15380 | Jefferson County, Indiana | 15 | 15
15390 | Jennings County, Indiana | 15 | 15
15400 | Johnson County, Indiana | 3480 | 26900
15410 | Knox County, Indiana | 15 | 15
15420 | Kosciusko County, Indiana | 15 | 15
15430 | Lagrange County, Indiana | 15 | 15
15440 | Lake County, Indiana | 2960 | 23844
15450 | La Porte County, Indiana | 15 | 33140
15460 | Lawrence County, Indiana | 15 | 15
15470 | Madison County, Indiana | 0400 | 11300
15480 | Marion County, Indiana | 3480 | 26900
15490 | Marshall County, Indiana | 15 | 15
15500 | Martin County, Indiana | 15 | 15
15510 | Miami County, Indiana | 15 | 15
15520 | Monroe County, Indiana | 1020 | 14020
15530 | Montgomery County, Indiana | 15 | 15
15540 | Morgan County, Indiana | 3480 | 26900
15550 | Newton County, Indiana | 15 | 23844
15560 | Noble County, Indiana | 15 | 15
15570 | Ohio County, Indiana | 15 | 17140
15580 | Orange County, Indiana | 15 | 15
15590 | Owen County, Indiana | 15 | 14020
15600 | Parke County, Indiana | 15 | 15
15610 | Perry County, Indiana | 15 | 15
15620 | Pike County, Indiana | 15 | 15
15630 | Porter County, Indiana | 2960 | 23844
15640 | Posey County, Indiana | 2440 | 21780
15650 | Pulaski County, Indiana | 15 | 15
15660 | Putnam County, Indiana | 15 | 26900
15670 | Randolph County, Indiana | 15 | 15
15680 | Ripley County, Indiana | 15 | 15
15690 | Rush County, Indiana | 15 | 15
15700 | St Joseph County, Indiana | 7800 | 43780
15710 | Scott County, Indiana | 15 | 15
15720 | Shelby County, Indiana | 3480 | 26900
15730 | Spencer County, Indiana | 15 | 15
15740 | Starke County, Indiana | 15 | 15
15750 | Steuben County, Indiana | 15 | 15
15760 | Sullivan County, Indiana | 15 | 45460
15770 | Switzerland County, Indiana | 15 | 15
15780 | Tippecanoe County, Indiana | 3920 | 29140
15790 | Tipton County, Indiana | 3850 | 29020
15800 | Union County, Indiana | 15 | 15
15810 | Vanderburgh County, Indiana | 2440 | 21780
15820 | Vermillion County, Indiana | 15 | 45460
15830 | Vigo County, Indiana | 8320 | 45460
15840 | Wabash County, Indiana | 15 | 15
15850 | Warren County, Indiana | 15 | 15
15860 | Warrick County, Indiana | 2440 | 21780
15870 | Washington County, Indiana | 15 | 31140
15880 | Wayne County, Indiana | 15 | 15
15890 | Wells County, Indiana | 15 | 23060
15900 | White County, Indiana | 15 | 15
15910 | Whitley County, Indiana | 2760 | 23060
16000 | Adair County, Iowa | 16 | 16
16010 | Adams County, Iowa | 16 | 16
16020 | Allamakee County, Iowa | 16 | 16
16030 | Appanoose County, Iowa | 16 | 16
16040 | Audubon County, Iowa | 16 | 16
16050 | Benton County, Iowa | 16 | 16300
16060 | Black Hawk County, Iowa | 8920 | 47940
16070 | Boone County, Iowa | 16 | 16
16080 | Bremer County, Iowa | 8920 | 47940
16090 | Buchanan County, Iowa | 16 | 16
16100 | Buena Vista County, Iowa | 16 | 16
16110 | Butler County, Iowa | 16 | 16
16120 | Calhoun County, Iowa | 16 | 16
16130 | Carroll County, Iowa | 16 | 16
16140 | Cass County, Iowa | 16 | 16
16150 | Cedar County, Iowa | 16 | 16
16160 | Cerro Gordo County, Iowa | 16 | 16
16170 | Cherokee County, Iowa | 16 | 16
16180 | Chickasaw County, Iowa | 16 | 16
16190 | Clarke County, Iowa | 16 | 16
16200 | Clay County, Iowa | 16 | 16
16210 | Clayton County, Iowa | 16 | 16
16220 | Clinton County, Iowa | 16 | 16
16230 | Crawford County, Iowa | 16 | 16
16240 | Dallas County, Iowa | 2120 | 19780
16250 | Davis County, Iowa | 16 | 16
16260 | Decatur County, Iowa | 16 | 16
16270 | Delaware County, Iowa | 16 | 16
16280 | Des Moines County, Iowa | 16 | 16
16290 | Dickinson County, Iowa | 16 | 16
16300 | Dubuque County, Iowa | 2200 | 20220
16310 | Emmet County, Iowa | 16 | 16
16320 | Fayette County, Iowa | 16 | 16
16330 | Floyd County, Iowa | 16 | 16
16340 | Franklin County, Iowa | 16 | 16
16350 | Fremont County, Iowa | 16 | 16
16360 | Greene County, Iowa | 16 | 16
16370 | Grundy County, Iowa | 16 | 47940
16380 | Guthrie County, Iowa | 16 | 19780
16390 | Hamilton County, Iowa | 16 | 16
16400 | Hancock County, Iowa | 16 | 16
16410 | Hardin County, Iowa | 16 | 16
16420 | Harrison County, Iowa | 16 | 36540
16430 | Henry County, Iowa | 16 | 16
16440 | Howard County, Iowa | 16 | 16
16450 | Humboldt County, Iowa | 16 | 16
16460 | Ida County, Iowa | 16 | 16
16470 | Iowa County, Iowa | 16 | 16
16480 | Jackson County, Iowa | 16 | 16
16490 | Jasper County, Iowa | 16 | 16
16500 | Jefferson County, Iowa | 16 | 16
16510 | Johnson County, Iowa | 3500 | 26980
16520 | Jones County, Iowa | 16 | 16300
16530 | Keokuk County, Iowa | 16 | 16
16540 | Kossuth County, Iowa | 16 | 16
16550 | Lee County, Iowa | 16 | 16
16560 | Linn County, Iowa | 1360 | 16300
16570 | Louisa County, Iowa | 16 | 16
16580 | Lucas County, Iowa | 16 | 16
16590 | Lyon County, Iowa | 16 | 16
16600 | Madison County, Iowa | 16 | 19780
16610 | Mahaska County, Iowa | 16 | 16
16620 | Marion County, Iowa | 16 | 16
16630 | Marshall County, Iowa | 16 | 16
16640 | Mills County, Iowa | 16 | 36540
16650 | Mitchell County, Iowa | 16 | 16
16660 | Monona County, Iowa | 16 | 16
16670 | Monroe County, Iowa | 16 | 16
16680 | Montgomery County, Iowa | 16 | 16
16690 | Muscatine County, Iowa | 16 | 16
16700 | O Brien County, Iowa | 16 | 16
16710 | Osceola County, Iowa | 16 | 16
16720 | Page County, Iowa | 16 | 16
16730 | Palo Alto County, Iowa | 16 | 16
16740 | Plymouth County, Iowa | 16 | 16
16750 | Pocahontas County, Iowa | 16 | 16
16760 | Polk County, Iowa | 2120 | 19780
16770 | Pottawattamie County, Iowa | 5920 | 36540
16780 | Poweshiek County, Iowa | 16 | 16
16790 | Ringgold County, Iowa | 16 | 16
16800 | Sac County, Iowa | 16 | 16
16810 | Scott County, Iowa | 1960 | 19340
16820 | Shelby County, Iowa | 16 | 16
16830 | Sioux County, Iowa | 16 | 16
16840 | Story County, Iowa | 16 | 11180
16850 | Tama County, Iowa | 16 | 16
16860 | Taylor County, Iowa | 16 | 16
16870 | Union County, Iowa | 16 | 16
16880 | Van Buren County, Iowa | 16 | 16
16890 | Wapello County, Iowa | 16 | 16
16900 | Warren County, Iowa | 2120 | 19780
16910 | Washington County, Iowa | 16 | 26980
16920 | Wayne County, Iowa | 16 | 16
16930 | Webster County, Iowa | 16 | 16
16940 | Winnebago County, Iowa | 16 | 16
16950 | Winneshiek County, Iowa | 16 | 16
16960 | Woodbury County, Iowa | 7720 | 43580
16970 | Worth County, Iowa | 16 | 16
16980 | Wright County, Iowa | 16 | 16
17000 | Allen County, Kansas | 17 | 17
17010 | Anderson County, Kansas | 17 | 17
17020 | Atchison County, Kansas | 17 | 17
17030 | Barber County, Kansas | 17 | 17
17040 | Barton County, Kansas | 17 | 17
17050 | Bourbon County, Kansas | 17 | 17
17060 | Brown County, Kansas | 17 | 17
17070 | Butler County, Kansas | 9040 | 48620
17080 | Chase County, Kansas | 17 | 17
17090 | Chautauqua County, Kansas | 17 | 17
17100 | Cherokee County, Kansas | 17 | 17
17110 | Cheyenne County, Kansas | 17 | 17
17120 | Clark County, Kansas | 17 | 17
17130 | Clay County, Kansas | 17 | 17
17140 | Cloud County, Kansas | 17 | 17
17150 | Coffey County, Kansas | 17 | 17
17160 | Comanche County, Kansas | 17 | 17
17170 | Cowley County, Kansas | 17 | 17
17180 | Crawford County, Kansas | 17 | 17
17190 | Decatur County, Kansas | 17 | 17
17200 | Dickinson County, Kansas | 17 | 17
17210 | Doniphan County, Kansas | 17 | 41140
17220 | Douglas County, Kansas | 4150 | 29940
17230 | Edwards County, Kansas | 17 | 17
17240 | Elk County, Kansas | 17 | 17
17250 | Ellis County, Kansas | 17 | 17
17260 | Ellsworth County, Kansas | 17 | 17
17270 | Finney County, Kansas | 17 | 17
17280 | Ford County, Kansas | 17 | 17
17290 | Franklin County, Kansas | 17 | 28140
17300 | Geary County, Kansas | 17 | 17
17310 | Gove County, Kansas | 17 | 17
17320 | Graham County, Kansas | 17 | 17
17330 | Grant County, Kansas | 17 | 17
17340 | Gray County, Kansas | 17 | 17
17350 | Greeley County, Kansas | 17 | 17
17360 | Greenwood County, Kansas | 17 | 17
17370 | Hamilton County, Kansas | 17 | 17
17380 | Harper County, Kansas | 17 | 17
17390 | Harvey County, Kansas | 17 | 48620
17391 | Haskell County, Kansas | 17 | 17
17410 | Hodgeman County, Kansas | 17 | 17
17420 | Jackson County, Kansas | 17 | 45820
17430 | Jefferson County, Kansas | 17 | 45820
17440 | Jewell County, Kansas | 17 | 17
17450 | Johnson County, Kansas | 3760 | 28140
17451 | Kearny County, Kansas | 17 | 17
17470 | Kingman County, Kansas | 17 | 17
17480 | Kiowa County, Kansas | 17 | 17
17490 | Labette County, Kansas | 17 | 17
17500 | Lane County, Kansas | 17 | 17
17510 | Leavenworth County, Kansas | 3760 | 28140
17520 | Lincoln County, Kansas | 17 | 17
17530 | Linn County, Kansas | 17 | 28140
17540 | Logan County, Kansas | 17 | 17
17550 | Lyon County, Kansas | 17 | 17
17560 | Mc Pherson County, Kansas | 17 | 17
17570 | Marion County, Kansas | 17 | 17
17580 | Marshall County, Kansas | 17 | 17
17590 | Meade County, Kansas | 17 | 17
17600 | Miami County, Kansas | 3760 | 28140
17610 | Mitchell County, Kansas | 17 | 17
17620 | Montgomery County, Kansas | 17 | 17
17630 | Morris County, Kansas | 17 | 17
17640 | Morton County, Kansas | 17 | 17
17650 | Nemaha County, Kansas | 17 | 17
17660 | Neosho County, Kansas | 17 | 17
17670 | Ness County, Kansas | 17 | 17
17680 | Norton County, Kansas | 17 | 17
17690 | Osage County, Kansas | 17 | 45820
17700 | Osborne County, Kansas | 17 | 17
17710 | Ottawa County, Kansas | 17 | 17
17720 | Pawnee County, Kansas | 17 | 17
17730 | Phillips County, Kansas | 17 | 17
17740 | Pottawatomie County, Kansas | 17 | 17
17750 | Pratt County, Kansas | 17 | 17
17760 | Rawlins County, Kansas | 17 | 17
17770 | Reno County, Kansas | 17 | 17
17780 | Republic County, Kansas | 17 | 17
17790 | Rice County, Kansas | 17 | 17
17800 | Riley County, Kansas | 17 | 17
17810 | Rooks County, Kansas | 17 | 17
17820 | Rush County, Kansas | 17 | 17
17830 | Russell County, Kansas | 17 | 17
17840 | Saline County, Kansas | 17 | 17
17841 | Scott County, Kansas | 17 | 17
17860 | Sedgwick County, Kansas | 9040 | 48620
17870 | Seward County, Kansas | 17 | 17
17880 | Shawnee County, Kansas | 8440 | 45820
17890 | Sheridan County, Kansas | 17 | 17
17900 | Sherman County, Kansas | 17 | 17
17910 | Smith County, Kansas | 17 | 17
17920 | Stafford County, Kansas | 17 | 17
17921 | Stanton County, Kansas | 17 | 17
17940 | Stevens County, Kansas | 17 | 17
17950 | Sumner County, Kansas | 17 | 48620
17960 | Thomas County, Kansas | 17 | 17
17970 | Trego County, Kansas | 17 | 17
17980 | Wabaunsee County, Kansas | 17 | 17
17981 | Wallace County, Kansas | 17 | 17
17982 | Washington County, Kansas | 17 | 17
17983 | Wichita County, Kansas | 17 | 17
17984 | Wilson County, Kansas | 17 | 17
17985 | Woodson County, Kansas | 17 | 17
17986 | Wyandotte County, Kansas | 3760 | 28140
18000 | Adair County, Kentucky | 18 | 18
18010 | Allen County, Kentucky | 18 | 18
18020 | Anderson County, Kentucky | 18 | 18
18030 | Ballard County, Kentucky | 18 | 18
18040 | Barren County, Kentucky | 18 | 18
18050 | Bath County, Kentucky | 18 | 18
18060 | Bell County, Kentucky | 18 | 18
18070 | Boone County, Kentucky | 1640 | 17140
18080 | Bourbon County, Kentucky | 4280 | 30460
18090 | Boyd County, Kentucky | 3400 | 26580
18100 | Boyle County, Kentucky | 18 | 18
18110 | Bracken County, Kentucky | 18 | 17140
18120 | Breathitt County, Kentucky | 18 | 18
18130 | Breckinridge County, Kentucky | 18 | 18
18140 | Bullitt County, Kentucky | 4520 | 31140
18150 | Butler County, Kentucky | 18 | 18
18160 | Caldwell County, Kentucky | 18 | 18
18170 | Calloway County, Kentucky | 18 | 18
18180 | Campbell County, Kentucky | 1640 | 17140
18190 | Carlisle County, Kentucky | 18 | 18
18191 | Carroll County, Kentucky | 18 | 18
18210 | Carter County, Kentucky | 3400 | 18
18220 | Casey County, Kentucky | 18 | 18
18230 | Christian County, Kentucky | 1660 | 17300
18240 | Clark County, Kentucky | 4280 | 30460
18250 | Clay County, Kentucky | 18 | 18
18260 | Clinton County, Kentucky | 18 | 18
18270 | Crittenden County, Kentucky | 18 | 18
18271 | Cumberland County, Kentucky | 18 | 18
18290 | Daviess County, Kentucky | 5990 | 36980
18291 | Edmonson County, Kentucky | 18 | 14540
18310 | Elliott County, Kentucky | 18 | 18
18320 | Estill County, Kentucky | 18 | 18
18330 | Fayette County, Kentucky | 4280 | 30460
18340 | Fleming County, Kentucky | 18 | 18
18350 | Floyd County, Kentucky | 18 | 18
18360 | Franklin County, Kentucky | 18 | 18
18361 | Fulton County, Kentucky | 18 | 18
18362 | Gallatin County, Kentucky | 18 | 17140
18390 | Garrard County, Kentucky | 18 | 18
18400 | Grant County, Kentucky | 18 | 17140
18410 | Graves County, Kentucky | 18 | 18
18420 | Grayson County, Kentucky | 18 | 18
18421 | Green County, Kentucky | 18 | 18
18440 | Greenup County, Kentucky | 3400 | 26580
18450 | Hancock County, Kentucky | 18 | 36980
18460 | Hardin County, Kentucky | 18 | 21060
18470 | Harlan County, Kentucky | 18 | 18
18480 | Harrison County, Kentucky | 18 | 18
18490 | Hart County, Kentucky | 18 | 18
18500 | Henderson County, Kentucky | 2440 | 21780
18510 | Henry County, Kentucky | 18 | 31140
18511 | Hickman County, Kentucky | 18 | 18
18530 | Hopkins County, Kentucky | 18 | 18
18540 | Jackson County, Kentucky | 18 | 18
18550 | Jefferson County, Kentucky | 4520 | 31140
18560 | Jessamine County, Kentucky | 4280 | 30460
18570 | Johnson County, Kentucky | 18 | 18
18580 | Kenton County, Kentucky | 1640 | 17140
18590 | Knott County, Kentucky | 18 | 18
18600 | Knox County, Kentucky | 18 | 18
18610 | Larue County, Kentucky | 18 | 21060
18620 | Laurel County, Kentucky | 18 | 18
18630 | Lawrence County, Kentucky | 18 | 18
18640 | Lee County, Kentucky | 18 | 18
18650 | Leslie County, Kentucky | 18 | 18
18660 | Letcher County, Kentucky | 18 | 18
18670 | Lewis County, Kentucky | 18 | 18
18680 | Lincoln County, Kentucky | 18 | 18
18690 | Livingston County, Kentucky | 18 | 18
18700 | Logan County, Kentucky | 18 | 18
18710 | Lyon County, Kentucky | 18 | 18
18720 | Mc Cracken County, Kentucky | 18 | 18
18730 | Mc Creary County, Kentucky | 18 | 18
18740 | Mc Lean County, Kentucky | 18 | 18
18750 | Madison County, Kentucky | 18 | 18
18760 | Magoffin County, Kentucky | 18 | 18
18770 | Marion County, Kentucky | 18 | 18
18780 | Marshall County, Kentucky | 18 | 18
18790 | Martin County, Kentucky | 18 | 18
18800 | Mason County, Kentucky | 18 | 18
18801 | Meade County, Kentucky | 18 | 31140
18802 | Menifee County, Kentucky | 18 | 18
18830 | Mercer County, Kentucky | 18 | 18
18831 | Metcalfe County, Kentucky | 18 | 18
18850 | Monroe County, Kentucky | 18 | 18
18860 | Montgomery County, Kentucky | 18 | 18
18861 | Morgan County, Kentucky | 18 | 18
18880 | Muhlenberg County, Kentucky | 18 | 18
18890 | Nelson County, Kentucky | 18 | 31140
18900 | Nicholas County, Kentucky | 18 | 18
18910 | Ohio County, Kentucky | 18 | 18
18920 | Oldham County, Kentucky | 4520 | 31140
18930 | Owen County, Kentucky | 18 | 18
18931 | Owsley County, Kentucky | 18 | 18
18932 | Pendleton County, Kentucky | 18 | 17140
18960 | Perry County, Kentucky | 18 | 18
18970 | Pike County, Kentucky | 18 | 18
18971 | Powell County, Kentucky | 18 | 18
18972 | Pulaski County, Kentucky | 18 | 18
18973 | Robertson County, Kentucky | 18 | 18
18974 | Rockcastle County, Kentucky | 18 | 18
18975 | Rowan County, Kentucky | 18 | 18
18976 | Russell County, Kentucky | 18 | 18
18977 | Scott County, Kentucky | 4280 | 30460
18978 | Shelby County, Kentucky | 4520 | 31140
18979 | Simpson County, Kentucky | 18 | 18
18980 | Spencer County, Kentucky | 18 | 31140
18981 | Taylor County, Kentucky | 18 | 18
18982 | Todd County, Kentucky | 18 | 18
18983 | Trigg County, Kentucky | 18 | 17300
18984 | Trimble County, Kentucky | 18 | 31140
18985 | Union County, Kentucky | 18 | 18
18986 | Warren County, Kentucky | 18 | 14540
18987 | Washington County, Kentucky | 18 | 18
18988 | Wayne County, Kentucky | 18 | 18
18989 | Webster County, Kentucky | 18 | 21780
18990 | Whitley County, Kentucky | 18 | 18
18991 | Wolfe County, Kentucky | 18 | 18
18992 | Woodford County, Kentucky | 4280 | 30460
19000 | Acadia County, Louisiana | 19 | 19
19010 | Allen County, Louisiana | 19 | 19
19020 | Ascension County, Louisiana | 0760 | 12940
19030 | Assumption County, Louisiana | 19 | 19
19040 | Avoyelles County, Louisiana | 19 | 19
19050 | Beauregard County, Louisiana | 19 | 19
19060 | Bienville County, Louisiana | 19 | 19
19070 | Bossier County, Louisiana | 7680 | 43340
19080 | Caddo County, Louisiana | 7680 | 43340
19090 | Calcasieu County, Louisiana | 3960 | 29340
19100 | Caldwell County, Louisiana | 19 | 19
19110 | Cameron County, Louisiana | 19 | 29340
19120 | Catahoula County, Louisiana | 19 | 19
19130 | Claiborne County, Louisiana | 19 | 19
19140 | Concordia County, Louisiana | 19 | 19
19150 | De Soto County, Louisiana | 19 | 43340
19160 | East Baton Rouge County, Louisiana | 0760 | 12940
19170 | East Carroll County, Louisiana | 19 | 19
19180 | East Feliciana County, Louisiana | 19 | 12940
19190 | Evangeline County, Louisiana | 19 | 19
19200 | Franklin County, Louisiana | 19 | 19
19210 | Grant County, Louisiana | 19 | 10780
19220 | Iberia County, Louisiana | 19 | 19
19230 | Iberville County, Louisiana | 19 | 12940
19240 | Jackson County, Louisiana | 19 | 19
19250 | Jefferson County, Louisiana | 5560 | 35380
19260 | Jefferson Davis County, Louisiana | 19 | 19
19270 | Lafayette County, Louisiana | 3880 | 29180
19280 | Lafourche County, Louisiana | 3350 | 26380
19290 | La Salle County, Louisiana | 19 | 19
19300 | Lincoln County, Louisiana | 19 | 19
19310 | Livingston County, Louisiana | 0760 | 12940
19320 | Madison County, Louisiana | 19 | 19
19330 | Morehouse County, Louisiana | 19 | 19
19340 | Natchitoches County, Louisiana | 19 | 19
19350 | Orleans County, Louisiana | 5560 | 35380
19360 | Ouachita County, Louisiana | 5200 | 33740
19370 | Plaquemines County, Louisiana | 19 | 35380
19380 | Pointe Coupee County, Louisiana | 19 | 12940
19390 | Rapides County, Louisiana | 0220 | 10780
19400 | Red River County, Louisiana | 19 | 19
19410 | Richland County, Louisiana | 19 | 19
19420 | Sabine County, Louisiana | 19 | 19
19430 | St Bernard County, Louisiana | 5560 | 35380
19440 | St Charles County, Louisiana | 5560 | 35380
19450 | St Helena County, Louisiana | 19 | 12940
19460 | St James County, Louisiana | 19 | 19
19470 | St John Baptist County, Louisiana | 5560 | 35380
19480 | St Landry County, Louisiana | .19 | 19
19490 | St Martin County, Louisiana | 3880 | 29180
19500 | St Mary County, Louisiana | 19 | 19
19510 | St Tammany County, Louisiana | 5560 | 35380
19520 | Tangipahoa County, Louisiana | 19 | 19
19530 | Tensas County, Louisiana | 19 | 19
19540 | Terrebonne County, Louisiana | 3350 | 26380
19550 | Union County, Louisiana | 19 | 33740
19560 | Vermilion County, Louisiana | 19 | 19
19570 | Vernon County, Louisiana | 19 | 19
19580 | Washington County, Louisiana | 19 | 19
19590 | Webster County, Louisiana | 19 | 19
19600 | West Baton Rouge County, Louisiana | 0760 | 12940
19610 | West Carroll County, Louisiana | 19 | 19
19620 | West Feliciana County, Louisiana | 19 | 12940
19630 | Winn County, Louisiana | 19 | 19
20000 | Androscoggin County, Maine | 4243 | 30340
20010 | Aroostook County, Maine | 20 | 20
20020 | Cumberland County, Maine | 6403 | 38860
20030 | Franklin County, Maine | 20 | 20
20040 | Hancock County, Maine | 20 | 20
20050 | Kennebec County, Maine | 20 | 20
20060 | Knox County, Maine | 20 | 20
20070 | Lincoln County, Maine | 20 | 20
20080 | Oxford County, Maine | 20 | 20
20090 | Penobscot County, Maine | 0733 | 12620
20100 | Piscataquis County, Maine | 20 | 20
20110 | Sagadahoc County, Maine | 6403 | 38860
20120 | Somerset County, Maine | 20 | 20
20130 | Waldo County, Maine | 20 | 20
20140 | Washington County, Maine | 20 | 20
20150 | York County, Maine | 6403 | 38860
21000 | Allegany County, Maryland | 1900 | 19060
21010 | Anne Arundel County, Maryland | 0720 | 12580
21020 | Baltimore County, Maryland | 0720 | 12580
21030 | Baltimore City County, Maryland | 0720 | 12580
21040 | Calvert County, Maryland | 8840 | 47894
21050 | Caroline County, Maryland | 21 | 21
21060 | Carroll County, Maryland | 0720 | 12580
21070 | Cecil County, Maryland | 9160 | 48864
21080 | Charles County, Maryland | 8840 | 47894
21090 | Dorchester County, Maryland | 21 | 21
21100 | Frederick County, Maryland | 8840 | 13644
21110 | Garrett County, Maryland | 21 | 21
21120 | Harford County, Maryland | 0720 | 12580
21130 | Howard County, Maryland | 0720 | 12580
21140 | Kent County, Maryland | 21 | 21
21150 | Montgomery County, Maryland | 8840 | 13644
21160 | Prince Georges County, Maryland | 8840 | 47894
21170 | Queen Annes County, Maryland | 0720 | 12580
21180 | St Marys County, Maryland | 21 | 21
21190 | Somerset County, Maryland | 21 | 41540
21200 | Talbot County, Maryland | 21 | 21
21210 | Washington County, Maryland | 3180 | 25180
21220 | Wicomico County, Maryland | 21 | 41540
21230 | Worcester County, Maryland | 21 | 21
22000 | Barnstable County, Massachusetts | 0743 | 12700
22010 | Berkshire County, Massachusetts | 6323 | 38340
22020 | Bristol County, Massachusetts | 5403 | 39300
22030 | Dukes County, Massachusetts | 22 | 22
22040 | Essex County, Massachusetts | 1123 | 21604
22060 | Franklin County, Massachusetts | 22 | 44140
22070 | Hampden County, Massachusetts | 8003 | 44140
22080 | Hampshire County, Massachusetts | 8003 | 44140
22090 | Middlesex County, Massachusetts | 1123 | 15764
22120 | Nantucket County, Massachusetts | 22 | 22
22130 | Norfolk County, Massachusetts | 1123 | 14484
22150 | Plymouth County, Massachusetts | 1123 | 14484
22160 | Suffolk County, Massachusetts | 1123 | 14484
22170 | Worcester County, Massachusetts | 9243 | 49340
23000 | Alcona County, Michigan | 23 | 23
23010 | Alger County, Michigan | 23 | 23
23020 | Allegan County, Michigan | 23 | 23
23030 | Alpena County, Michigan | 23 | 23
23040 | Antrim County, Michigan | 23 | 23
23050 | Arenac County, Michigan | 23 | 23
23060 | Baraga County, Michigan | 23 | 23
23070 | Barry County, Michigan | 23 | 24340
23080 | Bay County, Michigan | 6960 | 13020
23090 | Benzie County, Michigan | 23 | 23
23100 | Berrien County, Michigan | 0870 | 35660
23110 | Branch County, Michigan | 23 | 23
23120 | Calhoun County, Michigan | 0780 | 12980
23130 | Cass County, Michigan | 23 | 43780
23140 | Charlevoix County, Michigan | 23 | 23
23150 | Cheboygan County, Michigan | 23 | 23
23160 | Chippewa County, Michigan | 23 | 23
23170 | Clare County, Michigan | 23 | 23
23180 | Clinton County, Michigan | 4040 | 29620
23190 | Crawford County, Michigan | 23 | 23
23200 | Delta County, Michigan | 23 | 23
23210 | Dickinson County, Michigan | 23 | 23
23220 | Eaton County, Michigan | 4040 | 29620
23230 | Emmet County, Michigan | 23 | 23
23240 | Genesee County, Michigan | 2640 | 22420
23250 | Gladwin County, Michigan | 23 | 23
23260 | Gogebic County, Michigan | 23 | 23
23270 | Grand Traverse County, Michigan | 23 | 23
23280 | Gratiot County, Michigan | 23 | 23
23290 | Hillsdale County, Michigan | 23 | 23
23300 | Houghton County, Michigan | 23 | 23
23310 | Huron County, Michigan | 23 | 23
23320 | Ingham County, Michigan | 4040 | 29620
23330 | Ionia County, Michigan | 23 | 24340
23340 | Iosco County, Michigan | 23 | 23
23350 | Iron County, Michigan | 23 | 23
23360 | Isabella County, Michigan | 23 | 23
23370 | Jackson County, Michigan | 3520 | 27100
23380 | Kalamazoo County, Michigan | 3720 | 28020
23390 | Kalkaska County, Michigan | 23 | 23
23400 | Kent County, Michigan | 3000 | 24340
23410 | Keweenaw County, Michigan | 23 | 23
23420 | Lake County, Michigan | 23 | 23
23430 | Lapeer County, Michigan | 2160 | 47644
23440 | Leelanau County, Michigan | 23 | 23
23450 | Lenawee County, Michigan | 23 | 23
23460 | Livingston County, Michigan | 2160 | 47644
23470 | Luce County, Michigan | 23 | 23
23480 | Mackinac County, Michigan | 23 | 23
23490 | Macomb County, Michigan | 2160 | 47644
23500 | Manistee County, Michigan | 23 | 23
23510 | Marquette County, Michigan | 23 | 23
23520 | Mason County, Michigan | 23 | 23
23530 | Mecosta County, Michigan | 23 | 23
23540 | Menominee County, Michigan | 23 | 23
23550 | Midland County, Michigan | 6960 | 23
23560 | Missaukee County, Michigan | 23 | 23
23570 | Monroe County, Michigan | 2160 | 33780
23580 | Montcalm County, Michigan | 23 | 23
23590 | Montmorency County, Michigan | 23 | 23
23600 | Muskegon County, Michigan | 5320 | 34740
23610 | Newaygo County, Michigan | 23 | 24340
23620 | Oakland County, Michigan | 2160 | 47644
23630 | Oceana County, Michigan | 23 | 23
23640 | Ogemaw County, Michigan | 23 | 23
23650 | Ontonagon County, Michigan | 23 | 23
23660 | Osceola County, Michigan | 23 | 23
23670 | Oscoda County, Michigan | 23 | 23
23680 | Otsego County, Michigan | 23 | 23
23690 | Ottawa County, Michigan | 3000 | 26100
23700 | Presque Isle County, Michigan | 23 | 23
23710 | Roscommon County, Michigan | 23 | 23
23720 | Saginaw County, Michigan | 6960 | 40980
23730 | St Clair County, Michigan | 2160 | 47644
23740 | St Joseph County, Michigan | 23 | 23
23750 | Sanilac County, Michigan | 23 | 23
23760 | Schoolcraft County, Michigan | 23 | 23
23770 | Shiawassee County, Michigan | 23 | 23
23780 | Tuscola County, Michigan | 23 | 23
23790 | Van Buren County, Michigan | 23 | 28020
23800 | Washtenaw County, Michigan | 0440 | 11460
23810 | Wayne County, Michigan | 2160 | 19804
23830 | Wexford County, Michigan | 23 | 23
24000 | Aitkin County, Minnesota | 24 | 24
24010 | Anoka County, Minnesota | 5120 | 33460
24020 | Becker County, Minnesota | 24 | 24
24030 | Beltrami County, Minnesota | 24 | 24
24040 | Benton County, Minnesota | 6980 | 41060
24050 | Big Stone County, Minnesota | 24 | 24
24060 | Blue Earth County, Minnesota | 24 | 24
24070 | Brown County, Minnesota | 24 | 24
24080 | Carlton County, Minnesota | 24 | 20260
24090 | Carver County, Minnesota | 5120 | 33460
24100 | Cass County, Minnesota | 24 | 24
24110 | Chippewa County, Minnesota | 24 | 24
24120 | Chisago County, Minnesota | 5120 | 33460
24130 | Clay County, Minnesota | 2520 | 22020
24140 | Clearwater County, Minnesota | 24 | 24
24150 | Cook County, Minnesota | 24 | 24
24160 | Cottonwood County, Minnesota | 24 | 24
24170 | Crow Wing County, Minnesota | 24 | 24
24180 | Dakota County, Minnesota | 5120 | 33460
24190 | Dodge County, Minnesota | 24 | 40340
24200 | Douglas County, Minnesota | 24 | 24
24210 | Faribault County, Minnesota | 24 | 24
24220 | Fillmore County, Minnesota | 24 | 24
24230 | Freeborn County, Minnesota | 24 | 24
24240 | Goodhue County, Minnesota | 24 | 24
24250 | Grant County, Minnesota | 24 | 24
24260 | Hennepin County, Minnesota | 5120 | 33460
24270 | Houston County, Minnesota | 24 | 29100
24280 | Hubbard County, Minnesota | 24 | 24
24290 | Isanti County, Minnesota | 5120 | 33460
24300 | Itasca County, Minnesota | 24 | 24
24310 | Jackson County, Minnesota | 24 | 24
24320 | Kanabec County, Minnesota | 24 | 24
24330 | Kandiyohi County, Minnesota | 24 | 24
24340 | Kittson County, Minnesota | 24 | 24
24350 | Koochiching County, Minnesota | 24 | 24
24360 | Lac Qui Parle County, Minnesota | 24 | 24
24370 | Lake County, Minnesota | 24 | 24
24380 | Lake Of Woods County, Minnesota | 24 | 24
24390 | Le Sueur County, Minnesota | 24 | 24
24400 | Lincoln County, Minnesota | 24 | 24
24410 | Lyon County, Minnesota | 24 | 24
24420 | Mc Leod County, Minnesota | 24 | 24
24430 | Mahnomen County, Minnesota | 24 | 24
24440 | Marshall County, Minnesota | 24 | 24
24450 | Martin County, Minnesota | 24 | 24
24460 | Meeker County, Minnesota | 24 | 24
24470 | Mille Lacs County, Minnesota | 24 | 24
24480 | Morrison County, Minnesota | 24 | 24
24490 | Mower County, Minnesota | 24 | 24
24500 | Murray County, Minnesota | 24 | 24
24510 | Nicollet County, Minnesota | 24 | 24
24520 | Nobles County, Minnesota | 24 | 24
24530 | Norman County, Minnesota | 24 | 24
24540 | Olmsted County, Minnesota | 6820 | 40340
24550 | Otter Tail County, Minnesota | 24 | 24
24560 | Pennington County, Minnesota | 24 | 24
24570 | Pine County, Minnesota | 24 | 24
24580 | Pipestone County, Minnesota | 24 | 24
24590 | Polk County, Minnesota | 24 | 24220
24600 | Pope County, Minnesota | 24 | 24
24610 | Ramsey County, Minnesota | 5120 | 33460
24620 | Red Lake County, Minnesota | 24 | 24
24630 | Redwood County, Minnesota | 24 | 24
24640 | Renville County, Minnesota | 24 | 24
24650 | Rice County, Minnesota | 24 | 24
24660 | Rock County, Minnesota | 24 | 24
24670 | Roseau County, Minnesota | 24 | 24
24680 | St Louis County, Minnesota | 2240 | 20260
24690 | Scott County, Minnesota | 5120 | 33460
24700 | Sherburne County, Minnesota | 6980 | 33460
24710 | Sibley County, Minnesota | 24 | 24
24720 | Stearns County, Minnesota | 6980 | 41060
24730 | Steele County, Minnesota | 24 | 24
24740 | Stevens County, Minnesota | 24 | 24
24750 | Swift County, Minnesota | 24 | 24
24760 | Todd County, Minnesota | 24 | 24
24770 | Traverse County, Minnesota | 24 | 24
24780 | Wabasha County, Minnesota | 24 | 40340
24790 | Wadena County, Minnesota | 24 | 24
24800 | Waseca County, Minnesota | 24 | 24
24810 | Washington County, Minnesota | 5120 | 33460
24820 | Watonwan County, Minnesota | 24 | 24
24830 | Wilkin County, Minnesota | 24 | 24
24840 | Winona County, Minnesota | 24 | 24
24850 | Wright County, Minnesota | 5120 | 33460
24860 | Yellow Medicine County, Minnesota | 24 | 24
25000 | Adams County, Mississippi | 25 | 25
25010 | Alcorn County, Mississippi | 25 | 25
25020 | Amite County, Mississippi | 25 | 25
25030 | Attala County, Mississippi | 25 | 25
25040 | Benton County, Mississippi | 25 | 25
25050 | Bolivar County, Mississippi | 25 | 25
25060 | Calhoun County, Mississippi | 25 | 25
25070 | Carroll County, Mississippi | 25 | 25
25080 | Chickasaw County, Mississippi | 25 | 25
25090 | Choctaw County, Mississippi | 25 | 25
25100 | Claiborne County, Mississippi | 25 | 25
25110 | Clarke County, Mississippi | 25 | 25
25120 | Clay County, Mississippi | 25 | 25
25130 | Coahoma County, Mississippi | 25 | 25
25140 | Copiah County, Mississippi | 25 | 27140
25150 | Covington County, Mississippi | 25 | 25
25160 | Desoto County, Mississippi | 4920 | 32820
25170 | Forrest County, Mississippi | 25 | 25620
25180 | Franklin County, Mississippi | 25 | 25
25190 | George County, Mississippi | 25 | 37700
25200 | Greene County, Mississippi | 25 | 25
25210 | Grenada County, Mississippi | 25 | 25
25220 | Hancock County, Mississippi | 0920 | 25060
25230 | Harrison County, Mississippi | 0920 | 25060
25240 | Hinds County, Mississippi | 3560 | 27140
25250 | Holmes County, Mississippi | 25 | 25
25260 | Humphreys County, Mississippi | 25 | 25
25270 | Issaquena County, Mississippi | 25 | 25
25280 | Itawamba County, Mississippi | 25 | 25
25290 | Jackson County, Mississippi | 6025 | 37700
25300 | Jasper County, Mississippi | 25 | 25
25310 | Jefferson County, Mississippi | 25 | 25
25320 | Jefferson Davis County, Mississippi | 25 | 25
25330 | Jones County, Mississippi | 25 | 25
25340 | Kemper County, Mississippi | 25 | 25
25350 | Lafayette County, Mississippi | 25 | 25
25360 | Lamar County, Mississippi | 25 | 25620
25370 | Lauderdale County, Mississippi | 25 | 25
25380 | Lawrence County, Mississippi | 25 | 25
25390 | Leake County, Mississippi | 25 | 25
25400 | Lee County, Mississippi | 25 | 25
25410 | Leflore County, Mississippi | 25 | 25
25420 | Lincoln County, Mississippi | 25 | 25
25430 | Lowndes County, Mississippi | 25 | 25
25440 | Madison County, Mississippi | 3560 | 27140
25450 | Marion County, Mississippi | 25 | 25
25460 | Marshall County, Mississippi | 25 | 32820
25470 | Monroe County, Mississippi | 25 | 25
25480 | Montgomery County, Mississippi | 25 | 25
25490 | Neshoba County, Mississippi | 25 | 25
25500 | Newton County, Mississippi | 25 | 25
25510 | Noxubee County, Mississippi | 25 | 25
25520 | Oktibbeha County, Mississippi | 25 | 25
25530 | Panola County, Mississippi | 25 | 25
25540 | Pearl River County, Mississippi | 25 | 25
25550 | Perry County, Mississippi | 25 | 25620
25560 | Pike County, Mississippi | 25 | 25
25570 | Pontotoc County, Mississippi | 25 | 25
25580 | Prentiss County, Mississippi | 25 | 25
25590 | Quitman County, Mississippi | 25 | 25
25600 | Rankin County, Mississippi | 3560 | 27140
25610 | Scott County, Mississippi | 25 | 25
25620 | Sharkey County, Mississippi | 25 | 25
25630 | Simpson County, Mississippi | 25 | 27140
25640 | Smith County, Mississippi | 25 | 25
25650 | Stone County, Mississippi | 25 | 25060
25660 | Sunflower County, Mississippi | 25 | 25
25670 | Tallahatchie County, Mississippi | 25 | 25
25680 | Tate County, Mississippi | 25 | 32820
25690 | Tippah County, Mississippi | 25 | 25
25700 | Tishomingo County, Mississippi | 25 | 25
25710 | Tunica County, Mississippi | 25 | 32820
25720 | Union County, Mississippi | 25 | 25
25730 | Walthall County, Mississippi | 25 | 25
25740 | Warren County, Mississippi | 25 | 25
25750 | Washington County, Mississippi | 25 | 25
25760 | Wayne County, Mississippi | 25 | 25
25770 | Webster County, Mississippi | 25 | 25
25780 | Wilkinson County, Mississippi | 25 | 25
25790 | Winston County, Mississippi | 25 | 25
25800 | Yalobusha County, Mississippi | 25 | 25
25810 | Yazoo County, Mississippi | 25 | 25
26000 | Adair County, Missouri | 26 | 26
26010 | Andrew County, Missouri | 26 | 41140
26020 | Atchison County, Missouri | 26 | 26
26030 | Audrain County, Missouri | 26 | 26
26040 | Barry County, Missouri | 26 | 26
26050 | Barton County, Missouri | 26 | 26
26060 | Bates County, Missouri | 26 | 28140
26070 | Benton County, Missouri | 26 | 26
26080 | Bollinger County, Missouri | 26 | 26
26090 | Boone County, Missouri | 1740 | 17860
26100 | Buchanan County, Missouri | 7000 | 41140
26110 | Butler County, Missouri | 26 | 26
26120 | Caldwell County, Missouri | 26 | 28140
26130 | Callaway County, Missouri | 26 | 27620
26140 | Camden County, Missouri | 26 | 26
26150 | Cape Girardeau County, Missouri | 26 | 26
26160 | Carroll County, Missouri | 26 | 26
26170 | Carter County, Missouri | 26 | 26
26180 | Cass County, Missouri | 3760 | 28140
26190 | Cedar County, Missouri | 26 | 26
26200 | Chariton County, Missouri | 26 | 26
26210 | Christian County, Missouri | 7920 | 44180
26220 | Clark County, Missouri | 26 | 26
26230 | Clay County, Missouri | 3760 | 28140
26240 | Clinton County, Missouri | 26 | 28140
26250 | Cole County, Missouri | 26 | 27620
26260 | Cooper County, Missouri | 26 | 26
26270 | Crawford County, Missouri | 26 | 41180
26280 | Dade County, Missouri | 26 | 26
26290 | Dallas County, Missouri | 26 | 44180
26300 | Daviess County, Missouri | 26 | 26
26310 | De Kalb County, Missouri | 26 | 41140
26320 | Dent County, Missouri | 26 | 26
26330 | Douglas County, Missouri | 26 | 26
26340 | Dunklin County, Missouri | 26 | 26
26350 | Franklin County, Missouri | 7040 | 41180
26360 | Gasconade County, Missouri | 26 | 26
26370 | Gentry County, Missouri | 26 | 26
26380 | Greene County, Missouri | 7920 | 44180
26390 | Grundy County, Missouri | 26 | 26
26400 | Harrison County, Missouri | 26 | 26
26410 | Henry County, Missouri | 26 | 26
26411 | Hickory County, Missouri | 26 | 26
26412 | Holt County, Missouri | 26 | 26
26440 | Howard County, Missouri | 26 | 17860
26450 | Howell County, Missouri | 26 | 26
26460 | Iron County, Missouri | 26 | 26
26470 | Jackson County, Missouri | 3760 | 28140
26480 | Jasper County, Missouri | 3710 | 27900
26490 | Jefferson County, Missouri | 7040 | 41180
26500 | Johnson County, Missouri | 26 | 26
26510 | Knox County, Missouri | 26 | 26
26520 | Laclede County, Missouri | 26 | 26
26530 | Lafayette County, Missouri | 3760 | 28140
26540 | Lawrence County, Missouri | 26 | 26
26541 | Lewis County, Missouri | 26 | 26
26560 | Lincoln County, Missouri | 26 | 41180
26570 | Linn County, Missouri | 26 | 26
26580 | Livingston County, Missouri | 26 | 26
26590 | Mc Donald County, Missouri | 26 | 22220
26600 | Macon County, Missouri | 26 | 26
26601 | Madison County, Missouri | 26 | 26
26620 | Maries County, Missouri | 26 | 26
26630 | Marion County, Missouri | 26 | 26
26631 | Mercer County, Missouri | 26 | 26
26650 | Miller County, Missouri | 26 | 26
26660 | Mississippi County, Missouri | 26 | 26
26670 | Moniteau County, Missouri | 26 | 27620
26680 | Monroe County, Missouri | 26 | 26
26690 | Montgomery County, Missouri | 26 | 26
26700 | Morgan County, Missouri | 26 | 26
26710 | New Madrid County, Missouri | 26 | 26
26720 | Newton County, Missouri | 3710 | 27900
26730 | Nodaway County, Missouri | 26 | 26
26740 | Oregon County, Missouri | 26 | 26
26750 | Osage County, Missouri | 26 | 27620
26751 | Ozark County, Missouri | 26 | 26
26770 | Pemiscot County, Missouri | 26 | 26
26780 | Perry County, Missouri | 26 | 26
26790 | Pettis County, Missouri | 26 | 26
26800 | Phelps County, Missouri | 26 | 26
26810 | Pike County, Missouri | 26 | 26
26820 | Platte County, Missouri | 3760 | 28140
26821 | Polk County, Missouri | 26 | 44180
26840 | Pulaski County, Missouri | 26 | 26
26850 | Putnam County, Missouri | 26 | 26
26860 | Ralls County, Missouri | 26 | 26
26870 | Randolph County, Missouri | 26 | 26
26880 | Ray County, Missouri | 3760 | 28140
26881 | Reynolds County, Missouri | 26 | 26
26900 | Ripley County, Missouri | 26 | 26
26910 | St Charles County, Missouri | 7040 | 41180
26911 | St Clair County, Missouri | 26 | 26
26930 | St Francois County, Missouri | 26 | 26
26940 | St Louis County, Missouri | 7040 | 41180
26950 | St Louis City County, Missouri | 7040 | 41180
26960 | Ste Genevieve County, Missouri | 26 | 26
26970 | Saline County, Missouri | 26 | 26
26980 | Schuyler County, Missouri | 26 | 26
26981 | Scotland County, Missouri | 26 | 26
26982 | Scott County, Missouri | 26 | 26
26983 | Shannon County, Missouri | 26 | 26
26984 | Shelby County, Missouri | 26 | 26
26985 | Stoddard County, Missouri | 26 | 26
26986 | Stone County, Missouri | 26 | 26
26987 | Sullivan County, Missouri | 26 | 26
26988 | Taney County, Missouri | 26 | 26
26989 | Texas County, Missouri | 26 | 26
26990 | Vernon County, Missouri | 26 | 26
26991 | Warren County, Missouri | 26 | 41180
26992 | Washington County, Missouri | 26 | 41180
26993 | Wayne County, Missouri | 26 | 26
26994 | Webster County, Missouri | 26 | 44180
26995 | Worth County, Missouri | 26 | 26
26996 | Wright County, Missouri | 26 | 26
27000 | Beaverhead County, Montana | 27 | 27
27010 | Big Horn County, Montana | 27 | 27
27020 | Blaine County, Montana | 27 | 27
27030 | Broadwater County, Montana | 27 | 27
27040 | Carbon County, Montana | 27 | 13740
27050 | Carter County, Montana | 27 | 27
27060 | Cascade County, Montana | 3040 | 24500
27070 | Chouteau County, Montana | 27 | 27
27080 | Custer County, Montana | 27 | 27
27090 | Daniels County, Montana | 27 | 27
27100 | Dawson County, Montana | 27 | 27
27110 | Deer Lodge County, Montana | 27 | 27
27113 | Yellowstone National Park, Montana | 0880 | 27
27120 | Fallon County, Montana | 27 | 27
27130 | Fergus County, Montana | 27 | 27
27140 | Flathead County, Montana | 27 | 27
27150 | Gallatin County, Montana | 27 | 27
27160 | Garfield County, Montana | 27 | 27
27170 | Glacier County, Montana | 27 | 27
27180 | Golden Valley County, Montana | 27 | 27
27190 | Granite County, Montana | 27 | 27
27200 | Hill County, Montana | 27 | 27
27210 | Jefferson County, Montana | 27 | 27
27220 | Judith Basin County, Montana | 27 | 27
27230 | Lake County, Montana | 27 | 27
27240 | Lewis And Clark County, Montana | 27 | 27
27250 | Liberty County, Montana | 27 | 27
27260 | Lincoln County, Montana | 27 | 27
27270 | Mc Cone County, Montana | 27 | 27
27280 | Madison County, Montana | 27 | 27
27290 | Meagher County, Montana | 27 | 27
27300 | Mineral County, Montana | 27 | 27
27310 | Missoula County, Montana | 27 | 33540
27320 | Musselshell County, Montana | 27 | 27
27330 | Park County, Montana | 27 | 27
27340 | Petroleum County, Montana | 27 | 27
27350 | Phillips County, Montana | 27 | 27
27360 | Pondera County, Montana | 27 | 27
27370 | Powder River County, Montana | 27 | 27
27380 | Powell County, Montana | 27 | 27
27390 | Prairie County, Montana | 27 | 27
27400 | Ravalli County, Montana | 27 | 27
27410 | Richland County, Montana | 27 | 27
27420 | Roosevelt County, Montana | 27 | 27
27430 | Rosebud County, Montana | 27 | 27
27440 | Sanders County, Montana | 27 | 27
27450 | Sheridan County, Montana | 27 | 27
27460 | Silver Bow County, Montana | 27 | 27
27470 | Stillwater County, Montana | 27 | 27
27480 | Sweet Grass County, Montana | 27 | 27
27490 | Teton County, Montana | 27 | 27
27500 | Toole County, Montana | 27 | 27
27510 | Treasure County, Montana | 27 | 27
27520 | Valley County, Montana | 27 | 27
27530 | Wheatland County, Montana | 27 | 27
27540 | Wibaux County, Montana | 27 | 27
27550 | Yellowstone County, Montana | 0880 | 13740
28000 | Adams County, Nebraska | 28 | 28
28010 | Antelope County, Nebraska | 28 | 28
28020 | Arthur County, Nebraska | 28 | 28
28030 | Banner County, Nebraska | 28 | 28
28040 | Blaine County, Nebraska | 28 | 28
28050 | Boone County, Nebraska | 28 | 28
28060 | Box Butte County, Nebraska | 28 | 28
28070 | Boyd County, Nebraska | 28 | 28
28080 | Brown County, Nebraska | 28 | 28
28090 | Buffalo County, Nebraska | 28 | 28
28100 | Burt County, Nebraska | 28 | 28
28110 | Butler County, Nebraska | 28 | 28
28120 | Cass County, Nebraska | 28 | 36540
28130 | Cedar County, Nebraska | 28 | 28
28140 | Chase County, Nebraska | 28 | 28
28150 | Cherry County, Nebraska | 28 | 28
28160 | Cheyenne County, Nebraska | 28 | 28
28170 | Clay County, Nebraska | 28 | 28
28180 | Colfax County, Nebraska | 28 | 28
28190 | Cuming County, Nebraska | 28 | 28
28200 | Custer County, Nebraska | 28 | 28
28210 | Dakota County, Nebraska | 7720 | 43580
28220 | Dawes County, Nebraska | 28 | 28
28230 | Dawson County, Nebraska | 28 | 28
28240 | Deuel County, Nebraska | 28 | 28
28250 | Dixon County, Nebraska | 28 | 43580
28260 | Dodge County, Nebraska | 28 | 28
28270 | Douglas County, Nebraska | 5920 | 36540
28280 | Dundy County, Nebraska | 28 | 28
28290 | Fillmore County, Nebraska | 28 | 28
28300 | Franklin County, Nebraska | 28 | 28
28310 | Frontier County, Nebraska | 28 | 28
28320 | Furnas County, Nebraska | 28 | 28
28330 | Gage County, Nebraska | 28 | 28
28340 | Garden County, Nebraska | 28 | 28
28350 | Garfield County, Nebraska | 28 | 28
28360 | Gosper County, Nebraska | 28 | 28
28370 | Grant County, Nebraska | 28 | 28
28380 | Greeley County, Nebraska | 28 | 28
28390 | Hall County, Nebraska | 28 | 28
28400 | Hamilton County, Nebraska | 28 | 28
28410 | Harlan County, Nebraska | 28 | 28
28420 | Hayes County, Nebraska | 28 | 28
28430 | Hitchcock County, Nebraska | 28 | 28
28440 | Holt County, Nebraska | 28 | 28
28450 | Hooker County, Nebraska | 28 | 28
28460 | Howard County, Nebraska | 28 | 28
28470 | Jefferson County, Nebraska | 28 | 28
28480 | Johnson County, Nebraska | 28 | 28
28490 | Kearney County, Nebraska | 28 | 28
28500 | Keith County, Nebraska | 28 | 28
28510 | Keya Paha County, Nebraska | 28 | 28
28520 | Kimball County, Nebraska | 28 | 28
28530 | Knox County, Nebraska | 28 | 28
28540 | Lancaster County, Nebraska | 4360 | 30700
28550 | Lincoln County, Nebraska | 28 | 28
28560 | Logan County, Nebraska | 28 | 28
28570 | Loup County, Nebraska | 28 | 28
28580 | Mc Pherson County, Nebraska | 28 | 28
28590 | Madison County, Nebraska | 28 | 28
28600 | Merrick County, Nebraska | 28 | 28
28610 | Morrill County, Nebraska | 28 | 28
28620 | Nance County, Nebraska | 28 | 28
28630 | Nemaha County, Nebraska | 28 | 28
28640 | Nuckolls County, Nebraska | 28 | 28
28650 | Otoe County, Nebraska | 28 | 28
28660 | Pawnee County, Nebraska | 28 | 28
28670 | Perkins County, Nebraska | 28 | 28
28680 | Phelps County, Nebraska | 28 | 28
28690 | Pierce County, Nebraska | 28 | 28
28700 | Platte County, Nebraska | 28 | 28
28710 | Polk County, Nebraska | 28 | 28
28720 | Redwillow County, Nebraska | 28 | 28
28730 | Richardson County, Nebraska | 28 | 28
28740 | Rock County, Nebraska | 28 | 28
28750 | Saline County, Nebraska | 28 | 28
28760 | Sarpy County, Nebraska | 5920 | 36540
28770 | Saunders County, Nebraska | 28 | 36540
28780 | Scotts Bluff County, Nebraska | 28 | 28
28790 | Seward County, Nebraska | 28 | 30700
28800 | Sheridan County, Nebraska | 28 | 28
28810 | Sherman County, Nebraska | 28 | 28
28820 | Sioux County, Nebraska | 28 | 28
28830 | Stanton County, Nebraska | 28 | 28
28840 | Thayer County, Nebraska | 28 | 28
28850 | Thomas County, Nebraska | 28 | 28
28860 | Thurston County, Nebraska | 28 | 28
28870 | Valley County, Nebraska | 28 | 28
28880 | Washington County, Nebraska | 5920 | 36540
28890 | Wayne County, Nebraska | 28 | 28
28900 | Webster County, Nebraska | 28 | 28
28910 | Wheeler County, Nebraska | 28 | 28
28920 | York County, Nebraska | 28 | 28
29000 | Churchill County, Nevada | 29 | 29
29010 | Clark County, Nevada | 4120 | 29820
29020 | Douglas County, Nevada | 29 | 29
29030 | Elko County, Nevada | 29 | 29
29040 | Esmeralda County, Nevada | 29 | 29
29050 | Eureka County, Nevada | 29 | 29
29060 | Humboldt County, Nevada | 29 | 29
29070 | Lander County, Nevada | 29 | 29
29080 | Lincoln County, Nevada | 29 | 29
29090 | Lyon County, Nevada | 29 | 29
29100 | Mineral County, Nevada | 29 | 29
29110 | Nye County, Nevada | 29 | 29
29120 | Carson City County, Nevada | 29 | 16180
29130 | Pershing County, Nevada | 29 | 29
29140 | Storey County, Nevada | 29 | 39900
29150 | Washoe County, Nevada | 6720 | 39900
29160 | White Pine County, Nevada | 29 | 29
30000 | Belknap County, New Hampshire | 30 | 30
30010 | Carroll County, New Hampshire | 30 | 30
30020 | Cheshire County, New Hampshire | 30 | 30
30030 | Coos County, New Hampshire | 30 | 30
30040 | Grafton County, New Hampshire | 30 | 30
30050 | Hillsboro County, New Hampshire | 4763 | 31700
30060 | Merrimack County, New Hampshire | 4763 | 31700
30070 | Rockingham County, New Hampshire | 6453 | 40484
30080 | Strafford County, New Hampshire | 6453 | 40484
30090 | Sullivan County, New Hampshire | 30 | 30
31000 | Atlantic County, New Jersey | 0560 | 12100
31100 | Bergen County, New Jersey | 0875 | 35644
31150 | Burlington County, New Jersey | 6160 | 15804
31160 | Camden County, New Jersey | 6160 | 15804
31180 | Cape May County, New Jersey | 0560 | 36140
31190 | Cumberland County, New Jersey | 8760 | 47220
31200 | Essex County, New Jersey | 5640 | 35084
31220 | Gloucester County, New Jersey | 6160 | 15804
31230 | Hudson County, New Jersey | 3640 | 35644
31250 | Hunterdon County, New Jersey | 5015 | 35084
31260 | Mercer County, New Jersey | 8480 | 45940
31270 | Middlesex County, New Jersey | 5015 | 20764
31290 | Monmouth County, New Jersey | 5190 | 20764
31300 | Morris County, New Jersey | 5640 | 35084
31310 | Ocean County, New Jersey | 5190 | 20764
31320 | Passaic County, New Jersey | 0875 | 35644
31340 | Salem County, New Jersey | 9160 | 48864
31350 | Somerset County, New Jersey | 5015 | 20764
31360 | Sussex County, New Jersey | 5640 | 35084
31370 | Union County, New Jersey | 5640 | 35084
31390 | Warren County, New Jersey | 0240 | 10900
32000 | Bernalillo County, New Mexico | 0200 | 10740
32010 | Catron County, New Mexico | 32 | 32
32020 | Chaves County, New Mexico | 32 | 32
32025 | Cibola County, New Mexico | 32 | 32
32030 | Colfax County, New Mexico | 32 | 32
32040 | Curry County, New Mexico | 32 | 32
32050 | De Baca County, New Mexico | 32 | 32
32060 | Dona Ana County, New Mexico | 4100 | 29740
32070 | Eddy County, New Mexico | 32 | 32
32080 | Grant County, New Mexico | 32 | 32
32090 | Guadalupe County, New Mexico | 32 | 32
32100 | Harding County, New Mexico | 32 | 32
32110 | Hidalgo County, New Mexico | 32 | 32
32120 | Lea County, New Mexico | 32 | 32
32130 | Lincoln County, New Mexico | 32 | 32
32131 | Los Alamos County, New Mexico | 7490 | 32
32140 | Luna County, New Mexico | 32 | 32
32150 | Mc Kinley County, New Mexico | 32 | 32
32160 | Mora County, New Mexico | 32 | 32
32170 | Otero County, New Mexico | 32 | 32
32180 | Quay County, New Mexico | 32 | 32
32190 | Rio Arriba County, New Mexico | 32 | 32
32200 | Roosevelt County, New Mexico | 32 | 32
32210 | Sandoval County, New Mexico | 32 | 10740
32220 | San Juan County, New Mexico | 32 | 22140
32230 | San Miguel County, New Mexico | 32 | 32
32240 | Santa Fe County, New Mexico | 7490 | 42140
32250 | Sierra County, New Mexico | 32 | 32
32260 | Socorro County, New Mexico | 32 | 32
32270 | Taos County, New Mexico | 32 | 32
32280 | Torrance County, New Mexico | 32 | 10740
32290 | Union County, New Mexico | 32 | 32
32300 | Valencia County, New Mexico | 32 | 10740
33000 | Albany County, New York | 0160 | 10580
33010 | Allegany County, New York | 33 | 33
33020 | Bronx County, New York | 5600 | 35644
33030 | Broome County, New York | 0960 | 13780
33040 | Cattaraugus County, New York | 33 | 33
33050 | Cayuga County, New York | 33 | 33
33060 | Chautauqua County, New York | 33 | 33
33070 | Chemung County, New York | 2335 | 21300
33080 | Chenango County, New York | 33 | 33
33090 | Clinton County, New York | 33 | 33
33200 | Columbia County, New York | 33 | 33
33210 | Cortland County, New York | 33 | 33
33220 | Delaware County, New York | 33 | 33
33230 | Dutchess County, New York | 6460 | 39100
33240 | Erie County, New York | 1280 | 15380
33260 | Essex County, New York | 33 | 33
33270 | Franklin County, New York | 33 | 33
33280 | Fulton County, New York | 33 | 33
33290 | Genesee County, New York | 33 | 33
33300 | Greene County, New York | 0160 | 33
33310 | Hamilton County, New York | 33 | 33
33320 | Herkimer County, New York | 8680 | 46540
33330 | Jefferson County, New York | 33 | 33
33331 | Kings County, New York | 5600 | 35644
33340 | Lewis County, New York | 33 | 33
33350 | Livingston County, New York | 6840 | 40380
33360 | Madison County, New York | 8160 | 45060
33370 | Monroe County, New York | 6840 | 40380
33380 | Montgomery County, New York | 0160 | 33
33400 | Nassau County, New York | 5380 | 35004
33420 | New York County, New York | 5600 | 35644
33500 | Niagara County, New York | 5700 | 15380
33510 | Oneida County, New York | 8680 | 46540
33520 | Onondaga County, New York | 8160 | 45060
33530 | Ontario County, New York | 6840 | 40380
33540 | Orange County, New York | 5950 | 39100
33550 | Orleans County, New York | 6840 | 40380
33560 | Oswego County, New York | 8160 | 45060
33570 | Otsego County, New York | 33 | 33
33580 | Putnam County, New York | 5600 | 35644
33590 | Queens County, New York | 5600 | 35644
33600 | Rensselaer County, New York | 0160 | 10580
33610 | Richmond County, New York | 5600 | 35644
33620 | Rockland County, New York | 5600 | 35644
33630 | St Lawrence County, New York | 33 | 33
33640 | Saratoga County, New York | 0160 | 10580
33650 | Schenectady County, New York | 0160 | 10580
33660 | Schoharie County, New York | 33 | 10580
33670 | Schuyler County, New York | 33 | 33
33680 | Seneca County, New York | 33 | 33
33690 | Steuben County, New York | 33 | 33
33700 | Suffolk County, New York | 5380 | 35004
33710 | Sullivan County, New York | 33 | 33
33720 | Tioga County, New York | 0960 | 13780
33730 | Tompkins County, New York | 33 | 27060
33740 | Ulster County, New York | 33 | 28740
33750 | Warren County, New York | 2975 | 24020
33760 | Washington County, New York | 2975 | 24020
33770 | Wayne County, New York | 6840 | 40380
33800 | Westchester County, New York | 5600 | 35644
33900 | Wyoming County, New York | 33 | 33
33910 | Yates County, New York | 33 | 33
34000 | Alamance County, N Carolina | 1300 | 15500
34010 | Alexander County, N Carolina | 3290 | 25860
34020 | Alleghany County, N Carolina | 34 | 34
34030 | Anson County, N Carolina | 34 | 16740
34040 | Ashe County, N Carolina | 34 | 34
34050 | Avery County, N Carolina | 34 | 34
34060 | Beaufort County, N Carolina | 34 | 34
34070 | Bertie County, N Carolina | 34 | 34
34080 | Bladen County, N Carolina | 34 | 34
34090 | Brunswick County, N Carolina | 34 | 48900
34100 | Buncombe County, N Carolina | 0480 | 11700
34110 | Burke County, N Carolina | 3290 | 25860
34120 | Cabarrus County, N Carolina | 1520 | 16740
34130 | Caldwell County, N Carolina | 34 | 25860
34140 | Camden County, N Carolina | 34 | 34
34150 | Carteret County, N Carolina | 34 | 34
34160 | Caswell County, N Carolina | 34 | 34
34170 | Catawba County, N Carolina | 3290 | 25860
34180 | Chatham County, N Carolina | 34 | 20500
34190 | Cherokee County, N Carolina | 34 | 34
34200 | Chowan County, N Carolina | 34 | 34
34210 | Clay County, N Carolina | 34 | 34
34220 | Cleveland County, N Carolina | 34 | 34
34230 | Columbus County, N Carolina | 34 | 34
34240 | Craven County, N Carolina | 34 | 34
34250 | Cumberland County, N Carolina | 2560 | 22180
34251 | Currituck County, N Carolina | 34 | 47260
34270 | Dare County, N Carolina | 34 | 34
34280 | Davidson County, N Carolina | 3120 | 34
34290 | Davie County, N Carolina | 3120 | 49180
34300 | Duplin County, N Carolina | 34 | 34
34310 | Durham County, N Carolina | 6640 | 20500
34320 | Edgecombe County, N Carolina | 34 | 40580
34330 | Forsyth County, N Carolina | 3120 | 49180
34340 | Franklin County, N Carolina | 6640 | 39580
34350 | Gaston County, N Carolina | 1520 | 16740
34360 | Gates County, N Carolina | 34 | 34
34370 | Graham County, N Carolina | 34 | 34
34380 | Granville County, N Carolina | 34 | 34
34390 | Greene County, N Carolina | 34 | 24780
34400 | Guilford County, N Carolina | 3120 | 24660
34410 | Halifax County, N Carolina | 34 | 34
34420 | Harnett County, N Carolina | 34 | 34
34430 | Haywood County, N Carolina | 34 | 11700
34440 | Henderson County, N Carolina | 34 | 11700
34450 | Hertford County, N Carolina | 34 | 34
34460 | Hoke County, N Carolina | 34 | 22180
34470 | Hyde County, N Carolina | 34 | 34
34480 | Iredell County, N Carolina | 34 | 34
34490 | Jackson County, N Carolina | 34 | 34
34500 | Johnston County, N Carolina | 34 | 39580
34510 | Jones County, N Carolina | 34 | 34
34520 | Lee County, N Carolina | 34 | 34
34530 | Lenoir County, N Carolina | 34 | 34
34540 | Lincoln County, N Carolina | 1520 | 34
34550 | Mc Dowell County, N Carolina | 34 | 34
34560 | Macon County, N Carolina | 34 | 34
34570 | Madison County, N Carolina | 34 | 11700
34580 | Martin County, N Carolina | 34 | 34
34590 | Mecklenburg County, N Carolina | 1520 | 16740
34600 | Mitchell County, N Carolina | 34 | 34
34610 | Montgomery County, N Carolina | 34 | 34
34620 | Moore County, N Carolina | 34 | 34
34630 | Nash County, N Carolina | 34 | 40580
34640 | New Hanover County, N Carolina | 9200 | 48900
34650 | Northampton County, N Carolina | 34 | 34
34660 | Onslow County, N Carolina | 3605 | 27340
34670 | Orange County, N Carolina | 6640 | 20500
34680 | Pamlico County, N Carolina | 34 | 34
34690 | Pasquotank County, N Carolina | 34 | 34
34700 | Pender County, N Carolina | 34 | 48900
34710 | Perquimans County, N Carolina | 34 | 34
34720 | Person County, N Carolina | 34 | 20500
34730 | Pitt County, N Carolina | 34 | 24780
34740 | Polk County, N Carolina | 34 | 34
34750 | Randolph County, N Carolina | 3120 | 24660
34760 | Richmond County, N Carolina | 34 | 34
34770 | Robeson County, N Carolina | 34 | 34
34780 | Rockingham County, N Carolina | 34 | 24660
34790 | Rowan County, N Carolina | 1520 | 34
34800 | Rutherford County, N Carolina | 34 | 34
34810 | Sampson County, N Carolina | 34 | 34
34820 | Scotland County, N Carolina | 34 | 34
34830 | Stanly County, N Carolina | 34 | 16740
34840 | Stokes County, N Carolina | 3120 | 49180
34850 | Surry County, N Carolina | 34 | 34
34860 | Swain County, N Carolina | 34 | 34
34870 | Transylvania County, N Carolina | 34 | 34
34880 | Tyrrell County, N Carolina | 34 | 34
34890 | Union County, N Carolina | 1520 | 16740
34900 | Vance County, N Carolina | 34 | 34
34910 | Wake County, N Carolina | 6640 | 39580
34920 | Warren County, N Carolina | 34 | 34
34930 | Washington County, N Carolina | 34 | 34
34940 | Watauga County, N Carolina | 34 | 34
34950 | Wayne County, N Carolina | 34 | 24140
34960 | Wilkes County, N Carolina | 34 | 34
34970 | Wilson County, N Carolina | 34 | 34
34980 | Yadkin County, N Carolina | 3120 | 49180
34981 | Yancey County, N Carolina | 34 | 34
35000 | Adams County, N Dakota | 35 | 35
35010 | Barnes County, N Dakota | 35 | 35
35020 | Benson County, N Dakota | 35 | 35
35030 | Billings County, N Dakota | 35 | 35
35040 | Bottineau County, N Dakota | 35 | 35
35050 | Bowman County, N Dakota | 35 | 35
35060 | Burke County, N Dakota | 35 | 35
35070 | Burleigh County, N Dakota | 1010 | 13900
35080 | Cass County, N Dakota | 2520 | 22020
35090 | Cavalier County, N Dakota | 35 | 35
35100 | Dickey County, N Dakota | 35 | 35
35110 | Divide County, N Dakota | 35 | 35
35120 | Dunn County, N Dakota | 35 | 35
35130 | Eddy County, N Dakota | 35 | 35
35140 | Emmons County, N Dakota | 35 | 35
35150 | Foster County, N Dakota | 35 | 35
35160 | Golden Valley County, N Dakota | 35 | 35
35170 | Grand Forks County, N Dakota | 2985 | 24220
35180 | Grant County, N Dakota | 35 | 35
35190 | Griggs County, N Dakota | 35 | 35
35200 | Hettinger County, N Dakota | 35 | 35
35210 | Kidder County, N Dakota | 35 | 35
35220 | La Moure County, N Dakota | 35 | 35
35230 | Logan County, N Dakota | 35 | 35
35240 | Mc Henry County, N Dakota | 35 | 35
35250 | Mc Intosh County, N Dakota | 35 | 35
35260 | Mc Kenzie County, N Dakota | 35 | 35
35270 | Mc Lean County, N Dakota | 35 | 35
35280 | Mercer County, N Dakota | 35 | 35
35290 | Morton County, N Dakota | 1010 | 13900
35300 | Mountrail County, N Dakota | 35 | 35
35310 | Nelson County, N Dakota | 35 | 35
35320 | Oliver County, N Dakota | 35 | 35
35330 | Pembina County, N Dakota | 35 | 35
35340 | Pierce County, N Dakota | 35 | 35
35350 | Ramsey County, N Dakota | 35 | 35
35360 | Ransom County, N Dakota | 35 | 35
35370 | Renville County, N Dakota | 35 | 35
35380 | Richland County, N Dakota | 35 | 35
35390 | Rolette County, N Dakota | 35 | 35
35400 | Sargent County, N Dakota | 35 | 35
35410 | Sheridan County, N Dakota | 35 | 35
35420 | Sioux County, N Dakota | 35 | 35
35430 | Slope County, N Dakota | 35 | 35
35440 | Stark County, N Dakota | 35 | 35
35450 | Steele County, N Dakota | 35 | 35
35460 | Stutsman County, N Dakota | 35 | 35
35470 | Towner County, N Dakota | 35 | 35
35480 | Traill County, N Dakota | 35 | 35
35490 | Walsh County, N Dakota | 35 | 35
35500 | Ward County, N Dakota | 35 | 35
35510 | Wells County, N Dakota | 35 | 35
35520 | Williams County, N Dakota | 35 | 35
36000 | Adams County, Ohio | 36 | 36
36010 | Allen County, Ohio | 4320 | 30620
36020 | Ashland County, Ohio | 36 | 36
36030 | Ashtabula County, Ohio | 36 | 36
36040 | Athens County, Ohio | 36 | 36
36050 | Auglaize County, Ohio | 4320 | 36
36060 | Belmont County, Ohio | 9000 | 48540
36070 | Brown County, Ohio | 36 | 17140
36080 | Butler County, Ohio | 3200 | 17140
36090 | Carroll County, Ohio | 1320 | 15940
36100 | Champaign County, Ohio | 36 | 36
36110 | Clark County, Ohio | 2000 | 44220
36120 | Clermont County, Ohio | 1640 | 17140
36130 | Clinton County, Ohio | 36 | 36
36140 | Columbiana County, Ohio | 36 | 36
36150 | Coshocton County, Ohio | 36 | 36
36160 | Crawford County, Ohio | 36 | 36
36170 | Cuyahoga County, Ohio | 1680 | 17460
36190 | Darke County, Ohio | 36 | 36
36200 | Defiance County, Ohio | 36 | 36
36210 | Delaware County, Ohio | 1840 | 18140
36220 | Erie County, Ohio | 36 | 41780
36230 | Fairfield County, Ohio | 1840 | 18140
36240 | Fayette County, Ohio | 36 | 36
36250 | Franklin County, Ohio | 1840 | 18140
36260 | Fulton County, Ohio | 8400 | 45780
36270 | Gallia County, Ohio | 36 | 36
36280 | Geauga County, Ohio | 1680 | 17460
36290 | Greene County, Ohio | 2000 | 19380
36300 | Guernsey County, Ohio | 36 | 36
36310 | Hamilton County, Ohio | 1640 | 17140
36330 | Hancock County, Ohio | 36 | 36
36340 | Hardin County, Ohio | 36 | 36
36350 | Harrison County, Ohio | 36 | 36
36360 | Henry County, Ohio | 36 | 36
36370 | Highland County, Ohio | 36 | 36
36380 | Hocking County, Ohio | 36 | 36
36390 | Holmes County, Ohio | 36 | 36
36400 | Huron County, Ohio | 36 | 36
36410 | Jackson County, Ohio | 36 | 36
36420 | Jefferson County, Ohio | 8080 | 48260
36430 | Knox County, Ohio | 36 | 36
36440 | Lake County, Ohio | 1680 | 17460
36450 | Lawrence County, Ohio | 3400 | 26580
36460 | Licking County, Ohio | 1840 | 18140
36470 | Logan County, Ohio | 36 | 36
36480 | Lorain County, Ohio | 4440 | 17460
36490 | Lucas County, Ohio | 8400 | 45780
36500 | Madison County, Ohio | 1840 | 18140
36510 | Mahoning County, Ohio | 9320 | 49660
36520 | Marion County, Ohio | 36 | 36
36530 | Medina County, Ohio | 1680 | 17460
36540 | Meigs County, Ohio | 36 | 36
36550 | Mercer County, Ohio | 36 | 36
36560 | Miami County, Ohio | 2000 | 19380
36570 | Monroe County, Ohio | 36 | 36
36580 | Montgomery County, Ohio | 2000 | 19380
36590 | Morgan County, Ohio | 36 | 36
36600 | Morrow County, Ohio | 36 | 18140
36610 | Muskingum County, Ohio | 36 | 36
36620 | Noble County, Ohio | 36 | 36
36630 | Ottawa County, Ohio | 36 | 45780
36640 | Paulding County, Ohio | 36 | 36
36650 | Perry County, Ohio | 36 | 36
36660 | Pickaway County, Ohio | 1840 | 18140
36670 | Pike County, Ohio | 36 | 36
36680 | Portage County, Ohio | 0080 | 10420
36690 | Preble County, Ohio | 36 | 19380
36700 | Putnam County, Ohio | 36 | 36
36710 | Richland County, Ohio | 4800 | 31900
36720 | Ross County, Ohio | 36 | 36
36730 | Sandusky County, Ohio | 36 | 36
36740 | Scioto County, Ohio | 36 | 36
36750 | Seneca County, Ohio | 36 | 36
36760 | Shelby County, Ohio | 36 | 36
36770 | Stark County, Ohio | 1320 | 15940
36780 | Summit County, Ohio | 0080 | 10420
36790 | Trumbull County, Ohio | 9320 | 49660
36800 | Tuscarawas County, Ohio | 36 | 36
36810 | Union County, Ohio | 1840 | 18140
36820 | Van Wert County, Ohio | 36 | 36
36830 | Vinton County, Ohio | 36 | 36
36840 | Warren County, Ohio | 1640 | 17140
36850 | Washington County, Ohio | 6020 | 37620
36860 | Wayne County, Ohio | 36 | 36
36870 | Williams County, Ohio | 36 | 36
36880 | Wood County, Ohio | 8400 | 45780
36890 | Wyandot County, Ohio | 36 | 36
37000 | Adair County, Oklahoma | 37 | 37
37010 | Alfalfa County, Oklahoma | 37 | 37
37020 | Atoka County, Oklahoma | 37 | 37
37030 | Beaver County, Oklahoma | 37 | 37
37040 | Beckham County, Oklahoma | 37 | 37
37050 | Blaine County, Oklahoma | 37 | 37
37060 | Bryan County, Oklahoma | 37 | 37
37070 | Caddo County, Oklahoma | 37 | 37
37080 | Canadian County, Oklahoma | 5880 | 36420
37090 | Carter County, Oklahoma | 37 | 37
37100 | Cherokee County, Oklahoma | 37 | 37
37110 | Choctaw County, Oklahoma | 37 | 37
37120 | Cimarron County, Oklahoma | 37 | 37
37130 | Cleveland County, Oklahoma | 5880 | 36420
37140 | Coal County, Oklahoma | 37 | 37
37150 | Comanche County, Oklahoma | 4200 | 30020
37160 | Cotton County, Oklahoma | 37 | 37
37170 | Craig County, Oklahoma | 37 | 37
37180 | Creek County, Oklahoma | 8560 | 46140
37190 | Custer County, Oklahoma | 37 | 37
37200 | Delaware County, Oklahoma | 37 | 37
37210 | Dewey County, Oklahoma | 37 | 37
37220 | Ellis County, Oklahoma | 37 | 37
37230 | Garfield County, Oklahoma | 2340 | 37
37240 | Garvin County, Oklahoma | 37 | 37
37250 | Grady County, Oklahoma | 37 | 36420
37260 | Grant County, Oklahoma | 37 | 37
37270 | Greer County, Oklahoma | 37 | 37
37280 | Harmon County, Oklahoma | 37 | 37
37290 | Harper County, Oklahoma | 37 | 37
37300 | Haskell County, Oklahoma | 37 | 37
37310 | Hughes County, Oklahoma | 37 | 37
37320 | Jackson County, Oklahoma | 37 | 37
37330 | Jefferson County, Oklahoma | 37 | 37
37340 | Johnston County, Oklahoma | 37 | 37
37350 | Kay County, Oklahoma | 37 | 37
37360 | Kingfisher County, Oklahoma | 37 | 37
37370 | Kiowa County, Oklahoma | 37 | 37
37380 | Latimer County, Oklahoma | 37 | 37
37390 | Le Flore County, Oklahoma | 37 | 22900
37400 | Lincoln County, Oklahoma | 37 | 36420
37410 | Logan County, Oklahoma | 5880 | 36420
37420 | Love County, Oklahoma | 37 | 37
37430 | Mc Clain County, Oklahoma | 5880 | 36420
37440 | Mc Curtain County, Oklahoma | 37 | 37
37450 | Mc Intosh County, Oklahoma | 37 | 37
37460 | Major County, Oklahoma | 37 | 37
37470 | Marshall County, Oklahoma | 37 | 37
37480 | Mayes County, Oklahoma | 37 | 37
37490 | Murray County, Oklahoma | 37 | 37
37500 | Muskogee County, Oklahoma | 37 | 37
37510 | Noble County, Oklahoma | 37 | 37
37520 | Nowata County, Oklahoma | 37 | 37
37530 | Okfuskee County, Oklahoma | 37 | 37
37540 | Oklahoma County, Oklahoma | 5880 | 36420
37550 | Okmulgee County, Oklahoma | 37 | 46140
37560 | Osage County, Oklahoma | 8560 | 46140
37570 | Ottawa County, Oklahoma | 37 | 37
37580 | Pawnee County, Oklahoma | 37 | 46140
37590 | Payne County, Oklahoma | 37 | 37
37600 | Pittsburg County, Oklahoma | 37 | 37
37610 | Pontotoc County, Oklahoma | 37 | 37
37620 | Pottawatomie County, Oklahoma | 5880 | 37
37630 | Pushmataha County, Oklahoma | 37 | 37
37640 | Roger Mills County, Oklahoma | 37 | 37
37650 | Rogers County, Oklahoma | 8560 | 46140
37660 | Seminole County, Oklahoma | 37 | 37
37670 | Sequoyah County, Oklahoma | 2720 | 22900
37680 | Stephens County, Oklahoma | 37 | 37
37690 | Texas County, Oklahoma | 37 | 37
37700 | Tillman County, Oklahoma | 37 | 37
37710 | Tulsa County, Oklahoma | 8560 | 46140
37720 | Wagoner County, Oklahoma | 8560 | 46140
37730 | Washington County, Oklahoma | 37 | 37
37740 | Washita County, Oklahoma | 37 | 37
37750 | Woods County, Oklahoma | 37 | 37
37760 | Woodward County, Oklahoma | 37 | 37
38000 | Baker County, Oregon | 38 | 38
38010 | Benton County, Oregon | 38 | 18700
38020 | Clackamas County, Oregon | 6440 | 38900
38030 | Clatsop County, Oregon | 38 | 38
38040 | Columbia County, Oregon | 38 | 38900
38050 | Coos County, Oregon | 38 | 38
38060 | Crook County, Oregon | 38 | 38
38070 | Curry County, Oregon | 38 | 38
38080 | Deschutes County, Oregon | 38 | 13460
38090 | Douglas County, Oregon | 38 | 38
38100 | Gilliam County, Oregon | 38 | 38
38110 | Grant County, Oregon | 38 | 38
38120 | Harney County, Oregon | 38 | 38
38130 | Hood River County, Oregon | 38 | 38
38140 | Jackson County, Oregon | 4890 | 32780
38150 | Jefferson County, Oregon | 38 | 38
38160 | Josephine County, Oregon | 38 | 38
38170 | Klamath County, Oregon | 38 | 38
38180 | Lake County, Oregon | 38 | 38
38190 | Lane County, Oregon | 2400 | 21660
38200 | Lincoln County, Oregon | 38 | 38
38210 | Linn County, Oregon | 38 | 38
38220 | Malheur County, Oregon | 38 | 38
38230 | Marion County, Oregon | 7080 | 41420
38240 | Morrow County, Oregon | 38 | 38
38250 | Multnomah County, Oregon | 6440 | 38900
38260 | Polk County, Oregon | 7080 | 41420
38270 | Sherman County, Oregon | 38 | 38
38280 | Tillamook County, Oregon | 38 | 38
38290 | Umatilla County, Oregon | 38 | 38
38300 | Union County, Oregon | 38 | 38
38310 | Wallowa County, Oregon | 38 | 38
38320 | Wasco County, Oregon | 38 | 38
38330 | Washington County, Oregon | 6440 | 38900
38340 | Wheeler County, Oregon | 38 | 38
38350 | Yamhill County, Oregon | 6440 | 38900
39000 | Adams County, Pennsylvania | 9280 | 39
39010 | Allegheny County, Pennsylvania | 6280 | 38300
39070 | Armstrong County, Pennsylvania | 39 | 38300
39080 | Beaver County, Pennsylvania | 0845 | 38300
39100 | Bedford County, Pennsylvania | 39 | 39
39110 | Berks County, Pennsylvania | 6680 | 39740
39120 | Blair County, Pennsylvania | 0280 | 11020
39130 | Bradford County, Pennsylvania | 39 | 39
39140 | Bucks County, Pennsylvania | 6160 | 37964
39150 | Butler County, Pennsylvania | 39 | 38300
39160 | Cambria County, Pennsylvania | 3680 | 27780
39180 | Cameron County, Pennsylvania | 39 | 39
39190 | Carbon County, Pennsylvania | 0240 | 10900
39200 | Centre County, Pennsylvania | 8050 | 44300
39210 | Chester County, Pennsylvania | 6160 | 37964
39220 | Clarion County, Pennsylvania | 39 | 39
39230 | Clearfield County, Pennsylvania | 39 | 39
39240 | Clinton County, Pennsylvania | 39 | 39
39250 | Columbia County, Pennsylvania | 7560 | 39
39260 | Crawford County, Pennsylvania | 39 | 39
39270 | Cumberland County, Pennsylvania | 3240 | 25420
39280 | Dauphin County, Pennsylvania | 3240 | 25420
39290 | Delaware County, Pennsylvania | 6160 | 37964
39310 | Elk County, Pennsylvania | 39 | 39
39320 | Erie County, Pennsylvania | 2360 | 21500
39330 | Fayette County, Pennsylvania | 6280 | 38300
39340 | Forest County, Pennsylvania | 39 | 39
39350 | Franklin County, Pennsylvania | 39 | 39
39360 | Fulton County, Pennsylvania | 39 | 39
39370 | Greene County, Pennsylvania | 39 | 39
39380 | Huntingdon County, Pennsylvania | 39 | 39
39390 | Indiana County, Pennsylvania | 39 | 39
39400 | Jefferson County, Pennsylvania | 39 | 39
39410 | Juniata County, Pennsylvania | 39 | 39
39420 | Lackawanna County, Pennsylvania | 7560 | 42540
39440 | Lancaster County, Pennsylvania | 4000 | 29540
39450 | Lawrence County, Pennsylvania | 39 | 39
39460 | Lebanon County, Pennsylvania | 3240 | 30140
39470 | Lehigh County, Pennsylvania | 0240 | 10900
39480 | Luzerne County, Pennsylvania | 7560 | 42540
39510 | Lycoming County, Pennsylvania | 9140 | 48700
39520 | Mc Kean County, Pennsylvania | 39 | 39
39530 | Mercer County, Pennsylvania | 7610 | 49660
39540 | Mifflin County, Pennsylvania | 39 | 39
39550 | Monroe County, Pennsylvania | 7560 | 39
39560 | Montgomery County, Pennsylvania | 6160 | 37964
39580 | Montour County, Pennsylvania | 39 | 39
39590 | Northampton County, Pennsylvania | 0240 | 10900
39600 | Northumberland County, Pennsylvania | 39 | 39
39610 | Perry County, Pennsylvania | 3240 | 25420
39620 | Philadelphia County, Pennsylvania | 6160 | 37964
39630 | Pike County, Pennsylvania | 5660 | 35084
39640 | Potter County, Pennsylvania | 39 | 39
39650 | Schuylkill County, Pennsylvania | 39 | 39
39670 | Snyder County, Pennsylvania | 39 | 39
39680 | Somerset County, Pennsylvania | 3680 | 39
39690 | Sullivan County, Pennsylvania | 39 | 39
39700 | Susquehanna County, Pennsylvania | 39 | 39
39710 | Tioga County, Pennsylvania | 39 | 39
39720 | Union County, Pennsylvania | 39 | 39
39730 | Venango County, Pennsylvania | 39 | 39
39740 | Warren County, Pennsylvania | 39 | 39
39750 | Washington County, Pennsylvania | 6280 | 38300
39760 | Wayne County, Pennsylvania | 39 | 39
39770 | Westmoreland County, Pennsylvania | 6280 | 38300
39790 | Wyoming County, Pennsylvania | 7560 | 42540
39800 | York County, Pennsylvania | 9280 | 49620
40010 | Adjuntas County, Puerto Rico | 40 | 40
40020 | Aguada County, Puerto Rico | 0060 | 10380
40030 | Aguadilla County, Puerto Rico | 0060 | 10380
40040 | Aguas Buenas County, Puerto Rico | 7440 | 41980
40050 | Aibonito County, Puerto Rico | 40 | 41980
40060 | Anasco County, Puerto Rico | 4840 | 10380
40070 | Arecibo County, Puerto Rico | 0470 | 41980
40080 | Arroyo County, Puerto Rico | 40 | 25020
40090 | Barceloneta County, Puerto Rico | 7440 | 41980
40100 | Barranquitas County, Puerto Rico | 40 | 41980
40110 | Bayamon County, Puerto Rico | 7440 | 41980
40120 | Cabo Rojo County, Puerto Rico | 4840 | 41900
40130 | Caguas County, Puerto Rico | 1310 | 41980
40140 | Camuy County, Puerto Rico | 0470 | 41980
40145 | Canovanas County, Puerto Rico | 7440 | 41980
40150 | Carolina County, Puerto Rico | 7440 | 41980
40160 | Catano County, Puerto Rico | 7440 | 41980
40170 | Cayey County, Puerto Rico | 1310 | 41980
40180 | Ceiba County, Puerto Rico | 40 | 21940
40190 | Ciales County, Puerto Rico | 40 | 41980
40200 | Cidra County, Puerto Rico | 1310 | 41980
40210 | Coamo County, Puerto Rico | 40 | 40
40220 | Comerio County, Puerto Rico | 40 | 41980
40230 | Corozal County, Puerto Rico | 40 | 41980
40240 | Culebra County, Puerto Rico | 40 | 40
40250 | Dorado County, Puerto Rico | 40 | 41980
40260 | Fajardo County, Puerto Rico | 40 | 21940
40265 | Florida County, Puerto Rico | 40 | 41980
40270 | Guanica County, Puerto Rico | 40 | 49500
40280 | Guayama County, Puerto Rico | 40 | 25020
40290 | Guayanilla County, Puerto Rico | 6360 | 49500
40300 | Guaynabo County, Puerto Rico | 40 | 41980
40310 | Gurabo County, Puerto Rico | 1310 | 41980
40320 | Hatillo County, Puerto Rico | 0470 | 41980
40330 | Hormigueros County, Puerto Rico | 4840 | 32420
40340 | Humacao County, Puerto Rico | 40 | 41980
40350 | Isabela County, Puerto Rico | 40 | 10380
40360 | Jayuya County, Puerto Rico | 40 | 40
40370 | Juana Diaz County, Puerto Rico | 6360 | 38660
40380 | Juncos County, Puerto Rico | 40 | 41980
40390 | Lajas County, Puerto Rico | 40 | 41900
40400 | Lares County, Puerto Rico | 40 | 10380
40410 | Las Marias County, Puerto Rico | 40 | 40
40420 | Las Piedras County, Puerto Rico | 40 | 41980
40430 | Loiza County, Puerto Rico | 7440 | 41980
40440 | Luquillo County, Puerto Rico | 40 | 21940
40450 | Manati County, Puerto Rico | 40 | 41980
40460 | Maricao County, Puerto Rico | 40 | 40
40470 | Maunabo County, Puerto Rico | 40 | 41980
40480 | Mayaguez County, Puerto Rico | 4840 | 32420
40490 | Moca County, Puerto Rico | 0060 | 10380
40500 | Morovis County, Puerto Rico | 40 | 41980
40510 | Naguabo County, Puerto Rico | 40 | 41980
40520 | Naranjito County, Puerto Rico | 40 | 41980
40530 | Orocovis County, Puerto Rico | 40 | 41980
40540 | Patillas County, Puerto Rico | 40 | 25020
40550 | Penuelas County, Puerto Rico | 6360 | 49500
40560 | Ponce County, Puerto Rico | 6360 | 38660
40570 | Quebradillas County, Puerto Rico | 40 | 41980
40580 | Rincon County, Puerto Rico | 40 | 10380
40590 | Rio Grande County, Puerto Rico | 40 | 41980
40610 | Sabana Grande County, Puerto Rico | 4840 | 41900
40620 | Salinas County, Puerto Rico | 40 | 40
40630 | San German County, Puerto Rico | 4840 | 41900
40640 | San Juan County, Puerto Rico | 40 | 41980
40650 | San Lorenzo County, Puerto Rico | 1310 | 41980
40660 | San Sebastian County, Puerto Rico | 40 | 10380
40670 | Santa Isabel County, Puerto Rico | 40 | 40
40680 | Toa Alta County, Puerto Rico | 40 | 41980
40690 | Toa Baja County, Puerto Rico | 40 | 41980
40700 | Trujillo Alto County, Puerto Rico | 40 | 41980
40710 | Utuado County, Puerto Rico | 40 | 40
40720 | Vega Alta County, Puerto Rico | 40 | 41980
40730 | Vega Baja County, Puerto Rico | 40 | 41980
40740 | Vieques County, Puerto Rico | 40 | 40
40750 | Villalba County, Puerto Rico | 6360 | 38660
40760 | Yabucoa County, Puerto Rico | 40 | 41980
40770 | Yauco County, Puerto Rico | 6360 | 49500
41000 | Bristol County, Rhode Island | 6483 | 39300
41010 | Kent County, Rhode Island | 6483 | 39300
41020 | Newport County, Rhode Island | 6483 | 39300
41030 | Providence County, Rhode Island | 6483 | 39300
41050 | Washington County, Rhode Island | 6483 | 39300
42000 | Abbeville County, S Carolina | 42 | 42
42010 | Aiken County, S Carolina | 0600 | 12260
42020 | Allendale County, S Carolina | 42 | 42
42030 | Anderson County, S Carolina | 3160 | 11340
42040 | Bamberg County, S Carolina | 42 | 42
42050 | Barnwell County, S Carolina | 42 | 42
42060 | Beaufort County, S Carolina | 42 | 42
42070 | Berkeley County, S Carolina | 1440 | 16700
42080 | Calhoun County, S Carolina | 42 | 17900
42090 | Charleston County, S Carolina | 1440 | 16700
42100 | Cherokee County, S Carolina | 42 | 42
42110 | Chester County, S Carolina | 42 | 42
42120 | Chesterfield County, S Carolina | 42 | 42
42130 | Clarendon County, S Carolina | 42 | 42
42140 | Colleton County, S Carolina | 42 | 42
42150 | Darlington County, S Carolina | 42 | 22500
42160 | Dillon County, S Carolina | 42 | 42
42170 | Dorchester County, S Carolina | 1440 | 16700
42180 | Edgefield County, S Carolina | 42 | 12260
42190 | Fairfield County, S Carolina | 42 | 17900
42200 | Florence County, S Carolina | 2655 | 22500
42210 | Georgetown County, S Carolina | 42 | 42
42220 | Greenville County, S Carolina | 3160 | 24860
42230 | Greenwood County, S Carolina | 42 | 42
42240 | Hampton County, S Carolina | 42 | 42
42250 | Horry County, S Carolina | 42 | 34820
42260 | Jasper County, S Carolina | 42 | 42
42270 | Kershaw County, S Carolina | 42 | 17900
42280 | Lancaster County, S Carolina | 42 | 42
42290 | Laurens County, S Carolina | 42 | 24860
42300 | Lee County, S Carolina | 42 | 42
42310 | Lexington County, S Carolina | 1760 | 17900
42320 | Mc Cormick County, S Carolina | 42 | 42
42330 | Marion County, S Carolina | 42 | 42
42340 | Marlboro County, S Carolina | 42 | 42
42350 | Newberry County, S Carolina | 42 | 42
42360 | Oconee County, S Carolina | 42 | 42
42370 | Orangeburg County, S Carolina | 42 | 42
42380 | Pickens County, S Carolina | 3160 | 24860
42390 | Richland County, S Carolina | 1760 | 17900
42400 | Saluda County, S Carolina | 42 | 17900
42410 | Spartanburg County, S Carolina | 3160 | 43900
42420 | Sumter County, S Carolina | 42 | 44940
42430 | Union County, S Carolina | 42 | 42
42440 | Williamsburg County, S Carolina | 42 | 42
42450 | York County, S Carolina | 1520 | 16740
43010 | Aurora County, S Dakota | 43 | 43
43020 | Beadle County, S Dakota | 43 | 43
43030 | Bennett County, S Dakota | 43 | 43
43040 | Bon Homme County, S Dakota | 43 | 43
43050 | Brookings County, S Dakota | 43 | 43
43060 | Brown County, S Dakota | 43 | 43
43070 | Brule County, S Dakota | 43 | 43
43080 | Buffalo County, S Dakota | 43 | 43
43090 | Butte County, S Dakota | 43 | 43
43100 | Campbell County, S Dakota | 43 | 43
43110 | Charles Mix County, S Dakota | 43 | 43
43120 | Clark County, S Dakota | 43 | 43
43130 | Clay County, S Dakota | 43 | 43
43140 | Codington County, S Dakota | 43 | 43
43150 | Corson County, S Dakota | 43 | 43
43160 | Custer County, S Dakota | 43 | 43
43170 | Davison County, S Dakota | 43 | 43
43180 | Day County, S Dakota | 43 | 43
43190 | Deuel County, S Dakota | 43 | 43
43200 | Dewey County, S Dakota | 43 | 43
43210 | Douglas County, S Dakota | 43 | 43
43220 | Edmunds County, S Dakota | 43 | 43
43230 | Fall River County, S Dakota | 43 | 43
43240 | Faulk County, S Dakota | 43 | 43
43250 | Grant County, S Dakota | 43 | 43
43260 | Gregory County, S Dakota | 43 | 43
43270 | Haakon County, S Dakota | 43 | 43
43280 | Hamlin County, S Dakota | 43 | 43
43290 | Hand County, S Dakota | 43 | 43
43300 | Hanson County, S Dakota | 43 | 43
43310 | Harding County, S Dakota | 43 | 43
43320 | Hughes County, S Dakota | 43 | 43
43330 | Hutchinson County, S Dakota | 43 | 43
43340 | Hyde County, S Dakota | 43 | 43
43350 | Jackson County, S Dakota | 43 | 43
43360 | Jerauld County, S Dakota | 43 | 43
43370 | Jones County, S Dakota | 43 | 43
43380 | Kingsbury County, S Dakota | 43 | 43
43390 | Lake County, S Dakota | 43 | 43
43400 | Lawrence County, S Dakota | 43 | 43
43410 | Lincoln County, S Dakota | 43 | 43620
43420 | Lyman County, S Dakota | 43 | 43
43430 | Mc Cook County, S Dakota | 43 | 43620
43440 | Mc Pherson County, S Dakota | 43 | 43
43450 | Marshall County, S Dakota | 43 | 43
43460 | Meade County, S Dakota | 43 | 39660
43470 | Mellette County, S Dakota | 43 | 43
43480 | Miner County, S Dakota | 43 | 43
43490 | Minnehaha County, S Dakota | 7760 | 43620
43500 | Moody County, S Dakota | 43 | 43
43510 | Pennington County, S Dakota | 6660 | 39660
43520 | Perkins County, S Dakota | 43 | 43
43530 | Potter County, S Dakota | 43 | 43
43540 | Roberts County, S Dakota | 43 | 43
43550 | Sanborn County, S Dakota | 43 | 43
43560 | Shannon County, S Dakota | 43 | 43
43570 | Spink County, S Dakota | 43 | 43
43580 | Stanley County, S Dakota | 43 | 43
43590 | Sully County, S Dakota | 43 | 43
43600 | Todd County, S Dakota | 43 | 43
43610 | Tripp County, S Dakota | 43 | 43
43620 | Turner County, S Dakota | 43 | 43620
43630 | Union County, S Dakota | 43 | 43580
43640 | Walworth County, S Dakota | 43 | 43
43650 | Washabaugh County, S Dakota | 43 | 43
43670 | Yankton County, S Dakota | 43 | 43
43680 | Ziebach County, S Dakota | 43 | 43
44000 | Anderson County, Tennessee | 3840 | 28940
44010 | Bedford County, Tennessee | 44 | 44
44020 | Benton County, Tennessee | 44 | 44
44030 | Bledsoe County, Tennessee | 44 | 44
44040 | Blount County, Tennessee | 3840 | 28940
44050 | Bradley County, Tennessee | 44 | 17420
44060 | Campbell County, Tennessee | 44 | 44
44070 | Cannon County, Tennessee | 44 | 34980
44080 | Carroll County, Tennessee | 44 | 44
44090 | Carter County, Tennessee | 3660 | 27740
44100 | Cheatham County, Tennessee | 5360 | 34980
44110 | Chester County, Tennessee | 44 | 27180
44120 | Claiborne County, Tennessee | 44 | 44
44130 | Clay County, Tennessee | 44 | 44
44140 | Cocke County, Tennessee | 44 | 44
44150 | Coffee County, Tennessee | 44 | 44
44160 | Crockett County, Tennessee | 44 | 44
44170 | Cumberland County, Tennessee | 44 | 44
44180 | Davidson County, Tennessee | 5360 | 34980
44190 | Decatur County, Tennessee | 44 | 44
44200 | De Kalb County, Tennessee | 44 | 44
44210 | Dickson County, Tennessee | 5360 | 34980
44220 | Dyer County, Tennessee | 44 | 44
44230 | Fayette County, Tennessee | 44 | 32820
44240 | Fentress County, Tennessee | 44 | 44
44250 | Franklin County, Tennessee | 44 | 44
44260 | Gibson County, Tennessee | 44 | 44
44270 | Giles County, Tennessee | 44 | 44
44280 | Grainger County, Tennessee | 3840 | 34100
44290 | Greene County, Tennessee | 44 | 44
44300 | Grundy County, Tennessee | 44 | 44
44310 | Hamblen County, Tennessee | 44 | 34100
44320 | Hamilton County, Tennessee | 1560 | 16860
44330 | Hancock County, Tennessee | 44 | 44
44340 | Hardeman County, Tennessee | 44 | 44
44350 | Hardin County, Tennessee | 44 | 44
44360 | Hawkins County, Tennessee | 3660 | 28700
44370 | Haywood County, Tennessee | 44 | 44
44380 | Henderson County, Tennessee | 44 | 44
44390 | Henry County, Tennessee | 44 | 44
44400 | Hickman County, Tennessee | 44 | 34980
44410 | Houston County, Tennessee | 44 | 44
44420 | Humphreys County, Tennessee | 44 | 44
44430 | Jackson County, Tennessee | 44 | 44
44440 | Jefferson County, Tennessee | 3840 | 34100
44450 | Johnson County, Tennessee | 44 | 44
44460 | Knox County, Tennessee | 3840 | 28940
44470 | Lake County, Tennessee | 44 | 44
44480 | Lauderdale County, Tennessee | 44 | 44
44490 | Lawrence County, Tennessee | 44 | 44
44500 | Lewis County, Tennessee | 44 | 44
44510 | Lincoln County, Tennessee | 44 | 44
44520 | Loudon County, Tennessee | 44 | 28940
44530 | Mc Minn County, Tennessee | 44 | 44
44540 | Mc Nairy County, Tennessee | 44 | 44
44550 | Macon County, Tennessee | 44 | 34980
44560 | Madison County, Tennessee | 3580 | 27180
44570 | Marion County, Tennessee | 1560 | 16860
44580 | Marshall County, Tennessee | 44 | 44
44590 | Maury County, Tennessee | 44 | 44
44600 | Meigs County, Tennessee | 44 | 44
44610 | Monroe County, Tennessee | 44 | 44
44620 | Montgomery County, Tennessee | 1660 | 17300
44630 | Moore County, Tennessee | 44 | 44
44640 | Morgan County, Tennessee | 44 | 44
44650 | Obion County, Tennessee | 44 | 44
44660 | Overton County, Tennessee | 44 | 44
44670 | Perry County, Tennessee | 44 | 44
44680 | Pickett County, Tennessee | 44 | 44
44690 | Polk County, Tennessee | 44 | 17420
44700 | Putnam County, Tennessee | 44 | 44
44710 | Rhea County, Tennessee | 44 | 44
44720 | Roane County, Tennessee | 44 | 44
44730 | Robertson County, Tennessee | 5360 | 34980
44740 | Rutherford County, Tennessee | 5360 | 34980
44750 | Scott County, Tennessee | 44 | 44
44760 | Sequatchie County, Tennessee | 1560 | 16860
44770 | Sevier County, Tennessee | 3840 | 44
44780 | Shelby County, Tennessee | 4920 | 32820
44790 | Smith County, Tennessee | 44 | 34980
44800 | Stewart County, Tennessee | 44 | 17300
44810 | Sullivan County, Tennessee | 3660 | 28700
44820 | Sumner County, Tennessee | 5360 | 34980
44830 | Tipton County, Tennessee | 4920 | 32820
44840 | Trousdale County, Tennessee | 44 | 34980
44850 | Unicoi County, Tennessee | 3660 | 27740
44860 | Union County, Tennessee | 3840 | 28940
44870 | Van Buren County, Tennessee | 44 | 44
44880 | Warren County, Tennessee | 44 | 44
44890 | Washington County, Tennessee | 3660 | 27740
44900 | Wayne County, Tennessee | 44 | 44
44910 | Weakley County, Tennessee | 44 | 44
44920 | White County, Tennessee | 44 | 44
44930 | Williamson County, Tennessee | 5360 | 34980
44940 | Wilson County, Tennessee | 5360 | 34980
45000 | Anderson County, Texas | 45 | 45
45010 | Andrews County, Texas | 45 | 45
45020 | Angelina County, Texas | 45 | 45
45030 | Aransas County, Texas | 45 | 18580
45040 | Archer County, Texas | 9080 | 48660
45050 | Armstrong County, Texas | 45 | 11100
45060 | Atascosa County, Texas | 45 | 41700
45070 | Austin County, Texas | 45 | 26420
45080 | Bailey County, Texas | 45 | 45
45090 | Bandera County, Texas | 45 | 41700
45100 | Bastrop County, Texas | 0640 | 12420
45110 | Baylor County, Texas | 45 | 45
45113 | Bee County, Texas | 45 | 45
45120 | Bell County, Texas | 3810 | 28660
45130 | Bexar County, Texas | 7240 | 41700
45140 | Blanco County, Texas | 45 | 45
45150 | Borden County, Texas | 45 | 45
45160 | Bosque County, Texas | 45 | 45
45170 | Bowie County, Texas | 8360 | 45500
45180 | Brazoria County, Texas | 1145 | 26420
45190 | Brazos County, Texas | 1260 | 17780
45200 | Brewster County, Texas | 45 | 45
45201 | Briscoe County, Texas | 45 | 45
45210 | Brooks County, Texas | 45 | 45
45220 | Brown County, Texas | 45 | 45
45221 | Burleson County, Texas | 45 | 17780
45222 | Burnet County, Texas | 45 | 45
45223 | Caldwell County, Texas | 45 | 12420
45224 | Calhoun County, Texas | 45 | 47020
45230 | Callahan County, Texas | 45 | 10180
45240 | Cameron County, Texas | 1240 | 15180
45250 | Camp County, Texas | 45 | 45
45251 | Carson County, Texas | 45 | 11100
45260 | Cass County, Texas | 45 | 45
45270 | Castro County, Texas | 45 | 45
45280 | Chambers County, Texas | 45 | 26420
45281 | Cherokee County, Texas | 45 | 45
45290 | Childress County, Texas | 45 | 45
45291 | Clay County, Texas | 45 | 48660
45292 | Cochran County, Texas | 45 | 45
45300 | Coke County, Texas | 45 | 45
45301 | Coleman County, Texas | 45 | 45
45310 | Collin County, Texas | 1920 | 19124
45311 | Collingsworth County, Texas | 45 | 45
45312 | Colorado County, Texas | 45 | 45
45320 | Comal County, Texas | 7240 | 41700
45321 | Comanche County, Texas | 45 | 45
45330 | Concho County, Texas | 45 | 45
45340 | Cooke County, Texas | 45 | 45
45341 | Coryell County, Texas | 3810 | 28660
45350 | Cottle County, Texas | 45 | 45
45360 | Crane County, Texas | 45 | 45
45361 | Crockett County, Texas | 45 | 45
45362 | Crosby County, Texas | 45 | 31180
45370 | Culberson County, Texas | 45 | 45
45380 | Dallam County, Texas | 45 | 45
45390 | Dallas County, Texas | 1920 | 19124
45391 | Dawson County, Texas | 45 | 45
45392 | Deaf Smith County, Texas | 45 | 45
45400 | Delta County, Texas | 45 | 19124
45410 | Denton County, Texas | 1920 | 19124
45420 | De Witt County, Texas | 45 | 45
45421 | Dickens County, Texas | 45 | 45
45430 | Dimmit County, Texas | 45 | 45
45431 | Donley County, Texas | 45 | 45
45440 | Duval County, Texas | 45 | 45
45450 | Eastland County, Texas | 45 | 45
45451 | Ector County, Texas | 5800 | 36220
45460 | Edwards County, Texas | 45 | 45
45470 | Ellis County, Texas | 1920 | 19124
45480 | El Paso County, Texas | 2320 | 21340
45490 | Erath County, Texas | 45 | 45
45500 | Falls County, Texas | 45 | 45
45510 | Fannin County, Texas | 45 | 45
45511 | Fayette County, Texas | 45 | 45
45520 | Fisher County, Texas | 45 | 45
45521 | Floyd County, Texas | 45 | 45
45522 | Foard County, Texas | 45 | 45
45530 | Fort Bend County, Texas | 3360 | 26420
45531 | Franklin County, Texas | 45 | 45
45540 | Freestone County, Texas | 45 | 45
45541 | Frio County, Texas | 45 | 45
45542 | Gaines County, Texas | 45 | 45
45550 | Galveston County, Texas | 2920 | 26420
45551 | Garza County, Texas | 45 | 45
45552 | Gillespie County, Texas | 45 | 45
45560 | Glasscock County, Texas | 45 | 45
45561 | Goliad County, Texas | 45 | 47020
45562 | Gonzales County, Texas | 45 | 45
45563 | Gray County, Texas | 45 | 45
45564 | Grayson County, Texas | 7640 | 43300
45570 | Gregg County, Texas | 4420 | 30980
45580 | Grimes County, Texas | 45 | 45
45581 | Guadaloupe County, Texas | 7240 | 41700
45582 | Hale County, Texas | 45 | 45
45583 | Hall County, Texas | 45 | 45
45590 | Hamilton County, Texas | 45 | 45
45591 | Hansford County, Texas | 45 | 45
45592 | Hardeman County, Texas | 45 | 45
45600 | Hardin County, Texas | 0840 | 13140
45610 | Harris County, Texas | 3360 | 26420
45620 | Harrison County, Texas | 4420 | 45
45621 | Hartley County, Texas | 45 | 45
45630 | Haskell County, Texas | 45 | 45
45631 | Hays County, Texas | 0640 | 12420
45632 | Hemphill County, Texas | 45 | 45
45640 | Henderson County, Texas | 45 | 45
45650 | Hidalgo County, Texas | 4880 | 32580
45651 | Hill County, Texas | 45 | 45
45652 | Hockley County, Texas | 45 | 45
45653 | Hood County, Texas | 45 | 45
45654 | Hopkins County, Texas | 45 | 45
45660 | Houston County, Texas | 45 | 45
45661 | Howard County, Texas | 45 | 45
45662 | Hudspeth County, Texas | 45 | 45
45670 | Hunt County, Texas | 45 | 19124
45671 | Hutchinson County, Texas | 45 | 45
45672 | Irion County, Texas | 45 | 41660
45680 | Jack County, Texas | 45 | 45
45681 | Jackson County, Texas | 45 | 45
45690 | Jasper County, Texas | 45 | 45
45691 | Jeff Davis County, Texas | 45 | 45
45700 | Jefferson County, Texas | 0840 | 13140
45710 | Jim Hogg County, Texas | 45 | 45
45711 | Jim Wells County, Texas | 45 | 45
45720 | Johnson County, Texas | 2800 | 23104
45721 | Jones County, Texas | 45 | 10180
45722 | Karnes County, Texas | 45 | 45
45730 | Kaufman County, Texas | 1920 | 19124
45731 | Kendall County, Texas | 45 | 41700
45732 | Kenedy County, Texas | 45 | 45
45733 | Kent County, Texas | 45 | 45
45734 | Kerr County, Texas | 45 | 45
45740 | Kimble County, Texas | 45 | 45
45741 | King County, Texas | 45 | 45
45742 | Kinney County, Texas | 45 | 45
45743 | Kleberg County, Texas | 45 | 45
45744 | Knox County, Texas | 45 | 45
45750 | Lamar County, Texas | 45 | 45
45751 | Lamb County, Texas | 45 | 45
45752 | Lampasas County, Texas | 45 | 28660
45753 | La Salle County, Texas | 45 | 45
45754 | Lavaca County, Texas | 45 | 45
45755 | Lee County, Texas | 45 | 45
45756 | Leon County, Texas | 45 | 45
45757 | Liberty County, Texas | 3360 | 26420
45758 | Limestone County, Texas | 45 | 45
45759 | Lipscomb County, Texas | 45 | 45
45760 | Live Oak County, Texas | 45 | 45
45761 | Llano County, Texas | 45 | 45
45762 | Loving County, Texas | 45 | 45
45770 | Lubbock County, Texas | 4600 | 31180
45771 | Lynn County, Texas | 45 | 45
45772 | Mc Culloch County, Texas | 45 | 45
45780 | Mc Lennan County, Texas | 8800 | 47380
45781 | Mc Mullen County, Texas | 45 | 45
45782 | Madison County, Texas | 45 | 45
45783 | Marion County, Texas | 45 | 45
45784 | Martin County, Texas | 45 | 45
45785 | Mason County, Texas | 45 | 45
45790 | Matagorda County, Texas | 45 | 45
45791 | Maverick County, Texas | 45 | 45
45792 | Medina County, Texas | 45 | 41700
45793 | Menard County, Texas | 45 | 45
45794 | Midland County, Texas | 5040 | 33260
45795 | Milam County, Texas | 45 | 45
45796 | Mills County, Texas | 45 | 45
45797 | Mitchell County, Texas | 45 | 45
45800 | Montague County, Texas | 45 | 45
45801 | Montgomery County, Texas | 3360 | 26420
45802 | Moore County, Texas | 45 | 45
45803 | Morris County, Texas | 45 | 45
45804 | Motley County, Texas | 45 | 45
45810 | Nacogdoches County, Texas | 45 | 45
45820 | Navarro County, Texas | 45 | 45
45821 | Newton County, Texas | 45 | 45
45822 | Nolan County, Texas | 45 | 45
45830 | Nueces County, Texas | 1880 | 18580
45831 | Ochiltree County, Texas | 45 | 45
45832 | Oldham County, Texas | 45 | 45
45840 | Orange County, Texas | 0840 | 13140
45841 | Palo Pinto County, Texas | 45 | 45
45842 | Panola County, Texas | 45 | 45
45843 | Parker County, Texas | 2800 | 23104
45844 | Parmer County, Texas | 45 | 45
45845 | Pecos County, Texas | 45 | 45
45850 | Polk County, Texas | 45 | 45
45860 | Potter County, Texas | 0320 | 11100
45861 | Presidio County, Texas | 45 | 45
45870 | Rains County, Texas | 45 | 45
45871 | Randall County, Texas | 0320 | 11100
45872 | Reagan County, Texas | 45 | 45
45873 | Real County, Texas | 45 | 45
45874 | Red River County, Texas | 45 | 45
45875 | Reeves County, Texas | 45 | 45
45876 | Refugio County, Texas | 45 | 45
45877 | Roberts County, Texas | 45 | 45
45878 | Robertson County, Texas | 45 | 17780
45879 | Rockwall County, Texas | 1920 | 19124
45880 | Runnels County, Texas | 45 | 45
45881 | Rusk County, Texas | 45 | 30980
45882 | Sabine County, Texas | 45 | 45
45883 | San Augustine County, Texas | 45 | 45
45884 | San Jacinto County, Texas | 45 | 26420
45885 | San Patricio County, Texas | 1880 | 18580
45886 | San Saba County, Texas | 45 | 45
45887 | Schleicher County, Texas | 45 | 45
45888 | Scurry County, Texas | 45 | 45
45889 | Shackelford County, Texas | 45 | 45
45890 | Shelby County, Texas | 45 | 45
45891 | Sherman County, Texas | 45 | 45
45892 | Smith County, Texas | 8640 | 46340
45893 | Somervell County, Texas | 45 | 45
45900 | Starr County, Texas | 45 | 45
45901 | Stephens County, Texas | 45 | 45
45902 | Sterling County, Texas | 45 | 45
45903 | Stonewall County, Texas | 45 | 45
45904 | Sutton County, Texas | 45 | 45
45905 | Swisher County, Texas | 45 | 45
45910 | Tarrant County, Texas | 2800 | 23104
45911 | Taylor County, Texas | 0040 | 10180
45912 | Terrell County, Texas | 45 | 45
45913 | Terry County, Texas | 45 | 45
45920 | Throckmorton County, Texas | 45 | 45
45921 | Titus County, Texas | 45 | 45
45930 | Tom Green County, Texas | 7200 | 41660
45940 | Travis County, Texas | 0640 | 12420
45941 | Trinity County, Texas | 45 | 45
45942 | Tyler County, Texas | 45 | 45
45943 | Upshur County, Texas | 45 | 30980
45944 | Upton County, Texas | 45 | 45
45945 | Uvalde County, Texas | 45 | 45
45946 | Val Verde County, Texas | 45 | 45
45947 | Van Zandt County, Texas | 45 | 45
45948 | Victoria County, Texas | 8750 | 47020
45949 | Walker County, Texas | 45 | 45
45950 | Waller County, Texas | 3360 | 26420
45951 | Ward County, Texas | 45 | 45
45952 | Washington County, Texas | 45 | 45
45953 | Webb County, Texas | 4080 | 29700
45954 | Wharton County, Texas | 45 | 45
45955 | Wheeler County, Texas | 45 | 45
45960 | Wichita County, Texas | 9080 | 48660
45961 | Wilbarger County, Texas | 45 | 45
45962 | Willacy County, Texas | 45 | 45
45970 | Williamson County, Texas | 0640 | 12420
45971 | Wilson County, Texas | 45 | 41700
45972 | Winkler County, Texas | 45 | 45
45973 | Wise County, Texas | 45 | 23104
45974 | Wood County, Texas | 45 | 45
45980 | Yoakum County, Texas | 45 | 45
45981 | Young County, Texas | 45 | 45
45982 | Zapata County, Texas | 45 | 45
45983 | Zavala County, Texas | 45 | 45
46000 | Beaver County, Utah | 46 | 46
46010 | Box Elder County, Utah | 46 | 46
46020 | Cache County, Utah | 46 | 30860
46030 | Carbon County, Utah | 46 | 46
46040 | Daggett County, Utah | 46 | 46
46050 | Davis County, Utah | 7160 | 36260
46060 | Duchesne County, Utah | 46 | 46
46070 | Emery County, Utah | 46 | 46
46080 | Garfield County, Utah | 46 | 46
46090 | Grand County, Utah | 46 | 46
46100 | Iron County, Utah | 46 | 46
46110 | Juab County, Utah | 46 | 39340
46120 | Kane County, Utah | 45 | 46
46130 | Millard County, Utah | 46 | 46
46140 | Morgan County, Utah | 46 | 36260
46150 | Piute County, Utah | 46 | 46
46160 | Rich County, Utah | 46 | 46
46170 | Salt Lake County, Utah | 7160 | 41620
46180 | San Juan County, Utah | 46 | 46
46190 | Sanpete County, Utah | 46 | 46
46200 | Sevier County, Utah | 46 | 46
46210 | Summit County, Utah | 46 | 41620
46220 | Tooele County, Utah | 46 | 41620
46230 | Uintah County, Utah | 46 | 46
46240 | Utah County, Utah | 6520 | 39340
46250 | Wasatch County, Utah | 46 | 46
46260 | Washington County, Utah | 46 | 41100
46270 | Wayne County, Utah | 46 | 46
46280 | Weber County, Utah | 7160 | 36260
47000 | Addison County, Vermont | 47 | 47
47010 | Bennington County, Vermont | 47 | 47
47020 | Caledonia County, Vermont | 47 | 47
47030 | Chittenden County, Vermont | 1303 | 15540
47040 | Essex County, Vermont | 47 | 47
47050 | Franklin County, Vermont | 47 | 15540
47060 | Grand Isle County, Vermont | 1303 | 15540
47070 | Lamoille County, Vermont | 47 | 47
47080 | Orange County, Vermont | 47 | 47
47090 | Orleans County, Vermont | 47 | 47
47100 | Rutland County, Vermont | 47 | 47
47110 | Washington County, Vermont | 47 | 47
47120 | Windham County, Vermont | 47 | 47
47130 | Windsor County, Vermont | 47 | 47
49000 | Accomack County, Virginia | 49 | 49
49010 | Albemarle County, Virginia | 1540 | 16820
49011 | Alexandria City County, Virginia | 8840 | 47894
49020 | Alleghany County, Virginia | 49 | 49
49030 | Amelia County, Virginia | 49 | 40060
49040 | Amherst County, Virginia | 4640 | 31340
49050 | Appomattox County, Virginia | 49 | 31340
49060 | Arlington County, Virginia | 8840 | 47894
49070 | Augusta County, Virginia | 49 | 49
49080 | Bath County, Virginia | 49 | 49
49088 | Bedford City County, Virginia | 49 | 31340
49090 | Bedford County, Virginia | 49 | 31340
49100 | Bland County, Virginia | 49 | 49
49110 | Botetourt County, Virginia | 6800 | 40220
49111 | Bristol City County, Virginia | 3660 | 28700
49120 | Brunswick County, Virginia | 49 | 49
49130 | Buchanan County, Virginia | 49 | 49
49140 | Buckingham County, Virginia | 49 | 49
49141 | Buena Vista City County, Virginia | 49 | 49
49150 | Campbell County, Virginia | 4640 | 31340
49160 | Caroline County, Virginia | 49 | 40060
49170 | Carroll County, Virginia | 49 | 49
49180 | Charles City County, Virginia | 6760 | 40060
49190 | Charlotte County, Virginia | 49 | 49
49191 | Charlottesville City County, Virginia | 1540 | 16820
49194 | Chesapeake County, Virginia | 5720 | 47260
49200 | Chesterfield County, Virginia | 6760 | 40060
49210 | Clarke County, Virginia | 49 | 47894
49211 | Clifton Forge City County, Virginia | 49 | 49
49212 | Colonial Heights County, Virginia | 6760 | 40060
49213 | Covington City County, Virginia | 49 | 49
49220 | Craig County, Virginia | 49 | 40220
49230 | Culpeper County, Virginia | 49 | 49
49240 | Cumberland County, Virginia | 49 | 40060
49241 | Danville City County, Virginia | 1950 | 19260
49250 | Dickenson County, Virginia | 49 | 49
49260 | Dinniddie County, Virginia | 6760 | 40060
49270 | Emporia County, Virginia | 49 | 49
49280 | Essex County, Virginia | 49 | 49
49288 | Fairfax City County, Virginia | 8840 | 47894
49290 | Fairfax County, Virginia | 8840 | 47894
49291 | Falls Church City County, Virginia | 8840 | 47894
49300 | Fauquier County, Virginia | 49 | 47894
49310 | Floyd County, Virginia | 49 | 49
49320 | Fluvanna County, Virginia | 1540 | 16820
49328 | Franklin City County, Virginia | 49 | 49
49330 | Franklin County, Virginia | 49 | 40220
49340 | Frederick County, Virginia | 49 | 49020
49342 | Fredericksburg City County, Virginia | 49 | 47894
49343 | Galax City County, Virginia | 49 | 49
49350 | Giles County, Virginia | 49 | 13980
49360 | Gloucester County, Virginia | 5720 | 47260
49370 | Goochland County, Virginia | 6760 | 40060
49380 | Grayson County, Virginia | 49 | 49
49390 | Greene County, Virginia | 1540 | 16820
49400 | Greensville County, Virginia | 49 | 49
49410 | Halifax County, Virginia | 49 | 49
49411 | Hampton City County, Virginia | 5720 | 47260
49420 | Hanover County, Virginia | 6760 | 40060
49421 | Harrisonburg City County, Virginia | 49 | 25500
49430 | Henrico County, Virginia | 6760 | 40060
49440 | Henry County, Virginia | 49 | 49
49450 | Highland County, Virginia | 49 | 49
49451 | Hopewell City County, Virginia | 6760 | 40060
49460 | Isle Of Wight County, Virginia | 49 | 47260
49470 | James City Co County, Virginia | 5720 | 47260
49480 | King And Queen County, Virginia | 49 | 40060
49490 | King George County, Virginia | 49 | 49
49500 | King William County, Virginia | 49 | 40060
49510 | Lancaster County, Virginia | 49 | 49
49520 | Lee County, Virginia | 49 | 49
49522 | Lexington County, Virginia | 49 | 49
49530 | Loudoun County, Virginia | 8840 | 47894
49540 | Louisa County, Virginia | 49 | 40060
49550 | Lunenburg County, Virginia | 49 | 49
49551 | Lynchburg City County, Virginia | 4640 | 31340
49560 | Madison County, Virginia | 49 | 49
49561 | Martinsville City County, Virginia | 49 | 49
49563 | Manassas City County, Virginia | 8840 | 47894
49565 | Manassas Park City County, Virginia | 8840 | 47894
49570 | Mathews County, Virginia | 49 | 47260
49580 | Mecklenburg County, Virginia | 49 | 49
49590 | Middlesex County, Virginia | 49 | 49
49600 | Montgomery County, Virginia | 49 | 13980
49610 | Nansemond County, Virginia | 49 | 49
49620 | Nelson County, Virginia | 49 | 16820
49621 | New Kent County, Virginia | 6760 | 40060
49622 | Newport News City County, Virginia | 5720 | 47260
49641 | Norfolk City County, Virginia | 5720 | 47260
49650 | Northampton County, Virginia | 49 | 49
49660 | Northumberland County, Virginia | 49 | 49
49661 | Norton City County, Virginia | 49 | 49
49670 | Nottoway County, Virginia | 49 | 49
49680 | Orange County, Virginia | 49 | 49
49690 | Page County, Virginia | 49 | 49
49700 | Patrick County, Virginia | 49 | 49
49701 | Petersburg City County, Virginia | 6760 | 40060
49710 | Pittsylvania County, Virginia | 1950 | 19260
49711 | Portsmouth City County, Virginia | 5720 | 47260
49712 | Poquoson City County, Virginia | 5720 | 47260
49720 | Powhatan County, Virginia | 6760 | 40060
49730 | Prince Edward County, Virginia | 49 | 49
49740 | Prince George County, Virginia | 6760 | 40060
49750 | Prince William County, Virginia | 8840 | 47894
49770 | Pulaski County, Virginia | 49 | 13980
49771 | Radford City County, Virginia | 49 | 13980
49780 | Rappahannock County, Virginia | 49 | 49
49790 | Richmond County, Virginia | 49 | 49
49791 | Richmond City County, Virginia | 6760 | 40060
49800 | Roanoke County, Virginia | 6800 | 40220
49801 | Roanoke City County, Virginia | 6800 | 40220
49810 | Rockbridge County, Virginia | 49 | 49
49820 | Rockingham County, Virginia | 49 | 25500
49830 | Russell County, Virginia | 49 | 49
49838 | Salem County, Virginia | 6800 | 40220
49840 | Scott County, Virginia | 3660 | 28700
49850 | Shenandoah County, Virginia | 49 | 49
49860 | Smyth County, Virginia | 49 | 49
49867 | South Boston City County, Virginia | 49 | 49
49870 | Southampton County, Virginia | 49 | 49
49880 | Spotsylvania County, Virginia | 49 | 47894
49890 | Stafford County, Virginia | 8840 | 47894
49891 | Staunton City County, Virginia | 49 | 49
49892 | Suffolk City County, Virginia | 5720 | 47260
49900 | Surry County, Virginia | 49 | 47260
49910 | Sussex County, Virginia | 49 | 40060
49920 | Tazewell County, Virginia | 49 | 49
49921 | Virginia Beach City County, Virginia | 5720 | 47260
49930 | Warren County, Virginia | 49 | 47894
49950 | Washington County, Virginia | 3660 | 28700
49951 | Waynesboro City County, Virginia | 49 | 49
49960 | Westmoreland County, Virginia | 49 | 49
49961 | Williamsburg City County, Virginia | 5720 | 47260
49962 | Winchester City County, Virginia | 49 | 49020
49970 | Wise County, Virginia | 49 | 49
49980 | Wythe County, Virginia | 49 | 49
49981 | York County, Virginia | 5720 | 47260
50000 | Adams County, Washington | 50 | 50
50010 | Asotin County, Washington | 50 | 30300
50020 | Benton County, Washington | 6740 | 28420
50030 | Chelan County, Washington | 50 | 48300
50040 | Clallam County, Washington | 50 | 50
50050 | Clark County, Washington | 8725 | 38900
50060 | Columbia County, Washington | 50 | 50
50070 | Cowlitz County, Washington | 50 | 31020
50080 | Douglas County, Washington | 50 | 48300
50090 | Ferry County, Washington | 50 | 50
50100 | Franklin County, Washington | 6740 | 28420
50110 | Garfield County, Washington | 50 | 50
50120 | Grant County, Washington | 50 | 50
50130 | Grays Harbor County, Washington | 50 | 50
50140 | Island County, Washington | 50 | 50
50150 | Jefferson County, Washington | 50 | 50
50160 | King County, Washington | 7600 | 42644
50170 | Kitsap County, Washington | 1150 | 14740
50180 | Kittitas County, Washington | 50 | 50
50190 | Klickitat County, Washington | 50 | 50
50200 | Lewis County, Washington | 50 | 50
50210 | Lincoln County, Washington | 50 | 50
50220 | Mason County, Washington | 50 | 50
50230 | Okanogan County, Washington | 50 | 50
50240 | Pacific County, Washington | 50 | 50
50250 | Pend Oreille County, Washington | 50 | 50
50260 | Pierce County, Washington | 8200 | 45104
50270 | San Juan County, Washington | 50 | 50
50280 | Skagit County, Washington | 50 | 34580
50290 | Skamania County, Washington | 50 | 38900
50300 | Snohomish County, Washington | 7600 | 42644
50310 | Spokane County, Washington | 7840 | 44060
50320 | Stevens County, Washington | 50 | 50
50330 | Thurston County, Washington | 5910 | 36500
50340 | Wahkiakum County, Washington | 50 | 50
50350 | Walla Walla County, Washington | 50 | 50
50360 | Whatcom County, Washington | 0860 | 13380
50370 | Whitman County, Washington | 50 | 50
50380 | Yakima County, Washington | 9260 | 49420
51000 | Barbour County, W Virginia | 51 | 51
51010 | Berkeley County, W Virginia | 51 | 25180
51020 | Boone County, W Virginia | 51 | 16620
51030 | Braxton County, W Virginia | 51 | 51
51040 | Brooke County, W Virginia | 8080 | 48260
51050 | Cabell County, W Virginia | 3400 | 26580
51060 | Calhoun County, W Virginia | 51 | 51
51070 | Clay County, W Virginia | 51 | 16620
51080 | Doddridge County, W Virginia | 51 | 51
51090 | Fayette County, W Virginia | 51 | 51
51100 | Gilmer County, W Virginia | 51 | 51
51110 | Grant County, W Virginia | 51 | 51
51120 | Greenbrier County, W Virginia | 51 | 51
51130 | Hampshire County, W Virginia | 51 | 49020
51140 | Hancock County, W Virginia | 8080 | 48260
51150 | Hardy County, W Virginia | 51 | 51
51160 | Harrison County, W Virginia | 51 | 51
51170 | Jackson County, W Virginia | 51 | 51
51180 | Jefferson County, W Virginia | 51 | 47894
51190 | Kanawha County, W Virginia | 1480 | 16620
51200 | Lewis County, W Virginia | 51 | 51
51210 | Lincoln County, W Virginia | 51 | 16620
51220 | Logan County, W Virginia | 51 | 51
51230 | Mc Dowell County, W Virginia | 51 | 51
51240 | Marion County, W Virginia | 51 | 51
51250 | Marshall County, W Virginia | 9000 | 48540
51260 | Mason County, W Virginia | 51 | 51
51270 | Mercer County, W Virginia | 51 | 51
51280 | Mineral County, W Virginia | 1900 | 19060
51290 | Mingo County, W Virginia | 51 | 51
51300 | Monongalia County, W Virginia | 51 | 34060
51310 | Monroe County, W Virginia | 51 | 51
51320 | Morgan County, W Virginia | 51 | 25180
51330 | Nicholas County, W Virginia | 51 | 51
51340 | Ohio County, W Virginia | 9000 | 48540
51350 | Pendleton County, W Virginia | 51 | 51
51360 | Pleasants County, W Virginia | 51 | 37620
51370 | Pocahontas County, W Virginia | 51 | 51
51380 | Preston County, W Virginia | 51 | 34060
51390 | Putnam County, W Virginia | 1480 | 16620
51400 | Raleigh County, W Virginia | 51 | 51
51410 | Randolph County, W Virginia | 51 | 51
51420 | Ritchie County, W Virginia | 51 | 51
51430 | Roane County, W Virginia | 51 | 51
51440 | Summers County, W Virginia | 51 | 51
51450 | Taylor County, W Virginia | 51 | 51
51460 | Tucker County, W Virginia | 51 | 51
51470 | Tyler County, W Virginia | 51 | 51
51480 | Upshur County, W Virginia | 51 | 51
51490 | Wayne County, W Virginia | 3400 | 26580
51500 | Webster County, W Virginia | 51 | 51
51510 | Wetzel County, W Virginia | 51 | 51
51520 | Wirt County, W Virginia | 51 | 37620
51530 | Wood County, W Virginia | 6020 | 37620
51540 | Wyoming County, W Virginia | 51 | 51
52000 | Adams County, Wisconsin | 52 | 52
52010 | Ashland County, Wisconsin | 52 | 52
52020 | Barron County, Wisconsin | 52 | 52
52030 | Bayfield County, Wisconsin | 52 | 52
52040 | Brown County, Wisconsin | 3080 | 24580
52050 | Buffalo County, Wisconsin | 52 | 52
52060 | Burnett County, Wisconsin | 52 | 52
52070 | Calumet County, Wisconsin | 0460 | 11540
52080 | Chippewa County, Wisconsin | 2290 | 20740
52090 | Clark County, Wisconsin | 52 | 52
52100 | Columbia County, Wisconsin | 52 | 31540
52110 | Crawford County, Wisconsin | 52 | 52
52120 | Dane County, Wisconsin | 4720 | 31540
52130 | Dodge County, Wisconsin | 52 | 52
52140 | Door County, Wisconsin | 52 | 52
52150 | Douglas County, Wisconsin | 2240 | 20260
52160 | Dunn County, Wisconsin | 52 | 52
52170 | Eau Claire County, Wisconsin | 2290 | 20740
52180 | Florence County, Wisconsin | 52 | 52
52190 | Fond Du Lac County, Wisconsin | 52 | 22540
52200 | Forest County, Wisconsin | 52 | 52
52210 | Grant County, Wisconsin | 52 | 52
52220 | Green County, Wisconsin | 52 | 52
52230 | Green Lake County, Wisconsin | 52 | 52
52240 | Iowa County, Wisconsin | 52 | 31540
52250 | Iron County, Wisconsin | 52 | 52
52260 | Jackson County, Wisconsin | 52 | 52
52270 | Jefferson County, Wisconsin | 52 | 52
52280 | Juneau County, Wisconsin | 52 | 52
52290 | Kenosha County, Wisconsin | 3800 | 29404
52300 | Kewaunee County, Wisconsin | 52 | 24580
52310 | La Crosse County, Wisconsin | 3870 | 29100
52320 | Lafayette County, Wisconsin | 3880 | 52
52330 | Langlade County, Wisconsin | 52 | 52
52340 | Lincoln County, Wisconsin | 52 | 52
52350 | Manitowoc County, Wisconsin | 52 | 52
52360 | Marathon County, Wisconsin | 8940 | 48140
52370 | Marinette County, Wisconsin | 52 | 52
52380 | Marquette County, Wisconsin | 52 | 52
52381 | Menominee County, Wisconsin | 52 | 52
52390 | Milwaukee County, Wisconsin | 5080 | 33340
52400 | Monroe County, Wisconsin | 52 | 52
52410 | Oconto County, Wisconsin | 52 | 24580
52420 | Oneida County, Wisconsin | 52 | 52
52430 | Outagamie County, Wisconsin | 0460 | 11540
52440 | Ozaukee County, Wisconsin | 5080 | 33340
52450 | Pepin County, Wisconsin | 52 | 52
52460 | Pierce County, Wisconsin | 52 | 33460
52470 | Polk County, Wisconsin | 52 | 52
52480 | Portage County, Wisconsin | 52 | 52
52490 | Price County, Wisconsin | 52 | 52
52500 | Racine County, Wisconsin | 6600 | 39540
52510 | Richland County, Wisconsin | 52 | 52
52520 | Rock County, Wisconsin | 3620 | 27500
52530 | Rusk County, Wisconsin | 52 | 52
52540 | St Croix County, Wisconsin | 5120 | 33460
52550 | Sauk County, Wisconsin | 52 | 52
52560 | Sawyer County, Wisconsin | 52 | 52
52570 | Shawano County, Wisconsin | 52 | 52
52580 | Sheboygan County, Wisconsin | 7620 | 43100
52590 | Taylor County, Wisconsin | 52 | 52
52600 | Trempealeau County, Wisconsin | 52 | 52
52610 | Vernon County, Wisconsin | 52 | 52
52620 | Vilas County, Wisconsin | 52 | 52
52630 | Walworth County, Wisconsin | 52 | 52
52640 | Washburn County, Wisconsin | 52 | 52
52650 | Washington County, Wisconsin | 5080 | 33340
52660 | Waukesha County, Wisconsin | 5080 | 33340
52670 | Waupaca County, Wisconsin | 52 | 52
52680 | Waushara County, Wisconsin | 52 | 52
52690 | Winnebago County, Wisconsin | 0460 | 36780
52700 | Wood County, Wisconsin | 52 | 52
53000 | Albany County, Wyoming | 53 | 53
53010 | Big Horn County, Wyoming | 53 | 53
53020 | Campbell County, Wyoming | 53 | 53
53030 | Carbon County, Wyoming | 53 | 53
53040 | Converse County, Wyoming | 53 | 53
53050 | Crook County, Wyoming | 53 | 53
53060 | Fremont County, Wyoming | 53 | 53
53070 | Goshen County, Wyoming | 53 | 53
53080 | Hot Springs County, Wyoming | 53 | 53
53090 | Johnson County, Wyoming | 53 | 53
53100 | Laramie County, Wyoming | 1580 | 16940
53110 | Lincoln County, Wyoming | 53 | 53
53120 | Natrona County, Wyoming | 1350 | 16220
53130 | Niobrara County, Wyoming | 53 | 53
53140 | Park County, Wyoming | 53 | 53
53150 | Platte County, Wyoming | 53 | 53
53160 | Sheridan County, Wyoming | 53 | 53
53170 | Sublette County, Wyoming | 53 | 53
53180 | Sweetwater County, Wyoming | 53 | 53
53190 | Teton County, Wyoming | 53 | 53
53200 | Uinta County, Wyoming | 53 | 53
53210 | Washakie County, Wyoming | 53 | 53
53220 | Weston County, Wyoming | 53 | 53

——————————

CPT codes and descriptions only are copyright 2005 American Medical Association. All Rights Reserved. Applicable FARS/DFARS Apply.

Addendum G.—List of CPT/HCPCS Codes Used to Describe Nuclear Medicine Designated Health Services Under Section 1877 of the Social Security Act
[Effective January 1, 2006]
CPT/HCPCS Codes | MOD | Description | Status code
78000 |  | Thyroid, single uptake | A
78000 | TC | Thyroid, single uptake | A
78000 | 26 | Thyroid, single uptake | A
78001 |  | Thyroid, multiple uptakes | A
78001 | TC | Thyroid, multiple uptakes | A
78001 | 26 | Thyroid, multiple uptakes | A
78003 |  | Thyroid suppress/stimul | A
78003 | TC | Thyroid suppress/stimul | A
78003 | 26 | Thyroid suppress/stimul | A
78006 |  | Thyroid imaging with uptake | A
78006 | TC | Thyroid imaging with uptake | A
78006 | 26 | Thyroid imaging with uptake | A
78007 |  | Thyroid image, mult uptakes | A
78007 | TC | Thyroid image, mult uptakes | A
78007 | 26 | Thyroid image, mult uptakes | A
78010 |  | Thyroid imaging | A
78010 | TC | Thyroid imaging | A
78010 | 26 | Thyroid imaging | A
78011 |  | Thyroid imaging with flow | A
78011 | TC | Thyroid imaging with flow | A
78011 | 26 | Thyroid imaging with flow | A
78015 |  | Thyroid met imaging | A
78015 | TC | Thyroid met imaging | A
78015 | 26 | Thyroid met imaging | A
78016 |  | Thyroid met imaging/studies | A
78016 | TC | Thyroid met imaging/studies | A
78016 | 26 | Thyroid met imaging/studies | A
78018 |  | Thyroid met imaging, body | A
78018 | TC | Thyroid met imaging, body | A
78018 | 26 | Thyroid met imaging, body | A
78020 |  | Thyroid met uptake | A
78020 | TC | Thyroid met uptake | A
78020 | 26 | Thyroid met uptake | A
78070 |  | Parathyroid nuclear imaging | A
78070 | TC | Parathyroid nuclear imaging | A
78070 | 26 | Parathyroid nuclear imaging | A
78075 |  | Adrenal nuclear imaging | A
78075 | TC | Adrenal nuclear imaging | A
78075 | 26 | Adrenal nuclear imaging | A
78099 |  | Endocrine nuclear procedure | C
78099 | TC | Endocrine nuclear procedure | C
78099 | 26 | Endocrine nuclear procedure | C
78102 |  | Bone marrow imaging, ltd | A
78102 | TC | Bone marrow imaging, ltd | A
78102 | 26 | Bone marrow imaging, ltd | A
78103 |  | Bone marrow imaging, mult | A
78103 | TC | Bone marrow imaging, mult | A
78103 | 26 | Bone marrow imaging, mult | A
78104 |  | Bone marrow imaging, body | A
78104 | TC | Bone marrow imaging, body | A
78104 | 26 | Bone marrow imaging, body | A
78110 |  | Plasma volume, single | A
78110 | TC | Plasma volume, single | A
78110 | 26 | Plasma volume, single | A
78111 |  | Plasma volume, multiple | A
78111 | TC | Plasma volume, multiple | A
78111 | 26 | Plasma volume, multiple | A
78120 |  | Red cell mass, single | A
78120 | TC | Red cell mass, single | A
78120 | 26 | Red cell mass, single | A
78121 |  | Red cell mass, multiple | A
78121 | TC | Red cell mass, multiple | A
78121 | 26 | Red cell mass, multiple | A
78122 |  | Blood volume | A
78122 | TC | Blood volume | A
78122 | 26 | Blood volume | A
78130 |  | Red cell survival study | A
78130 | TC | Red cell survival study | A
78130 | 26 | Red cell survival study | A
78135 |  | Red cell survival kinetics | A
78135 | TC | Red cell survival kinetics | A
78135 | 26 | Red cell survival kinetics | A
78140 |  | Red cell sequestration | A
78140 | TC | Red cell sequestration | A
78140 | 26 | Red cell sequestration | A
78160 |  | Plasma iron turnover | A
78160 | TC | Plasma iron turnover | A
78160 | 26 | Plasma iron turnover | A
78162 |  | Radioiron absorption exam | A
78162 | TC | Radioiron absorption exam | A
78162 | 26 | Radioiron absorption exam | A
78170 |  | Red cell iron utilization | A
78170 | TC | Red cell iron utilization | A
78170 | 26 | Red cell iron utilization | A
78172 |  | Total body iron estimation | C
78172 | TC | Total body iron estimation | C
78172 | 26 | Total body iron estimation | A
78185 |  | Spleen imaging | A
78185 | TC | Spleen imaging | A
78185 | 26 | Spleen imaging | A
78190 |  | Platelet survival, kinetics | A
78190 | TC | Platelet survival, kinetics | A
78190 | 26 | Platelet survival, kinetics | A
78191 |  | Platelet survival | A
78191 | TC | Platelet survival | A
78191 | 26 | Platelet survival | A
78195 |  | Lymph system imaging | A
78195 | TC | Lymph system imaging | A
78195 | 26 | Lymph system imaging | A
78199 |  | Blood/lymph nuclear exam | C
78199 | TC | Blood/lymph nuclear exam | C
78199 | 26 | Blood/lymph nuclear exam | C
78201 |  | Liver imaging | A
78201 | TC | Liver imaging | A
78201 | 26 | Liver imaging | A
78202 |  | Liver imaging with flow | A
78202 | TC | Liver imaging with flow | A
78202 | 26 | Liver imaging with flow | A
78205 |  | Liver imaging (3D) | A
78205 | TC | Liver imaging (3D) | A
78205 | 26 | Liver imaging (3D) | A
78206 |  | Liver image (3d) with flow | A
78206 | TC | Liver image (3d) with flow | A
78206 | 26 | Liver image (3d) with flow | A
78215 |  | Liver and spleen imaging | A
78215 | TC | Liver and spleen imaging | A
78215 | 26 | Liver and spleen imaging | A
78216 |  | Liver & spleen image/flow | A
78216 | TC | Liver & spleen image/flow | A
78216 | 26 | Liver & spleen image/flow | A
78220 |  | Liver function study | A
78220 | TC | Liver function study | A
78220 | 26 | Liver function study | A
78223 |  | Hepatobiliary imaging | A
78223 | TC | Hepatobiliary imaging | A
78223 | 26 | Hepatobiliary imaging | A
78230 |  | Salivary gland imaging | A
78230 | TC | Salivary gland imaging | A
78230 | 26 | Salivary gland imaging | A
78231 |  | Serial salivary imaging | A
78231 | TC | Serial salivary imaging | A
78231 | 26 | Serial salivary imaging | A
78232 |  | Salivary gland function exam | A
78232 | TC | Salivary gland function exam | A
78232 | 26 | Salivary gland function exam | A
78258 |  | Esophageal motility study | A
78258 | TC | Esophageal motility study | A
78258 | 26 | Esophageal motility study | A
78261 |  | Gastric mucosa imaging | A
78261 | TC | Gastric mucosa imaging | A
78261 | 26 | Gastric mucosa imaging | A
78262 |  | Gastroesophageal reflux exam | A
78262 | TC | Gastroesophageal reflux exam | A
78262 | 26 | Gastroesophageal reflux exam | A
78264 |  | Gastric emptying study | A
78264 | TC | Gastric emptying study | A
78264 | 26 | Gastric emptying study | A
78270 |  | Vit B-12 absorption exam | A
78270 | TC | Vit B-12 absorption exam | A
78270 | 26 | Vit B-12 absorption exam | A
78271 |  | Vit b-12 absrp exam, int fac | A
78271 | TC | Vit b-12 absrp exam, int fac | A
78271 | 26 | Vit b-12 absrp exam, int fac | A
78272 |  | Vit B-12 absorp, combined | A
78272 | TC | Vit B-12 absorp, combined | A
78272 | 26 | Vit B-12 absorp, combined | A
78278 |  | Acute GI blood loss imaging | A
78278 | TC | Acute GI blood loss imaging | A
78278 | 26 | Acute GI blood loss imaging | A
78282 |  | GI protein loss exam | C
78282 | TC | GI protein loss exam | C
78282 | 26 | GI protein loss exam | A
78290 |  | Meckel's divert exam | A
78290 | TC | Meckel's divert exam | A
78290 | 26 | Meckel's divert exam | A
78291 |  | Leveen/shunt patency exam | A
78291 | TC | Leveen/shunt patency exam | A
78291 | 26 | Leveen/shunt patency exam | A
78299 |  | GI nuclear procedure | C
78299 | TC | GI nuclear procedure | C
78299 | 26 | GI nuclear procedure | C
78300 |  | Bone imaging, limited area | A
78300 | TC | Bone imaging, limited area | A
78300 | 26 | Bone imaging, limited area | A
78305 |  | Bone imaging, multiple areas | A
78305 | TC | Bone imaging, multiple areas | A
78305 | 26 | Bone imaging, multiple areas | A
78306 |  | Bone imaging, whole body | A
78306 | TC | Bone imaging, whole body | A
78306 | 26 | Bone imaging, whole body | A
78315 |  | Bone imaging, 3 phase | A
78315 | TC | Bone imaging, 3 phase | A
78315 | 26 | Bone imaging, 3 phase | A
78320 |  | Bone imaging (3D) | A
78320 | TC | Bone imaging (3D) | A
78320 | 26 | Bone imaging (3D) | A
78350 |  | Bone mineral, single photon | A
78350 | TC | Bone mineral, single photon | A
78350 | 26 | Bone mineral, single photon | A
78351 |  | Bone mineral, dual photon | N
78399 |  | Musculoskeletal nuclear exam | C
78399 | TC | Musculoskeletal nuclear exam | C
78399 | 26 | Musculoskeletal nuclear exam | C
78414 |  | Non-imaging heart function | C
78414 | TC | Non-imaging heart function | C
78414 | 26 | Non-imaging heart function | A
78428 |  | Cardiac shunt imaging | A
78428 | TC | Cardiac shunt imaging | A
78428 | 26 | Cardiac shunt imaging | A
78445 |  | Vascular flow imaging | A
78445 | TC | Vascular flow imaging | A
78445 | 26 | Vascular flow imaging | A
78455 |  | Venous thrombosis study | A
78455 | TC | Venous thrombosis study | A
78455 | 26 | Venous thrombosis study | A
78456 |  | Acute venous thrombus image | A
78456 | TC | Acute venous thrombus image | A
78456 | 26 | Acute venous thrombus image | A
78457 |  | Venous thrombosis imaging | A
78457 | TC | Venous thrombosis imaging | A
78457 | 26 | Venous thrombosis imaging | A
78458 |  | Ven thrombosis images, bilat | A
78458 | TC | Ven thrombosis images, bilat | A
78458 | 26 | Ven thrombosis images, bilat | A
78459 |  | Heart muscle imaging (PET) | C
78459 | TC | Heart muscle imaging (PET) | C
78459 | 26 | Heart muscle imaging (PET) | A
78460 |  | Heart muscle blood, single | A
78460 | TC | Heart muscle blood, single | A
78460 | 26 | Heart muscle blood, single | A
78461 |  | Heart muscle blood, multiple | A
78461 | TC | Heart muscle blood, multiple | A
78461 | 26 | Heart muscle blood, multiple | A
78464 |  | Heart image (3d), single | A
78464 | TC | Heart image (3d), single | A
78464 | 26 | Heart image (3d), single | A
78465 |  | Heart image (3d), multiple | A
78465 | TC | Heart image (3d), multiple | A
78465 | 26 | Heart image (3d), multiple | A
78466 |  | Heart infarct image | A
78466 | TC | Heart infarct image | A
78466 | 26 | Heart infarct image | A
78468 |  | Heart infarct image (ef) | A
78468 | TC | Heart infarct image (ef) | A
78468 | 26 | Heart infarct image (ef) | A
78469 |  | Heart infarct image (3D) | A
78469 | TC | Heart infarct image (3D) | A
78469 | 26 | Heart infarct image (3D) | A
78472 |  | Gated heart, planar, single | A
78472 | TC | Gated heart, planar, single | A
78472 | 26 | Gated heart, planar, single | A
78473 |  | Gated heart, multiple | A
78473 | TC | Gated heart, multiple | A
78473 | 26 | Gated heart, multiple | A
78478 |  | Heart wall motion add-on | A
78478 | TC | Heart wall motion add-on | A
78478 | 26 | Heart wall motion add-on | A
78480 |  | Heart function add-on | A
78480 | TC | Heart function add-on | A
78480 | 26 | Heart function add-on | A
78481 |  | Heart first pass, single | A
78481 | TC | Heart first pass, single | A
78481 | 26 | Heart first pass, single | A
78483 |  | Heart first pass, multiple | A
78483 | TC | Heart first pass, multiple | A
78483 | 26 | Heart first pass, multiple | A
78491 |  | Heart image (pet), single | C
78491 | TC | Heart image (pet), single | C
78491 | 26 | Heart image (pet), single | A
78492 |  | Heart image (pet), multiple | C
78492 | TC | Heart image (pet), multiple | C
78492 | 26 | Heart image (pet), multiple | A
78494 |  | Heart image, spect | A
78494 | TC | Heart image, spect | A
78494 | 26 | Heart image, spect | A
78496 |  | Heart first pass add-on | A
78496 | TC | Heart first pass add-on | A
78496 | 26 | Heart first pass add-on | A
78499 |  | Cardiovascular nuclear exam | C
78499 | TC | Cardiovascular nuclear exam | C
78499 | 26 | Cardiovascular nuclear exam | C
78580 |  | Lung perfusion imaging | A
78580 | TC | Lung perfusion imaging | A
78580 | 26 | Lung perfusion imaging | A
78584 |  | Lung V/Q image single breath | A
78584 | TC | Lung V/Q image single breath | A
78584 | 26 | Lung V/Q image single breath | A
78585 |  | Lung V/Q imaging | A
78585 | TC | Lung V/Q imaging | A
78585 | 26 | Lung V/Q imaging | A
78586 |  | Aerosol lung image, single | A
78586 | TC | Aerosol lung image, single | A
78586 | 26 | Aerosol lung image, single | A
78587 |  | Aerosol lung image, multiple | A
78587 | TC | Aerosol lung image, multiple | A
78587 | 26 | Aerosol lung image, multiple | A
78588 |  | Perfusion lung image | A
78588 | TC | Perfusion lung image | A
78588 | 26 | Perfusion lung image | A
78591 |  | Vent image, 1 breath, 1 proj | A
78591 | TC | Vent image, 1 breath, 1 proj | A
78591 | 26 | Vent image, 1 breath, 1 proj | A
78593 |  | Vent image, 1 proj, gas | A
78593 | TC | Vent image, 1 proj, gas | A
78593 | 26 | Vent image, 1 proj, gas | A
78594 |  | Vent image, mult proj, gas | A
78594 | TC | Vent image, mult proj, gas | A
78594 | 26 | Vent image, mult proj, gas | A
78596 |  | Lung differential function | A
78596 | TC | Lung differential function | A
78596 | 26 | Lung differential function | A
78599 |  | Respiratory nuclear exam | C
78599 | TC | Respiratory nuclear exam | C
78599 | 26 | Respiratory nuclear exam | C
78600 |  | Brain imaging, ltd static | A
78600 | TC | Brain imaging, ltd static | A
78600 | 26 | Brain imaging, ltd static | A
78601 |  | Brain imaging, ltd w/flow | A
78601 | TC | Brain imaging, ltd w/flow | A
78601 | 26 | Brain imaging, ltd w/flow | A
78605 |  | Brain imaging, complete | A
78605 | TC | Brain imaging, complete | A
78605 | 26 | Brain imaging, complete | A
78606 |  | Brain imaging, compl w/flow | A
78606 | TC | Brain imaging, compl w/flow | A
78606 | 26 | Brain imaging, compl w/flow | A
78607 |  | Brain imaging (3D) | A
78607 | TC | Brain imaging (3D) | A
78607 | 26 | Brain imaging (3D) | A
78608 |  | Brain imaging (PET) | C
78608 | TC | Brain imaging (PET) | C
78608 | 26 | Brain imaging (PET) | A
78609 |  | Brain imaging (PET) | C
78609 | TC | Brain imaging (PET) | C
78609 | 26 | Brain imaging (PET) | A
78610 |  | Brain flow imaging only | A
78610 | TC | Brain flow imaging only | A
78610 | 26 | Brain flow imaging only | A
78615 |  | Cerebral vascular flow image | A
78615 | TC | Cerebral vascular flow image | A
78615 | 26 | Cerebral vascular flow image | A
78630 |  | Cerebrospinal fluid scan | A
78630 | TC | Cerebrospinal fluid scan | A
78630 | 26 | Cerebrospinal fluid scan | A
78635 |  | CSF ventriculography | A
78635 | TC | CSF ventriculography | A
78635 | 26 | CSF ventriculography | A
78645 |  | CSF shunt evaluation | A
78645 | TC | CSF shunt evaluation | A
78645 | 26 | CSF shunt evaluation | A
78647 |  | Cerebrospinal fluid scan | A
78647 | TC | Cerebrospinal fluid scan | A
78647 | 26 | Cerebrospinal fluid scan | A
78650 |  | CSF leakage imaging | A
78650 | TC | CSF leakage imaging | A
78650 | 26 | CSF leakage imaging | A
78660 |  | Nuclear exam of tear flow | A
78660 | TC | Nuclear exam of tear flow | A
78660 | 26 | Nuclear exam of tear flow | A
78699 |  | Nervous system nuclear exam | C
78699 | TC | Nervous system nuclear exam | C
78699 | 26 | Nervous system nuclear exam | C
78700 |  | Kidney imaging, static | A
78700 | TC | Kidney imaging, static | A
78700 | 26 | Kidney imaging, static | A
78701 |  | Kidney imaging with flow | A
78701 | TC | Kidney imaging with flow | A
78701 | 26 | Kidney imaging with flow | A
78704 |  | Imaging renogram | A
78704 | TC | Imaging renogram | A
78704 | 26 | Imaging renogram | A
78707 |  | Kidney flow/function image | A
78707 | TC | Kidney flow/function image | A
78707 | 26 | Kidney flow/function image | A
78708 |  | Kidney flow/function image | A
78708 | TC | Kidney flow/function image | A
78708 | 26 | Kidney flow/function image | A
78709 |  | Kidney flow/function image | A
78709 | TC | Kidney flow/function image | A
78709 | 26 | Kidney flow/function image | A
78710 |  | Kidney imaging (3D) | A
78710 | TC | Kidney imaging (3D) | A
78710 | 26 | Kidney imaging (3D) | A
78715 |  | Renal vascular flow exam | A
78715 | TC | Renal vascular flow exam | A
78715 | 26 | Renal vascular flow exam | A
78725 |  | Kidney function study | A
78725 | TC | Kidney function study | A
78725 | 26 | Kidney function study | A
78730 |  | Urinary bladder retention | A
78730 | TC | Urinary bladder retention | A
78730 | 26 | Urinary bladder retention | A
78740 |  | Ureteral reflux study | A
78740 | TC | Ureteral reflux study | A
78740 | 26 | Ureteral reflux study | A
78760 |  | Testicular imaging | A
78760 | TC | Testicular imaging | A
78760 | 26 | Testicular imaging | A
78761 |  | Testicular imaging/flow | A
78761 | TC | Testicular imaging/flow | A
78761 | 26 | Testicular imaging/flow | A
78799 |  | Genitourinary nuclear exam | C
78799 | TC | Genitourinary nuclear exam | C
78799 | 26 | Genitourinary nuclear exam | C
78800 |  | Tumor imaging, limited area | A
78800 | TC | Tumor imaging, limited area | A
78800 | 26 | Tumor imaging, limited area | A
78801 |  | Tumor imaging, mult areas | A
78801 | TC | Tumor imaging, mult areas | A
78801 | 26 | Tumor imaging, mult areas | A
78802 |  | Tumor imaging, whole body | A
78802 | TC | Tumor imaging, whole body | A
78802 | 26 | Tumor imaging, whole body | A
78803 |  | Tumor imaging (3D) | A
78803 | TC | Tumor imaging (3D) | A
78803 | 26 | Tumor imaging (3D) | A
78804 |  | Tumor imaging, whole body | A
78804 | TC | Tumor imaging, whole body | A
78804 | 26 | Tumor imaging, whole body | A
78805 |  | Abscess imaging, ltd area | A
78805 | TC | Abscess imaging, ltd area | A
78805 | 26 | Abscess imaging, ltd area | A
78806 |  | Abscess imaging, whole body | A
78806 | TC | Abscess imaging, whole body | A
78806 | 26 | Abscess imaging, whole body | A
78807 |  | Nuclear localization/abscess | A
78807 | TC | Nuclear localization/abscess | A
78807 | 26 | Nuclear localization/abscess | A
78811 |  | Tumor imaging (pet), limited | C
78811 | TC | Tumor imaging (pet), limited | C
78811 | 26 | Tumor imaging (pet), limited | A
78812 |  | Tumor image (pet)/skul-thigh | C
78812 | TC | Tumor image (pet)/skul-thigh | C
78812 | 26 | Tumor image (pet)/skul-thigh | A
78813 |  | Tumor image (pet) full body | C
78813 | TC | Tumor image (pet) full body | C
78813 | 26 | Tumor image (pet) full body | A
78814 |  | Tumor image pet/ct, limited | C
78814 | TC | Tumor image pet/ct, limited | C
78814 | 26 | Tumor image pet/ct, limited | A
78815 |  | Tumorimage pet/ct skul-thigh | C
78815 | TC | Tumorimage pet/ct skul-thigh | C
78815 | 26 | Tumorimage pet/ct skul-thigh | A
78816 |  | Tumor image pet/ct full body | C
78816 | TC | Tumor image pet/ct full body | C
78816 | 26 | Tumor image pet/ct full body | A
78890 |  | Nuclear medicine data proc | B
78890 | TC | Nuclear medicine data proc | B
78890 | 26 | Nuclear medicine data proc | B
78891 |  | Nuclear med data proc | B
78891 | TC | Nuclear med data proc | B
78891 | 26 | Nuclear med data proc | B
78999 |  | Nuclear diagnostic exam | C
78999 | TC | Nuclear diagnostic exam | C
78999 | 26 | Nuclear diagnostic exam | C
79005 |  | Nuclear rx, oral admin | A
79005 | TC | Nuclear rx, oral admin | A
79005 | 26 | Nuclear rx, oral admin | A
79101 |  | Nuclear rx, iv admin | A
79101 | TC | Nuclear rx, iv admin | A
79101 | 26 | Nuclear rx, iv admin | A
79200 |  | Nuclear rx, intracav admin | A
79200 | TC | Nuclear rx, intracav admin | A
79200 | 26 | Nuclear rx, intracav admin | A
79300 |  | Nuclr rx, interstit colloid | C
79300 | TC | Nuclr rx, interstit colloid | C
79300 | 26 | Nuclr rx, interstit colloid | A
79403 |  | Hematopoietic nuclear tx | A
79403 | TC | Hematopoietic nuclear tx | A
79403 | 26 | Hematopoietic nuclear tx | A
79440 |  | Nuclear rx, intra-articular | A
79440 | TC | Nuclear rx, intra-articular | A
79440 | 26 | Nuclear rx, intra-articular | A
79445 |  | Nuclear rx, intra-arterial | A
79445 | TC | Nuclear rx, intra-arterial | A
79445 | 26 | Nuclear rx, intra-arterial | A
79999 |  | Nuclear medicine therapy | C
79999 | TC | Nuclear medicine therapy | C
79999 | 26 | Nuclear medicine therapy | C
A4641 |  | Diagnostic imaging agent
A4642 |  | Satumomab pendetide per dose
A9500 |  | Technetium TC 99m sestamibi
A9502 |  | Technetium TC99M tetrofosmin
A9503 |  | Technetium TC 99m medronate
A9504 |  | Technetium tc 99m apcitide
A9505 |  | Thallous chloride TL 201/mci
A9507 |  | Indium/111 capromab pendetid
A9508 |  | Iobenguane sulfate I-131
A9510 |  | Technetium TC99m Disofenin
A9511 |  | Technetium TC 99m depreotide
A9512 |  | Technetiumtc99mpertechnetate
A9513 |  | Technetium tc-99m mebrofenin
A9514 |  | Technetiumtc99mpyrophosphate
A9515 |  | Technetium tc-99m pentetate
A9516 |  | I-123 sodium iodide capsule
A9517 |  | Th I131 so iodide cap millic
A9519 |  | Technetiumtc-99mmacroag albu
A9520 |  | Technetiumtc-99m sulfur clld
A9521 |  | Technetiumtc-99m exametazine
A9522 |  | Indium111ibritumomabtiuxetan
A9523 |  | Yttrium90ibritumomabtiuxetan
A9524 |  | Iodinated I-131 serumalbumin
A9526 |  | Ammonia N-13, per dose
A9527 |  | I-131 tositumomab therapeut
A9528 |  | Dx I131 so iodide cap millic
A9529 |  | Dx I131 so iodide sol millic
A9530 |  | Th I131 so iodide sol millic
A9531 |  | Dx I131 so iodide microcurie
A9532 |  | I-125 serum albumin micro
A9533 |  | I-131 tositumomab diagnostic
A9534 |  | I-131 tositumomab therapeut
A9600 |  | Strontium-89 chloride
A9603 |  | I-131sodiumiodidecap per mci
A9605 |  | Samarium sm153 lexidronamm
A9699 |  | Noc therapeutic radiopharm
C1079 |  | CO 57/58 per 0.5 uCi
C1080 |  | I-131 tositumomab, dx
C1081 |  | I-131 tositumomab, tx
C1082 |  | In-111 ibritumomab tiuxetan
C1083 |  | Yttrium 90 ibritumomab tiuxe
C1091 |  | IN111 oxyquinoline,per0.5mCi
C1092 |  | IN 111 pentetate per 0.5 mCi
C1093 |  | TC99M fanolesomab
C1122 |  | Tc 99M ARCITUMOMAB PER VIAL
C1200 |  | TC 99M Sodium Glucoheptonat
C1201 |  | TC 99M SUCCIMER, PER Vial
C1775 |  | FDG, per dose (4-40 mCi/ml)
C9102 |  | 51 Na Chromate, 50mCi
C9103 |  | Na Iothalamate I-125, 10 uCi
C9400 |  | Thallous chloride, brand
C9401 |  | Strontium-89 chloride,brand
C9402 |  | Th I131 so iodide cap, brand
C9403 |  | Dx I131 so iodide cap, brand
C9404 |  | Dx I131 so iodide sol, brand
C9405 |  | Th I131 so iodide sol, brand
Q3000 |  | Rubidium RB-82
Q3002 |  | Gallium ga 67
Q3003 |  | Technetium tc99m bicisate
Q3004 |  | Xenon xe 133
Q3005 |  | Technetium tc99m mertiatide
Q3006 |  | Technetium tc99m glucepatate
Q3007 |  | Sodium phosphate p32
Q3008 |  | Indium 111-in pentetreotide
Q3009 |  | Technetium tc99m oxidronate
Q3010 |  | Technetium tc99mlabeledrbcs
Q3011 |  | Chromic phosphate p32
CPT codes and descriptions only are copyright 2005 American Medical Association. All Rights Reserved. Applicable FARS/DFARS apply.

[FR Doc. 05-15370 Filed 8-1-05; 4:16 pm]

BILLING CODE 4120-01-P